DEPARTMENT OF HEALTH AND HUMAN SERVICES

Centers for Medicare & Medicaid Services

42 CFR Parts 405, 410, 411, 414, 415, and 424

[CMS-1321-P]

RIN 0938-AO24

Medicare Program; Revisions to Payment Policies Under the Physician Fee Schedule for Calendar Year 2007 and Other Changes to Payment Under Part B

AGENCY: Centers for Medicare & Medicaid Services (CMS), HHS.

ACTION: Proposed rule.

SUMMARY: This proposed rule would address certain provisions of the Deficit Reduction Act of 2005, as well as make other proposed changes to Medicare Part B payment policy.

We are proposing these changes to ensure that our payment systems are updated to reflect changes in medical practice and the relative value of services. This proposed rule also discusses geographic practice cost indices (GPCI) changes; requests for additions to the list of telehealth services; payment for covered outpatient drugs and biologicals; payment for renal dialysis services; policies related to private contracts and opt-out; policies related to bone mass measurement services, independent diagnostic testing facilities, the physician self-referral prohibition; laboratory billing for the technical component (TC) of physician pathology services; the clinical laboratory fee schedule; certification of advanced practice nurses; health information technology, and the health care information transparency initiative.

DATES: Comment Date: Comments will be considered if we receive them at one of the addresses provided below, no later than 5 p.m. on October 10, 2006.

ADDRESSES: In commenting, please refer to file code CMS-1321-P. Because of staff and resource limitations, we cannot accept comments by facsimile (fax) transmission.

You may submit comments in one of three ways (no duplicates, please):

1. Electronically. You may submit electronic comments on specific issues in this regulation to http://www.cms.hhs.gov/eRulemaking. Click on the link “Submit electronic comments on CMS regulations with an open comment period.” (Attachments should be in Microsoft Word, WordPerfect, or Excel; however, we prefer Microsoft Word.)

2. By mail. You may mail written comments (one original and two copies) to the following address only: Centers for Medicare & Medicaid Services, Department of Health and Human Services, Attention: CMS-1321-P, P.O. Box 8015, Baltimore, MD 21244-8015.

Please allow sufficient time for mailed comments to be received before the close of the comment period.

3. By express or overnight mail. You may send written comments (one original and two copies) to the following address only: Centers for Medicare & Medicaid Services, Department of Health and Human Services, Attention: CMS-1321-P, Mail Stop C4-26-05, 7500 Security Boulevard, Baltimore, MD 21244-1850.

4. By hand or courier. If you prefer, you may deliver (by hand or courier) your written comments (one original and two copies) before the close of the comment period to one of the following addresses. If you intend to deliver your comments to the Baltimore address, please call telephone number (410) 786-7197 in advance to schedule your arrival with one of our staff members.

Room 445-G, Hubert H. Humphrey Building, 200 Independence Avenue, SW., Washington, DC 20201; or 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and received after the comment period.

Submission of comments on paperwork requirements. You may submit comments on this document's paperwork requirements by mailing your comments to the addresses provided at the end of the “Collection of Information Requirements” section in this document.

For information on viewing public comments, see the beginning of the SUPPLEMENTARY INFORMATION section.

FOR FURTHER INFORMATION CONTACT: Pam West, (410) 786-2302 (for issues related to practice expense).

Stephanie Monroe, (410) 786-6864 (for issues related to the geographic practice cost index).

Craig Dobyski, (410) 786-4584 (for issues related to list of telehealth services).

Roberta Epps, (410) 786-4503 (for issues related to diagnostic imaging services).

Bill Larson, (410) 786-4639 (for issues related to coverage of bone mass measurement and addition of ultrasound screening for abdominal aortic aneurysm to the “Welcome to Medicare” benefit).

Dorothy Shannon, (410) 786-3396 (for issues related to the outpatient therapy cap).

Catherine Jansto, (410) 786-7762 (for issues related to payment for covered outpatient drugs and biologicals).

Henry Richter, (410) 786-4562 (for issues related to payments for end-stage renal disease facilities).

Fred Grabau, (410) 786-0206 (for issues related to private contracts and opt-out provision).

Lisa Ohrin, (410) 786-4565 (for issues related to physician self-referral prohibitions).

David Walczak (410) 786-4475 (for issues related to reassignment provisions).

August Nemec (410) 786-0612 (for issues related to independent diagnostic testing facilities).

Anita Greenberg, (410) 786-4601 (for issues related to the clinical laboratory fee schedule).

James Menas (410) 786-4507 (for issues related to payment for physician pathology services).

Diane Milstead, (410) 786-3355 or Gaysha Brooks (410) 786-9649 (for all other issues).

SUPPLEMENTARY INFORMATION: Submitting Comments: We welcome comments from the public on all issues set forth in this rule to assist us in fully considering issues and developing policies. You can assist us by referencing the file code CMS-1321-P and the specific “issue identifier” that precedes the section on which you choose to comment.

Inspection of Public Comments: All comments received before the close of the comment period are available for viewing by the public, including any personally identifiable or confidential business information that is included in a comment. We post all comments received before the close of the comment period on the following Web site as soon as possible after they have been received: http://www.cms.hhs.gov/eRulemaking. Click on the link “Electronic Comments on CMS Regulations” on that Web site to view public comments.

Comments received timely will also be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

Information on the physician fee schedule can be found on the CMS homepage. You can access this data by using the following directions:

1. Go to the following Web site: http://www.cms.hhs.gov/PhysicianFeeSched/.

2. Select “PFS Federal Regulation Notices.”

To assist readers in referencing sections contained in this preamble, we are providing the following table of contents. Some of the issues discussed in this preamble affect the payment policies, but do not require changes to the regulations in the Code of Federal Regulations. Information on the regulation's impact appears throughout the preamble and is not exclusively in section VI.

Table of Contents

I. Background

A. Development of the Relative Value System

1. Work RVUs

2. Practice Expense Relative Value Units (PE RVUs)

3. Resource-Based Malpractice RVUs

4. Refinements to the RVUs

5. Adjustments to RVUs Are Budget Neutral

B. Components of the Fee Schedule Payment Amounts

C. Most Recent Changes to the Fee Schedule

II. Provisions of the Proposed Rule

A. Resource-Based PE RVUs and Practice Expense Proposals for Calendar Year 2007

B. Geographic Practice Cost Indices

C. Medicare Telehealth Services

D. Miscellaneous Coding Issues

1. Global Period for Remote Afterloading High Intensity Brachytherapy Procedures

2. Assignment of RVUS to CPT Codes for Proton Beam Treatment Delivery Services

E. Deficit Reduction Act (DRA) Related Proposals

1. Section 5102 of the DRA—Proposed Adjustments for Payments to Imaging Services

2. Section 5107 of the DRA—Revisions to Payments for Therapy Services

3. Section 5112 of the DRA—Proposed Addition of Ultrasound Screening for Abdominal Aortic Aneurysm (AAA)

4. Section 5113 of the DRA—Proposed Non-Application of the Part B Deductible for Colorectal Cancer Screening Tests

5. Section 5114—Proposed Addition of Diabetes Outpatient Self-Management Training Services (DSMT) and Medical Nutrition Therapy (MNT) for the FQHC Program

F. Proposed Payment for Covered Outpatient Drugs and Biologicals (ASP Issues)

G. Proposed Provisions Related to Payment for Renal Dialysis Services Furnished by End Stage Renal Disease (ESRD) Facilities

H. Private Contracts and Opt-Out Provision—Practitioner Definition

I. Proposed Changes to Reassignment and Physician Self-Referral Rules Relating to Diagnostic Tests

J. Supplier Access to Claims Billed on Reassignment

K. Coverage of Bone Mass Measurement Tests

L. Independent Diagnostic Testing Facility (IDTF) Issues

1. Proposed IDTF Changes in the Physician Fee Schedule Proposed Rule

2. Proposed Performance Standards for IDTFs

3. Supervision

4. Place of Service

M. Independent Laboratory Billing for the Technical Component (TC) of Physician Pathology Services to Hospital Patients

N. Public Consultation for Medicare Payment for New Outpatient Clinical Diagnostic Laboratory Tests

O. Proposal To Establish Criteria for National Certifying Bodies That Certify Advanced Practice Nurses

P. Chiropractic Services Demonstration

Q. Promoting Effective Use of Health Information Technology

R. Health Care Information Transparency Initiative

III. Collection of Information Requirements

IV. Response to Comments

V. Regulatory Impact Analysis

Regulation Text

Addendum A—Explanation and Use of Addendum B

Addendum B—2007 Relative Value Units and Related Information Used in Determining Medicare Payments for 2007

Addendum C—Codes for Which We Received Practice Expense Review Committee (PERC) Recommendations on Practice Expense Direct Cost Inputs

Addendum D—2007 Geographic Practice Cost Indices (GPCIs) by Medicare Carrier and Locality

Addendum E—2007 Geographic Adjustment Factors (GAF)

Addendum F—Proposed CPT/HCPCS Imaging Codes Defined by Section 5102(b) of the DRA

In addition, because of the many organizations and terms to which we refer by acronym in this proposed final rule, we are listing these acronyms and their corresponding terms in alphabetical order below:

AADA American Academy of Dermatology Association

AAH American Association of Homecare

AAP Average acquisition price

ACC American College of Cardiology

ACG American College of Gastroenterology

ACHPN Advanced Certified Hospice and Palliative Nurse

ACOG American College of Obstetrics and Gynecology

ACR American College of Radiology

ADA American Dietetic Association

AFROC Association of Freestanding Radiation Oncology Centers

AGA American Gastroenterological Association

AHRQ Agency for Healthcare Research and Quality

AMA American Medical Association

AMP Average manufacturer price

ASA American Society of Anesthesiologists

ASGE American Society of Gastrointestinal Endoscopy

ASP Average sales price

ASTRO American Society for Therapeutic Radiation Oncology

ATA American Telemedicine Association

AUA American Urological Association

AWP Average wholesale price

BBA Balanced Budget Act of 1997

BBRA Balanced Budget Refinement Act of 1999

BES (Bureau of the Census) Business Expenditure Survey

BIPA Medicare, Medicaid, and SCHIP Benefits Improvement Protection Act of 2000

BLS Bureau of Labor Statistics

BMD Bone mineral density

BMI Body mass index

BMM Bone mass measurement

BNF Budget neutrality factor

BP Best price

BSA Body surface area

CAH Critical access hospital

CAP College of American Pathologists

CBSA Core-Based Statistical Area

CCI Correct Coding Initiative

CF Conversion factor

CFR Code of Federal Regulations

CMA California Medical Association

CMS Centers for Medicare & Medicaid Services

CNS Clinical nurse specialist

CPEP Clinical Practice Expert Panel

CPI Consumer Price Index

CPO Care Plan Oversight

CPT (Physicians') Current Procedural Terminology (4th Edition, 2002, copyrighted by the American Medical Association)

CRNA Certified Registered Nurse Anesthetist

CT Computed tomography

CTA Computed tomographic angiography

CY Calendar year

DHS Designated health services

DME Durable medical equipment

DMERC Durable Medical Equipment Regional Carrier

DRA Deficit Reduction Act

DSMT Diabetes outpatient self-management training services

DXA Dual energy x-ray absorptiometry

E&M Evaluation and management

EPO Erythopoeitin

ESRD End stage renal disease

FAX Facsimile

FI Fiscal intermediary

FR Federal Register

GAF Geographic adjustment factor

GAO General Accounting Office

GDP Gross domestic product

GPO Group purchasing organization

GPCI Geographic practice cost index

HCPAC Health Care Professional Advisory Committee

HCPCS Healthcare Common Procedure Coding System

HCRIS Healthcare Cost Report Information System

HSA Health Savings Account

HHA Home health agency

HHS (Department of) Health and Human Services

HIT Health information technology

HOCM High osmolar contrast media

HPSA Health Professional Shortage Area

HRSA Health Resources Services Administration (HHS)

HUD (Department of) Housing and Urban Development

IDTF Independent diagnostic testing facility

IPF Inpatient psychiatric facility

IPPS Inpatient prospective payment system

IRF Inpatient rehabilitation facility

ISO Insurance Services Office

IVIG Intravenous immune globulin

JCAAI Joint Council of Allergy, Asthma, and Immunology

JUA Joint underwriting association

LCD Local coverage determination

LTCH Long-term care hospital

LOCM Low osmolar contrast media

LOINC® Logical Observation Identifiers Names and Codes

MA Medicare Advantage

MCAC Medicare Coverage Advisory Committee

MCG Medical College of Georgia

MedPAC Medicare Payment Advisory Commission

MEI Medicare Economic Index

MMA Medicare Prescription Drug, Improvement, and Modernization Act of 2003

MNT Medical nutrition therapy

MRA Magnetic resonance angiography

MRI Magnetic resonance imaging

MSA Metropolitan statistical area

NCD National coverage determination

NCQDIS National Coalition of Quality Diagnostic Imaging Services

NDC National drug code

NECMA New England County Metropolitan Area

NECTA New England City and Town Area

NP Nurse practitioner

NPP Nonphysician practitioners

NPWP Nonphysician Work Pool

OBRA Omnibus Budget Reconciliation Act

OIG Office of Inspector General

OMB Office of Management and Budget

OPD Outpatient Department

OPPS Outpatient prospective payment system

OSCAR Online Survey and Certification and Reporting

PA Physician assistant

PBM Pharmacy benefit managers

PC Professional component

PE Practice Expense

PEAC Practice Expense Advisory Committee

PERC Practice Expense Review Committee

PET Positron emission tomography

PFS Physician Fee Schedule

PLI Professional liability insurance

PPI Producer price index

PPO Preferred provider organization

PPS Prospective payment system

PRA Paperwork Reduction Act

PT Physical therapy

QCT Quantitative computerized tomography

RFA Regulatory Flexibility Act

RIA Regulatory impact analysis

RN Registered nurse

RUC (AMA's Specialty Society) Relative (Value) Update Committee

RVU Relative value unit

SXA Single energy x-ray absorptiometry

SPA Single photon absorptiometry

SGR Sustainable growth rate

SMS (AMA's) Socioeconomic Monitoring System

SNF Skilled Nursing Facility

SNM Society for Nuclear Medicine

TA Technology Assessment

TC Technical Component

UAF Update adjustment factor

UPIN Unique Physician Identification Number

WAC Wholesale acquisition cost

WAMP Widely available market price

I. Background

[If you choose to comment on issues in this section, please include the caption “BACKGROUND” at the beginning of your comments.]

Since January 1, 1992, Medicare has paid for physicians' services under section 1848 of the Social Security Act (the Act), “Payment for Physicians’ Services.” The Act requires that payments under the physician fee schedule (PFS) be based on national uniform relative value units (RVUs) based on the resources used in furnishing a service. Section 1848(c) of the Act requires that national RVUs be established for physician work, practice expense (PE), and malpractice expense. Before the establishment of the resource-based relative value system, Medicare payment for physicians’ services was based on reasonable charges.

A. Development of the Relative Value System

1. Work RVUs

The concepts and methodology underlying the PFS were enacted as part of the Omnibus Budget Reconciliation Act (OBRA) of 1989, Pub. L. 101-239, and OBRA 1990, (Pub. L. 101-508). The final rule, published November 25, 1991 (56 FR 59502), set forth the fee schedule for payment for physicians’ services beginning January 1, 1992. Initially, only the physician work RVUs were resource-based, and the PE and malpractice RVUs were based on average allowable charges.

The physician work RVUs established for the implementation of the fee schedule in January 1992 were developed with extensive input from the physician community. A research team at the Harvard School of Public Health developed the original physician work RVUs for most codes in a cooperative agreement with the Department of Health and Human Services (HHS). In constructing the code-specific vignettes for the original physician work RVUs, Harvard worked with panels of experts, both inside and outside the Federal government, and obtained input from numerous physician specialty groups.

Section 1848(b)(2)(A) of the Act specifies that the RVUs for radiology services are based on relative value scale we adopted under section 1834(b)(1)(A) of the Act, (the American College of Radiology (ACR) relative value scale), which we integrated into the overall PFS. Section 1848(b)(2)(B) of the Act specifies that the RVUs for anesthesia services are based on RVUs from a uniform relative value guide. We established a separate conversion factor (CF) for anesthesia services, and we continue to utilize time units as a factor in determining payment for these services. As a result, there is a separate payment methodology for anesthesia services.

We establish physician work RVUs for new and revised codes based on recommendations received from the American Medical Association's (AMA) Specialty Society Relative Value Update Committee (RUC).

2. Practice Expense Relative Value Units (PE RVUs)

Section 121 of the Social Security Act Amendments of 1994 (Pub. L. 103-432), enacted on October 31, 1994, amended section 1848(c)(2)(C)(ii) of the Act and required us to develop resource-based PE RVUs for each physician's service beginning in 1998. We were to consider general categories of expenses (such as office rent and wages of personnel, but excluding malpractice expenses) comprising practice expenses.

Section 4505(a) of the Balanced Budget Act of 1997 (BBA) (Pub. L. 105-33), amended section 1848(c)(2)(C)(ii) of the Act to delay implementation of the resource-based PE RVU system until January 1, 1999. In addition, section 4505(b) of the BBA provided for a 4-year transition period from charge-based PE RVUs to resource-based RVUs.

We established the resource-based PE RVUs for each physician's service in a final rule, published November 2, 1998 (63 FR 58814), effective for services furnished in 1999. Based on the requirement to transition to a resource-based system for PE over a 4-year period, resource-based PE RVUs did not become fully effective until 2002.

This resource-based system was based on two significant sources of actual PE data: The Clinical Practice Expert Panel (CPEP) data and the AMA's Socioeconomic Monitoring System (SMS) data. The CPEP data were collected from panels of physicians, practice administrators, and nonphysicians (for example, registered nurses) nominated by physician specialty societies and other groups. The CPEP panels identified the direct inputs required for each physician's service in both the office setting and out-of-office setting. The AMA's SMS data provided aggregate specialty-specific information on hours worked and practice expenses.

Separate PE RVUs are established for procedures that can be performed in both a nonfacility setting, such as a physician's office, and a facility setting, such as a hospital outpatient department. The difference between the facility and nonfacility RVUs reflects the fact that a facility receives separate payment from Medicare for its costs of providing the service, apart from payment under the PFS. The nonfacility RVUs reflect all of the direct and indirect practice expenses of providing a particular service.

Section 212 of the Balanced Budget Refinement Act of 1999 (BBRA) (Pub. L. 106-113) directed the Secretary of Health and Human Services (the Secretary) to establish a process under which we accept and use, to the maximum extent practicable and consistent with sound data practices, data collected or developed by entities and organizations to supplement the data we normally collect in determining the PE component. On May 3, 2000, we published the interim final rule (65 FR 25664) that set forth the criteria for the submission of these supplemental PE survey data. The criteria were modified in response to comments received, and published in the Federal Register (65 FR 65376) as part of a November 1, 2000 final rule. The PFS final rules published in 2001 and 2003, respectively, (66 FR 55246 and 68 FR 63196) extended the period during which we would accept these supplemental data.

3. Resource-Based Malpractice RVUs

Section 4505(f) of the BBA amended section 1848(c) of the Act to require us to implement resource-based malpractice RVUs for services furnished on or after 2000. The resource-based malpractice RVUs were implemented in the PFS final rule published November 2, 1999 (64 FR 59380). The malpractice RVUs were based on malpractice insurance premium data collected from commercial and physician-owned insurers from all the States, the District of Columbia, and Puerto Rico.

4. Refinements to the RVUs

Section 1848(c)(2)(B)(i) of the Act requires that we review all RVUs no less often than every 5 years. The first 5-year review of the physician work RVUs went into effect in 1997, published on November 22, 1996 (61 FR 59489). The second 5-year review went into effect in 2002, published on November 1, 2001 (66 FR 55246). The next scheduled 5-year review is scheduled to go into effect in 2007.

In 1999, the AMA's RUC established the Practice Expense Advisory Committee (PEAC) for the purpose of refining the direct PE inputs. Through March of 2004, the PEAC provided recommendations to CMS for over 7,600 codes (all but a few hundred of the codes currently listed in the AMA's Current Procedural Terminology (CPT) codes).

In the November 15, 2004, PFS final rule (69 FR 66236), we implemented the first 5-year review of the malpractice RVUs (69 FR 66263).

5. Adjustments to RVUS Are Budget Neutral

Section 1848(c)(2)(B)(ii)(II) of the Act provides that adjustments in RVUs for a year may not cause total PFS payments to differ by more than $20 million from what they would have been if the adjustments were not made. In accordance with section 1848(c)(2)(B)(ii)(II) of the Act, if adjustments to RVUs cause expenditures to change by more than $20 million, we make adjustments to ensure that expenditures do not increase or decrease by more than $20 million.

B. Components of the Fee Schedule Payment Amounts

To calculate the payment for every physician service, the components of the fee schedule (physician work, PE, and malpractice RVUs) are adjusted by a geographic practice cost index (GPCI). The GPCIs reflect the relative costs of physician work, PEs, and malpractice insurance in an area compared to the national average costs for each component.

Payments are converted to dollar amounts through the application of a CF, which is calculated by the Office of the Actuary and is updated annually for inflation.

The general formula for calculating the Medicare fee schedule amount for a given service and fee schedule area can be expressed as:

Payment = [(RVU work × GPCI work) + (RVU PE × GPCI PE) + (RVU malpractice × GPCI malpractice)] × CF.

(Note: As discussed in the June 29, 2006 proposed notice for the Five-Year Review of Work Relative Value Units Under the Physician Fee Schedule and Proposed Changes to the Practice Expense Methodology (71 FR 37170), we have proposed to establish a separate budget neutrality adjustor that would be applied in the calculation of the work RVUs. Application of this budget neutrality adjustor would enable us to meet the budget neutrality provisions of section 1848(c)(2)(B)(ii) of the Act.)

C. Most Recent Changes to the Fee Schedule

The final rule with comment period that appeared in the Federal Register on November 21, 2005 (70 FR 70116) addressed Medicare Part B payment policy, including the physician fee schedule, that is applicable for calendar year (CY) 2006; and finalized certain provisions of the interim final rule to implement the Competitive Acquisition Program (CAP) for Part B Drugs.

It also revised Medicare Part B payment and related policies regarding: Physician work, practice expense and malpractice RVUs; Medicare telehealth services; multiple diagnostic imaging procedures; covered outpatient drugs and biologicals; supplemental payments to Federally Qualified Health Centers (FQHCs); renal dialysis services; coverage for glaucoma screening services; National Coverage Determination (NCD) timeframes; and physician referrals for nuclear medicine services and supplies to health care entities with which physicians have financial relationships.

In addition, the rule finalized the interim RVUs for CY 2005 and issued interim RVUs for new and revised procedure codes for CY 2006. The rule also updated the codes subject to the physician self-referral prohibition and discussed payment policies relating to teaching anesthesia services, therapy caps, private contracts and opt-out, and chiropractic and oncology demonstrations.

In accordance with section 1848(d)(1)(E)(i) of the Act, we also announced that the PFS update for CY 2006 would be −4.4 percent; the initial estimate for the sustainable growth rate for CY 2006 would be 1.7; and the CF for CY 2006 would be $36.1770. However, subsequent to publication of the CY 2005 PFS final rule with comment period, section 5104 of the Deficit Reduction Act (DRA) of 2005 (Pub. L. 109-171, February 8, 2006), was enacted which amended section 1848(d) of the statute to provide for a 0 percent update effective January 1, 2006.

We also note that the Five-Year Review of Work Relative Value Units Under the Physician Fee Schedule and Proposed Changes to the Practice Expense Methodology proposed notice appeared in the Federal Register on June 29, 2006 (71 FR 37170). In that notice, we proposed revisions to work RVUs affecting payment for physicians’ services. The revisions reflect changes in medical practice, coding changes, and new data on relative value components that affect the relative amount of physician work required to perform each service, as required by the statute. We also proposed revisions to our methodology for calculating PE RVUs, including changes based on supplemental survey data for PE. This revised methodology would be used to establish payment for services beginning January 1, 2007.

As indicated in the June 29, 2006 proposed notice, we will respond to the comments received on that notice as part of the final Medicare PFS rule for CY 2007 scheduled for publication this fall. If adopted, the RVU revisions would be fully implemented for services furnished to Medicare beneficiaries on or after January 1, 2007. The PE revisions would be phased-in over a four-year period; although, as we gain experience with the new methodology, we will reexamine this policy beginning next year and propose necessary revisions through future rulemaking.

II. Provisions of the Proposed Rule

[If you choose to comment on issues in this section, please include the caption “PROVISIONS” at the beginning of your comments.]

A. Resource-Based Practice Expense (PE) RVU Proposals for CY 2007

Major changes to the PE methodology for 2007, as well as a detailed discussion of the current PE methodology, are discussed in the June 29, 2006 proposed notice (71 FR 37170 through 37430).

This proposed rule contains proposals for direct PE including clinical labor, medical supplies and medical equipment.

1. RUC Recommendations for Direct PE Inputs and Other PE Input Issues

The following discussions are proposals concerning direct PE inputs.

(a) RUC Recommendations

The AMA's Relative Value Update Committee (RUC) established a new committee, the Practice Expense Review Committee (PERC), to assist the RUC in recommending direct PE inputs (clinical staff, supplies, and equipment) for new and existing CPT codes.

The PERC reviewed the PE inputs for over 2000 existing codes, some of which were unresolved PE issues from the CY 2006 PFS final rule with comment period, at their meetings held in September 2005, February 2006 and April 2006. (A list of these reviewed codes can be found in Addendum C of this proposed rule.)

We have reviewed the PERC-submitted recommendations and propose to adopt all of them. We have worked with the AMA staff to make corrections for any typographical errors and to ensure that previously PEAC-accepted standards are incorporated in the recommendations.

The complete PERC recommendations and the revised PE database can be found on our Web site. (See the SUPPLEMENTARY INFORMATION section of this proposed rule for directions on accessing our Web site.)

(b) Standard Supplies and Equipment for 90-Day Global Codes

We are proposing to revise the CPEP supply and equipment inputs for those 90-day global procedures for which the RUC has only refined the clinical labor inputs. We are proposing to apply the standard supply and equipment inputs for the facility setting for 90-day global services to these remaining unrefined 90-day global procedure codes. As recommended by the RUC, for supplies, we propose to include one minimum supply visit package for each post-operative visit assigned to each code and a post-surgical incision care kit (suture, staples, or both) where appropriate, along with additional items recommended by the RUC for certain procedures. For equipment, we are proposing to include an exam table and light. However, there are several issues on which we need input before we finalize the recommended standards. For example, for many of the 90-day codes in question, the current supply input data contain supplies in far larger quantities than are contained in either the visit package or incision care kit. For other codes, the current data includes items that are not contained in the package or kit. In other cases, the recommendations from the RUC contain additional items in quantities that appear excessive. We plan to work with all the concerned specialties to ensure that the finalized inputs do represent the typical supplies needed to perform each procedure.

Because the application of the 90-day global standard supplies and equipment would result in the deletion of some original CPEP inputs, we are requesting that all the medical specialties examine the direct PE inputs on our Web site and let us know whether there are additional items from the original CPEP data that are a necessary part of the post-operative care and if the PE inputs listed are correct. (See the SUPPLEMENTARY INFORMATION section of this proposed rule for directions on accessing our Web site.)

2. Payment for Splint and Cast Supplies

In the PFS final rules published November 1999 (64 FR 59380) and November 2000 (65 FR 65376), we removed splint and cast supplies from the PE database for the CPT codes for fracture management and cast/strapping application procedures. Because splint and cast supplies could be separately billed using Healthcare Common Procedure Coding System (HCPCS) codes (Q4001-Q4051) that were established for payment of these supplies under section 1861(s)(5) of the Act, we did not want to make duplicate payment under the PFS for these items.

In the CY 2006 PFS proposed rule (70 FR 70116), we proposed to reinstate payment for all splints and cast supplies through the PE component of the PFS because we believed we may have unintentionally prohibited remuneration for these supplies when they are not used for reduction of a fracture or dislocation (covered under section 1861(s)(5) of the Act), but rather are provided (and covered) as “incident to” a physician service under section 1861(s)(2)(A) of the Act. This proposal was not finalized; however, in our final rule we asked the medical specialties and the PERC to determine the typical supplies for splints and casts necessary for each of the fracture management codes and the cast/strapping application codes because we wanted to make certain that the supply inputs were correct before we proceeded with rulemaking for the CY 2007 PFS. At its February 2006 meeting, the PERC reviewed and approved the supply inputs submitted by the AAOS for each CPT code for fracture management and cast/strapping application and these were forwarded to us as PERC recommendations. During this interim period we also reassessed the options for payment of materials for splints and casts.

We believe that the majority of the splint and cast supplies that are currently paid through the Q-codes are furnished in relationship to cast/strapping procedures for the management of fractures and dislocations. However, we did not intend for the medically necessary splint and cast supplies used for other reasons (for example, serial casting, wound care, or protection) not to be paid. Because it may be difficult for the contractors to identify the purpose for the cast/strapping application procedure on a claim form, we believe that contractors may have been paying for the splint and cast supply Q-codes when the service is performed for other purposes than treatment of fractures and dislocations.

Since these splint and cast supplies can be covered under both sections 1861(s)(5) and 1861(s)(2)(A) of the Act, we are proposing to include payment for both statutory benefits using the separate HCPCS Q-codes. This would allow for payment for these medically necessary supplies whether based on sections 1861(s)(5) or 1861(s)(2)(A) of the Act, while ensuring that no duplicate payments are made. Physicians would continue to bill the HCPCS Q-codes, in addition to the cast/strapping application procedure codes, to be paid for these materials.

The following supplies would continue to be paid separately using the HCPCS Q-codes and would not be included in the PE database upon adoption of this proposal:

• Fiberglass roll.

• Cast padding.

• Cast shoe.

• Stockingnet/stockinette.

• Plaster bandage.

• Denver splint.

• Dome paste bandage.

• Cast sole.

• Elastoplast roll.

• Fiberglass splint.

• Ace wrap.

• Kerlix.

• Webril.

• Malleable arch bars and elastics.

The splint and cast supplies would not be included in the PEs for the following CPT codes:

• 24500 through 24685

• 25500 through 25695

• 26600 through 26785

• 27500 through 27566

• 27750 through 27848

• 28400 through 28675

• 29000 through 29750.

We are requesting input, specifically from medical specialties and contractors on this proposal.

3. Medical Nutrition Therapy Services

In 2000, the Health Care Professional Advisory Committee (HCPAC) recommended that we assign work RVUs to three new medical nutrition therapy (MNT) CPT codes—97802 Medical nutrition therapy; initial assessment and intervention, individual, face-to-face with the patient, each 15 minutes at 0.45 RVUs, 97803 Medical nutrition therapy; re-assessment and intervention, individual, face-to-face with the patient, each 15 minutes at 0.37 RVUs, and 97804 Medical nutrition therapy; group (two or more individuals), each 30 minutes at 0.25 RVUs. However, during rulemaking for the CY 2001 PFS final rule, we indicated that MNT was not covered because there was yet no statutory benefit category that would allow medical nutritionists to bill these services. We also did not accept the HCPAC recommendations for work RVUs for these MNT services because the codes were designed for use only by nonphysicians. The following year, section 105(c) of the Medicare, Medicaid, and SCHIP Benefits Improvement Protection Act of 2000 (BIPA) provided for the coverage of MNT services when furnished by registered dietitians or nutritional professionals at 85 percent of the amount that a physician would be paid for the same services. As a result, we established values for these MNT services for the 2002 PFS. In keeping with our earlier decision, we did not assign the HCPAC-recommended work values. However, the associated work value for each code was utilized in the conversion of work to clinical labor time for MNTs as part of the PE component. At that time we received several comments, including one from the American Dietetic Association (ADA), urging us to adopt the work values recommended by the HCPAC.

More recently, the ADA has requested us to reconsider our decision not to accept the HCPAC recommended work RVUs. The ADA contends that the payment rate established by section 105(c) of BIPA, 85 percent of the PFS amount that would be paid for the same service if furnished by a physician, is based on the premise that work values are inherent to these MNT services. The ADA believes that without work RVUs, the payment for these services does not reflect 85 percent of what a physician would be paid for performing the same service. Because these MNT codes were created specifically for MNT professionals, the ADA compared the work associated with their services to physician E/M services of CPT 99203 and 99213, which have respective work RVUs of 1.34 and 0.67.

After reviewing the issues and relevant arguments raised by the ADA, we are persuaded that it would be appropriate to include work RVUs for the MNT services. Consequently, we are proposing to establish work RVUs for each code at the level previously recommended by the HCPAC, as follows:

• CPT 97802 = 0.45 RVUs.

• CPT 97803 = 0.37 RVUs.

• CPT 97804 = 0.25.

Because we propose to add the work RVUs to these services, the MNT clinical labor time in the direct input database would be removed with the adoption of this proposal. Additionally, two HCPCS codes, G0270 MNT subs tx for change dx and G0271 Group MNT 2 or more 30 mins were created to track MNT services following the second referral in the same year. These HCPCS codes correspond to CPT codes 97803 and 97804, respectively. Therefore, we would also propose to add the same work RVUs to these HCPCS codes and to delete the clinical labor inputs from the PE database upon adoption of this policy. We encourage specialty societies and other professional groups to comment on this proposal.

4. Surgical Pathology Codes

We heard from the College of American Pathologists (CAP) regarding the equipment times assigned to CPT codes 88304 and 88305 in the basic surgical pathology family of codes. While all six codes in this family have been refined by the PEAC, this refinement occurred at 4 separate PEAC meetings. CPT codes 88304 and 88305 were refined at the first PEAC meeting in April 1999 before time standards were established for the equipment at subsequent PEAC meetings when the other four CPT codes 88300, 88302, 88307, and 88309 were reviewed. Using our proposed bottom-up PE methodology to value these codes, the lack of the equipment time standards for CPT codes 88304 and 88305 create a rank-order anomaly in this family. Consequently, CAP, after reviewing and applying current standards for the equipment times, submitted suggested revised equipment times to us. We are proposing to accept these times and the proposed times will be reflected in the PE database on our Web site (See the SUPPLEMENTARY INFORMATION section of this proposed notice for directions on accessing our Web site.)

5. Other PE Issues

In the CY 2006 PFS final rule with comment period (70 FR 70116), we explained that we were not implementing the PERC or other proposed PE changes for CY 2006 due to issues with the PE methodology. In this proposed rule, we are proposing that the PERC and other PE changes originally proposed for CY 2006 would be implemented and effective with the CY 2007 PFS. The following subsections, (a) through (j), summarize the PE proposals from the CY 2006 PFS final rule with comment period that we are including in this proposed rule. Additionally, we are including several other items which concern inputs for PE that are discussed below in subsections (k) through (n).

(a) PE Recommendations on CPEP Inputs for CY 2006

We are proposing to use a clinical labor time of 167 minutes for the service period for CPT code 36522, Extracorporeal Photopheresis; maintain the nonfacility setting PE RVUs for CPT code 78350, single photon bone densitometry; and remove the PE inputs for the nonfacility setting for CPT codes 76975, GI endoscopic ultrasound, and 15852, Dressing change not for burn. (70 FR 70136 through 70137)

(b) Supply Items for CPT Code 95015 (Which Is Used for Intradermal Allergy Tests With Drugs, Biologicals, or Venoms)

We are proposing to implement the allergy and immunology specialty's recommendation to change the test substance in CPT code 95015 to venom, at $10.70 (from single antigen, at $5.18) and the quantity to 0.3 ml (from 0.1 ml). (See 70 FR 70138.)

(c) Flow Cytometry Services

Based on information from the society representing independent laboratories, we are proposing to implement the following direct PE inputs:

• Clinical Labor—We are proposing to change the staff type in the service (intra) period in both CPT codes 88184 and 88185 to cytotechnologist, at $0.45 per minute (currently lab technician, at $0.33 per minute).

• Supplies—We are proposing to change the antibody cost for both CPT codes 88184 and 88185 to $8.50 (from $3.544).

• Equipment—We are proposing to add the following equipment to CPT code 88184:

+ Computer.

+ Printer.

+ Slide strainer.

+ Biohazard hood.

+ Wash assistant.

+ FAC loader.

+ We are proposing to add a computer and printer to the equipment for CPT code 88185 (70 FR 70138).

(d) Low Osmolar Contrast Media (LOCM) and High Osmolar Contrast Media (HOCM)

Because separate payment is available for both types of contrast media, we are proposing to delete LOCM and HOCM from the PE database with the CY 2007 PFS rule. (See 70 FR 70138).

(e) Imaging Rooms

We are proposing to implement the updates for the contents and prices of 5 “rooms” used in imaging procedures including—

• Basic radiology room;

• Radiographic-fluoroscopic room;

• Mammography room;

• Computed tomography (CT) room; and

• Magnetic resonance imaging (MRI) room (See 70 FR 70139).

(f) Equipment Pricing for Select Services and Procedures

We are proposing to accept the following equipment pricing information provided by various specialty societies for select services and procedures as discussed in the CY 2006 PFS final rule with comment period. (See 70 FR 70139):

• Equipment pricing for certain radiology services received from the ACR as presented in Table 15 of the CY 2006 PFS proposed rule.

• Equipment pricing on the ultrasound color doppler transducers and vaginal probe received from the American College of Obstetrics and Gynecology (ACOG).

• For CPT 36522, extracorporeal photopheresis, equipment pricing information specific to this procedure.

• Pricing of EMG botox machine used in CPT code 92265 as presented by the American Academy of Ophthalmology.

(g) Supply Item for In Situ Hybridization Codes (CPT Codes 88365, 88367, and 88368)

We are proposing to implement the Society for Clinical Pathologists’ request to change the probe quantity for CPT code 88367 In situ hybridization, auto to 1.5, equal to that of the other two codes in the family.

(h) Supply Item for Percutaneous Vertebroplasty Procedures (CPT codes 22520 and 22525)

Based on documentation provided by the Society for Interventional Radiology, we are proposing to implement a new price of $696.00 for the vertebroplasty kit, to replace a temporary price of $660.50 that was a placeholder price from the CY 2006 PFS final rule with comment period. (See 70 FR 70139.)

(i) Clinical Labor for G-Codes Related to Home Health and Hospice Physician Supervision, Certification and Recertification

We are proposing to apply the refinements made to the PE inputs to CPT codes 99375 and 99378 for home health and hospice supervision to 4 G-codes that are related to home health and hospice physician supervision, certification and recertification, G0179, GO180, GO181, and GO182. These G-codes are incorrectly valued for clinical labor. These G-codes are cross-walked from CPT codes 99375 and 99378, which underwent PEAC refinement in January 2003 for the CY 2004 PFS. However, at that time we inadvertently did not apply the new refinements to these specific G-codes. (See 70 FR 70139 through 70140.)

(j) Programmers for Implantable Neurostimulators and Intrathecal Drug Infusion Pumps

Although we had initially proposed, in the CY 2006 PFS proposed rule, to remove two programmers from the PE database (EQ208 for medication pump from two codes (CPT 62367 and 62368) and EQ209 for the neurostimulator from 8 codes (CPT 95970-97979)), based on comments received as discussed in the CY 2006 PFS final rule with comment period (see 70 FR 70140), we determined that we will retain these programmers in the database. In addition, we added “with printer” to the description of EQ208 based on comments received. We are proposing to implement these decisions for CY 2007.

(k) Cardiac Monitoring Services

We are requesting more specific PE information related to remote cardiac monitoring services because these services do not fit the direct PE model used for typical physician services. These services are overwhelmingly performed by specialized independent diagnostic testing facilities (IDTFs) that are paid under the PFS, but due to the characteristics of cardiac monitoring services, frequently maintain more extensive operating hours than the typical physician office. Specifically, we are looking for data to indicate the typical number and type of transmissions or other encounters per day between the beneficiary and the IDTF for each of the remote monitoring services. We would also like to know the number and type of clinical staff, as well as the corresponding time, that are necessary to ensure appropriate services are available for each patient. Additionally, we are interested in identifying any other direct PE inputs for typical supplies and equipment relating to these services, and any data that would reflect indirect PEs, such as overhead and non-clinical payroll expenses. We believe that the following codes represent atypical PE scenarios and would like to receive PE information regarding these services:

• Cardiac event monitoring (CPT codes 93271, 93012 and 93270).

• Pacemaker monitoring (CPT codes 93733 and 93736).

• Holter monitoring (CPT codes 93232, 93226, 93231 and 93225).

• INR monitoring (HCPCS codes G0248 and G0249).

(l) Clarification With Respect to Non-Facility PE RVUs

In the CY 2006 PFS final rule with comment (70 FR 70335) we provided a clarification in Addendum A concerning use of “NA” in the PE RVU columns for Addendum B. Commenters requested that further clarification be made concerning the payment amount for procedures performed in the non-facility setting if there is an “NA” in the non-facility PE RVU column. Our policy is that if the Medicare carrier pays for the service in the non-facility setting, the service will be paid at the facility PE RVU rate. In this proposed rule, we are proposing revisions to Addendum A to include this clarification.

(m) Supply for CPT Code 50384, Removal (via Snare/Capture) of Internally Dwelling Ureteral Stent Via Percutaneous Approach, Including Radiological Supervision and Interpretation

Upon review of the RUC-recommended direct PE inputs for CPT 50384, a new procedure for CPT 2006, we identified the inappropriate inclusion of a ureteral stent that we are proposing to delete for CY 2007. We believe that the addition of the ureteral stent, valued by the specialty at $162, to CPT code 50384, which is the procedure for the removal of a stent, was an inadvertent error by the specialty during the April 2005 RUC meeting.

(n) Supply and Equipment Items Needing Specialty Input

We have identified certain supply and equipment items for which we were unable to verify the pricing information (see Table 1: Supply Items Needing Specialty Input for Pricing and Table 2: Equipment Items Needing Specialty Input for Pricing). During the CY 2006 rulemaking process, we listed both supply and equipment items for which pricing documentation was needed from the medical specialty societies and, for many of these items, we received sufficient documentation in the form of catalog listings, vendor Web sites, invoices, and manufacturer quotes. We have accepted the documented prices for many of these items and these prices are reflected in the PE RVUs in Addendum B of this proposed rule. The items listed below in Tables 1 and 2 represent the outstanding items from CY 2006 and new items added from the current RUC recommendations. We are requesting that commenters provide pricing information on items in these tables along with acceptable documentation, as noted in the footnote to each table, to support recommended prices. For supplies or equipment that have previously appeared on this list, and for which we received no or inadequate documentation, we are proposing to delete these items unless we receive adequate information to support current pricing by the conclusion of the comment period for this proposed rule.

BILLING CODE 4120-01-P

BILLING CODE 4120-01-C

B. Geographic Practice Cost Indices (GPCI)

[If you choose to comment on issues in this section, please include the caption “GPCI” at the beginning of your comments.]

Section 1848(e)(1)(A) of the Act requires us to develop separate GPCIs to measure resource cost differences among localities compared to the national average for each of the three fee schedule components. While requiring that the PE and malpractice GPCIs reflect the full relative cost differences, section 1848(e)(1)(A)(iii) of the Act requires that the physician work GPCIs reflect only one-quarter of the relative cost differences compared to the national average.

Section 1848(e)(1)(C) of the Act requires us, in consultation with appropriate physician representatives, to review the GPCIs at least every 3 years and allows us to make adjustments based on our review. This section of the Act also requires us to phase-in the adjustment over 2 years, implementing only one-half of any adjustment in the first year if more than 1 year has elapsed since the last GPCI revision. The GPCIs were first implemented in 1992. The first review and revision was implemented in 1995 and the last GPCI revision was implemented in 2005. The next update is scheduled to be implemented in January 2008.

We do not anticipate proposing significant changes to the GPCIs in response to changes in the source data. There have been no new Census data to affect the work GPCI, the PE GPCI will reflect any changes in the Department of Housing and Urban Development (HUD) rental data, and the malpractice GPCI (based on malpractice RVUs) will reflect the national claims-based premium data for 2004 and 2005. Details of the methodology, data sources, and adjustments to the GPCIs will be made available for public comment in the CY 2008 PFS proposed rule.

In addition, section 412 of the MMA amended section 1848(e)(1) of the Act to establish a floor of 1.0 for the work GPCI for any locality where the GPCI would otherwise fall below 1.0 for purposes of payment for services furnished on or after January 1, 2004 and before January 1, 2007. Beginning on January 1, 2007, the 1.00 floor will be removed and the work GPCI will revert to the fully implemented value. The values for the work GPCI and subsequent changes to the Geographic Adjustment Factor (GAF) published in this proposed rule reflect the removal of the 1.0 floor. For many payment localities this change had no impact on the GAF; however, the GAFs for a number of payment localities were reduced due to this change. The impact of this change on the GAFs for those payment localities is shown below in Table 3.

The proposed GPCIs for 2007 are shown in Addendum D and the proposed GAFs for 2007 are shown in Addendum E. The GPCIs shown in Addendum D are fully implemented and reflect 2007 budget neutrality scaling coefficients provided by the Office of the Actuary.

Table 3.—Payment Localities With Negative Percent Change in GAF ¹ Between 2006 and 2007 Due to Removal of the 1.000 Work Floor
Locality name | 2006 GAF | 2007 GAF | Percent change
Fort Worth, TX | 0.998 | 0.996 | −0.17
Rest of Michigan | 0.986 | 0.984 | −0.20
Rest of New York | 0.952 | 0.950 | −0.21
Rest of Maryland | 0.982 | 0.978 | −0.36
Metropolitan St. Louis, MO | 0.978 | 0.974 | −0.41
Rest of Pennsylvania | 0.950 | 0.946 | −0.44
Ohio | 0.970 | 0.966 | −0.44
Austin, TX | 1.020 | 1.015 | −0.47
New Hampshire | 1.010 | 1.005 | −0.50
Minnesota | 0.980 | 0.975 | −0.53
Galveston, TX | 0.991 | 0.986 | −0.54
Metropolitan Kansas City, MO | 0.987 | 0.981 | −0.56
Fort Lauderdale, FL | 1.022 | 1.016 | −0.59
Arizona | 0.999 | 0.993 | −0.65
Wisconsin | 0.956 | 0.950 | −0.65
Colorado | 0.998 | 0.991 | −0.67
East St. Louis, IL | 1.003 | 0.996 | −0.68
New Orleans, LA | 0.984 | 0.977 | −0.73
Rest of Washington | 0.984 | 0.976 | −0.77
Indiana | 0.937 | 0.930 | −0.79
Beaumont, TX | 0.951 | 0.942 | −0.96
Alabama | 0.923 | 0.914 | −0.99
Virginia | 0.958 | 0.948 | −1.06
Southern Maine | 0.992 | 0.981 | −1.09
Rest of Georgia | 0.943 | 0.932 | −1.14
Tennessee | 0.933 | 0.921 | −1.27
Utah | 0.960 | 0.948 | −1.30
South Carolina | 0.930 | 0.917 | −1.41
Rest of Illinois | 0.952 | 0.938 | −1.43
Rest of Florida | 0.982 | 0.968 | −1.45
West Virginia | 0.942 | 0.928 | −1.47
North Carolina | 0.951 | 0.936 | −1.55
New Mexico | 0.947 | 0.932 | −1.57
Kansas* | 0.934 | 0.919 | −1.60
Rest of Louisiana | 0.936 | 0.919 | −1.78
Kentucky | 0.932 | 0.915 | −1.80
Kansas* | 0.936 | 0.919 | −1.81
Rest of Oregon | 0.946 | 0.929 | −1.81
Vermont | 0.968 | 0.950 | −1.82
Virgin Islands | 1.007 | 0.989 | −1.83
Rest of Texas | 0.947 | 0.929 | −1.87
Idaho | 0.922 | 0.904 | −1.91
Iowa | 0.927 | 0.909 | −1.97
Rest of Maine | 0.936 | 0.916 | −2.14
Oklahoma | 0.913 | 0.893 | −2.14
Mississippi | 0.919 | 0.898 | −2.31
Arkansas | 0.905 | 0.884 | −2.34
Puerto Rico | 0.905 | 0.883 | −2.44
Nebraska | 0.925 | 0.902 | −2.44
Wyoming | 0.934 | 0.910 | −2.55
Montana | 0.928 | 0.902 | −2.83
Rest of Missouri * | 0.910 | 0.883 | −2.97
North Dakota | 0.924 | 0.895 | −3.16
South Dakota | 0.922 | 0.891 | −3.35
¹ Calculation for the GAF: (.52466*work gpci) + (.03865*mp gpci) + (.52466*pe gpci).

In the CY 2005 PFS proposed rule, published August 15, 2004, we discussed the issue of changes to the GPCI payment localities (69 FR 47504). In that proposed rule, we noted that we look for the support of a State medical society as the impetus for changes to existing payment localities. Because the GPCIs for each locality are calculated using the average of the county-specific data from all of the counties in the locality, removing high cost counties from a locality will result in lower GPCIs for the remaining counties. Therefore, because of this redistributive impact, we have refrained, in the past, from making changes to payment localities unless the State medical association provides evidence that any proposed change has statewide support.

We would be interested in receiving suggestions on alternative ways that we could administratively reconfigure payment localities that could be developed and proposed in future rulemaking. In addition, MEDPAC and the GAO have both expressed interest in studying the physician payment localities. CMS intends to work with both groups to study our current methodology and develop alternative options.

C. Medicare Telehealth Services

[If you choose to comment on issues in this section, please include the caption “TELEHEALTH” at the beginning of your comments.]

1. Requests for Adding Services to the List of Medicare Telehealth Services

Section 1834(m)(4)(F) of the Act defines telehealth services as professional consultations, office visits, and office psychiatry services (identified as of July 1, 2000 by CPT codes 99241 through 99275, 99201 through 99215, 90804 through 90809, and 90862) and any additional service specified by the Secretary. In addition, the statute requires us to establish a process for adding services to or deleting services from the list of telehealth services on an annual basis.

In the December 31, 2002 Federal Register (67 FR 79988), we established a process for adding services to or deleting services from the list of Medicare telehealth services. This process provides the public an ongoing opportunity to submit requests for adding services. We assign any request to make additions to the list of Medicare telehealth services to one of the following categories:

• Category #1: Services that are similar to office and other outpatient visits, consultation, and office psychiatry services. In reviewing these requests, we look for similarities between the proposed and existing telehealth services for the roles of, and interactions among, the beneficiary, the physician (or other practitioner) at the distant site and, if necessary, the telepresenter. We also look for similarities in the telecommunications system used to deliver the proposed service, for example, the use of interactive audio and video equipment.

• Category #2: Services that are not similar to the current list of telehealth services. Our review of these requests includes an assessment of whether the use of a telecommunications system to deliver the service produces similar diagnostic findings or therapeutic interventions as compared with the faceπtoπface “hands on” delivery of the same service. Requestors should submit evidence showing that the use of a telecommunications system does not affect the diagnosis or treatment plan as compared to a faceπtoπface delivery of the requested service.

Since establishing the process, we have added the following to the list of Medicare telehealth services: psychiatric diagnostic interview examination; ESRD services with two to three visits per month and four or more visits per month (although we require at least one visit a month by a physician, CNS, NP, or PA to examine the vascular access site); and individual medical nutritional therapy.

Requests to add services to the list of Medicare telehealth services must be submitted and received no later than December 31 of each CY to be considered for the next proposed rule. For example, requests submitted before the end of CY 2005 are considered for the CY 2007 proposed rule. For more information on submitting a request for an addition to the list of Medicare telehealth services, visit our Web site at www.cms.hhs.gov/telehealth.

2. Submitted Requests for Addition to the List of Telehealth Services

We received the following requests for additional approved services in CY 2005: (1) Nursing facility care; (2) speech language pathology; (3) audiology; and (4) physical therapy services. The following is a discussion of the requests submitted in CY 2005.

Nursing Facility Care

The American Telemedicine Association (ATA) and an individual practitioner submitted a request to add the following services: Initial nursing facility care (as represented by HCPCS codes 99304 through 99306); subsequent nursing facility care (HCPCS codes 99307 through 99310); nursing facility discharge services (HCPCS codes 99315 and 99316); and other nursing facility services as described by HCPCS code 99318. The requestors explained that the primary purpose of using telehealth in the Skilled Nursing Facility (SNF) setting is to provide urgent consultation when the patient has a sudden change in his or her condition, and to provide increased availability to primary and specialty care on days when the physician is not present in the SNF or when traveling is a hardship. The requestors believe that the current list of Medicare telehealth services is not appropriate because the list does not include codes that are specifically intended for nursing facility residents.

CMS Review

Nursing Facility Care

Section 1834(m)(C)(ii) of the Act defines a telehealth originating site as a physician's or practitioner's office; or a hospital, critical access hospital (CAH), rural health clinic, or FQHC. SNFs are not defined in the statute as originating sites.

However, section 418 of the MMA required the Health Resources Services Administration (HRSA), a component of HHS, in consultation with CMS, to conduct an evaluation of demonstration projects under which SNFs, as defined in section 1819(a) of the Act, are treated as originating sites for Medicare telehealth services. The MMA also required the Secretary to submit a report to the Congress that includes recommendations on “mechanisms to ensure that permitting a SNF to serve as an originating site for the use of telehealth services or any other service delivered via a telecommunications system does not serve as a substitute for in-person visits furnished by a physician, or for in-person visits furnished by a physician assistant (PA), nurse practitioner (NP), or clinical nurse specialist (CNS), as is otherwise required by the Secretary” and provides the authority to include SNFs as a Medicare telehealth originating site, if the Secretary concludes in the report that it is advisable to do so and that mechanisms could be established to ensure that the use of a telecommunications system does not serve as a substitute for the required in-person physician or practitioner SNF visits. This report is currently under review in DHHS.

Given that SNFs are not defined in the statute as a telehealth originating site and the report to the Congress, as discussed above, is currently being reviewed within DHHS, we cannot consider approving nursing facility care for telehealth at this time. We will review and consider the recommendations of the report to the Congress once it is issued. If it is determined that SNFs should be added as an originating site, this change will be considered in future rulemaking.

Speech Language Pathology, Audiology and Physical Therapy

The ATA and an individual practitioner submitted a request to add various speech therapy, audiology and physical therapy services to the list of Medicare telehealth services. The requestors also asked us to add physical therapists, speech language pathologists and audiologists to the list of approved telehealth practitioners.

CMS Review

Physical therapists, speech language pathologists and audiologists are not permitted under current law to provide and receive payment for Medicare telehealth services at the distant site. The statute permits only a physician, as defined by section 1861(r) of the Act or a practitioner as described in section 1842(b)(18)(C) of the Act (CNS, NP, PA, nurse midwife, clinical psychologist, clinical social worker, registered dietitian or other nutrition professional), to furnish Medicare telehealth services. Since speech language pathologists, audiologists and physical therapists are not permitted under current law to provide and receive payment for Medicare telehealth services at the distant site, we cannot fully consider the request to add speech therapy, audiology services and physical therapy to the list of Medicare telehealth services. We are exploring this issue as part of a report to the Congress (required by section 223(d) of BIPA) on additional sites and settings, geographic areas, and types of non-physician practitioners that could be reimbursed for the provision of telehealth services.

D. Miscellaneous Coding Issues

[If you choose to comment on issues in this section, please include the caption “Miscellaneous Coding Issues” at the beginning of your comments.]

The following sections address specific coding issues related to payment for services under the PFS.

1. Global Period for Remote Afterloading High Intensity Brachytherapy Procedures

CPT Code 77783, Remote afterloading high intensity brachytherapy; 9-12 source positions or catheters, resides in a family of codes with varying numbers of source positions. All of the codes in the family, CPT codes 77781-77784 are currently designated as 90-day global services. CPT codes 77781-77784 are used to treat many clinical conditions, but primarily patients with prostate cancer, breast cancer and sarcoma. Patients with any of these conditions usually receive several treatments (2-10) over a two to ten day period of time. Due to the increasing variability in treatment regimens, it is difficult to assign RVUs for a “typical” patient based on a global period of 90 days.

Therefore, we are proposing that this family of codes (CPT codes 77781, 77782, 77783 and 77784) be assigned a global period of “XXX”, which will permit separate payment each time the services are provided and allow payment to be based on the actual service(s) provided. We will request that the RUC revalue the work RVUs and the PE inputs for these services if a change in the global period is finalized. However we are proposing, on an interim basis, to revise the work RVUs and PE inputs to reflect the removal of the postoperative visit, CPT code 99212, that is currently assigned to these services. The proposed interim work RVUs for these services would be as follows:

• 77781 = 1.21

• 77782 = 2.04

• 77783 = 3.27

• 77784 = 5.15

We are also proposing to delete the registered nurse (RN) time in the post-service period as well as the patient gowns for the post-service visit. We would also note that, to the extent that these services are performed as staged procedures, providers may make use of applicable modifiers.

2. Assignment of RVUs to CPT Codes for Proton Beam Treatment Delivery Services

We have received a request to assign PE inputs for the non-facility setting to Proton Beam treatment delivery services represented by CPT codes 77520 through 77525.

These services are currently carrier-priced; therefore, payment in the facility or non-facility setting is established by each carrier. To the extent that physicians and suppliers wish to have national RVUs assigned for these services, there is an established process utilizing the AMA-RUC to recommend work RVUs, as well as the direct PE inputs used to compute the PE RVUs, to CMS. We would strongly encourage the physicians and suppliers to use this established process, and would also be interested in receiving comments on this issue.

E. Deficit Reduction Act (DRA) Related Proposals

[If you choose to comment on issues in this section, please include the caption “DRA PROPOSALS” at the beginning of your comments.]

The DRA of 2005 (Pub. L. 109-171), was enacted February 8, 2006 and included provisions that affect the Medicare program. The following section addresses the specific DRA provisions that are being addressed in this proposed rule.

1. Section 5102—Proposed Adjustments for Payments to Imaging Services

Section 5102 of the DRA includes two provisions that affect payment of imaging services under the Medicare physician fee schedule. The first provision addresses payment for certain multiple imaging procedures for CY 2007 and application of budget neutrality while the second provision addresses limiting the payment amount under PFS to the outpatient department (OPD) payment amount for the technical component (TC) of certain imaging services.

(a) Payment for Multiple Imaging Procedures for 2007

In general, Medicare prices diagnostic imaging procedures in the following three ways:

• The professional component (PC) represents the physician's interpretation (PC-only services are billed with the 26 modifier).

• The TC represents PE and includes clinical staff, supplies, and equipment (TC-only services are billed with the TC modifier).

• The global service represents both PC and TC.

As discussed in the CY 2006 PFS final rule with comment period (70 FR 70261), in the CY 2006 PFS proposed rule (70 FR 45764 through 46064), we had proposed to reduce payment for the TC of selected diagnostic imaging procedures belonging to one of eleven imaging families when the procedures are performed on contiguous body areas by 50 percent for CY 2006. However, in the final rule with comment period, we stated that we would phase-in the 50 percent reduction over two years, beginning with a 25 percent reduction in 2006. We also sought additional data and comments on the appropriateness of 50 percent as the final level of reduction. The reduction applies to the TC and the technical portion of the global service, but does not apply to the PC of the service. Currently, we make full payment for the highest priced procedure and reduce payment for each additional procedure by 25 percent, when more than one procedure from the same imaging family is performed during the same session on the same day.

As described in the CY 2006 PFS final rule with comment period, at the time, the statute required us to make changes such as this in a budget neutral manner, meaning that the estimated savings generated by the application of the multiple imaging procedure payment reduction were used to increase payment for other physician fee schedule services. We increased the CY 2006 PE RVUs by 0.3 percent to offset the estimated savings generated by the multiple imaging payment reduction policy.

Subsequent to the publication of the CY 2006 PFS final rule with comment period, section 5102(a) of the DRA (Multiple Procedure Payment Reduction for Imaging Exempted From Budget Neutrality), required that “effective for fee schedules established beginning with 2007, reduced expenditures attributable to the multiple procedure payment reduction for imaging under the final rule published by the Secretary in the Federal Register on November 21, 2005 (42 CFR 405, et al.) insofar as it relates to the physician fee schedules for 2006 and 2007” are exempted from the budget neutrality provision. As a result, we are proposing to remove the 0.3 percent increase to the CY 2006 PE RVUs from the CY 2007 PE RVUs in accordance with the statute.

In addition, in response to our request for data on the appropriateness of the 50 percent reduction in the CY 2006 PFS final rule with comment period (70 FR 70261), the ACR provided information for 25 code combinations supporting a reduction of between 21 and 44 percent. Given the expected interaction between the multiple procedure imaging policy and the further imaging payment reductions mandated by section 5102(b) of the DRA described below, along with the new information we have received from the ACR on the multiple imaging procedure policy as it applies to common combinations of imaging services, we believe it would be prudent to maintain the multiple imaging payment reduction at its current 25 percent level while we continue to examine the appropriate payment levels. Therefore, we are proposing to continue the multiple imaging payment reduction for 2007 at the 25 percent level. We would proceed through future rulemaking in the event we determine that revisions to the policy are warranted.

(b) Reduction in TC for Imaging Services Under the PFS to OPD Payment Amount

Section 5102(b)(1) of the DRA amended section 1848 of the Act and requires that, with respect to imaging services, if—

“(i) The technical component (including the technical component portion of a global fee) of the service established for a year under the fee schedule * * *, without application of the geographic adjustment factor * * *, exceeds,

(ii) The Medicare OPD fee schedule amount established under the prospective payment system for hospital outpatient department services * * * for such service for such year, determined without regard to geographic adjustment * * *, the Secretary shall substitute the amount described in clause (ii), adjusted by the geographic adjustment factor [under the PFS] * * *, for the fee schedule amount for such technical component for such year.”

As required by the statute, for imaging services (described below) furnished on or after January 1, 2007, we will cap the PFS payment amount for the year (prior to geographic adjustment) by the CY 2007 outpatient prospective payment system (OPPS) payment amount (prior to geographic adjustment). We will then apply the PFS geographic adjustment to the capped payment amount.

Section 5102(b)(2) of the DRA exempts the estimated savings from this provision from the PFS budget neutrality requirement. Section 5102(b)(1) of the DRA defines imaging services as “* * * imaging and computer-assisted imaging services, including X-ray, ultrasound (including echocardiography), nuclear medicine (including positron emission tomography), magnetic resonance imaging, computed tomography, and fluoroscopy, but excluding diagnostic and screening mammography.”

In order to apply section 5102(b) of the DRA, we needed to determine the CPT and alpha-numeric HCPCS codes that fall within the scope of “imaging services” defined by the DRA provision. In general, we believe that imaging services provide visual information regarding areas of the body that are not normally visible, thereby assisting in the diagnosis or treatment of illness or injury. We began by considering the CPT 7XXXX series codes for radiology services and then adding in other CPT codes and alpha-numeric HCPCS codes that describe imaging services. We then excluded nuclear medicine services that were either non-imaging diagnostic or treatment services. We also excluded all codes for unlisted procedures, since we would not know in advance of any specific clinical scenario whether or not the unlisted procedure was an imaging service. We excluded all mammography services, consistent with the statute. We excluded radiation oncology services that were not imaging or computer-assisted imaging services. We also excluded all HCPCS codes for imaging services that are not separately paid under the OPPS since there would be no corresponding OPPS payment to serve as a TC cap. We excluded any service where the CPT code describes a procedure for which fluoroscopy, ultrasound, or another imaging modality is either included in the code whether or not it is used or is employed peripherally in the performance of the main procedure, for example, 31622 for bronchoscopy with or without fluoroscopic guidance and 43242 for upper gastrointestinal endoscopy with transendoscopic ultrasound-guided intramural or transmural fine needle aspiration/biopsy(s). In these cases, we are unable to clearly distinguish imaging from non-imaging services because, for example, a specific procedure may or may not utilize an imaging modality, or the use of an imaging technology cannot be segregated from the performance of the main procedure. Note that we included carrier priced services since these services are within the statutory definition of imaging services and are also within the statutory definition of PFS services (that is, carrier-priced TCs of PET scans).

Our proposed list of codes that identify imaging services defined by the DRA OPPS cap provision can be found in Addendum F to this proposed rule. Note that this is the list of imaging services for which we propose to make the comparison between the PFS TC payment amount and the OPPS payment amount used to establish OPD payment. Payment for an individual service on this list would only be capped if the PFS TC payment amount exceeds the OPPS payment amount.

To the extent changes are made to codes for services already on the list, we propose to update the list through program instructions to our contractors. To the extent that the same imaging service is coded differently under the PFS and the OPPS, we propose to crosswalk the code under the PFS to the appropriate code under the OPPS that could be reported for the same service provided in the hospital outpatient setting. Our proposed list of crosswalks is below:

MFS code | Descriptor | OPPS code | Desc
74185 | Mri angio, abdom w or w/o dye | C8900 | MRA w/cont, abd.
76093 | Magnetic image, breast | C8905 | MRI w/o fol w/cont, brst, un.
76094 | Magnetic image, both breasts | C8908 | MRI w/o fol w/cont, breast.
71555 | Mri angio chest w or w/o dye | C8909 | MRA w/cont, chest.
73725 | Mr ang lwr ext w or w/o dye | C8912 | MRA w/cont, lwr ext.
72198 | Mr angio pelvis w/o & w/dye | C8918 | MRA w/cont, pelvis.

(c) Interaction of the Multiple Imaging Payment Reduction and the OPPS Cap

For CY 2007 imaging services potentially subject to both the multiple imaging reduction and the OPPS cap, we propose to first apply the multiple imaging payment reduction and then apply the OPPS cap to the reduced amount as illustrated in the following example.

HCPCS | Pre-OPPS cap MPFS rate | 25% Multiple imaging reduction | OPPS cap rate | Final MPFS payment
7XXX1 | $341.89 | $256.42 | $316.55 | $256.42
7XXX2 | 552.86 | 414.65 | 391.83 | 391.83

We considered first applying the OPPS cap and then applying the multiple procedure reduction. However, as indicated in the CY 2006 OPPS final rule, we received public comments suggesting that the OPPS payment rates may implicitly include at least some multiple imaging discount. While we continue to examine this issue, we believe the most appropriate policy is to apply the multiple imaging payment reduction prior to the application of the OPPS cap.

2. Section 5107—Revisions to Payments for Therapy Services

Section 1833(g) of the Act applies an annual per beneficiary combined cap beginning January 1, 1999, on outpatient physical therapy and speech-language pathology services and a similar separate cap on outpatient occupational therapy services. These caps apply to expenses incurred for the respective therapy services under Medicare Part B, with the exception of outpatient hospital services. The caps were in effect from January 1, through December 31, 1999, from September 1, 2003 through December 7, 2003, and beginning January 1, 2006. In 2000 through 2002, and from December 8, 2003 through December 31, 2005, the Congress placed moratoria on implementation of the caps. Section 1833(g)(2) of the Act provides that, for 1999 through 2001, the caps were $1500, and for years after 2001, the caps are equal to the preceding year's cap increased by the percentage increase in the Medicare Economic Index (MEI) (except that if an increase for a year is not a multiple of $10, it is rounded to the nearest multiple of $10).

We implemented the separate statutory limits of $1740 for outpatient physical therapy and speech-language pathology services and $1740 for occupational therapy on January 1, 2006. The DRA of 2005 was enacted on February 8, 2006. Section 5107(a) of the DRA required the Secretary to develop an exceptions process for the therapy caps effective January 1, 2006. The exceptions process applies only to expenses incurred in 2006. Details of the exceptions process were published in a manual change on February 13, 2006 (CR4364). The change request consists of three transmittals with current numbers of—

• Transmittal 855, CR 4364, Pub. L. 100-04;

• Transmittal 47, CR 4365, Pub. L. 100-02; and

• Transmittal 140, CR 4364, Pub. L. 100-08.

The transmittals are available on our Web site at http://www.cms.hhs.gov/Transmittals/.

In accordance with the statute, the therapy caps will remain in effect, but without the exceptions process, with respect to expenses incurred beginning on January 1, 2007. The dollar amount of the therapy caps in 2007 will be the 2006 rate ($1740) increased by the percentage increase in the MEI. As noted above, under current law, the exceptions process will not apply to therapy services incurred after December 31, 2006, but the therapy caps will remain inapplicable to therapy services provided in the outpatient hospital setting as provided in section 1833(g) of the Act.

Section 5107(b) of the DRA requires the Secretary to implement, by July 1, 2006, edits for clinically illogical combinations of procedure codes and other edits in order to limit inappropriate payment for therapy services. In January 2006, we implemented Correct Coding Initiative (CCI) edits for the therapy providers that bill to the fiscal intermediaries, thus, addressing the section 5107 of the DRA requirement with respect to edits for clinically illogical combinations of procedure codes. Adoption of these code edits ensures that these providers of outpatient Part B therapy services, including SNFs, comprehensive outpatient rehabilitation facilities, certain outpatient physical therapy and speech-language therapy providers (rehabilitation agencies) and home health agencies (HHAs) (where beneficiary is not under a Part A plan of care) meet the same CCI edit requirements as those that have been in place for physicians, private practice therapists, and OPPS hospitals. We are considering the implementation of other edits in the future to further address concerns about inappropriate payment for therapy services.

3. Section 5112-Proposed Addition of Ultrasound Screening for Abdominal Aortic Aneurysm (AAA)

Section 5112 of the DRA of 2005 amended section 1861 of the Act to provide for coverage under Part B of ultrasound screening for AAAs, effective for services furnished on or after January 1, 2007, subject to certain eligibility and other limitations. This screening test will be available even if the qualifying patient does not present signs or symptoms of disease or illness.

To conform the regulations to the statutory requirements of section 5112 of the DRA, we are proposing to include an exception in § 411.15(a)(1) to permit coverage for ultrasound screening for AAAs that meet the conditions for coverage that we are proposing to specify under new § 410.19(b) (Conditions for coverage of an ultrasound screening for abdominal aortic aneurysms). We are also adding a new § 411.15(k)(12).

As provided in the DRA, this new coverage allows payment for a one-time only screening examination. We are proposing to add new § 410.19(b) to provide for the coverage of the screening examinations for AAAs as specified in section 5112 of the DRA. We are also proposing to add new § 410.19(c) (Limitation on coverage of ultrasound screening for abdominal aortic aneurysms.) to provide the limitation on coverage for an individual who is not an eligible beneficiary as defined in proposed new § 410.19(a).

We are proposing definitions set forth in new § 410.19(a) of this proposed rule that would be included to implement the statutory provisions and to help the reader in understanding the provisions of this regulation. The proposed definitions include the following terms:

• Eligible beneficiary.

• Ultrasound screening for abdominal aortic aneurysms.

Specifically, section 5112(a)(1) of the DRA amended section 1861 of the Act to provide that coverage of ultrasound screening for AAAs will be available for an individual—(i) who receives a referral for such an ultrasound screening as a result of an initial preventive physical examination (as defined in section 1861(ww)(1) of the Act); (ii) who has not been previously furnished such an ultrasound screening under this title; and (iii) who has a family history of AAA or manifests risk factors included in a beneficiary category recommended for screening by the United States Preventive Services Task Force regarding AAAs.

Section 5112(a)(2) of the DRA also adds a definition of the term “ultrasound screening for an Abdominal Aortic Aneurysm” to mean, “(1) a procedure using sound waves (or other procedures using alternative technologies, of commensurate accuracy and cost, that the Secretary may specify) provided for the early detection of abdominal aortic aneurysm; and (2) includes a physician's interpretation of the results of the procedure.”

In developing the proposed rule based on this provision, we reviewed the 2005 United States Preventive Services Task Force (USPSTF) recommendations and related material on ultrasound screening for AAAs. This includes—

• A recommendation for a one-time ultrasound screening for men aged 65 to 75 who have smoked at least 100 cigarettes in their lifetime;

• No recommendation for or against ultrasound screening for AAAs for men who have not smoked at least 100 cigarettes in their lifetime; and

• A recommendation against routine screening for AAAs in women.

Based on the statutory language and the USPSTF recommendations outlined above, we are proposing to define the term “eligible beneficiary” for coverage of ultrasound screening examinations for AAA to mean an individual who—

• Has received a referral for an ultrasound screening as a result of an initial preventive physical examination (as defined in section 1861(ww)(1) of the Act);

• Has not been previously furnished such a covered ultrasound screening examination under the Medicare program; and

• Is included in at least one of the following risk categories:

+ Has a family history of an AAA; or

+ Is a man age 65 to 75 years who smoked at least 100 cigarettes in his lifetime; or

+ Is an individual who manifests other risk factors that are described in a benefit category recommended by the USPSTF regarding an AAA that has been determined by the Secretary through the NCD process.

To facilitate our consideration of possible expansions of coverage in the future for identifying (1) other risk factors in a benefit category recommended for screening for the early detection of AAAs by the USPSTF, and (2) alternative screening technologies to ultrasound screening for AAAs of commensurate accuracy and cost, we are proposing to add language to our regulations that would allow us to make determinations through the NCD process. The NCD process would allow the Secretary to expand coverage more quickly following an assessment of those subjects than is possible under the standard rulemaking process. We intend to use the NCD process, which includes an opportunity for public comments, for evaluating the medical and scientific issues relating to the coverage of alternative screening technologies and the identification of other risk factors for AAAs recommended by the USPSTF that may be brought to our attention in the future. Use of an NCD to establish a change in the scope of benefits is authorized by section 1871(a)(2) of the Act. An aggrieved party can challenge an NCD under the procedures established by section 1869(f) of the Act. These proposed coverage provisions would be set forth in proposed new § 410.19 (a)(1)(i) and § 410.19(a)(2)(iii)(C).

Section 5112(b) of DRA also amended section 1861(ww)(2) of the Act (the initial preventive physical examination benefit) by adding the new ultrasound screening benefit to the list of preventive services for which physicians and other qualified nonphysician practitioners must provide “education, counseling and referral” to new beneficiaries who take advantage of the initial preventive physical examination benefit within the first 6 months after the effective date of their first Part B coverage period. Therefore, we are also proposing to amend § 410.16(a)(7) of the regulations so that it reflects the additional responsibilities that physicians and qualified nonphysician practitioners will have under the initial preventive physical examination benefit with respect to the new ultrasound screening benefit.

Beginning January 1, 2007, we are proposing to pay for ultrasound screening for AAAs through the use of a new HCPCS code GXXX1, Ultrasound, B-scan and/or real time with image documentation; for abdominal aortic aneurysm (AAA) screening. We are proposing that payment for this service be made at the same level as CPT code 76775 Ultrasound, retroperitoneal (e.g., renal, aorta, nodes), B-scan and/or real time with image documentation; limited. CPT code 76775 is used to bill for the service when it is provided as a diagnostic test, and we believe the service associated with the proposed HCPCS code reflects equivalent resources and work intensity to those contained in CPT code 76775.

In addition, since the DRA provides that the Medicare Part B deductible will not apply with respect to ultrasound screening for abdominal aortic aneurysm (as defined in section 1861(bbb) of the Act), we are proposing to revise § 410.160 to include an exception from the Medicare Part B deductible for the ultrasound screening for abdominal aortic aneurysm as described in proposed § 410.19. (Conditions for coverage of an ultrasound screening for abdominal aortic aneurysms.)

4. Section 5113—Proposed Non-Application of the Part B Deductible for Colorectal Cancer Screening Tests

Current Medicare policy requires that, with limited exceptions, incurred expenses for covered part B services are subject to, and count toward meeting the Part B annual deductible. Section 5113 of the DRA amended section 1833(b) of the Act to provide for an exception to the application of the Part B deductible with respect to colorectal cancer screening tests. Beginning January 1, 2007, colorectal cancer screening services, as described in section 1861(pp)(1) of the Act, are no longer subject to the Part B deductible. The conditions for and limitations on coverage for colorectal cancer screening tests under Medicare part B are described in § 410.37.

To conform our regulations to this statutory change, we are proposing to revise § 410.160 to include an exception from the Part B annual deductible for the colorectal cancer screening services described in § 410.37.

5. Section 5114—Proposed Addition of Diabetes Outpatient Self-Management Training Services (DSMT) and Medical Nutrition Therapy (MNT) for the FQHC Program

Section 5114 of the DRA amended section 1861(aa)(3) of the Act to add DSMT and MNT services to the list of Medicare covered and reimbursed services under the Medicare FQHC benefit, effective for services provided on or after January 1, 2006. Although this statutory change has already been implemented in administrative instructions, we are proposing to conform the regulations to the new statutory requirement.

FQHCs certified as DSMT and MNT providers have been allowed to bundle the cost of those services into their FQHC payment rates. But before the enactment of the DRA, the provision of these services would not generate a separate FQHC visit payment. Effective for services furnished on or after January 1, 2006, FQHCs that are certified providers of DSMT and MNT services can receive per visit payments for covered services furnished by registered dietitians or nutrition professionals. In other words, if all relevant program requirements are met, these services are included under the Medicare FQHC benefit as billable visits.

In order to conform the regulations, we are proposing to amend § 405.2446(b) to expand the scope of FQHC services to include certified providers of DSMT and MNT services by adding a new paragraph (10). We are also proposing to revise § 405.2463 by—

• Revising paragraph (a) to expand the definition of an FQHC visit to include certified providers of DSMT and MNT services under new sub-paragraph (a)(1)(ii)(B). We would also revise the definition of an RHC visit in new subparagraph (a)(1)(i) to include a face-to-face encounter between a patient and a clinical psychologist or clinical social worker to conform to statutory language at section 1861(aa)(1)(B) of the Act. We are also proposing to redesignate and revise paragraphs (b) and (c) as new paragraphs (a)(2) and (a)(3), respectively.

• We are proposing to incorporate paragraph (a)(2) into (a)(1), and to redesignate and revise current paragraph (a)(3) as new paragraph (b). We would also clarify that it is generally permissible for both FQHCs and Rural Health Clinics to furnish, when necessary, most types of medical and other health visits on the same day to the same patient. We are also proposing to amend this paragraph to permit a separate additional FQHC visit for DSMT and MNT services (which may occur on the same date of service when the beneficiary receives care from their FQHC physician or non-physician practitioner) when reasonable and necessary, consistent with the Congressional mandate under section 5114 of the DRA to provide coverage and adequate access to these services in the FQHC setting.

• We are proposing to redesignate and revise current paragraph (a)(4) as new paragraph (c).

F. Proposed Payment for Covered Outpatient Drugs and Biologicals (ASP Issues)

[If you choose to comment on issues in this section, please include the caption “ASP Issues” at the beginning of your comments.]

Medicare Part B covers a limited number of prescription drugs and biologicals. For the purposes of this proposed rule, the term “drugs” will hereafter refer to both drugs and biologicals. Medicare Part B covered drugs not paid on a cost or prospective payment basis generally fall into the following three categories:

• Drugs furnished incident to a physician's service.

• DME drugs.

• Drugs specifically covered by statute (certain immunosuppressive drugs, for example).

Beginning in CY 2005, the vast majority of Medicare Part B drugs not paid on a cost or prospective payment basis are paid under the ASP methodology. The ASP methodology is based on data submitted to us quarterly by manufacturers. In addition to the payment for the drug, Medicare currently pays a furnishing fee for blood clotting factors, a dispensing fee for inhalation drugs, and a supplying fee to pharmacies for certain Part B drugs.

In January 2006, the drug coverage available to Medicare beneficiaries expanded with the implementation of Medicare Part D. The Medicare Part D program does not change Medicare Part B drug coverage.

This section of the preamble discusses proposed changes and issues related to the determination of the payment amounts for covered Part B drugs and furnishing blood clotting factor. This section also discusses proposed changes to how manufacturers calculate and report ASP data to us.

1. ASP Issues

Section 303(c) of the MMA amended Title XVIII of the Act by adding new section 1847A. This new section revised the payment methodology for the vast majority of drugs and biologicals not paid on a cost or prospective payment basis furnished on or after January 1, 2005. The ASP reporting requirements are set forth in section 1927(b) of the Act. Manufacturers must submit ASP data for each 11-digit National Drug Code (NDC) to us quarterly. The manufacturers' submissions are due to us not later than 30 days after the last day of each calendar quarter. The methodology for developing Medicare drug payment allowances based on the manufacturers' submitted ASP data is specified in the regulations in part 414, subpart K. We update the Part B drug payment amounts quarterly based on the data we receive.

In this section of the preamble, we discuss our intent to issue a final rule to implement the provisions in the MMA related to the calculation and submission of manufacturers’ ASP data, and seek further comments on specific issues related to price concessions and certain fees.

On April 6, 2004, we published the Manufacturer's Submission of Average Sales Price Data for Medicare Part B Drugs and Biologicals (ASP) interim final rule with comment period (IFC) (69 FR 17935) to implement the ASP calculation and reporting requirements. Manufacturers were required to submit their initial quarterly ASP data to us shortly thereafter, beginning April 30, 2004. We received comments from drug manufacturers, pharmacies, physicians, national associations of the pharmaceutical industry, national associations of physicians, and consultants. These comments addressed a variety of aspects of calculating and reporting ASPs. On September 16, 2004, we published the Manufacturer's Submission of Average Sales Price Data for Medicare Part B Drugs and Biologicals (ASP) final rule (69 FR 55763) addressing only the comments pertaining to the methodology for estimating lagged price concessions. We have also addressed ASP calculation and reporting requirements in other proposed and final rules and information collection notices, including rulemaking to implement the Competitive Acquisition Program for Part B Drugs and Biologicals (CAP). (See 70 FR 39069, 70 FR 45842, 70 FR 70215, and 70 FR 70477.) In addition, we posted official agency guidance, including responses to frequently asked questions, on our Web site to implement the ASP provisions in accordance with section 1847A(c)(5)(C) of the Act.

We intend to publish a final rule addressing comments on the April 6, 2004 IFC in the near future. We may publish the final rule as part of this rulemaking, or we may publish a separate final rule, in either case after the close of the comment period for this proposed rule. Because the comments received during the comment period in response to the April 6, 2004 IFC were made during the initial months of manufacturers’ experience with calculating and reporting ASPs and prior to publication of payment amounts based on the ASP methodology, we believe there is good reason to provide the public with the opportunity for additional comments based on what is now more than a year and a half of experience with the ASP reporting requirements. Therefore, we seek comments on the ASP reporting provisions in the April 6, 2004 IFC. In particular, we seek comments on the issues discussed in the sections below.

We note that we received many comments in response to the April 6, 2004 interim final rule on the use and potential impacts of the ASP payment methodology. As noted above, we are reopening the comment period on the issue of ASP reporting. Thus, comments about the use or appropriateness of the ASP payment methodology are outside the scope of this rulemaking and the ASP reporting rule (CMS-1380-IFC). Therefore, comments about the appropriateness and use of 106 percent of ASP as the basis for the Medicare Part B drug payment rates will be outside the scope of the comments considered for the final ASP reporting rule we are preparing to publish.

a. Fees Not Considered Price Concessions

Section 1847A(c)(5)(A) of the Act states that the ASP is to be calculated by the manufacturer on a quarterly basis. As a part of that calculation, manufacturers are to take into account price concessions such as—

• Volume discounts;

• Prompt pay discounts;

• Cash discounts;

• Free goods that are contingent on any purchase requirement;

• Chargebacks; and

• Rebates (other than rebates under the Medicaid drug rebate programs).

If the data on these price concessions are lagged, then the manufacturer is required to estimate costs attributable to these price concessions using the required ratio methodology as specified in 42 CFR part 414, subpart J, § 414.804(a)(3).

Among the comments from drug manufacturers and national associations representing wholesalers and distributors, we received requests for clarification and detailed guidance on the treatment of administrative fees, service fees and fees paid to pharmacy benefit managers (PBMs) in the ASP calculation. We posted guidance on our Web site (http://questions.cms.hhs.gov/cgi-bin/cmshhs.cfg/php/enduser/std_adp.php?p_faqid=3323&p_created=1095344721&p_sid=Ghuscgci&p_accessibility=0&p_lva=&p_sp=cF9zcmNoPTEmcF9zb3J0X2J5PSZwX2dyaWRzb3J0PSZwX3Jvd19jbnQ9MzEmcF9wcm9kcz04LDU2LDYwNCZwX2NhdHM9JnBfcHY9My42MDQmcF9jdj0mcF9zZWFyY2hfdHlwZT1hbnN3ZXJzLnNlYXJjaF9ubCZwX3BhZ2U9MQ**&p_li=&p_topview=1) to clarify that in the absence of specific guidance in the Social Security Act or Federal regulations, the manufacturer may make reasonable assumptions in its calculations of ASP, consistent with the general requirements and intent of the Social Security Act, Federal regulations, and its customary business practices. These assumptions should be submitted along with the ASP data. In December 2004, we posted further guidance on our website addressing service fees and administrative fees paid to buyers (http://questions.cms.hhs.gov/cgi-bin/cmshhs.cfg/php/enduser/std_adp.php?p_faqid=3318&p_created=1095343992&p_sid=a2qUcgci&p_accessibility=0&p_lva=&p_sp=cF9zcmNoPTEmcF9zb3J0X2J5PSZwX2dyaWRzb3J0PSZwX3Jvd19jbnQ9MzEmcF9wcm9kcz04LDU2LDYwNCZwX2NhdHM9JnBfcHY9My42MDQmcF9jdj0mcF9zZWFyY2hfdHlwZT1hbnN3ZXJzLnNlYXJjaF9ubCZwX3BhZ2U9MQ**&p_li=&p_topview=1 and http://questions.cms.hhs.gov/cgi-bin/cmshhs.cfg/php/enduser/std_adp.php?p_faqid=4136&p_created=1109786814&p_sid=bxw-cgci&p_accessibility=0&p_lva=&p_sp=cF9zcmNoPTEmcF9zb3J0X2J5PSZwX2dyaWRzb3J0PSZwX3Jvd19jbnQ9MzEmcF9wcm9kcz04LDU2LDYwNCZwX2NhdHM9JnBfcHY9My42MDQmcF9jdj0mcF9zZWFyY2hfdHlwZT1hbnN3ZXJzLnNlYXJjaF9ubCZwX3BhZ2U9MQ**&p_li=&p_topview=1).

On July 6, 2005, we restated our guidance on service fees in the preamble of the Competitive Acquisition of Outpatient Drugs and Biologicals Under Part B (CAP) interim final rule with comment (70 FR 39069). Subsequently, we have received requests for clarification on how fees paid to entities such as group purchasing organizations (GPOs) or PBMs must be treated for purposes of the ASP calculation.

We propose to further clarify in the final ASP reporting rule that, beginning with the ASP reporting for sales during the first calendar quarter of 2007, bona fide service fees that are paid by a manufacturer to an entity, whether or not the entity takes title to the drug, are not considered price concessions under § 414.804(a)(2) insofar as, and to the extent that, they satisfy the definition of a bona fide service fee that we are proposing at § 414.802. In § 414.802, we propose to define bona fide service fees as fees paid by a manufacturer to an entity that represent fair market value for a bona fide, itemized service actually performed on behalf of the manufacturer that the manufacturer would otherwise perform (or contract for) in the absence of the service arrangement, and that are not passed on, in whole or in part, to a client or customer of an entity, whether or not the entity takes title to the drug. Our current guidance, which provides that bona fide service fees means expenses that would have generally been paid for by the manufacturer at the same rate had these services been performed by other entities, would continue unless we provide an alternative approach as discussed below. Further, we propose to clarify in the final ASP reporting rule that fees, including service fees, administrative fees and other fees, paid to GPOs or PBMs are not considered price concessions under § 414.804(a)(2) insofar as, and to the extent that, they satisfy the definition of a bona fide service fee that we have proposed at § 414.802.

In comments on the April 6, 2004 IFC, groups representing wholesalers, distributors and specialty pharmacies provided some insight into the types of activities that are performed in the distribution of drugs. These commenters suggested that costs for handling, storage, inventory reporting, shipping, receiving, patient education, disease management and data should be borne by manufacturers and be excluded from the ASP calculation as bona fide services. However, these commenters did not provide detailed information about whether and how one would determine the extent to which these activities are bona fide services actually performed on behalf of the manufacturer or otherwise.

Because the scope of appropriate services may vary across categories of drugs, we are considering providing guidance on the types of services that may qualify as bona fide services for purposes of the ASP calculation. We are also considering providing further guidance on or revising the approach or methodology manufacturers must use to determine the fair market value of bona fide services performed on their behalf and whether the service fee paid was passed on in whole or in part. In either case, we may implement our policy through rulemaking or through program instruction or other guidance (consistent with our authority under section 1847A(c)(5)(C) of the Act).

We seek comments on the specific types of services entities perform on behalf of manufacturers that a manufacturer would otherwise perform (or contract for) and the necessity of those services in the efficient distribution of drugs. We also seek comments on activities that should not be considered bona fide services performed on behalf of manufacturers. To better understand which services may be considered bona fide services performed on behalf of the manufacturer that the manufacturer would otherwise perform (or contract for), we seek to understand the bona fide services that may be appropriate for all or specific types of products, as well as the specific services that may be applicable to unique products or circumstances. We also seek to understand the costs and relative costs of services performed on behalf of manufacturers.

To exclude a bona fide service fee from the ASP calculation, a manufacturer must determine whether the fee paid to an entity represents fair market value for a bona fide service actually performed on behalf of the manufacturer that the manufacturer would otherwise perform (or contract for), and that the fee is not passed on, in whole or in part, to a client or customer of the entity. Our current guidance provides that bona fide service fees means expenses that would have generally been paid for by the manufacturer at the same rate had these services been performed by other entities. We seek comments on appropriate additional guidance or alternative methods for determining fair market value for purposes of identifying bona fide service fees that are excluded from the calculation of ASP, as well as comments on whether, and the extent to which, fees tied to performance of a service, fixed fee, revenue generated by product sales, or other basis may represent fair market prices for purposes of identifying bona fide service fees that are excluded from the calculation of ASP. In addition, we seek comments on the appropriate methods for determining whether a fee is passed on in whole or in part. We also seek comments on how Medicare's guidance on the treatment of service fees for ASP calculation purposes may differ with the treatment of service fees for financial accounting or other purposes, and any implications that this may have for manufacturers.

b. Estimation Methodology for Lagged Exempted Sales

Section 1847A(c)(2) of the Act requires manufacturers to exclude from the calculation of ASP those sales that are exempt from the Medicaid best price (BP) calculation (for example, Federal sales, sales to State pharmacy assistance programs, sales to a prescription drug plan for use under Medicare Part D). In the comments on the April 6, 2004 IFC, commenters requested more guidance on the method manufacturers should use to exclude exempted sales that are known on a lagged basis. Manufacturers identify exempted sales based on direct sales and through chargeback and rebate data that may not be sufficiently available at the time the ASP is calculated. In the absence of specific guidance on how to account for lagged exempted sales (that is, exempted sales identified through chargeback or rebate processes), manufacturers have relied upon assumptions in accordance with their customary business practices to develop their approach for excluding these sales from the ASP calculation. In our work with manufacturers that submit ASP data, we understand that some manufacturers have used a ratio methodology for estimating exempted sales known on a lagged basis which is similar to the ratio methodology manufacturers must use to estimate price concessions known on a lagged basis.

To establish a uniform approach, in § 414.804(a)(4), we propose to require, in the final ASP reporting rule, that all manufacturers use a 12-month (or less, if applicable) rolling average ratio methodology to estimate exempted sales known on a lagged basis (through chargebacks or rebates) in order to more accurately exclude these sales from the ASP calculation. Specifically, for exempted sales known on a lagged basis, the manufacturer sums the lagged exempted sales for the most recent 12-month period available (or the number of months the NDC has been sold for NDCs with less than 12 months of sales, except for redesignated NDCs as described in section d below). The manufacturer then calculates a percentage using this summed amount as the numerator and the sales (the number of units after non-lagged exempted sales have been subtracted from total sales) for the same period (12 months or less, if applicable) as the denominator. The result is a rolling average percentage estimate for lagged exempted sales that is applied to the sales (the number of units after non-lagged exempted sales have been subtracted from total sales) for the quarter being reported. The product that results from multiplying the rolling average percentage estimate of lagged exempted sales and sales (the number of units after non-lagged exempted sales have been subtracted from total sales) determines the number of lagged exempted sales (in units) to be excluded from the denominator of the ASP calculation. Manufacturers must make a corresponding adjustment to the numerator of the ASP calculation to ensure that the total in dollars for the reporting quarter does not include revenue related to lagged exempted sales excluded from the denominator using the proposed estimation methodology. Further, manufacturers must remove the dollar value of lagged exempted sales from their estimates of lagged price concessions by subtracting the dollar value of estimated lagged exempted sales from the denominator as specified in § 414.804(a)(3)(i).

Our proposed methodology for excluding lagged exempted sales is similar to the methodology manufacturers are required to use to estimate price concessions known on a lagged basis, and was recommended by manufacturers. We believe requiring similar methods to estimate both lagged exempted sales and lagged price concessions is reasonable and reduces potential errors in the manufacturers’ ASP calculations, while ensuring that exempted sales are appropriately removed from the ASP calculation. In addition, using an estimation methodology to remove lagged exempted sales reduces the likelihood of quarter to quarter variations in the ASP.

We seek comments on the proposed methodology for excluding exempted sales known on a lagged basis from the ASP calculation and estimate of lagged price concessions. We also solicit suggestions on appropriate alternative methodologies that may be less complex.

c. Nominal Sales

Section 1847A(c)(2)(B) of the Act requires manufacturers to exclude from the ASP calculation sales that are merely nominal in amount, as applied for purposes of section 1927(c)(1)(C)(ii)(III) of the Act, except as the Secretary may otherwise provide. Effective January 1, 2007, the DRA (Pub. L. 109-171) modifies section 1927(c)(1)(C)(ii)(III) of the Act. Limitations on nominal sales have been added in new section 1927(c)(1)(D) of the Act. The DRA also modified the average manufacturer price (AMP) calculation and frequency of AMP reporting. Therefore, we are proposing to clarify the method manufacturers must follow, beginning in 2007, to identify nominal sales for ASP reporting purposes and to exclude nominal sales from the calculation of the ASP. We also are seeking comments on whether we should establish an alternative definition of nominal sales for ASP purposes.

In the preamble to the ASP reporting interim final rule, we stated sales to an entity that are nominal in amount are defined in the Medicaid drug rebate agreement (see sample agreement at http://www.cms.hhs.gov/MedicaidDrugRebateProgram/downloads/rebateagreement.pdf). That is, for ASP purposes, a nominal sale is a sale at a price less than 10 percent of the AMP in the same quarter for which the AMP is computed. Effective January 1, 2007, the DRA revises the AMP calculation (to omit customary prompt pay discounts extended to wholesalers), added a monthly AMP reporting requirement, and established limitations on nominal sales (only sales to certain entities may qualify as nominal sales). Section 1927(c)(1)(D) of the Act limits the nominal sales exclusion to nominal sales made to the following entities:

• 340B covered entities as described in section 340B(a)(4) of the Public Health Services Act (PHS Act).

• Intermediate care facilities for the mentally retarded (ICFs/MR).

• State-owned or operated nursing facilities.

• Any other facility or entity that the Secretary determines is a safety net provider to which sales of such drugs at a nominal price would be appropriate based on the factors described in section 1927(c)(1)(D)(ii) of the Act.

Because section 1847A(c)(2)(B) of the Act requires manufacturers to exclude from the ASP calculation sales that are merely nominal in amount, as applied for purposes of section 1927(c)(1)(C)(ii)(III) of the Act, except as the Secretary may otherwise provide, the DRA changes will have implications for ASP reporting beginning January 1, 2007 (unless we provide an alternative policy for determining nominal sales as permitted under section 1847A(c)(2)(B) of the Act). One implication is that the limitations set forth in section 1927(c)(1)(D) of the Act will continue the exclusion of nominal sales to certain entities while requiring that sales to entities not identified under section 1927(c)(1)(D) of the Act are included in the ASP calculation, even if such sales are at very low prices. Another implication is the AMP calculation will exclude customary prompt pay discounts extended to wholesalers, yet prompt pay discounts will continue to be a type of price concession that manufacturers must include in their ASP calculations. The change in treatment of customary prompt pay discounts extended to wholesalers in the AMP calculation may result in a higher number of sales that are at less than 10 percent of the AMP than in past ASP reporting periods (notwithstanding the new limitation on what is considered a nominal sale under section 1927(c)(1)(D) of the Act). Still another implication is that the frequency of AMP reporting will include monthly reporting; thus, for ASP purposes, there is further need to clarify how nominal sales are to be identified in 2007. Separate Medicaid rulemaking will address the DRA provisions related to AMP reporting.

We believe the DRA modifications to section 1927 of the Act noted above will have minimal effect on reported ASPs. We would expect that the exclusion of customary prompt pay discounts extended to wholesalers from AMP would lead to a modest increase in AMP, and as a result a modest increase in the number of sales that would qualify as nominal under the current ASP reporting regulations. At the same time, we anticipate that the limitation on nominal sales in section 1927(c)(1)(D) of the Act will result in a modest reduction in the number of sales that qualify as nominal sales for purposes of ASP reporting because we believe that the entities outlined in section 1927(c)(1)(D) of the Act generally represent the types of entities to which manufacturers may offer sales at a nominal amount. Consequently, we would expect these two countervailing changes would have a minimal overall impact on nominal sales that would be excluded from the ASP calculation. For 2007 and beyond, we propose to revise § 414.804(a)(4) to clarify that manufacturers must continue to use the Medicaid threshold (less than 10 percent of AMP) to determine nominal sales that are excluded (subject to the limitations in section 1927(c)(1)(D) of the Act) from the ASP calculation. Further, we propose that, in identifying nominal sales, manufacturers must use the AMP for the calendar quarter that is the same calendar quarter for the ASP reporting period. For these reasons, we are proposing to continue the current methodology for identifying and excluding nominal sales (that is, sales that are exempt from the Medicaid best price calculation under section 1927(c)(1)(C)(ii)(III) of the Act) from the manufacturer's calculation of the ASP. We believe this approach helps maintain continuity in the ASP calculation and minimizes manufacturers' reporting burden, as Medicare continues to follow the Medicaid approach for identifying nominal sales and manufacturers can use a single method for identifying nominal sales for both ASP and AMP purposes.

We seek comments on our proposal to continue use of the AMP as the basis for identifying nominal sales excluded from the ASP calculation and on whether an alternative threshold for identifying nominal sales for ASP calculation purposes is necessary or desirable to ensure the accuracy of the ASP payment methodology. Specifically, we seek comments on whether sales at less than 10 percent of the ASP (instead of the AMP) should be used to identify nominal sales for ASP purposes (with the new requirement in section 1927(c)(1)(D) of the Act allowing only sales to certain entities to be considered nominal sales still being applicable). We also seek comments on our belief that the new limitations on nominal sales and change to the AMP calculation will have minimal impact on reported ASPs.

Subsequent to the April 6, 2004 IFC, we received requests for clarification on a technical aspect related to the identification of nominal sales. Specifically, some manufacturers have asked whether nominal sales are identified by performing a series of calculations once or whether the manufacturer repeats the series of calculations until no remaining ASP eligible sales are below the nominal threshold. Consistent with current Medicaid reporting, for 2005 and 2006, manufacturers must identify nominal sales by performing the following steps once:

• The manufacturer calculates the AMP for the reporting quarter to identify the dollar amount that represents 10 percent of the AMP for that reporting period.

• The manufacturer then identifies sales below this amount and excludes these sales from the ASP calculation.

• Beginning in 2007, the limitations in section 1927(c)(1)(D) of the Act must also be met to exclude the sale.

d. Other Price Concession Issues

In our ongoing work with manufacturers that submit ASP data, some manufacturers have posed questions or raised concerns about how the estimate of lagged price concessions is done prior to having 12 months of data for a NDC and, when a product is redesignated with a new NDC, whether price concessions from the prior NDC must be included in calculating the ASP for the new NDC. Manufacturers and other stakeholders have also asked us about how Medicare's ASP guidance concerning price concessions is to be applied when drugs are sold under bundling arrangements.

In response, we are proposing clarifications and seeking comment on these issues.

(1) Price Concessions for NDCs With Less Than 12 Months of Sales

To address situations when a NDC with price concessions known on a lagged basis has not been sold for a full 12 months, we propose to revise § 414.804(a)(3) to specify that the period used to estimate lagged price concessions is the total number of months the NDC has been sold. We propose to require that manufacturers use less than 12 months of data in the estimation methodology for lagged price concessions for NDCs with less than 12 months of sales (except when the manufacturer has redesignated the product's NDC, as discussed below). Manufacturers may include the current ASP reporting quarter in the most recent 12 month period (or less for NDCs with less than 12 months of sales) so long as the manufacturer follows this approach in calculating the ASP for all of its reported NDCs. Using less than 12 months in the estimation methodology for lagged price concessions is consistent with our proposal for estimating lagged excluded sales described in section b. above.

(2) Redesignated NDCs

From time to time, a manufacturer may change the NDC assigned to a specific product and package size while continuing or offering price concessions that span across sales of the product under its prior and redesignated NDCs. For example, an NDC may be changed to reflect a change in the labeler code while lagged price concessions in place under the prior NDC remain in effect and carry over to the redesignated NDC. Another example would be a manufacturer that modifies its package design or other non-drug feature of the NDC and assigns a new NDC to reflect the revised packaging.

We propose to clarify in the final ASP reporting rule that, when an NDC is changed (except when a product is repackaged or relabeled by a different manufacturer or relabeler or is privately labeled) and lagged price concessions offered for the prior NDC remain in effect, the manufacturer must use 12 months (or the total number of months of sales of the prior and redesignated NDCs if the total number of months of sales is less than 12 months) of sales and price concession data from the prior and redesignated NDCs to estimate lagged price concessions applicable to the redesignated NDC. In establishing this methodology, we are relying on our authority under section 1847A(c)(5)(A) of the Act.

We seek comments on our proposed refinements to the estimation of lagged price concessions for NDCs with less than 12 months of sales and when a manufacturer redesignates the NDC assigned to a product. We also solicit suggestions for potentially clarifying these policies further.

(3) Bundled Price Concessions

We have heard a few concerns about how Medicare's ASP guidance concerning price concessions is to be applied when drugs are sold under bundling arrangements (for example, when a purchaser's price for one or more drugs is contingent upon the purchase of other drugs or items). We would like to better understand how bundling affects sales of Part B drugs and the ASP calculation, and any concerns stakeholders may have on this issue. Therefore, we are soliciting comments on a number of these issues. We note that we expect manufacturers of drugs reimbursed by Medicare Part B to comply with all applicable laws, regulations, and legal decisions including, but not limited to the Stark law, other relevant anti-kickback laws, antitrust laws, and laws governing fair trade practices. Our discussion of this issue in this proposed rule should not be construed as an endorsement or authorization of any pricing practices that contravene any laws, legal decisions, or regulations.

Thus far, we have not provided specific guidance in the ASP context on the issue of apportioning price concessions across drugs that are sold under bundling arrangements. In the absence of specific guidance, the manufacturer may make reasonable assumptions in its calculations of ASP, consistent with the general requirements and the intent of the Social Security Act, Federal regulations, and its customary business practices. Manufacturers must include assumptions in their ASP submissions. We are now considering providing guidance, through rulemaking or through program instruction or other guidance (consistent with our authority under section 1847A(c)(5)(C) of the Act) on the methodology manufacturers must use for apportioning price concessions across Part B drugs sold under bundling arrangements for purposes of the calculation of ASP. As we consider this issue, our goal is to ensure that the ASP is an accurate reflection of market prices for Part B drugs and that the treatment of bundled price concessions in the ASP calculation does not create inappropriate financial incentives.

We are soliciting comments on a number of issues, including how frequently Part B drugs are sold under bundling arrangements, the different structures of bundling arrangements that may exist (for example, the number of products included in a bundling arrangement; whether the price concessions are contingent on the purchase of only one product, the purchase of multiple products, or the inclusion of one or more products on a formulary; and the timing of the price concessions), and the extent to which sales of Part B drugs are bundled with sales of non-Part B drugs or non-drug products. We also seek comment on what effect bundling arrangements may have on the ASP calculation, on beneficiary access to high quality, appropriate care (including access to drugs that may not have clinical alternatives), and on costs to the Medicare program and beneficiaries. In addition, we seek comments on whether additional guidance on apportioning bundled price concessions for purposes of the calculation of ASP is needed and potential methodologies that Medicare could consider requiring. Furthermore, we seek comment on how variation in the structure of bundling arrangements may affect the impact of potential apportionment methodologies on the ASP calculation.

2. Clotting Factor Furnishing Fee

Section 303(e)(1) of the MMA added section 1842(o)(5) of the Act which requires the Secretary, beginning in CY 2005, to pay a furnishing fee, in an amount the Secretary determines to be appropriate, to hemophilia treatment centers and homecare companies for the items and services associated with the furnishing of blood clotting factor. Section 1842(o)(5)(C) of the Act specifies that the furnishing fee for clotting factor for years after CY 2006 and subsequent years will be equal to the fee for the previous year increased by the percentage increase in the consumer price index (CPI) for medical care for the 12 month period ending with June of the previous year. In the CY 2006 PFS final rule, we announced that, based on the percentage increase in the CPI of 4.2 percent for the 12-month period ending June 2005, the furnishing fee is $0.146 per unit clotting factor for CY 2006.

The CPI data for the 12-month period ending in June 2006 is not yet available. In the FY 2007 PFS final rule, we will include the actual figure for the percent change in the CPI for medical care for the 12-month period ending June 2006, and the updated furnishing fee for CY 2007 calculated based on that figure.

3. Widely Available Market Prices (WAMP) and AMP Threshold

Section 1847A(d)(1) of the Act states that “the Inspector General of HHS shall conduct studies, which may include surveys to determine the widely available market prices (WAMP) of drugs and biologicals to which this section applies, as the Inspector General, in consultation with the Secretary, determines to be appropriate.” Section 1847A(d)(2) of the Act states that, “Based upon such studies and other data for drugs and biologicals, the Inspector General shall compare the ASP under this section for drugs and biologicals with—

• The widely available market price (WAMP) for these drugs and biologicals (if any); and

• The average manufacturer price (AMP) (as determined under section 1927(k)(1) of the Act for such drugs and biologicals.”

Section 1847A(d)(3)(A) of the Act states that, “The Secretary may disregard the ASP for a drug or biological that exceeds the WAMP or the AMP for such drug or biological by the applicable threshold percentage (as defined in subparagraph (B)).” The applicable threshold is specified as 5 percent for CY 2005. For CY 2006 and subsequent years, section 1847A(d)(3)(B) of the Act establishes that the applicable threshold is “the percentage applied under this subparagraph subject to such adjustment as the Secretary may specify for the WAMP or the AMP, or both.” In CY 2006, we specified an applicable threshold percentage of 5 percent for both the WAMP and AMP. We based this decision on the limited data available to support a change in the current threshold percentage.

For CY 2007, we propose to specify an applicable threshold percentage of 5 percent for the WAMP and the AMP. At present, the OIG is continuing its comparison of both the WAMP and the AMP. Since, at this time we do not have data that suggest another level is more appropriate, we believe that continuing the 5 percent applicable threshold percentage for both the WAMP and AMP is appropriate.

There are a number of operational issues associated with Medicare's authority to substitute a lower payment amount for a drug if the OIG finds and informs the Secretary, at such times as the Secretary may specify, that the ASP exceeds the WAMP or AMP by more than the established threshold (currently 5 percent). We would welcome public comment on operational issues such as the timing and frequency of the ASP, AMP, and WAMP comparisons and effective date and duration of the rate substitution.

4. Payment for Drugs Furnished During CY 2006 and Subsequent Years in Connection With the Furnishing of Renal Dialysis Services if Separately Billed by Renal Dialysis Facilities

In the November 21, 2005 PFS final rule (70 FR 70116), we stated that payment for a drug furnished during CY 2006 in connection with renal dialysis services and separately billed by freestanding renal dialysis facilities and hospital-based facilities would be based on section 1847A of the Act. We intended this to mean CY 2006 and subsequent years. Therefore, in this proposed rule, we are not proposing a policy change, but rather, we are clarifying that this policy will apply to CY 2006 and subsequent years until otherwise specified.

G. Proposed Provisions Related To Payment for Renal Dialysis Services Furnished by End-Stage Renal Disease (ESRD) Facilities

[If you choose to comment on issues in this section, please include the caption “ESRD PROVISIONS” at the beginning of your comments.]

Since August 1, 1983, payment for dialysis services furnished by ESRD facilities has been based on a composite rate payment system that provides a fixed, prospectively determined amount per dialysis treatment, adjusted for geographic differences in area wage levels. In accordance with section 1881(b)(7) of the Act, separate composite rates have been established for hospital-based and independent ESRD facilities. The composite rate is designed to cover a package of goods and services needed to furnish dialysis treatments that include certain routinely provided drugs, laboratory tests, supplies, and equipment. Unless specifically included in the composite rate, other injectable drugs and laboratory tests medically necessary for the care of the dialysis patient are separately billable. The base composite rates per treatment, effective on August 1, 1983, were $123 for independent ESRD facilities and $127 for hospital-based ESRD facilities. The Congress has enacted a number of adjustments to the composite rate since that time. The current 2006 base composite rates are $130.40 for independent ESRD facilities and $134.53 for hospital-based ESRD facilities.

Section 623 of the MMA amended section 1881 of the Act to require changes to the composite rate payment methodology, as well as to the pricing methodology for separately billable drugs and biologicals furnished by ESRD facilities.

Section 1881(b)(12) of the Act, as added by MMA, required the establishment of a basic case-mix adjusted prospective payment system (PPS) that would include the services comprising the composite rate and an add-on to the composite rate component for the difference between current payments for separately billed drugs and the revised drug pricing specified in the statute. In addition, section 1881(b)(12) of the Act required that the composite rate be adjusted for a limited number of patient characteristics (case-mix) and section 1881(b)(12)(D) of the Act gave the Secretary discretion to revise the wage indices and the urban and rural definitions used to develop them. Finally, section 1881(b)(12)(E) of the Act imposed a budget neutrality requirement, so that aggregate payments under the basic case-mix adjusted composite payment system for 2005 would equal the aggregate payments that would have been made for the same period if section 1881(b)(12) of the Act did not apply.

Before January 1, 2005, payment to both independent and hospital-based facilities for the anti-anemia drug, Erythropoietin (EPO) was established pursuant to section 1881(b)(11) of the Act at $10.00 per 1,000 units. For independent ESRD facilities, payment for all other separately billable drugs and biologicals was based on the lower of actual charges or 95 percent of the average wholesale price (AWP). Hospital-based ESRD facilities were paid based on the reasonable cost methodology for separately billed drugs and biologicals (other than EPO) furnished to dialysis patients. Changes to the payment methodology for separately billed ESRD drugs and biologicals that were established by the MMA and were effective January 1, 2005 are described in sections G.1. and G.2. below. These changes affected payments in both CYs 2005 and 2006.

1. CY 2005 Revisions

On November 15, 2004, we published the CY 2005 PFS final rule with comment period (69 FR 66319 through 66334), that revised payments to ESRD facilities based on changes enacted by the MMA. The November 15, 2004 final rule with comment period implemented section 1881(b) of the Act, as amended by section 623 of the MMA. Changes effective January 1, 2005, included implementation of a case-mix adjusted payment system that incorporates services that comprise the composite rate; an update of 1.6 percent to the composite rate component of the payment system; and a drug add-on of 8.7 percent to the composite rate for the difference between current payments for separately billable drugs and payments based on the revised drug pricing for 2005 which used acquisition costs. The final rule also implemented case-mix adjustments to the composite rate for a limited number of patient characteristics (age, low body mass index (BMI), and body surface area (BSA)), effective April 1, 2005.

In addition, to implement section 1881(b)(13) of the Act, we revised payments for drugs billed separately by independent ESRD facilities, paying for the top 10 ESRD drugs based on acquisition costs (as determined by the OIG) and for other separately billed drugs at the average sales price +6 percent (hereafter referred to as ASP+6 percent). Hospital-based ESRD facilities continued to receive cost-based payments for all separately billable drugs and biologicals except for EPO which was paid based on average acquisition costs.

2. CY 2006 Revisions

In the November 21, 2005 Federal Register (70 FR 70161), we published the CY 2006 PFS final rule with comment period (70 FR 70161) implementing additional revisions to payments to ESRD facilities under section 623 of the MMA. For CY 2006, we further revised the drug payment methodology applicable to drugs furnished by ESRD facilities. All separately billed drugs and biologicals furnished by both hospital-based and independent ESRD facilities are now paid based on ASP+6 percent.

We recalculated the 2005 drug add-on adjustment to reflect the difference in payments between the pre-MMA AWP pricing and the revised pricing based on ASP+6 percent. The recalculation did not affect the actual add-on adjustment applied to payments in 2005, but provided an estimate of what the adjustment would have been had the 2006 payment methodology been in effect in 2005. The drug add-on adjustment was then updated to reflect the expected growth in expenditures for separately billable drugs in CY 2006.

As of January 1, 2006, we also implemented a revised geographic adjustment authorized by section 1881(b)(12) of the Act. As part of that change, we—

• Revised the labor market areas to incorporate the new CBSA designations established by the Office of Management and Budget (OMB);

• Eliminated the wage index ceiling and reduced the floor to .8500; and

• Revised the labor portion of the composite rate to which the geographic adjustment is applied.

We also provided a 4-year transition from the previous wage-adjusted composite rates to the current wage-adjusted rates. For CY 2006, only 25 percent of the payment is based on the revised geographic adjustments, and the remaining 75 percent of payment is based on the old Metropolitan Statistical Area-based (MSA-based) payments.

In addition, section 5106 of the DRA (Pub. L. 109-171), provided for a 1.6 percent update to the composite rate component of the basic case-mix adjusted payment system, effective January 1, 2006. As a result, the current base composite rate is $130.40 for independent ESRD facilities and $134.53 for hospital-based facilities. The drug add-on adjustment (including the growth update) for 2006 is 14.5 percent.

3. Provisions of the Proposed Rule

For CY 2007, we are proposing the following provisions which are described in more detail below:

• A method to annually calculate the growth update to the drug add-on adjustment required by section 1881(b)(12) of the Act, as well as an estimated growth update adjustment to the add-on amount of 0.6 percent for CY 2007.

• An update to the wage index adjustments to reflect the latest hospital wage data, including a budget neutrality adjustment of 1.053069 to the wage index for CY 2007.

4. Proposed Growth Update to the Drug Add-On Adjustment to the Composite Rates

Section 623(d) of the MMA added section 1881(b)(12)(B)(ii) of the Act which required the establishment of an add-on to the composite rate to account for changes in the drug payment methodology stemming from enactment of the MMA. Section 1881(b)(12)(C) of the Act provides that the drug add-on must reflect the difference in aggregate payments between the revised drug payment methodology for separately billable ESRD drugs (acquisition costs in CY 2005; ASP+6 percent in CY 2006) and the AWP payment methodology in effect in CY 2004.

In addition, section 1881(b)(12)(F) of the Act requires that, beginning in CY 2006, we establish an annual update to the drug add-on to reflect estimated growth in expenditures for separately billable drugs and biologicals furnished by ESRD facilities. This growth update applies only to the drug add-on portion of the case-mix adjusted payment system.

The CY 2006 drug add-on adjustment to the composite rate is 14.5 percent. The drug add-on adjustment for CY 2006 incorporates an inflation adjustment of 1.4 percent. This computation is explained in detail in the CY 2006 PFS final rule with comment period (70 FR 70162). We note that the drug add-on adjustment of 14.7 percent that was published in November 21, 2005 PFS final rule with comment period did not account for the 1.6 percent update to the composite rate portion of the basic case-mix adjustment payment system that was subsequently enacted by the DRA, effective January 1, 2006. Since we compute the drug add-on adjustment as a percentage of the weighted average base composite rate, the drug add-on percentage was decreased to account for the higher composite payment rate resulting in a 14.5 percent add-on adjustment for CY 2006. This adjustment was necessary to ensure that the total drug add-on dollars remained constant.

a. Estimating Growth in Expenditures for Drugs and Biologicals for CY 2007

In developing the growth update to the drug add-on for CY 2006 we conducted a trend analysis of prior years’ ESRD drug expenditure data (2001 through 2004). All 4 years of data used for the trend analysis reflected expenditures associated with payment for separately billed drugs and biologicals under the AWP methodology. We could, therefore, develop growth estimates for CY 2006 using comparable historical expenditure data. To extend the trend analysis for CY 2007, we would need to include drug expenditure data from CY 2005. However, in CY 2005, section 1881(b)(13)(A)(ii) of the Act required that we use a different drug payment methodology, based on average acquisition costs, rather than the AWP methodology used in prior years. Therefore, ESRD drug expenditure data for CY 2005 are not comparable to expenditure data for CY 2001 through CY 2004 for trend analysis purposes. This data issue will extend to subsequent years’ data as well, as we are now paying for separately billable drugs using ASP+6 percent. Because we do not have comparable data on which to base continuing trend analysis, we believe it is necessary to re-evaluate our methodology for updating the drug add-on adjustment.

In order to address the issue of data comparability described above, we considered using available drug proxy measures to predict growth in ESRD drug expenditures for CY 2007. We note that section 1881(b)(12)(F) of the Act specifies that the drug update must reflect “the estimated growth in expenditures for drugs and biologicals that are separately billable * * *.” By referring to “expenditures”, we believe the statute contemplates that the update would account for both increases in drug prices as well as increases in utilization of those drugs.

One available proxy measure that reflects both price and utilization is the national health expenditure projection for prescription drugs that is developed by CMS. However, because of uncertainties regarding the impact of the Medicare Part D prescription drug program on expenditures, we are concerned that the current estimates for CY 2007 will likely change, as actual Part D expenditure data become available. Therefore, we do not believe this measure would be an appropriate proxy measure for this purpose.

Another widely recognized proxy measure is the producer price index (PPI) for prescription drugs. The PPI is a good measure of drug pricing growth, but does not capture the growth in per patient drug utilization that must also be part of an accurate estimate of growth in ESRD drug expenditures. However, if the PPI is used in conjunction with an estimate of per patient growth in drug utilization, we believe this measure would provide a simple and accurate approach to updating the drug add-on that could be readily used in subsequent years. Moreover, using the PPI would significantly reduce any data bias that is inherent in using historical drug expenditure data that do not reflect current drug payment methodologies. As discussed in detail below, we are proposing to estimate growth in per patient utilization of drugs by using historical data from 2004 and 2005.

Another approach to estimating the growth in ESRD drug expenditures is to continue using historical trend analysis by making adjustments to the available data to permit year to year comparisons. This would be accomplished by making an adjustment to the CY 2005 data based on average acquisition price (AAP) using the weighted average difference between AWP prices and AAP prices. We would use trend analysis to project the growth in drug expenditures for CY 2007.

While we believe this approach is reasonably accurate for developing the CY 2007 growth estimates, since only one year of data would require adjustment, we are concerned about applying this methodology to future updates. Future year updates would require multiple year to year adjustments in prices. Moreover, historical AWP data does not provide an accurate measure of price changes for EPO under the revised drug payment methodology, since EPO pricing was held constant during that historical period.

In addition, our estimate of the weighted average difference between AAP prices and AWP prices (and ASP versus AWP prices in CY 2006) was based on a projection of price levels. It is likely that the weighted average difference would change based on actual pricing data for each of those years. To be consistent with the statute, we expect to update the established adjustment to reflect estimated growth in drug expenditures, but we do not anticipate re-computing the drug add-on adjustment annually. Adjusting our assumptions to estimate projected growth without changing the underlying assumptions in the add-on adjustment would create inconsistencies between the two elements. Therefore, we are proposing to discontinue use of older historical drug spending data to estimate the growth update to the drug add-on adjustment. We will reconsider our methodology when we have sufficient historical data reflecting the revised drug payment methodology using ASP pricing.

For the reasons discussed above, we are proposing to develop an estimate of the growth in expenditures for ESRD drugs and biologicals using the PPI for prescription drugs as a measure of price increases in conjunction with two years of historical data from 2004 and 2005 as a basis for estimating utilization growth at the per patient level. We believe that this approach will best reflect the estimated growth in expenditures for ESRD drugs and biologicals.

b. Estimating Growth in Per Patient Drug Utilization

To isolate and project the growth in per patient utilization of ESRD drugs for CY 2007, we need to remove the enrollment and price growth components from historical drug expenditure data and consider the residual utilization growth. We propose to use total drug expenditure data from CYs 2004 and 2005 to estimate per patient utilization growth for CY 2007.

We first needed to estimate total drug expenditures. For this proposed rule, we used the final CY 2004 ESRD claims data and the latest available CY 2005 ESRD facility claims, updated through December 31, 2005, that is, claims with dates of service from January 1 through December 31, 2005, that were received, processed, paid, and passed to the National Claims History File as of December 31, 2005. For the final rule, we will use more updated CY 2005 claims with dates of service for the same time period. This updated CY 2005 data file will include claims that are received, processed, paid, and passed to the National Claims History File as of June 30, 2006.

While the December 2005 update of CY 2005 claims used in this proposed rule is the most recently available claims data, we recognize that it is not a fully complete year as claims with dates of service towards the end of the year have not all been processed. To more accurately estimate the update to the drug add-on, we need aggregate drug expenditures. Based on an analysis of the 2004 claims data, we inflated the CY 2005 drug expenditures to estimate the June 30, 2006 update of the 2005 claims file. We used the relationship between the December 2004 and the June 2005 versions of 2004 claims to estimate the more complete 2005 claims that will be available in June 2006. We applied that ratio to the 2005 claims data from the December 2005 claims file. We did this for drug expenditures in aggregate, for each of top ten separately billable drugs, and within each for independent and hospital-based ESRD facilities. All components were then combined to estimate aggregate CY 2005 ESRD drug expenditures. The net adjustment to the CY 2005 claims data was an increase of 13 percent to the 2005 expenditure data. This adjustment allows us to more accurately compare the 2004 and 2005 data, to estimate utilization growth.

The next step is to remove the enrollment and price growth components from that total. As discussed earlier in this section, in developing the per patient utilization growth for this proposed rule, we limited our analysis to the latest 2 years of available ESRD drug data, that is, 2004 and 2005. We believe that per patient utilization growth between these years would be a better proxy for future growth, as it best represents current utilization trends. Furthermore, because of the implementation of the new EPO utilization monitoring policy that took effect on April 1, 2006 (Medicare Claims Processing Manual, Chapter 8, section 60-4ff, p. 51-53), we believe that per patient utilization of ESRD drugs will remain relatively stable or decline slightly in future years. We note that EPO accounts for nearly 70 percent of ESRD drug expenditures.

To calculate the per patient utilization growth, we removed the enrollment component by using the growth in enrollment data between 2004 and 2005. This was approximately 3 percent. To remove the price effect we used a two-step process. First we calculated a weighted average between EPO and non-EPO price growth factors to account for the growth in pre-MMA pricing between 2004 and 2005. Since EPO was priced at $10 per thousand units prior to the enactment of the MMA, there is no growth for EPO. For the non-EPO drugs, we used the PPI as a proxy for the growth between the 2 years to maintain consistency with the established methodology for calculating the drug add-on adjustment which used the PPI to estimate the price growth in separately billable drugs (November 15, 2004, CY 2005 PFS final rule with comment period, 69 FR 66321). Next, we incorporated the estimated negative 13 percent weighted price difference between 2005 AWP and 2005 AAP pricing as was published in the CY 2005 PFS final rule with comment period (69 FR 66319 through 66334). This two-step process to account for the price effect from 2004 to 2005 led to an overall 12 percent reduction in price between 2004 and 2005.

After removing the enrollment and price effects from the expenditure data, we believe the residual growth would reflect the per patient utilization growth. To do this, we divided the product of the enrollment growth of 3 percent (1.03) and the price reduction of 12 percent (1.00 − .12 = .88) into the total drug expenditure decrease between 2004 and 2005 of 9 percent (1.00−.09 = .91). The result is a utilization factor equal to 1.00 (.91/(1.03 * .88) = 1.00).

As we observed no growth in per patient utilization of drugs between 2004 and 2005, we are, therefore, projecting no growth in per patient utilization for CY 2007.

1. Applying the Proposed Growth Update to the Drug Add-on Adjustment

In CY 2006, we estimated the growth update by trending drug expenditures forward based on four years of AWP payment data (CY 2001 through CY 2004). We then applied the estimated growth update percentage to the total amount of drug add-on dollars established for CY 2005 to come up with a dollar amount for the CY 2006 growth update. In addition, we projected the growth in dialysis treatments for CY 2006 based on the projected growth in ESRD enrollment. We divided the projected total dialysis treatments for CY 2006 into the projected dollar amount of the CY 2006 growth to develop the per treatment growth update amount. This growth update amount, combined with the CY 2005 per treatment drug add-on amount, resulted in an average drug add-on amount per treatment of $18.88 (or a 14.5 percent adjustment to the composite rate) for CY 2006.

Beginning in CY 2007, we are proposing to annually update the per treatment drug add-on amount of $18.88 established in CY 2006 and convert the update to an adjustment factor as stipulated in section 1881(b)(12)(F) of the Act. As explained above, we believe this approach is more accurate than recalculating the per treatment add-on adjustment each year using an estimate of growth in treatments. We note that we had received comments that our projections of treatment growth used to calculate the CY 2006 adjustment may have been overstated, however, we believe that the use of enrollment data was and remains the best measure available to predict treatment growth. By proposing to apply the update to the CY 2006 per treatment add-on amount, this estimation component is eliminated for CY 2007 and future years.

2. Proposed Update to the Drug Add-On Adjustment

As discussed above, we estimate no growth in per patient utilization of ESRD drugs for CY 2007. Using the projected CY 2007 PPI for prescription drugs of 4.9 percent, we are projecting that the combined growth in per patient utilization and pricing for CY 2007 would result in an update equal to the PPI or 4.9 percent (1.0*1.049 = 1.049). This update factor would be applied to the CY 2006 average per treatment drug add-on amount of $18.88 (reflecting a 14.5 percent adjustment in CY 2006), resulting in a proposed weighted average increase to the composite rate of $.93 for CY 2007 or a 0.6 percent increase in the CY 2006 drug add-on percentage. Thus, the total proposed drug add-on adjustment to the composite rate for CY 2007, including the growth update, would be 15.2 percent (1.145*1.006 = 1.152).

In addition, we are proposing to continue to use this method to estimate the growth update to the drug add-on component of the case-mix adjusted payment system until we have at least three years worth of ASP-based historical drug expenditure data that could be used to conduct a trend analysis to estimate the growth in drug expenditures. Given the time lag in the availability of ASP drug expenditure data, we expect that the earliest we could consider using trend analysis to update the drug add-on adjustment would be 2010. We propose to reevaluate our methodology for estimating the growth update at that time.

c. OIG Report on New Drug Codes

Section 623(c)(1) of the MMA mandated that the OIG conduct two studies to determine the difference between the Medicare payment amount for separately billable ESRD drugs and the facilities” acquisition costs for these drugs, as well as estimating the growth rate of expenditures for these drugs. The initial study, “Medicare Reimbursement for Existing End Stage Renal Disease Drugs” (OEI-03-04-00120) was completed in May 2004, and reported on existing ESRD drugs. This report was used to set the CY 2005 reimbursement rates for ESRD drugs billed by independent dialysis facilities (69 FR 66322). The second study (“Medicare Reimbursement for New ESRD Drugs” (OEI-03-06-00200)) focused on new drugs. New drugs for the purpose of this study were defined as an ESRD drug that did not have a BILLING CODE prior to January 1, 2004.

One drug, darbepoetin alfa (Aranesp) accounted for the majority of all payments for new drugs. Therefore, this was the only new ESRD drug studied. The OIG report found that use of this drug was limited to a small number of facilities (only 157 facilities reported using this drug with concentrated use in approximately 55 of these facilities). Because of the recent changes we made to the drug payment methodology and the lack of comparable historical data, the OIG report made no estimate of an expenditure growth rate for this drug.

Darbepoetin alfa (Aranesp) is currently paid as a separately billable drug at ASP+6 percent. Because of the recent (CY 2006) implementation of the ASP+6 percent drug reimbursement methodology, the small number of facilities using this drug for ESRD patients, and the lack of historical data for trending purposes, we have no data to indicate that any difference in payment methods for Aranesp (between 2004 and 2006) would affect our calculation of the drug add-on or of the growth update. Moreover, since Aranesp was approved in 2001 for use in ESRD patients, we believe that expenditures for Aranesp were reflected in the historical data used to establish the 2005 drug add-on under a generic drug code. Therefore, we are proposing to make no additional changes to the drug add-on adjustment for CY 2007.

5. Proposed Update to the Geographic Adjustments to the Composite Rates

Section 1881(b)(12)(D) of the Act, as amended by section 623(d) of the MMA, gave the Secretary the authority to revise the wage indexes previously applied to the ESRD composite rates. The wage indexes are calculated for each urban and rural area. The purpose of the wage index is to adjust the composite rates for differing wage levels covering the areas in which ESRD facilities are located.

a. Updates to CBSA Definitions

In the CY 2006 PFS final rule with comment period (70 FR 70167), we announced our adoption of the OMB's CBSA-based geographic area designations to develop revised urban/rural definitions and corresponding wage index values for purposes of calculating ESRD composite rates. OMB's CBSA-based geographic area designations were described in Bulletin 03-04 originally issued June 6, 2003. On February 22, 2005 and December 5, 2005, OMB released Bulletins 05-02 and 06-01, respectively. Those bulletins contained updates to the metropolitan and micropolitan statistical area designations initially announced in Bulletin 03-04. OMB's revisions had no effect on the classification of counties which comprise the urban and rural areas used to develop the ESRD wage index values. However, Bulletins 05-02 and 06-01 changed the titles of several of the MSAs and Metropolitan Divisions used in connection with the ESRD urban wage index. Table 5 below, which contains the proposed wage index values for the ESRD urban areas, includes all of the changes announced by OMB in the February 22, 2005 and December 5, 2005 bulletins.

b. Updated Wage Index Values

In the CY 2006 PFS final rule with comment period, we stated that we intended to update the wage index values annually (70 FR 70167). Current ESRD wage index values for CY 2006 were developed from FY 2002 wage and employment data obtained from the Medicare hospital cost reports. The values are calculated without regard to geographic reclassifications authorized under sections 1886(d)(8) and (d)(10) of the Act and utilize pre-floor hospital data that is unadjusted for occupational mix.

The methodology for calculating the CY 2006 wage index values was described in the CY 2006 PFS final rule with comment period (70 FR 70168). We propose to use the same methodology for CY 2007, with the exception that FY 2003 hospital data will be used to develop the CY 2007 ESRD wage index values. For a detailed description of the development of the proposed CY 2007 ESRD wage index values based on FY 2003 hospital data, see the FY 2007 IPPS proposed rule entitled, “Proposed Changes to the Hospital Inpatient Prospective Payment Systems and Fiscal Year 2007 Rates,” (April 25, 2006, 71 FR 24080). Section III F. (Computation of the Proposed FY 2007 Unadjusted Wage Index) of the preamble to that proposed rule describes the cost report schedules, line items, data elements, adjustments, and wage index computations. The wage index data affecting ESRD composite rates for each urban and rural locale may also be accessed on the CMS website at: http://www.cms.hhs.gov/AcuteInpatientPPS/WIFN/list.asp.

The wage data are located in the section entitled, “FY 2007 Proposed Rule Occupational Mix Adjusted and Unadjusted Average Hourly Wage and Pre-reclassified Wage Index by CBSA”.

(1) Wage Index Values for Areas With No Hospital Data

In CY 2006, while adopting the CBSA designations, we identified a small number of ESRD facilities in both urban and rural geographic areas where there is no hospital wage data on which to base the calculations of the CY 2006 ESRD wage index values. Our CY 2005 policy and CY 2006 proposal for each area are discussed separately below.

The first situation was rural Massachusetts. Because there were no reasonable proxies for rural data within Massachusetts, we used the prior year's acute care hospital wage index value for rural Massachusetts. For CY 2007, we propose to continue to use this value and request public input on an alternative methodology.

Since there may be additional rural areas in the future similarly impacted by a lack of hospital wage data on which to derive a hospital wage index, we are considering alternative methodologies for imputing a rural wage index for areas in States where no hospital wage data are available. We believe that an evaluation of alternative methodologies for imputing a rural wage index in these areas should adhere to four basic policy criteria. First, an alternative methodology should retain our current longstanding policy to use pre-floor, pre-reclassified hospital wage data to compute wage index values for post acute care facilities, including ESRD facilities. Second, any methodology to impute a rural wage index should use rural wage data to derive the rural wage index value. Third, any methodology to impute a rural wage index should be easy to evaluate. Fourth, any methodology to impute a rural wage index would be able to update wage data from year-to-year.

We arrived at one alternative that meets all of the above policy criteria. Under this alternative, we would impute a rural wage index value by using a simple average CBSA-based rural wage index value at the Census Division level. Census Divisions are defined by the U.S. Census Bureau and may be found at (www.census.gov/geo/www/us_regdiv.pdf). As stated above, for CY 2007, hospital wage data are not available to compute a rural wage index for ESRD facilities in rural Massachusetts, and this alternative methodology could be applied in this case. Massachusetts is located in Census Division I (New England). The States in this Census Division, and their respective rural wage index values (using hospital cost report wage data for FY 2003) include—

• Connecticut (1.1753);

• Maine (0.8410);

• New Hampshire (1.0800);

• Vermont (0.9944)

• Rhode Island (all five counties classified as urban); and

• Massachusetts.

Under this alternative methodology, the States in Census Division I for which rural wage index values are available, as shown above, would be used; this would result in a simple average rural wage index value of 1.0227 (1.0770 after applying budget neutrality factor (BNF)). Although this methodology would result in a rural Massachusetts wage index that is currently greater than the value under the current proposed policy (1.0216, 1.0758 after applying BNF), we believe this methodology may be able to accurately reflect future increases or decreases of wage data for the States within the applicable Census Division.

Rural Puerto Rico is similar to rural Massachusetts in that there are ESRD facilities where there are no acute care hospitals and, therefore, no hospital data. However, the situation for facilities in rural Puerto Rico is different in that the floor would be applied to rural Puerto Rico ESRD facilities. All areas in Puerto Rico that have an index are eligible for the floor because they have wage-index values that are below .8000. For CY 2007, we propose to apply the floor to rural Puerto Rico.

The third situation involves an urban area in Hinesville, GA (CBSA 25980). For CY 2006, we used a wage index value based on wage index values in all of the other urban areas within the same State to serve as a reasonable proxy for the urban areas without hospital wage index data. Specifically, we used the average wage index value for all urban areas within the State of Georgia as the urban wage index for purposes of calculating the value for Hinesville for CY 2006. For CY 2007, we are proposing to continue using this method for Hinesville, GA (CBSA 25980).

We solicit comments on maintaining our current policy for establishing wage index values for rural and urban areas without hospitals, the alternative approach outlined above in developing wage index values for rural areas without hospitals for CY 2007 and subsequent years, and other methods that meet the policy criteria for imputing wage index values. We will also continue to evaluate existing hospital wage data and, possibly, wage data from other sources, such as the Bureau of Labor Statistics, to determine if other methodologies of imputing a wage index value where hospital wage data are not available may be feasible.

(2) Second Year of the Transition

In the CY 2006 PFS final rule with comment period, we indicated that we would apply a 4-year transition period to mitigate the impact on composite rates resulting from our adoption of CBSA-based geographic designations (70 FR 70169). Beginning January 1, 2006, during each year of the transition, an ESRD facility's wage-adjusted composite rate (that is, without regard to any case-mix adjustments) will be a blend of its old MSA-based wage-adjusted payment rate and its new CBSA-based wage adjusted payment rate for the transition year involved. For each transition year, the share of the blended wage-adjusted base payment rate that is derived from the MSA-based and CBSA-based wage index values is shown in Table 4 below. In CY 2006, the first year of the transition, we implemented a 75/25 blend. CY 2007 is the second year of the 4-year transition period. Consistent with the transition blends announced in the November 21, 2005 PFS final rule with comment period (70 FR 70170), we are proposing a 50/50 blend between an ESRD facility's MSA-based composite rate, and its CY 2007 CBSA-based rate reflecting its revised wage index values.

In CY 2006, we also eliminated the wage index cap of 1.30, and stated that we would implement a gradual reduction in the wage index floor of .90. Prior to January 1, 2006, the wage indexes were restricted to values no less than .90 and no greater than 1.30, meaning that payments to facilities in areas where labor costs fell below 90 percent of the national average, or exceeded 130 percent of that average, were not adjusted beyond the 90 percent or 130 percent level. Although we stated that the ESRD wage index values should not be constrained by the application of floors and ceilings, we also expressed concern that the immediate elimination of the floor could adversely affect ESRD beneficiary access to care. Therefore, we reduced the floor to .85 in CY 2006.

For CY 2007, we are proposing to reduce the wage index floor to .80. As we stated in the CY 2006 PFS final rule with comment period, we intend to reassess the continuing need for a wage index floor in CY 2008 and CY 2009 (CY 2006 PFS final rule with comment period, November 21, 2005, 70 FR 70169 through 70170). The proposed wage index floors, caps, and blended shares of the composite rates applicable to all ESRD facilities during CYs 2007 through 2009 are shown in Table 4 below. They are identical to the values shown in Table 20 of the CY 2006 PFS final rule with comment period (70 FR 70170) for the applicable years.

Table 4.—Wage Index Transition Blend
CY payment | Floor | Ceiling | Old MSA (percent) | New CBSA (percent)
2007 | .80 * | None | 50 | 50
2008 | Reassess | None | 25 | 75
2009 | Reassess | None | 0 | 100
* Each wage index floor is multiplied by a budget neutrality adjustment factor. For CY 2007 the budget neutrality adjustment is 1.053069 resulting in an actual wage index floor of 0.8425.

An example of how the wage-adjusted composite rates would be blended during CY 2007 and the two subsequent transition years follows.

Example: An ESRD facility has a wage-adjusted composite rate (without regard to any case-mix adjustments) of $135.00 per treatment in CY 2006. Using CBSA-based geographic area designations, the facility's CY 2007 wage-adjusted composite rate, reflecting its wage index value as shown in Table 5 below, would be $145.00. During the remaining 3 years of the four-year transition period to the new CBSA-based wage index values, this facility's blended rate through 2009 would be calculated as follows:

CY 2007 .50 × $135.00 + .50 × $145.00 = $140.00

CY 2008 .25 × $135.00 + .75 × $145.00 = $142.50

CY 2009 0 × $135.00 + 1.0 × $145.00 = $145.00

We note that this hypothetical example assumes that the calculated wage-adjusted composite rate of $145.00 for CY 2007 does not change in CYs 2008 and 2009. In actuality, the wage-adjusted composite rate would change because of annual revisions to the wage index. However, the example serves only to demonstrate the effect on the composite rate of the CBSA-based wage index values which will be phased-in during the remaining 3 years of the transition period.

c. Budget Neutrality Adjustment

Section 1881(b)(12)(E)(i) of the Act, as added by section 623(d) of the MMA, requires that any revisions to the ESRD composite rate payment system as a result of the MMA provision (including the geographic adjustment) be made in a budget neutral manner. This means that aggregate payments to ESRD facilities in CY 2007 should be the same as aggregate payments that would have been made if we had not made any changes to the geographic adjusters. We note that this budget neutrality adjustment only addresses the impact of changes in the geographic adjustments. A separate budget neutrality adjustment was developed for the case-mix adjustments, currently in effect. Since we are not proposing any changes to the case-mix measures for CY 2007, the current case-mix budget neutrality will remain in effect for CY 2007. For CY 2007, we again propose to apply a BNF directly to the ESRD wage index values, as we did in CY 2006. As we explained in the CY 2006 PFS final rule with comment period (70 FR 70170 through 70171), we believe this is the simplest approach because it allows us to maintain our base composite rates during the transition from the current wage adjustments to the revised wage adjustments described earlier in this section. Because the ESRD wage index is only applied to the labor-related portion of the composite rate, we computed the BNF adjustment based on that proportion (53.711 percent).

In order to compute the proposed CY 2007 wage index BNF, we used the wage index values in Tables 5 and 6 below, 2005 outpatient claims (paid and processed as of December 31, 2005), and geographic location information for each facility which may be found through Dialysis Facility Compare. Dialysis Facility Compare can be found by going to the following Web site: http://www.cms.hhs.gov/DialysisFacilityCompare/.

Using treatment counts from the 2005 claims and facility-specific CY 2006 composite rates, we computed the estimated total dollar amount each ESRD provider would have received in CY 2006 (the first year of the 4-year transition). The total of these payments became the target amount of expenditures for all ESRD facilities for CY 2007. Next, we computed the estimated dollar amount that would have been paid to the same ESRD facilities using the proposed ESRD wage index for CY 2007 (the second year of the 4-year transition). The total of these payments became the second year new amount of wage-adjusted composite rate expenditures for all ESRD facilities.

After comparing these two dollar amounts (target amount divided by second year new amount), we calculated an adjustment factor that, when multiplied by the applicable CY 2007 ESRD wage index shown in Tables 5 and 6 below, will result in payments to each facility that will remain within the target amount of composite rate expenditures when totaled for all ESRD facilities. The proposed budget neutrality adjustment factor for the CY 2007 wage index is 1.053069.

To ensure budget neutrality we also must apply the BNF to the wage index floor of 0.8000 which results in a proposed adjusted wage index floor of 0.8425 for CY 2007.

d. ESRD Wage Index Tables

The following two tables show the proposed CY 2007 ESRD wage index, including the BNF adjustment, for urban areas (Table 5) and rural areas (Table 6).

BILLING CODE 4120-01-P

BILLING CODE 4120-01-C

Table 6.—Proposed CY 2007 ESRD Wage Index for Rural Areas Based on CBSA Labor Market Areas
CBSA code | Nonurban area | Wage index
1 | Alabama | 0.8425
2 | Alaska | 1.1247
3 | Arizona | 0.9398
4 | Arkansas | 0.8425
5 | California | 1.1902
6 | Colorado | 0.9838
7 | Connecticut | 1.2377
8 | Delaware | 1.0239
10 | Florida | 0.9051
11 | Georgia | 0.8425
12 | Hawaii | 1.1022
13 | Idaho | 0.8566
14 | Illinois | 0.8769
15 | Indiana | 0.8927
16 | Iowa | 0.9159
17 | Kansas | 0.8425
18 | Kentucky | 0.8425
19 | Louisiana | 0.8425
20 | Maine | 0.8856
21 | Maryland | 0.9417
22 | Massachusetts | 1.0758
23 | Michigan | 0.9532
24 | Minnesota | 0.9653
25 | Mississippi | 0.8425
26 | Missouri | 0.8425
27 | Montana | 0.9062
28 | Nebraska | 0.9154
29 | Nevada | 0.9435
30 | New Hampshire | 1.1373
31 | ¹ New Jersey |
32 | New Mexico | 0.8790
33 | New York | 0.8688
34 | North Carolina | 0.9055
35 | North Dakota | 0.8425
36 | Ohio | 0.9134
37 | Oklahoma | 0.8425
38 | Oregon | 1.0288
39 | Pennsylvania | 0.8774
41 | ¹ Rhode Island |
42 | South Carolina | 0.8425
43 | South Dakota | 0.9038
44 | Tennessee | 0.8425
45 | Texas | 0.8425
46 | Utah | 0.8587
47 | Vermont | 1.0472
48 | Virgin Islands | 0.8425
49 | Virginia | 0.8425
50 | Washington | 1.0827
51 | West Virginia | 0.8425
52 | Wisconsin | 0.9970
53 | Wyoming | 0.9805
¹ All counties in the States of New Jersey and Rhode Island are urban.

H. Private Contracts and Opt-Out Provision—Practitioner Definition

[If you choose to comment on issues in this section, please include the caption “PRIVATE CONTRACTS AND OPT-OUT” at the beginning of your comments.]

Section 4507 of the BBA of 1997 amended section 1802 of the Act to permit certain physicians and practitioners to opt-out of Medicare if certain conditions were met, and to provide through private contracts services that would otherwise be covered by Medicare. Before enactment of BIPA (Pub.L. 106-554), section 1802(b)(5)(C) of the Act, which refers to the definition of “practitioner” at section 1842(b)(18)(C) of the Act, did not include registered dietitians or nutrition professionals among the practitioners who may choose to opt-out of Medicare. Section 105(d) of BIPA amended the definition of practitioner located at section 1842(b)(18)(c) of the Act to include registered dietitians or nutrition professionals. Because section 1802(b)(5)(C) of the Act references section 1842(b)(18)(c) of the Act in order to define the term practitioner for purposes of opting out of Medicare, current law permits registered dietitians or nutrition professionals to opt-out of Medicare. Because the definition of practitioner located in the current regulations at § 405.400 does not include registered dietitians or nutrition professionals, we are proposing to amend that section so that it is consistent with section 1802(b)(5)(C) of the Act.

I. Proposed Changes to Reassignment and Physician Self-Referral Rules Relating to Diagnostic Tests

[If you choose to comment on issues in this section, please include the caption “REASSIGNMENT AND PHYSICIAN SELF-REFERRAL” at the beginning of your comments.]

Historically, Medicare rules have prohibited the markup of the TC of certain diagnostic tests that are performed by outside suppliers and billed to Medicare by a different individual or entity. In addition, Medicare rules restrict who may bill Medicare for the PC (hereafter, also referred to as the “interpretation”) of diagnostic tests. Recent changes to our rules on reassignment of the right to receive Medicare payment may have led to some confusion as to whether the anti-markup and purchased interpretation requirements apply to certain situations where a reassignment has occurred pursuant to a contractual arrangement.

Likewise, we are concerned about the existence of certain arrangements that are not within the intended purpose of our physician self-referral rules, which allow physician group practices to bill for services furnished by a contractor physician in a “centralized building.” We are concerned that allowing physician group practices or other suppliers to purchase or otherwise contract for the provision of diagnostic tests and then to realize a profit when billing Medicare may lead to patient and program abuse in the form of overutilization of services and result in higher costs to the Medicare program.

Therefore, we are proposing to amend our reassignment regulations to clarify how the purchased test and purchased test interpretation rules apply in the case of a reassignment made under the contractual arrangement exception set forth at § 424.80(d)(2). Specifically, in our reassignment regulations, we propose to incorporate provisions similar to those that currently appear in § 414.50 of our regulations on purchased tests, and we are considering incorporating provisions on purchased test interpretations that currently appear in our manual instructions. In addition, we are proposing to change the definition of “centralized building” at § 411.351 of the physician self-referral regulations to place certain restrictions on what types of space ownership or leasing arrangements will qualify for purposes of the physician self-referral in-office ancillary services exception and physician services exception.

Our proposals regarding the reassignment regulations are based on existing requirements for purchased tests and purchased test interpretations. Section 1842(n) of the Act contains certain limitations on billing for the TC of diagnostic tests described in section 1861(s)(3) of the Act (other than clinical diagnostic laboratory tests paid under section 1833(a)(2)(D) of the Act, which are subject to the special rules set forth in section 1833(h)(5)(A) of the Act). Section 1842(n)(1)(A) of the Act provides that if the test was not performed by the billing physician and also was not performed or supervised by a physician with whom the billing physician shares a practice, Medicare payment is the lower of the costs (net of any discount) charged by the performing supplier to the billing physician, or the performing supplier's reasonable charge (or other applicable limit). This is commonly known as the anti-markup provision. Section 1842(n)(2) of the Act further provides that a physician may not bill a beneficiary any amount other than the amount specified in section 1842(n)(1)(A) of the Act and any applicable deductible and coinsurance. Under section 1842(n)(3) of the Act, if a physician knowingly, willfully, and repeatedly bills a Medicare beneficiary for more than the amount allowed under section 1842(n)(2) of the Act, he or she is subject to civil monetary penalties and assessments, and exclusion from Medicare and Medicaid for up to 5 years. Our regulations implementing section 1842(n) of the Act appear at § 414.50 and § 402.1(c)(15).

In addition, our Claims Processing Manual (Pub. 100-4) outlines certain conditions regarding who can submit a claim for purchased diagnostic test intepretations. As set forth in Chapter 1, Section 30.2.9.1 of the Claims Processing Manual, the following requirements must be satisfied in order to submit a claim for a purchased diagnostic test interpretation:

• The test must be ordered by a physician or medical group that is independent of the person or entity performing the TC of the test, and also must be independent of the physician or medical group performing the interpretations.

• The physician or medical group performing the interpretations does not see the patient.

• The purchaser (or employee, partner, or owner of the purchaser) performs the TC of the test, and the interpreting physician must be enrolled in the Medicare program.

Section 1842(b)(6) of the Act generally prohibits Medicare payment to anyone other than the Medicare beneficiary or the physician or other person who performed the service for the beneficiary. However, section 1842(b)(6) of the Act, also provides exceptions, known as the reassignment exceptions, to this general rule. These exceptions allow us to make payment to an individual or an entity other than the beneficiary or the physician or other person who performed the service for the beneficiary. For example, the reassignment exceptions allow us to make payment to an employer of a physician, such as a group practice or a hospital, to which the physician employee has reassigned his or her right to payment.

Prior to the MMA, a physician or other individual supplier could reassign his or her right to bill and receive payment under a contractual arrangement, rather than an employee-employer relationship, only if the services being paid for were performed on the premises of the contracting hospital, critical access hospital, clinic, or other facility. Section 952 of the MMA, however, amended section 1842(b)(6)(A)(ii) of the Act to extend the reassignment exception to contractual arrangements regardless of whether the services are performed on the premises of the billing entity. Section 952 of the MMA permits us to recognize this type of reassignment to the extent that the contractual arrangement between the physician or other individual supplier and the billing entity (excluding a billing agent, which cannot receive reassigned benefits) meets program integrity and other safeguards as the Secretary may determine to be appropriate. A motivating factor behind the passage of section 952 of the MMA appears to have been the desire by the Congress to permit us to allow hospital emergency department staffing companies that employ physicians on a contract basis to bill Medicare (if the staffing companies enroll in Medicare).

Our proposed implementation of section 952 of the MMA appeared in the Revisions to Payment Policies Under the Physician Fee Schedule for Calendar Year 2005 proposed rule, 69 FR 47488, 47524 through 47525 (August 5, 2004). We proposed program safeguards, whereby the parties to the contractual arrangement would have joint and several liability for any Medicare overpayments, and the physician or other individual supplier would have unrestricted access to billings submitted on his or her behalf by the entity receiving reassigned payments. In that proposed rule, we stated our awareness that the changes to the reassignment rules authorized by section 952 of the MMA may create new fraud and abuse vulnerabilities, which may not become apparent until the program has experience with new contractual arrangements. We solicited comments on these potential program vulnerabilities and on possible additional safeguards to protect against such vulnerabilities.

Comments submitted in response to the CY 2005 PFS proposed rule expressed concern over the recent growth of “pod” or “condo” laboratories (hereinafter “pod labs”). In a typical pod lab arrangement involving pathology services, an entity leases space in a medical building and then subdivides the space into separate areas or cubicles, which are equipped with microscopes and a minimal amount of other laboratory equipment. The entity subleases each space to a physician group practice, even though the space may be located many miles away from any medical office of the group practice and is often located in a different state. The entity hires a histologist who performs the TC of the pathology service, by preparing a microscopic slide of each specimen for review by a pathologist. The entity also makes arrangements with a pathologist, who performs the PC of the pathology service and who also supervises the pod lab.

In one type of arrangement, the pathologist and histologist perform their services for the different group practices by moving from cubicle to cubicle. Each group practice pays the pathologist a fee for every slide reviewed and pays the entity a management fee, which covers the rental of the pod lab and the histologist's salary. The group practice then bills Medicare for the entire pathology service, typically at a markup from what the group practice paid the pathologist for the professional service and the entity for its services. In another common arrangement, the histologist performs the TC of the pathology service for the entity and the entity bills Medicare for that service, while the group practice bills for the interpretation that was performed by its independent contractor pathologist, who has reassigned to the group practice his or her right to receive Medicare payment.

The commenters stated that pod lab arrangements are subject to fraud, waste and abuse, including, but not limited to the following:

• Generation of medically unnecessary biopsies.

• Kickbacks.

• Fee-splitting.

• Referrals that would otherwise be prohibited under the physician self-referral statute.

The commenters provided several suggestions. One commenter suggested that we prohibit a physician from reassigning benefits to another physician if the physicians do not practice in substantially the same medical specialty. Some commenters also stated that our regulations need to state more clearly that all requirements of the purchased diagnostic test rules and purchased test interpretation rules need to be met.

In the CY 2005 PFS final rule, we responded that we shared the commenters concerns, although we declined to incorporate the suggested revisions at that time. We said that we would be paying close attention to this issue, and that we might initiate future rulemaking to address arrangements that are fraudulent or abusive. (See 69 FR 66316, November 15, 2004.) In that final rule, we amended our reassignment regulation at § 424.80(a) to state that nothing in § 424.80 alters an individual's or entity's obligations under other Medicare statutes or rules, including, but not limited to, the physician self-referral law (section 1877 of the Act), the anti-kickback statute (section 1128B(b)(1) of the Act), the regulations regarding purchased diagnostic tests, and the regulations regarding services and supplies provided incident to a physician's service.

At about the same time as we published our proposed rule for implementing section 952 of the MMA, we published an IFC concerning exceptions to the physician self-referral law in section 1877 of the Act (69 FR 16054). Section 1877 of the Act prohibits a physician from making referrals for DHS, as defined in section 1877(h)(6) of the Act, payable by Medicare to an entity with which he or she (or an immediate family member) has a financial relationship (ownership or compensation), and it prohibits the entity from billing Medicare, another payor, or the beneficiary for those referred services, unless an exception applies. The statute establishes a number of specific exceptions to these prohibitions and grants the Secretary the authority to create regulatory exceptions for financial relationships that pose no risk of fraud or abuse.

One significant exception is at § 411.355(a) for the provision of “physician services” as defined in § 410.20(a). Under this exception, professional physician services that are DHS must be furnished personally by another physician who is a member of the referring physician's group practice, or by a physician in the same group practice as the referring physician, or by someone under the supervision of one of these physicians. A “member” of a group practice is a physician owner, a physician employee, a locum tenens physician, or an on-call physician while the physician is providing on-call services for members of the group practice. “Physician in the group practice” means a member of the group practice, as well as an independent contractor physician during the time the independent contractor is furnishing patient care services for the group practice to the group practice's patients in the group practice's facilities. (See § 411.351.)

Another significant exception, at § 411.355(b), is for the provision of in-office ancillary services. This exception allows group practice physicians to refer patients for DHS to other members of their group or to nonphysician staff, provided that certain supervision, location, and billing requirements are satisfied. Specifically, the DHS must be furnished personally by the referring physician, a member of the group practice, or an individual who is supervised by the referring physician or by a physician in the group practice. In addition, the DHS must be furnished in—(1) the “same building” where group physicians perform a certain amount of physician services (as set forth in § 411.355(b)(2)), including physician services unrelated to the provision of DHS; or (2) in a “centralized building.” We define “centralized building,” in pertinent part, as all or part of building that is owned or leased on a full-time basis 24 hours per day, 7 days per week. In the “Phase II” physician self-referral IFC, we reaffirmed our earlier position, set forth in the “Phase I” final rule with comment period that, a group practice may have more than one centralized building (69 FR at 16075).

In response to the Phase II IFC, several commenters strongly criticized the centralized building prong of the in-office ancillary services exception. They requested that the rule be changed to require full-time use of the facility and the addition of a commercially reasonable test. According to the commenters, the Phase II IFC encourages numerous abusive arrangements that are designed solely to permit medical groups to bill in circumvention of the prohibition in section 1877 of the Act. Commenters objected to medical groups establishing satellite DHS facilities, sometimes in different States, specifically to capture ancillary income. Several commenters identified pod labs that rent space to urology groups as among the types of abusive arrangements that are proliferating. Several other commenters requested clarification that the in-office ancillary services exception did not override our policies on reassignment and purchased diagnostic tests. According to the comments, some of the arrangements do not satisfy the rules regarding purchased diagnostic tests. On the other hand, a professional association complained that the requirement that the centralized building be occupied exclusively by the medical group is too restrictive.

As noted above, we stated, in response to the comments on the proposed rule implementing section 952 of the MMA, that we might address suspect arrangements in a future rulemaking. After additional consideration, including consideration of the comments we received in response to the Phase II IFC, we are now proposing to amend our regulations on reassignment and physician self-referral in this proposed rule.

We are proposing to amend § 424.80 of our regulations to clarify that any reassignment pursuant to the contractual arrangement exception is subject to program integrity safeguards that relate to the right to payment for diagnostic tests. First, we would amend § 424.80 of our regulations to provide that if the TC of a diagnostic test (other than clinical diagnostic laboratory tests paid under section 1833(a)(2)(D) of the Act, which are subject to the special rules set forth in section 1833(h)(5)(A) of the Act) is billed by a physician or medical group (the “billing entity”) under a reassignment involving a contractual arrangement with a physician or other supplier who performs the service, the amount billed to Medicare by the billing entity, less the applicable deductibles and coinsurance, may not exceed the lowest of the following amounts:

• The physician or other supplier's net charge to the billing physician or medical group.

• The billing physician's or medical group's actual charge.

• The fee schedule amount for the service that would be allowed if the physician or other supplier billed directly.

Second, we would also require that, in order to bill for the TC, the billing entity would be required to perform the interpretation. Third, we are considering further amendments to § 424.80(d) that would impose certain conditions on when a physician or medical group can bill for a reassigned PC of a diagnostic test. We are considering the following conditions:

• The test must be ordered by a physician that is financially independent of the person or entity performing the test and also of the physician or medical group performing the interpretation.

• The physician or medical group performing the interpretation does not see the patient.

• The physician or medical group billing for the interpretation must have performed the TC of the test.

We believe that we are comfortably within our authority to place the proposed restrictions on reassignments made before a contractual arrangement, in order to guard against patient and program abuse, and we also believe that we would be within our authority to adopt the conditions on billing for a reassigned PC before a contractual arrangement that we continue to consider.

We note that there is no right to effect a reassignment under section 1842(b)(6) of the Act (rather, this section allows, but does not require us to make payment to someone other than the beneficiary or the physician or other person who performed the service), and that section 952 of the MMA permits us to recognize reassignments under the contractual arrangement exception only to the extent that the arrangement meets program integrity and other safeguards as the Secretary may determine to be appropriate. Moreover, we believe that our current rules on purchased diagnostic tests generally should be applicable to both situations in which the billing entity is purchasing the test without a formal reassignment as well as situations in which the physician performing the test has reassigned his or her right to Medicare payment to the billing physician or medical group.

Although we welcome comments on all aspects of our proposals, we are particularly interested in soliciting comments on the amendments we have proposed, as well as those we are still considering involving reassigned interpretations, to § 424.80(d). In particular, we are soliciting comments as to whether diagnostic tests in the DHS category of radiology and certain other imaging services should be excepted from any those provisions; whether the proposal in whole or in part should apply only to pathology services; whether any of these provisions should apply to services performed on the premises of the billing entity and if so, how to define the premises appropriately. We are also soliciting suggested regulatory text for the proposal under consideration involving purchased test interpretations, as well as any other comments regarding the appropriate scope of the provisions under consideration.

In addition, we are soliciting comments on whether an anti-markup provision should apply to the reassignment of the PC of diagnostic tests performed under a contractual arrangement, and if so, how to determine the correct amount that should be billed to the Medicare program.

In addition to our proposed changes to the reassignment rules, we are proposing to change the definition of “centralized building” in § 411.351 for purposes of our physician self-referral regulations. We are persuaded by the commenters who responded to the Phase II IFC that our present definition may encourage the unnecessary ordering of ancillary services. Section 1877(b)(1) of the Act, in conjunction with section 1877(h)(4)(vi) of the Act, states that the Secretary may define by regulation what constitutes a “group practice” for purposes of the physician services exception. Similarly, section 1877(b)(2) of the Act authorizes the Secretary to determine additional terms and conditions relating to the supervision and location requirements of the in-office ancillary services exception as may be necessary to prevent a risk of program or patient abuse. Accordingly, we propose to modify the definition of “centralized building” to include a minimum square footage requirement of 350 square feet. Our modified definition would be relevant to both the physician services exception and the in-office ancillary services exception. That is because, under § 411.351, a “physician in the group practice” includes an independent contractor physician during the time he or she is providing services to the group's patients in the group's facilities. Thus, to the extent that an independent contractor physician would qualify as a “physician in the group” on the basis of furnishing services to a group's patients in a centralized building, the space owned or leased by the group would need to comply with the proposed modification to the definition of “centralized building” in order for the group to rely on the physician services exception or the in-office ancillary services exception when billing Medicare for services furnished by the independent contractor physician.

Although we believe that the arrangements we seek to address through our proposed change to the definition of “centralized building” primarily involves independent contractor physicians, the proposed definition would also apply to services performed by physicians who are employees of a group practice.

The proposed minimum square footage requirement would not apply to space owned or rented in a building in which no more than three group practices own or lease space in the “same building,” as defined in § 411.351 (that is, in a building with the same street address) and share the same “physician in the group practice” (as defined in § 411.351). The purpose of the square foot minimum and the exception is to prevent abusive arrangements such as pod labs, while not disqualifying legitimate, stand-alone physician offices that are unusually small. The following examples are intended to illustrate how the proposed exception might apply:

+ Example 1—A space of 200 square feet located in a building in which only two other group practices lease space could qualify as a centralized building, irrespective of whether all three group practices contract with the same individual as a “physician in the group practice.”

+ Example 2—A space of 200 square feet is located in a building in which seven other group practices lease space. Dr. Jones has a contractual relationship with three group practices as a “physician in the group practice.” Dr. Smith also has a contractual relationship with three group practices. No physician has a contractual relationship as a “physician in the group practice” with four or more group practices that are located in that building. The space could qualify as a “centralized building.”

We would also require the space to contain, on a permanent basis, the necessary equipment to perform substantially all of the DHS that are performed in this space, in order to meet the definition of a “centralized building.” That is, we wish to prevent the situation in which an entity would routinely move equipment as needed from one group's space to another group's space (for example, from cubicle to cubicle). We believe these situations are abusive and contrary to the purpose of concept of the “centralized building” concept, but we recognize that there may be an occasional need to bring specialized equipment into the space on a temporary basis.

We believe that the proposed clarification to our reassignment rules, in tandem with our proposed changes to the definition of “centralized building” for purposes of our physician self-referral rules would prevent abusive arrangements while preserving legitimate small physician offices. In particular, we anticipate that restrictions on marking up the TC of diagnostic tests as well as the limits we are considering for who can bill for the PC of diagnostic tests, combined with square footage limits and requirements of having necessary equipment on site would make it not financially feasible for pod labs to exist.

With respect to our proposed change to the definition of “centralized building,” we seek comments on whether there should be a minimum square foot requirement, and if so, whether the minimum should be 350 square feet or an amount more or less than that. In addition, we seek comments regarding whether there should be an exception to any minimum square foot requirement, and if so, the circumstances under which an exception should apply.

With respect to our proposal that the “centralized building” permanently contain the necessary equipment to perform substantially all of the DHS that is furnished in the “centralized building,” we seek comments on whether this test should be imposed, and whether at least 90 percent or some other minimum percentage or measurement is appropriate. We are also considering whether to require that, for space to qualify as a “centralized building,” the group practice must employ, in that space, a nonphysician employee or independent contractor who will perform services exclusively for the group for at least 35 hours per week. We seek comments on whether we should have this requirement or similar requirement, or whether this requirement would be unduly burdensome on a small group practice, and whether this requirement would be likely to reduce the number of existing pod labs and to discourage the development of new pod labs. Finally, we seek comments on whether a group practice should be allowed to maintain a “centralized building” in a State different from the State(s) in which it has an office that meets the criteria of § 411.355(b)(2)(i), and if so, whether space that is located in a different State must be within a certain number of miles from an office of the group practice that meets the criteria of § 411.355(b)(2)(i), in order to qualify as a “centralized building.”

J. Supplier Access to Claims Billed on Reassignment

Section 1833(e) of the Act provides that, “no payment shall be made to any provider of services or other person under this part unless there has been furnished such information as may be necessary in order to determine the amounts due such provider or other person under this part for the period with respect to which the amounts are being paid or for any prior period.” Section 1842(b)(6) of the Act generally provides that payment may not be made to anyone other than the beneficiary or the physician or other person who provided the service. There are certain exceptions to this prohibition whereby payment may be made to others. These are commonly referred to as the reassignment exceptions and are found at section 1842(b)(6)(A) of the Act.

Taking these two statutory provisions together, we are permitted, but not required, to make payment to someone other than the beneficiary, or the physician or other person who furnished the service, but only if we have determined that Medicare has received all necessary information to determine the amounts due the provider. Where Medicare makes payment to an entity rather than to the physician or other person who furnished the service, there is a heightened concern that payment may not be correct. By allowing physicians and other individual suppliers who reassign benefits to an entity such as a group practice to have access to the billing information concerning the services they allegedly furnish, we believe we will reduce the risk of inappropriate billing.

Moreover, as noted in section I.2. of this proposed rule, section 952 of the MMA amended section 1842(b)(6)(A)(ii) of the Act to allow a physician or other person who was in a contractual arrangement rather than in an employee-employer relationship to reassign his or her right to bill and receive payment, irrespective of whether the services were performed on the premises of the entity. Section 952 of the MMA permits reassignment to the extent that the contractual arrangement between the physician or other individual supplier and the billing entity meets program integrity and other safeguards that the Secretary may determine to be appropriate.

In the FY 2005 Physician Fee Schedule proposed rule, published August 5, 2005 (69 FR 47488, 47524 through 47525), we stated our awareness that changes in the reassignment rules based on section 952 of the MMA may create new fraud and abuse vulnerabilities, which may not become apparent until the program has experience with new contractual arrangements. We proposed program safeguards, whereby the parties to the contractual arrangement would have joint and several liability for any Medicare overpayments, and the physician or other individual supplier would have unrestricted access to billings submitted on their behalf by the entity receiving reassigned payments. In response to the August 5, 2005 proposed rule, we received a comment that questioned the need for the two program integrity safeguards (joint and several liability and unrestricted access to billing records) as a requirement for a reassignment of claims involving a contractual arrangement. The commenter believed that it was premature for CMS to implement these program safeguards, that CMS already imposes joint and several liability through Medicare participation agreements and the signing of the enrollment form for billing reassigned claims (the CMS-855-R form), and questioned why the program safeguards applied only to independent contractors and not to employees. (69 FR 66316 through 66317 (November 15, 2004).)

In response to the commenter, we stated that those program integrity safeguards were necessary to monitor the billings of entities with which we have had billing problems (for example, billing for services never furnished and upcoding resulting in Medicare overpayments) in the past, and that the reason the safeguards applied to independent contractors and not to employees, was that the billing problems identified thus far involved certain entities (which, for the most part, contracted with, rather than employed, emergency room (ER) physicians). We also stated that we would study whether the same program integrity safeguards applicable to independent contractors should also apply to employees.

Prior to January 1, 2005, the effective date of the program integrity safeguards for the contractual arrangement reassignment exception, we received public inquiries asking why employees do not have unrestricted access to billing records. Since the January 1, 2005 effective date of the program integrity safeguards, we have received an inquiry from an ER physician employee of a medium-sized ER physician staffing company, who was denied access to billing records for services that he claims to have furnished, and who had his employment terminated. We also note that the MMA Conference Report, in its discussion of section 952 of the MMA, states that the Conference Committee supports appropriate program integrity efforts for any entities billing the Medicare program, including entities with independent contractors as well as employees. Having reconsidered the issue, we find no valid reason why an employee should not have access to records on billings for services furnished by that employee. Therefore, we are proposing to change the title of § 424.80(d) and amend § 424.80(d)(2) of our regulations to state that the supplier who reassigns his or her right to bill and receive Medicare payment to an entity has unrestricted access to claims information submitted by that entity for services supposedly furnished by the individual supplier, irrespective of whether the supplier is an employee or independent contractor of the entity. If adopted, our proposal would also mean that if an entity receiving the reassigned benefits were to refuse to provide the billing information to the employee supplier requesting the information, the entity's right to receive reassigned benefits may be revoked under 42 CFR 424.82(c)(3) (which is currently the case with respect to an entity's refusal to provide billing information to an independent contractor supplier).

K. Coverage of Bone Mass Measurement (BMM) Tests

[If you choose to comment on issues in this section, please include the caption “BONE MASS MEASUREMENT TESTS” at the beginning of your comments.]

In an IFC entitled “Medicare Coverage of and Payment for Bone Mass Measurements” published in the Federal Register on June 24, 1998 (63 FR 34320), we implemented section 4106 of the BBA by establishing a new regulatory section, 42 CFR 410.31 (Bone Mass Measurement: Conditions for Coverage and Frequency Standards). Section 4106 of the BBA statutorily defined BMM and individuals that are qualified to receive a BMM. The June 24, 1998 IFC, under the “reasonable and necessary” provisions of 1862(a)(1)(A) of the Act, also established conditions for coverage of the tests that must be ordered by physicians or nonphysician practitioners. Lastly, as directed by section 4106 of the BBA, we established frequency standards governing the time period when qualified individuals would be eligible to receive covered BMMs.

1. Provisions of the June 24, 1998 IFC

As stated earlier in this section, the June 24, 1998 IFC implemented section 4106 of the BBA by establishing conditions for coverage and frequency standards for BMMs to ensure that they are paid for uniformly throughout the Medicare program and that they are reasonable and necessary for Medicare beneficiaries who are eligible to receive these measurements. This section summarizes the provisions discussed in the June 24, 1998 IFC.

a. Coverage Conditions and Frequency Standards

We established conditions for coverage and frequency standards for medically necessary BMMs for five categories of Medicare beneficiaries in § 410.31.

In § 410.31(a), we defined “bone mass measurement” based on the statutory definition in section 4106 of the BBA. In accordance with the “reasonable and necessary” provisions of section 1862(a)(1)(A) of the Act, we established the conditions for coverage of BMMs in § 410.31(b) of the regulations. Consistent with § 410.32 (Diagnostic x-ray tests, diagnostic laboratory tests, and diagnostic tests: Conditions), we provided that coverage be available for the BMM only if it is ordered by the physician or a qualified nonphysician practitioner (as defined in § 410.32(a)) treating the beneficiary following an evaluation of the beneficiary's need for the test, including a determination as to the medically appropriate procedure to be used for the beneficiary. We believed that BMMs were not demonstrably reasonable and necessary unless (among other things) they are ordered by the physician treating the beneficiary following a careful evaluation of the beneficiary's medical need, and they are employed to manage the beneficiary's care.

To ensure that the BMM is performed as accurately and consistently in accordance with appropriate quality assurance guidelines as possible, we required that it be performed under the appropriate supervision of a physician as defined in § 410.32(b)(3). To ensure that the BMM is medically appropriate for the five categories specified in the law, we provided that it be reasonable and necessary for diagnosing, treating, or monitoring the condition of the beneficiary who meets the coverage requirements specified in § 410.31(d).

Furthermore, in § 410.31(c), we set forth limitations on the frequency for covering a BMM. Generally, we cover a BMM for a beneficiary if at least 23 months have passed since the month the last BMM was performed. However, we allow for coverage of follow-up BMMs performed more frequently than once every 23 months when medically necessary. We listed the following examples of situations where more frequent BMMs procedures may be medically necessary to include:

• Monitoring beneficiaries on long-term glucocorticoid (steroid) therapy of more than 3 months.

• Allowing for a confirmatory baseline bone mass measurement (either central or peripheral) to permit monitoring of beneficiaries in the future if the initial test was performed with a technique that is different from the proposed monitoring method.

b. Beneficiaries Who May Be Covered

In § 410.31(d), we amended our regulations to conform to the statutory requirement that the following categories of beneficiaries may receive Medicare coverage for a medically necessary BMM:

• A woman who has been determined by the physician or a qualified nonphysician practitioner treating her to be estrogen-deficient and at clinical risk for osteoporosis, based on her medical history and other findings.

• An individual with vertebral abnormalities as demonstrated by an x-ray to be indicative of osteoporosis, osteopenia, or vertebral fracture.

• An individual receiving (or expecting to receive) glucocorticoid (steroid) therapy equivalent to 7.5 mg of prednisone, or greater, per day, for more than 3 months.

• An individual with primary hyperparathyroidism.

• An individual being monitored to assess the response to or efficacy of an FDA-approved osteoporosis drug therapy.

c. Waiver of Liability

Section 410.31(e) provides that Medicare payment would be denied for a BMM in accordance with section 1862(a)(1)(A) of the Act if the regulatory standards are not satisfied. Existing regulations concerning limitation on liability are set forth in §§ 411.400 through 411.406 and are applicable to denial of BMMs under § 410.31.

d. Payments for BMMs

Medicare payments for covered BMMs are paid for under the PFS (42 CFR part 414) as required by statute. In the June 24, 1998 IFC, we revised the definition of “physician services” in § 414.2 to include bone mass measurements. When BMM procedures are furnished to hospital inpatients and outpatients, the TCs of these procedures are payable under existing payment methods for hospital services. These methods include payments under the prospective payment system, on a reasonable cost basis, or under a special provision for determining payment rates for hospital outpatient radiology services.

In the June 24, 1998 IFC, we revised § 414.50(a), regarding physician billing for purchased diagnostic tests, to clarify that the section does not apply to payment for BMMs.

e. Conforming Changes

In the June 24, 1998 IFC, to allow for appropriate placement in the CFR of the BMM coverage requirements, we redesignated § 410.31 (Prescription drugs used in immunosuppressive therapy) as § 410.30.

2. Additional Scientific Evidence

In 2004, the Surgeon General issued a report, Bone Health and Osteoporosis (U.S. Department of Health and Human Services, Bone Health and Osteoporosis: A Report of the Surgeon General. Rockville, MD: U.S. Department of Health and Human Services, Office of the Surgeon General, 2004). This report provides scientific evidence related to the prevention, assessment, diagnosis, and treatment of bone disease. The report states that identification of those at risk of bone disease and fracture is important so that appropriate interventions can be implemented. However, as the report states, “Assessing the risk of bone disease and fracture remains a challenge. Not all of the risk factors have been identified, and the relative importance of those that are known remains unclear.”

As bone strength is not measured directly, bone mineral density (BMD) remains the single best predictor of fracture risk, with the most widely accepted method for measuring BMD being the dual energy x-ray absorptiometry (DXA) for a bone density study at the axial skeleton (for example, hips and spine). As there are many sources of variability in the measurement of BMD, a quality control system related to both the methodology and reporting of test results is important to ensure the validity of DXA analysis.

In addition to DXA of the axial skeleton, bone mass can also be measured using other techniques. These other techniques include DXA bone density study for the appendicular skeleton (for example, radius, wrist, heel); quantitative computerized tomography (QCT), bone mineral density study for the axial skeleton or appendicular skeleton; radiographic absorptiometry (photodensitometry, radiogrammetry); single-photon absorptiometry (SPA); single energy x-ray absorptiometry (SXA) for the appendicular skeleton; and ultrasound bone mineral density study for the appendicular skeleton. With regard to these techniques (except for SPA which was not discussed), the 2004 Surgeon General report states, “While these methods do assess bone density and may provide an indication of fracture risk, it is important to note that the WHO [World Health Organization] recommendations and other guidelines for using BMD and interpreting BMD results for diagnosis are based on DXA measurements of the hip or spine.” The report further states, “Incorporating these techniques for bone assessment into future clinical trials and observational studies will help in better understanding their appropriate use as a means of predicting the risk of bone disease and fracture.”

3. Proposed Changes to the June 24, 1998 IFC

We received 18 public comments on the June 24, 1998 IFC. The majority of the comments had specific recommendations for changes to the IFC. In addition to responding to comments that we may receive on our proposed revisions to § 410.31, it is our intent to address all these previous comments in the CY 2007 PFS final rule.

Based on the comments received on the IFC, the Surgeon General's report, and other evidence, we are proposing changes to § 410.31. We encourage comments on these proposals.

a. Proposed “BMM” Definition (§ 410.31(a))

We are proposing to revise the definition of “bone mass measurement” at § 410.31(a)(2) to remove coverage for the use of SPA, which uses isotope sources to measure BMD. Many medical experts indicate that SPA has largely been replaced by the newer techniques of DXA, which are believed to be superior in accuracy and precision. Medicare claims data in recent years continue to show a steady decline in the use of the SPA procedure by the beneficiary population. Further, there is a lack of evidence to support continued use of SPA, an older procedure where the metrics have not been correlated with fracture rate.

We are proposing to revise the definition of a “bone mass measurement” to read, “Is performed with either a bone densitometer (other than a single-photon or dual-photon absorptiometry) or with a bone sonometer system that has been cleared for marketing for this use by the FDA under 21 CFR part 807, or approved for marketing by the FDA for this use under 21 CFR part 814.”

We are specifically requesting comments on this proposal regarding the evidence of benefit for SPA, particularly in comparison with other alternatives.

b. Conditions for Coverage (§ 410.31(b))

We are proposing to revise the conditions for coverage for BMMs in § 410.31(b) by requiring that for a medically necessary BMM to be covered for an individual being monitored to assess the response to or efficacy of an FDA-approved osteoporosis drug therapy (§ 410.31(d)(5)) the individual would be required to meet the present conditions for coverage under § 410.31(b), and the monitoring would have to be performed by the use of an dual energy x-ray absorptiometry system (axial system).

We recognize that in the June 24, 1998 IFC, we allowed the physician or qualified nonphysician practitioner treating the beneficiary more flexibility in ordering those diagnostic measurements, but we are proposing to limit that flexibility with respect to the type of BMM that is used for monitoring individuals receiving osteoporosis drug therapy and other purposes (as discussed later in this section) because of new evidence and other information received since publication of the June 24, 1998 IFC that supports the need for requiring the use of the DXA measurement (axial skeleton) in those circumstances. In addition to the 2004 Surgeon General's Report that recognized the superiority of the DXA (axial skeleton) for measuring bone mass over time, the International Society for Clinical Densitometry currently recommends that if an individual has a low bone mass using a peripheral measurement (appendicular skeleton) he or she should have a DXA (axial skeleton) performed for monitoring or confirmatory diagnostic purposes.

Therefore, we are also proposing to revise § 410.31(b) by adding a requirement that in the case of any individual who qualifies for a bone mass measurement as provided for in § 410.31(d) and who receives a confirmatory baseline BMM to permit monitoring in the future, Medicare may cover a medically necessary BMM for that individual, if the present conditions for coverage under § 410.31(b) are met, and the BMM is performed by a dual energy x-ray absorptiometry system (axial skeleton) (if the initial measurement was not performed by this system).

As indicated previously, the most widely accepted method for measuring bone mineral density (BMD) is the use of DXA (Surgeons General's Report 2004) at axial skeletal sites. DXA (axial skeleton) measures BMD at the hip and spine (sites likely to fracture in patients who have osteoporosis). DXA is precise, safe, and low in radiation exposure, and permits more accurate and reliable monitoring of individuals over time. DXA of the femoral neck is the best validated test to predict hip fracture and is comparable to forearm measurements for predicting fractures at other sites (Evidence Report/Technology Assessment No 28, Agency for Healthcare Research and Quality (AHRQ), January 2001).

c. Bone Mass Measurement: Standards on Frequency of Coverage (§ 410.31(c))

To conform the examples of a BMM exception to the standards on frequency of coverage in § 410.31(c)(2) to the regulation change we are proposing in § 410.31(b)(3), we are proposing to revise the confirmatory baseline test example in § 410.31(c)(2)(ii) to read, “Allowing for a confirmatory baseline measurement to permit monitoring of beneficiaries in the future if the requirements of paragraph (b)(3) of this section are met.”

d. Bone Mass Measurement: Beneficiaries Who May Be Covered (§ 410.31(d))

The Congress has recognized that individuals receiving long-term glucocorticoid steroid therapy are qualified individuals for purposes of section 1861(rr)(1) of the Act. Therapy to prevent bone loss in most patients beginning long-term therapy has been recommended at a prednisone equivalent of ≥ 5 mg/day for at least 3 months (McIlwain, 2003). Based on our review of the current evidence, we are proposing to reduce the dosage equivalent in § 410.31(d)(3) from an average of 7.5 mg/day of prednisone for at least 3 months to an average of 5.0 mg/day of prednisone for the same period.

e. Use of the NCD Process (§ 410.31(f))

To facilitate future consideration of coverage of additional BMM systems for purposes of proposed paragraphs § 410.31(b)(2) and (b)(3), which would limit coverage of BMMs for monitoring individuals receiving osteoporosis drug therapy and for performing confirmatory baseline measurements, we are proposing to allow CMS, through the NCD process, to identify additional BMM systems for those purposes. By using the NCD process, we could conduct a timely assessment of FDA-approved BMMs. Use of an NCD to add coverage of effective BMM systems for these purposes is authorized by the reasonable and necessary provision of sections 1862(a)(1)(A) and 1871(a)(2) of the Act.

In summary, in view of the 18 comments and our review of the post-1998 medical literature, we have decided to propose several revisions to § 410.31 relative to the definition of the term “Bone Mass Measurement” (§ 410.31(a)(2)), the conditions for coverage (§ 410.31(b)), the examples of exceptions to the standards on frequency of coverage (§ 410.31(c)(2)), the category of individuals receiving (or expecting to receive) glucocorticoid (steroid) therapy (§ 410.31(d)(3)), and the addition of a new subparagraph (§ 410.31(f)) on use of the NCD process.

L. Independent Diagnostic Testing Facility (IDTF) Issues

[If you choose to comment on issues in this section, please include the caption “IDTF ISSUES” at the beginning of your comments.]

1. Proposed IDTF Changes in the Physician Fee Schedule Proposed Rule

During the course of a national review in 2003-2004, the Office of Inspector General (OIG) found a potential $71 million in improper payments made to IDTFs (Review of Claims Billed by Independent Diagnostic Testing Facilities for Services Provided to Medicare Beneficiaries During Calendar Year 2001 (A-03-03-00002)). The OIG found that erroneous payments were made as the result of poor or missing documentation or the lack of medical necessity. Moreover, in recent years, CMS and its contractors have determined that a number of IDTFs in California and other States are perpetrating schemes to defraud the Medicare program.

Since 2000, the number of IDTFs in California has increased by 40 percent, which is a far greater percentage increase than the Medicare population in that State. The number of IDTFs billing Medicare in California alone increased more than 400 percent from 2000 to 2005. The increased use of IDTF services has not lowered the use of diagnostic testing within other settings. The increased rates of utilization within IDTFs is likely to be unrealistic due to an increase in the need of diagnostic testing within California's Medicare population. Also, these IDTFs are growing at a rate faster than CMS can survey these facilities. The actual growth of IDTFs is not a problem, however, the results of the OIG audit make it clear that we need to closely monitor IDTFs and establish standards to ensure quality care for Medicare beneficiaries. To address the erroneous payments identified by the OIG above, we are proposing to establish IDTF supplier standards similar to those we adopted for Durable Medical Equipment, Prosthetics, Orthotics, and Supplies (DMEPOS) Suppliers on October 11, 2000 (see 42 CFR 424.57).

We are proposing that each IDTF be required to be in compliance with the proposed fourteen suppler standards discussed in section L.2. below in order to obtain or retain enrollment in the Medicare program. Accordingly, at proposed § 410.33(h), we are proposing that if an IDTF fails to meet one or more of the proposed standards at the time of enrollment or at the time of re-enrollment, then its enrollment application would be denied. Also, if at any time we determine that an enrolled IDTF no longer meets the proposed supplier standards, its billing privileges would be revoked.

We believe that these supplier standards are needed to ensure that minimum quality standards are met to protect beneficiaries as well as the Medicare Trust Fund. These standards are merely good business practices which will help to ensure that suppliers are providing a quality care to Medicare beneficiaries. Examples of the kind of standards are a primary business phone number and address. Another example is a posting of standards for review by patients and the public.

We are proposing to adopt, for IDTFs, a number of standards we adopted for DMEPOS suppliers, including supplier standard number 6 which requires a supplier to maintain a comprehensive liability insurance policy of $300,000 or 20 percent of its average annual Medicare billings, whichever amount is greater, that covers both the place of business and all customers and employees of the IDTF.

Furthermore, we are proposing in the new performance standard number 7 that an IDTF agrees not to directly solicit patients. This provision does not preclude the IDTF from public advertisement or marketing its services to physicians and other suppliers, however it does prohibit recruitment of beneficiaries through direct solicitation.

Additionally, the IDTF would be required to grant CMS, or its designated fee-for-service contractors, including our agents, to have access to the IDTF physical location, all equipment, and beneficiary medical records during normal business hours. For portable equipment, an IDTF would be required to maintain a catalog of portable equipment and be able to produce the cataloged equipment within two business days. If the IDTF denies this access, the IDTF's Medicare enrollment would be immediately revoked.

To ensure that equipment used by an IDTF is maintained and operates properly, we are seeking public comment regarding IDTF supplier standard number 11, which would require that an IDTF must have its testing equipment calibrated per equipment instructions or in compliance with applicable industry standards. Specifically, we are seeking public comment regarding the organizations or entities that may currently establish testing specifications for diagnostics equipment. Further, if these organizations or entities do not exist, we invite public comment regarding establishment of a supplier standard that relies on the manufacturer's maintenance and calibration standards.

While we understand that these proposed additional standards could lead certain IDTFs to withdraw from the Medicare program rather than comply with the new standards, we believe that legitimate businesses would not oppose these changes. Moreover, we emphasize that services provided by an IDTF are also readily available to beneficiaries through other avenues such as physicians' offices, outpatient laboratories, outpatient radiology facilities, and outpatient clinics. We believe that the implementation of these proposed standards would improve the quality of services provided to Medicare beneficiaries by IDTFs without any associated access concerns.

2. Proposed Performance Standards for IDTFs

The IDTF would be required to meet the following standards as of January 1, 2007 and any newly or reenrolling IDTF would be required to certify in its enrollment application that it meets and would continue to meet the standards. At § 410.33, we are proposing to revise the regulation to specify that the IDTF would be required to—

• Operate its business in compliance with all applicable Federal, State, and local licensure and regulatory requirements with regard to the health and safety of patients;

• Provide complete and accurate information on its enrollment application as stated in the “Requirements for Providers and Suppliers to Establish and Maintain Enrollment final rule” (April 21, 2006 (42 FR 20754)). Any change in enrollment information would be required to be reported to the designated fee-for-service contractor on the Medicare enrollment application within 30 calendar days;

• Maintain a physical facility on an appropriate site. For the purposes of this proposed standard, a post office box or commercial mailbox would not be considered a physical facility. The physical facility would be required to contain space for equipment appropriate to the services designated on the enrollment application, facilities for hand washing, adequate patient privacy accommodations, and the storage of both business records and current medical records;

• Have all applicable testing equipment available at the physical site, excluding portable equipment. A catalog of portable equipment, including equipment serial numbers, would be maintained at the physical site. In addition, portable equipment would be made available for inspection within two business days of our inspection request. The IDTF would be required to maintain a current inventory of the equipment (including serial/registration numbers), provide this information to the designated fee-for-service contractor and notify the contractor of any changes in equipment;

• Maintain a primary business phone under the name of the business. The business phone would be located at the designated site of the business. The telephone number or toll free numbers would be available in a local directory and through directory assistance;

• Have a comprehensive liability insurance policy of at least $300,000 or 20 percent of its average annual Medicare billings, whichever amount is greater, that covers both the place of business and all customers and employees of the IDTF. The insurance policy would be carried by a non-relative owned company. The policy would be required to list the serial numbers of any and all equipment used by the IDTF;

• Agree not to directly solicit patients, which includes, but is not limited to, a prohibition on telephone, computer, or in-person contracts. The IDTF would accept only those patients referred for diagnostic testing by an attending physician, who is furnishing a consultation or treating a beneficiary for a specific medical problem and who uses the results in the management of the beneficiary's specific medical problem. Nonphysician practictioners may order tests as set forth in § 410.32(a)(3);

• Answer beneficiaries' questions and respond to their complaints. Documentation of those contacts would be maintained at the physical site;

• Openly post these standards for review by patients and the public;

• Disclose to the government, any person having ownership, financial or control interest, or any other legal interest in the supplier at the time of enrollment or within 30 days of a change;

• Have its testing equipment calibrated per equipment instructions and in compliance with applicable national standards;

• Have technical staff on duty with the appropriate credentials to perform tests. The IDTF would be required to produce the applicable Federal or State licenses and/or certifications of the individuals performing these services;

• Have proper medical record storage and be able to retrieve medical records upon request from CMS or its designated fee-for-service contractor within 2 business days; and

• Permit CMS, including its agents or its designated fee-for-service contractors, to conduct unannounced, on-site inspections to confirm the IDTF's compliance with these proposed standards. The IDTF would be required to provide access, during regular business hours, to CMS and beneficiaries, as well as maintain a visible sign posting the normal business hours of the IDTF.

3. Supervision

To ensure quality care is provided to Medicare beneficiaries, we are proposing to revise § 410.33(b)(1) to read that physicians will be limited to providing supervision to “no more than three (3) IDTF sites.”

4. Place of Service

In addition to proposing the establishment of specific supplier standards for IDTFs, at proposed § 410.33(i), we are proposing to define the “point of the actual delivery of service” as the correct “Place of Service” for the claim form in the case of diagnostic testing performed outside the IDTF's physical location. For example, when an IDTF performs a diagnostic test at a beneficiary's residence, we believe that it is reasonable to establish the beneficiary's residence as the “Place of Service.” Previously, there has been no set procedure, so therefore, we believe that the information is gathered at the collection point from the beneficiary, and this is the point service. While most diagnostic tests are performed in an office setting, we are seeking public comment regarding the types of services that can be safely and appropriately used in a residential setting.

M. Independent Laboratory Billing for the TC of Physician Pathology Services to Hospital Patients

[If you choose to comment on issues in this section, please include the caption “INDEPENDENT LAB BILLING” at the beginning of your comments.]

The TC of physician pathology services refers to the preparation of the slide involving tissue or cells that a pathologist will interpret. (In contrast, the pathologist's interpretation of the slide is the PC service. If this service is furnished by the hospital pathologist for a hospital patient, it is separately billable. If the independent laboratory's pathologist furnishes the PC service, it is usually billed with the TC service as a combined service.)

In the “Revisions to Payment Policies Under the Physician Fee Schedule for Calendar Year 2000” final rule published in the Federal Register on November 2, 1999 (64 FR 59380 and 59408 through 59409), we stated that we would implement a policy to pay only the hospital for the TC of physician pathology services furnished to hospital patients. Before that proposal, any independent laboratory could bill the carrier under the PFS for the TC of physician pathology services for hospital patients. As pointed out in the November 2, 1999 final rule, this policy has contributed to the Medicare program paying twice for the TC service, first through the inpatient prospective payment rate to the hospital where the patient is an inpatient and again to the independent laboratory that bills the carrier, instead of the hospital, for the TC service.

Therefore, in that final rule at § 415.130, we provided that, for services furnished on or after January 11, 2001, the carriers would no longer pay claims to the independent laboratory under the physician fee schedule for the TC of physician pathology services for hospital patients.

Ordinarily, the provisions in the final PFS are implemented in the following year. However, in this case, the change to § 415.130 was delayed one year (until January 1, 2001), at the request of the industry, to allow independent laboratories and hospitals sufficient time to negotiate arrangements. Moreover, our full implementation of § 415.130 was further delayed through CY 2006.

We continue to believe, however, that hospital prospective payment amounts already compensate hospitals for the TC of physician pathology tests and that additional payment under the PFS is inappropriate. Therefore, we are proposing to amend § 415.130 to provide that, for services furnished after December 31, 2006, an independent laboratory may not bill the carrier for physician pathology services furnished to a hospital inpatient or outpatient. Under proposed § 415.130(d), we would pay under the PFS for the TC of a physician pathology service furnished by an independent laboratory for services provided to an inpatient or outpatient of a “covered hospital” on or before December 31, 2006. A “covered hospital” is defined in § 415.130(a)(1).

N. Public Consultation for Medicare Payment for New Outpatient Clinical Diagnostic Laboratory Tests

[If you choose to comment on issues in this section, please include the caption “CLINICAL DIAGNOSTIC LAB TESTS” at the beginning of your comments.]

Section 1833(h) of the Act requires the Secretary to establish fee schedules for clinical laboratory tests under Medicare Part B. In this section of the preamble, we are proposing to implement section 942(b) of the MMA which specifies annual procedures for consulting the public on how to establish payment for new clinical laboratory test codes to be included in the annual update of the clinical laboratory fee schedule.

1. BIPA (Pub. L. 106-554)

Section 531(b) of BIPA mandated that we establish, no later than 1 year after the date of enactment, procedures that permit public consultation for payment determinations for new clinical diagnostic laboratory tests under Medicare Part B in a manner consistent with the procedures established for implementing ICD-9-CM coding modifications. In the November 23, 2001 Federal Register (66 FR 58743), we specified the procedures to implement section 531(b) of BIPA.

These procedures were most recently used to determine the payments for new 2006 clinical laboratory fee schedule codes. First, we convened a public meeting to solicit expert input on the nature of the new tests before rate determinations were made. We have held these meetings each year since 2002 to receive this expert input on the next year's codes. Our most recent meeting was announced in the Federal Register on May 27, 2005 (70 FR 30734) and occurred on July 18, 2005. In that meeting, we requested that presenters address the new test codes, each test's purpose, method, cost, and a recommendation for one of two methods (crosswalking or gapfilling) for determining payment for the new clinical laboratory codes. Crosswalking and gapfilling are discussed below in section N.2.d.

Following the public meeting, we posted, on our Website, a summary of the new codes and the payment recommendations that were presented during the public meeting. The summary also displayed our tentative payment determinations and indicated a comment period for interested parties to submit written comments. After reviewing the comments received, we issued Medicare Transmittal 750, 2006 Annual Update for Clinical Laboratory Fee Schedule, which provided all instructions and final rate determinations for the 2006 clinical laboratory fee schedule including the new codes and fees, on November 18, 2005.

2. Medicare Prescription Drug, Improvement, and Modernization Act of 2003 (MMA) (Pub. L. 108-173)

Further legislation affecting public consultation for new clinical laboratory tests was enacted at section 942(b) of the MMA (Pub. L. 108-173), which added section 1833(h)(8) to the Act. Section 1833(h)(8)(A) of the Act requires the Secretary to establish by regulation procedures for determining the basis for and amount of payment for a clinical diagnostic laboratory test that is assigned a new or substantially revised Healthcare Common Procedure Coding System (HCPCS) code on or after January 1, 2005. We refer to these tests as “new tests.”

Section 1833(h)(8)(B) of the Act provides that determinations of payment amounts for new tests shall be made only after the Secretary—

• Makes available to the public (through an Internet Web site and other appropriate mechanisms) a list that includes codes for which establishment of a payment amount is being considered for the next calendar year;

• On the same day the list of codes is made available, publishes a Federal Register notice of a meeting to receive public comments and recommendations (and data on which recommendations are based) on the appropriate basis for establishing payment amounts for the list of codes made available to the public;

• Not less than 30 days after publication of the notice in the Federal Register, convenes a meeting that includes representatives of CMS officials involved in determining payment amounts, to receive public comments and recommendations (and data on which the recommendations are based); and

• Taking into account the comments and recommendations (and accompanying data) received at the public meeting, develops and makes available to the public (through an Internet Web site and other appropriate mechanisms)—

+ A list of proposed determinations with respect to the appropriate basis for establishing a payment amount for each code, together with an explanation of the reasons for each determination, the data on which the determinations are based, and a request for public written comments on the proposed determination; and

+ A list of final determinations of the payment amounts for tests, together with the rationale for each determination, the data on which the determinations are based, and responses to comments and suggestions from the public.

We believe that our current process for providing for public consultation on the establishment of payment amounts for new clinical laboratory tests is consistent with the requirements of section 1833(h)(8)(B) of the Act. We currently make available to the public through a posting on the CMS Web site a list of new laboratory test codes for the next calendar year. We publish a Federal Register notice of a meeting to receive public comments and recommendations and convene the meeting with appropriate CMS officials in attendance. We take into account the input received at the public meeting and we make available to the public on the CMS Web site a list of the proposed determinations and seek comment. We then make available to the public our final determinations in the instructions that we provide to our claims processing contractors to implement the Medicare Part B clinical laboratory fee schedule each year.

The most significant change required by section 1886(h)(8)(A) of the Act with respect to our procedures for public consultation is that we codify this process in regulations. Therefore, in this proposed rule, we are proposing to codify our current process for public consultation for new clinical diagnostic laboratory tests paid under the Medicare Part B clinical laboratory fee schedule at proposed new Subpart F—Payment for New Clinical Diagnostic Laboratory Tests (§ 414.402 through § 414.406).

a. Proposed Basis and Scope (§ 414.400)

This proposed new subpart would implement provisions of section 1833(h)(8) of the Act—procedures for determining the basis for, and amount of, payment for a new clinical diagnostic laboratory test with respect to which a new or substantially revised Healthcare Common Procedure Coding System code is assigned on or after January 1, 2005.

b. Proposed Definition (§ 414.402)

As specified in section 942(b) of the MMA, we propose to define the term “Substantially Revised Healthcare Common Procedure Coding System Code” to mean a code for which there has been a substantive change to the definition of the test or procedure to which the code applies (such as a new analyte or a new methodology for measuring an existing analyte specific test).

c. Proposed Procedures for Public Consultation for Payment for a New Clinical Diagnostic Laboratory Test (§ 414.406)

For a clinical laboratory test that is assigned a new or substantially revised code on or after January 1, 2005, we would establish a local fee schedule amount only after the following:

• We make available to the public (through an Internet Web site and other appropriate mechanisms) a list that includes codes for which establishment of a payment amount is being considered for the next calendar year.

• We publish a Federal Register notice of a meeting to receive public comments and recommendations (and data on which recommendations are based) on the appropriate basis, as specified in proposed new § 414.408, for establishing payment amounts for the list of codes made available to the public.

• Not less than 30 days after publication of the notice in the Federal Register, we convene a meeting, that includes representatives of CMS officials involved in determining payment amounts, to receive public comments and recommendations (and data on which the recommendations are based).

• Taking into account the comments and recommendations (and accompanying data) received at the public meeting, we develop and make available to the public (through an Internet Web site and other appropriate mechanisms)—

+ A list of proposed determinations with respect to the appropriate basis for establishing a payment amount for each code, together with an explanation of the reasons for each determination, the data on which the determinations are based, and a request for public written comments on the proposed determination within a specified time period; and

+ A list of final determinations of the payment amounts for tests, together with the rationale for each determination, the data on which the determinations are based, and responses to comments and suggestions from the public.

d. Proposed Payment for a New Clinical Diagnostic Laboratory Test—Crosswalking and Gapfilling (§ 414.408)

We are proposing to add a new § 414.408 to indicate when, in establishing the payment amount for a new clinical laboratory test, one of two payment methods can be utilized. The first payment method, called “crosswalking,” is used if a new test is determined to be comparable to an existing test, multiple existing test codes, or a portion of an existing test code. We propose that a new test code would be assigned the related existing local fee schedule amounts and national limitation amount.

In new § 414.408, we propose to use the second method, called “gapfilling,” when no comparable, existing test is available. Currently when using this method, manual instructions are provided to each Medicare carrier to determine a payment amount for its geographic area(s) for use in the first year, and the carrier-specific amounts are used to establish a national limitation amount for following years. Consistent with our current process, the sources of information carriers examine in determining gapfill amounts, if available, include—

• Charges for the test and routine discounts to charges;

• Resources required to perform the test;

• Payment amounts determined by other payers; and

• Charges, payment amounts, and resources required for other tests that may be comparable or otherwise relevant.

Currently, our manual instructions allow carriers to consider other sources of information as appropriate, including clinical studies and information provided by clinicians practicing in the area, manufacturers, or other interested parties. Carriers are also instructed to establish carrier specific amounts on or before March 31 of the year and to revise their carrier specific amount, if necessary, on or before September 1 of the year. In this manner, a carrier may revise its carrier specific amount based on additional information, but there is also a specific time frame to perform this revision so that we have adequate time to receive and use the carrier specific amounts for the calculation of the next year's clinical laboratory fee schedule.

Currently for new gapfilled laboratory tests, the payment amount beginning in the second year is based on the lower of the carrier specific amount determined in the first year or the national limitation amount. In accordance with section 1833(h) of the Act, the national limitation amount is set at the median of the carrier-specific amounts.

In light of new MMA provisions, however, we are proposing, in new § 414.408, to prospectively eliminate payment of new gapfilled tests at a carrier specific amount after the first year. Section 1833(h)(8)(A) of the Act gives the Secretary authority to establish procedures for determining the payment amount for laboratory tests for which new or substantially revised HCPCS codes were established on or after January 1, 2005. Under this authority, we propose, in new § 414.408(b), to pay for a new gapfilled laboratory test under our existing methodology for the first year (the carrier would establish a gapfill amount.) Beginning in the second year, the test would be paid at the national limitation amount. This would result in consistent payment in geographic areas for a new test using the median of the carrier gapfill amounts.

3. Other Laboratory Issues

This section discusses other laboratory issues related to quality and glucose monitoring in SNFs.

a. Quality

In addition to providing payments, Medicare's clinical laboratory fee schedule for both new and existing tests should foster the provision of quality care and the prevention of avoidable health care costs. We are exploring the development of measures related to the quality and efficiency of care, including those involving clinical laboratory fee schedule services. Physicians' decisions are central to the health care their patients receive and are informed by appropriate clinical laboratory testing. We want to work with physicians, providers and the clinical laboratory community to identify ways to promote utilization decisions that clearly increase the quality of care while avoiding unnecessary costs for beneficiaries and the Medicare program.

As part of its strategies to improve quality of care, CMS could require those who perform laboratory tests to submit laboratory values using common vocabulary standards, such as those found in the Logical Observation Identifiers Names and Codes (LOINC®) database.

The LOINC® database currently contains about 41,000 observational terms, of which nearly 31,000 are observational terms related to laboratory testing. The laboratory subset of the LOINC® database provides universal names and codes for identifying the results of clinical laboratory tests and it facilitates the exchange and pooling of clinical laboratory results for clinical care, outcomes management and research. Note that LOINC® describes the test result, but does not provide it. It is, therefore, only one possible component of a comprehensive system of collecting clinical laboratory fee test results. Each LOINC® record corresponds to a single test result or panel. The following are some examples of LOINC records:

LOINC code LOINC name (component: property: timing: specimen: scale)

2951-2 SODIUM:SCNC:PT:SER/PLAS:QN

2955-2 SODIUM:SCNC:PT:UR:QN

2956-1 SODIUM:SRAT:24H:UR:QN

2164-2 CREATININE RENAL CLEARANCE:VRAT:24H:UR:QN

1514-9 GLUCOSE‸2H POST 100 G GLUCOSE

PO:MCNC:PT:SER/PLAS:QN

3665-7 GENTAMICIN‸TROUGH:MCNC:PT:SER/PLAS:QN

17863-2 CALCIUM.IONIZED:MCNC:PT:SER/PLAS:QN

2863-9 ALBUMIN:MCNC:PT:SNV:QN:ELECTROPHORESIS

The parts of the LOINC® name refer to different aspects of the test result. The component is the analyte (for example, sodium). The property is the characteristic of the analyte that is measured, evaluated or observed (for example SCNC = substance concentration). Timing indicates whether the measurement is an observation at a moment of time, or an observation integrated over an extended duration of time (for example, PT = point in time). The specimen is the type of sample (for example, SER/PLAS = serum or plasma). The scale is the type of scale (for example QN = quantitative). For further detail, please see the LOINC® Web site at http://www.loinc.org.

On September 23, 2005 (70 FR 55900-56025), we published the proposed rule “HIPAA Administrative Simplification: Standards for Electronic Health Care Claims Attachments.” This rule proposed standards for electronically requesting and supplying particular types of additional health care information in the form of an electronic attachment to support submitted health care claims data. The proposed rule specified a standard attachment form for reporting laboratory results (among other standards) and proposed adoption of LOINC® as the standard code set for reporting such results.

While the laboratory claims attachment standard and use of LOINC® could provide a means for reporting test result data, we recognize that there are significant operational and other challenges that would need to be addressed before Medicare could begin to collect laboratory values in a comprehensive fashion using common vocabulary standards and that these challenges need to be met in partnership with the clinical laboratory community. We look forward to working collaboratively with the clinical laboratory community on these issues.

b. Blood Glucose Monitoring in SNFs

In response to inquiries regarding our policy on blood glucose monitoring in SNFs, we are taking this opportunity to restate our long-standing policy on coverage of blood glucose monitoring services and to propose to codify physician certification requirements for blood glucose monitoring in SNFs.

Generally, section 1862(a)(1)(A) of the Act requires that a service be reasonable and necessary for diagnosis and treatment in order to be eligible for coverage by Medicare. Our regulations at § 410.32(a) already require that, for any diagnostic test, including a clinical diagnostic laboratory test, to be considered reasonable and necessary, it must be both ordered by the physician and the ordering physician must use the result in the management of the beneficiary's specific medical problem. Tests not ordered by the physician who is treating the beneficiary are not reasonable and necessary.

In the context of blood glucose monitoring, we most recently stated this policy in Transmittal AB-00-108, “Glucose Monitoring”, which is available on our Web site at http://www.cms.hhs.gov/transmittals/downloads/ab00108.pdf. This interpretation of § 410.32 is also the basis for our policy in Chapter 7 of the Medicare Claims Processing Manual (“Skilled Nursing Facility Part B Billing” available on our Web site at http://www.cms.hhs.gov/manuals/downloads/clm104c07.pdf.)

In addition, section 1835(a)(2)(B) of the Act provides that, in the case of certain “medical and other health services” (including clinical diagnostic laboratory services), payment may be made for Part B services that are furnished by a provider of services only if a physician certifies—and recertifies where those services are furnished over a period of time, with such frequency, and accompanied by such supporting material, as may be provided by regulation—that those services were medically necessary. The regulations currently implementing this provision at § 424.24 do not specifically address the issue of blood glucose monitoring in SNFs. Therefore, we are proposing to amend § 424.24 to provide that, for each blood glucose test furnished to a resident of a SNF, the physician must certify that the test is medically necessary. We are also proposing to amend § 424.24 to clarify that a physician's standing order is not sufficient to order routine blood glucose monitoring.

c. Other Lab Issues—Proposed Clinical Diagnostic Laboratory Date of Service (DOS) for Stored Specimens

We are proposing to add a new § 414.410 to address concerns that have been raised regarding the date of service of a clinical diagnostic laboratory test that use a stored (or “archived”) specimen. In the final rule of coverage and administrative policies for clinical diagnostic laboratory services that we published on November 23, 2001 (66 FR 58792), we adopted a policy under which the date of service for clinical diagnostic laboratory services generally is the date the specimen is collected. For laboratory tests that use an archived specimen, however, the date of service is the date the specimen was obtained from the storage. In 2002, we issued Program Memorandum AB-02-134 which permitted contractors discretion in making determinations regarding the length of time a specimen must be stored to be considered archived. In response to comments requesting that we issue a national standard to clarify when a stored specimen can be considered “archived,” in the Procedures for Maintaining Code Lists in the Negotiated National Coverage Determinations for Clinical Diagnostic Laboratory Services final notice, published in the Federal Register on February 25, 2005 (70 FR 9355), we defined an “archived” specimen as a specimen that is stored for more than 30 calendar days before testing. The date of service for these archived specimens is the date the specimen was obtained from storage. Specimens stored 30 days or less have a date of service of the date the specimen was collected. The February 25, 2005 final notice also clarified that the date of service for tests when the collection spanned more than two calendar days is the date the collection ended. Instructions that implemented these policies were added to Chapter 16, section 40.8 of the Medicare Claims Processing Manual (Pub. 100-04) with the issuance of Transmittal 800 (CR 4156), on December 30, 2005.

Recently, we have received correspondence that expressed concern that our policies have created some unintended consequences, especially in situations in which a specimen is taken in a hospital setting, but then later used for a test after the patient has left the hospital. Under the current manual instructions, if the specimen used for a test ordered subsequent to the beneficiary's discharge is obtained less than 31 calendar days following the date the specimen was collected, the date of service of the test is the date of collection. The date of service of a test may affect payment because, if the date of service falls during an inpatient stay or on a day on which the beneficiary had an outpatient procedure, payment for the laboratory test usually is bundled with the hospital service. To address these concerns, we are proposing to change our current policy so that the date of service would be the date the specimen is obtained from storage, even if the specimen is obtained less than 31 days from the date it was collected, without violating the unbundling rules as long as the following conditions are met:

• The test is ordered by the patient's physician at least 14 days following the date of the patient's discharge from the hospital.

• The test could not reasonably have been ordered while the patient was hospitalized.

• The procedure performed while the beneficiary is a patient of the hospital is for purposes other than collection of the specimen needed for the test.

• The test is reasonable and medically necessary.

These conditions are consistent with the guidance in Chapter 16, sec 40.3 of the Claims Processing Manual, which states that “When the hospital obtains laboratory tests for outpatients under arrangements with clinical laboratories or other hospital laboratories, only the hospital can bill for the arranged services.”

In addition, Chapter 3 of the Program Integrity Manual contains instructions for additional documentation if further development of laboratory claims for pre-or postpay are required. Although we believe these changes will help to maintain beneficiary access to care, we are concerned about the potential for these policy changes creating inappropriate incentives in the development of technology and the implications for the unbundling of services. We solicit comment on the proposed changes and these concerns.

O. Proposal to Establish Criteria for National Certifying Bodies That Certify Advanced Practice Nurses

[If you choose to comment on issues in this section, please include the caption “Criteria for National Certifying Bodies-Advanced Practice Nurses” at the beginning of your comments.]

Federal regulatory qualifications for nurse practitioners (NPs) at 42 CFR 410.75 require that an individual be certified as an NP by a recognized national certifying body that has established standards for NPs. Similarly, Federal regulatory qualifications for clinical nurse specialists (CNSs) at 42 CFR 410.76 require that an individual be certified as a CNS by a national certifying body that has established standards for CNSs and that is approved by the Secretary.

Currently, there is not a list of recognized or approved national certifying bodies for NPs and CNSs in regulations. However, Chapter 15, section 200 of the Benefit Policy Manual, Pub. 100-02 contains a list of national certifying bodies that are recognized by Medicare as being appropriate for certification of NPs. Although the manual provision regarding CNS services at Chapter 15, section 210 of the Benefit Policy Manual lists only the American Nurses Credentialing Center as an approved national certifying body for CNSs, we indicated that the list of recognized certifying bodies in the manual provision for NP services would also apply for CNSs in the “Revisions to Payment Policies Under the CY 2003 Physician Fee Schedule and Inclusion of Registered Nurses in the Personnel Provision of the Critical Access Hospital Emergency Services Requirement for Frontier Areas and Remote Locations; Payment Policies final rule (December 31, 2002, 67 FR 79987). The national certifying bodies that are listed under the manual instruction at section 200, and that currently apply for both NPs and CNSs (collectively, advanced practice nurses) are as follows:

• American Academy of Nurse Practitioners;

• American Nurses Credentialing Center;

• National Certification Corporation for Obstetric, Gynecologic and Neonatal Nursing Specialties;

• National Certification Board of Pediatric Nurse Practitioners and Nurses;

• Oncology Nurses Certification Corporation;

• Critical Care Certification Corporation.

In the December 31, 2002 final rule, in response to a public comment, we stated, “it is not the agency's intention to be overly restrictive in our program requirements and consequently prevent qualified CNSs who specialize in areas of medicine other than those certified by the American Nurses Credentialing Center (ANCC) from participating under the CNS benefit and from rendering care to patients in need of specialized services. Furthermore, the intent of the revision to the certification requirement for CNSs is to recognize all appropriate national certifying bodies for CNSs as the program does for NPs.” Accordingly, in an effort to recognize all appropriate national certifying bodies for CNSs and NPs, we added, at that time, the Oncology Nurses Certification Corporation (ONCC) and the Critical Care Certification Corporation (CCCC) to the list of recognized national certifying bodies for advanced practice nurses.

The National Board on Certification of Hospice and Palliative Care Nurses (NBCHPN) has requested that we now follow the same course of action as we did for the ONCC and the CCCC by adding its name to the list of recognized national certifying bodies. That is, NBCHPN believes that it is an appropriate national certifying body based on its certification experience, principles, services, and the certification exam that it administers to advanced practice nurses who specialize in palliative care for hospice patients.

The NBCHPN stated in information it sent to the agency that its organization is a well-established certification body with more than 12-years history of certification and that it has been certifying advanced practice hospice and palliative nurses since 2003 in partnership with the ANCC. Starting in 2005, the NBCHPN became sole proprietor of the Advanced Certified Hospice and Palliative Nurse (ACHPN) examination. Master's level nurse practitioners and clinical nurse specialists sit for this ACHPN examination that is based on a role delineation study for the advanced practice level of hospice and palliative nursing. Additionally, the NBCHPN stated that it has met the requirements of the American Board of Nursing Specialties and is an active member of the Board of Specialties, as is the ANCC. The Executive Director of the NBCHPN stated that she believes that the absence of the NBCHPN from the current list of recognized national certifying bodies presents a barrier for advanced practice nurses in the hospice palliative care specialty because they are denied enrollment on the basis that they do not meet the certification qualification requirement. The Web site for the NBCHPN can be found at www.nbchpn.com.

We are soliciting public comments on whether it would be appropriate to include the NBCHPN under the list of recognized and approved national certifying bodies for NPs and CNSs under manual instructions for both NPs and CNSs. We are also soliciting public comments on criteria or standards that we could use to determine whether an organization is an appropriate national certifying body for advanced practice nurses. CMS realizes that the agency may receive other requests in the future from organizations that wish to be to be added to the list of recognized or approved national certifying bodies. In anticipation of those requests, the agency is interested in developing certification standards that would facilitate the process for making these decisions.

P. Chiropractic Services Demonstration

[If you choose to comment on issues in this section, please include the caption “Chiropractic Services Demonstration” at the beginning of your comments.]

In the FY 2006 PFS final rule (November 21, 2005), we included a discussion of the 2-year demonstration authorized by section 651 of the MMA to evaluate the feasibility and advisability of covering chiropractic services under Medicare. These services extend beyond the current coverage for manipulation to care for neuromusculoskeletal conditions typical among eligible beneficiaries, and cover diagnostic and other services that a chiropractor is legally authorized to perform by the State or jurisdiction in which the treatment is provided. The demonstration is being conducted in four sites, two rural and two urban. The demonstration must be budget neutral as the statute requires the Secretary to ensure that the aggregate payment made under the Medicare program does not exceed the amount which would be paid in the absence of the demonstration.

Ensuring budget neutrality requires that the Secretary develop a strategy for recouping funds should the demonstration result in costs higher than those that would occur in the absence of the demonstration. As we stated in the FY 2006 PFS, we would make adjustments in the national chiropractor fee schedule to recover the costs of the demonstration in excess of the amount estimated to yield budget neutrality. We will assess budget neutrality by determining the change in costs based on a pre/post comparison of costs and the rate of change for specific diagnoses that are treated by chiropractors and physicians in the demonstration sites and control sites. We will not limit our analysis to reviewing only chiropractor claims, because the costs of the expanded chiropractor services may have an impact on other Medicare costs.

Any needed reduction would be made in the 2010 and 2011 physician fee schedules as it will take approximately 2 years to complete the claims analysis. If we determine that the adjustment for budget neutrality is greater than 2 percent of spending for the chiropractor fee schedule codes (comprised of the 3 currently covered CPT codes 98940, 98941, and 98942), we would implement the adjustment over a 2-year period. However, if the adjustment is less than 2 percent of spending under the chiropractor fee schedule codes, we would implement the adjustment over a 1-year period. We will include the detailed analysis of budget neutrality and the proposed offset during the 2009 rulemaking process. PT services performed by chiropractors under the demonstration are subject to the PT therapy cap. These services are included under the cap because chiropractors are subject to the same rules as medical doctors for therapy services under the demonstration.

Q. Promoting Effective Use of Health Information Technology (HIT)

(If you choose to comment on issues in this section, please include the caption “Promoting Effective Use of HIT” at the beginning of your comment.)

We recognize the potential for health information technology (HIT) to facilitate improvements in the quality and efficiency of health care services. One recent RAND study found that broad adoption of electronic health records could save more than $81 billion annually and, at the same time, improve quality of care.¹ The largest potential savings that the study identified was in the hospital setting because of shorter hospital stays promoted by better coordinated care; less nursing time spent on administrative tasks; better use of medications in hospitals; and better utilization of drugs, laboratory services, and radiology services in hospital outpatient settings. The study also identified potential quality gains through enhanced patient safety, decision support tools for evidence-based medicine, and reminder mechanisms for screening and preventive care. Despite these large potential benefits, the study found that only about 20 to 25 percent of hospitals have adopted HIT systems.

¹ RAND News Release: Rand Study Says Computerizing Medical Records Could Save $81 Billion Annually and Improve the Quality of Medical Care, September 14, 2005, available at http://rand.org/news/press.05/09.14.html.

It is important to note the caveats to the RAND study. The projected savings are across the health care sector, and any Federal savings would be a reduced percentage. In addition, there are significant assumptions made in the RAND study. National savings are projected in some cases based on one or two small studies. Also, the study assumes patient compliance, in the form of participation in disease management programs and following medical advice. For these reasons, extreme caution should be used in interpreting these results.

In summary, there are mixed signals about the potential of HIT to reduce costs. Some studies have indicated that HIT adoption does not necessarily lead to lower costs and improved quality. In addition, some industry experts have stated that factors such as an aging population, medical advances, and increasing provider expenses would make any projected savings impossible.

In his 2004 State of the Union Address, the President announced a plan to ensure that most Americans have electronic health records within 10 years.² One part of this plan involves developing voluntary standards and promoting the adoption of interoperable HIT systems that use these standards. The 2007 Budget states that “The Administration supports the adoption of health information technology (IT) as a normal cost of doing business to ensure patients receive high quality care.”

² Transforming Health Care: The President's Health Information Technology Plan, available at: http://www.whitehouse.gov/infocus/technology/economic_policy200404/chap3.html.

Over the past several years, we have undertaken several activities to promote the adoption and effective use of HIT in coordination with other Federal agencies and with the Office of the National Coordinator for Health Information Technology. One of those activities is promotion of data standards for clinical information, as well as for claims and administrative data.

As noted above, the Administration supports the adoption of HIT as a normal cost of doing business. The adoption and use of HIT may contribute to improved processes and outcomes of care, including shortened illnesses and the avoidance of adverse drug reactions.

R. Health Care Information Transparency Initiative

(If you choose to comment on issues in this section, please include the caption “Health Care Information Transparency Initiative” at the beginning of your comment.)

The United States (U.S.) faces a dilemma in health care. Although the rate of increase in health care spending slowed last year, costs are still growing at an unsustainable rate. The U.S. spends $1.9 trillion on health care, or 16 percent of the gross domestic product (GDP). By 2015, projections are that health care will consume 20 percent of GDP. As indicated in the 2006 Annual Report of the Boards of Trustees, the Medicare program alone consumes 3.2 percent of the GDP and by 2040, it will consume 8.0 percent of the GDP.

Part of the reason health care costs are rising so quickly is that most consumers of health care—the patients—are frequently not aware of the actual cost of their care. Health insurance shields them from the full cost of services, and they have only limited information about the quality and costs of their care. Consequently, consumers do not have the incentive or means to carefully shop for providers offering the best value. Thus, providers of care are not subject to the competitive pressures that exist in other markets for offering quality services at the best possible price. Reducing the rate of increase in health care prices and avoiding health services of little value could help to stem the growth in health care spending, and potentially reduce the number of individuals who are unable to afford health insurance. Part of the President's health care agenda is to expand Health Savings Accounts (HSAs), which would provide consumers with greater financial incentives to compare providers in terms of price and quality, and choose those that offer the best value.

In order to exercise those choices, consumers must have accessible and useful information on the price and quality of health care items and services. Typically, health care providers do not publicly quote or publish their prices. Moreover, list prices, or charges, generally differ from the actual prices negotiated and paid by different health plans. Thus, even if consumers were financially motivated to shop for the best price, it would be very difficult at the current time for them to access usable information.

For these reasons, DHHS is launching a major health care information transparency initiative in 2006. This effort builds on steps taken by CMS to make quality and price information available. For example, Medicare has provided unprecedented information about drug prices in the Medicare drug benefit, and is now adding to these efforts in other areas. Medicare payment information for common elective procedures and other common admissions for all hospitals by county has been posted on our Web site at: http://www.cms.hhs.gov/HealthCareConInit/01 Overview.asp#TopOfP.

We will post geographically-based Medicare payment information for common elective procedures for ambulatory surgery centers this summer and for common hospital outpatient and physician services this fall.

In addition, a number of tools providing usable healthcare information are already available to Medicare beneficiaries. Supported by the public-private quality alliances, consumers can access “Compare” Web sites through www.medicare.gov where they can evaluate important aspects of their health care options for care at a hospital, nursing home, home health agency, and dialysis facility, as well as compare their costs and coverage when choosing a prescription drug plan.

We are developing a project with the goals of providing more comprehensive information on quality and costs, including more complete measures of health outcomes, satisfaction, and volume of services that matter to consumers, and more comprehensive measures of costs for entire episodes of care, not just payments for particular services and admissions. We intend for the project to combine public and private health care data to measure cost and quality of care information at the physician and hospital levels. Quality, cost, pricing, and patient information will be reported to consumers and purchasers of health care in a meaningful and transparent way.

III. Collection of Information Requirements

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

We are soliciting public comment on each of these issues for the following sections of this document that contain information collection requirements:

Section 410.33 Independent Diagnostic Testing Facility

Section 410.33(e)(1) imposes a recordkeeping requirement on multi-state entities. Specifically, an independent diagnostic testing facility (IDTF) that operates across State boundaries must maintain documentation that its supervising physicians and technicians are licensed and certified in each of the States in which it operates. The burden associated with this requirement is the time and effort it takes the IDTF to collect and maintain the aforementioned information.

While subject to the PRA, we believe this information collection requirement is exempt as defined in 5 CFR 1320.3(b)(2), because the time, effort, and financial resources necessary to comply with the requirement would be incurred by persons in the normal course of their activities (for example, in compiling and maintaining business records) and is considered to be usual and customary.

Section 410.33(g) discusses the application certification standards that an IDTF must meet. An IDTF must complete an enrollment application and certify the information contained in the application. The certification is part of an application that is subject to the PRA. The burden associated with this requirement is the time and effort necessary to complete the application. This requirement is currently approved in OMB No. 0938-0685, with a current expiration date of April 30, 2009.

If you comment on these information collection and recordkeeping requirements, please mail copies directly to the following:

Centers for Medicare & Medicaid Services, Office of Strategic Operations and Regulatory Affairs, Regulations Development Group, Attn: William N. Parham, III, [CMS-1321-P], Room C4-26-05, 7500 Security Boulevard, Baltimore, MD 21244-1850; and

Office of Information and Regulatory Affairs, Office of Management and Budget, Room 10235, New Executive Office Building, Washington, DC 20503, Attn: Carolyn Lovett, CMS Desk Officer, [CMS-1321-P], carolyn_lovett@omb.eop.gov. Fax (202) 395-6974.

IV. Response to Comments

Because of the large number of public comments we normally receive on Federal Register documents, we are not able to acknowledge or respond to them individually. We will consider all comments we receive by the date and time specified in the DATES section of this preamble, and, when we proceed with a subsequent document, we will respond to the comments in the preamble to that document.

V. Regulatory Impact Analysis

[If you choose to comment on issues in this section, please include the caption “IMPACT” at the beginning of your comments.]

We have examined the impact of this rule as required by Executive Order 12866 (September 1993, Regulatory Planning and Review), the Regulatory Flexibility Act (RFA) (September 19, 1980 Pub. L. 96-354), section 1102(b) of the Social Security Act, the Unfunded Mandates Reform Act of 1995 (Pub. L. 104-4), and Executive Order 13132.

Executive Order 12866 (as amended by Executive Order 13258, which merely reassigns responsibilities of duties) directs agencies to assess all costs and benefits of available regulatory alternatives and, when regulation is necessary, to select regulatory approaches that maximize net benefits (including potential economic, environmental, public health and safety effects, distributive impacts, and equity). A regulatory impact analysis must be prepared for proposed rules with economically significant effects (that is, a proposed rule that would have an annual effect on the economy of $100 million or more in any one year, or would adversely affect in a material way the economy, a sector of the economy, productivity, competition, jobs, the environment, public health or safety, or State, local, or tribal governments or communities). As indicated in more detail below, we estimate that the PFS provisions included in this proposed rule will redistribute more than $100 million in one year. We are considering this proposed rule to be economically significant because its provisions are estimated to result in an increase, decrease or aggregate redistribution of Medicare spending that will exceed $100 million. Therefore, this proposed rule is a major rule and we have prepared a regulatory impact analysis.

The RFA requires that we analyze regulatory options for small businesses and other entities. We prepare a regulatory flexibility analysis unless we certify that a rule would not have a significant economic impact on a substantial number of small entities. The analysis must include a justification concerning the reason action is being taken, the kinds and number of small entities the rule affects, and an explanation of any meaningful options that achieve the objectives with less significant adverse economic impact on the small entities.

Section 1102(b) of the Act requires us to prepare a regulatory impact analysis for any proposed rule that may have a significant impact on the operations of a substantial number of small rural hospitals. This analysis must conform to the provisions of section 603 of the RFA. For purposes of section 1102(b) of the Act, we define a small rural hospital as a hospital that is located outside a Metropolitan Statistical Area and has fewer than 100 beds. We have determined that this proposed rule would have minimal impact on small hospitals located in rural areas. Of the 222 hospital-based ESRD facilities located in rural areas, only 40 are affiliated with hospitals with fewer than 100 beds.

For purposes of the RFA, physicians, nonphysician practitioners, and suppliers are considered small businesses if they generate revenues of $6 million or less. Approximately 95 percent of physicians are considered to be small entities. There are about 980,000 physicians, other practitioners and medical suppliers that receive Medicare payment under the PFS.

For purposes of the RFA, approximately 80 percent of clinical diagnostic laboratories are considered small businesses according to the Small Business Administration's size standards.

In addition, most ESRD facilities are considered small entities, either based on nonprofit status or by having revenues of $29 million or less in any year. We consider a substantial number of entities to be affected if the proposed rule is estimated to impact more than 5 percent of the total number of small entities. Based on our analysis of the 927 nonprofit ESRD facilities considered small entities in accordance with the above definitions, we estimate that the combined impact of the proposed changes to payment for renal dialysis services included in this proposed rule would have a 0.9 percent increase in overall payments relative to current overall payments.

IDTFs are suppliers under the Medicare program. For purposes of the RFA, suppliers with annual sales of $6 million or less are considered to be small entities. (Individuals and States are not included in the definition of a small entity.) We believe that our proposed standards for IDTFs will help bar fraudulent suppliers from participating in the Medicare program and provide an added level of protection to Medicare beneficiaries. Therefore, we expect to have an impact on an unknown number of persons and entities who will effectively be prevented from practicing their aberrant billing activities. The vast majority of suppliers would not be significantly affected by this proposed rule. The reduction in program overpayments and the added level of protection to beneficiaries that we expect to achieve as a result of this proposed rule justifies the relatively small burden this proposed rule would impose on all small entities.

The analysis and discussion provided in this section, as well as elsewhere in this proposed rule, complies with the RFA requirements.

Section 202 of the Unfunded Mandates Reform Act of 1995 also requires that agencies assess anticipated costs and benefits before issuing any rule that may result in expenditures in any year by State, local, or tribal governments, in the aggregate, or by the private sector, of $120 million. Medicare beneficiaries are considered to be part of the private sector for this purpose.

We have examined this proposed rule in accordance with Executive Order 13132 and have determined that this regulation would not have any significant impact on the rights, roles, or responsibilities of State, local, or tribal governments. A discussion concerning the impact of this rule on beneficiaries is found later in this section.

We have prepared the following analysis, which, together with the information provided in the rest of this preamble, meets all assessment requirements. The analysis explains the rationale for and purposes of this proposed rule; details the costs and benefits of the rule; analyzes alternatives; and presents the measures we propose to use to minimize the burden on small entities. As indicated elsewhere in this proposed rule, we propose to change our methodology for calculating resource-based PE RVUs and make a variety of other changes to our regulations, payments, or payment policies to ensure that our payment systems reflect changes in medical practice and the relative value of services. We provide information for each of the policy changes in the relevant sections of this proposed rule. We are unaware of any relevant Federal rules that duplicate, overlap or conflict with this proposed rule. The relevant sections of this proposed rule contain a description of significant alternatives if applicable.

A. Resource Based PE RVU Proposals for CY 2007 and Section 5102 of the DRA-Proposed Adjustments for Payments for Imaging Services

As required by section 5102(a) of the DRA and described earlier in section II.E.1. of this proposed rule, we are removing, from the PE RVUs under the PFS the 0.3 percent increase made to the PE RVUs in the CY 2006 PFS final rule with comment period to ensure the budget neutrality of the impact of the multiple imaging policy adopted for CY 2006. Section 5102(a) of the DRA exempts the CY 2006 and 2007 impact of the multiple imaging policy from budget neutrality. Because we are proposing to maintain the current 25 percent payment reduction for multiple imaging procedures in CY 2007, there is no additional impact resulting from our proposals for CY 2007. Section 5102 of the DRA also exempts the estimated savings from the application of the OPPS-based payment limitation on PFS imaging services from the PFS budget neutrality requirement. We estimate that the combined impact of the budget neutrality exemptions in section 5102 of the DRA would reduce PFS expenditures by approximately 1.3 percent in CY 2007.

Table 7 below shows the specialty-level impact of section 5102 of the DRA and our most recent estimate (−5.1 percent) of the CY 2007 Medicare PFS update. For reference purposes, we have also included the specialty-level impacts using the methodology from the separate June 29, 2006 proposed notice (71 FR 37170), which solicited comments on proposed changes to the PE methodology as well as changes to work RVUs for certain services based on the agency's completion of a five-year review of work RVUs. The CY 2007 impact of the PE input changes described in section II.A. of this proposed rule that were not included in the June 29, 2006 proposed notice are minimal at the specialty level. Additionally, the impacts in this proposed rule reflect the use of updated physician time data from the AMA-RUC.

Our estimates of changes in Medicare revenues for PFS services compare payment rates for CY 2006 with proposed payment rates for CY 2007 using CY 2005 Medicare utilization for all years. We are using CY 2005 Medicare claims processed and paid through March 30, 2005, that we estimate are 98 percent complete. To the extent that there are year-to-year changes in the volume and mix of services provided by physicians, the actual impact on total Medicare revenues will be different than those shown here. The payment impacts reflect averages for each specialty based on Medicare utilization. The payment impact for an individual physician would be different from the average, based on the mix of services the physician provides. The average change in total revenues would be less than the impact displayed here because physicians furnish services to both Medicare and non-Medicare patients and specialties may receive substantial Medicare revenues for services that are not paid under the PFS. For instance, independent laboratories receive approximately 80 percent of their Medicare revenues from clinical laboratory services that are not paid under the PFS.

Table 7 shows only the payment impact on PFS services. The following is an explanation of the information represented in Table 7:

• Specialty—The physician specialty or type of practitioner/supplier.

• Allowed Charges—Allowed charges are the Medicare Fee Schedule amounts for covered services and include copayments and deductibles (which are the financial responsibility of the beneficiary.) These amounts have been summed across all services provided by physicians, practitioners, or suppliers with a specialty to arrive at the total allowed charges for the specialty.

• Impact of Work and PE RVU Changes using the June 29, 2006 proposed notice methodology—For references purposes, the combined CY 2007 percentage increase or decrease in allowed charges attributed to changes in the work and PE RVUs described in and republished from the June 29, 2006 proposed notice methodology.

• Impact of section 5102 of the DRA—The CY 2007 percentage decrease in allowed charges attributed to section 5102 of the DRA.

• Combined impact of the June 29, 2006 proposed notice methodology and section 5102 of the DRA.

• CY 2007 Update—The percentage decrease in allowed charges attributed to the most recent estimate of the CY 2007 PFS conversion factor update (−5.1 percent).

• Combined impact with CY 2007 update—The CY 2007 percentage decrease in allowed charges attributed to the June 29, 2006 proposed notice methodology, section 5102 of the DRA, and the CY 2007 update.

Table 8 below shows the impact on total payments for selected high-volume procedures of all of the changes previously discussed. We selected these procedures because they are the most commonly provided by a broad spectrum of physician specialties. There are separate columns that show the change in the facility rates and the nonfacility rates. For an explanation of facility and nonfacility PE refer to Addendum A of this proposed rule. If we change any of the proposed provisions following the consideration of public comments, these figures may change.

B. Geographic Practice Cost Indices (GPCI)—Payment Localities

As discussed in section II.B. of the preamble to this proposed rule, we are proposing new GPCIs for 2007. In the November 15, 2004 PFS final rule, we published 2005 and 2006 GPCI and GAF values reflecting the 2 year phase-in of updated GPCI data. In 2007, the proposed GPCI and GAF values will reflect new budget neutrality scalers (developed by the Office of the Actuary) and the removal of the 1.000 MMA floor from the physician work GPCI. The negative impact of these changes on a number of payment localities is shown in 4 of section II.B. in this proposed rule.

C. Global Period for Remote Afterloading High Intensity Brachytherapy Procedures

As discussed in section II.D.1. of this proposed rule, we are proposing changes to the global period for these services. We do not anticipate this proposed change will have a significant impact on Medicare expenditures.

D. DRA 5112—Proposed Addition of the Ultrasound Screening for Abdominal Aortic Aneurysm to Welcome to Medicare Benefit

As discussed earlier in section II.E.3. of this preamble, section 5112 of the DRA authorizes coverage of an ultrasound screening for abdominal aortic aneurysms effective January 1, 2007, subject to certain eligibility and other limitations. We estimate that this new benefit would result in an increase in Medicare expenditures to physicians and other practitioners and suppliers of ultrasound services and related follow-up tests and treatment that may be required as a result of the coverage of these screening examinations. However, this is not expected to have a significant cost impact on the Medicare program.

E. DRA 5113—Proposed Colorectal Screening Exemption From Part B Deductible

As discussed earlier in section II.E.4. of this preamble, beginning January 1, 2007, colorectal cancer screening services as described in section 1861(pp)(1) of the Act are no longer subject to the Part B deductible. While waiver of this deductible will be beneficial to Medicare beneficiaries, we do not anticipate that this change will have a significant cost impact on the Medicare program.

F. Section 5114—Proposed Addition of Diabetes Outpatient Self-Management Training Services (DSMT) and Medical Nutrition Therapy (MNT) for the FQHC Program

As discussed earlier in section E.4. of this preamble, section 5114 of the DRA amended section 1861(aa)(3) the Act to add DSMT and MNT to the list of Medicare covered and reimbursed services under the Medicare FQHC benefit, effective for services provided on or after January 1, 2006. Although this statutory change has already been implemented in administrative instructions, we are proposing to conform the regulations to meet the new statutory requirement. FQHCs certified as DSMT and MNT providers have been allowed to bundle the cost of those services into their FQHC payment rates. But before the enactment of the DRA, the provision of these services would not generate a separate FQHC visit payment. Effective for services furnished on or after January 1, 2006, FQHCs that are certified providers of DSMT and MNT services can receive per visit payments for covered services furnished by registered dietitians or nutrition professionals. In light of the fact there are a limited number of qualified centers for DSMT and MNT services, the increase in Medicare expenditures should be negligible.

G. Proposed Payment for Covered Outpatient Drugs and Biologicals (ASP Issues)

The proposed changes discussed in section II.F. of this proposed rule, with respect to payment for covered outpatient drugs and biologicals, are estimated to have no impact on Medicare expenditures. However, we believe the changes will assist in clarifying existing policy with respect to ASP payment.

H. Proposed Provisions Related to Payment for Renal Dialysis Services Furnished by End State Renal Disease (ESRD) Facilities

The ESRD related provisions in this proposed rule are discussed in section II.G. of this preamble. In order to understand the impact of the proposed changes affecting payments to different categories of ESRD facilities, it is necessary to compare estimated payments under the current year (current 2006 payments) to estimated payments under the proposed revisions to the composite rate payment system as discussed in II.G. of this proposed rule (proposed 2007 payments). To estimate the impact among various classes of ESRD facilities, it is imperative that the estimates of current payments and proposed payments contain similar inputs. Therefore, we simulated payments only for those ESRD facilities that we are able to calculate both current 2006 payments and proposed 2007 payments.

Due to data limitations, we are unable to estimate current and proposed payments for 226 facilities that bill for ESRD dialysis treatments. ESRD providers were grouped into the categories based on characteristics provided in the Online Survey and Certification and Reporting (OSCAR) file and the most recent cost report data from the Healthcare Cost Report Information System (HCRIS). We also used the December 2005 update of CY 2005 National Claims History file as a basis for Medicare dialysis treatments and separately billable drugs and biologicals. While the December 2005 update of the 2005 claims file is not complete, we wanted to use the most recent data available, and plan to use an updated version of the 2005 claims file for the final rule.

BILLING CODE 4120-01-P

Table 9 above shows the impact of this year's proposed changes to CY 2007 payments to hospital-based and independent ESRD facilities. The first column of Table 9 identifies the type of ESRD provider, the second column indicates the number of ESRD facilities for each type, and the third column indicates the number of dialysis treatments.

The fourth column shows the effect of CY 2007 proposed changes to the ESRD wage index as it affects the composite rate payments to ESRD facilities. The fourth column compares aggregate ESRD wage adjusted composite rate payments in the second year of the transition (CY 2007) to aggregate ESRD wage adjusted composite rate payments in first year of the transition (CY 2006). In the second year of the transition (CY 2007), ESRD facilities receive 50 percent of the CBSA wage adjusted composite rate and 50 percent of the MSA adjusted composite rate. In the first year of the transition, ESRD facilities receive 25 percent of the CBSA wage adjusted composite rate and 75 percent of the MSA adjusted composite rate. The overall effect to all ESRD providers in aggregate is zero because the proposed CY 2007 ESRD wage index has been multiplied by a budget neutrality factor to comply with the statutory requirement that any wage index revisions be done in a manner that results in the same aggregate amount of expenditures as would have been made without any changes in the wage index. The decreases shown among census regions is primarily due to reducing the wage index floor, as there were areas in these areas with wage index values below the proposed floor.

The fifth column shows the overall effect of the proposed changes in composite rate payments to ESRD providers. The overall effect is measured as the difference between CY 2007 proposed payment with all changes as proposed in this rule and CY 2006 current payment. This amount is computed by multiplying the wage adjusted composite rate with the drug add-on for each provider times dialysis treatments from 2005 claims. The CY 2007 proposed payment is transition year two wage adjusted composite rate for each provider (with the proposed 15.2 percent drug add-on) times dialysis treatments from 2005 claims. The CY 2006 current payment is transition year one wage adjusted composite rate for each provider (with the current 14.5 percent drug add on) times dialysis treatments from 2005 claims.

The overall impact to ESRD providers in aggregate is 0.6 percent. This increase corresponds to the proposed 0.6 percent increase to the drug add-on. The variation seen in column 5 is due to variation in change in the wage index (column 4). All provider types receive the same 0.6 percent increase to the drug add on.

I. Private Contracts and Opt-Out Provision

The changes discussed in this proposed rule, with respect to private contracts and the opt-out provision, are currently estimated to have no significant impact on Medicare expenditures.

J. Proposals Related to Physician Self Referral Prohibitions

As discussed in section II.I of this proposed rule, we would clarify in regulations at § 424.80(d) under the contractual arrangement reassignment exception that, if a physician or other individual supplier reassigns his or her right to bill for the TC of a diagnostic test, the entity to which the reassignment is made may not be paid more than the physician or other individual supplier would have been paid for the TC. In addition, in order to bill for the TC of the diagnostic test, the entity to which the reassignment is made must perform the PC. We also propose that, in order to bill for the PC of a diagnostic test following a reassignment, the billing entity must meet current requirements in our manual instructions.

In addition, as discussed in section II.I., we also propose to revise §§ 424.80(b) and (d) to provide that a physician or other individual supplier who reassigns his or her right to benefits has a right to review the bills for his or her services, irrespective of whether the individual is an employee or an independent contractor of the entity to which the reassignment is made.

We also propose the following changes to the physician self-referral provisions:

• A “centralized building” for purposes of the physician services exception and the in-office ancillary services exception at §§ 411.355(a) and (b), respectively, would have to measure at least 350 square feet and include permanent placement of the equipment used in the provision of substantially all of the designated health services. We believe that these changes would have little effect on Medicare expenditures.

K. Supplier Access to Claims Billed on Reassignment

The reassignment provisions discussed in section II.J.2. of this preamble are currently estimated to have no significant impact on Medicare expenditures.

L. Proposed Coverage of Bone Mass Measurement

As discussed in section II.K. of this preamble, we have decided to propose several revisions to § 410.31 relative to the definition of the term “Bone Mass Measurement” (§ 410.31(a)(2)), the conditions for coverage (§ 410.31(b)), the examples of exceptions to the standards on frequency of coverage (§ 410.31(c)(2)), and the category of individuals receiving glucocorticoid (steroid) therapy (§ 410.31(d)(3)). We are also proposing the addition of a new paragraph (f) that would allow CMS, through the NCD process, to identify additional BMM systems for monitoring individuals receiving osteoporosis drug therapy and for performing confirmatory baseline measurements. We do not expect that this addition would have a significant cost impact on the Medicare program in the next several years.

Based on the projected impact of the first three changes that would place greater reliance on the use of the more expensive DXA (axial skeleton) devices, we estimate that this revised benefit would result in an increase in Medicare payments for providers who use the DXA (axial skeleton) devices and a somewhat smaller decrease in payments to providers who use QCT (axial skeleton) and peripheral devices. However, we do not expect that these changes would have a significant cost impact on the Medicare program due to the fact that at present a very small percentage of our total Medicare payments for bone mass measurements are being made to providers who use QCT or peripheral devices. In addition, we estimate that lowering the eligibility standard for coverage of individuals on steroid therapy from 7.5 mg/day to 5.0 mg/day of prednisone (the fourth change) would result in an increase in Medicare payment for testing of additional patients, but this modest lowering of the steroid standard is not expected to have a significant cost impact on the program.

M. Proposed IDTF Changes

The costs associated with these proposed changes would be as follows:

1. Liability Insurance Requirement (§ 424.57(c)(10))

We estimate that only 10 percent of IDTFs do not already have liability insurance that meets this requirement. Based on Medicare data as of June 2005, 10 percent of the total number of IDTFs is approximately 559 suppliers. Using the previously highest estimate received ($1,800 annually), results in an approximate additional liability insurance cost of $1 million annually (559 times $1,800) to the IDTF industry due to this proposed rule.

2. Primary Business Telephone Listed Under the Name of the Business Locally or Toll-free for Beneficiaries Proposed Requirement (§ 424.57(c)(9))

We estimate that only 1 percent of IDTFs do not already meet this requirement. Based on Medicare data as of June 2005, we determined that 1 percent of IDTFs is approximately 56 suppliers. Therefore, 56 times the approximate $600 annual cost of telephone service results in an additional cost of $33,600 annually. Total Cost = $1 Million + $33,600 = approximately $1.04 million annually.

N. Independent Lab Billing for TC Component of Physician Pathology Services for Hospital Patients

The most current information on the number of affected hospitals and the impact on laboratories and hospitals comes from a report issued by the General Accounting Office (GAO) in September 2003.

The GAO estimated that approximately 95 percent of the total of all Medicare hospitals on the prospective payment system, as well as CAHs sent the TC of physician pathology services to independent laboratories and the independent laboratories billed the carrier under the PFS.

The GAO estimated that the median number of services sent by each hospital to outside independent laboratories was small, approximately 81 services. The GAO was unable to identify the number of laboratories billing for the TC service because a single laboratory may submit claims under multiple provider numbers. In general, the impact on the individual hospital is small; however, we do not know the impact on the individual independent laboratory

If the independent laboratories had not received payments from the carriers for these TC services for hospital patients, the GAO estimates that Medicare spending would have been $42 million less in 2001 and beneficiary cost sharing obligations for inpatient and outpatient services would have been reduced by $2 million.

Based on what they learned from the hospital industry, the GAO thought that Medicare beneficiaries' access to pathology services would not likely be affected if independent laboratories could not longer bill the carrier for these services. Hospital representatives indicated that they would likely continue to use independent laboratories to provide TC pathology services.

In is unclear if the hospitals contracting with independent laboratories would pay the laboratories at the same rates that the laboratories received by billing the Medicare carriers under the physician fee schedule.

O. Public Consultation for Medicare Payment for New Outpatient Clinical Diagnostic Laboratory Tests

This codification of our process for public consultation for new clinical diagnostic laboratory tests paid under the Medicare Part B clinical laboratory fee schedule, if adopted, would not increase or decrease payment amounts for existing clinical diagnostic laboratory tests because it would not alter our current methodology for calculating payment amounts for existing clinical diagnostic laboratory tests. For new tests, this proposal would primarily codify an existing process for the determination of payment amounts. Because any new laboratory tests to be gapfilled are unknown to us at the current time, we do not have any data to estimate the impact of our proposal to pay for new gapfilled lab tests at the median of the local carrier amounts for all carriers rather than the lower of that amount and the local carrier amount.

P. Alternatives Considered

This proposed rule contains a range of policies, including some proposals related to specific MMA provisions. The preamble provides descriptions of the statutory provisions that are addressed, identifies those policies when discretion has been exercised, presents rationale for our decisions and, where relevant, alternatives that were considered.

Q. Impact on Beneficiaries

There are a number of changes made in this proposed rule that would have an effect on beneficiaries. In general, we believe these proposed changes, particularly the DRA provisions that provide for an exception to the application of the Part B deductible with respect to colorectal cancer screening tests and coverage of an ultrasound screening for the early detection of AAAs, as part of the Initial Preventive Physical Examination benefit (referred to as the Welcome to Medicare benefit) would improve beneficiary access to services that are currently covered or expand the Medicare benefit package to include new services. As explained in more detail below, the regulatory provisions may affect beneficiary liability in some cases. Any changes in aggregate beneficiary liability from a particular provision would be a function of the coinsurance (20 percent if applicable for the particular provision after the beneficiary has met the deductible) and the effect of the aggregate cost (savings) of the provision on the calculation of the Medicare Part B premium rate (generally 25 percent of the provision's cost or savings).

To illustrate this point, as shown in Table 8, the 2006 national payment amount in the nonfacility setting for CPT code 99203 (Office/outpatient visit, new), is $97.02 which means that currently a beneficiary is responsible for 20 percent of this amount, or $19.40. Based on the June 29, 2006 proposed notice (71 FR 37170) and this proposed rule, the 2007 national payment amount in the nonfacility setting for CPT code 99203, as shown in Table 8, is $91.71 which means that, in 2007, the beneficiary coinsurance for this service would be $18.34.

Very few of the changes we are proposing impact overall payments and, therefore, would affect Medicare beneficiaries' coinsurance liability. Proposals discussed above that do affect overall spending, such as DRA 5102 imaging provisions, would similarly impact beneficiaries' coinsurance.

R. Accounting Statement

As required by OMB Circular A-4 (available at http://www.whitehouse.gov/omb/circulars/a004/a-4.pdf), in Table 10 below, we have prepared an accounting statement showing the classification of the expenditures associated with the provisions of this proposed rule. This table includes the impact of the proposed changes in this rule on providers and suppliers.

Expenditures are classified as transfers to Medicare providers/or suppliers (that is, ESRD facilities and physicians, other practitioners, clinical laboratories and medical suppliers that receive payment under the physician fee schedule or Medicare Part B). Based on the proposals contained in this proposed rule, there would be an estimated decrease in expenditures from CY 2006 to 2007. This is a result of the CY 2007 increased payment to ESRD facilities the reduction to the payments for imaging services under the PFS required by section 5102 of the DRA and the −5.1 percent Medicare PFS conversion factor update required by the statutory update formula.

Table 10.—Accounting Statement: Classification of Estimated Expenditures, From CY 2006 to the CY 2007 (in Millions)
Category | Transfers
Annualized Monetized Transfers | Estimated decrease in expenditures of $3,600
From Whom To Whom? | Federal Government To ESRD Medicare Providers; physicians, other practitioners and suppliers who receive payment under the Medicare Physician Fee Schedule; and Medicare Suppliers billing for Part B drugs.

In accordance with the provisions of Executive Order 12866, this final rule was reviewed by the Office of Management and Budget.

List of Subjects

42 CFR Part 405

Administrative practice and procedure, Health facilities, Health professions, Kidney diseases, Medical devices, Medicare, Reporting and recordkeeping requirements, Rural areas, X-rays.

42 CFR Part 410

Health facilities, Health professions, Kidney diseases, Laboratories, Medicare, Reporting and recordkeeping requirements, Rural areas, X-rays.

42 CFR Part 411

Kidney diseases, Medicare, Physician Referral, Reporting and recordkeeping requirements.

42 CFR Part 414

Administrative practice and procedure, Health facilities, Health professions, Kidney diseases, Medicare, Reporting and recordkeeping.

42 CFR Part 415

Health facilities, Health professions, Medicare, Reporting and recordkeeping requirements.

42 CFR Part 424

Emergency medical services, Health facilities, Health professions, Medicare, Reporting and recordkeeping requirements.

For the reasons set forth in the preamble, the Centers for Medicare & Medicaid Services proposes to amend 42 CFR chapter IV as set forth below:

PART 405—FEDERAL HEALTH INSURANCE FOR THE AGED AND DISABLED

1. The authority citation for part 405 continues to read as follows:

Authority: Secs. 1102, 1861, 1862(a), 1871, 1874, 1881, and 1886(k) of the Social Security Act (42 U.S.C. 1302, 1395x, 1395y(a), 1395hh, 1395kk, 1395rr, and 1395ww(k)), and sec. 353 of the Public Health Service Act (42 U.S.C. 263a).

Subpart D—Private Contracts

2. Section 405.400 is amended by revising the definition of “Practitioner” to read as follows:

§ 405.400 Definitions.

* * * * *

Practitioner means a physician assistant, nurse practitioner, clinical nurse specialist, certified registered nurse anesthetist, certified nurse midwife, clinical psychologist, clinical social worker, registered dietitian or nutrition professional, who is currently legally authorized to practice in that capacity by each State in which he or she furnishes services to patients or clients.

* * * * *

Subpart X—Rural Health Clinic and Federally Qualified Health Center Services Payment for Rural Health Clinic and Federally Qualified Health Center Services

3. Section 405.2446 is amended by adding paragraph (b)(10) to read as follows:

§ 405.2446 Scope of services.

* * * * *

(b) * * *

(10) Medical nutrition therapy services as specified in part 410, subpart G of this chapter, and diabetes outpatient self-management training services as specified in part 410, subpart H of this chapter.

* * * * *

4. Section 405.2463 is revised to read as follows:

§ 405.2463 What constitutes a visit.

(a) Visit—(1) General. (i) For RHCs, a visit is a face-to-face encounter between a clinic or center patient and a physician, physician assistant, nurse practitioner, nurse midwife, visiting nurse, clinical psychologist, or clinical social worker.

(ii) For FQHCs, a visit means—

(A) A face-to-face encounter, as described in paragraph (a)(1)(i) of this section; or

(B) A face-to-face encounter between a patient and a qualified provider of medical nutrition therapy services as defined in part 410, subpart G of this chapter; or a qualified provider of outpatient diabetes self-management training services as defined in part 410, subpart H of this chapter.

(2) Medical visit. For purposes of this section, a medical visit is a face-to-face encounter between a clinic or center patient and a physician, physician assistant, nurse practitioner, nurse midwife, or a visiting nurse; and for FQHCs only, a medical visit also includes a separately billable medical nutrition therapy visit or a diabetes outpatient self-management training visit.

(3) Other health visit. For purposes of this section, a other health visit is a face-to-face encounter between a clinic or center patient and a clinical psychologist, clinical social worker, or other health professional for mental health services.

(b) Encounters. Encounters with more than one health professional and multiple encounters with the same health professional that take place on the same day and at a single location constitute a single visit, except when one of the following conditions exist:

(1) After the first encounter, the patient suffers illness or injury requiring additional diagnosis or treatment.

(2) The patient has a medical visit and other health visit(s), as defined in paragraph (a) of this section.

(c) Payment. Medicare pays for more than one visit per day when the conditions in paragraph (b) of this section are met or a separate visit under paragraph (a)(1)(ii)(B) of this section is made.

PART 410—SUPPLEMENTARY MEDICAL INSURANCE (SMI) BENEFITS

5. The authority citation for part 410 continues to read as follows:

Authority: Secs. 1102, 1834, and 1871 of the Social Security Act (42 U.S.C. 1302, 1395m, and 1395hh).

Subpart B—Medical and Other Health Services

6. Section 410.16 is amended in paragraph (a) by revising paragraph (7) of the definition of “Initial preventive physical examination” to read as follows:

§ 410.16 Initial preventive physical examination: Conditions for and limitations on coverage.

(a) * * *

* * * * *

Initial preventive physical examination * * *

* * * * *

(7) Education, counseling, and referral, including a written plan such as a checklist provided to the beneficiary for obtaining the appropriate screening and other preventive services that are covered as separate Medicare Part B benefits as described in section 1861(s)(10), section 1861(jj), section 1861(nn), section 1861(oo), section 1861(pp), section 1861(qq)(1), section 1861(rr), section 1861(uu), section 1861(vv), section 1861(xx)(1), section 1861(yy), and section 1861(bbb) of the Act.

* * * * *

7. A new § 410.19 is added to read as follows:

§ 410.19 Ultrasound screening for abdominal aortic aneurysms: Condition for and limitation on coverage.

(a) Definitions: As used in this section, the following definitions apply:

Eligible beneficiary means an individual who—

(1) Has received a referral for an ultrasound screening for an abdominal aortic aneurysm as a result of an initial preventive physical examination (as defined in section 1861(ww)(1) of the Act);

(2) Has not been previously furnished an ultrasound screening for an abdominal aortic aneurysm under the Medicare program; and

(3) Is included in at least one of the following risk categories:

(i) Has a family history of an abdominal aortic aneurysm.

(ii) Is a man age 65 to 75 who has smoked at least 100 cigarettes in his lifetime.

(iii) Is an individual who manifests other risk factors in a beneficiary category recommended for screening by the United States Preventive Services Task Force regarding abdominal aortic aneurysms, as specified by the Secretary through a national coverage determination process.

Ultrasound screening for abdominal aortic aneurysms means the following services furnished to an asymptomatic individual for the early detection of an abdominal aortic aneurysm:

(1) A procedure using soundwaves (or other procedures using alternative technologies of commensurate accuracy and cost, as specified by the Secretary through a national coverage determination process) provided for the early detection of abdominal aortic aneurysms.

(2) Includes a physician's interpretation of the results of the procedure.

(b) Conditions for coverage of an ultrasound screening for abdominal aortic aneurysms. Medicare Part B pays for one ultrasound screening for an abdominal aortic aneurysm provided to eligible beneficiaries, as described in this section, after a referral from a physician or a qualified nonphysician practitioner as defined in § 410.16(a).

(c) Limitation on coverage of ultrasound screening for abdominal aortic aneurysms. Payment may not be made for an ultrasound screening for an abdominal aortic aneurysm that is performed for an individual who is not an eligible beneficiary, as described in the definition of “Eligible beneficiary” in this section.

8. Section 410.31 is revised to read as follows:

§ 410.31 Bone mass measurement: Conditions for coverage and frequency standards.

(a) Definition. As used in this section unless specified otherwise, the following definition applies:

Bone mass measurement means a radiologic, radioisotopic, or other procedure that meets the following conditions:

(1) Is performed for the purpose of identifying bone mass, detecting bone loss, or determining bone quality.

(2) Is performed with either a bone densitometer (other than single-photon or dual-photon absorptiometry) or with a bone sonometer system that has been cleared for marketing for this use by the FDA under 21 CFR part 807, or approved for marketing by the FDA for this use under 21 CFR part 814.

(3) Includes a physician's interpretation of the results of the procedure.

(b) Conditions for coverage. (1) Medicare covers a medically necessary bone mass measurement if the following conditions are met:

(i) Following an evaluation of the beneficiary's need for the measurement, including a determination as to the medically appropriate procedure to be used for the beneficiary, it is ordered by the physician or a qualified nonphysician practitioner (as these terms are defined in § 410.32(a)) treating the beneficiary.

(ii) It is performed under the appropriate level of supervision of a physician (as set forth in § 410.32(b)).

(iii) It is reasonable and necessary for diagnosing and treating the condition of a beneficiary who meets the conditions described in paragraph (d) of this section.

(2) Medicare covers a medically necessary bone mass measurement for an individual defined under paragraph (d)(5) of this section if the conditions under paragraph (b)(1) of this section are met and the monitoring is performed by the use of a dual energy x-ray absorptiometry system (axial skeleton).

(3) Medicare covers a medically necessary confirmatory baseline bone mass measurement for an individual defined under paragraph (d) of this section, if the conditions under paragraph (b)(1) of this section are met and the confirmatory baseline bone mass measurement is performed by a dual energy x-ray absorptiometry system (axial skeleton) and the initial measurement was not performed by a dual energy x-ray absorptiometry system (axial skeleton).

(c) Standards on frequency of coverage —(1) General rule. Except as allowed under paragraph (c)(2) of this section, Medicare may cover a bone mass measurement for a beneficiary if at least 23 months have passed since the month the last bone mass measurement was performed.

(2) Exception. If medically necessary, Medicare may cover a bone mass measurement for a beneficiary more frequently than allowed under paragraph (c)(1) of this section. Examples of situations where more frequent bone mass measurement procedures may be medically necessary include, but are not limited to the following medical circumstances.

(i) Monitoring beneficiaries on long-term glucocorticoid (steroid) therapy of more than 3 months.

(ii) Allowing for a confirmatory baseline measurement to permit monitoring of beneficiaries in the future if the requirements of paragraph (b)(3) of this section are met.

(d) Beneficiaries who may be covered. The following categories of beneficiaries may receive Medicare coverage for a medically necessary bone mass measurement:

(1) A woman who has been determined by the physician (or a qualified nonphysician practitioner) treating her to be estrogen-deficient and at clinical risk for osteoporosis, based on her medical history and other findings.

(2) An individual with vertebral abnormalities as demonstrated by an x-ray to be indicative of osteoporosis, osteopenia, or vertebral fracture.

(3) An individual receiving (or expecting to receive) glucocorticoid (steroid) therapy equivalent to an average of 5.0 mg of prednisone, or greater, per day for more than 3 months.

(4) An individual with primary hyperparathyroidism.

(5) An individual being monitored to assess the response to or efficacy of an FDA-approved osteoporosis drug therapy.

(e) Denial as not reasonable and necessary. If CMS determines that a bone mass measurement does not meet the conditions for coverage in paragraphs (b) or (d) of this section, or the standards on frequency of coverage in paragraph (c) of this section, it is excluded from Medicare coverage as not “reasonable” and “necessary” under section 1862(a)(1)(A) of the Act and § 411.15(k) of this chapter.

(f) Use of the National Coverage Determination Process. For the purposes of paragraphs (b)(2) and (b)(3) of this section, CMS may determine through the National Coverage Determination process that additional bone mass measurement systems are reasonable and necessary under section 1862(a)(1) of the Act for monitoring and confirming baseline bone mass measurements.

* * * * *

9. Section 410.33 is amended by—

A. Revising paragraph (b)(1).

B. Revising paragraph (e).

C. Adding paragraphs (g), (h), and (i).

The revision and additions read as follows:

§ 410.33 Independent diagnostic testing facility.

* * * * *

*

(b) Supervising physician. (1) Each supervising physician must be limited to providing supervision to no more than three (3) IDTF sites. The IDTF supervising physician is responsible for the overall operation and administration of the IDTFs, including the employment of personnel who are competent to perform test procedures, record and report test results promptly, accurately and proficiently, and for assuring compliance with the applicable regulations.

* * * * *

(e) Multi-State entities. (1) An IDTF that operates across State boundaries must—

(i) Maintain documentation that its supervising physicians and technicians are licensed and certified in each of the States in which it operates; and

(ii) Operate in compliance with all applicable Federal, State, and local licensure and regulatory requirements with regard to the health and safety of patients.

(2) The point of the actual delivery of services is the Place of Service on the claim form. When an IDTF performs a diagnostic test at the beneficiary's residence, the beneficiary's residence is the Place of Service.

* * * * *

(g) Application certification standards. The IDTF must certify in its enrollment application that it meets the following standards:

(1) Operate its business in compliance with all applicable Federal and State licensure and regulatory requirements.

(2) Provide complete and accurate information on their enrollment application. Any change in enrollment information must be reported to the designated fee-for-service contractor on the Medicare enrollment application within 30 calendar days of the change.

(3) Maintain a physical facility on an appropriate site. For the purposes of this standard, a post office box or commercial mail box is not considered a physical facility. The physical facility must contain space for equipment appropriate to the services designated on the enrollment application, facilities for hand washing, adequate patient privacy accommodations, and the storage of both business records and current medical records.

(4) Have all applicable testing equipment available at the physical site excluding portable equipment. A catalog of portable equipment, including equipment serial numbers, must be maintained at the physical site. In addition, portable equipment must be available for inspection within two business days of a CMS inspection request. The IDTF must maintain a current inventory of the equipment, including serial and registration numbers, provide this information to the designated fee-for-service contractor upon request, and notify the contractor of any changes in equipment within 90 days.

(5) Maintain a primary business phone under the name of the designated business. The business phone must be located at the designated site of the business. The telephone number or toll free numbers must be available in a local directory and through directory assistance.

(6) Have a comprehensive liability insurance policy of at least $300,000 or 20 percent of its average annual Medicare billings, whichever amount is greater, that covers both the place of business and all customers and employees of the IDTF. The policy must be carried by a non-relative owned company and list the serial numbers of any and all equipment used by the IDTF.

(7) Agree not to directly solicit patients through any means including, but not limited to, a prohibition on telephone, computer, or in-person contacts. The IDTF must accept only those patients referred for diagnostic testing by an attending physician, who is furnishing a consultation or treating a beneficiary for a specific medical problem and who uses the results in the management of the beneficiary's specific medical problem. Nonphysician practictioners may order tests as set forth in § 410.32(a)(3).

(8) Answer beneficiaries’ questions and respond to their complaints. Documentation of those contacts must be maintained at the physical site.

(9) Openly post these standards for review by patients and the public.

(10) Disclose to the government any person having ownership, financial, or control interest or any other legal interest in the supplier.

(11) Have its testing equipment calibrated per equipment instructions and in compliance with applicable national standards.

(12) Have technical staff on duty with the appropriate credentials to perform tests. The IDTF must be able to produce the applicable Federal or State licenses or certifications of the individuals performing these services.

(13) Have proper medical record storage and be able to retrieve medical records upon request from CMS or its fee-for-service contractor within 2 business days.

(14) Permit CMS, including its agents, or its designated fee-for-service contractors, to conduct unannounced, on-site inspections to confirm the IDTF's compliance with these standards. The IDTF must be accessible during regular business hours to CMS and beneficiaries and must maintain a visible sign posting the normal business hours of the IDTF.

(h) Failure to meet standards. If an IDTF fails to meet one or more of the standards in paragraph (g) of this section at the time of enrollment, its enrollment will be denied. CMS will revoke a supplier's billing privileges if and IDTF is found not to meet the standards in paragraph (g) or (b)(1) of this section.

(i) Definition. For purposes of this section, the following definition applies:

Point of actual delivery of service. The point of the actual delivery of service means the Place of Service on the claim form. When an IDTF performs a diagnostic test at the beneficiary's residence, the beneficiary's residence is the Place of Service.

Subpart I—Payment of SMI Benefits

10. Section 410.160 is amended by adding paragraphs (b)(7) and (b)(8) to read as follows:

§ 410.160 Part B annual deductible.

* * * * *

(b) * * *

(7) Beginning January 1, 2007, colorectal cancer screening tests as described in § 410.37.

(8) Beginning January 1, 2007, ultrasound screening for abdominal aortic aneurysms described in § 410.19.

* * * * *

PART 411—EXCLUSIONS FROM MEDICARE AND LIMITATIONS ON MEDICARE PAYMENT

11. The authority citation for part 411 is amended to read as follows:

Authority: Secs. 1102, 1860D-1 through 1860D-42, 1871, and 1877 of the Social Security Act (42 U.S.C. 1302, 1395w-101 through 1395w-152, 1395hh, and 1395nn).

Subpart A—General Exclusions and Exclusion of Particular Services

12. Section 411.15 is amended by—

A. Revising paragraph (a)(1).

B. Adding a new paragraph (k)(12).

C. Revising paragraph (o).

The revisions and addition read as follows:

§ 411.15 Particular services excluded from coverage.

* * * * *

(a) * * *

(1) Examinations performed for a purpose other than treatment or diagnosis of a specific illness, symptoms, complaint, or injury, except for screening mammography, colorectal cancer screening tests, screening pelvic exams, prostate cancer screening tests, glaucoma screening exams, initial preventive physical examinations, or ultrasound screening for abdominal aortic aneurysms that meet the criteria specified in paragraphs (k)(6) through (k)(12) of this section.

* * * * *

(k) * * *

(12) In the case of ultrasound screening for abdominal aortic aneurysms, with the goal of early detection of abdominal aortic aneurysms, subject to the conditions and limitation specified in § 410.19 of this chapter.

* * * * *

(o) Experimental or investigational devices, except for certain devices—

(1) Categorized by the FDA as a Category A or B device defined in § 405.201(b) of this chapter; and

(2) Furnished in accordance with the CMS clinical research policy.

Subpart J—Financial Relationships Between Physicians and Entities Furnishing Designated Health Services

13. Section 411.351 is amended by—

A. Revising the definition “Centralized building”.

B. Revising the definition “Physician in the group practice”.

The revisions read as follows:

§ 411.351 Definitions.

* * * * *

Centralized building means all or part of a building, including, for purposes of this subpart only, a mobile vehicle, van, or trailer that is owned or leased on a full-time basis (that is, 24 hours per day, 7 days per week, for a term of not less than 6 months) by a group practice and that is used exclusively by the group practice. Space in a building or a mobile vehicle, van, or trailer that is shared by more than one group practice, by a group practice and one or more solo practitioners, or by a group practice and another provider or supplier (for example, a diagnostic imaging facility) is not a centralized building for purposes of this subpart. This definition does not preclude a group practice from providing services to other providers or suppliers (for example, purchased diagnostic tests) in the group practice's centralized building. A group practice may have more than one centralized building. A centralized building does not include space that is owned or leased by a group practice if that space is less than 350 square feet. This limitation does not apply to space owned or rented in a building where no more than three group practices own or lease space in the “same building” (as defined in this section) and share the same “physician in the group practice” (as defined in this section). A centralized building does not include space owned or leased by a group practice if equipment needed to perform substantially all (at least 90 percent) of the designated health services furnished in that space in any given calendar year is not permanently located in that space. That is, equipment needed to perform more than 10 percent of the designated health services furnished in that space in a calendar year cannot be temporarily moved into that space from another space in the “same building” or from outside the “same building” (as defined in this section).

* * * * *

Physician in the group practice means a member of the group practice, as well as an independent contractor physician during the time the independent contractor is furnishing patient care services (as defined in this section) for the group practice under a contractual arrangement with the group practice to provide services to the group practice's patients in the group practice's facilities. The contract must contain the same restrictions on compensation that apply to members of the group practice under § 411.352(g) (or the contract must fit in the personal services exception in § 411.357(d)), and the independent contractor's arrangement with the group practice and must comply with the reassignment rules at § 424.80(d)(3) of this chapter or section 30.2.9.1 of the CMS Internet-only manual, publication 100-04, Claims Processing Manual, chapter 1 on general billing requirements (as amended or replaced from time to time). Referrals from an independent contractor who is a physician in the group practice are subject to the prohibition on referrals in § 411.353(a), and the group practice is subject to the limitation on billing for those referrals in § 411.353(b).

* * * * *

PART 414—PAYMENT FOR PART B MEDICAL AND OTHER HEALTH SERVICES

14. The authority citation for part 414 continues to read as follows:

Authority: Secs. 1102, 1871, and 1881(b)(1) of the Social Security Act (42 U.S.C. 1302, 1395hh, and 1395rr(b)(1).

15. A new subpart F is added as follows:

Subpart F—Payment for New Clinical Diagnostic Laboratory Tests

Sec.
414.400 Basis and scope.
414.402 Definitions.
414.404 [Reserved]
414.406 Procedures for public consultation for payment for a new clinical diagnostic laboratory test.
414.408 Payment for a new clinical diagnostic laboratory test.
414.410 Clinical Diagnostic Laboratory Date of Service for Specimens

Subpart F—Payment for New Clinical Diagnostic Laboratory Tests

§ 414.400 Basis and scope.

This subpart implements provisions of 1833(h)(8) of the Act procedures for determining the basis for, and amount of, payment for a new clinical diagnostic laboratory test with respect to which a new or substantially revised Healthcare Common Procedure Coding System code is assigned on or after January 1, 2005.

§ 414.402 Definitions.

For purposes of this subpart—

Substantially Revised Healthcare Common Procedure Coding System Code means a code for which there has been a substantive change to the definition of the test or procedure to which the code applies (such as a new analyte or a new methodology for measuring an existing analyte specific test).

§ 414.404 [Reserved]

§ 414.406 Procedures for public consultation for payment for a new clinical diagnostic laboratory test.

For a new clinical diagnostic laboratory test that is assigned a new or substantially revised code on or after January 1, 2005, CMS determines the payment after the performance of the following:

(a) CMS makes available to the public (through an Internet Web site and other appropriate mechanisms) a list that includes codes for which establishment of a payment amount is being considered for the next calendar year.

(b) CMS publishes a Federal Register notice of a meeting to receive public comments and recommendations (and data on which recommendations are based) on the appropriate basis, as specified in § 414.408, for establishing payment amounts for the list of codes made available to the public.

(c) Not fewer than 30 days after publication of the notice in the Federal Register, CMS convenes a meeting that includes representatives of CMS officials involved in determining payment amounts, to receive public comments and recommendations (and data on which the recommendations are based).

(d) Taking into account the comments and recommendations (and accompanying data) received at the public meeting, CMS develops and makes available to the public (through an Internet Web site and other appropriate mechanisms)—

(1) A list of proposed determinations with respect to the appropriate basis for establishing a payment amount for each code, with an explanation of the reasons for each determination, the data on which the determinations are based, and a request for public written comments within a specified time period on the proposed determination; and

(2) A list of final determinations of the payment amounts for tests, with the rationale for each determination, the data on which the determinations are based, and responses to comments and suggestions from the public.

§ 414.408 Payment for a new clinical diagnostic laboratory test.

For a new clinical diagnostic laboratory test that is assigned a new or substantially revised code on or after January 1, 2005, CMS determines the payment amount based on either of the following:

(a) Crosswalking. Crosswalking is used if it is determined that a new test is comparable to an existing test, multiple existing test codes, or a portion of an existing test code.

(1) CMS assigns to the new test code, the local fee schedule amounts and national limitation amount of the existing test.

(2) Payment for the new test code is made at the lesser of the local fee schedule amount or the national limitation amount.

(b) Gapfilling. Gapfilling is used when no comparable existing test is available.

(1) Carrier-specific amounts are established for the new test code for the first year using the following sources of information to determine gapfill amounts, if available:

(i) Charges for the test and routine discounts to charges;

(ii) Resources required to perform the test;

(iii) Payment amounts determined by other payers; and

(iv) Charges, payment amounts, and resources required for other tests that may be comparable or otherwise relevant.

(2) In the second year, the test code is paid at the national limitation amount, which is the median of the carrier-specific amounts.

§ 414.410 Clinical Diagnostic Laboratory Date of Service for Specimens.

The date of service for a laboratory test is as follows:

(a) Except as provided under paragraph (b) of this section, the date of service of the test shall be the date the specimen was collected.

(b)(1) If a specimen is collected over a period that spans two calendar days, then the date of service shall be the date the collection ended.

(2) If a specimen was stored for more than 30 calendar days before testing (otherwise known as “an archived specimen”), the date of service of the test shall be the date the specimen was obtained from storage.

(3) If a specimen was stored for less than or equal to 30 calendar days from the date it was collected, the date of service of the test must be the date the specimen was obtained from storage if—

(i) The test is ordered by the patient's physician at least 14 days following the date of the patient's discharge from the hospital.

(ii) The test could not reasonably have been ordered while the patient was hospitalized.

(iii) The procedure performed while the beneficiary is a patient of the hospital is for purposes other than collection of the specimen needed for the test.

(iv) The test is reasonable and medically necessary.

Subpart J—Submission of Manufacturer's Average Sales Price Data

16. Section 414.802 is amended by adding the definition of “Bona fide service fees” in alphabetical order to read as follows:

§ 414.802 Definitions.

* * * * *

Bona fide service fees means fees paid by a manufacturer to an entity, that represent fair market value for a bona fide, itemized service actually performed on behalf of the manufacturer that the manufacturer would otherwise perform (or contract for) in the absence of the service arrangement, and that are not passed on in whole or in part to a client or customer of an entity, whether or not the entity takes title to the drug.

* * * * *

17. Section 414.804 is amended by revising paragraphs (a)(1), (a)(2), (a)(3), and (a)(4).

The revisions read as follows:

§ 414.804 Basis of Payment.

(a) * * *

(1) The manufacturer's average sales price for a quarter for a drug represented by a particular 11-digit National Drug Code must be calculated as the manufacturer's sales to all purchasers in the United States for that particular 11-digit National Drug Code (after excluding sales as specified in paragraph (a)(4) of this section and then deducting price concessions as specified in paragraphs (a)(2) and (a)(3) of this section) divided by the total number of units sold by the manufacturer in that quarter (after excluding units associated with sales as specified in paragraph (a)(4) of this section).

(2) Price concessions. (i) In calculating the manufacturer's average sales price, a manufacturer must deduct price concessions. Price concessions include the following types of transactions and items:

(A) Volume discounts.

(B) Prompt pay discounts.

(C) Cash discounts.

(D) Free goods that are contingent on any purchase requirement.

(E) Chargebacks and rebates (other than rebates under the Medicaid program).

(ii) For the purposes of paragraph (a)(2)(i), bona fide services fees are not considered price concessions.

(3) To the extent that data on price concessions, as described in paragraph (a)(2) of this section, are available on a lagged basis, the manufacturer must estimate this amount in accordance with the methodology described in this paragraph.

(i)(A) For each National Drug Code with at least 12 months of sales (including products for which the manufacturer has redesignated the National Drug Code for the specific product and package size and has 12 months of sales across the prior and current National Drug Codes), after adjusting for exempted sales, the manufacturer calculates a percentage equal to the sum of the price concessions for the most recent 12-month period available associated with sales subject to the average sales price reporting requirement divided by the total in dollars for the sales subject to the average sales price reporting requirement for the same 12-month period.

(B) For each National Drug Code with less than 12 months of sales, the calculation described in paragraph (i)(A) of this section is performed for the time period equaling the total number of months of sales.

(ii) The manufacturer multiplies the applicable percentage described in paragraph (a)(3)(i)(A) or (a)(3)(i)(B) of this section by the total in dollars for the sales subject to the average sales price reporting requirement (after adjusting for exempted sales) for the quarter being submitted. (The manufacturer must carry a sufficient number of decimal places in the calculation of the price concessions percentage in order to round accurately the net total sales amount for the quarter to the nearest whole dollar.) The result of this multiplication is then subtracted from the total in dollars for the sales subject to the average sales price reporting requirement (after adjusting for exempted sales) for the quarter being submitted.

(iii) The manufacturer uses the result of the calculation described in paragraph (a)(3)(ii) of this section as the numerator and the number of units sold in the quarter (after adjusting for exempted sales) as the denominator to calculate the manufacturer's average sales price for the National Drug Code for the quarter being submitted.

(iv) Example. After adjusting for exempted sales, the total lagged price concessions (discounts, rebates, etc.) over the most recent 12-month period available associated with sales for National Drug Code 12345-6789-01 subject to the ASP reporting requirement equal $200,000, and the total in dollars for the sales subject to the average sales price reporting requirement for the same period equals $600,000. The lagged price concessions percentage for this period equals 200,000/600,000 = .33333. The total in dollars for the sales subject to the average sales price reporting requirement for the quarter being reported, after accounting for non-lagged price concessions, equals $50,000 for 10,000 units sold. The manufacturer's average sales price calculation for this National Drug Code for this quarter is: $50,000 − (0.33333 × 50,000) = $33,334 (net total sales amount); $33,334/10,000 = $3.33 (average sales price).

(4) Exempted sales. (i) In calculating the manufacturer's average sales price, a manufacturer must exclude sales that are exempt from the Medicaid best price calculation under sections 1927(c)(1)(C)(i) and 1927(c)(1)(C)(ii)(III) of the Act as limited by section 1927(c)(1)(D) of the Act.

(ii) In determining nominal sales exempted under section 1927(c)(1)(C)(ii)(III) of the Act, the manufacturer calculates the average manufacturer price as defined in section 1927(k) of the Act and then identifies sales that are eligible to be considered a nominal sale under section 1927(c)(1)(D) of the Act and are at less than 10 percent of the average manufacturer price. To identify nominal sales, the manufacturer must use the average manufacturer price for the calendar quarter that is the same calendar quarter as the average sales price reporting period.

(iii) For exempted sales under section 1927(c)(1)(C)(i) of the Act known on a lagged basis because of chargebacks or rebates, manufacturers must estimate such lagged exempted sales using the ratio methodology specified in this paragraph to exclude lagged exempted sales before accounting for price concessions as specified in paragraphs (a)(2) and (a)(3) of this section.

(A) For each National Drug Code with at least 12 months of sales (including products for which the manufacturer has redesignated the Nation Drug Code and has 12 months of sales across the prior and current National Drug Codes), the manufacturer calculates a percentage using the sum of lagged exempted sales (in units) for the most recent 12 month period available as the numerator and the sales (the number of units after non-lagged exempted sales have been subtracted from total sales) for the same 12 month period as the denominator. The result is a rolling average percentage estimate of lagged exempted sales that is applied to the sales (the number of units after non-lagged exempted sales have been subtracted from total sales) for the quarter being submitted. The product that results from the multiplication of the rolling average percentage estimate of lagged exempted sales and the sales for the quarter determines the estimated lagged exempted sales in units to subtract from the denominator of the average sales price calculation. Manufacturers must make a corresponding adjustment to the numerator of the average sales price calculation to ensure that the total in dollars for the reporting quarter does not include revenue related to lagged exempted sales removed from the denominator using the estimation methodology.

(B) For National Drug Codes with less than 12 months of sales, the calculation described in paragraph (4)(iii)(A) of this section is calculated based on the sales and exempted sales (lagged and non-lagged) for the period equaling the total number of months of sales.

(C) Manufacturers must exclude lagged exempted sales (as calculated using the ratio methodology in paragraph (a)(4)(iii)(A) of this section) from their estimates of lagged price concessions described in paragraph (a)(3) of this section.

* * * * *

Subpart K—Payment for Drugs and Biologicals Under Part B

18. Section 414.904 is amended by revising paragraphs (d)(2)(iii) and (d)(3) to read as follows:

§ 414.904 Average sales price as the basis for payment.

* * * * *

(d) * * *

(2) * * *

(iii) Effective for drugs and biologicals furnished in CY 2006 and subsequent calendar years, the payment for such drugs and biologicals furnished in connection with renal dialysis services and separately billed by freestanding and hospital-based renal dialysis facilities not paid on a cost basis is 106 percent of the average sales price.

(3) Widely available market price and average manufacturer price. If the Inspector General finds that the average sales price exceeds the widely available market price or the average manufacturer price by 5 percent or more in CY 2007, the payment limit in the quarter following the transmittal of this information to the Secretary is the lesser of the widely available market price or 103 percent of the average manufacturer price.

* * * * *

PART 415—SERVICES FURNISHED BY PHYSICIANS IN PROVIDERS, SUPERVISING PHYSICIANS IN TEACHING SETTINGS, AND RESIDENTS IN CERTAIN SETTINGS

19. The authority citation for part 415 continues to read as follows:

Authority: Secs. 1102 and 1871 of the Social Security Act (42 U.S.C. 1302 and 1395hh).

Subpart C—Part B Carrier Payments for Physician Services to Beneficiaries in Providers

20. Section 415.130 is amended by revising paragraph (d) to read as follows:

§ 415.130 Conditions for payment: Physician pathology services.

* * * * *

(d) Physician pathology services furnished by an independent laboratory. The technical component of physician pathology services furnished by an independent laboratory to a hospital inpatient or outpatient on or before December 31, 2006 may be paid to the laboratory by the carrier under the physician fee schedule if the Medicare beneficiary is a patient of a covered hospital as defined in paragraph (a)(1) of this section. For services furnished after December 31, 2006, an independent laboratory may not bill the carrier for physician pathology services furnished to a hospital inpatient or outpatient.

* * * * *

PART 424—CONDITIONS FOR MEDICARE PAYMENT

21. The authority citation for part 424 continues to read as follows:

Authority: Secs. 1102 and 1871 of the Social Security Act (42 U.S.C. 1302 and 1395hh).

Subpart B—Certification and Plan of Treatment Requirements

22. Section 424.24 is amended by—

A. Redesignating paragraph (f) as paragraph (g).

B. Adding a new paragraph (f).

The addition reads as follows:

§ 424.24 Requirements for medical and other health services furnished by providers under Medicare Part B.

* * * * *

(f) Blood glucose monitoring in skilled nursing facilities. For each blood glucose test furnished to a resident of a skilled nursing facility, the physician must certify that the test is medically necessary. A physician's standing order is not sufficient to order a series of blood glucose tests.

* * * * *

Subpart F—Limitations on Assignment and Reassignment of Claims

23. Section 424.80 is amended by—

A. Revising the heading of paragraph (d).

B. Revising paragraph (d)(2)

C. Adding a new paragraph (d)(3).

The revisions and addition read as follows:

§ 424.80 Prohibition of reassignment of claims by suppliers.

* * * * *

(d) Reassignment to an entity under an employer-employee relationship or under a contractual arrangement: Conditions and limitations. (1) * * *

(2) Access to records. The supplier who furnishes the service has unrestricted access to claims submitted by an entity for services provided by that supplier. This paragraph applies irrespective of whether the supplier is an employee or whether the service is provided under a contractual arrangement. If an entity refuses to provide, upon request, the billing information to the supplier performing the service, the entity's right to receive reassigned benefits may be revoked under § 424.82(c)(3).

(3) Contractual arrangements for provision of diagnostic test services. If a physician or medical group bills for the technical component of a diagnostic test covered under section 1861(s)(3) of the Act and paid for under part 414 of this chapter (other than clinical diagnostic laboratory tests paid under section 1833(a)(2)(D) of the Act, which are subject to the special rules set forth in section 1833(h)(5)(A) of the Act), following a reassignment involving a contractual arrangement with the physician or other supplier who performed the technical component, each of the following conditions must be met:

(i) The payment to the billing physician, or medical group, less the applicable deductibles and coinsurance, may not exceed the lowest of the following amounts:

(A) The physician or other supplier's net charge to the billing physician or medical group.

(B) The billing physician's or medical group's actual charge.

(C) The fee schedule amount for the service that would be allowed if the physician or other supplier billed directly.

(ii) The physician or medical group billing for the test must identify the physician or other supplier that performed the test and indicate the supplier's net charge for the test. If the physician or medical group billing for the test fails to provide this information, CMS will not make any payment to the physician or medical group billing for the test and the billing physician or medical group can not bill the beneficiary.

(iii) In order to bill for the technical component of the service, the physician or medical group must directly perform the professional component of the service.

(Catalog of Federal Domestic Assistance Program No. 93.774, Medicare—Supplementary Medical Insurance Program)

Dated: June 29, 2006.
Mark B. McClellan,
Administrator, Centers for Medicare & Medicaid Services.

Approved: August 3, 2006.
Michael O. Leavitt,
Secretary.

Note: These addenda will not appear in the Code of Federal Regulations.

Addendum A: Explanation and Use of Addenda B

The addenda on the following pages provide various data pertaining to the Medicare fee schedule for physicians' services furnished in 2007. Addendum B contains the RVUs for work, non-facility PE, facility PE, and malpractice expense, and other information for all services included in the PFS.

In previous years, we have listed many services in Addendum B that are not paid under the PFS. To avoid publishing as many pages of codes for these services, we are not including clinical laboratory codes or the alphanumeric codes (Healthcare Common Procedure Coding System (HCPCS) codes not included in CPT) not paid under the PFS in Addendum B.

Addendum B—2007 Relative Value Units and Related Information Used in Determining Medicare Payments for 2007

This addendum contains the following information for each CPT code and alphanumeric HCPCS code, except for: alphanumeric codes beginning with B (enteral and parenteral therapy), E (durable medical equipment), K (temporary stcodes for nonphysicians' services or items), or L (orthotics); and codes for anesthesiology. Please also note the following:

• An “NA” in the “Non-facility PE RVUs” column of Addendum B means that CMS has not developed a PE RVU in the non-facility setting for the service because it is typically performed in the hospital (for example, an open heart surgery is generally performed in the hospital setting and not a physician's office). If there is an “NA” in the non-facility PE RVU column, and the contractor determines that this service can be performed in the non-facility setting, the service will be paid at the facility PE RVU rate.

• Services that have an “NA” in the “Facility PE RVUs” column of Addendum B are typically not paid using the PFS when provided in a facility setting. These services (which include “incident to” services and the technical portion of diagnostic tests) are generally paid under either the outpatient hospital prospective payment system or bundled into the hospital inpatient prospective payment system payment.

1. CPT/HCPCS code. This is the CPT or alphanumeric HCPCS number for the service. Alphanumeric HCPCS codes are included at the end of this addendum.

2. Modifier. A modifier is shown if there is a technical component (modifier TC) and a professional component (PC) (modifier -26) for the service. If there is a PC and a TC for the service, Addendum B contains three entries for the code. A code for: the global values (both professional and technical); modifier -26 (PC); and, modifier TC. The global service is not designated by a modifier, and physicians must bill using the code without a modifier if the physician furnishes both the PC and the TC of the service.

Modifier-53 is shown for a discontinued procedure, for example, a colonoscopy that is not completed. There will be RVUs for a code with this modifier.

3. Status indicator. This indicator shows whether the CPT/HCPCS code is in the PFS and whether it is separately payable if the service is covered.

A = Active code. These codes are separately payable under the PFS if covered. There will be RVUs for codes with this status. The presence of an “A” indicator does not mean that Medicare has made a national coverage determination regarding the service. Carriers remain responsible for coverage decisions in the absence of a national Medicare policy.

B = Bundled code. Payments for covered services are always bundled into payment for other services not specified. If RVUs are shown, they are not used for Medicare payment. If these services are covered, payment for them is subsumed by the payment for the services to which they are incident (an example is a telephone call from a hospital nurse regarding care of a patient).

C = Carriers price the code. Carriers will establish RVUs and payment amounts for these services, generally on an individual case basis following review of documentation, such as an operative report.

D* = Deleted/discontinued code.

E = Excluded from the PFS by regulation. These codes are for items and services that CMS chose to exclude from the fee schedule payment by regulation. No RVUs are shown, and no payment may be made under the PFS for these codes. Payment for them, when covered, continues under reasonable charge procedures.

F = Deleted/discontinued codes. (Code not subject to a 90-day grace period.) These codes are deleted effective with the beginning of the year and are never subject to a grace period. This indicator is no longer effective beginning with the 2005 fee schedule as of January 1, 2005.

G = Code not valid for Medicare purposes. Medicare uses another code for reporting of, and payment for, these services. (Codes subject to a 90-day grace period.) This indicator is no longer effective with the 2005 PFS as of January 1, 2005.

H* = Deleted modifier. For 2000 and later years, either the TC or PC component shown for the code has been deleted and the deleted component is shown in the database with the H status indicator.

I = Not valid for Medicare purposes. Medicare uses another code for the reporting of, and the payment for these services. (Codes not subject to a 90-day grace period.)

L = Local codes. Carriers will apply this status to all local codes in effect on January 1, 1998 or subsequently approved by central office for use. Carriers will complete the RVUs and payment amounts for these codes.

M = Measurement codes, used for reporting purposes only. There are no RVUs and no payment amounts for these codes. Medicare uses them to aid with performance measurement. No separate payment is made. These codes should be billed with a zero (($0.00) charge and are denied) on the MPFSDB.

N = Non-covered service. These codes are noncovered services. Medicare payment may not be made for these codes. If RVUs are shown, they are not used for Medicare payment.

R = Restricted coverage. Special coverage instructions apply. If the service is covered and no RVUs are shown, it is carrier-priced.

T = There are RVUs for these services, but they are only paid if there are no other services payable under the PFS billed on the same date by the same provider. If any other services payable under the PFS are billed on the same date by the same provider, these services are bundled into the service(s) for which payment is made.

X = Statutory exclusion. These codes represent an item or service that is not within the statutory definition of “physicians' services” for PFS payment purposes. No RVUs are shown for these codes, and no payment may be made under the PFS. (Examples are ambulance services and clinical diagnostic laboratory services.)

4. Description of code. This is an abbreviated version of the narrative description of the code.

5. Physician work RVUs. These are the RVUs for the physician work for this service in 2007. As stated in the June 29, 2006 proposed notice, the RVUs for codes with a 10- or 90-day global period reflect the application of the RUC-recommended values for the E/M services that are included as part of the global period for the service.

Note: The separate budget neutrality adjustor is not reflected in these physician work RVUs.

6. Fully implemented non-facility practice expense RVUs. These are the fully implemented resource-based PE RVUs for non-facility settings.

7. Transitional Non-facility practice expense RVUs. These are the 2007 resource-based PE RVUs for non-facility settings.

8. Fully implemented facility practice expense RVUs. These are the fully implemented resource-based PE RVUs for facility settings.

9. Transitional facility practice expense RVUs. These are the 2007 resource-based PE RVUs for facility settings.

10. Malpractice expense RVUs. These are the RVUs for the malpractice expense for the service for 2006.

11. Non-facility total. This is the sum of the work, fully implemented non-facility PE, and malpractice expense RVUs.

12. Transitional non-facility total. This is the sum of the work, 2007 transitional non-facility PE, and malpractice expense RVUs.

13. Facility total. This is the sum of the work, fully implemented facility PE, and malpractice expense RVUs.

14. Transitional facility total. This is the sum of the work, 2007 transitional facility PE, and malpractice expense RVUs.

15. Global period. This indicator shows the number of days in the global period for the code (0, 10, or 90 days). An explanation of the alpha codes follows:

MMM = Code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = Code related to another service that is always included in the global period of the other service. (Note: Physician work and PE are associated with intra service time and in some instances in the post service time.

*Codes with these indicators had a 90-day grace period before January 1, 2005.

Addendum B.—Relative Value Units (RVUs) and Related Information Used In Determining Medicare Payments For 2007
CPT¹/HCPCS² | Mod | Status | Description | Physician Work RVUs | Fully Implemented Non-Facility PE RVUs | Year 2007 Transitional Non-Facility PE RVUs | Fully Implemented Facility PE RVUs | Year 2007 Transitional Facility PE RVUs | Mal-Practice RVUs | Fully Implemented Non-Facility Total | Year 2007 Transitional Non-Facility Total | Fully Implemented Facility Total | Year 2007 Transitional Facility Total | Global
0003T |  | C | Cervicography | 0.00 | 0.00 | 0.00 | 0.00 | 0.00 | 0.00 | 0.00 | 0.00 | 0.00 | 0.00 | XXX
0008T |  | C | Upper gi endoscopy w/suture | 0.00 | 0.00 | 0.00 | 0.00 | 0.00 | 0.00 | 0.00 | 0.00 | 0.00 | 0.00 | XXX
0016T |  | C | Thermotx choroid vasc lesion | 0.00 | 0.00 | 0.00 | 0.00 | 0.00 | 0.00 | 0.00 | 0.00 | 0.00 | 0.00 | XXX
0017T |  | C | Photocoagulat macular drusen | 0.00 | 0.00 | 0.00 | 0.00 | 0.00 | 0.00 | 0.00 | 0.00 | 0.00 | 0.00 | XXX
0018T |  | C | Transcranial magnetic stimul | 0.00 | 0.00 | 0.00 | 0.00 | 0.00 | 0.00 | 0.00 | 0.00 | 0.00 | 0.00 | XXX
0019T |  | C | Extracorp shock wv tx,ms nos | 0.00 | 0.00 | 0.00 | 0.00 | 0.00 | 0.00 | 0.00 | 0.00 | 0.00 | 0.00 | XXX
0021T |  | C | Fetal oximetry, trnsvag/cerv | 0.00 | 0.00 | 0.00 | 0.00 | 0.00 | 0.00 | 0.00 | 0.00 | 0.00 | 0.00 | XXX
0024T |  | C | Transcath cardiac reduction | 0.00 | 0.00 | 0.00 | 0.00 | 0.00 | 0.00 | 0.00 | 0.00 | 0.00 | 0.00 | XXX
0026T |  | C | Measure remnant lipoproteins | 0.00 | 0.00 | 0.00 | 0.00 | 0.00 | 0.00 | 0.00 | 0.00 | 0.00 | 0.00 | XXX
0027T |  | C | Endoscopic epidural lysis | 0.00 | 0.00 | 0.00 | 0.00 | 0.00 | 0.00 | 0.00 | 0.00 | 0.00 | 0.00 | XXX
0028T |  | C | Dexa body composition study | 0.00 | 0.00 | 0.00 | 0.00 | 0.00 | 0.00 | 0.00 | 0.00 | 0.00 | 0.00 | XXX
0029T |  | C | Magnetic tx for incontinence | 0.00 | 0.00 | 0.00 | 0.00 | 0.00 | 0.00 | 0.00 | 0.00 | 0.00 | 0.00 | XXX
0030T |  | C | Antiprothrombin antibody | 0.00 | 0.00 | 0.00 | 0.00 | 0.00 | 0.00 | 0.00 | 0.00 | 0.00 | 0.00 | XXX
0031T |  | C | Speculoscopy | 0.00 | 0.00 | 0.00 | 0.00 | 0.00 | 0.00 | 0.00 | 0.00 | 0.00 | 0.00 | XXX
0032T |  | C | Speculoscopy w/direct sample | 0.00 | 0.00 | 0.00 | 0.00 | 0.00 | 0.00 | 0.00 | 0.00 | 0.00 | 0.00 | XXX
0041T |  | C | Detect ur infect agnt w/cpas | 0.00 | 0.00 | 0.00 | 0.00 | 0.00 | 0.00 | 0.00 | 0.00 | 0.00 | 0.00 | XXX
0042T |  | C | Ct perfusion w/contrast, cbf | 0.00 | 0.00 | 0.00 | 0.00 | 0.00 | 0.00 | 0.00 | 0.00 | 0.00 | 0.00 | XXX
0043T |  | C | Co expired gas analysis | 0.00 | 0.00 | 0.00 | 0.00 | 0.00 | 0.00 | 0.00 | 0.00 | 0.00 | 0.00 | XXX
0044T |  | C | Whole body photography | 0.00 | 0.00 | 0.00 | 0.00 | 0.00 | 0.00 | 0.00 | 0.00 | 0.00 | 0.00 | XXX
0045T |  | C | Whole body photography | 0.00 | 0.00 | 0.00 | 0.00 | 0.00 | 0.00 | 0.00 | 0.00 | 0.00 | 0.00 | XXX
0046T |  | C | Cath lavage, mammary duct(s | 0.00 | 0.00 | 0.00 | 0.00 | 0.00 | 0.00 | 0.00 | 0.00 | 0.00 | 0.00 | XXX
0047T |  | C | Cath lavage, mammary duct(s) | 0.00 | 0.00 | 0.00 | 0.00 | 0.00 | 0.00 | 0.00 | 0.00 | 0.00 | 0.00 | XXX
0048T |  | C | Implant ventricular device | 0.00 | 0.00 | 0.00 | 0.00 | 0.00 | 0.00 | 0.00 | 0.00 | 0.00 | 0.00 | XXX
0049T |  | C | External circulation assist | 0.00 | 0.00 | 0.00 | 0.00 | 0.00 | 0.00 | 0.00 | 0.00 | 0.00 | 0.00 | XXX
0050T |  | C | Removal circulation assist | 0.00 | 0.00 | 0.00 | 0.00 | 0.00 | 0.00 | 0.00 | 0.00 | 0.00 | 0.00 | XXX
0051T |  | C | Implant total heart system | 0.00 | 0.00 | 0.00 | 0.00 | 0.00 | 0.00 | 0.00 | 0.00 | 0.00 | 0.00 | XXX
0052T |  | C | Replace component heart syst | 0.00 | 0.00 | 0.00 | 0.00 | 0.00 | 0.00 | 0.00 | 0.00 | 0.00 | 0.00 | XXX
0053T |  | C | Replace component heart syst | 0.00 | 0.00 | 0.00 | 0.00 | 0.00 | 0.00 | 0.00 | 0.00 | 0.00 | 0.00 | XXX
0054T |  | C | Bone surgery using computer | 0.00 | 0.00 | 0.00 | 0.00 | 0.00 | 0.00 | 0.00 | 0.00 | 0.00 | 0.00 | XXX
0055T |  | C | Bone surgery using computer | 0.00 | 0.00 | 0.00 | 0.00 | 0.00 | 0.00 | 0.00 | 0.00 | 0.00 | 0.00 | XXX
0056T |  | C | Bone surgery using computer | 0.00 | 0.00 | 0.00 | 0.00 | 0.00 | 0.00 | 0.00 | 0.00 | 0.00 | 0.00 | XXX
0058T |  | C | Cryopreservation, ovary tiss | 0.00 | 0.00 | 0.00 | 0.00 | 0.00 | 0.00 | 0.00 | 0.00 | 0.00 | 0.00 | XXX
0059T |  | C | Cryopreservation, oocyte | 0.00 | 0.00 | 0.00 | 0.00 | 0.00 | 0.00 | 0.00 | 0.00 | 0.00 | 0.00 | XXX
0060T |  | C | Electrical impedance scan | 0.00 | 0.00 | 0.00 | 0.00 | 0.00 | 0.00 | 0.00 | 0.00 | 0.00 | 0.00 | XXX
0061T |  | C | Destruction of tumor, breast | 0.00 | 0.00 | 0.00 | 0.00 | 0.00 | 0.00 | 0.00 | 0.00 | 0.00 | 0.00 | XXX
0062T |  | C | Rep intradisc annulus;1 lev | 0.00 | 0.00 | 0.00 | 0.00 | 0.00 | 0.00 | 0.00 | 0.00 | 0.00 | 0.00 | XXX
0063T |  | C | Rep intradisc annulus;>1lev | 0.00 | 0.00 | 0.00 | 0.00 | 0.00 | 0.00 | 0.00 | 0.00 | 0.00 | 0.00 | XXX
0064T |  | C | Spectroscop eval expired gas | 0.00 | 0.00 | 0.00 | 0.00 | 0.00 | 0.00 | 0.00 | 0.00 | 0.00 | 0.00 | XXX
0065T |  | C | Ocular photoscreen bilat | 0.00 | 0.00 | 0.00 | 0.00 | 0.00 | 0.00 | 0.00 | 0.00 | 0.00 | 0.00 | XXX
0067T |  | C | Ct colonography;dx | 0.00 | 0.00 | 0.00 | 0.00 | 0.00 | 0.00 | 0.00 | 0.00 | 0.00 | 0.00 | XXX
0067T | 26 | C | Ct colonography;dx | 0.00 | 0.00 | 0.00 | 0.00 | 0.00 | 0.00 | 0.00 | 0.00 | 0.00 | 0.00 | XXX
0067T | TC | C | Ct colonography;dx | 0.00 | 0.00 | 0.00 | 0.00 | 0.00 | 0.00 | 0.00 | 0.00 | 0.00 | 0.00 | XXX
0068T |  | C | Interp/rept heart sound | 0.00 | 0.00 | 0.00 | 0.00 | 0.00 | 0.00 | 0.00 | 0.00 | 0.00 | 0.00 | XXX
0069T |  | C | Analysis only heart sound | 0.00 | 0.00 | 0.00 | 0.00 | 0.00 | 0.00 | 0.00 | 0.00 | 0.00 | 0.00 | XXX
0070T |  | C | Interp only heart sound | 0.00 | 0.00 | 0.00 | 0.00 | 0.00 | 0.00 | 0.00 | 0.00 | 0.00 | 0.00 | XXX
0071T |  | C | U/s leiomyomata ablate <200 | 0.00 | 0.00 | 0.00 | 0.00 | 0.00 | 0.00 | 0.00 | 0.00 | 0.00 | 0.00 | XXX
0072T |  | C | U/s leiomyomata ablate >200 | 0.00 | 0.00 | 0.00 | 0.00 | 0.00 | 0.00 | 0.00 | 0.00 | 0.00 | 0.00 | XXX
0073T |  | A | Delivery, comp imrt | 0.00 | 13.02 | 16.77 | NA | NA | 0.13 | 13.15 | 16.90 | NA | NA | XXX
0075T |  | C | Perq stent/chest vert art | 0.00 | 0.00 | 0.00 | 0.00 | 0.00 | 0.00 | 0.00 | 0.00 | 0.00 | 0.00 | XXX
0075T | 26 | C | Perq stent/chest vert art | 0.00 | 0.00 | 0.00 | 0.00 | 0.00 | 0.00 | 0.00 | 0.00 | 0.00 | 0.00 | XXX
0075T | TC | C | Perq stent/chest vert art | 0.00 | 0.00 | 0.00 | 0.00 | 0.00 | 0.00 | 0.00 | 0.00 | 0.00 | 0.00 | XXX
0076T |  | C | S&i stent/chest vert art | 0.00 | 0.00 | 0.00 | 0.00 | 0.00 | 0.00 | 0.00 | 0.00 | 0.00 | 0.00 | XXX
0076T | 26 | C | S&i stent/chest vert art | 0.00 | 0.00 | 0.00 | 0.00 | 0.00 | 0.00 | 0.00 | 0.00 | 0.00 | 0.00 | XXX
0076T | TC | C | S&i stent/chest vert art | 0.00 | 0.00 | 0.00 | 0.00 | 0.00 | 0.00 | 0.00 | 0.00 | 0.00 | 0.00 | XXX
0077T |  | C | Cereb therm perfusion probe | 0.00 | 0.00 | 0.00 | 0.00 | 0.00 | 0.00 | 0.00 | 0.00 | 0.00 | 0.00 | XXX
0078T |  | C | Endovasc aort repr w/device | 0.00 | 0.00 | 0.00 | 0.00 | 0.00 | 0.00 | 0.00 | 0.00 | 0.00 | 0.00 | XXX
0079T |  | C | Endovasc visc extnsn repr | 0.00 | 0.00 | 0.00 | 0.00 | 0.00 | 0.00 | 0.00 | 0.00 | 0.00 | 0.00 | XXX
0080T |  | C | Endovasc aort repr rad s&i | 0.00 | 0.00 | 0.00 | 0.00 | 0.00 | 0.00 | 0.00 | 0.00 | 0.00 | 0.00 | XXX
0081T |  | C | Endovasc visc extnsn s&i | 0.00 | 0.00 | 0.00 | 0.00 | 0.00 | 0.00 | 0.00 | 0.00 | 0.00 | 0.00 | XXX
0082T |  | C | Stereotactic rad delivery | 0.00 | 0.00 | 0.00 | 0.00 | 0.00 | 0.00 | 0.00 | 0.00 | 0.00 | 0.00 | XXX
0083T |  | C | Stereotactic rad tx mngmt | 0.00 | 0.00 | 0.00 | 0.00 | 0.00 | 0.00 | 0.00 | 0.00 | 0.00 | 0.00 | XXX
0084T |  | C | Temp prostate urethral stent | 0.00 | 0.00 | 0.00 | 0.00 | 0.00 | 0.00 | 0.00 | 0.00 | 0.00 | 0.00 | XXX
0085T |  | C | Breath test heart reject | 0.00 | 0.00 | 0.00 | 0.00 | 0.00 | 0.00 | 0.00 | 0.00 | 0.00 | 0.00 | XXX
0086T |  | C | L ventricle fill pressure | 0.00 | 0.00 | 0.00 | 0.00 | 0.00 | 0.00 | 0.00 | 0.00 | 0.00 | 0.00 | XXX
0087T |  | C | Sperm eval hyaluronan | 0.00 | 0.00 | 0.00 | 0.00 | 0.00 | 0.00 | 0.00 | 0.00 | 0.00 | 0.00 | XXX
0088T |  | C | Rf tongue base vol reduxn | 0.00 | 0.00 | 0.00 | 0.00 | 0.00 | 0.00 | 0.00 | 0.00 | 0.00 | 0.00 | XXX
0089T |  | C | Actigraphy testing, 3-day | 0.00 | 0.00 | 0.00 | 0.00 | 0.00 | 0.00 | 0.00 | 0.00 | 0.00 | 0.00 | XXX
0090T |  | C | Cervical artific disc | 0.00 | 0.00 | 0.00 | 0.00 | 0.00 | 0.00 | 0.00 | 0.00 | 0.00 | 0.00 | XXX
0091T |  | C | Lumbar artific disc | 0.00 | 0.00 | 0.00 | 0.00 | 0.00 | 0.00 | 0.00 | 0.00 | 0.00 | 0.00 | XXX
0092T |  | C | Artific disc addl | 0.00 | 0.00 | 0.00 | 0.00 | 0.00 | 0.00 | 0.00 | 0.00 | 0.00 | 0.00 | XXX
0093T |  | C | Cervical artific diskectomy | 0.00 | 0.00 | 0.00 | 0.00 | 0.00 | 0.00 | 0.00 | 0.00 | 0.00 | 0.00 | XXX
0094T |  | C | Lumbar artific diskectomy | 0.00 | 0.00 | 0.00 | 0.00 | 0.00 | 0.00 | 0.00 | 0.00 | 0.00 | 0.00 | XXX
0095T |  | C | Artific diskectomy addl | 0.00 | 0.00 | 0.00 | 0.00 | 0.00 | 0.00 | 0.00 | 0.00 | 0.00 | 0.00 | XXX
0096T |  | C | Rev cervical artific disc | 0.00 | 0.00 | 0.00 | 0.00 | 0.00 | 0.00 | 0.00 | 0.00 | 0.00 | 0.00 | XXX
0097T |  | C | Rev lumbar artific disc | 0.00 | 0.00 | 0.00 | 0.00 | 0.00 | 0.00 | 0.00 | 0.00 | 0.00 | 0.00 | XXX
0098T |  | C | Rev artific disc addl | 0.00 | 0.00 | 0.00 | 0.00 | 0.00 | 0.00 | 0.00 | 0.00 | 0.00 | 0.00 | XXX
0099T |  | C | Implant corneal ring | 0.00 | 0.00 | 0.00 | 0.00 | 0.00 | 0.00 | 0.00 | 0.00 | 0.00 | 0.00 | XXX
0100T |  | C | Prosth retina receive&gen | 0.00 | 0.00 | 0.00 | 0.00 | 0.00 | 0.00 | 0.00 | 0.00 | 0.00 | 0.00 | XXX
0101T |  | C | Extracorp shockwv tx,hi enrg | 0.00 | 0.00 | 0.00 | 0.00 | 0.00 | 0.00 | 0.00 | 0.00 | 0.00 | 0.00 | XXX
0102T |  | C | Extracorp shockwv tx,anesth | 0.00 | 0.00 | 0.00 | 0.00 | 0.00 | 0.00 | 0.00 | 0.00 | 0.00 | 0.00 | XXX
0103T |  | C | Holotranscobalamin | 0.00 | 0.00 | 0.00 | 0.00 | 0.00 | 0.00 | 0.00 | 0.00 | 0.00 | 0.00 | XXX
0104T |  | C | At rest cardio gas rebreathe | 0.00 | 0.00 | 0.00 | 0.00 | 0.00 | 0.00 | 0.00 | 0.00 | 0.00 | 0.00 | XXX
0105T |  | C | Exerc cardio gas rebreathe | 0.00 | 0.00 | 0.00 | 0.00 | 0.00 | 0.00 | 0.00 | 0.00 | 0.00 | 0.00 | XXX
0106T |  | C | Touch quant sensory test | 0.00 | 0.00 | 0.00 | 0.00 | 0.00 | 0.00 | 0.00 | 0.00 | 0.00 | 0.00 | XXX
0107T |  | C | Vibrate quant sensory test | 0.00 | 0.00 | 0.00 | 0.00 | 0.00 | 0.00 | 0.00 | 0.00 | 0.00 | 0.00 | XXX
0108T |  | C | Cool quant sensory test | 0.00 | 0.00 | 0.00 | 0.00 | 0.00 | 0.00 | 0.00 | 0.00 | 0.00 | 0.00 | XXX
0109T |  | C | Heat quant sensory test | 0.00 | 0.00 | 0.00 | 0.00 | 0.00 | 0.00 | 0.00 | 0.00 | 0.00 | 0.00 | XXX
0110T |  | C | Nos quant sensory test | 0.00 | 0.00 | 0.00 | 0.00 | 0.00 | 0.00 | 0.00 | 0.00 | 0.00 | 0.00 | XXX
0111T |  | C | Rbc membranes fatty acids | 0.00 | 0.00 | 0.00 | 0.00 | 0.00 | 0.00 | 0.00 | 0.00 | 0.00 | 0.00 | XXX
0115T |  | C | Med tx mngmt 15 min | 0.00 | 0.00 | 0.00 | 0.00 | 0.00 | 0.00 | 0.00 | 0.00 | 0.00 | 0.00 | XXX
0116T |  | C | Med tx mngmt subsqt | 0.00 | 0.00 | 0.00 | 0.00 | 0.00 | 0.00 | 0.00 | 0.00 | 0.00 | 0.00 | XXX
0117T |  | C | Med tx mngmt addl 15 min | 0.00 | 0.00 | 0.00 | 0.00 | 0.00 | 0.00 | 0.00 | 0.00 | 0.00 | 0.00 | XXX
0120T |  | C | Fibroadenoma cryoablate, ea | 0.00 | 0.00 | 0.00 | 0.00 | 0.00 | 0.00 | 0.00 | 0.00 | 0.00 | 0.00 | XXX
0123T |  | C | Scleral fistulization | 0.00 | 0.00 | 0.00 | 0.00 | 0.00 | 0.00 | 0.00 | 0.00 | 0.00 | 0.00 | XXX
0124T |  | C | Conjunctival drug placement | 0.00 | 0.00 | 0.00 | 0.00 | 0.00 | 0.00 | 0.00 | 0.00 | 0.00 | 0.00 | XXX
0126T |  | C | Chd risk imt study | 0.00 | 0.00 | 0.00 | 0.00 | 0.00 | 0.00 | 0.00 | 0.00 | 0.00 | 0.00 | XXX
0130T |  | C | Chron care drug investigatn | 0.00 | 0.00 | 0.00 | 0.00 | 0.00 | 0.00 | 0.00 | 0.00 | 0.00 | 0.00 | XXX
0133T |  | C | Esophageal implant injexn | 0.00 | 0.00 | 0.00 | 0.00 | 0.00 | 0.00 | 0.00 | 0.00 | 0.00 | 0.00 | XXX
0135T |  | C | Perq cryoablate renal tumor | 0.00 | 0.00 | 0.00 | 0.00 | 0.00 | 0.00 | 0.00 | 0.00 | 0.00 | 0.00 | XXX
0137T |  | C | Prostate saturation sampling | 0.00 | 0.00 | 0.00 | 0.00 | 0.00 | 0.00 | 0.00 | 0.00 | 0.00 | 0.00 | XXX
0140T |  | C | Exhaled breath condensate ph | 0.00 | 0.00 | 0.00 | 0.00 | 0.00 | 0.00 | 0.00 | 0.00 | 0.00 | 0.00 | XXX
0144T |  | C | CT heart wo dye; qual calc | 0.00 | 0.00 | 0.00 | 0.00 | 0.00 | 0.00 | 0.00 | 0.00 | 0.00 | 0.00 | XXX
0144T | 26 | C | CT heart wo dye; qual calc | 0.00 | 0.00 | 0.00 | 0.00 | 0.00 | 0.00 | 0.00 | 0.00 | 0.00 | 0.00 | XXX
0144T | TC | C | CT heart wo dye; qual calc | 0.00 | 0.00 | 0.00 | 0.00 | 0.00 | 0.00 | 0.00 | 0.00 | 0.00 | 0.00 | XXX
0145T |  | C | CT heart w/wo dye funct | 0.00 | 0.00 | 0.00 | 0.00 | 0.00 | 0.00 | 0.00 | 0.00 | 0.00 | 0.00 | XXX
0145T | 26 | C | CT heart w/wo dye funct | 0.00 | 0.00 | 0.00 | 0.00 | 0.00 | 0.00 | 0.00 | 0.00 | 0.00 | 0.00 | XXX
0145T | TC | C | CT heart w/wo dye funct | 0.00 | 0.00 | 0.00 | 0.00 | 0.00 | 0.00 | 0.00 | 0.00 | 0.00 | 0.00 | XXX
0146T |  | C | CCTA w/wo dye | 0.00 | 0.00 | 0.00 | 0.00 | 0.00 | 0.00 | 0.00 | 0.00 | 0.00 | 0.00 | XXX
0146T | 26 | C | CCTA w/wo dye | 0.00 | 0.00 | 0.00 | 0.00 | 0.00 | 0.00 | 0.00 | 0.00 | 0.00 | 0.00 | XXX
0146T | TC | C | CCTA w/wo dye | 0.00 | 0.00 | 0.00 | 0.00 | 0.00 | 0.00 | 0.00 | 0.00 | 0.00 | 0.00 | XXX
0147T |  | C | CCTA w/wo, quan calcium | 0.00 | 0.00 | 0.00 | 0.00 | 0.00 | 0.00 | 0.00 | 0.00 | 0.00 | 0.00 | XXX
0147T | 26 | C | CCTA w/wo, quan calcium | 0.00 | 0.00 | 0.00 | 0.00 | 0.00 | 0.00 | 0.00 | 0.00 | 0.00 | 0.00 | XXX
0147T | TC | C | CCTA w/wo, quan calcium | 0.00 | 0.00 | 0.00 | 0.00 | 0.00 | 0.00 | 0.00 | 0.00 | 0.00 | 0.00 | XXX
0148T |  | C | CCTA w/wo, strxr | 0.00 | 0.00 | 0.00 | 0.00 | 0.00 | 0.00 | 0.00 | 0.00 | 0.00 | 0.00 | XXX
0148T | 26 | C | CCTA w/wo, strxr | 0.00 | 0.00 | 0.00 | 0.00 | 0.00 | 0.00 | 0.00 | 0.00 | 0.00 | 0.00 | XXX
0148T | TC | C | CCTA w/wo, strxr | 0.00 | 0.00 | 0.00 | 0.00 | 0.00 | 0.00 | 0.00 | 0.00 | 0.00 | 0.00 | XXX
0149T |  | C | CCTA w/wo, strxr quan calc | 0.00 | 0.00 | 0.00 | 0.00 | 0.00 | 0.00 | 0.00 | 0.00 | 0.00 | 0.00 | XXX
0149T | 26 | C | CCTA w/wo, strxr quan calc | 0.00 | 0.00 | 0.00 | 0.00 | 0.00 | 0.00 | 0.00 | 0.00 | 0.00 | 0.00 | XXX
0149T | TC | C | CCTA w/wo, strxr quan calc | 0.00 | 0.00 | 0.00 | 0.00 | 0.00 | 0.00 | 0.00 | 0.00 | 0.00 | 0.00 | XXX
0150T |  | C | CCTA w/wo, disease strxr | 0.00 | 0.00 | 0.00 | 0.00 | 0.00 | 0.00 | 0.00 | 0.00 | 0.00 | 0.00 | XXX
0150T | 26 | C | CCTA w/wo, disease strxr | 0.00 | 0.00 | 0.00 | 0.00 | 0.00 | 0.00 | 0.00 | 0.00 | 0.00 | 0.00 | XXX
0150T | TC | C | CCTA w/wo, disease strxr | 0.00 | 0.00 | 0.00 | 0.00 | 0.00 | 0.00 | 0.00 | 0.00 | 0.00 | 0.00 | XXX
0151T |  | C | CT heart funct add-on | 0.00 | 0.00 | 0.00 | 0.00 | 0.00 | 0.00 | 0.00 | 0.00 | 0.00 | 0.00 | XXX
0151T | 26 | C | CT heart funct add-on | 0.00 | 0.00 | 0.00 | 0.00 | 0.00 | 0.00 | 0.00 | 0.00 | 0.00 | 0.00 | XXX
0151T | TC | C | CT heart funct add-on | 0.00 | 0.00 | 0.00 | 0.00 | 0.00 | 0.00 | 0.00 | 0.00 | 0.00 | 0.00 | XXX
0152T |  | C | Computer chest add-on | 0.00 | 0.00 | 0.00 | 0.00 | 0.00 | 0.00 | 0.00 | 0.00 | 0.00 | 0.00 | XXX
0153T |  | C | Implant aneur sensor add-on | 0.00 | 0.00 | 0.00 | 0.00 | 0.00 | 0.00 | 0.00 | 0.00 | 0.00 | 0.00 | XXX
0154T |  | C | Implant aneur sensor study | 0.00 | 0.00 | 0.00 | 0.00 | 0.00 | 0.00 | 0.00 | 0.00 | 0.00 | 0.00 | XXX
0155T |  | C | Lap ins gastr eltrd for mo | 0.00 | 0.00 | 0.00 | 0.00 | 0.00 | 0.00 | 0.00 | 0.00 | 0.00 | 0.00 | XXX
0156T |  | C | Lap redo gastr eltrd for mo | 0.00 | 0.00 | 0.00 | 0.00 | 0.00 | 0.00 | 0.00 | 0.00 | 0.00 | 0.00 | XXX
0157T |  | C | Opn ins gastr eltrd for mo | 0.00 | 0.00 | 0.00 | 0.00 | 0.00 | 0.00 | 0.00 | 0.00 | 0.00 | 0.00 | XXX
0158T |  | C | Opn redo gastr eltrd for mo | 0.00 | 0.00 | 0.00 | 0.00 | 0.00 | 0.00 | 0.00 | 0.00 | 0.00 | 0.00 | XXX
0159T |  | C | Computer breast MRI add-on | 0.00 | 0.00 | 0.00 | 0.00 | 0.00 | 0.00 | 0.00 | 0.00 | 0.00 | 0.00 | ZZZ
0159T | 26 | C | Computer breast MRI add-on | 0.00 | 0.00 | 0.00 | 0.00 | 0.00 | 0.00 | 0.00 | 0.00 | 0.00 | 0.00 | ZZZ
0159T | TC | C | Computer breast MRI add-on | 0.00 | 0.00 | 0.00 | 0.00 | 0.00 | 0.00 | 0.00 | 0.00 | 0.00 | 0.00 | ZZZ
0160T |  | C | Transcran mag stim planning | 0.00 | 0.00 | 0.00 | 0.00 | 0.00 | 0.00 | 0.00 | 0.00 | 0.00 | 0.00 | XXX
0161T |  | C | Transcran mag stim delivery | 0.00 | 0.00 | 0.00 | 0.00 | 0.00 | 0.00 | 0.00 | 0.00 | 0.00 | 0.00 | XXX
10021 |  | A | Fna w/o image | 1.27 | 2.13 | 2.15 | 0.36 | 0.50 | 0.10 | 3.50 | 3.52 | 1.73 | 1.87 | XXX
10022 |  | A | Fna w/image | 1.27 | 2.13 | 2.44 | 0.38 | 0.41 | 0.08 | 3.48 | 3.79 | 1.73 | 1.76 | XXX
10040 |  | A | Acne surgery | 1.18 | 1.26 | 1.07 | 0.93 | 0.83 | 0.05 | 2.49 | 2.30 | 2.16 | 2.06 | 010
10060 |  | A | Drainage of skin abscess | 1.17 | 1.50 | 1.28 | 1.08 | 0.97 | 0.12 | 2.79 | 2.57 | 2.37 | 2.26 | 010
10061 |  | A | Drainage of skin abscess | 2.40 | 2.07 | 1.88 | 1.51 | 1.50 | 0.26 | 4.73 | 4.54 | 4.17 | 4.16 | 010
10080 |  | A | Drainage of pilonidal cyst | 1.17 | 2.65 | 2.99 | 1.09 | 1.11 | 0.11 | 3.93 | 4.27 | 2.37 | 2.39 | 010
10081 |  | A | Drainage of pilonidal cyst | 2.45 | 3.49 | 3.93 | 1.44 | 1.49 | 0.24 | 6.18 | 6.62 | 4.13 | 4.18 | 010
10120 |  | A | Remove foreign body | 1.22 | 2.10 | 2.15 | 0.94 | 0.96 | 0.12 | 3.44 | 3.49 | 2.28 | 2.30 | 010
10121 |  | A | Remove foreign body | 2.69 | 3.52 | 3.51 | 1.65 | 1.75 | 0.33 | 6.54 | 6.53 | 4.67 | 4.77 | 010
10140 |  | A | Drainage of hematoma/fluid | 1.53 | 2.27 | 1.90 | 1.29 | 1.29 | 0.19 | 3.99 | 3.62 | 3.01 | 3.01 | 010
10160 |  | A | Puncture drainage of lesion | 1.20 | 1.85 | 1.66 | 1.07 | 1.08 | 0.14 | 3.19 | 3.00 | 2.41 | 2.42 | 010
10180 |  | A | Complex drainage, wound | 2.25 | 3.30 | 3.06 | 1.83 | 1.94 | 0.35 | 5.90 | 5.66 | 4.43 | 4.54 | 010
11000 |  | A | Debride infected skin | 0.60 | 0.73 | 0.62 | 0.16 | 0.21 | 0.07 | 1.40 | 1.29 | 0.83 | 0.88 | 000
11001 |  | A | Debride infected skin add-on | 0.30 | 0.23 | 0.23 | 0.08 | 0.10 | 0.04 | 0.57 | 0.57 | 0.42 | 0.44 | ZZZ
11004 |  | A | Debride genitalia & perineum | 10.31 | NA | NA | 3.04 | 3.69 | 0.67 | NA | NA | 14.02 | 14.67 | 000
11005 |  | A | Debride abdom wall | 13.75 | NA | NA | 4.06 | 5.19 | 0.96 | NA | NA | 18.77 | 19.90 | 000
11006 |  | A | Debride genit/per/abdom wall | 12.61 | NA | NA | 3.61 | 4.54 | 1.28 | NA | NA | 17.50 | 18.43 | 000
11008 |  | A | Remove mesh from abd wall | 5.00 | NA | NA | 1.36 | 1.86 | 0.61 | NA | NA | 6.97 | 7.47 | ZZZ
11010 |  | A | Debride skin, fx | 4.19 | 6.77 | 6.85 | 2.33 | 2.55 | 0.66 | 11.62 | 11.70 | 7.18 | 7.40 | 010
11011 |  | A | Debride skin/muscle, fx | 4.94 | 7.09 | 7.89 | 2.04 | 2.27 | 0.74 | 12.77 | 13.57 | 7.72 | 7.95 | 000
11012 |  | A | Debride skin/muscle/bone, fx | 6.87 | 9.03 | 11.33 | 3.12 | 3.66 | 1.16 | 17.06 | 19.36 | 11.15 | 11.69 | 000
11040 |  | A | Debride skin, partial | 0.48 | 0.68 | 0.56 | 0.16 | 0.20 | 0.06 | 1.22 | 1.10 | 0.70 | 0.74 | 000
11041 |  | A | Debride skin, full | 0.60 | 0.73 | 0.68 | 0.19 | 0.30 | 0.10 | 1.43 | 1.38 | 0.89 | 1.00 | 000
11042 |  | A | Debride skin/tissue | 0.80 | 0.96 | 0.97 | 0.25 | 0.39 | 0.13 | 1.89 | 1.90 | 1.18 | 1.32 | 000
11043 |  | A | Debride tissue/muscle | 3.00 | 3.64 | 3.45 | 2.71 | 2.62 | 0.32 | 6.96 | 6.77 | 6.03 | 5.94 | 010
11044 |  | A | Debride tissue/muscle/bone | 4.05 | 4.96 | 4.58 | 3.67 | 3.73 | 0.43 | 9.44 | 9.06 | 8.15 | 8.21 | 010
11055 |  | R | Trim skin lesion | 0.43 | 0.82 | 0.63 | 0.11 | 0.16 | 0.05 | 1.30 | 1.11 | 0.59 | 0.64 | 000
11056 |  | R | Trim skin lesions, 2 to 4 | 0.61 | 0.89 | 0.70 | 0.16 | 0.21 | 0.07 | 1.57 | 1.38 | 0.84 | 0.89 | 000
11057 |  | R | Trim skin lesions, over 4 | 0.79 | 1.00 | 0.81 | 0.21 | 0.28 | 0.10 | 1.89 | 1.70 | 1.10 | 1.17 | 000
11100 |  | A | Biopsy, skin lesion | 0.81 | 1.83 | 1.40 | 0.37 | 0.37 | 0.03 | 2.67 | 2.24 | 1.21 | 1.21 | 000
11101 |  | A | Biopsy, skin add-on | 0.41 | 0.40 | 0.35 | 0.19 | 0.19 | 0.02 | 0.83 | 0.78 | 0.62 | 0.62 | ZZZ
11200 |  | A | Removal of skin tags | 0.77 | 1.20 | 1.08 | 0.88 | 0.79 | 0.04 | 2.01 | 1.89 | 1.69 | 1.60 | 010
11201 |  | A | Remove skin tags add-on | 0.29 | 0.16 | 0.16 | 0.11 | 0.12 | 0.02 | 0.47 | 0.47 | 0.42 | 0.43 | ZZZ
11300 |  | A | Shave skin lesion | 0.51 | 1.17 | 1.04 | 0.20 | 0.21 | 0.03 | 1.71 | 1.58 | 0.74 | 0.75 | 000
11301 |  | A | Shave skin lesion | 0.85 | 1.47 | 1.20 | 0.37 | 0.38 | 0.04 | 2.36 | 2.09 | 1.26 | 1.27 | 000
11302 |  | A | Shave skin lesion | 1.05 | 1.73 | 1.41 | 0.47 | 0.46 | 0.05 | 2.83 | 2.51 | 1.57 | 1.56 | 000
11303 |  | A | Shave skin lesion | 1.24 | 1.97 | 1.68 | 0.53 | 0.52 | 0.07 | 3.28 | 2.99 | 1.84 | 1.83 | 000
11305 |  | A | Shave skin lesion | 0.67 | 1.06 | 0.90 | 0.20 | 0.25 | 0.07 | 1.80 | 1.64 | 0.94 | 0.99 | 000
11306 |  | A | Shave skin lesion | 0.99 | 1.39 | 1.17 | 0.37 | 0.41 | 0.07 | 2.45 | 2.23 | 1.43 | 1.47 | 000
11307 |  | A | Shave skin lesion | 1.14 | 1.66 | 1.38 | 0.46 | 0.48 | 0.07 | 2.87 | 2.59 | 1.67 | 1.69 | 000
11308 |  | A | Shave skin lesion | 1.41 | 1.71 | 1.52 | 0.50 | 0.57 | 0.13 | 3.25 | 3.06 | 2.04 | 2.11 | 000
11310 |  | A | Shave skin lesion | 0.73 | 1.35 | 1.17 | 0.30 | 0.32 | 0.04 | 2.12 | 1.94 | 1.07 | 1.09 | 000
11311 |  | A | Shave skin lesion | 1.05 | 1.60 | 1.32 | 0.46 | 0.48 | 0.05 | 2.70 | 2.42 | 1.56 | 1.58 | 000
11312 |  | A | Shave skin lesion | 1.20 | 1.87 | 1.53 | 0.54 | 0.55 | 0.06 | 3.13 | 2.79 | 1.80 | 1.81 | 000
11313 |  | A | Shave skin lesion | 1.62 | 2.13 | 1.88 | 0.71 | 0.72 | 0.10 | 3.85 | 3.60 | 2.43 | 2.44 | 000
11400 |  | A | Exc tr-ext b9+marg 0.5 < cm | 0.85 | 1.86 | 1.96 | 0.92 | 0.89 | 0.06 | 2.77 | 2.87 | 1.83 | 1.80 | 010
11401 |  | A | Exc tr-ext b9+marg 0.6-1 cm | 1.23 | 2.14 | 2.07 | 1.12 | 1.05 | 0.10 | 3.47 | 3.40 | 2.45 | 2.38 | 010
11402 |  | A | Exc tr-ext b9+marg 1.1-2 cm | 1.40 | 2.35 | 2.25 | 1.18 | 1.11 | 0.13 | 3.88 | 3.78 | 2.71 | 2.64 | 010
11403 |  | A | Exc tr-ext b9+marg 2.1-3 cm | 1.79 | 2.52 | 2.42 | 1.54 | 1.38 | 0.17 | 4.48 | 4.38 | 3.50 | 3.34 | 010
11404 |  | A | Exc tr-ext b9+marg 3.1-4 cm | 2.06 | 2.84 | 2.74 | 1.61 | 1.45 | 0.21 | 5.11 | 5.01 | 3.88 | 3.72 | 010
11406 |  | A | Exc tr-ext b9+marg > 4.0 cm | 3.45 | 3.50 | 3.17 | 2.07 | 1.76 | 0.32 | 7.27 | 6.94 | 5.84 | 5.53 | 010
11420 |  | A | Exc h-f-nk-sp b9+marg 0.5 < | 0.98 | 1.82 | 1.78 | 0.92 | 0.93 | 0.09 | 2.89 | 2.85 | 1.99 | 2.00 | 010
11421 |  | A | Exc h-f-nk-sp b9+marg 0.6-1 | 1.42 | 2.18 | 2.09 | 1.14 | 1.12 | 0.13 | 3.73 | 3.64 | 2.69 | 2.67 | 010
11422 |  | A | Exc h-f-nk-sp b9+marg 1.1-2 | 1.63 | 2.39 | 2.29 | 1.50 | 1.37 | 0.16 | 4.18 | 4.08 | 3.29 | 3.16 | 010
11423 |  | A | Exc h-f-nk-sp b9+marg 2.1-3 | 2.01 | 2.62 | 2.59 | 1.62 | 1.49 | 0.20 | 4.83 | 4.80 | 3.83 | 3.70 | 010
11424 |  | A | Exc h-f-nk-sp b9+marg 3.1-4 | 2.43 | 2.94 | 2.84 | 1.75 | 1.64 | 0.25 | 5.62 | 5.52 | 4.43 | 4.32 | 010
11426 |  | A | Exc h-f-nk-sp b9+marg > 4 cm | 4.02 | 3.58 | 3.51 | 2.29 | 2.15 | 0.44 | 8.04 | 7.97 | 6.75 | 6.61 | 010
11440 |  | A | Exc face-mm b9+marg 0.5 < cm | 1.00 | 1.99 | 2.15 | 1.30 | 1.31 | 0.08 | 3.07 | 3.23 | 2.38 | 2.39 | 010
11441 |  | A | Exc face-mm b9+marg 0.6-1 cm | 1.48 | 2.34 | 2.33 | 1.52 | 1.50 | 0.13 | 3.95 | 3.94 | 3.13 | 3.11 | 010
11442 |  | A | Exc face-mm b9+marg 1.1-2 cm | 1.72 | 2.59 | 2.55 | 1.62 | 1.58 | 0.16 | 4.47 | 4.43 | 3.50 | 3.46 | 010
11443 |  | A | Exc face-mm b9+marg 2.1-3 cm | 2.29 | 2.82 | 2.89 | 1.79 | 1.81 | 0.22 | 5.33 | 5.40 | 4.30 | 4.32 | 010
11444 |  | A | Exc face-mm b9+marg 3.1-4 cm | 3.14 | 3.23 | 3.41 | 2.04 | 2.15 | 0.30 | 6.67 | 6.85 | 5.48 | 5.59 | 010
11446 |  | A | Exc face-mm b9+marg > 4 cm | 4.73 | 4.01 | 4.03 | 2.62 | 2.73 | 0.43 | 9.17 | 9.19 | 7.78 | 7.89 | 010
11450 |  | A | Removal, sweat gland lesion | 3.11 | 5.19 | 5.07 | 2.44 | 2.13 | 0.34 | 8.64 | 8.52 | 5.89 | 5.58 | 090
11451 |  | A | Removal, sweat gland lesion | 4.32 | 6.17 | 6.49 | 2.79 | 2.60 | 0.53 | 11.02 | 11.34 | 7.64 | 7.45 | 090
11462 |  | A | Removal, sweat gland lesion | 2.89 | 5.33 | 5.17 | 2.47 | 2.13 | 0.32 | 8.54 | 8.38 | 5.68 | 5.34 | 090
11463 |  | A | Removal, sweat gland lesion | 4.32 | 6.64 | 6.78 | 2.98 | 2.76 | 0.54 | 11.50 | 11.64 | 7.84 | 7.62 | 090
11470 |  | A | Removal, sweat gland lesion | 3.63 | 5.61 | 5.20 | 2.70 | 2.37 | 0.40 | 9.64 | 9.23 | 6.73 | 6.40 | 090
11471 |  | A | Removal, sweat gland lesion | 4.78 | 6.48 | 6.65 | 2.99 | 2.82 | 0.58 | 11.84 | 12.01 | 8.35 | 8.18 | 090
11600 |  | A | Exc tr-ext mlg+marg 0.5 < cm | 1.56 | 2.71 | 2.65 | 1.12 | 1.01 | 0.10 | 4.37 | 4.31 | 2.78 | 2.67 | 010
11601 |  | A | Exc tr-ext mlg+marg 0.6-1 cm | 2.00 | 3.37 | 2.87 | 1.47 | 1.28 | 0.12 | 5.49 | 4.99 | 3.59 | 3.40 | 010
11602 |  | A | Exc tr-ext mlg+marg 1.1-2 cm | 2.20 | 3.74 | 3.05 | 1.63 | 1.35 | 0.12 | 6.06 | 5.37 | 3.95 | 3.67 | 010
11603 |  | A | Exc tr-ext mlg+marg 2.1-3 cm | 2.75 | 3.95 | 3.29 | 1.81 | 1.45 | 0.16 | 6.86 | 6.20 | 4.72 | 4.36 | 010
11604 |  | A | Exc tr-ext mlg+marg 3.1-4 cm | 3.10 | 4.26 | 3.59 | 1.88 | 1.51 | 0.20 | 7.56 | 6.89 | 5.18 | 4.81 | 010
11606 |  | A | Exc tr-ext mlg+marg > 4 cm | 4.95 | 5.41 | 4.40 | 2.41 | 1.90 | 0.36 | 10.72 | 9.71 | 7.72 | 7.21 | 010
11620 |  | A | Exc h-f-nk-sp mlg+marg 0.5 < | 1.57 | 2.81 | 2.65 | 1.17 | 1.01 | 0.09 | 4.47 | 4.31 | 2.83 | 2.67 | 010
11621 |  | A | Exc h-f-nk-sp mlg+marg 0.6-1 | 2.01 | 3.42 | 2.88 | 1.49 | 1.30 | 0.12 | 5.55 | 5.01 | 3.62 | 3.43 | 010
11622 |  | A | Exc h-f-nk-sp mlg+marg 1.1-2 | 2.34 | 3.80 | 3.17 | 1.69 | 1.47 | 0.14 | 6.28 | 5.65 | 4.17 | 3.95 | 010
11623 |  | A | Exc h-f-nk-sp mlg+marg 2.1-3 | 3.04 | 4.03 | 3.51 | 1.90 | 1.66 | 0.20 | 7.27 | 6.75 | 5.14 | 4.90 | 010
11624 |  | A | Exc h-f-nk-sp mlg+marg 3.1-4 | 3.55 | 4.35 | 3.89 | 2.03 | 1.84 | 0.27 | 8.17 | 7.71 | 5.85 | 5.66 | 010
11626 |  | A | Exc h-f-nk-sp mlg+mar > 4 cm | 4.54 | 4.90 | 4.70 | 2.28 | 2.36 | 0.45 | 9.89 | 9.69 | 7.27 | 7.35 | 010
11640 |  | A | Exc face-mm malig+marg 0.5 < | 1.60 | 3.00 | 2.74 | 1.26 | 1.15 | 0.11 | 4.71 | 4.45 | 2.97 | 2.86 | 010
11641 |  | A | Exc face-mm malig+marg 0.6-1 | 2.10 | 3.55 | 3.15 | 1.56 | 1.54 | 0.16 | 5.81 | 5.41 | 3.82 | 3.80 | 010
11642 |  | A | Exc face-mm malig+marg 1.1-2 | 2.55 | 3.93 | 3.53 | 1.78 | 1.73 | 0.19 | 6.67 | 6.27 | 4.52 | 4.47 | 010
11643 |  | A | Exc face-mm malig+marg 2.1-3 | 3.35 | 4.18 | 3.90 | 2.04 | 1.98 | 0.26 | 7.79 | 7.51 | 5.65 | 5.59 | 010
11644 |  | A | Exc face-mm malig+marg 3.1-4 | 4.27 | 4.95 | 4.75 | 2.38 | 2.43 | 0.37 | 9.59 | 9.39 | 7.02 | 7.07 | 010
11646 |  | A | Exc face-mm mlg+marg > 4 cm | 6.19 | 5.76 | 5.75 | 3.03 | 3.36 | 0.61 | 12.56 | 12.55 | 9.83 | 10.16 | 010
11719 |  | R | Trim nail(s) | 0.17 | 0.38 | 0.28 | 0.04 | 0.06 | 0.02 | 0.57 | 0.47 | 0.23 | 0.25 | 000
11720 |  | A | Debride nail, 1-5 | 0.32 | 0.47 | 0.37 | 0.08 | 0.11 | 0.04 | 0.83 | 0.73 | 0.44 | 0.47 | 000
11721 |  | A | Debride nail, 6 or more | 0.54 | 0.55 | 0.47 | 0.14 | 0.19 | 0.07 | 1.16 | 1.08 | 0.75 | 0.80 | 000
11730 |  | A | Removal of nail plate | 1.10 | 1.35 | 1.11 | 0.29 | 0.40 | 0.14 | 2.59 | 2.35 | 1.53 | 1.64 | 000
11732 |  | A | Remove nail plate, add-on | 0.57 | 0.55 | 0.47 | 0.15 | 0.20 | 0.07 | 1.19 | 1.11 | 0.79 | 0.84 | ZZZ
11740 |  | A | Drain blood from under nail | 0.37 | 0.80 | 0.61 | 0.44 | 0.37 | 0.04 | 1.21 | 1.02 | 0.85 | 0.78 | 000
11750 |  | A | Removal of nail bed | 2.36 | 2.98 | 2.37 | 1.89 | 1.79 | 0.22 | 5.56 | 4.95 | 4.47 | 4.37 | 010
11752 |  | A | Remove nail bed/finger tip | 3.42 | 4.12 | 3.27 | 2.82 | 2.95 | 0.35 | 7.89 | 7.04 | 6.59 | 6.72 | 010
11755 |  | A | Biopsy, nail unit | 1.31 | 2.02 | 1.68 | 0.76 | 0.77 | 0.14 | 3.47 | 3.13 | 2.21 | 2.22 | 000
11760 |  | A | Repair of nail bed | 1.58 | 3.45 | 2.83 | 1.44 | 1.70 | 0.21 | 5.24 | 4.62 | 3.23 | 3.49 | 010
11762 |  | A | Reconstruction of nail bed | 2.89 | 3.72 | 3.09 | 1.69 | 2.18 | 0.36 | 6.97 | 6.34 | 4.94 | 5.43 | 010
11765 |  | A | Excision of nail fold, toe | 0.69 | 2.69 | 2.01 | 1.01 | 0.82 | 0.08 | 3.46 | 2.78 | 1.78 | 1.59 | 010
11770 |  | A | Removal of pilonidal lesion | 2.61 | 3.49 | 3.48 | 1.53 | 1.51 | 0.33 | 6.43 | 6.42 | 4.47 | 4.45 | 010
11771 |  | A | Removal of pilonidal lesion | 5.91 | 6.72 | 5.91 | 3.74 | 3.42 | 0.74 | 13.37 | 12.56 | 10.39 | 10.07 | 090
11772 |  | A | Removal of pilonidal lesion | 7.15 | 8.06 | 7.64 | 5.56 | 5.19 | 0.89 | 16.10 | 15.68 | 13.60 | 13.23 | 090
11900 |  | A | Injection into skin lesions | 0.52 | 0.89 | 0.71 | 0.24 | 0.22 | 0.02 | 1.43 | 1.25 | 0.78 | 0.76 | 000
11901 |  | A | Added skin lesions injection | 0.80 | 0.98 | 0.74 | 0.38 | 0.36 | 0.03 | 1.81 | 1.57 | 1.21 | 1.19 | 000
11920 |  | R | Correct skin color defects | 1.61 | 2.40 | 3.38 | 1.12 | 1.10 | 0.24 | 4.25 | 5.23 | 2.97 | 2.95 | 000
11921 |  | R | Correct skin color defects | 1.93 | 2.67 | 3.64 | 1.26 | 1.27 | 0.29 | 4.89 | 5.86 | 3.48 | 3.49 | 000
11922 |  | R | Correct skin color defects | 0.49 | 0.93 | 1.09 | 0.22 | 0.24 | 0.07 | 1.49 | 1.65 | 0.78 | 0.80 | ZZZ
11950 |  | R | Therapy for contour defects | 0.84 | 0.86 | 1.07 | 0.35 | 0.38 | 0.06 | 1.76 | 1.97 | 1.25 | 1.28 | 000
11951 |  | R | Therapy for contour defects | 1.19 | 1.18 | 1.41 | 0.53 | 0.52 | 0.11 | 2.48 | 2.71 | 1.83 | 1.82 | 000
11952 |  | R | Therapy for contour defects | 1.69 | 1.71 | 1.82 | 0.81 | 0.71 | 0.16 | 3.56 | 3.67 | 2.66 | 2.56 | 000
11954 |  | R | Therapy for contour defects | 1.85 | 1.76 | 2.27 | 0.76 | 0.87 | 0.25 | 3.86 | 4.37 | 2.86 | 2.97 | 000
11960 |  | A | Insert tissue expander(s) | 10.85 | NA | NA | 10.58 | 10.44 | 1.31 | NA | NA | 22.74 | 22.60 | 090
11970 |  | A | Replace tissue expander | 7.80 | NA | NA | 6.20 | 6.15 | 1.05 | NA | NA | 15.05 | 15.00 | 090
11971 |  | A | Remove tissue expander(s) | 3.13 | 7.42 | 8.69 | 4.01 | 3.85 | 0.32 | 10.87 | 12.14 | 7.46 | 7.30 | 090
11975 |  | N | Insert contraceptive cap | 1.48 | 1.55 | 1.45 | 0.34 | 0.51 | 0.17 | 3.20 | 3.10 | 1.99 | 2.16 | XXX
11976 |  | R | Removal of contraceptive cap | 1.78 | 1.71 | 1.72 | 0.47 | 0.63 | 0.21 | 3.70 | 3.71 | 2.46 | 2.62 | 000
11977 |  | N | Removal/reinsert contra cap | 3.30 | 2.00 | 2.20 | 0.77 | 1.14 | 0.37 | 5.67 | 5.87 | 4.44 | 4.81 | XXX
11980 |  | A | Implant hormone pellet(s) | 1.48 | 1.17 | 1.10 | 0.55 | 0.54 | 0.13 | 2.78 | 2.71 | 2.16 | 2.15 | 000
11981 |  | A | Insert drug implant device | 1.48 | 1.92 | 1.76 | 0.59 | 0.66 | 0.12 | 3.52 | 3.36 | 2.19 | 2.26 | XXX
11982 |  | A | Remove drug implant device | 1.78 | 2.05 | 1.97 | 0.71 | 0.80 | 0.17 | 4.00 | 3.92 | 2.66 | 2.75 | XXX
11983 |  | A | Remove/insert drug implant | 3.30 | 2.67 | 2.38 | 1.34 | 1.44 | 0.23 | 6.20 | 5.91 | 4.87 | 4.97 | XXX
12001 |  | A | Repair superficial wound(s) | 1.70 | 1.73 | 1.92 | 0.72 | 0.76 | 0.15 | 3.58 | 3.77 | 2.57 | 2.61 | 010
12002 |  | A | Repair superficial wound(s) | 1.86 | 1.79 | 1.98 | 0.83 | 0.88 | 0.17 | 3.82 | 4.01 | 2.86 | 2.91 | 010
12004 |  | A | Repair superficial wound(s) | 2.24 | 2.07 | 2.26 | 0.92 | 0.99 | 0.21 | 4.52 | 4.71 | 3.37 | 3.44 | 010
12005 |  | A | Repair superficial wound(s) | 2.86 | 2.52 | 2.75 | 1.06 | 1.17 | 0.27 | 5.65 | 5.88 | 4.19 | 4.30 | 010
12006 |  | A | Repair superficial wound(s) | 3.66 | 3.03 | 3.30 | 1.30 | 1.46 | 0.35 | 7.04 | 7.31 | 5.31 | 5.47 | 010
12007 |  | A | Repair superficial wound(s) | 4.11 | 3.40 | 3.72 | 1.49 | 1.73 | 0.45 | 7.96 | 8.28 | 6.05 | 6.29 | 010
12011 |  | A | Repair superficial wound(s) | 1.76 | 1.89 | 2.07 | 0.75 | 0.77 | 0.16 | 3.81 | 3.99 | 2.67 | 2.69 | 010
12013 |  | A | Repair superficial wound(s) | 1.99 | 2.05 | 2.22 | 0.88 | 0.92 | 0.18 | 4.22 | 4.39 | 3.05 | 3.09 | 010
12014 |  | A | Repair superficial wound(s) | 2.46 | 2.28 | 2.50 | 0.97 | 1.04 | 0.23 | 4.97 | 5.19 | 3.66 | 3.73 | 010
12015 |  | A | Repair superficial wound(s) | 3.19 | 2.76 | 3.04 | 1.11 | 1.22 | 0.29 | 6.24 | 6.52 | 4.59 | 4.70 | 010
12016 |  | A | Repair superficial wound(s) | 3.92 | 3.16 | 3.45 | 1.29 | 1.46 | 0.37 | 7.45 | 7.74 | 5.58 | 5.75 | 010
12017 |  | A | Repair superficial wound(s) | 4.70 | NA | NA | 1.48 | 1.79 | 0.47 | NA | NA | 6.65 | 6.96 | 010
12018 |  | A | Repair superficial wound(s) | 5.52 | NA | NA | 1.96 | 2.18 | 0.64 | NA | NA | 8.12 | 8.34 | 010
12020 |  | A | Closure of split wound | 2.62 | 3.75 | 3.80 | 1.77 | 1.88 | 0.30 | 6.67 | 6.72 | 4.69 | 4.80 | 010
12021 |  | A | Closure of split wound | 1.84 | 1.86 | 1.83 | 1.33 | 1.39 | 0.24 | 3.94 | 3.91 | 3.41 | 3.47 | 010
12031 |  | A | Layer closure of wound(s) | 2.15 | 3.82 | 2.67 | 1.73 | 1.15 | 0.17 | 6.14 | 4.99 | 4.05 | 3.47 | 010
12032 |  | A | Layer closure of wound(s) | 2.47 | 5.08 | 4.15 | 2.21 | 1.90 | 0.16 | 7.71 | 6.78 | 4.84 | 4.53 | 010
12034 |  | A | Layer closure of wound(s) | 2.92 | 4.50 | 3.52 | 1.93 | 1.57 | 0.25 | 7.67 | 6.69 | 5.10 | 4.74 | 010
12035 |  | A | Layer closure of wound(s) | 3.42 | 5.25 | 5.21 | 2.08 | 2.13 | 0.39 | 9.06 | 9.02 | 5.89 | 5.94 | 010
12036 |  | A | Layer closure of wound(s) | 4.04 | 5.38 | 5.51 | 2.22 | 2.46 | 0.55 | 9.97 | 10.10 | 6.81 | 7.05 | 010
12037 |  | A | Layer closure of wound(s) | 4.66 | 5.94 | 6.05 | 2.59 | 2.87 | 0.66 | 11.26 | 11.37 | 7.91 | 8.19 | 010
12041 |  | A | Layer closure of wound(s) | 2.37 | 3.77 | 2.85 | 1.72 | 1.28 | 0.19 | 6.33 | 5.41 | 4.28 | 3.84 | 010
12042 |  | A | Layer closure of wound(s) | 2.74 | 4.36 | 3.54 | 2.04 | 1.61 | 0.17 | 7.27 | 6.45 | 4.95 | 4.52 | 010
12044 |  | A | Layer closure of wound(s) | 3.14 | 5.27 | 3.73 | 1.89 | 1.67 | 0.27 | 8.68 | 7.14 | 5.30 | 5.08 | 010
12045 |  | A | Layer closure of wound(s) | 3.63 | 5.07 | 5.21 | 2.06 | 2.23 | 0.41 | 9.11 | 9.25 | 6.10 | 6.27 | 010
12046 |  | A | Layer closure of wound(s) | 4.24 | 5.64 | 6.29 | 2.27 | 2.63 | 0.54 | 10.42 | 11.07 | 7.05 | 7.41 | 010
12047 |  | A | Layer closure of wound(s) | 4.64 | 6.16 | 6.30 | 2.51 | 2.94 | 0.58 | 11.38 | 11.52 | 7.73 | 8.16 | 010
12051 |  | A | Layer closure of wound(s) | 2.47 | 4.01 | 3.46 | 1.86 | 1.55 | 0.20 | 6.68 | 6.13 | 4.53 | 4.22 | 010
12052 |  | A | Layer closure of wound(s) | 2.77 | 4.69 | 3.59 | 2.44 | 1.68 | 0.17 | 7.63 | 6.53 | 5.38 | 4.62 | 010
12053 |  | A | Layer closure of wound(s) | 3.12 | 5.23 | 3.74 | 2.05 | 1.66 | 0.23 | 8.58 | 7.09 | 5.40 | 5.01 | 010
12054 |  | A | Layer closure of wound(s) | 3.45 | 5.30 | 4.00 | 2.01 | 1.73 | 0.30 | 9.05 | 7.75 | 5.76 | 5.48 | 010
12055 |  | A | Layer closure of wound(s) | 4.42 | 6.00 | 4.86 | 2.10 | 2.12 | 0.45 | 10.87 | 9.73 | 6.97 | 6.99 | 010
12056 |  | A | Layer closure of wound(s) | 5.23 | 6.21 | 6.62 | 2.38 | 2.88 | 0.59 | 12.03 | 12.44 | 8.20 | 8.70 | 010
12057 |  | A | Layer closure of wound(s) | 5.95 | 7.45 | 6.46 | 2.79 | 3.51 | 0.56 | 13.96 | 12.97 | 9.30 | 10.02 | 010
13100 |  | A | Repair of wound or lesion | 3.12 | 4.32 | 4.12 | 2.39 | 2.32 | 0.26 | 7.70 | 7.50 | 5.77 | 5.70 | 010
13101 |  | A | Repair of wound or lesion | 3.91 | 5.79 | 4.94 | 2.88 | 2.73 | 0.26 | 9.96 | 9.11 | 7.05 | 6.90 | 010
13102 |  | A | Repair wound/lesion add-on | 1.24 | 1.34 | 1.21 | 0.52 | 0.56 | 0.13 | 2.71 | 2.58 | 1.89 | 1.93 | ZZZ
13120 |  | A | Repair of wound or lesion | 3.30 | 4.46 | 4.22 | 2.50 | 2.38 | 0.26 | 8.02 | 7.78 | 6.06 | 5.94 | 010
13121 |  | A | Repair of wound or lesion | 4.32 | 6.47 | 5.26 | 3.46 | 2.96 | 0.25 | 11.04 | 9.83 | 8.03 | 7.53 | 010
13122 |  | A | Repair wound/lesion add-on | 1.44 | 1.37 | 1.48 | 0.58 | 0.62 | 0.15 | 2.96 | 3.07 | 2.17 | 2.21 | ZZZ
13131 |  | A | Repair of wound or lesion | 3.78 | 4.86 | 4.49 | 2.78 | 2.71 | 0.26 | 8.90 | 8.53 | 6.82 | 6.75 | 010
13132 |  | A | Repair of wound or lesion | 6.44 | 7.64 | 6.34 | 4.77 | 4.31 | 0.32 | 14.40 | 13.10 | 11.53 | 11.07 | 010
13133 |  | A | Repair wound/lesion add-on | 2.19 | 1.82 | 1.70 | 0.94 | 1.01 | 0.18 | 4.19 | 4.07 | 3.31 | 3.38 | ZZZ
13150 |  | A | Repair of wound or lesion | 3.80 | 4.59 | 4.80 | 2.64 | 2.73 | 0.34 | 8.73 | 8.94 | 6.78 | 6.87 | 010
13151 |  | A | Repair of wound or lesion | 4.44 | 5.35 | 4.94 | 3.11 | 3.13 | 0.31 | 10.10 | 9.69 | 7.86 | 7.88 | 010
13152 |  | A | Repair of wound or lesion | 6.32 | 7.31 | 6.35 | 3.77 | 3.97 | 0.40 | 14.03 | 13.07 | 10.49 | 10.69 | 010
13153 |  | A | Repair wound/lesion add-on | 2.38 | 1.98 | 1.94 | 0.98 | 1.10 | 0.24 | 4.60 | 4.56 | 3.60 | 3.72 | ZZZ
13160 |  | A | Late closure of wound | 11.76 | NA | NA | 7.07 | 7.14 | 1.54 | NA | NA | 20.37 | 20.44 | 090
14000 |  | A | Skin tissue rearrangement | 6.76 | 8.78 | 8.08 | 5.92 | 5.58 | 0.59 | 16.13 | 15.43 | 13.27 | 12.93 | 090
14001 |  | A | Skin tissue rearrangement | 9.52 | 10.90 | 9.78 | 7.40 | 7.15 | 0.82 | 21.24 | 20.12 | 17.74 | 17.49 | 090
14020 |  | A | Skin tissue rearrangement | 7.58 | 9.79 | 8.91 | 6.70 | 6.57 | 0.64 | 18.01 | 17.13 | 14.92 | 14.79 | 090
14021 |  | A | Skin tissue rearrangement | 11.10 | 12.13 | 10.52 | 8.40 | 8.31 | 0.81 | 24.04 | 22.43 | 20.31 | 20.22 | 090
14040 |  | A | Skin tissue rearrangement | 8.36 | 9.92 | 9.08 | 6.77 | 7.09 | 0.62 | 18.90 | 18.06 | 15.75 | 16.07 | 090
14041 |  | A | Skin tissue rearrangement | 12.59 | 13.17 | 11.24 | 9.03 | 8.76 | 0.73 | 26.49 | 24.56 | 22.35 | 22.08 | 090
14060 |  | A | Skin tissue rearrangement | 8.99 | 9.40 | 8.94 | 6.94 | 7.31 | 0.68 | 19.07 | 18.61 | 16.61 | 16.98 | 090
14061 |  | A | Skin tissue rearrangement | 13.58 | 14.41 | 12.30 | 9.84 | 9.59 | 0.76 | 28.75 | 26.64 | 24.18 | 23.93 | 090
14300 |  | A | Skin tissue rearrangement | 13.17 | 13.26 | 11.66 | 9.24 | 9.19 | 1.16 | 27.59 | 25.99 | 23.57 | 23.52 | 090
14350 |  | A | Skin tissue rearrangement | 10.73 | NA | NA | 6.92 | 7.09 | 1.34 | NA | NA | 18.99 | 19.16 | 090
15000 |  | A | Wound prep, 1st 100 sq cm | 3.99 | 4.24 | 3.90 | 1.73 | 2.07 | 0.54 | 8.77 | 8.43 | 6.26 | 6.60 | 000
15001 |  | A | Wound prep, addl 100 sq cm | 1.00 | 0.56 | 1.15 | 0.35 | 0.40 | 0.14 | 1.70 | 2.29 | 1.49 | 1.54 | ZZZ
15040 |  | A | Harvest cultured skin graft | 2.00 | 3.86 | 4.39 | 1.03 | 1.11 | 0.24 | 6.10 | 6.63 | 3.27 | 3.35 | 000
15050 |  | A | Skin pinch graft | 5.29 | 7.65 | 7.10 | 5.02 | 5.09 | 0.57 | 13.51 | 12.96 | 10.88 | 10.95 | 090
15100 |  | A | Skin splt grft, trnk/arm/leg | 9.66 | 9.84 | 11.90 | 6.73 | 7.55 | 1.28 | 20.78 | 22.84 | 17.67 | 18.49 | 090
15101 |  | A | Skin splt grft t/a/l, add-on | 1.72 | 2.51 | 3.43 | 0.87 | 1.10 | 0.24 | 4.47 | 5.39 | 2.83 | 3.06 | ZZZ
15110 |  | A | Epidrm autogrft trnk/arm/leg | 10.82 | 8.92 | 10.23 | 6.50 | 6.88 | 1.31 | 21.05 | 22.36 | 18.63 | 19.01 | 090
15111 |  | A | Epidrm autogrft t/a/l add-on | 1.85 | 0.89 | 1.19 | 0.64 | 0.75 | 0.26 | 3.00 | 3.30 | 2.75 | 2.86 | ZZZ
15115 |  | A | Epidrm a-grft face/nck/hf/g | 11.13 | 9.16 | 9.21 | 6.68 | 7.18 | 1.15 | 21.44 | 21.49 | 18.96 | 19.46 | 090
15116 |  | A | Epidrm a-grft f/n/hf/g addl | 2.50 | 1.22 | 1.49 | 0.89 | 1.06 | 0.33 | 4.05 | 4.32 | 3.72 | 3.89 | ZZZ
15120 |  | A | Skn splt a-grft fac/nck/hf/g | 10.88 | 11.18 | 10.84 | 7.32 | 7.67 | 1.16 | 23.22 | 22.88 | 19.36 | 19.71 | 090
15121 |  | A | Skn splt a-grft f/n/hf/g add | 2.67 | 3.47 | 4.24 | 1.33 | 1.71 | 0.36 | 6.50 | 7.27 | 4.36 | 4.74 | ZZZ
15130 |  | A | Derm autograft, trnk/arm/leg | 7.33 | 8.03 | 9.40 | 5.64 | 6.17 | 0.97 | 16.33 | 17.70 | 13.94 | 14.47 | 090
15131 |  | A | Derm autograft t/a/l add-on | 1.50 | 0.70 | 0.98 | 0.52 | 0.61 | 0.21 | 2.41 | 2.69 | 2.23 | 2.32 | ZZZ
15135 |  | A | Derm autograft face/nck/hf/g | 10.83 | 9.41 | 9.76 | 6.98 | 7.84 | 1.23 | 21.47 | 21.82 | 19.04 | 19.90 | 090
15136 |  | A | Derm autograft, f/n/hf/g add | 1.50 | 0.68 | 0.84 | 0.53 | 0.64 | 0.20 | 2.38 | 2.54 | 2.23 | 2.34 | ZZZ
15150 |  | A | Cult epiderm grft t/arm/leg | 9.24 | 7.22 | 8.15 | 5.92 | 6.31 | 1.14 | 17.60 | 18.53 | 16.30 | 16.69 | 090
15151 |  | A | Cult epiderm grft t/a/l addl | 2.00 | 0.90 | 1.21 | 0.70 | 0.81 | 0.28 | 3.18 | 3.49 | 2.98 | 3.09 | ZZZ
15152 |  | A | Cult epiderm graft t/a/l +% | 2.50 | 1.08 | 1.44 | 0.87 | 1.01 | 0.35 | 3.93 | 4.29 | 3.72 | 3.86 | ZZZ
15155 |  | A | Cult epiderm graft, f/n/hf/g | 9.99 | 7.60 | 7.77 | 6.25 | 6.78 | 1.05 | 18.64 | 18.81 | 17.29 | 17.82 | 090
15156 |  | A | Cult epidrm grft f/n/hfg add | 2.75 | 1.18 | 1.47 | 0.98 | 1.18 | 0.36 | 4.29 | 4.58 | 4.09 | 4.29 | ZZZ
15157 |  | A | Cult epiderm grft f/n/hfg +% | 3.00 | 1.37 | 1.67 | 1.07 | 1.28 | 0.39 | 4.76 | 5.06 | 4.46 | 4.67 | ZZZ
15170 |  | A | Acell graft trunk/arms/legs | 5.99 | 3.65 | 3.79 | 2.36 | 2.36 | 0.55 | 10.19 | 10.33 | 8.90 | 8.90 | 090
15171 |  | A | Acell graft t/arm/leg add-on | 1.55 | 0.65 | 0.67 | 0.51 | 0.59 | 0.19 | 2.39 | 2.41 | 2.25 | 2.33 | ZZZ
15175 |  | A | Acellular graft, f/n/hf/g | 7.99 | 5.24 | 5.38 | 3.75 | 3.94 | 0.82 | 14.05 | 14.19 | 12.56 | 12.75 | 090
15176 |  | A | Acell graft, f/n/hf/g add-on | 2.45 | 1.07 | 1.10 | 0.81 | 0.95 | 0.29 | 3.81 | 3.84 | 3.55 | 3.69 | ZZZ
15200 |  | A | Skin full graft, trunk | 8.90 | 9.85 | 9.51 | 6.29 | 6.22 | 0.98 | 19.73 | 19.39 | 16.17 | 16.10 | 090
15201 |  | A | Skin full graft trunk add-on | 1.32 | 2.11 | 2.45 | 0.56 | 0.61 | 0.19 | 3.62 | 3.96 | 2.07 | 2.12 | ZZZ
15220 |  | A | Skin full graft sclp/arm/leg | 7.86 | 10.21 | 9.44 | 6.51 | 6.64 | 0.84 | 18.91 | 18.14 | 15.21 | 15.34 | 090
15221 |  | A | Skin full graft add-on | 1.19 | 2.01 | 2.24 | 0.50 | 0.55 | 0.16 | 3.36 | 3.59 | 1.85 | 1.90 | ZZZ
15240 |  | A | Skin full grft face/genit/hf | 10.03 | 11.73 | 10.58 | 8.64 | 8.12 | 0.92 | 22.68 | 21.53 | 19.59 | 19.07 | 090
15241 |  | A | Skin full graft add-on | 1.86 | 2.51 | 2.46 | 0.79 | 0.88 | 0.23 | 4.60 | 4.55 | 2.88 | 2.97 | ZZZ
15260 |  | A | Skin full graft een & lips | 11.29 | 12.63 | 10.82 | 9.02 | 8.69 | 0.69 | 24.61 | 22.80 | 21.00 | 20.67 | 090
15261 |  | A | Skin full graft add-on | 2.23 | 2.91 | 2.75 | 1.12 | 1.33 | 0.21 | 5.35 | 5.19 | 3.56 | 3.77 | ZZZ
15300 |  | A | Apply skinallogrft, t/arm/lg | 4.65 | 3.36 | 3.24 | 2.10 | 2.20 | 0.49 | 8.50 | 8.38 | 7.24 | 7.34 | 090
15301 |  | A | Apply sknallogrft t/a/l addl | 1.00 | 0.47 | 0.47 | 0.34 | 0.39 | 0.14 | 1.61 | 1.61 | 1.48 | 1.53 | ZZZ
15320 |  | A | Apply skin allogrft f/n/hf/g | 5.36 | 3.75 | 3.65 | 2.32 | 2.48 | 0.58 | 9.69 | 9.59 | 8.26 | 8.42 | 090
15321 |  | A | Aply sknallogrft f/n/hfg add | 1.50 | 0.68 | 0.69 | 0.50 | 0.57 | 0.21 | 2.39 | 2.40 | 2.21 | 2.28 | ZZZ
15330 |  | A | Aply acell alogrft t/arm/leg | 3.99 | 3.14 | 3.18 | 1.90 | 2.14 | 0.49 | 7.62 | 7.66 | 6.38 | 6.62 | 090
15331 |  | A | Aply acell grft t/a/l add-on | 1.00 | 0.46 | 0.46 | 0.34 | 0.39 | 0.14 | 1.60 | 1.60 | 1.48 | 1.53 | ZZZ
15335 |  | A | Apply acell graft, f/n/hf/g | 4.50 | 3.40 | 3.45 | 2.06 | 2.35 | 0.55 | 8.45 | 8.50 | 7.11 | 7.40 | 090
15336 |  | A | Aply acell grft f/n/hf/g add | 1.43 | 0.72 | 0.70 | 0.48 | 0.55 | 0.20 | 2.35 | 2.33 | 2.11 | 2.18 | ZZZ
15340 |  | A | Apply cult skin substitute | 3.72 | 3.79 | 3.95 | 2.72 | 2.74 | 0.41 | 7.92 | 8.08 | 6.85 | 6.87 | 010
15341 |  | A | Apply cult skin sub add-on | 0.50 | 0.72 | 0.64 | 0.17 | 0.19 | 0.06 | 1.28 | 1.20 | 0.73 | 0.75 | ZZZ
15360 |  | A | Apply cult derm sub, t/a/l | 3.87 | 4.31 | 4.43 | 3.11 | 3.09 | 0.43 | 8.61 | 8.73 | 7.41 | 7.39 | 090
15361 |  | A | Aply cult derm sub t/a/l add | 1.15 | 0.57 | 0.58 | 0.38 | 0.44 | 0.14 | 1.86 | 1.87 | 1.67 | 1.73 | ZZZ
15365 |  | A | Apply cult derm sub f/n/hf/g | 4.15 | 4.35 | 4.50 | 3.19 | 3.19 | 0.46 | 8.96 | 9.11 | 7.80 | 7.80 | 090
15366 |  | A | Apply cult derm f/hf/g add | 1.45 | 0.69 | 0.70 | 0.48 | 0.56 | 0.17 | 2.31 | 2.32 | 2.10 | 2.18 | ZZZ
15400 |  | A | Apply skin xenograft, t/a/l | 4.32 | 4.91 | 4.24 | 3.69 | 3.93 | 0.47 | 9.70 | 9.03 | 8.48 | 8.72 | 090
15401 |  | A | Apply skn xenogrft t/a/l add | 1.00 | 1.02 | 1.67 | 0.35 | 0.42 | 0.14 | 2.16 | 2.81 | 1.49 | 1.56 | ZZZ
15420 |  | A | Apply skin xgraft, f/n/hf/g | 4.83 | 5.04 | 4.85 | 3.86 | 3.81 | 0.52 | 10.39 | 10.20 | 9.21 | 9.16 | 090
15421 |  | A | Apply skn xgrft f/n/hf/g add | 1.50 | 1.20 | 1.29 | 0.52 | 0.60 | 0.21 | 2.91 | 3.00 | 2.23 | 2.31 | ZZZ
15430 |  | A | Apply acellular xenograft | 5.75 | 7.01 | 6.93 | 6.44 | 6.57 | 0.66 | 13.42 | 13.34 | 12.85 | 12.98 | 090
15431 |  | C | Apply acellular xgraft add | 0.00 | 0.00 | 0.00 | 0.00 | 0.00 | 0.00 | 0.00 | 0.00 | 0.00 | 0.00 | ZZZ
15570 |  | A | Form skin pedicle flap | 9.94 | 10.36 | 11.07 | 6.46 | 6.69 | 1.34 | 21.64 | 22.35 | 17.74 | 17.97 | 090
15572 |  | A | Form skin pedicle flap | 9.88 | 9.74 | 9.55 | 6.62 | 6.49 | 1.20 | 20.82 | 20.63 | 17.70 | 17.57 | 090
15574 |  | A | Form skin pedicle flap | 10.48 | 10.36 | 10.60 | 6.89 | 7.57 | 1.20 | 22.04 | 22.28 | 18.57 | 19.25 | 090
15576 |  | A | Form skin pedicle flap | 9.18 | 9.50 | 9.69 | 6.39 | 6.76 | 0.87 | 19.55 | 19.74 | 16.44 | 16.81 | 090
15600 |  | A | Skin graft | 1.91 | 5.28 | 7.02 | 2.71 | 2.97 | 0.27 | 7.46 | 9.20 | 4.89 | 5.15 | 090
15610 |  | A | Skin graft | 2.42 | 5.55 | 4.91 | 3.03 | 3.32 | 0.35 | 8.32 | 7.68 | 5.80 | 6.09 | 090
15620 |  | A | Skin graft | 3.57 | 6.33 | 7.42 | 3.80 | 3.86 | 0.35 | 10.25 | 11.34 | 7.72 | 7.78 | 090
15630 |  | A | Skin graft | 3.90 | 6.89 | 7.00 | 4.18 | 4.16 | 0.34 | 11.13 | 11.24 | 8.42 | 8.40 | 090
15650 |  | A | Transfer skin pedicle flap | 4.59 | 7.02 | 7.11 | 4.20 | 4.21 | 0.42 | 12.03 | 12.12 | 9.21 | 9.22 | 090
15732 |  | A | Muscle-skin graft, head/neck | 19.62 | 14.71 | 17.21 | 11.13 | 11.94 | 1.99 | 36.32 | 38.82 | 32.74 | 33.55 | 090
15734 |  | A | Muscle-skin graft, trunk | 19.52 | 15.75 | 17.52 | 11.89 | 12.25 | 2.61 | 37.88 | 39.65 | 34.02 | 34.38 | 090
15736 |  | A | Muscle-skin graft, arm | 16.86 | 13.77 | 17.12 | 9.95 | 10.90 | 2.45 | 33.08 | 36.43 | 29.26 | 30.21 | 090
15738 |  | A | Muscle-skin graft, leg | 18.86 | 14.03 | 16.99 | 10.41 | 11.39 | 2.65 | 35.54 | 38.50 | 31.92 | 32.90 | 090
15740 |  | A | Island pedicle flap graft | 11.48 | 13.10 | 10.87 | 9.05 | 8.46 | 0.63 | 25.21 | 22.98 | 21.16 | 20.57 | 090
15750 |  | A | Neurovascular pedicle graft | 12.64 | NA | NA | 8.80 | 8.98 | 1.42 | NA | NA | 22.86 | 23.04 | 090
15756 |  | A | Free myo/skin flap microvasc | 36.64 | NA | NA | 18.38 | 20.02 | 4.61 | NA | NA | 59.63 | 61.27 | 090
15757 |  | A | Free skin flap, microvasc | 36.85 | NA | NA | 16.63 | 20.35 | 3.89 | NA | NA | 57.37 | 61.09 | 090
15758 |  | A | Free fascial flap, microvasc | 36.60 | NA | NA | 16.47 | 20.30 | 4.23 | NA | NA | 57.30 | 61.13 | 090
15760 |  | A | Composite skin graft | 9.61 | 10.14 | 10.05 | 6.84 | 7.16 | 0.85 | 20.60 | 20.51 | 17.30 | 17.62 | 090
15770 |  | A | Derma-fat-fascia graft | 8.64 | NA | NA | 6.56 | 6.65 | 1.05 | NA | NA | 16.25 | 16.34 | 090
15775 |  | R | Hair transplant punch grafts | 3.95 | 3.50 | 4.05 | 1.70 | 1.40 | 0.52 | 7.97 | 8.52 | 6.17 | 5.87 | 000
15776 |  | R | Hair transplant punch grafts | 5.53 | 3.98 | 5.01 | 1.61 | 2.50 | 0.72 | 10.23 | 11.26 | 7.86 | 8.75 | 000
15780 |  | A | Abrasion treatment of skin | 8.41 | 11.65 | 11.55 | 6.74 | 7.87 | 0.67 | 20.73 | 20.63 | 15.82 | 16.95 | 090
15781 |  | A | Abrasion treatment of skin | 4.84 | 8.43 | 7.29 | 5.47 | 5.39 | 0.34 | 13.61 | 12.47 | 10.65 | 10.57 | 090
15782 |  | A | Abrasion treatment of skin | 4.31 | 9.44 | 9.75 | 5.43 | 6.27 | 0.34 | 14.09 | 14.40 | 10.08 | 10.92 | 090
15783 |  | A | Abrasion treatment of skin | 4.28 | 7.83 | 7.11 | 4.89 | 4.36 | 0.28 | 12.39 | 11.67 | 9.45 | 8.92 | 090
15786 |  | A | Abrasion, lesion, single | 2.03 | 3.76 | 3.45 | 1.22 | 1.30 | 0.11 | 5.90 | 5.59 | 3.36 | 3.44 | 010
15787 |  | A | Abrasion, lesions, add-on | 0.33 | 0.83 | 1.03 | 0.10 | 0.15 | 0.04 | 1.20 | 1.40 | 0.47 | 0.52 | ZZZ
15788 |  | R | Chemical peel, face, epiderm | 2.09 | 8.43 | 7.14 | 3.66 | 3.23 | 0.11 | 10.63 | 9.34 | 5.86 | 5.43 | 090
15789 |  | R | Chemical peel, face, dermal | 4.91 | 9.00 | 8.32 | 5.56 | 4.99 | 0.20 | 14.11 | 13.43 | 10.67 | 10.10 | 090
15792 |  | R | Chemical peel, nonfacial | 1.86 | 6.85 | 7.03 | 3.46 | 4.20 | 0.13 | 8.84 | 9.02 | 5.45 | 6.19 | 090
15793 |  | A | Chemical peel, nonfacial | 3.73 | 5.54 | 6.10 | 3.27 | 4.10 | 0.19 | 9.46 | 10.02 | 7.19 | 8.02 | 090
15819 |  | A | Plastic surgery, neck | 10.37 | NA | NA | 6.67 | 7.05 | 0.97 | NA | NA | 18.01 | 18.39 | 090
15820 |  | A | Revision of lower eyelid | 6.02 | 6.47 | 6.85 | 5.25 | 5.48 | 0.40 | 12.89 | 13.27 | 11.67 | 11.90 | 090
15821 |  | A | Revision of lower eyelid | 6.59 | 6.73 | 7.20 | 5.41 | 5.64 | 0.45 | 13.77 | 14.24 | 12.45 | 12.68 | 090
15822 |  | A | Revision of upper eyelid | 4.44 | 5.34 | 5.71 | 4.18 | 4.41 | 0.37 | 10.15 | 10.52 | 8.99 | 9.22 | 090
15823 |  | A | Revision of upper eyelid | 8.04 | 7.59 | 7.79 | 6.29 | 6.40 | 0.50 | 16.13 | 16.33 | 14.83 | 14.94 | 090
15831 |  | A | Excise excessive skin tissue | 13.57 | NA | NA | 8.73 | 8.30 | 1.75 | NA | NA | 24.05 | 23.62 | 090
15832 |  | A | Excise excessive skin tissue | 12.57 | NA | NA | 8.30 | 8.33 | 1.66 | NA | NA | 22.53 | 22.56 | 090
15833 |  | A | Excise excessive skin tissue | 11.62 | NA | NA | 7.09 | 7.93 | 1.49 | NA | NA | 20.20 | 21.04 | 090
15834 |  | A | Excise excessive skin tissue | 11.89 | NA | NA | 7.73 | 7.70 | 1.61 | NA | NA | 21.23 | 21.20 | 090
15835 |  | A | Excise excessive skin tissue | 12.71 | NA | NA | 7.81 | 7.61 | 1.60 | NA | NA | 22.12 | 21.92 | 090
15836 |  | A | Excise excessive skin tissue | 10.33 | NA | NA | 7.02 | 6.84 | 1.34 | NA | NA | 18.69 | 18.51 | 090
15837 |  | A | Excise excessive skin tissue | 9.30 | 8.79 | 8.61 | 5.78 | 6.97 | 1.18 | 19.27 | 19.09 | 16.26 | 17.45 | 090
15838 |  | A | Excise excessive skin tissue | 8.00 | NA | NA | 4.88 | 5.77 | 0.58 | NA | NA | 13.46 | 14.35 | 090
15839 |  | A | Excise excessive skin tissue | 10.25 | 9.40 | 8.97 | 6.19 | 6.34 | 1.22 | 20.87 | 20.44 | 17.66 | 17.81 | 090
15840 |  | A | Graft for face nerve palsy | 14.67 | NA | NA | 8.55 | 9.62 | 1.32 | NA | NA | 24.54 | 25.61 | 090
15841 |  | A | Graft for face nerve palsy | 25.57 | NA | NA | 13.05 | 14.51 | 2.54 | NA | NA | 41.16 | 42.62 | 090
15842 |  | A | Flap for face nerve palsy | 40.55 | NA | NA | 21.01 | 22.44 | 4.93 | NA | NA | 66.49 | 67.92 | 090
15845 |  | A | Skin and muscle repair, face | 13.93 | NA | NA | 8.77 | 9.17 | 0.81 | NA | NA | 23.51 | 23.91 | 090
15850 |  | B | Removal of sutures | 0.78 | 1.21 | 1.47 | 0.18 | 0.27 | 0.05 | 2.04 | 2.30 | 1.01 | 1.10 | XXX
15851 |  | A | Removal of sutures | 0.86 | 1.33 | 1.59 | 0.24 | 0.29 | 0.06 | 2.25 | 2.51 | 1.16 | 1.21 | 000
15852 |  | A | Dressing change not for burn | 0.86 | 1.62 | 1.79 | 0.25 | 0.31 | 0.09 | 2.57 | 2.74 | 1.20 | 1.26 | 000
15860 |  | A | Test for blood flow in graft | 1.95 | NA | NA | 0.70 | 0.76 | 0.27 | NA | NA | 2.92 | 2.98 | 000
15920 |  | A | Removal of tail bone ulcer | 8.06 | NA | NA | 5.83 | 5.62 | 1.04 | NA | NA | 14.93 | 14.72 | 090
15922 |  | A | Removal of tail bone ulcer | 10.13 | NA | NA | 7.01 | 7.16 | 1.42 | NA | NA | 18.56 | 18.71 | 090
15931 |  | A | Remove sacrum pressure sore | 9.89 | NA | NA | 5.55 | 5.65 | 1.25 | NA | NA | 16.69 | 16.79 | 090
15933 |  | A | Remove sacrum pressure sore | 11.49 | NA | NA | 7.34 | 7.72 | 1.52 | NA | NA | 20.35 | 20.73 | 090
15934 |  | A | Remove sacrum pressure sore | 13.45 | NA | NA | 7.61 | 7.93 | 1.78 | NA | NA | 22.84 | 23.16 | 090
15935 |  | A | Remove sacrum pressure sore | 15.45 | NA | NA | 10.14 | 10.28 | 2.09 | NA | NA | 27.68 | 27.82 | 090
15936 |  | A | Remove sacrum pressure sore | 12.96 | NA | NA | 7.49 | 8.04 | 1.76 | NA | NA | 22.21 | 22.76 | 090
15937 |  | A | Remove sacrum pressure sore | 14.91 | NA | NA | 8.96 | 9.61 | 2.06 | NA | NA | 25.93 | 26.58 | 090
15940 |  | A | Remove hip pressure sore | 10.05 | NA | NA | 5.84 | 6.09 | 1.31 | NA | NA | 17.20 | 17.45 | 090
15941 |  | A | Remove hip pressure sore | 12.13 | NA | NA | 8.51 | 9.22 | 1.66 | NA | NA | 22.30 | 23.01 | 090
15944 |  | A | Remove hip pressure sore | 12.16 | NA | NA | 8.24 | 8.51 | 1.65 | NA | NA | 22.05 | 22.32 | 090
15945 |  | A | Remove hip pressure sore | 13.45 | NA | NA | 9.15 | 9.52 | 1.84 | NA | NA | 24.44 | 24.81 | 090
15946 |  | A | Remove hip pressure sore | 23.72 | NA | NA | 13.95 | 14.27 | 3.16 | NA | NA | 40.83 | 41.15 | 090
15950 |  | A | Remove thigh pressure sore | 7.83 | NA | NA | 5.40 | 5.41 | 1.04 | NA | NA | 14.27 | 14.28 | 090
15951 |  | A | Remove thigh pressure sore | 11.30 | NA | NA | 8.00 | 7.90 | 1.49 | NA | NA | 20.79 | 20.69 | 090
15952 |  | A | Remove thigh pressure sore | 12.03 | NA | NA | 7.77 | 7.76 | 1.60 | NA | NA | 21.40 | 21.39 | 090
15953 |  | A | Remove thigh pressure sore | 13.27 | NA | NA | 9.10 | 9.02 | 1.79 | NA | NA | 24.16 | 24.08 | 090
15956 |  | A | Remove thigh pressure sore | 16.46 | NA | NA | 9.66 | 10.49 | 2.21 | NA | NA | 28.33 | 29.16 | 090
15958 |  | A | Remove thigh pressure sore | 16.42 | NA | NA | 10.28 | 10.85 | 2.25 | NA | NA | 28.95 | 29.52 | 090
15999 |  | C | Removal of pressure sore | 0.00 | 0.00 | 0.00 | 0.00 | 0.00 | 0.00 | 0.00 | 0.00 | 0.00 | 0.00 | YYY
16000 |  | A | Initial treatment of burn(s) | 0.89 | 0.73 | 0.83 | 0.24 | 0.26 | 0.08 | 1.70 | 1.80 | 1.21 | 1.23 | 000
16020 |  | A | Dress/debrid p-thick burn, s | 0.80 | 1.11 | 1.25 | 0.56 | 0.58 | 0.08 | 1.99 | 2.13 | 1.44 | 1.46 | 000
16025 |  | A | Dress/debrid p-thick burn, m | 1.85 | 1.61 | 1.72 | 0.88 | 0.94 | 0.19 | 3.65 | 3.76 | 2.92 | 2.98 | 000
16030 |  | A | Dress/debrid p-thick burn, l | 2.08 | 1.98 | 2.12 | 0.96 | 1.08 | 0.24 | 4.30 | 4.44 | 3.28 | 3.40 | 000
16035 |  | A | Incision of burn scab, initi | 3.74 | NA | NA | 1.27 | 1.50 | 0.46 | NA | NA | 5.47 | 5.70 | 090
16036 |  | A | Escharotomy; addIl incision | 1.50 | NA | NA | 0.49 | 0.57 | 0.20 | NA | NA | 2.19 | 2.27 | ZZZ
17000 |  | A | Destroy benign/premlg lesion | 0.60 | 1.36 | 1.07 | 0.71 | 0.58 | 0.03 | 1.99 | 1.70 | 1.34 | 1.21 | 010
17003 |  | A | Destroy lesions, 2-14 | 0.07 | 0.10 | 0.11 | 0.03 | 0.06 | 0.01 | 0.18 | 0.19 | 0.11 | 0.14 | ZZZ
17004 |  | A | Destroy lesions, 15 or more | 1.58 | 2.23 | 2.28 | 1.20 | 1.49 | 0.11 | 3.92 | 3.97 | 2.89 | 3.18 | 010
17106 |  | A | Destruction of skin lesions | 4.58 | 4.56 | 4.59 | 3.18 | 3.29 | 0.35 | 9.49 | 9.52 | 8.11 | 8.22 | 090
17107 |  | A | Destruction of skin lesions | 9.15 | 7.08 | 7.17 | 5.01 | 5.34 | 0.63 | 16.86 | 16.95 | 14.79 | 15.12 | 090
17108 |  | A | Destruction of skin lesions | 13.18 | 9.19 | 9.24 | 6.64 | 7.41 | 0.54 | 22.91 | 22.96 | 20.36 | 21.13 | 090
17110 |  | A | Destruct lesion, 1-14 | 0.65 | 1.74 | 1.65 | 0.85 | 0.74 | 0.05 | 2.44 | 2.35 | 1.55 | 1.44 | 010
17111 |  | A | Destruct lesion, 15 or more | 0.92 | 2.23 | 1.81 | 1.09 | 0.88 | 0.05 | 3.20 | 2.78 | 2.06 | 1.85 | 010
17250 |  | A | Chemical cautery, tissue | 0.50 | 1.32 | 1.25 | 0.38 | 0.35 | 0.06 | 1.88 | 1.81 | 0.94 | 0.91 | 000
17260 |  | A | Destruction of skin lesions | 0.91 | 1.37 | 1.30 | 0.68 | 0.67 | 0.04 | 2.32 | 2.25 | 1.63 | 1.62 | 010
17261 |  | A | Destruction of skin lesions | 1.17 | 2.42 | 1.81 | 1.02 | 0.88 | 0.05 | 3.64 | 3.03 | 2.24 | 2.10 | 010
17262 |  | A | Destruction of skin lesions | 1.58 | 2.74 | 2.10 | 1.22 | 1.07 | 0.06 | 4.38 | 3.74 | 2.86 | 2.71 | 010
17263 |  | A | Destruction of skin lesions | 1.79 | 2.97 | 2.28 | 1.31 | 1.15 | 0.07 | 4.83 | 4.14 | 3.17 | 3.01 | 010
17264 |  | A | Destruction of skin lesions | 1.94 | 3.17 | 2.46 | 1.38 | 1.19 | 0.08 | 5.19 | 4.48 | 3.40 | 3.21 | 010
17266 |  | A | Destruction of skin lesions | 2.34 | 3.42 | 2.73 | 1.54 | 1.30 | 0.09 | 5.85 | 5.16 | 3.97 | 3.73 | 010
17270 |  | A | Destruction of skin lesions | 1.32 | 2.36 | 1.87 | 1.05 | 0.92 | 0.05 | 3.73 | 3.24 | 2.42 | 2.29 | 010
17271 |  | A | Destruction of skin lesions | 1.49 | 2.58 | 1.97 | 1.17 | 1.03 | 0.06 | 4.13 | 3.52 | 2.72 | 2.58 | 010
17272 |  | A | Destruction of skin lesions | 1.77 | 2.88 | 2.21 | 1.31 | 1.16 | 0.07 | 4.72 | 4.05 | 3.15 | 3.00 | 010
17273 |  | A | Destruction of skin lesions | 2.05 | 3.12 | 2.43 | 1.43 | 1.27 | 0.08 | 5.25 | 4.56 | 3.56 | 3.40 | 010
17274 |  | A | Destruction of skin lesions | 2.59 | 3.50 | 2.80 | 1.68 | 1.50 | 0.10 | 6.19 | 5.49 | 4.37 | 4.19 | 010
17276 |  | A | Destruction of skin lesions | 3.20 | 3.78 | 3.15 | 1.91 | 1.74 | 0.16 | 7.14 | 6.51 | 5.27 | 5.10 | 010
17280 |  | A | Destruction of skin lesions | 1.17 | 2.29 | 1.78 | 0.99 | 0.86 | 0.05 | 3.51 | 3.00 | 2.21 | 2.08 | 010
17281 |  | A | Destruction of skin lesions | 1.72 | 2.65 | 2.09 | 1.28 | 1.14 | 0.07 | 4.44 | 3.88 | 3.07 | 2.93 | 010
17282 |  | A | Destruction of skin lesions | 2.04 | 3.04 | 2.37 | 1.43 | 1.29 | 0.08 | 5.16 | 4.49 | 3.55 | 3.41 | 010
17283 |  | A | Destruction of skin lesions | 2.64 | 3.45 | 2.77 | 1.70 | 1.54 | 0.11 | 6.20 | 5.52 | 4.45 | 4.29 | 010
17284 |  | A | Destruction of skin lesions | 3.21 | 3.86 | 3.16 | 1.95 | 1.80 | 0.13 | 7.20 | 6.50 | 5.29 | 5.14 | 010
17286 |  | A | Destruction of skin lesions | 4.43 | 4.28 | 3.82 | 2.38 | 2.43 | 0.23 | 8.94 | 8.48 | 7.04 | 7.09 | 010
17304 |  | A | 1 stage mohs, up to 5 spec | 7.59 | 11.63 | 9.09 | 3.58 | 3.57 | 0.30 | 19.52 | 16.98 | 11.47 | 11.46 | 000
17305 |  | A | 2 stage mohs, up to 5 spec | 2.85 | 6.74 | 4.60 | 1.34 | 1.34 | 0.11 | 9.70 | 7.56 | 4.30 | 4.30 | 000
17306 |  | A | 3 stage mohs, up to 5 spec | 2.85 | 6.99 | 4.68 | 1.33 | 1.35 | 0.11 | 9.95 | 7.64 | 4.29 | 4.31 | 000
17307 |  | A | Mohs addl stage up to 5 spec | 2.85 | 6.74 | 4.36 | 1.34 | 1.36 | 0.11 | 9.70 | 7.32 | 4.30 | 4.32 | 000
17310 |  | A | Mohs any stage > 5 spec each | 0.95 | 1.94 | 1.70 | 0.45 | 0.46 | 0.03 | 2.92 | 2.68 | 1.43 | 1.44 | ZZZ
17340 |  | A | Cryotherapy of skin | 0.76 | 0.33 | 0.36 | 0.36 | 0.36 | 0.05 | 1.14 | 1.17 | 1.17 | 1.17 | 010
17360 |  | A | Skin peel therapy | 1.43 | 1.38 | 1.43 | 0.95 | 0.89 | 0.06 | 2.87 | 2.92 | 2.44 | 2.38 | 010
17999 |  | C | Skin tissue procedure | 0.00 | 0.00 | 0.00 | 0.00 | 0.00 | 0.00 | 0.00 | 0.00 | 0.00 | 0.00 | YYY
19000 |  | A | Drainage of breast lesion | 0.84 | 1.90 | 1.96 | 0.24 | 0.29 | 0.08 | 2.82 | 2.88 | 1.16 | 1.21 | 000
19001 |  | A | Drain breast lesion add-on | 0.42 | 0.24 | 0.25 | 0.12 | 0.14 | 0.04 | 0.70 | 0.71 | 0.58 | 0.60 | ZZZ
19020 |  | A | Incision of breast lesion | 3.68 | 6.67 | 6.42 | 3.05 | 2.77 | 0.45 | 10.80 | 10.55 | 7.18 | 6.90 | 090
19030 |  | A | Injection for breast x-ray | 1.53 | 2.62 | 2.80 | 0.48 | 0.50 | 0.09 | 4.24 | 4.42 | 2.10 | 2.12 | 000
19100 |  | A | Bx breast percut w/o image | 1.27 | 2.09 | 2.08 | 0.33 | 0.40 | 0.16 | 3.52 | 3.51 | 1.76 | 1.83 | 000
19101 |  | A | Biopsy of breast, open | 3.18 | 4.35 | 4.46 | 1.77 | 1.88 | 0.39 | 7.92 | 8.03 | 5.34 | 5.45 | 010
19102 |  | A | Bx breast percut w/image | 2.00 | 3.41 | 3.73 | 0.61 | 0.65 | 0.14 | 5.55 | 5.87 | 2.75 | 2.79 | 000
19103 |  | A | Bx breast percut w/device | 3.69 | 10.05 | 11.13 | 1.09 | 1.20 | 0.30 | 14.04 | 15.12 | 5.08 | 5.19 | 000
19110 |  | A | Nipple exploration | 4.29 | 6.45 | 5.96 | 3.28 | 2.97 | 0.57 | 11.31 | 10.82 | 8.14 | 7.83 | 090
19112 |  | A | Excise breast duct fistula | 3.66 | 6.31 | 6.12 | 3.17 | 2.80 | 0.48 | 10.45 | 10.26 | 7.31 | 6.94 | 090
19120 |  | A | Removal of breast lesion | 5.80 | 5.12 | 4.69 | 3.39 | 3.14 | 0.73 | 11.65 | 11.22 | 9.92 | 9.67 | 090
19125 |  | A | Excision, breast lesion | 6.55 | 5.60 | 4.99 | 3.68 | 3.38 | 0.80 | 12.95 | 12.34 | 11.03 | 10.73 | 090
19126 |  | A | Excision, addl breast lesion | 2.93 | NA | NA | 0.76 | 0.94 | 0.38 | NA | NA | 4.07 | 4.25 | ZZZ
19140 |  | A | Removal of breast tissue | 5.13 | 8.06 | 7.37 | 3.85 | 3.51 | 0.69 | 13.88 | 13.19 | 9.67 | 9.33 | 090
19160 |  | A | Partial mastectomy | 5.98 | NA | NA | 3.64 | 3.48 | 0.79 | NA | NA | 10.41 | 10.25 | 090
19162 |  | A | P-mastectomy w/ln removal | 13.81 | NA | NA | 6.16 | 6.29 | 1.79 | NA | NA | 21.76 | 21.89 | 090
19180 |  | A | Removal of breast | 15.61 | NA | NA | 7.07 | 5.53 | 1.18 | NA | NA | 23.86 | 22.32 | 090
19182 |  | A | Removal of breast | 7.72 | NA | NA | 5.01 | 4.82 | 1.04 | NA | NA | 13.77 | 13.58 | 090
19200 |  | A | Removal of breast | 17.14 | NA | NA | 8.22 | 8.03 | 1.92 | NA | NA | 27.28 | 27.09 | 090
19220 |  | A | Removal of breast | 17.74 | NA | NA | 8.69 | 8.35 | 2.07 | NA | NA | 28.50 | 28.16 | 090
19240 |  | A | Removal of breast | 17.84 | NA | NA | 8.85 | 8.36 | 2.12 | NA | NA | 28.81 | 28.32 | 090
19260 |  | A | Removal of chest wall lesion | 17.53 | NA | NA | 10.33 | 10.95 | 2.13 | NA | NA | 29.99 | 30.61 | 090
19271 |  | A | Revision of chest wall | 21.73 | NA | NA | 16.03 | 17.47 | 2.62 | NA | NA | 40.38 | 41.82 | 090
19272 |  | A | Extensive chest wall surgery | 24.68 | NA | NA | 17.13 | 18.48 | 2.99 | NA | NA | 44.80 | 46.15 | 090
19290 |  | A | Place needle wire, breast | 1.27 | 2.85 | 2.85 | 0.39 | 0.41 | 0.07 | 4.19 | 4.19 | 1.73 | 1.75 | 000
19291 |  | A | Place needle wire, breast | 0.63 | 1.12 | 1.19 | 0.20 | 0.21 | 0.04 | 1.79 | 1.86 | 0.87 | 0.88 | ZZZ
19295 |  | A | Place breast clip, percut | 0.00 | 2.30 | 2.59 | 0.00 | 2.02 | 0.01 | 2.31 | 2.60 | 0.01 | 2.03 | ZZZ
19296 |  | A | Place po breast cath for rad | 3.63 | 85.32 | 115.4 | 1.21 | 1.45 | 0.36 | 89.31 | 119.4 | 5.20 | 5.44 | 000
19297 |  | A | Place breast cath for rad | 1.72 | NA | NA | 0.47 | 0.60 | 0.17 | NA | NA | 2.36 | 2.49 | ZZZ
19298 |  | A | Place breast rad tube/caths | 6.00 | 22.79 | 37.32 | 1.92 | 2.29 | 0.43 | 29.22 | 43.75 | 8.35 | 8.72 | 000
19316 |  | A | Suspension of breast | 10.92 | NA | NA | 7.10 | 7.41 | 1.64 | NA | NA | 19.66 | 19.97 | 090
19318 |  | A | Reduction of large breast | 15.85 | NA | NA | 9.99 | 10.88 | 2.92 | NA | NA | 28.76 | 29.65 | 090
19324 |  | A | Enlarge breast | 6.59 | NA | NA | 4.67 | 4.84 | 0.84 | NA | NA | 12.10 | 12.27 | 090
19325 |  | A | Enlarge breast with implant | 8.44 | NA | NA | 6.46 | 6.51 | 1.33 | NA | NA | 16.23 | 16.28 | 090
19328 |  | A | Removal of breast implant | 6.30 | NA | NA | 5.03 | 5.02 | 0.91 | NA | NA | 12.24 | 12.23 | 090
19330 |  | A | Removal of implant material | 8.33 | NA | NA | 6.21 | 6.08 | 1.26 | NA | NA | 15.80 | 15.67 | 090
19340 |  | A | Immediate breast prosthesis | 6.32 | NA | NA | 2.86 | 3.05 | 1.06 | NA | NA | 10.24 | 10.43 | ZZZ
19342 |  | A | Delayed breast prosthesis | 12.31 | NA | NA | 9.01 | 8.94 | 1.83 | NA | NA | 23.15 | 23.08 | 090
19350 |  | A | Breast reconstruction | 8.91 | 9.93 | 12.86 | 6.61 | 7.03 | 1.41 | 20.25 | 23.18 | 16.93 | 17.35 | 090
19355 |  | A | Correct inverted nipple(s) | 8.31 | 7.78 | 9.63 | 4.93 | 4.76 | 0.92 | 17.01 | 18.86 | 14.16 | 13.99 | 090
19357 |  | A | Breast reconstruction | 20.33 | NA | NA | 15.50 | 15.58 | 2.93 | NA | NA | 38.76 | 38.84 | 090
19361 |  | A | Breast reconstruction | 20.63 | NA | NA | 12.36 | 12.41 | 2.92 | NA | NA | 35.91 | 35.96 | 090
19364 |  | A | Breast reconstruction | 42.30 | NA | NA | 22.88 | 23.38 | 6.22 | NA | NA | 71.40 | 71.90 | 090
19366 |  | A | Breast reconstruction | 21.62 | NA | NA | 10.10 | 11.21 | 3.24 | NA | NA | 34.96 | 36.07 | 090
19367 |  | A | Breast reconstruction | 26.51 | NA | NA | 15.33 | 16.35 | 4.03 | NA | NA | 45.87 | 46.89 | 090
19368 |  | A | Breast reconstruction | 33.51 | NA | NA | 18.23 | 18.75 | 5.52 | NA | NA | 57.26 | 57.78 | 090
19369 |  | A | Breast reconstruction | 30.92 | NA | NA | 15.98 | 17.80 | 4.50 | NA | NA | 51.40 | 53.22 | 090
19370 |  | A | Surgery of breast capsule | 8.92 | NA | NA | 6.86 | 6.89 | 1.29 | NA | NA | 17.07 | 17.10 | 090
19371 |  | A | Removal of breast capsule | 10.34 | NA | NA | 7.74 | 7.80 | 1.62 | NA | NA | 19.70 | 19.76 | 090
19380 |  | A | Revise breast reconstruction | 10.13 | NA | NA | 7.67 | 7.69 | 1.44 | NA | NA | 19.24 | 19.26 | 090
19396 |  | A | Design custom breast implant | 2.17 | 4.52 | 1.94 | 1.24 | 1.05 | 0.30 | 6.99 | 4.41 | 3.71 | 3.52 | 000
19499 |  | C | Breast surgery procedure | 0.00 | 0.00 | 0.00 | 0.00 | 0.00 | 0.00 | 0.00 | 0.00 | 0.00 | 0.00 | YYY
20000 |  | A | Incision of abscess | 2.12 | 2.79 | 2.72 | 1.53 | 1.68 | 0.25 | 5.16 | 5.09 | 3.90 | 4.05 | 010
20005 |  | A | Incision of deep abscess | 3.53 | 3.72 | 3.55 | 2.04 | 2.20 | 0.46 | 7.71 | 7.54 | 6.03 | 6.19 | 010
20100 |  | A | Explore wound, neck | 10.31 | NA | NA | 3.63 | 4.25 | 1.21 | NA | NA | 15.15 | 15.77 | 010
20101 |  | A | Explore wound, chest | 3.22 | 6.46 | 6.06 | 1.52 | 1.60 | 0.44 | 10.12 | 9.72 | 5.18 | 5.26 | 010
20102 |  | A | Explore wound, abdomen | 3.93 | 6.99 | 7.34 | 1.85 | 1.89 | 0.49 | 11.41 | 11.76 | 6.27 | 6.31 | 010
20103 |  | A | Explore wound, extremity | 5.29 | 7.72 | 8.37 | 2.73 | 3.23 | 0.75 | 13.76 | 14.41 | 8.77 | 9.27 | 010
20150 |  | A | Excise epiphyseal bar | 14.54 | NA | NA | 7.73 | 7.21 | 2.03 | NA | NA | 24.30 | 23.78 | 090
20200 |  | A | Muscle biopsy | 1.46 | 3.17 | 3.07 | 0.70 | 0.74 | 0.23 | 4.86 | 4.76 | 2.39 | 2.43 | 000
20205 |  | A | Deep muscle biopsy | 2.35 | 3.86 | 3.88 | 1.11 | 1.17 | 0.33 | 6.54 | 6.56 | 3.79 | 3.85 | 000
20206 |  | A | Needle biopsy, muscle | 0.99 | 5.25 | 6.19 | 0.54 | 0.61 | 0.07 | 6.31 | 7.25 | 1.60 | 1.67 | 000
20220 |  | A | Bone biopsy, trocar/needle | 1.27 | 2.71 | 4.10 | 0.65 | 0.76 | 0.08 | 4.06 | 5.45 | 2.00 | 2.11 | 000
20225 |  | A | Bone biopsy, trocar/needle | 1.87 | 13.16 | 21.63 | 1.03 | 1.11 | 0.22 | 15.25 | 23.72 | 3.12 | 3.20 | 000
20240 |  | A | Bone biopsy, excisional | 3.23 | NA | NA | 2.07 | 2.43 | 0.44 | NA | NA | 5.74 | 6.10 | 010
20245 |  | A | Bone biopsy, excisional | 8.71 | NA | NA | 5.79 | 6.38 | 1.31 | NA | NA | 15.81 | 16.40 | 010
20250 |  | A | Open bone biopsy | 5.14 | NA | NA | 3.74 | 3.56 | 1.02 | NA | NA | 9.90 | 9.72 | 010
20251 |  | A | Open bone biopsy | 5.67 | NA | NA | 3.91 | 4.10 | 1.15 | NA | NA | 10.73 | 10.92 | 010
20500 |  | A | Injection of sinus tract | 1.23 | 1.30 | 2.02 | 0.85 | 1.36 | 0.12 | 2.65 | 3.37 | 2.20 | 2.71 | 010
20501 |  | A | Inject sinus tract for x-ray | 0.76 | 2.35 | 2.77 | 0.24 | 0.25 | 0.04 | 3.15 | 3.57 | 1.04 | 1.05 | 000
20520 |  | A | Removal of foreign body | 1.85 | 2.59 | 2.83 | 1.44 | 1.68 | 0.21 | 4.65 | 4.89 | 3.50 | 3.74 | 010
20525 |  | A | Removal of foreign body | 3.49 | 7.09 | 8.63 | 2.20 | 2.52 | 0.51 | 11.09 | 12.63 | 6.20 | 6.52 | 010
20526 |  | A | Ther injection, carp tunnel | 0.94 | 0.82 | 0.93 | 0.41 | 0.49 | 0.13 | 1.89 | 2.00 | 1.48 | 1.56 | 000
20550 |  | A | Inj tendon sheath/ligament | 0.75 | 0.63 | 0.69 | 0.28 | 0.24 | 0.09 | 1.47 | 1.53 | 1.12 | 1.08 | 000
20551 |  | A | Inj tendon origin/insertion | 0.75 | 0.64 | 0.67 | 0.29 | 0.32 | 0.08 | 1.47 | 1.50 | 1.12 | 1.15 | 000
20552 |  | A | Inj trigger point, 1/2 muscl | 0.66 | 0.58 | 0.69 | 0.25 | 0.21 | 0.05 | 1.29 | 1.40 | 0.96 | 0.92 | 000
20553 |  | A | Inject trigger points, =/> 3 | 0.75 | 0.65 | 0.78 | 0.27 | 0.23 | 0.04 | 1.44 | 1.57 | 1.06 | 1.02 | 000
20600 |  | A | Drain/inject, joint/bursa | 0.66 | 0.67 | 0.66 | 0.31 | 0.34 | 0.08 | 1.41 | 1.40 | 1.05 | 1.08 | 000
20605 |  | A | Drain/inject, joint/bursa | 0.68 | 0.74 | 0.76 | 0.33 | 0.35 | 0.08 | 1.50 | 1.52 | 1.09 | 1.11 | 000
20610 |  | A | Drain/inject, joint/bursa | 0.79 | 1.07 | 0.98 | 0.40 | 0.42 | 0.11 | 1.97 | 1.88 | 1.30 | 1.32 | 000
20612 |  | A | Aspirate/inj ganglion cyst | 0.70 | 0.70 | 0.71 | 0.32 | 0.35 | 0.10 | 1.50 | 1.51 | 1.12 | 1.15 | 000
20615 |  | A | Treatment of bone cyst | 2.28 | 2.72 | 3.31 | 1.41 | 1.73 | 0.20 | 5.20 | 5.79 | 3.89 | 4.21 | 010
20650 |  | A | Insert and remove bone pin | 2.23 | 2.51 | 2.40 | 1.48 | 1.53 | 0.31 | 5.05 | 4.94 | 4.02 | 4.07 | 010
20660 |  | A | Apply, rem fixation device | 2.51 | 3.39 | 3.14 | 1.50 | 1.58 | 0.59 | 6.49 | 6.24 | 4.60 | 4.68 | 000
20661 |  | A | Application of head brace | 5.06 | NA | NA | 6.00 | 5.18 | 1.14 | NA | NA | 12.20 | 11.38 | 090
20662 |  | A | Application of pelvis brace | 6.18 | NA | NA | 4.85 | 5.35 | 0.56 | NA | NA | 11.59 | 12.09 | 090
20663 |  | A | Application of thigh brace | 5.54 | NA | NA | 5.14 | 4.91 | 0.94 | NA | NA | 11.62 | 11.39 | 090
20664 |  | A | Halo brace application | 9.78 | NA | NA | 8.13 | 7.31 | 1.74 | NA | NA | 19.65 | 18.83 | 090
20665 |  | A | Removal of fixation device | 1.31 | 1.38 | 1.96 | 0.97 | 1.26 | 0.19 | 2.88 | 3.46 | 2.47 | 2.76 | 010
20670 |  | A | Removal of support implant | 1.74 | 6.70 | 10.33 | 1.68 | 2.00 | 0.28 | 8.72 | 12.35 | 3.70 | 4.02 | 010
20680 |  | A | Removal of support implant | 5.86 | 8.20 | 8.64 | 4.10 | 3.82 | 0.56 | 14.62 | 15.06 | 10.52 | 10.24 | 090
20690 |  | A | Apply bone fixation device | 3.63 | NA | NA | 2.27 | 2.45 | 0.59 | NA | NA | 6.49 | 6.67 | 090
20692 |  | A | Apply bone fixation device | 6.40 | NA | NA | 3.29 | 3.65 | 1.05 | NA | NA | 10.74 | 11.10 | 090
20693 |  | A | Adjust bone fixation device | 5.91 | NA | NA | 4.54 | 5.22 | 0.98 | NA | NA | 11.43 | 12.11 | 090
20694 |  | A | Remove bone fixation device | 4.15 | 5.37 | 6.70 | 3.56 | 3.92 | 0.71 | 10.23 | 11.56 | 8.42 | 8.78 | 090
20802 |  | A | Replantation, arm, complete | 42.16 | NA | NA | 24.05 | 21.73 | 3.81 | NA | NA | 70.02 | 67.70 | 090
20805 |  | A | Replant forearm, complete | 51.00 | NA | NA | 25.95 | 32.22 | 4.84 | NA | NA | 81.79 | 88.06 | 090
20808 |  | A | Replantation hand, complete | 62.63 | NA | NA | 38.79 | 41.36 | 6.86 | NA | NA | 108.28 | 110.85 | 090
20816 |  | A | Replantation digit, complete | 31.64 | NA | NA | 24.53 | 34.48 | 4.52 | NA | NA | 60.69 | 70.64 | 090
20822 |  | A | Replantation digit, complete | 26.30 | NA | NA | 22.24 | 31.50 | 4.18 | NA | NA | 52.72 | 61.98 | 090
20824 |  | A | Replantation thumb, complete | 31.64 | NA | NA | 25.77 | 33.85 | 4.61 | NA | NA | 62.02 | 70.10 | 090
20827 |  | A | Replantation thumb, complete | 27.12 | NA | NA | 23.90 | 33.33 | 3.66 | NA | NA | 54.68 | 64.11 | 090
20838 |  | A | Replantation foot, complete | 42.42 | NA | NA | 13.65 | 20.12 | 1.12 | NA | NA | 57.19 | 63.66 | 090
20900 |  | A | Removal of bone for graft | 5.69 | 9.33 | 8.66 | 4.95 | 5.49 | 0.94 | 15.96 | 15.29 | 11.58 | 12.12 | 090
20902 |  | A | Removal of bone for graft | 7.90 | NA | NA | 5.84 | 6.62 | 1.30 | NA | NA | 15.04 | 15.82 | 090
20910 |  | A | Remove cartilage for graft | 5.33 | NA | NA | 4.62 | 5.04 | 0.71 | NA | NA | 10.66 | 11.08 | 090
20912 |  | A | Remove cartilage for graft | 6.34 | NA | NA | 4.67 | 5.51 | 0.69 | NA | NA | 11.70 | 12.54 | 090
20920 |  | A | Removal of fascia for graft | 5.36 | NA | NA | 4.36 | 4.26 | 0.66 | NA | NA | 10.38 | 10.28 | 090
20922 |  | A | Removal of fascia for graft | 6.78 | 7.52 | 7.54 | 4.96 | 4.89 | 0.70 | 15.00 | 15.02 | 12.44 | 12.37 | 090
20924 |  | A | Removal of tendon for graft | 6.53 | NA | NA | 5.00 | 5.66 | 1.04 | NA | NA | 12.57 | 13.23 | 090
20926 |  | A | Removal of tissue for graft | 5.64 | NA | NA | 4.41 | 4.67 | 0.87 | NA | NA | 10.92 | 11.18 | 090
20931 |  | A | Spinal bone allograft | 1.81 | NA | NA | 0.69 | 0.87 | 0.43 | NA | NA | 2.93 | 3.11 | ZZZ
20937 |  | A | Spinal bone autograft | 2.79 | NA | NA | 1.09 | 1.36 | 0.54 | NA | NA | 4.42 | 4.69 | ZZZ
20938 |  | A | Spinal bone autograft | 3.02 | NA | NA | 1.16 | 1.46 | 0.64 | NA | NA | 4.82 | 5.12 | ZZZ
20950 |  | A | Fluid pressure, muscle | 1.26 | 4.19 | 6.18 | 0.88 | 0.96 | 0.20 | 5.65 | 7.64 | 2.34 | 2.42 | 000
20955 |  | A | Fibula bone graft, microvasc | 39.90 | NA | NA | 18.08 | 22.72 | 4.89 | NA | NA | 62.87 | 67.51 | 090
20956 |  | A | Iliac bone graft, microvasc | 40.79 | NA | NA | 20.77 | 23.75 | 7.01 | NA | NA | 68.57 | 71.55 | 090
20957 |  | A | Mt bone graft, microvasc | 42.17 | NA | NA | 19.43 | 19.06 | 7.05 | NA | NA | 68.65 | 68.28 | 090
20962 |  | A | Other bone graft, microvasc | 39.21 | NA | NA | 21.28 | 25.21 | 6.55 | NA | NA | 67.04 | 70.97 | 090
20969 |  | A | Bone/skin graft, microvasc | 44.99 | NA | NA | 20.27 | 25.04 | 4.79 | NA | NA | 70.05 | 74.82 | 090
20970 |  | A | Bone/skin graft, iliac crest | 44.14 | NA | NA | 20.21 | 24.09 | 6.60 | NA | NA | 70.95 | 74.83 | 090
20972 |  | A | Bone/skin graft, metatarsal | 44.07 | NA | NA | 17.61 | 19.84 | 5.30 | NA | NA | 66.98 | 69.21 | 090
20973 |  | A | Bone/skin graft, great toe | 46.83 | NA | NA | 15.05 | 22.63 | 5.54 | NA | NA | 67.42 | 75.00 | 090
20974 |  | A | Electrical bone stimulation | 0.62 | 0.99 | 0.77 | 0.49 | 0.53 | 0.11 | 1.72 | 1.50 | 1.22 | 1.26 | 000
20975 |  | A | Electrical bone stimulation | 2.60 | NA | NA | 1.48 | 1.65 | 0.51 | NA | NA | 4.59 | 4.76 | 000
20979 |  | A | Us bone stimulation | 0.62 | 0.58 | 0.75 | 0.19 | 0.30 | 0.09 | 1.29 | 1.46 | 0.90 | 1.01 | 000
20982 |  | A | Ablate, bone tumor(s) perq | 7.27 | 83.20 | 103.0 | 2.62 | 2.88 | 0.69 | 91.16 | 110.9 | 10.58 | 10.84 | 000
20999 |  | C | Musculoskeletal surgery | 0.00 | 0.00 | 0.00 | 0.00 | 0.00 | 0.00 | 0.00 | 0.00 | 0.00 | 0.00 | YYY
21010 |  | A | Incision of jaw joint | 10.82 | NA | NA | 5.85 | 6.78 | 1.11 | NA | NA | 17.78 | 18.71 | 090
21015 |  | A | Resection of facial tumor | 5.53 | NA | NA | 4.30 | 4.83 | 0.70 | NA | NA | 10.53 | 11.06 | 090
21025 |  | A | Excision of bone, lower jaw | 10.99 | 12.48 | 12.30 | 8.68 | 9.18 | 1.32 | 24.79 | 24.61 | 20.99 | 21.49 | 090
21026 |  | A | Excision of facial bone(s) | 5.46 | 8.70 | 8.07 | 5.84 | 6.20 | 0.60 | 14.76 | 14.13 | 11.90 | 12.26 | 090
21029 |  | A | Contour of face bone lesion | 8.20 | 9.26 | 9.34 | 6.27 | 6.83 | 0.94 | 18.40 | 18.48 | 15.41 | 15.97 | 090
21030 |  | A | Excise max/zygoma b9 tumor | 4.74 | 7.18 | 6.54 | 4.67 | 4.94 | 0.54 | 12.46 | 11.82 | 9.95 | 10.22 | 090
21031 |  | A | Remove exostosis, mandible | 3.24 | 5.99 | 5.38 | 3.51 | 3.59 | 0.48 | 9.71 | 9.10 | 7.23 | 7.31 | 090
21032 |  | A | Remove exostosis, maxilla | 3.24 | 6.07 | 5.52 | 3.37 | 3.48 | 0.47 | 9.78 | 9.23 | 7.08 | 7.19 | 090
21034 |  | A | Excise max/zygoma mlg tumor | 17.09 | 13.17 | 15.23 | 9.51 | 11.87 | 1.71 | 31.97 | 34.03 | 28.31 | 30.67 | 090
21040 |  | A | Excise mandible lesion | 4.74 | 7.25 | 6.61 | 4.67 | 4.71 | 0.54 | 12.53 | 11.89 | 9.95 | 9.99 | 090
21044 |  | A | Removal of jaw bone lesion | 12.53 | NA | NA | 7.48 | 8.90 | 1.12 | NA | NA | 21.13 | 22.55 | 090
21045 |  | A | Extensive jaw surgery | 18.03 | NA | NA | 10.01 | 11.77 | 1.52 | NA | NA | 29.56 | 31.32 | 090
21046 |  | A | Remove mandible cyst complex | 13.85 | NA | NA | 11.62 | 11.83 | 1.85 | NA | NA | 27.32 | 27.53 | 090
21047 |  | A | Excise lwr jaw cyst w/repair | 19.71 | NA | NA | 9.74 | 12.52 | 2.12 | NA | NA | 31.57 | 34.35 | 090
21048 |  | A | Remove maxilla cyst complex | 14.35 | NA | NA | 11.37 | 11.94 | 1.76 | NA | NA | 27.48 | 28.05 | 090
21049 |  | A | Excis uppr jaw cyst w/repair | 18.96 | NA | NA | 9.09 | 12.04 | 1.59 | NA | NA | 29.64 | 32.59 | 090
21050 |  | A | Removal of jaw joint | 11.44 | NA | NA | 8.18 | 9.13 | 1.47 | NA | NA | 21.09 | 22.04 | 090
21060 |  | A | Remove jaw joint cartilage | 10.83 | NA | NA | 7.52 | 8.34 | 1.38 | NA | NA | 19.73 | 20.55 | 090
21070 |  | A | Remove coronoid process | 8.44 | NA | NA | 6.15 | 6.86 | 1.27 | NA | NA | 15.86 | 16.57 | 090
21076 |  | A | Prepare face/oral prosthesis | 13.40 | 7.85 | 11.23 | 4.80 | 8.70 | 1.99 | 23.24 | 26.62 | 20.19 | 24.09 | 010
21077 |  | A | Prepare face/oral prosthesis | 33.70 | 18.26 | 28.06 | 12.31 | 22.58 | 4.55 | 56.51 | 66.31 | 50.56 | 60.83 | 090
21079 |  | A | Prepare face/oral prosthesis | 22.31 | 13.35 | 19.46 | 8.28 | 14.93 | 3.15 | 38.81 | 44.92 | 33.74 | 40.39 | 090
21080 |  | A | Prepare face/oral prosthesis | 25.06 | 15.43 | 22.23 | 9.22 | 16.83 | 3.74 | 44.23 | 51.03 | 38.02 | 45.63 | 090
21081 |  | A | Prepare face/oral prosthesis | 22.85 | 14.17 | 20.27 | 8.48 | 15.24 | 3.20 | 40.22 | 46.32 | 34.53 | 41.29 | 090
21082 |  | A | Prepare face/oral prosthesis | 20.84 | 14.12 | 18.04 | 8.42 | 13.90 | 3.11 | 38.07 | 41.99 | 32.37 | 37.85 | 090
21083 |  | A | Prepare face/oral prosthesis | 19.27 | 14.06 | 17.61 | 7.91 | 12.80 | 2.88 | 36.21 | 39.76 | 30.06 | 34.95 | 090
21084 |  | A | Prepare face/oral prosthesis | 22.48 | 15.56 | 20.71 | 8.82 | 15.48 | 2.18 | 40.22 | 45.37 | 33.48 | 40.14 | 090
21085 |  | A | Prepare face/oral prosthesis | 8.99 | 6.54 | 7.85 | 3.57 | 5.98 | 1.27 | 16.80 | 18.11 | 13.83 | 16.24 | 010
21086 |  | A | Prepare face/oral prosthesis | 24.88 | 12.62 | 20.96 | 8.63 | 16.73 | 3.71 | 41.21 | 49.55 | 37.22 | 45.32 | 090
21087 |  | A | Prepare face/oral prosthesis | 24.88 | 12.85 | 20.67 | 8.82 | 16.60 | 3.44 | 41.17 | 48.99 | 37.14 | 44.92 | 090
21088 |  | C | Prepare face/oral prosthesis | 0.00 | 0.00 | 0.00 | 0.00 | 0.00 | 0.00 | 0.00 | 0.00 | 0.00 | 0.00 | 090
21089 |  | C | Prepare face/oral prosthesis | 0.00 | 0.00 | 0.00 | 0.00 | 0.00 | 0.00 | 0.00 | 0.00 | 0.00 | 0.00 | 090
21100 |  | A | Maxillofacial fixation | 4.46 | 13.75 | 12.09 | 5.05 | 4.82 | 0.34 | 18.55 | 16.89 | 9.85 | 9.62 | 090
21110 |  | A | Interdental fixation | 5.70 | 13.26 | 10.49 | 9.89 | 8.74 | 0.72 | 19.68 | 16.91 | 16.31 | 15.16 | 090
21116 |  | A | Injection, jaw joint x-ray | 0.81 | 2.44 | 3.86 | 0.22 | 0.30 | 0.06 | 3.31 | 4.73 | 1.09 | 1.17 | 000
21120 |  | A | Reconstruction of chin | 4.92 | 10.02 | 10.44 | 6.88 | 7.34 | 0.60 | 15.54 | 15.96 | 12.40 | 12.86 | 090
21121 |  | A | Reconstruction of chin | 7.63 | 10.59 | 9.95 | 7.50 | 7.74 | 0.90 | 19.12 | 18.48 | 16.03 | 16.27 | 090
21122 |  | A | Reconstruction of chin | 8.51 | NA | NA | 7.64 | 8.38 | 1.07 | NA | NA | 17.22 | 17.96 | 090
21123 |  | A | Reconstruction of chin | 11.14 | NA | NA | 10.06 | 10.62 | 1.40 | NA | NA | 22.60 | 23.16 | 090
21125 |  | A | Augmentation, lower jaw bone | 10.60 | 68.89 | 58.64 | 7.04 | 8.00 | 0.79 | 80.28 | 70.03 | 18.43 | 19.39 | 090
21127 |  | A | Augmentation, lower jaw bone | 12.16 | 86.74 | 53.79 | 7.70 | 9.01 | 1.52 | 100.4 | 67.47 | 21.38 | 22.69 | 090
21137 |  | A | Reduction of forehead | 10.06 | NA | NA | 6.30 | 7.37 | 1.32 | NA | NA | 17.68 | 18.75 | 090
21138 |  | A | Reduction of forehead | 12.67 | NA | NA | 8.50 | 9.27 | 1.74 | NA | NA | 22.91 | 23.68 | 090
21139 |  | A | Reduction of forehead | 14.84 | NA | NA | 8.49 | 10.42 | 1.18 | NA | NA | 24.51 | 26.44 | 090
21141 |  | A | Reconstruct midface, lefort | 19.13 | NA | NA | 11.47 | 13.11 | 2.35 | NA | NA | 32.95 | 34.59 | 090
21142 |  | A | Reconstruct midface, lefort | 19.84 | NA | NA | 10.53 | 12.25 | 2.38 | NA | NA | 32.75 | 34.47 | 090
21143 |  | A | Reconstruct midface, lefort | 20.61 | NA | NA | 8.90 | 12.96 | 1.66 | NA | NA | 31.17 | 35.23 | 090
21145 |  | A | Reconstruct midface, lefort | 23.52 | NA | NA | 12.75 | 13.61 | 2.84 | NA | NA | 39.11 | 39.97 | 090
21146 |  | A | Reconstruct midface, lefort | 24.42 | NA | NA | 9.45 | 13.86 | 3.09 | NA | NA | 36.96 | 41.37 | 090
21147 |  | A | Reconstruct midface, lefort | 26.01 | NA | NA | 13.58 | 14.68 | 1.84 | NA | NA | 41.43 | 42.53 | 090
21150 |  | A | Reconstruct midface, lefort | 25.70 | NA | NA | 13.25 | 15.88 | 2.55 | NA | NA | 41.50 | 44.13 | 090
21151 |  | A | Reconstruct midface, lefort | 28.76 | NA | NA | 11.72 | 20.14 | 2.30 | NA | NA | 42.78 | 51.20 | 090
21154 |  | A | Reconstruct midface, lefort | 30.95 | NA | NA | 21.25 | 22.65 | 2.48 | NA | NA | 54.68 | 56.08 | 090
21155 |  | A | Reconstruct midface, lefort | 34.88 | NA | NA | 13.43 | 21.28 | 6.64 | NA | NA | 54.95 | 62.80 | 090
21159 |  | A | Reconstruct midface, lefort | 42.80 | NA | NA | 15.27 | 25.63 | 8.18 | NA | NA | 66.25 | 76.61 | 090
21160 |  | A | Reconstruct midface, lefort | 46.85 | NA | NA | 23.11 | 26.38 | 4.13 | NA | NA | 74.09 | 77.36 | 090
21172 |  | A | Reconstruct orbit/forehead | 28.01 | NA | NA | 13.59 | 13.71 | 3.55 | NA | NA | 45.15 | 45.27 | 090
21175 |  | A | Reconstruct orbit/forehead | 33.37 | NA | NA | 12.92 | 16.57 | 4.83 | NA | NA | 51.12 | 54.77 | 090
21179 |  | A | Reconstruct entire forehead | 22.47 | NA | NA | 10.96 | 13.34 | 2.80 | NA | NA | 36.23 | 38.61 | 090
21180 |  | A | Reconstruct entire forehead | 25.40 | NA | NA | 13.01 | 14.79 | 3.48 | NA | NA | 41.89 | 43.67 | 090
21181 |  | A | Contour cranial bone lesion | 10.14 | NA | NA | 7.05 | 7.36 | 1.32 | NA | NA | 18.51 | 18.82 | 090
21182 |  | A | Reconstruct cranial bone | 32.39 | NA | NA | 14.29 | 17.91 | 2.80 | NA | NA | 49.48 | 53.10 | 090
21183 |  | A | Reconstruct cranial bone | 35.51 | NA | NA | 15.48 | 19.49 | 4.47 | NA | NA | 55.46 | 59.47 | 090
21184 |  | A | Reconstruct cranial bone | 38.43 | NA | NA | 21.02 | 21.71 | 5.70 | NA | NA | 65.15 | 65.84 | 090
21188 |  | A | Reconstruction of midface | 22.91 | NA | NA | 14.82 | 17.86 | 1.69 | NA | NA | 39.42 | 42.46 | 090
21193 |  | A | Reconst lwr jaw w/o graft | 18.55 | NA | NA | 10.06 | 12.00 | 2.23 | NA | NA | 30.84 | 32.78 | 090
21194 |  | A | Reconst lwr jaw w/graft | 21.43 | NA | NA | 11.45 | 13.18 | 2.02 | NA | NA | 34.90 | 36.63 | 090
21195 |  | A | Reconst lwr jaw w/o fixation | 18.77 | NA | NA | 13.26 | 14.43 | 1.64 | NA | NA | 33.67 | 34.84 | 090
21196 |  | A | Reconst lwr jaw w/fixation | 20.44 | NA | NA | 13.20 | 15.07 | 2.07 | NA | NA | 35.71 | 37.58 | 090
21198 |  | A | Reconstr lwr jaw segment | 15.39 | NA | NA | 11.05 | 12.29 | 1.44 | NA | NA | 27.88 | 29.12 | 090
21199 |  | A | Reconstr lwr jaw w/advance | 16.56 | NA | NA | 6.79 | 8.53 | 1.39 | NA | NA | 24.74 | 26.48 | 090
21206 |  | A | Reconstruct upper jaw bone | 15.27 | NA | NA | 11.15 | 12.26 | 1.33 | NA | NA | 27.75 | 28.86 | 090
21208 |  | A | Augmentation of facial bones | 11.03 | 32.43 | 24.86 | 7.71 | 9.11 | 1.09 | 44.55 | 36.98 | 19.83 | 21.23 | 090
21209 |  | A | Reduction of facial bones | 7.46 | 12.33 | 11.18 | 7.42 | 7.91 | 0.90 | 20.69 | 19.54 | 15.78 | 16.27 | 090
21210 |  | A | Face bone graft | 11.28 | 43.84 | 29.61 | 7.70 | 8.94 | 1.30 | 56.42 | 42.19 | 20.28 | 21.52 | 090
21215 |  | A | Lower jaw bone graft | 11.82 | 86.57 | 53.05 | 7.99 | 9.02 | 1.53 | 99.92 | 66.40 | 21.34 | 22.37 | 090
21230 |  | A | Rib cartilage graft | 11.00 | NA | NA | 6.94 | 7.77 | 1.29 | NA | NA | 19.23 | 20.06 | 090
21235 |  | A | Ear cartilage graft | 7.21 | 9.70 | 9.81 | 5.89 | 6.28 | 0.61 | 17.52 | 17.63 | 13.71 | 14.10 | 090
21240 |  | A | Reconstruction of jaw joint | 15.65 | NA | NA | 11.31 | 11.87 | 2.24 | NA | NA | 29.20 | 29.76 | 090
21242 |  | A | Reconstruction of jaw joint | 14.20 | NA | NA | 10.64 | 11.29 | 1.78 | NA | NA | 26.62 | 27.27 | 090
21243 |  | A | Reconstruction of jaw joint | 23.83 | NA | NA | 15.77 | 17.02 | 3.25 | NA | NA | 42.85 | 44.10 | 090
21244 |  | A | Reconstruction of lower jaw | 13.23 | NA | NA | 10.93 | 11.80 | 1.25 | NA | NA | 25.41 | 26.28 | 090
21245 |  | A | Reconstruction of jaw | 12.78 | 13.37 | 14.14 | 7.99 | 9.39 | 1.19 | 27.34 | 28.11 | 21.96 | 23.36 | 090
21246 |  | A | Reconstruction of jaw | 12.70 | NA | NA | 6.67 | 8.45 | 1.35 | NA | NA | 20.72 | 22.50 | 090
21247 |  | A | Reconstruct lower jaw bone | 23.91 | NA | NA | 13.59 | 16.41 | 2.83 | NA | NA | 40.33 | 43.15 | 090
21248 |  | A | Reconstruction of jaw | 12.46 | 12.60 | 12.25 | 7.51 | 8.93 | 1.55 | 26.61 | 26.26 | 21.52 | 22.94 | 090
21249 |  | A | Reconstruction of jaw | 18.49 | 16.13 | 16.57 | 9.94 | 12.00 | 2.48 | 37.10 | 37.54 | 30.91 | 32.97 | 090
21255 |  | A | Reconstruct lower jaw bone | 18.00 | NA | NA | 13.33 | 15.43 | 2.38 | NA | NA | 33.71 | 35.81 | 090
21256 |  | A | Reconstruction of orbit | 17.32 | NA | NA | 9.98 | 11.36 | 1.50 | NA | NA | 28.80 | 30.18 | 090
21260 |  | A | Revise eye sockets | 17.66 | NA | NA | 9.51 | 11.95 | 0.97 | NA | NA | 28.14 | 30.58 | 090
21261 |  | A | Revise eye sockets | 33.66 | NA | NA | 14.88 | 21.89 | 3.42 | NA | NA | 51.96 | 58.97 | 090
21263 |  | A | Revise eye sockets | 30.60 | NA | NA | 14.17 | 17.85 | 2.62 | NA | NA | 47.39 | 51.07 | 090
21267 |  | A | Revise eye sockets | 20.35 | NA | NA | 16.14 | 18.86 | 1.70 | NA | NA | 38.19 | 40.91 | 090
21268 |  | A | Revise eye sockets | 26.66 | NA | NA | 15.74 | 19.09 | 3.65 | NA | NA | 46.05 | 49.40 | 090
21270 |  | A | Augmentation, cheek bone | 10.46 | 11.17 | 11.53 | 5.89 | 6.91 | 0.72 | 22.35 | 22.71 | 17.07 | 18.09 | 090
21275 |  | A | Revision, orbitofacial bones | 11.59 | NA | NA | 7.41 | 7.97 | 1.29 | NA | NA | 20.29 | 20.85 | 090
21280 |  | A | Revision of eyelid | 6.84 | NA | NA | 5.84 | 5.90 | 0.42 | NA | NA | 13.10 | 13.16 | 090
21282 |  | A | Revision of eyelid | 4.05 | NA | NA | 4.26 | 4.43 | 0.26 | NA | NA | 8.57 | 8.74 | 090
21295 |  | A | Revision of jaw muscle/bone | 1.78 | NA | NA | 2.61 | 2.55 | 0.16 | NA | NA | 4.55 | 4.49 | 090
21296 |  | A | Revision of jaw muscle/bone | 4.61 | NA | NA | 5.46 | 5.05 | 0.34 | NA | NA | 10.41 | 10.00 | 090
21299 |  | C | Cranio/maxillofacial surgery | 0.00 | 0.00 | 0.00 | 0.00 | 0.00 | 0.00 | 0.00 | 0.00 | 0.00 | 0.00 | YYY
21300 |  | A | Treatment of skull fracture | 0.72 | 0.28 | 1.84 | 0.28 | 0.27 | 0.13 | 1.13 | 2.69 | 1.13 | 1.12 | 000
21310 |  | A | Treatment of nose fracture | 0.58 | 1.97 | 2.20 | 0.11 | 0.14 | 0.05 | 2.60 | 2.83 | 0.74 | 0.77 | 000
21315 |  | A | Treatment of nose fracture | 1.76 | 4.46 | 4.29 | 1.65 | 1.82 | 0.14 | 6.36 | 6.19 | 3.55 | 3.72 | 010
21320 |  | A | Treatment of nose fracture | 1.85 | 4.05 | 3.95 | 1.25 | 1.53 | 0.18 | 6.08 | 5.98 | 3.28 | 3.56 | 010
21325 |  | A | Treatment of nose fracture | 4.01 | NA | NA | 6.72 | 8.15 | 0.31 | NA | NA | 11.04 | 12.47 | 090
21330 |  | A | Treatment of nose fracture | 5.62 | NA | NA | 7.44 | 9.14 | 0.56 | NA | NA | 13.62 | 15.32 | 090
21335 |  | A | Treatment of nose fracture | 8.85 | NA | NA | 7.74 | 9.15 | 0.74 | NA | NA | 17.33 | 18.74 | 090
21336 |  | A | Treat nasal septal fracture | 6.46 | NA | NA | 8.16 | 9.25 | 0.55 | NA | NA | 15.17 | 16.26 | 090
21337 |  | A | Treat nasal septal fracture | 3.20 | 5.87 | 6.06 | 3.36 | 3.52 | 0.28 | 9.35 | 9.54 | 6.84 | 7.00 | 090
21338 |  | A | Treat nasoethmoid fracture | 6.70 | NA | NA | 9.66 | 12.93 | 0.82 | NA | NA | 17.18 | 20.45 | 090
21339 |  | A | Treat nasoethmoid fracture | 8.33 | NA | NA | 10.63 | 13.08 | 0.96 | NA | NA | 19.92 | 22.37 | 090
21340 |  | A | Treatment of nose fracture | 11.25 | NA | NA | 7.36 | 8.14 | 1.15 | NA | NA | 19.76 | 20.54 | 090
21343 |  | A | Treatment of sinus fracture | 14.01 | NA | NA | 12.51 | 14.73 | 1.47 | NA | NA | 27.99 | 30.21 | 090
21344 |  | A | Treatment of sinus fracture | 21.26 | NA | NA | 13.04 | 15.64 | 2.43 | NA | NA | 36.73 | 39.33 | 090
21345 |  | A | Treat nose/jaw fracture | 8.77 | 9.69 | 9.80 | 5.98 | 6.87 | 0.92 | 19.38 | 19.49 | 15.67 | 16.56 | 090
21346 |  | A | Treat nose/jaw fracture | 11.21 | NA | NA | 10.76 | 11.84 | 1.21 | NA | NA | 23.18 | 24.26 | 090
21347 |  | A | Treat nose/jaw fracture | 13.29 | NA | NA | 11.56 | 15.03 | 1.47 | NA | NA | 26.32 | 29.79 | 090
21348 |  | A | Treat nose/jaw fracture | 17.28 | NA | NA | 6.42 | 9.94 | 2.48 | NA | NA | 26.18 | 29.70 | 090
21355 |  | A | Treat cheek bone fracture | 4.26 | 5.61 | 6.08 | 3.00 | 3.36 | 0.34 | 10.21 | 10.68 | 7.60 | 7.96 | 010
21356 |  | A | Treat cheek bone fracture | 4.64 | 6.78 | 7.04 | 3.92 | 4.39 | 0.46 | 11.88 | 12.14 | 9.02 | 9.49 | 010
21360 |  | A | Treat cheek bone fracture | 6.95 | NA | NA | 5.25 | 5.76 | 0.74 | NA | NA | 12.94 | 13.45 | 090
21365 |  | A | Treat cheek bone fracture | 16.42 | NA | NA | 8.90 | 10.35 | 1.69 | NA | NA | 27.01 | 28.46 | 090
21366 |  | A | Treat cheek bone fracture | 18.36 | NA | NA | 10.35 | 11.09 | 2.49 | NA | NA | 31.20 | 31.94 | 090
21385 |  | A | Treat eye socket fracture | 9.40 | NA | NA | 6.90 | 7.94 | 0.97 | NA | NA | 17.27 | 18.31 | 090
21386 |  | A | Treat eye socket fracture | 9.40 | NA | NA | 5.69 | 6.73 | 0.97 | NA | NA | 16.06 | 17.10 | 090
21387 |  | A | Treat eye socket fracture | 9.94 | NA | NA | 7.25 | 8.53 | 1.08 | NA | NA | 18.27 | 19.55 | 090
21390 |  | A | Treat eye socket fracture | 11.01 | NA | NA | 7.05 | 7.61 | 0.90 | NA | NA | 18.96 | 19.52 | 090
21395 |  | A | Treat eye socket fracture | 14.58 | NA | NA | 7.78 | 8.71 | 1.44 | NA | NA | 23.80 | 24.73 | 090
21400 |  | A | Treat eye socket fracture | 1.40 | 2.74 | 2.64 | 1.98 | 1.90 | 0.15 | 4.29 | 4.19 | 3.53 | 3.45 | 090
21401 |  | A | Treat eye socket fracture | 3.51 | 7.21 | 7.80 | 3.10 | 3.39 | 0.38 | 11.10 | 11.69 | 6.99 | 7.28 | 090
21406 |  | A | Treat eye socket fracture | 7.25 | NA | NA | 5.08 | 5.83 | 0.73 | NA | NA | 13.06 | 13.81 | 090
21407 |  | A | Treat eye socket fracture | 8.85 | NA | NA | 5.89 | 6.62 | 0.94 | NA | NA | 15.68 | 16.41 | 090
21408 |  | A | Treat eye socket fracture | 12.61 | NA | NA | 7.91 | 8.64 | 1.44 | NA | NA | 21.96 | 22.69 | 090
21421 |  | A | Treat mouth roof fracture | 5.70 | 12.09 | 10.02 | 8.96 | 8.47 | 0.73 | 18.52 | 16.45 | 15.39 | 14.90 | 090
21422 |  | A | Treat mouth roof fracture | 8.56 | NA | NA | 6.79 | 7.76 | 0.99 | NA | NA | 16.34 | 17.31 | 090
21423 |  | A | Treat mouth roof fracture | 10.63 | NA | NA | 7.28 | 8.81 | 1.27 | NA | NA | 19.18 | 20.71 | 090
21431 |  | A | Treat craniofacial fracture | 7.66 | NA | NA | 9.34 | 9.48 | 0.70 | NA | NA | 17.70 | 17.84 | 090
21432 |  | A | Treat craniofacial fracture | 8.72 | NA | NA | 7.18 | 7.84 | 0.81 | NA | NA | 16.71 | 17.37 | 090
21433 |  | A | Treat craniofacial fracture | 26.05 | NA | NA | 12.51 | 15.43 | 2.78 | NA | NA | 41.34 | 44.26 | 090
21435 |  | A | Treat craniofacial fracture | 19.92 | NA | NA | 10.77 | 12.22 | 1.98 | NA | NA | 32.67 | 34.12 | 090
21436 |  | A | Treat craniofacial fracture | 29.89 | NA | NA | 14.38 | 17.26 | 3.09 | NA | NA | 47.36 | 50.24 | 090
21440 |  | A | Treat dental ridge fracture | 3.20 | 10.31 | 7.90 | 7.63 | 6.53 | 0.38 | 13.89 | 11.48 | 11.21 | 10.11 | 090
21445 |  | A | Treat dental ridge fracture | 5.94 | 12.48 | 10.43 | 8.61 | 8.43 | 0.78 | 19.20 | 17.15 | 15.33 | 15.15 | 090
21450 |  | A | Treat lower jaw fracture | 3.47 | 10.41 | 8.14 | 7.64 | 7.06 | 0.33 | 14.21 | 11.94 | 11.44 | 10.86 | 090
21451 |  | A | Treat lower jaw fracture | 5.36 | 12.93 | 10.25 | 9.63 | 8.71 | 0.63 | 18.92 | 16.24 | 15.62 | 14.70 | 090
21452 |  | A | Treat lower jaw fracture | 2.23 | 11.77 | 12.71 | 5.89 | 4.93 | 0.27 | 14.27 | 15.21 | 8.39 | 7.43 | 090
21453 |  | A | Treat lower jaw fracture | 6.28 | 14.74 | 11.74 | 11.59 | 10.95 | 0.74 | 21.76 | 18.76 | 18.61 | 17.97 | 090
21454 |  | A | Treat lower jaw fracture | 7.07 | NA | NA | 5.64 | 6.11 | 0.82 | NA | NA | 13.53 | 14.00 | 090
21461 |  | A | Treat lower jaw fracture | 8.95 | 41.23 | 28.65 | 12.59 | 12.64 | 0.98 | 51.16 | 38.58 | 22.52 | 22.57 | 090
21462 |  | A | Treat lower jaw fracture | 10.65 | 42.46 | 31.32 | 13.17 | 12.83 | 1.27 | 54.38 | 43.24 | 25.09 | 24.75 | 090
21465 |  | A | Treat lower jaw fracture | 12.76 | NA | NA | 8.26 | 9.42 | 1.50 | NA | NA | 22.52 | 23.68 | 090
21470 |  | A | Treat lower jaw fracture | 17.12 | NA | NA | 10.05 | 11.53 | 1.96 | NA | NA | 29.13 | 30.61 | 090
21480 |  | A | Reset dislocated jaw | 0.61 | 1.51 | 1.71 | 0.18 | 0.19 | 0.06 | 2.18 | 2.38 | 0.85 | 0.86 | 000
21485 |  | A | Reset dislocated jaw | 4.48 | 12.20 | 9.22 | 9.18 | 8.04 | 0.51 | 17.19 | 14.21 | 14.17 | 13.03 | 090
21490 |  | A | Repair dislocated jaw | 12.59 | NA | NA | 7.86 | 9.23 | 1.96 | NA | NA | 22.41 | 23.78 | 090
21495 |  | A | Treat hyoid bone fracture | 6.43 | NA | NA | 9.57 | 8.71 | 0.46 | NA | NA | 16.46 | 15.60 | 090
21497 |  | A | Interdental wiring | 4.35 | 11.96 | 9.33 | 9.14 | 8.02 | 0.50 | 16.81 | 14.18 | 13.99 | 12.87 | 090
21499 |  | C | Head surgery procedure | 0.00 | 0.00 | 0.00 | 0.00 | 0.00 | 0.00 | 0.00 | 0.00 | 0.00 | 0.00 | YYY
21501 |  | A | Drain neck/chest lesion | 3.80 | 6.42 | 6.42 | 3.43 | 3.72 | 0.43 | 10.65 | 10.65 | 7.66 | 7.95 | 090
21502 |  | A | Drain chest lesion | 7.35 | NA | NA | 4.77 | 5.42 | 0.97 | NA | NA | 13.09 | 13.74 | 090
21510 |  | A | Drainage of bone lesion | 5.97 | NA | NA | 4.71 | 5.42 | 0.80 | NA | NA | 11.48 | 12.19 | 090
21550 |  | A | Biopsy of neck/chest | 2.06 | 4.28 | 3.76 | 1.73 | 1.72 | 0.16 | 6.50 | 5.98 | 3.95 | 3.94 | 010
21555 |  | A | Remove lesion, neck/chest | 4.34 | 5.76 | 5.57 | 3.41 | 3.25 | 0.56 | 10.66 | 10.47 | 8.31 | 8.15 | 090
21556 |  | A | Remove lesion, neck/chest | 5.56 | NA | NA | 4.01 | 4.08 | 0.65 | NA | NA | 10.22 | 10.29 | 090
21557 |  | A | Remove tumor, neck/chest | 8.87 | NA | NA | 4.42 | 5.12 | 1.08 | NA | NA | 14.37 | 15.07 | 090
21600 |  | A | Partial removal of rib | 7.06 | NA | NA | 5.79 | 5.75 | 0.99 | NA | NA | 13.84 | 13.80 | 090
21610 |  | A | Partial removal of rib | 15.70 | NA | NA | 8.13 | 8.68 | 3.07 | NA | NA | 26.90 | 27.45 | 090
21615 |  | A | Removal of rib | 10.22 | NA | NA | 5.46 | 6.38 | 1.45 | NA | NA | 17.13 | 18.05 | 090
21616 |  | A | Removal of rib and nerves | 12.44 | NA | NA | 7.15 | 7.80 | 1.86 | NA | NA | 21.45 | 22.10 | 090
21620 |  | A | Partial removal of sternum | 7.08 | NA | NA | 4.88 | 5.70 | 0.98 | NA | NA | 12.94 | 13.76 | 090
21627 |  | A | Sternal debridement | 7.10 | NA | NA | 5.62 | 6.13 | 1.02 | NA | NA | 13.74 | 14.25 | 090
21630 |  | A | Extensive sternum surgery | 18.90 | NA | NA | 10.55 | 11.52 | 2.58 | NA | NA | 32.03 | 33.00 | 090
21632 |  | A | Extensive sternum surgery | 19.40 | NA | NA | 9.62 | 10.74 | 2.65 | NA | NA | 31.67 | 32.79 | 090
21685 |  | A | Hyoid myotomy & suspension | 14.77 | NA | NA | 7.81 | 9.43 | 1.06 | NA | NA | 23.64 | 25.26 | 090
21700 |  | A | Revision of neck muscle | 6.18 | NA | NA | 3.93 | 4.31 | 0.32 | NA | NA | 10.43 | 10.81 | 090
21705 |  | A | Revision of neck muscle/rib | 9.77 | NA | NA | 4.71 | 5.36 | 1.43 | NA | NA | 15.91 | 16.56 | 090
21720 |  | A | Revision of neck muscle | 5.67 | NA | NA | 4.32 | 2.93 | 0.91 | NA | NA | 10.90 | 9.51 | 090
21725 |  | A | Revision of neck muscle | 7.04 | NA | NA | 4.60 | 5.23 | 1.21 | NA | NA | 12.85 | 13.48 | 090
21740 |  | A | Reconstruction of sternum | 17.43 | NA | NA | 8.77 | 8.58 | 2.36 | NA | NA | 28.56 | 28.37 | 090
21742 |  | C | Repair stern/nuss w/o scope | 0.00 | 0.00 | 0.00 | 0.00 | 0.00 | 0.00 | 0.00 | 0.00 | 0.00 | 0.00 | 090
21743 |  | C | Repair sternum/nuss w/scope | 0.00 | 0.00 | 0.00 | 0.00 | 0.00 | 0.00 | 0.00 | 0.00 | 0.00 | 0.00 | 090
21750 |  | A | Repair of sternum separation | 11.33 | NA | NA | 5.45 | 5.95 | 1.63 | NA | NA | 18.41 | 18.91 | 090
21800 |  | A | Treatment of rib fracture | 0.96 | 1.35 | 1.34 | 1.42 | 1.36 | 0.09 | 2.40 | 2.39 | 2.47 | 2.41 | 090
21805 |  | A | Treatment of rib fracture | 2.75 | NA | NA | 3.56 | 3.29 | 0.38 | NA | NA | 6.69 | 6.42 | 090
21810 |  | A | Treatment of rib fracture(s) | 6.85 | NA | NA | 5.27 | 5.05 | 0.94 | NA | NA | 13.06 | 12.84 | 090
21820 |  | A | Treat sternum fracture | 1.28 | 1.80 | 1.82 | 1.87 | 1.79 | 0.16 | 3.24 | 3.26 | 3.31 | 3.23 | 090
21825 |  | A | Treat sternum fracture | 7.58 | NA | NA | 5.46 | 6.16 | 1.11 | NA | NA | 14.15 | 14.85 | 090
21899 |  | C | Neck/chest surgery procedure | 0.00 | 0.00 | 0.00 | 0.00 | 0.00 | 0.00 | 0.00 | 0.00 | 0.00 | 0.00 | YYY
21920 |  | A | Biopsy soft tissue of back | 2.06 | 4.32 | 3.54 | 1.82 | 1.56 | 0.14 | 6.52 | 5.74 | 4.02 | 3.76 | 010
21925 |  | A | Biopsy soft tissue of back | 4.48 | 5.50 | 5.25 | 3.45 | 3.29 | 0.60 | 10.58 | 10.33 | 8.53 | 8.37 | 090
21930 |  | A | Remove lesion, back or flank | 4.99 | 6.05 | 5.80 | 3.77 | 3.49 | 0.66 | 11.70 | 11.45 | 9.42 | 9.14 | 090
21935 |  | A | Remove tumor, back | 18.29 | NA | NA | 8.56 | 9.36 | 2.47 | NA | NA | 29.32 | 30.12 | 090
22010 |  | A | I&d, p-spine, c/t/cerv-thor | 12.49 | NA | NA | 8.06 | 8.68 | 1.73 | NA | NA | 22.28 | 22.90 | 090
22015 |  | A | I&d, p-spine, l/s/ls | 12.38 | NA | NA | 8.02 | 8.62 | 1.71 | NA | NA | 22.11 | 22.71 | 090
22100 |  | A | Remove part of neck vertebra | 10.72 | NA | NA | 8.01 | 7.65 | 2.13 | NA | NA | 20.86 | 20.50 | 090
22101 |  | A | Remove part, thorax vertebra | 10.80 | NA | NA | 7.94 | 7.80 | 1.90 | NA | NA | 20.64 | 20.50 | 090
22102 |  | A | Remove part, lumbar vertebra | 10.80 | NA | NA | 7.24 | 7.89 | 1.87 | NA | NA | 19.91 | 20.56 | 090
22103 |  | A | Remove extra spine segment | 2.34 | NA | NA | 0.89 | 1.13 | 0.44 | NA | NA | 3.67 | 3.91 | ZZZ
22110 |  | A | Remove part of neck vertebra | 13.72 | NA | NA | 9.09 | 9.14 | 2.76 | NA | NA | 25.57 | 25.62 | 090
22112 |  | A | Remove part, thorax vertebra | 13.79 | NA | NA | 8.97 | 9.20 | 2.52 | NA | NA | 25.28 | 25.51 | 090
22114 |  | A | Remove part, lumbar vertebra | 13.79 | NA | NA | 9.08 | 9.21 | 2.63 | NA | NA | 25.50 | 25.63 | 090
22116 |  | A | Remove extra spine segment | 2.32 | NA | NA | 0.87 | 1.10 | 0.50 | NA | NA | 3.69 | 3.92 | ZZZ
22210 |  | A | Revision of neck spine | 25.03 | NA | NA | 14.74 | 15.24 | 5.44 | NA | NA | 45.21 | 45.71 | 090
22212 |  | A | Revision of thorax spine | 20.64 | NA | NA | 12.49 | 13.08 | 3.90 | NA | NA | 37.03 | 37.62 | 090
22214 |  | A | Revision of lumbar spine | 20.67 | NA | NA | 12.59 | 13.51 | 3.91 | NA | NA | 37.17 | 38.09 | 090
22216 |  | A | Revise, extra spine segment | 6.03 | NA | NA | 2.37 | 2.94 | 1.29 | NA | NA | 9.69 | 10.26 | ZZZ
22220 |  | A | Revision of neck spine | 22.59 | NA | NA | 13.42 | 13.57 | 5.06 | NA | NA | 41.07 | 41.22 | 090
22222 |  | A | Revision of thorax spine | 22.74 | NA | NA | 12.19 | 11.40 | 4.12 | NA | NA | 39.05 | 38.26 | 090
22224 |  | A | Revision of lumbar spine | 22.74 | NA | NA | 13.17 | 13.96 | 4.18 | NA | NA | 40.09 | 40.88 | 090
22226 |  | A | Revise, extra spine segment | 6.03 | NA | NA | 2.15 | 2.86 | 1.29 | NA | NA | 9.47 | 10.18 | ZZZ
22305 |  | A | Treat spine process fracture | 2.05 | 2.16 | 2.27 | 1.81 | 1.89 | 0.39 | 4.60 | 4.71 | 4.25 | 4.33 | 090
22310 |  | A | Treat spine fracture | 3.61 | 2.99 | 2.85 | 2.50 | 2.39 | 0.50 | 7.10 | 6.96 | 6.61 | 6.50 | 090
22315 |  | A | Treat spine fracture | 9.83 | 9.81 | 9.71 | 7.39 | 7.35 | 1.85 | 21.49 | 21.39 | 19.07 | 19.03 | 090
22318 |  | A | Treat odontoid fx w/o graft | 22.46 | NA | NA | 13.25 | 13.35 | 5.28 | NA | NA | 40.99 | 41.09 | 090
22319 |  | A | Treat odontoid fx w/graft | 25.07 | NA | NA | 14.00 | 14.53 | 6.03 | NA | NA | 45.10 | 45.63 | 090
22325 |  | A | Treat spine fracture | 19.52 | NA | NA | 12.03 | 12.06 | 3.87 | NA | NA | 35.42 | 35.45 | 090
22326 |  | A | Treat neck spine fracture | 20.56 | NA | NA | 12.13 | 12.56 | 4.42 | NA | NA | 37.11 | 37.54 | 090
22327 |  | A | Treat thorax spine fracture | 20.42 | NA | NA | 12.07 | 12.29 | 3.98 | NA | NA | 36.47 | 36.69 | 090
22328 |  | A | Treat each add spine fx | 4.60 | NA | NA | 1.80 | 2.15 | 0.94 | NA | NA | 7.34 | 7.69 | ZZZ
22505 |  | A | Manipulation of spine | 1.87 | NA | NA | 1.06 | 0.97 | 0.36 | NA | NA | 3.29 | 3.20 | 010
22520 |  | A | Percut vertebroplasty thor | 9.15 | 44.71 | 57.42 | 4.39 | 4.92 | 1.71 | 55.57 | 68.28 | 15.25 | 15.78 | 010
22521 |  | A | Percut vertebroplasty lumb | 8.58 | 45.98 | 53.47 | 4.20 | 4.76 | 1.60 | 56.16 | 63.65 | 14.38 | 14.94 | 010
22522 |  | A | Percut vertebroplasty addIl | 4.30 | NA | NA | 1.41 | 1.61 | 0.82 | NA | NA | 6.53 | 6.73 | ZZZ
22523 |  | A | Percut kyphoplasty, thor | 9.19 | NA | NA | 4.75 | 5.61 | 1.71 | NA | NA | 15.65 | 16.51 | 010
22524 |  | A | Percut kyphoplasty, lumbar | 8.79 | NA | NA | 4.60 | 5.42 | 1.60 | NA | NA | 14.99 | 15.81 | 010
22525 |  | A | Percut kyphoplasty, add-on | 4.47 | NA | NA | 1.68 | 2.12 | 0.82 | NA | NA | 6.97 | 7.41 | ZZZ
22532 |  | A | Lat thorax spine fusion | 25.73 | NA | NA | 13.79 | 14.56 | 4.34 | NA | NA | 43.86 | 44.63 | 090
22533 |  | A | Lat lumbar spine fusion | 24.53 | NA | NA | 13.43 | 13.55 | 3.15 | NA | NA | 41.11 | 41.23 | 090
22534 |  | A | Lat thor/lumb, addIl seg | 5.99 | NA | NA | 2.31 | 2.85 | 1.25 | NA | NA | 9.55 | 10.09 | ZZZ
22548 |  | A | Neck spine fusion | 26.78 | NA | NA | 15.08 | 15.62 | 5.59 | NA | NA | 47.45 | 47.99 | 090
22554 |  | A | Neck spine fusion | 17.48 | NA | NA | 10.74 | 11.94 | 4.45 | NA | NA | 32.67 | 33.87 | 090
22556 |  | A | Thorax spine fusion | 24.42 | NA | NA | 13.07 | 14.32 | 4.34 | NA | NA | 41.83 | 43.08 | 090
22558 |  | A | Lumbar spine fusion | 23.25 | NA | NA | 11.53 | 12.85 | 3.15 | NA | NA | 37.93 | 39.25 | 090
22585 |  | A | Additional spinal fusion | 5.52 | NA | NA | 2.09 | 2.62 | 1.25 | NA | NA | 8.86 | 9.39 | ZZZ
22590 |  | A | Spine & skull spinal fusion | 21.48 | NA | NA | 13.10 | 13.27 | 4.78 | NA | NA | 39.36 | 39.53 | 090
22595 |  | A | Neck spinal fusion | 20.36 | NA | NA | 12.61 | 12.78 | 4.40 | NA | NA | 37.37 | 37.54 | 090
22600 |  | A | Neck spine fusion | 17.12 | NA | NA | 11.28 | 11.21 | 3.72 | NA | NA | 32.12 | 32.05 | 090
22610 |  | A | Thorax spine fusion | 17.00 | NA | NA | 10.88 | 11.28 | 3.52 | NA | NA | 31.40 | 31.80 | 090
22612 |  | A | Lumbar spine fusion | 22.50 | NA | NA | 12.92 | 13.88 | 4.46 | NA | NA | 39.88 | 40.84 | 090
22614 |  | A | Spine fusion, extra segment | 6.43 | NA | NA | 2.49 | 3.14 | 1.38 | NA | NA | 10.30 | 10.95 | ZZZ
22630 |  | A | Lumbar spine fusion | 21.81 | NA | NA | 12.64 | 13.36 | 4.72 | NA | NA | 39.17 | 39.89 | 090
22632 |  | A | Spine fusion, extra segment | 5.22 | NA | NA | 2.01 | 2.50 | 1.16 | NA | NA | 8.39 | 8.88 | ZZZ
22800 |  | A | Fusion of spine | 19.22 | NA | NA | 11.15 | 12.37 | 3.75 | NA | NA | 34.12 | 35.34 | 090
22802 |  | A | Fusion of spine | 31.83 | NA | NA | 16.17 | 18.74 | 6.15 | NA | NA | 54.15 | 56.72 | 090
22804 |  | A | Fusion of spine | 37.22 | NA | NA | 18.20 | 21.57 | 6.98 | NA | NA | 62.40 | 65.77 | 090
22808 |  | A | Fusion of spine | 27.23 | NA | NA | 13.85 | 15.69 | 4.92 | NA | NA | 46.00 | 47.84 | 090
22810 |  | A | Fusion of spine | 31.22 | NA | NA | 14.93 | 17.50 | 5.13 | NA | NA | 51.28 | 53.85 | 090
22812 |  | A | Fusion of spine | 33.90 | NA | NA | 16.75 | 19.23 | 5.28 | NA | NA | 55.93 | 58.41 | 090
22818 |  | A | Kyphectomy, 1-2 segments | 34.12 | NA | NA | 16.65 | 18.32 | 6.45 | NA | NA | 57.22 | 58.89 | 090
22819 |  | A | Kyphectomy, 3 or more | 39.10 | NA | NA | 19.45 | 19.90 | 7.65 | NA | NA | 66.20 | 66.65 | 090
22830 |  | A | Exploration of spinal fusion | 11.07 | NA | NA | 7.11 | 7.75 | 2.29 | NA | NA | 20.47 | 21.11 | 090
22840 |  | A | Insert spine fixation device | 12.52 | NA | NA | 4.84 | 6.08 | 2.78 | NA | NA | 20.14 | 21.38 | ZZZ
22842 |  | A | Insert spine fixation device | 12.56 | NA | NA | 4.86 | 6.09 | 2.74 | NA | NA | 20.16 | 21.39 | ZZZ
22843 |  | A | Insert spine fixation device | 13.44 | NA | NA | 5.26 | 6.27 | 2.85 | NA | NA | 21.55 | 22.56 | ZZZ
22844 |  | A | Insert spine fixation device | 16.42 | NA | NA | 6.47 | 8.18 | 3.18 | NA | NA | 26.07 | 27.78 | ZZZ
22845 |  | A | Insert spine fixation device | 11.94 | NA | NA | 4.55 | 5.69 | 2.85 | NA | NA | 19.34 | 20.48 | ZZZ
22846 |  | A | Insert spine fixation device | 12.40 | NA | NA | 4.72 | 5.93 | 2.95 | NA | NA | 20.07 | 21.28 | ZZZ
22847 |  | A | Insert spine fixation device | 13.78 | NA | NA | 5.34 | 6.60 | 2.99 | NA | NA | 22.11 | 23.37 | ZZZ
22848 |  | A | Insert pelv fixation device | 5.99 | NA | NA | 2.37 | 2.98 | 1.15 | NA | NA | 9.51 | 10.12 | ZZZ
22849 |  | A | Reinsert spinal fixation | 19.02 | NA | NA | 10.28 | 11.37 | 3.89 | NA | NA | 33.19 | 34.28 | 090
22850 |  | A | Remove spine fixation device | 9.69 | NA | NA | 6.51 | 6.87 | 2.04 | NA | NA | 18.24 | 18.60 | 090
22851 |  | A | Apply spine prosth device | 6.70 | NA | NA | 2.58 | 3.17 | 1.49 | NA | NA | 10.77 | 11.36 | ZZZ
22852 |  | A | Remove spine fixation device | 9.24 | NA | NA | 6.23 | 6.65 | 1.89 | NA | NA | 17.36 | 17.78 | 090
22855 |  | A | Remove spine fixation device | 15.71 | NA | NA | 9.28 | 9.57 | 3.51 | NA | NA | 28.50 | 28.79 | 090
22899 |  | C | Spine surgery procedure | 0.00 | 0.00 | 0.00 | 0.00 | 0.00 | 0.00 | 0.00 | 0.00 | 0.00 | 0.00 | YYY
22900 |  | A | Remove abdominal wall lesion | 6.09 | NA | NA | 3.56 | 3.31 | 0.76 | NA | NA | 10.41 | 10.16 | 090
22999 |  | C | Abdomen surgery procedure | 0.00 | 0.00 | 0.00 | 0.00 | 0.00 | 0.00 | 0.00 | 0.00 | 0.00 | 0.00 | YYY
23000 |  | A | Removal of calcium deposits | 4.35 | 7.83 | 8.36 | 3.68 | 4.24 | 0.68 | 12.86 | 13.39 | 8.71 | 9.27 | 090
23020 |  | A | Release shoulder joint | 9.16 | NA | NA | 6.51 | 7.30 | 1.54 | NA | NA | 17.21 | 18.00 | 090
23030 |  | A | Drain shoulder lesion | 3.42 | 6.32 | 7.12 | 2.41 | 2.78 | 0.57 | 10.31 | 11.11 | 6.40 | 6.77 | 010
23031 |  | A | Drain shoulder bursa | 2.74 | 6.53 | 7.53 | 2.23 | 2.60 | 0.46 | 9.73 | 10.73 | 5.43 | 5.80 | 010
23035 |  | A | Drain shoulder bone lesion | 8.96 | NA | NA | 7.02 | 7.96 | 1.47 | NA | NA | 17.45 | 18.39 | 090
23040 |  | A | Exploratory shoulder surgery | 9.55 | NA | NA | 6.80 | 7.60 | 1.60 | NA | NA | 17.95 | 18.75 | 090
23044 |  | A | Exploratory shoulder surgery | 7.41 | NA | NA | 5.59 | 6.22 | 1.24 | NA | NA | 14.24 | 14.87 | 090
23065 |  | A | Biopsy shoulder tissues | 2.27 | 2.91 | 2.59 | 1.70 | 1.64 | 0.20 | 5.38 | 5.06 | 4.17 | 4.11 | 010
23066 |  | A | Biopsy shoulder tissues | 4.15 | 7.72 | 7.68 | 3.60 | 3.89 | 0.63 | 12.50 | 12.46 | 8.38 | 8.67 | 090
23075 |  | A | Removal of shoulder lesion | 2.39 | 3.74 | 3.68 | 1.74 | 1.77 | 0.34 | 6.47 | 6.41 | 4.47 | 4.50 | 010
23076 |  | A | Removal of shoulder lesion | 7.68 | NA | NA | 5.33 | 5.50 | 1.13 | NA | NA | 14.14 | 14.31 | 090
23077 |  | A | Remove tumor of shoulder | 17.98 | NA | NA | 9.81 | 10.11 | 2.33 | NA | NA | 30.12 | 30.42 | 090
23100 |  | A | Biopsy of shoulder joint | 6.02 | NA | NA | 5.15 | 5.53 | 1.04 | NA | NA | 12.21 | 12.59 | 090
23101 |  | A | Shoulder joint surgery | 5.57 | NA | NA | 4.58 | 5.14 | 0.96 | NA | NA | 11.11 | 11.67 | 090
23105 |  | A | Remove shoulder joint lining | 8.28 | NA | NA | 6.12 | 6.87 | 1.42 | NA | NA | 15.82 | 16.57 | 090
23106 |  | A | Incision of collarbone joint | 5.95 | NA | NA | 4.62 | 5.43 | 0.99 | NA | NA | 11.56 | 12.37 | 090
23107 |  | A | Explore treat shoulder joint | 8.67 | NA | NA | 6.27 | 7.11 | 1.49 | NA | NA | 16.43 | 17.27 | 090
23120 |  | A | Partial removal, collar bone | 7.16 | NA | NA | 5.50 | 6.22 | 1.23 | NA | NA | 13.89 | 14.61 | 090
23125 |  | A | Removal of collar bone | 9.44 | NA | NA | 6.38 | 7.27 | 1.62 | NA | NA | 17.44 | 18.33 | 090
23130 |  | A | Remove shoulder bone, part | 7.54 | NA | NA | 6.10 | 6.87 | 1.30 | NA | NA | 14.94 | 15.71 | 090
23140 |  | A | Removal of bone lesion | 6.94 | NA | NA | 4.82 | 5.12 | 1.08 | NA | NA | 12.84 | 13.14 | 090
23145 |  | A | Removal of bone lesion | 9.20 | NA | NA | 5.83 | 7.04 | 1.49 | NA | NA | 16.52 | 17.73 | 090
23146 |  | A | Removal of bone lesion | 7.88 | NA | NA | 5.99 | 6.83 | 1.35 | NA | NA | 15.22 | 16.06 | 090
23150 |  | A | Removal of humerus lesion | 8.71 | NA | NA | 6.06 | 6.71 | 1.32 | NA | NA | 16.09 | 16.74 | 090
23155 |  | A | Removal of humerus lesion | 10.63 | NA | NA | 7.36 | 8.09 | 1.80 | NA | NA | 19.79 | 20.52 | 090
23156 |  | A | Removal of humerus lesion | 8.91 | NA | NA | 6.42 | 7.14 | 1.50 | NA | NA | 16.83 | 17.55 | 090
23170 |  | A | Remove collar bone lesion | 7.03 | NA | NA | 5.08 | 5.79 | 1.12 | NA | NA | 13.23 | 13.94 | 090
23172 |  | A | Remove shoulder blade lesion | 7.13 | NA | NA | 4.98 | 5.96 | 1.01 | NA | NA | 13.12 | 14.10 | 090
23174 |  | A | Remove humerus lesion | 9.80 | NA | NA | 7.30 | 8.10 | 1.65 | NA | NA | 18.75 | 19.55 | 090
23180 |  | A | Remove collar bone lesion | 8.76 | NA | NA | 7.08 | 8.51 | 1.47 | NA | NA | 17.31 | 18.74 | 090
23182 |  | A | Remove shoulder blade lesion | 8.38 | NA | NA | 6.91 | 8.14 | 1.37 | NA | NA | 16.66 | 17.89 | 090
23184 |  | A | Remove humerus lesion | 9.67 | NA | NA | 7.55 | 8.87 | 1.63 | NA | NA | 18.85 | 20.17 | 090
23190 |  | A | Partial removal of scapula | 7.29 | NA | NA | 5.43 | 5.99 | 1.17 | NA | NA | 13.89 | 14.45 | 090
23195 |  | A | Removal of head of humerus | 10.16 | NA | NA | 6.80 | 7.50 | 1.70 | NA | NA | 18.66 | 19.36 | 090
23200 |  | A | Removal of collar bone | 12.60 | NA | NA | 7.51 | 8.42 | 1.93 | NA | NA | 22.04 | 22.95 | 090
23210 |  | A | Removal of shoulder blade | 13.07 | NA | NA | 8.24 | 8.80 | 2.02 | NA | NA | 23.33 | 23.89 | 090
23220 |  | A | Partial removal of humerus | 15.26 | NA | NA | 9.09 | 10.39 | 2.48 | NA | NA | 26.83 | 28.13 | 090
23221 |  | A | Partial removal of humerus | 18.31 | NA | NA | 6.67 | 10.46 | 3.05 | NA | NA | 28.03 | 31.82 | 090
23222 |  | A | Partial removal of humerus | 25.36 | NA | NA | 13.58 | 15.23 | 3.94 | NA | NA | 42.88 | 44.53 | 090
23330 |  | A | Remove shoulder foreign body | 1.85 | 3.37 | 3.60 | 1.53 | 1.79 | 0.24 | 5.46 | 5.69 | 3.62 | 3.88 | 010
23331 |  | A | Remove shoulder foreign body | 7.43 | NA | NA | 5.89 | 6.57 | 1.27 | NA | NA | 14.59 | 15.27 | 090
23332 |  | A | Remove shoulder foreign body | 12.14 | NA | NA | 8.03 | 9.00 | 2.02 | NA | NA | 22.19 | 23.16 | 090
23350 |  | A | Injection for shoulder x-ray | 1.00 | 2.72 | 3.28 | 0.32 | 0.33 | 0.06 | 3.78 | 4.34 | 1.38 | 1.39 | 000
23395 |  | A | Muscle transfer,shoulder/arm | 18.19 | NA | NA | 11.26 | 12.46 | 2.93 | NA | NA | 32.38 | 33.58 | 090
23397 |  | A | Muscle transfers | 16.53 | NA | NA | 9.70 | 10.95 | 2.73 | NA | NA | 28.96 | 30.21 | 090
23400 |  | A | Fixation of shoulder blade | 13.64 | NA | NA | 8.57 | 9.70 | 2.29 | NA | NA | 24.50 | 25.63 | 090
23405 |  | A | Incision of tendon & muscle | 8.36 | NA | NA | 5.97 | 6.68 | 1.45 | NA | NA | 15.78 | 16.49 | 090
23406 |  | A | Incise tendon(s) & muscle(s) | 10.83 | NA | NA | 6.95 | 7.99 | 1.87 | NA | NA | 19.65 | 20.69 | 090
23410 |  | A | Repair rotator cuff, acute | 12.55 | NA | NA | 7.84 | 9.01 | 2.16 | NA | NA | 22.55 | 23.72 | 090
23412 |  | A | Repair rotator cuff, chronic | 13.47 | NA | NA | 8.23 | 9.48 | 2.31 | NA | NA | 24.01 | 25.26 | 090
23415 |  | A | Release of shoulder ligament | 10.02 | NA | NA | 6.62 | 7.65 | 1.73 | NA | NA | 18.37 | 19.40 | 090
23420 |  | A | Repair of shoulder | 14.65 | NA | NA | 9.78 | 10.58 | 2.31 | NA | NA | 26.74 | 27.54 | 090
23430 |  | A | Repair biceps tendon | 9.97 | NA | NA | 6.81 | 7.78 | 1.73 | NA | NA | 18.51 | 19.48 | 090
23440 |  | A | Remove/transplant tendon | 10.46 | NA | NA | 6.82 | 7.90 | 1.82 | NA | NA | 19.10 | 20.18 | 090
23450 |  | A | Repair shoulder capsule | 13.50 | NA | NA | 8.21 | 9.43 | 2.32 | NA | NA | 24.03 | 25.25 | 090
23455 |  | A | Repair shoulder capsule | 14.47 | NA | NA | 8.60 | 9.98 | 2.49 | NA | NA | 25.56 | 26.94 | 090
23460 |  | A | Repair shoulder capsule | 15.59 | NA | NA | 9.36 | 10.87 | 2.66 | NA | NA | 27.61 | 29.12 | 090
23462 |  | A | Repair shoulder capsule | 15.52 | NA | NA | 9.11 | 10.34 | 2.59 | NA | NA | 27.22 | 28.45 | 090
23465 |  | A | Repair shoulder capsule | 16.07 | NA | NA | 9.61 | 10.79 | 2.76 | NA | NA | 28.44 | 29.62 | 090
23466 |  | A | Repair shoulder capsule | 15.45 | NA | NA | 10.11 | 11.06 | 2.46 | NA | NA | 28.02 | 28.97 | 090
23470 |  | A | Reconstruct shoulder joint | 17.66 | NA | NA | 10.20 | 11.74 | 2.98 | NA | NA | 30.84 | 32.38 | 090
23472 |  | A | Reconstruct shoulder joint | 22.39 | NA | NA | 12.25 | 13.87 | 3.66 | NA | NA | 38.30 | 39.92 | 090
23480 |  | A | Revision of collar bone | 11.34 | NA | NA | 7.37 | 8.42 | 1.94 | NA | NA | 20.65 | 21.70 | 090
23485 |  | A | Revision of collar bone | 13.71 | NA | NA | 8.33 | 9.50 | 2.33 | NA | NA | 24.37 | 25.54 | 090
23490 |  | A | Reinforce clavicle | 11.96 | NA | NA | 6.69 | 8.19 | 1.47 | NA | NA | 20.12 | 21.62 | 090
23491 |  | A | Reinforce shoulder bones | 14.31 | NA | NA | 8.89 | 10.26 | 2.46 | NA | NA | 25.66 | 27.03 | 090
23500 |  | A | Treat clavicle fracture | 2.08 | 2.64 | 2.81 | 2.71 | 2.57 | 0.30 | 5.02 | 5.19 | 5.09 | 4.95 | 090
23505 |  | A | Treat clavicle fracture | 3.68 | 4.03 | 4.32 | 3.63 | 3.79 | 0.61 | 8.32 | 8.61 | 7.92 | 8.08 | 090
23515 |  | A | Treat clavicle fracture | 7.40 | NA | NA | 5.59 | 6.31 | 1.28 | NA | NA | 14.27 | 14.99 | 090
23520 |  | A | Treat clavicle dislocation | 2.16 | 2.65 | 2.80 | 2.72 | 2.74 | 0.34 | 5.15 | 5.30 | 5.22 | 5.24 | 090
23525 |  | A | Treat clavicle dislocation | 3.59 | 4.51 | 4.53 | 3.92 | 3.94 | 0.46 | 8.56 | 8.58 | 7.97 | 7.99 | 090
23530 |  | A | Treat clavicle dislocation | 7.30 | NA | NA | 5.28 | 5.77 | 1.20 | NA | NA | 13.78 | 14.27 | 090
23532 |  | A | Treat clavicle dislocation | 8.00 | NA | NA | 6.08 | 6.75 | 1.38 | NA | NA | 15.46 | 16.13 | 090
23540 |  | A | Treat clavicle dislocation | 2.23 | 2.62 | 2.80 | 2.70 | 2.45 | 0.29 | 5.14 | 5.32 | 5.22 | 4.97 | 090
23545 |  | A | Treat clavicle dislocation | 3.25 | 3.75 | 4.08 | 3.27 | 3.34 | 0.35 | 7.35 | 7.68 | 6.87 | 6.94 | 090
23550 |  | A | Treat clavicle dislocation | 7.41 | NA | NA | 5.54 | 6.16 | 1.25 | NA | NA | 14.20 | 14.82 | 090
23552 |  | A | Treat clavicle dislocation | 8.62 | NA | NA | 6.28 | 7.06 | 1.46 | NA | NA | 16.36 | 17.14 | 090
23570 |  | A | Treat shoulder blade fx | 2.23 | 2.80 | 2.96 | 2.94 | 2.90 | 0.36 | 5.39 | 5.55 | 5.53 | 5.49 | 090
23575 |  | A | Treat shoulder blade fx | 4.05 | 4.36 | 4.75 | 3.86 | 4.20 | 0.59 | 9.00 | 9.39 | 8.50 | 8.84 | 090
23585 |  | A | Treat scapula fracture | 9.07 | NA | NA | 6.52 | 7.36 | 1.54 | NA | NA | 17.13 | 17.97 | 090
23600 |  | A | Treat humerus fracture | 2.93 | 4.08 | 4.43 | 3.66 | 3.58 | 0.48 | 7.49 | 7.84 | 7.07 | 6.99 | 090
23605 |  | A | Treat humerus fracture | 4.86 | 5.42 | 5.97 | 4.63 | 4.99 | 0.84 | 11.12 | 11.67 | 10.33 | 10.69 | 090
23615 |  | A | Treat humerus fracture | 10.83 | NA | NA | 8.33 | 8.71 | 1.62 | NA | NA | 20.78 | 21.16 | 090
23616 |  | A | Treat humerus fracture | 21.60 | NA | NA | 11.56 | 13.50 | 3.69 | NA | NA | 36.85 | 38.79 | 090
23620 |  | A | Treat humerus fracture | 2.40 | 3.42 | 3.56 | 3.16 | 3.03 | 0.40 | 6.22 | 6.36 | 5.96 | 5.83 | 090
23625 |  | A | Treat humerus fracture | 3.92 | 4.44 | 4.82 | 3.91 | 4.19 | 0.67 | 9.03 | 9.41 | 8.50 | 8.78 | 090
23630 |  | A | Treat humerus fracture | 7.40 | NA | NA | 5.69 | 6.40 | 1.27 | NA | NA | 14.36 | 15.07 | 090
23650 |  | A | Treat shoulder dislocation | 3.38 | 3.27 | 3.65 | 2.80 | 2.77 | 0.30 | 6.95 | 7.33 | 6.48 | 6.45 | 090
23655 |  | A | Treat shoulder dislocation | 4.56 | NA | NA | 4.17 | 4.17 | 0.69 | NA | NA | 9.42 | 9.42 | 090
23660 |  | A | Treat shoulder dislocation | 7.48 | NA | NA | 5.63 | 6.19 | 1.29 | NA | NA | 14.40 | 14.96 | 090
23665 |  | A | Treat dislocation/fracture | 4.46 | 4.85 | 5.21 | 4.26 | 4.61 | 0.71 | 10.02 | 10.38 | 9.43 | 9.78 | 090
23670 |  | A | Treat dislocation/fracture | 7.95 | NA | NA | 5.89 | 6.60 | 1.36 | NA | NA | 15.20 | 15.91 | 090
23675 |  | A | Treat dislocation/fracture | 6.04 | 6.16 | 6.66 | 5.16 | 5.66 | 1.01 | 13.21 | 13.71 | 12.21 | 12.71 | 090
23680 |  | A | Treat dislocation/fracture | 10.22 | NA | NA | 7.02 | 7.84 | 1.75 | NA | NA | 18.99 | 19.81 | 090
23700 |  | A | Fixation of shoulder | 2.52 | NA | NA | 1.92 | 2.11 | 0.44 | NA | NA | 4.88 | 5.07 | 010
23800 |  | A | Fusion of shoulder joint | 14.50 | NA | NA | 7.55 | 9.70 | 2.35 | NA | NA | 24.40 | 26.55 | 090
23802 |  | A | Fusion of shoulder joint | 18.07 | NA | NA | 10.99 | 10.38 | 2.70 | NA | NA | 31.76 | 31.15 | 090
23900 |  | A | Amputation of arm & girdle | 20.47 | NA | NA | 10.72 | 11.46 | 3.18 | NA | NA | 34.37 | 35.11 | 090
23920 |  | A | Amputation at shoulder joint | 15.95 | NA | NA | 9.56 | 9.83 | 2.46 | NA | NA | 27.97 | 28.24 | 090
23921 |  | A | Amputation follow-up surgery | 5.54 | NA | NA | 4.88 | 5.03 | 0.78 | NA | NA | 11.20 | 11.35 | 090
23929 |  | C | Shoulder surgery procedure | 0.00 | 0.00 | 0.00 | 0.00 | 0.00 | 0.00 | 0.00 | 0.00 | 0.00 | 0.00 | YYY
23930 |  | A | Drainage of arm lesion | 2.94 | 5.00 | 5.99 | 1.99 | 2.23 | 0.43 | 8.37 | 9.36 | 5.36 | 5.60 | 010
23931 |  | A | Drainage of arm bursa | 1.79 | 4.34 | 5.52 | 1.75 | 2.07 | 0.28 | 6.41 | 7.59 | 3.82 | 4.14 | 010
23935 |  | A | Drain arm/elbow bone lesion | 6.20 | NA | NA | 5.14 | 5.72 | 1.05 | NA | NA | 12.39 | 12.97 | 090
24000 |  | A | Exploratory elbow surgery | 5.93 | NA | NA | 4.78 | 5.25 | 0.97 | NA | NA | 11.68 | 12.15 | 090
24006 |  | A | Release elbow joint | 9.54 | NA | NA | 6.67 | 7.48 | 1.50 | NA | NA | 17.71 | 18.52 | 090
24065 |  | A | Biopsy arm/elbow soft tissue | 2.08 | 4.08 | 3.43 | 1.87 | 1.77 | 0.17 | 6.33 | 5.68 | 4.12 | 4.02 | 010
24066 |  | A | Biopsy arm/elbow soft tissue | 5.20 | 8.33 | 8.78 | 3.94 | 4.08 | 0.80 | 14.33 | 14.78 | 9.94 | 10.08 | 090
24075 |  | A | Remove arm/elbow lesion | 3.91 | 7.22 | 7.32 | 3.27 | 3.37 | 0.56 | 11.69 | 11.79 | 7.74 | 7.84 | 090
24076 |  | A | Remove arm/elbow lesion | 6.29 | NA | NA | 4.59 | 4.79 | 0.95 | NA | NA | 11.83 | 12.03 | 090
24077 |  | A | Remove tumor of arm/elbow | 11.86 | NA | NA | 6.96 | 7.55 | 1.72 | NA | NA | 20.54 | 21.13 | 090
24100 |  | A | Biopsy elbow joint lining | 4.92 | NA | NA | 4.28 | 4.46 | 0.85 | NA | NA | 10.05 | 10.23 | 090
24101 |  | A | Explore/treat elbow joint | 6.12 | NA | NA | 5.08 | 5.72 | 1.03 | NA | NA | 12.23 | 12.87 | 090
24102 |  | A | Remove elbow joint lining | 8.08 | NA | NA | 5.82 | 6.60 | 1.33 | NA | NA | 15.23 | 16.01 | 090
24105 |  | A | Removal of elbow bursa | 3.60 | NA | NA | 4.04 | 4.30 | 0.61 | NA | NA | 8.25 | 8.51 | 090
24110 |  | A | Remove humerus lesion | 7.38 | NA | NA | 5.66 | 6.41 | 1.28 | NA | NA | 14.32 | 15.07 | 090
24115 |  | A | Remove/graft bone lesion | 9.92 | NA | NA | 6.83 | 7.12 | 1.67 | NA | NA | 18.42 | 18.71 | 090
24116 |  | A | Remove/graft bone lesion | 12.03 | NA | NA | 7.67 | 8.72 | 2.05 | NA | NA | 21.75 | 22.80 | 090
24120 |  | A | Remove elbow lesion | 6.64 | NA | NA | 5.22 | 5.75 | 1.10 | NA | NA | 12.96 | 13.49 | 090
24125 |  | A | Remove/graft bone lesion | 7.94 | NA | NA | 6.03 | 6.13 | 1.06 | NA | NA | 15.03 | 15.13 | 090
24126 |  | A | Remove/graft bone lesion | 8.42 | NA | NA | 6.22 | 6.82 | 1.16 | NA | NA | 15.80 | 16.40 | 090
24130 |  | A | Removal of head of radius | 6.24 | NA | NA | 5.13 | 5.80 | 1.04 | NA | NA | 12.41 | 13.08 | 090
24134 |  | A | Removal of arm bone lesion | 10.02 | NA | NA | 7.49 | 8.51 | 1.64 | NA | NA | 19.15 | 20.17 | 090
24136 |  | A | Remove radius bone lesion | 8.22 | NA | NA | 5.67 | 6.83 | 1.38 | NA | NA | 15.27 | 16.43 | 090
24138 |  | A | Remove elbow bone lesion | 8.22 | NA | NA | 6.71 | 7.51 | 1.34 | NA | NA | 16.27 | 17.07 | 090
24140 |  | A | Partial removal of arm bone | 9.35 | NA | NA | 7.20 | 8.63 | 1.51 | NA | NA | 18.06 | 19.49 | 090
24145 |  | A | Partial removal of radius | 7.63 | NA | NA | 6.30 | 7.62 | 1.25 | NA | NA | 15.18 | 16.50 | 090
24147 |  | A | Partial removal of elbow | 7.59 | NA | NA | 6.90 | 8.18 | 1.30 | NA | NA | 15.79 | 17.07 | 090
24149 |  | A | Radical resection of elbow | 15.80 | NA | NA | 10.86 | 11.43 | 2.34 | NA | NA | 29.00 | 29.57 | 090
24150 |  | A | Extensive humerus surgery | 13.61 | NA | NA | 8.54 | 9.63 | 2.32 | NA | NA | 24.47 | 25.56 | 090
24151 |  | A | Extensive humerus surgery | 15.98 | NA | NA | 9.77 | 11.08 | 2.59 | NA | NA | 28.34 | 29.65 | 090
24152 |  | A | Extensive radius surgery | 10.16 | NA | NA | 6.29 | 7.37 | 1.48 | NA | NA | 17.93 | 19.01 | 090
24153 |  | A | Extensive radius surgery | 11.64 | NA | NA | 4.92 | 5.41 | 0.74 | NA | NA | 17.30 | 17.79 | 090
24155 |  | A | Removal of elbow joint | 11.89 | NA | NA | 7.61 | 8.20 | 1.92 | NA | NA | 21.42 | 22.01 | 090
24160 |  | A | Remove elbow joint implant | 7.82 | NA | NA | 5.82 | 6.62 | 1.30 | NA | NA | 14.94 | 15.74 | 090
24164 |  | A | Remove radius head implant | 6.28 | NA | NA | 4.92 | 5.56 | 1.03 | NA | NA | 12.23 | 12.87 | 090
24200 |  | A | Removal of arm foreign body | 1.76 | 2.78 | 3.25 | 1.38 | 1.57 | 0.20 | 4.74 | 5.21 | 3.34 | 3.53 | 010
24201 |  | A | Removal of arm foreign body | 4.55 | 7.92 | 9.34 | 3.71 | 4.10 | 0.72 | 13.19 | 14.61 | 8.98 | 9.37 | 090
24220 |  | A | Injection for elbow x-ray | 1.31 | 2.64 | 3.38 | 0.43 | 0.44 | 0.08 | 4.03 | 4.77 | 1.82 | 1.83 | 000
24300 |  | A | Manipulate elbow w/anesth | 3.74 | NA | NA | 5.18 | 5.58 | 0.65 | NA | NA | 9.57 | 9.97 | 090
24301 |  | A | Muscle/tendon transfer | 10.18 | NA | NA | 6.85 | 7.85 | 1.66 | NA | NA | 18.69 | 19.69 | 090
24305 |  | A | Arm tendon lengthening | 7.44 | NA | NA | 5.66 | 6.45 | 1.15 | NA | NA | 14.25 | 15.04 | 090
24310 |  | A | Revision of arm tendon | 5.97 | NA | NA | 4.78 | 5.38 | 0.96 | NA | NA | 11.71 | 12.31 | 090
24320 |  | A | Repair of arm tendon | 10.66 | NA | NA | 7.11 | 7.43 | 1.73 | NA | NA | 19.50 | 19.82 | 090
24330 |  | A | Revision of arm muscles | 9.59 | NA | NA | 6.64 | 7.57 | 1.60 | NA | NA | 17.83 | 18.76 | 090
24331 |  | A | Revision of arm muscles | 10.75 | NA | NA | 6.52 | 8.13 | 1.77 | NA | NA | 19.04 | 20.65 | 090
24332 |  | A | Tenolysis, triceps | 7.69 | NA | NA | 5.75 | 6.52 | 1.23 | NA | NA | 14.67 | 15.44 | 090
24340 |  | A | Repair of biceps tendon | 7.88 | NA | NA | 6.00 | 6.74 | 1.36 | NA | NA | 15.24 | 15.98 | 090
24341 |  | A | Repair arm tendon/muscle | 9.14 | NA | NA | 7.52 | 7.82 | 1.36 | NA | NA | 18.02 | 18.32 | 090
24342 |  | A | Repair of ruptured tendon | 10.66 | NA | NA | 7.11 | 8.17 | 1.85 | NA | NA | 19.62 | 20.68 | 090
24343 |  | A | Repr elbow lat ligmnt w/tiss | 8.89 | NA | NA | 7.02 | 7.87 | 1.43 | NA | NA | 17.34 | 18.19 | 090
24344 |  | A | Reconstruct elbow lat ligmnt | 14.85 | NA | NA | 10.06 | 11.16 | 2.36 | NA | NA | 27.27 | 28.37 | 090
24345 |  | A | Repr elbw med ligmnt w/tissu | 8.89 | NA | NA | 6.98 | 7.76 | 1.44 | NA | NA | 17.31 | 18.09 | 090
24346 |  | A | Reconstruct elbow med ligmnt | 14.85 | NA | NA | 10.06 | 11.02 | 2.33 | NA | NA | 27.24 | 28.20 | 090
24350 |  | A | Repair of tennis elbow | 5.24 | NA | NA | 4.89 | 5.41 | 0.87 | NA | NA | 11.00 | 11.52 | 090
24351 |  | A | Repair of tennis elbow | 5.90 | NA | NA | 5.01 | 5.69 | 1.02 | NA | NA | 11.93 | 12.61 | 090
24352 |  | A | Repair of tennis elbow | 6.42 | NA | NA | 5.23 | 5.94 | 1.10 | NA | NA | 12.75 | 13.46 | 090
24354 |  | A | Repair of tennis elbow | 6.47 | NA | NA | 5.25 | 5.93 | 1.07 | NA | NA | 12.79 | 13.47 | 090
24356 |  | A | Revision of tennis elbow | 6.67 | NA | NA | 5.32 | 6.06 | 1.11 | NA | NA | 13.10 | 13.84 | 090
24360 |  | A | Reconstruct elbow joint | 12.44 | NA | NA | 7.97 | 9.10 | 2.05 | NA | NA | 22.46 | 23.59 | 090
24361 |  | A | Reconstruct elbow joint | 14.18 | NA | NA | 8.78 | 10.13 | 2.18 | NA | NA | 25.14 | 26.49 | 090
24362 |  | A | Reconstruct elbow joint | 15.09 | NA | NA | 9.30 | 9.86 | 2.60 | NA | NA | 26.99 | 27.55 | 090
24363 |  | A | Replace elbow joint | 22.39 | NA | NA | 12.26 | 13.35 | 3.01 | NA | NA | 37.66 | 38.75 | 090
24365 |  | A | Reconstruct head of radius | 8.44 | NA | NA | 5.94 | 6.89 | 1.41 | NA | NA | 15.79 | 16.74 | 090
24366 |  | A | Reconstruct head of radius | 9.18 | NA | NA | 6.31 | 7.23 | 1.52 | NA | NA | 17.01 | 17.93 | 090
24400 |  | A | Revision of humerus | 11.10 | NA | NA | 7.62 | 8.54 | 1.92 | NA | NA | 20.64 | 21.56 | 090
24410 |  | A | Revision of humerus | 14.86 | NA | NA | 9.32 | 10.06 | 2.57 | NA | NA | 26.75 | 27.49 | 090
24420 |  | A | Revision of humerus | 13.48 | NA | NA | 8.88 | 10.13 | 2.17 | NA | NA | 24.53 | 25.78 | 090
24430 |  | A | Repair of humerus | 14.99 | NA | NA | 9.30 | 9.63 | 2.21 | NA | NA | 26.50 | 26.83 | 090
24435 |  | A | Repair humerus with graft | 14.64 | NA | NA | 9.86 | 10.63 | 2.27 | NA | NA | 26.77 | 27.54 | 090
24470 |  | A | Revision of elbow joint | 8.73 | NA | NA | 6.43 | 7.40 | 1.48 | NA | NA | 16.64 | 17.61 | 090
24495 |  | A | Decompression of forearm | 8.23 | NA | NA | 6.68 | 8.23 | 1.18 | NA | NA | 16.09 | 17.64 | 090
24498 |  | A | Reinforce humerus | 12.08 | NA | NA | 7.75 | 8.88 | 2.06 | NA | NA | 21.89 | 23.02 | 090
24500 |  | A | Treat humerus fracture | 3.21 | 4.45 | 4.75 | 3.80 | 3.71 | 0.50 | 8.16 | 8.46 | 7.51 | 7.42 | 090
24505 |  | A | Treat humerus fracture | 5.16 | 5.87 | 6.42 | 4.90 | 5.27 | 0.89 | 11.92 | 12.47 | 10.95 | 11.32 | 090
24515 |  | A | Treat humerus fracture | 11.87 | NA | NA | 8.09 | 9.06 | 2.02 | NA | NA | 21.98 | 22.95 | 090
24516 |  | A | Treat humerus fracture | 11.99 | NA | NA | 7.71 | 8.76 | 2.02 | NA | NA | 21.72 | 22.77 | 090
24530 |  | A | Treat humerus fracture | 3.49 | 4.74 | 5.09 | 4.00 | 4.03 | 0.57 | 8.80 | 9.15 | 8.06 | 8.09 | 090
24535 |  | A | Treat humerus fracture | 6.86 | 6.82 | 7.59 | 5.86 | 6.43 | 1.18 | 14.86 | 15.63 | 13.90 | 14.47 | 090
24538 |  | A | Treat humerus fracture | 9.54 | NA | NA | 7.22 | 8.33 | 1.64 | NA | NA | 18.40 | 19.51 | 090
24545 |  | A | Treat humerus fracture | 10.80 | NA | NA | 7.24 | 8.15 | 1.82 | NA | NA | 19.86 | 20.77 | 090
24546 |  | A | Treat humerus fracture | 15.91 | NA | NA | 9.50 | 10.87 | 2.73 | NA | NA | 28.14 | 29.51 | 090
24560 |  | A | Treat humerus fracture | 2.80 | 4.05 | 4.37 | 3.38 | 3.24 | 0.44 | 7.29 | 7.61 | 6.62 | 6.48 | 090
24565 |  | A | Treat humerus fracture | 5.55 | 5.86 | 6.42 | 4.97 | 5.38 | 0.93 | 12.34 | 12.90 | 11.45 | 11.86 | 090
24566 |  | A | Treat humerus fracture | 8.78 | NA | NA | 6.97 | 7.86 | 1.30 | NA | NA | 17.05 | 17.94 | 090
24575 |  | A | Treat humerus fracture | 10.94 | NA | NA | 7.27 | 8.12 | 1.86 | NA | NA | 20.07 | 20.92 | 090
24576 |  | A | Treat humerus fracture | 2.86 | 4.45 | 4.68 | 3.74 | 3.72 | 0.46 | 7.77 | 8.00 | 7.06 | 7.04 | 090
24577 |  | A | Treat humerus fracture | 5.78 | 6.01 | 6.70 | 5.08 | 5.65 | 0.95 | 12.74 | 13.43 | 11.81 | 12.38 | 090
24579 |  | A | Treat humerus fracture | 11.88 | NA | NA | 7.87 | 8.59 | 2.02 | NA | NA | 21.77 | 22.49 | 090
24582 |  | A | Treat humerus fracture | 9.79 | NA | NA | 8.21 | 8.89 | 1.48 | NA | NA | 19.48 | 20.16 | 090
24586 |  | A | Treat elbow fracture | 15.55 | NA | NA | 9.36 | 10.76 | 2.64 | NA | NA | 27.55 | 28.95 | 090
24587 |  | A | Treat elbow fracture | 15.56 | NA | NA | 9.37 | 10.61 | 2.52 | NA | NA | 27.45 | 28.69 | 090
24600 |  | A | Treat elbow dislocation | 4.22 | 3.87 | 4.61 | 3.29 | 3.45 | 0.50 | 8.59 | 9.33 | 8.01 | 8.17 | 090
24605 |  | A | Treat elbow dislocation | 5.41 | NA | NA | 4.96 | 5.26 | 0.89 | NA | NA | 11.26 | 11.56 | 090
24615 |  | A | Treat elbow dislocation | 9.65 | NA | NA | 6.59 | 7.51 | 1.60 | NA | NA | 17.84 | 18.76 | 090
24620 |  | A | Treat elbow fracture | 6.97 | NA | NA | 5.48 | 6.06 | 1.07 | NA | NA | 13.52 | 14.10 | 090
24635 |  | A | Treat elbow fracture | 13.47 | NA | NA | 10.23 | 13.10 | 2.28 | NA | NA | 25.98 | 28.85 | 090
24640 |  | A | Treat elbow dislocation | 1.20 | 1.48 | 1.75 | 0.80 | 0.80 | 0.12 | 2.80 | 3.07 | 2.12 | 2.12 | 010
24650 |  | A | Treat radius fracture | 2.16 | 3.44 | 3.70 | 3.00 | 2.81 | 0.35 | 5.95 | 6.21 | 5.51 | 5.32 | 090
24655 |  | A | Treat radius fracture | 4.39 | 5.20 | 5.76 | 4.41 | 4.70 | 0.70 | 10.29 | 10.85 | 9.50 | 9.79 | 090
24665 |  | A | Treat radius fracture | 8.13 | NA | NA | 6.53 | 7.27 | 1.41 | NA | NA | 16.07 | 16.81 | 090
24666 |  | A | Treat radius fracture | 9.66 | NA | NA | 7.00 | 7.80 | 1.62 | NA | NA | 18.28 | 19.08 | 090
24670 |  | A | Treat ulnar fracture | 2.54 | 3.74 | 4.02 | 3.16 | 3.09 | 0.41 | 6.69 | 6.97 | 6.11 | 6.04 | 090
24675 |  | A | Treat ulnar fracture | 4.71 | 5.30 | 5.83 | 4.50 | 4.85 | 0.81 | 10.82 | 11.35 | 10.02 | 10.37 | 090
24685 |  | A | Treat ulnar fracture | 8.85 | NA | NA | 6.48 | 7.26 | 1.52 | NA | NA | 16.85 | 17.63 | 090
24800 |  | A | Fusion of elbow joint | 11.18 | NA | NA | 7.66 | 8.47 | 1.63 | NA | NA | 20.47 | 21.28 | 090
24802 |  | A | Fusion/graft of elbow joint | 14.09 | NA | NA | 8.56 | 9.93 | 2.37 | NA | NA | 25.02 | 26.39 | 090
24900 |  | A | Amputation of upper arm | 9.95 | NA | NA | 6.47 | 6.91 | 1.53 | NA | NA | 17.95 | 18.39 | 090
24920 |  | A | Amputation of upper arm | 9.95 | NA | NA | 6.45 | 6.82 | 1.61 | NA | NA | 18.01 | 18.38 | 090
24925 |  | A | Amputation follow-up surgery | 7.12 | NA | NA | 4.95 | 5.80 | 1.14 | NA | NA | 13.21 | 14.06 | 090
24930 |  | A | Amputation follow-up surgery | 10.65 | NA | NA | 5.90 | 6.91 | 1.67 | NA | NA | 18.22 | 19.23 | 090
24931 |  | A | Amputate upper arm & implant | 13.24 | NA | NA | 8.23 | 6.35 | 1.89 | NA | NA | 23.36 | 21.48 | 090
24935 |  | A | Revision of amputation | 16.20 | NA | NA | 8.90 | 8.24 | 2.13 | NA | NA | 27.23 | 26.57 | 090
24940 |  | C | Revision of upper arm | 0.00 | 0.00 | 0.00 | 0.00 | 0.00 | 0.00 | 0.00 | 0.00 | 0.00 | 0.00 | 090
24999 |  | C | Upper arm/elbow surgery | 0.00 | 0.00 | 0.00 | 0.00 | 0.00 | 0.00 | 0.00 | 0.00 | 0.00 | 0.00 | YYY
25000 |  | A | Incision of tendon sheath | 3.37 | NA | NA | 5.06 | 6.42 | 0.55 | NA | NA | 8.98 | 10.34 | 090
25001 |  | A | Incise flexor carpi radialis | 3.62 | NA | NA | 3.85 | 4.14 | 0.55 | NA | NA | 8.02 | 8.31 | 090
25020 |  | A | Decompress forearm 1 space | 5.91 | NA | NA | 6.90 | 8.90 | 0.93 | NA | NA | 13.74 | 15.74 | 090
25023 |  | A | Decompress forearm 1 space | 13.60 | NA | NA | 11.48 | 14.08 | 2.03 | NA | NA | 27.11 | 29.71 | 090
25024 |  | A | Decompress forearm 2 spaces | 10.52 | NA | NA | 7.20 | 7.40 | 1.36 | NA | NA | 19.08 | 19.28 | 090
25025 |  | A | Decompress forearm 2 spaces | 17.67 | NA | NA | 9.03 | 9.74 | 1.82 | NA | NA | 28.52 | 29.23 | 090
25028 |  | A | Drainage of forearm lesion | 5.24 | NA | NA | 6.25 | 7.68 | 0.81 | NA | NA | 12.30 | 13.73 | 090
25031 |  | A | Drainage of forearm bursa | 4.13 | NA | NA | 5.47 | 7.31 | 0.63 | NA | NA | 10.23 | 12.07 | 090
25035 |  | A | Treat forearm bone lesion | 7.47 | NA | NA | 8.88 | 12.41 | 1.24 | NA | NA | 17.59 | 21.12 | 090
25040 |  | A | Explore/treat wrist joint | 7.35 | NA | NA | 5.90 | 6.95 | 1.15 | NA | NA | 14.40 | 15.45 | 090
25065 |  | A | Biopsy forearm soft tissues | 1.99 | 4.19 | 3.46 | 1.90 | 1.90 | 0.15 | 6.33 | 5.60 | 4.04 | 4.04 | 010
25066 |  | A | Biopsy forearm soft tissues | 4.12 | NA | NA | 5.46 | 6.66 | 0.64 | NA | NA | 10.22 | 11.42 | 090
25075 |  | A | Removal forearm lesion subcu | 3.73 | NA | NA | 4.90 | 5.64 | 0.55 | NA | NA | 9.18 | 9.92 | 090
25076 |  | A | Removal forearm lesion deep | 4.91 | NA | NA | 6.92 | 8.89 | 0.74 | NA | NA | 12.57 | 14.54 | 090
25077 |  | A | Remove tumor, forearm/wrist | 9.81 | NA | NA | 8.95 | 11.30 | 1.42 | NA | NA | 20.18 | 22.53 | 090
25085 |  | A | Incision of wrist capsule | 5.49 | NA | NA | 5.44 | 6.70 | 0.85 | NA | NA | 11.78 | 13.04 | 090
25100 |  | A | Biopsy of wrist joint | 3.89 | NA | NA | 4.28 | 5.02 | 0.59 | NA | NA | 8.76 | 9.50 | 090
25101 |  | A | Explore/treat wrist joint | 4.68 | NA | NA | 4.83 | 5.63 | 0.75 | NA | NA | 10.26 | 11.06 | 090
25105 |  | A | Remove wrist joint lining | 5.84 | NA | NA | 5.82 | 6.93 | 0.92 | NA | NA | 12.58 | 13.69 | 090
25107 |  | A | Remove wrist joint cartilage | 7.42 | NA | NA | 7.16 | 8.05 | 0.99 | NA | NA | 15.57 | 16.46 | 090
25110 |  | A | Remove wrist tendon lesion | 3.91 | NA | NA | 5.29 | 6.61 | 0.62 | NA | NA | 9.82 | 11.14 | 090
25111 |  | A | Remove wrist tendon lesion | 3.38 | NA | NA | 4.10 | 4.55 | 0.53 | NA | NA | 8.01 | 8.46 | 090
25112 |  | A | Reremove wrist tendon lesion | 4.52 | NA | NA | 4.54 | 5.07 | 0.70 | NA | NA | 9.76 | 10.29 | 090
25115 |  | A | Remove wrist/forearm lesion | 9.81 | NA | NA | 10.21 | 13.08 | 1.31 | NA | NA | 21.33 | 24.20 | 090
25116 |  | A | Remove wrist/forearm lesion | 7.28 | NA | NA | 9.08 | 12.13 | 1.11 | NA | NA | 17.47 | 20.52 | 090
25118 |  | A | Excise wrist tendon sheath | 4.36 | NA | NA | 4.63 | 5.46 | 0.68 | NA | NA | 9.67 | 10.50 | 090
25119 |  | A | Partial removal of ulna | 6.03 | NA | NA | 5.86 | 7.17 | 0.96 | NA | NA | 12.85 | 14.16 | 090
25120 |  | A | Removal of forearm lesion | 6.09 | NA | NA | 7.93 | 11.04 | 1.00 | NA | NA | 15.02 | 18.13 | 090
25125 |  | A | Remove/graft forearm lesion | 7.47 | NA | NA | 8.75 | 11.82 | 1.06 | NA | NA | 17.28 | 20.35 | 090
25126 |  | A | Remove/graft forearm lesion | 7.54 | NA | NA | 8.78 | 11.95 | 1.27 | NA | NA | 17.59 | 20.76 | 090
25130 |  | A | Removal of wrist lesion | 5.25 | NA | NA | 5.21 | 6.12 | 0.80 | NA | NA | 11.26 | 12.17 | 090
25135 |  | A | Remove & graft wrist lesion | 6.88 | NA | NA | 6.12 | 7.16 | 1.02 | NA | NA | 14.02 | 15.06 | 090
25136 |  | A | Remove & graft wrist lesion | 5.96 | NA | NA | 5.53 | 6.33 | 1.03 | NA | NA | 12.52 | 13.32 | 090
25145 |  | A | Remove forearm bone lesion | 6.36 | NA | NA | 8.12 | 11.08 | 1.01 | NA | NA | 15.49 | 18.45 | 090
25150 |  | A | Partial removal of ulna | 7.20 | NA | NA | 6.38 | 7.75 | 1.14 | NA | NA | 14.72 | 16.09 | 090
25151 |  | A | Partial removal of radius | 7.50 | NA | NA | 8.52 | 11.67 | 1.18 | NA | NA | 17.20 | 20.35 | 090
25170 |  | A | Extensive forearm surgery | 11.25 | NA | NA | 10.52 | 13.99 | 1.77 | NA | NA | 23.54 | 27.01 | 090
25210 |  | A | Removal of wrist bone | 5.94 | NA | NA | 5.53 | 6.48 | 0.88 | NA | NA | 12.35 | 13.30 | 090
25215 |  | A | Removal of wrist bones | 7.94 | NA | NA | 6.83 | 8.27 | 1.19 | NA | NA | 15.96 | 17.40 | 090
25230 |  | A | Partial removal of radius | 5.22 | NA | NA | 4.96 | 5.85 | 0.79 | NA | NA | 10.97 | 11.86 | 090
25240 |  | A | Partial removal of ulna | 5.16 | NA | NA | 5.27 | 6.53 | 0.81 | NA | NA | 11.24 | 12.50 | 090
25246 |  | A | Injection for wrist x-ray | 1.45 | 2.70 | 3.26 | 0.48 | 0.48 | 0.09 | 4.24 | 4.80 | 2.02 | 2.02 | 000
25248 |  | A | Remove forearm foreign body | 5.13 | NA | NA | 6.57 | 8.03 | 0.72 | NA | NA | 12.42 | 13.88 | 090
25250 |  | A | Removal of wrist prosthesis | 6.59 | NA | NA | 5.32 | 5.91 | 1.01 | NA | NA | 12.92 | 13.51 | 090
25251 |  | A | Removal of wrist prosthesis | 9.62 | NA | NA | 6.71 | 7.62 | 1.26 | NA | NA | 17.59 | 18.50 | 090
25259 |  | A | Manipulate wrist w/anesthes | 3.74 | NA | NA | 5.14 | 5.58 | 0.62 | NA | NA | 9.50 | 9.94 | 090
25260 |  | A | Repair forearm tendon/muscle | 7.79 | NA | NA | 9.22 | 12.29 | 1.19 | NA | NA | 18.20 | 21.27 | 090
25263 |  | A | Repair forearm tendon/muscle | 7.81 | NA | NA | 8.96 | 12.19 | 1.18 | NA | NA | 17.95 | 21.18 | 090
25265 |  | A | Repair forearm tendon/muscle | 9.87 | NA | NA | 10.00 | 13.23 | 1.47 | NA | NA | 21.34 | 24.57 | 090
25270 |  | A | Repair forearm tendon/muscle | 5.99 | NA | NA | 7.90 | 11.00 | 0.95 | NA | NA | 14.84 | 17.94 | 090
25272 |  | A | Repair forearm tendon/muscle | 7.03 | NA | NA | 8.37 | 11.69 | 1.11 | NA | NA | 16.51 | 19.83 | 090
25274 |  | A | Repair forearm tendon/muscle | 8.74 | NA | NA | 9.20 | 12.52 | 1.36 | NA | NA | 19.30 | 22.62 | 090
25275 |  | A | Repair forearm tendon sheath | 8.74 | NA | NA | 6.50 | 7.31 | 1.31 | NA | NA | 16.55 | 17.36 | 090
25280 |  | A | Revise wrist/forearm tendon | 7.21 | NA | NA | 8.47 | 11.59 | 1.08 | NA | NA | 16.76 | 19.88 | 090
25290 |  | A | Incise wrist/forearm tendon | 5.28 | NA | NA | 9.17 | 13.54 | 0.82 | NA | NA | 15.27 | 19.64 | 090
25295 |  | A | Release wrist/forearm tendon | 6.54 | NA | NA | 8.14 | 11.15 | 1.00 | NA | NA | 15.68 | 18.69 | 090
25300 |  | A | Fusion of tendons at wrist | 8.79 | NA | NA | 7.19 | 8.14 | 1.26 | NA | NA | 17.24 | 18.19 | 090
25301 |  | A | Fusion of tendons at wrist | 8.39 | NA | NA | 6.73 | 7.73 | 1.29 | NA | NA | 16.41 | 17.41 | 090
25310 |  | A | Transplant forearm tendon | 8.19 | NA | NA | 8.82 | 11.98 | 1.21 | NA | NA | 18.22 | 21.38 | 090
25312 |  | A | Transplant forearm tendon | 9.62 | NA | NA | 9.60 | 12.86 | 1.41 | NA | NA | 20.63 | 23.89 | 090
25315 |  | A | Revise palsy hand tendon(s) | 10.48 | NA | NA | 10.00 | 13.30 | 1.58 | NA | NA | 22.06 | 25.36 | 090
25316 |  | A | Revise palsy hand tendon(s) | 12.67 | NA | NA | 11.08 | 14.94 | 1.74 | NA | NA | 25.49 | 29.35 | 090
25320 |  | A | Repair/revise wrist joint | 12.28 | NA | NA | 10.38 | 11.14 | 1.61 | NA | NA | 24.27 | 25.03 | 090
25332 |  | A | Revise wrist joint | 11.51 | NA | NA | 7.74 | 8.81 | 1.83 | NA | NA | 21.08 | 22.15 | 090
25335 |  | A | Realignment of hand | 13.16 | NA | NA | 7.01 | 10.45 | 1.92 | NA | NA | 22.09 | 25.53 | 090
25337 |  | A | Reconstruct ulna/radioulnar | 11.36 | NA | NA | 9.39 | 10.66 | 1.61 | NA | NA | 22.36 | 23.63 | 090
25350 |  | A | Revision of radius | 8.89 | NA | NA | 9.27 | 12.80 | 1.46 | NA | NA | 19.62 | 23.15 | 090
25355 |  | A | Revision of radius | 10.33 | NA | NA | 10.03 | 13.47 | 1.73 | NA | NA | 22.09 | 25.53 | 090
25360 |  | A | Revision of ulna | 8.54 | NA | NA | 9.13 | 12.69 | 1.41 | NA | NA | 19.08 | 22.64 | 090
25365 |  | A | Revise radius & ulna | 12.68 | NA | NA | 11.06 | 14.50 | 2.15 | NA | NA | 25.89 | 29.33 | 090
25370 |  | A | Revise radius or ulna | 13.82 | NA | NA | 11.97 | 15.05 | 2.28 | NA | NA | 28.07 | 31.15 | 090
25375 |  | A | Revise radius & ulna | 13.32 | NA | NA | 11.33 | 15.15 | 2.26 | NA | NA | 26.91 | 30.73 | 090
25390 |  | A | Shorten radius or ulna | 10.50 | NA | NA | 9.94 | 13.42 | 1.65 | NA | NA | 22.09 | 25.57 | 090
25391 |  | A | Lengthen radius or ulna | 14.05 | NA | NA | 11.65 | 15.33 | 2.21 | NA | NA | 27.91 | 31.59 | 090
25392 |  | A | Shorten radius & ulna | 14.35 | NA | NA | 11.78 | 14.92 | 2.10 | NA | NA | 28.23 | 31.37 | 090
25393 |  | A | Lengthen radius & ulna | 16.33 | NA | NA | 13.18 | 16.48 | 2.76 | NA | NA | 32.27 | 35.57 | 090
25394 |  | A | Repair carpal bone, shorten | 10.63 | NA | NA | 6.80 | 7.75 | 1.59 | NA | NA | 19.02 | 19.97 | 090
25400 |  | A | Repair radius or ulna | 11.08 | NA | NA | 10.18 | 13.94 | 1.82 | NA | NA | 23.08 | 26.84 | 090
25405 |  | A | Repair/graft radius or ulna | 14.78 | NA | NA | 11.92 | 15.93 | 2.32 | NA | NA | 29.02 | 33.03 | 090
25415 |  | A | Repair radius & ulna | 13.57 | NA | NA | 11.02 | 15.14 | 2.17 | NA | NA | 26.76 | 30.88 | 090
25420 |  | A | Repair/graft radius & ulna | 16.79 | NA | NA | 12.79 | 16.90 | 2.61 | NA | NA | 32.19 | 36.30 | 090
25425 |  | A | Repair/graft radius or ulna | 13.49 | NA | NA | 14.14 | 19.58 | 2.08 | NA | NA | 29.71 | 35.15 | 090
25426 |  | A | Repair/graft radius & ulna | 16.22 | NA | NA | 12.50 | 15.54 | 2.54 | NA | NA | 31.26 | 34.30 | 090
25430 |  | A | Vasc graft into carpal bone | 9.49 | NA | NA | 7.04 | 7.27 | 1.27 | NA | NA | 17.80 | 18.03 | 090
25431 |  | A | Repair nonunion carpal bone | 10.67 | NA | NA | 7.26 | 8.12 | 1.90 | NA | NA | 19.83 | 20.69 | 090
25440 |  | A | Repair/graft wrist bone | 10.48 | NA | NA | 7.53 | 8.93 | 1.63 | NA | NA | 19.64 | 21.04 | 090
25441 |  | A | Reconstruct wrist joint | 13.06 | NA | NA | 8.50 | 9.63 | 2.07 | NA | NA | 23.63 | 24.76 | 090
25442 |  | A | Reconstruct wrist joint | 10.89 | NA | NA | 7.32 | 8.49 | 1.53 | NA | NA | 19.74 | 20.91 | 090
25443 |  | A | Reconstruct wrist joint | 10.43 | NA | NA | 6.61 | 8.23 | 1.37 | NA | NA | 18.41 | 20.03 | 090
25444 |  | A | Reconstruct wrist joint | 11.19 | NA | NA | 7.65 | 8.69 | 1.71 | NA | NA | 20.55 | 21.59 | 090
25445 |  | A | Reconstruct wrist joint | 9.68 | NA | NA | 6.72 | 7.67 | 1.55 | NA | NA | 17.95 | 18.90 | 090
25446 |  | A | Wrist replacement | 17.07 | NA | NA | 9.88 | 11.41 | 2.47 | NA | NA | 29.42 | 30.95 | 090
25447 |  | A | Repair wrist joint(s) | 10.85 | NA | NA | 7.88 | 8.46 | 1.61 | NA | NA | 20.34 | 20.92 | 090
25449 |  | A | Remove wrist joint implant | 14.71 | NA | NA | 9.05 | 10.27 | 2.21 | NA | NA | 25.97 | 27.19 | 090
25450 |  | A | Revision of wrist joint | 7.86 | NA | NA | 7.34 | 9.48 | 1.36 | NA | NA | 16.56 | 18.70 | 090
25455 |  | A | Revision of wrist joint | 9.48 | NA | NA | 6.50 | 9.77 | 0.96 | NA | NA | 16.94 | 20.21 | 090
25490 |  | A | Reinforce radius | 9.53 | NA | NA | 9.47 | 12.67 | 1.43 | NA | NA | 20.43 | 23.63 | 090
25491 |  | A | Reinforce ulna | 9.95 | NA | NA | 9.73 | 13.28 | 1.60 | NA | NA | 21.28 | 24.83 | 090
25492 |  | A | Reinforce radius and ulna | 12.43 | NA | NA | 10.59 | 14.12 | 2.14 | NA | NA | 25.16 | 28.69 | 090
25500 |  | A | Treat fracture of radius | 2.45 | 3.33 | 3.51 | 2.89 | 2.76 | 0.35 | 6.13 | 6.31 | 5.69 | 5.56 | 090
25505 |  | A | Treat fracture of radius | 5.20 | 5.87 | 6.37 | 5.01 | 5.32 | 0.90 | 11.97 | 12.47 | 11.11 | 11.42 | 090
25515 |  | A | Treat fracture of radius | 9.29 | NA | NA | 6.75 | 7.28 | 1.59 | NA | NA | 17.63 | 18.16 | 090
25520 |  | A | Treat fracture of radius | 6.25 | 6.02 | 6.65 | 5.43 | 5.90 | 1.08 | 13.35 | 13.98 | 12.76 | 13.23 | 090
25525 |  | A | Treat fracture of radius | 12.59 | NA | NA | 8.74 | 9.68 | 2.12 | NA | NA | 23.45 | 24.39 | 090
25526 |  | A | Treat fracture of radius | 13.33 | NA | NA | 10.23 | 12.68 | 2.19 | NA | NA | 25.75 | 28.20 | 090
25530 |  | A | Treat fracture of ulna | 2.09 | 3.48 | 3.69 | 2.97 | 2.89 | 0.34 | 5.91 | 6.12 | 5.40 | 5.32 | 090
25535 |  | A | Treat fracture of ulna | 5.13 | 5.68 | 5.93 | 4.93 | 5.20 | 0.89 | 11.70 | 11.95 | 10.95 | 11.22 | 090
25545 |  | A | Treat fracture of ulna | 9.01 | NA | NA | 6.64 | 7.41 | 1.53 | NA | NA | 17.18 | 17.95 | 090
25560 |  | A | Treat fracture radius & ulna | 2.44 | 3.40 | 3.62 | 2.87 | 2.67 | 0.35 | 6.19 | 6.41 | 5.66 | 5.46 | 090
25565 |  | A | Treat fracture radius & ulna | 5.62 | 5.97 | 6.52 | 4.99 | 5.31 | 0.93 | 12.52 | 13.07 | 11.54 | 11.86 | 090
25574 |  | A | Treat fracture radius & ulna | 7.37 | NA | NA | 6.64 | 7.06 | 1.21 | NA | NA | 15.22 | 15.64 | 090
25575 |  | A | Treat fracture radius/ulna | 11.92 | NA | NA | 9.00 | 9.38 | 1.81 | NA | NA | 22.73 | 23.11 | 090
25600 |  | A | Treat fracture radius/ulna | 2.63 | 3.69 | 3.99 | 3.18 | 3.02 | 0.42 | 6.74 | 7.04 | 6.23 | 6.07 | 090
25605 |  | A | Treat fracture radius/ulna | 6.93 | 6.91 | 7.15 | 6.18 | 6.21 | 1.00 | 14.84 | 15.08 | 14.11 | 14.14 | 090
25611 |  | A | Treat fracture radius/ulna | 9.14 | NA | NA | 8.34 | 8.81 | 1.34 | NA | NA | 18.82 | 19.29 | 090
25620 |  | A | Treat fracture radius/ulna | 8.54 | NA | NA | 6.27 | 7.01 | 1.42 | NA | NA | 16.23 | 16.97 | 090
25622 |  | A | Treat wrist bone fracture | 2.61 | 3.91 | 4.18 | 3.36 | 3.17 | 0.41 | 6.93 | 7.20 | 6.38 | 6.19 | 090
25624 |  | A | Treat wrist bone fracture | 4.52 | 5.58 | 6.12 | 4.73 | 4.99 | 0.76 | 10.86 | 11.40 | 10.01 | 10.27 | 090
25628 |  | A | Treat wrist bone fracture | 9.42 | NA | NA | 7.34 | 7.70 | 1.37 | NA | NA | 18.13 | 18.49 | 090
25630 |  | A | Treat wrist bone fracture | 2.88 | 3.76 | 4.08 | 3.25 | 3.02 | 0.45 | 7.09 | 7.41 | 6.58 | 6.35 | 090
25635 |  | A | Treat wrist bone fracture | 4.38 | 5.38 | 5.80 | 4.56 | 4.07 | 0.74 | 10.50 | 10.92 | 9.68 | 9.19 | 090
25645 |  | A | Treat wrist bone fracture | 7.24 | NA | NA | 5.80 | 6.42 | 1.20 | NA | NA | 14.24 | 14.86 | 090
25650 |  | A | Treat wrist bone fracture | 3.05 | 3.86 | 4.20 | 3.46 | 3.24 | 0.45 | 7.36 | 7.70 | 6.96 | 6.74 | 090
25651 |  | A | Pin ulnar styloid fracture | 5.60 | NA | NA | 5.13 | 5.39 | 0.86 | NA | NA | 11.59 | 11.85 | 090
25652 |  | A | Treat fracture ulnar styloid | 7.84 | NA | NA | 6.21 | 6.80 | 1.21 | NA | NA | 15.26 | 15.85 | 090
25660 |  | A | Treat wrist dislocation | 4.75 | NA | NA | 4.48 | 4.65 | 0.58 | NA | NA | 9.81 | 9.98 | 090
25670 |  | A | Treat wrist dislocation | 7.91 | NA | NA | 5.99 | 6.74 | 1.28 | NA | NA | 15.18 | 15.93 | 090
25671 |  | A | Pin radioulnar dislocation | 6.24 | NA | NA | 5.53 | 6.00 | 1.00 | NA | NA | 12.77 | 13.24 | 090
25675 |  | A | Treat wrist dislocation | 4.66 | 4.88 | 5.46 | 4.14 | 4.52 | 0.62 | 10.16 | 10.74 | 9.42 | 9.80 | 090
25676 |  | A | Treat wrist dislocation | 8.09 | NA | NA | 6.28 | 7.05 | 1.34 | NA | NA | 15.71 | 16.48 | 090
25680 |  | A | Treat wrist fracture | 5.98 | NA | NA | 4.37 | 4.65 | 0.78 | NA | NA | 11.13 | 11.41 | 090
25685 |  | A | Treat wrist fracture | 9.89 | NA | NA | 6.70 | 7.53 | 1.60 | NA | NA | 18.19 | 19.02 | 090
25690 |  | A | Treat wrist dislocation | 5.49 | NA | NA | 4.82 | 5.33 | 0.88 | NA | NA | 11.19 | 11.70 | 090
25695 |  | A | Treat wrist dislocation | 8.33 | NA | NA | 6.19 | 6.87 | 1.32 | NA | NA | 15.84 | 16.52 | 090
25800 |  | A | Fusion of wrist joint | 9.87 | NA | NA | 7.28 | 8.64 | 1.57 | NA | NA | 18.72 | 20.08 | 090
25805 |  | A | Fusion/graft of wrist joint | 11.50 | NA | NA | 8.17 | 9.73 | 1.80 | NA | NA | 21.47 | 23.03 | 090
25810 |  | A | Fusion/graft of wrist joint | 11.67 | NA | NA | 8.56 | 9.57 | 1.67 | NA | NA | 21.90 | 22.91 | 090
25820 |  | A | Fusion of hand bones | 7.44 | NA | NA | 6.28 | 7.46 | 1.22 | NA | NA | 14.94 | 16.12 | 090
25825 |  | A | Fuse hand bones with graft | 9.44 | NA | NA | 7.56 | 8.81 | 1.41 | NA | NA | 18.41 | 19.66 | 090
25830 |  | A | Fusion, radioulnar jnt/ulna | 10.61 | NA | NA | 10.46 | 13.42 | 1.55 | NA | NA | 22.62 | 25.58 | 090
25900 |  | A | Amputation of forearm | 9.36 | NA | NA | 9.27 | 11.74 | 1.30 | NA | NA | 19.93 | 22.40 | 090
25905 |  | A | Amputation of forearm | 9.41 | NA | NA | 8.44 | 11.33 | 1.40 | NA | NA | 19.25 | 22.14 | 090
25907 |  | A | Amputation follow-up surgery | 7.91 | NA | NA | 7.81 | 10.77 | 1.10 | NA | NA | 16.82 | 19.78 | 090
25909 |  | A | Amputation follow-up surgery | 9.13 | NA | NA | 9.04 | 11.46 | 1.44 | NA | NA | 19.61 | 22.03 | 090
25915 |  | A | Amputation of forearm | 17.30 | NA | NA | 8.23 | 16.22 | 2.93 | NA | NA | 28.46 | 36.45 | 090
25920 |  | A | Amputate hand at wrist | 8.85 | NA | NA | 6.72 | 7.57 | 1.35 | NA | NA | 16.92 | 17.77 | 090
25922 |  | A | Amputate hand at wrist | 7.47 | NA | NA | 6.40 | 6.89 | 1.12 | NA | NA | 14.99 | 15.48 | 090
25924 |  | A | Amputation follow-up surgery | 8.63 | NA | NA | 6.71 | 7.75 | 1.32 | NA | NA | 16.66 | 17.70 | 090
25927 |  | A | Amputation of hand | 8.91 | NA | NA | 8.62 | 10.92 | 1.27 | NA | NA | 18.80 | 21.10 | 090
25929 |  | A | Amputation follow-up surgery | 7.64 | NA | NA | 5.42 | 5.76 | 1.14 | NA | NA | 14.20 | 14.54 | 090
25931 |  | A | Amputation follow-up surgery | 7.86 | NA | NA | 8.53 | 10.73 | 1.15 | NA | NA | 17.54 | 19.74 | 090
25999 |  | C | Forearm or wrist surgery | 0.00 | 0.00 | 0.00 | 0.00 | 0.00 | 0.00 | 0.00 | 0.00 | 0.00 | 0.00 | YYY
26010 |  | A | Drainage of finger abscess | 1.54 | 4.02 | 5.18 | 1.51 | 1.60 | 0.18 | 5.74 | 6.90 | 3.23 | 3.32 | 010
26011 |  | A | Drainage of finger abscess | 2.19 | 6.29 | 8.18 | 1.98 | 2.24 | 0.33 | 8.81 | 10.70 | 4.50 | 4.76 | 010
26020 |  | A | Drain hand tendon sheath | 4.90 | NA | NA | 4.75 | 5.20 | 0.73 | NA | NA | 10.38 | 10.83 | 090
26025 |  | A | Drainage of palm bursa | 4.93 | NA | NA | 4.46 | 4.96 | 0.76 | NA | NA | 10.15 | 10.65 | 090
26030 |  | A | Drainage of palm bursa(s) | 6.10 | NA | NA | 4.99 | 5.54 | 0.92 | NA | NA | 12.01 | 12.56 | 090
26034 |  | A | Treat hand bone lesion | 6.40 | NA | NA | 5.55 | 6.15 | 1.01 | NA | NA | 12.96 | 13.56 | 090
26035 |  | A | Decompress fingers/hand | 11.05 | NA | NA | 8.01 | 7.91 | 1.47 | NA | NA | 20.53 | 20.43 | 090
26037 |  | A | Decompress fingers/hand | 7.42 | NA | NA | 5.51 | 6.12 | 1.13 | NA | NA | 14.06 | 14.67 | 090
26040 |  | A | Release palm contracture | 3.33 | NA | NA | 3.60 | 3.94 | 0.53 | NA | NA | 7.46 | 7.80 | 090
26045 |  | A | Release palm contracture | 5.55 | NA | NA | 4.88 | 5.45 | 0.93 | NA | NA | 11.36 | 11.93 | 090
26055 |  | A | Incise finger tendon sheath | 2.94 | 9.07 | 13.03 | 3.83 | 3.91 | 0.43 | 12.44 | 16.40 | 7.20 | 7.28 | 090
26060 |  | A | Incision of finger tendon | 2.81 | NA | NA | 3.06 | 3.40 | 0.45 | NA | NA | 6.32 | 6.66 | 090
26070 |  | A | Explore/treat hand joint | 3.68 | NA | NA | 3.04 | 3.28 | 0.48 | NA | NA | 7.20 | 7.44 | 090
26075 |  | A | Explore/treat finger joint | 3.78 | NA | NA | 3.41 | 3.69 | 0.53 | NA | NA | 7.72 | 8.00 | 090
26080 |  | A | Explore/treat finger joint | 4.29 | NA | NA | 4.34 | 4.72 | 0.66 | NA | NA | 9.29 | 9.67 | 090
26100 |  | A | Biopsy hand joint lining | 3.66 | NA | NA | 3.56 | 3.99 | 0.54 | NA | NA | 7.76 | 8.19 | 090
26105 |  | A | Biopsy finger joint lining | 3.70 | NA | NA | 3.74 | 4.11 | 0.59 | NA | NA | 8.03 | 8.40 | 090
26110 |  | A | Biopsy finger joint lining | 3.52 | NA | NA | 3.60 | 3.93 | 0.53 | NA | NA | 7.65 | 7.98 | 090
26115 |  | A | Removal hand lesion subcut | 3.85 | 9.84 | 12.28 | 4.21 | 4.63 | 0.59 | 14.28 | 16.72 | 8.65 | 9.07 | 090
26116 |  | A | Removal hand lesion, deep | 5.52 | NA | NA | 5.29 | 5.82 | 0.84 | NA | NA | 11.65 | 12.18 | 090
26117 |  | A | Remove tumor, hand/finger | 8.54 | NA | NA | 6.21 | 6.85 | 1.26 | NA | NA | 16.01 | 16.65 | 090
26121 |  | A | Release palm contracture | 7.53 | NA | NA | 5.94 | 6.71 | 1.17 | NA | NA | 14.64 | 15.41 | 090
26123 |  | A | Release palm contracture | 10.53 | NA | NA | 8.23 | 8.70 | 1.43 | NA | NA | 20.19 | 20.66 | 090
26125 |  | A | Release palm contracture | 4.60 | NA | NA | 1.89 | 2.30 | 0.70 | NA | NA | 7.19 | 7.60 | ZZZ
26130 |  | A | Remove wrist joint lining | 5.41 | NA | NA | 4.85 | 5.22 | 0.94 | NA | NA | 11.20 | 11.57 | 090
26135 |  | A | Revise finger joint, each | 6.95 | NA | NA | 5.49 | 6.22 | 1.07 | NA | NA | 13.51 | 14.24 | 090
26140 |  | A | Revise finger joint, each | 6.16 | NA | NA | 5.17 | 5.82 | 0.92 | NA | NA | 12.25 | 12.90 | 090
26145 |  | A | Tendon excision, palm/finger | 6.31 | NA | NA | 5.19 | 5.84 | 0.97 | NA | NA | 12.47 | 13.12 | 090
26160 |  | A | Remove tendon sheath lesion | 3.40 | 9.02 | 11.53 | 3.92 | 4.07 | 0.49 | 12.91 | 15.42 | 7.81 | 7.96 | 090
26170 |  | A | Removal of palm tendon, each | 4.76 | NA | NA | 4.36 | 4.80 | 0.69 | NA | NA | 9.81 | 10.25 | 090
26180 |  | A | Removal of finger tendon | 5.17 | NA | NA | 4.77 | 5.25 | 0.78 | NA | NA | 10.72 | 11.20 | 090
26185 |  | A | Remove finger bone | 6.24 | NA | NA | 5.81 | 5.98 | 0.81 | NA | NA | 12.86 | 13.03 | 090
26200 |  | A | Remove hand bone lesion | 5.50 | NA | NA | 4.58 | 5.16 | 0.88 | NA | NA | 10.96 | 11.54 | 090
26205 |  | A | Remove/graft bone lesion | 7.75 | NA | NA | 5.85 | 6.63 | 1.20 | NA | NA | 14.80 | 15.58 | 090
26210 |  | A | Removal of finger lesion | 5.14 | NA | NA | 4.74 | 5.25 | 0.79 | NA | NA | 10.67 | 11.18 | 090
26215 |  | A | Remove/graft finger lesion | 7.09 | NA | NA | 5.53 | 6.12 | 0.98 | NA | NA | 13.60 | 14.19 | 090
26230 |  | A | Partial removal of hand bone | 6.32 | NA | NA | 5.01 | 5.69 | 1.01 | NA | NA | 12.34 | 13.02 | 090
26235 |  | A | Partial removal, finger bone | 6.18 | NA | NA | 4.96 | 5.60 | 0.95 | NA | NA | 12.09 | 12.73 | 090
26236 |  | A | Partial removal, finger bone | 5.31 | NA | NA | 4.55 | 5.13 | 0.81 | NA | NA | 10.67 | 11.25 | 090
26250 |  | A | Extensive hand surgery | 7.54 | NA | NA | 5.21 | 6.13 | 1.07 | NA | NA | 13.82 | 14.74 | 090
26255 |  | A | Extensive hand surgery | 12.71 | NA | NA | 8.39 | 9.13 | 1.68 | NA | NA | 22.78 | 23.52 | 090
26260 |  | A | Extensive finger surgery | 7.02 | NA | NA | 5.36 | 5.98 | 1.01 | NA | NA | 13.39 | 14.01 | 090
26261 |  | A | Extensive finger surgery | 9.20 | NA | NA | 6.88 | 6.35 | 1.14 | NA | NA | 17.22 | 16.69 | 090
26262 |  | A | Partial removal of finger | 5.66 | NA | NA | 4.66 | 5.16 | 0.88 | NA | NA | 11.20 | 11.70 | 090
26320 |  | A | Removal of implant from hand | 3.97 | NA | NA | 3.78 | 4.18 | 0.59 | NA | NA | 8.34 | 8.74 | 090
26340 |  | A | Manipulate finger w/anesth | 2.50 | NA | NA | 4.60 | 4.81 | 0.39 | NA | NA | 7.49 | 7.70 | 090
26350 |  | A | Repair finger/hand tendon | 5.98 | NA | NA | 9.45 | 13.32 | 0.93 | NA | NA | 16.36 | 20.23 | 090
26352 |  | A | Repair/graft hand tendon | 7.67 | NA | NA | 10.04 | 14.03 | 1.13 | NA | NA | 18.84 | 22.83 | 090
26356 |  | A | Repair finger/hand tendon | 10.06 | NA | NA | 13.68 | 17.20 | 1.21 | NA | NA | 24.95 | 28.47 | 090
26357 |  | A | Repair finger/hand tendon | 8.57 | NA | NA | 10.26 | 14.29 | 1.33 | NA | NA | 20.16 | 24.19 | 090
26358 |  | A | Repair/graft hand tendon | 9.13 | NA | NA | 10.81 | 15.18 | 1.38 | NA | NA | 21.32 | 25.69 | 090
26370 |  | A | Repair finger/hand tendon | 7.10 | NA | NA | 9.50 | 13.71 | 1.12 | NA | NA | 17.72 | 21.93 | 090
26372 |  | A | Repair/graft hand tendon | 8.81 | NA | NA | 10.48 | 15.02 | 1.40 | NA | NA | 20.69 | 25.23 | 090
26373 |  | A | Repair finger/hand tendon | 8.21 | NA | NA | 10.16 | 14.57 | 1.23 | NA | NA | 19.60 | 24.01 | 090
26390 |  | A | Revise hand/finger tendon | 9.24 | NA | NA | 9.08 | 12.23 | 1.40 | NA | NA | 19.72 | 22.87 | 090
26392 |  | A | Repair/graft hand tendon | 10.30 | NA | NA | 11.02 | 15.30 | 1.57 | NA | NA | 22.89 | 27.17 | 090
26410 |  | A | Repair hand tendon | 4.62 | NA | NA | 7.56 | 10.85 | 0.73 | NA | NA | 12.91 | 16.20 | 090
26412 |  | A | Repair/graft hand tendon | 6.30 | NA | NA | 8.57 | 12.10 | 0.97 | NA | NA | 15.84 | 19.37 | 090
26415 |  | A | Excision, hand/finger tendon | 8.33 | NA | NA | 6.71 | 10.51 | 0.98 | NA | NA | 16.02 | 19.82 | 090
26416 |  | A | Graft hand or finger tendon | 9.36 | NA | NA | 8.70 | 13.12 | 0.79 | NA | NA | 18.85 | 23.27 | 090
26418 |  | A | Repair finger tendon | 4.24 | NA | NA | 8.07 | 11.26 | 0.67 | NA | NA | 12.98 | 16.17 | 090
26420 |  | A | Repair/graft finger tendon | 6.76 | NA | NA | 8.75 | 12.41 | 1.07 | NA | NA | 16.58 | 20.24 | 090
26426 |  | A | Repair finger/hand tendon | 6.14 | NA | NA | 8.52 | 12.00 | 0.95 | NA | NA | 15.61 | 19.09 | 090
26428 |  | A | Repair/graft finger tendon | 7.20 | NA | NA | 9.19 | 12.69 | 1.09 | NA | NA | 17.48 | 20.98 | 090
26432 |  | A | Repair finger tendon | 4.01 | NA | NA | 6.71 | 9.37 | 0.64 | NA | NA | 11.36 | 14.02 | 090
26433 |  | A | Repair finger tendon | 4.55 | NA | NA | 6.93 | 9.83 | 0.72 | NA | NA | 12.20 | 15.10 | 090
26434 |  | A | Repair/graft finger tendon | 6.08 | NA | NA | 7.87 | 10.62 | 0.93 | NA | NA | 14.88 | 17.63 | 090
26437 |  | A | Realignment of tendons | 5.81 | NA | NA | 7.71 | 10.61 | 0.89 | NA | NA | 14.41 | 17.31 | 090
26440 |  | A | Release palm/finger tendon | 5.01 | NA | NA | 8.43 | 12.18 | 0.75 | NA | NA | 14.19 | 17.94 | 090
26442 |  | A | Release palm & finger tendon | 9.40 | NA | NA | 11.61 | 14.86 | 1.20 | NA | NA | 22.21 | 25.46 | 090
26445 |  | A | Release hand/finger tendon | 4.30 | NA | NA | 8.10 | 11.88 | 0.65 | NA | NA | 13.05 | 16.83 | 090
26449 |  | A | Release forearm/hand tendon | 8.24 | NA | NA | 11.30 | 14.65 | 1.06 | NA | NA | 20.60 | 23.95 | 090
26450 |  | A | Incision of palm tendon | 3.66 | NA | NA | 5.11 | 6.78 | 0.59 | NA | NA | 9.36 | 11.03 | 090
26455 |  | A | Incision of finger tendon | 3.63 | NA | NA | 5.07 | 6.73 | 0.58 | NA | NA | 9.28 | 10.94 | 090
26460 |  | A | Incise hand/finger tendon | 3.45 | NA | NA | 5.01 | 6.61 | 0.55 | NA | NA | 9.01 | 10.61 | 090
26471 |  | A | Fusion of finger tendons | 5.72 | NA | NA | 7.66 | 10.35 | 0.88 | NA | NA | 14.26 | 16.95 | 090
26474 |  | A | Fusion of finger tendons | 5.31 | NA | NA | 7.48 | 10.41 | 0.76 | NA | NA | 13.55 | 16.48 | 090
26476 |  | A | Tendon lengthening | 5.17 | NA | NA | 7.39 | 10.05 | 0.79 | NA | NA | 13.35 | 16.01 | 090
26477 |  | A | Tendon shortening | 5.14 | NA | NA | 7.47 | 10.16 | 0.81 | NA | NA | 13.42 | 16.11 | 090
26478 |  | A | Lengthening of hand tendon | 5.79 | NA | NA | 7.67 | 10.80 | 0.90 | NA | NA | 14.36 | 17.49 | 090
26479 |  | A | Shortening of hand tendon | 5.73 | NA | NA | 7.66 | 10.59 | 0.92 | NA | NA | 14.31 | 17.24 | 090
26480 |  | A | Transplant hand tendon | 6.68 | NA | NA | 9.57 | 13.67 | 1.02 | NA | NA | 17.27 | 21.37 | 090
26483 |  | A | Transplant/graft hand tendon | 8.28 | NA | NA | 10.22 | 14.18 | 1.26 | NA | NA | 19.76 | 23.72 | 090
26485 |  | A | Transplant palm tendon | 7.69 | NA | NA | 9.94 | 14.01 | 1.15 | NA | NA | 18.78 | 22.85 | 090
26489 |  | A | Transplant/graft palm tendon | 9.66 | NA | NA | 10.29 | 11.62 | 1.26 | NA | NA | 21.21 | 22.54 | 090
26490 |  | A | Revise thumb tendon | 8.40 | NA | NA | 8.89 | 11.84 | 1.21 | NA | NA | 18.50 | 21.45 | 090
26492 |  | A | Tendon transfer with graft | 9.61 | NA | NA | 9.77 | 12.64 | 1.40 | NA | NA | 20.78 | 23.65 | 090
26494 |  | A | Hand tendon/muscle transfer | 8.46 | NA | NA | 9.01 | 11.98 | 1.28 | NA | NA | 18.75 | 21.72 | 090
26496 |  | A | Revise thumb tendon | 9.58 | NA | NA | 9.46 | 12.29 | 1.45 | NA | NA | 20.49 | 23.32 | 090
26497 |  | A | Finger tendon transfer | 9.56 | NA | NA | 9.42 | 12.53 | 1.41 | NA | NA | 20.39 | 23.50 | 090
26498 |  | A | Finger tendon transfer | 13.98 | NA | NA | 11.48 | 14.99 | 2.10 | NA | NA | 27.56 | 31.07 | 090
26499 |  | A | Revision of finger | 8.97 | NA | NA | 8.72 | 11.96 | 1.35 | NA | NA | 19.04 | 22.28 | 090
26500 |  | A | Hand tendon reconstruction | 5.95 | NA | NA | 7.75 | 10.52 | 0.90 | NA | NA | 14.60 | 17.37 | 090
26502 |  | A | Hand tendon reconstruction | 7.13 | NA | NA | 8.34 | 11.10 | 1.13 | NA | NA | 16.60 | 19.36 | 090
26504 |  | A | Hand tendon reconstruction | 7.46 | NA | NA | 8.59 | 11.58 | 1.24 | NA | NA | 17.29 | 20.28 | 090
26508 |  | A | Release thumb contracture | 6.00 | NA | NA | 7.75 | 10.70 | 0.98 | NA | NA | 14.73 | 17.68 | 090
26510 |  | A | Thumb tendon transfer | 5.42 | NA | NA | 7.56 | 10.40 | 0.79 | NA | NA | 13.77 | 16.61 | 090
26516 |  | A | Fusion of knuckle joint | 7.14 | NA | NA | 8.22 | 11.23 | 1.10 | NA | NA | 16.46 | 19.47 | 090
26517 |  | A | Fusion of knuckle joints | 8.88 | NA | NA | 9.21 | 12.43 | 1.41 | NA | NA | 19.50 | 22.72 | 090
26518 |  | A | Fusion of knuckle joints | 9.07 | NA | NA | 9.24 | 12.35 | 1.35 | NA | NA | 19.66 | 22.77 | 090
26520 |  | A | Release knuckle contracture | 5.29 | NA | NA | 8.81 | 12.62 | 0.80 | NA | NA | 14.90 | 18.71 | 090
26525 |  | A | Release finger contracture | 5.32 | NA | NA | 8.82 | 12.68 | 0.81 | NA | NA | 14.95 | 18.81 | 090
26530 |  | A | Revise knuckle joint | 6.68 | NA | NA | 5.43 | 5.96 | 1.04 | NA | NA | 13.15 | 13.68 | 090
26531 |  | A | Revise knuckle with implant | 7.90 | NA | NA | 6.15 | 6.88 | 1.17 | NA | NA | 15.22 | 15.95 | 090
26535 |  | A | Revise finger joint | 5.23 | NA | NA | 4.04 | 3.82 | 0.71 | NA | NA | 9.98 | 9.76 | 090
26536 |  | A | Revise/implant finger joint | 6.36 | NA | NA | 9.14 | 9.52 | 0.96 | NA | NA | 16.46 | 16.84 | 090
26540 |  | A | Repair hand joint | 6.42 | NA | NA | 7.98 | 10.90 | 0.99 | NA | NA | 15.39 | 18.31 | 090
26541 |  | A | Repair hand joint with graft | 8.61 | NA | NA | 9.04 | 12.30 | 1.28 | NA | NA | 18.93 | 22.19 | 090
26542 |  | A | Repair hand joint with graft | 6.77 | NA | NA | 8.13 | 11.06 | 1.02 | NA | NA | 15.92 | 18.85 | 090
26545 |  | A | Reconstruct finger joint | 6.91 | NA | NA | 8.32 | 11.18 | 1.05 | NA | NA | 16.28 | 19.14 | 090
26546 |  | A | Repair nonunion hand | 10.41 | NA | NA | 11.42 | 14.13 | 1.44 | NA | NA | 23.27 | 25.98 | 090
26548 |  | A | Reconstruct finger joint | 8.02 | NA | NA | 8.78 | 11.83 | 1.20 | NA | NA | 18.00 | 21.05 | 090
26550 |  | A | Construct thumb replacement | 21.46 | NA | NA | 15.40 | 17.04 | 2.45 | NA | NA | 39.31 | 40.95 | 090
26551 |  | A | Great toe-hand transfer | 48.09 | NA | NA | 21.71 | 29.76 | 7.96 | NA | NA | 77.76 | 85.81 | 090
26553 |  | A | Single transfer, toe-hand | 47.78 | NA | NA | 20.29 | 22.08 | 2.41 | NA | NA | 70.48 | 72.27 | 090
26554 |  | A | Double transfer, toe-hand | 56.57 | NA | NA | 19.56 | 33.04 | 9.41 | NA | NA | 85.54 | 99.02 | 090
26555 |  | A | Positional change of finger | 16.86 | NA | NA | 13.88 | 17.11 | 2.48 | NA | NA | 33.22 | 36.45 | 090
26556 |  | A | Toe joint transfer | 49.27 | NA | NA | 17.86 | 29.46 | 2.57 | NA | NA | 69.70 | 81.30 | 090
26560 |  | A | Repair of web finger | 5.37 | NA | NA | 7.09 | 9.12 | 0.85 | NA | NA | 13.31 | 15.34 | 090
26561 |  | A | Repair of web finger | 10.90 | NA | NA | 9.41 | 11.61 | 1.45 | NA | NA | 21.76 | 23.96 | 090
26562 |  | A | Repair of web finger | 16.30 | NA | NA | 13.88 | 16.33 | 2.23 | NA | NA | 32.41 | 34.86 | 090
26565 |  | A | Correct metacarpal flaw | 6.73 | NA | NA | 7.90 | 10.98 | 1.00 | NA | NA | 15.63 | 18.71 | 090
26567 |  | A | Correct finger deformity | 6.81 | NA | NA | 8.15 | 11.00 | 1.04 | NA | NA | 16.00 | 18.85 | 090
26568 |  | A | Lengthen metacarpal/finger | 9.07 | NA | NA | 10.13 | 14.11 | 1.49 | NA | NA | 20.69 | 24.67 | 090
26580 |  | A | Repair hand deformity | 19.40 | NA | NA | 11.01 | 12.98 | 2.28 | NA | NA | 32.69 | 34.66 | 090
26587 |  | A | Reconstruct extra finger | 14.28 | NA | NA | 8.43 | 9.02 | 1.53 | NA | NA | 24.24 | 24.83 | 090
26590 |  | A | Repair finger deformity | 18.43 | NA | NA | 10.52 | 13.09 | 2.77 | NA | NA | 31.72 | 34.29 | 090
26591 |  | A | Repair muscles of hand | 3.25 | NA | NA | 6.26 | 8.78 | 0.48 | NA | NA | 9.99 | 12.51 | 090
26593 |  | A | Release muscles of hand | 5.30 | NA | NA | 7.73 | 10.28 | 0.78 | NA | NA | 13.81 | 16.36 | 090
26596 |  | A | Excision constricting tissue | 8.94 | NA | NA | 7.48 | 8.49 | 1.43 | NA | NA | 17.85 | 18.86 | 090
26600 |  | A | Treat metacarpal fracture | 2.40 | 3.83 | 3.67 | 3.48 | 2.86 | 0.30 | 6.53 | 6.37 | 6.18 | 5.56 | 090
26605 |  | A | Treat metacarpal fracture | 2.85 | 4.09 | 4.44 | 3.50 | 3.61 | 0.49 | 7.43 | 7.78 | 6.84 | 6.95 | 090
26607 |  | A | Treat metacarpal fracture | 5.35 | NA | NA | 4.88 | 5.92 | 0.87 | NA | NA | 11.10 | 12.14 | 090
26608 |  | A | Treat metacarpal fracture | 5.35 | NA | NA | 5.25 | 6.00 | 0.88 | NA | NA | 11.48 | 12.23 | 090
26615 |  | A | Treat metacarpal fracture | 5.32 | NA | NA | 4.75 | 5.16 | 0.86 | NA | NA | 10.93 | 11.34 | 090
26641 |  | A | Treat thumb dislocation | 3.93 | 4.17 | 4.47 | 3.52 | 3.53 | 0.39 | 8.49 | 8.79 | 7.84 | 7.85 | 090
26645 |  | A | Treat thumb fracture | 4.40 | 4.62 | 5.03 | 3.93 | 4.13 | 0.67 | 9.69 | 10.10 | 9.00 | 9.20 | 090
26650 |  | A | Treat thumb fracture | 5.71 | NA | NA | 5.62 | 6.42 | 0.94 | NA | NA | 12.27 | 13.07 | 090
26665 |  | A | Treat thumb fracture | 7.65 | NA | NA | 5.87 | 6.43 | 0.90 | NA | NA | 14.42 | 14.98 | 090
26670 |  | A | Treat hand dislocation | 3.68 | 3.55 | 4.08 | 2.96 | 2.95 | 0.39 | 7.62 | 8.15 | 7.03 | 7.02 | 090
26675 |  | A | Treat hand dislocation | 4.63 | 4.85 | 5.32 | 4.15 | 4.39 | 0.77 | 10.25 | 10.72 | 9.55 | 9.79 | 090
26676 |  | A | Pin hand dislocation | 5.51 | NA | NA | 5.57 | 6.41 | 0.91 | NA | NA | 11.99 | 12.83 | 090
26685 |  | A | Treat hand dislocation | 7.03 | NA | NA | 5.44 | 5.97 | 1.09 | NA | NA | 13.56 | 14.09 | 090
26686 |  | A | Treat hand dislocation | 7.99 | NA | NA | 6.12 | 6.71 | 1.24 | NA | NA | 15.35 | 15.94 | 090
26700 |  | A | Treat knuckle dislocation | 3.68 | 3.32 | 3.65 | 2.95 | 2.88 | 0.35 | 7.35 | 7.68 | 6.98 | 6.91 | 090
26705 |  | A | Treat knuckle dislocation | 4.18 | 4.82 | 5.20 | 4.10 | 4.25 | 0.66 | 9.66 | 10.04 | 8.94 | 9.09 | 090
26706 |  | A | Pin knuckle dislocation | 5.11 | NA | NA | 4.69 | 4.99 | 0.81 | NA | NA | 10.61 | 10.91 | 090
26715 |  | A | Treat knuckle dislocation | 5.73 | NA | NA | 4.92 | 5.36 | 0.91 | NA | NA | 11.56 | 12.00 | 090
26720 |  | A | Treat finger fracture, each | 1.66 | 2.59 | 2.73 | 2.31 | 2.12 | 0.24 | 4.49 | 4.63 | 4.21 | 4.02 | 090
26725 |  | A | Treat finger fracture, each | 3.33 | 4.10 | 4.60 | 3.42 | 3.48 | 0.53 | 7.96 | 8.46 | 7.28 | 7.34 | 090
26727 |  | A | Treat finger fracture, each | 5.22 | NA | NA | 5.21 | 5.98 | 0.84 | NA | NA | 11.27 | 12.04 | 090
26735 |  | A | Treat finger fracture, each | 5.97 | NA | NA | 5.00 | 5.41 | 0.95 | NA | NA | 11.92 | 12.33 | 090
26740 |  | A | Treat finger fracture, each | 1.94 | 2.95 | 3.09 | 2.66 | 2.69 | 0.31 | 5.20 | 5.34 | 4.91 | 4.94 | 090
26742 |  | A | Treat finger fracture, each | 3.84 | 4.33 | 4.83 | 3.62 | 3.82 | 0.58 | 8.75 | 9.25 | 8.04 | 8.24 | 090
26746 |  | A | Treat finger fracture, each | 5.80 | NA | NA | 4.96 | 5.41 | 0.91 | NA | NA | 11.67 | 12.12 | 090
26750 |  | A | Treat finger fracture, each | 1.70 | 2.25 | 2.42 | 2.26 | 2.07 | 0.22 | 4.17 | 4.34 | 4.18 | 3.99 | 090
26755 |  | A | Treat finger fracture, each | 3.10 | 3.79 | 4.26 | 2.98 | 3.00 | 0.42 | 7.31 | 7.78 | 6.50 | 6.52 | 090
26756 |  | A | Pin finger fracture, each | 4.38 | NA | NA | 4.86 | 5.51 | 0.71 | NA | NA | 9.95 | 10.60 | 090
26765 |  | A | Treat finger fracture, each | 4.16 | NA | NA | 4.02 | 4.30 | 0.66 | NA | NA | 8.84 | 9.12 | 090
26770 |  | A | Treat finger dislocation | 3.02 | 2.91 | 3.30 | 2.53 | 2.44 | 0.27 | 6.20 | 6.59 | 5.82 | 5.73 | 090
26775 |  | A | Treat finger dislocation | 3.70 | 4.54 | 5.03 | 3.81 | 3.81 | 0.54 | 8.78 | 9.27 | 8.05 | 8.05 | 090
26776 |  | A | Pin finger dislocation | 4.79 | NA | NA | 5.01 | 5.75 | 0.77 | NA | NA | 10.57 | 11.31 | 090
26785 |  | A | Treat finger dislocation | 4.20 | NA | NA | 4.08 | 4.42 | 0.68 | NA | NA | 8.96 | 9.30 | 090
26820 |  | A | Thumb fusion with graft | 8.25 | NA | NA | 8.71 | 12.12 | 1.30 | NA | NA | 18.26 | 21.67 | 090
26841 |  | A | Fusion of thumb | 7.12 | NA | NA | 8.69 | 12.10 | 1.18 | NA | NA | 16.99 | 20.40 | 090
26842 |  | A | Thumb fusion with graft | 8.29 | NA | NA | 8.95 | 12.27 | 1.32 | NA | NA | 18.56 | 21.88 | 090
26843 |  | A | Fusion of hand joint | 7.60 | NA | NA | 8.17 | 11.31 | 1.15 | NA | NA | 16.92 | 20.06 | 090
26844 |  | A | Fusion/graft of hand joint | 8.78 | NA | NA | 9.14 | 12.31 | 1.33 | NA | NA | 19.25 | 22.42 | 090
26850 |  | A | Fusion of knuckle | 6.96 | NA | NA | 8.29 | 11.22 | 1.06 | NA | NA | 16.31 | 19.24 | 090
26852 |  | A | Fusion of knuckle with graft | 8.51 | NA | NA | 9.12 | 11.95 | 1.22 | NA | NA | 18.85 | 21.68 | 090
26860 |  | A | Fusion of finger joint | 4.68 | NA | NA | 7.54 | 10.28 | 0.73 | NA | NA | 12.95 | 15.69 | 090
26861 |  | A | Fusion of finger jnt, add-on | 1.74 | NA | NA | 0.71 | 0.88 | 0.27 | NA | NA | 2.72 | 2.89 | ZZZ
26862 |  | A | Fusion/graft of finger joint | 7.36 | NA | NA | 8.68 | 11.43 | 1.10 | NA | NA | 17.14 | 19.89 | 090
26863 |  | A | Fuse/graft added joint | 3.89 | NA | NA | 1.58 | 1.98 | 0.56 | NA | NA | 6.03 | 6.43 | ZZZ
26910 |  | A | Amputate metacarpal bone | 7.59 | NA | NA | 8.30 | 10.49 | 1.16 | NA | NA | 17.05 | 19.24 | 090
26951 |  | A | Amputation of finger/thumb | 5.75 | NA | NA | 8.39 | 9.71 | 0.71 | NA | NA | 14.85 | 16.17 | 090
26952 |  | A | Amputation of finger/thumb | 6.30 | NA | NA | 7.94 | 10.73 | 0.95 | NA | NA | 15.19 | 17.98 | 090
26989 |  | C | Hand/finger surgery | 0.00 | 0.00 | 0.00 | 0.00 | 0.00 | 0.00 | 0.00 | 0.00 | 0.00 | 0.00 | YYY
26990 |  | A | Drainage of pelvis lesion | 7.77 | NA | NA | 6.29 | 6.98 | 1.22 | NA | NA | 15.28 | 15.97 | 090
26991 |  | A | Drainage of pelvis bursa | 6.91 | 8.60 | 10.52 | 4.85 | 5.29 | 1.11 | 16.62 | 18.54 | 12.87 | 13.31 | 090
26992 |  | A | Drainage of bone lesion | 13.30 | NA | NA | 8.64 | 9.95 | 2.16 | NA | NA | 24.10 | 25.41 | 090
27000 |  | A | Incision of hip tendon | 5.61 | NA | NA | 4.55 | 5.10 | 0.98 | NA | NA | 11.14 | 11.69 | 090
27001 |  | A | Incision of hip tendon | 6.99 | NA | NA | 5.23 | 5.88 | 1.24 | NA | NA | 13.46 | 14.11 | 090
27003 |  | A | Incision of hip tendon | 7.63 | NA | NA | 5.82 | 6.32 | 1.12 | NA | NA | 14.57 | 15.07 | 090
27005 |  | A | Incision of hip tendon | 9.89 | NA | NA | 6.79 | 7.56 | 1.72 | NA | NA | 18.40 | 19.17 | 090
27006 |  | A | Incision of hip tendons | 9.91 | NA | NA | 6.84 | 7.70 | 1.69 | NA | NA | 18.44 | 19.30 | 090
27025 |  | A | Incision of hip/thigh fascia | 12.57 | NA | NA | 8.10 | 8.44 | 1.84 | NA | NA | 22.51 | 22.85 | 090
27030 |  | A | Drainage of hip joint | 13.47 | NA | NA | 8.10 | 9.26 | 2.26 | NA | NA | 23.83 | 24.99 | 090
27033 |  | A | Exploration of hip joint | 13.91 | NA | NA | 8.45 | 9.55 | 2.32 | NA | NA | 24.68 | 25.78 | 090
27035 |  | A | Denervation of hip joint | 17.14 | NA | NA | 9.53 | 10.81 | 2.15 | NA | NA | 28.82 | 30.10 | 090
27036 |  | A | Excision of hip joint/muscle | 14.10 | NA | NA | 8.98 | 9.75 | 2.26 | NA | NA | 25.34 | 26.11 | 090
27040 |  | A | Biopsy of soft tissues | 2.87 | 5.14 | 5.21 | 1.81 | 1.96 | 0.27 | 8.28 | 8.35 | 4.95 | 5.10 | 010
27041 |  | A | Biopsy of soft tissues | 10.00 | NA | NA | 5.79 | 6.43 | 1.35 | NA | NA | 17.14 | 17.78 | 090
27047 |  | A | Remove hip/pelvis lesion | 7.44 | 7.12 | 7.11 | 4.57 | 4.72 | 1.03 | 15.59 | 15.58 | 13.04 | 13.19 | 090
27048 |  | A | Remove hip/pelvis lesion | 6.36 | NA | NA | 4.65 | 4.76 | 0.92 | NA | NA | 11.93 | 12.04 | 090
27049 |  | A | Remove tumor, hip/pelvis | 15.12 | NA | NA | 8.24 | 8.36 | 2.06 | NA | NA | 25.42 | 25.54 | 090
27050 |  | A | Biopsy of sacroiliac joint | 4.59 | NA | NA | 3.79 | 4.26 | 0.60 | NA | NA | 8.98 | 9.45 | 090
27052 |  | A | Biopsy of hip joint | 7.21 | NA | NA | 5.68 | 5.83 | 1.08 | NA | NA | 13.97 | 14.12 | 090
27054 |  | A | Removal of hip joint lining | 9.01 | NA | NA | 6.49 | 7.13 | 1.47 | NA | NA | 16.97 | 17.61 | 090
27060 |  | A | Removal of ischial bursa | 5.72 | NA | NA | 4.38 | 4.37 | 0.80 | NA | NA | 10.90 | 10.89 | 090
27062 |  | A | Remove femur lesion/bursa | 5.60 | NA | NA | 4.63 | 5.05 | 0.93 | NA | NA | 11.16 | 11.58 | 090
27065 |  | A | Removal of hip bone lesion | 6.37 | NA | NA | 5.12 | 5.36 | 1.01 | NA | NA | 12.50 | 12.74 | 090
27066 |  | A | Removal of hip bone lesion | 10.97 | NA | NA | 7.46 | 8.20 | 1.79 | NA | NA | 20.22 | 20.96 | 090
27067 |  | A | Remove/graft hip bone lesion | 14.47 | NA | NA | 8.80 | 10.20 | 1.84 | NA | NA | 25.11 | 26.51 | 090
27070 |  | A | Partial removal of hip bone | 11.36 | NA | NA | 7.94 | 8.83 | 1.74 | NA | NA | 21.04 | 21.93 | 090
27071 |  | A | Partial removal of hip bone | 12.16 | NA | NA | 8.54 | 9.73 | 1.92 | NA | NA | 22.62 | 23.81 | 090
27075 |  | A | Extensive hip surgery | 36.71 | NA | NA | 16.62 | 18.56 | 5.64 | NA | NA | 58.97 | 60.91 | 090
27076 |  | A | Extensive hip surgery | 24.17 | NA | NA | 12.75 | 14.07 | 3.70 | NA | NA | 40.62 | 41.94 | 090
27077 |  | A | Extensive hip surgery | 42.48 | NA | NA | 19.99 | 21.99 | 6.12 | NA | NA | 68.59 | 70.59 | 090
27078 |  | A | Extensive hip surgery | 14.44 | NA | NA | 8.79 | 9.65 | 2.22 | NA | NA | 25.45 | 26.31 | 090
27079 |  | A | Extensive hip surgery | 14.81 | NA | NA | 7.52 | 9.04 | 1.94 | NA | NA | 24.27 | 25.79 | 090
27080 |  | A | Removal of tail bone | 6.74 | NA | NA | 4.72 | 4.80 | 0.93 | NA | NA | 12.39 | 12.47 | 090
27086 |  | A | Remove hip foreign body | 1.87 | 3.78 | 4.36 | 1.54 | 1.75 | 0.25 | 5.90 | 6.48 | 3.66 | 3.87 | 010
27087 |  | A | Remove hip foreign body | 8.65 | NA | NA | 5.66 | 6.41 | 1.35 | NA | NA | 15.66 | 16.41 | 090
27090 |  | A | Removal of hip prosthesis | 11.49 | NA | NA | 7.44 | 8.45 | 1.94 | NA | NA | 20.87 | 21.88 | 090
27091 |  | A | Removal of hip prosthesis | 24.07 | NA | NA | 13.05 | 13.76 | 3.84 | NA | NA | 40.96 | 41.67 | 090
27093 |  | A | Injection for hip x-ray | 1.30 | 3.09 | 4.12 | 0.44 | 0.47 | 0.13 | 4.52 | 5.55 | 1.87 | 1.90 | 000
27095 |  | A | Injection for hip x-ray | 1.50 | 3.73 | 5.22 | 0.50 | 0.52 | 0.14 | 5.37 | 6.86 | 2.14 | 2.16 | 000
27096 |  | A | Inject sacroiliac joint | 1.40 | 2.54 | 3.90 | 0.33 | 0.33 | 0.08 | 4.02 | 5.38 | 1.81 | 1.81 | 000
27097 |  | A | Revision of hip tendon | 9.09 | NA | NA | 6.35 | 6.40 | 1.57 | NA | NA | 17.01 | 17.06 | 090
27098 |  | A | Transfer tendon to pelvis | 9.12 | NA | NA | 4.96 | 6.51 | 0.95 | NA | NA | 15.03 | 16.58 | 090
27100 |  | A | Transfer of abdominal muscle | 11.12 | NA | NA | 7.39 | 8.34 | 1.85 | NA | NA | 20.36 | 21.31 | 090
27105 |  | A | Transfer of spinal muscle | 11.81 | NA | NA | 7.93 | 8.85 | 1.72 | NA | NA | 21.46 | 22.38 | 090
27110 |  | A | Transfer of iliopsoas muscle | 13.54 | NA | NA | 8.61 | 8.99 | 2.18 | NA | NA | 24.33 | 24.71 | 090
27111 |  | A | Transfer of iliopsoas muscle | 12.37 | NA | NA | 8.13 | 8.88 | 1.94 | NA | NA | 22.44 | 23.19 | 090
27120 |  | A | Reconstruction of hip socket | 19.00 | NA | NA | 10.79 | 11.58 | 3.08 | NA | NA | 32.87 | 33.66 | 090
27122 |  | A | Reconstruction of hip socket | 15.86 | NA | NA | 9.49 | 10.65 | 2.61 | NA | NA | 27.96 | 29.12 | 090
27125 |  | A | Partial hip replacement | 16.39 | NA | NA | 9.69 | 10.39 | 2.54 | NA | NA | 28.62 | 29.32 | 090
27130 |  | A | Total hip arthroplasty | 17.40 | NA | NA | 10.24 | 12.54 | 3.50 | NA | NA | 31.14 | 33.44 | 090
27132 |  | A | Total hip arthroplasty | 25.41 | NA | NA | 13.57 | 15.12 | 4.04 | NA | NA | 43.02 | 44.57 | 090
27134 |  | A | Revise hip joint replacement | 30.07 | NA | NA | 14.86 | 17.06 | 4.94 | NA | NA | 49.87 | 52.07 | 090
27137 |  | A | Revise hip joint replacement | 22.49 | NA | NA | 11.85 | 13.41 | 3.67 | NA | NA | 38.01 | 39.57 | 090
27138 |  | A | Revise hip joint replacement | 23.49 | NA | NA | 12.24 | 13.85 | 3.84 | NA | NA | 39.57 | 41.18 | 090
27140 |  | A | Transplant femur ridge | 12.58 | NA | NA | 7.81 | 9.01 | 2.11 | NA | NA | 22.50 | 23.70 | 090
27146 |  | A | Incision of hip bone | 18.64 | NA | NA | 10.74 | 11.78 | 2.96 | NA | NA | 32.34 | 33.38 | 090
27147 |  | A | Revision of hip bone | 21.79 | NA | NA | 11.94 | 12.92 | 3.57 | NA | NA | 37.30 | 38.28 | 090
27151 |  | A | Incision of hip bones | 23.84 | NA | NA | 12.44 | 9.07 | 3.91 | NA | NA | 40.19 | 36.82 | 090
27156 |  | A | Revision of hip bones | 25.95 | NA | NA | 13.54 | 15.43 | 4.21 | NA | NA | 43.70 | 45.59 | 090
27158 |  | A | Revision of pelvis | 20.79 | NA | NA | 7.19 | 10.03 | 3.16 | NA | NA | 31.14 | 33.98 | 090
27161 |  | A | Incision of neck of femur | 17.64 | NA | NA | 10.42 | 11.68 | 2.94 | NA | NA | 31.00 | 32.26 | 090
27165 |  | A | Incision/fixation of femur | 19.97 | NA | NA | 11.73 | 12.62 | 3.10 | NA | NA | 34.80 | 35.69 | 090
27170 |  | A | Repair/graft femur head/neck | 17.40 | NA | NA | 9.82 | 10.93 | 2.81 | NA | NA | 30.03 | 31.14 | 090
27175 |  | A | Treat slipped epiphysis | 9.23 | NA | NA | 5.80 | 6.45 | 1.46 | NA | NA | 16.49 | 17.14 | 090
27176 |  | A | Treat slipped epiphysis | 12.69 | NA | NA | 8.26 | 8.82 | 2.22 | NA | NA | 23.17 | 23.73 | 090
27177 |  | A | Treat slipped epiphysis | 15.84 | NA | NA | 9.69 | 10.59 | 2.61 | NA | NA | 28.14 | 29.04 | 090
27178 |  | A | Treat slipped epiphysis | 12.69 | NA | NA | 8.26 | 8.38 | 2.08 | NA | NA | 23.03 | 23.15 | 090
27179 |  | A | Revise head/neck of femur | 13.74 | NA | NA | 8.56 | 9.63 | 2.25 | NA | NA | 24.55 | 25.62 | 090
27181 |  | A | Treat slipped epiphysis | 15.90 | NA | NA | 9.83 | 10.11 | 1.57 | NA | NA | 27.30 | 27.58 | 090
27185 |  | A | Revision of femur epiphysis | 9.59 | NA | NA | 6.69 | 7.31 | 2.39 | NA | NA | 18.67 | 19.29 | 090
27187 |  | A | Reinforce hip bones | 14.00 | NA | NA | 8.72 | 9.92 | 2.37 | NA | NA | 25.09 | 26.29 | 090
27193 |  | A | Treat pelvic ring fracture | 5.92 | 4.65 | 4.98 | 4.78 | 5.01 | 0.96 | 11.53 | 11.86 | 11.66 | 11.89 | 090
27194 |  | A | Treat pelvic ring fracture | 10.00 | NA | NA | 6.62 | 7.39 | 1.65 | NA | NA | 18.27 | 19.04 | 090
27200 |  | A | Treat tail bone fracture | 1.84 | 2.09 | 2.19 | 2.24 | 2.17 | 0.28 | 4.21 | 4.31 | 4.36 | 4.29 | 090
27202 |  | A | Treat tail bone fracture | 7.21 | NA | NA | 11.28 | 15.47 | 1.06 | NA | NA | 19.55 | 23.74 | 090
27215 |  | A | Treat pelvic fracture(s) | 10.39 | NA | NA | 6.53 | 6.94 | 1.97 | NA | NA | 18.89 | 19.30 | 090
27216 |  | A | Treat pelvic ring fracture | 15.65 | NA | NA | 9.25 | 9.51 | 2.63 | NA | NA | 27.53 | 27.79 | 090
27217 |  | A | Treat pelvic ring fracture | 14.57 | NA | NA | 8.70 | 9.78 | 2.41 | NA | NA | 25.68 | 26.76 | 090
27218 |  | A | Treat pelvic ring fracture | 20.85 | NA | NA | 11.41 | 11.40 | 3.48 | NA | NA | 35.74 | 35.73 | 090
27220 |  | A | Treat hip socket fracture | 6.65 | 5.28 | 5.61 | 5.18 | 5.52 | 1.07 | 13.00 | 13.33 | 12.90 | 13.24 | 090
27222 |  | A | Treat hip socket fracture | 13.88 | NA | NA | 8.50 | 9.60 | 2.19 | NA | NA | 24.57 | 25.67 | 090
27226 |  | A | Treat hip wall fracture | 15.37 | NA | NA | 9.00 | 8.11 | 2.48 | NA | NA | 26.85 | 25.96 | 090
27227 |  | A | Treat hip fracture(s) | 25.13 | NA | NA | 13.44 | 14.91 | 4.05 | NA | NA | 42.62 | 44.09 | 090
27228 |  | A | Treat hip fracture(s) | 29.05 | NA | NA | 15.03 | 16.97 | 4.66 | NA | NA | 48.74 | 50.68 | 090
27230 |  | A | Treat thigh fracture | 5.61 | 4.98 | 5.38 | 4.91 | 5.05 | 0.95 | 11.54 | 11.94 | 11.47 | 11.61 | 090
27232 |  | A | Treat thigh fracture | 11.62 | NA | NA | 6.00 | 6.88 | 1.85 | NA | NA | 19.47 | 20.35 | 090
27235 |  | A | Treat thigh fracture | 12.80 | NA | NA | 8.05 | 9.10 | 2.11 | NA | NA | 22.96 | 24.01 | 090
27236 |  | A | Treat thigh fracture | 14.54 | NA | NA | 9.10 | 10.56 | 2.71 | NA | NA | 26.35 | 27.81 | 090
27238 |  | A | Treat thigh fracture | 5.57 | NA | NA | 4.69 | 5.03 | 0.89 | NA | NA | 11.15 | 11.49 | 090
27240 |  | A | Treat thigh fracture | 13.56 | NA | NA | 8.10 | 9.13 | 2.16 | NA | NA | 23.82 | 24.85 | 090
27244 |  | A | Treat thigh fracture | 17.00 | NA | NA | 9.71 | 10.90 | 2.77 | NA | NA | 29.48 | 30.67 | 090
27245 |  | A | Treat thigh fracture | 21.01 | NA | NA | 11.46 | 13.17 | 3.52 | NA | NA | 35.99 | 37.70 | 090
27246 |  | A | Treat thigh fracture | 4.70 | 3.93 | 4.33 | 3.97 | 4.31 | 0.81 | 9.44 | 9.84 | 9.48 | 9.82 | 090
27248 |  | A | Treat thigh fracture | 10.73 | NA | NA | 7.01 | 7.91 | 1.81 | NA | NA | 19.55 | 20.45 | 090
27250 |  | A | Treat hip dislocation | 7.12 | NA | NA | 4.27 | 4.53 | 0.62 | NA | NA | 12.01 | 12.27 | 090
27252 |  | A | Treat hip dislocation | 10.85 | NA | NA | 6.52 | 7.20 | 1.66 | NA | NA | 19.03 | 19.71 | 090
27253 |  | A | Treat hip dislocation | 13.38 | NA | NA | 8.26 | 9.40 | 2.24 | NA | NA | 23.88 | 25.02 | 090
27254 |  | A | Treat hip dislocation | 18.71 | NA | NA | 10.56 | 11.66 | 3.17 | NA | NA | 32.44 | 33.54 | 090
27256 |  | A | Treat hip dislocation | 4.23 | 2.39 | 3.24 | 1.39 | 1.91 | 0.46 | 7.08 | 7.93 | 6.08 | 6.60 | 010
27257 |  | A | Treat hip dislocation | 5.33 | NA | NA | 2.57 | 2.75 | 0.69 | NA | NA | 8.59 | 8.77 | 010
27258 |  | A | Treat hip dislocation | 15.95 | NA | NA | 9.45 | 10.52 | 2.64 | NA | NA | 28.04 | 29.11 | 090
27259 |  | A | Treat hip dislocation | 22.95 | NA | NA | 12.91 | 13.82 | 3.74 | NA | NA | 39.60 | 40.51 | 090
27265 |  | A | Treat hip dislocation | 5.04 | NA | NA | 3.98 | 4.59 | 0.63 | NA | NA | 9.65 | 10.26 | 090
27266 |  | A | Treat hip dislocation | 7.60 | NA | NA | 5.55 | 6.14 | 1.29 | NA | NA | 14.44 | 15.03 | 090
27275 |  | A | Manipulation of hip joint | 2.27 | NA | NA | 1.89 | 2.05 | 0.39 | NA | NA | 4.55 | 4.71 | 010
27280 |  | A | Fusion of sacroiliac joint | 14.39 | NA | NA | 9.05 | 9.96 | 2.53 | NA | NA | 25.97 | 26.88 | 090
27282 |  | A | Fusion of pubic bones | 11.62 | NA | NA | 7.83 | 7.96 | 1.86 | NA | NA | 21.31 | 21.44 | 090
27284 |  | A | Fusion of hip joint | 24.85 | NA | NA | 12.86 | 14.29 | 3.92 | NA | NA | 41.63 | 43.06 | 090
27286 |  | A | Fusion of hip joint | 24.89 | NA | NA | 13.47 | 15.21 | 3.12 | NA | NA | 41.48 | 43.22 | 090
27290 |  | A | Amputation of leg at hip | 24.27 | NA | NA | 12.53 | 13.68 | 3.43 | NA | NA | 40.23 | 41.38 | 090
27295 |  | A | Amputation of leg at hip | 19.46 | NA | NA | 9.79 | 10.93 | 2.95 | NA | NA | 32.20 | 33.34 | 090
27299 |  | C | Pelvis/hip joint surgery | 0.00 | 0.00 | 0.00 | 0.00 | 0.00 | 0.00 | 0.00 | 0.00 | 0.00 | 0.00 | YYY
27301 |  | A | Drain thigh/knee lesion | 6.60 | 8.23 | 9.61 | 4.66 | 5.02 | 1.04 | 15.87 | 17.25 | 12.30 | 12.66 | 090
27303 |  | A | Drainage of bone lesion | 8.45 | NA | NA | 6.07 | 6.75 | 1.43 | NA | NA | 15.95 | 16.63 | 090
27305 |  | A | Incise thigh tendon & fascia | 6.03 | NA | NA | 4.63 | 5.04 | 1.01 | NA | NA | 11.67 | 12.08 | 090
27306 |  | A | Incision of thigh tendon | 4.61 | NA | NA | 4.07 | 4.56 | 0.85 | NA | NA | 9.53 | 10.02 | 090
27307 |  | A | Incision of thigh tendons | 5.91 | NA | NA | 4.81 | 5.24 | 1.04 | NA | NA | 11.76 | 12.19 | 090
27310 |  | A | Exploration of knee joint | 9.80 | NA | NA | 6.83 | 7.39 | 1.61 | NA | NA | 18.24 | 18.80 | 090
27315 |  | A | Partial removal, thigh nerve | 7.02 | NA | NA | 5.44 | 5.07 | 1.09 | NA | NA | 13.55 | 13.18 | 090
27320 |  | A | Partial removal, thigh nerve | 6.29 | NA | NA | 4.75 | 5.11 | 1.06 | NA | NA | 12.10 | 12.46 | 090
27323 |  | A | Biopsy, thigh soft tissues | 2.28 | 4.09 | 3.66 | 1.87 | 1.88 | 0.24 | 6.61 | 6.18 | 4.39 | 4.40 | 010
27324 |  | A | Biopsy, thigh soft tissues | 4.89 | NA | NA | 3.85 | 4.10 | 0.75 | NA | NA | 9.49 | 9.74 | 090
27327 |  | A | Removal of thigh lesion | 4.46 | 6.08 | 6.01 | 3.61 | 3.69 | 0.64 | 11.18 | 11.11 | 8.71 | 8.79 | 090
27328 |  | A | Removal of thigh lesion | 5.56 | NA | NA | 4.07 | 4.30 | 0.84 | NA | NA | 10.47 | 10.70 | 090
27329 |  | A | Remove tumor, thigh/knee | 15.60 | NA | NA | 8.58 | 8.91 | 2.14 | NA | NA | 26.32 | 26.65 | 090
27330 |  | A | Biopsy, knee joint lining | 4.96 | NA | NA | 4.12 | 4.46 | 0.86 | NA | NA | 9.94 | 10.28 | 090
27331 |  | A | Explore/treat knee joint | 5.87 | NA | NA | 4.84 | 5.35 | 1.02 | NA | NA | 11.73 | 12.24 | 090
27332 |  | A | Removal of knee cartilage | 8.26 | NA | NA | 6.15 | 6.88 | 1.43 | NA | NA | 15.84 | 16.57 | 090
27333 |  | A | Removal of knee cartilage | 7.35 | NA | NA | 5.73 | 6.44 | 1.26 | NA | NA | 14.34 | 15.05 | 090
27334 |  | A | Remove knee joint lining | 8.99 | NA | NA | 6.49 | 7.18 | 1.51 | NA | NA | 16.99 | 17.68 | 090
27335 |  | A | Remove knee joint lining | 10.35 | NA | NA | 7.06 | 7.93 | 1.74 | NA | NA | 19.15 | 20.02 | 090
27340 |  | A | Removal of kneecap bursa | 4.17 | NA | NA | 4.05 | 4.43 | 0.72 | NA | NA | 8.94 | 9.32 | 090
27345 |  | A | Removal of knee cyst | 5.91 | NA | NA | 4.89 | 5.44 | 1.00 | NA | NA | 11.80 | 12.35 | 090
27347 |  | A | Remove knee cyst | 6.52 | NA | NA | 5.26 | 5.38 | 0.98 | NA | NA | 12.76 | 12.88 | 090
27350 |  | A | Removal of kneecap | 8.46 | NA | NA | 6.29 | 7.00 | 1.41 | NA | NA | 16.16 | 16.87 | 090
27355 |  | A | Remove femur lesion | 7.82 | NA | NA | 5.87 | 6.55 | 1.32 | NA | NA | 15.01 | 15.69 | 090
27356 |  | A | Remove femur lesion/graft | 9.89 | NA | NA | 6.86 | 7.60 | 1.65 | NA | NA | 18.40 | 19.14 | 090
27357 |  | A | Remove femur lesion/graft | 10.93 | NA | NA | 7.54 | 8.41 | 1.95 | NA | NA | 20.42 | 21.29 | 090
27358 |  | A | Remove femur lesion/fixation | 4.73 | NA | NA | 1.90 | 2.37 | 0.82 | NA | NA | 7.45 | 7.92 | ZZZ
27360 |  | A | Partial removal, leg bone(s) | 11.26 | NA | NA | 8.13 | 9.20 | 1.83 | NA | NA | 21.22 | 22.29 | 090
27365 |  | A | Extensive leg surgery | 17.85 | NA | NA | 10.52 | 11.39 | 2.79 | NA | NA | 31.16 | 32.03 | 090
27370 |  | A | Injection for knee x-ray | 0.96 | 2.82 | 3.50 | 0.33 | 0.32 | 0.08 | 3.86 | 4.54 | 1.37 | 1.36 | 000
27372 |  | A | Removal of foreign body | 5.06 | 8.34 | 9.62 | 4.05 | 4.53 | 0.84 | 14.24 | 15.52 | 9.95 | 10.43 | 090
27380 |  | A | Repair of kneecap tendon | 7.27 | NA | NA | 6.08 | 6.98 | 1.24 | NA | NA | 14.59 | 15.49 | 090
27381 |  | A | Repair/graft kneecap tendon | 10.56 | NA | NA | 7.56 | 8.71 | 1.79 | NA | NA | 19.91 | 21.06 | 090
27385 |  | A | Repair of thigh muscle | 7.93 | NA | NA | 6.36 | 7.31 | 1.36 | NA | NA | 15.65 | 16.60 | 090
27386 |  | A | Repair/graft of thigh muscle | 10.90 | NA | NA | 7.98 | 9.13 | 1.85 | NA | NA | 20.73 | 21.88 | 090
27390 |  | A | Incision of thigh tendon | 5.38 | NA | NA | 4.57 | 4.98 | 0.92 | NA | NA | 10.87 | 11.28 | 090
27391 |  | A | Incision of thigh tendons | 7.31 | NA | NA | 5.52 | 6.30 | 1.23 | NA | NA | 14.06 | 14.84 | 090
27392 |  | A | Incision of thigh tendons | 9.43 | NA | NA | 6.72 | 7.37 | 1.57 | NA | NA | 17.72 | 18.37 | 090
27393 |  | A | Lengthening of thigh tendon | 6.44 | NA | NA | 5.01 | 5.63 | 1.10 | NA | NA | 12.55 | 13.17 | 090
27394 |  | A | Lengthening of thigh tendons | 8.61 | NA | NA | 6.19 | 6.96 | 1.47 | NA | NA | 16.27 | 17.04 | 090
27395 |  | A | Lengthening of thigh tendons | 12.01 | NA | NA | 7.99 | 8.99 | 2.04 | NA | NA | 22.04 | 23.04 | 090
27396 |  | A | Transplant of thigh tendon | 7.97 | NA | NA | 5.93 | 6.73 | 1.34 | NA | NA | 15.24 | 16.04 | 090
27397 |  | A | Transplants of thigh tendons | 12.38 | NA | NA | 8.42 | 8.89 | 1.82 | NA | NA | 22.62 | 23.09 | 090
27400 |  | A | Revise thigh muscles/tendons | 9.13 | NA | NA | 6.17 | 6.98 | 1.31 | NA | NA | 16.61 | 17.42 | 090
27403 |  | A | Repair of knee cartilage | 8.44 | NA | NA | 6.09 | 6.91 | 1.44 | NA | NA | 15.97 | 16.79 | 090
27405 |  | A | Repair of knee ligament | 8.88 | NA | NA | 6.44 | 7.23 | 1.51 | NA | NA | 16.83 | 17.62 | 090
27407 |  | A | Repair of knee ligament | 10.62 | NA | NA | 6.67 | 7.91 | 1.78 | NA | NA | 19.07 | 20.31 | 090
27409 |  | A | Repair of knee ligaments | 13.48 | NA | NA | 8.44 | 9.57 | 2.24 | NA | NA | 24.16 | 25.29 | 090
27412 |  | A | Autochondrocyte implant knee | 24.43 | NA | NA | 13.66 | 14.52 | 4.35 | NA | NA | 42.44 | 43.30 | 090
27415 |  | A | Osteochondral knee allograft | 19.69 | NA | NA | 11.86 | 12.38 | 4.35 | NA | NA | 35.90 | 36.42 | 090
27418 |  | A | Repair degenerated kneecap | 11.37 | NA | NA | 7.61 | 8.58 | 1.88 | NA | NA | 20.86 | 21.83 | 090
27420 |  | A | Revision of unstable kneecap | 10.06 | NA | NA | 6.96 | 7.82 | 1.71 | NA | NA | 18.73 | 19.59 | 090
27422 |  | A | Revision of unstable kneecap | 10.01 | NA | NA | 6.91 | 7.82 | 1.70 | NA | NA | 18.62 | 19.53 | 090
27424 |  | A | Revision/removal of kneecap | 10.04 | NA | NA | 6.92 | 7.80 | 1.70 | NA | NA | 18.66 | 19.54 | 090
27425 |  | A | Lat retinacular release open | 5.21 | NA | NA | 4.71 | 5.32 | 0.90 | NA | NA | 10.82 | 11.43 | 090
27427 |  | A | Reconstruction, knee | 9.59 | NA | NA | 6.70 | 7.53 | 1.63 | NA | NA | 17.92 | 18.75 | 090
27428 |  | A | Reconstruction, knee | 15.23 | NA | NA | 10.13 | 10.96 | 2.42 | NA | NA | 27.78 | 28.61 | 090
27429 |  | A | Reconstruction, knee | 17.12 | NA | NA | 11.33 | 12.14 | 2.70 | NA | NA | 31.15 | 31.96 | 090
27430 |  | A | Revision of thigh muscles | 9.96 | NA | NA | 6.89 | 7.72 | 1.69 | NA | NA | 18.54 | 19.37 | 090
27435 |  | A | Incision of knee joint | 10.60 | NA | NA | 7.69 | 8.28 | 1.69 | NA | NA | 19.98 | 20.57 | 090
27437 |  | A | Revise kneecap | 8.75 | NA | NA | 6.24 | 6.99 | 1.49 | NA | NA | 16.48 | 17.23 | 090
27438 |  | A | Revise kneecap with implant | 11.69 | NA | NA | 7.57 | 8.30 | 1.95 | NA | NA | 21.21 | 21.94 | 090
27440 |  | A | Revision of knee joint | 10.89 | NA | NA | 7.16 | 6.28 | 1.81 | NA | NA | 19.86 | 18.98 | 090
27441 |  | A | Revision of knee joint | 11.34 | NA | NA | 7.50 | 6.91 | 1.88 | NA | NA | 20.72 | 20.13 | 090
27442 |  | A | Revision of knee joint | 12.17 | NA | NA | 7.78 | 8.63 | 2.09 | NA | NA | 22.04 | 22.89 | 090
27443 |  | A | Revision of knee joint | 11.21 | NA | NA | 7.40 | 8.39 | 1.90 | NA | NA | 20.51 | 21.50 | 090
27445 |  | A | Revision of knee joint | 18.43 | NA | NA | 10.53 | 11.90 | 3.08 | NA | NA | 32.04 | 33.41 | 090
27446 |  | A | Revision of knee joint | 16.18 | NA | NA | 9.37 | 10.80 | 2.80 | NA | NA | 28.35 | 29.78 | 090
27447 |  | A | Total knee arthroplasty | 20.81 | NA | NA | 11.84 | 13.91 | 3.79 | NA | NA | 36.44 | 38.51 | 090
27448 |  | A | Incision of thigh | 11.40 | NA | NA | 7.43 | 8.31 | 1.94 | NA | NA | 20.77 | 21.65 | 090
27450 |  | A | Incision of thigh | 14.38 | NA | NA | 8.85 | 10.15 | 2.42 | NA | NA | 25.65 | 26.95 | 090
27454 |  | A | Realignment of thigh bone | 18.89 | NA | NA | 10.74 | 12.06 | 3.12 | NA | NA | 32.75 | 34.07 | 090
27455 |  | A | Realignment of knee | 13.16 | NA | NA | 8.40 | 9.51 | 2.24 | NA | NA | 23.80 | 24.91 | 090
27457 |  | A | Realignment of knee | 13.85 | NA | NA | 8.26 | 9.51 | 2.34 | NA | NA | 24.45 | 25.70 | 090
27465 |  | A | Shortening of thigh bone | 18.36 | NA | NA | 10.30 | 10.24 | 2.47 | NA | NA | 31.13 | 31.07 | 090
27466 |  | A | Lengthening of thigh bone | 17.03 | NA | NA | 10.15 | 11.41 | 2.77 | NA | NA | 29.95 | 31.21 | 090
27468 |  | A | Shorten/lengthen thighs | 19.72 | NA | NA | 11.28 | 12.08 | 3.30 | NA | NA | 34.30 | 35.10 | 090
27470 |  | A | Repair of thigh | 16.87 | NA | NA | 10.22 | 11.40 | 2.79 | NA | NA | 29.88 | 31.06 | 090
27472 |  | A | Repair/graft of thigh | 18.47 | NA | NA | 10.72 | 12.19 | 3.07 | NA | NA | 32.26 | 33.73 | 090
27475 |  | A | Surgery to stop leg growth | 8.75 | NA | NA | 6.65 | 7.07 | 1.36 | NA | NA | 16.76 | 17.18 | 090
27477 |  | A | Surgery to stop leg growth | 9.96 | NA | NA | 6.65 | 7.46 | 1.73 | NA | NA | 18.34 | 19.15 | 090
27479 |  | A | Surgery to stop leg growth | 12.96 | NA | NA | 5.11 | 8.51 | 2.78 | NA | NA | 20.85 | 24.25 | 090
27485 |  | A | Surgery to stop leg growth | 8.95 | NA | NA | 6.24 | 7.11 | 1.53 | NA | NA | 16.72 | 17.59 | 090
27486 |  | A | Revise/replace knee joint | 20.84 | NA | NA | 11.74 | 13.05 | 3.36 | NA | NA | 35.94 | 37.25 | 090
27487 |  | A | Revise/replace knee joint | 26.83 | NA | NA | 14.14 | 15.95 | 4.39 | NA | NA | 45.36 | 47.17 | 090
27488 |  | A | Removal of knee prosthesis | 17.32 | NA | NA | 10.34 | 11.36 | 2.74 | NA | NA | 30.40 | 31.42 | 090
27495 |  | A | Reinforce thigh | 16.31 | NA | NA | 9.70 | 10.98 | 2.71 | NA | NA | 28.72 | 30.00 | 090
27496 |  | A | Decompression of thigh/knee | 6.58 | NA | NA | 5.02 | 5.46 | 0.99 | NA | NA | 12.59 | 13.03 | 090
27497 |  | A | Decompression of thigh/knee | 7.64 | NA | NA | 4.68 | 5.24 | 1.15 | NA | NA | 13.47 | 14.03 | 090
27498 |  | A | Decompression of thigh/knee | 8.46 | NA | NA | 5.37 | 5.81 | 1.24 | NA | NA | 15.07 | 15.51 | 090
27499 |  | A | Decompression of thigh/knee | 9.23 | NA | NA | 5.83 | 6.57 | 1.47 | NA | NA | 16.53 | 17.27 | 090
27500 |  | A | Treatment of thigh fracture | 6.15 | 5.44 | 5.95 | 4.65 | 4.91 | 1.02 | 12.61 | 13.12 | 11.82 | 12.08 | 090
27501 |  | A | Treatment of thigh fracture | 6.28 | 5.04 | 5.60 | 4.95 | 5.27 | 1.03 | 12.35 | 12.91 | 12.26 | 12.58 | 090
27502 |  | A | Treatment of thigh fracture | 11.16 | NA | NA | 6.92 | 7.81 | 1.78 | NA | NA | 19.86 | 20.75 | 090
27503 |  | A | Treatment of thigh fracture | 11.05 | NA | NA | 7.26 | 8.03 | 1.84 | NA | NA | 20.15 | 20.92 | 090
27506 |  | A | Treatment of thigh fracture | 19.33 | NA | NA | 11.21 | 12.39 | 3.03 | NA | NA | 33.57 | 34.75 | 090
27507 |  | A | Treatment of thigh fracture | 14.33 | NA | NA | 8.20 | 9.43 | 2.42 | NA | NA | 24.95 | 26.18 | 090
27508 |  | A | Treatment of thigh fracture | 6.00 | 5.71 | 6.27 | 5.07 | 5.38 | 0.97 | 12.68 | 13.24 | 12.04 | 12.35 | 090
27509 |  | A | Treatment of thigh fracture | 7.94 | NA | NA | 6.57 | 7.61 | 1.34 | NA | NA | 15.85 | 16.89 | 090
27510 |  | A | Treatment of thigh fracture | 9.60 | NA | NA | 6.34 | 7.08 | 1.53 | NA | NA | 17.47 | 18.21 | 090
27511 |  | A | Treatment of thigh fracture | 13.86 | NA | NA | 9.11 | 10.68 | 2.37 | NA | NA | 25.34 | 26.91 | 090
27513 |  | A | Treatment of thigh fracture | 19.37 | NA | NA | 11.85 | 13.37 | 3.12 | NA | NA | 34.34 | 35.86 | 090
27514 |  | A | Treatment of thigh fracture | 19.00 | NA | NA | 11.98 | 13.01 | 3.00 | NA | NA | 33.98 | 35.01 | 090
27516 |  | A | Treat thigh fx growth plate | 5.36 | 5.69 | 6.19 | 5.05 | 5.40 | 0.81 | 11.86 | 12.36 | 11.22 | 11.57 | 090
27517 |  | A | Treat thigh fx growth plate | 8.89 | NA | NA | 6.04 | 7.10 | 1.22 | NA | NA | 16.15 | 17.21 | 090
27519 |  | A | Treat thigh fx growth plate | 15.72 | NA | NA | 9.88 | 11.16 | 2.55 | NA | NA | 28.15 | 29.43 | 090
27520 |  | A | Treat kneecap fracture | 2.86 | 4.11 | 4.43 | 3.53 | 3.46 | 0.47 | 7.44 | 7.76 | 6.86 | 6.79 | 090
27524 |  | A | Treat kneecap fracture | 10.17 | NA | NA | 6.98 | 7.92 | 1.74 | NA | NA | 18.89 | 19.83 | 090
27530 |  | A | Treat knee fracture | 3.89 | 4.83 | 5.19 | 4.27 | 4.38 | 0.65 | 9.37 | 9.73 | 8.81 | 8.92 | 090
27532 |  | A | Treat knee fracture | 7.35 | 6.45 | 7.13 | 5.67 | 6.26 | 1.26 | 15.06 | 15.74 | 14.28 | 14.87 | 090
27535 |  | A | Treat knee fracture | 11.72 | NA | NA | 8.26 | 9.65 | 2.00 | NA | NA | 21.98 | 23.37 | 090
27536 |  | A | Treat knee fracture | 17.11 | NA | NA | 10.29 | 11.28 | 2.73 | NA | NA | 30.13 | 31.12 | 090
27538 |  | A | Treat knee fracture(s) | 4.86 | 5.54 | 5.98 | 4.92 | 5.12 | 0.84 | 11.24 | 11.68 | 10.62 | 10.82 | 090
27540 |  | A | Treat knee fracture | 13.38 | NA | NA | 8.02 | 9.14 | 2.27 | NA | NA | 23.67 | 24.79 | 090
27550 |  | A | Treat knee dislocation | 5.75 | 5.31 | 5.84 | 4.59 | 4.85 | 0.76 | 11.82 | 12.35 | 11.10 | 11.36 | 090
27552 |  | A | Treat knee dislocation | 7.95 | NA | NA | 6.12 | 6.74 | 1.36 | NA | NA | 15.43 | 16.05 | 090
27556 |  | A | Treat knee dislocation | 14.87 | NA | NA | 9.31 | 11.07 | 2.50 | NA | NA | 26.68 | 28.44 | 090
27557 |  | A | Treat knee dislocation | 17.22 | NA | NA | 10.58 | 12.49 | 2.97 | NA | NA | 30.77 | 32.68 | 090
27558 |  | A | Treat knee dislocation | 17.93 | NA | NA | 10.62 | 12.44 | 3.08 | NA | NA | 31.63 | 33.45 | 090
27560 |  | A | Treat kneecap dislocation | 3.81 | 3.93 | 4.61 | 3.41 | 3.24 | 0.40 | 8.14 | 8.82 | 7.62 | 7.45 | 090
27562 |  | A | Treat kneecap dislocation | 5.78 | NA | NA | 4.45 | 4.69 | 0.94 | NA | NA | 11.17 | 11.41 | 090
27566 |  | A | Treat kneecap dislocation | 12.51 | NA | NA | 7.85 | 8.95 | 2.12 | NA | NA | 22.48 | 23.58 | 090
27570 |  | A | Fixation of knee joint | 1.74 | NA | NA | 1.62 | 1.73 | 0.30 | NA | NA | 3.66 | 3.77 | 010
27580 |  | A | Fusion of knee | 20.82 | NA | NA | 12.34 | 14.19 | 3.37 | NA | NA | 36.53 | 38.38 | 090
27590 |  | A | Amputate leg at thigh | 13.27 | NA | NA | 6.14 | 6.54 | 1.74 | NA | NA | 21.15 | 21.55 | 090
27591 |  | A | Amputate leg at thigh | 13.74 | NA | NA | 7.43 | 8.34 | 2.02 | NA | NA | 23.19 | 24.10 | 090
27592 |  | A | Amputate leg at thigh | 10.78 | NA | NA | 5.50 | 6.00 | 1.45 | NA | NA | 17.73 | 18.23 | 090
27594 |  | A | Amputation follow-up surgery | 7.09 | NA | NA | 4.76 | 5.07 | 1.02 | NA | NA | 12.87 | 13.18 | 090
27596 |  | A | Amputation follow-up surgery | 11.06 | NA | NA | 6.06 | 6.62 | 1.57 | NA | NA | 18.69 | 19.25 | 090
27598 |  | A | Amputate lower leg at knee | 10.99 | NA | NA | 6.34 | 6.85 | 1.65 | NA | NA | 18.98 | 19.49 | 090
27599 |  | C | Leg surgery procedure | 0.00 | 0.00 | 0.00 | 0.00 | 0.00 | 0.00 | 0.00 | 0.00 | 0.00 | 0.00 | YYY
27600 |  | A | Decompression of lower leg | 5.88 | NA | NA | 3.85 | 4.36 | 0.86 | NA | NA | 10.59 | 11.10 | 090
27601 |  | A | Decompression of lower leg | 5.87 | NA | NA | 4.26 | 4.70 | 0.80 | NA | NA | 10.93 | 11.37 | 090
27602 |  | A | Decompression of lower leg | 7.64 | NA | NA | 4.39 | 4.95 | 1.10 | NA | NA | 13.13 | 13.69 | 090
27603 |  | A | Drain lower leg lesion | 5.05 | 7.05 | 7.38 | 3.90 | 4.10 | 0.74 | 12.84 | 13.17 | 9.69 | 9.89 | 090
27604 |  | A | Drain lower leg bursa | 4.46 | 6.47 | 6.18 | 3.42 | 3.83 | 0.69 | 11.62 | 11.33 | 8.57 | 8.98 | 090
27605 |  | A | Incision of achilles tendon | 2.87 | 5.28 | 7.08 | 1.78 | 2.19 | 0.41 | 8.56 | 10.36 | 5.06 | 5.47 | 010
27606 |  | A | Incision of achilles tendon | 4.13 | NA | NA | 2.67 | 3.19 | 0.69 | NA | NA | 7.49 | 8.01 | 010
27607 |  | A | Treat lower leg bone lesion | 8.44 | NA | NA | 5.76 | 6.07 | 1.31 | NA | NA | 15.51 | 15.82 | 090
27610 |  | A | Explore/treat ankle joint | 8.93 | NA | NA | 6.17 | 6.79 | 1.40 | NA | NA | 16.50 | 17.12 | 090
27612 |  | A | Exploration of ankle joint | 7.92 | NA | NA | 5.35 | 5.91 | 1.13 | NA | NA | 14.40 | 14.96 | 090
27613 |  | A | Biopsy lower leg soft tissue | 2.17 | 3.81 | 3.38 | 1.72 | 1.78 | 0.20 | 6.18 | 5.75 | 4.09 | 4.15 | 010
27614 |  | A | Biopsy lower leg soft tissue | 5.65 | 7.88 | 7.32 | 4.00 | 4.33 | 0.78 | 14.31 | 13.75 | 10.43 | 10.76 | 090
27615 |  | A | Remove tumor, lower leg | 12.84 | NA | NA | 8.04 | 9.05 | 1.83 | NA | NA | 22.71 | 23.72 | 090
27618 |  | A | Remove lower leg lesion | 5.08 | 6.40 | 6.11 | 3.77 | 3.94 | 0.72 | 12.20 | 11.91 | 9.57 | 9.74 | 090
27619 |  | A | Remove lower leg lesion | 8.39 | 10.08 | 9.65 | 5.29 | 5.79 | 1.25 | 19.72 | 19.29 | 14.93 | 15.43 | 090
27620 |  | A | Explore/treat ankle joint | 5.97 | NA | NA | 4.61 | 5.25 | 0.97 | NA | NA | 11.55 | 12.19 | 090
27625 |  | A | Remove ankle joint lining | 8.29 | NA | NA | 5.59 | 6.24 | 1.28 | NA | NA | 15.16 | 15.81 | 090
27626 |  | A | Remove ankle joint lining | 8.90 | NA | NA | 5.95 | 6.68 | 1.48 | NA | NA | 16.33 | 17.06 | 090
27630 |  | A | Removal of tendon lesion | 4.79 | 7.98 | 7.67 | 3.80 | 4.24 | 0.74 | 13.51 | 13.20 | 9.33 | 9.77 | 090
27635 |  | A | Remove lower leg bone lesion | 7.83 | NA | NA | 5.67 | 6.47 | 1.31 | NA | NA | 14.81 | 15.61 | 090
27637 |  | A | Remove/graft leg bone lesion | 10.08 | NA | NA | 7.16 | 8.01 | 1.66 | NA | NA | 18.90 | 19.75 | 090
27638 |  | A | Remove/graft leg bone lesion | 10.79 | NA | NA | 6.98 | 7.96 | 1.84 | NA | NA | 19.61 | 20.59 | 090
27640 |  | A | Partial removal of tibia | 12.01 | NA | NA | 8.19 | 9.78 | 1.88 | NA | NA | 22.08 | 23.67 | 090
27641 |  | A | Partial removal of fibula | 9.65 | NA | NA | 6.78 | 7.95 | 1.46 | NA | NA | 17.89 | 19.06 | 090
27645 |  | A | Extensive lower leg surgery | 14.69 | NA | NA | 9.51 | 11.42 | 2.41 | NA | NA | 26.61 | 28.52 | 090
27646 |  | A | Extensive lower leg surgery | 13.12 | NA | NA | 8.41 | 10.38 | 2.05 | NA | NA | 23.58 | 25.55 | 090
27647 |  | A | Extensive ankle/heel surgery | 12.76 | NA | NA | 6.61 | 7.36 | 1.75 | NA | NA | 21.12 | 21.87 | 090
27648 |  | A | Injection for ankle x-ray | 0.96 | 2.71 | 3.32 | 0.31 | 0.33 | 0.08 | 3.75 | 4.36 | 1.35 | 1.37 | 000
27650 |  | A | Repair achilles tendon | 9.86 | NA | NA | 6.30 | 7.21 | 1.59 | NA | NA | 17.75 | 18.66 | 090
27652 |  | A | Repair/graft achilles tendon | 10.55 | NA | NA | 6.45 | 7.64 | 1.71 | NA | NA | 18.71 | 19.90 | 090
27654 |  | A | Repair of achilles tendon | 10.24 | NA | NA | 5.96 | 6.85 | 1.58 | NA | NA | 17.78 | 18.67 | 090
27656 |  | A | Repair leg fascia defect | 4.56 | 8.06 | 8.41 | 3.65 | 3.74 | 0.69 | 13.31 | 13.66 | 8.90 | 8.99 | 090
27658 |  | A | Repair of leg tendon, each | 4.97 | NA | NA | 3.91 | 4.40 | 0.79 | NA | NA | 9.67 | 10.16 | 090
27659 |  | A | Repair of leg tendon, each | 6.92 | NA | NA | 4.87 | 5.45 | 1.09 | NA | NA | 12.88 | 13.46 | 090
27664 |  | A | Repair of leg tendon, each | 4.58 | NA | NA | 3.95 | 4.40 | 0.76 | NA | NA | 9.29 | 9.74 | 090
27665 |  | A | Repair of leg tendon, each | 5.39 | NA | NA | 4.50 | 4.85 | 0.89 | NA | NA | 10.78 | 11.13 | 090
27675 |  | A | Repair lower leg tendons | 7.17 | NA | NA | 4.75 | 5.49 | 1.11 | NA | NA | 13.03 | 13.77 | 090
27676 |  | A | Repair lower leg tendons | 8.53 | NA | NA | 5.79 | 6.51 | 1.37 | NA | NA | 15.69 | 16.41 | 090
27680 |  | A | Release of lower leg tendon | 5.73 | NA | NA | 4.37 | 4.93 | 0.93 | NA | NA | 11.03 | 11.59 | 090
27681 |  | A | Release of lower leg tendons | 6.87 | NA | NA | 4.77 | 5.63 | 1.15 | NA | NA | 12.79 | 13.65 | 090
27685 |  | A | Revision of lower leg tendon | 6.49 | 8.82 | 7.67 | 4.59 | 5.24 | 0.97 | 16.28 | 15.13 | 12.05 | 12.70 | 090
27686 |  | A | Revise lower leg tendons | 7.57 | NA | NA | 5.38 | 6.21 | 1.24 | NA | NA | 14.19 | 15.02 | 090
27687 |  | A | Revision of calf tendon | 6.23 | NA | NA | 4.54 | 5.12 | 1.00 | NA | NA | 11.77 | 12.35 | 090
27690 |  | A | Revise lower leg tendon | 8.88 | NA | NA | 5.47 | 6.13 | 1.33 | NA | NA | 15.68 | 16.34 | 090
27691 |  | A | Revise lower leg tendon | 10.19 | NA | NA | 6.72 | 7.50 | 1.64 | NA | NA | 18.55 | 19.33 | 090
27692 |  | A | Revise additional leg tendon | 1.87 | NA | NA | 0.73 | 0.88 | 0.32 | NA | NA | 2.92 | 3.07 | ZZZ
27695 |  | A | Repair of ankle ligament | 6.50 | NA | NA | 5.00 | 5.65 | 1.05 | NA | NA | 12.55 | 13.20 | 090
27696 |  | A | Repair of ankle ligaments | 8.38 | NA | NA | 5.39 | 6.17 | 1.28 | NA | NA | 15.05 | 15.83 | 090
27698 |  | A | Repair of ankle ligament | 9.41 | NA | NA | 5.93 | 6.69 | 1.47 | NA | NA | 16.81 | 17.57 | 090
27700 |  | A | Revision of ankle joint | 9.46 | NA | NA | 5.14 | 5.55 | 1.30 | NA | NA | 15.90 | 16.31 | 090
27702 |  | A | Reconstruct ankle joint | 14.19 | NA | NA | 8.73 | 10.03 | 2.37 | NA | NA | 25.29 | 26.59 | 090
27703 |  | A | Reconstruction, ankle joint | 16.69 | NA | NA | 9.89 | 10.90 | 2.76 | NA | NA | 29.34 | 30.35 | 090
27704 |  | A | Removal of ankle implant | 7.61 | NA | NA | 5.70 | 5.62 | 1.27 | NA | NA | 14.58 | 14.50 | 090
27705 |  | A | Incision of tibia | 10.66 | NA | NA | 6.91 | 7.86 | 1.80 | NA | NA | 19.37 | 20.32 | 090
27707 |  | A | Incision of fibula | 4.60 | NA | NA | 4.50 | 4.83 | 0.76 | NA | NA | 9.86 | 10.19 | 090
27709 |  | A | Incision of tibia & fibula | 17.24 | NA | NA | 9.94 | 8.58 | 1.73 | NA | NA | 28.91 | 27.55 | 090
27712 |  | A | Realignment of lower leg | 15.59 | NA | NA | 9.18 | 10.35 | 2.47 | NA | NA | 27.24 | 28.41 | 090
27715 |  | A | Revision of lower leg | 15.27 | NA | NA | 9.07 | 10.35 | 2.49 | NA | NA | 26.83 | 28.11 | 090
27720 |  | A | Repair of tibia | 12.13 | NA | NA | 7.97 | 9.04 | 2.04 | NA | NA | 22.14 | 23.21 | 090
27722 |  | A | Repair/graft of tibia | 12.22 | NA | NA | 8.07 | 8.87 | 2.05 | NA | NA | 22.34 | 23.14 | 090
27724 |  | A | Repair/graft of tibia | 19.12 | NA | NA | 10.34 | 11.86 | 3.16 | NA | NA | 32.62 | 34.14 | 090
27725 |  | A | Repair of lower leg | 17.07 | NA | NA | 10.61 | 11.59 | 2.71 | NA | NA | 30.39 | 31.37 | 090
27727 |  | A | Repair of lower leg | 14.59 | NA | NA | 8.59 | 9.90 | 2.43 | NA | NA | 25.61 | 26.92 | 090
27730 |  | A | Repair of tibia epiphysis | 7.52 | NA | NA | 5.30 | 6.14 | 1.72 | NA | NA | 14.54 | 15.38 | 090
27732 |  | A | Repair of fibula epiphysis | 5.31 | NA | NA | 4.68 | 4.87 | 0.77 | NA | NA | 10.76 | 10.95 | 090
27734 |  | A | Repair lower leg epiphyses | 8.65 | NA | NA | 6.20 | 6.26 | 1.35 | NA | NA | 16.20 | 16.26 | 090
27740 |  | A | Repair of leg epiphyses | 9.41 | NA | NA | 6.65 | 7.66 | 1.62 | NA | NA | 17.68 | 18.69 | 090
27742 |  | A | Repair of leg epiphyses | 10.40 | NA | NA | 5.20 | 5.47 | 1.79 | NA | NA | 17.39 | 17.66 | 090
27745 |  | A | Reinforce tibia | 10.29 | NA | NA | 7.01 | 7.88 | 1.75 | NA | NA | 19.05 | 19.92 | 090
27750 |  | A | Treatment of tibia fracture | 3.19 | 4.33 | 4.65 | 3.74 | 3.82 | 0.55 | 8.07 | 8.39 | 7.48 | 7.56 | 090
27752 |  | A | Treatment of tibia fracture | 6.07 | 5.98 | 6.48 | 5.14 | 5.54 | 1.01 | 13.06 | 13.56 | 12.22 | 12.62 | 090
27756 |  | A | Treatment of tibia fracture | 7.25 | NA | NA | 5.77 | 6.29 | 1.17 | NA | NA | 14.19 | 14.71 | 090
27758 |  | A | Treatment of tibia fracture | 12.31 | NA | NA | 8.07 | 8.90 | 2.03 | NA | NA | 22.41 | 23.24 | 090
27759 |  | A | Treatment of tibia fracture | 14.23 | NA | NA | 8.73 | 9.92 | 2.38 | NA | NA | 25.34 | 26.53 | 090
27760 |  | A | Treatment of ankle fracture | 3.01 | 4.29 | 4.58 | 3.68 | 3.61 | 0.48 | 7.78 | 8.07 | 7.17 | 7.10 | 090
27762 |  | A | Treatment of ankle fracture | 5.24 | 5.58 | 6.14 | 4.75 | 5.14 | 0.85 | 11.67 | 12.23 | 10.84 | 11.23 | 090
27766 |  | A | Treatment of ankle fracture | 8.65 | NA | NA | 6.29 | 6.99 | 1.44 | NA | NA | 16.38 | 17.08 | 090
27780 |  | A | Treatment of fibula fracture | 2.65 | 3.89 | 4.11 | 3.33 | 3.24 | 0.41 | 6.95 | 7.17 | 6.39 | 6.30 | 090
27781 |  | A | Treatment of fibula fracture | 4.39 | 4.97 | 5.36 | 4.34 | 4.57 | 0.73 | 10.09 | 10.48 | 9.46 | 9.69 | 090
27784 |  | A | Treatment of fibula fracture | 7.34 | NA | NA | 5.62 | 6.26 | 1.23 | NA | NA | 14.19 | 14.83 | 090
27786 |  | A | Treatment of ankle fracture | 2.84 | 4.07 | 4.36 | 3.44 | 3.36 | 0.46 | 7.37 | 7.66 | 6.74 | 6.66 | 090
27788 |  | A | Treatment of ankle fracture | 4.44 | 5.00 | 5.48 | 4.26 | 4.55 | 0.74 | 10.18 | 10.66 | 9.44 | 9.73 | 090
27792 |  | A | Treatment of ankle fracture | 7.83 | NA | NA | 5.95 | 6.71 | 1.32 | NA | NA | 15.10 | 15.86 | 090
27808 |  | A | Treatment of ankle fracture | 2.83 | 4.40 | 4.70 | 3.70 | 3.70 | 0.46 | 7.69 | 7.99 | 6.99 | 6.99 | 090
27810 |  | A | Treatment of ankle fracture | 5.12 | 5.46 | 6.05 | 4.60 | 5.01 | 0.82 | 11.40 | 11.99 | 10.54 | 10.95 | 090
27814 |  | A | Treatment of ankle fracture | 11.02 | NA | NA | 7.28 | 8.24 | 1.85 | NA | NA | 20.15 | 21.11 | 090
27816 |  | A | Treatment of ankle fracture | 2.89 | 4.03 | 4.29 | 3.36 | 3.40 | 0.43 | 7.35 | 7.61 | 6.68 | 6.72 | 090
27818 |  | A | Treatment of ankle fracture | 5.49 | 5.44 | 6.14 | 4.47 | 5.00 | 0.82 | 11.75 | 12.45 | 10.78 | 11.31 | 090
27822 |  | A | Treatment of ankle fracture | 12.04 | NA | NA | 8.87 | 10.21 | 1.91 | NA | NA | 22.82 | 24.16 | 090
27823 |  | A | Treatment of ankle fracture | 14.18 | NA | NA | 9.51 | 10.98 | 2.25 | NA | NA | 25.94 | 27.41 | 090
27824 |  | A | Treat lower leg fracture | 3.14 | 3.74 | 3.98 | 3.55 | 3.56 | 0.45 | 7.33 | 7.57 | 7.14 | 7.15 | 090
27825 |  | A | Treat lower leg fracture | 6.54 | 5.88 | 6.42 | 4.84 | 5.25 | 1.02 | 13.44 | 13.98 | 12.40 | 12.81 | 090
27826 |  | A | Treat lower leg fracture | 8.89 | NA | NA | 7.01 | 8.37 | 1.47 | NA | NA | 17.37 | 18.73 | 090
27827 |  | A | Treat lower leg fracture | 15.65 | NA | NA | 10.82 | 12.28 | 2.43 | NA | NA | 28.90 | 30.36 | 090
27828 |  | A | Treat lower leg fracture | 18.07 | NA | NA | 12.36 | 13.54 | 2.81 | NA | NA | 33.24 | 34.42 | 090
27829 |  | A | Treat lower leg joint | 5.60 | NA | NA | 5.53 | 6.47 | 0.95 | NA | NA | 12.08 | 13.02 | 090
27830 |  | A | Treat lower leg dislocation | 3.78 | 4.32 | 4.37 | 3.76 | 3.83 | 0.54 | 8.64 | 8.69 | 8.08 | 8.15 | 090
27831 |  | A | Treat lower leg dislocation | 4.55 | NA | NA | 3.99 | 4.34 | 0.73 | NA | NA | 9.27 | 9.62 | 090
27832 |  | A | Treat lower leg dislocation | 6.60 | NA | NA | 4.75 | 5.82 | 1.03 | NA | NA | 12.38 | 13.45 | 090
27840 |  | A | Treat ankle dislocation | 4.57 | NA | NA | 3.62 | 3.73 | 0.46 | NA | NA | 8.65 | 8.76 | 090
27842 |  | A | Treat ankle dislocation | 6.26 | NA | NA | 4.90 | 5.07 | 1.00 | NA | NA | 12.16 | 12.33 | 090
27846 |  | A | Treat ankle dislocation | 10.08 | NA | NA | 6.87 | 7.67 | 1.70 | NA | NA | 18.65 | 19.45 | 090
27848 |  | A | Treat ankle dislocation | 11.48 | NA | NA | 7.72 | 9.21 | 1.94 | NA | NA | 21.14 | 22.63 | 090
27860 |  | A | Fixation of ankle joint | 2.34 | NA | NA | 1.70 | 1.91 | 0.39 | NA | NA | 4.43 | 4.64 | 010
27870 |  | A | Fusion of ankle joint, open | 15.13 | NA | NA | 9.19 | 10.19 | 2.36 | NA | NA | 26.68 | 27.68 | 090
27871 |  | A | Fusion of tibiofibular joint | 9.34 | NA | NA | 6.54 | 7.32 | 1.59 | NA | NA | 17.47 | 18.25 | 090
27880 |  | A | Amputation of lower leg | 15.18 | NA | NA | 6.78 | 7.04 | 1.75 | NA | NA | 23.71 | 23.97 | 090
27881 |  | A | Amputation of lower leg | 13.22 | NA | NA | 7.45 | 8.49 | 1.98 | NA | NA | 22.65 | 23.69 | 090
27882 |  | A | Amputation of lower leg | 9.59 | NA | NA | 5.55 | 6.25 | 1.29 | NA | NA | 16.43 | 17.13 | 090
27884 |  | A | Amputation follow-up surgery | 8.56 | NA | NA | 5.11 | 5.59 | 1.22 | NA | NA | 14.89 | 15.37 | 090
27886 |  | A | Amputation follow-up surgery | 9.79 | NA | NA | 5.75 | 6.32 | 1.40 | NA | NA | 16.94 | 17.51 | 090
27888 |  | A | Amputation of foot at ankle | 10.14 | NA | NA | 6.25 | 7.19 | 1.51 | NA | NA | 17.90 | 18.84 | 090
27889 |  | A | Amputation of foot at ankle | 10.63 | NA | NA | 5.35 | 6.19 | 1.46 | NA | NA | 17.44 | 18.28 | 090
27892 |  | A | Decompression of leg | 7.74 | NA | NA | 4.88 | 5.41 | 1.10 | NA | NA | 13.72 | 14.25 | 090
27893 |  | A | Decompression of leg | 7.70 | NA | NA | 5.14 | 5.38 | 1.10 | NA | NA | 13.94 | 14.18 | 090
27894 |  | A | Decompression of leg | 12.32 | NA | NA | 7.36 | 7.67 | 1.65 | NA | NA | 21.33 | 21.64 | 090
27899 |  | C | Leg/ankle surgery procedure | 0.00 | 0.00 | 0.00 | 0.00 | 0.00 | 0.00 | 0.00 | 0.00 | 0.00 | 0.00 | YYY
28001 |  | A | Drainage of bursa of foot | 2.73 | 4.04 | 3.25 | 1.63 | 1.87 | 0.33 | 7.10 | 6.31 | 4.69 | 4.93 | 010
28002 |  | A | Treatment of foot infection | 5.72 | 6.77 | 5.44 | 3.62 | 3.73 | 0.61 | 13.10 | 11.77 | 9.95 | 10.06 | 010
28003 |  | A | Treatment of foot infection | 8.88 | 7.86 | 6.64 | 4.61 | 5.07 | 1.12 | 17.86 | 16.64 | 14.61 | 15.07 | 090
28005 |  | A | Treat foot bone lesion | 9.21 | NA | NA | 5.48 | 5.90 | 1.16 | NA | NA | 15.85 | 16.27 | 090
28008 |  | A | Incision of foot fascia | 4.44 | 6.22 | 4.97 | 3.02 | 3.16 | 0.57 | 11.23 | 9.98 | 8.03 | 8.17 | 090
28010 |  | A | Incision of toe tendon | 2.84 | 2.87 | 2.50 | 2.35 | 2.37 | 0.36 | 6.07 | 5.70 | 5.55 | 5.57 | 090
28011 |  | A | Incision of toe tendons | 4.13 | 3.83 | 3.43 | 3.05 | 3.24 | 0.59 | 8.55 | 8.15 | 7.77 | 7.96 | 090
28020 |  | A | Exploration of foot joint | 5.00 | 7.57 | 6.40 | 3.68 | 4.02 | 0.72 | 13.29 | 12.12 | 9.40 | 9.74 | 090
28022 |  | A | Exploration of foot joint | 4.66 | 6.94 | 5.63 | 3.33 | 3.72 | 0.62 | 12.22 | 10.91 | 8.61 | 9.00 | 090
28024 |  | A | Exploration of toe joint | 4.37 | 6.71 | 5.59 | 3.19 | 3.74 | 0.58 | 11.66 | 10.54 | 8.14 | 8.69 | 090
28030 |  | A | Removal of foot nerve | 6.14 | NA | NA | 3.47 | 3.61 | 0.74 | NA | NA | 10.35 | 10.49 | 090
28035 |  | A | Decompression of tibia nerve | 5.08 | 7.52 | 6.27 | 3.68 | 3.99 | 0.70 | 13.30 | 12.05 | 9.46 | 9.77 | 090
28043 |  | A | Excision of foot lesion | 3.53 | 4.84 | 4.07 | 2.76 | 3.07 | 0.46 | 8.83 | 8.06 | 6.75 | 7.06 | 090
28045 |  | A | Excision of foot lesion | 4.71 | 7.12 | 5.81 | 3.29 | 3.52 | 0.63 | 12.46 | 11.15 | 8.63 | 8.86 | 090
28046 |  | A | Resection of tumor, foot | 10.46 | 10.49 | 9.19 | 5.84 | 6.31 | 1.36 | 22.31 | 21.01 | 17.66 | 18.13 | 090
28050 |  | A | Biopsy of foot joint lining | 4.24 | 6.93 | 5.40 | 3.28 | 3.51 | 0.60 | 11.77 | 10.24 | 8.12 | 8.35 | 090
28052 |  | A | Biopsy of foot joint lining | 3.93 | 6.49 | 5.31 | 2.96 | 3.31 | 0.53 | 10.95 | 9.77 | 7.42 | 7.77 | 090
28054 |  | A | Biopsy of toe joint lining | 3.44 | 6.25 | 5.10 | 2.78 | 3.12 | 0.46 | 10.15 | 9.00 | 6.68 | 7.02 | 090
28060 |  | A | Partial removal, foot fascia | 5.22 | 7.19 | 5.90 | 3.60 | 3.80 | 0.70 | 13.11 | 11.82 | 9.52 | 9.72 | 090
28062 |  | A | Removal of foot fascia | 6.51 | 7.91 | 6.86 | 3.86 | 3.97 | 0.83 | 15.25 | 14.20 | 11.20 | 11.31 | 090
28070 |  | A | Removal of foot joint lining | 5.09 | 7.27 | 5.73 | 3.48 | 3.73 | 0.73 | 13.09 | 11.55 | 9.30 | 9.55 | 090
28072 |  | A | Removal of foot joint lining | 4.57 | 7.66 | 6.06 | 3.65 | 4.14 | 0.68 | 12.91 | 11.31 | 8.90 | 9.39 | 090
28080 |  | A | Removal of foot lesion | 4.57 | 7.73 | 5.77 | 4.22 | 3.82 | 0.47 | 12.77 | 10.81 | 9.26 | 8.86 | 090
28086 |  | A | Excise foot tendon sheath | 4.77 | 7.85 | 7.95 | 3.80 | 4.46 | 0.76 | 13.38 | 13.48 | 9.33 | 9.99 | 090
28088 |  | A | Excise foot tendon sheath | 3.85 | 7.00 | 6.06 | 3.18 | 3.71 | 0.61 | 11.46 | 10.52 | 7.64 | 8.17 | 090
28090 |  | A | Removal of foot lesion | 4.40 | 6.84 | 5.57 | 3.21 | 3.39 | 0.59 | 11.83 | 10.56 | 8.20 | 8.38 | 090
28092 |  | A | Removal of toe lesions | 3.63 | 6.55 | 5.55 | 3.02 | 3.40 | 0.49 | 10.67 | 9.67 | 7.14 | 7.52 | 090
28100 |  | A | Removal of ankle/heel lesion | 5.65 | 8.29 | 8.04 | 4.10 | 4.54 | 0.82 | 14.76 | 14.51 | 10.57 | 11.01 | 090
28102 |  | A | Remove/graft foot lesion | 7.72 | NA | NA | 4.97 | 5.70 | 1.14 | NA | NA | 13.83 | 14.56 | 090
28103 |  | A | Remove/graft foot lesion | 6.49 | NA | NA | 4.17 | 4.50 | 0.91 | NA | NA | 11.57 | 11.90 | 090
28104 |  | A | Removal of foot lesion | 5.11 | 7.31 | 5.94 | 3.50 | 3.82 | 0.70 | 13.12 | 11.75 | 9.31 | 9.63 | 090
28106 |  | A | Remove/graft foot lesion | 7.15 | NA | NA | 4.46 | 4.44 | 0.97 | NA | NA | 12.58 | 12.56 | 090
28107 |  | A | Remove/graft foot lesion | 5.55 | 7.90 | 6.87 | 3.76 | 4.09 | 0.74 | 14.19 | 13.16 | 10.05 | 10.38 | 090
28108 |  | A | Removal of toe lesions | 4.15 | 6.42 | 5.05 | 3.01 | 3.19 | 0.53 | 11.10 | 9.73 | 7.69 | 7.87 | 090
28110 |  | A | Part removal of metatarsal | 4.07 | 7.02 | 5.66 | 3.10 | 3.19 | 0.54 | 11.63 | 10.27 | 7.71 | 7.80 | 090
28111 |  | A | Part removal of metatarsal | 5.00 | 7.37 | 6.55 | 3.33 | 3.57 | 0.67 | 13.04 | 12.22 | 9.00 | 9.24 | 090
28112 |  | A | Part removal of metatarsal | 4.48 | 7.31 | 6.18 | 3.30 | 3.50 | 0.61 | 12.40 | 11.27 | 8.39 | 8.59 | 090
28113 |  | A | Part removal of metatarsal | 5.78 | 8.48 | 6.66 | 4.67 | 4.40 | 0.63 | 14.89 | 13.07 | 11.08 | 10.81 | 090
28114 |  | A | Removal of metatarsal heads | 11.49 | 13.43 | 12.07 | 8.31 | 8.36 | 1.42 | 26.34 | 24.98 | 21.22 | 21.27 | 090
28116 |  | A | Revision of foot | 8.86 | 9.58 | 7.49 | 5.41 | 5.23 | 1.03 | 19.47 | 17.38 | 15.30 | 15.12 | 090
28118 |  | A | Removal of heel bone | 5.95 | 8.00 | 6.68 | 4.05 | 4.27 | 0.84 | 14.79 | 13.47 | 10.84 | 11.06 | 090
28119 |  | A | Removal of heel spur | 5.38 | 7.28 | 5.89 | 3.60 | 3.69 | 0.70 | 13.36 | 11.97 | 9.68 | 9.77 | 090
28120 |  | A | Part removal of ankle/heel | 5.57 | 8.14 | 7.50 | 3.98 | 4.30 | 0.77 | 14.48 | 13.84 | 10.32 | 10.64 | 090
28122 |  | A | Partial removal of foot bone | 7.46 | 8.57 | 7.27 | 4.83 | 5.15 | 0.98 | 17.01 | 15.71 | 13.27 | 13.59 | 090
28124 |  | A | Partial removal of toe | 4.80 | 6.82 | 5.45 | 3.47 | 3.61 | 0.60 | 12.22 | 10.85 | 8.87 | 9.01 | 090
28126 |  | A | Partial removal of toe | 3.51 | 6.00 | 4.66 | 2.67 | 2.91 | 0.45 | 9.96 | 8.62 | 6.63 | 6.87 | 090
28130 |  | A | Removal of ankle bone | 9.22 | NA | NA | 5.91 | 6.51 | 1.26 | NA | NA | 16.39 | 16.99 | 090
28140 |  | A | Removal of metatarsal | 6.96 | 7.91 | 7.39 | 4.16 | 4.61 | 0.92 | 15.79 | 15.27 | 12.04 | 12.49 | 090
28150 |  | A | Removal of toe | 4.08 | 6.46 | 5.24 | 3.03 | 3.22 | 0.53 | 11.07 | 9.85 | 7.64 | 7.83 | 090
28153 |  | A | Partial removal of toe | 3.65 | 6.23 | 4.79 | 2.89 | 2.73 | 0.47 | 10.35 | 8.91 | 7.01 | 6.85 | 090
28160 |  | A | Partial removal of toe | 3.73 | 6.41 | 5.02 | 2.97 | 3.24 | 0.49 | 10.63 | 9.24 | 7.19 | 7.46 | 090
28171 |  | A | Extensive foot surgery | 9.77 | NA | NA | 5.34 | 5.40 | 1.33 | NA | NA | 16.44 | 16.50 | 090
28173 |  | A | Extensive foot surgery | 8.97 | 8.85 | 7.91 | 4.68 | 5.06 | 1.12 | 18.94 | 18.00 | 14.77 | 15.15 | 090
28175 |  | A | Extensive foot surgery | 6.10 | 7.18 | 6.07 | 3.64 | 3.69 | 0.73 | 14.01 | 12.90 | 10.47 | 10.52 | 090
28190 |  | A | Removal of foot foreign body | 1.96 | 4.04 | 3.55 | 1.34 | 1.45 | 0.22 | 6.22 | 5.73 | 3.52 | 3.63 | 010
28192 |  | A | Removal of foot foreign body | 4.63 | 6.79 | 5.80 | 3.22 | 3.54 | 0.61 | 12.03 | 11.04 | 8.46 | 8.78 | 090
28193 |  | A | Removal of foot foreign body | 5.72 | 7.38 | 6.05 | 3.64 | 3.85 | 0.73 | 13.83 | 12.50 | 10.09 | 10.30 | 090
28200 |  | A | Repair of foot tendon | 4.59 | 6.95 | 5.56 | 3.26 | 3.48 | 0.61 | 12.15 | 10.76 | 8.46 | 8.68 | 090
28202 |  | A | Repair/graft of foot tendon | 6.89 | 8.03 | 7.42 | 4.09 | 4.39 | 0.91 | 15.83 | 15.22 | 11.89 | 12.19 | 090
28208 |  | A | Repair of foot tendon | 4.36 | 6.73 | 5.29 | 3.19 | 3.27 | 0.58 | 11.67 | 10.23 | 8.13 | 8.21 | 090
28210 |  | A | Repair/graft of foot tendon | 6.34 | 7.59 | 6.56 | 3.91 | 3.99 | 0.81 | 14.74 | 13.71 | 11.06 | 11.14 | 090
28220 |  | A | Release of foot tendon | 4.52 | 6.45 | 5.12 | 3.09 | 3.34 | 0.57 | 11.54 | 10.21 | 8.18 | 8.43 | 090
28222 |  | A | Release of foot tendons | 5.61 | 6.93 | 5.66 | 3.34 | 3.93 | 0.69 | 13.23 | 11.96 | 9.64 | 10.23 | 090
28225 |  | A | Release of foot tendon | 3.65 | 6.09 | 4.73 | 2.75 | 2.86 | 0.46 | 10.20 | 8.84 | 6.86 | 6.97 | 090
28226 |  | A | Release of foot tendons | 4.52 | 7.01 | 5.35 | 3.32 | 3.64 | 0.58 | 12.11 | 10.45 | 8.42 | 8.74 | 090
28230 |  | A | Incision of foot tendon(s) | 4.23 | 6.34 | 5.09 | 2.91 | 3.48 | 0.55 | 11.12 | 9.87 | 7.69 | 8.26 | 090
28232 |  | A | Incision of toe tendon | 3.38 | 5.99 | 4.89 | 2.70 | 3.16 | 0.44 | 9.81 | 8.71 | 6.52 | 6.98 | 090
28234 |  | A | Incision of foot tendon | 3.36 | 6.32 | 5.08 | 3.06 | 3.28 | 0.44 | 10.12 | 8.88 | 6.86 | 7.08 | 090
28238 |  | A | Revision of foot tendon | 7.78 | 8.40 | 7.53 | 4.37 | 4.79 | 1.06 | 17.24 | 16.37 | 13.21 | 13.63 | 090
28240 |  | A | Release of big toe | 4.35 | 6.47 | 5.09 | 3.00 | 3.36 | 0.58 | 11.40 | 10.02 | 7.93 | 8.29 | 090
28250 |  | A | Revision of foot fascia | 5.91 | 7.49 | 6.09 | 3.78 | 4.04 | 0.82 | 14.22 | 12.82 | 10.51 | 10.77 | 090
28260 |  | A | Release of midfoot joint | 8.01 | 8.65 | 6.90 | 4.73 | 4.93 | 1.14 | 17.80 | 16.05 | 13.88 | 14.08 | 090
28261 |  | A | Revision of foot tendon | 12.83 | 10.79 | 9.16 | 6.40 | 7.08 | 1.57 | 25.19 | 23.56 | 20.80 | 21.48 | 090
28262 |  | A | Revision of foot and ankle | 16.93 | 15.68 | 14.08 | 9.83 | 10.64 | 2.59 | 35.20 | 33.60 | 29.35 | 30.16 | 090
28264 |  | A | Release of midfoot joint | 10.45 | 10.45 | 8.41 | 6.03 | 6.97 | 1.54 | 22.44 | 20.40 | 18.02 | 18.96 | 090
28270 |  | A | Release of foot contracture | 4.75 | 6.97 | 5.41 | 3.46 | 3.66 | 0.62 | 12.34 | 10.78 | 8.83 | 9.03 | 090
28272 |  | A | Release of toe joint, each | 3.79 | 5.87 | 4.60 | 2.66 | 2.80 | 0.46 | 10.12 | 8.85 | 6.91 | 7.05 | 090
28280 |  | A | Fusion of toes | 5.18 | 7.41 | 6.53 | 3.60 | 4.26 | 0.73 | 13.32 | 12.44 | 9.51 | 10.17 | 090
28285 |  | A | Repair of hammertoe | 4.58 | 6.77 | 5.34 | 3.37 | 3.41 | 0.59 | 11.94 | 10.51 | 8.54 | 8.58 | 090
28286 |  | A | Repair of hammertoe | 4.55 | 6.54 | 5.23 | 3.05 | 3.20 | 0.57 | 11.66 | 10.35 | 8.17 | 8.32 | 090
28288 |  | A | Partial removal of foot bone | 5.73 | 8.69 | 6.62 | 4.74 | 4.85 | 0.65 | 15.07 | 13.00 | 11.12 | 11.23 | 090
28289 |  | A | Repair hallux rigidus | 8.03 | 9.52 | 8.37 | 5.39 | 5.67 | 1.02 | 18.57 | 17.42 | 14.44 | 14.72 | 090
28290 |  | A | Correction of bunion | 5.65 | 8.24 | 6.75 | 3.98 | 4.54 | 0.82 | 14.71 | 13.22 | 10.45 | 11.01 | 090
28292 |  | A | Correction of bunion | 8.60 | 10.42 | 8.20 | 6.19 | 5.70 | 0.91 | 19.93 | 17.71 | 15.70 | 15.21 | 090
28293 |  | A | Correction of bunion | 10.96 | 14.60 | 11.71 | 6.97 | 6.32 | 1.13 | 26.69 | 23.80 | 19.06 | 18.41 | 090
28294 |  | A | Correction of bunion | 8.55 | 9.19 | 7.87 | 4.61 | 4.69 | 1.09 | 18.83 | 17.51 | 14.25 | 14.33 | 090
28296 |  | A | Correction of bunion | 9.23 | 9.66 | 8.53 | 4.83 | 5.27 | 1.19 | 20.08 | 18.95 | 15.25 | 15.69 | 090
28297 |  | A | Correction of bunion | 9.23 | 10.54 | 9.34 | 5.36 | 6.03 | 1.32 | 21.09 | 19.89 | 15.91 | 16.58 | 090
28298 |  | A | Correction of bunion | 7.93 | 9.30 | 7.73 | 4.58 | 4.90 | 1.05 | 18.28 | 16.71 | 13.56 | 13.88 | 090
28299 |  | A | Correction of bunion | 11.31 | 10.63 | 9.23 | 5.77 | 5.99 | 1.37 | 23.31 | 21.91 | 18.45 | 18.67 | 090
28300 |  | A | Incision of heel bone | 9.53 | NA | NA | 6.11 | 6.80 | 1.54 | NA | NA | 17.18 | 17.87 | 090
28302 |  | A | Incision of ankle bone | 9.54 | NA | NA | 5.72 | 6.59 | 1.42 | NA | NA | 16.68 | 17.55 | 090
28304 |  | A | Incision of midfoot bones | 9.21 | 9.57 | 8.35 | 5.09 | 5.57 | 1.27 | 20.05 | 18.83 | 15.57 | 16.05 | 090
28305 |  | A | Incise/graft midfoot bones | 10.54 | NA | NA | 5.61 | 6.44 | 1.27 | NA | NA | 17.42 | 18.25 | 090
28306 |  | A | Incision of metatarsal | 5.85 | 8.39 | 7.22 | 3.87 | 4.10 | 0.84 | 15.08 | 13.91 | 10.56 | 10.79 | 090
28307 |  | A | Incision of metatarsal | 6.32 | 9.57 | 10.66 | 4.48 | 5.08 | 0.90 | 16.79 | 17.88 | 11.70 | 12.30 | 090
28308 |  | A | Incision of metatarsal | 5.28 | 7.95 | 6.29 | 3.83 | 3.72 | 0.70 | 13.93 | 12.27 | 9.81 | 9.70 | 090
28309 |  | A | Incision of metatarsals | 13.88 | NA | NA | 7.79 | 7.91 | 2.04 | NA | NA | 23.71 | 23.83 | 090
28310 |  | A | Revision of big toe | 5.42 | 7.56 | 6.20 | 3.42 | 3.52 | 0.70 | 13.68 | 12.32 | 9.54 | 9.64 | 090
28312 |  | A | Revision of toe | 4.54 | 7.41 | 5.93 | 3.24 | 3.53 | 0.63 | 12.58 | 11.10 | 8.41 | 8.70 | 090
28313 |  | A | Repair deformity of toe | 5.00 | 7.39 | 5.80 | 3.67 | 4.54 | 0.73 | 13.12 | 11.53 | 9.40 | 10.27 | 090
28315 |  | A | Removal of sesamoid bone | 4.85 | 6.74 | 5.35 | 3.25 | 3.31 | 0.63 | 12.22 | 10.83 | 8.73 | 8.79 | 090
28320 |  | A | Repair of foot bones | 9.17 | NA | NA | 5.78 | 6.48 | 1.43 | NA | NA | 16.38 | 17.08 | 090
28322 |  | A | Repair of metatarsals | 8.33 | 10.03 | 9.39 | 5.48 | 6.12 | 1.27 | 19.63 | 18.99 | 15.08 | 15.72 | 090
28340 |  | A | Resect enlarged toe tissue | 6.97 | 8.08 | 6.85 | 4.07 | 4.20 | 0.84 | 15.89 | 14.66 | 11.88 | 12.01 | 090
28341 |  | A | Resect enlarged toe | 8.52 | 8.70 | 7.37 | 4.47 | 4.73 | 1.01 | 18.23 | 16.90 | 14.00 | 14.26 | 090
28344 |  | A | Repair extra toe(s) | 4.25 | 6.83 | 6.01 | 3.19 | 3.52 | 0.51 | 11.59 | 10.77 | 7.95 | 8.28 | 090
28345 |  | A | Repair webbed toe(s) | 5.91 | 7.82 | 6.60 | 3.89 | 4.48 | 0.80 | 14.53 | 13.31 | 10.60 | 11.19 | 090
28360 |  | A | Reconstruct cleft foot | 14.57 | NA | NA | 6.39 | 9.47 | 2.28 | NA | NA | 23.24 | 26.32 | 090
28400 |  | A | Treatment of heel fracture | 2.16 | 3.39 | 3.57 | 2.93 | 3.02 | 0.35 | 5.90 | 6.08 | 5.44 | 5.53 | 090
28405 |  | A | Treatment of heel fracture | 4.56 | 4.53 | 4.76 | 3.76 | 4.41 | 0.73 | 9.82 | 10.05 | 9.05 | 9.70 | 090
28406 |  | A | Treatment of heel fracture | 6.36 | NA | NA | 5.69 | 6.52 | 1.11 | NA | NA | 13.16 | 13.99 | 090
28415 |  | A | Treat heel fracture | 17.44 | NA | NA | 10.92 | 12.69 | 2.66 | NA | NA | 31.02 | 32.79 | 090
28420 |  | A | Treat/graft heel fracture | 16.98 | NA | NA | 10.21 | 12.24 | 2.80 | NA | NA | 29.99 | 32.02 | 090
28430 |  | A | Treatment of ankle fracture | 2.09 | 3.15 | 3.33 | 2.59 | 2.57 | 0.31 | 5.55 | 5.73 | 4.99 | 4.97 | 090
28435 |  | A | Treatment of ankle fracture | 3.39 | 3.76 | 3.85 | 3.07 | 3.57 | 0.55 | 7.70 | 7.79 | 7.01 | 7.51 | 090
28436 |  | A | Treatment of ankle fracture | 4.70 | NA | NA | 5.00 | 5.68 | 0.81 | NA | NA | 10.51 | 11.19 | 090
28445 |  | A | Treat ankle fracture | 16.99 | NA | NA | 9.79 | 10.72 | 2.58 | NA | NA | 29.36 | 30.29 | 090
28450 |  | A | Treat midfoot fracture, each | 1.90 | 2.95 | 3.07 | 2.44 | 2.46 | 0.28 | 5.13 | 5.25 | 4.62 | 4.64 | 090
28455 |  | A | Treat midfoot fracture, each | 3.09 | 3.68 | 3.49 | 3.05 | 3.33 | 0.44 | 7.21 | 7.02 | 6.58 | 6.86 | 090
28456 |  | A | Treat midfoot fracture | 2.68 | NA | NA | 3.63 | 4.02 | 0.44 | NA | NA | 6.75 | 7.14 | 090
28465 |  | A | Treat midfoot fracture, each | 7.06 | NA | NA | 5.09 | 6.01 | 1.10 | NA | NA | 13.25 | 14.17 | 090
28470 |  | A | Treat metatarsal fracture | 1.99 | 2.84 | 3.05 | 2.40 | 2.43 | 0.30 | 5.13 | 5.34 | 4.69 | 4.72 | 090
28475 |  | A | Treat metatarsal fracture | 2.97 | 3.18 | 3.29 | 2.56 | 3.05 | 0.44 | 6.59 | 6.70 | 5.97 | 6.46 | 090
28476 |  | A | Treat metatarsal fracture | 3.37 | NA | NA | 4.35 | 4.82 | 0.54 | NA | NA | 8.26 | 8.73 | 090
28485 |  | A | Treat metatarsal fracture | 5.70 | NA | NA | 4.57 | 5.22 | 0.83 | NA | NA | 11.10 | 11.75 | 090
28490 |  | A | Treat big toe fracture | 1.09 | 2.11 | 2.04 | 1.69 | 1.65 | 0.14 | 3.34 | 3.27 | 2.92 | 2.88 | 090
28495 |  | A | Treat big toe fracture | 1.58 | 2.48 | 2.25 | 1.88 | 2.02 | 0.20 | 4.26 | 4.03 | 3.66 | 3.80 | 090
28496 |  | A | Treat big toe fracture | 2.33 | 7.22 | 7.99 | 2.90 | 3.12 | 0.36 | 9.91 | 10.68 | 5.59 | 5.81 | 090
28505 |  | A | Treat big toe fracture | 3.80 | 7.53 | 7.96 | 3.28 | 3.75 | 0.56 | 11.89 | 12.32 | 7.64 | 8.11 | 090
28510 |  | A | Treatment of toe fracture | 1.09 | 1.68 | 1.57 | 1.61 | 1.55 | 0.14 | 2.91 | 2.80 | 2.84 | 2.78 | 090
28515 |  | A | Treatment of toe fracture | 1.46 | 2.25 | 1.98 | 1.84 | 1.88 | 0.18 | 3.89 | 3.62 | 3.48 | 3.52 | 090
28525 |  | A | Treat toe fracture | 3.32 | 6.93 | 7.37 | 2.92 | 3.30 | 0.49 | 10.74 | 11.18 | 6.73 | 7.11 | 090
28530 |  | A | Treat sesamoid bone fracture | 1.06 | 1.65 | 1.49 | 1.36 | 1.42 | 0.14 | 2.85 | 2.69 | 2.56 | 2.62 | 090
28531 |  | A | Treat sesamoid bone fracture | 2.47 | 5.84 | 6.91 | 2.13 | 2.08 | 0.34 | 8.65 | 9.72 | 4.94 | 4.89 | 090
28540 |  | A | Treat foot dislocation | 2.04 | 2.78 | 2.50 | 2.33 | 2.38 | 0.26 | 5.08 | 4.80 | 4.63 | 4.68 | 090
28545 |  | A | Treat foot dislocation | 2.45 | 3.25 | 2.57 | 2.66 | 2.42 | 0.37 | 6.07 | 5.39 | 5.48 | 5.24 | 090
28546 |  | A | Treat foot dislocation | 3.20 | 7.69 | 7.11 | 3.45 | 4.15 | 0.52 | 11.41 | 10.83 | 7.17 | 7.87 | 090
28555 |  | A | Repair foot dislocation | 6.35 | 9.82 | 9.88 | 4.96 | 5.49 | 1.04 | 17.21 | 17.27 | 12.35 | 12.88 | 090
28570 |  | A | Treat foot dislocation | 1.66 | 2.59 | 2.46 | 2.00 | 2.25 | 0.23 | 4.48 | 4.35 | 3.89 | 4.14 | 090
28575 |  | A | Treat foot dislocation | 3.31 | 4.38 | 3.89 | 3.68 | 3.71 | 0.56 | 8.25 | 7.76 | 7.55 | 7.58 | 090
28576 |  | A | Treat foot dislocation | 4.40 | NA | NA | 4.01 | 4.13 | 0.69 | NA | NA | 9.10 | 9.22 | 090
28585 |  | A | Repair foot dislocation | 8.10 | 9.98 | 7.99 | 5.29 | 5.70 | 1.25 | 19.33 | 17.34 | 14.64 | 15.05 | 090
28600 |  | A | Treat foot dislocation | 1.89 | 3.06 | 2.87 | 2.40 | 2.61 | 0.27 | 5.22 | 5.03 | 4.56 | 4.77 | 090
28605 |  | A | Treat foot dislocation | 2.71 | 3.76 | 3.28 | 3.16 | 3.13 | 0.40 | 6.87 | 6.39 | 6.27 | 6.24 | 090
28606 |  | A | Treat foot dislocation | 4.89 | NA | NA | 4.31 | 4.60 | 0.82 | NA | NA | 10.02 | 10.31 | 090
28615 |  | A | Repair foot dislocation | 8.88 | NA | NA | 7.00 | 7.78 | 1.30 | NA | NA | 17.18 | 17.96 | 090
28630 |  | A | Treat toe dislocation | 1.70 | 1.96 | 1.67 | 0.95 | 0.99 | 0.20 | 3.86 | 3.57 | 2.85 | 2.89 | 010
28635 |  | A | Treat toe dislocation | 1.91 | 2.27 | 2.08 | 1.33 | 1.48 | 0.26 | 4.44 | 4.25 | 3.50 | 3.65 | 010
28636 |  | A | Treat toe dislocation | 2.77 | 4.38 | 4.00 | 2.05 | 2.48 | 0.43 | 7.58 | 7.20 | 5.25 | 5.68 | 010
28645 |  | A | Repair toe dislocation | 4.21 | 6.90 | 5.44 | 3.20 | 3.25 | 0.57 | 11.68 | 10.22 | 7.98 | 8.03 | 090
28660 |  | A | Treat toe dislocation | 1.23 | 1.31 | 1.27 | 0.79 | 0.79 | 0.13 | 2.67 | 2.63 | 2.15 | 2.15 | 010
28665 |  | A | Treat toe dislocation | 1.92 | 1.85 | 1.54 | 1.34 | 1.41 | 0.26 | 4.03 | 3.72 | 3.52 | 3.59 | 010
28666 |  | A | Treat toe dislocation | 2.66 | NA | NA | 1.92 | 2.42 | 0.43 | NA | NA | 5.01 | 5.51 | 010
28675 |  | A | Repair of toe dislocation | 2.92 | 6.72 | 7.04 | 2.87 | 3.23 | 0.45 | 10.09 | 10.41 | 6.24 | 6.60 | 090
28705 |  | A | Fusion of foot bones | 20.04 | NA | NA | 10.77 | 12.02 | 3.08 | NA | NA | 33.89 | 35.14 | 090
28715 |  | A | Fusion of foot bones | 14.32 | NA | NA | 8.54 | 9.45 | 2.16 | NA | NA | 25.02 | 25.93 | 090
28725 |  | A | Fusion of foot bones | 11.89 | NA | NA | 6.95 | 7.92 | 1.86 | NA | NA | 20.70 | 21.67 | 090
28730 |  | A | Fusion of foot bones | 12.11 | NA | NA | 7.79 | 8.31 | 1.70 | NA | NA | 21.60 | 22.12 | 090
28735 |  | A | Fusion of foot bones | 11.95 | NA | NA | 6.99 | 7.61 | 1.68 | NA | NA | 20.62 | 21.24 | 090
28737 |  | A | Revision of foot bones | 10.75 | NA | NA | 6.13 | 6.63 | 1.47 | NA | NA | 18.35 | 18.85 | 090
28740 |  | A | Fusion of foot bones | 9.01 | 10.96 | 10.89 | 6.04 | 6.36 | 1.22 | 21.19 | 21.12 | 16.27 | 16.59 | 090
28750 |  | A | Fusion of big toe joint | 8.29 | 10.90 | 11.66 | 5.95 | 6.48 | 1.13 | 20.32 | 21.08 | 15.37 | 15.90 | 090
28755 |  | A | Fusion of big toe joint | 4.73 | 7.30 | 6.40 | 3.37 | 3.66 | 0.65 | 12.68 | 11.78 | 8.75 | 9.04 | 090
28760 |  | A | Fusion of big toe joint | 8.86 | 10.01 | 8.48 | 5.34 | 5.47 | 1.05 | 19.92 | 18.39 | 15.25 | 15.38 | 090
28800 |  | A | Amputation of midfoot | 8.56 | NA | NA | 5.08 | 5.61 | 1.15 | NA | NA | 14.79 | 15.32 | 090
28805 |  | A | Amputation thru metatarsal | 12.47 | NA | NA | 6.02 | 5.74 | 1.18 | NA | NA | 19.67 | 19.39 | 090
28810 |  | A | Amputation toe & metatarsal | 6.44 | NA | NA | 4.13 | 4.39 | 0.86 | NA | NA | 11.43 | 11.69 | 090
28820 |  | A | Amputation of toe | 4.82 | 7.78 | 7.61 | 3.60 | 3.74 | 0.61 | 13.21 | 13.04 | 9.03 | 9.17 | 090
28825 |  | A | Partial amputation of toe | 3.64 | 7.23 | 7.05 | 3.16 | 3.40 | 0.50 | 11.37 | 11.19 | 7.30 | 7.54 | 090
28890 |  | A | High energy eswt, plantar f | 3.30 | 4.65 | 5.45 | 2.31 | 2.14 | 0.41 | 8.36 | 9.16 | 6.02 | 5.85 | 090
28899 |  | C | Foot/toes surgery procedure | 0.00 | 0.00 | 0.00 | 0.00 | 0.00 | 0.00 | 0.00 | 0.00 | 0.00 | 0.00 | YYY
29000 |  | A | Application of body cast | 2.25 | 4.76 | 3.41 | 1.85 | 1.76 | 0.41 | 7.42 | 6.07 | 4.51 | 4.42 | 000
29010 |  | A | Application of body cast | 2.06 | 3.37 | 3.30 | 1.33 | 1.66 | 0.45 | 5.88 | 5.81 | 3.84 | 4.17 | 000
29015 |  | A | Application of body cast | 2.41 | 3.37 | 3.07 | 1.48 | 1.57 | 0.28 | 6.06 | 5.76 | 4.17 | 4.26 | 000
29020 |  | A | Application of body cast | 2.11 | 3.79 | 3.33 | 1.48 | 1.43 | 0.28 | 6.18 | 5.72 | 3.87 | 3.82 | 000
29025 |  | A | Application of body cast | 2.40 | 3.62 | 3.26 | 1.59 | 1.79 | 0.44 | 6.46 | 6.10 | 4.43 | 4.63 | 000
29035 |  | A | Application of body cast | 1.77 | 3.71 | 3.64 | 1.48 | 1.56 | 0.28 | 5.76 | 5.69 | 3.53 | 3.61 | 000
29040 |  | A | Application of body cast | 2.22 | 3.63 | 2.75 | 1.50 | 1.51 | 0.36 | 6.21 | 5.33 | 4.08 | 4.09 | 000
29044 |  | A | Application of body cast | 2.12 | 3.98 | 3.97 | 1.66 | 1.84 | 0.35 | 6.45 | 6.44 | 4.13 | 4.31 | 000
29046 |  | A | Application of body cast | 2.41 | 4.21 | 3.48 | 1.80 | 2.02 | 0.42 | 7.04 | 6.31 | 4.63 | 4.85 | 000
29049 |  | A | Application of figure eight | 0.89 | 1.13 | 1.26 | 0.60 | 0.55 | 0.13 | 2.15 | 2.28 | 1.62 | 1.57 | 000
29055 |  | A | Application of shoulder cast | 1.78 | 2.92 | 2.97 | 1.31 | 1.43 | 0.30 | 5.00 | 5.05 | 3.39 | 3.51 | 000
29058 |  | A | Application of shoulder cast | 1.31 | 1.25 | 1.48 | 0.68 | 0.71 | 0.17 | 2.73 | 2.96 | 2.16 | 2.19 | 000
29065 |  | A | Application of long arm cast | 0.87 | 1.28 | 1.32 | 0.71 | 0.74 | 0.15 | 2.30 | 2.34 | 1.73 | 1.76 | 000
29075 |  | A | Application of forearm cast | 0.77 | 1.24 | 1.26 | 0.67 | 0.68 | 0.13 | 2.14 | 2.16 | 1.57 | 1.58 | 000
29085 |  | A | Apply hand/wrist cast | 0.87 | 1.26 | 1.28 | 0.69 | 0.65 | 0.14 | 2.27 | 2.29 | 1.70 | 1.66 | 000
29086 |  | A | Apply finger cast | 0.62 | 1.03 | 0.98 | 0.53 | 0.50 | 0.07 | 1.72 | 1.67 | 1.22 | 1.19 | 000
29105 |  | A | Apply long arm splint | 0.87 | 1.10 | 1.20 | 0.53 | 0.52 | 0.12 | 2.09 | 2.19 | 1.52 | 1.51 | 000
29125 |  | A | Apply forearm splint | 0.59 | 0.97 | 1.01 | 0.43 | 0.40 | 0.07 | 1.63 | 1.67 | 1.09 | 1.06 | 000
29126 |  | A | Apply forearm splint | 0.77 | 1.02 | 1.16 | 0.48 | 0.47 | 0.07 | 1.86 | 2.00 | 1.32 | 1.31 | 000
29130 |  | A | Application of finger splint | 0.50 | 0.43 | 0.46 | 0.18 | 0.17 | 0.06 | 0.99 | 1.02 | 0.74 | 0.73 | 000
29131 |  | A | Application of finger splint | 0.55 | 0.63 | 0.71 | 0.26 | 0.25 | 0.03 | 1.21 | 1.29 | 0.84 | 0.83 | 000
29200 |  | A | Strapping of chest | 0.65 | 0.62 | 0.70 | 0.35 | 0.34 | 0.04 | 1.31 | 1.39 | 1.04 | 1.03 | 000
29220 |  | A | Strapping of low back | 0.64 | 0.62 | 0.70 | 0.35 | 0.38 | 0.04 | 1.30 | 1.38 | 1.03 | 1.06 | 000
29240 |  | A | Strapping of shoulder | 0.71 | 0.67 | 0.81 | 0.39 | 0.37 | 0.06 | 1.44 | 1.58 | 1.16 | 1.14 | 000
29260 |  | A | Strapping of elbow or wrist | 0.55 | 0.65 | 0.72 | 0.36 | 0.33 | 0.05 | 1.25 | 1.32 | 0.96 | 0.93 | 000
29280 |  | A | Strapping of hand or finger | 0.51 | 0.66 | 0.77 | 0.37 | 0.33 | 0.03 | 1.20 | 1.31 | 0.91 | 0.87 | 000
29305 |  | A | Application of hip cast | 2.03 | 3.40 | 3.36 | 1.61 | 1.72 | 0.35 | 5.78 | 5.74 | 3.99 | 4.10 | 000
29325 |  | A | Application of hip casts | 2.32 | 3.70 | 3.57 | 1.75 | 1.90 | 0.40 | 6.42 | 6.29 | 4.47 | 4.62 | 000
29345 |  | A | Application of long leg cast | 1.40 | 1.67 | 1.74 | 0.95 | 1.03 | 0.24 | 3.31 | 3.38 | 2.59 | 2.67 | 000
29355 |  | A | Application of long leg cast | 1.53 | 1.64 | 1.69 | 0.95 | 1.08 | 0.26 | 3.43 | 3.48 | 2.74 | 2.87 | 000
29358 |  | A | Apply long leg cast brace | 1.43 | 2.06 | 2.06 | 0.94 | 1.05 | 0.25 | 3.74 | 3.74 | 2.62 | 2.73 | 000
29365 |  | A | Application of long leg cast | 1.18 | 1.58 | 1.64 | 0.86 | 0.93 | 0.20 | 2.96 | 3.02 | 2.24 | 2.31 | 000
29405 |  | A | Apply short leg cast | 0.86 | 1.21 | 1.22 | 0.66 | 0.70 | 0.14 | 2.21 | 2.22 | 1.66 | 1.70 | 000
29425 |  | A | Apply short leg cast | 1.01 | 1.24 | 1.23 | 0.67 | 0.72 | 0.15 | 2.40 | 2.39 | 1.83 | 1.88 | 000
29435 |  | A | Apply short leg cast | 1.18 | 1.54 | 1.56 | 0.82 | 0.90 | 0.20 | 2.92 | 2.94 | 2.20 | 2.28 | 000
29440 |  | A | Addition of walker to cast | 0.57 | 0.62 | 0.67 | 0.25 | 0.27 | 0.08 | 1.27 | 1.32 | 0.90 | 0.92 | 000
29445 |  | A | Apply rigid leg cast | 1.78 | 1.62 | 1.76 | 0.93 | 0.95 | 0.27 | 3.67 | 3.81 | 2.98 | 3.00 | 000
29450 |  | A | Application of leg cast | 2.08 | 1.53 | 1.49 | 0.86 | 1.03 | 0.27 | 3.88 | 3.84 | 3.21 | 3.38 | 000
29505 |  | A | Application, long leg splint | 0.69 | 1.06 | 1.15 | 0.45 | 0.45 | 0.08 | 1.83 | 1.92 | 1.22 | 1.22 | 000
29515 |  | A | Application lower leg splint | 0.73 | 0.96 | 0.89 | 0.46 | 0.46 | 0.09 | 1.78 | 1.71 | 1.28 | 1.28 | 000
29520 |  | A | Strapping of hip | 0.54 | 0.68 | 0.81 | 0.38 | 0.45 | 0.03 | 1.25 | 1.38 | 0.95 | 1.02 | 000
29530 |  | A | Strapping of knee | 0.57 | 0.65 | 0.76 | 0.36 | 0.34 | 0.05 | 1.27 | 1.38 | 0.98 | 0.96 | 000
29540 |  | A | Strapping of ankle and/or ft | 0.51 | 0.55 | 0.45 | 0.31 | 0.31 | 0.06 | 1.12 | 1.02 | 0.88 | 0.88 | 000
29550 |  | A | Strapping of toes | 0.47 | 0.57 | 0.46 | 0.30 | 0.29 | 0.06 | 1.10 | 0.99 | 0.83 | 0.82 | 000
29580 |  | A | Application of paste boot | 0.55 | 0.73 | 0.67 | 0.34 | 0.35 | 0.07 | 1.35 | 1.29 | 0.96 | 0.97 | 000
29590 |  | A | Application of foot splint | 0.76 | 0.60 | 0.53 | 0.26 | 0.28 | 0.09 | 1.45 | 1.38 | 1.11 | 1.13 | 000
29700 |  | A | Removal/revision of cast | 0.57 | 0.97 | 0.91 | 0.26 | 0.28 | 0.08 | 1.62 | 1.56 | 0.91 | 0.93 | 000
29705 |  | A | Removal/revision of cast | 0.76 | 0.77 | 0.81 | 0.37 | 0.38 | 0.13 | 1.66 | 1.70 | 1.26 | 1.27 | 000
29710 |  | A | Removal/revision of cast | 1.34 | 1.45 | 1.51 | 0.63 | 0.68 | 0.20 | 2.99 | 3.05 | 2.17 | 2.22 | 000
29715 |  | A | Removal/revision of cast | 0.94 | 1.14 | 1.16 | 0.41 | 0.40 | 0.09 | 2.17 | 2.19 | 1.44 | 1.43 | 000
29720 |  | A | Repair of body cast | 0.68 | 1.15 | 1.16 | 0.34 | 0.38 | 0.12 | 1.95 | 1.96 | 1.14 | 1.18 | 000
29730 |  | A | Windowing of cast | 0.75 | 0.76 | 0.80 | 0.35 | 0.35 | 0.12 | 1.63 | 1.67 | 1.22 | 1.22 | 000
29740 |  | A | Wedging of cast | 1.12 | 1.05 | 1.13 | 0.49 | 0.49 | 0.18 | 2.35 | 2.43 | 1.79 | 1.79 | 000
29750 |  | A | Wedging of clubfoot cast | 1.26 | 0.91 | 1.02 | 0.44 | 0.55 | 0.21 | 2.38 | 2.49 | 1.91 | 2.02 | 000
29799 |  | C | Casting/strapping procedure | 0.00 | 0.00 | 0.00 | 0.00 | 0.00 | 0.00 | 0.00 | 0.00 | 0.00 | 0.00 | YYY
29800 |  | A | Jaw arthroscopy/surgery | 6.67 | NA | NA | 5.72 | 6.66 | 0.99 | NA | NA | 13.38 | 14.32 | 090
29804 |  | A | Jaw arthroscopy/surgery | 8.63 | NA | NA | 7.34 | 7.55 | 1.38 | NA | NA | 17.35 | 17.56 | 090
29805 |  | A | Shoulder arthroscopy, dx | 5.88 | NA | NA | 4.74 | 5.44 | 1.02 | NA | NA | 11.64 | 12.34 | 090
29806 |  | A | Shoulder arthroscopy/surgery | 14.85 | NA | NA | 9.41 | 10.72 | 2.49 | NA | NA | 26.75 | 28.06 | 090
29807 |  | A | Shoulder arthroscopy/surgery | 14.38 | NA | NA | 9.28 | 10.56 | 2.41 | NA | NA | 26.07 | 27.35 | 090
29819 |  | A | Shoulder arthroscopy/surgery | 7.61 | NA | NA | 5.66 | 6.51 | 1.32 | NA | NA | 14.59 | 15.44 | 090
29820 |  | A | Shoulder arthroscopy/surgery | 7.06 | NA | NA | 5.21 | 5.97 | 1.22 | NA | NA | 13.49 | 14.25 | 090
29821 |  | A | Shoulder arthroscopy/surgery | 7.71 | NA | NA | 5.68 | 6.52 | 1.33 | NA | NA | 14.72 | 15.56 | 090
29822 |  | A | Shoulder arthroscopy/surgery | 7.42 | NA | NA | 5.61 | 6.42 | 1.28 | NA | NA | 14.31 | 15.12 | 090
29823 |  | A | Shoulder arthroscopy/surgery | 8.16 | NA | NA | 6.07 | 6.93 | 1.41 | NA | NA | 15.64 | 16.50 | 090
29824 |  | A | Shoulder arthroscopy/surgery | 8.74 | NA | NA | 6.57 | 7.29 | 1.42 | NA | NA | 16.73 | 17.45 | 090
29825 |  | A | Shoulder arthroscopy/surgery | 7.61 | NA | NA | 5.67 | 6.49 | 1.32 | NA | NA | 14.60 | 15.42 | 090
29826 |  | A | Shoulder arthroscopy/surgery | 8.98 | NA | NA | 6.22 | 7.20 | 1.55 | NA | NA | 16.75 | 17.73 | 090
29827 |  | A | Arthroscop rotator cuff repr | 15.34 | NA | NA | 9.38 | 10.99 | 2.66 | NA | NA | 27.38 | 28.99 | 090
29830 |  | A | Elbow arthroscopy | 5.75 | NA | NA | 4.52 | 5.14 | 0.99 | NA | NA | 11.26 | 11.88 | 090
29834 |  | A | Elbow arthroscopy/surgery | 6.27 | NA | NA | 4.87 | 5.59 | 1.08 | NA | NA | 12.22 | 12.94 | 090
29835 |  | A | Elbow arthroscopy/surgery | 6.47 | NA | NA | 4.99 | 5.66 | 1.13 | NA | NA | 12.59 | 13.26 | 090
29836 |  | A | Elbow arthroscopy/surgery | 7.54 | NA | NA | 5.59 | 6.49 | 1.22 | NA | NA | 14.35 | 15.25 | 090
29837 |  | A | Elbow arthroscopy/surgery | 6.86 | NA | NA | 5.15 | 5.89 | 1.19 | NA | NA | 13.20 | 13.94 | 090
29838 |  | A | Elbow arthroscopy/surgery | 7.70 | NA | NA | 5.70 | 6.59 | 1.30 | NA | NA | 14.70 | 15.59 | 090
29840 |  | A | Wrist arthroscopy | 5.53 | NA | NA | 4.62 | 5.15 | 0.84 | NA | NA | 10.99 | 11.52 | 090
29843 |  | A | Wrist arthroscopy/surgery | 6.00 | NA | NA | 4.92 | 5.45 | 0.92 | NA | NA | 11.84 | 12.37 | 090
29844 |  | A | Wrist arthroscopy/surgery | 6.36 | NA | NA | 4.96 | 5.61 | 1.04 | NA | NA | 12.36 | 13.01 | 090
29845 |  | A | Wrist arthroscopy/surgery | 7.51 | NA | NA | 5.51 | 6.23 | 0.99 | NA | NA | 14.01 | 14.73 | 090
29846 |  | A | Wrist arthroscopy/surgery | 6.74 | NA | NA | 5.10 | 5.81 | 1.07 | NA | NA | 12.91 | 13.62 | 090
29847 |  | A | Wrist arthroscopy/surgery | 7.07 | NA | NA | 5.17 | 5.94 | 1.08 | NA | NA | 13.32 | 14.09 | 090
29848 |  | A | Wrist endoscopy/surgery | 6.18 | NA | NA | 5.29 | 5.52 | 0.86 | NA | NA | 12.33 | 12.56 | 090
29850 |  | A | Knee arthroscopy/surgery | 8.18 | NA | NA | 5.13 | 5.07 | 1.25 | NA | NA | 14.56 | 14.50 | 090
29851 |  | A | Knee arthroscopy/surgery | 13.08 | NA | NA | 8.32 | 9.42 | 2.34 | NA | NA | 23.74 | 24.84 | 090
29855 |  | A | Tibial arthroscopy/surgery | 10.60 | NA | NA | 7.39 | 8.42 | 1.84 | NA | NA | 19.83 | 20.86 | 090
29856 |  | A | Tibial arthroscopy/surgery | 14.12 | NA | NA | 8.76 | 10.19 | 2.39 | NA | NA | 25.27 | 26.70 | 090
29860 |  | A | Hip arthroscopy, dx | 8.79 | NA | NA | 6.23 | 6.77 | 1.36 | NA | NA | 16.38 | 16.92 | 090
29861 |  | A | Hip arthroscopy/surgery | 9.89 | NA | NA | 6.64 | 7.17 | 1.59 | NA | NA | 18.12 | 18.65 | 090
29862 |  | A | Hip arthroscopy/surgery | 10.89 | NA | NA | 7.62 | 8.33 | 1.62 | NA | NA | 20.13 | 20.84 | 090
29863 |  | A | Hip arthroscopy/surgery | 10.89 | NA | NA | 7.53 | 8.27 | 1.42 | NA | NA | 19.84 | 20.58 | 090
29866 |  | A | Autgrft implnt, knee w/scope | 14.38 | NA | NA | 9.54 | 10.90 | 2.39 | NA | NA | 26.31 | 27.67 | 090
29867 |  | A | Allgrft implnt, knee w/scope | 18.08 | NA | NA | 11.24 | 12.73 | 2.78 | NA | NA | 32.10 | 33.59 | 090
29868 |  | A | Meniscal trnspl, knee w/scpe | 24.79 | NA | NA | 13.94 | 16.08 | 4.35 | NA | NA | 43.08 | 45.22 | 090
29870 |  | A | Knee arthroscopy, dx | 5.06 | NA | NA | 4.18 | 4.71 | 0.85 | NA | NA | 10.09 | 10.62 | 090
29871 |  | A | Knee arthroscopy/drainage | 6.54 | NA | NA | 5.03 | 5.66 | 1.14 | NA | NA | 12.71 | 13.34 | 090
29873 |  | A | Knee arthroscopy/surgery | 5.99 | NA | NA | 5.61 | 6.33 | 1.04 | NA | NA | 12.64 | 13.36 | 090
29874 |  | A | Knee arthroscopy/surgery | 7.04 | NA | NA | 5.18 | 5.85 | 1.11 | NA | NA | 13.33 | 14.00 | 090
29875 |  | A | Knee arthroscopy/surgery | 6.30 | NA | NA | 4.92 | 5.62 | 1.09 | NA | NA | 12.31 | 13.01 | 090
29876 |  | A | Knee arthroscopy/surgery | 8.66 | NA | NA | 6.23 | 6.82 | 1.37 | NA | NA | 16.26 | 16.85 | 090
29877 |  | A | Knee arthroscopy/surgery | 8.09 | NA | NA | 5.99 | 6.55 | 1.28 | NA | NA | 15.36 | 15.92 | 090
29879 |  | A | Knee arthroscopy/surgery | 8.78 | NA | NA | 6.28 | 6.91 | 1.39 | NA | NA | 16.45 | 17.08 | 090
29880 |  | A | Knee arthroscopy/surgery | 9.24 | NA | NA | 6.48 | 7.14 | 1.47 | NA | NA | 17.19 | 17.85 | 090
29881 |  | A | Knee arthroscopy/surgery | 8.50 | NA | NA | 6.18 | 6.77 | 1.34 | NA | NA | 16.02 | 16.61 | 090
29882 |  | A | Knee arthroscopy/surgery | 9.39 | NA | NA | 6.52 | 7.06 | 1.50 | NA | NA | 17.41 | 17.95 | 090
29883 |  | A | Knee arthroscopy/surgery | 11.53 | NA | NA | 7.65 | 8.71 | 1.92 | NA | NA | 21.10 | 22.16 | 090
29884 |  | A | Knee arthroscopy/surgery | 8.07 | NA | NA | 6.01 | 6.53 | 1.27 | NA | NA | 15.35 | 15.87 | 090
29885 |  | A | Knee arthroscopy/surgery | 9.96 | NA | NA | 7.05 | 7.74 | 1.58 | NA | NA | 18.58 | 19.28 | 090
29886 |  | A | Knee arthroscopy/surgery | 8.28 | NA | NA | 6.08 | 6.66 | 1.30 | NA | NA | 15.66 | 16.24 | 090
29887 |  | A | Knee arthroscopy/surgery | 9.91 | NA | NA | 7.04 | 7.71 | 1.57 | NA | NA | 18.52 | 19.19 | 090
29888 |  | A | Knee arthroscopy/surgery | 14.06 | NA | NA | 8.34 | 9.74 | 2.41 | NA | NA | 24.81 | 26.21 | 090
29889 |  | A | Knee arthroscopy/surgery | 17.05 | NA | NA | 10.75 | 12.01 | 2.78 | NA | NA | 30.58 | 31.84 | 090
29891 |  | A | Ankle arthroscopy/surgery | 9.39 | NA | NA | 6.69 | 7.31 | 1.39 | NA | NA | 17.47 | 18.09 | 090
29892 |  | A | Ankle arthroscopy/surgery | 9.99 | NA | NA | 6.58 | 7.45 | 1.41 | NA | NA | 17.98 | 18.85 | 090
29893 |  | A | Scope, plantar fasciotomy | 5.96 | 8.86 | 6.93 | 4.67 | 4.16 | 0.63 | 15.45 | 13.52 | 11.26 | 10.75 | 090
29894 |  | A | Ankle arthroscopy/surgery | 7.20 | NA | NA | 4.72 | 5.28 | 1.15 | NA | NA | 13.07 | 13.63 | 090
29895 |  | A | Ankle arthroscopy/surgery | 6.98 | NA | NA | 4.54 | 5.24 | 1.11 | NA | NA | 12.63 | 13.33 | 090
29897 |  | A | Ankle arthroscopy/surgery | 7.17 | NA | NA | 4.96 | 5.65 | 1.17 | NA | NA | 13.30 | 13.99 | 090
29898 |  | A | Ankle arthroscopy/surgery | 8.31 | NA | NA | 5.29 | 5.97 | 1.28 | NA | NA | 14.88 | 15.56 | 090
29899 |  | A | Ankle arthroscopy/surgery | 15.13 | NA | NA | 9.30 | 10.23 | 2.40 | NA | NA | 26.83 | 27.76 | 090
29900 |  | A | Mcp joint arthroscopy, dx | 5.66 | NA | NA | 4.74 | 5.58 | 0.94 | NA | NA | 11.34 | 12.18 | 090
29901 |  | A | Mcp joint arthroscopy, surg | 6.37 | NA | NA | 5.50 | 6.07 | 1.06 | NA | NA | 12.93 | 13.50 | 090
29902 |  | A | Mcp joint arthroscopy, surg | 6.94 | NA | NA | 3.68 | 5.83 | 1.12 | NA | NA | 11.74 | 13.89 | 090
29999 |  | C | Arthroscopy of joint | 0.00 | 0.00 | 0.00 | 0.00 | 0.00 | 0.00 | 0.00 | 0.00 | 0.00 | 0.00 | YYY
30000 |  | A | Drainage of nose lesion | 1.43 | 3.73 | 3.99 | 1.23 | 1.35 | 0.12 | 5.28 | 5.54 | 2.78 | 2.90 | 010
30020 |  | A | Drainage of nose lesion | 1.43 | 3.86 | 3.42 | 1.26 | 1.42 | 0.12 | 5.41 | 4.97 | 2.81 | 2.97 | 010
30100 |  | A | Intranasal biopsy | 0.94 | 2.40 | 2.08 | 0.68 | 0.79 | 0.07 | 3.41 | 3.09 | 1.69 | 1.80 | 000
30110 |  | A | Removal of nose polyp(s) | 1.63 | 3.62 | 3.34 | 1.32 | 1.51 | 0.14 | 5.39 | 5.11 | 3.09 | 3.28 | 010
30115 |  | A | Removal of nose polyp(s) | 4.34 | NA | NA | 5.47 | 5.69 | 0.41 | NA | NA | 10.22 | 10.44 | 090
30117 |  | A | Removal of intranasal lesion | 3.16 | 16.90 | 14.08 | 4.51 | 4.60 | 0.26 | 20.32 | 17.50 | 7.93 | 8.02 | 090
30118 |  | A | Removal of intranasal lesion | 9.74 | NA | NA | 7.73 | 8.83 | 0.78 | NA | NA | 18.25 | 19.35 | 090
30120 |  | A | Revision of nose | 5.26 | 6.78 | 6.56 | 4.84 | 5.71 | 0.52 | 12.56 | 12.34 | 10.62 | 11.49 | 090
30124 |  | A | Removal of nose lesion | 3.10 | NA | NA | 3.59 | 3.61 | 0.25 | NA | NA | 6.94 | 6.96 | 090
30125 |  | A | Removal of nose lesion | 7.15 | NA | NA | 7.00 | 7.99 | 0.63 | NA | NA | 14.78 | 15.77 | 090
30130 |  | A | Excise inferior turbinate | 3.37 | NA | NA | 5.28 | 5.51 | 0.31 | NA | NA | 8.96 | 9.19 | 090
30140 |  | A | Resect inferior turbinate | 3.42 | NA | NA | 6.54 | 6.28 | 0.35 | NA | NA | 10.31 | 10.05 | 090
30150 |  | A | Partial removal of nose | 9.37 | NA | NA | 8.50 | 10.38 | 0.93 | NA | NA | 18.80 | 20.68 | 090
30160 |  | A | Removal of nose | 9.81 | NA | NA | 8.12 | 9.69 | 0.88 | NA | NA | 18.81 | 20.38 | 090
30200 |  | A | Injection treatment of nose | 0.78 | 1.87 | 1.68 | 0.61 | 0.71 | 0.06 | 2.71 | 2.52 | 1.45 | 1.55 | 000
30210 |  | A | Nasal sinus therapy | 1.08 | 2.31 | 2.15 | 1.15 | 1.27 | 0.09 | 3.48 | 3.32 | 2.32 | 2.44 | 010
30220 |  | A | Insert nasal septal button | 1.54 | 5.41 | 4.53 | 1.29 | 1.47 | 0.12 | 7.07 | 6.19 | 2.95 | 3.13 | 010
30300 |  | A | Remove nasal foreign body | 1.04 | 4.14 | 4.51 | 1.79 | 1.88 | 0.08 | 5.26 | 5.63 | 2.91 | 3.00 | 010
30310 |  | A | Remove nasal foreign body | 1.96 | NA | NA | 2.71 | 3.00 | 0.16 | NA | NA | 4.83 | 5.12 | 010
30320 |  | A | Remove nasal foreign body | 4.51 | NA | NA | 5.93 | 6.76 | 0.39 | NA | NA | 10.83 | 11.66 | 090
30400 |  | R | Reconstruction of nose | 10.46 | NA | NA | 13.64 | 15.03 | 1.04 | NA | NA | 25.14 | 26.53 | 090
30410 |  | R | Reconstruction of nose | 13.60 | NA | NA | 14.27 | 17.35 | 1.42 | NA | NA | 29.29 | 32.37 | 090
30420 |  | R | Reconstruction of nose | 16.50 | NA | NA | 14.69 | 17.11 | 1.46 | NA | NA | 32.65 | 35.07 | 090
30430 |  | R | Revision of nose | 7.84 | NA | NA | 12.76 | 15.20 | 0.77 | NA | NA | 21.37 | 23.81 | 090
30435 |  | R | Revision of nose | 12.33 | NA | NA | 14.67 | 18.18 | 1.22 | NA | NA | 28.22 | 31.73 | 090
30450 |  | R | Revision of nose | 19.26 | NA | NA | 16.12 | 20.45 | 1.96 | NA | NA | 37.34 | 41.67 | 090
30460 |  | A | Revision of nose | 10.20 | NA | NA | 7.13 | 9.24 | 1.03 | NA | NA | 18.36 | 20.47 | 090
30462 |  | A | Revision of nose | 20.04 | NA | NA | 14.29 | 18.75 | 2.53 | NA | NA | 36.86 | 41.32 | 090
30465 |  | A | Repair nasal stenosis | 12.12 | NA | NA | 10.25 | 11.54 | 1.06 | NA | NA | 23.43 | 24.72 | 090
30520 |  | A | Repair of nasal septum | 7.63 | NA | NA | 7.58 | 6.89 | 0.46 | NA | NA | 15.67 | 14.98 | 090
30540 |  | A | Repair nasal defect | 7.74 | NA | NA | 7.01 | 8.71 | 0.67 | NA | NA | 15.42 | 17.12 | 090
30545 |  | A | Repair nasal defect | 11.42 | NA | NA | 10.02 | 11.43 | 1.70 | NA | NA | 23.14 | 24.55 | 090
30560 |  | A | Release of nasal adhesions | 1.26 | 4.93 | 4.81 | 1.87 | 2.07 | 0.10 | 6.29 | 6.17 | 3.23 | 3.43 | 010
30580 |  | A | Repair upper jaw fistula | 6.68 | 8.15 | 7.87 | 4.69 | 5.52 | 0.89 | 15.72 | 15.44 | 12.26 | 13.09 | 090
30600 |  | A | Repair mouth/nose fistula | 6.01 | 7.47 | 7.51 | 4.04 | 4.78 | 0.70 | 14.18 | 14.22 | 10.75 | 11.49 | 090
30620 |  | A | Intranasal reconstruction | 5.96 | NA | NA | 8.08 | 8.64 | 0.57 | NA | NA | 14.61 | 15.17 | 090
30630 |  | A | Repair nasal septum defect | 7.11 | NA | NA | 7.05 | 7.73 | 0.61 | NA | NA | 14.77 | 15.45 | 090
30801 |  | A | Ablate inf turbinate, superf | 1.09 | 4.03 | 4.11 | 1.97 | 1.93 | 0.09 | 5.21 | 5.29 | 3.15 | 3.11 | 010
30802 |  | A | Cauterization, inner nose | 2.03 | 4.60 | 4.61 | 2.30 | 2.35 | 0.16 | 6.79 | 6.80 | 4.49 | 4.54 | 010
30901 |  | A | Control of nosebleed | 1.21 | 1.20 | 1.32 | 0.28 | 0.31 | 0.11 | 2.52 | 2.64 | 1.60 | 1.63 | 000
30903 |  | A | Control of nosebleed | 1.54 | 3.07 | 2.80 | 0.38 | 0.47 | 0.13 | 4.74 | 4.47 | 2.05 | 2.14 | 000
30905 |  | A | Control of nosebleed | 1.97 | 3.73 | 3.57 | 0.46 | 0.69 | 0.17 | 5.87 | 5.71 | 2.60 | 2.83 | 000
30906 |  | A | Repeat control of nosebleed | 2.45 | 3.96 | 3.91 | 0.66 | 1.07 | 0.20 | 6.61 | 6.56 | 3.31 | 3.72 | 000
30915 |  | A | Ligation, nasal sinus artery | 7.31 | NA | NA | 5.80 | 6.47 | 0.58 | NA | NA | 13.69 | 14.36 | 090
30920 |  | A | Ligation, upper jaw artery | 10.97 | NA | NA | 8.11 | 8.76 | 0.80 | NA | NA | 19.88 | 20.53 | 090
30930 |  | A | Ther fx, nasal inf turbinate | 1.26 | NA | NA | 1.52 | 1.60 | 0.12 | NA | NA | 2.90 | 2.98 | 010
30999 |  | C | Nasal surgery procedure | 0.00 | 0.00 | 0.00 | 0.00 | 0.00 | 0.00 | 0.00 | 0.00 | 0.00 | 0.00 | YYY
31000 |  | A | Irrigation, maxillary sinus | 1.15 | 3.00 | 2.88 | 1.23 | 1.36 | 0.09 | 4.24 | 4.12 | 2.47 | 2.60 | 010
31002 |  | A | Irrigation, sphenoid sinus | 1.91 | NA | NA | 2.51 | 3.06 | 0.15 | NA | NA | 4.57 | 5.12 | 010
31020 |  | A | Exploration, maxillary sinus | 2.94 | 8.06 | 8.41 | 5.16 | 5.18 | 0.29 | 11.29 | 11.64 | 8.39 | 8.41 | 090
31030 |  | A | Exploration, maxillary sinus | 5.91 | 9.77 | 11.07 | 6.01 | 6.50 | 0.60 | 16.28 | 17.58 | 12.52 | 13.01 | 090
31032 |  | A | Explore sinus, remove polyps | 6.56 | NA | NA | 6.46 | 7.04 | 0.59 | NA | NA | 13.61 | 14.19 | 090
31040 |  | A | Exploration behind upper jaw | 9.59 | NA | NA | 7.26 | 9.18 | 0.87 | NA | NA | 17.72 | 19.64 | 090
31050 |  | A | Exploration, sphenoid sinus | 5.27 | NA | NA | 6.12 | 6.29 | 0.49 | NA | NA | 11.88 | 12.05 | 090
31051 |  | A | Sphenoid sinus surgery | 7.10 | NA | NA | 7.68 | 8.10 | 0.62 | NA | NA | 15.40 | 15.82 | 090
31070 |  | A | Exploration of frontal sinus | 4.27 | NA | NA | 5.68 | 5.87 | 0.38 | NA | NA | 10.33 | 10.52 | 090
31075 |  | A | Exploration of frontal sinus | 9.33 | NA | NA | 8.49 | 9.42 | 0.75 | NA | NA | 18.57 | 19.50 | 090
31080 |  | A | Removal of frontal sinus | 12.46 | NA | NA | 10.39 | 12.75 | 1.23 | NA | NA | 24.08 | 26.44 | 090
31081 |  | A | Removal of frontal sinus | 13.91 | NA | NA | 14.59 | 14.15 | 2.46 | NA | NA | 30.96 | 30.52 | 090
31084 |  | A | Removal of frontal sinus | 14.67 | NA | NA | 11.82 | 13.08 | 1.19 | NA | NA | 27.68 | 28.94 | 090
31085 |  | A | Removal of frontal sinus | 15.36 | NA | NA | 12.90 | 13.70 | 1.72 | NA | NA | 29.98 | 30.78 | 090
31086 |  | A | Removal of frontal sinus | 14.08 | NA | NA | 11.66 | 12.88 | 1.07 | NA | NA | 26.81 | 28.03 | 090
31087 |  | A | Removal of frontal sinus | 14.32 | NA | NA | 10.69 | 12.07 | 1.44 | NA | NA | 26.45 | 27.83 | 090
31090 |  | A | Exploration of sinuses | 10.78 | NA | NA | 12.26 | 12.48 | 0.94 | NA | NA | 23.98 | 24.20 | 090
31200 |  | A | Removal of ethmoid sinus | 4.96 | NA | NA | 7.42 | 8.76 | 0.29 | NA | NA | 12.67 | 14.01 | 090
31201 |  | A | Removal of ethmoid sinus | 8.42 | NA | NA | 8.22 | 8.93 | 0.82 | NA | NA | 17.46 | 18.17 | 090
31205 |  | A | Removal of ethmoid sinus | 10.40 | NA | NA | 9.52 | 11.29 | 0.67 | NA | NA | 20.59 | 22.36 | 090
31225 |  | A | Removal of upper jaw | 26.34 | NA | NA | 16.28 | 17.44 | 1.59 | NA | NA | 44.21 | 45.37 | 090
31230 |  | A | Removal of upper jaw | 30.46 | NA | NA | 16.95 | 18.76 | 1.77 | NA | NA | 49.18 | 50.99 | 090
31231 |  | A | Nasal endoscopy, dx | 1.10 | 3.34 | 3.37 | 0.69 | 0.83 | 0.09 | 4.53 | 4.56 | 1.88 | 2.02 | 000
31233 |  | A | Nasal/sinus endoscopy, dx | 2.18 | 3.94 | 4.21 | 0.99 | 1.36 | 0.20 | 6.32 | 6.59 | 3.37 | 3.74 | 000
31235 |  | A | Nasal/sinus endoscopy, dx | 2.64 | 4.28 | 4.75 | 1.12 | 1.57 | 0.26 | 7.18 | 7.65 | 4.02 | 4.47 | 000
31237 |  | A | Nasal/sinus endoscopy, surg | 2.98 | 4.51 | 5.02 | 1.22 | 1.72 | 0.28 | 7.77 | 8.28 | 4.48 | 4.98 | 000
31238 |  | A | Nasal/sinus endoscopy, surg | 3.26 | 4.43 | 5.03 | 1.30 | 1.89 | 0.27 | 7.96 | 8.56 | 4.83 | 5.42 | 000
31239 |  | A | Nasal/sinus endoscopy, surg | 9.19 | NA | NA | 6.27 | 7.57 | 0.62 | NA | NA | 16.08 | 17.38 | 010
31240 |  | A | Nasal/sinus endoscopy, surg | 2.61 | NA | NA | 1.12 | 1.58 | 0.24 | NA | NA | 3.97 | 4.43 | 000
31254 |  | A | Revision of ethmoid sinus | 4.64 | NA | NA | 1.70 | 2.56 | 0.45 | NA | NA | 6.79 | 7.65 | 000
31255 |  | A | Removal of ethmoid sinus | 6.95 | NA | NA | 2.34 | 3.67 | 0.73 | NA | NA | 10.02 | 11.35 | 000
31256 |  | A | Exploration maxillary sinus | 3.29 | NA | NA | 1.31 | 1.91 | 0.33 | NA | NA | 4.93 | 5.53 | 000
31267 |  | A | Endoscopy, maxillary sinus | 5.45 | NA | NA | 1.92 | 2.95 | 0.55 | NA | NA | 7.92 | 8.95 | 000
31276 |  | A | Sinus endoscopy, surgical | 8.84 | NA | NA | 2.87 | 4.56 | 0.92 | NA | NA | 12.63 | 14.32 | 000
31287 |  | A | Nasal/sinus endoscopy, surg | 3.91 | NA | NA | 1.48 | 2.21 | 0.39 | NA | NA | 5.78 | 6.51 | 000
31288 |  | A | Nasal/sinus endoscopy, surg | 4.57 | NA | NA | 1.67 | 2.53 | 0.46 | NA | NA | 6.70 | 7.56 | 000
31290 |  | A | Nasal/sinus endoscopy, surg | 18.46 | NA | NA | 7.99 | 11.04 | 1.40 | NA | NA | 27.85 | 30.90 | 010
31291 |  | A | Nasal/sinus endoscopy, surg | 19.41 | NA | NA | 8.60 | 11.50 | 1.68 | NA | NA | 29.69 | 32.59 | 010
31292 |  | A | Nasal/sinus endoscopy, surg | 15.75 | NA | NA | 7.20 | 9.76 | 1.21 | NA | NA | 24.16 | 26.72 | 010
31293 |  | A | Nasal/sinus endoscopy, surg | 17.32 | NA | NA | 7.82 | 10.49 | 1.28 | NA | NA | 26.42 | 29.09 | 010
31294 |  | A | Nasal/sinus endoscopy, surg | 20.16 | NA | NA | 8.72 | 11.83 | 1.53 | NA | NA | 30.41 | 33.52 | 010
31299 |  | C | Sinus surgery procedure | 0.00 | 0.00 | 0.00 | 0.00 | 0.00 | 0.00 | 0.00 | 0.00 | 0.00 | 0.00 | YYY
31300 |  | A | Removal of larynx lesion | 15.63 | NA | NA | 13.43 | 14.59 | 1.17 | NA | NA | 30.23 | 31.39 | 090
31320 |  | A | Diagnostic incision, larynx | 5.55 | NA | NA | 9.17 | 10.02 | 0.46 | NA | NA | 15.18 | 16.03 | 090
31360 |  | A | Removal of larynx | 27.23 | NA | NA | 17.39 | 16.89 | 1.38 | NA | NA | 46.00 | 45.50 | 090
31365 |  | A | Removal of larynx | 34.85 | NA | NA | 19.55 | 20.16 | 1.97 | NA | NA | 56.37 | 56.98 | 090
31367 |  | A | Partial removal of larynx | 27.11 | NA | NA | 19.32 | 21.25 | 1.78 | NA | NA | 48.21 | 50.14 | 090
31368 |  | A | Partial removal of larynx | 33.73 | NA | NA | 22.12 | 24.65 | 2.20 | NA | NA | 58.05 | 60.58 | 090
31370 |  | A | Partial removal of larynx | 27.11 | NA | NA | 20.11 | 21.72 | 1.74 | NA | NA | 48.96 | 50.57 | 090
31375 |  | A | Partial removal of larynx | 25.61 | NA | NA | 19.22 | 20.09 | 1.63 | NA | NA | 46.46 | 47.33 | 090
31380 |  | A | Partial removal of larynx | 25.11 | NA | NA | 18.90 | 20.18 | 1.70 | NA | NA | 45.71 | 46.99 | 090
31382 |  | A | Partial removal of larynx | 28.11 | NA | NA | 20.41 | 21.31 | 1.67 | NA | NA | 50.19 | 51.09 | 090
31390 |  | A | Removal of larynx & pharynx | 38.72 | NA | NA | 22.29 | 23.86 | 2.23 | NA | NA | 63.24 | 64.81 | 090
31395 |  | A | Reconstruct larynx & pharynx | 43.34 | NA | NA | 25.53 | 27.61 | 2.48 | NA | NA | 71.35 | 73.43 | 090
31400 |  | A | Revision of larynx | 11.40 | NA | NA | 11.42 | 13.18 | 0.83 | NA | NA | 23.65 | 25.41 | 090
31420 |  | A | Removal of epiglottis | 11.25 | NA | NA | 7.82 | 9.11 | 0.83 | NA | NA | 19.90 | 21.19 | 090
31500 |  | A | Insert emergency airway | 2.33 | NA | NA | 0.43 | 0.52 | 0.17 | NA | NA | 2.93 | 3.02 | 000
31502 |  | A | Change of windpipe airway | 0.65 | NA | NA | 0.20 | 0.26 | 0.05 | NA | NA | 0.90 | 0.96 | 000
31505 |  | A | Diagnostic laryngoscopy | 0.61 | 1.33 | 1.42 | 0.54 | 0.59 | 0.05 | 1.99 | 2.08 | 1.20 | 1.25 | 000
31510 |  | A | Laryngoscopy with biopsy | 1.92 | 2.98 | 3.22 | 0.91 | 1.17 | 0.16 | 5.06 | 5.30 | 2.99 | 3.25 | 000
31511 |  | A | Remove foreign body, larynx | 2.16 | 2.75 | 3.03 | 0.93 | 1.03 | 0.19 | 5.10 | 5.38 | 3.28 | 3.38 | 000
31512 |  | A | Removal of larynx lesion | 2.07 | 2.73 | 3.08 | 0.95 | 1.26 | 0.18 | 4.98 | 5.33 | 3.20 | 3.51 | 000
31513 |  | A | Injection into vocal cord | 2.10 | NA | NA | 0.97 | 1.34 | 0.17 | NA | NA | 3.24 | 3.61 | 000
31515 |  | A | Laryngoscopy for aspiration | 1.80 | 3.06 | 3.42 | 0.83 | 1.00 | 0.14 | 5.00 | 5.36 | 2.77 | 2.94 | 000
31520 |  | A | Dx laryngoscopy, newborn | 2.56 | NA | NA | 1.09 | 1.44 | 0.20 | NA | NA | 3.85 | 4.20 | 000
31525 |  | A | Dx laryngoscopy excl nb | 2.63 | 3.22 | 3.54 | 1.10 | 1.52 | 0.21 | 6.06 | 6.38 | 3.94 | 4.36 | 000
31526 |  | A | Dx laryngoscopy w/oper scope | 2.57 | NA | NA | 1.10 | 1.57 | 0.21 | NA | NA | 3.88 | 4.35 | 000
31527 |  | A | Laryngoscopy for treatment | 3.27 | NA | NA | 1.29 | 1.73 | 0.26 | NA | NA | 4.82 | 5.26 | 000
31528 |  | A | Laryngoscopy and dilation | 2.37 | NA | NA | 0.97 | 1.34 | 0.19 | NA | NA | 3.53 | 3.90 | 000
31529 |  | A | Laryngoscopy and dilation | 2.68 | NA | NA | 1.09 | 1.56 | 0.22 | NA | NA | 3.99 | 4.46 | 000
31530 |  | A | Laryngoscopy w/fb removal | 3.38 | NA | NA | 1.29 | 1.79 | 0.29 | NA | NA | 4.96 | 5.46 | 000
31531 |  | A | Laryngoscopy w/fb & op scope | 3.58 | NA | NA | 1.39 | 2.05 | 0.29 | NA | NA | 5.26 | 5.92 | 000
31535 |  | A | Laryngoscopy w/biopsy | 3.16 | NA | NA | 1.27 | 1.81 | 0.26 | NA | NA | 4.69 | 5.23 | 000
31536 |  | A | Laryngoscopy w/bx & op scope | 3.55 | NA | NA | 1.38 | 2.03 | 0.29 | NA | NA | 5.22 | 5.87 | 000
31540 |  | A | Laryngoscopy w/exc of tumor | 4.12 | NA | NA | 1.54 | 2.29 | 0.33 | NA | NA | 5.99 | 6.74 | 000
31541 |  | A | Larynscop w/tumr exc + scope | 4.52 | NA | NA | 1.66 | 2.50 | 0.37 | NA | NA | 6.55 | 7.39 | 000
31545 |  | A | Remove vc lesion w/scope | 6.30 | NA | NA | 2.19 | 3.15 | 0.37 | NA | NA | 8.86 | 9.82 | 000
31546 |  | A | Remove vc lesion scope/graft | 9.73 | NA | NA | 3.71 | 4.66 | 0.78 | NA | NA | 14.22 | 15.17 | 000
31560 |  | A | Laryngoscop w/arytenoidectom | 5.45 | NA | NA | 1.87 | 2.83 | 0.43 | NA | NA | 7.75 | 8.71 | 000
31561 |  | A | Larynscop, remve cart + scop | 5.99 | NA | NA | 2.02 | 3.03 | 0.49 | NA | NA | 8.50 | 9.51 | 000
31570 |  | A | Laryngoscope w/vc inj | 3.86 | 3.93 | 5.24 | 1.46 | 2.15 | 0.31 | 8.10 | 9.41 | 5.63 | 6.32 | 000
31571 |  | A | Laryngoscop w/vc inj + scope | 4.26 | NA | NA | 1.58 | 2.35 | 0.35 | NA | NA | 6.19 | 6.96 | 000
31575 |  | A | Diagnostic laryngoscopy | 1.10 | 1.56 | 1.82 | 0.69 | 0.84 | 0.09 | 2.75 | 3.01 | 1.88 | 2.03 | 000
31576 |  | A | Laryngoscopy with biopsy | 1.97 | 3.26 | 3.56 | 0.94 | 1.20 | 0.14 | 5.37 | 5.67 | 3.05 | 3.31 | 000
31577 |  | A | Remove foreign body, larynx | 2.47 | 3.22 | 3.63 | 1.09 | 1.42 | 0.21 | 5.90 | 6.31 | 3.77 | 4.10 | 000
31578 |  | A | Removal of larynx lesion | 2.84 | 3.66 | 4.13 | 1.18 | 1.44 | 0.23 | 6.73 | 7.20 | 4.25 | 4.51 | 000
31579 |  | A | Diagnostic laryngoscopy | 2.26 | 2.63 | 3.49 | 1.02 | 1.37 | 0.18 | 5.07 | 5.93 | 3.46 | 3.81 | 000
31580 |  | A | Revision of larynx | 14.38 | NA | NA | 13.35 | 15.27 | 1.00 | NA | NA | 28.73 | 30.65 | 090
31582 |  | A | Revision of larynx | 22.73 | NA | NA | 20.27 | 24.42 | 1.75 | NA | NA | 44.75 | 48.90 | 090
31584 |  | A | Treat larynx fracture | 20.27 | NA | NA | 14.11 | 17.14 | 1.71 | NA | NA | 36.09 | 39.12 | 090
31587 |  | A | Revision of larynx | 15.06 | NA | NA | 7.88 | 8.92 | 0.97 | NA | NA | 23.91 | 24.95 | 090
31588 |  | A | Revision of larynx | 14.48 | NA | NA | 11.28 | 13.03 | 1.06 | NA | NA | 26.82 | 28.57 | 090
31590 |  | A | Reinnervate larynx | 7.53 | NA | NA | 11.98 | 14.64 | 0.84 | NA | NA | 20.35 | 23.01 | 090
31595 |  | A | Larynx nerve surgery | 8.69 | NA | NA | 8.86 | 10.13 | 0.68 | NA | NA | 18.23 | 19.50 | 090
31599 |  | C | Larynx surgery procedure | 0.00 | 0.00 | 0.00 | 0.00 | 0.00 | 0.00 | 0.00 | 0.00 | 0.00 | 0.00 | YYY
31600 |  | A | Incision of windpipe | 7.17 | NA | NA | 2.19 | 2.94 | 0.80 | NA | NA | 10.16 | 10.91 | 000
31601 |  | A | Incision of windpipe | 4.44 | NA | NA | 1.61 | 2.20 | 0.40 | NA | NA | 6.45 | 7.04 | 000
31603 |  | A | Incision of windpipe | 4.14 | NA | NA | 1.11 | 1.56 | 0.44 | NA | NA | 5.69 | 6.14 | 000
31605 |  | A | Incision of windpipe | 3.57 | NA | NA | 0.82 | 1.10 | 0.40 | NA | NA | 4.79 | 5.07 | 000
31610 |  | A | Incision of windpipe | 9.23 | NA | NA | 7.12 | 7.98 | 0.79 | NA | NA | 17.14 | 18.00 | 090
31611 |  | A | Surgery/speech prosthesis | 5.87 | NA | NA | 6.44 | 6.91 | 0.46 | NA | NA | 12.77 | 13.24 | 090
31612 |  | A | Puncture/clear windpipe | 0.91 | 1.07 | 1.09 | 0.24 | 0.32 | 0.08 | 2.06 | 2.08 | 1.23 | 1.31 | 000
31613 |  | A | Repair windpipe opening | 4.58 | NA | NA | 5.79 | 5.94 | 0.42 | NA | NA | 10.79 | 10.94 | 090
31614 |  | A | Repair windpipe opening | 8.39 | NA | NA | 8.81 | 8.74 | 0.58 | NA | NA | 17.78 | 17.71 | 090
31615 |  | A | Visualization of windpipe | 2.09 | 2.21 | 2.50 | 0.95 | 1.14 | 0.16 | 4.46 | 4.75 | 3.20 | 3.39 | 000
31620 |  | A | Endobronchial us add-on | 1.40 | 6.04 | 5.74 | 0.34 | 0.50 | 0.11 | 7.55 | 7.25 | 1.85 | 2.01 | ZZZ
31622 |  | A | Dx bronchoscope/wash | 2.78 | 5.26 | 5.55 | 0.90 | 1.02 | 0.18 | 8.22 | 8.51 | 3.86 | 3.98 | 000
31623 |  | A | Dx bronchoscope/brush | 2.88 | 6.03 | 6.32 | 0.90 | 1.01 | 0.13 | 9.04 | 9.33 | 3.91 | 4.02 | 000
31624 |  | A | Dx bronchoscope/lavage | 2.88 | 5.38 | 5.67 | 0.90 | 1.01 | 0.13 | 8.39 | 8.68 | 3.91 | 4.02 | 000
31625 |  | A | Bronchoscopy w/biopsy(s) | 3.36 | 5.52 | 5.74 | 1.02 | 1.16 | 0.18 | 9.06 | 9.28 | 4.56 | 4.70 | 000
31628 |  | A | Bronchoscopy/lung bx, each | 3.80 | 7.02 | 7.02 | 1.11 | 1.25 | 0.18 | 11.00 | 11.00 | 5.09 | 5.23 | 000
31629 |  | A | Bronchoscopy/needle bx, each | 4.09 | 12.10 | 13.71 | 1.19 | 1.35 | 0.16 | 16.35 | 17.96 | 5.44 | 5.60 | 000
31630 |  | A | Bronchoscopy dilate/fx repr | 3.81 | NA | NA | 1.25 | 1.60 | 0.32 | NA | NA | 5.38 | 5.73 | 000
31631 |  | A | Bronchoscopy, dilate w/stent | 4.36 | NA | NA | 1.39 | 1.67 | 0.34 | NA | NA | 6.09 | 6.37 | 000
31632 |  | A | Bronchoscopy/lung bx, addIl | 1.03 | 0.86 | 0.82 | 0.24 | 0.29 | 0.18 | 2.07 | 2.03 | 1.45 | 1.50 | ZZZ
31633 |  | A | Bronchoscopy/needle bx addIl | 1.32 | 0.99 | 0.94 | 0.31 | 0.38 | 0.16 | 2.47 | 2.42 | 1.79 | 1.86 | ZZZ
31635 |  | A | Bronchoscopy w/fb removal | 3.67 | 5.20 | 5.88 | 1.13 | 1.36 | 0.24 | 9.11 | 9.79 | 5.04 | 5.27 | 000
31636 |  | A | Bronchoscopy, bronch stents | 4.30 | NA | NA | 1.37 | 1.66 | 0.31 | NA | NA | 5.98 | 6.27 | 000
31637 |  | A | Bronchoscopy, stent add-on | 1.58 | NA | NA | 0.42 | 0.53 | 0.13 | NA | NA | 2.13 | 2.24 | ZZZ
31638 |  | A | Bronchoscopy, revise stent | 4.88 | NA | NA | 1.55 | 1.87 | 0.22 | NA | NA | 6.65 | 6.97 | 000
31640 |  | A | Bronchoscopy w/tumor excise | 4.93 | NA | NA | 1.52 | 1.93 | 0.46 | NA | NA | 6.91 | 7.32 | 000
31641 |  | A | Bronchoscopy, treat blockage | 5.02 | NA | NA | 1.49 | 1.78 | 0.35 | NA | NA | 6.86 | 7.15 | 000
31643 |  | A | Diag bronchoscope/catheter | 3.49 | NA | NA | 1.05 | 1.19 | 0.20 | NA | NA | 4.74 | 4.88 | 000
31645 |  | A | Bronchoscopy, clear airways | 3.16 | 4.77 | 5.05 | 0.97 | 1.08 | 0.16 | 8.09 | 8.37 | 4.29 | 4.40 | 000
31646 |  | A | Bronchoscopy, reclear airway | 2.72 | 4.48 | 4.77 | 0.86 | 0.97 | 0.14 | 7.34 | 7.63 | 3.72 | 3.83 | 000
31656 |  | A | Bronchoscopy, inj for x-ray | 2.17 | 5.31 | 6.80 | 0.65 | 0.79 | 0.15 | 7.63 | 9.12 | 2.97 | 3.11 | 000
31700 |  | A | Insertion of airway catheter | 1.34 | 2.30 | 2.19 | 0.68 | 0.68 | 0.08 | 3.72 | 3.61 | 2.10 | 2.10 | 000
31708 |  | A | Instill airway contrast dye | 1.41 | NA | NA | 0.40 | 0.45 | 0.07 | NA | NA | 1.88 | 1.93 | 000
31710 |  | A | Insertion of airway catheter | 1.30 | NA | NA | 0.42 | 0.41 | 0.12 | NA | NA | 1.84 | 1.83 | 000
31715 |  | A | Injection for bronchus x-ray | 1.11 | NA | NA | 0.29 | 0.33 | 0.07 | NA | NA | 1.47 | 1.51 | 000
31717 |  | A | Bronchial brush biopsy | 2.12 | 5.86 | 7.65 | 0.76 | 0.78 | 0.14 | 8.12 | 9.91 | 3.02 | 3.04 | 000
31720 |  | A | Clearance of airways | 1.06 | NA | NA | 0.25 | 0.31 | 0.07 | NA | NA | 1.38 | 1.44 | 000
31725 |  | A | Clearance of airways | 1.96 | NA | NA | 0.45 | 0.55 | 0.14 | NA | NA | 2.55 | 2.65 | 000
31730 |  | A | Intro, windpipe wire/tube | 2.85 | 25.67 | 8.06 | 0.72 | 0.93 | 0.21 | 28.73 | 11.12 | 3.78 | 3.99 | 000
31750 |  | A | Repair of windpipe | 15.11 | NA | NA | 16.11 | 17.19 | 1.05 | NA | NA | 32.27 | 33.35 | 090
31755 |  | A | Repair of windpipe | 17.05 | NA | NA | 22.15 | 23.93 | 1.29 | NA | NA | 40.49 | 42.27 | 090
31760 |  | A | Repair of windpipe | 23.28 | NA | NA | 9.76 | 10.47 | 2.94 | NA | NA | 35.98 | 36.69 | 090
31766 |  | A | Reconstruction of windpipe | 31.52 | NA | NA | 11.44 | 13.10 | 4.52 | NA | NA | 47.48 | 49.14 | 090
31770 |  | A | Repair/graft of bronchus | 23.44 | NA | NA | 8.83 | 9.89 | 2.83 | NA | NA | 35.10 | 36.16 | 090
31775 |  | A | Reconstruct bronchus | 24.46 | NA | NA | 9.07 | 11.11 | 3.01 | NA | NA | 36.54 | 38.58 | 090
31780 |  | A | Reconstruct windpipe | 19.62 | NA | NA | 7.98 | 10.28 | 1.65 | NA | NA | 29.25 | 31.55 | 090
31781 |  | A | Reconstruct windpipe | 24.72 | NA | NA | 9.17 | 11.38 | 2.24 | NA | NA | 36.13 | 38.34 | 090
31785 |  | A | Remove windpipe lesion | 18.25 | NA | NA | 5.49 | 9.01 | 1.59 | NA | NA | 25.33 | 28.85 | 090
31786 |  | A | Remove windpipe lesion | 25.29 | NA | NA | 9.74 | 12.25 | 3.29 | NA | NA | 38.32 | 40.83 | 090
31800 |  | A | Repair of windpipe injury | 8.05 | NA | NA | 8.35 | 9.02 | 0.79 | NA | NA | 17.19 | 17.86 | 090
31805 |  | A | Repair of windpipe injury | 13.29 | NA | NA | 6.24 | 6.97 | 1.82 | NA | NA | 21.35 | 22.08 | 090
31820 |  | A | Closure of windpipe lesion | 4.54 | 5.43 | 5.60 | 2.98 | 3.48 | 0.38 | 10.35 | 10.52 | 7.90 | 8.40 | 090
31825 |  | A | Repair of windpipe defect | 6.92 | 6.78 | 7.44 | 4.00 | 5.03 | 0.53 | 14.23 | 14.89 | 11.45 | 12.48 | 090
31830 |  | A | Revise windpipe scar | 4.49 | 5.60 | 5.72 | 3.33 | 3.82 | 0.44 | 10.53 | 10.65 | 8.26 | 8.75 | 090
31899 |  | C | Airways surgical procedure | 0.00 | 0.00 | 0.00 | 0.00 | 0.00 | 0.00 | 0.00 | 0.00 | 0.00 | 0.00 | YYY
32000 |  | A | Drainage of chest | 1.54 | 2.39 | 2.89 | 0.43 | 0.47 | 0.08 | 4.01 | 4.51 | 2.05 | 2.09 | 000
32002 |  | A | Treatment of collapsed lung | 2.19 | 2.85 | 3.12 | 0.99 | 1.04 | 0.12 | 5.16 | 5.43 | 3.30 | 3.35 | 000
32005 |  | A | Treat lung lining chemically | 2.19 | 5.11 | 6.12 | 0.59 | 0.67 | 0.23 | 7.53 | 8.54 | 3.01 | 3.09 | 000
32019 |  | A | Insert pleural catheter | 4.17 | 15.54 | 18.86 | 1.45 | 1.60 | 0.42 | 20.13 | 23.45 | 6.04 | 6.19 | 000
32020 |  | A | Insertion of chest tube | 3.97 | NA | NA | 1.14 | 1.30 | 0.43 | NA | NA | 5.54 | 5.70 | 000
32035 |  | A | Exploration of chest | 11.14 | NA | NA | 6.11 | 5.92 | 1.26 | NA | NA | 18.50 | 18.32 | 090
32036 |  | A | Exploration of chest | 12.15 | NA | NA | 6.43 | 6.43 | 1.43 | NA | NA | 20.01 | 20.01 | 090
32095 |  | A | Biopsy through chest wall | 10.03 | NA | NA | 5.22 | 5.33 | 1.22 | NA | NA | 16.47 | 16.58 | 090
32100 |  | A | Exploration/biopsy of chest | 16.04 | NA | NA | 7.09 | 7.64 | 2.23 | NA | NA | 25.36 | 25.91 | 090
32110 |  | A | Explore/repair chest | 25.11 | NA | NA | 10.03 | 10.56 | 3.21 | NA | NA | 38.35 | 38.88 | 090
32120 |  | A | Re-exploration of chest | 14.24 | NA | NA | 6.91 | 7.03 | 1.63 | NA | NA | 22.78 | 22.90 | 090
32124 |  | A | Explore chest free adhesions | 15.30 | NA | NA | 7.09 | 7.18 | 1.89 | NA | NA | 24.28 | 24.37 | 090
32140 |  | A | Removal of lung lesion(s) | 16.51 | NA | NA | 7.48 | 7.63 | 1.96 | NA | NA | 25.95 | 26.10 | 090
32141 |  | A | Remove/treat lung lesions | 17.14 | NA | NA | 7.69 | 7.59 | 2.00 | NA | NA | 26.83 | 26.73 | 090
32150 |  | A | Removal of lung lesion(s) | 16.67 | NA | NA | 7.54 | 7.59 | 2.00 | NA | NA | 26.21 | 26.26 | 090
32151 |  | A | Remove lung foreign body | 16.79 | NA | NA | 8.73 | 8.18 | 2.03 | NA | NA | 27.55 | 27.00 | 090
32160 |  | A | Open chest heart massage | 13.00 | NA | NA | 5.89 | 5.42 | 1.31 | NA | NA | 20.20 | 19.73 | 090
32200 |  | A | Drain, open, lung lesion | 18.43 | NA | NA | 8.91 | 8.69 | 2.13 | NA | NA | 29.47 | 29.25 | 090
32201 |  | A | Drain, percut, lung lesion | 3.99 | 19.87 | 20.49 | 1.26 | 1.29 | 0.24 | 24.10 | 24.72 | 5.49 | 5.52 | 000
32215 |  | A | Treat chest lining | 12.90 | NA | NA | 6.43 | 6.78 | 1.68 | NA | NA | 21.01 | 21.36 | 090
32220 |  | A | Release of lung | 26.31 | NA | NA | 12.11 | 12.74 | 3.56 | NA | NA | 41.98 | 42.61 | 090
32225 |  | A | Partial release of lung | 16.60 | NA | NA | 7.54 | 7.62 | 2.06 | NA | NA | 26.20 | 26.28 | 090
32310 |  | A | Removal of chest lining | 15.13 | NA | NA | 6.98 | 7.29 | 1.99 | NA | NA | 24.10 | 24.41 | 090
32320 |  | A | Free/remove chest lining | 26.96 | NA | NA | 11.63 | 12.02 | 3.51 | NA | NA | 42.10 | 42.49 | 090
32400 |  | A | Needle biopsy chest lining | 1.76 | 2.12 | 2.12 | 0.52 | 0.54 | 0.10 | 3.98 | 3.98 | 2.38 | 2.40 | 000
32402 |  | A | Open biopsy chest lining | 8.86 | NA | NA | 4.81 | 5.04 | 1.07 | NA | NA | 14.74 | 14.97 | 090
32405 |  | A | Biopsy, lung or mediastinum | 1.93 | 0.61 | 0.66 | 0.61 | 0.63 | 0.11 | 2.65 | 2.70 | 2.65 | 2.67 | 000
32420 |  | A | Puncture/clear lung | 2.18 | NA | NA | 0.68 | 0.68 | 0.12 | NA | NA | 2.98 | 2.98 | 000
32440 |  | A | Removal of lung | 27.11 | NA | NA | 11.11 | 12.45 | 3.68 | NA | NA | 41.90 | 43.24 | 090
32442 |  | A | Sleeve pneumonectomy | 37.74 | NA | NA | 13.28 | 14.39 | 3.84 | NA | NA | 54.86 | 55.97 | 090
32445 |  | A | Removal of lung | 40.73 | NA | NA | 16.31 | 14.62 | 3.71 | NA | NA | 60.75 | 59.06 | 090
32480 |  | A | Partial removal of lung | 25.65 | NA | NA | 10.37 | 11.64 | 3.49 | NA | NA | 39.51 | 40.78 | 090
32482 |  | A | Bilobectomy | 27.22 | NA | NA | 11.22 | 12.49 | 3.66 | NA | NA | 42.10 | 43.37 | 090
32484 |  | A | Segmentectomy | 22.67 | NA | NA | 8.92 | 10.77 | 3.03 | NA | NA | 34.62 | 36.47 | 090
32486 |  | A | Sleeve lobectomy | 31.72 | NA | NA | 11.89 | 12.90 | 3.51 | NA | NA | 47.12 | 48.13 | 090
32488 |  | A | Completion pneumonectomy | 32.69 | NA | NA | 12.78 | 13.53 | 3.80 | NA | NA | 49.27 | 50.02 | 090
32491 |  | R | Lung volume reduction | 25.03 | NA | NA | 10.69 | 12.14 | 2.98 | NA | NA | 38.70 | 40.15 | 090
32500 |  | A | Partial removal of lung | 24.42 | NA | NA | 10.43 | 11.87 | 3.25 | NA | NA | 38.10 | 39.54 | 090
32501 |  | A | Repair bronchus add-on | 4.68 | NA | NA | 1.37 | 1.50 | 0.65 | NA | NA | 6.70 | 6.83 | ZZZ
32503 |  | A | Resect apical lung tumor | 31.55 | NA | NA | 12.31 | 14.38 | 4.37 | NA | NA | 48.23 | 50.30 | 090
32504 |  | A | Resect apical lung tum/chest | 36.35 | NA | NA | 13.73 | 15.94 | 5.07 | NA | NA | 55.15 | 57.36 | 090
32540 |  | A | Removal of lung lesion | 23.68 | NA | NA | 10.25 | 9.79 | 2.07 | NA | NA | 36.00 | 35.54 | 090
32601 |  | A | Thoracoscopy, diagnostic | 5.45 | NA | NA | 2.11 | 2.29 | 0.80 | NA | NA | 8.36 | 8.54 | 000
32602 |  | A | Thoracoscopy, diagnostic | 5.95 | NA | NA | 2.25 | 2.45 | 0.87 | NA | NA | 9.07 | 9.27 | 000
32603 |  | A | Thoracoscopy, diagnostic | 7.80 | NA | NA | 2.99 | 3.02 | 1.14 | NA | NA | 11.93 | 11.96 | 000
32604 |  | A | Thoracoscopy, diagnostic | 8.77 | NA | NA | 3.08 | 3.36 | 1.25 | NA | NA | 13.10 | 13.38 | 000
32605 |  | A | Thoracoscopy, diagnostic | 6.92 | NA | NA | 2.56 | 2.82 | 1.00 | NA | NA | 10.48 | 10.74 | 000
32606 |  | A | Thoracoscopy, diagnostic | 8.39 | NA | NA | 3.02 | 3.25 | 1.22 | NA | NA | 12.63 | 12.86 | 000
32650 |  | A | Thoracoscopy, surgical | 10.73 | NA | NA | 5.32 | 6.40 | 1.58 | NA | NA | 17.63 | 18.71 | 090
32651 |  | A | Thoracoscopy, surgical | 16.28 | NA | NA | 7.09 | 7.20 | 1.86 | NA | NA | 25.23 | 25.34 | 090
32652 |  | A | Thoracoscopy, surgical | 23.34 | NA | NA | 9.65 | 10.02 | 2.72 | NA | NA | 35.71 | 36.08 | 090
32653 |  | A | Thoracoscopy, surgical | 19.86 | NA | NA | 8.01 | 7.23 | 1.88 | NA | NA | 29.75 | 28.97 | 090
32654 |  | A | Thoracoscopy, surgical | 18.49 | NA | NA | 7.47 | 7.52 | 1.63 | NA | NA | 27.59 | 27.64 | 090
32655 |  | A | Thoracoscopy, surgical | 14.95 | NA | NA | 6.74 | 7.12 | 1.89 | NA | NA | 23.58 | 23.96 | 090
32656 |  | A | Thoracoscopy, surgical | 13.14 | NA | NA | 6.04 | 7.47 | 1.89 | NA | NA | 21.07 | 22.50 | 090
32657 |  | A | Thoracoscopy, surgical | 14.54 | NA | NA | 6.47 | 7.38 | 1.99 | NA | NA | 23.00 | 23.91 | 090
32658 |  | A | Thoracoscopy, surgical | 11.61 | NA | NA | 5.64 | 6.92 | 1.69 | NA | NA | 18.94 | 20.22 | 090
32659 |  | A | Thoracoscopy, surgical | 11.82 | NA | NA | 5.95 | 7.08 | 1.62 | NA | NA | 19.39 | 20.52 | 090
32660 |  | A | Thoracoscopy, surgical | 17.65 | NA | NA | 7.52 | 8.99 | 2.08 | NA | NA | 27.25 | 28.72 | 090
32661 |  | A | Thoracoscopy, surgical | 13.23 | NA | NA | 6.22 | 7.40 | 1.92 | NA | NA | 21.37 | 22.55 | 090
32662 |  | A | Thoracoscopy, surgical | 17.00 | NA | NA | 7.23 | 8.42 | 2.17 | NA | NA | 26.40 | 27.59 | 090
32663 |  | A | Thoracoscopy, surgical | 19.96 | NA | NA | 8.91 | 10.30 | 2.72 | NA | NA | 31.59 | 32.98 | 090
32664 |  | A | Thoracoscopy, surgical | 14.18 | NA | NA | 6.42 | 7.33 | 2.32 | NA | NA | 22.92 | 23.83 | 090
32665 |  | A | Thoracoscopy, surgical | 17.37 | NA | NA | 7.66 | 8.01 | 2.15 | NA | NA | 27.18 | 27.53 | 090
32800 |  | A | Repair lung hernia | 15.56 | NA | NA | 7.13 | 7.34 | 1.98 | NA | NA | 24.67 | 24.88 | 090
32810 |  | A | Close chest after drainage | 14.80 | NA | NA | 7.12 | 7.42 | 1.93 | NA | NA | 23.85 | 24.15 | 090
32815 |  | A | Close bronchial fistula | 37.94 | NA | NA | 15.43 | 12.09 | 3.27 | NA | NA | 56.64 | 53.30 | 090
32820 |  | A | Reconstruct injured chest | 22.27 | NA | NA | 11.75 | 12.06 | 2.52 | NA | NA | 36.54 | 36.85 | 090
32851 |  | A | Lung transplant, single | 40.72 | NA | NA | 20.99 | 25.99 | 5.56 | NA | NA | 67.27 | 72.27 | 090
32852 |  | A | Lung transplant with bypass | 44.37 | NA | NA | 23.82 | 30.83 | 6.00 | NA | NA | 74.19 | 81.20 | 090
32853 |  | A | Lung transplant, double | 49.89 | NA | NA | 23.39 | 29.66 | 7.05 | NA | NA | 80.33 | 86.60 | 090
32854 |  | A | Lung transplant with bypass | 53.60 | NA | NA | 26.62 | 32.70 | 7.20 | NA | NA | 87.42 | 93.50 | 090
32855 |  | C | Prepare donor lung, single | 0.00 | 0.00 | 0.00 | 0.00 | 0.00 | 0.00 | 0.00 | 0.00 | 0.00 | 0.00 | XXX
32856 |  | C | Prepare donor lung, double | 0.00 | 0.00 | 0.00 | 0.00 | 0.00 | 0.00 | 0.00 | 0.00 | 0.00 | 0.00 | XXX
32900 |  | A | Removal of rib(s) | 23.66 | NA | NA | 9.81 | 9.86 | 2.93 | NA | NA | 36.40 | 36.45 | 090
32905 |  | A | Revise & repair chest wall | 23.14 | NA | NA | 9.64 | 10.01 | 3.15 | NA | NA | 35.93 | 36.30 | 090
32906 |  | A | Revise & repair chest wall | 29.15 | NA | NA | 11.34 | 11.88 | 3.97 | NA | NA | 44.46 | 45.00 | 090
32940 |  | A | Revision of lung | 21.19 | NA | NA | 8.66 | 9.27 | 2.88 | NA | NA | 32.73 | 33.34 | 090
32960 |  | A | Therapeutic pneumothorax | 1.84 | 1.59 | 1.70 | 0.67 | 0.59 | 0.16 | 3.59 | 3.70 | 2.67 | 2.59 | 000
32997 |  | A | Total lung lavage | 5.99 | NA | NA | 1.51 | 1.81 | 0.55 | NA | NA | 8.05 | 8.35 | 000
32999 |  | C | Chest surgery procedure | 0.00 | 0.00 | 0.00 | 0.00 | 0.00 | 0.00 | 0.00 | 0.00 | 0.00 | 0.00 | YYY
33010 |  | A | Drainage of heart sac | 2.24 | NA | NA | 1.02 | 0.84 | 0.14 | NA | NA | 3.40 | 3.22 | 000
33011 |  | A | Repeat drainage of heart sac | 2.24 | NA | NA | 1.10 | 0.88 | 0.15 | NA | NA | 3.49 | 3.27 | 000
33015 |  | A | Incision of heart sac | 8.41 | NA | NA | 5.08 | 4.98 | 0.65 | NA | NA | 14.14 | 14.04 | 090
33020 |  | A | Incision of heart sac | 14.85 | NA | NA | 6.54 | 6.72 | 1.79 | NA | NA | 23.18 | 23.36 | 090
33025 |  | A | Incision of heart sac | 13.63 | NA | NA | 5.98 | 6.26 | 1.80 | NA | NA | 21.41 | 21.69 | 090
33030 |  | A | Partial removal of heart sac | 22.24 | NA | NA | 9.26 | 9.46 | 2.83 | NA | NA | 34.33 | 34.53 | 090
33031 |  | A | Partial removal of heart sac | 25.28 | NA | NA | 9.96 | 10.01 | 3.13 | NA | NA | 38.37 | 38.42 | 090
33050 |  | A | Removal of heart sac lesion | 16.82 | NA | NA | 7.63 | 7.79 | 2.14 | NA | NA | 26.59 | 26.75 | 090
33120 |  | A | Removal of heart lesion | 27.30 | NA | NA | 10.79 | 11.38 | 3.69 | NA | NA | 41.78 | 42.37 | 090
33130 |  | A | Removal of heart lesion | 24.02 | NA | NA | 9.48 | 9.95 | 3.00 | NA | NA | 36.50 | 36.97 | 090
33140 |  | A | Heart revascularize (tmr) | 22.72 | NA | NA | 10.09 | 10.68 | 2.85 | NA | NA | 35.66 | 36.25 | 090
33141 |  | A | Heart tmr w/other procedure | 4.83 | NA | NA | 1.52 | 1.57 | 0.69 | NA | NA | 7.04 | 7.09 | ZZZ
33200 |  | A | Insertion of heart pacemaker | 14.70 | NA | NA | 7.45 | 6.99 | 1.70 | NA | NA | 23.85 | 23.39 | 090
33201 |  | A | Insertion of heart pacemaker | 12.08 | NA | NA | 6.40 | 6.54 | 1.36 | NA | NA | 19.84 | 19.98 | 090
33206 |  | A | Insertion of heart pacemaker | 7.28 | NA | NA | 5.13 | 4.63 | 0.52 | NA | NA | 12.92 | 12.42 | 090
33207 |  | A | Insertion of heart pacemaker | 9.03 | NA | NA | 5.78 | 4.94 | 0.59 | NA | NA | 15.40 | 14.56 | 090
33208 |  | A | Insertion of heart pacemaker | 8.12 | NA | NA | 5.43 | 4.94 | 0.56 | NA | NA | 14.11 | 13.62 | 090
33210 |  | A | Insertion of heart electrode | 3.30 | NA | NA | 1.70 | 1.36 | 0.18 | NA | NA | 5.18 | 4.84 | 000
33211 |  | A | Insertion of heart electrode | 3.39 | NA | NA | 1.67 | 1.40 | 0.21 | NA | NA | 5.27 | 5.00 | 000
33212 |  | A | Insertion of pulse generator | 5.51 | NA | NA | 3.75 | 3.46 | 0.43 | NA | NA | 9.69 | 9.40 | 090
33213 |  | A | Insertion of pulse generator | 6.36 | NA | NA | 4.17 | 3.83 | 0.45 | NA | NA | 10.98 | 10.64 | 090
33214 |  | A | Upgrade of pacemaker system | 7.74 | NA | NA | 5.38 | 5.01 | 0.58 | NA | NA | 13.70 | 13.33 | 090
33215 |  | A | Reposition pacing-defib lead | 4.87 | NA | NA | 3.52 | 3.27 | 0.37 | NA | NA | 8.76 | 8.51 | 090
33216 |  | A | Insert lead pace-defib, one | 5.77 | NA | NA | 4.58 | 4.30 | 0.36 | NA | NA | 10.71 | 10.43 | 090
33217 |  | A | Insert lead pace-defib, dual | 5.74 | NA | NA | 4.50 | 4.30 | 0.39 | NA | NA | 10.63 | 10.43 | 090
33218 |  | A | Repair lead pace-defib, one | 5.93 | NA | NA | 4.83 | 4.43 | 0.37 | NA | NA | 11.13 | 10.73 | 090
33220 |  | A | Repair lead pace-defib, dual | 6.01 | NA | NA | 4.89 | 4.43 | 0.37 | NA | NA | 11.27 | 10.81 | 090
33222 |  | A | Revise pocket, pacemaker | 4.95 | NA | NA | 4.33 | 4.30 | 0.42 | NA | NA | 9.70 | 9.67 | 090
33223 |  | A | Revise pocket, pacing-defib | 6.45 | NA | NA | 4.97 | 4.69 | 0.45 | NA | NA | 11.87 | 11.59 | 090
33224 |  | A | Insert pacing lead & connect | 9.04 | NA | NA | 5.03 | 4.26 | 0.54 | NA | NA | 14.61 | 13.84 | 000
33225 |  | A | L ventric pacing lead add-on | 8.33 | NA | NA | 4.45 | 3.55 | 0.45 | NA | NA | 13.23 | 12.33 | ZZZ
33226 |  | A | Reposition l ventric lead | 8.68 | NA | NA | 4.87 | 4.08 | 0.59 | NA | NA | 14.14 | 13.35 | 000
33233 |  | A | Removal of pacemaker system | 3.29 | NA | NA | 3.29 | 3.28 | 0.22 | NA | NA | 6.80 | 6.79 | 090
33234 |  | A | Removal of pacemaker system | 7.81 | NA | NA | 5.52 | 5.06 | 0.56 | NA | NA | 13.89 | 13.43 | 090
33235 |  | A | Removal pacemaker electrode | 9.85 | NA | NA | 7.32 | 6.94 | 0.73 | NA | NA | 17.90 | 17.52 | 090
33236 |  | A | Remove electrode/thoracotomy | 12.58 | NA | NA | 6.70 | 7.25 | 1.68 | NA | NA | 20.96 | 21.51 | 090
33237 |  | A | Remove electrode/thoracotomy | 13.69 | NA | NA | 7.68 | 7.76 | 1.59 | NA | NA | 22.96 | 23.04 | 090
33238 |  | A | Remove electrode/thoracotomy | 15.20 | NA | NA | 8.35 | 8.24 | 2.02 | NA | NA | 25.57 | 25.46 | 090
33240 |  | A | Insert pulse generator | 7.59 | NA | NA | 5.34 | 4.77 | 0.41 | NA | NA | 13.34 | 12.77 | 090
33241 |  | A | Remove pulse generator | 3.24 | NA | NA | 3.04 | 2.98 | 0.18 | NA | NA | 6.46 | 6.40 | 090
33243 |  | A | Remove eltrd/thoracotomy | 23.36 | NA | NA | 11.00 | 11.35 | 2.09 | NA | NA | 36.45 | 36.80 | 090
33244 |  | A | Remove eltrd, transven | 13.74 | NA | NA | 9.53 | 9.05 | 0.99 | NA | NA | 24.26 | 23.78 | 090
33245 |  | A | Insert epic eltrd pace-defib | 16.82 | NA | NA | 7.96 | 7.92 | 2.01 | NA | NA | 26.79 | 26.75 | 090
33246 |  | A | Insert epic eltrd/generator | 23.11 | NA | NA | 10.73 | 10.39 | 2.63 | NA | NA | 36.47 | 36.13 | 090
33249 |  | A | Eltrd/insert pace-defib | 14.96 | NA | NA | 10.33 | 8.85 | 0.77 | NA | NA | 26.06 | 24.58 | 090
33250 |  | A | Ablate heart dysrhythm focus | 25.75 | NA | NA | 10.16 | 10.81 | 3.18 | NA | NA | 39.09 | 39.74 | 090
33251 |  | A | Ablate heart dysrhythm focus | 28.77 | NA | NA | 11.15 | 11.53 | 3.59 | NA | NA | 43.51 | 43.89 | 090
33253 |  | A | Reconstruct atria | 31.33 | NA | NA | 12.15 | 13.40 | 4.52 | NA | NA | 48.00 | 49.25 | 090
33261 |  | A | Ablate heart dysrhythm focus | 28.77 | NA | NA | 11.33 | 11.66 | 3.45 | NA | NA | 43.55 | 43.88 | 090
33282 |  | A | Implant pat-active ht record | 4.66 | NA | NA | 4.29 | 4.09 | 0.23 | NA | NA | 9.18 | 8.98 | 090
33284 |  | A | Remove pat-active ht record | 3.00 | NA | NA | 3.40 | 3.50 | 0.14 | NA | NA | 6.54 | 6.64 | 090
33300 |  | A | Repair of heart wound | 29.93 | NA | NA | 11.14 | 9.71 | 2.65 | NA | NA | 43.72 | 42.29 | 090
33305 |  | A | Repair of heart wound | 33.67 | NA | NA | 12.24 | 11.02 | 3.12 | NA | NA | 49.03 | 47.81 | 090
33310 |  | A | Exploratory heart surgery | 20.19 | NA | NA | 8.83 | 9.39 | 2.58 | NA | NA | 31.60 | 32.16 | 090
33315 |  | A | Exploratory heart surgery | 26.02 | NA | NA | 10.46 | 10.78 | 3.27 | NA | NA | 39.75 | 40.07 | 090
33320 |  | A | Repair major blood vessel(s) | 18.43 | NA | NA | 8.69 | 8.34 | 2.07 | NA | NA | 29.19 | 28.84 | 090
33321 |  | A | Repair major vessel | 20.67 | NA | NA | 10.28 | 9.91 | 2.90 | NA | NA | 33.85 | 33.48 | 090
33322 |  | A | Repair major blood vessel(s) | 24.27 | NA | NA | 9.83 | 10.23 | 2.85 | NA | NA | 36.95 | 37.35 | 090
33330 |  | A | Insert major vessel graft | 25.14 | NA | NA | 9.80 | 10.15 | 2.81 | NA | NA | 37.75 | 38.10 | 090
33332 |  | A | Insert major vessel graft | 24.42 | NA | NA | 9.65 | 10.30 | 3.02 | NA | NA | 37.09 | 37.74 | 090
33335 |  | A | Insert major vessel graft | 33.76 | NA | NA | 12.97 | 13.24 | 4.27 | NA | NA | 51.00 | 51.27 | 090
33400 |  | A | Repair of aortic valve | 39.23 | NA | NA | 14.57 | 15.39 | 4.10 | NA | NA | 57.90 | 58.72 | 090
33401 |  | A | Valvuloplasty, open | 24.33 | NA | NA | 9.83 | 12.58 | 3.56 | NA | NA | 37.72 | 40.47 | 090
33403 |  | A | Valvuloplasty, w/cp bypass | 25.31 | NA | NA | 10.53 | 13.36 | 3.54 | NA | NA | 39.38 | 42.21 | 090
33404 |  | A | Prepare heart-aorta conduit | 31.22 | NA | NA | 12.26 | 13.97 | 4.32 | NA | NA | 47.80 | 49.51 | 090
33405 |  | A | Replacement of aortic valve | 39.97 | NA | NA | 15.12 | 17.50 | 5.31 | NA | NA | 60.40 | 62.78 | 090
33406 |  | A | Replacement of aortic valve | 48.87 | NA | NA | 17.72 | 18.77 | 5.43 | NA | NA | 72.02 | 73.07 | 090
33410 |  | A | Replacement of aortic valve | 38.69 | NA | NA | 14.63 | 16.09 | 4.68 | NA | NA | 58.00 | 59.46 | 090
33411 |  | A | Replacement of aortic valve | 57.11 | NA | NA | 20.12 | 19.09 | 5.46 | NA | NA | 82.69 | 81.66 | 090
33412 |  | A | Replacement of aortic valve | 43.71 | NA | NA | 16.57 | 19.44 | 6.37 | NA | NA | 66.65 | 69.52 | 090
33413 |  | A | Replacement of aortic valve | 55.27 | NA | NA | 19.33 | 20.44 | 6.51 | NA | NA | 81.11 | 82.22 | 090
33414 |  | A | Repair of aortic valve | 39.27 | NA | NA | 15.20 | 14.40 | 4.56 | NA | NA | 59.03 | 58.23 | 090
33415 |  | A | Revision, subvalvular tissue | 29.70 | NA | NA | 11.14 | 11.80 | 4.13 | NA | NA | 44.97 | 45.63 | 090
33416 |  | A | Revise ventricle muscle | 36.39 | NA | NA | 13.63 | 13.53 | 4.56 | NA | NA | 54.58 | 54.48 | 090
33417 |  | A | Repair of aortic valve | 29.13 | NA | NA | 12.14 | 13.24 | 4.09 | NA | NA | 45.36 | 46.46 | 090
33420 |  | A | Revision of mitral valve | 25.64 | NA | NA | 8.85 | 9.38 | 1.81 | NA | NA | 36.30 | 36.83 | 090
33422 |  | A | Revision of mitral valve | 29.58 | NA | NA | 12.50 | 13.36 | 3.93 | NA | NA | 46.01 | 46.87 | 090
33425 |  | A | Repair of mitral valve | 38.37 | NA | NA | 14.50 | 13.41 | 4.06 | NA | NA | 56.93 | 55.84 | 090
33426 |  | A | Repair of mitral valve | 41.28 | NA | NA | 15.51 | 16.73 | 5.01 | NA | NA | 61.80 | 63.02 | 090
33427 |  | A | Repair of mitral valve | 42.78 | NA | NA | 16.33 | 18.60 | 6.07 | NA | NA | 65.18 | 67.45 | 090
33430 |  | A | Replacement of mitral valve | 49.81 | NA | NA | 18.75 | 17.66 | 5.08 | NA | NA | 73.64 | 72.55 | 090
33460 |  | A | Revision of tricuspid valve | 27.97 | NA | NA | 10.98 | 11.22 | 3.44 | NA | NA | 42.39 | 42.63 | 090
33463 |  | A | Valvuloplasty, tricuspid | 42.57 | NA | NA | 15.50 | 13.56 | 3.86 | NA | NA | 61.93 | 59.99 | 090
33464 |  | A | Valvuloplasty, tricuspid | 30.93 | NA | NA | 12.13 | 13.17 | 4.14 | NA | NA | 47.20 | 48.24 | 090
33465 |  | A | Replace tricuspid valve | 33.58 | NA | NA | 12.60 | 12.87 | 4.38 | NA | NA | 50.56 | 50.83 | 090
33468 |  | A | Revision of tricuspid valve | 32.79 | NA | NA | 15.30 | 14.06 | 4.06 | NA | NA | 52.15 | 50.91 | 090
33470 |  | A | Revision of pulmonary valve | 21.24 | NA | NA | 8.74 | 10.20 | 1.03 | NA | NA | 31.01 | 32.47 | 090
33471 |  | A | Valvotomy, pulmonary valve | 22.79 | NA | NA | 7.77 | 9.26 | 3.38 | NA | NA | 33.94 | 35.43 | 090
33472 |  | A | Revision of pulmonary valve | 22.86 | NA | NA | 7.28 | 10.72 | 3.54 | NA | NA | 33.68 | 37.12 | 090
33474 |  | A | Revision of pulmonary valve | 25.85 | NA | NA | 12.10 | 11.19 | 3.21 | NA | NA | 41.16 | 40.25 | 090
33475 |  | A | Replacement, pulmonary valve | 44.81 | NA | NA | 16.54 | 15.66 | 4.92 | NA | NA | 66.27 | 65.39 | 090
33476 |  | A | Revision of heart chamber | 26.37 | NA | NA | 11.78 | 11.92 | 2.41 | NA | NA | 40.56 | 40.70 | 090
33478 |  | A | Revision of heart chamber | 27.34 | NA | NA | 11.04 | 12.55 | 3.88 | NA | NA | 42.26 | 43.77 | 090
33496 |  | A | Repair, prosth valve clot | 29.67 | NA | NA | 11.51 | 12.43 | 4.12 | NA | NA | 45.30 | 46.22 | 090
33500 |  | A | Repair heart vessel fistula | 27.79 | NA | NA | 11.08 | 11.37 | 3.86 | NA | NA | 42.73 | 43.02 | 090
33501 |  | A | Repair heart vessel fistula | 19.39 | NA | NA | 8.25 | 8.27 | 1.90 | NA | NA | 29.54 | 29.56 | 090
33502 |  | A | Coronary artery correction | 21.65 | NA | NA | 9.32 | 10.63 | 2.99 | NA | NA | 33.96 | 35.27 | 090
33503 |  | A | Coronary artery graft | 22.21 | NA | NA | 10.61 | 9.95 | 1.77 | NA | NA | 34.59 | 33.93 | 090
33504 |  | A | Coronary artery graft | 25.26 | NA | NA | 10.18 | 11.40 | 3.35 | NA | NA | 38.79 | 40.01 | 090
33505 |  | A | Repair artery w/tunnel | 38.33 | NA | NA | 12.33 | 12.76 | 2.18 | NA | NA | 52.84 | 53.27 | 090
33506 |  | A | Repair artery, translocation | 37.78 | NA | NA | 15.51 | 14.80 | 4.65 | NA | NA | 57.94 | 57.23 | 090
33507 |  | A | Repair art, intramural | 31.33 | NA | NA | 11.78 | 13.18 | 4.05 | NA | NA | 47.16 | 48.56 | 090
33508 |  | A | Endoscopic vein harvest | 0.31 | NA | NA | 0.10 | 0.10 | 0.04 | NA | NA | 0.45 | 0.45 | ZZZ
33510 |  | A | CABG, vein, single | 33.45 | NA | NA | 12.81 | 15.45 | 4.40 | NA | NA | 50.66 | 53.30 | 090
33511 |  | A | CABG, vein, two | 34.59 | NA | NA | 13.37 | 16.15 | 4.55 | NA | NA | 52.51 | 55.29 | 090
33512 |  | A | CABG, vein, three | 38.73 | NA | NA | 14.72 | 16.88 | 4.66 | NA | NA | 58.11 | 60.27 | 090
33513 |  | A | CABG, vein, four | 39.69 | NA | NA | 15.13 | 17.12 | 4.87 | NA | NA | 59.69 | 61.68 | 090
33514 |  | A | CABG, vein, five | 40.50 | NA | NA | 15.38 | 17.38 | 4.76 | NA | NA | 60.64 | 62.64 | 090
33516 |  | A | Cabg, vein, six or more | 41.96 | NA | NA | 16.16 | 18.14 | 5.11 | NA | NA | 63.23 | 65.21 | 090
33517 |  | A | CABG, artery-vein, single | 2.57 | NA | NA | 0.79 | 0.83 | 0.39 | NA | NA | 3.75 | 3.79 | ZZZ
33518 |  | A | CABG, artery-vein, two | 4.84 | NA | NA | 1.48 | 1.56 | 0.73 | NA | NA | 7.05 | 7.13 | ZZZ
33519 |  | A | CABG, artery-vein, three | 7.11 | NA | NA | 2.18 | 2.29 | 1.04 | NA | NA | 10.33 | 10.44 | ZZZ
33521 |  | A | CABG, artery-vein, four | 9.39 | NA | NA | 2.89 | 3.03 | 1.37 | NA | NA | 13.65 | 13.79 | ZZZ
33522 |  | A | CABG, artery-vein, five | 11.65 | NA | NA | 3.56 | 3.75 | 1.77 | NA | NA | 16.98 | 17.17 | ZZZ
33523 |  | A | Cabg, art-vein, six or more | 13.93 | NA | NA | 4.29 | 4.47 | 2.12 | NA | NA | 20.34 | 20.52 | ZZZ
33530 |  | A | Coronary artery, bypass/reop | 5.85 | NA | NA | 1.79 | 1.88 | 0.88 | NA | NA | 8.52 | 8.61 | ZZZ
33533 |  | A | CABG, arterial, single | 37.38 | NA | NA | 14.00 | 15.85 | 4.55 | NA | NA | 55.93 | 57.78 | 090
33534 |  | A | CABG, arterial, two | 38.81 | NA | NA | 14.74 | 16.97 | 4.69 | NA | NA | 58.24 | 60.47 | 090
33535 |  | A | CABG, arterial, three | 41.48 | NA | NA | 15.68 | 17.52 | 5.01 | NA | NA | 62.17 | 64.01 | 090
33536 |  | A | Cabg, arterial, four or more | 40.79 | NA | NA | 15.30 | 17.54 | 5.42 | NA | NA | 61.51 | 63.75 | 090
33542 |  | A | Removal of heart lesion | 32.65 | NA | NA | 12.64 | 12.90 | 4.37 | NA | NA | 49.66 | 49.92 | 090
33545 |  | A | Repair of heart damage | 41.12 | NA | NA | 15.46 | 15.58 | 5.19 | NA | NA | 61.77 | 61.89 | 090
33548 |  | A | Restore/remodel, ventricle | 42.46 | NA | NA | 16.52 | 18.60 | 5.51 | NA | NA | 64.49 | 66.57 | 090
33572 |  | A | Open coronary endarterectomy | 4.44 | NA | NA | 1.34 | 1.42 | 0.65 | NA | NA | 6.43 | 6.51 | ZZZ
33600 |  | A | Closure of valve | 30.11 | NA | NA | 12.44 | 12.49 | 4.41 | NA | NA | 46.96 | 47.01 | 090
33602 |  | A | Closure of valve | 29.14 | NA | NA | 13.30 | 12.66 | 3.81 | NA | NA | 46.25 | 45.61 | 090
33606 |  | A | Anastomosis/artery-aorta | 31.33 | NA | NA | 12.17 | 13.30 | 4.40 | NA | NA | 47.90 | 49.03 | 090
33608 |  | A | Repair anomaly w/conduit | 31.68 | NA | NA | 13.41 | 13.93 | 4.73 | NA | NA | 49.82 | 50.34 | 090
33610 |  | A | Repair by enlargement | 31.20 | NA | NA | 11.20 | 13.00 | 4.55 | NA | NA | 46.95 | 48.75 | 090
33611 |  | A | Repair double ventricle | 35.47 | NA | NA | 12.37 | 13.69 | 4.36 | NA | NA | 52.20 | 53.52 | 090
33612 |  | A | Repair double ventricle | 36.47 | NA | NA | 12.97 | 14.61 | 5.28 | NA | NA | 54.72 | 56.36 | 090
33615 |  | A | Repair, modified fontan | 35.72 | NA | NA | 12.49 | 12.98 | 4.31 | NA | NA | 52.52 | 53.01 | 090
33617 |  | A | Repair single ventricle | 38.92 | NA | NA | 16.37 | 16.09 | 5.64 | NA | NA | 60.93 | 60.65 | 090
33619 |  | A | Repair single ventricle | 48.56 | NA | NA | 18.36 | 20.19 | 6.44 | NA | NA | 73.36 | 75.19 | 090
33641 |  | A | Repair heart septum defect | 28.47 | NA | NA | 10.73 | 9.86 | 3.22 | NA | NA | 42.42 | 41.55 | 090
33645 |  | A | Revision of heart veins | 27.95 | NA | NA | 11.02 | 11.58 | 3.78 | NA | NA | 42.75 | 43.31 | 090
33647 |  | A | Repair heart septum defects | 29.33 | NA | NA | 12.34 | 13.41 | 3.31 | NA | NA | 44.98 | 46.05 | 090
33660 |  | A | Repair of heart defects | 31.73 | NA | NA | 11.49 | 12.98 | 4.48 | NA | NA | 47.70 | 49.19 | 090
33665 |  | A | Repair of heart defects | 34.75 | NA | NA | 12.45 | 13.49 | 3.99 | NA | NA | 51.19 | 52.23 | 090
33670 |  | A | Repair of heart chambers | 36.56 | NA | NA | 12.28 | 12.95 | 4.64 | NA | NA | 53.48 | 54.15 | 090
33681 |  | A | Repair heart septum defect | 32.10 | NA | NA | 13.28 | 14.33 | 4.44 | NA | NA | 49.82 | 50.87 | 090
33684 |  | A | Repair heart septum defect | 34.27 | NA | NA | 19.40 | 15.07 | 3.38 | NA | NA | 57.05 | 52.72 | 090
33688 |  | A | Repair heart septum defect | 34.65 | NA | NA | 9.50 | 10.23 | 4.72 | NA | NA | 48.87 | 49.60 | 090
33690 |  | A | Reinforce pulmonary artery | 20.16 | NA | NA | 8.63 | 9.78 | 1.96 | NA | NA | 30.75 | 31.90 | 090
33692 |  | A | Repair of heart defects | 31.34 | NA | NA | 9.29 | 12.76 | 4.57 | NA | NA | 45.20 | 48.67 | 090
33694 |  | A | Repair of heart defects | 35.47 | NA | NA | 10.16 | 13.21 | 5.26 | NA | NA | 50.89 | 53.94 | 090
33697 |  | A | Repair of heart defects | 37.47 | NA | NA | 21.66 | 16.57 | 4.08 | NA | NA | 63.21 | 58.12 | 090
33702 |  | A | Repair of heart defects | 27.07 | NA | NA | 11.48 | 12.29 | 3.67 | NA | NA | 42.22 | 43.03 | 090
33710 |  | A | Repair of heart defects | 30.24 | NA | NA | 11.69 | 13.39 | 4.42 | NA | NA | 46.35 | 48.05 | 090
33720 |  | A | Repair of heart defect | 27.09 | NA | NA | 11.17 | 12.00 | 3.83 | NA | NA | 42.09 | 42.92 | 090
33722 |  | A | Repair of heart defect | 29.01 | NA | NA | 8.75 | 12.58 | 1.30 | NA | NA | 39.06 | 42.89 | 090
33730 |  | A | Repair heart-vein defect(s) | 35.97 | NA | NA | 13.35 | 13.93 | 5.01 | NA | NA | 54.33 | 54.91 | 090
33732 |  | A | Repair heart-vein defect | 28.76 | NA | NA | 14.75 | 13.72 | 3.67 | NA | NA | 47.18 | 46.15 | 090
33735 |  | A | Revision of heart chamber | 22.00 | NA | NA | 9.50 | 9.09 | 1.91 | NA | NA | 33.41 | 33.00 | 090
33736 |  | A | Revision of heart chamber | 24.12 | NA | NA | 10.80 | 11.59 | 3.08 | NA | NA | 38.00 | 38.79 | 090
33737 |  | A | Revision of heart chamber | 22.30 | NA | NA | 7.62 | 10.10 | 3.24 | NA | NA | 33.16 | 35.64 | 090
33750 |  | A | Major vessel shunt | 22.02 | NA | NA | 11.30 | 10.48 | 1.16 | NA | NA | 34.48 | 33.66 | 090
33755 |  | A | Major vessel shunt | 22.40 | NA | NA | 7.87 | 8.57 | 3.25 | NA | NA | 33.52 | 34.22 | 090
33762 |  | A | Major vessel shunt | 22.40 | NA | NA | 7.21 | 9.42 | 3.13 | NA | NA | 32.74 | 34.95 | 090
33764 |  | A | Major vessel shunt & graft | 22.40 | NA | NA | 9.29 | 9.99 | 3.00 | NA | NA | 34.69 | 35.39 | 090
33766 |  | A | Major vessel shunt | 23.37 | NA | NA | 8.58 | 10.90 | 3.69 | NA | NA | 35.64 | 37.96 | 090
33767 |  | A | Major vessel shunt | 25.10 | NA | NA | 9.47 | 11.16 | 3.81 | NA | NA | 38.38 | 40.07 | 090
33768 |  | A | Cavopulmonary shunting | 8.00 | NA | NA | 2.22 | 2.55 | 1.19 | NA | NA | 11.41 | 11.74 | ZZZ
33770 |  | A | Repair great vessels defect | 39.00 | NA | NA | 10.67 | 13.68 | 5.72 | NA | NA | 55.39 | 58.40 | 090
33771 |  | A | Repair great vessels defect | 40.56 | NA | NA | 10.65 | 11.95 | 5.66 | NA | NA | 56.87 | 58.17 | 090
33774 |  | A | Repair great vessels defect | 31.48 | NA | NA | 12.45 | 14.11 | 4.80 | NA | NA | 48.73 | 50.39 | 090
33775 |  | A | Repair great vessels defect | 32.79 | NA | NA | 10.21 | 13.80 | 4.98 | NA | NA | 47.98 | 51.57 | 090
33776 |  | A | Repair great vessels defect | 34.45 | NA | NA | 13.39 | 15.20 | 5.07 | NA | NA | 52.91 | 54.72 | 090
33777 |  | A | Repair great vessels defect | 33.87 | NA | NA | 10.02 | 14.21 | 5.47 | NA | NA | 49.36 | 53.55 | 090
33778 |  | A | Repair great vessels defect | 42.58 | NA | NA | 15.26 | 16.48 | 6.18 | NA | NA | 64.02 | 65.24 | 090
33779 |  | A | Repair great vessels defect | 43.13 | NA | NA | 11.48 | 14.40 | 2.91 | NA | NA | 57.52 | 60.44 | 090
33780 |  | A | Repair great vessels defect | 43.83 | NA | NA | 11.79 | 17.26 | 3.67 | NA | NA | 59.29 | 64.76 | 090
33781 |  | A | Repair great vessels defect | 43.14 | NA | NA | 14.18 | 13.54 | 5.95 | NA | NA | 63.27 | 62.63 | 090
33786 |  | A | Repair arterial trunk | 41.70 | NA | NA | 11.53 | 15.42 | 5.69 | NA | NA | 58.92 | 62.81 | 090
33788 |  | A | Revision of pulmonary artery | 27.22 | NA | NA | 9.69 | 11.39 | 4.02 | NA | NA | 40.93 | 42.63 | 090
33800 |  | A | Aortic suspension | 17.21 | NA | NA | 7.32 | 7.91 | 2.45 | NA | NA | 26.98 | 27.57 | 090
33802 |  | A | Repair vessel defect | 18.20 | NA | NA | 7.50 | 8.79 | 2.26 | NA | NA | 27.96 | 29.25 | 090
33803 |  | A | Repair vessel defect | 20.14 | NA | NA | 7.95 | 9.31 | 3.19 | NA | NA | 31.28 | 32.64 | 090
33813 |  | A | Repair septal defect | 21.19 | NA | NA | 9.00 | 10.43 | 3.12 | NA | NA | 33.31 | 34.74 | 090
33814 |  | A | Repair septal defect | 26.37 | NA | NA | 10.48 | 12.10 | 3.84 | NA | NA | 40.69 | 42.31 | 090
33820 |  | A | Revise major vessel | 16.59 | NA | NA | 8.39 | 8.37 | 2.34 | NA | NA | 27.32 | 27.30 | 090
33822 |  | A | Revise major vessel | 17.61 | NA | NA | 6.00 | 8.21 | 2.67 | NA | NA | 26.28 | 28.49 | 090
33824 |  | A | Revise major vessel | 20.06 | NA | NA | 8.62 | 9.64 | 2.88 | NA | NA | 31.56 | 32.58 | 090
33840 |  | A | Remove aorta constriction | 21.17 | NA | NA | 8.99 | 9.97 | 2.15 | NA | NA | 32.31 | 33.29 | 090
33845 |  | A | Remove aorta constriction | 22.73 | NA | NA | 9.64 | 10.92 | 3.21 | NA | NA | 35.58 | 36.86 | 090
33851 |  | A | Remove aorta constriction | 21.81 | NA | NA | 9.17 | 10.30 | 3.17 | NA | NA | 34.15 | 35.28 | 090
33852 |  | A | Repair septal defect | 24.24 | NA | NA | 9.90 | 11.00 | 2.15 | NA | NA | 36.29 | 37.39 | 090
33853 |  | A | Repair septal defect | 32.31 | NA | NA | 13.03 | 14.37 | 4.47 | NA | NA | 49.81 | 51.15 | 090
33860 |  | A | Ascending aortic graft | 43.13 | NA | NA | 15.73 | 16.27 | 5.74 | NA | NA | 64.60 | 65.14 | 090
33861 |  | A | Ascending aortic graft | 43.88 | NA | NA | 16.12 | 17.31 | 6.35 | NA | NA | 66.35 | 67.54 | 090
33863 |  | A | Ascending aortic graft | 48.52 | NA | NA | 17.69 | 18.44 | 6.57 | NA | NA | 72.78 | 73.53 | 090
33870 |  | A | Transverse aortic arch graft | 45.87 | NA | NA | 16.67 | 17.95 | 6.60 | NA | NA | 69.14 | 70.42 | 090
33875 |  | A | Thoracic aortic graft | 35.64 | NA | NA | 13.16 | 13.86 | 4.88 | NA | NA | 53.68 | 54.38 | 090
33877 |  | A | Thoracoabdominal graft | 57.75 | NA | NA | 18.83 | 16.94 | 5.92 | NA | NA | 82.50 | 80.61 | 090
33880 |  | A | Endovasc taa repr incl subcl | 34.44 | NA | NA | 10.59 | 12.75 | 2.74 | NA | NA | 47.77 | 49.93 | 090
33881 |  | A | Endovasc taa repr w/o subcl | 29.44 | NA | NA | 9.35 | 11.31 | 2.32 | NA | NA | 41.11 | 43.07 | 090
33883 |  | A | Insert endovasc prosth, taa | 20.95 | NA | NA | 7.01 | 8.64 | 2.10 | NA | NA | 30.06 | 31.69 | 090
33884 |  | A | Endovasc prosth, taa, add-on | 8.20 | NA | NA | 2.01 | 2.43 | 0.86 | NA | NA | 11.07 | 11.49 | ZZZ
33886 |  | A | Endovasc prosth, delayed | 17.95 | NA | NA | 6.25 | 7.74 | 1.79 | NA | NA | 25.99 | 27.48 | 090
33889 |  | A | Artery transpose/endovas taa | 15.92 | NA | NA | 4.17 | 4.92 | 2.17 | NA | NA | 22.26 | 23.01 | 000
33891 |  | A | Car-car bp grft/endovas taa | 20.00 | NA | NA | 6.45 | 6.83 | 2.72 | NA | NA | 29.17 | 29.55 | 000
33910 |  | A | Remove lung artery emboli | 29.56 | NA | NA | 11.34 | 11.41 | 3.69 | NA | NA | 44.59 | 44.66 | 090
33915 |  | A | Remove lung artery emboli | 24.80 | NA | NA | 10.04 | 9.73 | 1.44 | NA | NA | 36.28 | 35.97 | 090
33916 |  | A | Surgery of great vessel | 28.27 | NA | NA | 10.92 | 11.24 | 3.66 | NA | NA | 42.85 | 43.17 | 090
33917 |  | A | Repair pulmonary artery | 25.10 | NA | NA | 10.43 | 11.74 | 3.69 | NA | NA | 39.22 | 40.53 | 090
33920 |  | A | Repair pulmonary atresia | 32.54 | NA | NA | 11.39 | 13.21 | 4.37 | NA | NA | 48.30 | 50.12 | 090
33922 |  | A | Transect pulmonary artery | 24.05 | NA | NA | 11.44 | 11.04 | 3.09 | NA | NA | 38.58 | 38.18 | 090
33924 |  | A | Remove pulmonary shunt | 5.49 | NA | NA | 2.12 | 1.91 | 0.82 | NA | NA | 8.43 | 8.22 | ZZZ
33925 |  | A | Rpr pul art unifocal w/o cpb | 31.23 | NA | NA | 10.21 | 13.55 | 4.60 | NA | NA | 46.04 | 49.38 | 090
33926 |  | A | Repr pul art, unifocal w/cpb | 44.66 | NA | NA | 14.38 | 16.86 | 6.20 | NA | NA | 65.24 | 67.72 | 090
33933 |  | C | Prepare donor heart/lung | 0.00 | 0.00 | 0.00 | 0.00 | 0.00 | 0.00 | 0.00 | 0.00 | 0.00 | 0.00 | XXX
33935 |  | R | Transplantation, heart/lung | 61.56 | NA | NA | 23.37 | 27.42 | 9.03 | NA | NA | 93.96 | 98.01 | 090
33944 |  | C | Prepare donor heart | 0.00 | 0.00 | 0.00 | 0.00 | 0.00 | 0.00 | 0.00 | 0.00 | 0.00 | 0.00 | XXX
33945 |  | R | Transplantation of heart | 50.14 | NA | NA | 19.01 | 20.80 | 6.24 | NA | NA | 75.39 | 77.18 | 090
33960 |  | A | External circulation assist | 19.33 | NA | NA | 5.60 | 5.08 | 2.66 | NA | NA | 27.59 | 27.07 | 000
33961 |  | A | External circulation assist | 10.91 | NA | NA | 2.91 | 3.44 | 0.88 | NA | NA | 14.70 | 15.23 | ZZZ
33967 |  | A | Insert ia percut device | 4.84 | NA | NA | 2.44 | 1.99 | 0.35 | NA | NA | 7.63 | 7.18 | 000
33968 |  | A | Remove aortic assist device | 0.64 | NA | NA | 0.27 | 0.24 | 0.07 | NA | NA | 0.98 | 0.95 | 000
33970 |  | A | Aortic circulation assist | 6.74 | NA | NA | 2.54 | 2.35 | 0.82 | NA | NA | 10.10 | 9.91 | 000
33971 |  | A | Aortic circulation assist | 11.89 | NA | NA | 6.09 | 6.02 | 1.25 | NA | NA | 19.23 | 19.16 | 090
33973 |  | A | Insert balloon device | 9.75 | NA | NA | 3.88 | 3.45 | 1.26 | NA | NA | 14.89 | 14.46 | 000
33974 |  | A | Remove intra-aortic balloon | 14.89 | NA | NA | 7.79 | 7.86 | 1.73 | NA | NA | 24.41 | 24.48 | 090
33975 |  | A | Implant ventricular device | 20.97 | NA | NA | 6.63 | 6.37 | 3.06 | NA | NA | 30.66 | 30.40 | XXX
33976 |  | A | Implant ventricular device | 22.97 | NA | NA | 7.92 | 7.64 | 3.25 | NA | NA | 34.14 | 33.86 | XXX
33977 |  | A | Remove ventricular device | 19.99 | NA | NA | 9.37 | 10.65 | 2.80 | NA | NA | 32.16 | 33.44 | 090
33978 |  | A | Remove ventricular device | 22.43 | NA | NA | 10.52 | 11.44 | 3.30 | NA | NA | 36.25 | 37.17 | 090
33979 |  | A | Insert intracorporeal device | 45.93 | NA | NA | 14.38 | 14.79 | 6.95 | NA | NA | 67.26 | 67.67 | XXX
33980 |  | A | Remove intracorporeal device | 64.76 | NA | NA | 25.09 | 25.20 | 8.56 | NA | NA | 98.41 | 98.52 | 090
33999 |  | C | Cardiac surgery procedure | 0.00 | 0.00 | 0.00 | 0.00 | 0.00 | 0.00 | 0.00 | 0.00 | 0.00 | 0.00 | YYY
34001 |  | A | Removal of artery clot | 17.74 | NA | NA | 6.68 | 6.70 | 1.84 | NA | NA | 26.26 | 26.28 | 090
34051 |  | A | Removal of artery clot | 16.86 | NA | NA | 6.93 | 7.57 | 2.20 | NA | NA | 25.99 | 26.63 | 090
34101 |  | A | Removal of artery clot | 10.81 | NA | NA | 4.44 | 5.12 | 1.41 | NA | NA | 16.66 | 17.34 | 090
34111 |  | A | Removal of arm artery clot | 10.81 | NA | NA | 4.50 | 5.14 | 1.40 | NA | NA | 16.71 | 17.35 | 090
34151 |  | A | Removal of artery clot | 26.35 | NA | NA | 8.87 | 10.02 | 3.55 | NA | NA | 38.77 | 39.92 | 090
34201 |  | A | Removal of artery clot | 18.40 | NA | NA | 6.57 | 5.70 | 1.45 | NA | NA | 26.42 | 25.55 | 090
34203 |  | A | Removal of leg artery clot | 17.67 | NA | NA | 6.57 | 7.69 | 2.35 | NA | NA | 26.59 | 27.71 | 090
34401 |  | A | Removal of vein clot | 26.35 | NA | NA | 9.64 | 10.41 | 3.09 | NA | NA | 39.08 | 39.85 | 090
34421 |  | A | Removal of vein clot | 13.25 | NA | NA | 5.36 | 6.06 | 1.55 | NA | NA | 20.16 | 20.86 | 090
34451 |  | A | Removal of vein clot | 28.35 | NA | NA | 9.71 | 11.01 | 3.83 | NA | NA | 41.89 | 43.19 | 090
34471 |  | A | Removal of vein clot | 20.94 | NA | NA | 7.73 | 5.91 | 1.18 | NA | NA | 29.85 | 28.03 | 090
34490 |  | A | Removal of vein clot | 10.79 | NA | NA | 4.54 | 5.20 | 1.41 | NA | NA | 16.74 | 17.40 | 090
34501 |  | A | Repair valve, femoral vein | 16.68 | NA | NA | 6.96 | 8.11 | 2.34 | NA | NA | 25.98 | 27.13 | 090
34502 |  | A | Reconstruct vena cava | 27.80 | NA | NA | 10.78 | 11.91 | 3.62 | NA | NA | 42.20 | 43.33 | 090
34510 |  | A | Transposition of vein valve | 19.74 | NA | NA | 7.25 | 8.87 | 2.32 | NA | NA | 29.31 | 30.93 | 090
34520 |  | A | Cross-over vein graft | 18.99 | NA | NA | 9.19 | 8.64 | 2.28 | NA | NA | 30.46 | 29.91 | 090
34530 |  | A | Leg vein fusion | 17.69 | NA | NA | 7.88 | 8.43 | 1.73 | NA | NA | 27.30 | 27.85 | 090
34800 |  | A | Endovas aaa repr w/sm tube | 21.42 | NA | NA | 7.49 | 8.74 | 2.45 | NA | NA | 31.36 | 32.61 | 090
34802 |  | A | Endovas aaa repr w/2-p part | 23.67 | NA | NA | 8.32 | 9.42 | 2.32 | NA | NA | 34.31 | 35.41 | 090
34803 |  | A | Endovas aaa repr w/3-p part | 24.70 | NA | NA | 8.25 | 9.72 | 2.00 | NA | NA | 34.95 | 36.42 | 090
34804 |  | A | Endovas aaa repr w/1-p part | 23.67 | NA | NA | 8.18 | 9.40 | 2.29 | NA | NA | 34.14 | 35.36 | 090
34805 |  | A | Endovas aaa repr w/long tube | 22.55 | NA | NA | 7.34 | 9.07 | 2.00 | NA | NA | 31.89 | 33.62 | 090
34808 |  | A | Endovas iliac a device addon | 4.12 | NA | NA | 1.11 | 1.31 | 0.59 | NA | NA | 5.82 | 6.02 | ZZZ
34812 |  | A | Xpose for endoprosth, femorl | 6.74 | NA | NA | 1.73 | 2.11 | 1.18 | NA | NA | 9.65 | 10.03 | 000
34813 |  | A | Femoral endovas graft add-on | 4.79 | NA | NA | 1.21 | 1.48 | 0.67 | NA | NA | 6.67 | 6.94 | ZZZ
34820 |  | A | Xpose for endoprosth, iliac | 9.74 | NA | NA | 2.47 | 3.04 | 1.50 | NA | NA | 13.71 | 14.28 | 000
34825 |  | A | Endovasc extend prosth, init | 12.68 | NA | NA | 5.23 | 5.91 | 1.28 | NA | NA | 19.19 | 19.87 | 090
34826 |  | A | Endovasc exten prosth, addIl | 4.12 | NA | NA | 1.16 | 1.32 | 0.44 | NA | NA | 5.72 | 5.88 | ZZZ
34830 |  | A | Open aortic tube prosth repr | 35.04 | NA | NA | 10.82 | 12.97 | 4.54 | NA | NA | 50.40 | 52.55 | 090
34831 |  | A | Open aortoiliac prosth repr | 37.79 | NA | NA | 12.15 | 11.84 | 4.88 | NA | NA | 54.82 | 54.51 | 090
34832 |  | A | Open aortofemor prosth repr | 37.79 | NA | NA | 11.68 | 13.89 | 4.84 | NA | NA | 54.31 | 56.52 | 090
34833 |  | A | Xpose for endoprosth, iliac | 11.98 | NA | NA | 3.32 | 4.15 | 1.69 | NA | NA | 16.99 | 17.82 | 000
34834 |  | A | Xpose, endoprosth, brachial | 5.34 | NA | NA | 1.62 | 2.05 | 0.76 | NA | NA | 7.72 | 8.15 | 000
34900 |  | A | Endovasc iliac repr w/graft | 16.73 | NA | NA | 6.34 | 7.27 | 1.99 | NA | NA | 25.06 | 25.99 | 090
35001 |  | A | Repair defect of artery | 20.63 | NA | NA | 7.64 | 9.07 | 2.80 | NA | NA | 31.07 | 32.50 | 090
35002 |  | A | Repair artery rupture, neck | 22.05 | NA | NA | 7.82 | 9.22 | 2.99 | NA | NA | 32.86 | 34.26 | 090
35005 |  | A | Repair defect of artery | 19.11 | NA | NA | 8.14 | 8.67 | 1.76 | NA | NA | 29.01 | 29.54 | 090
35011 |  | A | Repair defect of artery | 18.46 | NA | NA | 6.43 | 7.59 | 2.54 | NA | NA | 27.43 | 28.59 | 090
35013 |  | A | Repair artery rupture, arm | 23.04 | NA | NA | 7.96 | 9.24 | 3.09 | NA | NA | 34.09 | 35.37 | 090
35021 |  | A | Repair defect of artery | 22.04 | NA | NA | 8.70 | 9.23 | 2.86 | NA | NA | 33.60 | 34.13 | 090
35022 |  | A | Repair artery rupture, chest | 25.57 | NA | NA | 9.50 | 9.76 | 3.16 | NA | NA | 38.23 | 38.49 | 090
35045 |  | A | Repair defect of arm artery | 17.91 | NA | NA | 6.42 | 7.23 | 2.44 | NA | NA | 26.77 | 27.58 | 090
35081 |  | A | Repair defect of artery | 33.31 | NA | NA | 11.10 | 11.37 | 4.00 | NA | NA | 48.41 | 48.68 | 090
35082 |  | A | Repair artery rupture, aorta | 41.87 | NA | NA | 13.19 | 14.77 | 5.42 | NA | NA | 60.48 | 62.06 | 090
35091 |  | A | Repair defect of artery | 35.35 | NA | NA | 10.46 | 12.79 | 5.12 | NA | NA | 50.93 | 53.26 | 090
35092 |  | A | Repair artery rupture, aorta | 50.75 | NA | NA | 15.09 | 17.00 | 6.38 | NA | NA | 72.22 | 74.13 | 090
35102 |  | A | Repair defect of artery | 36.31 | NA | NA | 11.68 | 12.18 | 4.47 | NA | NA | 52.46 | 52.96 | 090
35103 |  | A | Repair artery rupture, groin | 43.43 | NA | NA | 13.31 | 15.21 | 5.74 | NA | NA | 62.48 | 64.38 | 090
35111 |  | A | Repair defect of artery | 26.11 | NA | NA | 8.62 | 10.00 | 3.46 | NA | NA | 38.19 | 39.57 | 090
35112 |  | A | Repair artery rupture,spleen | 32.38 | NA | NA | 10.53 | 11.60 | 4.07 | NA | NA | 46.98 | 48.05 | 090
35121 |  | A | Repair defect of artery | 31.35 | NA | NA | 10.51 | 11.90 | 4.29 | NA | NA | 46.15 | 47.54 | 090
35122 |  | A | Repair artery rupture, belly | 37.70 | NA | NA | 12.17 | 13.39 | 4.74 | NA | NA | 54.61 | 55.83 | 090
35131 |  | A | Repair defect of artery | 26.23 | NA | NA | 8.92 | 10.29 | 3.79 | NA | NA | 38.94 | 40.31 | 090
35132 |  | A | Repair artery rupture, groin | 32.38 | NA | NA | 10.33 | 11.86 | 4.29 | NA | NA | 47.00 | 48.53 | 090
35141 |  | A | Repair defect of artery | 20.79 | NA | NA | 7.15 | 8.47 | 2.89 | NA | NA | 30.83 | 32.15 | 090
35142 |  | A | Repair artery rupture, thigh | 24.97 | NA | NA | 8.46 | 9.89 | 3.35 | NA | NA | 36.78 | 38.21 | 090
35151 |  | A | Repair defect of artery | 23.55 | NA | NA | 7.96 | 9.48 | 3.23 | NA | NA | 34.74 | 36.26 | 090
35152 |  | A | Repair artery rupture, knee | 27.47 | NA | NA | 9.15 | 10.82 | 3.60 | NA | NA | 40.22 | 41.89 | 090
35180 |  | A | Repair blood vessel lesion | 14.95 | NA | NA | 6.15 | 6.74 | 1.00 | NA | NA | 22.10 | 22.69 | 090
35182 |  | A | Repair blood vessel lesion | 31.52 | NA | NA | 11.82 | 12.55 | 4.35 | NA | NA | 47.69 | 48.42 | 090
35184 |  | A | Repair blood vessel lesion | 18.67 | NA | NA | 6.96 | 7.96 | 2.52 | NA | NA | 28.15 | 29.15 | 090
35188 |  | A | Repair blood vessel lesion | 14.98 | NA | NA | 6.23 | 7.28 | 2.15 | NA | NA | 23.36 | 24.41 | 090
35189 |  | A | Repair blood vessel lesion | 29.79 | NA | NA | 10.15 | 11.50 | 4.00 | NA | NA | 43.94 | 45.29 | 090
35190 |  | A | Repair blood vessel lesion | 13.27 | NA | NA | 5.34 | 6.19 | 1.79 | NA | NA | 20.40 | 21.25 | 090
35201 |  | A | Repair blood vessel lesion | 16.78 | NA | NA | 6.45 | 7.61 | 2.33 | NA | NA | 25.56 | 26.72 | 090
35206 |  | A | Repair blood vessel lesion | 13.72 | NA | NA | 5.42 | 6.27 | 1.86 | NA | NA | 21.00 | 21.85 | 090
35207 |  | A | Repair blood vessel lesion | 10.79 | NA | NA | 6.60 | 7.16 | 1.48 | NA | NA | 18.87 | 19.43 | 090
35211 |  | A | Repair blood vessel lesion | 24.45 | NA | NA | 10.11 | 10.49 | 3.19 | NA | NA | 37.75 | 38.13 | 090
35216 |  | A | Repair blood vessel lesion | 36.43 | NA | NA | 13.90 | 10.20 | 2.64 | NA | NA | 52.97 | 49.27 | 090
35221 |  | A | Repair blood vessel lesion | 26.50 | NA | NA | 8.59 | 9.60 | 3.36 | NA | NA | 38.45 | 39.46 | 090
35226 |  | A | Repair blood vessel lesion | 15.18 | NA | NA | 5.91 | 7.05 | 2.01 | NA | NA | 23.10 | 24.24 | 090
35231 |  | A | Repair blood vessel lesion | 21.04 | NA | NA | 7.70 | 9.25 | 2.88 | NA | NA | 31.62 | 33.17 | 090
35236 |  | A | Repair blood vessel lesion | 17.90 | NA | NA | 6.50 | 7.54 | 2.42 | NA | NA | 26.82 | 27.86 | 090
35241 |  | A | Repair blood vessel lesion | 25.45 | NA | NA | 9.97 | 10.83 | 3.52 | NA | NA | 38.94 | 39.80 | 090
35246 |  | A | Repair blood vessel lesion | 28.11 | NA | NA | 11.95 | 11.55 | 3.85 | NA | NA | 43.91 | 43.51 | 090
35251 |  | A | Repair blood vessel lesion | 31.79 | NA | NA | 9.83 | 11.30 | 4.12 | NA | NA | 45.74 | 47.21 | 090
35256 |  | A | Repair blood vessel lesion | 18.94 | NA | NA | 6.65 | 7.93 | 2.62 | NA | NA | 28.21 | 29.49 | 090
35261 |  | A | Repair blood vessel lesion | 18.84 | NA | NA | 7.26 | 7.82 | 2.60 | NA | NA | 28.70 | 29.26 | 090
35266 |  | A | Repair blood vessel lesion | 15.71 | NA | NA | 5.72 | 6.68 | 2.09 | NA | NA | 23.52 | 24.48 | 090
35271 |  | A | Repair blood vessel lesion | 24.45 | NA | NA | 9.69 | 10.31 | 3.15 | NA | NA | 37.29 | 37.91 | 090
35276 |  | A | Repair blood vessel lesion | 25.67 | NA | NA | 9.66 | 10.82 | 3.48 | NA | NA | 38.81 | 39.97 | 090
35281 |  | A | Repair blood vessel lesion | 29.87 | NA | NA | 9.81 | 11.23 | 3.96 | NA | NA | 43.64 | 45.06 | 090
35286 |  | A | Repair blood vessel lesion | 17.00 | NA | NA | 6.47 | 7.66 | 2.34 | NA | NA | 25.81 | 27.00 | 090
35301 |  | A | Rechanneling of artery | 19.49 | NA | NA | 6.90 | 8.05 | 2.67 | NA | NA | 29.06 | 30.21 | 090
35311 |  | A | Rechanneling of artery | 28.48 | NA | NA | 9.69 | 11.23 | 3.41 | NA | NA | 41.58 | 43.12 | 090
35321 |  | A | Rechanneling of artery | 16.47 | NA | NA | 6.00 | 7.04 | 2.24 | NA | NA | 24.71 | 25.75 | 090
35331 |  | A | Rechanneling of artery | 27.55 | NA | NA | 9.04 | 10.68 | 3.82 | NA | NA | 40.41 | 42.05 | 090
35341 |  | A | Rechanneling of artery | 26.03 | NA | NA | 8.58 | 10.29 | 3.77 | NA | NA | 38.38 | 40.09 | 090
35351 |  | A | Rechanneling of artery | 24.49 | NA | NA | 7.98 | 9.19 | 3.34 | NA | NA | 35.81 | 37.02 | 090
35355 |  | A | Rechanneling of artery | 19.74 | NA | NA | 6.57 | 7.70 | 2.66 | NA | NA | 28.97 | 30.10 | 090
35361 |  | A | Rechanneling of artery | 30.05 | NA | NA | 9.75 | 11.21 | 4.14 | NA | NA | 43.94 | 45.40 | 090
35363 |  | A | Rechanneling of artery | 32.16 | NA | NA | 10.60 | 12.09 | 4.32 | NA | NA | 47.08 | 48.57 | 090
35371 |  | A | Rechanneling of artery | 15.19 | NA | NA | 5.51 | 6.59 | 2.13 | NA | NA | 22.83 | 23.91 | 090
35372 |  | A | Rechanneling of artery | 18.46 | NA | NA | 6.33 | 7.61 | 2.62 | NA | NA | 27.41 | 28.69 | 090
35381 |  | A | Rechanneling of artery | 16.63 | NA | NA | 6.33 | 7.44 | 2.25 | NA | NA | 25.21 | 26.32 | 090
35390 |  | A | Reoperation, carotid add-on | 3.19 | NA | NA | 0.85 | 1.01 | 0.46 | NA | NA | 4.50 | 4.66 | ZZZ
35400 |  | A | Angioscopy | 3.00 | NA | NA | 0.75 | 1.02 | 0.43 | NA | NA | 4.18 | 4.45 | ZZZ
35450 |  | A | Repair arterial blockage | 10.05 | NA | NA | 3.22 | 3.48 | 1.25 | NA | NA | 14.52 | 14.78 | 000
35452 |  | A | Repair arterial blockage | 6.90 | NA | NA | 2.12 | 2.48 | 0.94 | NA | NA | 9.96 | 10.32 | 000
35454 |  | A | Repair arterial blockage | 6.03 | NA | NA | 1.83 | 2.19 | 0.87 | NA | NA | 8.73 | 9.09 | 000
35456 |  | A | Repair arterial blockage | 7.34 | NA | NA | 2.30 | 2.65 | 1.04 | NA | NA | 10.68 | 11.03 | 000
35458 |  | A | Repair arterial blockage | 9.48 | NA | NA | 2.91 | 3.33 | 1.26 | NA | NA | 13.65 | 14.07 | 000
35459 |  | A | Repair arterial blockage | 8.62 | NA | NA | 2.53 | 3.01 | 1.21 | NA | NA | 12.36 | 12.84 | 000
35460 |  | A | Repair venous blockage | 6.03 | NA | NA | 1.79 | 2.15 | 0.83 | NA | NA | 8.65 | 9.01 | 000
35470 |  | A | Repair arterial blockage | 8.62 | 62.11 | 82.17 | 3.47 | 3.38 | 0.69 | 71.42 | 91.48 | 12.78 | 12.69 | 000
35471 |  | A | Repair arterial blockage | 10.05 | 66.97 | 91.94 | 4.70 | 4.14 | 0.67 | 77.69 | 102.7 | 15.42 | 14.86 | 000
35472 |  | A | Repair arterial blockage | 6.90 | 48.34 | 60.35 | 2.81 | 2.76 | 0.58 | 55.82 | 67.83 | 10.29 | 10.24 | 000
35473 |  | A | Repair arterial blockage | 6.03 | 47.23 | 56.69 | 2.51 | 2.44 | 0.51 | 53.77 | 63.23 | 9.05 | 8.98 | 000
35474 |  | A | Repair arterial blockage | 7.35 | 61.24 | 81.11 | 3.00 | 2.92 | 0.57 | 69.16 | 89.03 | 10.92 | 10.84 | 000
35475 |  | R | Repair arterial blockage | 9.48 | 49.26 | 54.39 | 3.40 | 3.52 | 0.62 | 59.36 | 64.49 | 13.50 | 13.62 | 000
35476 |  | A | Repair venous blockage | 6.03 | 37.43 | 42.91 | 2.13 | 2.30 | 0.34 | 43.80 | 49.28 | 8.50 | 8.67 | 000
35480 |  | A | Atherectomy, open | 11.06 | NA | NA | 3.96 | 4.02 | 1.28 | NA | NA | 16.30 | 16.36 | 000
35481 |  | A | Atherectomy, open | 7.60 | NA | NA | 2.50 | 2.78 | 1.13 | NA | NA | 11.23 | 11.51 | 000
35482 |  | A | Atherectomy, open | 6.64 | NA | NA | 2.13 | 2.45 | 0.89 | NA | NA | 9.66 | 9.98 | 000
35483 |  | A | Atherectomy, open | 8.09 | NA | NA | 2.79 | 2.96 | 1.15 | NA | NA | 12.03 | 12.20 | 000
35484 |  | A | Atherectomy, open | 10.42 | NA | NA | 3.08 | 3.60 | 1.27 | NA | NA | 14.77 | 15.29 | 000
35485 |  | A | Atherectomy, open | 9.48 | NA | NA | 3.00 | 3.40 | 1.35 | NA | NA | 13.83 | 14.23 | 000
35490 |  | A | Atherectomy, percutaneous | 11.06 | NA | NA | 6.27 | 5.09 | 0.71 | NA | NA | 18.04 | 16.86 | 000
35491 |  | A | Atherectomy, percutaneous | 7.60 | NA | NA | 3.97 | 3.46 | 0.74 | NA | NA | 12.31 | 11.80 | 000
35492 |  | A | Atherectomy, percutaneous | 6.64 | NA | NA | 3.63 | 3.30 | 0.43 | NA | NA | 10.70 | 10.37 | 000
35493 |  | A | Atherectomy, percutaneous | 8.09 | NA | NA | 4.15 | 3.89 | 0.56 | NA | NA | 12.80 | 12.54 | 000
35494 |  | A | Atherectomy, percutaneous | 10.42 | NA | NA | 5.23 | 4.65 | 0.59 | NA | NA | 16.24 | 15.66 | 000
35495 |  | A | Atherectomy, percutaneous | 9.48 | NA | NA | 4.64 | 4.45 | 0.69 | NA | NA | 14.81 | 14.62 | 000
35500 |  | A | Harvest vein for bypass | 6.44 | NA | NA | 1.69 | 1.94 | 0.93 | NA | NA | 9.06 | 9.31 | ZZZ
35501 |  | A | Artery bypass graft | 19.70 | NA | NA | 7.29 | 8.17 | 2.80 | NA | NA | 29.79 | 30.67 | 090
35506 |  | A | Artery bypass graft | 25.19 | NA | NA | 8.48 | 9.22 | 2.86 | NA | NA | 36.53 | 37.27 | 090
35507 |  | A | Artery bypass graft | 20.60 | NA | NA | 7.54 | 8.95 | 2.84 | NA | NA | 30.98 | 32.39 | 090
35508 |  | A | Artery bypass graft | 25.95 | NA | NA | 9.15 | 9.37 | 2.77 | NA | NA | 37.87 | 38.09 | 090
35509 |  | A | Artery bypass graft | 18.94 | NA | NA | 6.78 | 8.27 | 2.61 | NA | NA | 28.33 | 29.82 | 090
35510 |  | A | Artery bypass graft | 24.25 | NA | NA | 7.80 | 9.58 | 2.11 | NA | NA | 34.16 | 35.94 | 090
35511 |  | A | Artery bypass graft | 22.08 | NA | NA | 7.33 | 8.85 | 2.90 | NA | NA | 32.31 | 33.83 | 090
35512 |  | A | Artery bypass graft | 23.75 | NA | NA | 7.53 | 9.38 | 2.11 | NA | NA | 33.39 | 35.24 | 090
35515 |  | A | Artery bypass graft | 25.95 | NA | NA | 8.45 | 9.07 | 2.77 | NA | NA | 37.17 | 37.79 | 090
35516 |  | A | Artery bypass graft | 24.07 | NA | NA | 7.80 | 7.05 | 2.33 | NA | NA | 34.20 | 33.45 | 090
35518 |  | A | Artery bypass graft | 22.53 | NA | NA | 7.54 | 8.61 | 3.02 | NA | NA | 33.09 | 34.16 | 090
35521 |  | A | Artery bypass graft | 23.94 | NA | NA | 8.15 | 9.41 | 3.12 | NA | NA | 35.21 | 36.47 | 090
35522 |  | A | Artery bypass graft | 23.01 | NA | NA | 7.51 | 9.19 | 2.11 | NA | NA | 32.63 | 34.31 | 090
35525 |  | A | Artery bypass graft | 21.55 | NA | NA | 7.19 | 8.83 | 2.11 | NA | NA | 30.85 | 32.49 | 090
35526 |  | A | Artery bypass graft | 31.43 | NA | NA | 18.22 | 13.93 | 3.62 | NA | NA | 53.27 | 48.98 | 090
35531 |  | A | Artery bypass graft | 38.92 | NA | NA | 11.95 | 13.84 | 5.16 | NA | NA | 56.03 | 57.92 | 090
35533 |  | A | Artery bypass graft | 29.73 | NA | NA | 9.99 | 11.29 | 3.84 | NA | NA | 43.56 | 44.86 | 090
35536 |  | A | Artery bypass graft | 33.54 | NA | NA | 10.69 | 12.38 | 4.61 | NA | NA | 48.84 | 50.53 | 090
35541 |  | A | Artery bypass graft | 26.90 | NA | NA | 9.26 | 10.72 | 3.70 | NA | NA | 39.86 | 41.32 | 090
35546 |  | A | Artery bypass graft | 26.40 | NA | NA | 9.07 | 10.41 | 3.69 | NA | NA | 39.16 | 40.50 | 090
35548 |  | A | Artery bypass graft | 22.50 | NA | NA | 7.97 | 9.06 | 2.97 | NA | NA | 33.44 | 34.53 | 090
35549 |  | A | Artery bypass graft | 24.27 | NA | NA | 9.18 | 10.07 | 3.29 | NA | NA | 36.74 | 37.63 | 090
35551 |  | A | Artery bypass graft | 27.65 | NA | NA | 9.90 | 11.09 | 3.74 | NA | NA | 41.29 | 42.48 | 090
35556 |  | A | Artery bypass graft | 26.56 | NA | NA | 8.93 | 9.52 | 3.09 | NA | NA | 38.58 | 39.17 | 090
35558 |  | A | Artery bypass graft | 22.94 | NA | NA | 8.09 | 9.18 | 2.99 | NA | NA | 34.02 | 35.11 | 090
35560 |  | A | Artery bypass graft | 33.84 | NA | NA | 10.79 | 12.68 | 4.74 | NA | NA | 49.37 | 51.26 | 090
35563 |  | A | Artery bypass graft | 25.93 | NA | NA | 8.62 | 10.05 | 3.51 | NA | NA | 38.06 | 39.49 | 090
35565 |  | A | Artery bypass graft | 24.94 | NA | NA | 8.51 | 9.73 | 3.29 | NA | NA | 36.74 | 37.96 | 090
35566 |  | A | Artery bypass graft | 32.16 | NA | NA | 10.20 | 11.09 | 3.82 | NA | NA | 46.18 | 47.07 | 090
35571 |  | A | Artery bypass graft | 25.33 | NA | NA | 8.45 | 10.24 | 3.42 | NA | NA | 37.20 | 38.99 | 090
35572 |  | A | Harvest femoropopliteal vein | 6.81 | NA | NA | 1.88 | 2.15 | 0.99 | NA | NA | 9.68 | 9.95 | ZZZ
35583 |  | A | Vein bypass graft | 27.56 | NA | NA | 9.01 | 9.87 | 3.16 | NA | NA | 39.73 | 40.59 | 090
35585 |  | A | Vein bypass graft | 32.16 | NA | NA | 10.15 | 11.70 | 4.01 | NA | NA | 46.32 | 47.87 | 090
35587 |  | A | Vein bypass graft | 26.02 | NA | NA | 8.69 | 10.76 | 3.51 | NA | NA | 38.22 | 40.29 | 090
35600 |  | A | Harvest artery for cabg | 4.94 | NA | NA | 1.54 | 1.60 | 0.73 | NA | NA | 7.21 | 7.27 | ZZZ
35601 |  | A | Artery bypass graft | 18.31 | NA | NA | 6.63 | 8.12 | 2.49 | NA | NA | 27.43 | 28.92 | 090
35606 |  | A | Artery bypass graft | 22.32 | NA | NA | 7.68 | 8.68 | 2.69 | NA | NA | 32.69 | 33.69 | 090
35612 |  | A | Artery bypass graft | 16.64 | NA | NA | 6.40 | 7.51 | 2.08 | NA | NA | 25.12 | 26.23 | 090
35616 |  | A | Artery bypass graft | 21.70 | NA | NA | 7.14 | 7.86 | 2.19 | NA | NA | 31.03 | 31.75 | 090
35621 |  | A | Artery bypass graft | 20.91 | NA | NA | 7.04 | 8.26 | 2.91 | NA | NA | 30.86 | 32.08 | 090
35623 |  | A | Bypass graft, not vein | 25.73 | NA | NA | 8.65 | 10.03 | 3.45 | NA | NA | 37.83 | 39.21 | 090
35626 |  | A | Artery bypass graft | 29.02 | NA | NA | 10.25 | 11.54 | 4.07 | NA | NA | 43.34 | 44.63 | 090
35631 |  | A | Artery bypass graft | 35.84 | NA | NA | 11.04 | 13.13 | 4.95 | NA | NA | 51.83 | 53.92 | 090
35636 |  | A | Artery bypass graft | 31.56 | NA | NA | 9.94 | 11.70 | 4.09 | NA | NA | 45.59 | 47.35 | 090
35641 |  | A | Artery bypass graft | 26.24 | NA | NA | 9.23 | 10.60 | 3.53 | NA | NA | 39.00 | 40.37 | 090
35642 |  | A | Artery bypass graft | 18.79 | NA | NA | 7.70 | 8.44 | 2.27 | NA | NA | 28.76 | 29.50 | 090
35645 |  | A | Artery bypass graft | 18.28 | NA | NA | 7.32 | 8.03 | 2.49 | NA | NA | 28.09 | 28.80 | 090
35646 |  | A | Artery bypass graft | 32.78 | NA | NA | 10.78 | 12.52 | 4.43 | NA | NA | 47.99 | 49.73 | 090
35647 |  | A | Artery bypass graft | 29.56 | NA | NA | 9.79 | 11.28 | 3.98 | NA | NA | 43.33 | 44.82 | 090
35650 |  | A | Artery bypass graft | 20.04 | NA | NA | 6.80 | 7.97 | 2.71 | NA | NA | 29.55 | 30.72 | 090
35651 |  | A | Artery bypass graft | 25.90 | NA | NA | 8.84 | 10.25 | 3.35 | NA | NA | 38.09 | 39.50 | 090
35654 |  | A | Artery bypass graft | 26.11 | NA | NA | 8.59 | 10.14 | 3.52 | NA | NA | 38.22 | 39.77 | 090
35656 |  | A | Artery bypass graft | 20.35 | NA | NA | 7.05 | 8.21 | 2.79 | NA | NA | 30.19 | 31.35 | 090
35661 |  | A | Artery bypass graft | 20.16 | NA | NA | 7.30 | 8.52 | 2.71 | NA | NA | 30.17 | 31.39 | 090
35663 |  | A | Artery bypass graft | 23.74 | NA | NA | 8.13 | 9.51 | 3.10 | NA | NA | 34.97 | 36.35 | 090
35665 |  | A | Artery bypass graft | 22.16 | NA | NA | 7.65 | 8.99 | 3.00 | NA | NA | 32.81 | 34.15 | 090
35666 |  | A | Artery bypass graft | 23.47 | NA | NA | 8.78 | 10.18 | 3.15 | NA | NA | 35.40 | 36.80 | 090
35671 |  | A | Artery bypass graft | 20.58 | NA | NA | 7.98 | 9.02 | 2.77 | NA | NA | 31.33 | 32.37 | 090
35681 |  | A | Composite bypass graft | 1.60 | NA | NA | 0.42 | 0.50 | 0.23 | NA | NA | 2.25 | 2.33 | ZZZ
35682 |  | A | Composite bypass graft | 7.19 | NA | NA | 1.78 | 2.23 | 1.03 | NA | NA | 10.00 | 10.45 | ZZZ
35683 |  | A | Composite bypass graft | 8.49 | NA | NA | 2.12 | 2.65 | 1.20 | NA | NA | 11.81 | 12.34 | ZZZ
35685 |  | A | Bypass graft patency/patch | 4.04 | NA | NA | 1.01 | 1.27 | 0.58 | NA | NA | 5.63 | 5.89 | ZZZ
35686 |  | A | Bypass graft/av fist patency | 3.34 | NA | NA | 0.85 | 1.06 | 0.47 | NA | NA | 4.66 | 4.87 | ZZZ
35691 |  | A | Arterial transposition | 18.26 | NA | NA | 6.33 | 7.88 | 2.58 | NA | NA | 27.17 | 28.72 | 090
35693 |  | A | Arterial transposition | 15.58 | NA | NA | 6.09 | 7.31 | 2.21 | NA | NA | 23.88 | 25.10 | 090
35694 |  | A | Arterial transposition | 19.13 | NA | NA | 6.59 | 8.10 | 2.69 | NA | NA | 28.41 | 29.92 | 090
35695 |  | A | Arterial transposition | 19.91 | NA | NA | 6.64 | 8.07 | 2.73 | NA | NA | 29.28 | 30.71 | 090
35697 |  | A | Reimplant artery each | 3.00 | NA | NA | 0.77 | 0.96 | 0.41 | NA | NA | 4.18 | 4.37 | ZZZ
35700 |  | A | Reoperation, bypass graft | 3.08 | NA | NA | 0.80 | 0.97 | 0.44 | NA | NA | 4.32 | 4.49 | ZZZ
35701 |  | A | Exploration, carotid artery | 9.07 | NA | NA | 4.26 | 4.93 | 1.12 | NA | NA | 14.45 | 15.12 | 090
35721 |  | A | Exploration, femoral artery | 7.62 | NA | NA | 3.76 | 4.26 | 1.03 | NA | NA | 12.41 | 12.91 | 090
35741 |  | A | Exploration popliteal artery | 8.57 | NA | NA | 3.98 | 4.49 | 1.12 | NA | NA | 13.67 | 14.18 | 090
35761 |  | A | Exploration of artery/vein | 5.78 | NA | NA | 3.49 | 3.88 | 0.75 | NA | NA | 10.02 | 10.41 | 090
35800 |  | A | Explore neck vessels | 7.94 | NA | NA | 3.96 | 4.48 | 0.95 | NA | NA | 12.85 | 13.37 | 090
35820 |  | A | Explore chest vessels | 30.08 | NA | NA | 11.17 | 8.19 | 1.94 | NA | NA | 43.19 | 40.21 | 090
35840 |  | A | Explore abdominal vessels | 10.81 | NA | NA | 4.89 | 5.18 | 1.34 | NA | NA | 17.04 | 17.33 | 090
35860 |  | A | Explore limb vessels | 6.67 | NA | NA | 3.49 | 3.90 | 0.78 | NA | NA | 10.94 | 11.35 | 090
35870 |  | A | Repair vessel graft defect | 24.32 | NA | NA | 8.25 | 9.38 | 3.00 | NA | NA | 35.57 | 36.70 | 090
35875 |  | A | Removal of clot in graft | 10.60 | NA | NA | 4.43 | 4.99 | 1.41 | NA | NA | 16.44 | 17.00 | 090
35876 |  | A | Removal of clot in graft | 17.70 | NA | NA | 6.16 | 7.17 | 2.39 | NA | NA | 26.25 | 27.26 | 090
35879 |  | A | Revise graft w/vein | 17.24 | NA | NA | 6.17 | 7.31 | 2.27 | NA | NA | 25.68 | 26.82 | 090
35881 |  | A | Revise graft w/vein | 19.16 | NA | NA | 6.72 | 8.18 | 2.55 | NA | NA | 28.43 | 29.89 | 090
35901 |  | A | Excision, graft, neck | 8.18 | NA | NA | 4.32 | 5.06 | 1.15 | NA | NA | 13.65 | 14.39 | 090
35903 |  | A | Excision, graft, extremity | 9.38 | NA | NA | 4.72 | 5.79 | 1.30 | NA | NA | 15.40 | 16.47 | 090
35905 |  | A | Excision, graft, thorax | 33.33 | NA | NA | 10.76 | 12.58 | 4.43 | NA | NA | 48.52 | 50.34 | 090
35907 |  | A | Excision, graft, abdomen | 37.08 | NA | NA | 11.35 | 13.46 | 4.91 | NA | NA | 53.34 | 55.45 | 090
36000 |  | A | Place needle in vein | 0.18 | 0.46 | 0.54 | 0.06 | 0.05 | 0.01 | 0.65 | 0.73 | 0.25 | 0.24 | XXX
36002 |  | A | Pseudoaneurysm injection trt | 1.96 | 2.23 | 2.70 | 0.82 | 0.93 | 0.17 | 4.36 | 4.83 | 2.95 | 3.06 | 000
36005 |  | A | Injection ext venography | 0.95 | 8.54 | 7.87 | 0.37 | 0.33 | 0.05 | 9.54 | 8.87 | 1.37 | 1.33 | 000
36010 |  | A | Place catheter in vein | 2.43 | 11.23 | 17.28 | 0.75 | 0.78 | 0.20 | 13.86 | 19.91 | 3.38 | 3.41 | XXX
36011 |  | A | Place catheter in vein | 3.14 | 19.70 | 25.79 | 0.97 | 1.04 | 0.27 | 23.11 | 29.20 | 4.38 | 4.45 | XXX
36012 |  | A | Place catheter in vein | 3.51 | 20.46 | 19.33 | 1.20 | 1.19 | 0.23 | 24.20 | 23.07 | 4.94 | 4.93 | XXX
36013 |  | A | Place catheter in artery | 2.52 | 19.36 | 20.86 | 0.96 | 0.76 | 0.25 | 22.13 | 23.63 | 3.73 | 3.53 | XXX
36014 |  | A | Place catheter in artery | 3.02 | 19.16 | 19.88 | 1.03 | 1.03 | 0.19 | 22.37 | 23.09 | 4.24 | 4.24 | XXX
36015 |  | A | Place catheter in artery | 3.51 | 18.23 | 22.30 | 0.94 | 1.13 | 0.21 | 21.95 | 26.02 | 4.66 | 4.85 | XXX
36100 |  | A | Establish access to artery | 3.02 | 11.30 | 11.88 | 1.20 | 1.13 | 0.26 | 14.58 | 15.16 | 4.48 | 4.41 | XXX
36120 |  | A | Establish access to artery | 2.01 | 9.35 | 10.36 | 0.58 | 0.63 | 0.14 | 11.50 | 12.51 | 2.73 | 2.78 | XXX
36140 |  | A | Establish access to artery | 2.01 | 10.55 | 12.22 | 0.70 | 0.66 | 0.16 | 12.72 | 14.39 | 2.87 | 2.83 | XXX
36145 |  | A | Artery to vein shunt | 2.01 | 10.36 | 12.00 | 0.62 | 0.65 | 0.11 | 12.48 | 14.12 | 2.74 | 2.77 | XXX
36160 |  | A | Establish access to aorta | 2.52 | 11.88 | 13.08 | 0.76 | 0.82 | 0.26 | 14.66 | 15.86 | 3.54 | 3.60 | XXX
36200 |  | A | Place catheter in aorta | 3.02 | 13.76 | 15.82 | 1.00 | 1.01 | 0.24 | 17.02 | 19.08 | 4.26 | 4.27 | XXX
36215 |  | A | Place catheter in artery | 4.67 | 26.10 | 26.80 | 1.83 | 1.67 | 0.27 | 31.04 | 31.74 | 6.77 | 6.61 | XXX
36216 |  | A | Place catheter in artery | 5.27 | 28.11 | 28.84 | 1.99 | 1.84 | 0.31 | 33.69 | 34.42 | 7.57 | 7.42 | XXX
36217 |  | A | Place catheter in artery | 6.29 | 46.29 | 53.15 | 2.30 | 2.20 | 0.44 | 53.02 | 59.88 | 9.03 | 8.93 | XXX
36218 |  | A | Place catheter in artery | 1.01 | 3.78 | 4.76 | 0.36 | 0.35 | 0.07 | 4.86 | 5.84 | 1.44 | 1.43 | ZZZ
36245 |  | A | Place catheter in artery | 4.67 | 29.09 | 31.34 | 2.09 | 1.78 | 0.31 | 34.07 | 36.32 | 7.07 | 6.76 | XXX
36246 |  | A | Place catheter in artery | 5.27 | 27.75 | 29.41 | 1.96 | 1.86 | 0.38 | 33.40 | 35.06 | 7.61 | 7.51 | XXX
36247 |  | A | Place catheter in artery | 6.29 | 45.77 | 48.58 | 2.34 | 2.19 | 0.47 | 52.53 | 55.34 | 9.10 | 8.95 | XXX
36248 |  | A | Place catheter in artery | 1.01 | 3.21 | 3.83 | 0.37 | 0.35 | 0.07 | 4.29 | 4.91 | 1.45 | 1.43 | ZZZ
36260 |  | A | Insertion of infusion pump | 9.76 | NA | NA | 4.86 | 4.88 | 1.29 | NA | NA | 15.91 | 15.93 | 090
36261 |  | A | Revision of infusion pump | 5.50 | NA | NA | 3.25 | 3.56 | 0.70 | NA | NA | 9.45 | 9.76 | 090
36262 |  | A | Removal of infusion pump | 4.01 | NA | NA | 2.69 | 2.74 | 0.54 | NA | NA | 7.24 | 7.29 | 090
36299 |  | C | Vessel injection procedure | 0.00 | 0.00 | 0.00 | 0.00 | 0.00 | 0.00 | 0.00 | 0.00 | 0.00 | 0.00 | YYY
36400 |  | A | Bl draw < 3 yrs fem/jugular | 0.38 | 0.33 | 0.29 | 0.11 | 0.10 | 0.03 | 0.74 | 0.70 | 0.52 | 0.51 | XXX
36405 |  | A | Bl draw < 3 yrs scalp vein | 0.31 | 0.29 | 0.27 | 0.08 | 0.08 | 0.03 | 0.63 | 0.61 | 0.42 | 0.42 | XXX
36406 |  | A | Bl draw < 3 yrs other vein | 0.18 | 0.30 | 0.29 | 0.08 | 0.06 | 0.01 | 0.49 | 0.48 | 0.27 | 0.25 | XXX
36410 |  | A | Non-routine bl draw > 3 yrs | 0.18 | 0.32 | 0.30 | 0.05 | 0.05 | 0.01 | 0.51 | 0.49 | 0.24 | 0.24 | XXX
36420 |  | A | Vein access cutdown < 1 yr | 1.01 | NA | NA | 0.21 | 0.26 | 0.07 | NA | NA | 1.29 | 1.34 | XXX
36425 |  | A | Vein access cutdown > 1 yr | 0.76 | NA | NA | 0.22 | 0.22 | 0.06 | NA | NA | 1.04 | 1.04 | XXX
36430 |  | A | Blood transfusion service | 0.00 | 0.93 | 0.99 | 0.00 | 0.76 | 0.06 | 0.99 | 1.05 | 0.06 | 0.82 | XXX
36440 |  | A | Bl push transfuse, 2 yr or < | 1.03 | NA | NA | 0.43 | 0.33 | 0.10 | NA | NA | 1.56 | 1.46 | XXX
36450 |  | A | Bl exchange/transfuse, nb | 2.23 | NA | NA | 0.78 | 0.73 | 0.21 | NA | NA | 3.22 | 3.17 | XXX
36455 |  | A | Bl exchange/transfuse non-nb | 2.43 | NA | NA | 0.74 | 0.94 | 0.15 | NA | NA | 3.32 | 3.52 | XXX
36460 |  | A | Transfusion service, fetal | 6.58 | NA | NA | 1.70 | 2.11 | 0.79 | NA | NA | 9.07 | 9.48 | XXX
36470 |  | A | Injection therapy of vein | 1.09 | 2.46 | 2.63 | 0.66 | 0.71 | 0.12 | 3.67 | 3.84 | 1.87 | 1.92 | 010
36471 |  | A | Injection therapy of veins | 1.57 | 2.58 | 2.95 | 0.80 | 0.92 | 0.19 | 4.34 | 4.71 | 2.56 | 2.68 | 010
36475 |  | A | Endovenous rf, 1st vein | 6.72 | 36.90 | 47.77 | 1.97 | 2.39 | 0.37 | 43.99 | 54.86 | 9.06 | 9.48 | 000
36476 |  | A | Endovenous rf, vein add-on | 3.38 | 6.04 | 7.42 | 0.89 | 1.08 | 0.18 | 9.60 | 10.98 | 4.45 | 4.64 | ZZZ
36478 |  | A | Endovenous laser, 1st vein | 6.72 | 33.79 | 43.53 | 2.08 | 2.42 | 0.37 | 40.88 | 50.62 | 9.17 | 9.51 | 000
36479 |  | A | Endovenous laser vein addon | 3.38 | 6.55 | 7.63 | 1.01 | 1.11 | 0.18 | 10.11 | 11.19 | 4.57 | 4.67 | ZZZ
36481 |  | A | Insertion of catheter, vein | 6.98 | NA | NA | 2.14 | 2.48 | 0.55 | NA | NA | 9.67 | 10.01 | 000
36500 |  | A | Insertion of catheter, vein | 3.51 | NA | NA | 1.25 | 1.34 | 0.20 | NA | NA | 4.96 | 5.05 | 000
36510 |  | A | Insertion of catheter, vein | 1.09 | 1.09 | 3.19 | 0.31 | 0.54 | 0.10 | 2.28 | 4.38 | 1.50 | 1.73 | 000
36511 |  | A | Apheresis wbc | 1.74 | NA | NA | 0.58 | 0.69 | 0.08 | NA | NA | 2.40 | 2.51 | 000
36512 |  | A | Apheresis rbc | 1.74 | NA | NA | 0.61 | 0.71 | 0.08 | NA | NA | 2.43 | 2.53 | 000
36513 |  | A | Apheresis platelets | 1.74 | NA | NA | 0.52 | 0.68 | 0.17 | NA | NA | 2.43 | 2.59 | 000
36514 |  | A | Apheresis plasma | 1.74 | 10.54 | 15.36 | 0.53 | 0.67 | 0.08 | 12.36 | 17.18 | 2.35 | 2.49 | 000
36515 |  | A | Apheresis, adsorp/reinfuse | 1.74 | 45.31 | 61.05 | 0.51 | 0.62 | 0.08 | 47.13 | 62.87 | 2.33 | 2.44 | 000
36516 |  | A | Apheresis, selective | 1.22 | 49.90 | 75.51 | 0.38 | 0.46 | 0.08 | 51.20 | 76.81 | 1.68 | 1.76 | 000
36522 |  | A | Photopheresis | 1.67 | 35.02 | 33.03 | 0.85 | 0.93 | 0.13 | 36.82 | 34.83 | 2.65 | 2.73 | 000
36550 |  | A | Declot vascular device | 0.00 | 0.33 | 0.38 | 0.06 | 0.31 | 0.37 | 0.70 | 0.75 | 0.43 | 0.68 | XXX
36555 |  | A | Insert non-tunnel cv cath | 2.68 | 4.16 | 5.35 | 0.62 | 0.76 | 0.11 | 6.95 | 8.14 | 3.41 | 3.55 | 000
36556 |  | A | Insert non-tunnel cv cath | 2.50 | 2.91 | 4.94 | 0.57 | 0.70 | 0.19 | 5.60 | 7.63 | 3.26 | 3.39 | 000
36557 |  | A | Insert tunneled cv cath | 5.09 | 14.96 | 19.60 | 2.37 | 2.58 | 0.57 | 20.62 | 25.26 | 8.03 | 8.24 | 010
36558 |  | A | Insert tunneled cv cath | 4.79 | 15.00 | 19.53 | 2.30 | 2.49 | 0.57 | 20.36 | 24.89 | 7.66 | 7.85 | 010
36560 |  | A | Insert tunneled cv cath | 6.24 | 21.22 | 27.56 | 2.55 | 2.91 | 0.57 | 28.03 | 34.37 | 9.36 | 9.72 | 010
36561 |  | A | Insert tunneled cv cath | 5.99 | 22.48 | 27.81 | 2.61 | 2.87 | 0.57 | 29.04 | 34.37 | 9.17 | 9.43 | 010
36563 |  | A | Insert tunneled cv cath | 6.19 | 23.25 | 25.87 | 2.62 | 2.89 | 0.84 | 30.28 | 32.90 | 9.65 | 9.92 | 010
36565 |  | A | Insert tunneled cv cath | 5.99 | 17.83 | 22.98 | 2.51 | 2.84 | 0.57 | 24.39 | 29.54 | 9.07 | 9.40 | 010
36566 |  | A | Insert tunneled cv cath | 6.49 | 114.71 | 47.80 | 2.67 | 3.00 | 0.57 | 121.77 | 54.86 | 9.73 | 10.06 | 010
36568 |  | A | Insert picc cath | 1.92 | 5.73 | 7.08 | 0.57 | 0.58 | 0.11 | 7.76 | 9.11 | 2.60 | 2.61 | 000
36569 |  | A | Insert picc cath | 1.82 | 4.46 | 6.62 | 0.61 | 0.58 | 0.19 | 6.47 | 8.63 | 2.62 | 2.59 | 000
36570 |  | A | Insert picvad cath | 5.31 | 23.19 | 30.68 | 2.34 | 2.63 | 0.57 | 29.07 | 36.56 | 8.22 | 8.51 | 010
36571 |  | A | Insert picvad cath | 5.29 | 25.04 | 31.19 | 2.42 | 2.64 | 0.57 | 30.90 | 37.05 | 8.28 | 8.50 | 010
36575 |  | A | Repair tunneled cv cath | 0.67 | 3.33 | 3.87 | 0.23 | 0.25 | 0.20 | 4.20 | 4.74 | 1.10 | 1.12 | 000
36576 |  | A | Repair tunneled cv cath | 3.19 | 5.88 | 6.68 | 1.55 | 1.77 | 0.19 | 9.26 | 10.06 | 4.93 | 5.15 | 010
36578 |  | A | Replace tunneled cv cath | 3.49 | 9.11 | 10.63 | 1.91 | 2.20 | 0.19 | 12.79 | 14.31 | 5.59 | 5.88 | 010
36580 |  | A | Replace cvad cath | 1.31 | 3.99 | 6.20 | 0.41 | 0.41 | 0.19 | 5.49 | 7.70 | 1.91 | 1.91 | 000
36581 |  | A | Replace tunneled cv cath | 3.43 | 15.64 | 18.53 | 1.66 | 1.86 | 0.19 | 19.26 | 22.15 | 5.28 | 5.48 | 010
36582 |  | A | Replace tunneled cv cath | 5.19 | 20.79 | 24.71 | 2.29 | 2.72 | 0.19 | 26.17 | 30.09 | 7.67 | 8.10 | 010
36583 |  | A | Replace tunneled cv cath | 5.24 | 21.00 | 24.77 | 2.41 | 2.76 | 0.19 | 26.43 | 30.20 | 7.84 | 8.19 | 010
36584 |  | A | Replace picc cath | 1.20 | 3.97 | 6.22 | 0.57 | 0.56 | 0.19 | 5.36 | 7.61 | 1.96 | 1.95 | 000
36585 |  | A | Replace picvad cath | 4.79 | 22.75 | 26.55 | 2.30 | 2.62 | 0.19 | 27.73 | 31.53 | 7.28 | 7.60 | 010
36589 |  | A | Removal tunneled cv cath | 2.27 | 1.86 | 2.15 | 1.22 | 1.35 | 0.24 | 4.37 | 4.66 | 3.73 | 3.86 | 010
36590 |  | A | Removal tunneled cv cath | 3.30 | 3.64 | 3.44 | 1.59 | 1.69 | 0.44 | 7.38 | 7.18 | 5.33 | 5.43 | 010
36595 |  | A | Mech remov tunneled cv cath | 3.59 | 10.85 | 15.65 | 1.31 | 1.42 | 0.21 | 14.65 | 19.45 | 5.11 | 5.22 | 000
36596 |  | A | Mech remov tunneled cv cath | 0.75 | 2.59 | 3.42 | 0.42 | 0.48 | 0.05 | 3.39 | 4.22 | 1.22 | 1.28 | 000
36597 |  | A | Reposition venous catheter | 1.21 | 2.02 | 2.31 | 0.42 | 0.44 | 0.07 | 3.30 | 3.59 | 1.70 | 1.72 | 000
36598 |  | T | Inj w/fluor, eval cv device | 0.74 | 2.25 | 2.54 | 0.26 | 2.05 | 0.05 | 3.04 | 3.33 | 1.05 | 2.84 | 000
36600 |  | A | Withdrawal of arterial blood | 0.32 | 0.50 | 0.49 | 0.08 | 0.09 | 0.02 | 0.84 | 0.83 | 0.42 | 0.43 | XXX
36620 |  | A | Insertion catheter, artery | 1.15 | NA | NA | 0.17 | 0.22 | 0.07 | NA | NA | 1.39 | 1.44 | 000
36625 |  | A | Insertion catheter, artery | 2.11 | NA | NA | 0.49 | 0.52 | 0.26 | NA | NA | 2.86 | 2.89 | 000
36640 |  | A | Insertion catheter, artery | 2.10 | NA | NA | 0.91 | 1.01 | 0.21 | NA | NA | 3.22 | 3.32 | 000
36660 |  | A | Insertion catheter, artery | 1.40 | NA | NA | 0.20 | 0.38 | 0.14 | NA | NA | 1.74 | 1.92 | 000
36680 |  | A | Insert needle, bone cavity | 1.20 | NA | NA | 0.33 | 0.45 | 0.11 | NA | NA | 1.64 | 1.76 | 000
36800 |  | A | Insertion of cannula | 2.43 | NA | NA | 1.55 | 1.74 | 0.25 | NA | NA | 4.23 | 4.42 | 000
36810 |  | A | Insertion of cannula | 3.96 | NA | NA | 1.36 | 1.60 | 0.45 | NA | NA | 5.77 | 6.01 | 000
36815 |  | A | Insertion of cannula | 2.62 | NA | NA | 1.04 | 1.14 | 0.35 | NA | NA | 4.01 | 4.11 | 000
36818 |  | A | Av fuse, uppr arm, cephalic | 11.77 | NA | NA | 4.88 | 5.74 | 1.89 | NA | NA | 18.54 | 19.40 | 090
36819 |  | A | Av fuse, uppr arm, basilic | 14.35 | NA | NA | 5.26 | 6.09 | 1.95 | NA | NA | 21.56 | 22.39 | 090
36820 |  | A | Av fusion/forearm vein | 14.35 | NA | NA | 5.34 | 6.12 | 1.94 | NA | NA | 21.63 | 22.41 | 090
36821 |  | A | Av fusion direct any site | 9.10 | NA | NA | 4.04 | 4.50 | 1.23 | NA | NA | 14.37 | 14.83 | 090
36822 |  | A | Insertion of cannula(s) | 5.47 | NA | NA | 3.82 | 4.24 | 0.79 | NA | NA | 10.08 | 10.50 | 090
36823 |  | A | Insertion of cannula(s) | 22.74 | NA | NA | 8.91 | 9.26 | 2.88 | NA | NA | 34.53 | 34.88 | 090
36825 |  | A | Artery-vein autograft | 9.95 | NA | NA | 4.34 | 4.87 | 1.35 | NA | NA | 15.64 | 16.17 | 090
36830 |  | A | Artery-vein nonautograft | 11.98 | NA | NA | 4.25 | 4.99 | 1.66 | NA | NA | 17.89 | 18.63 | 090
36831 |  | A | Open thrombect av fistula | 7.99 | NA | NA | 3.28 | 3.78 | 1.09 | NA | NA | 12.36 | 12.86 | 090
36832 |  | A | Av fistula revision, open | 10.48 | NA | NA | 3.87 | 4.51 | 1.44 | NA | NA | 15.79 | 16.43 | 090
36833 |  | A | Av fistula revision | 11.93 | NA | NA | 4.25 | 4.96 | 1.65 | NA | NA | 17.83 | 18.54 | 090
36834 |  | A | Repair A-V aneurysm | 11.07 | NA | NA | 4.35 | 4.68 | 1.37 | NA | NA | 16.79 | 17.12 | 090
36835 |  | A | Artery to vein shunt | 7.38 | NA | NA | 3.90 | 4.22 | 0.98 | NA | NA | 12.26 | 12.58 | 090
36838 |  | A | Dist revas ligation, hemo | 21.55 | NA | NA | 7.14 | 8.82 | 3.01 | NA | NA | 31.70 | 33.38 | 090
36860 |  | A | External cannula declotting | 2.01 | 3.35 | 2.17 | 0.62 | 0.67 | 0.11 | 5.47 | 4.29 | 2.74 | 2.79 | 000
36861 |  | A | Cannula declotting | 2.52 | NA | NA | 1.25 | 1.43 | 0.27 | NA | NA | 4.04 | 4.22 | 000
36870 |  | A | Percut thrombect av fistula | 5.15 | 41.10 | 50.05 | 2.67 | 3.03 | 0.29 | 46.54 | 55.49 | 8.11 | 8.47 | 090
37140 |  | A | Revision of circulation | 25.05 | NA | NA | 9.04 | 10.12 | 2.01 | NA | NA | 36.10 | 37.18 | 090
37145 |  | A | Revision of circulation | 26.06 | NA | NA | 9.10 | 10.42 | 3.25 | NA | NA | 38.41 | 39.73 | 090
37160 |  | A | Revision of circulation | 23.06 | NA | NA | 8.16 | 8.98 | 2.81 | NA | NA | 34.03 | 34.85 | 090
37180 |  | A | Revision of circulation | 26.06 | NA | NA | 9.00 | 9.97 | 3.34 | NA | NA | 38.40 | 39.37 | 090
37181 |  | A | Splice spleen/kidney veins | 28.19 | NA | NA | 9.34 | 10.59 | 3.40 | NA | NA | 40.92 | 42.17 | 090
37182 |  | A | Insert hepatic shunt (tips) | 16.97 | NA | NA | 5.73 | 5.98 | 1.00 | NA | NA | 23.70 | 23.95 | 000
37183 |  | A | Remove hepatic shunt (tips) | 7.99 | NA | NA | 2.80 | 2.96 | 0.47 | NA | NA | 11.26 | 11.42 | 000
37184 |  | A | Prim art mech thrombectomy | 8.66 | 49.86 | 66.23 | 3.00 | 3.26 | 0.55 | 59.07 | 75.44 | 12.21 | 12.47 | 000
37185 |  | A | Prim art m-thrombect add-on | 3.28 | 16.20 | 21.21 | 1.02 | 1.09 | 0.21 | 19.69 | 24.70 | 4.51 | 4.58 | ZZZ
37186 |  | A | Sec art m-thrombect add-on | 4.92 | 34.21 | 45.60 | 1.53 | 1.63 | 0.32 | 39.45 | 50.84 | 6.77 | 6.87 | ZZZ
37187 |  | A | Venous mech thrombectomy | 8.03 | 48.71 | 64.81 | 2.81 | 3.06 | 0.51 | 57.25 | 73.35 | 11.35 | 11.60 | 000
37188 |  | A | Venous m-thrombectomy add-on | 5.71 | 42.51 | 57.11 | 2.09 | 2.29 | 0.37 | 48.59 | 63.19 | 8.17 | 8.37 | 000
37195 |  | C | Thrombolytic therapy, stroke | 0.00 | 0.00 | 0.00 | 0.00 | 0.00 | 0.00 | 0.00 | 0.00 | 0.00 | 0.00 | XXX
37200 |  | A | Transcatheter biopsy | 4.55 | NA | NA | 1.49 | 1.50 | 0.27 | NA | NA | 6.31 | 6.32 | 000
37201 |  | A | Transcatheter therapy infuse | 4.99 | NA | NA | 2.25 | 2.47 | 0.33 | NA | NA | 7.57 | 7.79 | 000
37202 |  | A | Transcatheter therapy infuse | 5.67 | NA | NA | 3.40 | 3.12 | 0.43 | NA | NA | 9.50 | 9.22 | 000
37203 |  | A | Transcatheter retrieval | 5.02 | 30.34 | 32.24 | 1.95 | 2.01 | 0.29 | 35.65 | 37.55 | 7.26 | 7.32 | 000
37204 |  | A | Transcatheter occlusion | 18.11 | NA | NA | 5.79 | 5.87 | 1.48 | NA | NA | 25.38 | 25.46 | 000
37205 |  | A | Transcath iv stent, percut | 8.27 | NA | NA | 3.90 | 3.79 | 0.60 | NA | NA | 12.77 | 12.66 | 000
37206 |  | A | Transcath iv stent/perc addl | 4.12 | NA | NA | 1.59 | 1.47 | 0.31 | NA | NA | 6.02 | 5.90 | ZZZ
37207 |  | A | Transcath iv stent, open | 8.27 | NA | NA | 2.45 | 2.98 | 1.17 | NA | NA | 11.89 | 12.42 | 000
37208 |  | A | Transcath iv stent/open addl | 4.12 | NA | NA | 1.05 | 1.30 | 0.59 | NA | NA | 5.76 | 6.01 | ZZZ
37209 |  | A | Change iv cath at thromb tx | 2.27 | NA | NA | 0.73 | 0.74 | 0.15 | NA | NA | 3.15 | 3.16 | 000
37215 |  | R | Transcath stent, cca w/eps | 19.54 | NA | NA | 10.12 | 9.35 | 1.09 | NA | NA | 30.75 | 29.98 | 090
37216 |  | N | Transcath stent, cca w/o eps | 18.81 | NA | NA | 8.74 | 8.79 | 1.04 | NA | NA | 28.59 | 28.64 | 090
37250 |  | A | Iv us first vessel add-on | 2.10 | NA | NA | 0.81 | 0.77 | 0.21 | NA | NA | 3.12 | 3.08 | ZZZ
37251 |  | A | Iv us each add vessel add-on | 1.60 | NA | NA | 0.52 | 0.54 | 0.19 | NA | NA | 2.31 | 2.33 | ZZZ
37500 |  | A | Endoscopy ligate perf veins | 11.48 | NA | NA | 5.46 | 6.50 | 1.54 | NA | NA | 18.48 | 19.52 | 090
37501 |  | C | Vascular endoscopy procedure | 0.00 | 0.00 | 0.00 | 0.00 | 0.00 | 0.00 | 0.00 | 0.00 | 0.00 | 0.00 | YYY
37565 |  | A | Ligation of neck vein | 11.93 | NA | NA | 5.10 | 5.49 | 1.33 | NA | NA | 18.36 | 18.75 | 090
37600 |  | A | Ligation of neck artery | 12.30 | NA | NA | 4.80 | 6.17 | 1.41 | NA | NA | 18.51 | 19.88 | 090
37605 |  | A | Ligation of neck artery | 14.16 | NA | NA | 5.57 | 6.57 | 1.98 | NA | NA | 21.71 | 22.71 | 090
37606 |  | A | Ligation of neck artery | 8.66 | NA | NA | 4.87 | 4.64 | 1.23 | NA | NA | 14.76 | 14.53 | 090
37607 |  | A | Ligation of a-v fistula | 6.15 | NA | NA | 3.11 | 3.45 | 0.85 | NA | NA | 10.11 | 10.45 | 090
37609 |  | A | Temporal artery procedure | 3.00 | 4.24 | 4.44 | 1.84 | 1.93 | 0.36 | 7.60 | 7.80 | 5.20 | 5.29 | 010
37615 |  | A | Ligation of neck artery | 7.67 | NA | NA | 3.98 | 4.08 | 0.68 | NA | NA | 12.33 | 12.43 | 090
37616 |  | A | Ligation of chest artery | 18.84 | NA | NA | 7.94 | 8.05 | 2.32 | NA | NA | 29.10 | 29.21 | 090
37617 |  | A | Ligation of abdomen artery | 23.67 | NA | NA | 7.92 | 8.86 | 2.97 | NA | NA | 34.56 | 35.50 | 090
37618 |  | A | Ligation of extremity artery | 5.90 | NA | NA | 3.40 | 3.56 | 0.67 | NA | NA | 9.97 | 10.13 | 090
37620 |  | A | Revision of major vein | 11.44 | NA | NA | 5.24 | 5.59 | 0.91 | NA | NA | 17.59 | 17.94 | 090
37650 |  | A | Revision of major vein | 8.37 | NA | NA | 4.22 | 4.57 | 1.01 | NA | NA | 13.60 | 13.95 | 090
37660 |  | A | Revision of major vein | 22.16 | NA | NA | 8.13 | 8.82 | 2.48 | NA | NA | 32.77 | 33.46 | 090
37700 |  | A | Revise leg vein | 3.72 | NA | NA | 2.45 | 2.71 | 0.53 | NA | NA | 6.70 | 6.96 | 090
37718 |  | A | Ligate/strip short leg vein | 7.01 | NA | NA | 3.53 | 3.93 | 0.14 | NA | NA | 10.68 | 11.08 | 090
37722 |  | A | Ligate/strip long leg vein | 8.04 | NA | NA | 3.80 | 4.26 | 0.86 | NA | NA | 12.70 | 13.16 | 090
37735 |  | A | Removal of leg veins/lesion | 10.75 | NA | NA | 4.67 | 5.29 | 1.48 | NA | NA | 16.90 | 17.52 | 090
37760 |  | A | Ligation, leg veins, open | 10.63 | NA | NA | 4.55 | 5.14 | 1.44 | NA | NA | 16.62 | 17.21 | 090
37765 |  | A | Phleb veins—extrem—to 20 | 7.59 | NA | NA | 3.60 | 4.37 | 0.48 | NA | NA | 11.67 | 12.44 | 090
37766 |  | A | Phleb veins—extrem 20+ | 9.54 | NA | NA | 4.15 | 5.03 | 0.48 | NA | NA | 14.17 | 15.05 | 090
37780 |  | A | Revision of leg vein | 3.83 | NA | NA | 2.50 | 2.76 | 0.53 | NA | NA | 6.86 | 7.12 | 090
37785 |  | A | Ligate/divide/excise vein | 3.83 | 4.96 | 5.13 | 2.59 | 2.69 | 0.54 | 9.33 | 9.50 | 6.96 | 7.06 | 090
37788 |  | A | Revascularization, penis | 23.13 | NA | NA | 11.95 | 9.80 | 2.25 | NA | NA | 37.33 | 35.18 | 090
37790 |  | A | Penile venous occlusion | 8.33 | NA | NA | 5.09 | 4.55 | 0.59 | NA | NA | 14.01 | 13.47 | 090
37799 |  | C | Vascular surgery procedure | 0.00 | 0.00 | 0.00 | 0.00 | 0.00 | 0.00 | 0.00 | 0.00 | 0.00 | 0.00 | YYY
38100 |  | A | Removal of spleen, total | 19.43 | NA | NA | 6.94 | 6.36 | 1.91 | NA | NA | 28.28 | 27.70 | 090
38101 |  | A | Removal of spleen, partial | 19.43 | NA | NA | 7.36 | 6.73 | 2.04 | NA | NA | 28.83 | 28.20 | 090
38102 |  | A | Removal of spleen, total | 4.79 | NA | NA | 1.27 | 1.55 | 0.63 | NA | NA | 6.69 | 6.97 | ZZZ
38115 |  | A | Repair of ruptured spleen | 21.76 | NA | NA | 7.59 | 6.88 | 2.08 | NA | NA | 31.43 | 30.72 | 090
38120 |  | A | Laparoscopy, splenectomy | 16.97 | NA | NA | 7.00 | 7.29 | 2.24 | NA | NA | 26.21 | 26.50 | 090
38129 |  | C | Laparoscope proc, spleen | 0.00 | 0.00 | 0.00 | 0.00 | 0.00 | 0.00 | 0.00 | 0.00 | 0.00 | 0.00 | YYY
38200 |  | A | Injection for spleen x-ray | 2.64 | NA | NA | 1.00 | 0.92 | 0.14 | NA | NA | 3.78 | 3.70 | 000
38205 |  | R | Harvest allogenic stem cells | 1.50 | NA | NA | 0.54 | 0.64 | 0.07 | NA | NA | 2.11 | 2.21 | 000
38206 |  | R | Harvest auto stem cells | 1.50 | NA | NA | 0.54 | 0.64 | 0.07 | NA | NA | 2.11 | 2.21 | 000
38220 |  | A | Bone marrow aspiration | 1.08 | 2.67 | 3.46 | 0.44 | 0.50 | 0.05 | 3.80 | 4.59 | 1.57 | 1.63 | XXX
38221 |  | A | Bone marrow biopsy | 1.37 | 2.79 | 3.65 | 0.57 | 0.63 | 0.07 | 4.23 | 5.09 | 2.01 | 2.07 | XXX
38230 |  | R | Bone marrow collection | 4.78 | NA | NA | 2.76 | 3.11 | 0.48 | NA | NA | 8.02 | 8.37 | 010
38240 |  | R | Bone marrow/stem transplant | 2.24 | NA | NA | 0.93 | 1.01 | 0.11 | NA | NA | 3.28 | 3.36 | XXX
38241 |  | R | Bone marrow/stem transplant | 2.24 | NA | NA | 0.93 | 1.01 | 0.11 | NA | NA | 3.28 | 3.36 | XXX
38242 |  | A | Lymphocyte infuse transplant | 1.71 | NA | NA | 0.69 | 0.76 | 0.08 | NA | NA | 2.48 | 2.55 | 000
38300 |  | A | Drainage, lymph node lesion | 2.24 | 3.63 | 4.13 | 1.75 | 1.98 | 0.25 | 6.12 | 6.62 | 4.24 | 4.47 | 010
38305 |  | A | Drainage, lymph node lesion | 6.49 | NA | NA | 3.42 | 4.19 | 0.88 | NA | NA | 10.79 | 11.56 | 090
38308 |  | A | Incision of lymph channels | 6.69 | NA | NA | 3.59 | 3.70 | 0.85 | NA | NA | 11.13 | 11.24 | 090
38380 |  | A | Thoracic duct procedure | 8.26 | NA | NA | 4.64 | 5.42 | 0.74 | NA | NA | 13.64 | 14.42 | 090
38381 |  | A | Thoracic duct procedure | 13.28 | NA | NA | 6.11 | 6.69 | 1.84 | NA | NA | 21.23 | 21.81 | 090
38382 |  | A | Thoracic duct procedure | 10.42 | NA | NA | 5.47 | 5.68 | 1.37 | NA | NA | 17.26 | 17.47 | 090
38500 |  | A | Biopsy/removal, lymph nodes | 3.74 | 3.78 | 3.71 | 2.04 | 2.07 | 0.49 | 8.01 | 7.94 | 6.27 | 6.30 | 010
38505 |  | A | Needle biopsy, lymph nodes | 1.14 | 2.08 | 2.06 | 0.70 | 0.76 | 0.09 | 3.31 | 3.29 | 1.93 | 1.99 | 000
38510 |  | A | Biopsy/removal, lymph nodes | 6.67 | 5.21 | 5.46 | 2.96 | 3.35 | 0.72 | 12.60 | 12.85 | 10.35 | 10.74 | 010
38520 |  | A | Biopsy/removal, lymph nodes | 6.91 | NA | NA | 3.71 | 3.97 | 0.84 | NA | NA | 11.46 | 11.72 | 090
38525 |  | A | Biopsy/removal, lymph nodes | 6.31 | NA | NA | 3.50 | 3.34 | 0.80 | NA | NA | 10.61 | 10.45 | 090
38530 |  | A | Biopsy/removal, lymph nodes | 8.22 | NA | NA | 4.12 | 4.32 | 1.12 | NA | NA | 13.46 | 13.66 | 090
38542 |  | A | Explore deep node(s), neck | 6.02 | NA | NA | 3.73 | 4.29 | 0.60 | NA | NA | 10.35 | 10.91 | 090
38550 |  | A | Removal, neck/armpit lesion | 6.91 | NA | NA | 4.24 | 3.99 | 0.88 | NA | NA | 12.03 | 11.78 | 090
38555 |  | A | Removal, neck/armpit lesion | 15.31 | NA | NA | 7.25 | 8.21 | 1.75 | NA | NA | 24.31 | 25.27 | 090
38562 |  | A | Removal, pelvic lymph nodes | 10.83 | NA | NA | 5.77 | 5.77 | 1.20 | NA | NA | 17.80 | 17.80 | 090
38564 |  | A | Removal, abdomen lymph nodes | 11.23 | NA | NA | 5.25 | 5.24 | 1.32 | NA | NA | 17.80 | 17.79 | 090
38570 |  | A | Laparoscopy, lymph node biop | 9.24 | NA | NA | 3.98 | 3.97 | 1.13 | NA | NA | 14.35 | 14.34 | 010
38571 |  | A | Laparoscopy, lymphadenectomy | 14.66 | NA | NA | 6.86 | 5.95 | 1.15 | NA | NA | 22.67 | 21.76 | 010
38572 |  | A | Laparoscopy, lymphadenectomy | 16.82 | NA | NA | 6.16 | 6.84 | 1.90 | NA | NA | 24.88 | 25.56 | 010
38589 |  | C | Laparoscope proc, lymphatic | 0.00 | 0.00 | 0.00 | 0.00 | 0.00 | 0.00 | 0.00 | 0.00 | 0.00 | 0.00 | YYY
38700 |  | A | Removal of lymph nodes, neck | 12.62 | NA | NA | 5.91 | 6.15 | 0.72 | NA | NA | 19.25 | 19.49 | 090
38720 |  | A | Removal of lymph nodes, neck | 21.64 | NA | NA | 9.21 | 9.32 | 1.20 | NA | NA | 32.05 | 32.16 | 090
38724 |  | A | Removal of lymph nodes, neck | 23.64 | NA | NA | 9.79 | 9.82 | 1.28 | NA | NA | 34.71 | 34.74 | 090
38740 |  | A | Remove armpit lymph nodes | 10.51 | NA | NA | 5.07 | 4.97 | 1.32 | NA | NA | 16.90 | 16.80 | 090
38745 |  | A | Remove armpit lymph nodes | 13.65 | NA | NA | 6.12 | 6.08 | 1.73 | NA | NA | 21.50 | 21.46 | 090
38746 |  | A | Remove thoracic lymph nodes | 4.88 | NA | NA | 1.45 | 1.57 | 0.72 | NA | NA | 7.05 | 7.17 | ZZZ
38747 |  | A | Remove abdominal lymph nodes | 4.88 | NA | NA | 1.28 | 1.57 | 0.64 | NA | NA | 6.80 | 7.09 | ZZZ
38760 |  | A | Remove groin lymph nodes | 13.43 | NA | NA | 6.01 | 6.09 | 1.71 | NA | NA | 21.15 | 21.23 | 090
38765 |  | A | Remove groin lymph nodes | 21.72 | NA | NA | 8.72 | 8.78 | 2.47 | NA | NA | 32.91 | 32.97 | 090
38770 |  | A | Remove pelvis lymph nodes | 13.93 | NA | NA | 6.91 | 6.03 | 1.40 | NA | NA | 22.24 | 21.36 | 090
38780 |  | A | Remove abdomen lymph nodes | 17.47 | NA | NA | 8.00 | 8.15 | 1.88 | NA | NA | 27.35 | 27.50 | 090
38790 |  | A | Inject for lymphatic x-ray | 1.29 | NA | NA | 0.73 | 0.75 | 0.13 | NA | NA | 2.15 | 2.17 | 000
38792 |  | A | Identify sentinel node | 0.52 | NA | NA | 0.48 | 0.45 | 0.06 | NA | NA | 1.06 | 1.03 | 000
38794 |  | A | Access thoracic lymph duct | 4.44 | NA | NA | 3.04 | 3.35 | 0.32 | NA | NA | 7.80 | 8.11 | 090
38999 |  | C | Blood/lymph system procedure | 0.00 | 0.00 | 0.00 | 0.00 | 0.00 | 0.00 | 0.00 | 0.00 | 0.00 | 0.00 | YYY
39000 |  | A | Exploration of chest | 7.46 | NA | NA | 4.36 | 4.58 | 0.89 | NA | NA | 12.71 | 12.93 | 090
39010 |  | A | Exploration of chest | 13.08 | NA | NA | 6.17 | 7.20 | 1.75 | NA | NA | 21.00 | 22.03 | 090
39200 |  | A | Removal chest lesion | 15.02 | NA | NA | 6.29 | 7.22 | 2.02 | NA | NA | 23.33 | 24.26 | 090
39220 |  | A | Removal chest lesion | 18.42 | NA | NA | 7.64 | 8.93 | 2.45 | NA | NA | 28.51 | 29.80 | 090
39400 |  | A | Visualization of chest | 5.97 | NA | NA | 3.62 | 4.54 | 0.82 | NA | NA | 10.41 | 11.33 | 010
39499 |  | C | Chest procedure | 0.00 | 0.00 | 0.00 | 0.00 | 0.00 | 0.00 | 0.00 | 0.00 | 0.00 | 0.00 | YYY
39501 |  | A | Repair diaphragm laceration | 13.83 | NA | NA | 5.93 | 6.32 | 1.77 | NA | NA | 21.53 | 21.92 | 090
39502 |  | A | Repair paraesophageal hernia | 17.03 | NA | NA | 6.66 | 7.02 | 2.16 | NA | NA | 25.85 | 26.21 | 090
39503 |  | A | Repair of diaphragm hernia | 108.57 | NA | NA | 30.95 | 32.77 | 10.95 | NA | NA | 150.47 | 152.29 | 090
39520 |  | A | Repair of diaphragm hernia | 16.56 | NA | NA | 6.93 | 7.76 | 2.23 | NA | NA | 25.72 | 26.55 | 090
39530 |  | A | Repair of diaphragm hernia | 16.17 | NA | NA | 6.43 | 6.96 | 2.10 | NA | NA | 24.70 | 25.23 | 090
39531 |  | A | Repair of diaphragm hernia | 17.18 | NA | NA | 6.63 | 7.19 | 2.21 | NA | NA | 26.02 | 26.58 | 090
39540 |  | A | Repair of diaphragm hernia | 14.47 | NA | NA | 5.65 | 6.08 | 1.79 | NA | NA | 21.91 | 22.34 | 090
39541 |  | A | Repair of diaphragm hernia | 15.62 | NA | NA | 6.21 | 6.49 | 1.92 | NA | NA | 23.75 | 24.03 | 090
39545 |  | A | Revision of diaphragm | 14.52 | NA | NA | 7.23 | 7.46 | 1.83 | NA | NA | 23.58 | 23.81 | 090
39560 |  | A | Resect diaphragm, simple | 12.91 | NA | NA | 5.58 | 6.11 | 1.59 | NA | NA | 20.08 | 20.61 | 090
39561 |  | A | Resect diaphragm, complex | 19.69 | NA | NA | 9.42 | 9.35 | 2.44 | NA | NA | 31.55 | 31.48 | 090
39599 |  | C | Diaphragm surgery procedure | 0.00 | 0.00 | 0.00 | 0.00 | 0.00 | 0.00 | 0.00 | 0.00 | 0.00 | 0.00 | YYY
40490 |  | A | Biopsy of lip | 1.22 | 2.02 | 1.73 | 0.55 | 0.60 | 0.05 | 3.29 | 3.00 | 1.82 | 1.87 | 000
40500 |  | A | Partial excision of lip | 4.27 | 7.65 | 7.08 | 4.18 | 4.29 | 0.38 | 12.30 | 11.73 | 8.83 | 8.94 | 090
40510 |  | A | Partial excision of lip | 4.69 | 6.52 | 6.59 | 3.48 | 3.88 | 0.49 | 11.70 | 11.77 | 8.66 | 9.06 | 090
40520 |  | A | Partial excision of lip | 4.66 | 6.79 | 7.35 | 3.68 | 4.00 | 0.52 | 11.97 | 12.53 | 8.86 | 9.18 | 090
40525 |  | A | Reconstruct lip with flap | 7.54 | NA | NA | 5.23 | 6.03 | 0.85 | NA | NA | 13.62 | 14.42 | 090
40527 |  | A | Reconstruct lip with flap | 9.12 | NA | NA | 5.84 | 6.97 | 0.97 | NA | NA | 15.93 | 17.06 | 090
40530 |  | A | Partial removal of lip | 5.39 | 7.28 | 7.68 | 4.07 | 4.45 | 0.55 | 13.22 | 13.62 | 10.01 | 10.39 | 090
40650 |  | A | Repair lip | 3.63 | 5.91 | 6.57 | 3.12 | 3.25 | 0.38 | 9.92 | 10.58 | 7.13 | 7.26 | 090
40652 |  | A | Repair lip | 4.25 | 6.97 | 7.55 | 3.94 | 4.18 | 0.52 | 11.74 | 12.32 | 8.71 | 8.95 | 090
40654 |  | A | Repair lip | 5.30 | 7.98 | 8.45 | 4.60 | 4.85 | 0.60 | 13.88 | 14.35 | 10.50 | 10.75 | 090
40700 |  | A | Repair cleft lip/nasal | 13.89 | NA | NA | 9.13 | 9.09 | 0.95 | NA | NA | 23.97 | 23.93 | 090
40701 |  | A | Repair cleft lip/nasal | 16.95 | NA | NA | 11.13 | 11.28 | 1.65 | NA | NA | 29.73 | 29.88 | 090
40702 |  | A | Repair cleft lip/nasal | 14.02 | NA | NA | 7.21 | 7.99 | 1.23 | NA | NA | 22.46 | 23.24 | 090
40720 |  | A | Repair cleft lip/nasal | 14.47 | NA | NA | 9.01 | 9.67 | 1.79 | NA | NA | 25.27 | 25.93 | 090
40761 |  | A | Repair cleft lip/nasal | 15.63 | NA | NA | 8.82 | 9.91 | 1.93 | NA | NA | 26.38 | 27.47 | 090
40799 |  | C | Lip surgery procedure | 0.00 | 0.00 | 0.00 | 0.00 | 0.00 | 0.00 | 0.00 | 0.00 | 0.00 | 0.00 | YYY
40800 |  | A | Drainage of mouth lesion | 1.17 | 3.84 | 3.18 | 1.88 | 1.80 | 0.13 | 5.14 | 4.48 | 3.18 | 3.10 | 010
40801 |  | A | Drainage of mouth lesion | 2.53 | 4.85 | 4.23 | 2.55 | 2.69 | 0.31 | 7.69 | 7.07 | 5.39 | 5.53 | 010
40804 |  | A | Removal, foreign body, mouth | 1.24 | 3.63 | 3.45 | 1.75 | 1.83 | 0.11 | 4.98 | 4.80 | 3.10 | 3.18 | 010
40805 |  | A | Removal, foreign body, mouth | 2.69 | 5.04 | 4.62 | 2.56 | 2.75 | 0.32 | 8.05 | 7.63 | 5.57 | 5.76 | 010
40806 |  | A | Incision of lip fold | 0.31 | 2.38 | 1.97 | 0.50 | 0.50 | 0.04 | 2.73 | 2.32 | 0.85 | 0.85 | 000
40808 |  | A | Biopsy of mouth lesion | 0.96 | 3.51 | 2.87 | 1.57 | 1.50 | 0.10 | 4.57 | 3.93 | 2.63 | 2.56 | 010
40810 |  | A | Excision of mouth lesion | 1.31 | 3.57 | 3.05 | 1.66 | 1.66 | 0.13 | 5.01 | 4.49 | 3.10 | 3.10 | 010
40812 |  | A | Excise/repair mouth lesion | 2.31 | 4.51 | 3.92 | 2.26 | 2.37 | 0.28 | 7.10 | 6.51 | 4.85 | 4.96 | 010
40814 |  | A | Excise/repair mouth lesion | 3.41 | 5.62 | 5.11 | 3.64 | 3.83 | 0.41 | 9.44 | 8.93 | 7.46 | 7.65 | 090
40816 |  | A | Excision of mouth lesion | 3.66 | 5.79 | 5.33 | 3.68 | 3.92 | 0.40 | 9.85 | 9.39 | 7.74 | 7.98 | 090
40818 |  | A | Excise oral mucosa for graft | 2.66 | 5.77 | 5.32 | 3.70 | 3.90 | 0.21 | 8.64 | 8.19 | 6.57 | 6.77 | 090
40819 |  | A | Excise lip or cheek fold | 2.41 | 4.87 | 4.28 | 3.06 | 3.08 | 0.29 | 7.57 | 6.98 | 5.76 | 5.78 | 090
40820 |  | A | Treatment of mouth lesion | 1.28 | 5.11 | 4.23 | 2.82 | 2.54 | 0.11 | 6.50 | 5.62 | 4.21 | 3.93 | 010
40830 |  | A | Repair mouth laceration | 1.76 | 4.11 | 3.82 | 2.02 | 2.07 | 0.19 | 6.06 | 5.77 | 3.97 | 4.02 | 010
40831 |  | A | Repair mouth laceration | 2.46 | 5.33 | 4.83 | 2.73 | 2.97 | 0.30 | 8.09 | 7.59 | 5.49 | 5.73 | 010
40840 |  | R | Reconstruction of mouth | 8.97 | 9.99 | 9.83 | 5.53 | 6.61 | 1.08 | 20.04 | 19.88 | 15.58 | 16.66 | 090
40842 |  | R | Reconstruction of mouth | 8.97 | 9.71 | 9.97 | 5.32 | 6.42 | 1.08 | 19.76 | 20.02 | 15.37 | 16.47 | 090
40843 |  | R | Reconstruction of mouth | 12.56 | 11.76 | 11.90 | 6.01 | 7.36 | 1.39 | 25.71 | 25.85 | 19.96 | 21.31 | 090
40844 |  | R | Reconstruction of mouth | 16.47 | 14.78 | 15.52 | 8.75 | 10.86 | 1.99 | 33.24 | 33.98 | 27.21 | 29.32 | 090
40845 |  | R | Reconstruction of mouth | 19.03 | 15.15 | 16.58 | 9.55 | 12.30 | 2.00 | 36.18 | 37.61 | 30.58 | 33.33 | 090
40899 |  | C | Mouth surgery procedure | 0.00 | 0.00 | 0.00 | 0.00 | 0.00 | 0.00 | 0.00 | 0.00 | 0.00 | 0.00 | YYY
41000 |  | A | Drainage of mouth lesion | 1.30 | 2.49 | 2.36 | 1.29 | 1.38 | 0.12 | 3.91 | 3.78 | 2.71 | 2.80 | 010
41005 |  | A | Drainage of mouth lesion | 1.26 | 4.23 | 3.56 | 1.71 | 1.72 | 0.12 | 5.61 | 4.94 | 3.09 | 3.10 | 010
41006 |  | A | Drainage of mouth lesion | 3.24 | 5.29 | 4.92 | 2.73 | 3.06 | 0.35 | 8.88 | 8.51 | 6.32 | 6.65 | 090
41007 |  | A | Drainage of mouth lesion | 3.10 | 5.33 | 5.19 | 2.71 | 2.94 | 0.31 | 8.74 | 8.60 | 6.12 | 6.35 | 090
41008 |  | A | Drainage of mouth lesion | 3.36 | 5.41 | 4.86 | 2.78 | 3.10 | 0.42 | 9.19 | 8.64 | 6.56 | 6.88 | 090
41009 |  | A | Drainage of mouth lesion | 3.58 | 5.80 | 5.18 | 3.11 | 3.46 | 0.47 | 9.85 | 9.23 | 7.16 | 7.51 | 090
41010 |  | A | Incision of tongue fold | 1.06 | 3.44 | 3.43 | 1.37 | 1.54 | 0.07 | 4.57 | 4.56 | 2.50 | 2.67 | 010
41015 |  | A | Drainage of mouth lesion | 3.95 | 6.21 | 5.60 | 3.93 | 4.09 | 0.46 | 10.62 | 10.01 | 8.34 | 8.50 | 090
41016 |  | A | Drainage of mouth lesion | 4.06 | 6.16 | 5.75 | 4.02 | 4.17 | 0.53 | 10.75 | 10.34 | 8.61 | 8.76 | 090
41017 |  | A | Drainage of mouth lesion | 4.06 | 6.31 | 5.80 | 4.08 | 4.25 | 0.53 | 10.90 | 10.39 | 8.67 | 8.84 | 090
41018 |  | A | Drainage of mouth lesion | 5.09 | 6.54 | 6.23 | 4.32 | 4.51 | 0.68 | 12.31 | 12.00 | 10.09 | 10.28 | 090
41100 |  | A | Biopsy of tongue | 1.37 | 2.57 | 2.46 | 1.11 | 1.34 | 0.15 | 4.09 | 3.98 | 2.63 | 2.86 | 010
41105 |  | A | Biopsy of tongue | 1.42 | 2.56 | 2.37 | 1.13 | 1.27 | 0.13 | 4.11 | 3.92 | 2.68 | 2.82 | 010
41108 |  | A | Biopsy of floor of mouth | 1.05 | 2.40 | 2.15 | 1.02 | 1.10 | 0.10 | 3.55 | 3.30 | 2.17 | 2.25 | 010
41110 |  | A | Excision of tongue lesion | 1.51 | 3.46 | 3.10 | 1.54 | 1.62 | 0.13 | 5.10 | 4.74 | 3.18 | 3.26 | 010
41112 |  | A | Excision of tongue lesion | 2.73 | 5.11 | 4.63 | 3.14 | 3.20 | 0.28 | 8.12 | 7.64 | 6.15 | 6.21 | 090
41113 |  | A | Excision of tongue lesion | 3.19 | 5.38 | 4.90 | 3.29 | 3.43 | 0.34 | 8.91 | 8.43 | 6.82 | 6.96 | 090
41114 |  | A | Excision of tongue lesion | 8.64 | NA | NA | 5.94 | 6.88 | 0.83 | NA | NA | 15.41 | 16.35 | 090
41115 |  | A | Excision of tongue fold | 1.74 | 4.27 | 3.54 | 1.75 | 1.83 | 0.18 | 6.19 | 5.46 | 3.67 | 3.75 | 010
41116 |  | A | Excision of mouth lesion | 2.44 | 5.31 | 4.59 | 2.65 | 2.76 | 0.23 | 7.98 | 7.26 | 5.32 | 5.43 | 090
41120 |  | A | Partial removal of tongue | 10.83 | NA | NA | 13.22 | 14.79 | 0.79 | NA | NA | 24.84 | 26.41 | 090
41130 |  | A | Partial removal of tongue | 15.43 | NA | NA | 14.55 | 15.78 | 0.93 | NA | NA | 30.91 | 32.14 | 090
41135 |  | A | Tongue and neck surgery | 29.71 | NA | NA | 19.86 | 22.38 | 1.88 | NA | NA | 51.45 | 53.97 | 090
41140 |  | A | Removal of tongue | 28.69 | NA | NA | 21.36 | 25.34 | 2.26 | NA | NA | 52.31 | 56.29 | 090
41145 |  | A | Tongue removal, neck surgery | 37.47 | NA | NA | 26.29 | 29.48 | 2.54 | NA | NA | 66.30 | 69.49 | 090
41150 |  | A | Tongue, mouth, jaw surgery | 29.40 | NA | NA | 21.09 | 23.81 | 1.94 | NA | NA | 52.43 | 55.15 | 090
41153 |  | A | Tongue, mouth, neck surgery | 33.16 | NA | NA | 21.82 | 24.22 | 2.00 | NA | NA | 56.98 | 59.38 | 090
41155 |  | A | Tongue, jaw, & neck surgery | 39.84 | NA | NA | 23.98 | 26.10 | 2.33 | NA | NA | 66.15 | 68.27 | 090
41250 |  | A | Repair tongue laceration | 1.91 | 3.79 | 3.00 | 1.58 | 1.28 | 0.18 | 5.88 | 5.09 | 3.67 | 3.37 | 010
41251 |  | A | Repair tongue laceration | 2.27 | 3.15 | 3.24 | 1.63 | 1.57 | 0.22 | 5.64 | 5.73 | 4.12 | 4.06 | 010
41252 |  | A | Repair tongue laceration | 2.97 | 4.34 | 4.00 | 1.96 | 2.18 | 0.29 | 7.60 | 7.26 | 5.22 | 5.44 | 010
41500 |  | A | Fixation of tongue | 3.70 | NA | NA | 6.54 | 7.22 | 0.30 | NA | NA | 10.54 | 11.22 | 090
41510 |  | A | Tongue to lip surgery | 3.41 | NA | NA | 7.02 | 7.70 | 0.20 | NA | NA | 10.63 | 11.31 | 090
41520 |  | A | Reconstruction, tongue fold | 2.73 | 5.71 | 4.89 | 3.20 | 3.52 | 0.27 | 8.71 | 7.89 | 6.20 | 6.52 | 090
41599 |  | C | Tongue and mouth surgery | 0.00 | 0.00 | 0.00 | 0.00 | 0.00 | 0.00 | 0.00 | 0.00 | 0.00 | 0.00 | YYY
41800 |  | A | Drainage of gum lesion | 1.17 | 4.76 | 3.13 | 2.09 | 1.48 | 0.12 | 6.05 | 4.42 | 3.38 | 2.77 | 010
41805 |  | A | Removal foreign body, gum | 1.24 | 4.73 | 3.19 | 2.75 | 2.35 | 0.13 | 6.10 | 4.56 | 4.12 | 3.72 | 010
41806 |  | A | Removal foreign body,jawbone | 2.69 | 5.91 | 4.16 | 3.39 | 3.12 | 0.37 | 8.97 | 7.22 | 6.45 | 6.18 | 010
41822 |  | R | Excision of gum lesion | 2.31 | 4.65 | 4.08 | 1.77 | 1.85 | 0.31 | 7.27 | 6.70 | 4.39 | 4.47 | 010
41823 |  | R | Excision of gum lesion | 3.55 | 6.48 | 5.79 | 3.74 | 3.94 | 0.47 | 10.50 | 9.81 | 7.76 | 7.96 | 090
41825 |  | A | Excision of gum lesion | 1.31 | 3.62 | 3.20 | 1.43 | 2.04 | 0.15 | 5.08 | 4.66 | 2.89 | 3.50 | 010
41826 |  | A | Excision of gum lesion | 2.31 | 5.12 | 3.10 | 2.59 | 2.22 | 0.30 | 7.73 | 5.71 | 5.20 | 4.83 | 010
41827 |  | A | Excision of gum lesion | 3.66 | 6.60 | 5.78 | 3.35 | 3.58 | 0.35 | 10.61 | 9.79 | 7.36 | 7.59 | 090
41828 |  | R | Excision of gum lesion | 3.09 | 4.12 | 3.88 | 1.65 | 2.63 | 0.44 | 7.65 | 7.41 | 5.18 | 6.16 | 010
41830 |  | R | Removal of gum tissue | 3.34 | 6.03 | 5.23 | 3.13 | 3.50 | 0.44 | 9.81 | 9.01 | 6.91 | 7.28 | 010
41872 |  | R | Repair gum | 2.84 | 5.87 | 5.23 | 3.25 | 3.41 | 0.30 | 9.01 | 8.37 | 6.39 | 6.55 | 090
41874 |  | R | Repair tooth socket | 3.09 | 5.76 | 5.07 | 2.76 | 3.07 | 0.45 | 9.30 | 8.61 | 6.30 | 6.61 | 090
41899 |  | C | Dental surgery procedure | 0.00 | 0.00 | 0.00 | 0.00 | 0.00 | 0.00 | 0.00 | 0.00 | 0.00 | 0.00 | YYY
42000 |  | A | Drainage mouth roof lesion | 1.23 | 2.34 | 2.51 | 1.14 | 1.22 | 0.12 | 3.69 | 3.86 | 2.49 | 2.57 | 010
42100 |  | A | Biopsy roof of mouth | 1.31 | 2.18 | 2.11 | 1.20 | 1.32 | 0.13 | 3.62 | 3.55 | 2.64 | 2.76 | 010
42104 |  | A | Excision lesion, mouth roof | 1.64 | 3.43 | 2.76 | 1.58 | 1.56 | 0.16 | 5.23 | 4.56 | 3.38 | 3.36 | 010
42106 |  | A | Excision lesion, mouth roof | 2.10 | 4.41 | 3.52 | 2.04 | 2.34 | 0.25 | 6.76 | 5.87 | 4.39 | 4.69 | 010
42107 |  | A | Excision lesion, mouth roof | 4.43 | 6.31 | 5.86 | 3.53 | 3.85 | 0.44 | 11.18 | 10.73 | 8.40 | 8.72 | 090
42120 |  | A | Remove palate/lesion | 11.62 | NA | NA | 11.41 | 11.68 | 0.52 | NA | NA | 23.55 | 23.82 | 090
42140 |  | A | Excision of uvula | 1.62 | 4.22 | 3.85 | 1.93 | 2.05 | 0.13 | 5.97 | 5.60 | 3.68 | 3.80 | 090
42145 |  | A | Repair palate, pharynx/uvula | 9.57 | NA | NA | 6.75 | 7.31 | 0.65 | NA | NA | 16.97 | 17.53 | 090
42160 |  | A | Treatment mouth roof lesion | 1.80 | 3.61 | 4.09 | 1.60 | 2.12 | 0.17 | 5.58 | 6.06 | 3.57 | 4.09 | 010
42180 |  | A | Repair palate | 2.50 | 3.21 | 3.11 | 1.76 | 2.02 | 0.21 | 5.92 | 5.82 | 4.47 | 4.73 | 010
42182 |  | A | Repair palate | 3.82 | 4.01 | 3.91 | 2.36 | 2.86 | 0.40 | 8.23 | 8.13 | 6.58 | 7.08 | 010
42200 |  | A | Reconstruct cleft palate | 12.35 | NA | NA | 8.11 | 9.69 | 1.27 | NA | NA | 21.73 | 23.31 | 090
42205 |  | A | Reconstruct cleft palate | 13.51 | NA | NA | 7.46 | 9.42 | 1.58 | NA | NA | 22.55 | 24.51 | 090
42210 |  | A | Reconstruct cleft palate | 14.85 | NA | NA | 9.72 | 11.03 | 2.16 | NA | NA | 26.73 | 28.04 | 090
42215 |  | A | Reconstruct cleft palate | 8.81 | NA | NA | 7.21 | 8.61 | 1.31 | NA | NA | 17.33 | 18.73 | 090
42220 |  | A | Reconstruct cleft palate | 7.01 | NA | NA | 6.71 | 6.76 | 0.73 | NA | NA | 14.45 | 14.50 | 090
42225 |  | A | Reconstruct cleft palate | 9.59 | NA | NA | 12.00 | 15.80 | 0.86 | NA | NA | 22.45 | 26.25 | 090
42226 |  | A | Lengthening of palate | 10.17 | NA | NA | 11.33 | 13.86 | 1.01 | NA | NA | 22.51 | 25.04 | 090
42227 |  | A | Lengthening of palate | 9.75 | NA | NA | 9.68 | 14.08 | 0.98 | NA | NA | 20.41 | 24.81 | 090
42235 |  | A | Repair palate | 7.86 | NA | NA | 10.27 | 11.46 | 0.72 | NA | NA | 18.85 | 20.04 | 090
42260 |  | A | Repair nose to lip fistula | 10.04 | 9.54 | 10.03 | 5.81 | 6.75 | 1.26 | 20.84 | 21.33 | 17.11 | 18.05 | 090
42280 |  | A | Preparation, palate mold | 1.54 | 2.25 | 2.03 | 0.84 | 1.07 | 0.19 | 3.98 | 3.76 | 2.57 | 2.80 | 010
42281 |  | A | Insertion, palate prosthesis | 1.93 | 2.82 | 2.68 | 1.56 | 1.79 | 0.17 | 4.92 | 4.78 | 3.66 | 3.89 | 010
42299 |  | C | Palate/uvula surgery | 0.00 | 0.00 | 0.00 | 0.00 | 0.00 | 0.00 | 0.00 | 0.00 | 0.00 | 0.00 | YYY
42300 |  | A | Drainage of salivary gland | 1.93 | 2.92 | 2.85 | 1.59 | 1.76 | 0.16 | 5.01 | 4.94 | 3.68 | 3.85 | 010
42305 |  | A | Drainage of salivary gland | 6.18 | NA | NA | 3.65 | 4.45 | 0.51 | NA | NA | 10.34 | 11.14 | 090
42310 |  | A | Drainage of salivary gland | 1.56 | 2.18 | 2.24 | 1.31 | 1.48 | 0.13 | 3.87 | 3.93 | 3.00 | 3.17 | 010
42320 |  | A | Drainage of salivary gland | 2.35 | 3.54 | 3.34 | 1.76 | 2.01 | 0.21 | 6.10 | 5.90 | 4.32 | 4.57 | 010
42330 |  | A | Removal of salivary stone | 2.21 | 3.19 | 3.15 | 1.59 | 1.78 | 0.19 | 5.59 | 5.55 | 3.99 | 4.18 | 010
42335 |  | A | Removal of salivary stone | 3.31 | 5.43 | 5.03 | 2.65 | 3.02 | 0.29 | 9.03 | 8.63 | 6.25 | 6.62 | 090
42340 |  | A | Removal of salivary stone | 4.59 | 6.27 | 6.10 | 3.21 | 3.75 | 0.42 | 11.28 | 11.11 | 8.22 | 8.76 | 090
42400 |  | A | Biopsy of salivary gland | 0.78 | 1.90 | 1.71 | 0.60 | 0.69 | 0.06 | 2.74 | 2.55 | 1.44 | 1.53 | 000
42405 |  | A | Biopsy of salivary gland | 3.29 | 3.71 | 3.93 | 1.99 | 2.34 | 0.28 | 7.28 | 7.50 | 5.56 | 5.91 | 010
42408 |  | A | Excision of salivary cyst | 4.53 | 6.07 | 5.95 | 3.05 | 3.47 | 0.45 | 11.05 | 10.93 | 8.03 | 8.45 | 090
42409 |  | A | Drainage of salivary cyst | 2.81 | 5.05 | 4.65 | 2.37 | 2.66 | 0.27 | 8.13 | 7.73 | 5.45 | 5.74 | 090
42410 |  | A | Excise parotid gland/lesion | 9.39 | NA | NA | 4.90 | 5.89 | 0.91 | NA | NA | 15.20 | 16.19 | 090
42415 |  | A | Excise parotid gland/lesion | 17.92 | NA | NA | 7.69 | 10.07 | 1.43 | NA | NA | 27.04 | 29.42 | 090
42420 |  | A | Excise parotid gland/lesion | 20.80 | NA | NA | 8.50 | 11.40 | 1.65 | NA | NA | 30.95 | 33.85 | 090
42425 |  | A | Excise parotid gland/lesion | 13.24 | NA | NA | 6.03 | 7.97 | 1.05 | NA | NA | 20.32 | 22.26 | 090
42426 |  | A | Excise parotid gland/lesion | 22.46 | NA | NA | 8.77 | 11.95 | 1.80 | NA | NA | 33.03 | 36.21 | 090
42440 |  | A | Excise submaxillary gland | 7.02 | NA | NA | 3.46 | 4.46 | 0.59 | NA | NA | 11.07 | 12.07 | 090
42450 |  | A | Excise sublingual gland | 4.61 | 5.87 | 5.89 | 3.66 | 4.10 | 0.42 | 10.90 | 10.92 | 8.69 | 9.13 | 090
42500 |  | A | Repair salivary duct | 4.29 | 5.79 | 5.71 | 3.62 | 4.04 | 0.41 | 10.49 | 10.41 | 8.32 | 8.74 | 090
42505 |  | A | Repair salivary duct | 6.17 | 6.73 | 7.02 | 4.32 | 5.10 | 0.55 | 13.45 | 13.74 | 11.04 | 11.82 | 090
42507 |  | A | Parotid duct diversion | 6.10 | NA | NA | 5.90 | 6.37 | 0.49 | NA | NA | 12.49 | 12.96 | 090
42508 |  | A | Parotid duct diversion | 9.15 | NA | NA | 7.50 | 8.13 | 1.04 | NA | NA | 17.69 | 18.32 | 090
42509 |  | A | Parotid duct diversion | 11.58 | NA | NA | 8.70 | 9.82 | 0.93 | NA | NA | 21.21 | 22.33 | 090
42510 |  | A | Parotid duct diversion | 8.20 | NA | NA | 6.33 | 7.43 | 0.66 | NA | NA | 15.19 | 16.29 | 090
42550 |  | A | Injection for salivary x-ray | 1.25 | 2.24 | 2.97 | 0.39 | 0.41 | 0.07 | 3.56 | 4.29 | 1.71 | 1.73 | 000
42600 |  | A | Closure of salivary fistula | 4.81 | 6.46 | 6.55 | 3.32 | 3.92 | 0.43 | 11.70 | 11.79 | 8.56 | 9.16 | 090
42650 |  | A | Dilation of salivary duct | 0.77 | 1.20 | 1.13 | 0.61 | 0.69 | 0.07 | 2.04 | 1.97 | 1.45 | 1.53 | 000
42660 |  | A | Dilation of salivary duct | 1.13 | 1.43 | 1.37 | 0.73 | 0.82 | 0.09 | 2.65 | 2.59 | 1.95 | 2.04 | 000
42665 |  | A | Ligation of salivary duct | 2.53 | 4.71 | 4.31 | 2.20 | 2.49 | 0.23 | 7.47 | 7.07 | 4.96 | 5.25 | 090
42699 |  | C | Salivary surgery procedure | 0.00 | 0.00 | 0.00 | 0.00 | 0.00 | 0.00 | 0.00 | 0.00 | 0.00 | 0.00 | YYY
42700 |  | A | Drainage of tonsil abscess | 1.62 | 2.74 | 2.67 | 1.51 | 1.65 | 0.13 | 4.49 | 4.42 | 3.26 | 3.40 | 010
42720 |  | A | Drainage of throat abscess | 6.31 | 4.28 | 4.69 | 2.84 | 3.55 | 0.44 | 11.03 | 11.44 | 9.59 | 10.30 | 010
42725 |  | A | Drainage of throat abscess | 12.22 | NA | NA | 6.56 | 7.81 | 0.91 | NA | NA | 19.69 | 20.94 | 090
42800 |  | A | Biopsy of throat | 1.39 | 2.27 | 2.20 | 1.17 | 1.34 | 0.11 | 3.77 | 3.70 | 2.67 | 2.84 | 010
42802 |  | A | Biopsy of throat | 1.54 | 3.83 | 4.53 | 1.52 | 1.93 | 0.12 | 5.49 | 6.19 | 3.18 | 3.59 | 010
42804 |  | A | Biopsy of upper nose/throat | 1.24 | 3.33 | 3.64 | 1.37 | 1.64 | 0.10 | 4.67 | 4.98 | 2.71 | 2.98 | 010
42806 |  | A | Biopsy of upper nose/throat | 1.58 | 3.55 | 3.94 | 1.47 | 1.82 | 0.13 | 5.26 | 5.65 | 3.18 | 3.53 | 010
42808 |  | A | Excise pharynx lesion | 2.30 | 2.96 | 3.06 | 1.44 | 1.81 | 0.19 | 5.45 | 5.55 | 3.93 | 4.30 | 010
42809 |  | A | Remove pharynx foreign body | 1.81 | 2.12 | 2.28 | 1.25 | 1.31 | 0.16 | 4.09 | 4.25 | 3.22 | 3.28 | 010
42810 |  | A | Excision of neck cyst | 3.25 | 5.73 | 5.72 | 3.40 | 3.51 | 0.29 | 9.27 | 9.26 | 6.94 | 7.05 | 090
42815 |  | A | Excision of neck cyst | 7.18 | NA | NA | 5.70 | 6.23 | 0.61 | NA | NA | 13.49 | 14.02 | 090
42820 |  | A | Remove tonsils and adenoids | 4.15 | NA | NA | 2.53 | 3.10 | 0.31 | NA | NA | 6.99 | 7.56 | 090
42821 |  | A | Remove tonsils and adenoids | 4.28 | NA | NA | 2.68 | 3.30 | 0.35 | NA | NA | 7.31 | 7.93 | 090
42825 |  | A | Removal of tonsils | 3.41 | NA | NA | 2.42 | 2.98 | 0.25 | NA | NA | 6.08 | 6.64 | 090
42826 |  | A | Removal of tonsils | 3.37 | NA | NA | 2.42 | 2.88 | 0.27 | NA | NA | 6.06 | 6.52 | 090
42830 |  | A | Removal of adenoids | 2.57 | NA | NA | 2.19 | 2.47 | 0.20 | NA | NA | 4.96 | 5.24 | 090
42831 |  | A | Removal of adenoids | 2.71 | NA | NA | 2.41 | 2.73 | 0.22 | NA | NA | 5.34 | 5.66 | 090
42835 |  | A | Removal of adenoids | 2.30 | NA | NA | 1.79 | 2.29 | 0.21 | NA | NA | 4.30 | 4.80 | 090
42836 |  | A | Removal of adenoids | 3.18 | NA | NA | 2.40 | 2.82 | 0.26 | NA | NA | 5.84 | 6.26 | 090
42842 |  | A | Extensive surgery of throat | 11.94 | NA | NA | 10.96 | 10.98 | 0.71 | NA | NA | 23.61 | 23.63 | 090
42844 |  | A | Extensive surgery of throat | 17.49 | NA | NA | 13.99 | 15.67 | 1.16 | NA | NA | 32.64 | 34.32 | 090
42845 |  | A | Extensive surgery of throat | 32.27 | NA | NA | 19.00 | 22.14 | 1.98 | NA | NA | 53.25 | 56.39 | 090
42860 |  | A | Excision of tonsil tags | 2.22 | NA | NA | 2.10 | 2.33 | 0.18 | NA | NA | 4.50 | 4.73 | 090
42870 |  | A | Excision of lingual tonsil | 5.39 | NA | NA | 7.97 | 8.42 | 0.44 | NA | NA | 13.80 | 14.25 | 090
42890 |  | A | Partial removal of pharynx | 18.84 | NA | NA | 13.79 | 14.06 | 1.05 | NA | NA | 33.68 | 33.95 | 090
42892 |  | A | Revision of pharyngeal walls | 25.67 | NA | NA | 17.34 | 17.21 | 1.28 | NA | NA | 44.29 | 44.16 | 090
42894 |  | A | Revision of pharyngeal walls | 33.49 | NA | NA | 21.04 | 21.78 | 1.86 | NA | NA | 56.39 | 57.13 | 090
42900 |  | A | Repair throat wound | 5.24 | NA | NA | 2.70 | 3.42 | 0.50 | NA | NA | 8.44 | 9.16 | 010
42950 |  | A | Reconstruction of throat | 8.09 | NA | NA | 10.21 | 11.46 | 0.72 | NA | NA | 19.02 | 20.27 | 090
42953 |  | A | Repair throat, esophagus | 9.25 | NA | NA | 12.87 | 16.22 | 0.88 | NA | NA | 23.00 | 26.35 | 090
42955 |  | A | Surgical opening of throat | 7.86 | NA | NA | 9.37 | 10.35 | 0.80 | NA | NA | 18.03 | 19.01 | 090
42960 |  | A | Control throat bleeding | 2.33 | NA | NA | 1.59 | 1.87 | 0.19 | NA | NA | 4.11 | 4.39 | 010
42961 |  | A | Control throat bleeding | 5.64 | NA | NA | 4.08 | 4.74 | 0.45 | NA | NA | 10.17 | 10.83 | 090
42962 |  | A | Control throat bleeding | 7.25 | NA | NA | 4.69 | 5.61 | 0.58 | NA | NA | 12.52 | 13.44 | 090
42970 |  | A | Control nose/throat bleeding | 5.72 | NA | NA | 3.49 | 4.01 | 0.39 | NA | NA | 9.60 | 10.12 | 090
42971 |  | A | Control nose/throat bleeding | 6.50 | NA | NA | 4.08 | 4.86 | 0.51 | NA | NA | 11.09 | 11.87 | 090
42972 |  | A | Control nose/throat bleeding | 7.49 | NA | NA | 4.42 | 5.38 | 0.62 | NA | NA | 12.53 | 13.49 | 090
42999 |  | C | Throat surgery procedure | 0.00 | 0.00 | 0.00 | 0.00 | 0.00 | 0.00 | 0.00 | 0.00 | 0.00 | 0.00 | YYY
43020 |  | A | Incision of esophagus | 8.08 | NA | NA | 4.32 | 5.14 | 0.87 | NA | NA | 13.27 | 14.09 | 090
43030 |  | A | Throat muscle surgery | 7.86 | NA | NA | 4.13 | 5.15 | 0.70 | NA | NA | 12.69 | 13.71 | 090
43045 |  | A | Incision of esophagus | 21.63 | NA | NA | 10.07 | 10.54 | 2.58 | NA | NA | 34.28 | 34.75 | 090
43100 |  | A | Excision of esophagus lesion | 9.48 | NA | NA | 5.07 | 5.93 | 0.93 | NA | NA | 15.48 | 16.34 | 090
43101 |  | A | Excision of esophagus lesion | 16.94 | NA | NA | 7.27 | 7.73 | 2.31 | NA | NA | 26.52 | 26.98 | 090
43107 |  | A | Removal of esophagus | 43.89 | NA | NA | 16.66 | 17.86 | 5.22 | NA | NA | 65.77 | 66.97 | 090
43108 |  | A | Removal of esophagus | 63.23 | NA | NA | 20.50 | 15.78 | 4.07 | NA | NA | 87.80 | 83.08 | 090
43112 |  | A | Removal of esophagus | 47.21 | NA | NA | 17.15 | 18.81 | 5.79 | NA | NA | 70.15 | 71.81 | 090
43113 |  | A | Removal of esophagus | 46.95 | NA | NA | 17.99 | 15.83 | 4.42 | NA | NA | 69.36 | 67.20 | 090
43116 |  | A | Partial removal of esophagus | 71.39 | NA | NA | 22.74 | 18.20 | 3.05 | NA | NA | 97.18 | 92.64 | 090
43117 |  | A | Partial removal of esophagus | 43.46 | NA | NA | 15.40 | 16.80 | 5.17 | NA | NA | 64.03 | 65.43 | 090
43118 |  | A | Partial removal of esophagus | 52.07 | NA | NA | 17.39 | 14.68 | 4.10 | NA | NA | 73.56 | 70.85 | 090
43121 |  | A | Partial removal of esophagus | 46.35 | NA | NA | 17.01 | 14.51 | 3.90 | NA | NA | 67.26 | 64.76 | 090
43122 |  | A | Partial removal of esophagus | 43.89 | NA | NA | 15.83 | 17.00 | 5.40 | NA | NA | 65.12 | 66.29 | 090
43123 |  | A | Partial removal of esophagus | 63.83 | NA | NA | 21.00 | 15.83 | 4.15 | NA | NA | 88.98 | 83.81 | 090
43124 |  | A | Removal of esophagus | 64.63 | NA | NA | 22.76 | 15.50 | 3.73 | NA | NA | 91.12 | 83.86 | 090
43130 |  | A | Removal of esophagus pouch | 12.33 | NA | NA | 5.93 | 7.15 | 1.16 | NA | NA | 19.42 | 20.64 | 090
43135 |  | A | Removal of esophagus pouch | 22.37 | NA | NA | 8.93 | 8.30 | 2.33 | NA | NA | 33.63 | 33.00 | 090
43200 |  | A | Esophagus endoscopy | 1.59 | 3.53 | 3.98 | 0.91 | 1.03 | 0.13 | 5.25 | 5.70 | 2.63 | 2.75 | 000
43201 |  | A | Esoph scope w/submucous inj | 2.09 | 5.56 | 4.86 | 1.18 | 1.12 | 0.15 | 7.80 | 7.10 | 3.42 | 3.36 | 000
43202 |  | A | Esophagus endoscopy, biopsy | 1.89 | 5.13 | 5.44 | 0.97 | 0.95 | 0.15 | 7.17 | 7.48 | 3.01 | 2.99 | 000
43204 |  | A | Esoph scope w/sclerosis inj | 3.76 | NA | NA | 1.93 | 1.62 | 0.30 | NA | NA | 5.99 | 5.68 | 000
43205 |  | A | Esophagus endoscopy/ligation | 3.78 | NA | NA | 2.02 | 1.65 | 0.28 | NA | NA | 6.08 | 5.71 | 000
43215 |  | A | Esophagus endoscopy | 2.60 | NA | NA | 1.25 | 1.21 | 0.22 | NA | NA | 4.07 | 4.03 | 000
43216 |  | A | Esophagus endoscopy/lesion | 2.40 | 3.00 | 1.55 | 1.21 | 1.10 | 0.20 | 5.60 | 4.15 | 3.81 | 3.70 | 000
43217 |  | A | Esophagus endoscopy | 2.90 | 6.58 | 6.86 | 1.40 | 1.24 | 0.26 | 9.74 | 10.02 | 4.56 | 4.40 | 000
43219 |  | A | Esophagus endoscopy | 2.80 | NA | NA | 1.53 | 1.40 | 0.24 | NA | NA | 4.57 | 4.44 | 000
43220 |  | A | Esoph endoscopy, dilation | 2.10 | NA | NA | 1.12 | 1.01 | 0.17 | NA | NA | 3.39 | 3.28 | 000
43226 |  | A | Esoph endoscopy, dilation | 2.34 | NA | NA | 1.27 | 1.09 | 0.19 | NA | NA | 3.80 | 3.62 | 000
43227 |  | A | Esoph endoscopy, repair | 3.59 | NA | NA | 1.81 | 1.54 | 0.28 | NA | NA | 5.68 | 5.41 | 000
43228 |  | A | Esoph endoscopy, ablation | 3.76 | NA | NA | 1.84 | 1.62 | 0.34 | NA | NA | 5.94 | 5.72 | 000
43231 |  | A | Esoph endoscopy w/us exam | 3.19 | NA | NA | 1.72 | 1.41 | 0.23 | NA | NA | 5.14 | 4.83 | 000
43232 |  | A | Esoph endoscopy w/us fn bx | 4.47 | NA | NA | 2.34 | 1.94 | 0.34 | NA | NA | 7.15 | 6.75 | 000
43234 |  | A | Upper GI endoscopy, exam | 2.01 | 4.98 | 5.24 | 1.01 | 0.91 | 0.17 | 7.16 | 7.42 | 3.19 | 3.09 | 000
43235 |  | A | Uppr gi endoscopy, diagnosis | 2.39 | 5.26 | 5.19 | 1.34 | 1.10 | 0.19 | 7.84 | 7.77 | 3.92 | 3.68 | 000
43236 |  | A | Uppr gi scope w/submuc inj | 2.92 | 6.67 | 6.47 | 1.64 | 1.33 | 0.21 | 9.80 | 9.60 | 4.77 | 4.46 | 000
43237 |  | A | Endoscopic us exam, esoph | 3.98 | NA | NA | 2.12 | 1.72 | 0.43 | NA | NA | 6.53 | 6.13 | 000
43238 |  | A | Uppr gi endoscopy w/us fn bx | 5.02 | NA | NA | 2.52 | 2.10 | 0.43 | NA | NA | 7.97 | 7.55 | 000
43239 |  | A | Upper GI endoscopy, biopsy | 2.87 | 6.01 | 5.79 | 1.54 | 1.28 | 0.22 | 9.10 | 8.88 | 4.63 | 4.37 | 000
43240 |  | A | Esoph endoscope w/drain cyst | 6.85 | NA | NA | 3.41 | 2.80 | 0.56 | NA | NA | 10.82 | 10.21 | 000
43241 |  | A | Upper GI endoscopy with tube | 2.59 | NA | NA | 1.40 | 1.18 | 0.21 | NA | NA | 4.20 | 3.98 | 000
43242 |  | A | Uppr gi endoscopy w/us fn bx | 7.30 | NA | NA | 3.65 | 2.96 | 0.53 | NA | NA | 11.48 | 10.79 | 000
43243 |  | A | Upper gi endoscopy & inject | 4.56 | NA | NA | 2.34 | 1.93 | 0.33 | NA | NA | 7.23 | 6.82 | 000
43244 |  | A | Upper GI endoscopy/ligation | 5.04 | NA | NA | 2.62 | 2.13 | 0.37 | NA | NA | 8.03 | 7.54 | 000
43245 |  | A | Uppr gi scope dilate strictr | 3.18 | NA | NA | 1.62 | 1.38 | 0.26 | NA | NA | 5.06 | 4.82 | 000
43246 |  | A | Place gastrostomy tube | 4.32 | NA | NA | 2.10 | 1.79 | 0.34 | NA | NA | 6.76 | 6.45 | 000
43247 |  | A | Operative upper GI endoscopy | 3.38 | NA | NA | 1.77 | 1.47 | 0.27 | NA | NA | 5.42 | 5.12 | 000
43248 |  | A | Uppr gi endoscopy/guide wire | 3.15 | NA | NA | 1.76 | 1.42 | 0.23 | NA | NA | 5.14 | 4.80 | 000
43249 |  | A | Esoph endoscopy, dilation | 2.90 | NA | NA | 1.61 | 1.31 | 0.22 | NA | NA | 4.73 | 4.43 | 000
43250 |  | A | Upper GI endoscopy/tumor | 3.20 | NA | NA | 1.62 | 1.39 | 0.26 | NA | NA | 5.08 | 4.85 | 000
43251 |  | A | Operative upper GI endoscopy | 3.69 | NA | NA | 1.91 | 1.59 | 0.29 | NA | NA | 5.89 | 5.57 | 000
43255 |  | A | Operative upper GI endoscopy | 4.81 | NA | NA | 2.50 | 2.04 | 0.35 | NA | NA | 7.66 | 7.20 | 000
43256 |  | A | Uppr gi endoscopy w/stent | 4.34 | NA | NA | 2.23 | 1.84 | 0.32 | NA | NA | 6.89 | 6.50 | 000
43257 |  | A | Uppr gi scope w/thrml txmnt | 5.50 | NA | NA | 2.05 | 2.16 | 0.36 | NA | NA | 7.91 | 8.02 | 000
43258 |  | A | Operative upper GI endoscopy | 4.54 | NA | NA | 2.36 | 1.93 | 0.33 | NA | NA | 7.23 | 6.80 | 000
43259 |  | A | Endoscopic ultrasound exam | 5.19 | NA | NA | 2.66 | 2.16 | 0.35 | NA | NA | 8.20 | 7.70 | 000
43260 |  | A | Endo cholangiopancreatograph | 5.95 | NA | NA | 3.04 | 2.47 | 0.43 | NA | NA | 9.42 | 8.85 | 000
43261 |  | A | Endo cholangiopancreatograph | 6.26 | NA | NA | 3.19 | 2.59 | 0.46 | NA | NA | 9.91 | 9.31 | 000
43262 |  | A | Endo cholangiopancreatograph | 7.38 | NA | NA | 3.69 | 3.01 | 0.54 | NA | NA | 11.61 | 10.93 | 000
43263 |  | A | Endo cholangiopancreatograph | 7.28 | NA | NA | 3.70 | 3.00 | 0.54 | NA | NA | 11.52 | 10.82 | 000
43264 |  | A | Endo cholangiopancreatograph | 8.89 | NA | NA | 4.41 | 3.59 | 0.65 | NA | NA | 13.95 | 13.13 | 000
43265 |  | A | Endo cholangiopancreatograph | 10.00 | NA | NA | 4.90 | 3.99 | 0.73 | NA | NA | 15.63 | 14.72 | 000
43267 |  | A | Endo cholangiopancreatograph | 7.38 | NA | NA | 3.60 | 2.99 | 0.54 | NA | NA | 11.52 | 10.91 | 000
43268 |  | A | Endo cholangiopancreatograph | 7.38 | NA | NA | 3.85 | 3.12 | 0.54 | NA | NA | 11.77 | 11.04 | 000
43269 |  | A | Endo cholangiopancreatograph | 8.20 | NA | NA | 4.07 | 3.32 | 0.60 | NA | NA | 12.87 | 12.12 | 000
43271 |  | A | Endo cholangiopancreatograph | 7.38 | NA | NA | 3.70 | 3.01 | 0.54 | NA | NA | 11.62 | 10.93 | 000
43272 |  | A | Endo cholangiopancreatograph | 7.38 | NA | NA | 3.77 | 3.03 | 0.54 | NA | NA | 11.69 | 10.95 | 000
43280 |  | A | Laparoscopy, fundoplasty | 17.96 | NA | NA | 6.73 | 7.14 | 2.27 | NA | NA | 26.96 | 27.37 | 090
43289 |  | C | Laparoscope proc, esoph | 0.00 | 0.00 | 0.00 | 0.00 | 0.00 | 0.00 | 0.00 | 0.00 | 0.00 | 0.00 | YYY
43300 |  | A | Repair of esophagus | 9.13 | NA | NA | 5.17 | 6.07 | 1.12 | NA | NA | 15.42 | 16.32 | 090
43305 |  | A | Repair esophagus and fistula | 17.90 | NA | NA | 7.46 | 9.88 | 1.54 | NA | NA | 26.90 | 29.32 | 090
43310 |  | A | Repair of esophagus | 26.13 | NA | NA | 10.13 | 10.83 | 3.60 | NA | NA | 39.86 | 40.56 | 090
43312 |  | A | Repair esophagus and fistula | 29.22 | NA | NA | 9.96 | 11.41 | 4.00 | NA | NA | 43.18 | 44.63 | 090
43313 |  | A | Esophagoplasty congenital | 48.07 | NA | NA | 17.38 | 18.45 | 5.45 | NA | NA | 70.90 | 71.97 | 090
43314 |  | A | Tracheo-esophagoplasty cong | 53.05 | NA | NA | 18.43 | 18.99 | 6.63 | NA | NA | 78.11 | 78.67 | 090
43320 |  | A | Fuse esophagus & stomach | 23.12 | NA | NA | 8.85 | 9.11 | 2.73 | NA | NA | 34.70 | 34.96 | 090
43324 |  | A | Revise esophagus & stomach | 22.80 | NA | NA | 8.42 | 8.68 | 2.75 | NA | NA | 33.97 | 34.23 | 090
43325 |  | A | Revise esophagus & stomach | 22.41 | NA | NA | 8.39 | 8.68 | 2.59 | NA | NA | 33.39 | 33.68 | 090
43326 |  | A | Revise esophagus & stomach | 22.09 | NA | NA | 9.37 | 9.31 | 2.84 | NA | NA | 34.30 | 34.24 | 090
43330 |  | A | Repair of esophagus | 22.00 | NA | NA | 8.27 | 8.47 | 2.62 | NA | NA | 32.89 | 33.09 | 090
43331 |  | A | Repair of esophagus | 22.87 | NA | NA | 9.58 | 9.73 | 2.93 | NA | NA | 35.38 | 35.53 | 090
43340 |  | A | Fuse esophagus & intestine | 22.80 | NA | NA | 9.09 | 8.99 | 2.45 | NA | NA | 34.34 | 34.24 | 090
43341 |  | A | Fuse esophagus & intestine | 24.04 | NA | NA | 10.12 | 10.04 | 2.91 | NA | NA | 37.07 | 36.99 | 090
43350 |  | A | Surgical opening, esophagus | 19.23 | NA | NA | 8.06 | 8.35 | 1.42 | NA | NA | 28.71 | 29.00 | 090
43351 |  | A | Surgical opening, esophagus | 21.79 | NA | NA | 9.60 | 9.74 | 2.46 | NA | NA | 33.85 | 33.99 | 090
43352 |  | A | Surgical opening, esophagus | 17.62 | NA | NA | 8.19 | 8.33 | 2.05 | NA | NA | 27.86 | 28.00 | 090
43360 |  | A | Gastrointestinal repair | 39.82 | NA | NA | 15.81 | 15.26 | 4.96 | NA | NA | 60.59 | 60.04 | 090
43361 |  | A | Gastrointestinal repair | 45.42 | NA | NA | 16.89 | 16.88 | 4.49 | NA | NA | 66.80 | 66.79 | 090
43400 |  | A | Ligate esophagus veins | 25.41 | NA | NA | 13.74 | 10.51 | 1.95 | NA | NA | 41.10 | 37.87 | 090
43401 |  | A | Esophagus surgery for veins | 26.30 | NA | NA | 9.49 | 9.48 | 3.04 | NA | NA | 38.83 | 38.82 | 090
43405 |  | A | Ligate/staple esophagus | 24.47 | NA | NA | 10.42 | 9.79 | 2.83 | NA | NA | 37.72 | 37.09 | 090
43410 |  | A | Repair esophagus wound | 16.22 | NA | NA | 7.53 | 7.61 | 1.71 | NA | NA | 25.46 | 25.54 | 090
43415 |  | A | Repair esophagus wound | 28.62 | NA | NA | 11.99 | 11.80 | 3.52 | NA | NA | 44.13 | 43.94 | 090
43420 |  | A | Repair esophagus opening | 16.59 | NA | NA | 6.86 | 7.27 | 1.43 | NA | NA | 24.88 | 25.29 | 090
43425 |  | A | Repair esophagus opening | 24.85 | NA | NA | 10.38 | 10.07 | 3.02 | NA | NA | 38.25 | 37.94 | 090
43450 |  | A | Dilate esophagus | 1.38 | 2.66 | 2.64 | 0.92 | 0.75 | 0.11 | 4.15 | 4.13 | 2.41 | 2.24 | 000
43453 |  | A | Dilate esophagus | 1.51 | 6.29 | 6.12 | 1.00 | 0.80 | 0.11 | 7.91 | 7.74 | 2.62 | 2.42 | 000
43456 |  | A | Dilate esophagus | 2.57 | 12.99 | 13.55 | 1.45 | 1.19 | 0.20 | 15.76 | 16.32 | 4.22 | 3.96 | 000
43458 |  | A | Dilate esophagus | 3.06 | 6.93 | 6.72 | 1.61 | 1.36 | 0.24 | 10.23 | 10.02 | 4.91 | 4.66 | 000
43460 |  | A | Pressure treatment esophagus | 3.79 | NA | NA | 1.70 | 1.54 | 0.31 | NA | NA | 5.80 | 5.64 | 000
43496 |  | C | Free jejunum flap, microvasc | 0.00 | 0.00 | 0.00 | 0.00 | 0.00 | 0.00 | 0.00 | 0.00 | 0.00 | 0.00 | 090
43499 |  | C | Esophagus surgery procedure | 0.00 | 0.00 | 0.00 | 0.00 | 0.00 | 0.00 | 0.00 | 0.00 | 0.00 | 0.00 | YYY
43500 |  | A | Surgical opening of stomach | 12.67 | NA | NA | 5.27 | 5.05 | 1.45 | NA | NA | 19.39 | 19.17 | 090
43501 |  | A | Surgical repair of stomach | 22.41 | NA | NA | 8.18 | 8.27 | 2.64 | NA | NA | 33.23 | 33.32 | 090
43502 |  | A | Surgical repair of stomach | 25.50 | NA | NA | 9.04 | 9.35 | 3.09 | NA | NA | 37.63 | 37.94 | 090
43510 |  | A | Surgical opening of stomach | 14.95 | NA | NA | 6.89 | 6.66 | 1.48 | NA | NA | 23.32 | 23.09 | 090
43520 |  | A | Incision of pyloric muscle | 11.17 | NA | NA | 4.89 | 5.16 | 1.36 | NA | NA | 17.42 | 17.69 | 090
43600 |  | A | Biopsy of stomach | 1.91 | NA | NA | 0.80 | 0.70 | 0.14 | NA | NA | 2.85 | 2.75 | 000
43605 |  | A | Biopsy of stomach | 13.60 | NA | NA | 5.46 | 5.33 | 1.58 | NA | NA | 20.64 | 20.51 | 090
43610 |  | A | Excision of stomach lesion | 16.22 | NA | NA | 6.11 | 6.13 | 1.93 | NA | NA | 24.26 | 24.28 | 090
43611 |  | A | Excision of stomach lesion | 20.19 | NA | NA | 7.61 | 7.57 | 2.35 | NA | NA | 30.15 | 30.11 | 090
43620 |  | A | Removal of stomach | 33.85 | NA | NA | 11.16 | 11.63 | 3.95 | NA | NA | 48.96 | 49.43 | 090
43621 |  | A | Removal of stomach | 39.34 | NA | NA | 12.57 | 12.12 | 4.03 | NA | NA | 55.94 | 55.49 | 090
43622 |  | A | Removal of stomach | 39.84 | NA | NA | 12.71 | 12.61 | 4.29 | NA | NA | 56.84 | 56.74 | 090
43631 |  | A | Removal of stomach, partial | 24.32 | NA | NA | 8.68 | 9.03 | 2.98 | NA | NA | 35.98 | 36.33 | 090
43632 |  | A | Removal of stomach, partial | 34.95 | NA | NA | 11.43 | 9.72 | 2.98 | NA | NA | 49.36 | 47.65 | 090
43633 |  | A | Removal of stomach, partial | 32.95 | NA | NA | 10.92 | 9.72 | 3.05 | NA | NA | 46.92 | 45.72 | 090
43634 |  | A | Removal of stomach, partial | 36.45 | NA | NA | 11.97 | 10.55 | 3.32 | NA | NA | 51.74 | 50.32 | 090
43635 |  | A | Removal of stomach, partial | 2.06 | NA | NA | 0.53 | 0.66 | 0.27 | NA | NA | 2.86 | 2.99 | ZZZ
43640 |  | A | Vagotomy & pylorus repair | 19.37 | NA | NA | 7.42 | 7.29 | 2.25 | NA | NA | 29.04 | 28.91 | 090
43641 |  | A | Vagotomy & pylorus repair | 19.62 | NA | NA | 7.72 | 7.45 | 2.24 | NA | NA | 29.58 | 29.31 | 090
43644 |  | A | Lap gastric bypass/roux-en-y | 29.18 | NA | NA | 10.29 | 10.98 | 3.15 | NA | NA | 42.62 | 43.31 | 090
43645 |  | A | Lap gastr bypass incl smll i | 31.31 | NA | NA | 11.27 | 11.83 | 3.53 | NA | NA | 46.11 | 46.67 | 090
43651 |  | A | Laparoscopy, vagus nerve | 10.13 | NA | NA | 4.67 | 4.74 | 1.33 | NA | NA | 16.13 | 16.20 | 090
43652 |  | A | Laparoscopy, vagus nerve | 12.13 | NA | NA | 5.23 | 5.62 | 1.55 | NA | NA | 18.91 | 19.30 | 090
43653 |  | A | Laparoscopy, gastrostomy | 8.34 | NA | NA | 4.43 | 4.24 | 1.01 | NA | NA | 13.78 | 13.59 | 090
43659 |  | C | Laparoscope proc, stom | 0.00 | 0.00 | 0.00 | 0.00 | 0.00 | 0.00 | 0.00 | 0.00 | 0.00 | 0.00 | YYY
43750 |  | A | Place gastrostomy tube | 4.60 | NA | NA | 1.96 | 2.13 | 0.43 | NA | NA | 6.99 | 7.16 | 010
43752 |  | A | Nasal/orogastric w/stent | 0.81 | NA | NA | 0.24 | 0.26 | 0.02 | NA | NA | 1.07 | 1.09 | 000
43760 |  | A | Change gastrostomy tube | 1.10 | 13.09 | 4.83 | 0.39 | 0.44 | 0.09 | 14.28 | 6.02 | 1.58 | 1.63 | 000
43761 |  | A | Reposition gastrostomy tube | 2.01 | 0.98 | 1.12 | 0.64 | 0.66 | 0.13 | 3.12 | 3.26 | 2.78 | 2.80 | 000
43770 |  | A | Lap, place gastr adjust band | 17.79 | NA | NA | 7.57 | 7.68 | 2.18 | NA | NA | 27.54 | 27.65 | 090
43771 |  | A | Lap, revise adjust gast band | 20.58 | NA | NA | 8.22 | 8.50 | 2.54 | NA | NA | 31.34 | 31.62 | 090
43772 |  | A | Lap, remove adjust gast band | 15.58 | NA | NA | 6.03 | 6.32 | 1.92 | NA | NA | 23.53 | 23.82 | 090
43773 |  | A | Lap, change adjust gast band | 20.58 | NA | NA | 8.22 | 8.50 | 2.55 | NA | NA | 31.35 | 31.63 | 090
43774 |  | A | Lap remov adj gast band/port | 15.62 | NA | NA | 6.22 | 6.48 | 1.84 | NA | NA | 23.68 | 23.94 | 090
43800 |  | A | Reconstruction of pylorus | 15.31 | NA | NA | 5.91 | 5.90 | 1.81 | NA | NA | 23.03 | 23.02 | 090
43810 |  | A | Fusion of stomach and bowel | 16.76 | NA | NA | 6.28 | 6.20 | 1.93 | NA | NA | 24.97 | 24.89 | 090
43820 |  | A | Fusion of stomach and bowel | 22.34 | NA | NA | 8.19 | 6.85 | 2.03 | NA | NA | 32.56 | 31.22 | 090
43825 |  | A | Fusion of stomach and bowel | 21.57 | NA | NA | 7.96 | 8.00 | 2.53 | NA | NA | 32.06 | 32.10 | 090
43830 |  | A | Place gastrostomy tube | 10.71 | NA | NA | 5.22 | 4.94 | 1.25 | NA | NA | 17.18 | 16.90 | 090
43831 |  | A | Place gastrostomy tube | 8.31 | NA | NA | 5.17 | 4.68 | 1.03 | NA | NA | 14.51 | 14.02 | 090
43832 |  | A | Place gastrostomy tube | 17.22 | NA | NA | 7.15 | 6.92 | 1.97 | NA | NA | 26.34 | 26.11 | 090
43840 |  | A | Repair of stomach lesion | 22.64 | NA | NA | 8.26 | 7.14 | 2.05 | NA | NA | 32.95 | 31.83 | 090
43842 |  | N | V-band gastroplasty | 20.84 | NA | NA | 7.81 | 7.80 | 2.44 | NA | NA | 31.09 | 31.08 | 090
43843 |  | A | Gastroplasty w/o v-band | 21.02 | NA | NA | 7.88 | 7.79 | 2.45 | NA | NA | 31.35 | 31.26 | 090
43845 |  | A | Gastroplasty duodenal switch | 33.04 | NA | NA | 12.63 | 11.24 | 4.05 | NA | NA | 49.72 | 48.33 | 090
43846 |  | A | Gastric bypass for obesity | 27.15 | NA | NA | 10.09 | 10.04 | 3.18 | NA | NA | 40.42 | 40.37 | 090
43847 |  | A | Gastric bypass incl small i | 30.02 | NA | NA | 10.72 | 10.85 | 3.55 | NA | NA | 44.29 | 44.42 | 090
43848 |  | A | Revision gastroplasty | 32.49 | NA | NA | 11.41 | 11.71 | 3.87 | NA | NA | 47.77 | 48.07 | 090
43850 |  | A | Revise stomach-bowel fusion | 27.39 | NA | NA | 9.48 | 9.73 | 3.27 | NA | NA | 40.14 | 40.39 | 090
43855 |  | A | Revise stomach-bowel fusion | 28.50 | NA | NA | 9.83 | 10.20 | 3.46 | NA | NA | 41.79 | 42.16 | 090
43860 |  | A | Revise stomach-bowel fusion | 27.70 | NA | NA | 9.57 | 9.86 | 3.30 | NA | NA | 40.57 | 40.86 | 090
43865 |  | A | Revise stomach-bowel fusion | 28.86 | NA | NA | 10.17 | 10.42 | 3.50 | NA | NA | 42.53 | 42.78 | 090
43870 |  | A | Repair stomach opening | 11.32 | NA | NA | 5.05 | 4.65 | 1.27 | NA | NA | 17.64 | 17.24 | 090
43880 |  | A | Repair stomach-bowel fistula | 26.99 | NA | NA | 9.42 | 9.77 | 3.26 | NA | NA | 39.67 | 40.02 | 090
43886 |  | A | Revise gastric port, open | 4.50 | NA | NA | 3.45 | 3.21 | 0.25 | NA | NA | 8.20 | 7.96 | 090
43887 |  | A | Remove gastric port, open | 4.20 | NA | NA | 3.00 | 2.83 | 0.51 | NA | NA | 7.71 | 7.54 | 090
43888 |  | A | Change gastric port, open | 6.30 | NA | NA | 3.94 | 3.81 | 0.70 | NA | NA | 10.94 | 10.81 | 090
43999 |  | C | Stomach surgery procedure | 0.00 | 0.00 | 0.00 | 0.00 | 0.00 | 0.00 | 0.00 | 0.00 | 0.00 | 0.00 | YYY
44005 |  | A | Freeing of bowel adhesion | 18.34 | NA | NA | 6.67 | 6.70 | 2.14 | NA | NA | 27.15 | 27.18 | 090
44010 |  | A | Incision of small bowel | 14.14 | NA | NA | 5.58 | 5.48 | 1.64 | NA | NA | 21.36 | 21.26 | 090
44015 |  | A | Insert needle cath bowel | 2.62 | NA | NA | 0.69 | 0.83 | 0.35 | NA | NA | 3.66 | 3.80 | ZZZ
44020 |  | A | Explore small intestine | 16.10 | NA | NA | 6.06 | 5.96 | 1.85 | NA | NA | 24.01 | 23.91 | 090
44021 |  | A | Decompress small bowel | 16.19 | NA | NA | 6.33 | 6.05 | 1.86 | NA | NA | 24.38 | 24.10 | 090
44025 |  | A | Incision of large bowel | 16.39 | NA | NA | 6.19 | 6.06 | 1.89 | NA | NA | 24.47 | 24.34 | 090
44050 |  | A | Reduce bowel obstruction | 15.40 | NA | NA | 5.89 | 5.94 | 1.85 | NA | NA | 23.14 | 23.19 | 090
44055 |  | A | Correct malrotation of bowel | 25.49 | NA | NA | 8.60 | 8.69 | 2.90 | NA | NA | 36.99 | 37.08 | 090
44100 |  | A | Biopsy of bowel | 2.01 | NA | NA | 0.88 | 0.75 | 0.17 | NA | NA | 3.06 | 2.93 | 000
44110 |  | A | Excise intestine lesion(s) | 13.92 | NA | NA | 5.58 | 5.31 | 1.55 | NA | NA | 21.05 | 20.78 | 090
44111 |  | A | Excision of bowel lesion(s) | 16.40 | NA | NA | 6.20 | 6.13 | 1.86 | NA | NA | 24.46 | 24.39 | 090
44120 |  | A | Removal of small intestine | 20.70 | NA | NA | 7.24 | 7.11 | 2.24 | NA | NA | 30.18 | 30.05 | 090
44121 |  | A | Removal of small intestine | 4.44 | NA | NA | 1.14 | 1.43 | 0.58 | NA | NA | 6.16 | 6.45 | ZZZ
44125 |  | A | Removal of small intestine | 19.89 | NA | NA | 7.10 | 7.21 | 2.26 | NA | NA | 29.25 | 29.36 | 090
44126 |  | A | Enterectomy w/o taper, cong | 41.94 | NA | NA | 13.97 | 14.08 | 4.68 | NA | NA | 60.59 | 60.70 | 090
44127 |  | A | Enterectomy w/taper, cong | 49.01 | NA | NA | 14.84 | 15.49 | 5.75 | NA | NA | 69.60 | 70.25 | 090
44128 |  | A | Enterectomy cong, add-on | 4.44 | NA | NA | 1.07 | 1.42 | 0.61 | NA | NA | 6.12 | 6.47 | ZZZ
44130 |  | A | Bowel to bowel fusion | 21.92 | NA | NA | 8.05 | 6.67 | 1.87 | NA | NA | 31.84 | 30.46 | 090
44137 |  | C | Remove intestinal allograft | 0.00 | 0.00 | 0.00 | 0.00 | 0.00 | 0.00 | 0.00 | 0.00 | 0.00 | 0.00 | XXX
44139 |  | A | Mobilization of colon | 2.23 | NA | NA | 0.56 | 0.71 | 0.28 | NA | NA | 3.07 | 3.22 | ZZZ
44140 |  | A | Partial removal of colon | 22.40 | NA | NA | 8.17 | 8.52 | 2.70 | NA | NA | 33.27 | 33.62 | 090
44141 |  | A | Partial removal of colon | 29.69 | NA | NA | 11.96 | 10.52 | 2.52 | NA | NA | 44.17 | 42.73 | 090
44143 |  | A | Partial removal of colon | 27.57 | NA | NA | 10.40 | 10.61 | 3.04 | NA | NA | 41.01 | 41.22 | 090
44144 |  | A | Partial removal of colon | 29.69 | NA | NA | 10.75 | 9.90 | 2.85 | NA | NA | 43.29 | 42.44 | 090
44145 |  | A | Partial removal of colon | 28.39 | NA | NA | 9.58 | 10.50 | 3.28 | NA | NA | 41.25 | 42.17 | 090
44146 |  | A | Partial removal of colon | 35.08 | NA | NA | 13.46 | 13.00 | 3.40 | NA | NA | 51.94 | 51.48 | 090
44147 |  | A | Partial removal of colon | 33.50 | NA | NA | 11.06 | 9.28 | 2.55 | NA | NA | 47.11 | 45.33 | 090
44150 |  | A | Removal of colon | 29.91 | NA | NA | 12.74 | 12.20 | 3.03 | NA | NA | 45.68 | 45.14 | 090
44151 |  | A | Removal of colon/ileostomy | 34.65 | NA | NA | 14.19 | 13.59 | 3.48 | NA | NA | 52.32 | 51.72 | 090
44152 |  | A | Removal of colon/ileostomy | 29.91 | NA | NA | 10.53 | 11.33 | 3.51 | NA | NA | 43.95 | 44.75 | 090
44153 |  | A | Removal of colon/ileostomy | 33.18 | NA | NA | 14.40 | 14.38 | 3.54 | NA | NA | 51.12 | 51.10 | 090
44155 |  | A | Removal of colon/ileostomy | 34.15 | NA | NA | 13.59 | 13.37 | 3.27 | NA | NA | 51.01 | 50.79 | 090
44156 |  | A | Removal of colon/ileostomy | 37.15 | NA | NA | 14.84 | 14.98 | 3.94 | NA | NA | 55.93 | 56.07 | 090
44160 |  | A | Removal of colon | 20.72 | NA | NA | 7.60 | 7.71 | 2.36 | NA | NA | 30.68 | 30.79 | 090
44180 |  | A | Lap, enterolysis | 15.15 | NA | NA | 5.87 | 6.14 | 1.85 | NA | NA | 22.87 | 23.14 | 090
44186 |  | A | Lap, jejunostomy | 10.26 | NA | NA | 4.63 | 4.75 | 1.27 | NA | NA | 16.16 | 16.28 | 090
44187 |  | A | Lap, ileo/jejuno-stomy | 17.21 | NA | NA | 8.25 | 8.27 | 1.95 | NA | NA | 27.41 | 27.43 | 090
44188 |  | A | Lap, colostomy | 19.14 | NA | NA | 8.82 | 8.84 | 2.23 | NA | NA | 30.19 | 30.21 | 090
44202 |  | A | Lap, enterectomy | 23.20 | NA | NA | 8.41 | 8.79 | 2.84 | NA | NA | 34.45 | 34.83 | 090
44203 |  | A | Lap resect s/intestine, addl | 4.44 | NA | NA | 1.14 | 1.41 | 0.57 | NA | NA | 6.15 | 6.42 | ZZZ
44204 |  | A | Laparo partial colectomy | 26.23 | NA | NA | 9.00 | 9.71 | 3.10 | NA | NA | 38.33 | 39.04 | 090
44205 |  | A | Lap colectomy part w/ileum | 22.80 | NA | NA | 7.89 | 8.60 | 2.74 | NA | NA | 33.43 | 34.14 | 090
44206 |  | A | Lap part colectomy w/stoma | 29.57 | NA | NA | 10.60 | 11.09 | 3.45 | NA | NA | 43.62 | 44.11 | 090
44207 |  | A | L colectomy/coloproctostomy | 31.73 | NA | NA | 10.22 | 11.17 | 3.66 | NA | NA | 45.61 | 46.56 | 090
44208 |  | A | L colectomy/coloproctostomy | 33.80 | NA | NA | 12.15 | 12.89 | 3.87 | NA | NA | 49.82 | 50.56 | 090
44210 |  | A | Laparo total proctocolectomy | 29.80 | NA | NA | 11.27 | 11.72 | 3.41 | NA | NA | 44.48 | 44.93 | 090
44211 |  | A | Laparo total proctocolectomy | 36.79 | NA | NA | 13.90 | 14.48 | 4.16 | NA | NA | 54.85 | 55.43 | 090
44212 |  | A | Laparo total proctocolectomy | 34.29 | NA | NA | 13.27 | 13.58 | 3.77 | NA | NA | 51.33 | 51.64 | 090
44213 |  | A | Lap, mobil splenic fl add-on | 3.50 | NA | NA | 0.89 | 1.14 | 0.44 | NA | NA | 4.83 | 5.08 | ZZZ
44227 |  | A | Lap, close enterostomy | 28.43 | NA | NA | 9.59 | 10.36 | 3.37 | NA | NA | 41.39 | 42.16 | 090
44238 |  | C | Laparoscope proc, intestine | 0.00 | 0.00 | 0.00 | 0.00 | 0.00 | 0.00 | 0.00 | 0.00 | 0.00 | 0.00 | YYY
44300 |  | A | Open bowel to skin | 13.61 | NA | NA | 5.63 | 5.52 | 1.60 | NA | NA | 20.84 | 20.73 | 090
44310 |  | A | Ileostomy/jejunostomy | 17.45 | NA | NA | 6.46 | 6.63 | 1.98 | NA | NA | 25.89 | 26.06 | 090
44312 |  | A | Revision of ileostomy | 9.29 | NA | NA | 4.66 | 4.16 | 0.92 | NA | NA | 14.87 | 14.37 | 090
44314 |  | A | Revision of ileostomy | 16.55 | NA | NA | 6.88 | 6.63 | 1.74 | NA | NA | 25.17 | 24.92 | 090
44316 |  | A | Devise bowel pouch | 23.40 | NA | NA | 9.34 | 8.74 | 2.37 | NA | NA | 35.11 | 34.51 | 090
44320 |  | A | Colostomy | 19.69 | NA | NA | 7.69 | 7.66 | 2.25 | NA | NA | 29.63 | 29.60 | 090
44322 |  | A | Colostomy with biopsies | 13.04 | NA | NA | 9.47 | 8.80 | 1.54 | NA | NA | 24.05 | 23.38 | 090
44340 |  | A | Revision of colostomy | 9.06 | NA | NA | 4.99 | 4.44 | 0.99 | NA | NA | 15.04 | 14.49 | 090
44345 |  | A | Revision of colostomy | 17.00 | NA | NA | 6.98 | 6.91 | 1.96 | NA | NA | 25.94 | 25.87 | 090
44346 |  | A | Revision of colostomy | 19.41 | NA | NA | 7.60 | 7.44 | 2.12 | NA | NA | 29.13 | 28.97 | 090
44360 |  | A | Small bowel endoscopy | 2.59 | NA | NA | 1.50 | 1.20 | 0.19 | NA | NA | 4.28 | 3.98 | 000
44361 |  | A | Small bowel endoscopy/biopsy | 2.87 | NA | NA | 1.63 | 1.31 | 0.21 | NA | NA | 4.71 | 4.39 | 000
44363 |  | A | Small bowel endoscopy | 3.49 | NA | NA | 1.92 | 1.52 | 0.27 | NA | NA | 5.68 | 5.28 | 000
44364 |  | A | Small bowel endoscopy | 3.73 | NA | NA | 2.00 | 1.62 | 0.27 | NA | NA | 6.00 | 5.62 | 000
44365 |  | A | Small bowel endoscopy | 3.31 | NA | NA | 1.77 | 1.46 | 0.24 | NA | NA | 5.32 | 5.01 | 000
44366 |  | A | Small bowel endoscopy | 4.40 | NA | NA | 2.37 | 1.89 | 0.32 | NA | NA | 7.09 | 6.61 | 000
44369 |  | A | Small bowel endoscopy | 4.51 | NA | NA | 2.40 | 1.90 | 0.33 | NA | NA | 7.24 | 6.74 | 000
44370 |  | A | Small bowel endoscopy/stent | 4.79 | NA | NA | 2.53 | 2.11 | 0.37 | NA | NA | 7.69 | 7.27 | 000
44372 |  | A | Small bowel endoscopy | 4.40 | NA | NA | 2.12 | 1.83 | 0.35 | NA | NA | 6.87 | 6.58 | 000
44373 |  | A | Small bowel endoscopy | 3.49 | NA | NA | 1.73 | 1.50 | 0.27 | NA | NA | 5.49 | 5.26 | 000
44376 |  | A | Small bowel endoscopy | 5.25 | NA | NA | 2.44 | 2.13 | 0.42 | NA | NA | 8.11 | 7.80 | 000
44377 |  | A | Small bowel endoscopy/biopsy | 5.52 | NA | NA | 2.77 | 2.29 | 0.40 | NA | NA | 8.69 | 8.21 | 000
44378 |  | A | Small bowel endoscopy | 7.12 | NA | NA | 3.52 | 2.90 | 0.52 | NA | NA | 11.16 | 10.54 | 000
44379 |  | A | S bowel endoscope w/stent | 7.46 | NA | NA | 3.28 | 3.00 | 0.62 | NA | NA | 11.36 | 11.08 | 000
44380 |  | A | Small bowel endoscopy | 1.05 | NA | NA | 0.75 | 0.60 | 0.08 | NA | NA | 1.88 | 1.73 | 000
44382 |  | A | Small bowel endoscopy | 1.27 | NA | NA | 0.79 | 0.67 | 0.12 | NA | NA | 2.18 | 2.06 | 000
44383 |  | A | Ileoscopy w/stent | 2.94 | NA | NA | 1.63 | 1.36 | 0.21 | NA | NA | 4.78 | 4.51 | 000
44385 |  | A | Endoscopy of bowel pouch | 1.82 | 4.90 | 3.74 | 0.89 | 0.79 | 0.15 | 6.87 | 5.71 | 2.86 | 2.76 | 000
44386 |  | A | Endoscopy, bowel pouch/biop | 2.12 | 6.75 | 6.67 | 1.04 | 0.92 | 0.20 | 9.07 | 8.99 | 3.36 | 3.24 | 000
44388 |  | A | Colonoscopy | 2.82 | 6.11 | 5.34 | 1.34 | 1.20 | 0.26 | 9.19 | 8.42 | 4.42 | 4.28 | 000
44389 |  | A | Colonoscopy with biopsy | 3.13 | 7.07 | 6.73 | 1.56 | 1.34 | 0.27 | 10.47 | 10.13 | 4.96 | 4.74 | 000
44390 |  | A | Colonoscopy for foreign body | 3.82 | 7.98 | 7.33 | 1.78 | 1.56 | 0.32 | 12.12 | 11.47 | 5.92 | 5.70 | 000
44391 |  | A | Colonoscopy for bleeding | 4.31 | 8.93 | 8.77 | 2.19 | 1.82 | 0.34 | 13.58 | 13.42 | 6.84 | 6.47 | 000
44392 |  | A | Colonoscopy & polypectomy | 3.81 | 7.38 | 6.78 | 1.71 | 1.55 | 0.34 | 11.53 | 10.93 | 5.86 | 5.70 | 000
44393 |  | A | Colonoscopy, lesion removal | 4.83 | 7.89 | 7.15 | 2.04 | 1.91 | 0.42 | 13.14 | 12.40 | 7.29 | 7.16 | 000
44394 |  | A | Colonoscopy w/snare | 4.42 | 8.47 | 7.98 | 2.05 | 1.80 | 0.38 | 13.27 | 12.78 | 6.85 | 6.60 | 000
44397 |  | A | Colonoscopy w/stent | 4.70 | NA | NA | 2.28 | 1.91 | 0.39 | NA | NA | 7.37 | 7.00 | 000
44500 |  | A | Intro, gastrointestinal tube | 0.49 | NA | NA | 0.15 | 0.16 | 0.03 | NA | NA | 0.67 | 0.68 | 000
44602 |  | A | Suture, small intestine | 24.60 | NA | NA | 7.73 | 6.73 | 2.11 | NA | NA | 34.44 | 33.44 | 090
44603 |  | A | Suture, small intestine | 27.97 | NA | NA | 9.10 | 7.73 | 2.41 | NA | NA | 39.48 | 38.11 | 090
44604 |  | A | Suture, large intestine | 18.02 | NA | NA | 6.14 | 6.37 | 2.11 | NA | NA | 26.27 | 26.50 | 090
44605 |  | A | Repair of bowel lesion | 21.96 | NA | NA | 7.98 | 8.29 | 2.51 | NA | NA | 32.45 | 32.76 | 090
44615 |  | A | Intestinal stricturoplasty | 18.04 | NA | NA | 6.64 | 6.66 | 2.06 | NA | NA | 26.74 | 26.76 | 090
44620 |  | A | Repair bowel opening | 14.31 | NA | NA | 5.55 | 5.38 | 1.51 | NA | NA | 21.37 | 21.20 | 090
44625 |  | A | Repair bowel opening | 17.16 | NA | NA | 6.22 | 6.28 | 1.85 | NA | NA | 25.23 | 25.29 | 090
44626 |  | A | Repair bowel opening | 27.78 | NA | NA | 9.02 | 9.61 | 3.26 | NA | NA | 40.06 | 40.65 | 090
44640 |  | A | Repair bowel-skin fistula | 24.08 | NA | NA | 8.15 | 8.47 | 2.77 | NA | NA | 35.00 | 35.32 | 090
44650 |  | A | Repair bowel fistula | 25.00 | NA | NA | 8.40 | 8.76 | 2.92 | NA | NA | 36.32 | 36.68 | 090
44660 |  | A | Repair bowel-bladder fistula | 23.79 | NA | NA | 9.72 | 8.69 | 2.13 | NA | NA | 35.64 | 34.61 | 090
44661 |  | A | Repair bowel-bladder fistula | 27.23 | NA | NA | 9.46 | 9.53 | 2.80 | NA | NA | 39.49 | 39.56 | 090
44680 |  | A | Surgical revision, intestine | 17.84 | NA | NA | 6.64 | 6.49 | 1.99 | NA | NA | 26.47 | 26.32 | 090
44700 |  | A | Suspend bowel w/prosthesis | 17.36 | NA | NA | 6.27 | 6.56 | 1.83 | NA | NA | 25.46 | 25.75 | 090
44701 |  | A | Intraop colon lavage add-on | 3.10 | NA | NA | 0.78 | 0.99 | 0.37 | NA | NA | 4.25 | 4.46 | ZZZ
44715 |  | C | Prepare donor intestine | 0.00 | 0.00 | 0.00 | 0.00 | 0.00 | 0.00 | 0.00 | 0.00 | 0.00 | 0.00 | XXX
44720 |  | A | Prep donor intestine/venous | 5.00 | NA | NA | 1.25 | 1.60 | 0.37 | NA | NA | 6.62 | 6.97 | XXX
44721 |  | A | Prep donor intestine/artery | 7.00 | NA | NA | 1.81 | 2.25 | 0.97 | NA | NA | 9.78 | 10.22 | XXX
44799 |  | C | Unlisted procedure intestine | 0.00 | 0.00 | 0.00 | 0.00 | 0.00 | 0.00 | 0.00 | 0.00 | 0.00 | 0.00 | YYY
44800 |  | A | Excision of bowel pouch | 11.87 | NA | NA | 5.56 | 5.43 | 1.47 | NA | NA | 18.90 | 18.77 | 090
44820 |  | A | Excision of mesentery lesion | 13.59 | NA | NA | 5.66 | 5.53 | 1.59 | NA | NA | 20.84 | 20.71 | 090
44850 |  | A | Repair of mesentery | 11.99 | NA | NA | 5.06 | 5.02 | 1.39 | NA | NA | 18.44 | 18.40 | 090
44899 |  | C | Bowel surgery procedure | 0.00 | 0.00 | 0.00 | 0.00 | 0.00 | 0.00 | 0.00 | 0.00 | 0.00 | 0.00 | YYY
44900 |  | A | Drain app abscess, open | 12.38 | NA | NA | 5.07 | 4.79 | 1.33 | NA | NA | 18.78 | 18.50 | 090
44901 |  | A | Drain app abscess, percut | 3.37 | 19.86 | 25.88 | 1.05 | 1.10 | 0.22 | 23.45 | 29.47 | 4.64 | 4.69 | 000
44950 |  | A | Appendectomy | 10.48 | NA | NA | 4.09 | 4.26 | 1.31 | NA | NA | 15.88 | 16.05 | 090
44955 |  | A | Appendectomy add-on | 1.53 | NA | NA | 0.40 | 0.51 | 0.20 | NA | NA | 2.13 | 2.24 | ZZZ
44960 |  | A | Appendectomy | 14.33 | NA | NA | 5.47 | 5.37 | 1.63 | NA | NA | 21.43 | 21.33 | 090
44970 |  | A | Laparoscopy, appendectomy | 9.31 | NA | NA | 4.24 | 4.12 | 1.14 | NA | NA | 14.69 | 14.57 | 090
44979 |  | C | Laparoscope proc, app | 0.00 | 0.00 | 0.00 | 0.00 | 0.00 | 0.00 | 0.00 | 0.00 | 0.00 | 0.00 | YYY
45000 |  | A | Drainage of pelvic abscess | 6.16 | NA | NA | 3.56 | 3.11 | 0.52 | NA | NA | 10.24 | 9.79 | 090
45005 |  | A | Drainage of rectal abscess | 1.99 | 4.00 | 4.04 | 1.60 | 1.59 | 0.25 | 6.24 | 6.28 | 3.84 | 3.83 | 010
45020 |  | A | Drainage of rectal abscess | 8.37 | NA | NA | 4.58 | 3.60 | 0.55 | NA | NA | 13.50 | 12.52 | 090
45100 |  | A | Biopsy of rectum | 3.92 | NA | NA | 2.84 | 2.48 | 0.44 | NA | NA | 7.20 | 6.84 | 090
45108 |  | A | Removal of anorectal lesion | 5.00 | NA | NA | 3.08 | 2.85 | 0.59 | NA | NA | 8.67 | 8.44 | 090
45110 |  | A | Removal of rectum | 30.49 | NA | NA | 11.98 | 12.29 | 3.35 | NA | NA | 45.82 | 46.13 | 090
45111 |  | A | Partial removal of rectum | 17.81 | NA | NA | 7.08 | 7.14 | 2.06 | NA | NA | 26.95 | 27.01 | 090
45112 |  | A | Removal of rectum | 32.99 | NA | NA | 10.39 | 11.42 | 3.42 | NA | NA | 46.80 | 47.83 | 090
45113 |  | A | Partial proctectomy | 33.03 | NA | NA | 11.60 | 12.34 | 3.48 | NA | NA | 48.11 | 48.85 | 090
45114 |  | A | Partial removal of rectum | 30.57 | NA | NA | 10.45 | 10.77 | 3.35 | NA | NA | 44.37 | 44.69 | 090
45116 |  | A | Partial removal of rectum | 27.50 | NA | NA | 9.50 | 9.89 | 2.87 | NA | NA | 39.87 | 40.26 | 090
45119 |  | A | Remove rectum w/reservoir | 33.29 | NA | NA | 11.71 | 12.27 | 3.35 | NA | NA | 48.35 | 48.91 | 090
45120 |  | A | Removal of rectum | 26.15 | NA | NA | 9.44 | 9.95 | 2.89 | NA | NA | 38.48 | 38.99 | 090
45121 |  | A | Removal of rectum and colon | 28.83 | NA | NA | 10.34 | 10.91 | 3.24 | NA | NA | 42.41 | 42.98 | 090
45123 |  | A | Partial proctectomy | 18.64 | NA | NA | 7.07 | 6.91 | 1.85 | NA | NA | 27.56 | 27.40 | 090
45126 |  | A | Pelvic exenteration | 48.81 | NA | NA | 17.39 | 18.75 | 4.32 | NA | NA | 70.52 | 71.88 | 090
45130 |  | A | Excision of rectal prolapse | 18.31 | NA | NA | 6.73 | 6.75 | 1.79 | NA | NA | 26.83 | 26.85 | 090
45135 |  | A | Excision of rectal prolapse | 22.07 | NA | NA | 9.28 | 8.63 | 2.35 | NA | NA | 33.70 | 33.05 | 090
45136 |  | A | Excise ileoanal reservior | 30.55 | NA | NA | 11.86 | 12.35 | 2.81 | NA | NA | 45.22 | 45.71 | 090
45150 |  | A | Excision of rectal stricture | 5.72 | NA | NA | 3.40 | 3.07 | 0.61 | NA | NA | 9.73 | 9.40 | 090
45160 |  | A | Excision of rectal lesion | 16.11 | NA | NA | 6.59 | 6.63 | 1.67 | NA | NA | 24.37 | 24.41 | 090
45170 |  | A | Excision of rectal lesion | 12.42 | NA | NA | 5.41 | 5.28 | 1.35 | NA | NA | 19.18 | 19.05 | 090
45190 |  | A | Destruction, rectal tumor | 10.23 | NA | NA | 5.55 | 4.85 | 1.13 | NA | NA | 16.91 | 16.21 | 090
45300 |  | A | Proctosigmoidoscopy dx | 0.38 | 2.00 | 1.65 | 0.35 | 0.30 | 0.04 | 2.42 | 2.07 | 0.77 | 0.72 | 000
45303 |  | A | Proctosigmoidoscopy dilate | 0.44 | 19.63 | 18.92 | 0.38 | 0.34 | 0.05 | 20.12 | 19.41 | 0.87 | 0.83 | 000
45305 |  | A | Proctosigmoidoscopy w/bx | 1.01 | 3.31 | 2.80 | 0.53 | 0.51 | 0.11 | 4.43 | 3.92 | 1.65 | 1.63 | 000
45307 |  | A | Proctosigmoidoscopy fb | 0.94 | 3.52 | 3.15 | 0.51 | 0.49 | 0.11 | 4.57 | 4.20 | 1.56 | 1.54 | 000
45308 |  | A | Proctosigmoidoscopy removal | 0.83 | 3.30 | 2.32 | 0.49 | 0.45 | 0.09 | 4.22 | 3.24 | 1.41 | 1.37 | 000
45309 |  | A | Proctosigmoidoscopy removal | 2.01 | 3.73 | 3.04 | 0.83 | 0.84 | 0.22 | 5.96 | 5.27 | 3.06 | 3.07 | 000
45315 |  | A | Proctosigmoidoscopy removal | 1.40 | 3.74 | 3.08 | 0.65 | 0.64 | 0.15 | 5.29 | 4.63 | 2.20 | 2.19 | 000
45317 |  | A | Proctosigmoidoscopy bleed | 1.50 | 3.83 | 2.78 | 0.66 | 0.66 | 0.15 | 5.48 | 4.43 | 2.31 | 2.31 | 000
45320 |  | A | Proctosigmoidoscopy ablate | 1.58 | 4.49 | 3.31 | 0.75 | 0.72 | 0.16 | 6.23 | 5.05 | 2.49 | 2.46 | 000
45321 |  | A | Proctosigmoidoscopy volvul | 1.17 | NA | NA | 0.65 | 0.58 | 0.13 | NA | NA | 1.95 | 1.88 | 000
45327 |  | A | Proctosigmoidoscopy w/stent | 1.65 | NA | NA | 0.83 | 0.73 | 0.16 | NA | NA | 2.64 | 2.54 | 000
45330 |  | A | Diagnostic sigmoidoscopy | 0.96 | 2.49 | 2.33 | 0.61 | 0.53 | 0.08 | 3.53 | 3.37 | 1.65 | 1.57 | 000
45331 |  | A | Sigmoidoscopy and biopsy | 1.15 | 3.24 | 3.11 | 0.78 | 0.64 | 0.09 | 4.48 | 4.35 | 2.02 | 1.88 | 000
45332 |  | A | Sigmoidoscopy w/fb removal | 1.79 | 5.62 | 5.16 | 1.02 | 0.86 | 0.16 | 7.57 | 7.11 | 2.97 | 2.81 | 000
45333 |  | A | Sigmoidoscopy & polypectomy | 1.79 | 5.63 | 5.06 | 0.98 | 0.85 | 0.15 | 7.57 | 7.00 | 2.92 | 2.79 | 000
45334 |  | A | Sigmoidoscopy for bleeding | 2.73 | NA | NA | 1.52 | 1.24 | 0.20 | NA | NA | 4.45 | 4.17 | 000
45335 |  | A | Sigmoidoscopy w/submuc inj | 1.46 | 5.32 | 3.74 | 0.90 | 0.74 | 0.11 | 6.89 | 5.31 | 2.47 | 2.31 | 000
45337 |  | A | Sigmoidoscopy & decompress | 2.36 | NA | NA | 1.23 | 1.06 | 0.21 | NA | NA | 3.80 | 3.63 | 000
45338 |  | A | Sigmoidoscopy w/tumr remove | 2.34 | 5.85 | 5.37 | 1.26 | 1.07 | 0.19 | 8.38 | 7.90 | 3.79 | 3.60 | 000
45339 |  | A | Sigmoidoscopy w/ablate tumr | 3.14 | 5.73 | 4.03 | 1.66 | 1.38 | 0.26 | 9.13 | 7.43 | 5.06 | 4.78 | 000
45340 |  | A | Sig w/balloon dilation | 1.89 | 10.25 | 7.19 | 1.03 | 0.88 | 0.15 | 12.29 | 9.23 | 3.07 | 2.92 | 000
45341 |  | A | Sigmoidoscopy w/ultrasound | 2.60 | NA | NA | 1.45 | 1.17 | 0.19 | NA | NA | 4.24 | 3.96 | 000
45342 |  | A | Sigmoidoscopy w/us guide bx | 4.05 | NA | NA | 2.15 | 1.69 | 0.30 | NA | NA | 6.50 | 6.04 | 000
45345 |  | A | Sigmoidoscopy w/stent | 2.92 | NA | NA | 1.53 | 1.25 | 0.23 | NA | NA | 4.68 | 4.40 | 000
45355 |  | A | Surgical colonoscopy | 3.51 | NA | NA | 1.55 | 1.42 | 0.36 | NA | NA | 5.42 | 5.29 | 000
45378 |  | A | Diagnostic colonoscopy | 3.69 | 6.36 | 6.20 | 1.81 | 1.56 | 0.30 | 10.35 | 10.19 | 5.80 | 5.55 | 000
45378 | 53 | A | Diagnostic colonoscopy | 0.96 | 2.49 | 2.33 | 0.61 | 0.53 | 0.08 | 3.53 | 3.37 | 1.65 | 1.57 | 000
45379 |  | A | Colonoscopy w/fb removal | 4.68 | 8.14 | 7.78 | 2.20 | 1.91 | 0.39 | 13.21 | 12.85 | 7.27 | 6.98 | 000
45380 |  | A | Colonoscopy and biopsy | 4.43 | 7.71 | 7.32 | 2.22 | 1.85 | 0.35 | 12.49 | 12.10 | 7.00 | 6.63 | 000
45381 |  | A | Colonoscopy, submucous inj | 4.19 | 7.68 | 7.25 | 2.14 | 1.77 | 0.30 | 12.17 | 11.74 | 6.63 | 6.26 | 000
45382 |  | A | Colonoscopy/control bleeding | 5.68 | 10.31 | 10.03 | 2.87 | 2.35 | 0.41 | 16.40 | 16.12 | 8.96 | 8.44 | 000
45383 |  | A | Lesion removal colonoscopy | 5.86 | 8.54 | 8.08 | 2.63 | 2.32 | 0.48 | 14.88 | 14.42 | 8.97 | 8.66 | 000
45384 |  | A | Lesion remove colonoscopy | 4.69 | 7.20 | 6.90 | 2.19 | 1.91 | 0.38 | 12.27 | 11.97 | 7.26 | 6.98 | 000
45385 |  | A | Lesion removal colonoscopy | 5.30 | 8.33 | 7.93 | 2.57 | 2.17 | 0.42 | 14.05 | 13.65 | 8.29 | 7.89 | 000
45386 |  | A | Colonoscopy dilate stricture | 4.57 | 12.31 | 12.38 | 2.16 | 1.88 | 0.39 | 17.27 | 17.34 | 7.12 | 6.84 | 000
45387 |  | A | Colonoscopy w/stent | 5.90 | NA | NA | 2.89 | 2.47 | 0.48 | NA | NA | 9.27 | 8.85 | 000
45391 |  | A | Colonoscopy w/endoscope us | 5.09 | NA | NA | 2.54 | 2.11 | 0.42 | NA | NA | 8.05 | 7.62 | 000
45392 |  | A | Colonoscopy w/endoscopic fnb | 6.54 | NA | NA | 3.10 | 2.64 | 0.42 | NA | NA | 10.06 | 9.60 | 000
45395 |  | A | Lap, removal of rectum | 32.71 | NA | NA | 13.06 | 13.52 | 3.62 | NA | NA | 49.39 | 49.85 | 090
45397 |  | A | Lap, remove rectum w/pouch | 36.21 | NA | NA | 13.59 | 14.09 | 3.66 | NA | NA | 53.46 | 53.96 | 090
45400 |  | A | Laparoscopic proctopexy | 19.25 | NA | NA | 7.18 | 7.67 | 2.02 | NA | NA | 28.45 | 28.94 | 090
45402 |  | A | Lap proctopexy w/sig resect | 26.32 | NA | NA | 8.87 | 9.70 | 2.81 | NA | NA | 38.00 | 38.83 | 090
45499 |  | C | Laparoscope proc, rectum | 0.00 | 0.00 | 0.00 | 0.00 | 0.00 | 0.00 | 0.00 | 0.00 | 0.00 | 0.00 | YYY
45500 |  | A | Repair of rectum | 7.58 | NA | NA | 4.35 | 3.74 | 0.75 | NA | NA | 12.68 | 12.07 | 090
45505 |  | A | Repair of rectum | 8.14 | NA | NA | 5.11 | 4.17 | 0.86 | NA | NA | 14.11 | 13.17 | 090
45520 |  | A | Treatment of rectal prolapse | 0.55 | 3.07 | 2.00 | 0.41 | 0.38 | 0.05 | 3.67 | 2.60 | 1.01 | 0.98 | 000
45540 |  | A | Correct rectal prolapse | 17.98 | NA | NA | 5.89 | 6.57 | 1.84 | NA | NA | 25.71 | 26.39 | 090
45541 |  | A | Correct rectal prolapse | 14.66 | NA | NA | 6.59 | 6.10 | 1.55 | NA | NA | 22.80 | 22.31 | 090
45550 |  | A | Repair rectum/remove sigmoid | 24.61 | NA | NA | 9.02 | 9.16 | 2.61 | NA | NA | 36.24 | 36.38 | 090
45560 |  | A | Repair of rectocele | 11.38 | NA | NA | 5.52 | 5.17 | 1.13 | NA | NA | 18.03 | 17.68 | 090
45562 |  | A | Exploration/repair of rectum | 17.74 | NA | NA | 8.17 | 7.28 | 1.83 | NA | NA | 27.74 | 26.85 | 090
45563 |  | A | Exploration/repair of rectum | 26.14 | NA | NA | 10.97 | 10.63 | 3.10 | NA | NA | 40.21 | 39.87 | 090
45800 |  | A | Repair rect/bladder fistula | 20.12 | NA | NA | 9.23 | 7.87 | 1.85 | NA | NA | 31.20 | 29.84 | 090
45805 |  | A | Repair fistula w/colostomy | 23.13 | NA | NA | 9.26 | 9.44 | 2.02 | NA | NA | 34.41 | 34.59 | 090
45820 |  | A | Repair rectourethral fistula | 20.18 | NA | NA | 9.29 | 8.04 | 1.58 | NA | NA | 31.05 | 29.80 | 090
45825 |  | A | Repair fistula w/colostomy | 23.93 | NA | NA | 10.94 | 10.09 | 2.31 | NA | NA | 37.18 | 36.33 | 090
45900 |  | A | Reduction of rectal prolapse | 2.94 | NA | NA | 1.70 | 1.55 | 0.30 | NA | NA | 4.94 | 4.79 | 010
45905 |  | A | Dilation of anal sphincter | 2.30 | NA | NA | 1.65 | 1.49 | 0.27 | NA | NA | 4.22 | 4.06 | 010
45910 |  | A | Dilation of rectal narrowing | 2.80 | NA | NA | 1.80 | 1.70 | 0.30 | NA | NA | 4.90 | 4.80 | 010
45915 |  | A | Remove rectal obstruction | 3.14 | 4.26 | 4.31 | 2.04 | 2.08 | 0.30 | 7.70 | 7.75 | 5.48 | 5.52 | 010
45990 |  | A | Surg dx exam, anorectal | 1.80 | NA | NA | 0.78 | 0.79 | 0.17 | NA | NA | 2.75 | 2.76 | 000
45999 |  | C | Rectum surgery procedure | 0.00 | 0.00 | 0.00 | 0.00 | 0.00 | 0.00 | 0.00 | 0.00 | 0.00 | 0.00 | YYY
46020 |  | A | Placement of seton | 2.90 | 3.29 | 2.57 | 2.37 | 1.98 | 0.31 | 6.50 | 5.78 | 5.58 | 5.19 | 010
46030 |  | A | Removal of rectal marker | 1.23 | 1.90 | 1.49 | 0.81 | 0.74 | 0.14 | 3.27 | 2.86 | 2.18 | 2.11 | 010
46040 |  | A | Incision of rectal abscess | 5.20 | 6.58 | 5.76 | 4.01 | 3.69 | 0.62 | 12.40 | 11.58 | 9.83 | 9.51 | 090
46045 |  | A | Incision of rectal abscess | 5.75 | NA | NA | 3.93 | 3.15 | 0.54 | NA | NA | 10.22 | 9.44 | 090
46050 |  | A | Incision of anal abscess | 1.19 | 3.21 | 2.71 | 0.98 | 0.88 | 0.14 | 4.54 | 4.04 | 2.31 | 2.21 | 010
46060 |  | A | Incision of rectal abscess | 6.18 | NA | NA | 3.99 | 3.43 | 0.67 | NA | NA | 10.84 | 10.28 | 090
46070 |  | A | Incision of anal septum | 2.71 | NA | NA | 2.35 | 1.96 | 0.36 | NA | NA | 5.42 | 5.03 | 090
46080 |  | A | Incision of anal sphincter | 2.49 | 3.09 | 2.54 | 1.13 | 1.13 | 0.30 | 5.88 | 5.33 | 3.92 | 3.92 | 010
46083 |  | A | Incise external hemorrhoid | 1.40 | 2.36 | 2.48 | 0.95 | 0.93 | 0.15 | 3.91 | 4.03 | 2.50 | 2.48 | 010
46200 |  | A | Removal of anal fissure | 3.41 | 6.32 | 4.47 | 3.74 | 3.08 | 0.39 | 10.12 | 8.27 | 7.54 | 6.88 | 090
46210 |  | A | Removal of anal crypt | 2.67 | 6.00 | 5.33 | 3.39 | 2.81 | 0.31 | 8.98 | 8.31 | 6.37 | 5.79 | 090
46211 |  | A | Removal of anal crypts | 4.24 | 7.18 | 5.85 | 4.13 | 3.66 | 0.48 | 11.90 | 10.57 | 8.85 | 8.38 | 090
46220 |  | A | Removal of anal tag | 1.56 | 3.01 | 2.47 | 1.10 | 0.99 | 0.17 | 4.74 | 4.20 | 2.83 | 2.72 | 010
46221 |  | A | Ligation of hemorrhoid(s) | 2.29 | 3.75 | 2.92 | 2.00 | 1.81 | 0.23 | 6.27 | 5.44 | 4.52 | 4.33 | 010
46230 |  | A | Removal of anal tags | 2.57 | 3.52 | 3.18 | 1.34 | 1.30 | 0.30 | 6.39 | 6.05 | 4.21 | 4.17 | 010
46250 |  | A | Hemorrhoidectomy | 4.13 | 6.02 | 5.48 | 2.86 | 2.67 | 0.48 | 10.63 | 10.09 | 7.47 | 7.28 | 090
46255 |  | A | Hemorrhoidectomy | 4.84 | 6.44 | 5.98 | 3.12 | 2.90 | 0.58 | 11.86 | 11.40 | 8.54 | 8.32 | 090
46257 |  | A | Remove hemorrhoids & fissure | 5.64 | NA | NA | 3.80 | 3.10 | 0.64 | NA | NA | 10.08 | 9.38 | 090
46258 |  | A | Remove hemorrhoids & fistula | 6.22 | NA | NA | 4.01 | 3.46 | 0.68 | NA | NA | 10.91 | 10.36 | 090
46260 |  | A | Hemorrhoidectomy | 6.61 | NA | NA | 4.06 | 3.40 | 0.76 | NA | NA | 11.43 | 10.77 | 090
46261 |  | A | Remove hemorrhoids & fissure | 7.57 | NA | NA | 4.32 | 3.78 | 0.79 | NA | NA | 12.68 | 12.14 | 090
46262 |  | A | Remove hemorrhoids & fistula | 7.74 | NA | NA | 4.68 | 3.97 | 0.83 | NA | NA | 13.25 | 12.54 | 090
46270 |  | A | Removal of anal fistula | 4.75 | 6.33 | 5.33 | 3.91 | 3.10 | 0.46 | 11.54 | 10.54 | 9.12 | 8.31 | 090
46275 |  | A | Removal of anal fistula | 5.25 | 6.66 | 5.14 | 4.00 | 3.23 | 0.52 | 12.43 | 10.91 | 9.77 | 9.00 | 090
46280 |  | A | Removal of anal fistula | 6.22 | NA | NA | 4.26 | 3.50 | 0.66 | NA | NA | 11.14 | 10.38 | 090
46285 |  | A | Removal of anal fistula | 5.25 | 6.54 | 4.46 | 3.95 | 3.04 | 0.44 | 12.23 | 10.15 | 9.64 | 8.73 | 090
46288 |  | A | Repair anal fistula | 7.62 | NA | NA | 4.67 | 3.92 | 0.79 | NA | NA | 13.08 | 12.33 | 090
46320 |  | A | Removal of hemorrhoid clot | 1.61 | 2.42 | 2.20 | 0.89 | 0.86 | 0.18 | 4.21 | 3.99 | 2.68 | 2.65 | 010
46500 |  | A | Injection into hemorrhoid(s) | 1.61 | 3.61 | 2.49 | 1.25 | 1.18 | 0.16 | 5.38 | 4.26 | 3.02 | 2.95 | 010
46505 |  | A | Chemodenervation anal musc | 3.11 | 3.30 | 3.11 | 2.31 | 2.05 | 0.14 | 6.55 | 6.36 | 5.56 | 5.30 | 010
46600 |  | A | Diagnostic anoscopy | 0.50 | 1.48 | 1.54 | 0.37 | 0.35 | 0.05 | 2.03 | 2.09 | 0.92 | 0.90 | 000
46604 |  | A | Anoscopy and dilation | 1.31 | 12.65 | 10.00 | 0.58 | 0.61 | 0.12 | 14.08 | 11.43 | 2.01 | 2.04 | 000
46606 |  | A | Anoscopy and biopsy | 0.81 | 4.02 | 3.84 | 0.48 | 0.44 | 0.09 | 4.92 | 4.74 | 1.38 | 1.34 | 000
46608 |  | A | Anoscopy, remove for body | 1.51 | 4.06 | 4.32 | 0.62 | 0.64 | 0.16 | 5.73 | 5.99 | 2.29 | 2.31 | 000
46610 |  | A | Anoscopy, remove lesion | 1.32 | 4.29 | 4.10 | 0.66 | 0.62 | 0.15 | 5.76 | 5.57 | 2.13 | 2.09 | 000
46611 |  | A | Anoscopy | 1.81 | 2.88 | 3.22 | 0.72 | 0.77 | 0.19 | 4.88 | 5.22 | 2.72 | 2.77 | 000
46612 |  | A | Anoscopy, remove lesions | 2.34 | 5.51 | 5.26 | 0.95 | 0.97 | 0.28 | 8.13 | 7.88 | 3.57 | 3.59 | 000
46614 |  | A | Anoscopy, control bleeding | 2.01 | 2.78 | 2.44 | 0.82 | 0.84 | 0.20 | 4.99 | 4.65 | 3.03 | 3.05 | 000
46615 |  | A | Anoscopy | 2.68 | 2.43 | 2.47 | 0.97 | 1.05 | 0.33 | 5.44 | 5.48 | 3.98 | 4.06 | 000
46700 |  | A | Repair of anal stricture | 9.62 | NA | NA | 4.72 | 4.33 | 0.94 | NA | NA | 15.28 | 14.89 | 090
46705 |  | A | Repair of anal stricture | 7.25 | NA | NA | 4.08 | 3.78 | 0.91 | NA | NA | 12.24 | 11.94 | 090
46706 |  | A | Repr of anal fistula w/glue | 2.39 | NA | NA | 1.45 | 1.30 | 0.28 | NA | NA | 4.12 | 3.97 | 010
46710 |  | A | Repr per/vag pouch sngl proc | 16.95 | NA | NA | 7.79 | 7.76 | 1.38 | NA | NA | 26.12 | 26.09 | 090
46712 |  | A | Repr per/vag pouch dbl proc | 36.26 | NA | NA | 14.16 | 14.82 | 3.66 | NA | NA | 54.08 | 54.74 | 090
46715 |  | A | Rep perf anoper fistu | 7.49 | NA | NA | 3.77 | 3.62 | 0.92 | NA | NA | 12.18 | 12.03 | 090
46716 |  | A | Rep perf anoper/vestib fistu | 17.04 | NA | NA | 9.66 | 8.39 | 1.58 | NA | NA | 28.28 | 27.01 | 090
46730 |  | A | Construction of absent anus | 30.05 | NA | NA | 11.66 | 11.93 | 2.46 | NA | NA | 44.17 | 44.44 | 090
46735 |  | A | Construction of absent anus | 35.54 | NA | NA | 13.36 | 13.50 | 3.20 | NA | NA | 52.10 | 52.24 | 090
46740 |  | A | Construction of absent anus | 33.30 | NA | NA | 14.66 | 13.58 | 2.41 | NA | NA | 50.37 | 49.29 | 090
46742 |  | A | Repair of imperforated anus | 39.54 | NA | NA | 16.19 | 17.08 | 3.19 | NA | NA | 58.92 | 59.81 | 090
46744 |  | A | Repair of cloacal anomaly | 58.34 | NA | NA | 21.08 | 21.10 | 6.38 | NA | NA | 85.80 | 85.82 | 090
46746 |  | A | Repair of cloacal anomaly | 64.79 | NA | NA | 19.85 | 23.82 | 7.68 | NA | NA | 92.32 | 96.29 | 090
46748 |  | A | Repair of cloacal anomaly | 70.77 | NA | NA | 21.25 | 23.04 | 3.36 | NA | NA | 95.38 | 97.17 | 090
46750 |  | A | Repair of anal sphincter | 11.96 | NA | NA | 5.81 | 5.24 | 1.10 | NA | NA | 18.87 | 18.30 | 090
46751 |  | A | Repair of anal sphincter | 9.12 | NA | NA | 4.45 | 5.17 | 0.94 | NA | NA | 14.51 | 15.23 | 090
46753 |  | A | Reconstruction of anus | 8.77 | NA | NA | 4.61 | 4.03 | 0.94 | NA | NA | 14.32 | 13.74 | 090
46754 |  | A | Removal of suture from anus | 2.82 | 3.73 | 3.63 | 2.27 | 1.82 | 0.19 | 6.74 | 6.64 | 5.28 | 4.83 | 010
46760 |  | A | Repair of anal sphincter | 17.11 | NA | NA | 8.26 | 7.38 | 1.59 | NA | NA | 26.96 | 26.08 | 090
46761 |  | A | Repair of anal sphincter | 15.10 | NA | NA | 6.45 | 6.11 | 1.43 | NA | NA | 22.98 | 22.64 | 090
46762 |  | A | Implant artificial sphincter | 14.58 | NA | NA | 6.79 | 5.83 | 1.24 | NA | NA | 22.61 | 21.65 | 090
46900 |  | A | Destruction, anal lesion(s) | 1.91 | 3.62 | 2.84 | 1.30 | 1.28 | 0.17 | 5.70 | 4.92 | 3.38 | 3.36 | 010
46910 |  | A | Destruction, anal lesion(s) | 1.86 | 3.88 | 3.15 | 1.20 | 1.10 | 0.19 | 5.93 | 5.20 | 3.25 | 3.15 | 010
46916 |  | A | Cryosurgery, anal lesion(s) | 1.86 | 3.70 | 3.29 | 1.54 | 1.43 | 0.11 | 5.67 | 5.26 | 3.51 | 3.40 | 010
46917 |  | A | Laser surgery, anal lesions | 1.86 | 8.73 | 9.02 | 1.21 | 1.14 | 0.21 | 10.80 | 11.09 | 3.28 | 3.21 | 010
46922 |  | A | Excision of anal lesion(s) | 1.86 | 4.15 | 3.49 | 1.20 | 1.10 | 0.22 | 6.23 | 5.57 | 3.28 | 3.18 | 010
46924 |  | A | Destruction, anal lesion(s) | 2.76 | 9.61 | 8.91 | 1.52 | 1.39 | 0.26 | 12.63 | 11.93 | 4.54 | 4.41 | 010
46934 |  | A | Destruction of hemorrhoids | 3.75 | 5.41 | 5.16 | 2.80 | 2.91 | 0.32 | 9.48 | 9.23 | 6.87 | 6.98 | 090
46935 |  | A | Destruction of hemorrhoids | 2.43 | 3.70 | 3.52 | 1.08 | 1.18 | 0.23 | 6.36 | 6.18 | 3.74 | 3.84 | 010
46936 |  | A | Destruction of hemorrhoids | 3.68 | 6.16 | 5.19 | 2.60 | 2.52 | 0.34 | 10.18 | 9.21 | 6.62 | 6.54 | 090
46937 |  | A | Cryotherapy of rectal lesion | 2.69 | 4.01 | 3.08 | 1.80 | 1.37 | 0.14 | 6.84 | 5.91 | 4.63 | 4.20 | 010
46938 |  | A | Cryotherapy of rectal lesion | 4.65 | 5.85 | 4.46 | 3.66 | 3.20 | 0.58 | 11.08 | 9.69 | 8.89 | 8.43 | 090
46940 |  | A | Treatment of anal fissure | 2.32 | 2.85 | 2.21 | 1.04 | 1.08 | 0.23 | 5.40 | 4.76 | 3.59 | 3.63 | 010
46942 |  | A | Treatment of anal fissure | 2.04 | 2.80 | 2.07 | 0.95 | 1.00 | 0.19 | 5.03 | 4.30 | 3.18 | 3.23 | 010
46945 |  | A | Ligation of hemorrhoids | 2.09 | 4.83 | 3.65 | 3.00 | 2.60 | 0.19 | 7.11 | 5.93 | 5.28 | 4.88 | 090
46946 |  | A | Ligation of hemorrhoids | 2.58 | 4.65 | 3.95 | 2.66 | 2.46 | 0.27 | 7.50 | 6.80 | 5.51 | 5.31 | 090
46947 |  | A | Hemorrhoidopexy by stapling | 5.45 | NA | NA | 3.12 | 2.81 | 0.75 | NA | NA | 9.32 | 9.01 | 090
46999 |  | C | Anus surgery procedure | 0.00 | 0.00 | 0.00 | 0.00 | 0.00 | 0.00 | 0.00 | 0.00 | 0.00 | 0.00 | YYY
47000 |  | A | Needle biopsy of liver | 1.90 | 7.68 | 4.22 | 0.63 | 0.63 | 0.12 | 9.70 | 6.24 | 2.65 | 2.65 | 000
47001 |  | A | Needle biopsy, liver add-on | 1.90 | NA | NA | 0.49 | 0.61 | 0.25 | NA | NA | 2.64 | 2.76 | ZZZ
47010 |  | A | Open drainage, liver lesion | 19.21 | NA | NA | 8.34 | 8.38 | 1.80 | NA | NA | 29.35 | 29.39 | 090
47011 |  | A | Percut drain, liver lesion | 3.69 | NA | NA | 1.18 | 1.20 | 0.22 | NA | NA | 5.09 | 5.11 | 000
47015 |  | A | Inject/aspirate liver cyst | 18.31 | NA | NA | 7.92 | 7.59 | 1.83 | NA | NA | 28.06 | 27.73 | 090
47100 |  | A | Wedge biopsy of liver | 12.72 | NA | NA | 6.39 | 6.12 | 1.53 | NA | NA | 20.64 | 20.37 | 090
47120 |  | A | Partial removal of liver | 38.74 | NA | NA | 14.23 | 14.91 | 4.65 | NA | NA | 57.62 | 58.30 | 090
47122 |  | A | Extensive removal of liver | 59.29 | NA | NA | 19.03 | 20.84 | 7.19 | NA | NA | 85.51 | 87.32 | 090
47125 |  | A | Partial removal of liver | 52.85 | NA | NA | 17.27 | 18.94 | 6.45 | NA | NA | 76.57 | 78.24 | 090
47130 |  | A | Partial removal of liver | 57.00 | NA | NA | 18.28 | 20.29 | 6.94 | NA | NA | 82.22 | 84.23 | 090
47135 |  | R | Transplantation of liver | 83.15 | NA | NA | 28.01 | 30.63 | 9.93 | NA | NA | 121.09 | 123.71 | 090
47136 |  | R | Transplantation of liver | 70.25 | NA | NA | 23.80 | 26.21 | 8.41 | NA | NA | 102.46 | 104.87 | 090
47140 |  | A | Partial removal, donor liver | 59.14 | NA | NA | 21.89 | 22.18 | 5.17 | NA | NA | 86.20 | 86.49 | 090
47141 |  | A | Partial removal, donor liver | 71.17 | NA | NA | 25.67 | 26.59 | 5.17 | NA | NA | 102.01 | 102.93 | 090
47142 |  | A | Partial removal, donor liver | 79.11 | NA | NA | 27.72 | 29.03 | 5.17 | NA | NA | 112.00 | 113.31 | 090
47143 |  | C | Prep donor liver, whole | 0.00 | 0.00 | 0.00 | 0.00 | 0.00 | 0.00 | 0.00 | 0.00 | 0.00 | 0.00 | XXX
47144 |  | C | Prep donor liver, 3-segment | 0.00 | 0.00 | 0.00 | 0.00 | 0.00 | 0.00 | 0.00 | 0.00 | 0.00 | 0.00 | 090
47145 |  | C | Prep donor liver, lobe split | 0.00 | 0.00 | 0.00 | 0.00 | 0.00 | 0.00 | 0.00 | 0.00 | 0.00 | 0.00 | 090
47146 |  | A | Prep donor liver/venous | 6.00 | NA | NA | 1.54 | 1.92 | 0.83 | NA | NA | 8.37 | 8.75 | XXX
47147 |  | A | Prep donor liver/arterial | 7.00 | NA | NA | 1.80 | 2.24 | 0.97 | NA | NA | 9.77 | 10.21 | XXX
47300 |  | A | Surgery for liver lesion | 17.95 | NA | NA | 7.71 | 7.34 | 1.98 | NA | NA | 27.64 | 27.27 | 090
47350 |  | A | Repair liver wound | 22.30 | NA | NA | 8.95 | 8.88 | 2.58 | NA | NA | 33.83 | 33.76 | 090
47360 |  | A | Repair liver wound | 31.12 | NA | NA | 11.51 | 11.56 | 3.37 | NA | NA | 46.00 | 46.05 | 090
47361 |  | A | Repair liver wound | 52.41 | NA | NA | 16.93 | 18.12 | 5.85 | NA | NA | 75.19 | 76.38 | 090
47362 |  | A | Repair liver wound | 23.35 | NA | NA | 9.35 | 8.87 | 2.50 | NA | NA | 35.20 | 34.72 | 090
47370 |  | A | Laparo ablate liver tumor rf | 20.61 | NA | NA | 7.75 | 8.04 | 2.55 | NA | NA | 30.91 | 31.20 | 090
47371 |  | A | Laparo ablate liver cryosurg | 20.61 | NA | NA | 8.16 | 8.15 | 2.60 | NA | NA | 31.37 | 31.36 | 090
47379 |  | C | Laparoscope procedure, liver | 0.00 | 0.00 | 0.00 | 0.00 | 0.00 | 0.00 | 0.00 | 0.00 | 0.00 | 0.00 | YYY
47380 |  | A | Open ablate liver tumor rf | 24.37 | NA | NA | 8.69 | 9.19 | 2.86 | NA | NA | 35.92 | 36.42 | 090
47381 |  | A | Open ablate liver tumor cryo | 24.64 | NA | NA | 9.23 | 9.49 | 2.84 | NA | NA | 36.71 | 36.97 | 090
47382 |  | A | Percut ablate liver rf | 15.17 | NA | NA | 5.68 | 5.97 | 0.96 | NA | NA | 21.81 | 22.10 | 010
47399 |  | C | Liver surgery procedure | 0.00 | 0.00 | 0.00 | 0.00 | 0.00 | 0.00 | 0.00 | 0.00 | 0.00 | 0.00 | YYY
47400 |  | A | Incision of liver duct | 36.17 | NA | NA | 13.24 | 13.38 | 3.07 | NA | NA | 52.48 | 52.62 | 090
47420 |  | A | Incision of bile duct | 21.86 | NA | NA | 8.69 | 8.74 | 2.62 | NA | NA | 33.17 | 33.22 | 090
47425 |  | A | Incision of bile duct | 22.14 | NA | NA | 8.70 | 8.78 | 2.61 | NA | NA | 33.45 | 33.53 | 090
47460 |  | A | Incise bile duct sphincter | 20.35 | NA | NA | 9.06 | 8.54 | 2.20 | NA | NA | 31.61 | 31.09 | 090
47480 |  | A | Incision of gallbladder | 13.06 | NA | NA | 6.72 | 6.11 | 1.42 | NA | NA | 21.20 | 20.59 | 090
47490 |  | A | Incision of gallbladder | 8.00 | NA | NA | 5.02 | 5.43 | 0.43 | NA | NA | 13.45 | 13.86 | 090
47500 |  | A | Injection for liver x-rays | 1.96 | NA | NA | 0.64 | 0.64 | 0.12 | NA | NA | 2.72 | 2.72 | 000
47505 |  | A | Injection for liver x-rays | 0.76 | NA | NA | 0.25 | 0.25 | 0.04 | NA | NA | 1.05 | 1.05 | 000
47510 |  | A | Insert catheter, bile duct | 7.88 | NA | NA | 4.35 | 4.85 | 0.46 | NA | NA | 12.69 | 13.19 | 090
47511 |  | A | Insert bile duct drain | 10.72 | NA | NA | 4.67 | 4.98 | 0.62 | NA | NA | 16.01 | 16.32 | 090
47525 |  | A | Change bile duct catheter | 5.54 | 14.92 | 15.05 | 2.51 | 2.73 | 0.33 | 20.79 | 20.92 | 8.38 | 8.60 | 010
47530 |  | A | Revise/reinsert bile tube | 5.90 | 30.79 | 33.03 | 3.26 | 3.60 | 0.37 | 37.06 | 39.30 | 9.53 | 9.87 | 090
47550 |  | A | Bile duct endoscopy add-on | 3.02 | NA | NA | 0.79 | 0.96 | 0.40 | NA | NA | 4.21 | 4.38 | ZZZ
47552 |  | A | Biliary endoscopy thru skin | 6.03 | NA | NA | 2.32 | 2.36 | 0.42 | NA | NA | 8.77 | 8.81 | 000
47553 |  | A | Biliary endoscopy thru skin | 6.34 | NA | NA | 2.05 | 2.06 | 0.37 | NA | NA | 8.76 | 8.77 | 000
47554 |  | A | Biliary endoscopy thru skin | 9.05 | NA | NA | 3.12 | 3.29 | 0.96 | NA | NA | 13.13 | 13.30 | 000
47555 |  | A | Biliary endoscopy thru skin | 7.55 | NA | NA | 2.50 | 2.47 | 0.45 | NA | NA | 10.50 | 10.47 | 000
47556 |  | A | Biliary endoscopy thru skin | 8.55 | NA | NA | 2.77 | 2.78 | 0.50 | NA | NA | 11.82 | 11.83 | 000
47560 |  | A | Laparoscopy w/cholangio | 4.88 | NA | NA | 1.26 | 1.57 | 0.65 | NA | NA | 6.79 | 7.10 | 000
47561 |  | A | Laparo w/cholangio/biopsy | 5.17 | NA | NA | 1.57 | 1.83 | 0.66 | NA | NA | 7.40 | 7.66 | 000
47562 |  | A | Laparoscopic cholecystectomy | 11.57 | NA | NA | 5.32 | 5.07 | 1.46 | NA | NA | 18.35 | 18.10 | 090
47563 |  | A | Laparo cholecystectomy/graph | 11.98 | NA | NA | 5.13 | 5.25 | 1.58 | NA | NA | 18.69 | 18.81 | 090
47564 |  | A | Laparo cholecystectomy/explr | 14.21 | NA | NA | 5.50 | 5.83 | 1.88 | NA | NA | 21.59 | 21.92 | 090
47570 |  | A | Laparo cholecystoenterostomy | 12.56 | NA | NA | 5.10 | 5.30 | 1.65 | NA | NA | 19.31 | 19.51 | 090
47579 |  | C | Laparoscope proc, biliary | 0.00 | 0.00 | 0.00 | 0.00 | 0.00 | 0.00 | 0.00 | 0.00 | 0.00 | 0.00 | YYY
47600 |  | A | Removal of gallbladder | 15.44 | NA | NA | 6.82 | 6.30 | 1.79 | NA | NA | 24.05 | 23.53 | 090
47605 |  | A | Removal of gallbladder | 15.86 | NA | NA | 6.46 | 6.48 | 1.94 | NA | NA | 24.26 | 24.28 | 090
47610 |  | A | Removal of gallbladder | 20.80 | NA | NA | 7.78 | 7.89 | 2.48 | NA | NA | 31.06 | 31.17 | 090
47612 |  | A | Removal of gallbladder | 21.09 | NA | NA | 7.78 | 7.85 | 2.47 | NA | NA | 31.34 | 31.41 | 090
47620 |  | A | Removal of gallbladder | 22.95 | NA | NA | 8.29 | 8.46 | 2.73 | NA | NA | 33.97 | 34.14 | 090
47630 |  | A | Remove bile duct stone | 9.52 | NA | NA | 4.55 | 4.80 | 0.65 | NA | NA | 14.72 | 14.97 | 090
47700 |  | A | Exploration of bile ducts | 16.32 | NA | NA | 7.33 | 7.38 | 2.06 | NA | NA | 25.71 | 25.76 | 090
47701 |  | A | Bile duct revision | 28.55 | NA | NA | 10.18 | 11.15 | 3.67 | NA | NA | 42.40 | 43.37 | 090
47711 |  | A | Excision of bile duct tumor | 25.71 | NA | NA | 9.68 | 9.85 | 3.04 | NA | NA | 38.43 | 38.60 | 090
47712 |  | A | Excision of bile duct tumor | 33.53 | NA | NA | 11.69 | 12.22 | 3.92 | NA | NA | 49.14 | 49.67 | 090
47715 |  | A | Excision of bile duct cyst | 21.36 | NA | NA | 8.64 | 8.48 | 2.48 | NA | NA | 32.48 | 32.32 | 090
47716 |  | A | Fusion of bile duct cyst | 19.01 | NA | NA | 7.99 | 7.86 | 2.14 | NA | NA | 29.14 | 29.01 | 090
47720 |  | A | Fuse gallbladder & bowel | 18.15 | NA | NA | 7.80 | 7.55 | 2.10 | NA | NA | 28.05 | 27.80 | 090
47721 |  | A | Fuse upper gi structures | 21.80 | NA | NA | 8.69 | 8.59 | 2.52 | NA | NA | 33.01 | 32.91 | 090
47740 |  | A | Fuse gallbladder & bowel | 21.04 | NA | NA | 8.56 | 8.41 | 2.41 | NA | NA | 32.01 | 31.86 | 090
47741 |  | A | Fuse gallbladder & bowel | 24.02 | NA | NA | 9.33 | 9.29 | 2.82 | NA | NA | 36.17 | 36.13 | 090
47760 |  | A | Fuse bile ducts and bowel | 38.08 | NA | NA | 13.24 | 11.43 | 3.41 | NA | NA | 54.73 | 52.92 | 090
47765 |  | A | Fuse liver ducts & bowel | 51.95 | NA | NA | 17.09 | 12.36 | 3.29 | NA | NA | 72.33 | 67.60 | 090
47780 |  | A | Fuse bile ducts and bowel | 42.08 | NA | NA | 14.27 | 11.96 | 3.49 | NA | NA | 59.84 | 57.53 | 090
47785 |  | A | Fuse bile ducts and bowel | 55.95 | NA | NA | 18.09 | 14.19 | 4.09 | NA | NA | 78.13 | 74.23 | 090
47800 |  | A | Reconstruction of bile ducts | 25.98 | NA | NA | 9.84 | 9.99 | 3.07 | NA | NA | 38.89 | 39.04 | 090
47801 |  | A | Placement, bile duct support | 17.41 | NA | NA | 8.19 | 8.15 | 1.16 | NA | NA | 26.76 | 26.72 | 090
47802 |  | A | Fuse liver duct & intestine | 24.74 | NA | NA | 9.64 | 9.65 | 2.85 | NA | NA | 37.23 | 37.24 | 090
47900 |  | A | Suture bile duct injury | 22.25 | NA | NA | 8.82 | 8.84 | 2.64 | NA | NA | 33.71 | 33.73 | 090
47999 |  | C | Bile tract surgery procedure | 0.00 | 0.00 | 0.00 | 0.00 | 0.00 | 0.00 | 0.00 | 0.00 | 0.00 | 0.00 | YYY
48000 |  | A | Drainage of abdomen | 31.76 | NA | NA | 11.07 | 11.39 | 3.47 | NA | NA | 46.30 | 46.62 | 090
48001 |  | A | Placement of drain, pancreas | 39.50 | NA | NA | 12.81 | 13.60 | 4.68 | NA | NA | 56.99 | 57.78 | 090
48005 |  | A | Resect/debride pancreas | 48.97 | NA | NA | 16.10 | 16.43 | 5.54 | NA | NA | 70.61 | 70.94 | 090
48020 |  | A | Removal of pancreatic stone | 18.90 | NA | NA | 7.68 | 7.39 | 2.12 | NA | NA | 28.70 | 28.41 | 090
48100 |  | A | Biopsy of pancreas, open | 14.34 | NA | NA | 5.96 | 5.68 | 1.62 | NA | NA | 21.92 | 21.64 | 090
48102 |  | A | Needle biopsy, pancreas | 4.67 | 9.57 | 8.36 | 1.74 | 1.89 | 0.28 | 14.52 | 13.31 | 6.69 | 6.84 | 010
48120 |  | A | Removal of pancreas lesion | 18.29 | NA | NA | 6.98 | 6.88 | 2.09 | NA | NA | 27.36 | 27.26 | 090
48140 |  | A | Partial removal of pancreas | 26.13 | NA | NA | 9.48 | 9.51 | 3.02 | NA | NA | 38.63 | 38.66 | 090
48145 |  | A | Partial removal of pancreas | 27.20 | NA | NA | 9.83 | 9.82 | 3.17 | NA | NA | 40.20 | 40.19 | 090
48146 |  | A | Pancreatectomy | 30.34 | NA | NA | 12.02 | 11.98 | 3.49 | NA | NA | 45.85 | 45.81 | 090
48148 |  | A | Removal of pancreatic duct | 20.20 | NA | NA | 8.14 | 7.73 | 2.29 | NA | NA | 30.63 | 30.22 | 090
48150 |  | A | Partial removal of pancreas | 52.55 | NA | NA | 18.29 | 19.18 | 6.30 | NA | NA | 77.14 | 78.03 | 090
48152 |  | A | Pancreatectomy | 48.39 | NA | NA | 16.84 | 17.85 | 5.78 | NA | NA | 71.01 | 72.02 | 090
48153 |  | A | Pancreatectomy | 52.53 | NA | NA | 18.15 | 19.18 | 6.29 | NA | NA | 76.97 | 78.00 | 090
48154 |  | A | Pancreatectomy | 48.62 | NA | NA | 17.15 | 17.95 | 5.82 | NA | NA | 71.59 | 72.39 | 090
48155 |  | A | Removal of pancreas | 29.19 | NA | NA | 12.09 | 11.76 | 3.26 | NA | NA | 44.54 | 44.21 | 090
48180 |  | A | Fuse pancreas and bowel | 27.90 | NA | NA | 10.01 | 10.11 | 3.27 | NA | NA | 41.18 | 41.28 | 090
48400 |  | A | Injection, intraop add-on | 1.95 | NA | NA | 0.84 | 0.69 | 0.15 | NA | NA | 2.94 | 2.79 | ZZZ
48500 |  | A | Surgery of pancreatic cyst | 17.97 | NA | NA | 8.12 | 7.52 | 2.02 | NA | NA | 28.11 | 27.51 | 090
48510 |  | A | Drain pancreatic pseudocyst | 17.00 | NA | NA | 7.64 | 7.48 | 1.82 | NA | NA | 26.46 | 26.30 | 090
48511 |  | A | Drain pancreatic pseudocyst | 3.99 | 20.24 | 20.73 | 1.27 | 1.30 | 0.24 | 24.47 | 24.96 | 5.50 | 5.53 | 000
48520 |  | A | Fuse pancreas cyst and bowel | 18.03 | NA | NA | 6.85 | 6.73 | 2.05 | NA | NA | 26.93 | 26.81 | 090
48540 |  | A | Fuse pancreas cyst and bowel | 21.82 | NA | NA | 7.81 | 8.03 | 2.60 | NA | NA | 32.23 | 32.45 | 090
48545 |  | A | Pancreatorrhaphy | 22.04 | NA | NA | 8.16 | 8.02 | 2.37 | NA | NA | 32.57 | 32.43 | 090
48547 |  | A | Duodenal exclusion | 30.19 | NA | NA | 10.36 | 10.44 | 3.41 | NA | NA | 43.96 | 44.04 | 090
48551 |  | C | Prep donor pancreas | 0.00 | 0.00 | 0.00 | 0.00 | 0.00 | 0.00 | 0.00 | 0.00 | 0.00 | 0.00 | XXX
48552 |  | A | Prep donor pancreas/venous | 4.30 | NA | NA | 1.14 | 1.38 | 0.31 | NA | NA | 5.75 | 5.99 | XXX
48554 |  | R | Transpl allograft pancreas | 36.77 | NA | NA | 20.69 | 18.86 | 4.18 | NA | NA | 61.64 | 59.81 | 090
48556 |  | A | Removal, allograft pancreas | 19.16 | NA | NA | 9.48 | 8.42 | 2.07 | NA | NA | 30.71 | 29.65 | 090
48999 |  | C | Pancreas surgery procedure | 0.00 | 0.00 | 0.00 | 0.00 | 0.00 | 0.00 | 0.00 | 0.00 | 0.00 | 0.00 | YYY
49000 |  | A | Exploration of abdomen | 12.40 | NA | NA | 5.25 | 5.34 | 1.52 | NA | NA | 19.17 | 19.26 | 090
49002 |  | A | Reopening of abdomen | 17.51 | NA | NA | 6.47 | 5.38 | 1.37 | NA | NA | 25.35 | 24.26 | 090
49010 |  | A | Exploration behind abdomen | 15.94 | NA | NA | 6.36 | 6.01 | 1.51 | NA | NA | 23.81 | 23.46 | 090
49020 |  | A | Drain abdominal abscess | 26.38 | NA | NA | 9.95 | 10.12 | 2.84 | NA | NA | 39.17 | 39.34 | 090
49021 |  | A | Drain abdominal abscess | 3.37 | 19.73 | 20.72 | 1.08 | 1.10 | 0.20 | 23.30 | 24.29 | 4.65 | 4.67 | 000
49040 |  | A | Drain, open, abdom abscess | 16.35 | NA | NA | 6.57 | 6.45 | 1.69 | NA | NA | 24.61 | 24.49 | 090
49041 |  | A | Drain, percut, abdom abscess | 3.99 | 19.97 | 19.63 | 1.28 | 1.30 | 0.24 | 24.20 | 23.86 | 5.51 | 5.53 | 000
49060 |  | A | Drain, open, retrop abscess | 18.36 | NA | NA | 7.30 | 7.39 | 1.74 | NA | NA | 27.40 | 27.49 | 090
49061 |  | A | Drain, percut, retroper absc | 3.69 | 19.83 | 19.67 | 1.18 | 1.20 | 0.22 | 23.74 | 23.58 | 5.09 | 5.11 | 000
49062 |  | A | Drain to peritoneal cavity | 12.08 | NA | NA | 5.26 | 5.38 | 1.39 | NA | NA | 18.73 | 18.85 | 090
49080 |  | A | Puncture, peritoneal cavity | 1.35 | 2.72 | 3.67 | 0.44 | 0.46 | 0.08 | 4.15 | 5.10 | 1.87 | 1.89 | 000
49081 |  | A | Removal of abdominal fluid | 1.26 | 2.93 | 2.67 | 0.44 | 0.43 | 0.09 | 4.28 | 4.02 | 1.79 | 1.78 | 000
49085 |  | A | Remove abdomen foreign body | 13.97 | NA | NA | 5.61 | 5.52 | 1.62 | NA | NA | 21.20 | 21.11 | 090
49180 |  | A | Biopsy, abdominal mass | 1.73 | 2.43 | 2.93 | 0.55 | 0.57 | 0.10 | 4.26 | 4.76 | 2.38 | 2.40 | 000
49200 |  | A | Removal of abdominal lesion | 10.89 | NA | NA | 4.90 | 4.99 | 1.24 | NA | NA | 17.03 | 17.12 | 090
49201 |  | A | Remove abdom lesion, complex | 15.60 | NA | NA | 6.48 | 6.89 | 1.87 | NA | NA | 23.95 | 24.36 | 090
49215 |  | A | Excise sacral spine tumor | 37.60 | NA | NA | 12.80 | 13.73 | 4.37 | NA | NA | 54.77 | 55.70 | 090
49220 |  | A | Multiple surgery, abdomen | 15.64 | NA | NA | 6.30 | 6.54 | 1.88 | NA | NA | 23.82 | 24.06 | 090
49250 |  | A | Excision of umbilicus | 8.88 | NA | NA | 4.32 | 4.28 | 1.08 | NA | NA | 14.28 | 14.24 | 090
49255 |  | A | Removal of omentum | 12.35 | NA | NA | 5.68 | 5.62 | 1.43 | NA | NA | 19.46 | 19.40 | 090
49320 |  | A | Diag laparo separate proc | 5.34 | NA | NA | 2.54 | 2.61 | 0.65 | NA | NA | 8.53 | 8.60 | 010
49321 |  | A | Laparoscopy, biopsy | 5.39 | NA | NA | 2.59 | 2.63 | 0.70 | NA | NA | 8.68 | 8.72 | 010
49322 |  | A | Laparoscopy, aspiration | 5.94 | NA | NA | 2.66 | 2.91 | 0.71 | NA | NA | 9.31 | 9.56 | 010
49323 |  | A | Laparo drain lymphocele | 10.09 | NA | NA | 4.72 | 4.55 | 1.20 | NA | NA | 16.01 | 15.84 | 090
49329 |  | C | Laparo proc, abdm/per/oment | 0.00 | 0.00 | 0.00 | 0.00 | 0.00 | 0.00 | 0.00 | 0.00 | 0.00 | 0.00 | YYY
49400 |  | A | Air injection into abdomen | 1.88 | 2.44 | 2.91 | 0.57 | 0.61 | 0.15 | 4.47 | 4.94 | 2.60 | 2.64 | 000
49419 |  | A | Insrt abdom cath for chemotx | 7.01 | NA | NA | 3.49 | 3.54 | 0.81 | NA | NA | 11.31 | 11.36 | 090
49420 |  | A | Insert abdom drain, temp | 2.22 | NA | NA | 1.16 | 1.11 | 0.21 | NA | NA | 3.59 | 3.54 | 000
49421 |  | A | Insert abdom drain, perm | 5.83 | NA | NA | 3.16 | 3.15 | 0.74 | NA | NA | 9.73 | 9.72 | 090
49422 |  | A | Remove perm cannula/catheter | 6.24 | NA | NA | 2.64 | 2.83 | 0.83 | NA | NA | 9.71 | 9.90 | 010
49423 |  | A | Exchange drainage catheter | 1.46 | 13.26 | 13.87 | 0.51 | 0.52 | 0.09 | 14.81 | 15.42 | 2.06 | 2.07 | 000
49424 |  | A | Assess cyst, contrast inject | 0.76 | 3.09 | 3.56 | 0.28 | 0.29 | 0.04 | 3.89 | 4.36 | 1.08 | 1.09 | 000
49425 |  | A | Insert abdomen-venous drain | 12.07 | NA | NA | 5.32 | 5.52 | 1.54 | NA | NA | 18.93 | 19.13 | 090
49426 |  | A | Revise abdomen-venous shunt | 10.28 | NA | NA | 4.55 | 4.71 | 1.28 | NA | NA | 16.11 | 16.27 | 090
49427 |  | A | Injection, abdominal shunt | 0.89 | NA | NA | 0.28 | 0.30 | 0.07 | NA | NA | 1.24 | 1.26 | 000
49428 |  | A | Ligation of shunt | 6.75 | NA | NA | 3.08 | 3.71 | 0.80 | NA | NA | 10.63 | 11.26 | 010
49429 |  | A | Removal of shunt | 7.39 | NA | NA | 3.01 | 3.32 | 1.02 | NA | NA | 11.42 | 11.73 | 010
49491 |  | A | Rpr hern preemie reduc | 12.36 | NA | NA | 5.47 | 5.16 | 1.40 | NA | NA | 19.23 | 18.92 | 090
49492 |  | A | Rpr ing hern premie, blocked | 15.26 | NA | NA | 5.86 | 6.04 | 1.80 | NA | NA | 22.92 | 23.10 | 090
49495 |  | A | Rpr ing hernia baby, reduc | 6.13 | NA | NA | 3.00 | 2.96 | 0.74 | NA | NA | 9.87 | 9.83 | 090
49496 |  | A | Rpr ing hernia baby, blocked | 9.28 | NA | NA | 4.39 | 4.30 | 1.07 | NA | NA | 14.74 | 14.65 | 090
49500 |  | A | Rpr ing hernia, init, reduce | 5.72 | NA | NA | 3.62 | 3.24 | 0.71 | NA | NA | 10.05 | 9.67 | 090
49501 |  | A | Rpr ing hernia, init blocked | 9.24 | NA | NA | 4.28 | 4.22 | 1.12 | NA | NA | 14.64 | 14.58 | 090
49505 |  | A | Prp i/hern init reduc >5 yr | 7.84 | NA | NA | 3.92 | 3.79 | 1.03 | NA | NA | 12.79 | 12.66 | 090
49507 |  | A | Prp i/hern init block >5 yr | 9.93 | NA | NA | 4.50 | 4.46 | 1.27 | NA | NA | 15.70 | 15.66 | 090
49520 |  | A | Rerepair ing hernia, reduce | 9.87 | NA | NA | 4.42 | 4.43 | 1.28 | NA | NA | 15.57 | 15.58 | 090
49521 |  | A | Rerepair ing hernia, blocked | 12.32 | NA | NA | 5.04 | 5.18 | 1.59 | NA | NA | 18.95 | 19.09 | 090
49525 |  | A | Repair ing hernia, sliding | 8.81 | NA | NA | 4.17 | 4.10 | 1.13 | NA | NA | 14.11 | 14.04 | 090
49540 |  | A | Repair lumbar hernia | 10.62 | NA | NA | 4.67 | 4.72 | 1.37 | NA | NA | 16.66 | 16.71 | 090
49550 |  | A | Rpr rem hernia, init, reduce | 8.87 | NA | NA | 4.15 | 4.13 | 1.14 | NA | NA | 14.16 | 14.14 | 090
49553 |  | A | Rpr fem hernia, init blocked | 9.80 | NA | NA | 4.45 | 4.42 | 1.24 | NA | NA | 15.49 | 15.46 | 090
49555 |  | A | Rerepair fem hernia, reduce | 9.27 | NA | NA | 4.26 | 4.26 | 1.20 | NA | NA | 14.73 | 14.73 | 090
49557 |  | A | Rerepair fem hernia, blocked | 11.50 | NA | NA | 4.90 | 4.96 | 1.47 | NA | NA | 17.87 | 17.93 | 090
49560 |  | A | Rpr ventral hern init, reduc | 11.80 | NA | NA | 4.93 | 5.09 | 1.52 | NA | NA | 18.25 | 18.41 | 090
49561 |  | A | Rpr ventral hern init, block | 15.26 | NA | NA | 5.86 | 6.00 | 1.88 | NA | NA | 23.00 | 23.14 | 090
49565 |  | A | Rerepair ventrl hern, reduce | 12.25 | NA | NA | 5.17 | 5.20 | 1.52 | NA | NA | 18.94 | 18.97 | 090
49566 |  | A | Rerepair ventrl hern, block | 15.41 | NA | NA | 5.92 | 6.07 | 1.90 | NA | NA | 23.23 | 23.38 | 090
49568 |  | A | Hernia repair w/mesh | 4.88 | NA | NA | 1.26 | 1.57 | 0.64 | NA | NA | 6.78 | 7.09 | ZZZ
49570 |  | A | Rpr epigastric hern, reduce | 5.93 | NA | NA | 3.36 | 3.21 | 0.75 | NA | NA | 10.04 | 9.89 | 090
49572 |  | A | Rpr epigastric hern, blocked | 7.75 | NA | NA | 3.87 | 3.56 | 0.88 | NA | NA | 12.50 | 12.19 | 090
49580 |  | A | Rpr umbil hern, reduc < 5 yr | 4.35 | NA | NA | 3.03 | 2.70 | 0.54 | NA | NA | 7.92 | 7.59 | 090
49582 |  | A | Rpr umbil hern, block < 5 yr | 7.01 | NA | NA | 3.64 | 3.51 | 0.88 | NA | NA | 11.53 | 11.40 | 090
49585 |  | A | Rpr umbil hern, reduc > 5 yr | 6.47 | NA | NA | 3.54 | 3.35 | 0.82 | NA | NA | 10.83 | 10.64 | 090
49587 |  | A | Rpr umbil hern, block > 5 yr | 7.92 | NA | NA | 3.90 | 3.77 | 0.99 | NA | NA | 12.81 | 12.68 | 090
49590 |  | A | Repair spigelian hernia | 8.78 | NA | NA | 4.14 | 4.10 | 1.13 | NA | NA | 14.05 | 14.01 | 090
49600 |  | A | Repair umbilical lesion | 11.42 | NA | NA | 5.20 | 5.29 | 1.32 | NA | NA | 17.94 | 18.03 | 090
49605 |  | A | Repair umbilical lesion | 86.79 | NA | NA | 26.58 | 28.02 | 9.36 | NA | NA | 122.73 | 124.17 | 090
49606 |  | A | Repair umbilical lesion | 18.87 | NA | NA | 6.66 | 7.43 | 2.45 | NA | NA | 27.98 | 28.75 | 090
49610 |  | A | Repair umbilical lesion | 10.78 | NA | NA | 4.73 | 5.08 | 1.07 | NA | NA | 16.58 | 16.93 | 090
49611 |  | A | Repair umbilical lesion | 9.21 | NA | NA | 3.66 | 6.14 | 0.78 | NA | NA | 13.65 | 16.13 | 090
49650 |  | A | Laparo hernia repair initial | 6.26 | NA | NA | 3.37 | 3.24 | 0.93 | NA | NA | 10.56 | 10.43 | 090
49651 |  | A | Laparo hernia repair recur | 8.23 | NA | NA | 4.26 | 4.10 | 1.14 | NA | NA | 13.63 | 13.47 | 090
49659 |  | C | Laparo proc, hernia repair | 0.00 | 0.00 | 0.00 | 0.00 | 0.00 | 0.00 | 0.00 | 0.00 | 0.00 | 0.00 | YYY
49900 |  | A | Repair of abdominal wall | 12.26 | NA | NA | 6.35 | 6.25 | 1.62 | NA | NA | 20.23 | 20.13 | 090
49904 |  | A | Omental flap, extra-abdom | 22.06 | NA | NA | 12.17 | 14.45 | 2.69 | NA | NA | 36.92 | 39.20 | 090
49905 |  | A | Omental flap, intra-abdom | 6.54 | NA | NA | 1.74 | 2.15 | 0.75 | NA | NA | 9.03 | 9.44 | ZZZ
49906 |  | C | Free omental flap, microvasc | 0.00 | 0.00 | 0.00 | 0.00 | 0.00 | 0.00 | 0.00 | 0.00 | 0.00 | 0.00 | 090
49999 |  | C | Abdomen surgery procedure | 0.00 | 0.00 | 0.00 | 0.00 | 0.00 | 0.00 | 0.00 | 0.00 | 0.00 | 0.00 | YYY
50010 |  | A | Exploration of kidney | 12.07 | NA | NA | 6.90 | 5.63 | 0.93 | NA | NA | 19.90 | 18.63 | 090
50020 |  | A | Renal abscess, open drain | 17.80 | NA | NA | 8.63 | 7.96 | 1.34 | NA | NA | 27.77 | 27.10 | 090
50021 |  | A | Renal abscess, percut drain | 3.37 | 21.26 | 21.55 | 1.09 | 1.10 | 0.20 | 24.83 | 25.12 | 4.66 | 4.67 | 000
50040 |  | A | Drainage of kidney | 16.40 | NA | NA | 8.91 | 7.33 | 1.03 | NA | NA | 26.34 | 24.76 | 090
50045 |  | A | Exploration of kidney | 16.61 | NA | NA | 8.55 | 7.08 | 1.24 | NA | NA | 26.40 | 24.93 | 090
50060 |  | A | Removal of kidney stone | 20.74 | NA | NA | 11.10 | 8.64 | 1.36 | NA | NA | 33.20 | 30.74 | 090
50065 |  | A | Incision of kidney | 22.11 | NA | NA | 11.69 | 7.48 | 1.59 | NA | NA | 35.39 | 31.18 | 090
50070 |  | A | Incision of kidney | 21.64 | NA | NA | 11.49 | 9.03 | 1.44 | NA | NA | 34.57 | 32.11 | 090
50075 |  | A | Removal of kidney stone | 26.84 | NA | NA | 13.79 | 10.87 | 1.80 | NA | NA | 42.43 | 39.51 | 090
50080 |  | A | Removal of kidney stone | 15.56 | NA | NA | 8.64 | 6.86 | 1.04 | NA | NA | 25.24 | 23.46 | 090
50081 |  | A | Removal of kidney stone | 23.25 | NA | NA | 12.32 | 9.64 | 1.54 | NA | NA | 37.11 | 34.43 | 090
50100 |  | A | Revise kidney blood vessels | 17.24 | NA | NA | 7.34 | 7.67 | 2.06 | NA | NA | 26.64 | 26.97 | 090
50120 |  | A | Exploration of kidney | 17.00 | NA | NA | 8.80 | 7.27 | 1.21 | NA | NA | 27.01 | 25.48 | 090
50125 |  | A | Explore and drain kidney | 17.61 | NA | NA | 9.85 | 7.68 | 1.43 | NA | NA | 28.89 | 26.72 | 090
50130 |  | A | Removal of kidney stone | 18.61 | NA | NA | 10.12 | 7.90 | 1.22 | NA | NA | 29.95 | 27.73 | 090
50135 |  | A | Exploration of kidney | 20.38 | NA | NA | 10.81 | 8.53 | 1.33 | NA | NA | 32.52 | 30.24 | 090
50200 |  | A | Biopsy of kidney | 2.63 | NA | NA | 1.13 | 1.25 | 0.16 | NA | NA | 3.92 | 4.04 | 000
50205 |  | A | Biopsy of kidney | 12.15 | NA | NA | 5.62 | 5.16 | 1.30 | NA | NA | 19.07 | 18.61 | 090
50220 |  | A | Remove kidney, open | 18.47 | NA | NA | 9.64 | 7.83 | 1.35 | NA | NA | 29.46 | 27.65 | 090
50225 |  | A | Removal kidney open, complex | 21.67 | NA | NA | 11.14 | 8.89 | 1.50 | NA | NA | 34.31 | 32.06 | 090
50230 |  | A | Removal kidney open, radical | 23.63 | NA | NA | 11.81 | 9.38 | 1.55 | NA | NA | 36.99 | 34.56 | 090
50234 |  | A | Removal of kidney & ureter | 23.84 | NA | NA | 12.20 | 9.67 | 1.59 | NA | NA | 37.63 | 35.10 | 090
50236 |  | A | Removal of kidney & ureter | 26.66 | NA | NA | 14.10 | 11.21 | 1.76 | NA | NA | 42.52 | 39.63 | 090
50240 |  | A | Partial removal of kidney | 23.93 | NA | NA | 12.78 | 9.95 | 1.55 | NA | NA | 38.26 | 35.43 | 090
50250 |  | A | Cryoablate renal mass open | 21.98 | NA | NA | 11.01 | 9.62 | 1.39 | NA | NA | 34.38 | 32.99 | 090
50280 |  | A | Removal of kidney lesion | 16.88 | NA | NA | 9.35 | 7.35 | 1.19 | NA | NA | 27.42 | 25.42 | 090
50290 |  | A | Removal of kidney lesion | 15.94 | NA | NA | 8.19 | 6.89 | 1.41 | NA | NA | 25.54 | 24.24 | 090
50320 |  | A | Remove kidney, living donor | 22.18 | NA | NA | 12.52 | 11.12 | 2.35 | NA | NA | 37.05 | 35.65 | 090
50323 |  | C | Prep cadaver renal allograft | 0.00 | 0.00 | 0.00 | 0.00 | 0.00 | 0.00 | 0.00 | 0.00 | 0.00 | 0.00 | XXX
50325 |  | C | Prep donor renal graft | 0.00 | 0.00 | 0.00 | 0.00 | 0.00 | 0.00 | 0.00 | 0.00 | 0.00 | 0.00 | XXX
50327 |  | A | Prep renal graft/venous | 4.00 | NA | NA | 1.10 | 1.29 | 0.29 | NA | NA | 5.39 | 5.58 | XXX
50328 |  | A | Prep renal graft/arterial | 3.50 | NA | NA | 0.98 | 1.13 | 0.26 | NA | NA | 4.74 | 4.89 | XXX
50329 |  | A | Prep renal graft/ureteral | 3.34 | NA | NA | 0.97 | 1.09 | 0.25 | NA | NA | 4.56 | 4.68 | XXX
50340 |  | A | Removal of kidney | 13.79 | NA | NA | 7.70 | 6.79 | 1.65 | NA | NA | 23.14 | 22.23 | 090
50360 |  | A | Transplantation of kidney | 40.27 | NA | NA | 18.95 | 16.34 | 3.81 | NA | NA | 63.03 | 60.42 | 090
50365 |  | A | Transplantation of kidney | 45.50 | NA | NA | 19.63 | 18.55 | 4.42 | NA | NA | 69.55 | 68.47 | 090
50370 |  | A | Remove transplanted kidney | 18.60 | NA | NA | 9.35 | 7.69 | 1.67 | NA | NA | 29.62 | 27.96 | 090
50380 |  | A | Reimplantation of kidney | 29.48 | NA | NA | 16.43 | 13.12 | 2.50 | NA | NA | 48.41 | 45.10 | 090
50382 |  | A | Change ureter stent, percut | 5.50 | 26.41 | 33.69 | 1.86 | 1.86 | 0.34 | 32.25 | 39.53 | 7.70 | 7.70 | 000
50384 |  | A | Remove ureter stent, percut | 5.00 | 20.77 | 31.61 | 1.69 | 1.71 | 0.31 | 26.08 | 36.92 | 7.00 | 7.02 | 000
50387 |  | A | Change ext/int ureter stent | 2.00 | 12.75 | 16.85 | 0.66 | 0.67 | 0.12 | 14.87 | 18.97 | 2.78 | 2.79 | 000
50389 |  | A | Remove renal tube w/fluoro | 1.10 | 6.75 | 11.24 | 0.36 | 0.37 | 0.07 | 7.92 | 12.41 | 1.53 | 1.54 | 000
50390 |  | A | Drainage of kidney lesion | 1.96 | NA | NA | 0.64 | 0.64 | 0.12 | NA | NA | 2.72 | 2.72 | 000
50391 |  | A | Instll rx agnt into rnal tub | 1.96 | 1.51 | 1.56 | 0.79 | 0.67 | 0.14 | 3.61 | 3.66 | 2.89 | 2.77 | 000
50392 |  | A | Insert kidney drain | 3.37 | NA | NA | 1.40 | 1.49 | 0.20 | NA | NA | 4.97 | 5.06 | 000
50393 |  | A | Insert ureteral tube | 4.15 | NA | NA | 1.66 | 1.75 | 0.25 | NA | NA | 6.06 | 6.15 | 000
50394 |  | A | Injection for kidney x-ray | 0.76 | 1.88 | 2.48 | 0.56 | 0.64 | 0.05 | 2.69 | 3.29 | 1.37 | 1.45 | 000
50395 |  | A | Create passage to kidney | 3.37 | NA | NA | 1.48 | 1.50 | 0.21 | NA | NA | 5.06 | 5.08 | 000
50396 |  | A | Measure kidney pressure | 2.09 | NA | NA | 1.02 | 1.07 | 0.13 | NA | NA | 3.24 | 3.29 | 000
50398 |  | A | Change kidney tube | 1.46 | 11.99 | 15.23 | 0.52 | 0.52 | 0.09 | 13.54 | 16.78 | 2.07 | 2.07 | 000
50400 |  | A | Revision of kidney/ureter | 21.06 | NA | NA | 11.12 | 8.68 | 1.38 | NA | NA | 33.56 | 31.12 | 090
50405 |  | A | Revision of kidney/ureter | 25.61 | NA | NA | 13.16 | 10.06 | 1.78 | NA | NA | 40.55 | 37.45 | 090
50500 |  | A | Repair of kidney wound | 21.01 | NA | NA | 9.29 | 8.61 | 2.01 | NA | NA | 32.31 | 31.63 | 090
50520 |  | A | Close kidney-skin fistula | 18.67 | NA | NA | 9.40 | 7.92 | 1.49 | NA | NA | 29.56 | 28.08 | 090
50525 |  | A | Repair renal-abdomen fistula | 24.14 | NA | NA | 10.99 | 9.49 | 1.83 | NA | NA | 36.96 | 35.46 | 090
50526 |  | A | Repair renal-abdomen fistula | 26.06 | NA | NA | 8.23 | 9.45 | 1.96 | NA | NA | 36.25 | 37.47 | 090
50540 |  | A | Revision of horseshoe kidney | 20.89 | NA | NA | 10.79 | 8.94 | 1.36 | NA | NA | 33.04 | 31.19 | 090
50541 |  | A | Laparo ablate renal cyst | 16.72 | NA | NA | 8.81 | 7.06 | 1.13 | NA | NA | 26.66 | 24.91 | 090
50542 |  | A | Laparo ablate renal mass | 21.12 | NA | NA | 11.24 | 8.91 | 1.39 | NA | NA | 33.75 | 31.42 | 090
50543 |  | A | Laparo partial nephrectomy | 27.10 | NA | NA | 14.20 | 11.19 | 1.80 | NA | NA | 43.10 | 40.09 | 090
50544 |  | A | Laparoscopy, pyeloplasty | 23.23 | NA | NA | 11.51 | 9.27 | 1.58 | NA | NA | 36.32 | 34.08 | 090
50545 |  | A | Laparo radical nephrectomy | 24.89 | NA | NA | 12.35 | 9.97 | 1.70 | NA | NA | 38.94 | 36.56 | 090
50546 |  | A | Laparoscopic nephrectomy | 21.63 | NA | NA | 11.39 | 9.12 | 1.57 | NA | NA | 34.59 | 32.32 | 090
50547 |  | A | Laparo removal donor kidney | 26.20 | NA | NA | 12.68 | 11.50 | 2.76 | NA | NA | 41.64 | 40.46 | 090
50548 |  | A | Laparo remove w/ureter | 25.22 | NA | NA | 12.27 | 9.95 | 1.72 | NA | NA | 39.21 | 36.89 | 090
50549 |  | C | Laparoscope proc, renal | 0.00 | 0.00 | 0.00 | 0.00 | 0.00 | 0.00 | 0.00 | 0.00 | 0.00 | 0.00 | YYY
50551 |  | A | Kidney endoscopy | 5.59 | 4.61 | 4.26 | 2.66 | 2.14 | 0.40 | 10.60 | 10.25 | 8.65 | 8.13 | 000
50553 |  | A | Kidney endoscopy | 5.98 | 4.45 | 4.38 | 2.55 | 2.27 | 0.39 | 10.82 | 10.75 | 8.92 | 8.64 | 000
50555 |  | A | Kidney endoscopy & biopsy | 6.52 | 5.12 | 4.89 | 3.03 | 2.51 | 0.45 | 12.09 | 11.86 | 10.00 | 9.48 | 000
50557 |  | A | Kidney endoscopy & treatment | 6.61 | 5.28 | 4.76 | 3.07 | 2.49 | 0.47 | 12.36 | 11.84 | 10.15 | 9.57 | 000
50561 |  | A | Kidney endoscopy & treatment | 7.58 | 5.80 | 5.26 | 3.42 | 2.84 | 0.54 | 13.92 | 13.38 | 11.54 | 10.96 | 000
50562 |  | A | Renal scope w/tumor resect | 10.90 | NA | NA | 5.42 | 4.59 | 0.73 | NA | NA | 17.05 | 16.22 | 090
50570 |  | A | Kidney endoscopy | 9.53 | NA | NA | 4.27 | 3.48 | 0.68 | NA | NA | 14.48 | 13.69 | 000
50572 |  | A | Kidney endoscopy | 10.33 | NA | NA | 4.60 | 3.78 | 0.85 | NA | NA | 15.78 | 14.96 | 000
50574 |  | A | Kidney endoscopy & biopsy | 11.00 | NA | NA | 4.78 | 4.00 | 0.77 | NA | NA | 16.55 | 15.77 | 000
50575 |  | A | Kidney endoscopy | 13.96 | NA | NA | 6.06 | 4.99 | 0.99 | NA | NA | 21.01 | 19.94 | 000
50576 |  | A | Kidney endoscopy & treatment | 10.97 | NA | NA | 4.86 | 3.96 | 0.78 | NA | NA | 16.61 | 15.71 | 000
50580 |  | A | Kidney endoscopy & treatment | 11.84 | NA | NA | 5.17 | 4.26 | 0.83 | NA | NA | 17.84 | 16.93 | 000
50590 |  | A | Fragmenting of kidney stone | 9.58 | 17.26 | 13.61 | 6.19 | 4.63 | 0.65 | 27.49 | 23.84 | 16.42 | 14.86 | 090
50592 |  | A | Perc rf ablate renal tumor | 6.75 | 77.05 | 131.0 | 2.81 | 2.94 | 0.43 | 84.23 | 138.2 | 9.99 | 10.12 | 010
50600 |  | A | Exploration of ureter | 16.99 | NA | NA | 8.60 | 7.15 | 1.13 | NA | NA | 26.72 | 25.27 | 090
50605 |  | A | Insert ureteral support | 16.61 | NA | NA | 8.00 | 7.05 | 1.45 | NA | NA | 26.06 | 25.11 | 090
50610 |  | A | Removal of ureter stone | 17.07 | NA | NA | 9.12 | 7.50 | 1.43 | NA | NA | 27.62 | 26.00 | 090
50620 |  | A | Removal of ureter stone | 16.25 | NA | NA | 8.97 | 6.99 | 1.07 | NA | NA | 26.29 | 24.31 | 090
50630 |  | A | Removal of ureter stone | 16.03 | NA | NA | 8.30 | 6.78 | 1.09 | NA | NA | 25.42 | 23.90 | 090
50650 |  | A | Removal of ureter | 18.61 | NA | NA | 10.15 | 7.95 | 1.23 | NA | NA | 29.99 | 27.79 | 090
50660 |  | A | Removal of ureter | 20.81 | NA | NA | 10.87 | 8.68 | 1.38 | NA | NA | 33.06 | 30.87 | 090
50684 |  | A | Injection for ureter x-ray | 0.76 | 4.12 | 4.76 | 0.64 | 0.51 | 0.05 | 4.93 | 5.57 | 1.45 | 1.32 | 000
50686 |  | A | Measure ureter pressure | 1.51 | 2.07 | 3.10 | 0.71 | 0.79 | 0.11 | 3.69 | 4.72 | 2.33 | 2.41 | 000
50688 |  | A | Change of ureter tube/stent | 1.17 | NA | NA | 0.92 | 1.03 | 0.07 | NA | NA | 2.16 | 2.27 | 010
50690 |  | A | Injection for ureter x-ray | 1.16 | 1.43 | 1.72 | 0.72 | 0.72 | 0.07 | 2.66 | 2.95 | 1.95 | 1.95 | 000
50700 |  | A | Revision of ureter | 16.48 | NA | NA | 8.46 | 7.45 | 1.27 | NA | NA | 26.21 | 25.20 | 090
50715 |  | A | Release of ureter | 20.43 | NA | NA | 8.65 | 8.71 | 2.13 | NA | NA | 31.21 | 31.27 | 090
50722 |  | A | Release of ureter | 17.74 | NA | NA | 8.02 | 7.86 | 1.90 | NA | NA | 27.66 | 27.50 | 090
50725 |  | A | Release/revise ureter | 19.99 | NA | NA | 9.70 | 8.46 | 1.52 | NA | NA | 31.21 | 29.97 | 090
50727 |  | A | Revise ureter | 8.17 | NA | NA | 5.78 | 4.65 | 0.61 | NA | NA | 14.56 | 13.43 | 090
50728 |  | A | Revise ureter | 12.00 | NA | NA | 7.21 | 5.97 | 1.00 | NA | NA | 20.21 | 18.97 | 090
50740 |  | A | Fusion of ureter & kidney | 19.86 | NA | NA | 9.03 | 8.06 | 1.96 | NA | NA | 30.85 | 29.88 | 090
50750 |  | A | Fusion of ureter & kidney | 21.01 | NA | NA | 9.84 | 8.45 | 1.38 | NA | NA | 32.23 | 30.84 | 090
50760 |  | A | Fusion of ureters | 19.86 | NA | NA | 9.84 | 8.21 | 1.55 | NA | NA | 31.25 | 29.62 | 090
50770 |  | A | Splicing of ureters | 21.01 | NA | NA | 10.70 | 8.65 | 1.45 | NA | NA | 33.16 | 31.11 | 090
50780 |  | A | Reimplant ureter in bladder | 19.74 | NA | NA | 10.14 | 8.22 | 1.51 | NA | NA | 31.39 | 29.47 | 090
50782 |  | A | Reimplant ureter in bladder | 19.51 | NA | NA | 8.30 | 8.65 | 1.61 | NA | NA | 29.42 | 29.77 | 090
50783 |  | A | Reimplant ureter in bladder | 20.52 | NA | NA | 10.07 | 8.68 | 1.98 | NA | NA | 32.57 | 31.18 | 090
50785 |  | A | Reimplant ureter in bladder | 22.02 | NA | NA | 11.19 | 9.02 | 1.45 | NA | NA | 34.66 | 32.49 | 090
50800 |  | A | Implant ureter in bowel | 16.16 | NA | NA | 9.32 | 7.18 | 1.19 | NA | NA | 26.67 | 24.53 | 090
50810 |  | A | Fusion of ureter & bowel | 22.29 | NA | NA | 9.65 | 9.22 | 2.31 | NA | NA | 34.25 | 33.82 | 090
50815 |  | A | Urine shunt to intestine | 21.98 | NA | NA | 11.63 | 9.24 | 1.54 | NA | NA | 35.15 | 32.76 | 090
50820 |  | A | Construct bowel bladder | 23.82 | NA | NA | 12.00 | 9.47 | 1.89 | NA | NA | 37.71 | 35.18 | 090
50825 |  | A | Construct bowel bladder | 30.40 | NA | NA | 15.09 | 12.11 | 2.07 | NA | NA | 47.56 | 44.58 | 090
50830 |  | A | Revise urine flow | 33.49 | NA | NA | 15.92 | 13.10 | 2.37 | NA | NA | 51.78 | 48.96 | 090
50840 |  | A | Replace ureter by bowel | 22.11 | NA | NA | 11.93 | 9.30 | 1.47 | NA | NA | 35.51 | 32.88 | 090
50845 |  | A | Appendico-vesicostomy | 22.11 | NA | NA | 12.42 | 9.77 | 1.57 | NA | NA | 36.10 | 33.45 | 090
50860 |  | A | Transplant ureter to skin | 16.87 | NA | NA | 9.05 | 7.22 | 1.29 | NA | NA | 27.21 | 25.38 | 090
50900 |  | A | Repair of ureter | 14.83 | NA | NA | 8.10 | 6.62 | 1.14 | NA | NA | 24.07 | 22.59 | 090
50920 |  | A | Closure ureter/skin fistula | 15.60 | NA | NA | 8.54 | 7.06 | 1.01 | NA | NA | 25.15 | 23.67 | 090
50930 |  | A | Closure ureter/bowel fistula | 19.98 | NA | NA | 10.29 | 8.54 | 1.28 | NA | NA | 31.55 | 29.80 | 090
50940 |  | A | Release of ureter | 15.72 | NA | NA | 8.27 | 6.86 | 1.26 | NA | NA | 25.25 | 23.84 | 090
50945 |  | A | Laparoscopy ureterolithotomy | 17.83 | NA | NA | 8.78 | 7.47 | 1.36 | NA | NA | 27.97 | 26.66 | 090
50947 |  | A | Laparo new ureter/bladder | 25.57 | NA | NA | 12.50 | 10.39 | 2.16 | NA | NA | 40.23 | 38.12 | 090
50948 |  | A | Laparo new ureter/bladder | 23.65 | NA | NA | 12.02 | 9.52 | 1.70 | NA | NA | 37.37 | 34.87 | 090
50949 |  | C | Laparoscope proc, ureter | 0.00 | 0.00 | 0.00 | 0.00 | 0.00 | 0.00 | 0.00 | 0.00 | 0.00 | 0.00 | YYY
50951 |  | A | Endoscopy of ureter | 5.83 | 4.87 | 4.44 | 2.79 | 2.24 | 0.41 | 11.11 | 10.68 | 9.03 | 8.48 | 000
50953 |  | A | Endoscopy of ureter | 6.23 | 5.05 | 4.56 | 3.31 | 2.60 | 0.43 | 11.71 | 11.22 | 9.97 | 9.26 | 000
50955 |  | A | Ureter endoscopy & biopsy | 6.74 | 5.28 | 6.13 | 3.52 | 2.89 | 0.48 | 12.50 | 13.35 | 10.74 | 10.11 | 000
50957 |  | A | Ureter endoscopy & treatment | 6.78 | 5.37 | 4.76 | 3.15 | 2.57 | 0.48 | 12.63 | 12.02 | 10.41 | 9.83 | 000
50961 |  | A | Ureter endoscopy & treatment | 6.04 | 4.85 | 4.48 | 2.82 | 2.34 | 0.41 | 11.30 | 10.93 | 9.27 | 8.79 | 000
50970 |  | A | Ureter endoscopy | 7.13 | NA | NA | 3.30 | 2.67 | 0.52 | NA | NA | 10.95 | 10.32 | 000
50972 |  | A | Ureter endoscopy & catheter | 6.88 | NA | NA | 3.14 | 2.63 | 0.49 | NA | NA | 10.51 | 10.00 | 000
50974 |  | A | Ureter endoscopy & biopsy | 9.16 | NA | NA | 3.97 | 3.32 | 0.64 | NA | NA | 13.77 | 13.12 | 000
50976 |  | A | Ureter endoscopy & treatment | 9.03 | NA | NA | 3.76 | 3.24 | 0.66 | NA | NA | 13.45 | 12.93 | 000
50980 |  | A | Ureter endoscopy & treatment | 6.84 | NA | NA | 3.13 | 2.56 | 0.48 | NA | NA | 10.45 | 9.88 | 000
51000 |  | A | Drainage of bladder | 0.78 | 0.94 | 1.69 | 0.28 | 0.25 | 0.05 | 1.77 | 2.52 | 1.11 | 1.08 | 000
51005 |  | A | Drainage of bladder | 1.02 | 2.43 | 4.13 | 0.30 | 0.33 | 0.10 | 3.55 | 5.25 | 1.42 | 1.45 | 000
51010 |  | A | Drainage of bladder | 4.25 | 4.78 | 5.40 | 2.38 | 2.00 | 0.28 | 9.31 | 9.93 | 6.91 | 6.53 | 010
51020 |  | A | Incise & treat bladder | 7.51 | NA | NA | 5.35 | 4.23 | 0.47 | NA | NA | 13.33 | 12.21 | 090
51030 |  | A | Incise & treat bladder | 7.63 | NA | NA | 4.80 | 4.18 | 0.58 | NA | NA | 13.01 | 12.39 | 090
51040 |  | A | Incise & drain bladder | 4.39 | NA | NA | 3.72 | 3.00 | 0.31 | NA | NA | 8.42 | 7.70 | 090
51045 |  | A | Incise bladder/drain ureter | 7.63 | NA | NA | 5.23 | 4.25 | 0.52 | NA | NA | 13.38 | 12.40 | 090
51050 |  | A | Removal of bladder stone | 7.83 | NA | NA | 5.38 | 4.08 | 0.49 | NA | NA | 13.70 | 12.40 | 090
51060 |  | A | Removal of ureter stone | 9.77 | NA | NA | 6.42 | 4.98 | 0.62 | NA | NA | 16.81 | 15.37 | 090
51065 |  | A | Remove ureter calculus | 9.77 | NA | NA | 6.35 | 4.85 | 0.63 | NA | NA | 16.75 | 15.25 | 090
51080 |  | A | Drainage of bladder abscess | 6.57 | NA | NA | 4.35 | 3.74 | 0.43 | NA | NA | 11.35 | 10.74 | 090
51500 |  | A | Removal of bladder cyst | 10.87 | NA | NA | 5.85 | 5.21 | 1.03 | NA | NA | 17.75 | 17.11 | 090
51520 |  | A | Removal of bladder lesion | 10.03 | NA | NA | 6.51 | 5.13 | 0.69 | NA | NA | 17.23 | 15.85 | 090
51525 |  | A | Removal of bladder lesion | 15.24 | NA | NA | 8.66 | 6.76 | 0.99 | NA | NA | 24.89 | 22.99 | 090
51530 |  | A | Removal of bladder lesion | 13.53 | NA | NA | 7.33 | 6.14 | 1.05 | NA | NA | 21.91 | 20.72 | 090
51535 |  | A | Repair of ureter lesion | 13.72 | NA | NA | 7.54 | 6.46 | 1.23 | NA | NA | 22.49 | 21.41 | 090
51550 |  | A | Partial removal of bladder | 17.05 | NA | NA | 8.91 | 7.27 | 1.31 | NA | NA | 27.27 | 25.63 | 090
51555 |  | A | Partial removal of bladder | 22.97 | NA | NA | 11.51 | 9.37 | 1.69 | NA | NA | 36.17 | 34.03 | 090
51565 |  | A | Revise bladder & ureter(s) | 23.43 | NA | NA | 12.07 | 9.73 | 1.63 | NA | NA | 37.13 | 34.79 | 090
51570 |  | A | Removal of bladder | 27.25 | NA | NA | 13.39 | 10.65 | 1.71 | NA | NA | 42.35 | 39.61 | 090
51575 |  | A | Removal of bladder & nodes | 33.93 | NA | NA | 16.79 | 13.21 | 2.16 | NA | NA | 52.88 | 49.30 | 090
51580 |  | A | Remove bladder/revise tract | 35.05 | NA | NA | 17.64 | 13.77 | 2.24 | NA | NA | 54.93 | 51.06 | 090
51585 |  | A | Removal of bladder & nodes | 39.32 | NA | NA | 19.63 | 15.18 | 2.48 | NA | NA | 61.43 | 56.98 | 090
51590 |  | A | Remove bladder/revise tract | 36.08 | NA | NA | 17.47 | 13.82 | 2.27 | NA | NA | 55.82 | 52.17 | 090
51595 |  | A | Remove bladder/revise tract | 41.04 | NA | NA | 19.79 | 15.54 | 2.59 | NA | NA | 63.42 | 59.17 | 090
51596 |  | A | Remove bladder/create pouch | 43.91 | NA | NA | 21.37 | 16.76 | 2.77 | NA | NA | 68.04 | 63.44 | 090
51597 |  | A | Removal of pelvic structures | 42.51 | NA | NA | 20.13 | 16.15 | 2.81 | NA | NA | 65.45 | 61.47 | 090
51600 |  | A | Injection for bladder x-ray | 0.88 | 4.25 | 4.85 | 0.31 | 0.30 | 0.06 | 5.19 | 5.79 | 1.25 | 1.24 | 000
51605 |  | A | Preparation for bladder xray | 0.64 | NA | NA | 0.42 | 0.37 | 0.04 | NA | NA | 1.10 | 1.05 | 000
51610 |  | A | Injection for bladder x-ray | 1.05 | 1.93 | 2.19 | 0.70 | 0.63 | 0.07 | 3.05 | 3.31 | 1.82 | 1.75 | 000
51700 |  | A | Irrigation of bladder | 0.88 | 1.52 | 1.58 | 0.34 | 0.30 | 0.06 | 2.46 | 2.52 | 1.28 | 1.24 | 000
51701 |  | A | Insert bladder catheter | 0.50 | 1.05 | 1.45 | 0.25 | 0.21 | 0.04 | 1.59 | 1.99 | 0.79 | 0.75 | 000
51702 |  | A | Insert temp bladder cath | 0.50 | 1.54 | 1.95 | 0.34 | 0.27 | 0.04 | 2.08 | 2.49 | 0.88 | 0.81 | 000
51703 |  | A | Insert bladder cath, complex | 1.47 | 2.29 | 2.62 | 0.81 | 0.62 | 0.10 | 3.86 | 4.19 | 2.38 | 2.19 | 000
51705 |  | A | Change of bladder tube | 1.02 | 2.04 | 2.21 | 0.85 | 0.67 | 0.07 | 3.13 | 3.30 | 1.94 | 1.76 | 010
51710 |  | A | Change of bladder tube | 1.49 | 2.75 | 3.19 | 1.19 | 0.88 | 0.11 | 4.35 | 4.79 | 2.79 | 2.48 | 010
51715 |  | A | Endoscopic injection/implant | 3.73 | 4.47 | 4.04 | 1.76 | 1.45 | 0.29 | 8.49 | 8.06 | 5.78 | 5.47 | 000
51720 |  | A | Treatment of bladder lesion | 1.50 | 1.64 | 1.72 | 0.75 | 0.71 | 0.14 | 3.28 | 3.36 | 2.39 | 2.35 | 000
51725 |  | A | Simple cystometrogram | 1.51 | 4.32 | 5.27 | 4.32 | 5.27 | 0.16 | 5.99 | 6.94 | 5.99 | 6.94 | 000
51725 | 26 | A | Simple cystometrogram | 1.51 | 0.57 | 0.51 | 0.57 | 0.51 | 0.12 | 2.20 | 2.14 | 2.20 | 2.14 | 000
51725 | TC | A | Simple cystometrogram | 0.00 | 3.75 | 4.76 | 3.75 | 4.76 | 0.04 | 3.79 | 4.80 | 3.79 | 4.80 | 000
51726 |  | A | Complex cystometrogram | 1.71 | 7.18 | 7.42 | 7.18 | 7.42 | 0.18 | 9.07 | 9.31 | 9.07 | 9.31 | 000
51726 | 26 | A | Complex cystometrogram | 1.71 | 0.65 | 0.58 | 0.65 | 0.58 | 0.13 | 2.49 | 2.42 | 2.49 | 2.42 | 000
51726 | TC | A | Complex cystometrogram | 0.00 | 6.53 | 6.84 | 6.53 | 6.84 | 0.05 | 6.58 | 6.89 | 6.58 | 6.89 | 000
51736 |  | A | Urine flow measurement | 0.61 | 0.91 | 0.66 | 0.91 | 0.66 | 0.06 | 1.58 | 1.33 | 1.58 | 1.33 | 000
51736 | 26 | A | Urine flow measurement | 0.61 | 0.23 | 0.21 | 0.23 | 0.21 | 0.05 | 0.89 | 0.87 | 0.89 | 0.87 | 000
51736 | TC | A | Urine flow measurement | 0.00 | 0.68 | 0.46 | 0.68 | 0.46 | 0.01 | 0.69 | 0.47 | 0.69 | 0.47 | 000
51741 |  | A | Electro-uroflowmetry, first | 1.14 | 1.27 | 0.91 | 1.27 | 0.91 | 0.11 | 2.52 | 2.16 | 2.52 | 2.16 | 000
51741 | 26 | A | Electro-uroflowmetry, first | 1.14 | 0.44 | 0.39 | 0.44 | 0.39 | 0.09 | 1.67 | 1.62 | 1.67 | 1.62 | 000
51741 | TC | A | Electro-uroflowmetry, first | 0.00 | 0.83 | 0.52 | 0.83 | 0.52 | 0.02 | 0.85 | 0.54 | 0.85 | 0.54 | 000
51772 |  | A | Urethra pressure profile | 1.61 | 5.09 | 5.45 | 5.09 | 5.45 | 0.20 | 6.90 | 7.26 | 6.90 | 7.26 | 000
51772 | 26 | A | Urethra pressure profile | 1.61 | 0.55 | 0.55 | 0.55 | 0.55 | 0.15 | 2.31 | 2.31 | 2.31 | 2.31 | 000
51772 | TC | A | Urethra pressure profile | 0.00 | 4.54 | 4.91 | 4.54 | 4.91 | 0.05 | 4.59 | 4.96 | 4.59 | 4.96 | 000
51784 |  | A | Anal/urinary muscle study | 1.53 | 3.85 | 3.95 | 3.85 | 3.95 | 0.16 | 5.54 | 5.64 | 5.54 | 5.64 | 000
51784 | 26 | A | Anal/urinary muscle study | 1.53 | 0.52 | 0.51 | 0.52 | 0.51 | 0.12 | 2.17 | 2.16 | 2.17 | 2.16 | 000
51784 | TC | A | Anal/urinary muscle study | 0.00 | 3.33 | 3.44 | 3.33 | 3.44 | 0.04 | 3.37 | 3.48 | 3.37 | 3.48 | 000
51785 |  | A | Anal/urinary muscle study | 1.53 | 4.54 | 4.47 | 4.54 | 4.47 | 0.15 | 6.22 | 6.15 | 6.22 | 6.15 | 000
51785 | 26 | A | Anal/urinary muscle study | 1.53 | 0.56 | 0.52 | 0.56 | 0.52 | 0.11 | 2.20 | 2.16 | 2.20 | 2.16 | 000
51785 | TC | A | Anal/urinary muscle study | 0.00 | 3.97 | 3.95 | 3.97 | 3.95 | 0.04 | 4.01 | 3.99 | 4.01 | 3.99 | 000
51792 |  | A | Urinary reflex study | 1.10 | 5.01 | 5.75 | 5.01 | 5.75 | 0.20 | 6.31 | 7.05 | 6.31 | 7.05 | 000
51792 | 26 | A | Urinary reflex study | 1.10 | 0.40 | 0.41 | 0.40 | 0.41 | 0.07 | 1.57 | 1.58 | 1.57 | 1.58 | 000
51792 | TC | A | Urinary reflex study | 0.00 | 4.61 | 5.34 | 4.61 | 5.34 | 0.13 | 4.74 | 5.47 | 4.74 | 5.47 | 000
51795 |  | A | Urine voiding pressure study | 1.53 | 6.78 | 7.16 | 6.78 | 7.16 | 0.22 | 8.53 | 8.91 | 8.53 | 8.91 | 000
51795 | 26 | A | Urine voiding pressure study | 1.53 | 0.58 | 0.52 | 0.58 | 0.52 | 0.12 | 2.23 | 2.17 | 2.23 | 2.17 | 000
51795 | TC | A | Urine voiding pressure study | 0.00 | 6.21 | 6.65 | 6.21 | 6.65 | 0.10 | 6.31 | 6.75 | 6.31 | 6.75 | 000
51797 |  | A | Intraabdominal pressure test | 1.60 | 4.88 | 5.56 | 4.88 | 5.56 | 0.17 | 6.65 | 7.33 | 6.65 | 7.33 | 000
51797 | 26 | A | Intraabdominal pressure test | 1.60 | 0.60 | 0.55 | 0.60 | 0.55 | 0.12 | 2.32 | 2.27 | 2.32 | 2.27 | 000
51797 | TC | A | Intraabdominal pressure test | 0.00 | 4.28 | 5.01 | 4.28 | 5.01 | 0.05 | 4.33 | 5.06 | 4.33 | 5.06 | 000
51798 |  | A | Us urine capacity measure | 0.00 | 0.60 | 0.41 | NA | NA | 0.08 | 0.68 | 0.49 | NA | NA | XXX
51800 |  | A | Revision of bladder/urethra | 18.68 | NA | NA | 10.11 | 8.20 | 1.32 | NA | NA | 30.11 | 28.20 | 090
51820 |  | A | Revision of urinary tract | 19.34 | NA | NA | 10.54 | 8.85 | 1.74 | NA | NA | 31.62 | 29.93 | 090
51840 |  | A | Attach bladder/urethra | 11.23 | NA | NA | 5.81 | 5.62 | 1.06 | NA | NA | 18.10 | 17.91 | 090
51841 |  | A | Attach bladder/urethra | 13.55 | NA | NA | 6.85 | 6.49 | 1.24 | NA | NA | 21.64 | 21.28 | 090
51845 |  | A | Repair bladder neck | 10.02 | NA | NA | 5.88 | 5.03 | 0.79 | NA | NA | 16.69 | 15.84 | 090
51860 |  | A | Repair of bladder wound | 12.42 | NA | NA | 6.83 | 6.02 | 1.16 | NA | NA | 20.41 | 19.60 | 090
51865 |  | A | Repair of bladder wound | 15.62 | NA | NA | 8.47 | 7.12 | 1.23 | NA | NA | 25.32 | 23.97 | 090
51880 |  | A | Repair of bladder opening | 7.77 | NA | NA | 4.73 | 4.15 | 0.72 | NA | NA | 13.22 | 12.64 | 090
51900 |  | A | Repair bladder/vagina lesion | 14.42 | NA | NA | 8.04 | 6.56 | 1.21 | NA | NA | 23.67 | 22.19 | 090
51920 |  | A | Close bladder-uterus fistula | 13.20 | NA | NA | 7.77 | 6.17 | 1.18 | NA | NA | 22.15 | 20.55 | 090
51925 |  | A | Hysterectomy/bladder repair | 17.28 | NA | NA | 10.27 | 9.03 | 2.03 | NA | NA | 29.58 | 28.34 | 090
51940 |  | A | Correction of bladder defect | 30.41 | NA | NA | 11.41 | 11.91 | 2.14 | NA | NA | 43.96 | 44.46 | 090
51960 |  | A | Revision of bladder & bowel | 25.12 | NA | NA | 13.18 | 10.52 | 1.63 | NA | NA | 39.93 | 37.27 | 090
51980 |  | A | Construct bladder opening | 12.39 | NA | NA | 7.29 | 5.85 | 0.86 | NA | NA | 20.54 | 19.10 | 090
51990 |  | A | Laparo urethral suspension | 13.22 | NA | NA | 5.99 | 6.10 | 1.39 | NA | NA | 20.60 | 20.71 | 090
51992 |  | A | Laparo sling operation | 14.73 | NA | NA | 6.65 | 6.31 | 1.41 | NA | NA | 22.79 | 22.45 | 090
51999 |  | C | Laparoscope proc, bladder | 0.00 | 0.00 | 0.00 | 0.00 | 0.00 | 0.00 | 0.00 | 0.00 | 0.00 | 0.00 | YYY
52000 |  | A | Cystoscopy | 2.23 | 3.70 | 3.40 | 1.33 | 0.90 | 0.14 | 6.07 | 5.77 | 3.70 | 3.27 | 000
52001 |  | A | Cystoscopy, removal of clots | 5.44 | 5.14 | 5.09 | 2.62 | 2.05 | 0.39 | 10.97 | 10.92 | 8.45 | 7.88 | 000
52005 |  | A | Cystoscopy & ureter catheter | 2.37 | 5.79 | 5.62 | 1.39 | 1.02 | 0.17 | 8.33 | 8.16 | 3.93 | 3.56 | 000
52007 |  | A | Cystoscopy and biopsy | 3.02 | 10.83 | 15.04 | 1.64 | 1.27 | 0.22 | 14.07 | 18.28 | 4.88 | 4.51 | 000
52010 |  | A | Cystoscopy & duct catheter | 3.02 | 8.20 | 10.11 | 1.65 | 1.28 | 0.21 | 11.43 | 13.34 | 4.88 | 4.51 | 000
52204 |  | A | Cystoscopy | 2.59 | 8.39 | 12.98 | 1.40 | 1.03 | 0.17 | 11.15 | 15.74 | 4.16 | 3.79 | 000
52214 |  | A | Cystoscopy and treatment | 3.70 | 20.07 | 33.59 | 1.86 | 1.46 | 0.26 | 24.03 | 37.55 | 5.82 | 5.42 | 000
52224 |  | A | Cystoscopy and treatment | 3.14 | 19.25 | 32.15 | 1.63 | 1.27 | 0.22 | 22.61 | 35.51 | 4.99 | 4.63 | 000
52234 |  | A | Cystoscopy and treatment | 4.62 | NA | NA | 2.31 | 1.82 | 0.33 | NA | NA | 7.26 | 6.77 | 000
52235 |  | A | Cystoscopy and treatment | 5.44 | NA | NA | 2.68 | 2.12 | 0.39 | NA | NA | 8.51 | 7.95 | 000
52240 |  | A | Cystoscopy and treatment | 9.71 | NA | NA | 4.42 | 3.58 | 0.69 | NA | NA | 14.82 | 13.98 | 000
52250 |  | A | Cystoscopy and radiotracer | 4.49 | NA | NA | 2.35 | 1.83 | 0.32 | NA | NA | 7.16 | 6.64 | 000
52260 |  | A | Cystoscopy and treatment | 3.91 | NA | NA | 1.97 | 1.56 | 0.28 | NA | NA | 6.16 | 5.75 | 000
52265 |  | A | Cystoscopy and treatment | 2.94 | 7.74 | 11.94 | 1.53 | 1.22 | 0.22 | 10.90 | 15.10 | 4.69 | 4.38 | 000
52270 |  | A | Cystoscopy & revise urethra | 3.36 | 7.08 | 10.04 | 1.77 | 1.37 | 0.24 | 10.68 | 13.64 | 5.37 | 4.97 | 000
52275 |  | A | Cystoscopy & revise urethra | 4.69 | 9.39 | 14.01 | 2.31 | 1.82 | 0.33 | 14.41 | 19.03 | 7.33 | 6.84 | 000
52276 |  | A | Cystoscopy and treatment | 4.99 | NA | NA | 2.48 | 1.96 | 0.35 | NA | NA | 7.82 | 7.30 | 000
52277 |  | A | Cystoscopy and treatment | 6.16 | NA | NA | 2.91 | 2.39 | 0.44 | NA | NA | 9.51 | 8.99 | 000
52281 |  | A | Cystoscopy and treatment | 2.80 | 5.34 | 6.65 | 1.56 | 1.20 | 0.20 | 8.34 | 9.65 | 4.56 | 4.20 | 000
52282 |  | A | Cystoscopy, implant stent | 6.39 | NA | NA | 3.01 | 2.43 | 0.45 | NA | NA | 9.85 | 9.27 | 000
52283 |  | A | Cystoscopy and treatment | 3.73 | 4.14 | 3.99 | 1.90 | 1.51 | 0.26 | 8.13 | 7.98 | 5.89 | 5.50 | 000
52285 |  | A | Cystoscopy and treatment | 3.60 | 4.40 | 4.11 | 1.87 | 1.47 | 0.26 | 8.26 | 7.97 | 5.73 | 5.33 | 000
52290 |  | A | Cystoscopy and treatment | 4.58 | NA | NA | 2.30 | 1.81 | 0.32 | NA | NA | 7.20 | 6.71 | 000
52300 |  | A | Cystoscopy and treatment | 5.30 | NA | NA | 2.65 | 2.09 | 0.38 | NA | NA | 8.33 | 7.77 | 000
52301 |  | A | Cystoscopy and treatment | 5.50 | NA | NA | 2.13 | 2.02 | 0.46 | NA | NA | 8.09 | 7.98 | 000
52305 |  | A | Cystoscopy and treatment | 5.30 | NA | NA | 2.53 | 2.02 | 0.38 | NA | NA | 8.21 | 7.70 | 000
52310 |  | A | Cystoscopy and treatment | 2.81 | 4.05 | 4.53 | 1.45 | 1.14 | 0.20 | 7.06 | 7.54 | 4.46 | 4.15 | 000
52315 |  | A | Cystoscopy and treatment | 5.20 | 6.70 | 8.17 | 2.51 | 2.00 | 0.37 | 12.27 | 13.74 | 8.08 | 7.57 | 000
52317 |  | A | Remove bladder stone | 6.71 | 17.25 | 26.02 | 3.04 | 2.47 | 0.48 | 24.44 | 33.21 | 10.23 | 9.66 | 000
52318 |  | A | Remove bladder stone | 9.18 | NA | NA | 4.11 | 3.35 | 0.65 | NA | NA | 13.94 | 13.18 | 000
52320 |  | A | Cystoscopy and treatment | 4.69 | NA | NA | 2.24 | 1.78 | 0.33 | NA | NA | 7.26 | 6.80 | 000
52325 |  | A | Cystoscopy, stone removal | 6.15 | NA | NA | 2.86 | 2.30 | 0.44 | NA | NA | 9.45 | 8.89 | 000
52327 |  | A | Cystoscopy, inject material | 5.18 | 17.98 | 28.35 | 2.36 | 1.95 | 0.37 | 23.53 | 33.90 | 7.91 | 7.50 | 000
52330 |  | A | Cystoscopy and treatment | 5.03 | 20.61 | 34.27 | 2.38 | 1.91 | 0.36 | 26.00 | 39.66 | 7.77 | 7.30 | 000
52332 |  | A | Cystoscopy and treatment | 2.83 | 12.54 | 7.44 | 1.58 | 1.18 | 0.21 | 15.58 | 10.48 | 4.62 | 4.22 | 000
52334 |  | A | Create passage to kidney | 4.82 | NA | NA | 2.34 | 1.88 | 0.35 | NA | NA | 7.51 | 7.05 | 000
52341 |  | A | Cysto w/ureter stricture tx | 5.99 | NA | NA | 3.04 | 2.42 | 0.43 | NA | NA | 9.46 | 8.84 | 000
52342 |  | A | Cysto w/up stricture tx | 6.49 | NA | NA | 3.26 | 2.57 | 0.46 | NA | NA | 10.21 | 9.52 | 000
52343 |  | A | Cysto w/renal stricture tx | 7.19 | NA | NA | 3.54 | 2.82 | 0.51 | NA | NA | 11.24 | 10.52 | 000
52344 |  | A | Cysto/uretero, stricture tx | 7.69 | NA | NA | 3.91 | 3.07 | 0.55 | NA | NA | 12.15 | 11.31 | 000
52345 |  | A | Cysto/uretero w/up stricture | 8.19 | NA | NA | 4.12 | 3.24 | 0.58 | NA | NA | 12.89 | 12.01 | 000
52346 |  | A | Cystouretero w/renal strict | 9.22 | NA | NA | 4.52 | 3.59 | 0.65 | NA | NA | 14.39 | 13.46 | 000
52351 |  | A | Cystouretero & or pyeloscope | 5.85 | NA | NA | 3.00 | 2.36 | 0.41 | NA | NA | 9.26 | 8.62 | 000
52352 |  | A | Cystouretero w/stone remove | 6.87 | NA | NA | 3.52 | 2.76 | 0.49 | NA | NA | 10.88 | 10.12 | 000
52353 |  | A | Cystouretero w/lithotripsy | 7.96 | NA | NA | 3.96 | 3.13 | 0.57 | NA | NA | 12.49 | 11.66 | 000
52354 |  | A | Cystouretero w/biopsy | 7.33 | NA | NA | 3.71 | 2.93 | 0.52 | NA | NA | 11.56 | 10.78 | 000
52355 |  | A | Cystouretero w/excise tumor | 8.81 | NA | NA | 4.30 | 3.43 | 0.63 | NA | NA | 13.74 | 12.87 | 000
52400 |  | A | Cystouretero w/congen repr | 10.04 | NA | NA | 5.47 | 4.17 | 0.68 | NA | NA | 16.19 | 14.89 | 090
52402 |  | A | Cystourethro cut ejacul duct | 5.27 | NA | NA | 2.20 | 1.83 | 0.40 | NA | NA | 7.87 | 7.50 | 000
52450 |  | A | Incision of prostate | 7.63 | NA | NA | 5.56 | 4.14 | 0.54 | NA | NA | 13.73 | 12.31 | 090
52500 |  | A | Revision of bladder neck | 9.33 | NA | NA | 6.24 | 4.50 | 0.60 | NA | NA | 16.17 | 14.43 | 090
52510 |  | A | Dilation prostatic urethra | 7.45 | NA | NA | 4.95 | 3.57 | 0.48 | NA | NA | 12.88 | 11.50 | 090
52601 |  | A | Prostatectomy (TURP) | 15.07 | NA | NA | 8.54 | 5.96 | 0.87 | NA | NA | 24.48 | 21.90 | 090
52606 |  | A | Control postop bleeding | 8.80 | NA | NA | 5.57 | 4.06 | 0.57 | NA | NA | 14.94 | 13.43 | 090
52612 |  | A | Prostatectomy, first stage | 9.02 | NA | NA | 5.94 | 4.28 | 0.56 | NA | NA | 15.52 | 13.86 | 090
52614 |  | A | Prostatectomy, second stage | 7.76 | NA | NA | 5.44 | 3.87 | 0.48 | NA | NA | 13.68 | 12.11 | 090
52620 |  | A | Remove residual prostate | 7.16 | NA | NA | 4.64 | 3.40 | 0.47 | NA | NA | 12.27 | 11.03 | 090
52630 |  | A | Remove prostate regrowth | 7.61 | NA | NA | 4.85 | 3.61 | 0.51 | NA | NA | 12.97 | 11.73 | 090
52640 |  | A | Relieve bladder contracture | 6.85 | NA | NA | 4.45 | 3.33 | 0.47 | NA | NA | 11.77 | 10.65 | 090
52647 |  | A | Laser surgery of prostate | 11.09 | 42.33 | 66.04 | 6.97 | 5.14 | 0.73 | 54.15 | 77.86 | 18.79 | 16.96 | 090
52648 |  | A | Laser surgery of prostate | 11.94 | 42.86 | 66.17 | 7.30 | 5.42 | 0.79 | 55.59 | 78.90 | 20.03 | 18.15 | 090
52700 |  | A | Drainage of prostate abscess | 7.35 | NA | NA | 5.00 | 3.64 | 0.48 | NA | NA | 12.83 | 11.47 | 090
53000 |  | A | Incision of urethra | 2.28 | NA | NA | 1.81 | 1.61 | 0.16 | NA | NA | 4.25 | 4.05 | 010
53010 |  | A | Incision of urethra | 4.31 | NA | NA | 3.83 | 3.14 | 0.24 | NA | NA | 8.38 | 7.69 | 090
53020 |  | A | Incision of urethra | 1.77 | NA | NA | 0.96 | 0.74 | 0.13 | NA | NA | 2.86 | 2.64 | 000
53025 |  | A | Incision of urethra | 1.13 | NA | NA | 0.68 | 0.55 | 0.08 | NA | NA | 1.89 | 1.76 | 000
53040 |  | A | Drainage of urethra abscess | 6.45 | NA | NA | 4.45 | 3.69 | 0.45 | NA | NA | 11.35 | 10.59 | 090
53060 |  | A | Drainage of urethra abscess | 2.63 | 2.01 | 2.06 | 1.47 | 1.40 | 0.28 | 4.92 | 4.97 | 4.38 | 4.31 | 010
53080 |  | A | Drainage of urinary leakage | 6.78 | NA | NA | 4.94 | 5.70 | 0.52 | NA | NA | 12.24 | 13.00 | 090
53085 |  | A | Drainage of urinary leakage | 11.00 | NA | NA | 4.54 | 6.69 | 0.92 | NA | NA | 16.46 | 18.60 | 090
53200 |  | A | Biopsy of urethra | 2.59 | 1.71 | 1.42 | 1.30 | 1.06 | 0.20 | 4.50 | 4.21 | 4.09 | 3.85 | 000
53210 |  | A | Removal of urethra | 13.54 | NA | NA | 7.80 | 6.32 | 0.89 | NA | NA | 22.23 | 20.75 | 090
53215 |  | A | Removal of urethra | 16.67 | NA | NA | 9.22 | 7.27 | 1.10 | NA | NA | 26.99 | 25.04 | 090
53220 |  | A | Treatment of urethra lesion | 7.49 | NA | NA | 5.04 | 4.04 | 0.49 | NA | NA | 13.02 | 12.02 | 090
53230 |  | A | Removal of urethra lesion | 10.26 | NA | NA | 6.49 | 5.16 | 0.73 | NA | NA | 17.48 | 16.15 | 090
53235 |  | A | Removal of urethra lesion | 10.81 | NA | NA | 6.96 | 5.42 | 0.72 | NA | NA | 18.49 | 16.95 | 090
53240 |  | A | Surgery for urethra pouch | 6.94 | NA | NA | 4.80 | 3.84 | 0.52 | NA | NA | 12.26 | 11.30 | 090
53250 |  | A | Removal of urethra gland | 6.38 | NA | NA | 4.72 | 3.65 | 0.49 | NA | NA | 11.59 | 10.52 | 090
53260 |  | A | Treatment of urethra lesion | 2.98 | 2.48 | 2.30 | 1.86 | 1.53 | 0.25 | 5.71 | 5.53 | 5.09 | 4.76 | 010
53265 |  | A | Treatment of urethra lesion | 3.12 | 2.98 | 2.78 | 2.02 | 1.57 | 0.24 | 6.34 | 6.14 | 5.38 | 4.93 | 010
53270 |  | A | Removal of urethra gland | 3.09 | 2.31 | 2.23 | 1.72 | 1.59 | 0.30 | 5.70 | 5.62 | 5.11 | 4.98 | 010
53275 |  | A | Repair of urethra defect | 4.52 | NA | NA | 2.79 | 2.39 | 0.32 | NA | NA | 7.63 | 7.23 | 010
53400 |  | A | Revise urethra, stage 1 | 13.92 | NA | NA | 8.23 | 6.57 | 0.98 | NA | NA | 23.13 | 21.47 | 090
53405 |  | A | Revise urethra, stage 2 | 15.45 | NA | NA | 8.96 | 6.97 | 1.10 | NA | NA | 25.51 | 23.52 | 090
53410 |  | A | Reconstruction of urethra | 17.47 | NA | NA | 9.84 | 7.75 | 1.16 | NA | NA | 28.47 | 26.38 | 090
53415 |  | A | Reconstruction of urethra | 20.49 | NA | NA | 11.00 | 8.25 | 1.37 | NA | NA | 32.86 | 30.11 | 090
53420 |  | A | Reconstruct urethra, stage 1 | 14.99 | NA | NA | 6.51 | 6.34 | 0.96 | NA | NA | 22.46 | 22.29 | 090
53425 |  | A | Reconstruct urethra, stage 2 | 16.89 | NA | NA | 9.30 | 7.49 | 1.13 | NA | NA | 27.32 | 25.51 | 090
53430 |  | A | Reconstruction of urethra | 17.25 | NA | NA | 8.73 | 7.43 | 1.15 | NA | NA | 27.13 | 25.83 | 090
53431 |  | A | Reconstruct urethra/bladder | 20.97 | NA | NA | 11.08 | 8.81 | 1.41 | NA | NA | 33.46 | 31.19 | 090
53440 |  | A | Male sling procedure | 15.33 | NA | NA | 9.31 | 6.81 | 0.96 | NA | NA | 25.60 | 23.10 | 090
53442 |  | A | Remove/revise male sling | 13.28 | NA | NA | 8.50 | 6.20 | 0.82 | NA | NA | 22.60 | 20.30 | 090
53444 |  | A | Insert tandem cuff | 14.00 | NA | NA | 8.09 | 6.43 | 0.94 | NA | NA | 23.03 | 21.37 | 090
53445 |  | A | Insert uro/ves nck sphincter | 15.15 | NA | NA | 8.86 | 7.53 | 0.99 | NA | NA | 25.00 | 23.67 | 090
53446 |  | A | Remove uro sphincter | 10.83 | NA | NA | 7.10 | 5.68 | 0.72 | NA | NA | 18.65 | 17.23 | 090
53447 |  | A | Remove/replace ur sphincter | 14.09 | NA | NA | 8.48 | 6.94 | 0.95 | NA | NA | 23.52 | 21.98 | 090
53448 |  | A | Remov/replc ur sphinctr comp | 23.20 | NA | NA | 12.52 | 9.91 | 1.50 | NA | NA | 37.22 | 34.61 | 090
53449 |  | A | Repair uro sphincter | 10.38 | NA | NA | 6.70 | 5.22 | 0.68 | NA | NA | 17.76 | 16.28 | 090
53450 |  | A | Revision of urethra | 6.63 | NA | NA | 4.81 | 3.67 | 0.43 | NA | NA | 11.87 | 10.73 | 090
53460 |  | A | Revision of urethra | 7.61 | NA | NA | 5.17 | 4.06 | 0.50 | NA | NA | 13.28 | 12.17 | 090
53500 |  | A | Urethrlys, transvag w/scope | 12.81 | NA | NA | 7.47 | 6.52 | 0.90 | NA | NA | 21.18 | 20.23 | 090
53502 |  | A | Repair of urethra injury | 8.12 | NA | NA | 5.06 | 4.25 | 0.62 | NA | NA | 13.80 | 12.99 | 090
53505 |  | A | Repair of urethra injury | 8.12 | NA | NA | 5.45 | 4.26 | 0.54 | NA | NA | 14.11 | 12.92 | 090
53510 |  | A | Repair of urethra injury | 10.78 | NA | NA | 6.78 | 5.57 | 0.74 | NA | NA | 18.30 | 17.08 | 090
53515 |  | A | Repair of urethra injury | 14.04 | NA | NA | 7.89 | 6.41 | 1.05 | NA | NA | 22.98 | 21.50 | 090
53520 |  | A | Repair of urethra defect | 9.30 | NA | NA | 6.17 | 4.90 | 0.61 | NA | NA | 16.08 | 14.81 | 090
53600 |  | A | Dilate urethra stricture | 1.21 | 1.16 | 1.15 | 0.57 | 0.47 | 0.09 | 2.46 | 2.45 | 1.87 | 1.77 | 000
53601 |  | A | Dilate urethra stricture | 0.98 | 1.38 | 1.30 | 0.53 | 0.41 | 0.07 | 2.43 | 2.35 | 1.58 | 1.46 | 000
53605 |  | A | Dilate urethra stricture | 1.28 | NA | NA | 0.52 | 0.44 | 0.09 | NA | NA | 1.89 | 1.81 | 000
53620 |  | A | Dilate urethra stricture | 1.62 | 1.72 | 1.92 | 0.84 | 0.65 | 0.11 | 3.45 | 3.65 | 2.57 | 2.38 | 000
53621 |  | A | Dilate urethra stricture | 1.35 | 1.83 | 2.01 | 0.68 | 0.54 | 0.10 | 3.28 | 3.46 | 2.13 | 1.99 | 000
53660 |  | A | Dilation of urethra | 0.71 | 1.33 | 1.32 | 0.46 | 0.35 | 0.05 | 2.09 | 2.08 | 1.22 | 1.11 | 000
53661 |  | A | Dilation of urethra | 0.72 | 1.31 | 1.30 | 0.42 | 0.32 | 0.05 | 2.08 | 2.07 | 1.19 | 1.09 | 000
53665 |  | A | Dilation of urethra | 0.76 | NA | NA | 0.27 | 0.26 | 0.06 | NA | NA | 1.09 | 1.08 | 000
53850 |  | A | Prostatic microwave thermotx | 9.94 | 49.68 | 82.97 | 5.94 | 4.44 | 0.67 | 60.29 | 93.58 | 16.55 | 15.05 | 090
53852 |  | A | Prostatic rf thermotx | 10.62 | 46.82 | 78.28 | 6.74 | 4.96 | 0.70 | 58.14 | 89.60 | 18.06 | 16.28 | 090
53853 |  | A | Prostatic water thermother | 5.48 | 29.37 | 48.85 | 4.39 | 3.24 | 0.37 | 35.22 | 54.70 | 10.24 | 9.09 | 090
53899 |  | C | Urology surgery procedure | 0.00 | 0.00 | 0.00 | 0.00 | 0.00 | 0.00 | 0.00 | 0.00 | 0.00 | 0.00 | YYY
54000 |  | A | Slitting of prepuce | 1.54 | 2.72 | 2.86 | 1.49 | 1.07 | 0.11 | 4.37 | 4.51 | 3.14 | 2.72 | 010
54001 |  | A | Slitting of prepuce | 2.19 | 3.07 | 3.15 | 1.67 | 1.25 | 0.15 | 5.41 | 5.49 | 4.01 | 3.59 | 010
54015 |  | A | Drain penis lesion | 5.31 | NA | NA | 3.22 | 2.72 | 0.38 | NA | NA | 8.91 | 8.41 | 010
54050 |  | A | Destruction, penis lesion(s) | 1.24 | 2.05 | 1.76 | 1.35 | 1.11 | 0.08 | 3.37 | 3.08 | 2.67 | 2.43 | 010
54055 |  | A | Destruction, penis lesion(s) | 1.22 | 1.97 | 1.67 | 1.23 | 0.91 | 0.08 | 3.27 | 2.97 | 2.53 | 2.21 | 010
54056 |  | A | Cryosurgery, penis lesion(s) | 1.24 | 2.29 | 1.84 | 1.48 | 1.22 | 0.06 | 3.59 | 3.14 | 2.78 | 2.52 | 010
54057 |  | A | Laser surg, penis lesion(s) | 1.24 | 2.61 | 2.31 | 1.36 | 0.96 | 0.09 | 3.94 | 3.64 | 2.69 | 2.29 | 010
54060 |  | A | Excision of penis lesion(s) | 1.93 | 3.11 | 3.10 | 1.64 | 1.21 | 0.13 | 5.17 | 5.16 | 3.70 | 3.27 | 010
54065 |  | A | Destruction, penis lesion(s) | 2.42 | 3.22 | 2.78 | 1.94 | 1.41 | 0.13 | 5.77 | 5.33 | 4.49 | 3.96 | 010
54100 |  | A | Biopsy of penis | 1.90 | 3.30 | 2.93 | 1.34 | 0.95 | 0.10 | 5.30 | 4.93 | 3.34 | 2.95 | 000
54105 |  | A | Biopsy of penis | 3.49 | 4.03 | 4.22 | 2.47 | 2.07 | 0.25 | 7.77 | 7.96 | 6.21 | 5.81 | 010
54110 |  | A | Treatment of penis lesion | 10.74 | NA | NA | 6.58 | 5.21 | 0.72 | NA | NA | 18.03 | 16.67 | 090
54111 |  | A | Treat penis lesion, graft | 14.24 | NA | NA | 8.13 | 6.35 | 0.96 | NA | NA | 23.33 | 21.55 | 090
54112 |  | A | Treat penis lesion, graft | 16.77 | NA | NA | 9.42 | 7.45 | 1.11 | NA | NA | 27.30 | 25.33 | 090
54115 |  | A | Treatment of penis lesion | 6.77 | 5.87 | 4.75 | 5.03 | 3.85 | 0.43 | 13.07 | 11.95 | 12.23 | 11.05 | 090
54120 |  | A | Partial removal of penis | 10.83 | NA | NA | 6.81 | 5.21 | 0.68 | NA | NA | 18.32 | 16.72 | 090
54125 |  | A | Removal of penis | 14.38 | NA | NA | 8.25 | 6.43 | 0.95 | NA | NA | 23.58 | 21.76 | 090
54130 |  | A | Remove penis & nodes | 21.59 | NA | NA | 11.40 | 8.98 | 1.52 | NA | NA | 34.51 | 32.09 | 090
54135 |  | A | Remove penis & nodes | 27.92 | NA | NA | 14.31 | 11.20 | 1.87 | NA | NA | 44.10 | 40.99 | 090
54150 |  | A | Circumcision | 1.81 | 2.56 | 3.90 | 0.57 | 0.67 | 0.16 | 4.53 | 5.87 | 2.54 | 2.64 | 000
54152 |  | A | Circumcision | 2.31 | NA | NA | 1.72 | 1.33 | 0.19 | NA | NA | 4.22 | 3.83 | 010
54160 |  | A | Circumcision | 2.48 | 3.69 | 4.03 | 1.45 | 1.18 | 0.19 | 6.36 | 6.70 | 4.12 | 3.85 | 010
54161 |  | A | Circumcision | 3.27 | NA | NA | 2.22 | 1.73 | 0.23 | NA | NA | 5.72 | 5.23 | 010
54162 |  | A | Lysis penil circumic lesion | 3.25 | 4.02 | 4.49 | 2.27 | 1.65 | 0.21 | 7.48 | 7.95 | 5.73 | 5.11 | 010
54163 |  | A | Repair of circumcision | 3.25 | NA | NA | 2.89 | 2.22 | 0.21 | NA | NA | 6.35 | 5.68 | 010
54164 |  | A | Frenulotomy of penis | 2.75 | NA | NA | 2.65 | 2.04 | 0.18 | NA | NA | 5.58 | 4.97 | 010
54200 |  | A | Treatment of penis lesion | 1.06 | 2.03 | 1.85 | 1.31 | 1.06 | 0.08 | 3.17 | 2.99 | 2.45 | 2.20 | 010
54205 |  | A | Treatment of penis lesion | 8.79 | NA | NA | 6.12 | 5.04 | 0.56 | NA | NA | 15.47 | 14.39 | 090
54220 |  | A | Treatment of penis lesion | 2.42 | 3.35 | 3.72 | 1.37 | 1.06 | 0.17 | 5.94 | 6.31 | 3.96 | 3.65 | 000
54230 |  | A | Prepare penis study | 1.34 | 1.41 | 1.16 | 0.91 | 0.70 | 0.09 | 2.84 | 2.59 | 2.34 | 2.13 | 000
54231 |  | A | Dynamic cavernosometry | 2.04 | 1.87 | 1.50 | 1.18 | 0.95 | 0.16 | 4.07 | 3.70 | 3.38 | 3.15 | 000
54235 |  | A | Penile injection | 1.19 | 1.40 | 1.07 | 0.90 | 0.66 | 0.08 | 2.67 | 2.34 | 2.17 | 1.93 | 000
54240 |  | A | Penis study | 1.31 | 1.55 | 1.16 | 1.55 | 1.16 | 0.17 | 3.03 | 2.64 | 3.03 | 2.64 | 000
54240 | 26 | A | Penis study | 1.31 | 0.50 | 0.45 | 0.50 | 0.45 | 0.11 | 1.92 | 1.87 | 1.92 | 1.87 | 000
54240 | TC | A | Penis study | 0.00 | 1.05 | 0.71 | 1.05 | 0.71 | 0.06 | 1.11 | 0.77 | 1.11 | 0.77 | 000
54250 |  | A | Penis study | 2.22 | 1.25 | 1.00 | 1.25 | 1.00 | 0.18 | 3.65 | 3.40 | 3.65 | 3.40 | 000
54250 | 26 | A | Penis study | 2.22 | 0.88 | 0.75 | 0.88 | 0.75 | 0.16 | 3.26 | 3.13 | 3.26 | 3.13 | 000
54250 | TC | A | Penis study | 0.00 | 0.37 | 0.24 | 0.37 | 0.24 | 0.02 | 0.39 | 0.26 | 0.39 | 0.26 | 000
54300 |  | A | Revision of penis | 11.02 | NA | NA | 6.80 | 5.87 | 0.76 | NA | NA | 18.58 | 17.65 | 090
54304 |  | A | Revision of penis | 13.10 | NA | NA | 7.89 | 6.71 | 0.88 | NA | NA | 21.87 | 20.69 | 090
54308 |  | A | Reconstruction of urethra | 12.44 | NA | NA | 7.58 | 6.36 | 0.84 | NA | NA | 20.86 | 19.64 | 090
54312 |  | A | Reconstruction of urethra | 14.30 | NA | NA | 8.58 | 7.38 | 1.24 | NA | NA | 24.12 | 22.92 | 090
54316 |  | A | Reconstruction of urethra | 17.84 | NA | NA | 10.07 | 8.47 | 1.21 | NA | NA | 29.12 | 27.52 | 090
54318 |  | A | Reconstruction of urethra | 12.22 | NA | NA | 6.25 | 5.90 | 1.39 | NA | NA | 19.86 | 19.51 | 090
54322 |  | A | Reconstruction of urethra | 13.80 | NA | NA | 7.94 | 6.82 | 0.92 | NA | NA | 22.66 | 21.54 | 090
54324 |  | A | Reconstruction of urethra | 17.34 | NA | NA | 9.83 | 8.42 | 1.14 | NA | NA | 28.31 | 26.90 | 090
54326 |  | A | Reconstruction of urethra | 16.81 | NA | NA | 9.65 | 8.24 | 1.11 | NA | NA | 27.57 | 26.16 | 090
54328 |  | A | Revise penis/urethra | 16.68 | NA | NA | 9.73 | 7.86 | 0.98 | NA | NA | 27.39 | 25.52 | 090
54332 |  | A | Revise penis/urethra | 18.16 | NA | NA | 10.20 | 8.34 | 1.21 | NA | NA | 29.57 | 27.71 | 090
54336 |  | A | Revise penis/urethra | 21.37 | NA | NA | 11.88 | 10.68 | 2.20 | NA | NA | 35.45 | 34.25 | 090
54340 |  | A | Secondary urethral surgery | 9.53 | NA | NA | 6.43 | 5.38 | 0.63 | NA | NA | 16.58 | 15.54 | 090
54344 |  | A | Secondary urethral surgery | 16.85 | NA | NA | 9.79 | 8.25 | 1.54 | NA | NA | 28.18 | 26.64 | 090
54348 |  | A | Secondary urethral surgery | 18.11 | NA | NA | 6.40 | 7.86 | 1.23 | NA | NA | 25.74 | 27.20 | 090
54352 |  | A | Reconstruct urethra/penis | 25.88 | NA | NA | 13.72 | 11.81 | 2.24 | NA | NA | 41.84 | 39.93 | 090
54360 |  | A | Penis plastic surgery | 12.60 | NA | NA | 7.54 | 6.40 | 0.84 | NA | NA | 20.98 | 19.84 | 090
54380 |  | A | Repair penis | 13.97 | NA | NA | 5.59 | 6.35 | 0.93 | NA | NA | 20.49 | 21.25 | 090
54385 |  | A | Repair penis | 16.31 | NA | NA | 8.37 | 8.28 | 0.86 | NA | NA | 25.54 | 25.45 | 090
54390 |  | A | Repair penis and bladder | 22.52 | NA | NA | 7.49 | 8.92 | 1.54 | NA | NA | 31.55 | 32.98 | 090
54400 |  | A | Insert semi-rigid prosthesis | 9.04 | NA | NA | 5.80 | 4.71 | 0.64 | NA | NA | 15.48 | 14.39 | 090
54401 |  | A | Insert self-contd prosthesis | 10.26 | NA | NA | 8.26 | 6.36 | 0.73 | NA | NA | 19.25 | 17.35 | 090
54405 |  | A | Insert multi-comp penis pros | 14.34 | NA | NA | 8.22 | 6.49 | 0.95 | NA | NA | 23.51 | 21.78 | 090
54406 |  | A | Remove muti-comp penis pros | 12.70 | NA | NA | 7.70 | 5.98 | 0.86 | NA | NA | 21.26 | 19.54 | 090
54408 |  | A | Repair multi-comp penis pros | 13.67 | NA | NA | 8.31 | 6.37 | 0.90 | NA | NA | 22.88 | 20.94 | 090
54410 |  | A | Remove/replace penis prosth | 16.42 | NA | NA | 9.45 | 7.32 | 1.10 | NA | NA | 26.97 | 24.84 | 090
54411 |  | A | Remov/replc penis pros, comp | 18.06 | NA | NA | 10.50 | 7.90 | 1.13 | NA | NA | 29.69 | 27.09 | 090
54415 |  | A | Remove self-contd penis pros | 8.69 | NA | NA | 6.06 | 4.66 | 0.58 | NA | NA | 15.33 | 13.93 | 090
54416 |  | A | Remv/repl penis contain pros | 11.79 | NA | NA | 7.96 | 6.01 | 0.77 | NA | NA | 20.52 | 18.57 | 090
54417 |  | A | Remv/replc penis pros, compl | 15.88 | NA | NA | 9.22 | 6.93 | 1.00 | NA | NA | 26.10 | 23.81 | 090
54420 |  | A | Revision of penis | 12.21 | NA | NA | 7.61 | 6.07 | 0.81 | NA | NA | 20.63 | 19.08 | 090
54430 |  | A | Revision of penis | 10.88 | NA | NA | 6.99 | 5.57 | 0.72 | NA | NA | 18.58 | 17.17 | 090
54435 |  | A | Revision of penis | 6.67 | NA | NA | 4.98 | 3.95 | 0.43 | NA | NA | 12.08 | 11.05 | 090
54440 |  | C | Repair of penis | 0.00 | 0.00 | 0.00 | 0.00 | 0.00 | 0.00 | 0.00 | 0.00 | 0.00 | 0.00 | 090
54450 |  | A | Preputial stretching | 1.12 | 0.86 | 0.93 | 0.49 | 0.45 | 0.08 | 2.06 | 2.13 | 1.69 | 1.65 | 000
54500 |  | A | Biopsy of testis | 1.31 | NA | NA | 0.80 | 0.62 | 0.10 | NA | NA | 2.21 | 2.03 | 000
54505 |  | A | Biopsy of testis | 3.45 | NA | NA | 2.41 | 2.04 | 0.27 | NA | NA | 6.13 | 5.76 | 010
54512 |  | A | Excise lesion testis | 9.19 | NA | NA | 5.72 | 4.52 | 0.67 | NA | NA | 15.58 | 14.38 | 090
54520 |  | A | Removal of testis | 5.22 | NA | NA | 3.76 | 3.03 | 0.50 | NA | NA | 9.48 | 8.75 | 090
54522 |  | A | Orchiectomy, partial | 10.11 | NA | NA | 5.80 | 5.10 | 0.89 | NA | NA | 16.80 | 16.10 | 090
54530 |  | A | Removal of testis | 9.26 | NA | NA | 6.13 | 4.71 | 0.66 | NA | NA | 16.05 | 14.63 | 090
54535 |  | A | Extensive testis surgery | 13.01 | NA | NA | 7.59 | 6.05 | 0.95 | NA | NA | 21.55 | 20.01 | 090
54550 |  | A | Exploration for testis | 8.27 | NA | NA | 5.38 | 4.20 | 0.59 | NA | NA | 14.24 | 13.06 | 090
54560 |  | A | Exploration for testis | 11.92 | NA | NA | 6.32 | 5.44 | 0.90 | NA | NA | 19.14 | 18.26 | 090
54600 |  | A | Reduce testis torsion | 7.50 | NA | NA | 5.18 | 3.95 | 0.51 | NA | NA | 13.19 | 11.96 | 090
54620 |  | A | Suspension of testis | 5.14 | NA | NA | 3.28 | 2.64 | 0.37 | NA | NA | 8.79 | 8.15 | 010
54640 |  | A | Suspension of testis | 7.53 | NA | NA | 5.50 | 4.17 | 0.62 | NA | NA | 13.65 | 12.32 | 090
54650 |  | A | Orchiopexy (Fowler-Stephens) | 12.18 | NA | NA | 7.72 | 5.97 | 1.16 | NA | NA | 21.06 | 19.31 | 090
54660 |  | A | Revision of testis | 5.60 | NA | NA | 4.44 | 3.35 | 0.44 | NA | NA | 10.48 | 9.39 | 090
54670 |  | A | Repair testis injury | 6.52 | NA | NA | 4.84 | 3.86 | 0.47 | NA | NA | 11.83 | 10.85 | 090
54680 |  | A | Relocation of testis(es) | 13.86 | NA | NA | 7.78 | 6.55 | 1.16 | NA | NA | 22.80 | 21.57 | 090
54690 |  | A | Laparoscopy, orchiectomy | 11.56 | NA | NA | 6.20 | 5.25 | 1.02 | NA | NA | 18.78 | 17.83 | 090
54692 |  | A | Laparoscopy, orchiopexy | 13.60 | NA | NA | 7.66 | 5.98 | 1.30 | NA | NA | 22.56 | 20.88 | 090
54699 |  | C | Laparoscope proc, testis | 0.00 | 0.00 | 0.00 | 0.00 | 0.00 | 0.00 | 0.00 | 0.00 | 0.00 | 0.00 | YYY
54700 |  | A | Drainage of scrotum | 3.42 | NA | NA | 2.40 | 2.05 | 0.28 | NA | NA | 6.10 | 5.75 | 010
54800 |  | A | Biopsy of epididymis | 2.33 | NA | NA | 1.00 | 0.93 | 0.23 | NA | NA | 3.56 | 3.49 | 000
54820 |  | A | Exploration of epididymis | 5.63 | NA | NA | 4.32 | 3.28 | 0.40 | NA | NA | 10.35 | 9.31 | 090
54830 |  | A | Remove epididymis lesion | 5.87 | NA | NA | 4.48 | 3.38 | 0.41 | NA | NA | 10.76 | 9.66 | 090
54840 |  | A | Remove epididymis lesion | 5.19 | NA | NA | 3.84 | 3.04 | 0.37 | NA | NA | 9.40 | 8.60 | 090
54860 |  | A | Removal of epididymis | 6.81 | NA | NA | 4.92 | 3.71 | 0.45 | NA | NA | 12.18 | 10.97 | 090
54861 |  | A | Removal of epididymis | 9.52 | NA | NA | 6.32 | 4.81 | 0.63 | NA | NA | 16.47 | 14.96 | 090
54900 |  | A | Fusion of spermatic ducts | 13.99 | NA | NA | 5.29 | 5.66 | 0.93 | NA | NA | 20.21 | 20.58 | 090
54901 |  | A | Fusion of spermatic ducts | 18.85 | NA | NA | 6.64 | 7.29 | 1.82 | NA | NA | 27.31 | 27.96 | 090
55000 |  | A | Drainage of hydrocele | 1.43 | 1.86 | 2.01 | 0.92 | 0.72 | 0.11 | 3.40 | 3.55 | 2.46 | 2.26 | 000
55040 |  | A | Removal of hydrocele | 5.35 | NA | NA | 3.98 | 3.16 | 0.43 | NA | NA | 9.76 | 8.94 | 090
55041 |  | A | Removal of hydroceles | 8.36 | NA | NA | 5.74 | 4.41 | 0.60 | NA | NA | 14.70 | 13.37 | 090
55060 |  | A | Repair of hydrocele | 6.01 | NA | NA | 4.47 | 3.42 | 0.46 | NA | NA | 10.94 | 9.89 | 090
55100 |  | A | Drainage of scrotum abscess | 2.38 | 3.52 | 3.63 | 2.12 | 1.70 | 0.17 | 6.07 | 6.18 | 4.67 | 4.25 | 010
55110 |  | A | Explore scrotum | 6.19 | NA | NA | 4.52 | 3.47 | 0.43 | NA | NA | 11.14 | 10.09 | 090
55120 |  | A | Removal of scrotum lesion | 5.58 | NA | NA | 4.30 | 3.28 | 0.39 | NA | NA | 10.27 | 9.25 | 090
55150 |  | A | Removal of scrotum | 7.96 | NA | NA | 5.49 | 4.25 | 0.56 | NA | NA | 14.01 | 12.77 | 090
55175 |  | A | Revision of scrotum | 5.73 | NA | NA | 4.38 | 3.35 | 0.37 | NA | NA | 10.48 | 9.45 | 090
55180 |  | A | Revision of scrotum | 11.57 | NA | NA | 7.32 | 5.84 | 0.90 | NA | NA | 19.79 | 18.31 | 090
55200 |  | A | Incision of sperm duct | 4.48 | 8.27 | 11.30 | 3.38 | 2.62 | 0.33 | 13.08 | 16.11 | 8.19 | 7.43 | 090
55250 |  | A | Removal of sperm duct(s) | 3.29 | 7.74 | 10.54 | 3.00 | 2.41 | 0.25 | 11.28 | 14.08 | 6.54 | 5.95 | 090
55300 |  | A | Prepare, sperm duct x-ray | 3.50 | NA | NA | 1.63 | 1.39 | 0.25 | NA | NA | 5.38 | 5.14 | 000
55400 |  | A | Repair of sperm duct | 8.48 | NA | NA | 5.50 | 4.41 | 0.64 | NA | NA | 14.62 | 13.53 | 090
55450 |  | A | Ligation of sperm duct | 4.36 | 6.00 | 6.74 | 2.86 | 2.11 | 0.29 | 10.65 | 11.39 | 7.51 | 6.76 | 010
55500 |  | A | Removal of hydrocele | 6.08 | NA | NA | 4.26 | 3.38 | 0.55 | NA | NA | 10.89 | 10.01 | 090
55520 |  | A | Removal of sperm cord lesion | 6.52 | NA | NA | 3.86 | 3.40 | 0.75 | NA | NA | 11.13 | 10.67 | 090
55530 |  | A | Revise spermatic cord veins | 5.65 | NA | NA | 4.16 | 3.29 | 0.45 | NA | NA | 10.26 | 9.39 | 090
55535 |  | A | Revise spermatic cord veins | 7.05 | NA | NA | 4.88 | 3.76 | 0.47 | NA | NA | 12.40 | 11.28 | 090
55540 |  | A | Revise hernia & sperm veins | 8.16 | NA | NA | 4.32 | 3.92 | 0.94 | NA | NA | 13.42 | 13.02 | 090
55550 |  | A | Laparo ligate spermatic vein | 7.06 | NA | NA | 4.58 | 3.61 | 0.57 | NA | NA | 12.21 | 11.24 | 090
55559 |  | C | Laparo proc, spermatic cord | 0.00 | 0.00 | 0.00 | 0.00 | 0.00 | 0.00 | 0.00 | 0.00 | 0.00 | 0.00 | YYY
55600 |  | A | Incise sperm duct pouch | 6.87 | NA | NA | 4.95 | 3.73 | 0.62 | NA | NA | 12.44 | 11.22 | 090
55605 |  | A | Incise sperm duct pouch | 8.58 | NA | NA | 4.94 | 4.45 | 0.64 | NA | NA | 14.16 | 13.67 | 090
55650 |  | A | Remove sperm duct pouch | 12.47 | NA | NA | 7.31 | 5.77 | 0.92 | NA | NA | 20.70 | 19.16 | 090
55680 |  | A | Remove sperm pouch lesion | 5.56 | NA | NA | 3.90 | 3.20 | 0.47 | NA | NA | 9.93 | 9.23 | 090
55700 |  | A | Biopsy of prostate | 2.58 | 3.75 | 4.08 | 1.34 | 0.82 | 0.11 | 6.44 | 6.77 | 4.03 | 3.51 | 000
55705 |  | A | Biopsy of prostate | 4.56 | NA | NA | 2.89 | 2.44 | 0.32 | NA | NA | 7.77 | 7.32 | 010
55720 |  | A | Drainage of prostate abscess | 7.63 | NA | NA | 4.84 | 4.07 | 0.95 | NA | NA | 13.42 | 12.65 | 090
55725 |  | A | Drainage of prostate abscess | 9.84 | NA | NA | 6.41 | 4.96 | 0.70 | NA | NA | 16.95 | 15.50 | 090
55801 |  | A | Removal of prostate | 19.55 | NA | NA | 10.68 | 8.37 | 1.34 | NA | NA | 31.57 | 29.26 | 090
55810 |  | A | Extensive prostate surgery | 24.08 | NA | NA | 12.49 | 9.81 | 1.60 | NA | NA | 38.17 | 35.49 | 090
55812 |  | A | Extensive prostate surgery | 29.61 | NA | NA | 15.07 | 11.99 | 2.04 | NA | NA | 46.72 | 43.64 | 090
55815 |  | A | Extensive prostate surgery | 32.67 | NA | NA | 16.50 | 13.03 | 2.16 | NA | NA | 51.33 | 47.86 | 090
55821 |  | A | Removal of prostate | 15.58 | NA | NA | 8.79 | 6.84 | 1.01 | NA | NA | 25.38 | 23.43 | 090
55831 |  | A | Removal of prostate | 17.01 | NA | NA | 9.37 | 7.32 | 1.10 | NA | NA | 27.48 | 25.43 | 090
55840 |  | A | Extensive prostate surgery | 24.38 | NA | NA | 12.82 | 10.15 | 1.61 | NA | NA | 38.81 | 36.14 | 090
55842 |  | A | Extensive prostate surgery | 26.24 | NA | NA | 13.67 | 10.78 | 1.72 | NA | NA | 41.63 | 38.74 | 090
55845 |  | A | Extensive prostate surgery | 30.46 | NA | NA | 14.90 | 11.91 | 2.02 | NA | NA | 47.38 | 44.39 | 090
55859 |  | A | Percut/needle insert, pros | 13.25 | NA | NA | 7.90 | 6.35 | 0.89 | NA | NA | 22.04 | 20.49 | 090
55860 |  | A | Surgical exposure, prostate | 15.66 | NA | NA | 8.73 | 6.98 | 1.02 | NA | NA | 25.41 | 23.66 | 090
55862 |  | A | Extensive prostate surgery | 19.83 | NA | NA | 10.84 | 8.58 | 1.49 | NA | NA | 32.16 | 29.90 | 090
55865 |  | A | Extensive prostate surgery | 24.32 | NA | NA | 12.97 | 10.17 | 1.63 | NA | NA | 38.92 | 36.12 | 090
55866 |  | A | Laparo radical prostatectomy | 32.17 | NA | NA | 16.15 | 12.81 | 2.16 | NA | NA | 50.48 | 47.14 | 090
55870 |  | A | Electroejaculation | 2.58 | 2.47 | 1.77 | 1.44 | 1.17 | 0.16 | 5.21 | 4.51 | 4.18 | 3.91 | 000
55873 |  | A | Cryoablate prostate | 20.19 | NA | NA | 11.44 | 9.56 | 1.38 | NA | NA | 33.01 | 31.13 | 090
55899 |  | C | Genital surgery procedure | 0.00 | 0.00 | 0.00 | 0.00 | 0.00 | 0.00 | 0.00 | 0.00 | 0.00 | 0.00 | YYY
56405 |  | A | I & D of vulva/perineum | 1.44 | 1.18 | 1.29 | 1.16 | 1.15 | 0.17 | 2.79 | 2.90 | 2.77 | 2.76 | 010
56420 |  | A | Drainage of gland abscess | 1.39 | 1.52 | 2.08 | 0.78 | 0.98 | 0.16 | 3.07 | 3.63 | 2.33 | 2.53 | 010
56440 |  | A | Surgery for vulva lesion | 2.84 | NA | NA | 1.54 | 1.67 | 0.34 | NA | NA | 4.72 | 4.85 | 010
56441 |  | A | Lysis of labial lesion(s) | 1.97 | 1.71 | 1.79 | 1.56 | 1.45 | 0.20 | 3.88 | 3.96 | 3.73 | 3.62 | 010
56501 |  | A | Destroy, vulva lesions, sim | 1.53 | 1.64 | 1.75 | 1.22 | 1.24 | 0.18 | 3.35 | 3.46 | 2.93 | 2.95 | 010
56515 |  | A | Destroy vulva lesion/s compl | 3.01 | 2.37 | 2.50 | 1.73 | 1.79 | 0.33 | 5.71 | 5.84 | 5.07 | 5.13 | 010
56605 |  | A | Biopsy of vulva/perineum | 1.10 | 0.91 | 1.03 | 0.35 | 0.43 | 0.13 | 2.14 | 2.26 | 1.58 | 1.66 | 000
56606 |  | A | Biopsy of vulva/perineum | 0.55 | 0.36 | 0.46 | 0.16 | 0.21 | 0.07 | 0.98 | 1.08 | 0.78 | 0.83 | ZZZ
56620 |  | A | Partial removal of vulva | 8.39 | NA | NA | 4.41 | 4.70 | 0.90 | NA | NA | 13.70 | 13.99 | 090
56625 |  | A | Complete removal of vulva | 9.50 | NA | NA | 4.77 | 5.18 | 1.02 | NA | NA | 15.28 | 15.70 | 090
56630 |  | A | Extensive vulva surgery | 14.62 | NA | NA | 6.28 | 6.69 | 1.49 | NA | NA | 22.39 | 22.80 | 090
56631 |  | A | Extensive vulva surgery | 18.75 | NA | NA | 7.74 | 8.54 | 1.95 | NA | NA | 28.44 | 29.24 | 090
56632 |  | A | Extensive vulva surgery | 21.51 | NA | NA | 9.30 | 9.46 | 2.38 | NA | NA | 33.19 | 33.35 | 090
56633 |  | A | Extensive vulva surgery | 19.41 | NA | NA | 7.79 | 8.39 | 1.97 | NA | NA | 29.17 | 29.77 | 090
56634 |  | A | Extensive vulva surgery | 20.42 | NA | NA | 8.18 | 9.11 | 2.16 | NA | NA | 30.76 | 31.69 | 090
56637 |  | A | Extensive vulva surgery | 24.51 | NA | NA | 9.20 | 10.60 | 2.60 | NA | NA | 36.31 | 37.71 | 090
56640 |  | A | Extensive vulva surgery | 24.60 | NA | NA | 9.07 | 10.23 | 2.88 | NA | NA | 36.55 | 37.71 | 090
56700 |  | A | Partial removal of hymen | 2.77 | NA | NA | 1.77 | 1.82 | 0.30 | NA | NA | 4.84 | 4.89 | 010
56720 |  | A | Incision of hymen | 0.68 | NA | NA | 0.52 | 0.51 | 0.08 | NA | NA | 1.28 | 1.27 | 000
56740 |  | A | Remove vagina gland lesion | 4.81 | NA | NA | 2.32 | 2.50 | 0.56 | NA | NA | 7.69 | 7.87 | 010
56800 |  | A | Repair of vagina | 3.88 | NA | NA | 2.00 | 2.14 | 0.44 | NA | NA | 6.32 | 6.46 | 010
56805 |  | A | Repair clitoris | 19.69 | NA | NA | 9.28 | 9.38 | 2.14 | NA | NA | 31.11 | 31.21 | 090
56810 |  | A | Repair of perineum | 4.24 | NA | NA | 2.06 | 2.23 | 0.49 | NA | NA | 6.79 | 6.96 | 010
56820 |  | A | Exam of vulva w/scope | 1.50 | 1.20 | 1.28 | 0.53 | 0.62 | 0.18 | 2.88 | 2.96 | 2.21 | 2.30 | 000
56821 |  | A | Exam/biopsy of vulva w/scope | 2.05 | 1.55 | 1.70 | 0.69 | 0.86 | 0.25 | 3.85 | 4.00 | 2.99 | 3.16 | 000
57000 |  | A | Exploration of vagina | 2.97 | NA | NA | 1.72 | 1.72 | 0.31 | NA | NA | 5.00 | 5.00 | 010
57010 |  | A | Drainage of pelvic abscess | 6.70 | NA | NA | 3.85 | 3.81 | 0.71 | NA | NA | 11.26 | 11.22 | 090
57020 |  | A | Drainage of pelvic fluid | 1.50 | 0.76 | 0.90 | 0.45 | 0.56 | 0.18 | 2.44 | 2.58 | 2.13 | 2.24 | 000
57022 |  | A | I & d vaginal hematoma, pp | 2.68 | NA | NA | 1.44 | 1.48 | 0.26 | NA | NA | 4.38 | 4.42 | 010
57023 |  | A | I & d vag hematoma, non-ob | 5.11 | NA | NA | 2.40 | 2.53 | 0.58 | NA | NA | 8.09 | 8.22 | 010
57061 |  | A | Destroy vag lesions, simple | 1.25 | 1.52 | 1.62 | 1.12 | 1.12 | 0.15 | 2.92 | 3.02 | 2.52 | 2.52 | 010
57065 |  | A | Destroy vag lesions, complex | 2.61 | 2.03 | 2.23 | 1.49 | 1.63 | 0.31 | 4.95 | 5.15 | 4.41 | 4.55 | 010
57100 |  | A | Biopsy of vagina | 1.20 | 0.93 | 1.04 | 0.37 | 0.45 | 0.14 | 2.27 | 2.38 | 1.71 | 1.79 | 000
57105 |  | A | Biopsy of vagina | 1.69 | 1.59 | 1.74 | 1.34 | 1.40 | 0.20 | 3.48 | 3.63 | 3.23 | 3.29 | 010
57106 |  | A | Remove vagina wall, partial | 7.29 | NA | NA | 4.26 | 4.20 | 0.73 | NA | NA | 12.28 | 12.22 | 090
57107 |  | A | Remove vagina tissue, part | 24.37 | NA | NA | 9.11 | 10.12 | 2.71 | NA | NA | 36.19 | 37.20 | 090
57109 |  | A | Vaginectomy partial w/nodes | 28.19 | NA | NA | 10.34 | 11.02 | 3.21 | NA | NA | 41.74 | 42.42 | 090
57110 |  | A | Remove vagina wall, complete | 15.34 | NA | NA | 6.27 | 7.02 | 1.73 | NA | NA | 23.34 | 24.09 | 090
57111 |  | A | Remove vagina tissue, compl | 28.19 | NA | NA | 10.26 | 12.02 | 3.17 | NA | NA | 41.62 | 43.38 | 090
57112 |  | A | Vaginectomy w/nodes, compl | 30.31 | NA | NA | 11.58 | 11.96 | 3.07 | NA | NA | 44.96 | 45.34 | 090
57120 |  | A | Closure of vagina | 8.14 | NA | NA | 4.21 | 4.50 | 0.89 | NA | NA | 13.24 | 13.53 | 090
57130 |  | A | Remove vagina lesion | 2.43 | 1.99 | 2.11 | 1.49 | 1.53 | 0.29 | 4.71 | 4.83 | 4.21 | 4.25 | 010
57135 |  | A | Remove vagina lesion | 2.67 | 2.03 | 2.20 | 1.54 | 1.62 | 0.31 | 5.01 | 5.18 | 4.52 | 4.60 | 010
57150 |  | A | Treat vagina infection | 0.55 | 0.58 | 0.97 | 0.16 | 0.20 | 0.07 | 1.20 | 1.59 | 0.78 | 0.82 | 000
57155 |  | A | Insert uteri tandems/ovoids | 6.75 | NA | NA | 3.11 | 4.20 | 0.43 | NA | NA | 10.29 | 11.38 | 090
57160 |  | A | Insert pessary/other device | 0.89 | 1.05 | 1.02 | 0.26 | 0.32 | 0.10 | 2.04 | 2.01 | 1.25 | 1.31 | 000
57170 |  | A | Fitting of diaphragm/cap | 0.91 | 0.57 | 1.25 | 0.25 | 0.31 | 0.11 | 1.59 | 2.27 | 1.27 | 1.33 | 000
57180 |  | A | Treat vaginal bleeding | 1.58 | 1.85 | 2.08 | 0.92 | 1.18 | 0.19 | 3.62 | 3.85 | 2.69 | 2.95 | 010
57200 |  | A | Repair of vagina | 4.31 | NA | NA | 2.95 | 2.91 | 0.46 | NA | NA | 7.72 | 7.68 | 090
57210 |  | A | Repair vagina/perineum | 5.60 | NA | NA | 3.28 | 3.39 | 0.62 | NA | NA | 9.50 | 9.61 | 090
57220 |  | A | Revision of urethra | 4.74 | NA | NA | 3.03 | 3.08 | 0.51 | NA | NA | 8.28 | 8.33 | 090
57230 |  | A | Repair of urethral lesion | 6.19 | NA | NA | 3.78 | 3.50 | 0.54 | NA | NA | 10.51 | 10.23 | 090
57240 |  | A | Repair bladder & vagina | 11.38 | NA | NA | 5.47 | 4.23 | 0.62 | NA | NA | 17.47 | 16.23 | 090
57250 |  | A | Repair rectum & vagina | 11.38 | NA | NA | 5.04 | 3.94 | 0.65 | NA | NA | 17.07 | 15.97 | 090
57260 |  | A | Repair of vagina | 14.32 | NA | NA | 5.86 | 5.09 | 0.97 | NA | NA | 21.15 | 20.38 | 090
57265 |  | A | Extensive repair of vagina | 15.82 | NA | NA | 6.33 | 6.11 | 1.32 | NA | NA | 23.47 | 23.25 | 090
57267 |  | A | Insert mesh/pelvic flr addon | 4.88 | NA | NA | 1.52 | 1.86 | 0.64 | NA | NA | 7.04 | 7.38 | ZZZ
57268 |  | A | Repair of bowel bulge | 7.43 | NA | NA | 4.31 | 4.22 | 0.79 | NA | NA | 12.53 | 12.44 | 090
57270 |  | A | Repair of bowel pouch | 13.53 | NA | NA | 5.71 | 6.11 | 1.42 | NA | NA | 20.66 | 21.06 | 090
57280 |  | A | Suspension of vagina | 16.58 | NA | NA | 7.02 | 7.28 | 1.67 | NA | NA | 25.27 | 25.53 | 090
57282 |  | A | Colpopexy, extraperitoneal | 7.79 | NA | NA | 4.43 | 4.48 | 1.02 | NA | NA | 13.24 | 13.29 | 090
57283 |  | A | Colpopexy, intraperitoneal | 11.54 | NA | NA | 5.24 | 5.74 | 1.02 | NA | NA | 17.80 | 18.30 | 090
57284 |  | A | Repair paravaginal defect | 13.43 | NA | NA | 6.77 | 7.05 | 1.41 | NA | NA | 21.61 | 21.89 | 090
57287 |  | A | Revise/remove sling repair | 11.43 | NA | NA | 6.47 | 5.72 | 0.90 | NA | NA | 18.80 | 18.05 | 090
57288 |  | A | Repair bladder defect | 13.95 | NA | NA | 7.09 | 6.20 | 1.12 | NA | NA | 22.16 | 21.27 | 090
57289 |  | A | Repair bladder & vagina | 12.63 | NA | NA | 6.23 | 6.08 | 1.21 | NA | NA | 20.07 | 19.92 | 090
57291 |  | A | Construction of vagina | 8.50 | NA | NA | 4.39 | 4.79 | 0.93 | NA | NA | 13.82 | 14.22 | 090
57292 |  | A | Construct vagina with graft | 13.87 | NA | NA | 5.99 | 6.70 | 1.58 | NA | NA | 21.44 | 22.15 | 090
57295 |  | A | Change vaginal graft | 7.70 | NA | NA | 3.77 | 4.27 | 0.91 | NA | NA | 12.38 | 12.88 | 090
57300 |  | A | Repair rectum-vagina fistula | 8.53 | NA | NA | 4.48 | 4.33 | 0.87 | NA | NA | 13.88 | 13.73 | 090
57305 |  | A | Repair rectum-vagina fistula | 15.18 | NA | NA | 6.20 | 6.25 | 1.72 | NA | NA | 23.10 | 23.15 | 090
57307 |  | A | Fistula repair & colostomy | 16.96 | NA | NA | 7.04 | 7.00 | 2.01 | NA | NA | 26.01 | 25.97 | 090
57308 |  | A | Fistula repair, transperine | 10.42 | NA | NA | 4.88 | 5.04 | 1.14 | NA | NA | 16.44 | 16.60 | 090
57310 |  | A | Repair urethrovaginal lesion | 7.51 | NA | NA | 5.05 | 4.14 | 0.54 | NA | NA | 13.10 | 12.19 | 090
57311 |  | A | Repair urethrovaginal lesion | 8.77 | NA | NA | 5.16 | 4.37 | 0.65 | NA | NA | 14.58 | 13.79 | 090
57320 |  | A | Repair bladder-vagina lesion | 8.74 | NA | NA | 5.34 | 4.61 | 0.69 | NA | NA | 14.77 | 14.04 | 090
57330 |  | A | Repair bladder-vagina lesion | 13.07 | NA | NA | 7.18 | 6.07 | 1.06 | NA | NA | 21.31 | 20.20 | 090
57335 |  | A | Repair vagina | 19.81 | NA | NA | 8.80 | 8.97 | 1.91 | NA | NA | 30.52 | 30.69 | 090
57400 |  | A | Dilation of vagina | 2.27 | NA | NA | 0.99 | 1.08 | 0.26 | NA | NA | 3.52 | 3.61 | 000
57410 |  | A | Pelvic examination | 1.75 | NA | NA | 0.92 | 0.90 | 0.18 | NA | NA | 2.85 | 2.83 | 000
57415 |  | A | Remove vaginal foreign body | 2.42 | NA | NA | 1.51 | 1.44 | 0.24 | NA | NA | 4.17 | 4.10 | 010
57420 |  | A | Exam of vagina w/scope | 1.60 | 1.24 | 1.32 | 0.57 | 0.65 | 0.19 | 3.03 | 3.11 | 2.36 | 2.44 | 000
57421 |  | A | Exam/biopsy of vag w/scope | 2.20 | 1.60 | 1.78 | 0.73 | 0.90 | 0.27 | 4.07 | 4.25 | 3.20 | 3.37 | 000
57425 |  | A | Laparoscopy, surg, colpopexy | 16.89 | NA | NA | 7.00 | 6.72 | 1.75 | NA | NA | 25.64 | 25.36 | 090
57452 |  | A | Exam of cervix w/scope | 1.50 | 1.19 | 1.26 | 0.75 | 0.76 | 0.18 | 2.87 | 2.94 | 2.43 | 2.44 | 000
57454 |  | A | Bx/curett of cervix w/scope | 2.33 | 1.41 | 1.58 | 0.97 | 1.11 | 0.28 | 4.02 | 4.19 | 3.58 | 3.72 | 000
57455 |  | A | Biopsy of cervix w/scope | 1.99 | 1.51 | 1.67 | 0.67 | 0.82 | 0.24 | 3.74 | 3.90 | 2.90 | 3.05 | 000
57456 |  | A | Endocerv curettage w/scope | 1.85 | 1.47 | 1.61 | 0.63 | 0.77 | 0.22 | 3.54 | 3.68 | 2.70 | 2.84 | 000
57460 |  | A | Bx of cervix w/scope, leep | 2.83 | 4.33 | 5.46 | 1.11 | 1.31 | 0.34 | 7.50 | 8.63 | 4.28 | 4.48 | 000
57461 |  | A | Conz of cervix w/scope, leep | 3.43 | 4.63 | 5.73 | 1.08 | 1.37 | 0.41 | 8.47 | 9.57 | 4.92 | 5.21 | 000
57500 |  | A | Biopsy of cervix | 1.20 | 2.03 | 2.41 | 0.65 | 0.64 | 0.12 | 3.35 | 3.73 | 1.97 | 1.96 | 000
57505 |  | A | Endocervical curettage | 1.14 | 1.32 | 1.43 | 1.07 | 1.09 | 0.14 | 2.60 | 2.71 | 2.35 | 2.37 | 010
57510 |  | A | Cauterization of cervix | 1.90 | 1.32 | 1.50 | 0.91 | 1.01 | 0.23 | 3.45 | 3.63 | 3.04 | 3.14 | 010
57511 |  | A | Cryocautery of cervix | 1.90 | 1.61 | 1.77 | 1.27 | 1.35 | 0.23 | 3.74 | 3.90 | 3.40 | 3.48 | 010
57513 |  | A | Laser surgery of cervix | 1.90 | 1.57 | 1.68 | 1.28 | 1.37 | 0.23 | 3.70 | 3.81 | 3.41 | 3.50 | 010
57520 |  | A | Conization of cervix | 4.03 | 3.39 | 3.80 | 2.52 | 2.78 | 0.49 | 7.91 | 8.32 | 7.04 | 7.30 | 090
57522 |  | A | Conization of cervix | 3.60 | 2.79 | 3.06 | 2.27 | 2.41 | 0.41 | 6.80 | 7.07 | 6.28 | 6.42 | 090
57530 |  | A | Removal of cervix | 5.16 | NA | NA | 3.12 | 3.32 | 0.58 | NA | NA | 8.86 | 9.06 | 090
57531 |  | A | Removal of cervix, radical | 29.71 | NA | NA | 10.66 | 12.54 | 3.34 | NA | NA | 43.71 | 45.59 | 090
57540 |  | A | Removal of residual cervix | 13.15 | NA | NA | 5.61 | 6.08 | 1.49 | NA | NA | 20.25 | 20.72 | 090
57545 |  | A | Remove cervix/repair pelvis | 13.96 | NA | NA | 6.23 | 6.56 | 1.52 | NA | NA | 21.71 | 22.04 | 090
57550 |  | A | Removal of residual cervix | 6.20 | NA | NA | 3.65 | 3.78 | 0.67 | NA | NA | 10.52 | 10.65 | 090
57555 |  | A | Remove cervix/repair vagina | 9.80 | NA | NA | 4.80 | 5.01 | 1.09 | NA | NA | 15.69 | 15.90 | 090
57556 |  | A | Remove cervix, repair bowel | 9.22 | NA | NA | 4.68 | 4.81 | 0.92 | NA | NA | 14.82 | 14.95 | 090
57700 |  | A | Revision of cervix | 4.17 | NA | NA | 3.31 | 3.15 | 0.41 | NA | NA | 7.89 | 7.73 | 090
57720 |  | A | Revision of cervix | 4.50 | NA | NA | 2.92 | 3.06 | 0.49 | NA | NA | 7.91 | 8.05 | 090
57800 |  | A | Dilation of cervical canal | 0.77 | 0.71 | 0.75 | 0.42 | 0.46 | 0.09 | 1.57 | 1.61 | 1.28 | 1.32 | 000
57820 |  | A | D & c of residual cervix | 1.67 | 1.35 | 1.44 | 1.05 | 1.12 | 0.20 | 3.22 | 3.31 | 2.92 | 2.99 | 010
58100 |  | A | Biopsy of uterus lining | 1.53 | 1.14 | 1.28 | 0.59 | 0.69 | 0.18 | 2.85 | 2.99 | 2.30 | 2.40 | 000
58110 |  | A | Bx done w/colposcopy add-on | 0.77 | 0.40 | 0.51 | 0.21 | 0.29 | 0.09 | 1.26 | 1.37 | 1.07 | 1.15 | ZZZ
58120 |  | A | Dilation and curettage | 3.52 | 2.72 | 2.41 | 1.67 | 1.82 | 0.39 | 6.63 | 6.32 | 5.58 | 5.73 | 010
58140 |  | A | Myomectomy abdom method | 15.65 | NA | NA | 6.25 | 6.89 | 1.81 | NA | NA | 23.71 | 24.35 | 090
58145 |  | A | Myomectomy vag method | 8.77 | NA | NA | 4.28 | 4.66 | 0.97 | NA | NA | 14.02 | 14.40 | 090
58146 |  | A | Myomectomy abdom complex | 20.20 | NA | NA | 7.36 | 8.59 | 2.32 | NA | NA | 29.88 | 31.11 | 090
58150 |  | A | Total hysterectomy | 17.17 | NA | NA | 6.59 | 7.26 | 1.84 | NA | NA | 25.60 | 26.27 | 090
58152 |  | A | Total hysterectomy | 21.68 | NA | NA | 8.18 | 9.43 | 2.47 | NA | NA | 32.33 | 33.58 | 090
58180 |  | A | Partial hysterectomy | 16.46 | NA | NA | 6.38 | 7.18 | 1.64 | NA | NA | 24.48 | 25.28 | 090
58200 |  | A | Extensive hysterectomy | 22.96 | NA | NA | 8.15 | 9.53 | 2.54 | NA | NA | 33.65 | 35.03 | 090
58210 |  | A | Extensive hysterectomy | 30.70 | NA | NA | 10.71 | 12.57 | 3.37 | NA | NA | 44.78 | 46.64 | 090
58240 |  | A | Removal of pelvis contents | 43.13 | NA | NA | 15.92 | 17.19 | 4.22 | NA | NA | 63.27 | 64.54 | 090
58260 |  | A | Vaginal hysterectomy | 13.98 | NA | NA | 5.83 | 6.48 | 1.57 | NA | NA | 21.38 | 22.03 | 090
58262 |  | A | Vag hyst including t/o | 15.77 | NA | NA | 6.31 | 7.11 | 1.79 | NA | NA | 23.87 | 24.67 | 090
58263 |  | A | Vag hyst w/t/o & vag repair | 17.06 | NA | NA | 6.67 | 7.58 | 1.94 | NA | NA | 25.67 | 26.58 | 090
58267 |  | A | Vag hyst w/urinary repair | 18.18 | NA | NA | 7.06 | 8.04 | 2.06 | NA | NA | 27.30 | 28.28 | 090
58270 |  | A | Vag hyst w/enterocele repair | 15.16 | NA | NA | 5.99 | 6.79 | 1.73 | NA | NA | 22.88 | 23.68 | 090
58275 |  | A | Hysterectomy/revise vagina | 16.85 | NA | NA | 6.70 | 7.50 | 1.91 | NA | NA | 25.46 | 26.26 | 090
58280 |  | A | Hysterectomy/revise vagina | 18.15 | NA | NA | 7.08 | 7.96 | 2.06 | NA | NA | 27.28 | 28.17 | 090
58285 |  | A | Extensive hysterectomy | 23.26 | NA | NA | 7.96 | 9.45 | 2.70 | NA | NA | 33.92 | 35.41 | 090
58290 |  | A | Vag hyst complex | 20.13 | NA | NA | 7.44 | 8.70 | 2.29 | NA | NA | 29.86 | 31.12 | 090
58291 |  | A | Vag hyst incl t/o, complex | 21.92 | NA | NA | 7.87 | 9.37 | 2.52 | NA | NA | 32.31 | 33.81 | 090
58292 |  | A | Vag hyst t/o & repair, compl | 23.21 | NA | NA | 8.34 | 9.86 | 2.67 | NA | NA | 34.22 | 35.74 | 090
58293 |  | A | Vag hyst w/uro repair, compl | 24.19 | NA | NA | 8.55 | 10.13 | 2.78 | NA | NA | 35.52 | 37.10 | 090
58294 |  | A | Vag hyst w/enterocele, compl | 21.41 | NA | NA | 7.22 | 8.97 | 2.39 | NA | NA | 31.02 | 32.77 | 090
58300 |  | N | Insert intrauterine device | 1.01 | 0.63 | 1.22 | 0.24 | 0.35 | 0.12 | 1.76 | 2.35 | 1.37 | 1.48 | XXX
58301 |  | A | Remove intrauterine device | 1.27 | 1.06 | 1.26 | 0.35 | 0.45 | 0.15 | 2.48 | 2.68 | 1.77 | 1.87 | 000
58321 |  | A | Artificial insemination | 0.92 | 0.98 | 1.11 | 0.25 | 0.34 | 0.10 | 2.00 | 2.13 | 1.27 | 1.36 | 000
58322 |  | A | Artificial insemination | 1.10 | 1.05 | 1.16 | 0.31 | 0.39 | 0.13 | 2.28 | 2.39 | 1.54 | 1.62 | 000
58323 |  | A | Sperm washing | 0.23 | 0.15 | 0.44 | 0.07 | 0.09 | 0.03 | 0.41 | 0.70 | 0.33 | 0.35 | 000
58340 |  | A | Catheter for hysterography | 0.88 | 2.17 | 2.91 | 0.57 | 0.63 | 0.09 | 3.14 | 3.88 | 1.54 | 1.60 | 000
58345 |  | A | Reopen fallopian tube | 4.65 | NA | NA | 2.08 | 2.34 | 0.41 | NA | NA | 7.14 | 7.40 | 010
58346 |  | A | Insert heyman uteri capsule | 7.44 | NA | NA | 3.34 | 3.78 | 0.56 | NA | NA | 11.34 | 11.78 | 090
58350 |  | A | Reopen fallopian tube | 1.01 | 1.34 | 1.45 | 0.87 | 0.91 | 0.12 | 2.47 | 2.58 | 2.00 | 2.04 | 010
58353 |  | A | Endometr ablate, thermal | 3.55 | 23.12 | 32.53 | 1.72 | 1.97 | 0.43 | 27.10 | 36.51 | 5.70 | 5.95 | 010
58356 |  | A | Endometrial cryoablation | 6.36 | 43.78 | 57.02 | 1.86 | 2.48 | 0.82 | 50.96 | 64.20 | 9.04 | 9.66 | 010
58400 |  | A | Suspension of uterus | 7.03 | NA | NA | 3.85 | 3.91 | 0.75 | NA | NA | 11.63 | 11.69 | 090
58410 |  | A | Suspension of uterus | 13.66 | NA | NA | 5.91 | 6.30 | 1.45 | NA | NA | 21.02 | 21.41 | 090
58520 |  | A | Repair of ruptured uterus | 13.34 | NA | NA | 5.48 | 5.89 | 1.47 | NA | NA | 20.29 | 20.70 | 090
58540 |  | A | Revision of uterus | 15.57 | NA | NA | 6.25 | 6.78 | 1.78 | NA | NA | 23.60 | 24.13 | 090
58545 |  | A | Laparoscopic myomectomy | 15.65 | NA | NA | 6.03 | 6.89 | 1.77 | NA | NA | 23.45 | 24.31 | 090
58546 |  | A | Laparo-myomectomy, complex | 20.20 | NA | NA | 7.26 | 8.50 | 2.30 | NA | NA | 29.76 | 31.00 | 090
58550 |  | A | Laparo-asst vag hysterectomy | 14.91 | NA | NA | 6.20 | 7.02 | 1.72 | NA | NA | 22.83 | 23.65 | 090
58552 |  | A | Laparo-vag hyst incl t/o | 16.23 | NA | NA | 6.49 | 7.63 | 1.72 | NA | NA | 24.44 | 25.58 | 090
58553 |  | A | Laparo-vag hyst, complex | 20.13 | NA | NA | 7.24 | 8.49 | 2.30 | NA | NA | 29.67 | 30.92 | 090
58554 |  | A | Laparo-vag hyst w/t/o, compl | 23.13 | NA | NA | 8.41 | 9.90 | 2.27 | NA | NA | 33.81 | 35.30 | 090
58555 |  | A | Hysteroscopy, dx, sep proc | 3.33 | 2.76 | 2.33 | 1.25 | 1.48 | 0.40 | 6.49 | 6.06 | 4.98 | 5.21 | 000
58558 |  | A | Hysteroscopy, biopsy | 4.74 | 3.63 | 2.54 | 1.68 | 2.05 | 0.57 | 8.94 | 7.85 | 6.99 | 7.36 | 000
58559 |  | A | Hysteroscopy, lysis | 6.16 | NA | NA | 2.07 | 2.57 | 0.74 | NA | NA | 8.97 | 9.47 | 000
58560 |  | A | Hysteroscopy, resect septum | 6.99 | NA | NA | 2.31 | 2.89 | 0.84 | NA | NA | 10.14 | 10.72 | 000
58561 |  | A | Hysteroscopy, remove myoma | 9.99 | NA | NA | 3.16 | 4.00 | 1.21 | NA | NA | 14.36 | 15.20 | 000
58562 |  | A | Hysteroscopy, remove fb | 5.20 | 3.53 | 2.65 | 1.78 | 2.21 | 0.63 | 9.36 | 8.48 | 7.61 | 8.04 | 000
58563 |  | A | Hysteroscopy, ablation | 6.16 | 37.70 | 51.57 | 2.08 | 2.58 | 0.74 | 44.60 | 58.47 | 8.98 | 9.48 | 000
58565 |  | A | Hysteroscopy, sterilization | 7.02 | 34.73 | 45.85 | 3.39 | 3.77 | 1.19 | 42.94 | 54.06 | 11.60 | 11.98 | 090
58578 |  | C | Laparo proc, uterus | 0.00 | 0.00 | 0.00 | 0.00 | 0.00 | 0.00 | 0.00 | 0.00 | 0.00 | 0.00 | YYY
58579 |  | C | Hysteroscope procedure | 0.00 | 0.00 | 0.00 | 0.00 | 0.00 | 0.00 | 0.00 | 0.00 | 0.00 | 0.00 | YYY
58600 |  | A | Division of fallopian tube | 5.84 | NA | NA | 2.94 | 3.23 | 0.66 | NA | NA | 9.44 | 9.73 | 090
58605 |  | A | Division of fallopian tube | 5.23 | NA | NA | 2.69 | 3.01 | 0.59 | NA | NA | 8.51 | 8.83 | 090
58611 |  | A | Ligate oviduct(s) add-on | 1.45 | NA | NA | 0.40 | 0.53 | 0.18 | NA | NA | 2.03 | 2.16 | ZZZ
58615 |  | A | Occlude fallopian tube(s) | 3.89 | NA | NA | 2.00 | 2.53 | 0.47 | NA | NA | 6.36 | 6.89 | 010
58660 |  | A | Laparoscopy, lysis | 11.52 | NA | NA | 4.56 | 5.08 | 1.40 | NA | NA | 17.48 | 18.00 | 090
58661 |  | A | Laparoscopy, remove adnexa | 11.28 | NA | NA | 4.04 | 4.85 | 1.34 | NA | NA | 16.66 | 17.47 | 010
58662 |  | A | Laparoscopy, excise lesions | 12.06 | NA | NA | 4.83 | 5.54 | 1.43 | NA | NA | 18.32 | 19.03 | 090
58670 |  | A | Laparoscopy, tubal cautery | 5.84 | NA | NA | 2.98 | 3.20 | 0.67 | NA | NA | 9.49 | 9.71 | 090
58671 |  | A | Laparoscopy, tubal block | 5.84 | NA | NA | 2.97 | 3.20 | 0.68 | NA | NA | 9.49 | 9.72 | 090
58672 |  | A | Laparoscopy, fimbrioplasty | 12.86 | NA | NA | 4.79 | 5.83 | 1.60 | NA | NA | 19.25 | 20.29 | 090
58673 |  | A | Laparoscopy, salpingostomy | 13.97 | NA | NA | 5.23 | 6.24 | 1.69 | NA | NA | 20.89 | 21.90 | 090
58679 |  | C | Laparo proc, oviduct-ovary | 0.00 | 0.00 | 0.00 | 0.00 | 0.00 | 0.00 | 0.00 | 0.00 | 0.00 | 0.00 | YYY
58700 |  | A | Removal of fallopian tube | 12.80 | NA | NA | 5.56 | 5.88 | 1.51 | NA | NA | 19.87 | 20.19 | 090
58720 |  | A | Removal of ovary/tube(s) | 12.04 | NA | NA | 5.13 | 5.61 | 1.39 | NA | NA | 18.56 | 19.04 | 090
58740 |  | A | Revise fallopian tube(s) | 14.75 | NA | NA | 6.11 | 6.88 | 1.71 | NA | NA | 22.57 | 23.34 | 090
58750 |  | A | Repair oviduct | 15.52 | NA | NA | 6.14 | 7.06 | 1.84 | NA | NA | 23.50 | 24.42 | 090
58752 |  | A | Revise ovarian tube(s) | 15.52 | NA | NA | 6.04 | 6.72 | 1.80 | NA | NA | 23.36 | 24.04 | 090
58760 |  | A | Remove tubal obstruction | 13.81 | NA | NA | 5.66 | 6.45 | 1.79 | NA | NA | 21.26 | 22.05 | 090
58770 |  | A | Create new tubal opening | 14.65 | NA | NA | 5.81 | 6.63 | 1.73 | NA | NA | 22.19 | 23.01 | 090
58800 |  | A | Drainage of ovarian cyst(s) | 4.51 | 3.20 | 3.53 | 2.68 | 2.85 | 0.43 | 8.14 | 8.47 | 7.62 | 7.79 | 090
58805 |  | A | Drainage of ovarian cyst(s) | 6.31 | NA | NA | 3.49 | 3.50 | 0.69 | NA | NA | 10.49 | 10.50 | 090
58820 |  | A | Drain ovary abscess, open | 4.59 | NA | NA | 2.89 | 3.19 | 0.52 | NA | NA | 8.00 | 8.30 | 090
58822 |  | A | Drain ovary abscess, percut | 11.67 | NA | NA | 5.18 | 5.20 | 1.16 | NA | NA | 18.01 | 18.03 | 090
58823 |  | A | Drain pelvic abscess, percut | 3.37 | 20.10 | 21.02 | 1.04 | 1.10 | 0.24 | 23.71 | 24.63 | 4.65 | 4.71 | 000
58825 |  | A | Transposition, ovary(s) | 11.66 | NA | NA | 4.98 | 5.59 | 1.32 | NA | NA | 17.96 | 18.57 | 090
58900 |  | A | Biopsy of ovary(s) | 6.48 | NA | NA | 3.49 | 3.55 | 0.69 | NA | NA | 10.66 | 10.72 | 090
58920 |  | A | Partial removal of ovary(s) | 11.84 | NA | NA | 5.24 | 5.49 | 1.43 | NA | NA | 18.51 | 18.76 | 090
58925 |  | A | Removal of ovarian cyst(s) | 12.29 | NA | NA | 5.31 | 5.59 | 1.41 | NA | NA | 19.01 | 19.29 | 090
58940 |  | A | Removal of ovary(s) | 8.08 | NA | NA | 4.07 | 4.09 | 0.91 | NA | NA | 13.06 | 13.08 | 090
58943 |  | A | Removal of ovary(s) | 19.38 | NA | NA | 7.25 | 8.29 | 2.22 | NA | NA | 28.85 | 29.89 | 090
58950 |  | A | Resect ovarian malignancy | 18.18 | NA | NA | 7.29 | 8.12 | 2.04 | NA | NA | 27.51 | 28.34 | 090
58951 |  | A | Resect ovarian malignancy | 24.11 | NA | NA | 8.61 | 9.98 | 2.63 | NA | NA | 35.35 | 36.72 | 090
58952 |  | A | Resect ovarian malignancy | 27.09 | NA | NA | 9.81 | 11.27 | 3.02 | NA | NA | 39.92 | 41.38 | 090
58953 |  | A | Tah, rad dissect for debulk | 33.91 | NA | NA | 11.63 | 13.81 | 3.83 | NA | NA | 49.37 | 51.55 | 090
58954 |  | A | Tah rad debulk/lymph remove | 36.91 | NA | NA | 12.49 | 14.90 | 4.17 | NA | NA | 53.57 | 55.98 | 090
58956 |  | A | Bso, omentectomy w/tah | 22.59 | NA | NA | 8.59 | 9.88 | 4.00 | NA | NA | 35.18 | 36.47 | 090
58960 |  | A | Exploration of abdomen | 15.64 | NA | NA | 6.29 | 7.09 | 1.79 | NA | NA | 23.72 | 24.52 | 090
58970 |  | A | Retrieval of oocyte | 3.52 | 1.83 | 2.19 | 1.26 | 1.43 | 0.43 | 5.78 | 6.14 | 5.21 | 5.38 | 000
58974 |  | C | Transfer of embryo | 0.00 | 0.00 | 0.00 | 0.00 | 0.00 | 0.00 | 0.00 | 0.00 | 0.00 | 0.00 | 000
58976 |  | A | Transfer of embryo | 3.82 | 1.96 | 2.50 | 1.22 | 1.67 | 0.47 | 6.25 | 6.79 | 5.51 | 5.96 | 000
58999 |  | C | Genital surgery procedure | 0.00 | 0.00 | 0.00 | 0.00 | 0.00 | 0.00 | 0.00 | 0.00 | 0.00 | 0.00 | YYY
59000 |  | A | Amniocentesis, diagnostic | 1.30 | 1.75 | 1.99 | 0.56 | 0.64 | 0.31 | 3.36 | 3.60 | 2.17 | 2.25 | 000
59001 |  | A | Amniocentesis, therapeutic | 3.00 | NA | NA | 1.09 | 1.33 | 0.71 | NA | NA | 4.80 | 5.04 | 000
59012 |  | A | Fetal cord puncture,prenatal | 3.44 | NA | NA | 1.16 | 1.45 | 0.82 | NA | NA | 5.42 | 5.71 | 000
59015 |  | A | Chorion biopsy | 2.20 | 1.43 | 1.52 | 0.81 | 0.98 | 0.52 | 4.15 | 4.24 | 3.53 | 3.70 | 000
59020 |  | A | Fetal contract stress test | 0.66 | 1.08 | 0.86 | 1.08 | 0.86 | 0.26 | 2.00 | 1.78 | 2.00 | 1.78 | 000
59020 | 26 | A | Fetal contract stress test | 0.66 | 0.19 | 0.24 | 0.19 | 0.24 | 0.16 | 1.01 | 1.06 | 1.01 | 1.06 | 000
59020 | TC | A | Fetal contract stress test | 0.00 | 0.90 | 0.62 | 0.90 | 0.62 | 0.10 | 1.00 | 0.72 | 1.00 | 0.72 | 000
59025 |  | A | Fetal non-stress test | 0.53 | 0.63 | 0.49 | 0.63 | 0.49 | 0.15 | 1.31 | 1.17 | 1.31 | 1.17 | 000
59025 | 26 | A | Fetal non-stress test | 0.53 | 0.15 | 0.20 | 0.15 | 0.20 | 0.13 | 0.81 | 0.86 | 0.81 | 0.86 | 000
59025 | TC | A | Fetal non-stress test | 0.00 | 0.49 | 0.30 | 0.49 | 0.30 | 0.02 | 0.51 | 0.32 | 0.51 | 0.32 | 000
59030 |  | A | Fetal scalp blood sample | 1.99 | NA | NA | 0.56 | 0.72 | 0.47 | NA | NA | 3.02 | 3.18 | 000
59050 |  | A | Fetal monitor w/report | 0.89 | NA | NA | 0.26 | 0.33 | 0.21 | NA | NA | 1.36 | 1.43 | XXX
59051 |  | A | Fetal monitor/interpret only | 0.74 | NA | NA | 0.21 | 0.27 | 0.17 | NA | NA | 1.12 | 1.18 | XXX
59070 |  | A | Transabdom amnioinfus w/us | 5.24 | 4.48 | 4.98 | 1.83 | 2.19 | 0.28 | 10.00 | 10.50 | 7.35 | 7.71 | 000
59072 |  | A | Umbilical cord occlud w/us | 8.99 | NA | NA | 2.88 | 3.06 | 0.16 | NA | NA | 12.03 | 12.21 | 000
59074 |  | A | Fetal fluid drainage w/us | 5.24 | 3.91 | 4.41 | 1.71 | 2.16 | 0.28 | 9.43 | 9.93 | 7.23 | 7.68 | 000
59076 |  | A | Fetal shunt placement, w/us | 8.99 | NA | NA | 2.42 | 2.95 | 0.16 | NA | NA | 11.57 | 12.10 | 000
59100 |  | A | Remove uterus lesion | 13.22 | NA | NA | 5.80 | 6.29 | 2.94 | NA | NA | 21.96 | 22.45 | 090
59120 |  | A | Treat ectopic pregnancy | 12.52 | NA | NA | 5.47 | 6.05 | 2.72 | NA | NA | 20.71 | 21.29 | 090
59121 |  | A | Treat ectopic pregnancy | 12.60 | NA | NA | 5.42 | 6.10 | 2.78 | NA | NA | 20.80 | 21.48 | 090
59130 |  | A | Treat ectopic pregnancy | 14.94 | NA | NA | 6.09 | 5.12 | 3.38 | NA | NA | 24.41 | 23.44 | 090
59135 |  | A | Treat ectopic pregnancy | 14.78 | NA | NA | 5.12 | 6.70 | 3.30 | NA | NA | 23.20 | 24.78 | 090
59136 |  | A | Treat ectopic pregnancy | 14.11 | NA | NA | 5.77 | 6.39 | 3.13 | NA | NA | 23.01 | 23.63 | 090
59140 |  | A | Treat ectopic pregnancy | 5.83 | NA | NA | 2.91 | 2.39 | 1.29 | NA | NA | 10.03 | 9.51 | 090
59150 |  | A | Treat ectopic pregnancy | 12.15 | NA | NA | 5.26 | 5.81 | 2.78 | NA | NA | 20.19 | 20.74 | 090
59151 |  | A | Treat ectopic pregnancy | 11.97 | NA | NA | 4.93 | 5.77 | 2.73 | NA | NA | 19.63 | 20.47 | 090
59160 |  | A | D & c after delivery | 2.71 | 2.00 | 2.97 | 1.19 | 1.90 | 0.64 | 5.35 | 6.32 | 4.54 | 5.25 | 010
59200 |  | A | Insert cervical dilator | 0.79 | 0.95 | 1.13 | 0.22 | 0.28 | 0.19 | 1.93 | 2.11 | 1.20 | 1.26 | 000
59300 |  | A | Episiotomy or vaginal repair | 2.41 | 2.21 | 2.18 | 1.03 | 0.98 | 0.57 | 5.19 | 5.16 | 4.01 | 3.96 | 000
59320 |  | A | Revision of cervix | 2.48 | NA | NA | 1.02 | 1.19 | 0.59 | NA | NA | 4.09 | 4.26 | 000
59325 |  | A | Revision of cervix | 4.06 | NA | NA | 1.24 | 1.73 | 0.88 | NA | NA | 6.18 | 6.67 | 000
59350 |  | A | Repair of uterus | 4.94 | NA | NA | 1.41 | 1.76 | 1.17 | NA | NA | 7.52 | 7.87 | 000
59400 |  | A | Obstetrical care | 26.53 | NA | NA | 14.36 | 15.08 | 5.48 | NA | NA | 46.37 | 47.09 | MMM
59409 |  | A | Obstetrical care | 13.48 | NA | NA | 3.76 | 4.92 | 3.21 | NA | NA | 20.45 | 21.61 | MMM
59410 |  | A | Obstetrical care | 15.26 | NA | NA | 4.97 | 5.97 | 3.51 | NA | NA | 23.74 | 24.74 | MMM
59412 |  | A | Antepartum manipulation | 1.71 | NA | NA | 0.65 | 0.77 | 0.40 | NA | NA | 2.76 | 2.88 | MMM
59414 |  | A | Deliver placenta | 1.61 | NA | NA | 0.44 | 0.59 | 0.38 | NA | NA | 2.43 | 2.58 | MMM
59425 |  | A | Antepartum care only | 6.12 | 4.25 | 4.21 | 1.68 | 1.81 | 1.14 | 11.51 | 11.47 | 8.94 | 9.07 | MMM
59426 |  | A | Antepartum care only | 10.84 | 7.82 | 7.61 | 2.97 | 3.16 | 1.97 | 20.63 | 20.42 | 15.78 | 15.97 | MMM
59430 |  | A | Care after delivery | 2.13 | 1.04 | 1.18 | 0.66 | 0.87 | 0.50 | 3.67 | 3.81 | 3.29 | 3.50 | MMM
59510 |  | A | Cesarean delivery | 30.05 | NA | NA | 16.03 | 16.95 | 6.23 | NA | NA | 52.31 | 53.23 | MMM
59514 |  | A | Cesarean delivery only | 15.95 | NA | NA | 4.51 | 5.79 | 3.79 | NA | NA | 24.25 | 25.53 | MMM
59515 |  | A | Cesarean delivery | 18.21 | NA | NA | 6.25 | 7.44 | 4.12 | NA | NA | 28.58 | 29.77 | MMM
59525 |  | A | Remove uterus after cesarean | 8.53 | NA | NA | 2.40 | 3.08 | 1.94 | NA | NA | 12.87 | 13.55 | ZZZ
59610 |  | A | Vbac delivery | 27.95 | NA | NA | 14.66 | 15.56 | 5.85 | NA | NA | 48.46 | 49.36 | MMM
59612 |  | A | Vbac delivery only | 15.04 | NA | NA | 4.28 | 5.61 | 3.58 | NA | NA | 22.90 | 24.23 | MMM
59614 |  | A | Vbac care after delivery | 16.57 | NA | NA | 5.19 | 6.50 | 3.88 | NA | NA | 25.64 | 26.95 | MMM
59618 |  | A | Attempted vbac delivery | 31.48 | NA | NA | 16.38 | 17.77 | 6.59 | NA | NA | 54.45 | 55.84 | MMM
59620 |  | A | Attempted vbac delivery only | 17.50 | NA | NA | 4.80 | 6.27 | 4.16 | NA | NA | 26.46 | 27.93 | MMM
59622 |  | A | Attempted vbac after care | 19.64 | NA | NA | 6.69 | 8.15 | 4.49 | NA | NA | 30.82 | 32.28 | MMM
59812 |  | A | Treatment of miscarriage | 4.37 | 3.12 | 2.69 | 2.38 | 2.50 | 0.95 | 8.44 | 8.01 | 7.70 | 7.82 | 090
59820 |  | A | Care of miscarriage | 4.64 | 4.10 | 4.34 | 3.49 | 3.54 | 0.95 | 9.69 | 9.93 | 9.08 | 9.13 | 090
59821 |  | A | Treatment of miscarriage | 4.94 | 3.85 | 4.17 | 3.19 | 3.35 | 1.06 | 9.85 | 10.17 | 9.19 | 9.35 | 090
59830 |  | A | Treat uterus infection | 6.48 | NA | NA | 3.47 | 3.85 | 1.44 | NA | NA | 11.39 | 11.77 | 090
59840 |  | R | Abortion | 3.01 | 2.04 | 2.10 | 1.81 | 2.04 | 0.71 | 5.76 | 5.82 | 5.53 | 5.76 | 010
59841 |  | R | Abortion | 5.55 | 3.19 | 3.42 | 2.61 | 2.88 | 1.24 | 9.98 | 10.21 | 9.40 | 9.67 | 010
59850 |  | R | Abortion | 5.90 | NA | NA | 2.66 | 3.10 | 1.28 | NA | NA | 9.84 | 10.28 | 090
59851 |  | R | Abortion | 5.92 | NA | NA | 3.33 | 3.64 | 1.28 | NA | NA | 10.53 | 10.84 | 090
59852 |  | R | Abortion | 8.23 | NA | NA | 3.84 | 4.74 | 1.80 | NA | NA | 13.87 | 14.77 | 090
59855 |  | R | Abortion | 6.36 | NA | NA | 3.00 | 3.41 | 1.45 | NA | NA | 10.81 | 11.22 | 090
59856 |  | R | Abortion | 7.72 | NA | NA | 3.85 | 4.01 | 1.78 | NA | NA | 13.35 | 13.51 | 090
59857 |  | R | Abortion | 9.28 | NA | NA | 3.17 | 4.33 | 2.01 | NA | NA | 14.46 | 15.62 | 090
59866 |  | R | Abortion (mpr) | 3.99 | NA | NA | 1.26 | 1.73 | 0.87 | NA | NA | 6.12 | 6.59 | 000
59870 |  | A | Evacuate mole of uterus | 6.32 | NA | NA | 4.31 | 4.44 | 1.42 | NA | NA | 12.05 | 12.18 | 090
59871 |  | A | Remove cerclage suture | 2.13 | NA | NA | 0.94 | 1.08 | 0.50 | NA | NA | 3.57 | 3.71 | 000
59897 |  | C | Fetal invas px w/us | 0.00 | 0.00 | 0.00 | 0.00 | 0.00 | 0.00 | 0.00 | 0.00 | 0.00 | 0.00 | YYY
59898 |  | C | Laparo proc, ob care/deliver | 0.00 | 0.00 | 0.00 | 0.00 | 0.00 | 0.00 | 0.00 | 0.00 | 0.00 | 0.00 | YYY
59899 |  | C | Maternity care procedure | 0.00 | 0.00 | 0.00 | 0.00 | 0.00 | 0.00 | 0.00 | 0.00 | 0.00 | 0.00 | YYY
60000 |  | A | Drain thyroid/tongue cyst | 1.76 | 2.06 | 1.96 | 1.67 | 1.70 | 0.15 | 3.97 | 3.87 | 3.58 | 3.61 | 010
60001 |  | A | Aspirate/inject thyriod cyst | 0.97 | 1.93 | 1.54 | 0.28 | 0.32 | 0.07 | 2.97 | 2.58 | 1.32 | 1.36 | 000
60100 |  | A | Biopsy of thyroid | 1.56 | 1.27 | 1.37 | 0.47 | 0.52 | 0.10 | 2.93 | 3.03 | 2.13 | 2.18 | 000
60200 |  | A | Remove thyroid lesion | 9.84 | NA | NA | 5.20 | 5.79 | 1.01 | NA | NA | 16.05 | 16.64 | 090
60210 |  | A | Partial thyroid excision | 11.11 | NA | NA | 5.04 | 5.48 | 1.23 | NA | NA | 17.38 | 17.82 | 090
60212 |  | A | Partial thyroid excision | 16.26 | NA | NA | 6.55 | 7.39 | 1.94 | NA | NA | 24.75 | 25.59 | 090
60220 |  | A | Partial removal of thyroid | 12.25 | NA | NA | 5.37 | 5.95 | 1.32 | NA | NA | 18.94 | 19.52 | 090
60225 |  | A | Partial removal of thyroid | 14.59 | NA | NA | 6.65 | 7.21 | 1.64 | NA | NA | 22.88 | 23.44 | 090
60240 |  | A | Removal of thyroid | 16.16 | NA | NA | 6.14 | 7.22 | 1.85 | NA | NA | 24.15 | 25.23 | 090
60252 |  | A | Removal of thyroid | 21.82 | NA | NA | 8.38 | 9.66 | 2.29 | NA | NA | 32.49 | 33.77 | 090
60254 |  | A | Extensive thyroid surgery | 28.23 | NA | NA | 10.28 | 13.18 | 2.60 | NA | NA | 41.11 | 44.01 | 090
60260 |  | A | Repeat thyroid surgery | 18.14 | NA | NA | 6.96 | 8.22 | 1.93 | NA | NA | 27.03 | 28.29 | 090
60270 |  | A | Removal of thyroid | 23.01 | NA | NA | 8.90 | 10.06 | 2.32 | NA | NA | 34.23 | 35.39 | 090
60271 |  | A | Removal of thyroid | 17.50 | NA | NA | 6.77 | 8.13 | 1.74 | NA | NA | 26.01 | 27.37 | 090
60280 |  | A | Remove thyroid duct lesion | 5.98 | NA | NA | 4.07 | 4.51 | 0.54 | NA | NA | 10.59 | 11.03 | 090
60281 |  | A | Remove thyroid duct lesion | 8.64 | NA | NA | 4.63 | 5.53 | 0.73 | NA | NA | 14.00 | 14.90 | 090
60500 |  | A | Explore parathyroid glands | 16.63 | NA | NA | 6.74 | 7.24 | 2.00 | NA | NA | 25.37 | 25.87 | 090
60502 |  | A | Re-explore parathyroids | 20.92 | NA | NA | 8.47 | 9.13 | 2.53 | NA | NA | 31.92 | 32.58 | 090
60505 |  | A | Explore parathyroid glands | 22.81 | NA | NA | 9.23 | 10.50 | 2.64 | NA | NA | 34.68 | 35.95 | 090
60512 |  | A | Autotransplant parathyroid | 4.44 | NA | NA | 1.18 | 1.51 | 0.53 | NA | NA | 6.15 | 6.48 | ZZZ
60520 |  | A | Removal of thymus gland | 17.03 | NA | NA | 6.97 | 7.96 | 2.19 | NA | NA | 26.19 | 27.18 | 090
60521 |  | A | Removal of thymus gland | 19.09 | NA | NA | 8.31 | 9.23 | 2.81 | NA | NA | 30.21 | 31.13 | 090
60522 |  | A | Removal of thymus gland | 23.31 | NA | NA | 9.80 | 10.90 | 3.26 | NA | NA | 36.37 | 37.47 | 090
60540 |  | A | Explore adrenal gland | 17.84 | NA | NA | 8.14 | 7.72 | 1.74 | NA | NA | 27.72 | 27.30 | 090
60545 |  | A | Explore adrenal gland | 20.75 | NA | NA | 8.92 | 8.63 | 2.07 | NA | NA | 31.74 | 31.45 | 090
60600 |  | A | Remove carotid body lesion | 24.95 | NA | NA | 8.78 | 10.42 | 2.19 | NA | NA | 35.92 | 37.56 | 090
60605 |  | A | Remove carotid body lesion | 31.82 | NA | NA | 12.29 | 12.26 | 2.49 | NA | NA | 46.60 | 46.57 | 090
60650 |  | A | Laparoscopy adrenalectomy | 20.59 | NA | NA | 8.20 | 8.04 | 2.28 | NA | NA | 31.07 | 30.91 | 090
60659 |  | C | Laparo proc, endocrine | 0.00 | 0.00 | 0.00 | 0.00 | 0.00 | 0.00 | 0.00 | 0.00 | 0.00 | 0.00 | YYY
60699 |  | C | Endocrine surgery procedure | 0.00 | 0.00 | 0.00 | 0.00 | 0.00 | 0.00 | 0.00 | 0.00 | 0.00 | 0.00 | YYY
61000 |  | A | Remove cranial cavity fluid | 1.58 | NA | NA | 1.23 | 1.02 | 0.13 | NA | NA | 2.94 | 2.73 | 000
61001 |  | A | Remove cranial cavity fluid | 1.49 | NA | NA | 1.20 | 1.10 | 0.16 | NA | NA | 2.85 | 2.75 | 000
61020 |  | A | Remove brain cavity fluid | 1.51 | NA | NA | 1.58 | 1.40 | 0.34 | NA | NA | 3.43 | 3.25 | 000
61026 |  | A | Injection into brain canal | 1.69 | NA | NA | 1.49 | 1.42 | 0.33 | NA | NA | 3.51 | 3.44 | 000
61050 |  | A | Remove brain canal fluid | 1.51 | NA | NA | 1.13 | 1.24 | 0.11 | NA | NA | 2.75 | 2.86 | 000
61055 |  | A | Injection into brain canal | 2.10 | NA | NA | 1.29 | 1.39 | 0.17 | NA | NA | 3.56 | 3.66 | 000
61070 |  | A | Brain canal shunt procedure | 0.89 | NA | NA | 1.17 | 1.05 | 0.17 | NA | NA | 2.23 | 2.11 | 000
61105 |  | A | Twist drill hole | 5.38 | NA | NA | 4.89 | 4.17 | 1.32 | NA | NA | 11.59 | 10.87 | 090
61107 |  | A | Drill skull for implantation | 4.99 | NA | NA | 1.85 | 2.36 | 1.29 | NA | NA | 8.13 | 8.64 | 000
61108 |  | A | Drill skull for drainage | 11.46 | NA | NA | 8.43 | 7.46 | 2.63 | NA | NA | 22.52 | 21.55 | 090
61120 |  | A | Burr hole for puncture | 9.49 | NA | NA | 6.69 | 6.17 | 2.09 | NA | NA | 18.27 | 17.75 | 090
61140 |  | A | Pierce skull for biopsy | 17.05 | NA | NA | 10.39 | 10.01 | 4.11 | NA | NA | 31.55 | 31.17 | 090
61150 |  | A | Pierce skull for drainage | 18.76 | NA | NA | 10.73 | 10.46 | 4.31 | NA | NA | 33.80 | 33.53 | 090
61151 |  | A | Pierce skull for drainage | 13.38 | NA | NA | 8.49 | 7.98 | 3.00 | NA | NA | 24.87 | 24.36 | 090
61154 |  | A | Pierce skull & remove clot | 16.86 | NA | NA | 10.76 | 9.80 | 4.20 | NA | NA | 31.82 | 30.86 | 090
61156 |  | A | Pierce skull for drainage | 17.34 | NA | NA | 9.88 | 9.84 | 4.22 | NA | NA | 31.44 | 31.40 | 090
61210 |  | A | Pierce skull, implant device | 5.83 | NA | NA | 2.18 | 2.73 | 1.50 | NA | NA | 9.51 | 10.06 | 000
61215 |  | A | Insert brain-fluid device | 5.74 | NA | NA | 5.44 | 4.36 | 1.26 | NA | NA | 12.44 | 11.36 | 090
61250 |  | A | Pierce skull & explore | 11.38 | NA | NA | 7.49 | 7.01 | 2.76 | NA | NA | 21.63 | 21.15 | 090
61253 |  | A | Pierce skull & explore | 13.38 | NA | NA | 7.80 | 7.74 | 2.61 | NA | NA | 23.79 | 23.73 | 090
61304 |  | A | Open skull for exploration | 23.27 | NA | NA | 12.61 | 12.78 | 5.61 | NA | NA | 41.49 | 41.66 | 090
61305 |  | A | Open skull for exploration | 28.46 | NA | NA | 15.07 | 15.25 | 6.07 | NA | NA | 49.60 | 49.78 | 090
61312 |  | A | Open skull for drainage | 30.03 | NA | NA | 15.34 | 15.12 | 6.34 | NA | NA | 51.71 | 51.49 | 090
61313 |  | A | Open skull for drainage | 27.88 | NA | NA | 15.48 | 14.97 | 6.43 | NA | NA | 49.79 | 49.28 | 090
61314 |  | A | Open skull for drainage | 25.72 | NA | NA | 14.22 | 13.33 | 6.26 | NA | NA | 46.20 | 45.31 | 090
61315 |  | A | Open skull for drainage | 29.47 | NA | NA | 15.56 | 15.90 | 7.14 | NA | NA | 52.17 | 52.51 | 090
61316 |  | A | Implt cran bone flap to abdo | 1.39 | NA | NA | 0.52 | 0.58 | 0.35 | NA | NA | 2.26 | 2.32 | ZZZ
61320 |  | A | Open skull for drainage | 27.28 | NA | NA | 14.29 | 14.64 | 6.60 | NA | NA | 48.17 | 48.52 | 090
61321 |  | A | Open skull for drainage | 30.35 | NA | NA | 14.29 | 15.66 | 7.12 | NA | NA | 51.76 | 53.13 | 090
61322 |  | A | Decompressive craniotomy | 34.00 | NA | NA | 17.78 | 16.19 | 7.61 | NA | NA | 59.39 | 57.80 | 090
61323 |  | A | Decompressive lobectomy | 34.87 | NA | NA | 17.00 | 16.31 | 8.01 | NA | NA | 59.88 | 59.19 | 090
61330 |  | A | Decompress eye socket | 25.12 | NA | NA | 11.88 | 13.26 | 2.31 | NA | NA | 39.31 | 40.69 | 090
61332 |  | A | Explore/biopsy eye socket | 28.46 | NA | NA | 13.45 | 15.06 | 4.82 | NA | NA | 46.73 | 48.34 | 090
61333 |  | A | Explore orbit/remove lesion | 29.13 | NA | NA | 13.31 | 15.01 | 3.91 | NA | NA | 46.35 | 48.05 | 090
61334 |  | A | Explore orbit/remove object | 19.46 | NA | NA | 9.11 | 10.25 | 1.74 | NA | NA | 30.31 | 31.45 | 090
61340 |  | A | Subtemporal decompression | 19.97 | NA | NA | 11.40 | 11.19 | 4.83 | NA | NA | 36.20 | 35.99 | 090
61343 |  | A | Incise skull (press relief) | 31.68 | NA | NA | 16.14 | 16.64 | 7.62 | NA | NA | 55.44 | 55.94 | 090
61345 |  | A | Relieve cranial pressure | 29.05 | NA | NA | 15.24 | 15.35 | 7.02 | NA | NA | 51.31 | 51.42 | 090
61440 |  | A | Incise skull for surgery | 28.48 | NA | NA | 14.06 | 14.17 | 6.88 | NA | NA | 49.42 | 49.53 | 090
61450 |  | A | Incise skull for surgery | 27.55 | NA | NA | 12.70 | 13.89 | 5.77 | NA | NA | 46.02 | 47.21 | 090
61458 |  | A | Incise skull for brain wound | 28.66 | NA | NA | 15.01 | 15.39 | 7.01 | NA | NA | 50.68 | 51.06 | 090
61460 |  | A | Incise skull for surgery | 30.06 | NA | NA | 15.14 | 16.09 | 6.02 | NA | NA | 51.22 | 52.17 | 090
61470 |  | A | Incise skull for surgery | 27.48 | NA | NA | 13.11 | 13.67 | 5.88 | NA | NA | 46.47 | 47.03 | 090
61480 |  | A | Incise skull for surgery | 27.91 | NA | NA | 8.23 | 13.51 | 6.71 | NA | NA | 42.85 | 48.13 | 090
61490 |  | A | Incise skull for surgery | 27.08 | NA | NA | 14.34 | 14.33 | 6.90 | NA | NA | 48.32 | 48.31 | 090
61500 |  | A | Removal of skull lesion | 19.00 | NA | NA | 10.64 | 10.76 | 4.10 | NA | NA | 33.74 | 33.86 | 090
61501 |  | A | Remove infected skull bone | 16.17 | NA | NA | 9.52 | 9.28 | 3.21 | NA | NA | 28.90 | 28.66 | 090
61510 |  | A | Removal of brain lesion | 30.55 | NA | NA | 17.08 | 16.79 | 7.33 | NA | NA | 54.96 | 54.67 | 090
61512 |  | A | Remove brain lining lesion | 36.93 | NA | NA | 18.56 | 19.39 | 9.05 | NA | NA | 64.54 | 65.37 | 090
61514 |  | A | Removal of brain abscess | 27.05 | NA | NA | 14.53 | 14.46 | 6.52 | NA | NA | 48.10 | 48.03 | 090
61516 |  | A | Removal of brain lesion | 26.40 | NA | NA | 14.28 | 14.27 | 6.33 | NA | NA | 47.01 | 47.00 | 090
61517 |  | A | Implt brain chemotx add-on | 1.38 | NA | NA | 0.51 | 0.61 | 0.35 | NA | NA | 2.24 | 2.34 | ZZZ
61518 |  | A | Removal of brain lesion | 39.61 | NA | NA | 20.45 | 20.93 | 9.62 | NA | NA | 69.68 | 70.16 | 090
61519 |  | A | Remove brain lining lesion | 43.22 | NA | NA | 20.82 | 22.19 | 10.60 | NA | NA | 74.64 | 76.01 | 090
61520 |  | A | Removal of brain lesion | 56.81 | NA | NA | 25.64 | 29.15 | 11.18 | NA | NA | 93.63 | 97.14 | 090
61521 |  | A | Removal of brain lesion | 46.78 | NA | NA | 22.16 | 23.70 | 11.36 | NA | NA | 80.30 | 81.84 | 090
61522 |  | A | Removal of brain abscess | 31.36 | NA | NA | 15.56 | 16.20 | 7.60 | NA | NA | 54.52 | 55.16 | 090
61524 |  | A | Removal of brain lesion | 29.71 | NA | NA | 15.78 | 15.69 | 7.14 | NA | NA | 52.63 | 52.54 | 090
61526 |  | A | Removal of brain lesion | 53.84 | NA | NA | 21.66 | 27.53 | 7.05 | NA | NA | 82.55 | 88.42 | 090
61530 |  | A | Removal of brain lesion | 45.38 | NA | NA | 18.18 | 23.33 | 6.13 | NA | NA | 69.69 | 74.84 | 090
61531 |  | A | Implant brain electrodes | 16.24 | NA | NA | 10.26 | 9.41 | 3.78 | NA | NA | 30.28 | 29.43 | 090
61533 |  | A | Implant brain electrodes | 21.32 | NA | NA | 11.76 | 11.59 | 5.10 | NA | NA | 38.18 | 38.01 | 090
61534 |  | A | Removal of brain lesion | 22.83 | NA | NA | 13.21 | 12.36 | 5.42 | NA | NA | 41.46 | 40.61 | 090
61535 |  | A | Remove brain electrodes | 13.01 | NA | NA | 8.93 | 7.80 | 3.01 | NA | NA | 24.95 | 23.82 | 090
61536 |  | A | Removal of brain lesion | 37.54 | NA | NA | 18.46 | 19.45 | 9.18 | NA | NA | 65.18 | 66.17 | 090
61537 |  | A | Removal of brain tissue | 36.31 | NA | NA | 17.52 | 15.44 | 6.92 | NA | NA | 60.75 | 58.67 | 090
61538 |  | A | Removal of brain tissue | 39.31 | NA | NA | 18.80 | 16.18 | 6.92 | NA | NA | 65.03 | 62.41 | 090
61539 |  | A | Removal of brain tissue | 34.10 | NA | NA | 15.51 | 17.20 | 8.30 | NA | NA | 57.91 | 59.60 | 090
61540 |  | A | Removal of brain tissue | 31.24 | NA | NA | 15.91 | 16.91 | 8.30 | NA | NA | 55.45 | 56.45 | 090
61541 |  | A | Incision of brain tissue | 30.76 | NA | NA | 16.10 | 16.18 | 6.58 | NA | NA | 53.44 | 53.52 | 090
61542 |  | A | Removal of brain tissue | 32.98 | NA | NA | 16.23 | 17.42 | 8.01 | NA | NA | 57.22 | 58.41 | 090
61543 |  | A | Removal of brain tissue | 31.13 | NA | NA | 16.35 | 16.37 | 7.54 | NA | NA | 55.02 | 55.04 | 090
61544 |  | A | Remove & treat brain lesion | 27.22 | NA | NA | 14.39 | 13.96 | 5.95 | NA | NA | 47.56 | 47.13 | 090
61545 |  | A | Excision of brain tumor | 46.15 | NA | NA | 22.36 | 23.75 | 10.60 | NA | NA | 79.11 | 80.50 | 090
61546 |  | A | Removal of pituitary gland | 33.26 | NA | NA | 16.62 | 17.27 | 7.65 | NA | NA | 57.53 | 58.17 | 090
61548 |  | A | Removal of pituitary gland | 23.23 | NA | NA | 11.37 | 12.43 | 3.42 | NA | NA | 38.02 | 39.08 | 090
61550 |  | A | Release of skull seams | 15.38 | NA | NA | 5.70 | 6.62 | 0.98 | NA | NA | 22.06 | 22.98 | 090
61552 |  | A | Release of skull seams | 20.22 | NA | NA | 6.71 | 8.51 | 1.06 | NA | NA | 27.99 | 29.78 | 090
61556 |  | A | Incise skull/sutures | 23.96 | NA | NA | 12.76 | 11.71 | 4.64 | NA | NA | 41.36 | 40.31 | 090
61557 |  | A | Incise skull/sutures | 23.10 | NA | NA | 13.73 | 13.65 | 5.78 | NA | NA | 42.61 | 42.53 | 090
61558 |  | A | Excision of skull/sutures | 26.29 | NA | NA | 8.24 | 12.70 | 1.36 | NA | NA | 35.89 | 40.35 | 090
61559 |  | A | Excision of skull/sutures | 33.74 | NA | NA | 18.83 | 19.19 | 8.48 | NA | NA | 61.05 | 61.41 | 090
61563 |  | A | Excision of skull tumor | 28.31 | NA | NA | 14.31 | 15.01 | 5.15 | NA | NA | 47.77 | 48.47 | 090
61564 |  | A | Excision of skull tumor | 34.53 | NA | NA | 16.25 | 17.77 | 8.75 | NA | NA | 59.53 | 61.05 | 090
61566 |  | A | Removal of brain tissue | 32.26 | NA | NA | 16.65 | 17.49 | 6.92 | NA | NA | 55.83 | 56.67 | 090
61567 |  | A | Incision of brain tissue | 36.76 | NA | NA | 16.84 | 19.71 | 6.52 | NA | NA | 60.12 | 62.99 | 090
61570 |  | A | Remove foreign body, brain | 26.33 | NA | NA | 14.16 | 13.97 | 5.86 | NA | NA | 46.35 | 46.16 | 090
61571 |  | A | Incise skull for brain wound | 28.24 | NA | NA | 15.21 | 15.16 | 6.77 | NA | NA | 50.22 | 50.17 | 090
61575 |  | A | Skull base/brainstem surgery | 36.38 | NA | NA | 15.53 | 18.61 | 5.32 | NA | NA | 57.23 | 60.31 | 090
61576 |  | A | Skull base/brainstem surgery | 55.03 | NA | NA | 25.88 | 32.52 | 5.56 | NA | NA | 86.47 | 93.11 | 090
61580 |  | A | Craniofacial approach, skull | 34.26 | NA | NA | 20.69 | 24.36 | 3.36 | NA | NA | 58.31 | 61.98 | 090
61581 |  | A | Craniofacial approach, skull | 38.78 | NA | NA | 24.86 | 23.80 | 3.91 | NA | NA | 67.55 | 66.49 | 090
61582 |  | A | Craniofacial approach, skull | 34.83 | NA | NA | 30.37 | 28.07 | 7.19 | NA | NA | 72.39 | 70.09 | 090
61583 |  | A | Craniofacial approach, skull | 38.37 | NA | NA | 25.79 | 25.28 | 9.18 | NA | NA | 73.34 | 72.83 | 090
61584 |  | A | Orbitocranial approach/skull | 37.57 | NA | NA | 25.56 | 24.78 | 8.16 | NA | NA | 71.29 | 70.51 | 090
61585 |  | A | Orbitocranial approach/skull | 42.40 | NA | NA | 24.83 | 26.08 | 7.01 | NA | NA | 74.24 | 75.49 | 090
61586 |  | A | Resect nasopharynx, skull | 27.20 | NA | NA | 23.97 | 22.93 | 4.36 | NA | NA | 55.53 | 54.49 | 090
61590 |  | A | Infratemporal approach/skull | 46.79 | NA | NA | 23.16 | 27.26 | 5.29 | NA | NA | 75.24 | 79.34 | 090
61591 |  | A | Infratemporal approach/skull | 46.81 | NA | NA | 23.73 | 28.07 | 5.64 | NA | NA | 76.18 | 80.52 | 090
61592 |  | A | Orbitocranial approach/skull | 42.94 | NA | NA | 27.58 | 26.77 | 10.04 | NA | NA | 80.56 | 79.75 | 090
61595 |  | A | Transtemporal approach/skull | 33.49 | NA | NA | 19.29 | 21.59 | 3.97 | NA | NA | 56.75 | 59.05 | 090
61596 |  | A | Transcochlear approach/skull | 39.25 | NA | NA | 18.52 | 22.96 | 3.39 | NA | NA | 61.16 | 65.60 | 090
61597 |  | A | Transcondylar approach/skull | 40.67 | NA | NA | 22.86 | 22.96 | 8.81 | NA | NA | 72.34 | 72.44 | 090
61598 |  | A | Transpetrosal approach/skull | 36.35 | NA | NA | 20.81 | 22.63 | 5.68 | NA | NA | 62.84 | 64.66 | 090
61600 |  | A | Resect/excise cranial lesion | 29.76 | NA | NA | 18.31 | 19.41 | 3.78 | NA | NA | 51.85 | 52.95 | 090
61601 |  | A | Resect/excise cranial lesion | 31.00 | NA | NA | 22.32 | 20.95 | 6.61 | NA | NA | 59.93 | 58.56 | 090
61605 |  | A | Resect/excise cranial lesion | 32.32 | NA | NA | 17.57 | 20.86 | 2.85 | NA | NA | 52.74 | 56.03 | 090
61606 |  | A | Resect/excise cranial lesion | 41.88 | NA | NA | 24.31 | 24.94 | 8.94 | NA | NA | 75.13 | 75.76 | 090
61607 |  | A | Resect/excise cranial lesion | 40.76 | NA | NA | 20.51 | 22.96 | 6.88 | NA | NA | 68.15 | 70.60 | 090
61608 |  | A | Resect/excise cranial lesion | 45.39 | NA | NA | 26.51 | 26.56 | 10.72 | NA | NA | 82.62 | 82.67 | 090
61609 |  | A | Transect artery, sinus | 9.88 | NA | NA | 3.73 | 4.57 | 2.55 | NA | NA | 16.16 | 17.00 | ZZZ
61610 |  | A | Transect artery, sinus | 29.63 | NA | NA | 11.19 | 12.65 | 7.66 | NA | NA | 48.48 | 49.94 | ZZZ
61611 |  | A | Transect artery, sinus | 7.41 | NA | NA | 2.80 | 3.57 | 1.88 | NA | NA | 12.09 | 12.86 | ZZZ
61612 |  | A | Transect artery, sinus | 27.84 | NA | NA | 8.15 | 12.02 | 4.30 | NA | NA | 40.29 | 44.16 | ZZZ
61613 |  | A | Remove aneurysm, sinus | 44.88 | NA | NA | 27.54 | 26.58 | 8.42 | NA | NA | 80.84 | 79.88 | 090
61615 |  | A | Resect/excise lesion, skull | 35.57 | NA | NA | 19.35 | 21.88 | 4.72 | NA | NA | 59.64 | 62.17 | 090
61616 |  | A | Resect/excise lesion, skull | 46.54 | NA | NA | 26.45 | 28.10 | 8.24 | NA | NA | 81.23 | 82.88 | 090
61618 |  | A | Repair dura | 18.52 | NA | NA | 10.11 | 10.36 | 3.71 | NA | NA | 32.34 | 32.59 | 090
61619 |  | A | Repair dura | 21.95 | NA | NA | 10.97 | 11.92 | 3.94 | NA | NA | 36.86 | 37.81 | 090
61623 |  | A | Endovasc tempory vessel occl | 9.95 | NA | NA | 3.40 | 3.91 | 1.05 | NA | NA | 14.40 | 14.91 | 000
61624 |  | A | Transcath occlusion, cns | 20.12 | NA | NA | 6.80 | 6.87 | 1.95 | NA | NA | 28.87 | 28.94 | 000
61626 |  | A | Transcath occlusion, non-cns | 16.60 | NA | NA | 5.43 | 5.49 | 1.24 | NA | NA | 23.27 | 23.33 | 000
61630 |  | N | Intracranial angioplasty | 22.03 | NA | NA | 6.50 | 10.99 | 2.01 | NA | NA | 30.54 | 35.03 | 090
61635 |  | N | Intracran angioplsty w/stent | 24.24 | NA | NA | 7.02 | 11.91 | 2.20 | NA | NA | 33.46 | 38.35 | 090
61680 |  | A | Intracranial vessel surgery | 32.34 | NA | NA | 16.85 | 17.29 | 7.93 | NA | NA | 57.12 | 57.56 | 090
61682 |  | A | Intracranial vessel surgery | 63.27 | NA | NA | 27.31 | 30.99 | 15.85 | NA | NA | 106.43 | 110.11 | 090
61684 |  | A | Intracranial vessel surgery | 41.43 | NA | NA | 20.46 | 21.62 | 10.28 | NA | NA | 72.17 | 73.33 | 090
61686 |  | A | Intracranial vessel surgery | 67.26 | NA | NA | 30.29 | 33.61 | 16.66 | NA | NA | 114.21 | 117.53 | 090
61690 |  | A | Intracranial vessel surgery | 31.14 | NA | NA | 15.88 | 16.51 | 6.92 | NA | NA | 53.94 | 54.57 | 090
61692 |  | A | Intracranial vessel surgery | 54.39 | NA | NA | 24.71 | 26.78 | 13.39 | NA | NA | 92.49 | 94.56 | 090
61697 |  | A | Brain aneurysm repr, complx | 63.16 | NA | NA | 28.85 | 28.22 | 12.81 | NA | NA | 104.82 | 104.19 | 090
61698 |  | A | Brain aneurysm repr, complx | 69.39 | NA | NA | 30.92 | 27.75 | 12.50 | NA | NA | 112.81 | 109.64 | 090
61700 |  | A | Brain aneurysm repr, simple | 50.44 | NA | NA | 24.03 | 26.86 | 12.98 | NA | NA | 87.45 | 90.28 | 090
61702 |  | A | Inner skull vessel surgery | 59.80 | NA | NA | 27.94 | 26.51 | 10.76 | NA | NA | 98.50 | 97.07 | 090
61703 |  | A | Clamp neck artery | 18.66 | NA | NA | 10.84 | 10.56 | 4.05 | NA | NA | 33.55 | 33.27 | 090
61705 |  | A | Revise circulation to head | 37.92 | NA | NA | 17.61 | 18.84 | 8.84 | NA | NA | 64.37 | 65.60 | 090
61708 |  | A | Revise circulation to head | 37.02 | NA | NA | 13.19 | 14.66 | 2.50 | NA | NA | 52.71 | 54.18 | 090
61710 |  | A | Revise circulation to head | 31.15 | NA | NA | 13.35 | 13.57 | 4.51 | NA | NA | 49.01 | 49.23 | 090
61711 |  | A | Fusion of skull arteries | 38.05 | NA | NA | 18.57 | 19.49 | 9.39 | NA | NA | 66.01 | 66.93 | 090
61720 |  | A | Incise skull/brain surgery | 17.48 | NA | NA | 8.13 | 9.51 | 2.78 | NA | NA | 28.39 | 29.77 | 090
61735 |  | A | Incise skull/brain surgery | 22.17 | NA | NA | 11.32 | 11.95 | 2.72 | NA | NA | 36.21 | 36.84 | 090
61750 |  | A | Incise skull/brain biopsy | 19.69 | NA | NA | 10.97 | 10.70 | 4.71 | NA | NA | 35.37 | 35.10 | 090
61751 |  | A | Brain biopsy w/ct/mr guide | 18.58 | NA | NA | 11.42 | 10.97 | 4.55 | NA | NA | 34.55 | 34.10 | 090
61760 |  | A | Implant brain electrodes | 22.24 | NA | NA | 11.94 | 9.52 | 5.40 | NA | NA | 39.58 | 37.16 | 090
61770 |  | A | Incise skull for treatment | 23.05 | NA | NA | 9.87 | 11.66 | 3.54 | NA | NA | 36.46 | 38.25 | 090
61790 |  | A | Treat trigeminal nerve | 11.46 | NA | NA | 7.79 | 6.38 | 2.81 | NA | NA | 22.06 | 20.65 | 090
61791 |  | A | Treat trigeminal tract | 15.27 | NA | NA | 7.61 | 8.59 | 3.39 | NA | NA | 26.27 | 27.25 | 090
61793 |  | A | Focus radiation beam | 17.71 | NA | NA | 9.79 | 10.04 | 4.45 | NA | NA | 31.95 | 32.20 | 090
61795 |  | A | Brain surgery using computer | 4.03 | NA | NA | 1.37 | 1.87 | 0.79 | NA | NA | 6.19 | 6.69 | ZZZ
61850 |  | A | Implant neuroelectrodes | 13.23 | NA | NA | 5.56 | 7.14 | 3.21 | NA | NA | 22.00 | 23.58 | 090
61860 |  | A | Implant neuroelectrodes | 22.12 | NA | NA | 11.19 | 11.84 | 4.94 | NA | NA | 38.25 | 38.90 | 090
61863 |  | A | Implant neuroelectrode | 20.50 | NA | NA | 12.48 | 11.95 | 5.41 | NA | NA | 38.39 | 37.86 | 090
61864 |  | A | Implant neuroelectrde, addl | 4.49 | NA | NA | 1.70 | 2.14 | 5.41 | NA | NA | 11.60 | 12.04 | ZZZ
61867 |  | A | Implant neuroelectrode | 32.82 | NA | NA | 16.69 | 17.69 | 5.41 | NA | NA | 54.92 | 55.92 | 090
61868 |  | A | Implant neuroelectrde, addIl | 7.91 | NA | NA | 2.96 | 3.75 | 5.41 | NA | NA | 16.28 | 17.07 | ZZZ
61870 |  | A | Implant neuroelectrodes | 16.20 | NA | NA | 8.63 | 9.43 | 3.86 | NA | NA | 28.69 | 29.49 | 090
61875 |  | A | Implant neuroelectrodes | 16.32 | NA | NA | 5.38 | 7.77 | 2.94 | NA | NA | 24.64 | 27.03 | 090
61880 |  | A | Revise/remove neuroelectrode | 6.84 | NA | NA | 5.47 | 4.80 | 1.66 | NA | NA | 13.97 | 13.30 | 090
61885 |  | A | Insrt/redo neurostim 1 array | 7.29 | NA | NA | 7.42 | 5.83 | 1.59 | NA | NA | 16.30 | 14.71 | 090
61886 |  | A | Implant neurostim arrays | 9.65 | NA | NA | 8.74 | 6.95 | 1.96 | NA | NA | 20.35 | 18.56 | 090
61888 |  | A | Revise/remove neuroreceiver | 5.18 | NA | NA | 3.59 | 3.65 | 1.33 | NA | NA | 10.10 | 10.16 | 010
62000 |  | A | Treat skull fracture | 13.79 | NA | NA | 7.21 | 5.94 | 1.06 | NA | NA | 22.06 | 20.79 | 090
62005 |  | A | Treat skull fracture | 17.49 | NA | NA | 9.47 | 8.96 | 3.86 | NA | NA | 30.82 | 30.31 | 090
62010 |  | A | Treatment of head injury | 21.25 | NA | NA | 11.91 | 11.76 | 5.12 | NA | NA | 38.28 | 38.13 | 090
62100 |  | A | Repair brain fluid leakage | 23.35 | NA | NA | 11.84 | 12.55 | 4.83 | NA | NA | 40.02 | 40.73 | 090
62115 |  | A | Reduction of skull defect | 22.63 | NA | NA | 13.97 | 12.22 | 5.49 | NA | NA | 42.09 | 40.34 | 090
62116 |  | A | Reduction of skull defect | 24.82 | NA | NA | 13.12 | 13.30 | 6.09 | NA | NA | 44.03 | 44.21 | 090
62117 |  | A | Reduction of skull defect | 28.20 | NA | NA | 14.69 | 15.20 | 4.52 | NA | NA | 47.41 | 47.92 | 090
62120 |  | A | Repair skull cavity lesion | 24.31 | NA | NA | 15.76 | 17.80 | 2.99 | NA | NA | 43.06 | 45.10 | 090
62121 |  | A | Incise skull repair | 22.89 | NA | NA | 14.03 | 15.10 | 4.16 | NA | NA | 41.08 | 42.15 | 090
62140 |  | A | Repair of skull defect | 14.41 | NA | NA | 8.60 | 8.39 | 3.46 | NA | NA | 26.47 | 26.26 | 090
62141 |  | A | Repair of skull defect | 15.93 | NA | NA | 9.30 | 9.11 | 3.75 | NA | NA | 28.98 | 28.79 | 090
62142 |  | A | Remove skull plate/flap | 11.69 | NA | NA | 7.72 | 7.17 | 2.72 | NA | NA | 22.13 | 21.58 | 090
62143 |  | A | Replace skull plate/flap | 14.01 | NA | NA | 8.79 | 8.23 | 3.36 | NA | NA | 26.16 | 25.60 | 090
62145 |  | A | Repair of skull & brain | 19.95 | NA | NA | 10.20 | 10.72 | 4.49 | NA | NA | 34.64 | 35.16 | 090
62146 |  | A | Repair of skull with graft | 17.14 | NA | NA | 9.04 | 9.48 | 3.61 | NA | NA | 29.79 | 30.23 | 090
62147 |  | A | Repair of skull with graft | 20.53 | NA | NA | 10.59 | 11.12 | 4.31 | NA | NA | 35.43 | 35.96 | 090
62148 |  | A | Retr bone flap to fix skull | 2.00 | NA | NA | 0.76 | 0.84 | 0.48 | NA | NA | 3.24 | 3.32 | ZZZ
62160 |  | A | Neuroendoscopy add-on | 3.00 | NA | NA | 1.12 | 1.43 | 0.77 | NA | NA | 4.89 | 5.20 | ZZZ
62161 |  | A | Dissect brain w/scope | 21.04 | NA | NA | 12.12 | 12.10 | 5.17 | NA | NA | 38.33 | 38.31 | 090
62162 |  | A | Remove colloid cyst w/scope | 26.61 | NA | NA | 13.85 | 14.60 | 5.89 | NA | NA | 46.35 | 47.10 | 090
62163 |  | A | Neuroendoscopy w/fb removal | 16.34 | NA | NA | 10.53 | 10.07 | 4.00 | NA | NA | 30.87 | 30.41 | 090
62164 |  | A | Remove brain tumor w/scope | 29.19 | NA | NA | 14.93 | 14.95 | 5.36 | NA | NA | 49.48 | 49.50 | 090
62165 |  | A | Remove pituit tumor w/scope | 23.04 | NA | NA | 11.46 | 12.90 | 3.00 | NA | NA | 37.50 | 38.94 | 090
62180 |  | A | Establish brain cavity shunt | 22.41 | NA | NA | 12.00 | 12.21 | 4.97 | NA | NA | 39.38 | 39.59 | 090
62190 |  | A | Establish brain cavity shunt | 12.03 | NA | NA | 7.67 | 7.23 | 2.79 | NA | NA | 22.49 | 22.05 | 090
62192 |  | A | Establish brain cavity shunt | 13.21 | NA | NA | 8.40 | 7.82 | 3.01 | NA | NA | 24.62 | 24.04 | 090
62194 |  | A | Replace/irrigate catheter | 5.64 | NA | NA | 3.81 | 2.78 | 0.92 | NA | NA | 10.37 | 9.34 | 010
62200 |  | A | Establish brain cavity shunt | 19.15 | NA | NA | 10.69 | 10.80 | 4.64 | NA | NA | 34.48 | 34.59 | 090
62201 |  | A | Brain cavity shunt w/scope | 15.83 | NA | NA | 10.52 | 9.71 | 3.67 | NA | NA | 30.02 | 29.21 | 090
62220 |  | A | Establish brain cavity shunt | 13.96 | NA | NA | 8.39 | 8.08 | 3.34 | NA | NA | 25.69 | 25.38 | 090
62223 |  | A | Establish brain cavity shunt | 13.84 | NA | NA | 9.42 | 8.54 | 3.13 | NA | NA | 26.39 | 25.51 | 090
62225 |  | A | Replace/irrigate catheter | 6.08 | NA | NA | 5.49 | 4.44 | 1.39 | NA | NA | 12.96 | 11.91 | 090
62230 |  | A | Replace/revise brain shunt | 11.32 | NA | NA | 7.28 | 6.68 | 2.70 | NA | NA | 21.30 | 20.70 | 090
62252 |  | A | Csf shunt reprogram | 0.74 | 1.78 | 1.55 | NA | NA | 0.21 | 2.73 | 2.50 | NA | NA | XXX
62252 | 26 | A | Csf shunt reprogram | 0.74 | 0.27 | 0.35 | 0.27 | 0.35 | 0.19 | 1.20 | 1.28 | 1.20 | 1.28 | XXX
62252 | TC | A | Csf shunt reprogram | 0.00 | 1.51 | 1.20 | NA | NA | 0.02 | 1.53 | 1.22 | NA | NA | XXX
62256 |  | A | Remove brain cavity shunt | 7.27 | NA | NA | 5.88 | 4.99 | 1.71 | NA | NA | 14.86 | 13.97 | 090
62258 |  | A | Replace brain cavity shunt | 15.50 | NA | NA | 9.25 | 8.85 | 3.73 | NA | NA | 28.48 | 28.08 | 090
62263 |  | A | Epidural lysis mult sessions | 6.37 | 9.18 | 11.81 | 2.88 | 3.11 | 0.41 | 15.96 | 18.59 | 9.66 | 9.89 | 010
62264 |  | A | Epidural lysis on single day | 4.42 | 5.78 | 7.24 | 1.31 | 1.39 | 0.27 | 10.47 | 11.93 | 6.00 | 6.08 | 010
62268 |  | A | Drain spinal cord cyst | 4.73 | 6.76 | 10.34 | 1.74 | 2.04 | 0.43 | 11.92 | 15.50 | 6.90 | 7.20 | 000
62269 |  | A | Needle biopsy, spinal cord | 5.01 | 6.84 | 12.72 | 1.67 | 1.90 | 0.37 | 12.22 | 18.10 | 7.05 | 7.28 | 000
62270 |  | A | Spinal fluid tap, diagnostic | 1.37 | 2.38 | 2.84 | 0.55 | 0.56 | 0.08 | 3.83 | 4.29 | 2.00 | 2.01 | 000
62272 |  | A | Drain cerebro spinal fluid | 1.35 | 3.14 | 3.49 | 0.61 | 0.69 | 0.18 | 4.67 | 5.02 | 2.14 | 2.22 | 000
62273 |  | A | Inject epidural patch | 2.15 | 1.70 | 2.46 | 0.58 | 0.68 | 0.13 | 3.98 | 4.74 | 2.86 | 2.96 | 000
62280 |  | A | Treat spinal cord lesion | 2.63 | 4.30 | 6.27 | 1.07 | 1.03 | 0.30 | 7.23 | 9.20 | 4.00 | 3.96 | 010
62281 |  | A | Treat spinal cord lesion | 2.66 | 3.79 | 5.19 | 0.91 | 0.90 | 0.19 | 6.64 | 8.04 | 3.76 | 3.75 | 010
62282 |  | A | Treat spinal canal lesion | 2.33 | 3.97 | 7.26 | 1.07 | 0.96 | 0.17 | 6.47 | 9.76 | 3.57 | 3.46 | 010
62284 |  | A | Injection for myelogram | 1.54 | 3.79 | 4.67 | 0.67 | 0.68 | 0.13 | 5.46 | 6.34 | 2.34 | 2.35 | 000
62287 |  | A | Percutaneous diskectomy | 8.82 | NA | NA | 4.24 | 5.22 | 0.58 | NA | NA | 13.64 | 14.62 | 090
62290 |  | A | Inject for spine disk x-ray | 3.00 | 4.46 | 6.46 | 1.13 | 1.32 | 0.23 | 7.69 | 9.69 | 4.36 | 4.55 | 000
62291 |  | A | Inject for spine disk x-ray | 2.91 | 4.25 | 5.51 | 1.07 | 1.19 | 0.26 | 7.42 | 8.68 | 4.24 | 4.36 | 000
62292 |  | A | Injection into disk lesion | 9.10 | NA | NA | 3.19 | 4.15 | 0.82 | NA | NA | 13.11 | 14.07 | 090
62294 |  | A | Injection into spinal artery | 12.73 | NA | NA | 5.63 | 5.59 | 1.24 | NA | NA | 19.60 | 19.56 | 090
62310 |  | A | Inject spine c/t | 1.91 | 3.06 | 4.37 | 0.58 | 0.63 | 0.12 | 5.09 | 6.40 | 2.61 | 2.66 | 000
62311 |  | A | Inject spine l/s (cd) | 1.54 | 2.70 | 4.37 | 0.54 | 0.58 | 0.09 | 4.33 | 6.00 | 2.17 | 2.21 | 000
62318 |  | A | Inject spine w/cath, c/t | 2.04 | 3.24 | 5.10 | 0.48 | 0.61 | 0.12 | 5.40 | 7.26 | 2.64 | 2.77 | 000
62319 |  | A | Inject spine w/cath l/s (cd) | 1.87 | 2.90 | 4.46 | 0.47 | 0.58 | 0.11 | 4.88 | 6.44 | 2.45 | 2.56 | 000
62350 |  | A | Implant spinal canal cath | 7.96 | NA | NA | 4.19 | 4.00 | 1.02 | NA | NA | 13.17 | 12.98 | 090
62351 |  | A | Implant spinal canal cath | 11.46 | NA | NA | 7.73 | 7.27 | 2.24 | NA | NA | 21.43 | 20.97 | 090
62355 |  | A | Remove spinal canal catheter | 6.54 | NA | NA | 3.61 | 3.27 | 0.71 | NA | NA | 10.86 | 10.52 | 090
62360 |  | A | Insert spine infusion device | 3.60 | NA | NA | 3.46 | 2.88 | 0.34 | NA | NA | 7.40 | 6.82 | 090
62361 |  | A | Implant spine infusion pump | 6.51 | NA | NA | 4.00 | 3.94 | 0.80 | NA | NA | 11.31 | 11.25 | 090
62362 |  | A | Implant spine infusion pump | 8.50 | NA | NA | 4.78 | 4.47 | 1.18 | NA | NA | 14.46 | 14.15 | 090
62365 |  | A | Remove spine infusion device | 6.51 | NA | NA | 3.85 | 3.65 | 0.86 | NA | NA | 11.22 | 11.02 | 090
62367 |  | A | Analyze spine infusion pump | 0.48 | 0.41 | 0.56 | 0.11 | 0.10 | 0.03 | 0.92 | 1.07 | 0.62 | 0.61 | XXX
62368 |  | A | Analyze spine infusion pump | 0.75 | 0.60 | 0.67 | 0.19 | 0.18 | 0.06 | 1.41 | 1.48 | 1.00 | 0.99 | XXX
63001 |  | A | Removal of spinal lamina | 17.47 | NA | NA | 9.89 | 9.61 | 3.76 | NA | NA | 31.12 | 30.84 | 090
63003 |  | A | Removal of spinal lamina | 17.60 | NA | NA | 9.80 | 9.85 | 3.72 | NA | NA | 31.12 | 31.17 | 090
63005 |  | A | Removal of spinal lamina | 16.22 | NA | NA | 9.78 | 9.92 | 3.34 | NA | NA | 29.34 | 29.48 | 090
63011 |  | A | Removal of spinal lamina | 15.73 | NA | NA | 9.22 | 8.51 | 3.37 | NA | NA | 28.32 | 27.61 | 090
63012 |  | A | Removal of spinal lamina | 16.67 | NA | NA | 9.84 | 10.05 | 3.48 | NA | NA | 29.99 | 30.20 | 090
63015 |  | A | Removal of spinal lamina | 20.64 | NA | NA | 12.01 | 11.91 | 4.75 | NA | NA | 37.40 | 37.30 | 090
63016 |  | A | Removal of spinal lamina | 21.85 | NA | NA | 11.95 | 11.82 | 4.58 | NA | NA | 38.38 | 38.25 | 090
63017 |  | A | Removal of spinal lamina | 17.12 | NA | NA | 10.43 | 10.40 | 3.63 | NA | NA | 31.18 | 31.15 | 090
63020 |  | A | Neck spine disk surgery | 15.99 | NA | NA | 9.99 | 9.75 | 3.71 | NA | NA | 29.69 | 29.45 | 090
63030 |  | A | Low back disk surgery | 12.97 | NA | NA | 8.67 | 8.48 | 3.00 | NA | NA | 24.64 | 24.45 | 090
63035 |  | A | Spinal disk surgery add-on | 3.15 | NA | NA | 1.21 | 1.50 | 0.79 | NA | NA | 5.15 | 5.44 | ZZZ
63040 |  | A | Laminotomy, single cervical | 20.13 | NA | NA | 11.08 | 11.40 | 4.67 | NA | NA | 35.88 | 36.20 | 090
63042 |  | A | Laminotomy, single lumbar | 18.55 | NA | NA | 10.68 | 11.18 | 4.25 | NA | NA | 33.48 | 33.98 | 090
63043 |  | C | Laminotomy, addIl cervical | 0.00 | 0.00 | 0.00 | 0.00 | 0.00 | 0.00 | 0.00 | 0.00 | 0.00 | 0.00 | ZZZ
63044 |  | C | Laminotomy, addIl lumbar | 0.00 | 0.00 | 0.00 | 0.00 | 0.00 | 0.00 | 0.00 | 0.00 | 0.00 | 0.00 | ZZZ
63045 |  | A | Removal of spinal lamina | 17.77 | NA | NA | 10.41 | 10.37 | 3.98 | NA | NA | 32.16 | 32.12 | 090
63046 |  | A | Removal of spinal lamina | 17.07 | NA | NA | 9.88 | 10.11 | 3.55 | NA | NA | 30.50 | 30.73 | 090
63047 |  | A | Removal of spinal lamina | 15.16 | NA | NA | 9.41 | 9.77 | 3.23 | NA | NA | 27.80 | 28.16 | 090
63048 |  | A | Remove spinal lamina add-on | 3.26 | NA | NA | 1.25 | 1.56 | 0.72 | NA | NA | 5.23 | 5.54 | ZZZ
63050 |  | A | Cervical laminoplasty | 21.82 | NA | NA | 8.87 | 11.10 | 4.66 | NA | NA | 35.35 | 37.58 | 090
63051 |  | A | C-laminoplasty w/graft/plate | 25.32 | NA | NA | 11.71 | 13.03 | 4.66 | NA | NA | 41.69 | 43.01 | 090
63055 |  | A | Decompress spinal cord | 23.37 | NA | NA | 12.40 | 12.95 | 5.27 | NA | NA | 41.04 | 41.59 | 090
63056 |  | A | Decompress spinal cord | 21.68 | NA | NA | 11.41 | 12.27 | 4.75 | NA | NA | 37.84 | 38.70 | 090
63057 |  | A | Decompress spine cord add-on | 5.25 | NA | NA | 1.97 | 2.47 | 1.22 | NA | NA | 8.44 | 8.94 | ZZZ
63064 |  | A | Decompress spinal cord | 26.04 | NA | NA | 13.41 | 14.17 | 5.69 | NA | NA | 45.14 | 45.90 | 090
63066 |  | A | Decompress spine cord add-on | 3.26 | NA | NA | 1.24 | 1.56 | 0.69 | NA | NA | 5.19 | 5.51 | ZZZ
63075 |  | A | Neck spine disk surgery | 19.41 | NA | NA | 11.11 | 11.84 | 4.62 | NA | NA | 35.14 | 35.87 | 090
63076 |  | A | Neck spine disk surgery | 4.04 | NA | NA | 1.53 | 1.92 | 0.96 | NA | NA | 6.53 | 6.92 | ZZZ
63077 |  | A | Spine disk surgery, thorax | 22.70 | NA | NA | 11.20 | 12.39 | 3.98 | NA | NA | 37.88 | 39.07 | 090
63078 |  | A | Spine disk surgery, thorax | 3.28 | NA | NA | 1.20 | 1.53 | 0.66 | NA | NA | 5.14 | 5.47 | ZZZ
63081 |  | A | Removal of vertebral body | 25.92 | NA | NA | 13.62 | 14.15 | 5.54 | NA | NA | 45.08 | 45.61 | 090
63082 |  | A | Remove vertebral body add-on | 4.36 | NA | NA | 1.66 | 2.08 | 1.02 | NA | NA | 7.04 | 7.46 | ZZZ
63085 |  | A | Removal of vertebral body | 29.29 | NA | NA | 13.77 | 15.05 | 4.48 | NA | NA | 47.54 | 48.82 | 090
63086 |  | A | Remove vertebral body add-on | 3.19 | NA | NA | 1.17 | 1.49 | 0.59 | NA | NA | 4.95 | 5.27 | ZZZ
63087 |  | A | Removal of vertebral body | 37.32 | NA | NA | 16.85 | 18.80 | 6.20 | NA | NA | 60.37 | 62.32 | 090
63088 |  | A | Remove vertebral body add-on | 4.32 | NA | NA | 1.64 | 2.04 | 0.82 | NA | NA | 6.78 | 7.18 | ZZZ
63090 |  | A | Removal of vertebral body | 30.72 | NA | NA | 14.16 | 15.56 | 4.21 | NA | NA | 49.09 | 50.49 | 090
63091 |  | A | Remove vertebral body add-on | 3.03 | NA | NA | 1.13 | 1.38 | 0.48 | NA | NA | 4.64 | 4.89 | ZZZ
63101 |  | A | Removal of vertebral body | 33.84 | NA | NA | 17.18 | 18.75 | 5.69 | NA | NA | 56.71 | 58.28 | 090
63102 |  | A | Removal of vertebral body | 33.84 | NA | NA | 16.90 | 18.68 | 5.69 | NA | NA | 56.43 | 58.21 | 090
63103 |  | A | Remove vertebral body add-on | 4.82 | NA | NA | 1.78 | 2.32 | 0.69 | NA | NA | 7.29 | 7.83 | ZZZ
63170 |  | A | Incise spinal cord tract(s) | 22.03 | NA | NA | 12.64 | 12.06 | 4.86 | NA | NA | 39.53 | 38.95 | 090
63172 |  | A | Drainage of spinal cyst | 19.62 | NA | NA | 11.31 | 10.81 | 4.48 | NA | NA | 35.41 | 34.91 | 090
63173 |  | A | Drainage of spinal cyst | 24.13 | NA | NA | 13.38 | 12.95 | 5.68 | NA | NA | 43.19 | 42.76 | 090
63180 |  | A | Revise spinal cord ligaments | 20.35 | NA | NA | 10.94 | 10.97 | 3.95 | NA | NA | 35.24 | 35.27 | 090
63182 |  | A | Revise spinal cord ligaments | 22.64 | NA | NA | 7.25 | 10.03 | 5.30 | NA | NA | 35.19 | 37.97 | 090
63185 |  | A | Incise spinal column/nerves | 16.31 | NA | NA | 10.11 | 8.60 | 2.79 | NA | NA | 29.21 | 27.70 | 090
63190 |  | A | Incise spinal column/nerves | 18.71 | NA | NA | 10.16 | 10.14 | 3.24 | NA | NA | 32.11 | 32.09 | 090
63191 |  | A | Incise spinal column/nerves | 18.74 | NA | NA | 10.78 | 10.55 | 6.34 | NA | NA | 35.86 | 35.63 | 090
63194 |  | A | Incise spinal column & cord | 21.92 | NA | NA | 8.65 | 10.95 | 3.26 | NA | NA | 33.83 | 36.13 | 090
63195 |  | A | Incise spinal column & cord | 21.50 | NA | NA | 12.18 | 11.33 | 4.87 | NA | NA | 38.55 | 37.70 | 090
63196 |  | A | Incise spinal column & cord | 25.09 | NA | NA | 13.88 | 13.51 | 5.76 | NA | NA | 44.73 | 44.36 | 090
63197 |  | A | Incise spinal column & cord | 23.90 | NA | NA | 13.43 | 12.51 | 5.36 | NA | NA | 42.69 | 41.77 | 090
63198 |  | A | Incise spinal column & cord | 29.69 | NA | NA | 9.01 | 8.58 | 6.43 | NA | NA | 45.13 | 44.70 | 090
63199 |  | A | Incise spinal column & cord | 31.26 | NA | NA | 9.38 | 13.62 | 1.40 | NA | NA | 42.04 | 46.28 | 090
63200 |  | A | Release of spinal cord | 21.26 | NA | NA | 11.74 | 11.40 | 4.96 | NA | NA | 37.96 | 37.62 | 090
63250 |  | A | Revise spinal cord vessels | 43.68 | NA | NA | 21.09 | 20.21 | 9.01 | NA | NA | 73.78 | 72.90 | 090
63251 |  | A | Revise spinal cord vessels | 44.43 | NA | NA | 21.36 | 22.28 | 10.41 | NA | NA | 76.20 | 77.12 | 090
63252 |  | A | Revise spinal cord vessels | 44.42 | NA | NA | 21.41 | 22.03 | 10.64 | NA | NA | 76.47 | 77.09 | 090
63265 |  | A | Excise intraspinal lesion | 23.64 | NA | NA | 13.10 | 12.85 | 5.43 | NA | NA | 42.17 | 41.92 | 090
63266 |  | A | Excise intraspinal lesion | 24.50 | NA | NA | 13.27 | 13.20 | 5.54 | NA | NA | 43.31 | 43.24 | 090
63267 |  | A | Excise intraspinal lesion | 19.27 | NA | NA | 11.22 | 11.11 | 4.37 | NA | NA | 34.86 | 34.75 | 090
63268 |  | A | Excise intraspinal lesion | 19.84 | NA | NA | 10.84 | 10.48 | 3.69 | NA | NA | 34.37 | 34.01 | 090
63270 |  | A | Excise intraspinal lesion | 29.62 | NA | NA | 15.73 | 15.53 | 6.82 | NA | NA | 52.17 | 51.97 | 090
63271 |  | A | Excise intraspinal lesion | 29.74 | NA | NA | 15.34 | 15.51 | 6.90 | NA | NA | 51.98 | 52.15 | 090
63272 |  | A | Excise intraspinal lesion | 27.32 | NA | NA | 14.33 | 14.59 | 6.18 | NA | NA | 47.83 | 48.09 | 090
63273 |  | A | Excise intraspinal lesion | 26.29 | NA | NA | 13.84 | 14.21 | 5.74 | NA | NA | 45.87 | 46.24 | 090
63275 |  | A | Biopsy/excise spinal tumor | 25.68 | NA | NA | 13.51 | 13.70 | 5.80 | NA | NA | 44.99 | 45.18 | 090
63276 |  | A | Biopsy/excise spinal tumor | 25.51 | NA | NA | 13.73 | 13.69 | 5.83 | NA | NA | 45.07 | 45.03 | 090
63277 |  | A | Biopsy/excise spinal tumor | 22.21 | NA | NA | 12.17 | 12.43 | 5.01 | NA | NA | 39.39 | 39.65 | 090
63278 |  | A | Biopsy/excise spinal tumor | 21.94 | NA | NA | 12.07 | 12.30 | 4.55 | NA | NA | 38.56 | 38.79 | 090
63280 |  | A | Biopsy/excise spinal tumor | 30.08 | NA | NA | 16.02 | 16.23 | 7.27 | NA | NA | 53.37 | 53.58 | 090
63281 |  | A | Biopsy/excise spinal tumor | 29.78 | NA | NA | 15.82 | 16.08 | 7.17 | NA | NA | 52.77 | 53.03 | 090
63282 |  | A | Biopsy/excise spinal tumor | 27.94 | NA | NA | 15.14 | 15.28 | 6.76 | NA | NA | 49.84 | 49.98 | 090
63283 |  | A | Biopsy/excise spinal tumor | 26.55 | NA | NA | 14.20 | 14.54 | 6.26 | NA | NA | 47.01 | 47.35 | 090
63285 |  | A | Biopsy/excise spinal tumor | 37.84 | NA | NA | 19.05 | 19.71 | 9.18 | NA | NA | 66.07 | 66.73 | 090
63286 |  | A | Biopsy/excise spinal tumor | 37.41 | NA | NA | 18.80 | 19.62 | 9.21 | NA | NA | 65.42 | 66.24 | 090
63287 |  | A | Biopsy/excise spinal tumor | 39.87 | NA | NA | 19.48 | 20.18 | 9.39 | NA | NA | 68.74 | 69.43 | 090
63290 |  | A | Biopsy/excise spinal tumor | 40.61 | NA | NA | 20.06 | 20.45 | 9.02 | NA | NA | 69.68 | 70.07 | 090
63295 |  | A | Repair of laminectomy defect | 5.25 | NA | NA | 1.33 | 1.94 | 1.03 | NA | NA | 7.61 | 8.22 | ZZZ
63300 |  | A | Removal of vertebral body | 26.62 | NA | NA | 13.54 | 14.10 | 5.97 | NA | NA | 46.13 | 46.69 | 090
63301 |  | A | Removal of vertebral body | 31.36 | NA | NA | 15.06 | 15.42 | 5.39 | NA | NA | 51.81 | 52.17 | 090
63302 |  | A | Removal of vertebral body | 30.94 | NA | NA | 14.83 | 15.59 | 5.53 | NA | NA | 51.30 | 52.06 | 090
63303 |  | A | Removal of vertebral body | 33.37 | NA | NA | 14.68 | 16.35 | 4.68 | NA | NA | 52.73 | 54.40 | 090
63304 |  | A | Removal of vertebral body | 33.64 | NA | NA | 17.05 | 17.21 | 6.41 | NA | NA | 57.10 | 57.26 | 090
63305 |  | A | Removal of vertebral body | 36.03 | NA | NA | 17.60 | 17.93 | 5.71 | NA | NA | 59.34 | 59.67 | 090
63306 |  | A | Removal of vertebral body | 35.34 | NA | NA | 15.77 | 17.29 | 8.33 | NA | NA | 59.43 | 60.96 | 090
63307 |  | A | Removal of vertebral body | 34.75 | NA | NA | 17.66 | 17.02 | 4.46 | NA | NA | 56.87 | 56.23 | 090
63308 |  | A | Remove vertebral body add-on | 5.24 | NA | NA | 1.93 | 2.43 | 1.29 | NA | NA | 8.46 | 8.96 | ZZZ
63600 |  | A | Remove spinal cord lesion | 14.98 | NA | NA | 4.61 | 5.20 | 1.52 | NA | NA | 21.11 | 21.70 | 090
63610 |  | A | Stimulation of spinal cord | 8.72 | 14.20 | 48.31 | 1.58 | 2.08 | 0.86 | 23.78 | 57.89 | 11.16 | 11.66 | 000
63615 |  | A | Remove lesion of spinal cord | 17.18 | NA | NA | 5.98 | 8.44 | 2.84 | NA | NA | 26.00 | 28.46 | 090
63650 |  | A | Implant neuroelectrodes | 7.53 | NA | NA | 2.98 | 3.12 | 0.53 | NA | NA | 11.04 | 11.18 | 090
63655 |  | A | Implant neuroelectrodes | 11.38 | NA | NA | 7.84 | 7.13 | 2.43 | NA | NA | 21.65 | 20.94 | 090
63660 |  | A | Revise/remove neuroelectrode | 6.83 | NA | NA | 3.36 | 3.55 | 0.78 | NA | NA | 10.97 | 11.16 | 090
63685 |  | A | Insrt/redo spine n generator | 7.83 | NA | NA | 3.74 | 4.04 | 1.05 | NA | NA | 12.62 | 12.92 | 090
63688 |  | A | Revise/remove neuroreceiver | 6.06 | NA | NA | 3.60 | 3.56 | 0.89 | NA | NA | 10.55 | 10.51 | 090
63700 |  | A | Repair of spinal herniation | 17.26 | NA | NA | 9.78 | 10.17 | 3.52 | NA | NA | 30.56 | 30.95 | 090
63702 |  | A | Repair of spinal herniation | 19.20 | NA | NA | 10.93 | 11.01 | 4.12 | NA | NA | 34.25 | 34.33 | 090
63704 |  | A | Repair of spinal herniation | 22.15 | NA | NA | 12.60 | 12.83 | 4.57 | NA | NA | 39.32 | 39.55 | 090
63706 |  | A | Repair of spinal herniation | 25.07 | NA | NA | 15.07 | 13.95 | 6.23 | NA | NA | 46.37 | 45.25 | 090
63707 |  | A | Repair spinal fluid leakage | 12.47 | NA | NA | 7.90 | 7.75 | 2.51 | NA | NA | 22.88 | 22.73 | 090
63709 |  | A | Repair spinal fluid leakage | 15.47 | NA | NA | 9.06 | 9.31 | 3.09 | NA | NA | 27.62 | 27.87 | 090
63710 |  | A | Graft repair of spine defect | 15.22 | NA | NA | 9.26 | 9.09 | 3.40 | NA | NA | 27.88 | 27.71 | 090
63740 |  | A | Install spinal shunt | 12.45 | NA | NA | 8.25 | 7.57 | 2.93 | NA | NA | 23.63 | 22.95 | 090
63741 |  | A | Install spinal shunt | 8.98 | NA | NA | 4.85 | 4.78 | 1.66 | NA | NA | 15.49 | 15.42 | 090
63744 |  | A | Revision of spinal shunt | 8.83 | NA | NA | 6.06 | 5.45 | 1.89 | NA | NA | 16.78 | 16.17 | 090
63746 |  | A | Removal of spinal shunt | 7.22 | NA | NA | 4.75 | 4.02 | 1.53 | NA | NA | 13.50 | 12.77 | 090
64400 |  | A | N block inj, trigeminal | 1.11 | 1.41 | 1.77 | 0.45 | 0.44 | 0.07 | 2.59 | 2.95 | 1.63 | 1.62 | 000
64402 |  | A | N block inj, facial | 1.25 | 1.46 | 1.57 | 0.53 | 0.58 | 0.09 | 2.80 | 2.91 | 1.87 | 1.92 | 000
64405 |  | A | N block inj, occipital | 1.32 | 1.17 | 1.39 | 0.51 | 0.47 | 0.08 | 2.57 | 2.79 | 1.91 | 1.87 | 000
64408 |  | A | N block inj, vagus | 1.41 | 1.45 | 1.55 | 0.70 | 0.81 | 0.10 | 2.96 | 3.06 | 2.21 | 2.32 | 000
64410 |  | A | N block inj, phrenic | 1.43 | 1.82 | 2.33 | 0.52 | 0.48 | 0.09 | 3.34 | 3.85 | 2.04 | 2.00 | 000
64412 |  | A | N block inj, spinal accessor | 1.18 | 2.05 | 2.50 | 0.55 | 0.46 | 0.08 | 3.31 | 3.76 | 1.81 | 1.72 | 000
64413 |  | A | N block inj, cervical plexus | 1.40 | 1.30 | 1.71 | 0.47 | 0.49 | 0.08 | 2.78 | 3.19 | 1.95 | 1.97 | 000
64415 |  | A | N block inj, brachial plexus | 1.48 | 1.50 | 2.48 | 0.34 | 0.43 | 0.09 | 3.07 | 4.05 | 1.91 | 2.00 | 000
64416 |  | A | N block cont infuse, b plex | 3.85 | NA | NA | 0.57 | 0.74 | 0.31 | NA | NA | 4.73 | 4.90 | 010
64417 |  | A | N block inj, axillary | 1.44 | 1.51 | 2.65 | 0.35 | 0.46 | 0.11 | 3.06 | 4.20 | 1.90 | 2.01 | 000
64418 |  | A | N block inj, suprascapular | 1.32 | 1.90 | 2.44 | 0.52 | 0.46 | 0.07 | 3.29 | 3.83 | 1.91 | 1.85 | 000
64420 |  | A | N block inj, intercost, sng | 1.18 | 2.40 | 3.51 | 0.44 | 0.43 | 0.08 | 3.66 | 4.77 | 1.70 | 1.69 | 000
64421 |  | A | N block inj, intercost, mlt | 1.68 | 3.55 | 5.45 | 0.53 | 0.52 | 0.11 | 5.34 | 7.24 | 2.32 | 2.31 | 000
64425 |  | A | N block inj, ilio-ing/hypogi | 1.75 | 1.34 | 1.57 | 0.56 | 0.55 | 0.13 | 3.22 | 3.45 | 2.44 | 2.43 | 000
64430 |  | A | N block inj, pudendal | 1.46 | 2.41 | 2.49 | 0.78 | 0.61 | 0.10 | 3.97 | 4.05 | 2.34 | 2.17 | 000
64435 |  | A | N block inj, paracervical | 1.45 | 2.00 | 2.39 | 0.56 | 0.66 | 0.16 | 3.61 | 4.00 | 2.17 | 2.27 | 000
64445 |  | A | N block inj, sciatic, sng | 1.48 | 1.67 | 2.42 | 0.52 | 0.51 | 0.10 | 3.25 | 4.00 | 2.10 | 2.09 | 000
64446 |  | A | N blk inj, sciatic, cont inf | 3.61 | NA | NA | 0.59 | 0.90 | 0.20 | NA | NA | 4.40 | 4.71 | 010
64447 |  | A | N block inj fem, single | 1.50 | NA | NA | 0.21 | 0.38 | 0.09 | NA | NA | 1.80 | 1.97 | 000
64448 |  | A | N block inj fem, cont inf | 3.36 | NA | NA | 0.47 | 0.73 | 0.18 | NA | NA | 4.01 | 4.27 | 010
64449 |  | A | N block inj, lumbar plexus | 3.24 | NA | NA | 0.49 | 0.84 | 0.15 | NA | NA | 3.88 | 4.23 | 010
64450 |  | A | N block, other peripheral | 1.27 | 1.29 | 1.25 | 0.50 | 0.49 | 0.13 | 2.69 | 2.65 | 1.90 | 1.89 | 000
64470 |  | A | Inj paravertebral c/t | 1.85 | 3.87 | 6.39 | 0.71 | 0.71 | 0.11 | 5.83 | 8.35 | 2.67 | 2.67 | 000
64472 |  | A | Inj paravertebral c/t add-on | 1.29 | 1.23 | 2.06 | 0.34 | 0.34 | 0.08 | 2.60 | 3.43 | 1.71 | 1.71 | ZZZ
64475 |  | A | Inj paravertebral l/s | 1.41 | 3.72 | 6.09 | 0.60 | 0.62 | 0.10 | 5.23 | 7.60 | 2.11 | 2.13 | 000
64476 |  | A | Inj paravertebral l/s add-on | 0.98 | 1.12 | 1.87 | 0.23 | 0.24 | 0.07 | 2.17 | 2.92 | 1.28 | 1.29 | ZZZ
64479 |  | A | Inj foramen epidural c/t | 2.20 | 3.81 | 6.57 | 0.82 | 0.87 | 0.12 | 6.13 | 8.89 | 3.14 | 3.19 | 000
64480 |  | A | Inj foramen epidural add-on | 1.54 | 1.50 | 2.51 | 0.38 | 0.45 | 0.10 | 3.14 | 4.15 | 2.02 | 2.09 | ZZZ
64483 |  | A | Inj foramen epidural l/s | 1.90 | 3.85 | 6.88 | 0.76 | 0.81 | 0.11 | 5.86 | 8.89 | 2.77 | 2.82 | 000
64484 |  | A | Inj foramen epidural add-on | 1.33 | 1.63 | 2.87 | 0.32 | 0.36 | 0.08 | 3.04 | 4.28 | 1.73 | 1.77 | ZZZ
64505 |  | A | N block, spenopalatine gangl | 1.36 | 1.11 | 1.21 | 0.73 | 0.68 | 0.10 | 2.57 | 2.67 | 2.19 | 2.14 | 000
64508 |  | A | N block, carotid sinus s/p | 1.12 | 1.89 | 2.96 | 0.48 | 0.68 | 0.07 | 3.08 | 4.15 | 1.67 | 1.87 | 000
64510 |  | A | N block, stellate ganglion | 1.22 | 1.92 | 3.07 | 0.44 | 0.49 | 0.07 | 3.21 | 4.36 | 1.73 | 1.78 | 000
64517 |  | A | N block inj, hypogas plxs | 2.20 | 1.70 | 2.47 | 0.67 | 0.82 | 0.11 | 4.01 | 4.78 | 2.98 | 3.13 | 000
64520 |  | A | N block, lumbar/thoracic | 1.35 | 2.62 | 4.51 | 0.52 | 0.54 | 0.08 | 4.05 | 5.94 | 1.95 | 1.97 | 000
64530 |  | A | N block inj, celiac pelus | 1.58 | 2.65 | 4.00 | 0.60 | 0.64 | 0.10 | 4.33 | 5.68 | 2.28 | 2.32 | 000
64550 |  | A | Apply neurostimulator | 0.18 | 0.20 | 0.26 | 0.06 | 0.05 | 0.01 | 0.39 | 0.45 | 0.25 | 0.24 | 000
64553 |  | A | Implant neuroelectrodes | 2.31 | 2.50 | 2.75 | 1.35 | 1.73 | 0.18 | 4.99 | 5.24 | 3.84 | 4.22 | 010
64555 |  | A | Implant neuroelectrodes | 2.27 | 2.57 | 2.97 | 1.36 | 1.23 | 0.19 | 5.03 | 5.43 | 3.82 | 3.69 | 010
64560 |  | A | Implant neuroelectrodes | 2.36 | 2.49 | 2.60 | 1.33 | 1.29 | 0.22 | 5.07 | 5.18 | 3.91 | 3.87 | 010
64561 |  | A | Implant neuroelectrodes | 7.05 | 20.04 | 27.55 | 3.87 | 3.05 | 0.51 | 27.60 | 35.11 | 11.43 | 10.61 | 010
64565 |  | A | Implant neuroelectrodes | 1.76 | 2.47 | 3.08 | 1.28 | 1.27 | 0.13 | 4.36 | 4.97 | 3.17 | 3.16 | 010
64573 |  | A | Implant neuroelectrodes | 8.11 | NA | NA | 5.44 | 5.29 | 1.60 | NA | NA | 15.15 | 15.00 | 090
64575 |  | A | Implant neuroelectrodes | 4.34 | NA | NA | 2.00 | 2.50 | 0.61 | NA | NA | 6.95 | 7.45 | 090
64577 |  | A | Implant neuroelectrodes | 4.61 | NA | NA | 2.87 | 3.18 | 1.04 | NA | NA | 8.52 | 8.83 | 090
64580 |  | A | Implant neuroelectrodes | 4.11 | NA | NA | 2.69 | 3.34 | 0.36 | NA | NA | 7.16 | 7.81 | 090
64581 |  | A | Implant neuroelectrodes | 14.13 | NA | NA | 6.72 | 5.71 | 1.05 | NA | NA | 21.90 | 20.89 | 090
64585 |  | A | Revise/remove neuroelectrode | 2.06 | 5.79 | 9.91 | 2.24 | 2.16 | 0.20 | 8.05 | 12.17 | 4.50 | 4.42 | 010
64590 |  | A | Insrt/redo perph n generator | 2.40 | 6.44 | 6.97 | 2.47 | 2.33 | 0.19 | 9.03 | 9.56 | 5.06 | 4.92 | 010
64595 |  | A | Revise/remove neuroreceiver | 1.73 | 6.52 | 9.42 | 2.20 | 1.99 | 0.19 | 8.44 | 11.34 | 4.12 | 3.91 | 010
64600 |  | A | Injection treatment of nerve | 3.44 | 5.28 | 8.33 | 1.58 | 1.63 | 0.34 | 9.06 | 12.11 | 5.36 | 5.41 | 010
64605 |  | A | Injection treatment of nerve | 5.60 | 7.65 | 9.08 | 2.39 | 2.23 | 0.79 | 14.04 | 15.47 | 8.78 | 8.62 | 010
64610 |  | A | Injection treatment of nerve | 7.15 | 9.41 | 9.00 | 3.52 | 3.66 | 1.58 | 18.14 | 17.73 | 12.25 | 12.39 | 010
64612 |  | A | Destroy nerve, face muscle | 1.96 | 1.61 | 2.26 | 1.36 | 1.33 | 0.11 | 3.68 | 4.33 | 3.43 | 3.40 | 010
64613 |  | A | Destroy nerve, neck muscle | 1.96 | 1.36 | 2.54 | 1.13 | 1.20 | 0.11 | 3.43 | 4.61 | 3.20 | 3.27 | 010
64614 |  | A | Destroy nerve, extrem musc | 2.20 | 1.62 | 2.82 | 1.31 | 1.31 | 0.10 | 3.92 | 5.12 | 3.61 | 3.61 | 010
64620 |  | A | Injection treatment of nerve | 2.84 | 3.44 | 4.66 | 1.17 | 1.29 | 0.20 | 6.48 | 7.70 | 4.21 | 4.33 | 010
64622 |  | A | Destr paravertebrl nerve l/s | 3.00 | 4.10 | 6.85 | 1.27 | 1.35 | 0.18 | 7.28 | 10.03 | 4.45 | 4.53 | 010
64623 |  | A | Destr paravertebral n add-on | 0.99 | 1.65 | 2.63 | 0.22 | 0.22 | 0.06 | 2.70 | 3.68 | 1.27 | 1.27 | ZZZ
64626 |  | A | Destr paravertebrl nerve c/t | 3.78 | 4.74 | 7.02 | 1.87 | 1.94 | 0.20 | 8.72 | 11.00 | 5.85 | 5.92 | 010
64627 |  | A | Destr paravertebral n add-on | 1.16 | 2.38 | 3.99 | 0.25 | 0.27 | 0.07 | 3.61 | 5.22 | 1.48 | 1.50 | ZZZ
64630 |  | A | Injection treatment of nerve | 3.00 | 2.81 | 2.75 | 1.88 | 1.53 | 0.22 | 6.03 | 5.97 | 5.10 | 4.75 | 010
64640 |  | A | Injection treatment of nerve | 2.76 | 2.45 | 3.75 | 1.44 | 1.74 | 0.29 | 5.50 | 6.80 | 4.49 | 4.79 | 010
64650 |  | A | Chemodenerv eccrine glands | 0.70 | 0.78 | 0.85 | 0.18 | 0.27 | 0.06 | 1.54 | 1.61 | 0.94 | 1.03 | 000
64653 |  | A | Chemodenerv eccrine glands | 0.88 | 0.83 | 0.90 | 0.22 | 0.34 | 0.08 | 1.79 | 1.86 | 1.18 | 1.30 | 000
64680 |  | A | Injection treatment of nerve | 2.62 | 4.01 | 6.04 | 1.09 | 1.35 | 0.18 | 6.81 | 8.84 | 3.89 | 4.15 | 010
64681 |  | A | Injection treatment of nerve | 3.78 | 4.92 | 8.20 | 1.32 | 1.88 | 0.28 | 8.98 | 12.26 | 5.38 | 5.94 | 010
64702 |  | A | Revise finger/toe nerve | 6.02 | NA | NA | 5.27 | 4.21 | 0.61 | NA | NA | 11.90 | 10.84 | 090
64704 |  | A | Revise hand/foot nerve | 4.56 | NA | NA | 3.20 | 3.28 | 0.61 | NA | NA | 8.37 | 8.45 | 090
64708 |  | A | Revise arm/leg nerve | 6.17 | NA | NA | 4.29 | 4.72 | 0.96 | NA | NA | 11.42 | 11.85 | 090
64712 |  | A | Revision of sciatic nerve | 7.92 | NA | NA | 4.55 | 4.86 | 0.95 | NA | NA | 13.42 | 13.73 | 090
64713 |  | A | Revision of arm nerve(s) | 11.22 | NA | NA | 6.47 | 6.02 | 1.82 | NA | NA | 19.51 | 19.06 | 090
64714 |  | A | Revise low back nerve(s) | 10.37 | NA | NA | 4.91 | 4.38 | 1.19 | NA | NA | 16.47 | 15.94 | 090
64716 |  | A | Revision of cranial nerve | 6.80 | NA | NA | 5.15 | 5.77 | 0.63 | NA | NA | 12.58 | 13.20 | 090
64718 |  | A | Revise ulnar nerve at elbow | 6.98 | NA | NA | 6.23 | 6.05 | 1.05 | NA | NA | 14.26 | 14.08 | 090
64719 |  | A | Revise ulnar nerve at wrist | 4.84 | NA | NA | 4.16 | 4.43 | 0.77 | NA | NA | 9.77 | 10.04 | 090
64721 |  | A | Carpal tunnel surgery | 4.78 | 4.72 | 5.20 | 4.66 | 5.19 | 0.73 | 10.23 | 10.71 | 10.17 | 10.70 | 090
64722 |  | A | Relieve pressure on nerve(s) | 4.69 | NA | NA | 2.83 | 2.99 | 0.48 | NA | NA | 8.00 | 8.16 | 090
64726 |  | A | Release foot/toe nerve | 4.17 | NA | NA | 2.73 | 2.78 | 0.54 | NA | NA | 7.44 | 7.49 | 090
64727 |  | A | Internal nerve revision | 3.10 | NA | NA | 1.23 | 1.43 | 0.48 | NA | NA | 4.81 | 5.01 | ZZZ
64732 |  | A | Incision of brow nerve | 4.78 | NA | NA | 4.27 | 3.69 | 0.98 | NA | NA | 10.03 | 9.45 | 090
64734 |  | A | Incision of cheek nerve | 5.41 | NA | NA | 4.64 | 4.20 | 0.89 | NA | NA | 10.94 | 10.50 | 090
64736 |  | A | Incision of chin nerve | 5.09 | NA | NA | 3.87 | 3.98 | 0.52 | NA | NA | 9.48 | 9.59 | 090
64738 |  | A | Incision of jaw nerve | 6.22 | NA | NA | 4.22 | 4.51 | 1.08 | NA | NA | 11.52 | 11.81 | 090
64740 |  | A | Incision of tongue nerve | 6.08 | NA | NA | 4.41 | 4.94 | 0.69 | NA | NA | 11.18 | 11.71 | 090
64742 |  | A | Incision of facial nerve | 6.71 | NA | NA | 4.35 | 4.61 | 0.73 | NA | NA | 11.79 | 12.05 | 090
64744 |  | A | Incise nerve, back of head | 5.61 | NA | NA | 4.59 | 3.98 | 1.16 | NA | NA | 11.36 | 10.75 | 090
64746 |  | A | Incise diaphragm nerve | 6.42 | NA | NA | 3.88 | 4.35 | 0.82 | NA | NA | 11.12 | 11.59 | 090
64752 |  | A | Incision of vagus nerve | 7.55 | NA | NA | 4.06 | 4.23 | 0.93 | NA | NA | 12.54 | 12.71 | 090
64755 |  | A | Incision of stomach nerves | 14.93 | NA | NA | 5.84 | 5.68 | 1.83 | NA | NA | 22.60 | 22.44 | 090
64760 |  | A | Incision of vagus nerve | 7.45 | NA | NA | 3.85 | 3.55 | 0.81 | NA | NA | 12.11 | 11.81 | 090
64761 |  | A | Incision of pelvis nerve | 6.90 | NA | NA | 3.99 | 3.64 | 0.53 | NA | NA | 11.42 | 11.07 | 090
64763 |  | A | Incise hip/thigh nerve | 7.42 | NA | NA | 5.07 | 5.16 | 0.94 | NA | NA | 13.43 | 13.52 | 090
64766 |  | A | Incise hip/thigh nerve | 9.29 | NA | NA | 5.31 | 5.26 | 1.06 | NA | NA | 15.66 | 15.61 | 090
64771 |  | A | Sever cranial nerve | 7.97 | NA | NA | 5.28 | 5.48 | 1.23 | NA | NA | 14.48 | 14.68 | 090
64772 |  | A | Incision of spinal nerve | 7.70 | NA | NA | 5.32 | 5.02 | 1.40 | NA | NA | 14.42 | 14.12 | 090
64774 |  | A | Remove skin nerve lesion | 5.66 | NA | NA | 3.97 | 3.87 | 0.74 | NA | NA | 10.37 | 10.27 | 090
64776 |  | A | Remove digit nerve lesion | 5.49 | NA | NA | 3.73 | 3.69 | 0.76 | NA | NA | 9.98 | 9.94 | 090
64778 |  | A | Digit nerve surgery add-on | 3.11 | NA | NA | 1.19 | 1.42 | 0.46 | NA | NA | 4.76 | 4.99 | ZZZ
64782 |  | A | Remove limb nerve lesion | 6.72 | NA | NA | 4.11 | 3.86 | 0.86 | NA | NA | 11.69 | 11.44 | 090
64783 |  | A | Limb nerve surgery add-on | 3.71 | NA | NA | 1.41 | 1.73 | 0.51 | NA | NA | 5.63 | 5.95 | ZZZ
64784 |  | A | Remove nerve lesion | 10.44 | NA | NA | 6.20 | 6.49 | 1.38 | NA | NA | 18.01 | 18.30 | 090
64786 |  | A | Remove sciatic nerve lesion | 16.07 | NA | NA | 8.97 | 9.62 | 2.60 | NA | NA | 27.64 | 28.29 | 090
64787 |  | A | Implant nerve end | 4.29 | NA | NA | 1.60 | 1.99 | 0.58 | NA | NA | 6.47 | 6.86 | ZZZ
64788 |  | A | Remove skin nerve lesion | 5.10 | NA | NA | 3.87 | 3.56 | 0.73 | NA | NA | 9.70 | 9.39 | 090
64790 |  | A | Removal of nerve lesion | 11.92 | NA | NA | 6.81 | 7.10 | 2.10 | NA | NA | 20.83 | 21.12 | 090
64792 |  | A | Removal of nerve lesion | 15.65 | NA | NA | 8.40 | 8.72 | 2.48 | NA | NA | 26.53 | 26.85 | 090
64795 |  | A | Biopsy of nerve | 3.01 | NA | NA | 1.44 | 1.53 | 0.52 | NA | NA | 4.97 | 5.06 | 000
64802 |  | A | Remove sympathetic nerves | 10.19 | NA | NA | 4.22 | 4.90 | 1.29 | NA | NA | 15.70 | 16.38 | 090
64804 |  | A | Remove sympathetic nerves | 15.73 | NA | NA | 6.10 | 6.90 | 2.14 | NA | NA | 23.97 | 24.77 | 090
64809 |  | A | Remove sympathetic nerves | 14.57 | NA | NA | 6.60 | 5.97 | 1.50 | NA | NA | 22.67 | 22.04 | 090
64818 |  | A | Remove sympathetic nerves | 11.20 | NA | NA | 4.36 | 5.05 | 1.33 | NA | NA | 16.89 | 17.58 | 090
64820 |  | A | Remove sympathetic nerves | 10.60 | NA | NA | 7.04 | 7.10 | 1.49 | NA | NA | 19.13 | 19.19 | 090
64821 |  | A | Remove sympathetic nerves | 9.11 | NA | NA | 6.64 | 7.17 | 1.24 | NA | NA | 16.99 | 17.52 | 090
64822 |  | A | Remove sympathetic nerves | 9.11 | NA | NA | 6.45 | 7.04 | 1.30 | NA | NA | 16.86 | 17.45 | 090
64823 |  | A | Remove sympathetic nerves | 10.72 | NA | NA | 7.11 | 7.88 | 1.57 | NA | NA | 19.40 | 20.17 | 090
64831 |  | A | Repair of digit nerve | 10.18 | NA | NA | 6.67 | 6.97 | 1.41 | NA | NA | 18.26 | 18.56 | 090
64832 |  | A | Repair nerve add-on | 5.65 | NA | NA | 2.36 | 2.79 | 0.85 | NA | NA | 8.86 | 9.29 | ZZZ
64834 |  | A | Repair of hand or foot nerve | 10.67 | NA | NA | 6.57 | 6.96 | 1.54 | NA | NA | 18.78 | 19.17 | 090
64835 |  | A | Repair of hand or foot nerve | 11.55 | NA | NA | 7.32 | 7.60 | 1.73 | NA | NA | 20.60 | 20.88 | 090
64836 |  | A | Repair of hand or foot nerve | 11.55 | NA | NA | 7.04 | 7.51 | 1.67 | NA | NA | 20.26 | 20.73 | 090
64837 |  | A | Repair nerve add-on | 6.25 | NA | NA | 2.67 | 3.09 | 0.97 | NA | NA | 9.89 | 10.31 | ZZZ
64840 |  | A | Repair of leg nerve | 13.81 | NA | NA | 5.07 | 7.46 | 1.37 | NA | NA | 20.25 | 22.64 | 090
64856 |  | A | Repair/transpose nerve | 14.89 | NA | NA | 8.60 | 9.04 | 2.12 | NA | NA | 25.61 | 26.05 | 090
64857 |  | A | Repair arm/leg nerve | 15.64 | NA | NA | 8.93 | 9.46 | 2.21 | NA | NA | 26.78 | 27.31 | 090
64858 |  | A | Repair sciatic nerve | 17.64 | NA | NA | 10.15 | 10.62 | 3.33 | NA | NA | 31.12 | 31.58 | 090
64859 |  | A | Nerve surgery | 4.25 | NA | NA | 1.88 | 2.11 | 0.67 | NA | NA | 6.80 | 7.03 | ZZZ
64861 |  | A | Repair of arm nerves | 20.68 | NA | NA | 10.04 | 11.34 | 4.08 | NA | NA | 34.80 | 36.10 | 090
64862 |  | A | Repair of low back nerves | 20.88 | NA | NA | 6.83 | 10.66 | 4.31 | NA | NA | 32.02 | 35.85 | 090
64864 |  | A | Repair of facial nerve | 13.27 | NA | NA | 7.03 | 8.33 | 1.26 | NA | NA | 21.56 | 22.86 | 090
64865 |  | A | Repair of facial nerve | 15.91 | NA | NA | 9.89 | 12.61 | 1.50 | NA | NA | 27.30 | 30.02 | 090
64866 |  | A | Fusion of facial/other nerve | 16.65 | NA | NA | 12.27 | 12.94 | 2.04 | NA | NA | 30.96 | 31.63 | 090
64868 |  | A | Fusion of facial/other nerve | 14.76 | NA | NA | 9.07 | 10.84 | 1.43 | NA | NA | 25.26 | 27.03 | 090
64870 |  | A | Fusion of facial/other nerve | 16.90 | NA | NA | 8.42 | 8.65 | 1.30 | NA | NA | 26.62 | 26.85 | 090
64872 |  | A | Subsequent repair of nerve | 1.99 | NA | NA | 0.81 | 1.01 | 0.29 | NA | NA | 3.09 | 3.29 | ZZZ
64874 |  | A | Repair & revise nerve add-on | 2.98 | NA | NA | 1.21 | 1.45 | 0.42 | NA | NA | 4.61 | 4.85 | ZZZ
64876 |  | A | Repair nerve/shorten bone | 3.37 | NA | NA | 0.78 | 1.50 | 0.47 | NA | NA | 4.62 | 5.34 | ZZZ
64885 |  | A | Nerve graft, head or neck | 17.50 | NA | NA | 8.84 | 10.91 | 1.63 | NA | NA | 27.97 | 30.04 | 090
64886 |  | A | Nerve graft, head or neck | 20.72 | NA | NA | 9.68 | 12.58 | 2.08 | NA | NA | 32.48 | 35.38 | 090
64890 |  | A | Nerve graft, hand or foot | 16.06 | NA | NA | 9.05 | 9.76 | 2.29 | NA | NA | 27.40 | 28.11 | 090
64891 |  | A | Nerve graft, hand or foot | 17.17 | NA | NA | 9.87 | 8.15 | 1.63 | NA | NA | 28.67 | 26.95 | 090
64892 |  | A | Nerve graft, arm or leg | 15.56 | NA | NA | 8.95 | 8.88 | 2.47 | NA | NA | 26.98 | 26.91 | 090
64893 |  | A | Nerve graft, arm or leg | 16.69 | NA | NA | 9.67 | 9.81 | 2.61 | NA | NA | 28.97 | 29.11 | 090
64895 |  | A | Nerve graft, hand or foot | 20.21 | NA | NA | 10.02 | 9.74 | 2.57 | NA | NA | 32.80 | 32.52 | 090
64896 |  | A | Nerve graft, hand or foot | 21.75 | NA | NA | 11.89 | 11.21 | 3.16 | NA | NA | 36.80 | 36.12 | 090
64897 |  | A | Nerve graft, arm or leg | 19.20 | NA | NA | 10.43 | 10.63 | 2.54 | NA | NA | 32.17 | 32.37 | 090
64898 |  | A | Nerve graft, arm or leg | 20.76 | NA | NA | 11.28 | 11.66 | 2.77 | NA | NA | 34.81 | 35.19 | 090
64901 |  | A | Nerve graft add-on | 10.20 | NA | NA | 3.82 | 4.90 | 1.37 | NA | NA | 15.39 | 16.47 | ZZZ
64902 |  | A | Nerve graft add-on | 11.81 | NA | NA | 4.25 | 5.53 | 1.55 | NA | NA | 17.61 | 18.89 | ZZZ
64905 |  | A | Nerve pedicle transfer | 14.93 | NA | NA | 6.84 | 8.08 | 2.00 | NA | NA | 23.77 | 25.01 | 090
64907 |  | A | Nerve pedicle transfer | 19.85 | NA | NA | 6.41 | 10.99 | 3.16 | NA | NA | 29.42 | 34.00 | 090
64999 |  | C | Nervous system surgery | 0.00 | 0.00 | 0.00 | 0.00 | 0.00 | 0.00 | 0.00 | 0.00 | 0.00 | 0.00 | YYY
65091 |  | A | Revise eye | 7.08 | NA | NA | 6.91 | 7.99 | 0.32 | NA | NA | 14.31 | 15.39 | 090
65093 |  | A | Revise eye with implant | 6.86 | NA | NA | 7.00 | 8.28 | 0.34 | NA | NA | 14.20 | 15.48 | 090
65101 |  | A | Removal of eye | 8.02 | NA | NA | 8.15 | 9.18 | 0.35 | NA | NA | 16.52 | 17.55 | 090
65103 |  | A | Remove eye/insert implant | 8.56 | NA | NA | 8.37 | 9.39 | 0.37 | NA | NA | 17.30 | 18.32 | 090
65105 |  | A | Remove eye/attach implant | 9.61 | NA | NA | 9.06 | 10.11 | 0.42 | NA | NA | 19.09 | 20.14 | 090
65110 |  | A | Removal of eye | 15.31 | NA | NA | 11.58 | 13.15 | 0.81 | NA | NA | 27.70 | 29.27 | 090
65112 |  | A | Remove eye/revise socket | 18.05 | NA | NA | 13.05 | 15.36 | 1.30 | NA | NA | 32.40 | 34.71 | 090
65114 |  | A | Remove eye/revise socket | 19.19 | NA | NA | 13.69 | 15.68 | 1.02 | NA | NA | 33.90 | 35.89 | 090
65125 |  | A | Revise ocular implant | 3.12 | 6.82 | 8.31 | 3.18 | 3.50 | 0.19 | 10.13 | 11.62 | 6.49 | 6.81 | 090
65130 |  | A | Insert ocular implant | 8.14 | NA | NA | 7.92 | 8.85 | 0.35 | NA | NA | 16.41 | 17.34 | 090
65135 |  | A | Insert ocular implant | 8.32 | NA | NA | 7.97 | 8.98 | 0.36 | NA | NA | 16.65 | 17.66 | 090
65140 |  | A | Attach ocular implant | 9.14 | NA | NA | 8.59 | 9.55 | 0.40 | NA | NA | 18.13 | 19.09 | 090
65150 |  | A | Revise ocular implant | 6.25 | NA | NA | 6.47 | 7.60 | 0.31 | NA | NA | 13.03 | 14.16 | 090
65155 |  | A | Reinsert ocular implant | 9.78 | NA | NA | 8.85 | 10.07 | 0.50 | NA | NA | 19.13 | 20.35 | 090
65175 |  | A | Removal of ocular implant | 7.15 | NA | NA | 7.27 | 8.18 | 0.31 | NA | NA | 14.73 | 15.64 | 090
65205 |  | A | Remove foreign body from eye | 0.71 | 0.59 | 0.63 | 0.33 | 0.30 | 0.03 | 1.33 | 1.37 | 1.07 | 1.04 | 000
65210 |  | A | Remove foreign body from eye | 0.84 | 0.74 | 0.79 | 0.41 | 0.39 | 0.04 | 1.62 | 1.67 | 1.29 | 1.27 | 000
65220 |  | A | Remove foreign body from eye | 0.71 | 0.60 | 0.63 | 0.29 | 0.28 | 0.05 | 1.36 | 1.39 | 1.05 | 1.04 | 000
65222 |  | A | Remove foreign body from eye | 0.93 | 0.81 | 0.87 | 0.43 | 0.39 | 0.04 | 1.78 | 1.84 | 1.40 | 1.36 | 000
65235 |  | A | Remove foreign body from eye | 8.69 | NA | NA | 6.99 | 6.80 | 0.37 | NA | NA | 16.05 | 15.86 | 090
65260 |  | A | Remove foreign body from eye | 12.19 | NA | NA | 9.03 | 9.50 | 0.57 | NA | NA | 21.79 | 22.26 | 090
65265 |  | A | Remove foreign body from eye | 13.95 | NA | NA | 9.90 | 10.44 | 0.62 | NA | NA | 24.47 | 25.01 | 090
65270 |  | A | Repair of eye wound | 1.90 | 3.88 | 4.89 | 1.22 | 1.35 | 0.09 | 5.87 | 6.88 | 3.21 | 3.34 | 010
65272 |  | A | Repair of eye wound | 4.44 | 6.50 | 7.41 | 3.27 | 3.29 | 0.19 | 11.13 | 12.04 | 7.90 | 7.92 | 090
65273 |  | A | Repair of eye wound | 4.98 | NA | NA | 3.43 | 3.54 | 0.22 | NA | NA | 8.63 | 8.74 | 090
65275 |  | A | Repair of eye wound | 6.08 | 6.43 | 6.34 | 3.99 | 3.95 | 0.26 | 12.77 | 12.68 | 10.33 | 10.29 | 090
65280 |  | A | Repair of eye wound | 8.78 | NA | NA | 6.02 | 6.18 | 0.38 | NA | NA | 15.18 | 15.34 | 090
65285 |  | A | Repair of eye wound | 14.32 | NA | NA | 8.70 | 9.08 | 0.64 | NA | NA | 23.66 | 24.04 | 090
65286 |  | A | Repair of eye wound | 6.38 | 8.96 | 10.60 | 4.53 | 4.60 | 0.27 | 15.61 | 17.25 | 11.18 | 11.25 | 090
65290 |  | A | Repair of eye socket wound | 6.28 | NA | NA | 4.55 | 4.69 | 0.31 | NA | NA | 11.14 | 11.28 | 090
65400 |  | A | Removal of eye lesion | 7.18 | 7.66 | 8.16 | 6.03 | 6.10 | 0.30 | 15.14 | 15.64 | 13.51 | 13.58 | 090
65410 |  | A | Biopsy of cornea | 1.47 | 1.72 | 2.01 | 0.90 | 0.95 | 0.07 | 3.26 | 3.55 | 2.44 | 2.49 | 000
65420 |  | A | Removal of eye lesion | 4.16 | 7.03 | 8.40 | 4.07 | 4.35 | 0.21 | 11.40 | 12.77 | 8.44 | 8.72 | 090
65426 |  | A | Removal of eye lesion | 5.85 | 8.41 | 9.73 | 4.71 | 4.87 | 0.25 | 14.51 | 15.83 | 10.81 | 10.97 | 090
65430 |  | A | Corneal smear | 1.47 | 1.13 | 1.25 | 0.90 | 0.96 | 0.07 | 2.67 | 2.79 | 2.44 | 2.50 | 000
65435 |  | A | Curette/treat cornea | 0.92 | 0.89 | 0.97 | 0.67 | 0.70 | 0.04 | 1.85 | 1.93 | 1.63 | 1.66 | 000
65436 |  | A | Curette/treat cornea | 4.68 | 3.88 | 4.04 | 3.55 | 3.64 | 0.21 | 8.77 | 8.93 | 8.44 | 8.53 | 090
65450 |  | A | Treatment of corneal lesion | 3.27 | 3.76 | 3.99 | 3.68 | 3.88 | 0.16 | 7.19 | 7.42 | 7.11 | 7.31 | 090
65600 |  | A | Revision of cornea | 4.02 | 4.58 | 4.90 | 3.51 | 3.39 | 0.17 | 8.77 | 9.09 | 7.70 | 7.58 | 090
65710 |  | A | Corneal transplant | 13.97 | NA | NA | 10.49 | 11.02 | 0.61 | NA | NA | 25.07 | 25.60 | 090
65730 |  | A | Corneal transplant | 15.87 | NA | NA | 11.29 | 11.84 | 0.70 | NA | NA | 27.86 | 28.41 | 090
65750 |  | A | Corneal transplant | 16.48 | NA | NA | 11.00 | 11.73 | 0.74 | NA | NA | 28.22 | 28.95 | 090
65755 |  | A | Corneal transplant | 16.37 | NA | NA | 10.97 | 11.66 | 0.73 | NA | NA | 28.07 | 28.76 | 090
65770 |  | A | Revise cornea with implant | 19.28 | NA | NA | 12.09 | 12.92 | 0.87 | NA | NA | 32.24 | 33.07 | 090
65772 |  | A | Correction of astigmatism | 4.91 | 4.99 | 5.40 | 4.04 | 4.11 | 0.21 | 10.11 | 10.52 | 9.16 | 9.23 | 090
65775 |  | A | Correction of astigmatism | 6.66 | NA | NA | 5.46 | 5.83 | 0.28 | NA | NA | 12.40 | 12.77 | 090
65780 |  | A | Ocular reconst, transplant | 10.23 | NA | NA | 9.18 | 10.01 | 0.44 | NA | NA | 19.85 | 20.68 | 090
65781 |  | A | Ocular reconst, transplant | 17.64 | NA | NA | 11.94 | 13.24 | 0.44 | NA | NA | 30.02 | 31.32 | 090
65782 |  | A | Ocular reconst, transplant | 14.98 | NA | NA | 10.53 | 11.63 | 0.44 | NA | NA | 25.95 | 27.05 | 090
65800 |  | A | Drainage of eye | 1.91 | 1.45 | 1.71 | 1.07 | 1.15 | 0.09 | 3.45 | 3.71 | 3.07 | 3.15 | 000
65805 |  | A | Drainage of eye | 1.91 | 1.76 | 2.07 | 1.07 | 1.16 | 0.09 | 3.76 | 4.07 | 3.07 | 3.16 | 000
65810 |  | A | Drainage of eye | 5.61 | NA | NA | 4.82 | 4.73 | 0.24 | NA | NA | 10.67 | 10.58 | 090
65815 |  | A | Drainage of eye | 5.79 | 8.14 | 9.54 | 4.72 | 4.79 | 0.25 | 14.18 | 15.58 | 10.76 | 10.83 | 090
65820 |  | A | Relieve inner eye pressure | 8.62 | NA | NA | 7.88 | 8.76 | 0.40 | NA | NA | 16.90 | 17.78 | 090
65850 |  | A | Incision of eye | 11.14 | NA | NA | 7.56 | 8.22 | 0.52 | NA | NA | 19.22 | 19.88 | 090
65855 |  | A | Laser surgery of eye | 3.84 | 3.59 | 4.13 | 2.71 | 3.00 | 0.19 | 7.62 | 8.16 | 6.74 | 7.03 | 010
65860 |  | A | Incise inner eye adhesions | 3.54 | 3.37 | 3.87 | 2.16 | 2.42 | 0.18 | 7.09 | 7.59 | 5.88 | 6.14 | 090
65865 |  | A | Incise inner eye adhesions | 5.59 | NA | NA | 4.84 | 5.43 | 0.28 | NA | NA | 10.71 | 11.30 | 090
65870 |  | A | Incise inner eye adhesions | 7.14 | NA | NA | 5.88 | 6.28 | 0.31 | NA | NA | 13.33 | 13.73 | 090
65875 |  | A | Incise inner eye adhesions | 7.53 | NA | NA | 6.33 | 6.68 | 0.32 | NA | NA | 14.18 | 14.53 | 090
65880 |  | A | Incise inner eye adhesions | 8.08 | NA | NA | 6.54 | 6.91 | 0.35 | NA | NA | 14.97 | 15.34 | 090
65900 |  | A | Remove eye lesion | 12.16 | NA | NA | 9.15 | 9.98 | 0.54 | NA | NA | 21.85 | 22.68 | 090
65920 |  | A | Remove implant of eye | 9.64 | NA | NA | 7.72 | 8.06 | 0.41 | NA | NA | 17.77 | 18.11 | 090
65930 |  | A | Remove blood clot from eye | 8.18 | NA | NA | 5.98 | 6.62 | 0.37 | NA | NA | 14.53 | 15.17 | 090
66020 |  | A | Injection treatment of eye | 1.59 | 2.49 | 2.96 | 1.31 | 1.41 | 0.08 | 4.16 | 4.63 | 2.98 | 3.08 | 010
66030 |  | A | Injection treatment of eye | 1.25 | 2.36 | 2.81 | 1.18 | 1.26 | 0.06 | 3.67 | 4.12 | 2.49 | 2.57 | 010
66130 |  | A | Remove eye lesion | 7.68 | 7.75 | 9.15 | 5.04 | 5.47 | 0.38 | 15.81 | 17.21 | 13.10 | 13.53 | 090
66150 |  | A | Glaucoma surgery | 10.04 | NA | NA | 9.04 | 9.31 | 0.46 | NA | NA | 19.54 | 19.81 | 090
66155 |  | A | Glaucoma surgery | 10.03 | NA | NA | 9.02 | 9.27 | 0.41 | NA | NA | 19.46 | 19.71 | 090
66160 |  | A | Glaucoma surgery | 11.90 | NA | NA | 9.78 | 10.09 | 0.50 | NA | NA | 22.18 | 22.49 | 090
66165 |  | A | Glaucoma surgery | 9.75 | NA | NA | 8.97 | 9.17 | 0.40 | NA | NA | 19.12 | 19.32 | 090
66170 |  | A | Glaucoma surgery | 14.39 | NA | NA | 11.90 | 12.14 | 0.60 | NA | NA | 26.89 | 27.13 | 090
66172 |  | A | Incision of eye | 18.02 | NA | NA | 15.09 | 15.17 | 0.74 | NA | NA | 33.85 | 33.93 | 090
66180 |  | A | Implant eye shunt | 15.91 | NA | NA | 10.05 | 10.58 | 0.71 | NA | NA | 26.67 | 27.20 | 090
66185 |  | A | Revise eye shunt | 9.26 | NA | NA | 7.28 | 7.36 | 0.40 | NA | NA | 16.94 | 17.01 | 090
66220 |  | A | Repair eye lesion | 8.89 | NA | NA | 7.21 | 7.13 | 0.40 | NA | NA | 16.50 | 16.42 | 090
66225 |  | A | Repair/graft eye lesion | 12.28 | NA | NA | 8.41 | 8.65 | 0.55 | NA | NA | 21.24 | 21.48 | 090
66250 |  | A | Follow-up surgery of eye | 6.85 | 9.51 | 11.15 | 5.42 | 5.47 | 0.30 | 16.66 | 18.30 | 12.57 | 12.62 | 090
66500 |  | A | Incision of iris | 3.70 | NA | NA | 4.07 | 4.50 | 0.18 | NA | NA | 7.95 | 8.38 | 090
66505 |  | A | Incision of iris | 4.07 | NA | NA | 4.43 | 4.85 | 0.20 | NA | NA | 8.70 | 9.12 | 090
66600 |  | A | Remove iris and lesion | 9.80 | NA | NA | 8.55 | 8.30 | 0.43 | NA | NA | 18.78 | 18.53 | 090
66605 |  | A | Removal of iris | 13.90 | NA | NA | 9.43 | 9.87 | 0.77 | NA | NA | 24.10 | 24.54 | 090
66625 |  | A | Removal of iris | 5.12 | NA | NA | 4.34 | 4.63 | 0.26 | NA | NA | 9.72 | 10.01 | 090
66630 |  | A | Removal of iris | 7.03 | NA | NA | 5.52 | 5.66 | 0.31 | NA | NA | 12.86 | 13.00 | 090
66635 |  | A | Removal of iris | 7.12 | NA | NA | 5.55 | 5.69 | 0.31 | NA | NA | 12.98 | 13.12 | 090
66680 |  | A | Repair iris & ciliary body | 6.18 | NA | NA | 5.23 | 5.26 | 0.27 | NA | NA | 11.68 | 11.71 | 090
66682 |  | A | Repair iris & ciliary body | 7.08 | NA | NA | 6.92 | 6.69 | 0.31 | NA | NA | 14.31 | 14.08 | 090
66700 |  | A | Destruction, ciliary body | 5.02 | 4.96 | 5.17 | 3.73 | 3.88 | 0.24 | 10.22 | 10.43 | 8.99 | 9.14 | 090
66710 |  | A | Ciliary transsleral therapy | 5.02 | 4.73 | 5.06 | 3.71 | 3.81 | 0.23 | 9.98 | 10.31 | 8.96 | 9.06 | 090
66711 |  | A | Ciliary endoscopic ablation | 7.60 | NA | NA | 6.49 | 6.48 | 0.30 | NA | NA | 14.39 | 14.38 | 090
66720 |  | A | Destruction, ciliary body | 4.77 | 5.47 | 5.71 | 4.40 | 4.64 | 0.26 | 10.50 | 10.74 | 9.43 | 9.67 | 090
66740 |  | A | Destruction, ciliary body | 5.02 | 4.68 | 4.99 | 3.73 | 3.91 | 0.23 | 9.93 | 10.24 | 8.98 | 9.16 | 090
66761 |  | A | Revision of iris | 4.81 | 5.17 | 5.49 | 4.32 | 4.31 | 0.20 | 10.18 | 10.50 | 9.33 | 9.32 | 090
66762 |  | A | Revision of iris | 5.20 | 5.26 | 5.55 | 4.20 | 4.27 | 0.23 | 10.69 | 10.98 | 9.63 | 9.70 | 090
66770 |  | A | Removal of inner eye lesion | 5.92 | 5.71 | 5.99 | 4.74 | 4.79 | 0.26 | 11.89 | 12.17 | 10.92 | 10.97 | 090
66820 |  | A | Incision, secondary cataract | 3.88 | NA | NA | 4.76 | 5.55 | 0.19 | NA | NA | 8.83 | 9.62 | 090
66821 |  | A | After cataract laser surgery | 3.28 | 3.93 | 4.05 | 3.51 | 3.59 | 0.11 | 7.32 | 7.44 | 6.90 | 6.98 | 090
66825 |  | A | Reposition intraocular lens | 8.72 | NA | NA | 8.01 | 8.80 | 0.40 | NA | NA | 17.13 | 17.92 | 090
66830 |  | A | Removal of lens lesion | 9.19 | NA | NA | 6.57 | 6.86 | 0.36 | NA | NA | 16.12 | 16.41 | 090
66840 |  | A | Removal of lens material | 8.90 | NA | NA | 6.51 | 6.77 | 0.39 | NA | NA | 15.80 | 16.06 | 090
66850 |  | A | Removal of lens material | 10.23 | NA | NA | 7.31 | 7.56 | 0.45 | NA | NA | 17.99 | 18.24 | 090
66852 |  | A | Removal of lens material | 11.09 | NA | NA | 7.65 | 7.99 | 0.49 | NA | NA | 19.23 | 19.57 | 090
66920 |  | A | Extraction of lens | 9.85 | NA | NA | 6.87 | 7.19 | 0.44 | NA | NA | 17.16 | 17.48 | 090
66930 |  | A | Extraction of lens | 11.29 | NA | NA | 7.73 | 8.04 | 0.49 | NA | NA | 19.51 | 19.82 | 090
66940 |  | A | Extraction of lens | 10.05 | NA | NA | 7.25 | 7.51 | 0.43 | NA | NA | 17.73 | 17.99 | 090
66982 |  | A | Cataract surgery, complex | 14.73 | NA | NA | 9.28 | 9.72 | 0.63 | NA | NA | 24.64 | 25.08 | 090
66983 |  | A | Cataract surg w/iol, 1 stage | 10.11 | NA | NA | 6.30 | 6.16 | 0.14 | NA | NA | 16.55 | 16.41 | 090
66984 |  | A | Cataract surg w/iol, 1 stage | 10.28 | NA | NA | 6.62 | 7.22 | 0.39 | NA | NA | 17.29 | 17.89 | 090
66985 |  | A | Insert lens prosthesis | 9.63 | NA | NA | 7.33 | 7.42 | 0.36 | NA | NA | 17.32 | 17.41 | 090
66986 |  | A | Exchange lens prosthesis | 12.26 | NA | NA | 8.38 | 8.97 | 0.60 | NA | NA | 21.24 | 21.83 | 090
66990 |  | A | Ophthalmic endoscope add-on | 1.51 | NA | NA | 0.57 | 0.66 | 0.07 | NA | NA | 2.15 | 2.24 | ZZZ
66999 |  | C | Eye surgery procedure | 0.00 | 0.00 | 0.00 | 0.00 | 0.00 | 0.00 | 0.00 | 0.00 | 0.00 | 0.00 | YYY
67005 |  | A | Partial removal of eye fluid | 5.69 | NA | NA | 4.72 | 4.83 | 0.28 | NA | NA | 10.69 | 10.80 | 090
67010 |  | A | Partial removal of eye fluid | 6.86 | NA | NA | 5.16 | 5.35 | 0.34 | NA | NA | 12.36 | 12.55 | 090
67015 |  | A | Release of eye fluid | 6.91 | NA | NA | 5.88 | 6.31 | 0.34 | NA | NA | 13.13 | 13.56 | 090
67025 |  | A | Replace eye fluid | 7.83 | 8.11 | 8.94 | 6.11 | 6.19 | 0.34 | 16.28 | 17.11 | 14.28 | 14.36 | 090
67027 |  | A | Implant eye drug system | 11.33 | NA | NA | 7.61 | 7.90 | 0.54 | NA | NA | 19.48 | 19.77 | 090
67028 |  | A | Injection eye drug | 2.52 | 2.23 | 2.58 | 1.30 | 1.42 | 0.12 | 4.87 | 5.22 | 3.94 | 4.06 | 000
67030 |  | A | Incise inner eye strands | 5.83 | NA | NA | 5.77 | 5.83 | 0.24 | NA | NA | 11.84 | 11.90 | 090
67031 |  | A | Laser surgery, eye strands | 4.29 | 4.21 | 4.50 | 3.53 | 3.61 | 0.18 | 8.68 | 8.97 | 8.00 | 8.08 | 090
67036 |  | A | Removal of inner eye fluid | 13.00 | NA | NA | 8.35 | 8.93 | 0.58 | NA | NA | 21.93 | 22.51 | 090
67038 |  | A | Strip retinal membrane | 23.15 | NA | NA | 13.97 | 15.11 | 1.04 | NA | NA | 38.16 | 39.30 | 090
67039 |  | A | Laser treatment of retina | 16.25 | NA | NA | 11.08 | 11.91 | 0.71 | NA | NA | 28.04 | 28.87 | 090
67040 |  | A | Laser treatment of retina | 19.08 | NA | NA | 12.45 | 13.37 | 0.85 | NA | NA | 32.38 | 33.30 | 090
67101 |  | A | Repair detached retina | 8.52 | 8.75 | 9.03 | 6.38 | 6.49 | 0.37 | 17.64 | 17.92 | 15.27 | 15.38 | 090
67105 |  | A | Repair detached retina | 8.28 | 7.65 | 7.97 | 5.99 | 6.11 | 0.37 | 16.30 | 16.62 | 14.64 | 14.75 | 090
67107 |  | A | Repair detached retina | 16.26 | NA | NA | 10.74 | 11.16 | 0.73 | NA | NA | 27.73 | 28.15 | 090
67108 |  | A | Repair detached retina | 22.39 | NA | NA | 13.45 | 14.18 | 1.02 | NA | NA | 36.86 | 37.59 | 090
67110 |  | A | Repair detached retina | 9.93 | 9.22 | 9.98 | 7.20 | 7.34 | 0.44 | 19.59 | 20.35 | 17.57 | 17.71 | 090
67112 |  | A | Rerepair detached retina | 18.33 | NA | NA | 11.27 | 11.68 | 0.83 | NA | NA | 30.43 | 30.84 | 090
67115 |  | A | Release encircling material | 5.86 | NA | NA | 5.07 | 5.08 | 0.25 | NA | NA | 11.18 | 11.19 | 090
67120 |  | A | Remove eye implant material | 6.85 | 7.57 | 8.33 | 5.45 | 5.51 | 0.29 | 14.71 | 15.47 | 12.59 | 12.65 | 090
67121 |  | A | Remove eye implant material | 11.90 | NA | NA | 8.25 | 8.46 | 0.53 | NA | NA | 20.68 | 20.89 | 090
67141 |  | A | Treatment of retina | 5.94 | 5.59 | 5.79 | 4.81 | 4.85 | 0.26 | 11.79 | 11.99 | 11.01 | 11.05 | 090
67145 |  | A | Treatment of retina | 6.11 | 5.51 | 5.67 | 4.87 | 4.92 | 0.27 | 11.89 | 12.05 | 11.25 | 11.30 | 090
67208 |  | A | Treatment of retinal lesion | 7.44 | 5.84 | 6.05 | 5.38 | 5.48 | 0.33 | 13.61 | 13.82 | 13.15 | 13.25 | 090
67210 |  | A | Treatment of retinal lesion | 9.31 | 6.14 | 6.46 | 5.65 | 5.82 | 0.44 | 15.89 | 16.21 | 15.40 | 15.57 | 090
67218 |  | A | Treatment of retinal lesion | 20.14 | NA | NA | 11.08 | 11.88 | 0.92 | NA | NA | 32.14 | 32.94 | 090
67220 |  | A | Treatment of choroid lesion | 14.11 | 9.55 | 10.20 | 8.47 | 8.88 | 0.65 | 24.31 | 24.96 | 23.23 | 23.64 | 090
67221 |  | R | Ocular photodynamic ther | 3.45 | 3.03 | 4.01 | 1.45 | 1.71 | 0.20 | 6.68 | 7.66 | 5.10 | 5.36 | 000
67225 |  | A | Eye photodynamic ther add-on | 0.47 | 0.24 | 0.25 | 0.18 | 0.20 | 0.02 | 0.73 | 0.74 | 0.67 | 0.69 | ZZZ
67227 |  | A | Treatment of retinal lesion | 7.32 | 6.19 | 6.48 | 5.33 | 5.47 | 0.33 | 13.84 | 14.13 | 12.98 | 13.12 | 090
67228 |  | A | Treatment of retinal lesion | 13.60 | 10.27 | 11.18 | 7.98 | 8.40 | 0.63 | 24.50 | 25.41 | 22.21 | 22.63 | 090
67250 |  | A | Reinforce eye wall | 9.40 | NA | NA | 7.90 | 8.85 | 0.47 | NA | NA | 17.77 | 18.72 | 090
67255 |  | A | Reinforce/graft eye wall | 9.89 | NA | NA | 8.71 | 9.60 | 0.44 | NA | NA | 19.04 | 19.93 | 090
67299 |  | C | Eye surgery procedure | 0.00 | 0.00 | 0.00 | 0.00 | 0.00 | 0.00 | 0.00 | 0.00 | 0.00 | 0.00 | YYY
67311 |  | A | Revise eye muscle | 7.52 | NA | NA | 5.68 | 5.94 | 0.37 | NA | NA | 13.57 | 13.83 | 090
67312 |  | A | Revise two eye muscles | 9.41 | NA | NA | 6.42 | 6.67 | 0.43 | NA | NA | 16.26 | 16.51 | 090
67314 |  | A | Revise eye muscle | 8.51 | NA | NA | 6.37 | 6.51 | 0.39 | NA | NA | 15.27 | 15.41 | 090
67316 |  | A | Revise two eye muscles | 10.65 | NA | NA | 7.18 | 7.42 | 0.49 | NA | NA | 18.32 | 18.56 | 090
67318 |  | A | Revise eye muscle(s) | 8.84 | NA | NA | 6.76 | 6.89 | 0.41 | NA | NA | 16.01 | 16.14 | 090
67320 |  | A | Revise eye muscle(s) add-on | 4.32 | NA | NA | 1.62 | 1.87 | 0.22 | NA | NA | 6.16 | 6.41 | ZZZ
67331 |  | A | Eye surgery follow-up add-on | 4.05 | NA | NA | 1.51 | 1.75 | 0.21 | NA | NA | 5.77 | 6.01 | ZZZ
67332 |  | A | Rerevise eye muscles add-on | 4.48 | NA | NA | 1.68 | 1.94 | 0.23 | NA | NA | 6.39 | 6.65 | ZZZ
67334 |  | A | Revise eye muscle w/suture | 3.97 | NA | NA | 1.48 | 1.71 | 0.20 | NA | NA | 5.65 | 5.88 | ZZZ
67335 |  | A | Eye suture during surgery | 2.49 | NA | NA | 0.93 | 1.07 | 0.13 | NA | NA | 3.55 | 3.69 | ZZZ
67340 |  | A | Revise eye muscle add-on | 4.92 | NA | NA | 1.84 | 2.11 | 0.25 | NA | NA | 7.01 | 7.28 | ZZZ
67343 |  | A | Release eye tissue | 8.22 | NA | NA | 6.25 | 6.45 | 0.37 | NA | NA | 14.84 | 15.04 | 090
67345 |  | A | Destroy nerve of eye muscle | 2.96 | 2.27 | 2.50 | 1.77 | 1.95 | 0.17 | 5.40 | 5.63 | 4.90 | 5.08 | 010
67350 |  | A | Biopsy eye muscle | 2.87 | NA | NA | 1.69 | 1.83 | 0.15 | NA | NA | 4.71 | 4.85 | 000
67399 |  | C | Eye muscle surgery procedure | 0.00 | 0.00 | 0.00 | 0.00 | 0.00 | 0.00 | 0.00 | 0.00 | 0.00 | 0.00 | YYY
67400 |  | A | Explore/biopsy eye socket | 10.88 | NA | NA | 9.71 | 10.87 | 0.56 | NA | NA | 21.15 | 22.31 | 090
67405 |  | A | Explore/drain eye socket | 8.92 | NA | NA | 8.48 | 9.45 | 0.44 | NA | NA | 17.84 | 18.81 | 090
67412 |  | A | Explore/treat eye socket | 10.12 | NA | NA | 8.81 | 10.40 | 0.48 | NA | NA | 19.41 | 21.00 | 090
67413 |  | A | Explore/treat eye socket | 9.99 | NA | NA | 8.94 | 10.31 | 0.50 | NA | NA | 19.43 | 20.80 | 090
67414 |  | A | Explr/decompress eye socket | 17.72 | NA | NA | 11.99 | 12.03 | 0.65 | NA | NA | 30.36 | 30.40 | 090
67415 |  | A | Aspiration, orbital contents | 1.76 | NA | NA | 0.63 | 0.73 | 0.09 | NA | NA | 2.48 | 2.58 | 000
67420 |  | A | Explore/treat eye socket | 21.52 | NA | NA | 14.59 | 16.69 | 1.15 | NA | NA | 37.26 | 39.36 | 090
67430 |  | A | Explore/treat eye socket | 14.87 | NA | NA | 12.66 | 14.33 | 0.86 | NA | NA | 28.39 | 30.06 | 090
67440 |  | A | Explore/drain eye socket | 14.45 | NA | NA | 12.12 | 13.73 | 0.70 | NA | NA | 27.27 | 28.88 | 090
67445 |  | A | Explr/decompress eye socket | 18.90 | NA | NA | 12.58 | 13.58 | 0.90 | NA | NA | 32.38 | 33.38 | 090
67450 |  | A | Explore/biopsy eye socket | 14.99 | NA | NA | 12.63 | 14.18 | 0.68 | NA | NA | 28.30 | 29.85 | 090
67500 |  | A | Inject/treat eye socket | 1.44 | 0.61 | 0.66 | 0.48 | 0.34 | 0.05 | 2.10 | 2.15 | 1.97 | 1.83 | 000
67505 |  | A | Inject/treat eye socket | 1.27 | 0.53 | 0.65 | 0.40 | 0.33 | 0.05 | 1.85 | 1.97 | 1.72 | 1.65 | 000
67515 |  | A | Inject/treat eye socket | 1.40 | 0.81 | 0.65 | 0.64 | 0.45 | 0.03 | 2.24 | 2.08 | 2.07 | 1.88 | 000
67550 |  | A | Insert eye socket implant | 11.42 | NA | NA | 10.04 | 10.99 | 0.72 | NA | NA | 22.18 | 23.13 | 090
67560 |  | A | Revise eye socket implant | 11.83 | NA | NA | 10.07 | 11.05 | 0.60 | NA | NA | 22.50 | 23.48 | 090
67570 |  | A | Decompress optic nerve | 14.13 | NA | NA | 11.33 | 13.02 | 0.68 | NA | NA | 26.14 | 27.83 | 090
67599 |  | C | Orbit surgery procedure | 0.00 | 0.00 | 0.00 | 0.00 | 0.00 | 0.00 | 0.00 | 0.00 | 0.00 | 0.00 | YYY
67700 |  | A | Drainage of eyelid abscess | 1.35 | 4.42 | 5.62 | 1.21 | 1.26 | 0.07 | 5.84 | 7.04 | 2.63 | 2.68 | 010
67710 |  | A | Incision of eyelid | 1.02 | 3.79 | 4.98 | 1.10 | 1.18 | 0.05 | 4.86 | 6.05 | 2.17 | 2.25 | 010
67715 |  | A | Incision of eyelid fold | 1.22 | 3.91 | 5.01 | 1.18 | 1.26 | 0.06 | 5.19 | 6.29 | 2.46 | 2.54 | 010
67800 |  | A | Remove eyelid lesion | 1.38 | 1.44 | 1.58 | 0.93 | 1.01 | 0.07 | 2.89 | 3.03 | 2.38 | 2.46 | 010
67801 |  | A | Remove eyelid lesions | 1.88 | 1.73 | 1.90 | 1.12 | 1.23 | 0.09 | 3.70 | 3.87 | 3.09 | 3.20 | 010
67805 |  | A | Remove eyelid lesions | 2.22 | 2.25 | 2.45 | 1.46 | 1.60 | 0.11 | 4.58 | 4.78 | 3.79 | 3.93 | 010
67808 |  | A | Remove eyelid lesion(s) | 4.42 | NA | NA | 3.70 | 3.75 | 0.19 | NA | NA | 8.31 | 8.36 | 090
67810 |  | A | Biopsy of eyelid | 1.48 | 3.87 | 3.47 | 0.66 | 0.68 | 0.06 | 5.41 | 5.01 | 2.20 | 2.22 | 000
67820 |  | A | Revise eyelashes | 0.71 | 0.45 | 0.56 | 0.52 | 0.55 | 0.04 | 1.20 | 1.31 | 1.27 | 1.30 | 000
67825 |  | A | Revise eyelashes | 1.38 | 1.44 | 1.66 | 1.30 | 1.38 | 0.07 | 2.89 | 3.11 | 2.75 | 2.83 | 010
67830 |  | A | Revise eyelashes | 1.70 | 4.10 | 5.17 | 1.36 | 1.47 | 0.08 | 5.88 | 6.95 | 3.14 | 3.25 | 010
67835 |  | A | Revise eyelashes | 5.55 | NA | NA | 4.18 | 4.51 | 0.28 | NA | NA | 10.01 | 10.34 | 090
67840 |  | A | Remove eyelid lesion | 2.04 | 4.01 | 5.11 | 1.50 | 1.61 | 0.10 | 6.15 | 7.25 | 3.64 | 3.75 | 010
67850 |  | A | Treat eyelid lesion | 1.69 | 3.26 | 3.34 | 1.43 | 1.46 | 0.07 | 5.02 | 5.10 | 3.19 | 3.22 | 010
67875 |  | A | Closure of eyelid by suture | 1.35 | 2.45 | 3.09 | 0.86 | 0.92 | 0.07 | 3.87 | 4.51 | 2.28 | 2.34 | 000
67880 |  | A | Revision of eyelid | 4.42 | 5.58 | 6.35 | 3.67 | 3.77 | 0.19 | 10.19 | 10.96 | 8.28 | 8.38 | 090
67882 |  | A | Revision of eyelid | 5.81 | 6.56 | 7.36 | 4.62 | 4.76 | 0.25 | 12.62 | 13.42 | 10.68 | 10.82 | 090
67900 |  | A | Repair brow defect | 6.63 | 7.52 | 8.68 | 4.72 | 5.12 | 0.38 | 14.53 | 15.69 | 11.73 | 12.13 | 090
67901 |  | A | Repair eyelid defect | 7.39 | 9.25 | 6.36 | 5.46 | 5.42 | 0.54 | 17.18 | 14.29 | 13.39 | 13.35 | 090
67902 |  | A | Repair eyelid defect | 9.60 | NA | NA | 6.58 | 5.74 | 0.60 | NA | NA | 16.78 | 15.94 | 090
67903 |  | A | Repair eyelid defect | 6.36 | 6.82 | 8.88 | 4.48 | 5.25 | 0.47 | 13.65 | 15.71 | 11.31 | 12.08 | 090
67904 |  | A | Repair eyelid defect | 7.75 | 8.47 | 9.34 | 5.54 | 5.31 | 0.41 | 16.63 | 17.50 | 13.70 | 13.47 | 090
67906 |  | A | Repair eyelid defect | 6.78 | NA | NA | 4.63 | 4.93 | 0.46 | NA | NA | 11.87 | 12.17 | 090
67908 |  | A | Repair eyelid defect | 5.12 | 5.71 | 6.40 | 4.25 | 5.07 | 0.28 | 11.11 | 11.80 | 9.65 | 10.47 | 090
67909 |  | A | Revise eyelid defect | 5.39 | 6.39 | 7.62 | 4.31 | 4.79 | 0.31 | 12.09 | 13.32 | 10.01 | 10.49 | 090
67911 |  | A | Revise eyelid defect | 7.30 | NA | NA | 5.21 | 4.89 | 0.31 | NA | NA | 12.82 | 12.50 | 090
67912 |  | A | Correction eyelid w/implant | 6.17 | 13.18 | 17.49 | 4.74 | 5.33 | 0.28 | 19.63 | 23.94 | 11.19 | 11.78 | 090
67914 |  | A | Repair eyelid defect | 3.67 | 4.88 | 5.98 | 2.76 | 2.98 | 0.19 | 8.74 | 9.84 | 6.62 | 6.84 | 090
67915 |  | A | Repair eyelid defect | 3.18 | 4.54 | 5.62 | 2.57 | 2.74 | 0.16 | 7.88 | 8.96 | 5.91 | 6.08 | 090
67916 |  | A | Repair eyelid defect | 5.30 | 6.53 | 7.67 | 4.26 | 4.64 | 0.28 | 12.11 | 13.25 | 9.84 | 10.22 | 090
67917 |  | A | Repair eyelid defect | 6.01 | 6.91 | 8.07 | 4.54 | 4.94 | 0.36 | 13.28 | 14.44 | 10.91 | 11.31 | 090
67921 |  | A | Repair eyelid defect | 3.39 | 4.75 | 5.83 | 2.64 | 2.83 | 0.17 | 8.31 | 9.39 | 6.20 | 6.39 | 090
67922 |  | A | Repair eyelid defect | 3.06 | 4.44 | 5.54 | 2.51 | 2.69 | 0.15 | 7.65 | 8.75 | 5.72 | 5.90 | 090
67923 |  | A | Repair eyelid defect | 5.87 | 6.63 | 7.75 | 4.46 | 4.84 | 0.30 | 12.80 | 13.92 | 10.63 | 11.01 | 090
67924 |  | A | Repair eyelid defect | 5.78 | 7.11 | 8.47 | 4.19 | 4.56 | 0.30 | 13.19 | 14.55 | 10.27 | 10.64 | 090
67930 |  | A | Repair eyelid wound | 3.60 | 4.50 | 5.41 | 1.85 | 2.09 | 0.19 | 8.29 | 9.20 | 5.64 | 5.88 | 010
67935 |  | A | Repair eyelid wound | 6.21 | 6.95 | 8.13 | 3.70 | 4.23 | 0.39 | 13.55 | 14.73 | 10.30 | 10.83 | 090
67938 |  | A | Remove eyelid foreign body | 1.33 | 3.95 | 5.02 | 1.27 | 1.26 | 0.06 | 5.34 | 6.41 | 2.66 | 2.65 | 010
67950 |  | A | Revision of eyelid | 5.81 | 6.80 | 8.17 | 4.47 | 5.03 | 0.36 | 12.97 | 14.34 | 10.64 | 11.20 | 090
67961 |  | A | Revision of eyelid | 5.68 | 7.00 | 8.26 | 4.43 | 4.88 | 0.33 | 13.01 | 14.27 | 10.44 | 10.89 | 090
67966 |  | A | Revision of eyelid | 8.75 | 8.29 | 8.92 | 5.93 | 5.65 | 0.37 | 17.41 | 18.04 | 15.05 | 14.77 | 090
67971 |  | A | Reconstruction of eyelid | 9.78 | NA | NA | 6.40 | 7.06 | 0.53 | NA | NA | 16.71 | 17.37 | 090
67973 |  | A | Reconstruction of eyelid | 12.85 | NA | NA | 8.02 | 8.99 | 0.75 | NA | NA | 21.62 | 22.59 | 090
67974 |  | A | Reconstruction of eyelid | 12.82 | NA | NA | 8.04 | 8.93 | 0.75 | NA | NA | 21.61 | 22.50 | 090
67975 |  | A | Reconstruction of eyelid | 9.12 | NA | NA | 6.16 | 6.75 | 0.50 | NA | NA | 15.78 | 16.37 | 090
67999 |  | C | Revision of eyelid | 0.00 | 0.00 | 0.00 | 0.00 | 0.00 | 0.00 | 0.00 | 0.00 | 0.00 | 0.00 | YYY
68020 |  | A | Incise/drain eyelid lining | 1.37 | 1.28 | 1.38 | 1.09 | 1.18 | 0.06 | 2.71 | 2.81 | 2.52 | 2.61 | 010
68040 |  | A | Treatment of eyelid lesions | 0.85 | 0.62 | 0.69 | 0.37 | 0.42 | 0.04 | 1.51 | 1.58 | 1.26 | 1.31 | 000
68100 |  | A | Biopsy of eyelid lining | 1.35 | 2.41 | 3.04 | 0.88 | 0.93 | 0.07 | 3.83 | 4.46 | 2.30 | 2.35 | 000
68110 |  | A | Remove eyelid lining lesion | 1.77 | 3.15 | 3.86 | 1.52 | 1.62 | 0.09 | 5.01 | 5.72 | 3.38 | 3.48 | 010
68115 |  | A | Remove eyelid lining lesion | 2.36 | 4.44 | 5.58 | 1.74 | 1.87 | 0.12 | 6.92 | 8.06 | 4.22 | 4.35 | 010
68130 |  | A | Remove eyelid lining lesion | 4.92 | 6.84 | 8.24 | 4.16 | 4.49 | 0.24 | 12.00 | 13.40 | 9.32 | 9.65 | 090
68135 |  | A | Remove eyelid lining lesion | 1.84 | 1.63 | 1.77 | 1.51 | 1.62 | 0.09 | 3.56 | 3.70 | 3.44 | 3.55 | 010
68200 |  | A | Treat eyelid by injection | 0.49 | 0.47 | 0.52 | 0.30 | 0.32 | 0.02 | 0.98 | 1.03 | 0.81 | 0.83 | 000
68320 |  | A | Revise/graft eyelid lining | 6.36 | 9.42 | 10.82 | 5.47 | 5.51 | 0.27 | 16.05 | 17.45 | 12.10 | 12.14 | 090
68325 |  | A | Revise/graft eyelid lining | 8.35 | NA | NA | 6.16 | 6.45 | 0.44 | NA | NA | 14.95 | 15.24 | 090
68326 |  | A | Revise/graft eyelid lining | 8.14 | NA | NA | 6.12 | 6.34 | 0.35 | NA | NA | 14.61 | 14.83 | 090
68328 |  | A | Revise/graft eyelid lining | 9.17 | NA | NA | 6.66 | 7.13 | 0.54 | NA | NA | 16.37 | 16.84 | 090
68330 |  | A | Revise eyelid lining | 5.57 | 7.64 | 8.97 | 4.59 | 4.69 | 0.24 | 13.45 | 14.78 | 10.40 | 10.50 | 090
68335 |  | A | Revise/graft eyelid lining | 8.18 | NA | NA | 6.13 | 6.32 | 0.36 | NA | NA | 14.67 | 14.86 | 090
68340 |  | A | Separate eyelid adhesions | 4.79 | 7.07 | 8.42 | 3.99 | 4.07 | 0.21 | 12.07 | 13.42 | 8.99 | 9.07 | 090
68360 |  | A | Revise eyelid lining | 4.99 | 6.60 | 7.68 | 4.07 | 4.15 | 0.22 | 11.81 | 12.89 | 9.28 | 9.36 | 090
68362 |  | A | Revise eyelid lining | 8.33 | NA | NA | 6.18 | 6.35 | 0.36 | NA | NA | 14.87 | 15.04 | 090
68371 |  | A | Harvest eye tissue, alograft | 4.89 | NA | NA | 4.18 | 4.59 | 0.44 | NA | NA | 9.51 | 9.92 | 010
68399 |  | C | Eyelid lining surgery | 0.00 | 0.00 | 0.00 | 0.00 | 0.00 | 0.00 | 0.00 | 0.00 | 0.00 | 0.00 | YYY
68400 |  | A | Incise/drain tear gland | 1.69 | 4.44 | 5.54 | 1.22 | 1.67 | 0.08 | 6.21 | 7.31 | 2.99 | 3.44 | 010
68420 |  | A | Incise/drain tear sac | 2.30 | 4.70 | 5.82 | 1.46 | 1.94 | 0.11 | 7.11 | 8.23 | 3.87 | 4.35 | 010
68440 |  | A | Incise tear duct opening | 0.94 | 1.28 | 1.88 | 1.21 | 1.26 | 0.05 | 2.27 | 2.87 | 2.20 | 2.25 | 010
68500 |  | A | Removal of tear gland | 12.38 | NA | NA | 8.97 | 9.54 | 0.55 | NA | NA | 21.90 | 22.47 | 090
68505 |  | A | Partial removal, tear gland | 12.30 | NA | NA | 9.11 | 10.27 | 0.55 | NA | NA | 21.96 | 23.12 | 090
68510 |  | A | Biopsy of tear gland | 4.60 | 5.37 | 6.84 | 2.11 | 2.10 | 0.23 | 10.20 | 11.67 | 6.94 | 6.93 | 000
68520 |  | A | Removal of tear sac | 8.50 | NA | NA | 6.68 | 7.24 | 0.37 | NA | NA | 15.55 | 16.11 | 090
68525 |  | A | Biopsy of tear sac | 4.42 | NA | NA | 1.64 | 1.93 | 0.22 | NA | NA | 6.28 | 6.57 | 000
68530 |  | A | Clearance of tear duct | 3.65 | 5.75 | 7.57 | 2.14 | 2.52 | 0.18 | 9.58 | 11.40 | 5.97 | 6.35 | 010
68540 |  | A | Remove tear gland lesion | 11.83 | NA | NA | 8.71 | 9.22 | 0.52 | NA | NA | 21.06 | 21.57 | 090
68550 |  | A | Remove tear gland lesion | 14.74 | NA | NA | 10.52 | 11.14 | 0.80 | NA | NA | 26.06 | 26.68 | 090
68700 |  | A | Repair tear ducts | 7.59 | NA | NA | 5.74 | 5.92 | 0.32 | NA | NA | 13.65 | 13.83 | 090
68705 |  | A | Revise tear duct opening | 2.06 | 3.12 | 3.91 | 1.63 | 1.75 | 0.10 | 5.28 | 6.07 | 3.79 | 3.91 | 010
68720 |  | A | Create tear sac drain | 9.70 | NA | NA | 7.10 | 7.67 | 0.44 | NA | NA | 17.24 | 17.81 | 090
68745 |  | A | Create tear duct drain | 9.62 | NA | NA | 7.45 | 7.76 | 0.52 | NA | NA | 17.59 | 17.90 | 090
68750 |  | A | Create tear duct drain | 9.78 | NA | NA | 7.64 | 8.11 | 0.43 | NA | NA | 17.85 | 18.32 | 090
68760 |  | A | Close tear duct opening | 1.73 | 2.66 | 3.32 | 1.50 | 1.60 | 0.09 | 4.48 | 5.14 | 3.32 | 3.42 | 010
68761 |  | A | Close tear duct opening | 1.36 | 1.88 | 2.17 | 1.28 | 1.31 | 0.06 | 3.30 | 3.59 | 2.70 | 2.73 | 010
68770 |  | A | Close tear system fistula | 8.01 | NA | NA | 5.88 | 3.86 | 0.35 | NA | NA | 14.24 | 12.22 | 090
68801 |  | A | Dilate tear duct opening | 0.94 | 1.82 | 1.91 | 1.45 | 1.47 | 0.05 | 2.81 | 2.90 | 2.44 | 2.46 | 010
68810 |  | A | Probe nasolacrimal duct | 2.59 | 3.49 | 3.62 | 2.76 | 2.69 | 0.10 | 6.18 | 6.31 | 5.45 | 5.38 | 010
68811 |  | A | Probe nasolacrimal duct | 2.35 | NA | NA | 2.17 | 2.35 | 0.13 | NA | NA | 4.65 | 4.83 | 010
68815 |  | A | Probe nasolacrimal duct | 3.20 | 6.57 | 7.82 | 2.49 | 2.73 | 0.17 | 9.94 | 11.19 | 5.86 | 6.10 | 010
68840 |  | A | Explore/irrigate tear ducts | 1.25 | 1.56 | 1.59 | 1.32 | 1.17 | 0.06 | 2.87 | 2.90 | 2.63 | 2.48 | 010
68850 |  | A | Injection for tear sac x-ray | 0.80 | 0.72 | 0.84 | 0.60 | 0.66 | 0.04 | 1.56 | 1.68 | 1.44 | 1.50 | 000
68899 |  | C | Tear duct system surgery | 0.00 | 0.00 | 0.00 | 0.00 | 0.00 | 0.00 | 0.00 | 0.00 | 0.00 | 0.00 | YYY
69000 |  | A | Drain external ear lesion | 1.45 | 2.70 | 2.84 | 1.24 | 1.33 | 0.12 | 4.27 | 4.41 | 2.81 | 2.90 | 010
69005 |  | A | Drain external ear lesion | 2.11 | 2.74 | 2.88 | 1.45 | 1.74 | 0.17 | 5.02 | 5.16 | 3.73 | 4.02 | 010
69020 |  | A | Drain outer ear canal lesion | 1.48 | 3.84 | 3.95 | 1.76 | 1.99 | 0.12 | 5.44 | 5.55 | 3.36 | 3.59 | 010
69100 |  | A | Biopsy of external ear | 0.81 | 1.80 | 1.73 | 0.38 | 0.39 | 0.03 | 2.64 | 2.57 | 1.22 | 1.23 | 000
69105 |  | A | Biopsy of external ear canal | 0.85 | 2.47 | 2.37 | 0.65 | 0.74 | 0.07 | 3.39 | 3.29 | 1.57 | 1.66 | 000
69110 |  | A | Remove external ear, partial | 3.43 | 7.50 | 6.93 | 4.23 | 4.41 | 0.30 | 11.23 | 10.66 | 7.96 | 8.14 | 090
69120 |  | A | Removal of external ear | 4.04 | NA | NA | 5.09 | 5.91 | 0.38 | NA | NA | 9.51 | 10.33 | 090
69140 |  | A | Remove ear canal lesion(s) | 7.96 | NA | NA | 12.30 | 13.04 | 0.65 | NA | NA | 20.91 | 21.65 | 090
69145 |  | A | Remove ear canal lesion(s) | 2.62 | 6.53 | 5.97 | 3.10 | 3.25 | 0.21 | 9.36 | 8.80 | 5.93 | 6.08 | 090
69150 |  | A | Extensive ear canal surgery | 13.41 | NA | NA | 10.55 | 12.69 | 1.22 | NA | NA | 25.18 | 27.32 | 090
69155 |  | A | Extensive ear/neck surgery | 22.96 | NA | NA | 15.01 | 18.41 | 1.92 | NA | NA | 39.89 | 43.29 | 090
69200 |  | A | Clear outer ear canal | 0.77 | 2.03 | 2.29 | 0.57 | 0.56 | 0.06 | 2.86 | 3.12 | 1.40 | 1.39 | 000
69205 |  | A | Clear outer ear canal | 1.20 | NA | NA | 1.14 | 1.31 | 0.10 | NA | NA | 2.44 | 2.61 | 010
69210 |  | A | Remove impacted ear wax | 0.61 | 0.55 | 0.61 | 0.16 | 0.21 | 0.05 | 1.21 | 1.27 | 0.82 | 0.87 | 000
69220 |  | A | Clean out mastoid cavity | 0.83 | 2.37 | 2.36 | 0.61 | 0.70 | 0.07 | 3.27 | 3.26 | 1.51 | 1.60 | 000
69222 |  | A | Clean out mastoid cavity | 1.40 | 3.66 | 3.80 | 1.73 | 1.98 | 0.12 | 5.18 | 5.32 | 3.25 | 3.50 | 010
69300 |  | R | Revise external ear | 6.35 | 9.61 | 5.57 | 4.51 | 4.29 | 0.72 | 16.68 | 12.64 | 11.58 | 11.36 | YYY
69310 |  | A | Rebuild outer ear canal | 10.77 | NA | NA | 14.19 | 15.76 | 0.85 | NA | NA | 25.81 | 27.38 | 090
69320 |  | A | Rebuild outer ear canal | 16.93 | NA | NA | 18.16 | 20.92 | 1.37 | NA | NA | 36.46 | 39.22 | 090
69399 |  | C | Outer ear surgery procedure | 0.00 | 0.00 | 0.00 | 0.00 | 0.00 | 0.00 | 0.00 | 0.00 | 0.00 | 0.00 | YYY
69400 |  | A | Inflate middle ear canal | 0.83 | 2.60 | 2.27 | 0.61 | 0.66 | 0.07 | 3.50 | 3.17 | 1.51 | 1.56 | 000
69401 |  | A | Inflate middle ear canal | 0.63 | 1.46 | 1.30 | 0.56 | 0.63 | 0.05 | 2.14 | 1.98 | 1.24 | 1.31 | 000
69405 |  | A | Catheterize middle ear canal | 2.63 | 3.38 | 3.47 | 1.78 | 2.18 | 0.21 | 6.22 | 6.31 | 4.62 | 5.02 | 010
69420 |  | A | Incision of eardrum | 1.33 | 3.05 | 3.13 | 1.41 | 1.55 | 0.11 | 4.49 | 4.57 | 2.85 | 2.99 | 010
69421 |  | A | Incision of eardrum | 1.73 | NA | NA | 1.68 | 2.04 | 0.15 | NA | NA | 3.56 | 3.92 | 010
69424 |  | A | Remove ventilating tube | 0.85 | 2.18 | 2.18 | 0.62 | 0.67 | 0.07 | 3.10 | 3.10 | 1.54 | 1.59 | 000
69433 |  | A | Create eardrum opening | 1.52 | 3.06 | 3.08 | 1.44 | 1.59 | 0.13 | 4.71 | 4.73 | 3.09 | 3.24 | 010
69436 |  | A | Create eardrum opening | 1.96 | NA | NA | 1.72 | 2.15 | 0.19 | NA | NA | 3.87 | 4.30 | 010
69440 |  | A | Exploration of middle ear | 7.56 | NA | NA | 8.31 | 8.66 | 0.61 | NA | NA | 16.48 | 16.83 | 090
69450 |  | A | Eardrum revision | 5.56 | NA | NA | 6.96 | 7.01 | 0.45 | NA | NA | 12.97 | 13.02 | 090
69501 |  | A | Mastoidectomy | 9.06 | NA | NA | 7.80 | 8.70 | 0.73 | NA | NA | 17.59 | 18.49 | 090
69502 |  | A | Mastoidectomy | 12.36 | NA | NA | 10.02 | 11.20 | 1.00 | NA | NA | 23.38 | 24.56 | 090
69505 |  | A | Remove mastoid structures | 12.97 | NA | NA | 14.81 | 16.60 | 1.05 | NA | NA | 28.83 | 30.62 | 090
69511 |  | A | Extensive mastoid surgery | 13.50 | NA | NA | 14.89 | 16.83 | 1.09 | NA | NA | 29.48 | 31.42 | 090
69530 |  | A | Extensive mastoid surgery | 20.15 | NA | NA | 17.97 | 20.72 | 1.54 | NA | NA | 39.66 | 42.41 | 090
69535 |  | A | Remove part of temporal bone | 37.17 | NA | NA | 24.19 | 30.02 | 2.92 | NA | NA | 64.28 | 70.11 | 090
69540 |  | A | Remove ear lesion | 1.20 | 3.62 | 3.71 | 1.70 | 1.90 | 0.10 | 4.92 | 5.01 | 3.00 | 3.20 | 010
69550 |  | A | Remove ear lesion | 10.97 | NA | NA | 13.06 | 14.41 | 0.89 | NA | NA | 24.92 | 26.27 | 090
69552 |  | A | Remove ear lesion | 19.61 | NA | NA | 16.55 | 19.64 | 1.59 | NA | NA | 37.75 | 40.84 | 090
69554 |  | A | Remove ear lesion | 35.63 | NA | NA | 22.41 | 28.35 | 2.91 | NA | NA | 60.95 | 66.89 | 090
69601 |  | A | Mastoid surgery revision | 13.22 | NA | NA | 10.84 | 12.21 | 1.07 | NA | NA | 25.13 | 26.50 | 090
69602 |  | A | Mastoid surgery revision | 13.56 | NA | NA | 11.56 | 12.81 | 1.10 | NA | NA | 26.22 | 27.47 | 090
69603 |  | A | Mastoid surgery revision | 14.00 | NA | NA | 15.03 | 17.53 | 1.14 | NA | NA | 30.17 | 32.67 | 090
69604 |  | A | Mastoid surgery revision | 14.00 | NA | NA | 11.67 | 13.19 | 1.14 | NA | NA | 26.81 | 28.33 | 090
69605 |  | A | Mastoid surgery revision | 18.46 | NA | NA | 17.50 | 20.09 | 1.50 | NA | NA | 37.46 | 40.05 | 090
69610 |  | A | Repair of eardrum | 4.42 | 4.47 | 5.28 | 2.30 | 3.03 | 0.36 | 9.25 | 10.06 | 7.08 | 7.81 | 010
69620 |  | A | Repair of eardrum | 5.88 | 10.04 | 10.85 | 5.29 | 6.04 | 0.48 | 16.40 | 17.21 | 11.65 | 12.40 | 090
69631 |  | A | Repair eardrum structures | 9.85 | NA | NA | 10.50 | 11.03 | 0.80 | NA | NA | 21.15 | 21.68 | 090
69632 |  | A | Rebuild eardrum structures | 12.73 | NA | NA | 12.08 | 13.12 | 1.03 | NA | NA | 25.84 | 26.88 | 090
69633 |  | A | Rebuild eardrum structures | 12.08 | NA | NA | 11.91 | 12.77 | 0.98 | NA | NA | 24.97 | 25.83 | 090
69635 |  | A | Repair eardrum structures | 13.31 | NA | NA | 14.83 | 16.26 | 1.08 | NA | NA | 29.22 | 30.65 | 090
69636 |  | A | Rebuild eardrum structures | 15.20 | NA | NA | 16.60 | 18.63 | 1.23 | NA | NA | 33.03 | 35.06 | 090
69637 |  | A | Rebuild eardrum structures | 15.09 | NA | NA | 16.58 | 18.56 | 1.22 | NA | NA | 32.89 | 34.87 | 090
69641 |  | A | Revise middle ear & mastoid | 12.69 | NA | NA | 11.31 | 12.41 | 1.03 | NA | NA | 25.03 | 26.13 | 090
69642 |  | A | Revise middle ear & mastoid | 16.81 | NA | NA | 14.05 | 15.72 | 1.36 | NA | NA | 32.22 | 33.89 | 090
69643 |  | A | Revise middle ear & mastoid | 15.36 | NA | NA | 12.81 | 14.32 | 1.24 | NA | NA | 29.41 | 30.92 | 090
69644 |  | A | Revise middle ear & mastoid | 17.00 | NA | NA | 17.09 | 19.57 | 1.37 | NA | NA | 35.46 | 37.94 | 090
69645 |  | A | Revise middle ear & mastoid | 16.48 | NA | NA | 17.01 | 19.27 | 1.33 | NA | NA | 34.82 | 37.08 | 090
69646 |  | A | Revise middle ear & mastoid | 18.14 | NA | NA | 17.42 | 19.93 | 1.46 | NA | NA | 37.02 | 39.53 | 090
69650 |  | A | Release middle ear bone | 9.65 | NA | NA | 8.64 | 9.59 | 0.78 | NA | NA | 19.07 | 20.02 | 090
69660 |  | A | Revise middle ear bone | 11.88 | NA | NA | 9.52 | 10.77 | 0.96 | NA | NA | 22.36 | 23.61 | 090
69661 |  | A | Revise middle ear bone | 15.72 | NA | NA | 12.17 | 14.07 | 1.27 | NA | NA | 29.16 | 31.06 | 090
69662 |  | A | Revise middle ear bone | 15.42 | NA | NA | 11.29 | 13.14 | 1.25 | NA | NA | 27.96 | 29.81 | 090
69666 |  | A | Repair middle ear structures | 9.74 | NA | NA | 8.92 | 9.71 | 0.79 | NA | NA | 19.45 | 20.24 | 090
69667 |  | A | Repair middle ear structures | 9.75 | NA | NA | 8.83 | 9.69 | 0.79 | NA | NA | 19.37 | 20.23 | 090
69670 |  | A | Remove mastoid air cells | 11.55 | NA | NA | 10.15 | 11.32 | 0.93 | NA | NA | 22.63 | 23.80 | 090
69676 |  | A | Remove middle ear nerve | 9.51 | NA | NA | 9.63 | 10.47 | 0.81 | NA | NA | 19.95 | 20.79 | 090
69700 |  | A | Close mastoid fistula | 8.22 | NA | NA | 7.65 | 8.84 | 0.67 | NA | NA | 16.54 | 17.73 | 090
69711 |  | A | Remove/repair hearing aid | 10.42 | NA | NA | 9.42 | 10.45 | 0.83 | NA | NA | 20.67 | 21.70 | 090
69714 |  | A | Implant temple bone w/stimul | 14.23 | NA | NA | 10.56 | 12.14 | 1.13 | NA | NA | 25.92 | 27.50 | 090
69715 |  | A | Temple bne implnt w/stimulat | 18.72 | NA | NA | 11.94 | 14.26 | 1.48 | NA | NA | 32.14 | 34.46 | 090
69717 |  | A | Temple bone implant revision | 15.21 | NA | NA | 11.31 | 13.68 | 0.90 | NA | NA | 27.42 | 29.79 | 090
69718 |  | A | Revise temple bone implant | 18.97 | NA | NA | 20.26 | 16.54 | 3.21 | NA | NA | 42.44 | 38.72 | 090
69720 |  | A | Release facial nerve | 14.48 | NA | NA | 12.75 | 14.08 | 1.16 | NA | NA | 28.39 | 29.72 | 090
69725 |  | A | Release facial nerve | 27.36 | NA | NA | 16.30 | 19.17 | 2.44 | NA | NA | 46.10 | 48.97 | 090
69740 |  | A | Repair facial nerve | 16.12 | NA | NA | 11.17 | 12.85 | 1.27 | NA | NA | 28.56 | 30.24 | 090
69745 |  | A | Repair facial nerve | 16.84 | NA | NA | 11.87 | 14.20 | 1.14 | NA | NA | 29.85 | 32.18 | 090
69799 |  | C | Middle ear surgery procedure | 0.00 | 0.00 | 0.00 | 0.00 | 0.00 | 0.00 | 0.00 | 0.00 | 0.00 | 0.00 | YYY
69801 |  | A | Incise inner ear | 8.55 | NA | NA | 8.75 | 9.28 | 0.69 | NA | NA | 17.99 | 18.52 | 090
69802 |  | A | Incise inner ear | 13.32 | NA | NA | 10.54 | 11.88 | 1.06 | NA | NA | 24.92 | 26.26 | 090
69805 |  | A | Explore inner ear | 14.49 | NA | NA | 9.80 | 11.36 | 1.12 | NA | NA | 25.41 | 26.97 | 090
69806 |  | A | Explore inner ear | 12.45 | NA | NA | 9.37 | 10.62 | 1.00 | NA | NA | 22.82 | 24.07 | 090
69820 |  | A | Establish inner ear window | 10.32 | NA | NA | 9.83 | 10.87 | 0.90 | NA | NA | 21.05 | 22.09 | 090
69840 |  | A | Revise inner ear window | 10.24 | NA | NA | 11.67 | 12.80 | 0.79 | NA | NA | 22.70 | 23.83 | 090
69905 |  | A | Remove inner ear | 11.08 | NA | NA | 10.08 | 11.03 | 0.90 | NA | NA | 22.06 | 23.01 | 090
69910 |  | A | Remove inner ear & mastoid | 13.73 | NA | NA | 9.79 | 11.39 | 1.07 | NA | NA | 24.59 | 26.19 | 090
69915 |  | A | Incise inner ear nerve | 22.57 | NA | NA | 13.38 | 15.69 | 1.69 | NA | NA | 37.64 | 39.95 | 090
69930 |  | A | Implant cochlear device | 17.54 | NA | NA | 11.81 | 14.02 | 1.36 | NA | NA | 30.71 | 32.92 | 090
69949 |  | C | Inner ear surgery procedure | 0.00 | 0.00 | 0.00 | 0.00 | 0.00 | 0.00 | 0.00 | 0.00 | 0.00 | 0.00 | YYY
69950 |  | A | Incise inner ear nerve | 27.38 | NA | NA | 15.12 | 17.96 | 2.28 | NA | NA | 44.78 | 47.62 | 090
69955 |  | A | Release facial nerve | 29.14 | NA | NA | 17.30 | 20.36 | 2.48 | NA | NA | 48.92 | 51.98 | 090
69960 |  | A | Release inner ear canal | 29.14 | NA | NA | 15.41 | 18.89 | 2.17 | NA | NA | 46.72 | 50.20 | 090
69970 |  | A | Remove inner ear lesion | 32.13 | NA | NA | 17.78 | 21.90 | 2.41 | NA | NA | 52.32 | 56.44 | 090
69979 |  | C | Temporal bone surgery | 0.00 | 0.00 | 0.00 | 0.00 | 0.00 | 0.00 | 0.00 | 0.00 | 0.00 | 0.00 | YYY
69990 |  | R | Microsurgery add-on | 3.46 | NA | NA | 1.29 | 1.67 | 0.89 | NA | NA | 5.64 | 6.02 | ZZZ
70010 |  | A | Contrast x-ray of brain | 1.19 | 2.77 | 4.23 | NA | NA | 0.27 | 4.23 | 5.69 | NA | NA | XXX
70010 | 26 | A | Contrast x-ray of brain | 1.19 | 0.37 | 0.39 | 0.37 | 0.39 | 0.05 | 1.61 | 1.63 | 1.61 | 1.63 | XXX
70010 | TC | A | Contrast x-ray of brain | 0.00 | 2.40 | 3.85 | NA | NA | 0.22 | 2.62 | 4.07 | NA | NA | XXX
70015 |  | A | Contrast x-ray of brain | 1.19 | 2.85 | 2.01 | NA | NA | 0.16 | 4.20 | 3.36 | NA | NA | XXX
70015 | 26 | A | Contrast x-ray of brain | 1.19 | 0.38 | 0.39 | 0.38 | 0.39 | 0.08 | 1.65 | 1.66 | 1.65 | 1.66 | XXX
70015 | TC | A | Contrast x-ray of brain | 0.00 | 2.47 | 1.63 | NA | NA | 0.08 | 2.55 | 1.71 | NA | NA | XXX
70030 |  | A | X-ray eye for foreign body | 0.17 | 0.60 | 0.51 | NA | NA | 0.03 | 0.80 | 0.71 | NA | NA | XXX
70030 | 26 | A | X-ray eye for foreign body | 0.17 | 0.05 | 0.06 | 0.05 | 0.06 | 0.01 | 0.23 | 0.24 | 0.23 | 0.24 | XXX
70030 | TC | A | X-ray eye for foreign body | 0.00 | 0.55 | 0.45 | NA | NA | 0.02 | 0.57 | 0.47 | NA | NA | XXX
70100 |  | A | X-ray exam of jaw | 0.18 | 0.63 | 0.59 | NA | NA | 0.03 | 0.84 | 0.80 | NA | NA | XXX
70100 | 26 | A | X-ray exam of jaw | 0.18 | 0.05 | 0.06 | 0.05 | 0.06 | 0.01 | 0.24 | 0.25 | 0.24 | 0.25 | XXX
70100 | TC | A | X-ray exam of jaw | 0.00 | 0.58 | 0.54 | NA | NA | 0.02 | 0.60 | 0.56 | NA | NA | XXX
70110 |  | A | X-ray exam of jaw | 0.25 | 0.80 | 0.73 | NA | NA | 0.05 | 1.10 | 1.03 | NA | NA | XXX
70110 | 26 | A | X-ray exam of jaw | 0.25 | 0.08 | 0.08 | 0.08 | 0.08 | 0.01 | 0.34 | 0.34 | 0.34 | 0.34 | XXX
70110 | TC | A | X-ray exam of jaw | 0.00 | 0.72 | 0.65 | NA | NA | 0.04 | 0.76 | 0.69 | NA | NA | XXX
70120 |  | A | X-ray exam of mastoids | 0.18 | 0.69 | 0.68 | NA | NA | 0.05 | 0.92 | 0.91 | NA | NA | XXX
70120 | 26 | A | X-ray exam of mastoids | 0.18 | 0.05 | 0.06 | 0.05 | 0.06 | 0.01 | 0.24 | 0.25 | 0.24 | 0.25 | XXX
70120 | TC | A | X-ray exam of mastoids | 0.00 | 0.64 | 0.63 | NA | NA | 0.04 | 0.68 | 0.67 | NA | NA | XXX
70130 |  | A | X-ray exam of mastoids | 0.34 | 1.16 | 0.96 | NA | NA | 0.07 | 1.57 | 1.37 | NA | NA | XXX
70130 | 26 | A | X-ray exam of mastoids | 0.34 | 0.10 | 0.11 | 0.10 | 0.11 | 0.02 | 0.46 | 0.47 | 0.46 | 0.47 | XXX
70130 | TC | A | X-ray exam of mastoids | 0.00 | 1.06 | 0.85 | NA | NA | 0.05 | 1.11 | 0.90 | NA | NA | XXX
70134 |  | A | X-ray exam of middle ear | 0.34 | 0.92 | 0.86 | NA | NA | 0.07 | 1.33 | 1.27 | NA | NA | XXX
70134 | 26 | A | X-ray exam of middle ear | 0.34 | 0.11 | 0.11 | 0.11 | 0.11 | 0.02 | 0.47 | 0.47 | 0.47 | 0.47 | XXX
70134 | TC | A | X-ray exam of middle ear | 0.00 | 0.82 | 0.75 | NA | NA | 0.05 | 0.87 | 0.80 | NA | NA | XXX
70140 |  | A | X-ray exam of facial bones | 0.19 | 0.55 | 0.65 | NA | NA | 0.05 | 0.79 | 0.89 | NA | NA | XXX
70140 | 26 | A | X-ray exam of facial bones | 0.19 | 0.05 | 0.06 | 0.05 | 0.06 | 0.01 | 0.25 | 0.26 | 0.25 | 0.26 | XXX
70140 | TC | A | X-ray exam of facial bones | 0.00 | 0.50 | 0.59 | NA | NA | 0.04 | 0.54 | 0.63 | NA | NA | XXX
70150 |  | A | X-ray exam of facial bones | 0.26 | 0.85 | 0.86 | NA | NA | 0.06 | 1.17 | 1.18 | NA | NA | XXX
70150 | 26 | A | X-ray exam of facial bones | 0.26 | 0.07 | 0.08 | 0.07 | 0.08 | 0.01 | 0.34 | 0.35 | 0.34 | 0.35 | XXX
70150 | TC | A | X-ray exam of facial bones | 0.00 | 0.77 | 0.78 | NA | NA | 0.05 | 0.82 | 0.83 | NA | NA | XXX
70160 |  | A | X-ray exam of nasal bones | 0.17 | 0.70 | 0.61 | NA | NA | 0.03 | 0.90 | 0.81 | NA | NA | XXX
70160 | 26 | A | X-ray exam of nasal bones | 0.17 | 0.05 | 0.06 | 0.05 | 0.06 | 0.01 | 0.23 | 0.24 | 0.23 | 0.24 | XXX
70160 | TC | A | X-ray exam of nasal bones | 0.00 | 0.65 | 0.55 | NA | NA | 0.02 | 0.67 | 0.57 | NA | NA | XXX
70170 |  | A | X-ray exam of tear duct | 0.30 | NA | NA | NA | NA | 0.07 | NA | NA | NA | NA | XXX
70170 | 26 | A | X-ray exam of tear duct | 0.30 | 0.09 | 0.10 | 0.09 | 0.10 | 0.01 | 0.40 | 0.41 | 0.40 | 0.41 | XXX
70170 | TC | A | X-ray exam of tear duct | 0.00 | NA | NA | NA | NA | 0.06 | NA | NA | NA | NA | XXX
70190 |  | A | X-ray exam of eye sockets | 0.21 | 0.72 | 0.70 | NA | NA | 0.05 | 0.98 | 0.96 | NA | NA | XXX
70190 | 26 | A | X-ray exam of eye sockets | 0.21 | 0.06 | 0.07 | 0.06 | 0.07 | 0.01 | 0.28 | 0.29 | 0.28 | 0.29 | XXX
70190 | TC | A | X-ray exam of eye sockets | 0.00 | 0.66 | 0.63 | NA | NA | 0.04 | 0.70 | 0.67 | NA | NA | XXX
70200 |  | A | X-ray exam of eye sockets | 0.28 | 0.87 | 0.87 | NA | NA | 0.06 | 1.21 | 1.21 | NA | NA | XXX
70200 | 26 | A | X-ray exam of eye sockets | 0.28 | 0.08 | 0.09 | 0.08 | 0.09 | 0.01 | 0.37 | 0.38 | 0.37 | 0.38 | XXX
70200 | TC | A | X-ray exam of eye sockets | 0.00 | 0.79 | 0.78 | NA | NA | 0.05 | 0.84 | 0.83 | NA | NA | XXX
70210 |  | A | X-ray exam of sinuses | 0.17 | 0.57 | 0.65 | NA | NA | 0.05 | 0.79 | 0.87 | NA | NA | XXX
70210 | 26 | A | X-ray exam of sinuses | 0.17 | 0.05 | 0.06 | 0.05 | 0.06 | 0.01 | 0.23 | 0.24 | 0.23 | 0.24 | XXX
70210 | TC | A | X-ray exam of sinuses | 0.00 | 0.52 | 0.60 | NA | NA | 0.04 | 0.56 | 0.64 | NA | NA | XXX
70220 |  | A | X-ray exam of sinuses | 0.25 | 0.72 | 0.83 | NA | NA | 0.06 | 1.03 | 1.14 | NA | NA | XXX
70220 | 26 | A | X-ray exam of sinuses | 0.25 | 0.07 | 0.08 | 0.07 | 0.08 | 0.01 | 0.33 | 0.34 | 0.33 | 0.34 | XXX
70220 | TC | A | X-ray exam of sinuses | 0.00 | 0.65 | 0.75 | NA | NA | 0.05 | 0.70 | 0.80 | NA | NA | XXX
70240 |  | A | X-ray exam, pituitary saddle | 0.19 | 0.61 | 0.51 | NA | NA | 0.03 | 0.83 | 0.73 | NA | NA | XXX
70240 | 26 | A | X-ray exam, pituitary saddle | 0.19 | 0.06 | 0.06 | 0.06 | 0.06 | 0.01 | 0.26 | 0.26 | 0.26 | 0.26 | XXX
70240 | TC | A | X-ray exam, pituitary saddle | 0.00 | 0.55 | 0.45 | NA | NA | 0.02 | 0.57 | 0.47 | NA | NA | XXX
70250 |  | A | X-ray exam of skull | 0.24 | 0.70 | 0.70 | NA | NA | 0.05 | 0.99 | 0.99 | NA | NA | XXX
70250 | 26 | A | X-ray exam of skull | 0.24 | 0.07 | 0.08 | 0.07 | 0.08 | 0.01 | 0.32 | 0.33 | 0.32 | 0.33 | XXX
70250 | TC | A | X-ray exam of skull | 0.00 | 0.64 | 0.63 | NA | NA | 0.04 | 0.68 | 0.67 | NA | NA | XXX
70260 |  | A | X-ray exam of skull | 0.34 | 0.88 | 0.97 | NA | NA | 0.08 | 1.30 | 1.39 | NA | NA | XXX
70260 | 26 | A | X-ray exam of skull | 0.34 | 0.10 | 0.11 | 0.10 | 0.11 | 0.02 | 0.46 | 0.47 | 0.46 | 0.47 | XXX
70260 | TC | A | X-ray exam of skull | 0.00 | 0.78 | 0.86 | NA | NA | 0.06 | 0.84 | 0.92 | NA | NA | XXX
70300 |  | A | X-ray exam of teeth | 0.10 | 0.24 | 0.29 | NA | NA | 0.03 | 0.37 | 0.42 | NA | NA | XXX
70300 | 26 | A | X-ray exam of teeth | 0.10 | 0.03 | 0.05 | 0.03 | 0.05 | 0.01 | 0.14 | 0.16 | 0.14 | 0.16 | XXX
70300 | TC | A | X-ray exam of teeth | 0.00 | 0.21 | 0.25 | NA | NA | 0.02 | 0.23 | 0.27 | NA | NA | XXX
70310 |  | A | X-ray exam of teeth | 0.16 | 0.82 | 0.58 | NA | NA | 0.03 | 1.01 | 0.77 | NA | NA | XXX
70310 | 26 | A | X-ray exam of teeth | 0.16 | 0.05 | 0.07 | 0.05 | 0.07 | 0.01 | 0.22 | 0.24 | 0.22 | 0.24 | XXX
70310 | TC | A | X-ray exam of teeth | 0.00 | 0.77 | 0.51 | NA | NA | 0.02 | 0.79 | 0.53 | NA | NA | XXX
70320 |  | A | Full mouth x-ray of teeth | 0.22 | 0.98 | 0.89 | NA | NA | 0.06 | 1.26 | 1.17 | NA | NA | XXX
70320 | 26 | A | Full mouth x-ray of teeth | 0.22 | 0.06 | 0.08 | 0.06 | 0.08 | 0.01 | 0.29 | 0.31 | 0.29 | 0.31 | XXX
70320 | TC | A | Full mouth x-ray of teeth | 0.00 | 0.91 | 0.81 | NA | NA | 0.05 | 0.96 | 0.86 | NA | NA | XXX
70328 |  | A | X-ray exam of jaw joint | 0.18 | 0.62 | 0.57 | NA | NA | 0.03 | 0.83 | 0.78 | NA | NA | XXX
70328 | 26 | A | X-ray exam of jaw joint | 0.18 | 0.05 | 0.06 | 0.05 | 0.06 | 0.01 | 0.24 | 0.25 | 0.24 | 0.25 | XXX
70328 | TC | A | X-ray exam of jaw joint | 0.00 | 0.57 | 0.51 | NA | NA | 0.02 | 0.59 | 0.53 | NA | NA | XXX
70330 |  | A | X-ray exam of jaw joints | 0.24 | 1.01 | 0.94 | NA | NA | 0.06 | 1.31 | 1.24 | NA | NA | XXX
70330 | 26 | A | X-ray exam of jaw joints | 0.24 | 0.07 | 0.08 | 0.07 | 0.08 | 0.01 | 0.32 | 0.33 | 0.32 | 0.33 | XXX
70330 | TC | A | X-ray exam of jaw joints | 0.00 | 0.94 | 0.87 | NA | NA | 0.05 | 0.99 | 0.92 | NA | NA | XXX
70332 |  | A | X-ray exam of jaw joint | 0.54 | 1.46 | 2.09 | NA | NA | 0.14 | 2.14 | 2.77 | NA | NA | XXX
70332 | 26 | A | X-ray exam of jaw joint | 0.54 | 0.16 | 0.19 | 0.16 | 0.19 | 0.02 | 0.72 | 0.75 | 0.72 | 0.75 | XXX
70332 | TC | A | X-ray exam of jaw joint | 0.00 | 1.30 | 1.90 | NA | NA | 0.12 | 1.42 | 2.02 | NA | NA | XXX
70336 |  | A | Magnetic image, jaw joint | 1.48 | 12.60 | 11.92 | NA | NA | 0.66 | 14.74 | 14.06 | NA | NA | XXX
70336 | 26 | A | Magnetic image, jaw joint | 1.48 | 0.50 | 0.49 | 0.50 | 0.49 | 0.07 | 2.05 | 2.04 | 2.05 | 2.04 | XXX
70336 | TC | A | Magnetic image, jaw joint | 0.00 | 12.10 | 11.43 | NA | NA | 0.59 | 12.69 | 12.02 | NA | NA | XXX
70350 |  | A | X-ray head for orthodontia | 0.17 | 0.33 | 0.42 | NA | NA | 0.03 | 0.53 | 0.62 | NA | NA | XXX
70350 | 26 | A | X-ray head for orthodontia | 0.17 | 0.05 | 0.07 | 0.05 | 0.07 | 0.01 | 0.23 | 0.25 | 0.23 | 0.25 | XXX
70350 | TC | A | X-ray head for orthodontia | 0.00 | 0.27 | 0.35 | NA | NA | 0.02 | 0.29 | 0.37 | NA | NA | XXX
70355 |  | A | Panoramic x-ray of jaws | 0.20 | 0.30 | 0.56 | NA | NA | 0.05 | 0.55 | 0.81 | NA | NA | XXX
70355 | 26 | A | Panoramic x-ray of jaws | 0.20 | 0.06 | 0.07 | 0.06 | 0.07 | 0.01 | 0.27 | 0.28 | 0.27 | 0.28 | XXX
70355 | TC | A | Panoramic x-ray of jaws | 0.00 | 0.24 | 0.49 | NA | NA | 0.04 | 0.28 | 0.53 | NA | NA | XXX
70360 |  | A | X-ray exam of neck | 0.17 | 0.58 | 0.51 | NA | NA | 0.03 | 0.78 | 0.71 | NA | NA | XXX
70360 | 26 | A | X-ray exam of neck | 0.17 | 0.05 | 0.06 | 0.05 | 0.06 | 0.01 | 0.23 | 0.24 | 0.23 | 0.24 | XXX
70360 | TC | A | X-ray exam of neck | 0.00 | 0.52 | 0.45 | NA | NA | 0.02 | 0.54 | 0.47 | NA | NA | XXX
70370 |  | A | Throat x-ray & fluoroscopy | 0.32 | 1.65 | 1.47 | NA | NA | 0.08 | 2.05 | 1.87 | NA | NA | XXX
70370 | 26 | A | Throat x-ray & fluoroscopy | 0.32 | 0.09 | 0.10 | 0.09 | 0.10 | 0.01 | 0.42 | 0.43 | 0.42 | 0.43 | XXX
70370 | TC | A | Throat x-ray & fluoroscopy | 0.00 | 1.56 | 1.37 | NA | NA | 0.07 | 1.63 | 1.44 | NA | NA | XXX
70371 |  | A | Speech evaluation, complex | 0.84 | 1.50 | 2.16 | NA | NA | 0.16 | 2.50 | 3.16 | NA | NA | XXX
70371 | 26 | A | Speech evaluation, complex | 0.84 | 0.26 | 0.28 | 0.26 | 0.28 | 0.04 | 1.14 | 1.16 | 1.14 | 1.16 | XXX
70371 | TC | A | Speech evaluation, complex | 0.00 | 1.24 | 1.89 | NA | NA | 0.12 | 1.36 | 2.01 | NA | NA | XXX
70373 |  | A | Contrast x-ray of larynx | 0.44 | 1.71 | 1.87 | NA | NA | 0.13 | 2.28 | 2.44 | NA | NA | XXX
70373 | 26 | A | Contrast x-ray of larynx | 0.44 | 0.13 | 0.14 | 0.13 | 0.14 | 0.02 | 0.59 | 0.60 | 0.59 | 0.60 | XXX
70373 | TC | A | Contrast x-ray of larynx | 0.00 | 1.58 | 1.73 | NA | NA | 0.11 | 1.69 | 1.84 | NA | NA | XXX
70380 |  | A | X-ray exam of salivary gland | 0.17 | 0.82 | 0.75 | NA | NA | 0.05 | 1.04 | 0.97 | NA | NA | XXX
70380 | 26 | A | X-ray exam of salivary gland | 0.17 | 0.05 | 0.06 | 0.05 | 0.06 | 0.01 | 0.23 | 0.24 | 0.23 | 0.24 | XXX
70380 | TC | A | X-ray exam of salivary gland | 0.00 | 0.76 | 0.69 | NA | NA | 0.04 | 0.80 | 0.73 | NA | NA | XXX
70390 |  | A | X-ray exam of salivary duct | 0.38 | 2.34 | 2.01 | NA | NA | 0.13 | 2.85 | 2.52 | NA | NA | XXX
70390 | 26 | A | X-ray exam of salivary duct | 0.38 | 0.12 | 0.12 | 0.12 | 0.12 | 0.02 | 0.52 | 0.52 | 0.52 | 0.52 | XXX
70390 | TC | A | X-ray exam of salivary duct | 0.00 | 2.22 | 1.89 | NA | NA | 0.11 | 2.33 | 2.00 | NA | NA | XXX
70450 |  | A | Ct head/brain w/o dye | 0.85 | 4.90 | 4.98 | NA | NA | 0.29 | 6.04 | 6.12 | NA | NA | XXX
70450 | 26 | A | Ct head/brain w/o dye | 0.85 | 0.27 | 0.28 | 0.27 | 0.28 | 0.04 | 1.16 | 1.17 | 1.16 | 1.17 | XXX
70450 | TC | A | Ct head/brain w/o dye | 0.00 | 4.64 | 4.70 | NA | NA | 0.25 | 4.89 | 4.95 | NA | NA | XXX
70460 |  | A | Ct head/brain w/dye | 1.13 | 6.52 | 6.15 | NA | NA | 0.35 | 8.00 | 7.63 | NA | NA | XXX
70460 | 26 | A | Ct head/brain w/dye | 1.13 | 0.36 | 0.37 | 0.36 | 0.37 | 0.05 | 1.54 | 1.55 | 1.54 | 1.55 | XXX
70460 | TC | A | Ct head/brain w/dye | 0.00 | 6.16 | 5.79 | NA | NA | 0.30 | 6.46 | 6.09 | NA | NA | XXX
70470 |  | A | Ct head/brain w/o & w/dye | 1.27 | 7.96 | 7.61 | NA | NA | 0.43 | 9.66 | 9.31 | NA | NA | XXX
70470 | 26 | A | Ct head/brain w/o & w/dye | 1.27 | 0.40 | 0.42 | 0.40 | 0.42 | 0.06 | 1.73 | 1.75 | 1.73 | 1.75 | XXX
70470 | TC | A | Ct head/brain w/o & w/dye | 0.00 | 7.56 | 7.19 | NA | NA | 0.37 | 7.93 | 7.56 | NA | NA | XXX
70480 |  | A | Ct orbit/ear/fossa w/o dye | 1.28 | 8.52 | 5.99 | NA | NA | 0.31 | 10.11 | 7.58 | NA | NA | XXX
70480 | 26 | A | Ct orbit/ear/fossa w/o dye | 1.28 | 0.41 | 0.42 | 0.41 | 0.42 | 0.06 | 1.75 | 1.76 | 1.75 | 1.76 | XXX
70480 | TC | A | Ct orbit/ear/fossa w/o dye | 0.00 | 8.11 | 5.57 | NA | NA | 0.25 | 8.36 | 5.82 | NA | NA | XXX
70481 |  | A | Ct orbit/ear/fossa w/dye | 1.38 | 10.04 | 7.09 | NA | NA | 0.36 | 11.78 | 8.83 | NA | NA | XXX
70481 | 26 | A | Ct orbit/ear/fossa w/dye | 1.38 | 0.44 | 0.45 | 0.44 | 0.45 | 0.06 | 1.88 | 1.89 | 1.88 | 1.89 | XXX
70481 | TC | A | Ct orbit/ear/fossa w/dye | 0.00 | 9.60 | 6.65 | NA | NA | 0.30 | 9.90 | 6.95 | NA | NA | XXX
70482 |  | A | Ct orbit/ear/fossa w/o&w/dye | 1.45 | 11.56 | 8.55 | NA | NA | 0.43 | 13.44 | 10.43 | NA | NA | XXX
70482 | 26 | A | Ct orbit/ear/fossa w/o&w/dye | 1.45 | 0.47 | 0.48 | 0.47 | 0.48 | 0.06 | 1.98 | 1.99 | 1.98 | 1.99 | XXX
70482 | TC | A | Ct orbit/ear/fossa w/o&w/dye | 0.00 | 11.09 | 8.08 | NA | NA | 0.37 | 11.46 | 8.45 | NA | NA | XXX
70486 |  | A | Ct maxillofacial w/o dye | 1.14 | 6.81 | 5.52 | NA | NA | 0.30 | 8.25 | 6.96 | NA | NA | XXX
70486 | 26 | A | Ct maxillofacial w/o dye | 1.14 | 0.36 | 0.37 | 0.36 | 0.37 | 0.05 | 1.55 | 1.56 | 1.55 | 1.56 | XXX
70486 | TC | A | Ct maxillofacial w/o dye | 0.00 | 6.44 | 5.15 | NA | NA | 0.25 | 6.69 | 5.40 | NA | NA | XXX
70487 |  | A | Ct maxillofacial w/dye | 1.30 | 8.39 | 6.67 | NA | NA | 0.36 | 10.05 | 8.33 | NA | NA | XXX
70487 | 26 | A | Ct maxillofacial w/dye | 1.30 | 0.42 | 0.43 | 0.42 | 0.43 | 0.06 | 1.78 | 1.79 | 1.78 | 1.79 | XXX
70487 | TC | A | Ct maxillofacial w/dye | 0.00 | 7.97 | 6.24 | NA | NA | 0.30 | 8.27 | 6.54 | NA | NA | XXX
70488 |  | A | Ct maxillofacial w/o & w/dye | 1.42 | 10.48 | 8.27 | NA | NA | 0.43 | 12.33 | 10.12 | NA | NA | XXX
70488 | 26 | A | Ct maxillofacial w/o & w/dye | 1.42 | 0.46 | 0.46 | 0.46 | 0.46 | 0.06 | 1.94 | 1.94 | 1.94 | 1.94 | XXX
70488 | TC | A | Ct maxillofacial w/o & w/dye | 0.00 | 10.03 | 7.81 | NA | NA | 0.37 | 10.40 | 8.18 | NA | NA | XXX
70490 |  | A | Ct soft tissue neck w/o dye | 1.28 | 6.52 | 5.49 | NA | NA | 0.31 | 8.11 | 7.08 | NA | NA | XXX
70490 | 26 | A | Ct soft tissue neck w/o dye | 1.28 | 0.41 | 0.42 | 0.41 | 0.42 | 0.06 | 1.75 | 1.76 | 1.75 | 1.76 | XXX
70490 | TC | A | Ct soft tissue neck w/o dye | 0.00 | 6.11 | 5.07 | NA | NA | 0.25 | 6.36 | 5.32 | NA | NA | XXX
70491 |  | A | Ct soft tissue neck w/dye | 1.38 | 8.06 | 6.60 | NA | NA | 0.36 | 9.80 | 8.34 | NA | NA | XXX
70491 | 26 | A | Ct soft tissue neck w/dye | 1.38 | 0.44 | 0.45 | 0.44 | 0.45 | 0.06 | 1.88 | 1.89 | 1.88 | 1.89 | XXX
70491 | TC | A | Ct soft tissue neck w/dye | 0.00 | 7.62 | 6.15 | NA | NA | 0.30 | 7.92 | 6.45 | NA | NA | XXX
70492 |  | A | Ct sft tsue nck w/o & w/dye | 1.45 | 10.18 | 8.20 | NA | NA | 0.43 | 12.06 | 10.08 | NA | NA | XXX
70492 | 26 | A | Ct sft tsue nck w/o & w/dye | 1.45 | 0.47 | 0.47 | 0.47 | 0.47 | 0.06 | 1.98 | 1.98 | 1.98 | 1.98 | XXX
70492 | TC | A | Ct sft tsue nck w/o & w/dye | 0.00 | 9.71 | 7.73 | NA | NA | 0.37 | 10.08 | 8.10 | NA | NA | XXX
70496 |  | A | Ct angiography, head | 1.75 | 17.16 | 12.67 | NA | NA | 0.66 | 19.57 | 15.08 | NA | NA | XXX
70496 | 26 | A | Ct angiography, head | 1.75 | 0.57 | 0.57 | 0.57 | 0.57 | 0.08 | 2.40 | 2.40 | 2.40 | 2.40 | XXX
70496 | TC | A | Ct angiography, head | 0.00 | 16.59 | 12.10 | NA | NA | 0.58 | 17.17 | 12.68 | NA | NA | XXX
70498 |  | A | Ct angiography, neck | 1.75 | 17.26 | 12.69 | NA | NA | 0.66 | 19.67 | 15.10 | NA | NA | XXX
70498 | 26 | A | Ct angiography, neck | 1.75 | 0.58 | 0.57 | 0.58 | 0.57 | 0.08 | 2.41 | 2.40 | 2.41 | 2.40 | XXX
70498 | TC | A | Ct angiography, neck | 0.00 | 16.68 | 12.12 | NA | NA | 0.58 | 17.26 | 12.70 | NA | NA | XXX
70540 |  | A | Mri orbit/face/neck w/o dye | 1.35 | 14.58 | 12.38 | NA | NA | 0.45 | 16.38 | 14.18 | NA | NA | XXX
70540 | 26 | A | Mri orbit/face/neck w/o dye | 1.35 | 0.45 | 0.44 | 0.45 | 0.44 | 0.06 | 1.86 | 1.85 | 1.86 | 1.85 | XXX
70540 | TC | A | Mri orbit/face/neck w/o dye | 0.00 | 14.13 | 11.93 | NA | NA | 0.39 | 14.52 | 12.32 | NA | NA | XXX
70542 |  | A | Mri orbit/face/neck w/dye | 1.62 | 15.53 | 14.36 | NA | NA | 0.54 | 17.69 | 16.52 | NA | NA | XXX
70542 | 26 | A | Mri orbit/face/neck w/dye | 1.62 | 0.53 | 0.53 | 0.53 | 0.53 | 0.07 | 2.22 | 2.22 | 2.22 | 2.22 | XXX
70542 | TC | A | Mri orbit/face/neck w/dye | 0.00 | 15.00 | 13.83 | NA | NA | 0.47 | 15.47 | 14.30 | NA | NA | XXX
70543 |  | A | Mri orbt/fac/nck w/o & w/dye | 2.15 | 19.26 | 24.01 | NA | NA | 0.94 | 22.35 | 27.10 | NA | NA | XXX
70543 | 26 | A | Mri orbt/fac/nck w/o & w/dye | 2.15 | 0.72 | 0.71 | 0.72 | 0.71 | 0.10 | 2.97 | 2.96 | 2.97 | 2.96 | XXX
70543 | TC | A | Mri orbt/fac/nck w/o & w/dye | 0.00 | 18.54 | 23.30 | NA | NA | 0.84 | 19.38 | 24.14 | NA | NA | XXX
70544 |  | A | Mr angiography head w/o dye | 1.20 | 16.05 | 12.71 | NA | NA | 0.64 | 17.89 | 14.55 | NA | NA | XXX
70544 | 26 | A | Mr angiography head w/o dye | 1.20 | 0.39 | 0.40 | 0.39 | 0.40 | 0.05 | 1.64 | 1.65 | 1.64 | 1.65 | XXX
70544 | TC | A | Mr angiography head w/o dye | 0.00 | 15.67 | 12.32 | NA | NA | 0.59 | 16.26 | 12.91 | NA | NA | XXX
70545 |  | A | Mr angiography head w/dye | 1.20 | 15.97 | 12.69 | NA | NA | 0.64 | 17.81 | 14.53 | NA | NA | XXX
70545 | 26 | A | Mr angiography head w/dye | 1.20 | 0.38 | 0.39 | 0.38 | 0.39 | 0.05 | 1.63 | 1.64 | 1.63 | 1.64 | XXX
70545 | TC | A | Mr angiography head w/dye | 0.00 | 15.59 | 12.30 | NA | NA | 0.59 | 16.18 | 12.89 | NA | NA | XXX
70546 |  | A | Mr angiograph head w/o&w/dye | 1.80 | 24.49 | 23.37 | NA | NA | 0.67 | 26.96 | 25.84 | NA | NA | XXX
70546 | 26 | A | Mr angiograph head w/o&w/dye | 1.80 | 0.58 | 0.59 | 0.58 | 0.59 | 0.08 | 2.46 | 2.47 | 2.46 | 2.47 | XXX
70546 | TC | A | Mr angiograph head w/o&w/dye | 0.00 | 23.91 | 22.79 | NA | NA | 0.59 | 24.50 | 23.38 | NA | NA | XXX
70547 |  | A | Mr angiography neck w/o dye | 1.20 | 16.09 | 12.72 | NA | NA | 0.64 | 17.93 | 14.56 | NA | NA | XXX
70547 | 26 | A | Mr angiography neck w/o dye | 1.20 | 0.39 | 0.39 | 0.39 | 0.39 | 0.05 | 1.64 | 1.64 | 1.64 | 1.64 | XXX
70547 | TC | A | Mr angiography neck w/o dye | 0.00 | 15.70 | 12.33 | NA | NA | 0.59 | 16.29 | 12.92 | NA | NA | XXX
70548 |  | A | Mr angiography neck w/dye | 1.20 | 16.79 | 12.89 | NA | NA | 0.64 | 18.63 | 14.73 | NA | NA | XXX
70548 | 26 | A | Mr angiography neck w/dye | 1.20 | 0.38 | 0.39 | 0.38 | 0.39 | 0.05 | 1.63 | 1.64 | 1.63 | 1.64 | XXX
70548 | TC | A | Mr angiography neck w/dye | 0.00 | 16.41 | 12.50 | NA | NA | 0.59 | 17.00 | 13.09 | NA | NA | XXX
70549 |  | A | Mr angiograph neck w/o&w/dye | 1.80 | 24.41 | 23.35 | NA | NA | 0.67 | 26.88 | 25.82 | NA | NA | XXX
70549 | 26 | A | Mr angiograph neck w/o&w/dye | 1.80 | 0.58 | 0.59 | 0.58 | 0.59 | 0.08 | 2.46 | 2.47 | 2.46 | 2.47 | XXX
70549 | TC | A | Mr angiograph neck w/o&w/dye | 0.00 | 23.83 | 22.77 | NA | NA | 0.59 | 24.42 | 23.36 | NA | NA | XXX
70551 |  | A | Mri brain w/o dye | 1.48 | 14.69 | 12.44 | NA | NA | 0.66 | 16.83 | 14.58 | NA | NA | XXX
70551 | 26 | A | Mri brain w/o dye | 1.48 | 0.48 | 0.49 | 0.48 | 0.49 | 0.07 | 2.03 | 2.04 | 2.03 | 2.04 | XXX
70551 | TC | A | Mri brain w/o dye | 0.00 | 14.22 | 11.96 | NA | NA | 0.59 | 14.81 | 12.55 | NA | NA | XXX
70552 |  | A | Mri brain w/dye | 1.78 | 15.73 | 14.46 | NA | NA | 0.78 | 18.29 | 17.02 | NA | NA | XXX
70552 | 26 | A | Mri brain w/dye | 1.78 | 0.57 | 0.59 | 0.57 | 0.59 | 0.08 | 2.43 | 2.45 | 2.43 | 2.45 | XXX
70552 | TC | A | Mri brain w/dye | 0.00 | 15.16 | 13.87 | NA | NA | 0.70 | 15.86 | 14.57 | NA | NA | XXX
70553 |  | A | Mri brain w/o & w/dye | 2.36 | 18.37 | 23.84 | NA | NA | 1.41 | 22.14 | 27.61 | NA | NA | XXX
70553 | 26 | A | Mri brain w/o & w/dye | 2.36 | 0.76 | 0.78 | 0.76 | 0.78 | 0.10 | 3.22 | 3.24 | 3.22 | 3.24 | XXX
70553 | TC | A | Mri brain w/o & w/dye | 0.00 | 17.61 | 23.06 | NA | NA | 1.31 | 18.92 | 24.37 | NA | NA | XXX
70557 |  | C | Mri brain w/o dye | 0.00 | 0.00 | 0.00 | 0.00 | 0.00 | 0.00 | 0.00 | 0.00 | 0.00 | 0.00 | XXX
70557 | 26 | A | Mri brain w/o dye | 2.90 | 0.92 | 1.08 | 0.92 | 1.08 | 0.08 | 3.90 | 4.06 | 3.90 | 4.06 | XXX
70557 | TC | C | Mri brain w/o dye | 0.00 | 0.00 | 0.00 | 0.00 | 0.00 | 0.00 | 0.00 | 0.00 | 0.00 | 0.00 | XXX
70558 |  | C | Mri brain w/dye | 0.00 | 0.00 | 0.00 | 0.00 | 0.00 | 0.00 | 0.00 | 0.00 | 0.00 | 0.00 | XXX
70558 | 26 | A | Mri brain w/dye | 3.20 | 1.15 | 1.22 | 1.15 | 1.22 | 0.10 | 4.45 | 4.52 | 4.45 | 4.52 | XXX
70558 | TC | C | Mri brain w/dye | 0.00 | 0.00 | 0.00 | 0.00 | 0.00 | 0.00 | 0.00 | 0.00 | 0.00 | 0.00 | XXX
70559 |  | C | Mri brain w/o & w/dye | 0.00 | 0.00 | 0.00 | 0.00 | 0.00 | 0.00 | 0.00 | 0.00 | 0.00 | 0.00 | XXX
70559 | 26 | A | Mri brain w/o & w/dye | 3.20 | 1.03 | 1.19 | 1.03 | 1.19 | 0.12 | 4.35 | 4.51 | 4.35 | 4.51 | XXX
70559 | TC | C | Mri brain w/o & w/dye | 0.00 | 0.00 | 0.00 | 0.00 | 0.00 | 0.00 | 0.00 | 0.00 | 0.00 | 0.00 | XXX
71010 |  | A | Chest x-ray | 0.18 | 0.43 | 0.51 | NA | NA | 0.03 | 0.64 | 0.72 | NA | NA | XXX
71010 | 26 | A | Chest x-ray | 0.18 | 0.05 | 0.06 | 0.05 | 0.06 | 0.01 | 0.24 | 0.25 | 0.24 | 0.25 | XXX
71010 | TC | A | Chest x-ray | 0.00 | 0.37 | 0.45 | NA | NA | 0.02 | 0.39 | 0.47 | NA | NA | XXX
71015 |  | A | Chest x-ray | 0.21 | 0.57 | 0.59 | NA | NA | 0.03 | 0.81 | 0.83 | NA | NA | XXX
71015 | 26 | A | Chest x-ray | 0.21 | 0.07 | 0.07 | 0.07 | 0.07 | 0.01 | 0.29 | 0.29 | 0.29 | 0.29 | XXX
71015 | TC | A | Chest x-ray | 0.00 | 0.51 | 0.52 | NA | NA | 0.02 | 0.53 | 0.54 | NA | NA | XXX
71020 |  | A | Chest x-ray | 0.22 | 0.57 | 0.66 | NA | NA | 0.05 | 0.84 | 0.93 | NA | NA | XXX
71020 | 26 | A | Chest x-ray | 0.22 | 0.07 | 0.07 | 0.07 | 0.07 | 0.01 | 0.30 | 0.30 | 0.30 | 0.30 | XXX
71020 | TC | A | Chest x-ray | 0.00 | 0.50 | 0.59 | NA | NA | 0.04 | 0.54 | 0.63 | NA | NA | XXX
71021 |  | A | Chest x-ray | 0.27 | 0.71 | 0.79 | NA | NA | 0.06 | 1.04 | 1.12 | NA | NA | XXX
71021 | 26 | A | Chest x-ray | 0.27 | 0.08 | 0.09 | 0.08 | 0.09 | 0.01 | 0.36 | 0.37 | 0.36 | 0.37 | XXX
71021 | TC | A | Chest x-ray | 0.00 | 0.63 | 0.71 | NA | NA | 0.05 | 0.68 | 0.76 | NA | NA | XXX
71022 |  | A | Chest x-ray | 0.31 | 0.89 | 0.85 | NA | NA | 0.06 | 1.26 | 1.22 | NA | NA | XXX
71022 | 26 | A | Chest x-ray | 0.31 | 0.09 | 0.10 | 0.09 | 0.10 | 0.01 | 0.41 | 0.42 | 0.41 | 0.42 | XXX
71022 | TC | A | Chest x-ray | 0.00 | 0.80 | 0.75 | NA | NA | 0.05 | 0.85 | 0.80 | NA | NA | XXX
71023 |  | A | Chest x-ray and fluoroscopy | 0.38 | 1.57 | 1.08 | NA | NA | 0.06 | 2.01 | 1.52 | NA | NA | XXX
71023 | 26 | A | Chest x-ray and fluoroscopy | 0.38 | 0.14 | 0.13 | 0.14 | 0.13 | 0.01 | 0.53 | 0.52 | 0.53 | 0.52 | XXX
71023 | TC | A | Chest x-ray and fluoroscopy | 0.00 | 1.42 | 0.94 | NA | NA | 0.05 | 1.47 | 0.99 | NA | NA | XXX
71030 |  | A | Chest x-ray | 0.31 | 0.91 | 0.89 | NA | NA | 0.06 | 1.28 | 1.26 | NA | NA | XXX
71030 | 26 | A | Chest x-ray | 0.31 | 0.09 | 0.10 | 0.09 | 0.10 | 0.01 | 0.41 | 0.42 | 0.41 | 0.42 | XXX
71030 | TC | A | Chest x-ray | 0.00 | 0.82 | 0.79 | NA | NA | 0.05 | 0.87 | 0.84 | NA | NA | XXX
71034 |  | A | Chest x-ray and fluoroscopy | 0.46 | 2.04 | 1.71 | NA | NA | 0.10 | 2.60 | 2.27 | NA | NA | XXX
71034 | 26 | A | Chest x-ray and fluoroscopy | 0.46 | 0.18 | 0.17 | 0.18 | 0.17 | 0.02 | 0.66 | 0.65 | 0.66 | 0.65 | XXX
71034 | TC | A | Chest x-ray and fluoroscopy | 0.00 | 1.86 | 1.55 | NA | NA | 0.08 | 1.94 | 1.63 | NA | NA | XXX
71035 |  | A | Chest x-ray | 0.18 | 0.77 | 0.63 | NA | NA | 0.03 | 0.98 | 0.84 | NA | NA | XXX
71035 | 26 | A | Chest x-ray | 0.18 | 0.06 | 0.06 | 0.06 | 0.06 | 0.01 | 0.25 | 0.25 | 0.25 | 0.25 | XXX
71035 | TC | A | Chest x-ray | 0.00 | 0.72 | 0.57 | NA | NA | 0.02 | 0.74 | 0.59 | NA | NA | XXX
71040 |  | A | Contrast x-ray of bronchi | 0.58 | 2.08 | 1.76 | NA | NA | 0.11 | 2.77 | 2.45 | NA | NA | XXX
71040 | 26 | A | Contrast x-ray of bronchi | 0.58 | 0.16 | 0.18 | 0.16 | 0.18 | 0.03 | 0.77 | 0.79 | 0.77 | 0.79 | XXX
71040 | TC | A | Contrast x-ray of bronchi | 0.00 | 1.92 | 1.58 | NA | NA | 0.08 | 2.00 | 1.66 | NA | NA | XXX
71060 |  | A | Contrast x-ray of bronchi | 0.74 | 3.07 | 2.60 | NA | NA | 0.16 | 3.97 | 3.50 | NA | NA | XXX
71060 | 26 | A | Contrast x-ray of bronchi | 0.74 | 0.23 | 0.24 | 0.23 | 0.24 | 0.03 | 1.00 | 1.01 | 1.00 | 1.01 | XXX
71060 | TC | A | Contrast x-ray of bronchi | 0.00 | 2.84 | 2.36 | NA | NA | 0.13 | 2.97 | 2.49 | NA | NA | XXX
71090 |  | A | X-ray & pacemaker insertion | 0.54 | NA | NA | NA | NA | 0.13 | NA | NA | NA | NA | XXX
71090 | 26 | A | X-ray & pacemaker insertion | 0.54 | 0.28 | 0.23 | 0.28 | 0.23 | 0.02 | 0.84 | 0.79 | 0.84 | 0.79 | XXX
71090 | TC | A | X-ray & pacemaker insertion | 0.00 | NA | NA | NA | NA | 0.11 | NA | NA | NA | NA | XXX
71100 |  | A | X-ray exam of ribs | 0.22 | 0.62 | 0.64 | NA | NA | 0.05 | 0.89 | 0.91 | NA | NA | XXX
71100 | 26 | A | X-ray exam of ribs | 0.22 | 0.06 | 0.07 | 0.06 | 0.07 | 0.01 | 0.29 | 0.30 | 0.29 | 0.30 | XXX
71100 | TC | A | X-ray exam of ribs | 0.00 | 0.55 | 0.57 | NA | NA | 0.04 | 0.59 | 0.61 | NA | NA | XXX
71101 |  | A | X-ray exam of ribs/chest | 0.27 | 0.76 | 0.76 | NA | NA | 0.05 | 1.08 | 1.08 | NA | NA | XXX
71101 | 26 | A | X-ray exam of ribs/chest | 0.27 | 0.08 | 0.09 | 0.08 | 0.09 | 0.01 | 0.36 | 0.37 | 0.36 | 0.37 | XXX
71101 | TC | A | X-ray exam of ribs/chest | 0.00 | 0.68 | 0.67 | NA | NA | 0.04 | 0.72 | 0.71 | NA | NA | XXX
71110 |  | A | X-ray exam of ribs | 0.27 | 0.78 | 0.85 | NA | NA | 0.06 | 1.11 | 1.18 | NA | NA | XXX
71110 | 26 | A | X-ray exam of ribs | 0.27 | 0.08 | 0.09 | 0.08 | 0.09 | 0.01 | 0.36 | 0.37 | 0.36 | 0.37 | XXX
71110 | TC | A | X-ray exam of ribs | 0.00 | 0.70 | 0.76 | NA | NA | 0.05 | 0.75 | 0.81 | NA | NA | XXX
71111 |  | A | X-ray exam of ribs/chest | 0.32 | 1.06 | 1.01 | NA | NA | 0.07 | 1.45 | 1.40 | NA | NA | XXX
71111 | 26 | A | X-ray exam of ribs/chest | 0.32 | 0.09 | 0.10 | 0.09 | 0.10 | 0.01 | 0.42 | 0.43 | 0.42 | 0.43 | XXX
71111 | TC | A | X-ray exam of ribs/chest | 0.00 | 0.97 | 0.91 | NA | NA | 0.06 | 1.03 | 0.97 | NA | NA | XXX
71120 |  | A | X-ray exam of breastbone | 0.20 | 0.62 | 0.70 | NA | NA | 0.05 | 0.87 | 0.95 | NA | NA | XXX
71120 | 26 | A | X-ray exam of breastbone | 0.20 | 0.06 | 0.07 | 0.06 | 0.07 | 0.01 | 0.27 | 0.28 | 0.27 | 0.28 | XXX
71120 | TC | A | X-ray exam of breastbone | 0.00 | 0.56 | 0.63 | NA | NA | 0.04 | 0.60 | 0.67 | NA | NA | XXX
71130 |  | A | X-ray exam of breastbone | 0.22 | 0.75 | 0.77 | NA | NA | 0.05 | 1.02 | 1.04 | NA | NA | XXX
71130 | 26 | A | X-ray exam of breastbone | 0.22 | 0.07 | 0.07 | 0.07 | 0.07 | 0.01 | 0.30 | 0.30 | 0.30 | 0.30 | XXX
71130 | TC | A | X-ray exam of breastbone | 0.00 | 0.68 | 0.70 | NA | NA | 0.04 | 0.72 | 0.74 | NA | NA | XXX
71250 |  | A | Ct thorax w/o dye | 1.16 | 6.47 | 6.34 | NA | NA | 0.36 | 7.99 | 7.86 | NA | NA | XXX
71250 | 26 | A | Ct thorax w/o dye | 1.16 | 0.37 | 0.38 | 0.37 | 0.38 | 0.05 | 1.58 | 1.59 | 1.58 | 1.59 | XXX
71250 | TC | A | Ct thorax w/o dye | 0.00 | 6.10 | 5.96 | NA | NA | 0.31 | 6.41 | 6.27 | NA | NA | XXX
71260 |  | A | Ct thorax w/dye | 1.24 | 8.01 | 7.61 | NA | NA | 0.42 | 9.67 | 9.27 | NA | NA | XXX
71260 | 26 | A | Ct thorax w/dye | 1.24 | 0.39 | 0.41 | 0.39 | 0.41 | 0.05 | 1.68 | 1.70 | 1.68 | 1.70 | XXX
71260 | TC | A | Ct thorax w/dye | 0.00 | 7.61 | 7.21 | NA | NA | 0.37 | 7.98 | 7.58 | NA | NA | XXX
71270 |  | A | Ct thorax w/o & w/dye | 1.38 | 10.15 | 9.51 | NA | NA | 0.52 | 12.05 | 11.41 | NA | NA | XXX
71270 | 26 | A | Ct thorax w/o & w/dye | 1.38 | 0.44 | 0.45 | 0.44 | 0.45 | 0.06 | 1.88 | 1.89 | 1.88 | 1.89 | XXX
71270 | TC | A | Ct thorax w/o & w/dye | 0.00 | 9.71 | 9.07 | NA | NA | 0.46 | 10.17 | 9.53 | NA | NA | XXX
71275 |  | A | Ct angiography, chest | 1.92 | 11.77 | 12.70 | NA | NA | 0.48 | 14.17 | 15.10 | NA | NA | XXX
71275 | 26 | A | Ct angiography, chest | 1.92 | 0.62 | 0.63 | 0.62 | 0.63 | 0.09 | 2.63 | 2.64 | 2.63 | 2.64 | XXX
71275 | TC | A | Ct angiography, chest | 0.00 | 11.14 | 12.07 | NA | NA | 0.39 | 11.53 | 12.46 | NA | NA | XXX
71550 |  | A | Mri chest w/o dye | 1.46 | 16.75 | 12.95 | NA | NA | 0.51 | 18.72 | 14.92 | NA | NA | XXX
71550 | 26 | A | Mri chest w/o dye | 1.46 | 0.48 | 0.48 | 0.48 | 0.48 | 0.06 | 2.00 | 2.00 | 2.00 | 2.00 | XXX
71550 | TC | A | Mri chest w/o dye | 0.00 | 16.27 | 12.47 | NA | NA | 0.45 | 16.72 | 12.92 | NA | NA | XXX
71551 |  | A | Mri chest w/dye | 1.73 | 18.16 | 15.05 | NA | NA | 0.60 | 20.49 | 17.38 | NA | NA | XXX
71551 | 26 | A | Mri chest w/dye | 1.73 | 0.56 | 0.57 | 0.56 | 0.57 | 0.08 | 2.37 | 2.38 | 2.37 | 2.38 | XXX
71551 | TC | A | Mri chest w/dye | 0.00 | 17.59 | 14.48 | NA | NA | 0.52 | 18.11 | 15.00 | NA | NA | XXX
71552 |  | A | Mri chest w/o & w/dye | 2.26 | 22.91 | 24.94 | NA | NA | 0.78 | 25.95 | 27.98 | NA | NA | XXX
71552 | 26 | A | Mri chest w/o & w/dye | 2.26 | 0.75 | 0.74 | 0.75 | 0.74 | 0.10 | 3.11 | 3.10 | 3.11 | 3.10 | XXX
71552 | TC | A | Mri chest w/o & w/dye | 0.00 | 22.16 | 24.20 | NA | NA | 0.68 | 22.84 | 24.88 | NA | NA | XXX
71555 |  | R | Mri angio chest w or w/o dye | 1.81 | 15.55 | 12.74 | NA | NA | 0.67 | 18.03 | 15.22 | NA | NA | XXX
71555 | 26 | R | Mri angio chest w or w/o dye | 1.81 | 0.62 | 0.61 | 0.62 | 0.61 | 0.08 | 2.51 | 2.50 | 2.51 | 2.50 | XXX
71555 | TC | R | Mri angio chest w or w/o dye | 0.00 | 14.94 | 12.14 | NA | NA | 0.59 | 15.53 | 12.73 | NA | NA | XXX
72010 |  | A | X-ray exam of spine | 0.45 | 1.45 | 1.24 | NA | NA | 0.08 | 1.98 | 1.77 | NA | NA | XXX
72010 | 26 | A | X-ray exam of spine | 0.45 | 0.13 | 0.15 | 0.13 | 0.15 | 0.02 | 0.60 | 0.62 | 0.60 | 0.62 | XXX
72010 | TC | A | X-ray exam of spine | 0.00 | 1.32 | 1.10 | NA | NA | 0.06 | 1.38 | 1.16 | NA | NA | XXX
72020 |  | A | X-ray exam of spine | 0.15 | 0.46 | 0.47 | NA | NA | 0.03 | 0.64 | 0.65 | NA | NA | XXX
72020 | 26 | A | X-ray exam of spine | 0.15 | 0.05 | 0.05 | 0.05 | 0.05 | 0.01 | 0.21 | 0.21 | 0.21 | 0.21 | XXX
72020 | TC | A | X-ray exam of spine | 0.00 | 0.42 | 0.42 | NA | NA | 0.02 | 0.44 | 0.44 | NA | NA | XXX
72040 |  | A | X-ray exam of neck spine | 0.22 | 0.77 | 0.70 | NA | NA | 0.05 | 1.04 | 0.97 | NA | NA | XXX
72040 | 26 | A | X-ray exam of neck spine | 0.22 | 0.07 | 0.07 | 0.07 | 0.07 | 0.01 | 0.30 | 0.30 | 0.30 | 0.30 | XXX
72040 | TC | A | X-ray exam of neck spine | 0.00 | 0.70 | 0.63 | NA | NA | 0.04 | 0.74 | 0.67 | NA | NA | XXX
72050 |  | A | X-ray exam of neck spine | 0.31 | 1.07 | 1.01 | NA | NA | 0.07 | 1.45 | 1.39 | NA | NA | XXX
72050 | 26 | A | X-ray exam of neck spine | 0.31 | 0.10 | 0.10 | 0.10 | 0.10 | 0.01 | 0.42 | 0.42 | 0.42 | 0.42 | XXX
72050 | TC | A | X-ray exam of neck spine | 0.00 | 0.97 | 0.91 | NA | NA | 0.06 | 1.03 | 0.97 | NA | NA | XXX
72052 |  | A | X-ray exam of neck spine | 0.36 | 1.39 | 1.29 | NA | NA | 0.08 | 1.83 | 1.73 | NA | NA | XXX
72052 | 26 | A | X-ray exam of neck spine | 0.36 | 0.11 | 0.12 | 0.11 | 0.12 | 0.02 | 0.49 | 0.50 | 0.49 | 0.50 | XXX
72052 | TC | A | X-ray exam of neck spine | 0.00 | 1.27 | 1.17 | NA | NA | 0.06 | 1.33 | 1.23 | NA | NA | XXX
72069 |  | A | X-ray exam of trunk spine | 0.22 | 0.77 | 0.62 | NA | NA | 0.03 | 1.02 | 0.87 | NA | NA | XXX
72069 | 26 | A | X-ray exam of trunk spine | 0.22 | 0.08 | 0.08 | 0.08 | 0.08 | 0.01 | 0.31 | 0.31 | 0.31 | 0.31 | XXX
72069 | TC | A | X-ray exam of trunk spine | 0.00 | 0.69 | 0.54 | NA | NA | 0.02 | 0.71 | 0.56 | NA | NA | XXX
72070 |  | A | X-ray exam of thoracic spine | 0.22 | 0.64 | 0.70 | NA | NA | 0.05 | 0.91 | 0.97 | NA | NA | XXX
72070 | 26 | A | X-ray exam of thoracic spine | 0.22 | 0.07 | 0.07 | 0.07 | 0.07 | 0.01 | 0.30 | 0.30 | 0.30 | 0.30 | XXX
72070 | TC | A | X-ray exam of thoracic spine | 0.00 | 0.57 | 0.63 | NA | NA | 0.04 | 0.61 | 0.67 | NA | NA | XXX
72072 |  | A | X-ray exam of thoracic spine | 0.22 | 0.77 | 0.79 | NA | NA | 0.06 | 1.05 | 1.07 | NA | NA | XXX
72072 | 26 | A | X-ray exam of thoracic spine | 0.22 | 0.07 | 0.07 | 0.07 | 0.07 | 0.01 | 0.30 | 0.30 | 0.30 | 0.30 | XXX
72072 | TC | A | X-ray exam of thoracic spine | 0.00 | 0.70 | 0.72 | NA | NA | 0.05 | 0.75 | 0.77 | NA | NA | XXX
72074 |  | A | X-ray exam of thoracic spine | 0.22 | 0.95 | 0.97 | NA | NA | 0.07 | 1.24 | 1.26 | NA | NA | XXX
72074 | 26 | A | X-ray exam of thoracic spine | 0.22 | 0.07 | 0.07 | 0.07 | 0.07 | 0.01 | 0.30 | 0.30 | 0.30 | 0.30 | XXX
72074 | TC | A | X-ray exam of thoracic spine | 0.00 | 0.88 | 0.90 | NA | NA | 0.06 | 0.94 | 0.96 | NA | NA | XXX
72080 |  | A | X-ray exam of trunk spine | 0.22 | 0.70 | 0.73 | NA | NA | 0.05 | 0.97 | 1.00 | NA | NA | XXX
72080 | 26 | A | X-ray exam of trunk spine | 0.22 | 0.07 | 0.07 | 0.07 | 0.07 | 0.01 | 0.30 | 0.30 | 0.30 | 0.30 | XXX
72080 | TC | A | X-ray exam of trunk spine | 0.00 | 0.62 | 0.66 | NA | NA | 0.04 | 0.66 | 0.70 | NA | NA | XXX
72090 |  | A | X-ray exam of trunk spine | 0.28 | 1.01 | 0.82 | NA | NA | 0.05 | 1.34 | 1.15 | NA | NA | XXX
72090 | 26 | A | X-ray exam of trunk spine | 0.28 | 0.10 | 0.09 | 0.10 | 0.09 | 0.01 | 0.39 | 0.38 | 0.39 | 0.38 | XXX
72090 | TC | A | X-ray exam of trunk spine | 0.00 | 0.92 | 0.73 | NA | NA | 0.04 | 0.96 | 0.77 | NA | NA | XXX
72100 |  | A | X-ray exam of lower spine | 0.22 | 0.81 | 0.76 | NA | NA | 0.05 | 1.08 | 1.03 | NA | NA | XXX
72100 | 26 | A | X-ray exam of lower spine | 0.22 | 0.07 | 0.07 | 0.07 | 0.07 | 0.01 | 0.30 | 0.30 | 0.30 | 0.30 | XXX
72100 | TC | A | X-ray exam of lower spine | 0.00 | 0.74 | 0.69 | NA | NA | 0.04 | 0.78 | 0.73 | NA | NA | XXX
72110 |  | A | X-ray exam of lower spine | 0.31 | 1.14 | 1.04 | NA | NA | 0.07 | 1.52 | 1.42 | NA | NA | XXX
72110 | 26 | A | X-ray exam of lower spine | 0.31 | 0.10 | 0.10 | 0.10 | 0.10 | 0.01 | 0.42 | 0.42 | 0.42 | 0.42 | XXX
72110 | TC | A | X-ray exam of lower spine | 0.00 | 1.04 | 0.94 | NA | NA | 0.06 | 1.10 | 1.00 | NA | NA | XXX
72114 |  | A | X-ray exam of lower spine | 0.36 | 1.57 | 1.38 | NA | NA | 0.08 | 2.01 | 1.82 | NA | NA | XXX
72114 | 26 | A | X-ray exam of lower spine | 0.36 | 0.12 | 0.12 | 0.12 | 0.12 | 0.02 | 0.50 | 0.50 | 0.50 | 0.50 | XXX
72114 | TC | A | X-ray exam of lower spine | 0.00 | 1.45 | 1.26 | NA | NA | 0.06 | 1.51 | 1.32 | NA | NA | XXX
72120 |  | A | X-ray exam of lower spine | 0.22 | 1.07 | 0.99 | NA | NA | 0.07 | 1.36 | 1.28 | NA | NA | XXX
72120 | 26 | A | X-ray exam of lower spine | 0.22 | 0.08 | 0.07 | 0.08 | 0.07 | 0.01 | 0.31 | 0.30 | 0.31 | 0.30 | XXX
72120 | TC | A | X-ray exam of lower spine | 0.00 | 1.00 | 0.92 | NA | NA | 0.06 | 1.06 | 0.98 | NA | NA | XXX
72125 |  | A | Ct neck spine w/o dye | 1.16 | 6.46 | 6.33 | NA | NA | 0.36 | 7.98 | 7.85 | NA | NA | XXX
72125 | 26 | A | Ct neck spine w/o dye | 1.16 | 0.37 | 0.38 | 0.37 | 0.38 | 0.05 | 1.58 | 1.59 | 1.58 | 1.59 | XXX
72125 | TC | A | Ct neck spine w/o dye | 0.00 | 6.09 | 5.96 | NA | NA | 0.31 | 6.40 | 6.27 | NA | NA | XXX
72126 |  | A | Ct neck spine w/dye | 1.22 | 8.04 | 7.61 | NA | NA | 0.42 | 9.68 | 9.25 | NA | NA | XXX
72126 | 26 | A | Ct neck spine w/dye | 1.22 | 0.39 | 0.40 | 0.39 | 0.40 | 0.05 | 1.66 | 1.67 | 1.66 | 1.67 | XXX
72126 | TC | A | Ct neck spine w/dye | 0.00 | 7.65 | 7.22 | NA | NA | 0.37 | 8.02 | 7.59 | NA | NA | XXX
72127 |  | A | Ct neck spine w/o & w/dye | 1.27 | 10.17 | 9.50 | NA | NA | 0.52 | 11.96 | 11.29 | NA | NA | XXX
72127 | 26 | A | Ct neck spine w/o & w/dye | 1.27 | 0.43 | 0.42 | 0.43 | 0.42 | 0.06 | 1.76 | 1.75 | 1.76 | 1.75 | XXX
72127 | TC | A | Ct neck spine w/o & w/dye | 0.00 | 9.73 | 9.07 | NA | NA | 0.46 | 10.19 | 9.53 | NA | NA | XXX
72128 |  | A | Ct chest spine w/o dye | 1.16 | 6.47 | 6.34 | NA | NA | 0.36 | 7.99 | 7.86 | NA | NA | XXX
72128 | 26 | A | Ct chest spine w/o dye | 1.16 | 0.37 | 0.38 | 0.37 | 0.38 | 0.05 | 1.58 | 1.59 | 1.58 | 1.59 | XXX
72128 | TC | A | Ct chest spine w/o dye | 0.00 | 6.10 | 5.96 | NA | NA | 0.31 | 6.41 | 6.27 | NA | NA | XXX
72129 |  | A | Ct chest spine w/dye | 1.22 | 8.03 | 7.61 | NA | NA | 0.42 | 9.67 | 9.25 | NA | NA | XXX
72129 | 26 | A | Ct chest spine w/dye | 1.22 | 0.39 | 0.40 | 0.39 | 0.40 | 0.05 | 1.66 | 1.67 | 1.66 | 1.67 | XXX
72129 | TC | A | Ct chest spine w/dye | 0.00 | 7.64 | 7.21 | NA | NA | 0.37 | 8.01 | 7.58 | NA | NA | XXX
72130 |  | A | Ct chest spine w/o & w/dye | 1.27 | 10.14 | 9.49 | NA | NA | 0.52 | 11.93 | 11.28 | NA | NA | XXX
72130 | 26 | A | Ct chest spine w/o & w/dye | 1.27 | 0.43 | 0.42 | 0.43 | 0.42 | 0.06 | 1.76 | 1.75 | 1.76 | 1.75 | XXX
72130 | TC | A | Ct chest spine w/o & w/dye | 0.00 | 9.70 | 9.06 | NA | NA | 0.46 | 10.16 | 9.52 | NA | NA | XXX
72131 |  | A | Ct lumbar spine w/o dye | 1.16 | 6.47 | 6.34 | NA | NA | 0.36 | 7.99 | 7.86 | NA | NA | XXX
72131 | 26 | A | Ct lumbar spine w/o dye | 1.16 | 0.37 | 0.38 | 0.37 | 0.38 | 0.05 | 1.58 | 1.59 | 1.58 | 1.59 | XXX
72131 | TC | A | Ct lumbar spine w/o dye | 0.00 | 6.10 | 5.96 | NA | NA | 0.31 | 6.41 | 6.27 | NA | NA | XXX
72132 |  | A | Ct lumbar spine w/dye | 1.22 | 8.03 | 7.61 | NA | NA | 0.42 | 9.67 | 9.25 | NA | NA | XXX
72132 | 26 | A | Ct lumbar spine w/dye | 1.22 | 0.39 | 0.40 | 0.39 | 0.40 | 0.05 | 1.66 | 1.67 | 1.66 | 1.67 | XXX
72132 | TC | A | Ct lumbar spine w/dye | 0.00 | 7.64 | 7.21 | NA | NA | 0.37 | 8.01 | 7.58 | NA | NA | XXX
72133 |  | A | Ct lumbar spine w/o & w/dye | 1.27 | 10.21 | 9.51 | NA | NA | 0.52 | 12.00 | 11.30 | NA | NA | XXX
72133 | 26 | A | Ct lumbar spine w/o & w/dye | 1.27 | 0.41 | 0.42 | 0.41 | 0.42 | 0.06 | 1.74 | 1.75 | 1.74 | 1.75 | XXX
72133 | TC | A | Ct lumbar spine w/o & w/dye | 0.00 | 9.79 | 9.09 | NA | NA | 0.46 | 10.25 | 9.55 | NA | NA | XXX
72141 |  | A | Mri neck spine w/o dye | 1.60 | 12.80 | 12.00 | NA | NA | 0.66 | 15.06 | 14.26 | NA | NA | XXX
72141 | 26 | A | Mri neck spine w/o dye | 1.60 | 0.53 | 0.53 | 0.53 | 0.53 | 0.07 | 2.20 | 2.20 | 2.20 | 2.20 | XXX
72141 | TC | A | Mri neck spine w/o dye | 0.00 | 12.26 | 11.47 | NA | NA | 0.59 | 12.85 | 12.06 | NA | NA | XXX
72142 |  | A | Mri neck spine w/dye | 1.92 | 15.86 | 14.53 | NA | NA | 0.79 | 18.57 | 17.24 | NA | NA | XXX
72142 | 26 | A | Mri neck spine w/dye | 1.92 | 0.63 | 0.64 | 0.63 | 0.64 | 0.09 | 2.64 | 2.65 | 2.64 | 2.65 | XXX
72142 | TC | A | Mri neck spine w/dye | 0.00 | 15.24 | 13.89 | NA | NA | 0.70 | 15.94 | 14.59 | NA | NA | XXX
72146 |  | A | Mri chest spine w/o dye | 1.60 | 12.77 | 12.92 | NA | NA | 0.71 | 15.08 | 15.23 | NA | NA | XXX
72146 | 26 | A | Mri chest spine w/o dye | 1.60 | 0.53 | 0.53 | 0.53 | 0.53 | 0.07 | 2.20 | 2.20 | 2.20 | 2.20 | XXX
72146 | TC | A | Mri chest spine w/o dye | 0.00 | 12.24 | 12.39 | NA | NA | 0.64 | 12.88 | 13.03 | NA | NA | XXX
72147 |  | A | Mri chest spine w/dye | 1.92 | 13.70 | 13.98 | NA | NA | 0.79 | 16.41 | 16.69 | NA | NA | XXX
72147 | 26 | A | Mri chest spine w/dye | 1.92 | 0.62 | 0.63 | 0.62 | 0.63 | 0.09 | 2.63 | 2.64 | 2.63 | 2.64 | XXX
72147 | TC | A | Mri chest spine w/dye | 0.00 | 13.08 | 13.35 | NA | NA | 0.70 | 13.78 | 14.05 | NA | NA | XXX
72148 |  | A | Mri lumbar spine w/o dye | 1.48 | 12.77 | 12.89 | NA | NA | 0.71 | 14.96 | 15.08 | NA | NA | XXX
72148 | 26 | A | Mri lumbar spine w/o dye | 1.48 | 0.50 | 0.49 | 0.50 | 0.49 | 0.07 | 2.05 | 2.04 | 2.05 | 2.04 | XXX
72148 | TC | A | Mri lumbar spine w/o dye | 0.00 | 12.28 | 12.40 | NA | NA | 0.64 | 12.92 | 13.04 | NA | NA | XXX
72149 |  | A | Mri lumbar spine w/dye | 1.78 | 15.83 | 14.49 | NA | NA | 0.78 | 18.39 | 17.05 | NA | NA | XXX
72149 | 26 | A | Mri lumbar spine w/dye | 1.78 | 0.59 | 0.60 | 0.59 | 0.60 | 0.08 | 2.45 | 2.46 | 2.45 | 2.46 | XXX
72149 | TC | A | Mri lumbar spine w/dye | 0.00 | 15.25 | 13.89 | NA | NA | 0.70 | 15.95 | 14.59 | NA | NA | XXX
72156 |  | A | Mri neck spine w/o & w/dye | 2.57 | 18.13 | 23.83 | NA | NA | 1.42 | 22.12 | 27.82 | NA | NA | XXX
72156 | 26 | A | Mri neck spine w/o & w/dye | 2.57 | 0.84 | 0.85 | 0.84 | 0.85 | 0.11 | 3.52 | 3.53 | 3.52 | 3.53 | XXX
72156 | TC | A | Mri neck spine w/o & w/dye | 0.00 | 17.29 | 22.98 | NA | NA | 1.31 | 18.60 | 24.29 | NA | NA | XXX
72157 |  | A | Mri chest spine w/o & w/dye | 2.57 | 16.43 | 23.40 | NA | NA | 1.42 | 20.42 | 27.39 | NA | NA | XXX
72157 | 26 | A | Mri chest spine w/o & w/dye | 2.57 | 0.83 | 0.84 | 0.83 | 0.84 | 0.11 | 3.51 | 3.52 | 3.51 | 3.52 | XXX
72157 | TC | A | Mri chest spine w/o & w/dye | 0.00 | 15.60 | 22.56 | NA | NA | 1.31 | 16.91 | 23.87 | NA | NA | XXX
72158 |  | A | Mri lumbar spine w/o & w/dye | 2.36 | 18.10 | 23.77 | NA | NA | 1.41 | 21.87 | 27.54 | NA | NA | XXX
72158 | 26 | A | Mri lumbar spine w/o & w/dye | 2.36 | 0.78 | 0.78 | 0.78 | 0.78 | 0.10 | 3.24 | 3.24 | 3.24 | 3.24 | XXX
72158 | TC | A | Mri lumbar spine w/o & w/dye | 0.00 | 17.32 | 22.99 | NA | NA | 1.31 | 18.63 | 24.30 | NA | NA | XXX
72159 |  | N | Mr angio spine w/o&w/dye | 1.80 | 14.79 | 13.39 | NA | NA | 0.74 | 17.33 | 15.93 | NA | NA | XXX
72159 | 26 | N | Mr angio spine w/o&w/dye | 1.80 | 0.42 | 0.62 | 0.42 | 0.62 | 0.10 | 2.32 | 2.52 | 2.32 | 2.52 | XXX
72159 | TC | N | Mr angio spine w/o&w/dye | 0.00 | 14.37 | 12.77 | NA | NA | 0.64 | 15.01 | 13.41 | NA | NA | XXX
72170 |  | A | X-ray exam of pelvis | 0.17 | 0.50 | 0.56 | NA | NA | 0.03 | 0.70 | 0.76 | NA | NA | XXX
72170 | 26 | A | X-ray exam of pelvis | 0.17 | 0.06 | 0.06 | 0.06 | 0.06 | 0.01 | 0.24 | 0.24 | 0.24 | 0.24 | XXX
72170 | TC | A | X-ray exam of pelvis | 0.00 | 0.44 | 0.50 | NA | NA | 0.02 | 0.46 | 0.52 | NA | NA | XXX
72190 |  | A | X-ray exam of pelvis | 0.21 | 0.85 | 0.77 | NA | NA | 0.05 | 1.11 | 1.03 | NA | NA | XXX
72190 | 26 | A | X-ray exam of pelvis | 0.21 | 0.07 | 0.07 | 0.07 | 0.07 | 0.01 | 0.29 | 0.29 | 0.29 | 0.29 | XXX
72190 | TC | A | X-ray exam of pelvis | 0.00 | 0.78 | 0.70 | NA | NA | 0.04 | 0.82 | 0.74 | NA | NA | XXX
72191 |  | A | Ct angiograph pelv w/o&w/dye | 1.81 | 11.43 | 12.32 | NA | NA | 0.47 | 13.71 | 14.60 | NA | NA | XXX
72191 | 26 | A | Ct angiograph pelv w/o&w/dye | 1.81 | 0.60 | 0.60 | 0.60 | 0.60 | 0.08 | 2.49 | 2.49 | 2.49 | 2.49 | XXX
72191 | TC | A | Ct angiograph pelv w/o&w/dye | 0.00 | 10.83 | 11.73 | NA | NA | 0.39 | 11.22 | 12.12 | NA | NA | XXX
72192 |  | A | Ct pelvis w/o dye | 1.09 | 6.02 | 6.21 | NA | NA | 0.36 | 7.47 | 7.66 | NA | NA | XXX
72192 | 26 | A | Ct pelvis w/o dye | 1.09 | 0.34 | 0.36 | 0.34 | 0.36 | 0.05 | 1.48 | 1.50 | 1.48 | 1.50 | XXX
72192 | TC | A | Ct pelvis w/o dye | 0.00 | 5.68 | 5.85 | NA | NA | 0.31 | 5.99 | 6.16 | NA | NA | XXX
72193 |  | A | Ct pelvis w/dye | 1.16 | 7.55 | 7.30 | NA | NA | 0.41 | 9.12 | 8.87 | NA | NA | XXX
72193 | 26 | A | Ct pelvis w/dye | 1.16 | 0.37 | 0.38 | 0.37 | 0.38 | 0.05 | 1.58 | 1.59 | 1.58 | 1.59 | XXX
72193 | TC | A | Ct pelvis w/dye | 0.00 | 7.18 | 6.93 | NA | NA | 0.36 | 7.54 | 7.29 | NA | NA | XXX
72194 |  | A | Ct pelvis w/o & w/dye | 1.22 | 10.18 | 9.21 | NA | NA | 0.48 | 11.88 | 10.91 | NA | NA | XXX
72194 | 26 | A | Ct pelvis w/o & w/dye | 1.22 | 0.39 | 0.40 | 0.39 | 0.40 | 0.05 | 1.66 | 1.67 | 1.66 | 1.67 | XXX
72194 | TC | A | Ct pelvis w/o & w/dye | 0.00 | 9.78 | 8.81 | NA | NA | 0.43 | 10.21 | 9.24 | NA | NA | XXX
72195 |  | A | Mri pelvis w/o dye | 1.46 | 14.74 | 12.45 | NA | NA | 0.51 | 16.71 | 14.42 | NA | NA | XXX
72195 | 26 | A | Mri pelvis w/o dye | 1.46 | 0.48 | 0.48 | 0.48 | 0.48 | 0.06 | 2.00 | 2.00 | 2.00 | 2.00 | XXX
72195 | TC | A | Mri pelvis w/o dye | 0.00 | 14.25 | 11.96 | NA | NA | 0.45 | 14.70 | 12.41 | NA | NA | XXX
72196 |  | A | Mri pelvis w/dye | 1.73 | 15.67 | 14.43 | NA | NA | 0.60 | 18.00 | 16.76 | NA | NA | XXX
72196 | 26 | A | Mri pelvis w/dye | 1.73 | 0.56 | 0.57 | 0.56 | 0.57 | 0.08 | 2.37 | 2.38 | 2.37 | 2.38 | XXX
72196 | TC | A | Mri pelvis w/dye | 0.00 | 15.11 | 13.86 | NA | NA | 0.52 | 15.63 | 14.38 | NA | NA | XXX
72197 |  | A | Mri pelvis w/o & w/dye | 2.26 | 19.28 | 24.04 | NA | NA | 1.02 | 22.56 | 27.32 | NA | NA | XXX
72197 | 26 | A | Mri pelvis w/o & w/dye | 2.26 | 0.74 | 0.74 | 0.74 | 0.74 | 0.10 | 3.10 | 3.10 | 3.10 | 3.10 | XXX
72197 | TC | A | Mri pelvis w/o & w/dye | 0.00 | 18.54 | 23.30 | NA | NA | 0.92 | 19.46 | 24.22 | NA | NA | XXX
72198 |  | A | Mr angio pelvis w/o & w/dye | 1.80 | 15.34 | 12.68 | NA | NA | 0.67 | 17.81 | 15.15 | NA | NA | XXX
72198 | 26 | A | Mr angio pelvis w/o & w/dye | 1.80 | 0.60 | 0.59 | 0.60 | 0.59 | 0.08 | 2.48 | 2.47 | 2.48 | 2.47 | XXX
72198 | TC | A | Mr angio pelvis w/o & w/dye | 0.00 | 14.75 | 12.09 | NA | NA | 0.59 | 15.34 | 12.68 | NA | NA | XXX
72200 |  | A | X-ray exam sacroiliac joints | 0.17 | 0.60 | 0.59 | NA | NA | 0.03 | 0.80 | 0.79 | NA | NA | XXX
72200 | 26 | A | X-ray exam sacroiliac joints | 0.17 | 0.05 | 0.06 | 0.05 | 0.06 | 0.01 | 0.23 | 0.24 | 0.23 | 0.24 | XXX
72200 | TC | A | X-ray exam sacroiliac joints | 0.00 | 0.55 | 0.53 | NA | NA | 0.02 | 0.57 | 0.55 | NA | NA | XXX
72202 |  | A | X-ray exam sacroiliac joints | 0.19 | 0.74 | 0.70 | NA | NA | 0.05 | 0.98 | 0.94 | NA | NA | XXX
72202 | 26 | A | X-ray exam sacroiliac joints | 0.19 | 0.06 | 0.06 | 0.06 | 0.06 | 0.01 | 0.26 | 0.26 | 0.26 | 0.26 | XXX
72202 | TC | A | X-ray exam sacroiliac joints | 0.00 | 0.68 | 0.64 | NA | NA | 0.04 | 0.72 | 0.68 | NA | NA | XXX
72220 |  | A | X-ray exam of tailbone | 0.17 | 0.58 | 0.62 | NA | NA | 0.05 | 0.80 | 0.84 | NA | NA | XXX
72220 | 26 | A | X-ray exam of tailbone | 0.17 | 0.05 | 0.06 | 0.05 | 0.06 | 0.01 | 0.23 | 0.24 | 0.23 | 0.24 | XXX
72220 | TC | A | X-ray exam of tailbone | 0.00 | 0.53 | 0.56 | NA | NA | 0.04 | 0.57 | 0.60 | NA | NA | XXX
72240 |  | A | Contrast x-ray of neck spine | 0.91 | 2.53 | 4.41 | NA | NA | 0.29 | 3.73 | 5.61 | NA | NA | XXX
72240 | 26 | A | Contrast x-ray of neck spine | 0.91 | 0.28 | 0.29 | 0.28 | 0.29 | 0.04 | 1.23 | 1.24 | 1.23 | 1.24 | XXX
72240 | TC | A | Contrast x-ray of neck spine | 0.00 | 2.25 | 4.13 | NA | NA | 0.25 | 2.50 | 4.38 | NA | NA | XXX
72255 |  | A | Contrast x-ray, thorax spine | 0.91 | 2.27 | 4.02 | NA | NA | 0.26 | 3.44 | 5.19 | NA | NA | XXX
72255 | 26 | A | Contrast x-ray, thorax spine | 0.91 | 0.27 | 0.27 | 0.27 | 0.27 | 0.04 | 1.22 | 1.22 | 1.22 | 1.22 | XXX
72255 | TC | A | Contrast x-ray, thorax spine | 0.00 | 2.00 | 3.75 | NA | NA | 0.22 | 2.22 | 3.97 | NA | NA | XXX
72265 |  | A | Contrast x-ray, lower spine | 0.83 | 2.50 | 3.87 | NA | NA | 0.26 | 3.59 | 4.96 | NA | NA | XXX
72265 | 26 | A | Contrast x-ray, lower spine | 0.83 | 0.26 | 0.25 | 0.26 | 0.25 | 0.04 | 1.13 | 1.12 | 1.13 | 1.12 | XXX
72265 | TC | A | Contrast x-ray, lower spine | 0.00 | 2.24 | 3.61 | NA | NA | 0.22 | 2.46 | 3.83 | NA | NA | XXX
72270 |  | A | Contrast x-ray, spine | 1.33 | 3.95 | 5.88 | NA | NA | 0.39 | 5.67 | 7.60 | NA | NA | XXX
72270 | 26 | A | Contrast x-ray, spine | 1.33 | 0.43 | 0.42 | 0.43 | 0.42 | 0.06 | 1.82 | 1.81 | 1.82 | 1.81 | XXX
72270 | TC | A | Contrast x-ray, spine | 0.00 | 3.52 | 5.46 | NA | NA | 0.33 | 3.85 | 5.79 | NA | NA | XXX
72275 |  | A | Epidurography | 0.76 | 1.71 | 2.15 | NA | NA | 0.26 | 2.73 | 3.17 | NA | NA | XXX
72275 | 26 | A | Epidurography | 0.76 | 0.19 | 0.20 | 0.19 | 0.20 | 0.04 | 0.99 | 1.00 | 0.99 | 1.00 | XXX
72275 | TC | A | Epidurography | 0.00 | 1.52 | 1.96 | NA | NA | 0.22 | 1.74 | 2.18 | NA | NA | XXX
72285 |  | A | X-ray c/t spine disk | 1.16 | 1.42 | 6.90 | NA | NA | 0.50 | 3.08 | 8.56 | NA | NA | XXX
72285 | 26 | A | X-ray c/t spine disk | 1.16 | 0.29 | 0.34 | 0.29 | 0.34 | 0.07 | 1.52 | 1.57 | 1.52 | 1.57 | XXX
72285 | TC | A | X-ray c/t spine disk | 0.00 | 1.13 | 6.57 | NA | NA | 0.43 | 1.56 | 7.00 | NA | NA | XXX
72295 |  | A | X-ray of lower spine disk | 0.83 | 1.41 | 6.45 | NA | NA | 0.46 | 2.70 | 7.74 | NA | NA | XXX
72295 | 26 | A | X-ray of lower spine disk | 0.83 | 0.23 | 0.26 | 0.23 | 0.26 | 0.06 | 1.12 | 1.15 | 1.12 | 1.15 | XXX
72295 | TC | A | X-ray of lower spine disk | 0.00 | 1.18 | 6.19 | NA | NA | 0.40 | 1.58 | 6.59 | NA | NA | XXX
73000 |  | A | X-ray exam of collar bone | 0.16 | 0.56 | 0.57 | NA | NA | 0.03 | 0.75 | 0.76 | NA | NA | XXX
73000 | 26 | A | X-ray exam of collar bone | 0.16 | 0.05 | 0.05 | 0.05 | 0.05 | 0.01 | 0.22 | 0.22 | 0.22 | 0.22 | XXX
73000 | TC | A | X-ray exam of collar bone | 0.00 | 0.50 | 0.52 | NA | NA | 0.02 | 0.52 | 0.54 | NA | NA | XXX
73010 |  | A | X-ray exam of shoulder blade | 0.17 | 0.58 | 0.58 | NA | NA | 0.03 | 0.78 | 0.78 | NA | NA | XXX
73010 | 26 | A | X-ray exam of shoulder blade | 0.17 | 0.06 | 0.06 | 0.06 | 0.06 | 0.01 | 0.24 | 0.24 | 0.24 | 0.24 | XXX
73010 | TC | A | X-ray exam of shoulder blade | 0.00 | 0.53 | 0.52 | NA | NA | 0.02 | 0.55 | 0.54 | NA | NA | XXX
73020 |  | A | X-ray exam of shoulder | 0.15 | 0.45 | 0.50 | NA | NA | 0.03 | 0.63 | 0.68 | NA | NA | XXX
73020 | 26 | A | X-ray exam of shoulder | 0.15 | 0.05 | 0.05 | 0.05 | 0.05 | 0.01 | 0.21 | 0.21 | 0.21 | 0.21 | XXX
73020 | TC | A | X-ray exam of shoulder | 0.00 | 0.40 | 0.45 | NA | NA | 0.02 | 0.42 | 0.47 | NA | NA | XXX
73030 |  | A | X-ray exam of shoulder | 0.18 | 0.57 | 0.62 | NA | NA | 0.05 | 0.80 | 0.85 | NA | NA | XXX
73030 | 26 | A | X-ray exam of shoulder | 0.18 | 0.06 | 0.06 | 0.06 | 0.06 | 0.01 | 0.25 | 0.25 | 0.25 | 0.25 | XXX
73030 | TC | A | X-ray exam of shoulder | 0.00 | 0.51 | 0.56 | NA | NA | 0.04 | 0.55 | 0.60 | NA | NA | XXX
73040 |  | A | Contrast x-ray of shoulder | 0.54 | 2.24 | 2.27 | NA | NA | 0.14 | 2.92 | 2.95 | NA | NA | XXX
73040 | 26 | A | Contrast x-ray of shoulder | 0.54 | 0.17 | 0.18 | 0.17 | 0.18 | 0.02 | 0.73 | 0.74 | 0.73 | 0.74 | XXX
73040 | TC | A | Contrast x-ray of shoulder | 0.00 | 2.06 | 2.09 | NA | NA | 0.12 | 2.18 | 2.21 | NA | NA | XXX
73050 |  | A | X-ray exam of shoulders | 0.20 | 0.74 | 0.74 | NA | NA | 0.05 | 0.99 | 0.99 | NA | NA | XXX
73050 | 26 | A | X-ray exam of shoulders | 0.20 | 0.07 | 0.07 | 0.07 | 0.07 | 0.01 | 0.28 | 0.28 | 0.28 | 0.28 | XXX
73050 | TC | A | X-ray exam of shoulders | 0.00 | 0.66 | 0.67 | NA | NA | 0.04 | 0.70 | 0.71 | NA | NA | XXX
73060 |  | A | X-ray exam of humerus | 0.17 | 0.57 | 0.62 | NA | NA | 0.05 | 0.79 | 0.84 | NA | NA | XXX
73060 | 26 | A | X-ray exam of humerus | 0.17 | 0.05 | 0.06 | 0.05 | 0.06 | 0.01 | 0.23 | 0.24 | 0.23 | 0.24 | XXX
73060 | TC | A | X-ray exam of humerus | 0.00 | 0.52 | 0.56 | NA | NA | 0.04 | 0.56 | 0.60 | NA | NA | XXX
73070 |  | A | X-ray exam of elbow | 0.15 | 0.56 | 0.57 | NA | NA | 0.03 | 0.74 | 0.75 | NA | NA | XXX
73070 | 26 | A | X-ray exam of elbow | 0.15 | 0.05 | 0.05 | 0.05 | 0.05 | 0.01 | 0.21 | 0.21 | 0.21 | 0.21 | XXX
73070 | TC | A | X-ray exam of elbow | 0.00 | 0.51 | 0.52 | NA | NA | 0.02 | 0.53 | 0.54 | NA | NA | XXX
73080 |  | A | X-ray exam of elbow | 0.17 | 0.75 | 0.66 | NA | NA | 0.05 | 0.97 | 0.88 | NA | NA | XXX
73080 | 26 | A | X-ray exam of elbow | 0.17 | 0.05 | 0.06 | 0.05 | 0.06 | 0.01 | 0.23 | 0.24 | 0.23 | 0.24 | XXX
73080 | TC | A | X-ray exam of elbow | 0.00 | 0.70 | 0.60 | NA | NA | 0.04 | 0.74 | 0.64 | NA | NA | XXX
73085 |  | A | Contrast x-ray of elbow | 0.54 | 1.82 | 2.17 | NA | NA | 0.14 | 2.50 | 2.85 | NA | NA | XXX
73085 | 26 | A | Contrast x-ray of elbow | 0.54 | 0.17 | 0.19 | 0.17 | 0.19 | 0.02 | 0.73 | 0.75 | 0.73 | 0.75 | XXX
73085 | TC | A | Contrast x-ray of elbow | 0.00 | 1.65 | 1.99 | NA | NA | 0.12 | 1.77 | 2.11 | NA | NA | XXX
73090 |  | A | X-ray exam of forearm | 0.16 | 0.55 | 0.57 | NA | NA | 0.03 | 0.74 | 0.76 | NA | NA | XXX
73090 | 26 | A | X-ray exam of forearm | 0.16 | 0.05 | 0.05 | 0.05 | 0.05 | 0.01 | 0.22 | 0.22 | 0.22 | 0.22 | XXX
73090 | TC | A | X-ray exam of forearm | 0.00 | 0.50 | 0.52 | NA | NA | 0.02 | 0.52 | 0.54 | NA | NA | XXX
73092 |  | A | X-ray exam of arm, infant | 0.16 | 0.59 | 0.55 | NA | NA | 0.03 | 0.78 | 0.74 | NA | NA | XXX
73092 | 26 | A | X-ray exam of arm, infant | 0.16 | 0.05 | 0.05 | 0.05 | 0.05 | 0.01 | 0.22 | 0.22 | 0.22 | 0.22 | XXX
73092 | TC | A | X-ray exam of arm, infant | 0.00 | 0.54 | 0.50 | NA | NA | 0.02 | 0.56 | 0.52 | NA | NA | XXX
73100 |  | A | X-ray exam of wrist | 0.16 | 0.61 | 0.56 | NA | NA | 0.03 | 0.80 | 0.75 | NA | NA | XXX
73100 | 26 | A | X-ray exam of wrist | 0.16 | 0.06 | 0.05 | 0.06 | 0.05 | 0.01 | 0.23 | 0.22 | 0.23 | 0.22 | XXX
73100 | TC | A | X-ray exam of wrist | 0.00 | 0.55 | 0.51 | NA | NA | 0.02 | 0.57 | 0.53 | NA | NA | XXX
73110 |  | A | X-ray exam of wrist | 0.17 | 0.78 | 0.64 | NA | NA | 0.03 | 0.98 | 0.84 | NA | NA | XXX
73110 | 26 | A | X-ray exam of wrist | 0.17 | 0.05 | 0.06 | 0.05 | 0.06 | 0.01 | 0.23 | 0.24 | 0.23 | 0.24 | XXX
73110 | TC | A | X-ray exam of wrist | 0.00 | 0.72 | 0.58 | NA | NA | 0.02 | 0.74 | 0.60 | NA | NA | XXX
73115 |  | A | Contrast x-ray of wrist | 0.54 | 2.38 | 1.91 | NA | NA | 0.12 | 3.04 | 2.57 | NA | NA | XXX
73115 | 26 | A | Contrast x-ray of wrist | 0.54 | 0.18 | 0.18 | 0.18 | 0.18 | 0.02 | 0.74 | 0.74 | 0.74 | 0.74 | XXX
73115 | TC | A | Contrast x-ray of wrist | 0.00 | 2.20 | 1.74 | NA | NA | 0.10 | 2.30 | 1.84 | NA | NA | XXX
73120 |  | A | X-ray exam of hand | 0.16 | 0.56 | 0.55 | NA | NA | 0.03 | 0.75 | 0.74 | NA | NA | XXX
73120 | 26 | A | X-ray exam of hand | 0.16 | 0.05 | 0.05 | 0.05 | 0.05 | 0.01 | 0.22 | 0.22 | 0.22 | 0.22 | XXX
73120 | TC | A | X-ray exam of hand | 0.00 | 0.51 | 0.50 | NA | NA | 0.02 | 0.53 | 0.52 | NA | NA | XXX
73130 |  | A | X-ray exam of hand | 0.17 | 0.66 | 0.61 | NA | NA | 0.03 | 0.86 | 0.81 | NA | NA | XXX
73130 | 26 | A | X-ray exam of hand | 0.17 | 0.05 | 0.06 | 0.05 | 0.06 | 0.01 | 0.23 | 0.24 | 0.23 | 0.24 | XXX
73130 | TC | A | X-ray exam of hand | 0.00 | 0.61 | 0.55 | NA | NA | 0.02 | 0.63 | 0.57 | NA | NA | XXX
73140 |  | A | X-ray exam of finger(s) | 0.13 | 0.68 | 0.52 | NA | NA | 0.03 | 0.84 | 0.68 | NA | NA | XXX
73140 | 26 | A | X-ray exam of finger(s) | 0.13 | 0.04 | 0.04 | 0.04 | 0.04 | 0.01 | 0.18 | 0.18 | 0.18 | 0.18 | XXX
73140 | TC | A | X-ray exam of finger(s) | 0.00 | 0.64 | 0.48 | NA | NA | 0.02 | 0.66 | 0.50 | NA | NA | XXX
73200 |  | A | Ct upper extremity w/o dye | 1.09 | 6.45 | 5.60 | NA | NA | 0.30 | 7.84 | 6.99 | NA | NA | XXX
73200 | 26 | A | Ct upper extremity w/o dye | 1.09 | 0.35 | 0.36 | 0.35 | 0.36 | 0.05 | 1.49 | 1.50 | 1.49 | 1.50 | XXX
73200 | TC | A | Ct upper extremity w/o dye | 0.00 | 6.10 | 5.25 | NA | NA | 0.25 | 6.35 | 5.50 | NA | NA | XXX
73201 |  | A | Ct upper extremity w/dye | 1.16 | 7.97 | 6.71 | NA | NA | 0.36 | 9.49 | 8.23 | NA | NA | XXX
73201 | 26 | A | Ct upper extremity w/dye | 1.16 | 0.37 | 0.38 | 0.37 | 0.38 | 0.05 | 1.58 | 1.59 | 1.58 | 1.59 | XXX
73201 | TC | A | Ct upper extremity w/dye | 0.00 | 7.60 | 6.33 | NA | NA | 0.31 | 7.91 | 6.64 | NA | NA | XXX
73202 |  | A | Ct uppr extremity w/o&w/dye | 1.22 | 10.74 | 8.55 | NA | NA | 0.44 | 12.40 | 10.21 | NA | NA | XXX
73202 | 26 | A | Ct uppr extremity w/o&w/dye | 1.22 | 0.39 | 0.40 | 0.39 | 0.40 | 0.05 | 1.66 | 1.67 | 1.66 | 1.67 | XXX
73202 | TC | A | Ct uppr extremity w/o&w/dye | 0.00 | 10.35 | 8.15 | NA | NA | 0.39 | 10.74 | 8.54 | NA | NA | XXX
73206 |  | A | Ct angio upr extrm w/o&w/dye | 1.81 | 10.85 | 11.38 | NA | NA | 0.47 | 13.13 | 13.66 | NA | NA | XXX
73206 | 26 | A | Ct angio upr extrm w/o&w/dye | 1.81 | 0.60 | 0.59 | 0.60 | 0.59 | 0.08 | 2.49 | 2.48 | 2.49 | 2.48 | XXX
73206 | TC | A | Ct angio upr extrm w/o&w/dye | 0.00 | 10.25 | 10.78 | NA | NA | 0.39 | 10.64 | 11.17 | NA | NA | XXX
73218 |  | A | Mri upper extremity w/o dye | 1.35 | 15.03 | 12.49 | NA | NA | 0.45 | 16.83 | 14.29 | NA | NA | XXX
73218 | 26 | A | Mri upper extremity w/o dye | 1.35 | 0.45 | 0.44 | 0.45 | 0.44 | 0.06 | 1.86 | 1.85 | 1.86 | 1.85 | XXX
73218 | TC | A | Mri upper extremity w/o dye | 0.00 | 14.58 | 12.05 | NA | NA | 0.39 | 14.97 | 12.44 | NA | NA | XXX
73219 |  | A | Mri upper extremity w/dye | 1.62 | 15.68 | 14.41 | NA | NA | 0.54 | 17.84 | 16.57 | NA | NA | XXX
73219 | 26 | A | Mri upper extremity w/dye | 1.62 | 0.53 | 0.54 | 0.53 | 0.54 | 0.07 | 2.22 | 2.23 | 2.22 | 2.23 | XXX
73219 | TC | A | Mri upper extremity w/dye | 0.00 | 15.15 | 13.87 | NA | NA | 0.47 | 15.62 | 14.34 | NA | NA | XXX
73220 |  | A | Mri uppr extremity w/o&w/dye | 2.15 | 19.37 | 24.04 | NA | NA | 0.94 | 22.46 | 27.13 | NA | NA | XXX
73220 | 26 | A | Mri uppr extremity w/o&w/dye | 2.15 | 0.70 | 0.71 | 0.70 | 0.71 | 0.10 | 2.95 | 2.96 | 2.95 | 2.96 | XXX
73220 | TC | A | Mri uppr extremity w/o&w/dye | 0.00 | 18.67 | 23.33 | NA | NA | 0.84 | 19.51 | 24.17 | NA | NA | XXX
73221 |  | A | Mri joint upr extrem w/o dye | 1.35 | 13.95 | 12.22 | NA | NA | 0.45 | 15.75 | 14.02 | NA | NA | XXX
73221 | 26 | A | Mri joint upr extrem w/o dye | 1.35 | 0.46 | 0.45 | 0.46 | 0.45 | 0.06 | 1.87 | 1.86 | 1.87 | 1.86 | XXX
73221 | TC | A | Mri joint upr extrem w/o dye | 0.00 | 13.49 | 11.77 | NA | NA | 0.39 | 13.88 | 12.16 | NA | NA | XXX
73222 |  | A | Mri joint upr extrem w/dye | 1.62 | 14.71 | 14.16 | NA | NA | 0.54 | 16.87 | 16.32 | NA | NA | XXX
73222 | 26 | A | Mri joint upr extrem w/dye | 1.62 | 0.55 | 0.54 | 0.55 | 0.54 | 0.07 | 2.24 | 2.23 | 2.24 | 2.23 | XXX
73222 | TC | A | Mri joint upr extrem w/dye | 0.00 | 14.16 | 13.62 | NA | NA | 0.47 | 14.63 | 14.09 | NA | NA | XXX
73223 |  | A | Mri joint upr extr w/o&w/dye | 2.15 | 18.04 | 23.70 | NA | NA | 0.94 | 21.13 | 26.79 | NA | NA | XXX
73223 | 26 | A | Mri joint upr extr w/o&w/dye | 2.15 | 0.71 | 0.71 | 0.71 | 0.71 | 0.10 | 2.96 | 2.96 | 2.96 | 2.96 | XXX
73223 | TC | A | Mri joint upr extr w/o&w/dye | 0.00 | 17.33 | 22.99 | NA | NA | 0.84 | 18.17 | 23.83 | NA | NA | XXX
73225 |  | N | Mr angio upr extr w/o&w/dye | 1.73 | 14.77 | 12.45 | NA | NA | 0.69 | 17.19 | 14.87 | NA | NA | XXX
73225 | 26 | N | Mr angio upr extr w/o&w/dye | 1.73 | 0.40 | 0.60 | 0.40 | 0.60 | 0.10 | 2.23 | 2.43 | 2.23 | 2.43 | XXX
73225 | TC | N | Mr angio upr extr w/o&w/dye | 0.00 | 14.37 | 11.85 | NA | NA | 0.59 | 14.96 | 12.44 | NA | NA | XXX
73500 |  | A | X-ray exam of hip | 0.17 | 0.49 | 0.52 | NA | NA | 0.03 | 0.69 | 0.72 | NA | NA | XXX
73500 | 26 | A | X-ray exam of hip | 0.17 | 0.06 | 0.06 | 0.06 | 0.06 | 0.01 | 0.24 | 0.24 | 0.24 | 0.24 | XXX
73500 | TC | A | X-ray exam of hip | 0.00 | 0.43 | 0.46 | NA | NA | 0.02 | 0.45 | 0.48 | NA | NA | XXX
73510 |  | A | X-ray exam of hip | 0.21 | 0.78 | 0.68 | NA | NA | 0.05 | 1.04 | 0.94 | NA | NA | XXX
73510 | 26 | A | X-ray exam of hip | 0.21 | 0.07 | 0.07 | 0.07 | 0.07 | 0.01 | 0.29 | 0.29 | 0.29 | 0.29 | XXX
73510 | TC | A | X-ray exam of hip | 0.00 | 0.71 | 0.61 | NA | NA | 0.04 | 0.75 | 0.65 | NA | NA | XXX
73520 |  | A | X-ray exam of hips | 0.26 | 0.79 | 0.77 | NA | NA | 0.05 | 1.10 | 1.08 | NA | NA | XXX
73520 | 26 | A | X-ray exam of hips | 0.26 | 0.08 | 0.09 | 0.08 | 0.09 | 0.01 | 0.35 | 0.36 | 0.35 | 0.36 | XXX
73520 | TC | A | X-ray exam of hips | 0.00 | 0.71 | 0.68 | NA | NA | 0.04 | 0.75 | 0.72 | NA | NA | XXX
73525 |  | A | Contrast x-ray of hip | 0.54 | 1.79 | 2.16 | NA | NA | 0.15 | 2.48 | 2.85 | NA | NA | XXX
73525 | 26 | A | Contrast x-ray of hip | 0.54 | 0.17 | 0.18 | 0.17 | 0.18 | 0.03 | 0.74 | 0.75 | 0.74 | 0.75 | XXX
73525 | TC | A | Contrast x-ray of hip | 0.00 | 1.62 | 1.98 | NA | NA | 0.12 | 1.74 | 2.10 | NA | NA | XXX
73530 |  | A | X-ray exam of hip | 0.29 | NA | NA | NA | NA | 0.03 | NA | NA | NA | NA | XXX
73530 | 26 | A | X-ray exam of hip | 0.29 | 0.09 | 0.10 | 0.09 | 0.10 | 0.01 | 0.39 | 0.40 | 0.39 | 0.40 | XXX
73530 | TC | A | X-ray exam of hip | 0.00 | NA | NA | NA | NA | 0.02 | NA | NA | NA | NA | XXX
73540 |  | A | X-ray exam of pelvis & hips | 0.20 | 0.80 | 0.68 | NA | NA | 0.05 | 1.05 | 0.93 | NA | NA | XXX
73540 | 26 | A | X-ray exam of pelvis & hips | 0.20 | 0.07 | 0.07 | 0.07 | 0.07 | 0.01 | 0.28 | 0.28 | 0.28 | 0.28 | XXX
73540 | TC | A | X-ray exam of pelvis & hips | 0.00 | 0.73 | 0.61 | NA | NA | 0.04 | 0.77 | 0.65 | NA | NA | XXX
73542 |  | A | X-ray exam, sacroiliac joint | 0.59 | 1.12 | 1.98 | NA | NA | 0.15 | 1.86 | 2.72 | NA | NA | XXX
73542 | 26 | A | X-ray exam, sacroiliac joint | 0.59 | 0.14 | 0.16 | 0.14 | 0.16 | 0.03 | 0.76 | 0.78 | 0.76 | 0.78 | XXX
73542 | TC | A | X-ray exam, sacroiliac joint | 0.00 | 0.98 | 1.82 | NA | NA | 0.12 | 1.10 | 1.94 | NA | NA | XXX
73550 |  | A | X-ray exam of thigh | 0.17 | 0.54 | 0.61 | NA | NA | 0.05 | 0.76 | 0.83 | NA | NA | XXX
73550 | 26 | A | X-ray exam of thigh | 0.17 | 0.05 | 0.06 | 0.05 | 0.06 | 0.01 | 0.23 | 0.24 | 0.23 | 0.24 | XXX
73550 | TC | A | X-ray exam of thigh | 0.00 | 0.49 | 0.55 | NA | NA | 0.04 | 0.53 | 0.59 | NA | NA | XXX
73560 |  | A | X-ray exam of knee, 1 or 2 | 0.17 | 0.59 | 0.58 | NA | NA | 0.03 | 0.79 | 0.78 | NA | NA | XXX
73560 | 26 | A | X-ray exam of knee, 1 or 2 | 0.17 | 0.06 | 0.06 | 0.06 | 0.06 | 0.01 | 0.24 | 0.24 | 0.24 | 0.24 | XXX
73560 | TC | A | X-ray exam of knee, 1 or 2 | 0.00 | 0.53 | 0.52 | NA | NA | 0.02 | 0.55 | 0.54 | NA | NA | XXX
73562 |  | A | X-ray exam of knee, 3 | 0.18 | 0.73 | 0.66 | NA | NA | 0.05 | 0.96 | 0.89 | NA | NA | XXX
73562 | 26 | A | X-ray exam of knee, 3 | 0.18 | 0.06 | 0.06 | 0.06 | 0.06 | 0.01 | 0.25 | 0.25 | 0.25 | 0.25 | XXX
73562 | TC | A | X-ray exam of knee, 3 | 0.00 | 0.67 | 0.60 | NA | NA | 0.04 | 0.71 | 0.64 | NA | NA | XXX
73564 |  | A | X-ray exam, knee, 4 or more | 0.22 | 0.87 | 0.74 | NA | NA | 0.05 | 1.14 | 1.01 | NA | NA | XXX
73564 | 26 | A | X-ray exam, knee, 4 or more | 0.22 | 0.08 | 0.07 | 0.08 | 0.07 | 0.01 | 0.31 | 0.30 | 0.31 | 0.30 | XXX
73564 | TC | A | X-ray exam, knee, 4 or more | 0.00 | 0.79 | 0.66 | NA | NA | 0.04 | 0.83 | 0.70 | NA | NA | XXX
73565 |  | A | X-ray exam of knees | 0.17 | 0.65 | 0.58 | NA | NA | 0.03 | 0.85 | 0.78 | NA | NA | XXX
73565 | 26 | A | X-ray exam of knees | 0.17 | 0.06 | 0.06 | 0.06 | 0.06 | 0.01 | 0.24 | 0.24 | 0.24 | 0.24 | XXX
73565 | TC | A | X-ray exam of knees | 0.00 | 0.59 | 0.52 | NA | NA | 0.02 | 0.61 | 0.54 | NA | NA | XXX
73580 |  | A | Contrast x-ray of knee joint | 0.54 | 2.40 | 2.69 | NA | NA | 0.17 | 3.11 | 3.40 | NA | NA | XXX
73580 | 26 | A | Contrast x-ray of knee joint | 0.54 | 0.18 | 0.17 | 0.18 | 0.17 | 0.03 | 0.75 | 0.74 | 0.75 | 0.74 | XXX
73580 | TC | A | Contrast x-ray of knee joint | 0.00 | 2.22 | 2.52 | NA | NA | 0.14 | 2.36 | 2.66 | NA | NA | XXX
73590 |  | A | X-ray exam of lower leg | 0.17 | 0.54 | 0.57 | NA | NA | 0.03 | 0.74 | 0.77 | NA | NA | XXX
73590 | 26 | A | X-ray exam of lower leg | 0.17 | 0.05 | 0.06 | 0.05 | 0.06 | 0.01 | 0.23 | 0.24 | 0.23 | 0.24 | XXX
73590 | TC | A | X-ray exam of lower leg | 0.00 | 0.49 | 0.51 | NA | NA | 0.02 | 0.51 | 0.53 | NA | NA | XXX
73592 |  | A | X-ray exam of leg, infant | 0.16 | 0.60 | 0.56 | NA | NA | 0.03 | 0.79 | 0.75 | NA | NA | XXX
73592 | 26 | A | X-ray exam of leg, infant | 0.16 | 0.05 | 0.05 | 0.05 | 0.05 | 0.01 | 0.22 | 0.22 | 0.22 | 0.22 | XXX
73592 | TC | A | X-ray exam of leg, infant | 0.00 | 0.55 | 0.51 | NA | NA | 0.02 | 0.57 | 0.53 | NA | NA | XXX
73600 |  | A | X-ray exam of ankle | 0.16 | 0.57 | 0.55 | NA | NA | 0.03 | 0.76 | 0.74 | NA | NA | XXX
73600 | 26 | A | X-ray exam of ankle | 0.16 | 0.05 | 0.05 | 0.05 | 0.05 | 0.01 | 0.22 | 0.22 | 0.22 | 0.22 | XXX
73600 | TC | A | X-ray exam of ankle | 0.00 | 0.51 | 0.50 | NA | NA | 0.02 | 0.53 | 0.52 | NA | NA | XXX
73610 |  | A | X-ray exam of ankle | 0.17 | 0.67 | 0.61 | NA | NA | 0.03 | 0.87 | 0.81 | NA | NA | XXX
73610 | 26 | A | X-ray exam of ankle | 0.17 | 0.05 | 0.06 | 0.05 | 0.06 | 0.01 | 0.23 | 0.24 | 0.23 | 0.24 | XXX
73610 | TC | A | X-ray exam of ankle | 0.00 | 0.62 | 0.55 | NA | NA | 0.02 | 0.64 | 0.57 | NA | NA | XXX
73615 |  | A | Contrast x-ray of ankle | 0.54 | 1.89 | 2.18 | NA | NA | 0.15 | 2.58 | 2.87 | NA | NA | XXX
73615 | 26 | A | Contrast x-ray of ankle | 0.54 | 0.17 | 0.18 | 0.17 | 0.18 | 0.03 | 0.74 | 0.75 | 0.74 | 0.75 | XXX
73615 | TC | A | Contrast x-ray of ankle | 0.00 | 1.72 | 2.01 | NA | NA | 0.12 | 1.84 | 2.13 | NA | NA | XXX
73620 |  | A | X-ray exam of foot | 0.16 | 0.53 | 0.54 | NA | NA | 0.03 | 0.72 | 0.73 | NA | NA | XXX
73620 | 26 | A | X-ray exam of foot | 0.16 | 0.04 | 0.05 | 0.04 | 0.05 | 0.01 | 0.21 | 0.22 | 0.21 | 0.22 | XXX
73620 | TC | A | X-ray exam of foot | 0.00 | 0.49 | 0.49 | NA | NA | 0.02 | 0.51 | 0.51 | NA | NA | XXX
73630 |  | A | X-ray exam of foot | 0.17 | 0.66 | 0.61 | NA | NA | 0.03 | 0.86 | 0.81 | NA | NA | XXX
73630 | 26 | A | X-ray exam of foot | 0.17 | 0.05 | 0.06 | 0.05 | 0.06 | 0.01 | 0.23 | 0.24 | 0.23 | 0.24 | XXX
73630 | TC | A | X-ray exam of foot | 0.00 | 0.60 | 0.55 | NA | NA | 0.02 | 0.62 | 0.57 | NA | NA | XXX
73650 |  | A | X-ray exam of heel | 0.16 | 0.56 | 0.53 | NA | NA | 0.03 | 0.75 | 0.72 | NA | NA | XXX
73650 | 26 | A | X-ray exam of heel | 0.16 | 0.05 | 0.05 | 0.05 | 0.05 | 0.01 | 0.22 | 0.22 | 0.22 | 0.22 | XXX
73650 | TC | A | X-ray exam of heel | 0.00 | 0.51 | 0.48 | NA | NA | 0.02 | 0.53 | 0.50 | NA | NA | XXX
73660 |  | A | X-ray exam of toe(s) | 0.13 | 0.64 | 0.51 | NA | NA | 0.03 | 0.80 | 0.67 | NA | NA | XXX
73660 | 26 | A | X-ray exam of toe(s) | 0.13 | 0.04 | 0.04 | 0.04 | 0.04 | 0.01 | 0.18 | 0.18 | 0.18 | 0.18 | XXX
73660 | TC | A | X-ray exam of toe(s) | 0.00 | 0.60 | 0.47 | NA | NA | 0.02 | 0.62 | 0.49 | NA | NA | XXX
73700 |  | A | Ct lower extremity w/o dye | 1.09 | 6.44 | 5.59 | NA | NA | 0.30 | 7.83 | 6.98 | NA | NA | XXX
73700 | 26 | A | Ct lower extremity w/o dye | 1.09 | 0.35 | 0.36 | 0.35 | 0.36 | 0.05 | 1.49 | 1.50 | 1.49 | 1.50 | XXX
73700 | TC | A | Ct lower extremity w/o dye | 0.00 | 6.09 | 5.24 | NA | NA | 0.25 | 6.34 | 5.49 | NA | NA | XXX
73701 |  | A | Ct lower extremity w/dye | 1.16 | 7.95 | 6.71 | NA | NA | 0.36 | 9.47 | 8.23 | NA | NA | XXX
73701 | 26 | A | Ct lower extremity w/dye | 1.16 | 0.36 | 0.38 | 0.36 | 0.38 | 0.05 | 1.57 | 1.59 | 1.57 | 1.59 | XXX
73701 | TC | A | Ct lower extremity w/dye | 0.00 | 7.59 | 6.33 | NA | NA | 0.31 | 7.90 | 6.64 | NA | NA | XXX
73702 |  | A | Ct lwr extremity w/o&w/dye | 1.22 | 10.81 | 8.57 | NA | NA | 0.44 | 12.47 | 10.23 | NA | NA | XXX
73702 | 26 | A | Ct lwr extremity w/o&w/dye | 1.22 | 0.40 | 0.40 | 0.40 | 0.40 | 0.05 | 1.67 | 1.67 | 1.67 | 1.67 | XXX
73702 | TC | A | Ct lwr extremity w/o&w/dye | 0.00 | 10.41 | 8.17 | NA | NA | 0.39 | 10.80 | 8.56 | NA | NA | XXX
73706 |  | A | Ct angio lwr extr w/o&w/dye | 1.90 | 12.39 | 11.78 | NA | NA | 0.47 | 14.76 | 14.15 | NA | NA | XXX
73706 | 26 | A | Ct angio lwr extr w/o&w/dye | 1.90 | 0.66 | 0.63 | 0.66 | 0.63 | 0.08 | 2.64 | 2.61 | 2.64 | 2.61 | XXX
73706 | TC | A | Ct angio lwr extr w/o&w/dye | 0.00 | 11.73 | 11.15 | NA | NA | 0.39 | 12.12 | 11.54 | NA | NA | XXX
73718 |  | A | Mri lower extremity w/o dye | 1.35 | 14.74 | 12.42 | NA | NA | 0.45 | 16.54 | 14.22 | NA | NA | XXX
73718 | 26 | A | Mri lower extremity w/o dye | 1.35 | 0.46 | 0.45 | 0.46 | 0.45 | 0.06 | 1.87 | 1.86 | 1.87 | 1.86 | XXX
73718 | TC | A | Mri lower extremity w/o dye | 0.00 | 14.28 | 11.97 | NA | NA | 0.39 | 14.67 | 12.36 | NA | NA | XXX
73719 |  | A | Mri lower extremity w/dye | 1.62 | 15.59 | 14.38 | NA | NA | 0.54 | 17.75 | 16.54 | NA | NA | XXX
73719 | 26 | A | Mri lower extremity w/dye | 1.62 | 0.52 | 0.53 | 0.52 | 0.53 | 0.07 | 2.21 | 2.22 | 2.21 | 2.22 | XXX
73719 | TC | A | Mri lower extremity w/dye | 0.00 | 15.07 | 13.85 | NA | NA | 0.47 | 15.54 | 14.32 | NA | NA | XXX
73720 |  | A | Mri lwr extremity w/o&w/dye | 2.15 | 19.28 | 24.01 | NA | NA | 0.94 | 22.37 | 27.10 | NA | NA | XXX
73720 | 26 | A | Mri lwr extremity w/o&w/dye | 2.15 | 0.69 | 0.70 | 0.69 | 0.70 | 0.10 | 2.94 | 2.95 | 2.94 | 2.95 | XXX
73720 | TC | A | Mri lwr extremity w/o&w/dye | 0.00 | 18.59 | 23.31 | NA | NA | 0.84 | 19.43 | 24.15 | NA | NA | XXX
73721 |  | A | Mri jnt of lwr extre w/o dye | 1.35 | 14.27 | 12.30 | NA | NA | 0.45 | 16.07 | 14.10 | NA | NA | XXX
73721 | 26 | A | Mri jnt of lwr extre w/o dye | 1.35 | 0.46 | 0.45 | 0.46 | 0.45 | 0.06 | 1.87 | 1.86 | 1.87 | 1.86 | XXX
73721 | TC | A | Mri jnt of lwr extre w/o dye | 0.00 | 13.81 | 11.85 | NA | NA | 0.39 | 14.20 | 12.24 | NA | NA | XXX
73722 |  | A | Mri joint of lwr extr w/dye | 1.62 | 14.86 | 14.19 | NA | NA | 0.54 | 17.02 | 16.35 | NA | NA | XXX
73722 | 26 | A | Mri joint of lwr extr w/dye | 1.62 | 0.54 | 0.53 | 0.54 | 0.53 | 0.07 | 2.23 | 2.22 | 2.23 | 2.22 | XXX
73722 | TC | A | Mri joint of lwr extr w/dye | 0.00 | 14.32 | 13.66 | NA | NA | 0.47 | 14.79 | 14.13 | NA | NA | XXX
73723 |  | A | Mri joint lwr extr w/o&w/dye | 2.15 | 17.91 | 23.67 | NA | NA | 0.94 | 21.00 | 26.76 | NA | NA | XXX
73723 | 26 | A | Mri joint lwr extr w/o&w/dye | 2.15 | 0.70 | 0.71 | 0.70 | 0.71 | 0.10 | 2.95 | 2.96 | 2.95 | 2.96 | XXX
73723 | TC | A | Mri joint lwr extr w/o&w/dye | 0.00 | 17.21 | 22.96 | NA | NA | 0.84 | 18.05 | 23.80 | NA | NA | XXX
73725 |  | R | Mr ang lwr ext w or w/o dye | 1.82 | 15.34 | 12.69 | NA | NA | 0.67 | 17.83 | 15.18 | NA | NA | XXX
73725 | 26 | R | Mr ang lwr ext w or w/o dye | 1.82 | 0.60 | 0.60 | 0.60 | 0.60 | 0.08 | 2.50 | 2.50 | 2.50 | 2.50 | XXX
73725 | TC | R | Mr ang lwr ext w or w/o dye | 0.00 | 14.75 | 12.09 | NA | NA | 0.59 | 15.34 | 12.68 | NA | NA | XXX
74000 |  | A | X-ray exam of abdomen | 0.18 | 0.46 | 0.55 | NA | NA | 0.03 | 0.67 | 0.76 | NA | NA | XXX
74000 | 26 | A | X-ray exam of abdomen | 0.18 | 0.05 | 0.06 | 0.05 | 0.06 | 0.01 | 0.24 | 0.25 | 0.24 | 0.25 | XXX
74000 | TC | A | X-ray exam of abdomen | 0.00 | 0.40 | 0.49 | NA | NA | 0.02 | 0.42 | 0.51 | NA | NA | XXX
74010 |  | A | X-ray exam of abdomen | 0.23 | 0.79 | 0.69 | NA | NA | 0.05 | 1.07 | 0.97 | NA | NA | XXX
74010 | 26 | A | X-ray exam of abdomen | 0.23 | 0.07 | 0.08 | 0.07 | 0.08 | 0.01 | 0.31 | 0.32 | 0.31 | 0.32 | XXX
74010 | TC | A | X-ray exam of abdomen | 0.00 | 0.72 | 0.61 | NA | NA | 0.04 | 0.76 | 0.65 | NA | NA | XXX
74020 |  | A | X-ray exam of abdomen | 0.27 | 0.80 | 0.73 | NA | NA | 0.05 | 1.12 | 1.05 | NA | NA | XXX
74020 | 26 | A | X-ray exam of abdomen | 0.27 | 0.08 | 0.09 | 0.08 | 0.09 | 0.01 | 0.36 | 0.37 | 0.36 | 0.37 | XXX
74020 | TC | A | X-ray exam of abdomen | 0.00 | 0.71 | 0.64 | NA | NA | 0.04 | 0.75 | 0.68 | NA | NA | XXX
74022 |  | A | X-ray exam series, abdomen | 0.32 | 0.97 | 0.87 | NA | NA | 0.06 | 1.35 | 1.25 | NA | NA | XXX
74022 | 26 | A | X-ray exam series, abdomen | 0.32 | 0.10 | 0.10 | 0.10 | 0.10 | 0.01 | 0.43 | 0.43 | 0.43 | 0.43 | XXX
74022 | TC | A | X-ray exam series, abdomen | 0.00 | 0.87 | 0.77 | NA | NA | 0.05 | 0.92 | 0.82 | NA | NA | XXX
74150 |  | A | Ct abdomen w/o dye | 1.19 | 6.06 | 6.05 | NA | NA | 0.35 | 7.60 | 7.59 | NA | NA | XXX
74150 | 26 | A | Ct abdomen w/o dye | 1.19 | 0.38 | 0.39 | 0.38 | 0.39 | 0.05 | 1.62 | 1.63 | 1.62 | 1.63 | XXX
74150 | TC | A | Ct abdomen w/o dye | 0.00 | 5.68 | 5.67 | NA | NA | 0.30 | 5.98 | 5.97 | NA | NA | XXX
74160 |  | A | Ct abdomen w/dye | 1.27 | 8.83 | 7.65 | NA | NA | 0.42 | 10.52 | 9.34 | NA | NA | XXX
74160 | 26 | A | Ct abdomen w/dye | 1.27 | 0.40 | 0.42 | 0.40 | 0.42 | 0.06 | 1.73 | 1.75 | 1.73 | 1.75 | XXX
74160 | TC | A | Ct abdomen w/dye | 0.00 | 8.43 | 7.24 | NA | NA | 0.36 | 8.79 | 7.60 | NA | NA | XXX
74170 |  | A | Ct abdomen w/o & w/dye | 1.40 | 12.27 | 9.77 | NA | NA | 0.49 | 14.16 | 11.66 | NA | NA | XXX
74170 | 26 | A | Ct abdomen w/o & w/dye | 1.40 | 0.45 | 0.46 | 0.45 | 0.46 | 0.06 | 1.91 | 1.92 | 1.91 | 1.92 | XXX
74170 | TC | A | Ct abdomen w/o & w/dye | 0.00 | 11.82 | 9.32 | NA | NA | 0.43 | 12.25 | 9.75 | NA | NA | XXX
74175 |  | A | Ct angio abdom w/o & w/dye | 1.90 | 12.34 | 12.57 | NA | NA | 0.47 | 14.71 | 14.94 | NA | NA | XXX
74175 | 26 | A | Ct angio abdom w/o & w/dye | 1.90 | 0.63 | 0.62 | 0.63 | 0.62 | 0.08 | 2.61 | 2.60 | 2.61 | 2.60 | XXX
74175 | TC | A | Ct angio abdom w/o & w/dye | 0.00 | 11.71 | 11.95 | NA | NA | 0.39 | 12.10 | 12.34 | NA | NA | XXX
74181 |  | A | Mri abdomen w/o dye | 1.46 | 12.60 | 11.91 | NA | NA | 0.51 | 14.57 | 13.88 | NA | NA | XXX
74181 | 26 | A | Mri abdomen w/o dye | 1.46 | 0.47 | 0.48 | 0.47 | 0.48 | 0.06 | 1.99 | 2.00 | 1.99 | 2.00 | XXX
74181 | TC | A | Mri abdomen w/o dye | 0.00 | 12.13 | 11.43 | NA | NA | 0.45 | 12.58 | 11.88 | NA | NA | XXX
74182 |  | A | Mri abdomen w/dye | 1.73 | 17.59 | 14.91 | NA | NA | 0.60 | 19.92 | 17.24 | NA | NA | XXX
74182 | 26 | A | Mri abdomen w/dye | 1.73 | 0.55 | 0.57 | 0.55 | 0.57 | 0.08 | 2.36 | 2.38 | 2.36 | 2.38 | XXX
74182 | TC | A | Mri abdomen w/dye | 0.00 | 17.04 | 14.34 | NA | NA | 0.52 | 17.56 | 14.86 | NA | NA | XXX
74183 |  | A | Mri abdomen w/o & w/dye | 2.26 | 19.27 | 24.03 | NA | NA | 1.02 | 22.55 | 27.31 | NA | NA | XXX
74183 | 26 | A | Mri abdomen w/o & w/dye | 2.26 | 0.73 | 0.74 | 0.73 | 0.74 | 0.10 | 3.09 | 3.10 | 3.09 | 3.10 | XXX
74183 | TC | A | Mri abdomen w/o & w/dye | 0.00 | 18.54 | 23.30 | NA | NA | 0.92 | 19.46 | 24.22 | NA | NA | XXX
74185 |  | R | Mri angio, abdom w orw/o dye | 1.80 | 15.31 | 12.67 | NA | NA | 0.67 | 17.78 | 15.14 | NA | NA | XXX
74185 | 26 | R | Mri angio, abdom w orw/o dye | 1.80 | 0.59 | 0.59 | 0.59 | 0.59 | 0.08 | 2.47 | 2.47 | 2.47 | 2.47 | XXX
74185 | TC | R | Mri angio, abdom w orw/o dye | 0.00 | 14.72 | 12.08 | NA | NA | 0.59 | 15.31 | 12.67 | NA | NA | XXX
74190 |  | A | X-ray exam of peritoneum | 0.48 | NA | NA | NA | NA | 0.09 | NA | NA | NA | NA | XXX
74190 | 26 | A | X-ray exam of peritoneum | 0.48 | 0.15 | 0.16 | 0.15 | 0.16 | 0.02 | 0.65 | 0.66 | 0.65 | 0.66 | XXX
74190 | TC | A | X-ray exam of peritoneum | 0.00 | NA | NA | NA | NA | 0.07 | NA | NA | NA | NA | XXX
74210 |  | A | Contrst x-ray exam of throat | 0.36 | 1.76 | 1.42 | NA | NA | 0.08 | 2.20 | 1.86 | NA | NA | XXX
74210 | 26 | A | Contrst x-ray exam of throat | 0.36 | 0.11 | 0.12 | 0.11 | 0.12 | 0.02 | 0.49 | 0.50 | 0.49 | 0.50 | XXX
74210 | TC | A | Contrst x-ray exam of throat | 0.00 | 1.65 | 1.31 | NA | NA | 0.06 | 1.71 | 1.37 | NA | NA | XXX
74220 |  | A | Contrast x-ray, esophagus | 0.46 | 2.01 | 1.51 | NA | NA | 0.08 | 2.55 | 2.05 | NA | NA | XXX
74220 | 26 | A | Contrast x-ray, esophagus | 0.46 | 0.14 | 0.15 | 0.14 | 0.15 | 0.02 | 0.62 | 0.63 | 0.62 | 0.63 | XXX
74220 | TC | A | Contrast x-ray, esophagus | 0.00 | 1.87 | 1.36 | NA | NA | 0.06 | 1.93 | 1.42 | NA | NA | XXX
74230 |  | A | Cine/vid x-ray, throat/esoph | 0.53 | 1.93 | 1.59 | NA | NA | 0.09 | 2.55 | 2.21 | NA | NA | XXX
74230 | 26 | A | Cine/vid x-ray, throat/esoph | 0.53 | 0.17 | 0.17 | 0.17 | 0.17 | 0.02 | 0.72 | 0.72 | 0.72 | 0.72 | XXX
74230 | TC | A | Cine/vid x-ray, throat/esoph | 0.00 | 1.76 | 1.42 | NA | NA | 0.07 | 1.83 | 1.49 | NA | NA | XXX
74235 |  | C | Remove esophagus obstruction | 0.00 | 0.00 | 0.00 | 0.00 | 0.00 | 0.00 | 0.00 | 0.00 | 0.00 | 0.00 | XXX
74235 | 26 | A | Remove esophagus obstruction | 1.19 | 0.40 | 0.39 | 0.40 | 0.39 | 0.05 | 1.64 | 1.63 | 1.64 | 1.63 | XXX
74235 | TC | C | Remove esophagus obstruction | 0.00 | 0.00 | 0.00 | 0.00 | 0.00 | 0.00 | 0.00 | 0.00 | 0.00 | 0.00 | XXX
74240 |  | A | X-ray exam, upper gi tract | 0.69 | 2.28 | 1.84 | NA | NA | 0.11 | 3.08 | 2.64 | NA | NA | XXX
74240 | 26 | A | X-ray exam, upper gi tract | 0.69 | 0.22 | 0.23 | 0.22 | 0.23 | 0.03 | 0.94 | 0.95 | 0.94 | 0.95 | XXX
74240 | TC | A | X-ray exam, upper gi tract | 0.00 | 2.07 | 1.61 | NA | NA | 0.08 | 2.15 | 1.69 | NA | NA | XXX
74241 |  | A | X-ray exam, upper gi tract | 0.69 | 2.55 | 1.93 | NA | NA | 0.11 | 3.35 | 2.73 | NA | NA | XXX
74241 | 26 | A | X-ray exam, upper gi tract | 0.69 | 0.21 | 0.23 | 0.21 | 0.23 | 0.03 | 0.93 | 0.95 | 0.93 | 0.95 | XXX
74241 | TC | A | X-ray exam, upper gi tract | 0.00 | 2.34 | 1.70 | NA | NA | 0.08 | 2.42 | 1.78 | NA | NA | XXX
74245 |  | A | X-ray exam, upper gi tract | 0.91 | 3.94 | 3.00 | NA | NA | 0.17 | 5.02 | 4.08 | NA | NA | XXX
74245 | 26 | A | X-ray exam, upper gi tract | 0.91 | 0.29 | 0.30 | 0.29 | 0.30 | 0.04 | 1.24 | 1.25 | 1.24 | 1.25 | XXX
74245 | TC | A | X-ray exam, upper gi tract | 0.00 | 3.65 | 2.70 | NA | NA | 0.13 | 3.78 | 2.83 | NA | NA | XXX
74246 |  | A | Contrst x-ray uppr gi tract | 0.69 | 2.78 | 2.09 | NA | NA | 0.13 | 3.60 | 2.91 | NA | NA | XXX
74246 | 26 | A | Contrst x-ray uppr gi tract | 0.69 | 0.22 | 0.23 | 0.22 | 0.23 | 0.03 | 0.94 | 0.95 | 0.94 | 0.95 | XXX
74246 | TC | A | Contrst x-ray uppr gi tract | 0.00 | 2.57 | 1.87 | NA | NA | 0.10 | 2.67 | 1.97 | NA | NA | XXX
74247 |  | A | Contrst x-ray uppr gi tract | 0.69 | 3.21 | 2.23 | NA | NA | 0.14 | 4.04 | 3.06 | NA | NA | XXX
74247 | 26 | A | Contrst x-ray uppr gi tract | 0.69 | 0.22 | 0.23 | 0.22 | 0.23 | 0.03 | 0.94 | 0.95 | 0.94 | 0.95 | XXX
74247 | TC | A | Contrst x-ray uppr gi tract | 0.00 | 2.99 | 2.01 | NA | NA | 0.11 | 3.10 | 2.12 | NA | NA | XXX
74249 |  | A | Contrst x-ray uppr gi tract | 0.91 | 4.33 | 3.24 | NA | NA | 0.18 | 5.42 | 4.33 | NA | NA | XXX
74249 | 26 | A | Contrst x-ray uppr gi tract | 0.91 | 0.29 | 0.30 | 0.29 | 0.30 | 0.04 | 1.24 | 1.25 | 1.24 | 1.25 | XXX
74249 | TC | A | Contrst x-ray uppr gi tract | 0.00 | 4.05 | 2.94 | NA | NA | 0.14 | 4.19 | 3.08 | NA | NA | XXX
74250 |  | A | X-ray exam of small bowel | 0.47 | 2.48 | 1.72 | NA | NA | 0.09 | 3.04 | 2.28 | NA | NA | XXX
74250 | 26 | A | X-ray exam of small bowel | 0.47 | 0.15 | 0.15 | 0.15 | 0.15 | 0.02 | 0.64 | 0.64 | 0.64 | 0.64 | XXX
74250 | TC | A | X-ray exam of small bowel | 0.00 | 2.33 | 1.57 | NA | NA | 0.07 | 2.40 | 1.64 | NA | NA | XXX
74251 |  | A | X-ray exam of small bowel | 0.69 | 10.01 | 3.66 | NA | NA | 0.10 | 10.80 | 4.45 | NA | NA | XXX
74251 | 26 | A | X-ray exam of small bowel | 0.69 | 0.22 | 0.23 | 0.22 | 0.23 | 0.03 | 0.94 | 0.95 | 0.94 | 0.95 | XXX
74251 | TC | A | X-ray exam of small bowel | 0.00 | 9.80 | 3.43 | NA | NA | 0.07 | 9.87 | 3.50 | NA | NA | XXX
74260 |  | A | X-ray exam of small bowel | 0.50 | 8.32 | 3.32 | NA | NA | 0.10 | 8.92 | 3.92 | NA | NA | XXX
74260 | 26 | A | X-ray exam of small bowel | 0.50 | 0.15 | 0.16 | 0.15 | 0.16 | 0.02 | 0.67 | 0.68 | 0.67 | 0.68 | XXX
74260 | TC | A | X-ray exam of small bowel | 0.00 | 8.17 | 3.16 | NA | NA | 0.08 | 8.25 | 3.24 | NA | NA | XXX
74270 |  | A | Contrast x-ray exam of colon | 0.69 | 3.57 | 2.33 | NA | NA | 0.14 | 4.40 | 3.16 | NA | NA | XXX
74270 | 26 | A | Contrast x-ray exam of colon | 0.69 | 0.22 | 0.23 | 0.22 | 0.23 | 0.03 | 0.94 | 0.95 | 0.94 | 0.95 | XXX
74270 | TC | A | Contrast x-ray exam of colon | 0.00 | 3.35 | 2.11 | NA | NA | 0.11 | 3.46 | 2.22 | NA | NA | XXX
74280 |  | A | Contrast x-ray exam of colon | 0.99 | 4.94 | 3.15 | NA | NA | 0.17 | 6.10 | 4.31 | NA | NA | XXX
74280 | 26 | A | Contrast x-ray exam of colon | 0.99 | 0.31 | 0.32 | 0.31 | 0.32 | 0.04 | 1.34 | 1.35 | 1.34 | 1.35 | XXX
74280 | TC | A | Contrast x-ray exam of colon | 0.00 | 4.63 | 2.83 | NA | NA | 0.13 | 4.76 | 2.96 | NA | NA | XXX
74283 |  | A | Contrast x-ray exam of colon | 2.02 | 3.42 | 3.27 | NA | NA | 0.23 | 5.67 | 5.52 | NA | NA | XXX
74283 | 26 | A | Contrast x-ray exam of colon | 2.02 | 0.61 | 0.65 | 0.61 | 0.65 | 0.09 | 2.72 | 2.76 | 2.72 | 2.76 | XXX
74283 | TC | A | Contrast x-ray exam of colon | 0.00 | 2.80 | 2.62 | NA | NA | 0.14 | 2.94 | 2.76 | NA | NA | XXX
74290 |  | A | Contrast x-ray, gallbladder | 0.32 | 1.56 | 1.01 | NA | NA | 0.06 | 1.94 | 1.39 | NA | NA | XXX
74290 | 26 | A | Contrast x-ray, gallbladder | 0.32 | 0.10 | 0.10 | 0.10 | 0.10 | 0.01 | 0.43 | 0.43 | 0.43 | 0.43 | XXX
74290 | TC | A | Contrast x-ray, gallbladder | 0.00 | 1.46 | 0.91 | NA | NA | 0.05 | 1.51 | 0.96 | NA | NA | XXX
74291 |  | A | Contrast x-rays, gallbladder | 0.20 | 1.60 | 0.77 | NA | NA | 0.03 | 1.83 | 1.00 | NA | NA | XXX
74291 | 26 | A | Contrast x-rays, gallbladder | 0.20 | 0.06 | 0.07 | 0.06 | 0.07 | 0.01 | 0.27 | 0.28 | 0.27 | 0.28 | XXX
74291 | TC | A | Contrast x-rays, gallbladder | 0.00 | 1.54 | 0.70 | NA | NA | 0.02 | 1.56 | 0.72 | NA | NA | XXX
74300 |  | C | X-ray bile ducts/pancreas | 0.00 | 0.00 | 0.00 | 0.00 | 0.00 | 0.00 | 0.00 | 0.00 | 0.00 | 0.00 | XXX
74300 | 26 | A | X-ray bile ducts/pancreas | 0.36 | 0.11 | 0.12 | 0.11 | 0.12 | 0.02 | 0.49 | 0.50 | 0.49 | 0.50 | XXX
74300 | TC | C | X-ray bile ducts/pancreas | 0.00 | 0.00 | 0.00 | 0.00 | 0.00 | 0.00 | 0.00 | 0.00 | 0.00 | 0.00 | XXX
74301 |  | C | X-rays at surgery add-on | 0.00 | 0.00 | 0.00 | 0.00 | 0.00 | 0.00 | 0.00 | 0.00 | 0.00 | 0.00 | ZZZ
74301 | 26 | A | X-rays at surgery add-on | 0.21 | 0.07 | 0.07 | 0.07 | 0.07 | 0.01 | 0.29 | 0.29 | 0.29 | 0.29 | ZZZ
74301 | TC | C | X-rays at surgery add-on | 0.00 | 0.00 | 0.00 | 0.00 | 0.00 | 0.00 | 0.00 | 0.00 | 0.00 | 0.00 | ZZZ
74305 |  | A | X-ray bile ducts/pancreas | 0.42 | NA | NA | NA | NA | 0.07 | NA | NA | NA | NA | XXX
74305 | 26 | A | X-ray bile ducts/pancreas | 0.42 | 0.14 | 0.14 | 0.14 | 0.14 | 0.02 | 0.58 | 0.58 | 0.58 | 0.58 | XXX
74305 | TC | A | X-ray bile ducts/pancreas | 0.00 | NA | NA | NA | NA | 0.05 | NA | NA | NA | NA | XXX
74320 |  | A | Contrast x-ray of bile ducts | 0.54 | 2.13 | 3.03 | NA | NA | 0.19 | 2.86 | 3.76 | NA | NA | XXX
74320 | 26 | A | Contrast x-ray of bile ducts | 0.54 | 0.17 | 0.18 | 0.17 | 0.18 | 0.02 | 0.73 | 0.74 | 0.73 | 0.74 | XXX
74320 | TC | A | Contrast x-ray of bile ducts | 0.00 | 1.95 | 2.85 | NA | NA | 0.17 | 2.12 | 3.02 | NA | NA | XXX
74327 |  | A | X-ray bile stone removal | 0.70 | 2.99 | 2.24 | NA | NA | 0.14 | 3.83 | 3.08 | NA | NA | XXX
74327 | 26 | A | X-ray bile stone removal | 0.70 | 0.23 | 0.23 | 0.23 | 0.23 | 0.03 | 0.96 | 0.96 | 0.96 | 0.96 | XXX
74327 | TC | A | X-ray bile stone removal | 0.00 | 2.76 | 2.01 | NA | NA | 0.11 | 2.87 | 2.12 | NA | NA | XXX
74328 |  | A | X-ray bile duct endoscopy | 0.70 | NA | NA | NA | NA | 0.20 | NA | NA | NA | NA | XXX
74328 | 26 | A | X-ray bile duct endoscopy | 0.70 | 0.23 | 0.23 | 0.23 | 0.23 | 0.03 | 0.96 | 0.96 | 0.96 | 0.96 | XXX
74328 | TC | A | X-ray bile duct endoscopy | 0.00 | NA | NA | NA | NA | 0.17 | NA | NA | NA | NA | XXX
74329 |  | C | X-ray for pancreas endoscopy | 0.00 | 0.00 | 0.00 | 0.00 | 0.00 | 0.00 | 0.00 | 0.00 | 0.00 | 0.00 | XXX
74329 | 26 | A | X-ray for pancreas endoscopy | 0.70 | 0.23 | 0.23 | 0.23 | 0.23 | 0.03 | 0.96 | 0.96 | 0.96 | 0.96 | XXX
74329 | TC | C | X-ray for pancreas endoscopy | 0.00 | 0.00 | 0.00 | 0.00 | 0.00 | 0.00 | 0.00 | 0.00 | 0.00 | 0.00 | XXX
74330 |  | A | X-ray bile/panc endoscopy | 0.90 | NA | NA | NA | NA | 0.21 | NA | NA | NA | NA | XXX
74330 | 26 | A | X-ray bile/panc endoscopy | 0.90 | 0.30 | 0.29 | 0.30 | 0.29 | 0.04 | 1.24 | 1.23 | 1.24 | 1.23 | XXX
74330 | TC | A | X-ray bile/panc endoscopy | 0.00 | NA | NA | NA | NA | 0.17 | NA | NA | NA | NA | XXX
74340 |  | A | X-ray guide for GI tube | 0.54 | NA | NA | NA | NA | 0.16 | NA | NA | NA | NA | XXX
74340 | 26 | A | X-ray guide for GI tube | 0.54 | 0.17 | 0.18 | 0.17 | 0.18 | 0.02 | 0.73 | 0.74 | 0.73 | 0.74 | XXX
74340 | TC | A | X-ray guide for GI tube | 0.00 | NA | NA | NA | NA | 0.14 | NA | NA | NA | NA | XXX
74350 |  | A | X-ray guide, stomach tube | 0.76 | 2.22 | 3.11 | NA | NA | 0.20 | 3.18 | 4.07 | NA | NA | XXX
74350 | 26 | A | X-ray guide, stomach tube | 0.76 | 0.25 | 0.25 | 0.25 | 0.25 | 0.03 | 1.04 | 1.04 | 1.04 | 1.04 | XXX
74350 | TC | A | X-ray guide, stomach tube | 0.00 | 1.97 | 2.86 | NA | NA | 0.17 | 2.14 | 3.03 | NA | NA | XXX
74355 |  | A | X-ray guide, intestinal tube | 0.76 | NA | NA | NA | NA | 0.17 | NA | NA | NA | NA | XXX
74355 | 26 | A | X-ray guide, intestinal tube | 0.76 | 0.25 | 0.25 | 0.25 | 0.25 | 0.03 | 1.04 | 1.04 | 1.04 | 1.04 | XXX
74355 | TC | A | X-ray guide, intestinal tube | 0.00 | NA | NA | NA | NA | 0.14 | NA | NA | NA | NA | XXX
74360 |  | A | X-ray guide, GI dilation | 0.54 | NA | NA | NA | NA | 0.19 | NA | NA | NA | NA | XXX
74360 | 26 | A | X-ray guide, GI dilation | 0.54 | 0.24 | 0.20 | 0.24 | 0.20 | 0.02 | 0.80 | 0.76 | 0.80 | 0.76 | XXX
74360 | TC | A | X-ray guide, GI dilation | 0.00 | NA | NA | NA | NA | 0.17 | NA | NA | NA | NA | XXX
74363 |  | C | X-ray, bile duct dilation | 0.00 | NA | NA | NA | NA | 0.00 | NA | NA | NA | NA | XXX
74363 | 26 | A | X-ray, bile duct dilation | 0.88 | 0.29 | 0.29 | 0.29 | 0.29 | 0.04 | 1.21 | 1.21 | 1.21 | 1.21 | XXX
74363 | TC | C | X-ray, bile duct dilation | 0.00 | NA | NA | NA | NA | 0.00 | NA | NA | NA | NA | XXX
74400 |  | A | Contrst x-ray, urinary tract | 0.49 | 2.60 | 2.02 | NA | NA | 0.13 | 3.22 | 2.64 | NA | NA | XXX
74400 | 26 | A | Contrst x-ray, urinary tract | 0.49 | 0.16 | 0.16 | 0.16 | 0.16 | 0.02 | 0.67 | 0.67 | 0.67 | 0.67 | XXX
74400 | TC | A | Contrst x-ray, urinary tract | 0.00 | 2.44 | 1.87 | NA | NA | 0.11 | 2.55 | 1.98 | NA | NA | XXX
74410 |  | A | Contrst x-ray, urinary tract | 0.49 | 2.73 | 2.27 | NA | NA | 0.13 | 3.35 | 2.89 | NA | NA | XXX
74410 | 26 | A | Contrst x-ray, urinary tract | 0.49 | 0.17 | 0.16 | 0.17 | 0.16 | 0.02 | 0.68 | 0.67 | 0.68 | 0.67 | XXX
74410 | TC | A | Contrst x-ray, urinary tract | 0.00 | 2.56 | 2.10 | NA | NA | 0.11 | 2.67 | 2.21 | NA | NA | XXX
74415 |  | A | Contrst x-ray, urinary tract | 0.49 | 3.29 | 2.53 | NA | NA | 0.14 | 3.92 | 3.16 | NA | NA | XXX
74415 | 26 | A | Contrst x-ray, urinary tract | 0.49 | 0.16 | 0.16 | 0.16 | 0.16 | 0.02 | 0.67 | 0.67 | 0.67 | 0.67 | XXX
74415 | TC | A | Contrst x-ray, urinary tract | 0.00 | 3.13 | 2.37 | NA | NA | 0.12 | 3.25 | 2.49 | NA | NA | XXX
74420 |  | A | Contrst x-ray, urinary tract | 0.36 | NA | NA | NA | NA | 0.16 | NA | NA | NA | NA | XXX
74420 | 26 | A | Contrst x-ray, urinary tract | 0.36 | 0.13 | 0.12 | 0.13 | 0.12 | 0.02 | 0.51 | 0.50 | 0.51 | 0.50 | XXX
74420 | TC | A | Contrst x-ray, urinary tract | 0.00 | NA | NA | NA | NA | 0.14 | NA | NA | NA | NA | XXX
74425 |  | A | Contrst x-ray, urinary tract | 0.36 | NA | NA | NA | NA | 0.09 | NA | NA | NA | NA | XXX
74425 | 26 | A | Contrst x-ray, urinary tract | 0.36 | 0.12 | 0.12 | 0.12 | 0.12 | 0.02 | 0.50 | 0.50 | 0.50 | 0.50 | XXX
74425 | TC | A | Contrst x-ray, urinary tract | 0.00 | NA | NA | NA | NA | 0.07 | NA | NA | NA | NA | XXX
74430 |  | A | Contrast x-ray, bladder | 0.32 | 1.96 | 1.35 | NA | NA | 0.08 | 2.36 | 1.75 | NA | NA | XXX
74430 | 26 | A | Contrast x-ray, bladder | 0.32 | 0.11 | 0.10 | 0.11 | 0.10 | 0.02 | 0.45 | 0.44 | 0.45 | 0.44 | XXX
74430 | TC | A | Contrast x-ray, bladder | 0.00 | 1.85 | 1.25 | NA | NA | 0.06 | 1.91 | 1.31 | NA | NA | XXX
74440 |  | A | X-ray, male genital tract | 0.38 | 2.20 | 1.49 | NA | NA | 0.08 | 2.66 | 1.95 | NA | NA | XXX
74440 | 26 | A | X-ray, male genital tract | 0.38 | 0.15 | 0.13 | 0.15 | 0.13 | 0.02 | 0.55 | 0.53 | 0.55 | 0.53 | XXX
74440 | TC | A | X-ray, male genital tract | 0.00 | 2.06 | 1.36 | NA | NA | 0.06 | 2.12 | 1.42 | NA | NA | XXX
74445 |  | A | X-ray exam of penis | 1.14 | NA | NA | NA | NA | 0.13 | NA | NA | NA | NA | XXX
74445 | 26 | A | X-ray exam of penis | 1.14 | 0.44 | 0.39 | 0.44 | 0.39 | 0.07 | 1.65 | 1.60 | 1.65 | 1.60 | XXX
74445 | TC | A | X-ray exam of penis | 0.00 | NA | NA | NA | NA | 0.06 | NA | NA | NA | NA | XXX
74450 |  | A | X-ray, urethra/bladder | 0.33 | NA | NA | NA | NA | 0.10 | NA | NA | NA | NA | XXX
74450 | 26 | A | X-ray, urethra/bladder | 0.33 | 0.11 | 0.11 | 0.11 | 0.11 | 0.02 | 0.46 | 0.46 | 0.46 | 0.46 | XXX
74450 | TC | A | X-ray, urethra/bladder | 0.00 | NA | NA | NA | NA | 0.08 | NA | NA | NA | NA | XXX
74455 |  | A | X-ray, urethra/bladder | 0.33 | 2.18 | 1.81 | NA | NA | 0.12 | 2.63 | 2.26 | NA | NA | XXX
74455 | 26 | A | X-ray, urethra/bladder | 0.33 | 0.12 | 0.11 | 0.12 | 0.11 | 0.02 | 0.47 | 0.46 | 0.47 | 0.46 | XXX
74455 | TC | A | X-ray, urethra/bladder | 0.00 | 2.06 | 1.70 | NA | NA | 0.10 | 2.16 | 1.80 | NA | NA | XXX
74470 |  | A | X-ray exam of kidney lesion | 0.54 | NA | NA | NA | NA | 0.09 | NA | NA | NA | NA | XXX
74470 | 26 | A | X-ray exam of kidney lesion | 0.54 | 0.16 | 0.18 | 0.16 | 0.18 | 0.02 | 0.72 | 0.74 | 0.72 | 0.74 | XXX
74470 | TC | A | X-ray exam of kidney lesion | 0.00 | NA | NA | NA | NA | 0.07 | NA | NA | NA | NA | XXX
74475 |  | A | X-ray control, cath insert | 0.54 | 2.12 | 3.72 | NA | NA | 0.24 | 2.90 | 4.50 | NA | NA | XXX
74475 | 26 | A | X-ray control, cath insert | 0.54 | 0.18 | 0.18 | 0.18 | 0.18 | 0.02 | 0.74 | 0.74 | 0.74 | 0.74 | XXX
74475 | TC | A | X-ray control, cath insert | 0.00 | 1.94 | 3.54 | NA | NA | 0.22 | 2.16 | 3.76 | NA | NA | XXX
74480 |  | A | X-ray control, cath insert | 0.54 | 2.13 | 3.72 | NA | NA | 0.24 | 2.91 | 4.50 | NA | NA | XXX
74480 | 26 | A | X-ray control, cath insert | 0.54 | 0.18 | 0.18 | 0.18 | 0.18 | 0.02 | 0.74 | 0.74 | 0.74 | 0.74 | XXX
74480 | TC | A | X-ray control, cath insert | 0.00 | 1.95 | 3.54 | NA | NA | 0.22 | 2.17 | 3.76 | NA | NA | XXX
74485 |  | A | X-ray guide, GU dilation | 0.54 | 2.29 | 3.06 | NA | NA | 0.20 | 3.03 | 3.80 | NA | NA | XXX
74485 | 26 | A | X-ray guide, GU dilation | 0.54 | 0.19 | 0.18 | 0.19 | 0.18 | 0.03 | 0.76 | 0.75 | 0.76 | 0.75 | XXX
74485 | TC | A | X-ray guide, GU dilation | 0.00 | 2.10 | 2.89 | NA | NA | 0.17 | 2.27 | 3.06 | NA | NA | XXX
74710 |  | A | X-ray measurement of pelvis | 0.34 | 0.64 | 1.03 | NA | NA | 0.08 | 1.06 | 1.45 | NA | NA | XXX
74710 | 26 | A | X-ray measurement of pelvis | 0.34 | 0.11 | 0.11 | 0.11 | 0.11 | 0.02 | 0.47 | 0.47 | 0.47 | 0.47 | XXX
74710 | TC | A | X-ray measurement of pelvis | 0.00 | 0.53 | 0.92 | NA | NA | 0.06 | 0.59 | 0.98 | NA | NA | XXX
74740 |  | A | X-ray, female genital tract | 0.38 | 1.77 | 1.52 | NA | NA | 0.09 | 2.24 | 1.99 | NA | NA | XXX
74740 | 26 | A | X-ray, female genital tract | 0.38 | 0.12 | 0.13 | 0.12 | 0.13 | 0.02 | 0.52 | 0.53 | 0.52 | 0.53 | XXX
74740 | TC | A | X-ray, female genital tract | 0.00 | 1.65 | 1.40 | NA | NA | 0.07 | 1.72 | 1.47 | NA | NA | XXX
74742 |  | C | X-ray, fallopian tube | 0.00 | 0.00 | 0.00 | 0.00 | 0.00 | 0.00 | 0.00 | 0.00 | 0.00 | 0.00 | XXX
74742 | 26 | A | X-ray, fallopian tube | 0.61 | 0.17 | 0.19 | 0.17 | 0.19 | 0.03 | 0.81 | 0.83 | 0.81 | 0.83 | XXX
74742 | TC | C | X-ray, fallopian tube | 0.00 | 0.00 | 0.00 | 0.00 | 0.00 | 0.00 | 0.00 | 0.00 | 0.00 | 0.00 | XXX
74775 |  | A | X-ray exam of perineum | 0.62 | NA | NA | NA | NA | 0.11 | NA | NA | NA | NA | XXX
74775 | 26 | A | X-ray exam of perineum | 0.62 | 0.19 | 0.21 | 0.19 | 0.21 | 0.03 | 0.84 | 0.86 | 0.84 | 0.86 | XXX
74775 | TC | A | X-ray exam of perineum | 0.00 | NA | NA | NA | NA | 0.08 | NA | NA | NA | NA | XXX
75552 |  | A | Heart mri for morph w/o dye | 1.60 | 19.30 | 13.62 | NA | NA | 0.66 | 21.56 | 15.88 | NA | NA | XXX
75552 | 26 | A | Heart mri for morph w/o dye | 1.60 | 0.57 | 0.54 | 0.57 | 0.54 | 0.07 | 2.24 | 2.21 | 2.24 | 2.21 | XXX
75552 | TC | A | Heart mri for morph w/o dye | 0.00 | 18.73 | 13.08 | NA | NA | 0.59 | 19.32 | 13.67 | NA | NA | XXX
75553 |  | A | Heart mri for morph w/dye | 2.00 | 24.28 | 14.96 | NA | NA | 0.66 | 26.94 | 17.62 | NA | NA | XXX
75553 | 26 | A | Heart mri for morph w/dye | 2.00 | 0.94 | 0.72 | 0.94 | 0.72 | 0.07 | 3.01 | 2.79 | 3.01 | 2.79 | XXX
75553 | TC | A | Heart mri for morph w/dye | 0.00 | 23.34 | 14.24 | NA | NA | 0.59 | 23.93 | 14.83 | NA | NA | XXX
75554 |  | A | Cardiac MRI/function | 1.83 | 27.20 | 15.68 | NA | NA | 0.66 | 29.69 | 18.17 | NA | NA | XXX
75554 | 26 | A | Cardiac MRI/function | 1.83 | 0.79 | 0.68 | 0.79 | 0.68 | 0.07 | 2.69 | 2.58 | 2.69 | 2.58 | XXX
75554 | TC | A | Cardiac MRI/function | 0.00 | 26.41 | 15.00 | NA | NA | 0.59 | 27.00 | 15.59 | NA | NA | XXX
75555 |  | A | Cardiac MRI/limited study | 1.74 | 27.64 | 15.79 | NA | NA | 0.66 | 30.04 | 18.19 | NA | NA | XXX
75555 | 26 | A | Cardiac MRI/limited study | 1.74 | 0.84 | 0.69 | 0.84 | 0.69 | 0.07 | 2.65 | 2.50 | 2.65 | 2.50 | XXX
75555 | TC | A | Cardiac MRI/limited study | 0.00 | 26.80 | 15.10 | NA | NA | 0.59 | 27.39 | 15.69 | NA | NA | XXX
75600 |  | A | Contrast x-ray exam of aorta | 0.49 | 6.49 | 11.22 | NA | NA | 0.67 | 7.65 | 12.38 | NA | NA | XXX
75600 | 26 | A | Contrast x-ray exam of aorta | 0.49 | 0.25 | 0.21 | 0.25 | 0.21 | 0.02 | 0.76 | 0.72 | 0.76 | 0.72 | XXX
75600 | TC | A | Contrast x-ray exam of aorta | 0.00 | 6.24 | 11.01 | NA | NA | 0.65 | 6.89 | 11.66 | NA | NA | XXX
75605 |  | A | Contrast x-ray exam of aorta | 1.14 | 3.63 | 10.66 | NA | NA | 0.70 | 5.47 | 12.50 | NA | NA | XXX
75605 | 26 | A | Contrast x-ray exam of aorta | 1.14 | 0.51 | 0.43 | 0.51 | 0.43 | 0.05 | 1.70 | 1.62 | 1.70 | 1.62 | XXX
75605 | TC | A | Contrast x-ray exam of aorta | 0.00 | 3.13 | 10.23 | NA | NA | 0.65 | 3.78 | 10.88 | NA | NA | XXX
75625 |  | A | Contrast x-ray exam of aorta | 1.14 | 3.38 | 10.58 | NA | NA | 0.71 | 5.23 | 12.43 | NA | NA | XXX
75625 | 26 | A | Contrast x-ray exam of aorta | 1.14 | 0.42 | 0.39 | 0.42 | 0.39 | 0.06 | 1.62 | 1.59 | 1.62 | 1.59 | XXX
75625 | TC | A | Contrast x-ray exam of aorta | 0.00 | 2.96 | 10.19 | NA | NA | 0.65 | 3.61 | 10.84 | NA | NA | XXX
75630 |  | A | X-ray aorta, leg arteries | 1.79 | 3.80 | 11.26 | NA | NA | 0.80 | 6.39 | 13.85 | NA | NA | XXX
75630 | 26 | A | X-ray aorta, leg arteries | 1.79 | 0.72 | 0.64 | 0.72 | 0.64 | 0.11 | 2.62 | 2.54 | 2.62 | 2.54 | XXX
75630 | TC | A | X-ray aorta, leg arteries | 0.00 | 3.08 | 10.62 | NA | NA | 0.69 | 3.77 | 11.31 | NA | NA | XXX
75635 |  | A | Ct angio abdominal arteries | 2.40 | 12.87 | 15.74 | NA | NA | 0.50 | 15.77 | 18.64 | NA | NA | XXX
75635 | 26 | A | Ct angio abdominal arteries | 2.40 | 0.83 | 0.80 | 0.83 | 0.80 | 0.11 | 3.34 | 3.31 | 3.34 | 3.31 | XXX
75635 | TC | A | Ct angio abdominal arteries | 0.00 | 12.04 | 14.94 | NA | NA | 0.39 | 12.43 | 15.33 | NA | NA | XXX
75650 |  | A | Artery x-rays, head & neck | 1.49 | 3.53 | 10.70 | NA | NA | 0.72 | 5.74 | 12.91 | NA | NA | XXX
75650 | 26 | A | Artery x-rays, head & neck | 1.49 | 0.55 | 0.51 | 0.55 | 0.51 | 0.07 | 2.11 | 2.07 | 2.11 | 2.07 | XXX
75650 | TC | A | Artery x-rays, head & neck | 0.00 | 2.97 | 10.19 | NA | NA | 0.65 | 3.62 | 10.84 | NA | NA | XXX
75658 |  | A | Artery x-rays, arm | 1.31 | 3.86 | 10.77 | NA | NA | 0.72 | 5.89 | 12.80 | NA | NA | XXX
75658 | 26 | A | Artery x-rays, arm | 1.31 | 0.48 | 0.47 | 0.48 | 0.47 | 0.07 | 1.86 | 1.85 | 1.86 | 1.85 | XXX
75658 | TC | A | Artery x-rays, arm | 0.00 | 3.37 | 10.29 | NA | NA | 0.65 | 4.02 | 10.94 | NA | NA | XXX
75660 |  | A | Artery x-rays, head & neck | 1.31 | 3.94 | 10.77 | NA | NA | 0.71 | 5.96 | 12.79 | NA | NA | XXX
75660 | 26 | A | Artery x-rays, head & neck | 1.31 | 0.49 | 0.45 | 0.49 | 0.45 | 0.06 | 1.86 | 1.82 | 1.86 | 1.82 | XXX
75660 | TC | A | Artery x-rays, head & neck | 0.00 | 3.45 | 10.31 | NA | NA | 0.65 | 4.10 | 10.96 | NA | NA | XXX
75662 |  | A | Artery x-rays, head & neck | 1.66 | 5.11 | 11.17 | NA | NA | 0.71 | 7.48 | 13.54 | NA | NA | XXX
75662 | 26 | A | Artery x-rays, head & neck | 1.66 | 0.72 | 0.62 | 0.72 | 0.62 | 0.06 | 2.44 | 2.34 | 2.44 | 2.34 | XXX
75662 | TC | A | Artery x-rays, head & neck | 0.00 | 4.39 | 10.55 | NA | NA | 0.65 | 5.04 | 11.20 | NA | NA | XXX
75665 |  | A | Artery x-rays, head & neck | 1.31 | 4.10 | 10.81 | NA | NA | 0.74 | 6.15 | 12.86 | NA | NA | XXX
75665 | 26 | A | Artery x-rays, head & neck | 1.31 | 0.46 | 0.45 | 0.46 | 0.45 | 0.09 | 1.86 | 1.85 | 1.86 | 1.85 | XXX
75665 | TC | A | Artery x-rays, head & neck | 0.00 | 3.64 | 10.36 | NA | NA | 0.65 | 4.29 | 11.01 | NA | NA | XXX
75671 |  | A | Artery x-rays, head & neck | 1.66 | 5.09 | 11.14 | NA | NA | 0.72 | 7.47 | 13.52 | NA | NA | XXX
75671 | 26 | A | Artery x-rays, head & neck | 1.66 | 0.61 | 0.57 | 0.61 | 0.57 | 0.07 | 2.34 | 2.30 | 2.34 | 2.30 | XXX
75671 | TC | A | Artery x-rays, head & neck | 0.00 | 4.48 | 10.57 | NA | NA | 0.65 | 5.13 | 11.22 | NA | NA | XXX
75676 |  | A | Artery x-rays, neck | 1.31 | 3.86 | 10.75 | NA | NA | 0.72 | 5.89 | 12.78 | NA | NA | XXX
75676 | 26 | A | Artery x-rays, neck | 1.31 | 0.47 | 0.45 | 0.47 | 0.45 | 0.07 | 1.85 | 1.83 | 1.85 | 1.83 | XXX
75676 | TC | A | Artery x-rays, neck | 0.00 | 3.40 | 10.30 | NA | NA | 0.65 | 4.05 | 10.95 | NA | NA | XXX
75680 |  | A | Artery x-rays, neck | 1.66 | 4.61 | 11.02 | NA | NA | 0.72 | 6.99 | 13.40 | NA | NA | XXX
75680 | 26 | A | Artery x-rays, neck | 1.66 | 0.64 | 0.57 | 0.64 | 0.57 | 0.07 | 2.37 | 2.30 | 2.37 | 2.30 | XXX
75680 | TC | A | Artery x-rays, neck | 0.00 | 3.98 | 10.45 | NA | NA | 0.65 | 4.63 | 11.10 | NA | NA | XXX
75685 |  | A | Artery x-rays, spine | 1.31 | 3.90 | 10.75 | NA | NA | 0.71 | 5.92 | 12.77 | NA | NA | XXX
75685 | 26 | A | Artery x-rays, spine | 1.31 | 0.49 | 0.45 | 0.49 | 0.45 | 0.06 | 1.86 | 1.82 | 1.86 | 1.82 | XXX
75685 | TC | A | Artery x-rays, spine | 0.00 | 3.41 | 10.30 | NA | NA | 0.65 | 4.06 | 10.95 | NA | NA | XXX
75705 |  | A | Artery x-rays, spine | 2.18 | 4.07 | 11.02 | NA | NA | 0.78 | 7.03 | 13.98 | NA | NA | XXX
75705 | 26 | A | Artery x-rays, spine | 2.18 | 0.72 | 0.73 | 0.72 | 0.73 | 0.13 | 3.03 | 3.04 | 3.03 | 3.04 | XXX
75705 | TC | A | Artery x-rays, spine | 0.00 | 3.35 | 10.29 | NA | NA | 0.65 | 4.00 | 10.94 | NA | NA | XXX
75710 |  | A | Artery x-rays, arm/leg | 1.14 | 3.99 | 10.74 | NA | NA | 0.72 | 5.85 | 12.60 | NA | NA | XXX
75710 | 26 | A | Artery x-rays, arm/leg | 1.14 | 0.42 | 0.40 | 0.42 | 0.40 | 0.07 | 1.63 | 1.61 | 1.63 | 1.61 | XXX
75710 | TC | A | Artery x-rays, arm/leg | 0.00 | 3.57 | 10.34 | NA | NA | 0.65 | 4.22 | 10.99 | NA | NA | XXX
75716 |  | A | Artery x-rays, arms/legs | 1.31 | 4.94 | 11.01 | NA | NA | 0.72 | 6.97 | 13.04 | NA | NA | XXX
75716 | 26 | A | Artery x-rays, arms/legs | 1.31 | 0.49 | 0.45 | 0.49 | 0.45 | 0.07 | 1.87 | 1.83 | 1.87 | 1.83 | XXX
75716 | TC | A | Artery x-rays, arms/legs | 0.00 | 4.45 | 10.56 | NA | NA | 0.65 | 5.10 | 11.21 | NA | NA | XXX
75722 |  | A | Artery x-rays, kidney | 1.14 | 3.89 | 10.72 | NA | NA | 0.70 | 5.73 | 12.56 | NA | NA | XXX
75722 | 26 | A | Artery x-rays, kidney | 1.14 | 0.47 | 0.42 | 0.47 | 0.42 | 0.05 | 1.66 | 1.61 | 1.66 | 1.61 | XXX
75722 | TC | A | Artery x-rays, kidney | 0.00 | 3.42 | 10.31 | NA | NA | 0.65 | 4.07 | 10.96 | NA | NA | XXX
75724 |  | A | Artery x-rays, kidneys | 1.49 | 5.20 | 11.17 | NA | NA | 0.70 | 7.39 | 13.36 | NA | NA | XXX
75724 | 26 | A | Artery x-rays, kidneys | 1.49 | 0.75 | 0.61 | 0.75 | 0.61 | 0.05 | 2.29 | 2.15 | 2.29 | 2.15 | XXX
75724 | TC | A | Artery x-rays, kidneys | 0.00 | 4.44 | 10.56 | NA | NA | 0.65 | 5.09 | 11.21 | NA | NA | XXX
75726 |  | A | Artery x-rays, abdomen | 1.14 | 3.73 | 10.66 | NA | NA | 0.70 | 5.57 | 12.50 | NA | NA | XXX
75726 | 26 | A | Artery x-rays, abdomen | 1.14 | 0.38 | 0.37 | 0.38 | 0.37 | 0.05 | 1.57 | 1.56 | 1.57 | 1.56 | XXX
75726 | TC | A | Artery x-rays, abdomen | 0.00 | 3.35 | 10.29 | NA | NA | 0.65 | 4.00 | 10.94 | NA | NA | XXX
75731 |  | A | Artery x-rays, adrenal gland | 1.14 | 3.90 | 10.70 | NA | NA | 0.71 | 5.75 | 12.55 | NA | NA | XXX
75731 | 26 | A | Artery x-rays, adrenal gland | 1.14 | 0.42 | 0.38 | 0.42 | 0.38 | 0.06 | 1.62 | 1.58 | 1.62 | 1.58 | XXX
75731 | TC | A | Artery x-rays, adrenal gland | 0.00 | 3.48 | 10.32 | NA | NA | 0.65 | 4.13 | 10.97 | NA | NA | XXX
75733 |  | A | Artery x-rays, adrenals | 1.31 | 5.27 | 11.10 | NA | NA | 0.71 | 7.29 | 13.12 | NA | NA | XXX
75733 | 26 | A | Artery x-rays, adrenals | 1.31 | 0.59 | 0.48 | 0.59 | 0.48 | 0.06 | 1.96 | 1.85 | 1.96 | 1.85 | XXX
75733 | TC | A | Artery x-rays, adrenals | 0.00 | 4.68 | 10.62 | NA | NA | 0.65 | 5.33 | 11.27 | NA | NA | XXX
75736 |  | A | Artery x-rays, pelvis | 1.14 | 3.87 | 10.70 | NA | NA | 0.71 | 5.72 | 12.55 | NA | NA | XXX
75736 | 26 | A | Artery x-rays, pelvis | 1.14 | 0.41 | 0.39 | 0.41 | 0.39 | 0.06 | 1.61 | 1.59 | 1.61 | 1.59 | XXX
75736 | TC | A | Artery x-rays, pelvis | 0.00 | 3.46 | 10.32 | NA | NA | 0.65 | 4.11 | 10.97 | NA | NA | XXX
75741 |  | A | Artery x-rays, lung | 1.31 | 3.14 | 10.56 | NA | NA | 0.71 | 5.16 | 12.58 | NA | NA | XXX
75741 | 26 | A | Artery x-rays, lung | 1.31 | 0.45 | 0.44 | 0.45 | 0.44 | 0.06 | 1.82 | 1.81 | 1.82 | 1.81 | XXX
75741 | TC | A | Artery x-rays, lung | 0.00 | 2.70 | 10.13 | NA | NA | 0.65 | 3.35 | 10.78 | NA | NA | XXX
75743 |  | A | Artery x-rays, lungs | 1.66 | 3.53 | 10.74 | NA | NA | 0.72 | 5.91 | 13.12 | NA | NA | XXX
75743 | 26 | A | Artery x-rays, lungs | 1.66 | 0.57 | 0.55 | 0.57 | 0.55 | 0.07 | 2.30 | 2.28 | 2.30 | 2.28 | XXX
75743 | TC | A | Artery x-rays, lungs | 0.00 | 2.96 | 10.19 | NA | NA | 0.65 | 3.61 | 10.84 | NA | NA | XXX
75746 |  | A | Artery x-rays, lung | 1.14 | 3.46 | 10.60 | NA | NA | 0.70 | 5.30 | 12.44 | NA | NA | XXX
75746 | 26 | A | Artery x-rays, lung | 1.14 | 0.36 | 0.38 | 0.36 | 0.38 | 0.05 | 1.55 | 1.57 | 1.55 | 1.57 | XXX
75746 | TC | A | Artery x-rays, lung | 0.00 | 3.10 | 10.23 | NA | NA | 0.65 | 3.75 | 10.88 | NA | NA | XXX
75756 |  | A | Artery x-rays, chest | 1.14 | 4.45 | 10.90 | NA | NA | 0.69 | 6.28 | 12.73 | NA | NA | XXX
75756 | 26 | A | Artery x-rays, chest | 1.14 | 0.60 | 0.49 | 0.60 | 0.49 | 0.04 | 1.78 | 1.67 | 1.78 | 1.67 | XXX
75756 | TC | A | Artery x-rays, chest | 0.00 | 3.84 | 10.41 | NA | NA | 0.65 | 4.49 | 11.06 | NA | NA | XXX
75774 |  | A | Artery x-ray, each vessel | 0.36 | 2.53 | 10.17 | 2.53 | 10.17 | 0.67 | 3.56 | 11.20 | 3.56 | 11.20 | ZZZ
75774 | 26 | A | Artery x-ray, each vessel | 0.36 | 0.13 | 0.12 | 0.13 | 0.12 | 0.02 | 0.51 | 0.50 | 0.51 | 0.50 | ZZZ
75774 | TC | A | Artery x-ray, each vessel | 0.00 | 2.40 | 10.05 | 2.40 | 10.05 | 0.65 | 3.05 | 10.70 | 3.05 | 10.70 | ZZZ
75790 |  | A | Visualize A-V shunt | 1.84 | 3.11 | 2.23 | NA | NA | 0.17 | 5.12 | 4.24 | NA | NA | XXX
75790 | 26 | A | Visualize A-V shunt | 1.84 | 0.57 | 0.59 | 0.57 | 0.59 | 0.09 | 2.50 | 2.52 | 2.50 | 2.52 | XXX
75790 | TC | A | Visualize A-V shunt | 0.00 | 2.54 | 1.65 | NA | NA | 0.08 | 2.62 | 1.73 | NA | NA | XXX
75801 |  | A | Lymph vessel x-ray, arm/leg | 0.81 | NA | NA | NA | NA | 0.37 | NA | NA | NA | NA | XXX
75801 | 26 | A | Lymph vessel x-ray, arm/leg | 0.81 | 0.22 | 0.26 | 0.22 | 0.26 | 0.08 | 1.11 | 1.15 | 1.11 | 1.15 | XXX
75801 | TC | A | Lymph vessel x-ray, arm/leg | 0.00 | NA | NA | NA | NA | 0.29 | NA | NA | NA | NA | XXX
75803 |  | A | Lymph vessel x-ray,arms/legs | 1.17 | NA | NA | NA | NA | 0.34 | NA | NA | NA | NA | XXX
75803 | 26 | A | Lymph vessel x-ray,arms/legs | 1.17 | 0.35 | 0.37 | 0.35 | 0.37 | 0.05 | 1.57 | 1.59 | 1.57 | 1.59 | XXX
75803 | TC | A | Lymph vessel x-ray,arms/legs | 0.00 | NA | NA | NA | NA | 0.29 | NA | NA | NA | NA | XXX
75805 |  | A | Lymph vessel x-ray, trunk | 0.81 | NA | NA | NA | NA | 0.38 | NA | NA | NA | NA | XXX
75805 | 26 | A | Lymph vessel x-ray, trunk | 0.81 | 0.23 | 0.26 | 0.23 | 0.26 | 0.05 | 1.09 | 1.12 | 1.09 | 1.12 | XXX
75805 | TC | A | Lymph vessel x-ray, trunk | 0.00 | NA | NA | NA | NA | 0.33 | NA | NA | NA | NA | XXX
75807 |  | C | Lymph vessel x-ray, trunk | 0.00 | NA | NA | NA | NA | 0.00 | NA | NA | NA | NA | XXX
75807 | 26 | A | Lymph vessel x-ray, trunk | 1.17 | 0.37 | 0.38 | 0.37 | 0.38 | 0.05 | 1.59 | 1.60 | 1.59 | 1.60 | XXX
75807 | TC | C | Lymph vessel x-ray, trunk | 0.00 | NA | NA | NA | NA | 0.00 | NA | NA | NA | NA | XXX
75809 |  | A | Nonvascular shunt, x-ray | 0.47 | 2.18 | 1.24 | NA | NA | 0.07 | 2.72 | 1.78 | NA | NA | XXX
75809 | 26 | A | Nonvascular shunt, x-ray | 0.47 | 0.15 | 0.15 | 0.15 | 0.15 | 0.02 | 0.64 | 0.64 | 0.64 | 0.64 | XXX
75809 | TC | A | Nonvascular shunt, x-ray | 0.00 | 2.03 | 1.09 | NA | NA | 0.05 | 2.08 | 1.14 | NA | NA | XXX
75810 |  | A | Vein x-ray, spleen/liver | 1.14 | NA | NA | NA | NA | 0.70 | NA | NA | NA | NA | XXX
75810 | 26 | A | Vein x-ray, spleen/liver | 1.14 | 0.39 | 0.38 | 0.39 | 0.38 | 0.05 | 1.58 | 1.57 | 1.58 | 1.57 | XXX
75810 | TC | A | Vein x-ray, spleen/liver | 0.00 | NA | NA | NA | NA | 0.65 | NA | NA | NA | NA | XXX
75820 |  | A | Vein x-ray, arm/leg | 0.70 | 3.02 | 1.64 | NA | NA | 0.09 | 3.81 | 2.43 | NA | NA | XXX
75820 | 26 | A | Vein x-ray, arm/leg | 0.70 | 0.28 | 0.24 | 0.28 | 0.24 | 0.03 | 1.01 | 0.97 | 1.01 | 0.97 | XXX
75820 | TC | A | Vein x-ray, arm/leg | 0.00 | 2.74 | 1.40 | NA | NA | 0.06 | 2.80 | 1.46 | NA | NA | XXX
75822 |  | A | Vein x-ray, arms/legs | 1.06 | 3.18 | 2.16 | NA | NA | 0.13 | 4.37 | 3.35 | NA | NA | XXX
75822 | 26 | A | Vein x-ray, arms/legs | 1.06 | 0.35 | 0.35 | 0.35 | 0.35 | 0.05 | 1.46 | 1.46 | 1.46 | 1.46 | XXX
75822 | TC | A | Vein x-ray, arms/legs | 0.00 | 2.83 | 1.82 | NA | NA | 0.08 | 2.91 | 1.90 | NA | NA | XXX
75825 |  | A | Vein x-ray, trunk | 1.14 | 2.93 | 10.46 | NA | NA | 0.72 | 4.79 | 12.32 | NA | NA | XXX
75825 | 26 | A | Vein x-ray, trunk | 1.14 | 0.36 | 0.37 | 0.36 | 0.37 | 0.07 | 1.57 | 1.58 | 1.57 | 1.58 | XXX
75825 | TC | A | Vein x-ray, trunk | 0.00 | 2.57 | 10.09 | NA | NA | 0.65 | 3.22 | 10.74 | NA | NA | XXX
75827 |  | A | Vein x-ray, chest | 1.14 | 2.98 | 10.47 | NA | NA | 0.70 | 4.82 | 12.31 | NA | NA | XXX
75827 | 26 | A | Vein x-ray, chest | 1.14 | 0.36 | 0.37 | 0.36 | 0.37 | 0.05 | 1.55 | 1.56 | 1.55 | 1.56 | XXX
75827 | TC | A | Vein x-ray, chest | 0.00 | 2.61 | 10.10 | NA | NA | 0.65 | 3.26 | 10.75 | NA | NA | XXX
75831 |  | A | Vein x-ray, kidney | 1.14 | 3.05 | 10.49 | NA | NA | 0.71 | 4.90 | 12.34 | NA | NA | XXX
75831 | 26 | A | Vein x-ray, kidney | 1.14 | 0.36 | 0.37 | 0.36 | 0.37 | 0.06 | 1.56 | 1.57 | 1.56 | 1.57 | XXX
75831 | TC | A | Vein x-ray, kidney | 0.00 | 2.69 | 10.12 | NA | NA | 0.65 | 3.34 | 10.77 | NA | NA | XXX
75833 |  | A | Vein x-ray, kidneys | 1.49 | 3.71 | 10.75 | NA | NA | 0.74 | 5.94 | 12.98 | NA | NA | XXX
75833 | 26 | A | Vein x-ray, kidneys | 1.49 | 0.48 | 0.49 | 0.48 | 0.49 | 0.09 | 2.06 | 2.07 | 2.06 | 2.07 | XXX
75833 | TC | A | Vein x-ray, kidneys | 0.00 | 3.23 | 10.26 | NA | NA | 0.65 | 3.88 | 10.91 | NA | NA | XXX
75840 |  | A | Vein x-ray, adrenal gland | 1.14 | 3.29 | 10.56 | NA | NA | 0.72 | 5.15 | 12.42 | NA | NA | XXX
75840 | 26 | A | Vein x-ray, adrenal gland | 1.14 | 0.45 | 0.40 | 0.45 | 0.40 | 0.07 | 1.66 | 1.61 | 1.66 | 1.61 | XXX
75840 | TC | A | Vein x-ray, adrenal gland | 0.00 | 2.84 | 10.16 | NA | NA | 0.65 | 3.49 | 10.81 | NA | NA | XXX
75842 |  | A | Vein x-ray, adrenal glands | 1.49 | 3.68 | 10.73 | NA | NA | 0.72 | 5.89 | 12.94 | NA | NA | XXX
75842 | 26 | A | Vein x-ray, adrenal glands | 1.49 | 0.49 | 0.48 | 0.49 | 0.48 | 0.07 | 2.05 | 2.04 | 2.05 | 2.04 | XXX
75842 | TC | A | Vein x-ray, adrenal glands | 0.00 | 3.19 | 10.25 | NA | NA | 0.65 | 3.84 | 10.90 | NA | NA | XXX
75860 |  | A | Vein x-ray, neck | 1.14 | 3.45 | 10.61 | NA | NA | 0.69 | 5.28 | 12.44 | NA | NA | XXX
75860 | 26 | A | Vein x-ray, neck | 1.14 | 0.50 | 0.42 | 0.50 | 0.42 | 0.04 | 1.68 | 1.60 | 1.68 | 1.60 | XXX
75860 | TC | A | Vein x-ray, neck | 0.00 | 2.96 | 10.19 | NA | NA | 0.65 | 3.61 | 10.84 | NA | NA | XXX
75870 |  | A | Vein x-ray, skull | 1.14 | 3.23 | 10.55 | NA | NA | 0.70 | 5.07 | 12.39 | NA | NA | XXX
75870 | 26 | A | Vein x-ray, skull | 1.14 | 0.39 | 0.39 | 0.39 | 0.39 | 0.05 | 1.58 | 1.58 | 1.58 | 1.58 | XXX
75870 | TC | A | Vein x-ray, skull | 0.00 | 2.84 | 10.16 | NA | NA | 0.65 | 3.49 | 10.81 | NA | NA | XXX
75872 |  | A | Vein x-ray, skull | 1.14 | 3.91 | 10.71 | NA | NA | 0.79 | 5.84 | 12.64 | NA | NA | XXX
75872 | 26 | A | Vein x-ray, skull | 1.14 | 0.42 | 0.38 | 0.42 | 0.38 | 0.14 | 1.70 | 1.66 | 1.70 | 1.66 | XXX
75872 | TC | A | Vein x-ray, skull | 0.00 | 3.48 | 10.32 | NA | NA | 0.65 | 4.13 | 10.97 | NA | NA | XXX
75880 |  | A | Vein x-ray, eye socket | 0.70 | 2.99 | 1.63 | NA | NA | 0.09 | 3.78 | 2.42 | NA | NA | XXX
75880 | 26 | A | Vein x-ray, eye socket | 0.70 | 0.23 | 0.23 | 0.23 | 0.23 | 0.03 | 0.96 | 0.96 | 0.96 | 0.96 | XXX
75880 | TC | A | Vein x-ray, eye socket | 0.00 | 2.76 | 1.40 | NA | NA | 0.06 | 2.82 | 1.46 | NA | NA | XXX
75885 |  | A | Vein x-ray, liver | 1.44 | 3.17 | 10.60 | NA | NA | 0.71 | 5.32 | 12.75 | NA | NA | XXX
75885 | 26 | A | Vein x-ray, liver | 1.44 | 0.47 | 0.47 | 0.47 | 0.47 | 0.06 | 1.97 | 1.97 | 1.97 | 1.97 | XXX
75885 | TC | A | Vein x-ray, liver | 0.00 | 2.70 | 10.13 | NA | NA | 0.65 | 3.35 | 10.78 | NA | NA | XXX
75887 |  | A | Vein x-ray, liver | 1.44 | 3.35 | 10.64 | NA | NA | 0.71 | 5.50 | 12.79 | NA | NA | XXX
75887 | 26 | A | Vein x-ray, liver | 1.44 | 0.51 | 0.48 | 0.51 | 0.48 | 0.06 | 2.01 | 1.98 | 2.01 | 1.98 | XXX
75887 | TC | A | Vein x-ray, liver | 0.00 | 2.84 | 10.16 | NA | NA | 0.65 | 3.49 | 10.81 | NA | NA | XXX
75889 |  | A | Vein x-ray, liver | 1.14 | 3.07 | 10.50 | NA | NA | 0.70 | 4.91 | 12.34 | NA | NA | XXX
75889 | 26 | A | Vein x-ray, liver | 1.14 | 0.38 | 0.37 | 0.38 | 0.37 | 0.05 | 1.57 | 1.56 | 1.57 | 1.56 | XXX
75889 | TC | A | Vein x-ray, liver | 0.00 | 2.70 | 10.13 | NA | NA | 0.65 | 3.35 | 10.78 | NA | NA | XXX
75891 |  | A | Vein x-ray, liver | 1.14 | 3.05 | 10.49 | NA | NA | 0.70 | 4.89 | 12.33 | NA | NA | XXX
75891 | 26 | A | Vein x-ray, liver | 1.14 | 0.37 | 0.37 | 0.37 | 0.37 | 0.05 | 1.56 | 1.56 | 1.56 | 1.56 | XXX
75891 | TC | A | Vein x-ray, liver | 0.00 | 2.68 | 10.12 | NA | NA | 0.65 | 3.33 | 10.77 | NA | NA | XXX
75893 |  | A | Venous sampling by catheter | 0.54 | 2.87 | 10.30 | NA | NA | 0.67 | 4.08 | 11.51 | NA | NA | XXX
75893 | 26 | A | Venous sampling by catheter | 0.54 | 0.18 | 0.18 | 0.18 | 0.18 | 0.02 | 0.74 | 0.74 | 0.74 | 0.74 | XXX
75893 | TC | A | Venous sampling by catheter | 0.00 | 2.69 | 10.12 | NA | NA | 0.65 | 3.34 | 10.77 | NA | NA | XXX
75894 |  | A | X-rays, transcath therapy | 1.31 | NA | NA | NA | NA | 1.35 | NA | NA | NA | NA | XXX
75894 | 26 | A | X-rays, transcath therapy | 1.31 | 0.42 | 0.43 | 0.42 | 0.43 | 0.08 | 1.81 | 1.82 | 1.81 | 1.82 | XXX
75894 | TC | A | X-rays, transcath therapy | 0.00 | NA | NA | NA | NA | 1.27 | NA | NA | NA | NA | XXX
75896 |  | A | X-rays, transcath therapy | 1.31 | NA | NA | NA | NA | 1.15 | NA | NA | NA | NA | XXX
75896 | 26 | A | X-rays, transcath therapy | 1.31 | 0.51 | 0.47 | 0.51 | 0.47 | 0.05 | 1.87 | 1.83 | 1.87 | 1.83 | XXX
75896 | TC | A | X-rays, transcath therapy | 0.00 | NA | NA | NA | NA | 1.10 | NA | NA | NA | NA | XXX
75898 |  | A | Follow-up angiography | 1.65 | NA | NA | NA | NA | 0.13 | NA | NA | NA | NA | XXX
75898 | 26 | A | Follow-up angiography | 1.65 | 0.60 | 0.56 | 0.60 | 0.56 | 0.07 | 2.32 | 2.28 | 2.32 | 2.28 | XXX
75898 | TC | A | Follow-up angiography | 0.00 | NA | NA | NA | NA | 0.06 | NA | NA | NA | NA | XXX
75900 |  | C | Intravascular cath exchange | 0.00 | NA | NA | NA | NA | 0.00 | NA | NA | NA | NA | XXX
75900 | 26 | A | Intravascular cath exchange | 0.49 | 0.16 | 0.16 | 0.16 | 0.16 | 0.03 | 0.68 | 0.68 | 0.68 | 0.68 | XXX
75900 | TC | C | Intravascular cath exchange | 0.00 | NA | NA | NA | NA | 0.00 | NA | NA | NA | NA | XXX
75901 |  | A | Remove cva device obstruct | 0.49 | 4.20 | 2.15 | NA | NA | 0.85 | 5.54 | 3.49 | NA | NA | XXX
75901 | 26 | A | Remove cva device obstruct | 0.49 | 0.16 | 0.16 | 0.16 | 0.16 | 0.02 | 0.67 | 0.67 | 0.67 | 0.67 | XXX
75901 | TC | A | Remove cva device obstruct | 0.00 | 4.04 | 1.99 | NA | NA | 0.83 | 4.87 | 2.82 | NA | NA | XXX
75902 |  | A | Remove cva lumen obstruct | 0.39 | 1.64 | 1.49 | NA | NA | 0.85 | 2.88 | 2.73 | NA | NA | XXX
75902 | 26 | A | Remove cva lumen obstruct | 0.39 | 0.13 | 0.13 | 0.13 | 0.13 | 0.02 | 0.54 | 0.54 | 0.54 | 0.54 | XXX
75902 | TC | A | Remove cva lumen obstruct | 0.00 | 1.52 | 1.36 | NA | NA | 0.83 | 2.35 | 2.19 | NA | NA | XXX
75940 |  | A | X-ray placement, vein filter | 0.54 | NA | NA | NA | NA | 0.69 | NA | NA | NA | NA | XXX
75940 | 26 | A | X-ray placement, vein filter | 0.54 | 0.17 | 0.18 | 0.17 | 0.18 | 0.04 | 0.75 | 0.76 | 0.75 | 0.76 | XXX
75940 | TC | A | X-ray placement, vein filter | 0.00 | NA | NA | NA | NA | 0.65 | NA | NA | NA | NA | XXX
75945 |  | A | Intravascular us | 0.40 | NA | NA | NA | NA | 0.28 | NA | NA | NA | NA | XXX
75945 | 26 | A | Intravascular us | 0.40 | 0.15 | 0.14 | 0.15 | 0.14 | 0.04 | 0.59 | 0.58 | 0.59 | 0.58 | XXX
75945 | TC | A | Intravascular us | 0.00 | NA | NA | NA | NA | 0.24 | NA | NA | NA | NA | XXX
75946 |  | C | Intravascular us add-on | 0.00 | 0.00 | 0.00 | 0.00 | 0.00 | 0.00 | 0.00 | 0.00 | 0.00 | 0.00 | ZZZ
75946 | 26 | A | Intravascular us add-on | 0.40 | 0.13 | 0.14 | 0.13 | 0.14 | 0.05 | 0.58 | 0.59 | 0.58 | 0.59 | ZZZ
75946 | TC | C | Intravascular us add-on | 0.00 | 0.00 | 0.00 | 0.00 | 0.00 | 0.00 | 0.00 | 0.00 | 0.00 | 0.00 | ZZZ
75952 |  | C | Endovasc repair abdom aorta | 0.00 | 0.00 | 0.00 | 0.00 | 0.00 | 0.00 | 0.00 | 0.00 | 0.00 | 0.00 | XXX
75952 | 26 | A | Endovasc repair abdom aorta | 4.49 | 1.31 | 1.45 | 1.31 | 1.45 | 0.43 | 6.23 | 6.37 | 6.23 | 6.37 | XXX
75952 | TC | C | Endovasc repair abdom aorta | 0.00 | 0.00 | 0.00 | 0.00 | 0.00 | 0.00 | 0.00 | 0.00 | 0.00 | 0.00 | XXX
75953 |  | C | Abdom aneurysm endovas rpr | 0.00 | 0.00 | 0.00 | 0.00 | 0.00 | 0.00 | 0.00 | 0.00 | 0.00 | 0.00 | XXX
75953 | 26 | A | Abdom aneurysm endovas rpr | 1.36 | 0.40 | 0.44 | 0.40 | 0.44 | 0.13 | 1.89 | 1.93 | 1.89 | 1.93 | XXX
75953 | TC | C | Abdom aneurysm endovas rpr | 0.00 | 0.00 | 0.00 | 0.00 | 0.00 | 0.00 | 0.00 | 0.00 | 0.00 | 0.00 | XXX
75954 |  | C | Iliac aneurysm endovas rpr | 0.00 | 0.00 | 0.00 | 0.00 | 0.00 | 0.00 | 0.00 | 0.00 | 0.00 | 0.00 | XXX
75954 | 26 | A | Iliac aneurysm endovas rpr | 2.25 | 0.66 | 0.75 | 0.66 | 0.75 | 0.15 | 3.06 | 3.15 | 3.06 | 3.15 | XXX
75954 | TC | C | Iliac aneurysm endovas rpr | 0.00 | 0.00 | 0.00 | 0.00 | 0.00 | 0.00 | 0.00 | 0.00 | 0.00 | 0.00 | XXX
75956 |  | C | Xray, endovasc thor ao repr | 0.00 | 0.00 | 0.00 | 0.00 | 0.00 | 0.00 | 0.00 | 0.00 | 0.00 | 0.00 | XXX
75956 | 26 | A | Xray, endovasc thor ao repr | 7.00 | 1.63 | 2.43 | 1.63 | 2.43 | 0.69 | 9.32 | 10.12 | 9.32 | 10.12 | XXX
75956 | TC | C | Xray, endovasc thor ao repr | 0.00 | 0.00 | 0.00 | 0.00 | 0.00 | 0.00 | 0.00 | 0.00 | 0.00 | 0.00 | XXX
75957 |  | C | Xray, endovasc thor ao repr | 0.00 | 0.00 | 0.00 | 0.00 | 0.00 | 0.00 | 0.00 | 0.00 | 0.00 | 0.00 | XXX
75957 | 26 | A | Xray, endovasc thor ao repr | 6.00 | 1.40 | 2.08 | 1.40 | 2.08 | 0.59 | 7.99 | 8.67 | 7.99 | 8.67 | XXX
75957 | TC | C | Xray, endovasc thor ao repr | 0.00 | 0.00 | 0.00 | 0.00 | 0.00 | 0.00 | 0.00 | 0.00 | 0.00 | 0.00 | XXX
75958 |  | C | Xray, place prox ext thor ao | 0.00 | 0.00 | 0.00 | 0.00 | 0.00 | 0.00 | 0.00 | 0.00 | 0.00 | 0.00 | XXX
75958 | 26 | A | Xray, place prox ext thor ao | 4.00 | 0.93 | 1.40 | 0.93 | 1.40 | 0.39 | 5.32 | 5.79 | 5.32 | 5.79 | XXX
75958 | TC | C | Xray, place prox ext thor ao | 0.00 | 0.00 | 0.00 | 0.00 | 0.00 | 0.00 | 0.00 | 0.00 | 0.00 | 0.00 | XXX
75959 |  | C | Xray, place dist ext thor ao | 0.00 | 0.00 | 0.00 | 0.00 | 0.00 | 0.00 | 0.00 | 0.00 | 0.00 | 0.00 | XXX
75959 | 26 | A | Xray, place dist ext thor ao | 3.50 | 0.82 | 1.23 | 0.82 | 1.23 | 0.34 | 4.66 | 5.07 | 4.66 | 5.07 | XXX
75959 | TC | C | Xray, place dist ext thor ao | 0.00 | 0.00 | 0.00 | 0.00 | 0.00 | 0.00 | 0.00 | 0.00 | 0.00 | 0.00 | XXX
75960 |  | A | Transcath iv stent rs&i | 0.82 | NA | NA | NA | NA | 0.82 | NA | NA | NA | NA | XXX
75960 | 26 | A | Transcath iv stent rs&i | 0.82 | 0.32 | 0.29 | 0.32 | 0.29 | 0.05 | 1.19 | 1.16 | 1.19 | 1.16 | XXX
75960 | TC | A | Transcath iv stent rs&i | 0.00 | NA | NA | NA | NA | 0.77 | NA | NA | NA | NA | XXX
75961 |  | A | Retrieval, broken catheter | 4.24 | 4.59 | 10.07 | NA | NA | 0.73 | 9.56 | 15.04 | NA | NA | XXX
75961 | 26 | A | Retrieval, broken catheter | 4.24 | 1.38 | 1.39 | 1.38 | 1.39 | 0.18 | 5.80 | 5.81 | 5.80 | 5.81 | XXX
75961 | TC | A | Retrieval, broken catheter | 0.00 | 3.20 | 8.68 | NA | NA | 0.55 | 3.75 | 9.23 | NA | NA | XXX
75962 |  | A | Repair arterial blockage | 0.54 | 3.54 | 12.83 | NA | NA | 0.86 | 4.94 | 14.23 | NA | NA | XXX
75962 | 26 | A | Repair arterial blockage | 0.54 | 0.20 | 0.19 | 0.20 | 0.19 | 0.03 | 0.77 | 0.76 | 0.77 | 0.76 | XXX
75962 | TC | A | Repair arterial blockage | 0.00 | 3.34 | 12.64 | NA | NA | 0.83 | 4.17 | 13.47 | NA | NA | XXX
75964 |  | A | Repair artery blockage, each | 0.36 | 2.38 | 6.98 | 2.38 | 6.98 | 0.46 | 3.20 | 7.80 | 3.20 | 7.80 | ZZZ
75964 | 26 | A | Repair artery blockage, each | 0.36 | 0.13 | 0.12 | 0.13 | 0.12 | 0.03 | 0.52 | 0.51 | 0.52 | 0.51 | ZZZ
75964 | TC | A | Repair artery blockage, each | 0.00 | 2.26 | 6.86 | 2.26 | 6.86 | 0.43 | 2.69 | 7.29 | 2.69 | 7.29 | ZZZ
75966 |  | A | Repair arterial blockage | 1.31 | 4.21 | 13.20 | NA | NA | 0.89 | 6.41 | 15.40 | NA | NA | XXX
75966 | 26 | A | Repair arterial blockage | 1.31 | 0.57 | 0.49 | 0.57 | 0.49 | 0.06 | 1.94 | 1.86 | 1.94 | 1.86 | XXX
75966 | TC | A | Repair arterial blockage | 0.00 | 3.64 | 12.72 | NA | NA | 0.83 | 4.47 | 13.55 | NA | NA | XXX
75968 |  | A | Repair artery blockage, each | 0.36 | 2.44 | 7.00 | 2.44 | 7.00 | 0.45 | 3.25 | 7.81 | 3.25 | 7.81 | ZZZ
75968 | 26 | A | Repair artery blockage, each | 0.36 | 0.16 | 0.14 | 0.16 | 0.14 | 0.02 | 0.54 | 0.52 | 0.54 | 0.52 | ZZZ
75968 | TC | A | Repair artery blockage, each | 0.00 | 2.29 | 6.87 | 2.29 | 6.87 | 0.43 | 2.72 | 7.30 | 2.72 | 7.30 | ZZZ
75970 |  | A | Vascular biopsy | 0.83 | NA | NA | NA | NA | 0.64 | NA | NA | NA | NA | XXX
75970 | 26 | A | Vascular biopsy | 0.83 | 0.28 | 0.28 | 0.28 | 0.28 | 0.04 | 1.15 | 1.15 | 1.15 | 1.15 | XXX
75970 | TC | A | Vascular biopsy | 0.00 | NA | NA | NA | NA | 0.60 | NA | NA | NA | NA | XXX
75978 |  | A | Repair venous blockage | 0.54 | 3.27 | 12.76 | NA | NA | 0.85 | 4.66 | 14.15 | NA | NA | XXX
75978 | 26 | A | Repair venous blockage | 0.54 | 0.17 | 0.18 | 0.17 | 0.18 | 0.02 | 0.73 | 0.74 | 0.73 | 0.74 | XXX
75978 | TC | A | Repair venous blockage | 0.00 | 3.11 | 12.58 | NA | NA | 0.83 | 3.94 | 13.41 | NA | NA | XXX
75980 |  | A | Contrast xray exam bile duct | 1.44 | NA | NA | NA | NA | 0.35 | NA | NA | NA | NA | XXX
75980 | 26 | A | Contrast xray exam bile duct | 1.44 | 0.47 | 0.47 | 0.47 | 0.47 | 0.06 | 1.97 | 1.97 | 1.97 | 1.97 | XXX
75980 | TC | A | Contrast xray exam bile duct | 0.00 | NA | NA | NA | NA | 0.29 | NA | NA | NA | NA | XXX
75982 |  | C | Contrast xray exam bile duct | 0.00 | NA | NA | NA | NA | 0.00 | NA | NA | NA | NA | XXX
75982 | 26 | A | Contrast xray exam bile duct | 1.44 | 0.47 | 0.47 | 0.47 | 0.47 | 0.06 | 1.97 | 1.97 | 1.97 | 1.97 | XXX
75982 | TC | C | Contrast xray exam bile duct | 0.00 | NA | NA | NA | NA | 0.00 | NA | NA | NA | NA | XXX
75984 |  | A | Xray control catheter change | 0.72 | 2.31 | 2.21 | NA | NA | 0.14 | 3.17 | 3.07 | NA | NA | XXX
75984 | 26 | A | Xray control catheter change | 0.72 | 0.24 | 0.23 | 0.24 | 0.23 | 0.03 | 0.99 | 0.98 | 0.99 | 0.98 | XXX
75984 | TC | A | Xray control catheter change | 0.00 | 2.08 | 1.98 | NA | NA | 0.11 | 2.19 | 2.09 | NA | NA | XXX
75989 |  | A | Abscess drainage under x-ray | 1.19 | 2.21 | 3.21 | NA | NA | 0.22 | 3.62 | 4.62 | NA | NA | XXX
75989 | 26 | A | Abscess drainage under x-ray | 1.19 | 0.38 | 0.39 | 0.38 | 0.39 | 0.05 | 1.62 | 1.63 | 1.62 | 1.63 | XXX
75989 | TC | A | Abscess drainage under x-ray | 0.00 | 1.83 | 2.82 | NA | NA | 0.17 | 2.00 | 2.99 | NA | NA | XXX
75992 |  | A | Atherectomy, x-ray exam | 0.54 | NA | NA | NA | NA | 0.86 | NA | NA | NA | NA | XXX
75992 | 26 | A | Atherectomy, x-ray exam | 0.54 | 0.23 | 0.20 | 0.23 | 0.20 | 0.03 | 0.80 | 0.77 | 0.80 | 0.77 | XXX
75992 | TC | A | Atherectomy, x-ray exam | 0.00 | NA | NA | NA | NA | 0.83 | NA | NA | NA | NA | XXX
75993 |  | C | Atherectomy, x-ray exam | 0.00 | NA | NA | NA | NA | 0.00 | NA | NA | NA | NA | ZZZ
75993 | 26 | A | Atherectomy, x-ray exam | 0.36 | 0.15 | 0.14 | 0.15 | 0.14 | 0.02 | 0.53 | 0.52 | 0.53 | 0.52 | ZZZ
75993 | TC | C | Atherectomy, x-ray exam | 0.00 | NA | NA | NA | NA | 0.00 | NA | NA | NA | NA | ZZZ
75994 |  | C | Atherectomy, x-ray exam | 0.00 | NA | NA | NA | NA | 0.00 | NA | NA | NA | NA | XXX
75994 | 26 | A | Atherectomy, x-ray exam | 1.31 | 0.62 | 0.50 | 0.62 | 0.50 | 0.07 | 2.00 | 1.88 | 2.00 | 1.88 | XXX
75994 | TC | C | Atherectomy, x-ray exam | 0.00 | NA | NA | NA | NA | 0.00 | NA | NA | NA | NA | XXX
75995 |  | C | Atherectomy, x-ray exam | 0.00 | NA | NA | NA | NA | 0.00 | NA | NA | NA | NA | XXX
75995 | 26 | A | Atherectomy, x-ray exam | 1.31 | 0.51 | 0.48 | 0.51 | 0.48 | 0.05 | 1.87 | 1.84 | 1.87 | 1.84 | XXX
75995 | TC | C | Atherectomy, x-ray exam | 0.00 | NA | NA | NA | NA | 0.00 | NA | NA | NA | NA | XXX
75996 |  | C | Atherectomy, x-ray exam | 0.00 | NA | NA | NA | NA | 0.00 | NA | NA | NA | NA | ZZZ
75996 | 26 | A | Atherectomy, x-ray exam | 0.36 | 0.15 | 0.13 | 0.15 | 0.13 | 0.02 | 0.53 | 0.51 | 0.53 | 0.51 | ZZZ
75996 | TC | C | Atherectomy, x-ray exam | 0.00 | NA | NA | NA | NA | 0.00 | NA | NA | NA | NA | ZZZ
75998 |  | A | Fluoroguide for vein device | 0.38 | 2.73 | 1.76 | NA | NA | 0.11 | 3.22 | 2.25 | NA | NA | ZZZ
75998 | 26 | A | Fluoroguide for vein device | 0.38 | 0.12 | 0.13 | 0.12 | 0.13 | 0.01 | 0.51 | 0.52 | 0.51 | 0.52 | ZZZ
75998 | TC | A | Fluoroguide for vein device | 0.00 | 2.61 | 1.64 | NA | NA | 0.10 | 2.71 | 1.74 | NA | NA | ZZZ
76000 |  | A | Fluoroscope examination | 0.17 | 2.75 | 1.71 | NA | NA | 0.08 | 3.00 | 1.96 | NA | NA | XXX
76000 | 26 | A | Fluoroscope examination | 0.17 | 0.06 | 0.05 | 0.06 | 0.05 | 0.01 | 0.24 | 0.23 | 0.24 | 0.23 | XXX
76000 | TC | A | Fluoroscope examination | 0.00 | 2.70 | 1.66 | NA | NA | 0.07 | 2.77 | 1.73 | NA | NA | XXX
76001 |  | A | Fluoroscope exam, extensive | 0.67 | NA | NA | NA | NA | 0.19 | NA | NA | NA | NA | XXX
76001 | 26 | A | Fluoroscope exam, extensive | 0.67 | 0.22 | 0.22 | 0.22 | 0.22 | 0.05 | 0.94 | 0.94 | 0.94 | 0.94 | XXX
76001 | TC | A | Fluoroscope exam, extensive | 0.00 | NA | NA | NA | NA | 0.14 | NA | NA | NA | NA | XXX
76003 |  | A | Needle localization by x-ray | 0.54 | 1.21 | 1.41 | NA | NA | 0.09 | 1.84 | 2.04 | NA | NA | XXX
76003 | 26 | A | Needle localization by x-ray | 0.54 | 0.15 | 0.17 | 0.15 | 0.17 | 0.02 | 0.71 | 0.73 | 0.71 | 0.73 | XXX
76003 | TC | A | Needle localization by x-ray | 0.00 | 1.06 | 1.25 | NA | NA | 0.07 | 1.13 | 1.32 | NA | NA | XXX
76005 |  | A | Fluoroguide for spine inject | 0.60 | 0.76 | 1.29 | NA | NA | 0.10 | 1.46 | 1.99 | NA | NA | XXX
76005 | 26 | A | Fluoroguide for spine inject | 0.60 | 0.14 | 0.15 | 0.14 | 0.15 | 0.03 | 0.77 | 0.78 | 0.77 | 0.78 | XXX
76005 | TC | A | Fluoroguide for spine inject | 0.00 | 0.62 | 1.14 | NA | NA | 0.07 | 0.69 | 1.21 | NA | NA | XXX
76006 |  | A | X-ray stress view | 0.41 | 0.77 | 0.33 | 0.77 | 0.33 | 0.06 | 1.24 | 0.80 | 1.24 | 0.80 | XXX
76010 |  | A | X-ray, nose to rectum | 0.18 | 0.55 | 0.57 | NA | NA | 0.03 | 0.76 | 0.78 | NA | NA | XXX
76010 | 26 | A | X-ray, nose to rectum | 0.18 | 0.06 | 0.06 | 0.06 | 0.06 | 0.01 | 0.25 | 0.25 | 0.25 | 0.25 | XXX
76010 | TC | A | X-ray, nose to rectum | 0.00 | 0.49 | 0.51 | NA | NA | 0.02 | 0.51 | 0.53 | NA | NA | XXX
76012 |  | C | Percut vertebroplasty fluor | 0.00 | 0.00 | 0.00 | 0.00 | 0.00 | 0.00 | 0.00 | 0.00 | 0.00 | 0.00 | XXX
76012 | 26 | A | Percut vertebroplasty fluor | 1.31 | 0.44 | 0.46 | 0.44 | 0.46 | 0.10 | 1.85 | 1.87 | 1.85 | 1.87 | XXX
76012 | TC | C | Percut vertebroplasty fluor | 0.00 | 0.00 | 0.00 | 0.00 | 0.00 | 0.00 | 0.00 | 0.00 | 0.00 | 0.00 | XXX
76013 |  | C | Percut vertebroplasty, ct | 0.00 | 0.00 | 0.00 | 0.00 | 0.00 | 0.00 | 0.00 | 0.00 | 0.00 | 0.00 | XXX
76013 | 26 | A | Percut vertebroplasty, ct | 1.38 | 0.45 | 0.47 | 0.45 | 0.47 | 0.07 | 1.90 | 1.92 | 1.90 | 1.92 | XXX
76013 | TC | C | Percut vertebroplasty, ct | 0.00 | 0.00 | 0.00 | 0.00 | 0.00 | 0.00 | 0.00 | 0.00 | 0.00 | 0.00 | XXX
76020 |  | A | X-rays for bone age | 0.19 | 0.42 | 0.54 | NA | NA | 0.03 | 0.64 | 0.76 | NA | NA | XXX
76020 | 26 | A | X-rays for bone age | 0.19 | 0.06 | 0.06 | 0.06 | 0.06 | 0.01 | 0.26 | 0.26 | 0.26 | 0.26 | XXX
76020 | TC | A | X-rays for bone age | 0.00 | 0.36 | 0.48 | NA | NA | 0.02 | 0.38 | 0.50 | NA | NA | XXX
76040 |  | A | X-rays, bone evaluation | 0.27 | 0.67 | 0.82 | NA | NA | 0.06 | 1.00 | 1.15 | NA | NA | XXX
76040 | 26 | A | X-rays, bone evaluation | 0.27 | 0.10 | 0.09 | 0.10 | 0.09 | 0.01 | 0.38 | 0.37 | 0.38 | 0.37 | XXX
76040 | TC | A | X-rays, bone evaluation | 0.00 | 0.57 | 0.73 | NA | NA | 0.05 | 0.62 | 0.78 | NA | NA | XXX
76061 |  | A | X-rays, bone survey | 0.45 | 1.43 | 1.22 | NA | NA | 0.08 | 1.96 | 1.75 | NA | NA | XXX
76061 | 26 | A | X-rays, bone survey | 0.45 | 0.14 | 0.15 | 0.14 | 0.15 | 0.02 | 0.61 | 0.62 | 0.61 | 0.62 | XXX
76061 | TC | A | X-rays, bone survey | 0.00 | 1.28 | 1.07 | NA | NA | 0.06 | 1.34 | 1.13 | NA | NA | XXX
76062 |  | A | X-rays, bone survey | 0.54 | 2.28 | 1.79 | NA | NA | 0.10 | 2.92 | 2.43 | NA | NA | XXX
76062 | 26 | A | X-rays, bone survey | 0.54 | 0.17 | 0.18 | 0.17 | 0.18 | 0.02 | 0.73 | 0.74 | 0.73 | 0.74 | XXX
76062 | TC | A | X-rays, bone survey | 0.00 | 2.10 | 1.61 | NA | NA | 0.08 | 2.18 | 1.69 | NA | NA | XXX
76065 |  | A | X-rays, bone evaluation | 0.70 | 2.01 | 1.22 | NA | NA | 0.08 | 2.79 | 2.00 | NA | NA | XXX
76065 | 26 | A | X-rays, bone evaluation | 0.70 | 0.20 | 0.22 | 0.20 | 0.22 | 0.03 | 0.93 | 0.95 | 0.93 | 0.95 | XXX
76065 | TC | A | X-rays, bone evaluation | 0.00 | 1.81 | 1.00 | NA | NA | 0.05 | 1.86 | 1.05 | NA | NA | XXX
76066 |  | A | Joint survey, single view | 0.31 | 0.65 | 1.07 | NA | NA | 0.08 | 1.04 | 1.46 | NA | NA | XXX
76066 | 26 | A | Joint survey, single view | 0.31 | 0.11 | 0.10 | 0.11 | 0.10 | 0.02 | 0.44 | 0.43 | 0.44 | 0.43 | XXX
76066 | TC | A | Joint survey, single view | 0.00 | 0.55 | 0.97 | NA | NA | 0.06 | 0.61 | 1.03 | NA | NA | XXX
76070 |  | A | Ct bone density, axial | 0.25 | 4.78 | 3.47 | NA | NA | 0.17 | 5.20 | 3.89 | NA | NA | XXX
76070 | 26 | A | Ct bone density, axial | 0.25 | 0.08 | 0.08 | 0.08 | 0.08 | 0.01 | 0.34 | 0.34 | 0.34 | 0.34 | XXX
76070 | TC | A | Ct bone density, axial | 0.00 | 4.70 | 3.39 | NA | NA | 0.16 | 4.86 | 3.55 | NA | NA | XXX
76071 |  | A | Ct bone density, peripheral | 0.22 | 0.78 | 2.46 | NA | NA | 0.06 | 1.06 | 2.74 | NA | NA | XXX
76071 | 26 | A | Ct bone density, peripheral | 0.22 | 0.07 | 0.07 | 0.07 | 0.07 | 0.01 | 0.30 | 0.30 | 0.30 | 0.30 | XXX
76071 | TC | A | Ct bone density, peripheral | 0.00 | 0.71 | 2.39 | NA | NA | 0.05 | 0.76 | 2.44 | NA | NA | XXX
76075 |  | A | Dxa bone density, axial | 0.20 | 0.53 | 2.53 | NA | NA | 0.18 | 0.91 | 2.91 | NA | NA | XXX
76075 | 26 | A | Dxa bone density, axial | 0.20 | 0.06 | 0.09 | 0.06 | 0.09 | 0.01 | 0.27 | 0.30 | 0.27 | 0.30 | XXX
76075 | TC | A | Dxa bone density, axial | 0.00 | 0.47 | 2.44 | NA | NA | 0.17 | 0.64 | 2.61 | NA | NA | XXX
76076 |  | A | Dxa bone density/peripheral | 0.22 | 0.57 | 0.77 | NA | NA | 0.06 | 0.85 | 1.05 | NA | NA | XXX
76076 | 26 | A | Dxa bone density/peripheral | 0.22 | 0.06 | 0.08 | 0.06 | 0.08 | 0.01 | 0.29 | 0.31 | 0.29 | 0.31 | XXX
76076 | TC | A | Dxa bone density/peripheral | 0.00 | 0.50 | 0.69 | NA | NA | 0.05 | 0.55 | 0.74 | NA | NA | XXX
76077 |  | A | Dxa bone density/v-fracture | 0.17 | 0.41 | 0.71 | NA | NA | 0.06 | 0.64 | 0.94 | NA | NA | XXX
76077 | 26 | A | Dxa bone density/v-fracture | 0.17 | 0.05 | 0.06 | 0.05 | 0.06 | 0.01 | 0.23 | 0.24 | 0.23 | 0.24 | XXX
76077 | TC | A | Dxa bone density/v-fracture | 0.00 | 0.36 | 0.65 | NA | NA | 0.05 | 0.41 | 0.70 | NA | NA | XXX
76078 |  | A | Radiographic absorptiometry | 0.20 | 0.38 | 0.71 | NA | NA | 0.06 | 0.64 | 0.97 | NA | NA | XXX
76078 | 26 | A | Radiographic absorptiometry | 0.20 | 0.05 | 0.07 | 0.05 | 0.07 | 0.01 | 0.26 | 0.28 | 0.26 | 0.28 | XXX
76078 | TC | A | Radiographic absorptiometry | 0.00 | 0.33 | 0.65 | NA | NA | 0.05 | 0.38 | 0.70 | NA | NA | XXX
76080 |  | A | X-ray exam of fistula | 0.54 | 1.08 | 1.19 | NA | NA | 0.08 | 1.70 | 1.81 | NA | NA | XXX
76080 | 26 | A | X-ray exam of fistula | 0.54 | 0.17 | 0.18 | 0.17 | 0.18 | 0.02 | 0.73 | 0.74 | 0.73 | 0.74 | XXX
76080 | TC | A | X-ray exam of fistula | 0.00 | 0.90 | 1.01 | NA | NA | 0.06 | 0.96 | 1.07 | NA | NA | XXX
76082 |  | A | Computer mammogram add-on | 0.06 | 0.20 | 0.38 | 0.20 | 0.38 | 0.02 | 0.28 | 0.46 | 0.28 | 0.46 | ZZZ
76082 | 26 | A | Computer mammogram add-on | 0.06 | 0.02 | 0.02 | 0.02 | 0.02 | 0.01 | 0.09 | 0.09 | 0.09 | 0.09 | ZZZ
76082 | TC | A | Computer mammogram add-on | 0.00 | 0.18 | 0.36 | 0.18 | 0.36 | 0.01 | 0.19 | 0.37 | 0.19 | 0.37 | ZZZ
76083 |  | A | Computer mammogram add-on | 0.06 | 0.20 | 0.38 | 0.20 | 0.38 | 0.02 | 0.28 | 0.46 | 0.28 | 0.46 | ZZZ
76083 | 26 | A | Computer mammogram add-on | 0.06 | 0.02 | 0.02 | 0.02 | 0.02 | 0.01 | 0.09 | 0.09 | 0.09 | 0.09 | ZZZ
76083 | TC | A | Computer mammogram add-on | 0.00 | 0.18 | 0.36 | 0.18 | 0.36 | 0.01 | 0.19 | 0.37 | 0.19 | 0.37 | ZZZ
76086 |  | A | X-ray of mammary duct | 0.36 | 1.22 | 2.36 | NA | NA | 0.16 | 1.74 | 2.88 | NA | NA | XXX
76086 | 26 | A | X-ray of mammary duct | 0.36 | 0.11 | 0.12 | 0.11 | 0.12 | 0.02 | 0.49 | 0.50 | 0.49 | 0.50 | XXX
76086 | TC | A | X-ray of mammary duct | 0.00 | 1.11 | 2.24 | NA | NA | 0.14 | 1.25 | 2.38 | NA | NA | XXX
76088 |  | A | X-ray of mammary ducts | 0.45 | 1.66 | 3.27 | NA | NA | 0.21 | 2.32 | 3.93 | NA | NA | XXX
76088 | 26 | A | X-ray of mammary ducts | 0.45 | 0.14 | 0.15 | 0.14 | 0.15 | 0.02 | 0.61 | 0.62 | 0.61 | 0.62 | XXX
76088 | TC | A | X-ray of mammary ducts | 0.00 | 1.52 | 3.13 | NA | NA | 0.19 | 1.71 | 3.32 | NA | NA | XXX
76090 |  | A | Mammogram, one breast | 0.70 | 1.62 | 1.37 | NA | NA | 0.09 | 2.41 | 2.16 | NA | NA | XXX
76090 | 26 | A | Mammogram, one breast | 0.70 | 0.22 | 0.23 | 0.22 | 0.23 | 0.03 | 0.95 | 0.96 | 0.95 | 0.96 | XXX
76090 | TC | A | Mammogram, one breast | 0.00 | 1.40 | 1.14 | NA | NA | 0.06 | 1.46 | 1.20 | NA | NA | XXX
76091 |  | A | Mammogram, both breasts | 0.87 | 2.11 | 1.72 | NA | NA | 0.11 | 3.09 | 2.70 | NA | NA | XXX
76091 | 26 | A | Mammogram, both breasts | 0.87 | 0.27 | 0.28 | 0.27 | 0.28 | 0.04 | 1.18 | 1.19 | 1.18 | 1.19 | XXX
76091 | TC | A | Mammogram, both breasts | 0.00 | 1.84 | 1.44 | NA | NA | 0.07 | 1.91 | 1.51 | NA | NA | XXX
76092 |  | A | Mammogram, screening | 0.70 | 1.42 | 1.45 | NA | NA | 0.10 | 2.22 | 2.25 | NA | NA | XXX
76092 | 26 | A | Mammogram, screening | 0.70 | 0.22 | 0.23 | 0.22 | 0.23 | 0.03 | 0.95 | 0.96 | 0.95 | 0.96 | XXX
76092 | TC | A | Mammogram, screening | 0.00 | 1.20 | 1.22 | NA | NA | 0.07 | 1.27 | 1.29 | NA | NA | XXX
76093 |  | A | Magnetic image, breast | 1.63 | 22.03 | 19.12 | NA | NA | 0.99 | 24.65 | 21.74 | NA | NA | XXX
76093 | 26 | A | Magnetic image, breast | 1.63 | 0.53 | 0.53 | 0.53 | 0.53 | 0.07 | 2.23 | 2.23 | 2.23 | 2.23 | XXX
76093 | TC | A | Magnetic image, breast | 0.00 | 21.50 | 18.59 | NA | NA | 0.92 | 22.42 | 19.51 | NA | NA | XXX
76094 |  | A | Magnetic image, both breasts | 1.63 | 22.03 | 23.84 | NA | NA | 1.31 | 24.97 | 26.78 | NA | NA | XXX
76094 | 26 | A | Magnetic image, both breasts | 1.63 | 0.53 | 0.53 | 0.53 | 0.53 | 0.07 | 2.23 | 2.23 | 2.23 | 2.23 | XXX
76094 | TC | A | Magnetic image, both breasts | 0.00 | 21.50 | 23.31 | NA | NA | 1.24 | 22.74 | 24.55 | NA | NA | XXX
76095 |  | A | Stereotactic breast biopsy | 1.59 | 1.82 | 6.22 | NA | NA | 0.46 | 3.87 | 8.27 | NA | NA | XXX
76095 | 26 | A | Stereotactic breast biopsy | 1.59 | 0.48 | 0.51 | 0.48 | 0.51 | 0.09 | 2.16 | 2.19 | 2.16 | 2.19 | XXX
76095 | TC | A | Stereotactic breast biopsy | 0.00 | 1.34 | 5.71 | NA | NA | 0.37 | 1.71 | 6.08 | NA | NA | XXX
76096 |  | A | X-ray of needle wire, breast | 0.56 | 0.82 | 1.32 | NA | NA | 0.09 | 1.47 | 1.97 | NA | NA | XXX
76096 | 26 | A | X-ray of needle wire, breast | 0.56 | 0.18 | 0.18 | 0.18 | 0.18 | 0.02 | 0.76 | 0.76 | 0.76 | 0.76 | XXX
76096 | TC | A | X-ray of needle wire, breast | 0.00 | 0.64 | 1.14 | NA | NA | 0.07 | 0.71 | 1.21 | NA | NA | XXX
76098 |  | A | X-ray exam, breast specimen | 0.16 | 0.32 | 0.43 | NA | NA | 0.03 | 0.51 | 0.62 | NA | NA | XXX
76098 | 26 | A | X-ray exam, breast specimen | 0.16 | 0.05 | 0.05 | 0.05 | 0.05 | 0.01 | 0.22 | 0.22 | 0.22 | 0.22 | XXX
76098 | TC | A | X-ray exam, breast specimen | 0.00 | 0.27 | 0.38 | NA | NA | 0.02 | 0.29 | 0.40 | NA | NA | XXX
76100 |  | A | X-ray exam of body section | 0.58 | 3.54 | 1.97 | NA | NA | 0.10 | 4.22 | 2.65 | NA | NA | XXX
76100 | 26 | A | X-ray exam of body section | 0.58 | 0.20 | 0.19 | 0.20 | 0.19 | 0.03 | 0.81 | 0.80 | 0.81 | 0.80 | XXX
76100 | TC | A | X-ray exam of body section | 0.00 | 3.35 | 1.78 | NA | NA | 0.07 | 3.42 | 1.85 | NA | NA | XXX
76101 |  | A | Complex body section x-ray | 0.58 | 5.35 | 2.55 | NA | NA | 0.11 | 6.04 | 3.24 | NA | NA | XXX
76101 | 26 | A | Complex body section x-ray | 0.58 | 0.19 | 0.19 | 0.19 | 0.19 | 0.03 | 0.80 | 0.80 | 0.80 | 0.80 | XXX
76101 | TC | A | Complex body section x-ray | 0.00 | 5.16 | 2.36 | NA | NA | 0.08 | 5.24 | 2.44 | NA | NA | XXX
76102 |  | A | Complex body section x-rays | 0.58 | 7.74 | 3.38 | NA | NA | 0.14 | 8.46 | 4.10 | NA | NA | XXX
76102 | 26 | A | Complex body section x-rays | 0.58 | 0.18 | 0.19 | 0.18 | 0.19 | 0.03 | 0.79 | 0.80 | 0.79 | 0.80 | XXX
76102 | TC | A | Complex body section x-rays | 0.00 | 7.56 | 3.19 | NA | NA | 0.11 | 7.67 | 3.30 | NA | NA | XXX
76120 |  | A | Cine/video x-rays | 0.38 | 2.00 | 1.39 | NA | NA | 0.08 | 2.46 | 1.85 | NA | NA | XXX
76120 | 26 | A | Cine/video x-rays | 0.38 | 0.15 | 0.14 | 0.15 | 0.14 | 0.02 | 0.55 | 0.54 | 0.55 | 0.54 | XXX
76120 | TC | A | Cine/video x-rays | 0.00 | 1.85 | 1.25 | NA | NA | 0.06 | 1.91 | 1.31 | NA | NA | XXX
76125 |  | A | Cine/video x-rays add-on | 0.27 | NA | NA | NA | NA | 0.06 | NA | NA | NA | NA | ZZZ
76125 | 26 | A | Cine/video x-rays add-on | 0.27 | 0.10 | 0.09 | 0.10 | 0.09 | 0.01 | 0.38 | 0.37 | 0.38 | 0.37 | ZZZ
76125 | TC | A | Cine/video x-rays add-on | 0.00 | NA | NA | NA | NA | 0.05 | NA | NA | NA | NA | ZZZ
76150 |  | A | X-ray exam, dry process | 0.00 | 0.68 | 0.49 | NA | NA | 0.02 | 0.70 | 0.51 | NA | NA | XXX
76350 |  | C | Special x-ray contrast study | 0.00 | 0.00 | 0.00 | 0.00 | 0.00 | 0.00 | 0.00 | 0.00 | 0.00 | 0.00 | XXX
76355 |  | A | Ct scan for localization | 1.21 | 20.46 | 11.60 | NA | NA | 0.47 | 22.14 | 13.28 | NA | NA | XXX
76355 | 26 | A | Ct scan for localization | 1.21 | 0.37 | 0.39 | 0.37 | 0.39 | 0.05 | 1.63 | 1.65 | 1.63 | 1.65 | XXX
76355 | TC | A | Ct scan for localization | 0.00 | 20.09 | 11.22 | NA | NA | 0.42 | 20.51 | 11.64 | NA | NA | XXX
76360 |  | A | Ct scan for needle biopsy | 1.16 | 2.30 | 7.05 | NA | NA | 0.47 | 3.93 | 8.68 | NA | NA | XXX
76360 | 26 | A | Ct scan for needle biopsy | 1.16 | 0.37 | 0.38 | 0.37 | 0.38 | 0.05 | 1.58 | 1.59 | 1.58 | 1.59 | XXX
76360 | TC | A | Ct scan for needle biopsy | 0.00 | 1.93 | 6.68 | NA | NA | 0.42 | 2.35 | 7.10 | NA | NA | XXX
76362 |  | A | Ct guide for tissue ablation | 3.99 | NA | NA | NA | NA | 1.64 | NA | NA | NA | NA | XXX
76362 | 26 | A | Ct guide for tissue ablation | 3.99 | 1.25 | 1.29 | 1.25 | 1.29 | 0.18 | 5.42 | 5.46 | 5.42 | 5.46 | XXX
76362 | TC | A | Ct guide for tissue ablation | 0.00 | NA | NA | NA | NA | 1.46 | NA | NA | NA | NA | XXX
76370 |  | A | Ct scan for therapy guide | 0.85 | 4.43 | 3.53 | NA | NA | 0.20 | 5.48 | 4.58 | NA | NA | XXX
76370 | 26 | A | Ct scan for therapy guide | 0.85 | 0.24 | 0.27 | 0.24 | 0.27 | 0.04 | 1.13 | 1.16 | 1.13 | 1.16 | XXX
76370 | TC | A | Ct scan for therapy guide | 0.00 | 4.19 | 3.26 | NA | NA | 0.16 | 4.35 | 3.42 | NA | NA | XXX
76376 |  | A | 3d render w/o postprocess | 0.20 | 1.40 | 2.97 | NA | NA | 0.10 | 1.70 | 3.27 | NA | NA | XXX
76376 | 26 | A | 3d render w/o postprocess | 0.20 | 0.06 | 0.07 | 0.06 | 0.07 | 0.02 | 0.28 | 0.29 | 0.28 | 0.29 | XXX
76376 | TC | A | 3d render w/o postprocess | 0.00 | 1.34 | 2.90 | NA | NA | 0.08 | 1.42 | 2.98 | NA | NA | XXX
76377 |  | A | 3d rendering w/postprocess | 0.79 | 1.38 | 3.11 | NA | NA | 0.39 | 2.56 | 4.29 | NA | NA | XXX
76377 | 26 | A | 3d rendering w/postprocess | 0.79 | 0.25 | 0.27 | 0.25 | 0.27 | 0.08 | 1.12 | 1.14 | 1.12 | 1.14 | XXX
76377 | TC | A | 3d rendering w/postprocess | 0.00 | 1.13 | 2.85 | NA | NA | 0.31 | 1.44 | 3.16 | NA | NA | XXX
76380 |  | A | CAT scan follow-up study | 0.98 | 4.72 | 4.05 | NA | NA | 0.22 | 5.92 | 5.25 | NA | NA | XXX
76380 | 26 | A | CAT scan follow-up study | 0.98 | 0.31 | 0.32 | 0.31 | 0.32 | 0.04 | 1.33 | 1.34 | 1.33 | 1.34 | XXX
76380 | TC | A | CAT scan follow-up study | 0.00 | 4.42 | 3.73 | NA | NA | 0.18 | 4.60 | 3.91 | NA | NA | XXX
76390 |  | N | Mr spectroscopy | 1.40 | 9.51 | 10.99 | NA | NA | 0.66 | 11.57 | 13.05 | NA | NA | XXX
76390 | 26 | N | Mr spectroscopy | 1.40 | 0.33 | 0.44 | 0.33 | 0.44 | 0.07 | 1.80 | 1.91 | 1.80 | 1.91 | XXX
76390 | TC | N | Mr spectroscopy | 0.00 | 9.19 | 10.56 | NA | NA | 0.59 | 9.78 | 11.15 | NA | NA | XXX
76393 |  | A | Mr guidance for needle place | 1.50 | 9.83 | 11.23 | NA | NA | 0.64 | 11.97 | 13.37 | NA | NA | XXX
76393 | 26 | A | Mr guidance for needle place | 1.50 | 0.49 | 0.50 | 0.49 | 0.50 | 0.09 | 2.08 | 2.09 | 2.08 | 2.09 | XXX
76393 | TC | A | Mr guidance for needle place | 0.00 | 9.34 | 10.74 | NA | NA | 0.55 | 9.89 | 11.29 | NA | NA | XXX
76394 |  | A | Mri for tissue ablation | 4.24 | NA | NA | NA | NA | 1.81 | NA | NA | NA | NA | XXX
76394 | 26 | A | Mri for tissue ablation | 4.24 | 1.34 | 1.37 | 1.34 | 1.37 | 0.24 | 5.82 | 5.85 | 5.82 | 5.85 | XXX
76394 | TC | A | Mri for tissue ablation | 0.00 | NA | NA | NA | NA | 1.57 | NA | NA | NA | NA | XXX
76400 |  | A | Magnetic image, bone marrow | 1.60 | 14.85 | 12.50 | NA | NA | 0.66 | 17.11 | 14.76 | NA | NA | XXX
76400 | 26 | A | Magnetic image, bone marrow | 1.60 | 0.56 | 0.53 | 0.56 | 0.53 | 0.07 | 2.23 | 2.20 | 2.23 | 2.20 | XXX
76400 | TC | A | Magnetic image, bone marrow | 0.00 | 14.30 | 11.98 | NA | NA | 0.59 | 14.89 | 12.57 | NA | NA | XXX
76496 |  | C | Fluoroscopic procedure | 0.00 | 0.00 | 0.00 | 0.00 | 0.00 | 0.00 | 0.00 | 0.00 | 0.00 | 0.00 | XXX
76496 | 26 | C | Fluoroscopic procedure | 0.00 | 0.00 | 0.00 | 0.00 | 0.00 | 0.00 | 0.00 | 0.00 | 0.00 | 0.00 | XXX
76496 | TC | C | Fluoroscopic procedure | 0.00 | 0.00 | 0.00 | 0.00 | 0.00 | 0.00 | 0.00 | 0.00 | 0.00 | 0.00 | XXX
76497 |  | C | Ct procedure | 0.00 | 0.00 | 0.00 | 0.00 | 0.00 | 0.00 | 0.00 | 0.00 | 0.00 | 0.00 | XXX
76497 | 26 | C | Ct procedure | 0.00 | 0.00 | 0.00 | 0.00 | 0.00 | 0.00 | 0.00 | 0.00 | 0.00 | 0.00 | XXX
76497 | TC | C | Ct procedure | 0.00 | 0.00 | 0.00 | 0.00 | 0.00 | 0.00 | 0.00 | 0.00 | 0.00 | 0.00 | XXX
76498 |  | C | Mri procedure | 0.00 | 0.00 | 0.00 | 0.00 | 0.00 | 0.00 | 0.00 | 0.00 | 0.00 | 0.00 | XXX
76498 | 26 | C | Mri procedure | 0.00 | 0.00 | 0.00 | 0.00 | 0.00 | 0.00 | 0.00 | 0.00 | 0.00 | 0.00 | XXX
76498 | TC | C | Mri procedure | 0.00 | 0.00 | 0.00 | 0.00 | 0.00 | 0.00 | 0.00 | 0.00 | 0.00 | 0.00 | XXX
76499 |  | C | Radiographic procedure | 0.00 | 0.00 | 0.00 | 0.00 | 0.00 | 0.00 | 0.00 | 0.00 | 0.00 | 0.00 | XXX
76499 | 26 | C | Radiographic procedure | 0.00 | 0.00 | 0.00 | 0.00 | 0.00 | 0.00 | 0.00 | 0.00 | 0.00 | 0.00 | XXX
76499 | TC | C | Radiographic procedure | 0.00 | 0.00 | 0.00 | 0.00 | 0.00 | 0.00 | 0.00 | 0.00 | 0.00 | 0.00 | XXX
76506 |  | A | Echo exam of head | 0.63 | 2.83 | 1.95 | NA | NA | 0.14 | 3.60 | 2.72 | NA | NA | XXX
76506 | 26 | A | Echo exam of head | 0.63 | 0.20 | 0.23 | 0.20 | 0.23 | 0.06 | 0.89 | 0.92 | 0.89 | 0.92 | XXX
76506 | TC | A | Echo exam of head | 0.00 | 2.63 | 1.72 | NA | NA | 0.08 | 2.71 | 1.80 | NA | NA | XXX
76510 |  | A | Ophth us, b & quant a | 1.55 | 2.31 | 2.72 | NA | NA | 0.10 | 3.96 | 4.37 | NA | NA | XXX
76510 | 26 | A | Ophth us, b & quant a | 1.55 | 0.58 | 0.66 | 0.58 | 0.66 | 0.03 | 2.16 | 2.24 | 2.16 | 2.24 | XXX
76510 | TC | A | Ophth us, b & quant a | 0.00 | 1.73 | 2.07 | NA | NA | 0.07 | 1.80 | 2.14 | NA | NA | XXX
76511 |  | A | Ophth us, quant a only | 0.94 | 1.39 | 2.17 | NA | NA | 0.10 | 2.43 | 3.21 | NA | NA | XXX
76511 | 26 | A | Ophth us, quant a only | 0.94 | 0.35 | 0.39 | 0.35 | 0.39 | 0.03 | 1.32 | 1.36 | 1.32 | 1.36 | XXX
76511 | TC | A | Ophth us, quant a only | 0.00 | 1.05 | 1.79 | NA | NA | 0.07 | 1.12 | 1.86 | NA | NA | XXX
76512 |  | A | Ophth us, b w/non-quant a | 0.94 | 1.19 | 1.97 | NA | NA | 0.12 | 2.25 | 3.03 | NA | NA | XXX
76512 | 26 | A | Ophth us, b w/non-quant a | 0.94 | 0.35 | 0.40 | 0.35 | 0.40 | 0.02 | 1.31 | 1.36 | 1.31 | 1.36 | XXX
76512 | TC | A | Ophth us, b w/non-quant a | 0.00 | 0.85 | 1.57 | NA | NA | 0.10 | 0.95 | 1.67 | NA | NA | XXX
76513 |  | A | Echo exam of eye, water bath | 0.66 | 1.58 | 1.75 | NA | NA | 0.12 | 2.36 | 2.53 | NA | NA | XXX
76513 | 26 | A | Echo exam of eye, water bath | 0.66 | 0.25 | 0.28 | 0.25 | 0.28 | 0.02 | 0.93 | 0.96 | 0.93 | 0.96 | XXX
76513 | TC | A | Echo exam of eye, water bath | 0.00 | 1.33 | 1.47 | NA | NA | 0.10 | 1.43 | 1.57 | NA | NA | XXX
76514 |  | A | Echo exam of eye, thickness | 0.17 | 0.17 | 0.14 | NA | NA | 0.02 | 0.36 | 0.33 | NA | NA | XXX
76514 | 26 | A | Echo exam of eye, thickness | 0.17 | 0.06 | 0.08 | 0.06 | 0.08 | 0.01 | 0.24 | 0.26 | 0.24 | 0.26 | XXX
76514 | TC | A | Echo exam of eye, thickness | 0.00 | 0.11 | 0.07 | NA | NA | 0.01 | 0.12 | 0.08 | NA | NA | XXX
76516 |  | A | Echo exam of eye | 0.54 | 1.19 | 1.39 | NA | NA | 0.08 | 1.81 | 2.01 | NA | NA | XXX
76516 | 26 | A | Echo exam of eye | 0.54 | 0.19 | 0.23 | 0.19 | 0.23 | 0.01 | 0.74 | 0.78 | 0.74 | 0.78 | XXX
76516 | TC | A | Echo exam of eye | 0.00 | 1.00 | 1.17 | NA | NA | 0.07 | 1.07 | 1.24 | NA | NA | XXX
76519 |  | A | Echo exam of eye | 0.54 | 1.33 | 1.50 | NA | NA | 0.08 | 1.95 | 2.12 | NA | NA | XXX
76519 | 26 | A | Echo exam of eye | 0.54 | 0.20 | 0.23 | 0.20 | 0.23 | 0.01 | 0.75 | 0.78 | 0.75 | 0.78 | XXX
76519 | TC | A | Echo exam of eye | 0.00 | 1.12 | 1.26 | NA | NA | 0.07 | 1.19 | 1.33 | NA | NA | XXX
76529 |  | A | Echo exam of eye | 0.57 | 1.19 | 1.33 | NA | NA | 0.10 | 1.86 | 2.00 | NA | NA | XXX
76529 | 26 | A | Echo exam of eye | 0.57 | 0.21 | 0.23 | 0.21 | 0.23 | 0.02 | 0.80 | 0.82 | 0.80 | 0.82 | XXX
76529 | TC | A | Echo exam of eye | 0.00 | 0.98 | 1.09 | NA | NA | 0.08 | 1.06 | 1.17 | NA | NA | XXX
76536 |  | A | Us exam of head and neck | 0.56 | 2.69 | 1.87 | NA | NA | 0.10 | 3.35 | 2.53 | NA | NA | XXX
76536 | 26 | A | Us exam of head and neck | 0.56 | 0.17 | 0.18 | 0.17 | 0.18 | 0.02 | 0.75 | 0.76 | 0.75 | 0.76 | XXX
76536 | TC | A | Us exam of head and neck | 0.00 | 2.52 | 1.70 | NA | NA | 0.08 | 2.60 | 1.78 | NA | NA | XXX
76604 |  | A | Us exam, chest, b-scan | 0.55 | 1.81 | 1.57 | NA | NA | 0.09 | 2.45 | 2.21 | NA | NA | XXX
76604 | 26 | A | Us exam, chest, b-scan | 0.55 | 0.17 | 0.18 | 0.17 | 0.18 | 0.02 | 0.74 | 0.75 | 0.74 | 0.75 | XXX
76604 | TC | A | Us exam, chest, b-scan | 0.00 | 1.64 | 1.39 | NA | NA | 0.07 | 1.71 | 1.46 | NA | NA | XXX
76645 |  | A | Us exam, breast(s) | 0.54 | 2.11 | 1.45 | NA | NA | 0.08 | 2.73 | 2.07 | NA | NA | XXX
76645 | 26 | A | Us exam, breast(s) | 0.54 | 0.17 | 0.18 | 0.17 | 0.18 | 0.02 | 0.73 | 0.74 | 0.73 | 0.74 | XXX
76645 | TC | A | Us exam, breast(s) | 0.00 | 1.94 | 1.27 | NA | NA | 0.06 | 2.00 | 1.33 | NA | NA | XXX
76700 |  | A | Us exam, abdom, complete | 0.81 | 3.04 | 2.44 | NA | NA | 0.15 | 4.00 | 3.40 | NA | NA | XXX
76700 | 26 | A | Us exam, abdom, complete | 0.81 | 0.26 | 0.27 | 0.26 | 0.27 | 0.04 | 1.11 | 1.12 | 1.11 | 1.12 | XXX
76700 | TC | A | Us exam, abdom, complete | 0.00 | 2.78 | 2.17 | NA | NA | 0.11 | 2.89 | 2.28 | NA | NA | XXX
76705 |  | A | Echo exam of abdomen | 0.59 | 2.34 | 1.79 | NA | NA | 0.11 | 3.04 | 2.49 | NA | NA | XXX
76705 | 26 | A | Echo exam of abdomen | 0.59 | 0.19 | 0.19 | 0.19 | 0.19 | 0.03 | 0.81 | 0.81 | 0.81 | 0.81 | XXX
76705 | TC | A | Echo exam of abdomen | 0.00 | 2.16 | 1.61 | NA | NA | 0.08 | 2.24 | 1.69 | NA | NA | XXX
76770 |  | A | Us exam abdo back wall, comp | 0.74 | 2.94 | 2.39 | NA | NA | 0.14 | 3.82 | 3.27 | NA | NA | XXX
76770 | 26 | A | Us exam abdo back wall, comp | 0.74 | 0.24 | 0.24 | 0.24 | 0.24 | 0.03 | 1.01 | 1.01 | 1.01 | 1.01 | XXX
76770 | TC | A | Us exam abdo back wall, comp | 0.00 | 2.70 | 2.15 | NA | NA | 0.11 | 2.81 | 2.26 | NA | NA | XXX
76775 |  | A | Us exam abdo back wall, lim | 0.58 | 2.42 | 1.81 | NA | NA | 0.11 | 3.11 | 2.50 | NA | NA | XXX
76775 | 26 | A | Us exam abdo back wall, lim | 0.58 | 0.19 | 0.19 | 0.19 | 0.19 | 0.03 | 0.80 | 0.80 | 0.80 | 0.80 | XXX
76775 | TC | A | Us exam abdo back wall, lim | 0.00 | 2.23 | 1.62 | NA | NA | 0.08 | 2.31 | 1.70 | NA | NA | XXX
76778 |  | A | Us exam kidney transplant | 0.74 | 3.21 | 2.46 | NA | NA | 0.14 | 4.09 | 3.34 | NA | NA | XXX
76778 | 26 | A | Us exam kidney transplant | 0.74 | 0.23 | 0.24 | 0.23 | 0.24 | 0.03 | 1.00 | 1.01 | 1.00 | 1.01 | XXX
76778 | TC | A | Us exam kidney transplant | 0.00 | 2.98 | 2.22 | NA | NA | 0.11 | 3.09 | 2.33 | NA | NA | XXX
76800 |  | A | Us exam, spinal canal | 1.13 | 2.34 | 1.90 | NA | NA | 0.13 | 3.60 | 3.16 | NA | NA | XXX
76800 | 26 | A | Us exam, spinal canal | 1.13 | 0.30 | 0.33 | 0.30 | 0.33 | 0.05 | 1.48 | 1.51 | 1.48 | 1.51 | XXX
76800 | TC | A | Us exam, spinal canal | 0.00 | 2.04 | 1.58 | NA | NA | 0.08 | 2.12 | 1.66 | NA | NA | XXX
76801 |  | A | Ob us < 14 wks, single fetus | 0.99 | 2.46 | 2.45 | NA | NA | 0.16 | 3.61 | 3.60 | NA | NA | XXX
76801 | 26 | A | Ob us < 14 wks, single fetus | 0.99 | 0.30 | 0.33 | 0.30 | 0.33 | 0.04 | 1.33 | 1.36 | 1.33 | 1.36 | XXX
76801 | TC | A | Ob us < 14 wks, single fetus | 0.00 | 2.16 | 2.12 | NA | NA | 0.12 | 2.28 | 2.24 | NA | NA | XXX
76802 |  | A | Ob us < 14 wks, addIl fetus | 0.83 | 0.97 | 1.25 | 0.97 | 1.25 | 0.16 | 1.96 | 2.24 | 1.96 | 2.24 | ZZZ
76802 | 26 | A | Ob us < 14 wks, addIl fetus | 0.83 | 0.25 | 0.28 | 0.25 | 0.28 | 0.04 | 1.12 | 1.15 | 1.12 | 1.15 | ZZZ
76802 | TC | A | Ob us < 14 wks, addIl fetus | 0.00 | 0.72 | 0.97 | 0.72 | 0.97 | 0.12 | 0.84 | 1.09 | 0.84 | 1.09 | ZZZ
76805 |  | A | Ob us >/= 14 wks, sngl fetus | 0.99 | 3.05 | 2.59 | NA | NA | 0.16 | 4.20 | 3.74 | NA | NA | XXX
76805 | 26 | A | Ob us >/= 14 wks, sngl fetus | 0.99 | 0.29 | 0.33 | 0.29 | 0.33 | 0.04 | 1.32 | 1.36 | 1.32 | 1.36 | XXX
76805 | TC | A | Ob us >/= 14 wks, sngl fetus | 0.00 | 2.75 | 2.26 | NA | NA | 0.12 | 2.87 | 2.38 | NA | NA | XXX
76810 |  | A | Ob us >/= 14 wks, addl fetus | 0.98 | 1.66 | 1.46 | 1.66 | 1.46 | 0.26 | 2.90 | 2.70 | 2.90 | 2.70 | ZZZ
76810 | 26 | A | Ob us >/= 14 wks, addl fetus | 0.98 | 0.29 | 0.33 | 0.29 | 0.33 | 0.04 | 1.31 | 1.35 | 1.31 | 1.35 | ZZZ
76810 | TC | A | Ob us >/= 14 wks, addl fetus | 0.00 | 1.37 | 1.13 | 1.37 | 1.13 | 0.22 | 1.59 | 1.35 | 1.59 | 1.35 | ZZZ
76811 |  | A | Ob us, detailed, sngl fetus | 1.90 | 3.07 | 3.95 | NA | NA | 0.52 | 5.49 | 6.37 | NA | NA | XXX
76811 | 26 | A | Ob us, detailed, sngl fetus | 1.90 | 0.54 | 0.67 | 0.54 | 0.67 | 0.09 | 2.53 | 2.66 | 2.53 | 2.66 | XXX
76811 | TC | A | Ob us, detailed, sngl fetus | 0.00 | 2.53 | 3.28 | NA | NA | 0.43 | 2.96 | 3.71 | NA | NA | XXX
76812 |  | A | Ob us, detailed, addl fetus | 1.78 | 3.98 | 2.28 | 3.98 | 2.28 | 0.49 | 6.25 | 4.55 | 6.25 | 4.55 | ZZZ
76812 | 26 | A | Ob us, detailed, addl fetus | 1.78 | 0.51 | 0.62 | 0.51 | 0.62 | 0.08 | 2.37 | 2.48 | 2.37 | 2.48 | ZZZ
76812 | TC | A | Ob us, detailed, addl fetus | 0.00 | 3.47 | 1.66 | 3.47 | 1.66 | 0.41 | 3.88 | 2.07 | 3.88 | 2.07 | ZZZ
76815 |  | A | Ob us, limited, fetus(s) | 0.65 | 1.80 | 1.69 | NA | NA | 0.11 | 2.56 | 2.45 | NA | NA | XXX
76815 | 26 | A | Ob us, limited, fetus(s) | 0.65 | 0.19 | 0.22 | 0.19 | 0.22 | 0.03 | 0.87 | 0.90 | 0.87 | 0.90 | XXX
76815 | TC | A | Ob us, limited, fetus(s) | 0.00 | 1.61 | 1.47 | NA | NA | 0.08 | 1.69 | 1.55 | NA | NA | XXX
76816 |  | A | Ob us, follow-up, per fetus | 0.85 | 2.40 | 1.67 | NA | NA | 0.10 | 3.35 | 2.62 | NA | NA | XXX
76816 | 26 | A | Ob us, follow-up, per fetus | 0.85 | 0.24 | 0.30 | 0.24 | 0.30 | 0.04 | 1.13 | 1.19 | 1.13 | 1.19 | XXX
76816 | TC | A | Ob us, follow-up, per fetus | 0.00 | 2.15 | 1.37 | NA | NA | 0.06 | 2.21 | 1.43 | NA | NA | XXX
76817 |  | A | Transvaginal us, obstetric | 0.75 | 2.02 | 1.83 | NA | NA | 0.09 | 2.86 | 2.67 | NA | NA | XXX
76817 | 26 | A | Transvaginal us, obstetric | 0.75 | 0.22 | 0.25 | 0.22 | 0.25 | 0.03 | 1.00 | 1.03 | 1.00 | 1.03 | XXX
76817 | TC | A | Transvaginal us, obstetric | 0.00 | 1.80 | 1.59 | NA | NA | 0.06 | 1.86 | 1.65 | NA | NA | XXX
76818 |  | A | Fetal biophys profile w/nst | 1.05 | 2.22 | 2.05 | NA | NA | 0.15 | 3.42 | 3.25 | NA | NA | XXX
76818 | 26 | A | Fetal biophys profile w/nst | 1.05 | 0.30 | 0.37 | 0.30 | 0.37 | 0.05 | 1.40 | 1.47 | 1.40 | 1.47 | XXX
76818 | TC | A | Fetal biophys profile w/nst | 0.00 | 1.92 | 1.69 | NA | NA | 0.10 | 2.02 | 1.79 | NA | NA | XXX
76819 |  | A | Fetal biophys profil w/o nst | 0.77 | 1.63 | 1.82 | NA | NA | 0.13 | 2.53 | 2.72 | NA | NA | XXX
76819 | 26 | A | Fetal biophys profil w/o nst | 0.77 | 0.23 | 0.27 | 0.23 | 0.27 | 0.03 | 1.03 | 1.07 | 1.03 | 1.07 | XXX
76819 | TC | A | Fetal biophys profil w/o nst | 0.00 | 1.41 | 1.56 | NA | NA | 0.10 | 1.51 | 1.66 | NA | NA | XXX
76820 |  | A | Umbilical artery echo | 0.50 | 0.57 | 1.49 | NA | NA | 0.15 | 1.22 | 2.14 | NA | NA | XXX
76820 | 26 | A | Umbilical artery echo | 0.50 | 0.14 | 0.18 | 0.14 | 0.18 | 0.03 | 0.67 | 0.71 | 0.67 | 0.71 | XXX
76820 | TC | A | Umbilical artery echo | 0.00 | 0.43 | 1.32 | NA | NA | 0.12 | 0.55 | 1.44 | NA | NA | XXX
76821 |  | A | Middle cerebral artery echo | 0.70 | 1.88 | 1.87 | NA | NA | 0.15 | 2.73 | 2.72 | NA | NA | XXX
76821 | 26 | A | Middle cerebral artery echo | 0.70 | 0.20 | 0.25 | 0.20 | 0.25 | 0.03 | 0.93 | 0.98 | 0.93 | 0.98 | XXX
76821 | TC | A | Middle cerebral artery echo | 0.00 | 1.68 | 1.63 | NA | NA | 0.12 | 1.80 | 1.75 | NA | NA | XXX
76825 |  | A | Echo exam of fetal heart | 1.67 | 4.37 | 3.02 | NA | NA | 0.18 | 6.22 | 4.87 | NA | NA | XXX
76825 | 26 | A | Echo exam of fetal heart | 1.67 | 0.49 | 0.57 | 0.49 | 0.57 | 0.07 | 2.23 | 2.31 | 2.23 | 2.31 | XXX
76825 | TC | A | Echo exam of fetal heart | 0.00 | 3.88 | 2.45 | NA | NA | 0.11 | 3.99 | 2.56 | NA | NA | XXX
76826 |  | A | Echo exam of fetal heart | 0.83 | 2.75 | 1.44 | NA | NA | 0.08 | 3.66 | 2.35 | NA | NA | XXX
76826 | 26 | A | Echo exam of fetal heart | 0.83 | 0.24 | 0.28 | 0.24 | 0.28 | 0.03 | 1.10 | 1.14 | 1.10 | 1.14 | XXX
76826 | TC | A | Echo exam of fetal heart | 0.00 | 2.51 | 1.16 | NA | NA | 0.05 | 2.56 | 1.21 | NA | NA | XXX
76827 |  | A | Echo exam of fetal heart | 0.58 | 1.07 | 1.71 | NA | NA | 0.14 | 1.79 | 2.43 | NA | NA | XXX
76827 | 26 | A | Echo exam of fetal heart | 0.58 | 0.17 | 0.20 | 0.17 | 0.20 | 0.02 | 0.77 | 0.80 | 0.77 | 0.80 | XXX
76827 | TC | A | Echo exam of fetal heart | 0.00 | 0.90 | 1.52 | NA | NA | 0.12 | 1.02 | 1.64 | NA | NA | XXX
76828 |  | A | Echo exam of fetal heart | 0.56 | 0.64 | 1.16 | NA | NA | 0.11 | 1.31 | 1.83 | NA | NA | XXX
76828 | 26 | A | Echo exam of fetal heart | 0.56 | 0.16 | 0.21 | 0.16 | 0.21 | 0.03 | 0.75 | 0.80 | 0.75 | 0.80 | XXX
76828 | TC | A | Echo exam of fetal heart | 0.00 | 0.48 | 0.95 | NA | NA | 0.08 | 0.56 | 1.03 | NA | NA | XXX
76830 |  | A | Transvaginal us, non-ob | 0.69 | 2.77 | 2.00 | NA | NA | 0.13 | 3.59 | 2.82 | NA | NA | XXX
76830 | 26 | A | Transvaginal us, non-ob | 0.69 | 0.21 | 0.23 | 0.21 | 0.23 | 0.03 | 0.93 | 0.95 | 0.93 | 0.95 | XXX
76830 | TC | A | Transvaginal us, non-ob | 0.00 | 2.56 | 1.78 | NA | NA | 0.10 | 2.66 | 1.88 | NA | NA | XXX
76831 |  | A | Echo exam, uterus | 0.72 | 2.76 | 2.01 | NA | NA | 0.13 | 3.61 | 2.86 | NA | NA | XXX
76831 | 26 | A | Echo exam, uterus | 0.72 | 0.21 | 0.24 | 0.21 | 0.24 | 0.03 | 0.96 | 0.99 | 0.96 | 0.99 | XXX
76831 | TC | A | Echo exam, uterus | 0.00 | 2.55 | 1.78 | NA | NA | 0.10 | 2.65 | 1.88 | NA | NA | XXX
76856 |  | A | Us exam, pelvic, complete | 0.69 | 2.81 | 2.01 | NA | NA | 0.13 | 3.63 | 2.83 | NA | NA | XXX
76856 | 26 | A | Us exam, pelvic, complete | 0.69 | 0.22 | 0.23 | 0.22 | 0.23 | 0.03 | 0.94 | 0.95 | 0.94 | 0.95 | XXX
76856 | TC | A | Us exam, pelvic, complete | 0.00 | 2.59 | 1.79 | NA | NA | 0.10 | 2.69 | 1.89 | NA | NA | XXX
76857 |  | A | Us exam, pelvic, limited | 0.38 | 2.53 | 2.00 | NA | NA | 0.08 | 2.99 | 2.46 | NA | NA | XXX
76857 | 26 | A | Us exam, pelvic, limited | 0.38 | 0.14 | 0.13 | 0.14 | 0.13 | 0.02 | 0.54 | 0.53 | 0.54 | 0.53 | XXX
76857 | TC | A | Us exam, pelvic, limited | 0.00 | 2.38 | 1.88 | NA | NA | 0.06 | 2.44 | 1.94 | NA | NA | XXX
76870 |  | A | Us exam, scrotum | 0.64 | 2.83 | 2.00 | NA | NA | 0.13 | 3.60 | 2.77 | NA | NA | XXX
76870 | 26 | A | Us exam, scrotum | 0.64 | 0.21 | 0.21 | 0.21 | 0.21 | 0.03 | 0.88 | 0.88 | 0.88 | 0.88 | XXX
76870 | TC | A | Us exam, scrotum | 0.00 | 2.62 | 1.80 | NA | NA | 0.10 | 2.72 | 1.90 | NA | NA | XXX
76872 |  | A | Us, transrectal | 0.69 | 3.43 | 2.54 | NA | NA | 0.14 | 4.26 | 3.37 | NA | NA | XXX
76872 | 26 | A | Us, transrectal | 0.69 | 0.27 | 0.23 | 0.27 | 0.23 | 0.04 | 1.00 | 0.96 | 1.00 | 0.96 | XXX
76872 | TC | A | Us, transrectal | 0.00 | 3.16 | 2.31 | NA | NA | 0.10 | 3.26 | 2.41 | NA | NA | XXX
76873 |  | A | Echograp trans r, pros study | 1.55 | 3.39 | 2.80 | NA | NA | 0.25 | 5.19 | 4.60 | NA | NA | XXX
76873 | 26 | A | Echograp trans r, pros study | 1.55 | 0.51 | 0.50 | 0.51 | 0.50 | 0.09 | 2.15 | 2.14 | 2.15 | 2.14 | XXX
76873 | TC | A | Echograp trans r, pros study | 0.00 | 2.87 | 2.29 | NA | NA | 0.16 | 3.03 | 2.45 | NA | NA | XXX
76880 |  | A | Us exam, extremity | 0.59 | 3.19 | 2.01 | NA | NA | 0.11 | 3.89 | 2.71 | NA | NA | XXX
76880 | 26 | A | Us exam, extremity | 0.59 | 0.18 | 0.19 | 0.18 | 0.19 | 0.03 | 0.80 | 0.81 | 0.80 | 0.81 | XXX
76880 | TC | A | Us exam, extremity | 0.00 | 3.01 | 1.82 | NA | NA | 0.08 | 3.09 | 1.90 | NA | NA | XXX
76885 |  | A | Us exam infant hips, dynamic | 0.74 | 3.21 | 2.12 | NA | NA | 0.13 | 4.08 | 2.99 | NA | NA | XXX
76885 | 26 | A | Us exam infant hips, dynamic | 0.74 | 0.22 | 0.24 | 0.22 | 0.24 | 0.03 | 0.99 | 1.01 | 0.99 | 1.01 | XXX
76885 | TC | A | Us exam infant hips, dynamic | 0.00 | 2.99 | 1.89 | NA | NA | 0.10 | 3.09 | 1.99 | NA | NA | XXX
76886 |  | A | Us exam infant hips, static | 0.62 | 2.30 | 1.79 | NA | NA | 0.11 | 3.03 | 2.52 | NA | NA | XXX
76886 | 26 | A | Us exam infant hips, static | 0.62 | 0.18 | 0.20 | 0.18 | 0.20 | 0.03 | 0.83 | 0.85 | 0.83 | 0.85 | XXX
76886 | TC | A | Us exam infant hips, static | 0.00 | 2.12 | 1.60 | NA | NA | 0.08 | 2.20 | 1.68 | NA | NA | XXX
76930 |  | A | Echo guide, cardiocentesis | 0.67 | 2.11 | 1.85 | NA | NA | 0.12 | 2.90 | 2.64 | NA | NA | XXX
76930 | 26 | A | Echo guide, cardiocentesis | 0.67 | 0.34 | 0.27 | 0.34 | 0.27 | 0.02 | 1.03 | 0.96 | 1.03 | 0.96 | XXX
76930 | TC | A | Echo guide, cardiocentesis | 0.00 | 1.76 | 1.58 | NA | NA | 0.10 | 1.86 | 1.68 | NA | NA | XXX
76932 |  | A | Echo guide for heart biopsy | 0.67 | NA | NA | NA | NA | 0.12 | NA | NA | NA | NA | XXX
76932 | 26 | A | Echo guide for heart biopsy | 0.67 | 0.35 | 0.28 | 0.35 | 0.28 | 0.02 | 1.04 | 0.97 | 1.04 | 0.97 | XXX
76932 | TC | A | Echo guide for heart biopsy | 0.00 | NA | NA | NA | NA | 0.10 | NA | NA | NA | NA | XXX
76936 |  | A | Echo guide for artery repair | 1.99 | 6.05 | 6.73 | NA | NA | 0.47 | 8.51 | 9.19 | NA | NA | XXX
76936 | 26 | A | Echo guide for artery repair | 1.99 | 0.67 | 0.66 | 0.67 | 0.66 | 0.13 | 2.79 | 2.78 | 2.79 | 2.78 | XXX
76936 | TC | A | Echo guide for artery repair | 0.00 | 5.38 | 6.06 | NA | NA | 0.34 | 5.72 | 6.40 | NA | NA | XXX
76937 |  | A | Us guide, vascular access | 0.30 | 0.61 | 0.51 | 0.61 | 0.51 | 0.13 | 1.04 | 0.94 | 1.04 | 0.94 | ZZZ
76937 | 26 | A | Us guide, vascular access | 0.30 | 0.09 | 0.10 | 0.09 | 0.10 | 0.03 | 0.42 | 0.43 | 0.42 | 0.43 | ZZZ
76937 | TC | A | Us guide, vascular access | 0.00 | 0.52 | 0.42 | 0.52 | 0.42 | 0.10 | 0.62 | 0.52 | 0.62 | 0.52 | ZZZ
76940 |  | A | Us guide, tissue ablation | 2.00 | NA | NA | NA | NA | 0.60 | NA | NA | NA | NA | XXX
76940 | 26 | A | Us guide, tissue ablation | 2.00 | 0.60 | 0.64 | 0.60 | 0.64 | 0.31 | 2.91 | 2.95 | 2.91 | 2.95 | XXX
76940 | TC | A | Us guide, tissue ablation | 0.00 | NA | NA | NA | NA | 0.29 | NA | NA | NA | NA | XXX
76941 |  | A | Echo guide for transfusion | 1.34 | NA | NA | NA | NA | 0.15 | NA | NA | NA | NA | XXX
76941 | 26 | A | Echo guide for transfusion | 1.34 | 0.44 | 0.46 | 0.44 | 0.46 | 0.07 | 1.85 | 1.87 | 1.85 | 1.87 | XXX
76941 | TC | A | Echo guide for transfusion | 0.00 | NA | NA | NA | NA | 0.08 | NA | NA | NA | NA | XXX
76942 |  | A | Echo guide for biopsy | 0.67 | 4.83 | 3.48 | NA | NA | 0.13 | 5.63 | 4.28 | NA | NA | XXX
76942 | 26 | A | Echo guide for biopsy | 0.67 | 0.23 | 0.22 | 0.23 | 0.22 | 0.03 | 0.93 | 0.92 | 0.93 | 0.92 | XXX
76942 | TC | A | Echo guide for biopsy | 0.00 | 4.60 | 3.26 | NA | NA | 0.10 | 4.70 | 3.36 | NA | NA | XXX
76945 |  | A | Echo guide, villus sampling | 0.67 | NA | NA | NA | NA | 0.11 | NA | NA | NA | NA | XXX
76945 | 26 | A | Echo guide, villus sampling | 0.67 | 0.21 | 0.22 | 0.21 | 0.22 | 0.03 | 0.91 | 0.92 | 0.91 | 0.92 | XXX
76945 | TC | A | Echo guide, villus sampling | 0.00 | NA | NA | NA | NA | 0.08 | NA | NA | NA | NA | XXX
76946 |  | A | Echo guide for amniocentesis | 0.38 | 0.45 | 1.36 | NA | NA | 0.12 | 0.95 | 1.86 | NA | NA | XXX
76946 | 26 | A | Echo guide for amniocentesis | 0.38 | 0.11 | 0.13 | 0.11 | 0.13 | 0.02 | 0.51 | 0.53 | 0.51 | 0.53 | XXX
76946 | TC | A | Echo guide for amniocentesis | 0.00 | 0.34 | 1.23 | NA | NA | 0.10 | 0.44 | 1.33 | NA | NA | XXX
76948 |  | A | Echo guide, ova aspiration | 0.38 | 0.45 | 1.35 | NA | NA | 0.12 | 0.95 | 1.85 | NA | NA | XXX
76948 | 26 | A | Echo guide, ova aspiration | 0.38 | 0.11 | 0.13 | 0.11 | 0.13 | 0.02 | 0.51 | 0.53 | 0.51 | 0.53 | XXX
76948 | TC | A | Echo guide, ova aspiration | 0.00 | 0.34 | 1.23 | NA | NA | 0.10 | 0.44 | 1.33 | NA | NA | XXX
76950 |  | A | Echo guidance radiotherapy | 0.58 | 1.16 | 1.42 | NA | NA | 0.10 | 1.84 | 2.10 | NA | NA | XXX
76950 | 26 | A | Echo guidance radiotherapy | 0.58 | 0.16 | 0.18 | 0.16 | 0.18 | 0.03 | 0.77 | 0.79 | 0.77 | 0.79 | XXX
76950 | TC | A | Echo guidance radiotherapy | 0.00 | 1.00 | 1.23 | NA | NA | 0.07 | 1.07 | 1.30 | NA | NA | XXX
76965 |  | A | Echo guidance radiotherapy | 1.34 | 1.18 | 4.80 | NA | NA | 0.37 | 2.89 | 6.51 | NA | NA | XXX
76965 | 26 | A | Echo guidance radiotherapy | 1.34 | 0.48 | 0.44 | 0.48 | 0.44 | 0.08 | 1.90 | 1.86 | 1.90 | 1.86 | XXX
76965 | TC | A | Echo guidance radiotherapy | 0.00 | 0.70 | 4.35 | NA | NA | 0.29 | 0.99 | 4.64 | NA | NA | XXX
76970 |  | A | Ultrasound exam follow-up | 0.40 | 2.14 | 1.42 | NA | NA | 0.08 | 2.62 | 1.90 | NA | NA | XXX
76970 | 26 | A | Ultrasound exam follow-up | 0.40 | 0.11 | 0.13 | 0.11 | 0.13 | 0.02 | 0.53 | 0.55 | 0.53 | 0.55 | XXX
76970 | TC | A | Ultrasound exam follow-up | 0.00 | 2.03 | 1.30 | NA | NA | 0.06 | 2.09 | 1.36 | NA | NA | XXX
76975 |  | A | GI endoscopic ultrasound | 0.81 | NA | NA | NA | NA | 0.14 | NA | NA | NA | NA | XXX
76975 | 26 | A | GI endoscopic ultrasound | 0.81 | 0.29 | 0.28 | 0.29 | 0.28 | 0.04 | 1.14 | 1.13 | 1.14 | 1.13 | XXX
76975 | TC | A | GI endoscopic ultrasound | 0.00 | NA | NA | NA | NA | 0.10 | NA | NA | NA | NA | XXX
76977 |  | A | Us bone density measure | 0.05 | 0.11 | 0.66 | NA | NA | 0.06 | 0.22 | 0.77 | NA | NA | XXX
76977 | 26 | A | Us bone density measure | 0.05 | 0.01 | 0.02 | 0.01 | 0.02 | 0.01 | 0.07 | 0.08 | 0.07 | 0.08 | XXX
76977 | TC | A | Us bone density measure | 0.00 | 0.09 | 0.64 | NA | NA | 0.05 | 0.14 | 0.69 | NA | NA | XXX
76986 |  | A | Ultrasound guide intraoper | 1.20 | NA | NA | NA | NA | 0.27 | NA | NA | NA | NA | XXX
76986 | 26 | A | Ultrasound guide intraoper | 1.20 | 0.35 | 0.39 | 0.35 | 0.39 | 0.13 | 1.68 | 1.72 | 1.68 | 1.72 | XXX
76986 | TC | A | Ultrasound guide intraoper | 0.00 | NA | NA | NA | NA | 0.14 | NA | NA | NA | NA | XXX
76999 |  | C | Echo examination procedure | 0.00 | 0.00 | 0.00 | 0.00 | 0.00 | 0.00 | 0.00 | 0.00 | 0.00 | 0.00 | XXX
76999 | 26 | C | Echo examination procedure | 0.00 | 0.00 | 0.00 | 0.00 | 0.00 | 0.00 | 0.00 | 0.00 | 0.00 | 0.00 | XXX
76999 | TC | C | Echo examination procedure | 0.00 | 0.00 | 0.00 | 0.00 | 0.00 | 0.00 | 0.00 | 0.00 | 0.00 | 0.00 | XXX
77261 |  | A | Radiation therapy planning | 1.39 | 0.41 | 0.49 | 0.41 | 0.49 | 0.07 | 1.87 | 1.95 | 1.87 | 1.95 | XXX
77262 |  | A | Radiation therapy planning | 2.11 | 0.58 | 0.71 | 0.58 | 0.71 | 0.11 | 2.80 | 2.93 | 2.80 | 2.93 | XXX
77263 |  | A | Radiation therapy planning | 3.14 | 0.86 | 1.05 | 0.86 | 1.05 | 0.16 | 4.16 | 4.35 | 4.16 | 4.35 | XXX
77280 |  | A | Set radiation therapy field | 0.70 | 4.35 | 3.86 | NA | NA | 0.22 | 5.27 | 4.78 | NA | NA | XXX
77280 | 26 | A | Set radiation therapy field | 0.70 | 0.19 | 0.21 | 0.19 | 0.21 | 0.04 | 0.93 | 0.95 | 0.93 | 0.95 | XXX
77280 | TC | A | Set radiation therapy field | 0.00 | 4.16 | 3.64 | NA | NA | 0.18 | 4.34 | 3.82 | NA | NA | XXX
77285 |  | A | Set radiation therapy field | 1.05 | 7.91 | 6.41 | NA | NA | 0.35 | 9.31 | 7.81 | NA | NA | XXX
77285 | 26 | A | Set radiation therapy field | 1.05 | 0.29 | 0.33 | 0.29 | 0.33 | 0.05 | 1.39 | 1.43 | 1.39 | 1.43 | XXX
77285 | TC | A | Set radiation therapy field | 0.00 | 7.62 | 6.08 | NA | NA | 0.30 | 7.92 | 6.38 | NA | NA | XXX
77290 |  | A | Set radiation therapy field | 1.56 | 13.23 | 8.57 | NA | NA | 0.43 | 15.22 | 10.56 | NA | NA | XXX
77290 | 26 | A | Set radiation therapy field | 1.56 | 0.43 | 0.48 | 0.43 | 0.48 | 0.08 | 2.07 | 2.12 | 2.07 | 2.12 | XXX
77290 | TC | A | Set radiation therapy field | 0.00 | 12.81 | 8.09 | NA | NA | 0.35 | 13.16 | 8.44 | NA | NA | XXX
77295 |  | A | Set radiation therapy field | 4.56 | 6.90 | 23.76 | NA | NA | 1.71 | 13.17 | 30.03 | NA | NA | XXX
77295 | 26 | A | Set radiation therapy field | 4.56 | 1.25 | 1.41 | 1.25 | 1.41 | 0.23 | 6.04 | 6.20 | 6.04 | 6.20 | XXX
77295 | TC | A | Set radiation therapy field | 0.00 | 5.65 | 22.36 | NA | NA | 1.48 | 7.13 | 23.84 | NA | NA | XXX
77299 |  | C | Radiation therapy planning | 0.00 | 0.00 | 0.00 | 0.00 | 0.00 | 0.00 | 0.00 | 0.00 | 0.00 | 0.00 | XXX
77299 | 26 | C | Radiation therapy planning | 0.00 | 0.00 | 0.00 | 0.00 | 0.00 | 0.00 | 0.00 | 0.00 | 0.00 | 0.00 | XXX
77299 | TC | C | Radiation therapy planning | 0.00 | 0.00 | 0.00 | 0.00 | 0.00 | 0.00 | 0.00 | 0.00 | 0.00 | 0.00 | XXX
77300 |  | A | Radiation therapy dose plan | 0.62 | 1.08 | 1.43 | NA | NA | 0.10 | 1.80 | 2.15 | NA | NA | XXX
77300 | 26 | A | Radiation therapy dose plan | 0.62 | 0.17 | 0.19 | 0.17 | 0.19 | 0.03 | 0.82 | 0.84 | 0.82 | 0.84 | XXX
77300 | TC | A | Radiation therapy dose plan | 0.00 | 0.91 | 1.23 | NA | NA | 0.07 | 0.98 | 1.30 | NA | NA | XXX
77301 |  | A | Radiotherapy dose plan, imrt | 7.99 | 53.43 | 36.23 | NA | NA | 1.88 | 63.30 | 46.10 | NA | NA | XXX
77301 | 26 | A | Radiotherapy dose plan, imrt | 7.99 | 2.19 | 2.47 | 2.19 | 2.47 | 0.40 | 10.58 | 10.86 | 10.58 | 10.86 | XXX
77301 | TC | A | Radiotherapy dose plan, imrt | 0.00 | 51.24 | 33.76 | NA | NA | 1.48 | 52.72 | 35.24 | NA | NA | XXX
77305 |  | A | Teletx isodose plan simple | 0.70 | 0.85 | 1.78 | NA | NA | 0.15 | 1.70 | 2.63 | NA | NA | XXX
77305 | 26 | A | Teletx isodose plan simple | 0.70 | 0.19 | 0.22 | 0.19 | 0.22 | 0.04 | 0.93 | 0.96 | 0.93 | 0.96 | XXX
77305 | TC | A | Teletx isodose plan simple | 0.00 | 0.65 | 1.56 | NA | NA | 0.11 | 0.76 | 1.67 | NA | NA | XXX
77310 |  | A | Teletx isodose plan intermed | 1.05 | 1.17 | 2.30 | NA | NA | 0.18 | 2.40 | 3.53 | NA | NA | XXX
77310 | 26 | A | Teletx isodose plan intermed | 1.05 | 0.28 | 0.33 | 0.28 | 0.33 | 0.05 | 1.38 | 1.43 | 1.38 | 1.43 | XXX
77310 | TC | A | Teletx isodose plan intermed | 0.00 | 0.89 | 1.97 | NA | NA | 0.13 | 1.02 | 2.10 | NA | NA | XXX
77315 |  | A | Teletx isodose plan complex | 1.56 | 1.97 | 2.86 | NA | NA | 0.22 | 3.75 | 4.64 | NA | NA | XXX
77315 | 26 | A | Teletx isodose plan complex | 1.56 | 0.43 | 0.48 | 0.43 | 0.48 | 0.08 | 2.07 | 2.12 | 2.07 | 2.12 | XXX
77315 | TC | A | Teletx isodose plan complex | 0.00 | 1.54 | 2.38 | NA | NA | 0.14 | 1.68 | 2.52 | NA | NA | XXX
77321 |  | A | Special teletx port plan | 0.95 | 1.38 | 3.60 | NA | NA | 0.26 | 2.59 | 4.81 | NA | NA | XXX
77321 | 26 | A | Special teletx port plan | 0.95 | 0.26 | 0.29 | 0.26 | 0.29 | 0.05 | 1.26 | 1.29 | 1.26 | 1.29 | XXX
77321 | TC | A | Special teletx port plan | 0.00 | 1.12 | 3.31 | NA | NA | 0.21 | 1.33 | 3.52 | NA | NA | XXX
77326 |  | A | Brachytx isodose calc simp | 0.93 | 2.78 | 2.69 | NA | NA | 0.18 | 3.89 | 3.80 | NA | NA | XXX
77326 | 26 | A | Brachytx isodose calc simp | 0.93 | 0.25 | 0.29 | 0.25 | 0.29 | 0.05 | 1.23 | 1.27 | 1.23 | 1.27 | XXX
77326 | TC | A | Brachytx isodose calc simp | 0.00 | 2.53 | 2.40 | NA | NA | 0.13 | 2.66 | 2.53 | NA | NA | XXX
77327 |  | A | Brachytx isodose calc interm | 1.39 | 3.84 | 3.89 | NA | NA | 0.25 | 5.48 | 5.53 | NA | NA | XXX
77327 | 26 | A | Brachytx isodose calc interm | 1.39 | 0.38 | 0.43 | 0.38 | 0.43 | 0.07 | 1.84 | 1.89 | 1.84 | 1.89 | XXX
77327 | TC | A | Brachytx isodose calc interm | 0.00 | 3.46 | 3.47 | NA | NA | 0.18 | 3.64 | 3.65 | NA | NA | XXX
77328 |  | A | Brachytx isodose plan compl | 2.09 | 4.93 | 5.45 | NA | NA | 0.36 | 7.38 | 7.90 | NA | NA | XXX
77328 | 26 | A | Brachytx isodose plan compl | 2.09 | 0.57 | 0.65 | 0.57 | 0.65 | 0.11 | 2.77 | 2.85 | 2.77 | 2.85 | XXX
77328 | TC | A | Brachytx isodose plan compl | 0.00 | 4.36 | 4.81 | NA | NA | 0.25 | 4.61 | 5.06 | NA | NA | XXX
77331 |  | A | Special radiation dosimetry | 0.87 | 0.72 | 0.77 | NA | NA | 0.06 | 1.65 | 1.70 | NA | NA | XXX
77331 | 26 | A | Special radiation dosimetry | 0.87 | 0.24 | 0.27 | 0.24 | 0.27 | 0.04 | 1.15 | 1.18 | 1.15 | 1.18 | XXX
77331 | TC | A | Special radiation dosimetry | 0.00 | 0.49 | 0.50 | NA | NA | 0.02 | 0.51 | 0.52 | NA | NA | XXX
77332 |  | A | Radiation treatment aid(s) | 0.54 | 1.52 | 1.51 | NA | NA | 0.10 | 2.16 | 2.15 | NA | NA | XXX
77332 | 26 | A | Radiation treatment aid(s) | 0.54 | 0.15 | 0.17 | 0.15 | 0.17 | 0.03 | 0.72 | 0.74 | 0.72 | 0.74 | XXX
77332 | TC | A | Radiation treatment aid(s) | 0.00 | 1.37 | 1.35 | NA | NA | 0.07 | 1.44 | 1.42 | NA | NA | XXX
77333 |  | A | Radiation treatment aid(s) | 0.84 | 0.46 | 1.74 | NA | NA | 0.15 | 1.45 | 2.73 | NA | NA | XXX
77333 | 26 | A | Radiation treatment aid(s) | 0.84 | 0.23 | 0.26 | 0.23 | 0.26 | 0.04 | 1.11 | 1.14 | 1.11 | 1.14 | XXX
77333 | TC | A | Radiation treatment aid(s) | 0.00 | 0.23 | 1.48 | NA | NA | 0.11 | 0.34 | 1.59 | NA | NA | XXX
77334 |  | A | Radiation treatment aid(s) | 1.24 | 2.61 | 3.39 | NA | NA | 0.23 | 4.08 | 4.86 | NA | NA | XXX
77334 | 26 | A | Radiation treatment aid(s) | 1.24 | 0.34 | 0.39 | 0.34 | 0.39 | 0.06 | 1.64 | 1.69 | 1.64 | 1.69 | XXX
77334 | TC | A | Radiation treatment aid(s) | 0.00 | 2.27 | 3.01 | NA | NA | 0.17 | 2.44 | 3.18 | NA | NA | XXX
77336 |  | A | Radiation physics consult | 0.00 | 0.92 | 2.47 | NA | NA | 0.16 | 1.08 | 2.63 | NA | NA | XXX
77370 |  | A | Radiation physics consult | 0.00 | 2.33 | 3.20 | NA | NA | 0.18 | 2.51 | 3.38 | NA | NA | XXX
77399 |  | C | External radiation dosimetry | 0.00 | 0.00 | 0.00 | 0.00 | 0.00 | 0.00 | 0.00 | 0.00 | 0.00 | 0.00 | XXX
77399 | 26 | C | External radiation dosimetry | 0.00 | 0.00 | 0.00 | 0.00 | 0.00 | 0.00 | 0.00 | 0.00 | 0.00 | 0.00 | XXX
77399 | TC | C | External radiation dosimetry | 0.00 | 0.00 | 0.00 | 0.00 | 0.00 | 0.00 | 0.00 | 0.00 | 0.00 | 0.00 | XXX
77401 |  | A | Radiation treatment delivery | 0.00 | 0.49 | 1.45 | NA | NA | 0.11 | 0.60 | 1.56 | NA | NA | XXX
77402 |  | A | Radiation treatment delivery | 0.00 | 4.15 | 2.37 | NA | NA | 0.11 | 4.26 | 2.48 | NA | NA | XXX
77403 |  | A | Radiation treatment delivery | 0.00 | 3.73 | 2.26 | NA | NA | 0.11 | 3.84 | 2.37 | NA | NA | XXX
77404 |  | A | Radiation treatment delivery | 0.00 | 4.19 | 2.38 | NA | NA | 0.11 | 4.30 | 2.49 | NA | NA | XXX
77406 |  | A | Radiation treatment delivery | 0.00 | 4.18 | 2.37 | NA | NA | 0.11 | 4.29 | 2.48 | NA | NA | XXX
77407 |  | A | Radiation treatment delivery | 0.00 | 5.39 | 2.92 | NA | NA | 0.12 | 5.51 | 3.04 | NA | NA | XXX
77408 |  | A | Radiation treatment delivery | 0.00 | 5.18 | 2.86 | NA | NA | 0.12 | 5.30 | 2.98 | NA | NA | XXX
77409 |  | A | Radiation treatment delivery | 0.00 | 5.78 | 3.01 | NA | NA | 0.12 | 5.90 | 3.13 | NA | NA | XXX
77411 |  | A | Radiation treatment delivery | 0.00 | 5.68 | 2.99 | NA | NA | 0.12 | 5.80 | 3.11 | NA | NA | XXX
77412 |  | A | Radiation treatment delivery | 0.00 | 6.78 | 3.44 | NA | NA | 0.13 | 6.91 | 3.57 | NA | NA | XXX
77413 |  | A | Radiation treatment delivery | 0.00 | 6.80 | 3.45 | NA | NA | 0.13 | 6.93 | 3.58 | NA | NA | XXX
77414 |  | A | Radiation treatment delivery | 0.00 | 7.66 | 3.66 | NA | NA | 0.13 | 7.79 | 3.79 | NA | NA | XXX
77416 |  | A | Radiation treatment delivery | 0.00 | 7.65 | 3.66 | NA | NA | 0.13 | 7.78 | 3.79 | NA | NA | XXX
77417 |  | A | Radiology port film(s) | 0.00 | 0.35 | 0.53 | NA | NA | 0.04 | 0.39 | 0.57 | NA | NA | XXX
77418 |  | A | Radiation tx delivery, imrt | 0.00 | 13.02 | 16.77 | NA | NA | 0.13 | 13.15 | 16.90 | NA | NA | XXX
77421 |  | A | Stereoscopic x-ray guidance | 0.39 | 1.95 | 3.10 | NA | NA | 0.12 | 2.46 | 3.61 | NA | NA | XXX
77421 | 26 | A | Stereoscopic x-ray guidance | 0.39 | 0.11 | 0.13 | 0.11 | 0.13 | 0.02 | 0.52 | 0.54 | 0.52 | 0.54 | XXX
77421 | TC | A | Stereoscopic x-ray guidance | 0.00 | 1.84 | 2.97 | NA | NA | 0.10 | 1.94 | 3.07 | NA | NA | XXX
77422 |  | A | Neutron beam tx, simple | 0.00 | 11.79 | 4.23 | NA | NA | 0.13 | 11.92 | 4.36 | NA | NA | XXX
77423 |  | A | Neutron beam tx, complex | 0.00 | 7.83 | 3.65 | NA | NA | 0.13 | 7.96 | 3.78 | NA | NA | XXX
77427 |  | A | Radiation tx management, x5 | 3.31 | 1.08 | 1.07 | 1.08 | 1.07 | 0.17 | 4.56 | 4.55 | 4.56 | 4.55 | XXX
77431 |  | A | Radiation therapy management | 1.81 | 0.68 | 0.68 | 0.68 | 0.68 | 0.09 | 2.58 | 2.58 | 2.58 | 2.58 | XXX
77432 |  | A | Stereotactic radiation trmt | 7.92 | 2.17 | 2.72 | 2.17 | 2.72 | 0.41 | 10.50 | 11.05 | 10.50 | 11.05 | XXX
77470 |  | A | Special radiation treatment | 2.09 | 1.76 | 9.31 | NA | NA | 0.70 | 4.55 | 12.10 | NA | NA | XXX
77470 | 26 | A | Special radiation treatment | 2.09 | 0.57 | 0.65 | 0.57 | 0.65 | 0.11 | 2.77 | 2.85 | 2.77 | 2.85 | XXX
77470 | TC | A | Special radiation treatment | 0.00 | 1.19 | 8.66 | NA | NA | 0.59 | 1.78 | 9.25 | NA | NA | XXX
77499 |  | C | Radiation therapy management | 0.00 | 0.00 | 0.00 | 0.00 | 0.00 | 0.00 | 0.00 | 0.00 | 0.00 | 0.00 | XXX
77499 | 26 | C | Radiation therapy management | 0.00 | 0.00 | 0.00 | 0.00 | 0.00 | 0.00 | 0.00 | 0.00 | 0.00 | 0.00 | XXX
77499 | TC | C | Radiation therapy management | 0.00 | 0.00 | 0.00 | 0.00 | 0.00 | 0.00 | 0.00 | 0.00 | 0.00 | 0.00 | XXX
77520 |  | C | Proton trmt, simple w/o comp | 0.00 | 0.00 | 0.00 | 0.00 | 0.00 | 0.00 | 0.00 | 0.00 | 0.00 | 0.00 | XXX
77522 |  | C | Proton trmt, simple w/comp | 0.00 | 0.00 | 0.00 | 0.00 | 0.00 | 0.00 | 0.00 | 0.00 | 0.00 | 0.00 | XXX
77523 |  | C | Proton trmt, intermediate | 0.00 | 0.00 | 0.00 | 0.00 | 0.00 | 0.00 | 0.00 | 0.00 | 0.00 | 0.00 | XXX
77525 |  | C | Proton treatment, complex | 0.00 | 0.00 | 0.00 | 0.00 | 0.00 | 0.00 | 0.00 | 0.00 | 0.00 | 0.00 | XXX
77600 |  | R | Hyperthermia treatment | 1.56 | 9.32 | 4.99 | NA | NA | 0.24 | 11.12 | 6.79 | NA | NA | XXX
77600 | 26 | R | Hyperthermia treatment | 1.56 | 0.35 | 0.46 | 0.35 | 0.46 | 0.08 | 1.99 | 2.10 | 1.99 | 2.10 | XXX
77600 | TC | R | Hyperthermia treatment | 0.00 | 8.97 | 4.53 | NA | NA | 0.16 | 9.13 | 4.69 | NA | NA | XXX
77605 |  | R | Hyperthermia treatment | 2.09 | 16.90 | 7.77 | NA | NA | 0.38 | 19.37 | 10.24 | NA | NA | XXX
77605 | 26 | R | Hyperthermia treatment | 2.09 | 0.53 | 0.63 | 0.53 | 0.63 | 0.16 | 2.78 | 2.88 | 2.78 | 2.88 | XXX
77605 | TC | R | Hyperthermia treatment | 0.00 | 16.36 | 7.14 | NA | NA | 0.22 | 16.58 | 7.36 | NA | NA | XXX
77610 |  | R | Hyperthermia treatment | 1.56 | 16.54 | 6.81 | NA | NA | 0.24 | 18.34 | 8.61 | NA | NA | XXX
77610 | 26 | R | Hyperthermia treatment | 1.56 | 0.43 | 0.49 | 0.43 | 0.49 | 0.08 | 2.07 | 2.13 | 2.07 | 2.13 | XXX
77610 | TC | R | Hyperthermia treatment | 0.00 | 16.12 | 6.32 | NA | NA | 0.16 | 16.28 | 6.48 | NA | NA | XXX
77615 |  | R | Hyperthermia treatment | 2.09 | 24.51 | 9.67 | NA | NA | 0.33 | 26.93 | 12.09 | NA | NA | XXX
77615 | 26 | R | Hyperthermia treatment | 2.09 | 0.55 | 0.63 | 0.55 | 0.63 | 0.11 | 2.75 | 2.83 | 2.75 | 2.83 | XXX
77615 | TC | R | Hyperthermia treatment | 0.00 | 23.95 | 9.03 | NA | NA | 0.22 | 24.17 | 9.25 | NA | NA | XXX
77620 |  | R | Hyperthermia treatment | 1.56 | 9.58 | 5.07 | NA | NA | 0.36 | 11.50 | 6.99 | NA | NA | XXX
77620 | 26 | R | Hyperthermia treatment | 1.56 | 0.41 | 0.49 | 0.41 | 0.49 | 0.20 | 2.17 | 2.25 | 2.17 | 2.25 | XXX
77620 | TC | R | Hyperthermia treatment | 0.00 | 9.18 | 4.58 | NA | NA | 0.16 | 9.34 | 4.74 | NA | NA | XXX
77750 |  | A | Infuse radioactive materials | 4.90 | 4.19 | 3.22 | 4.19 | 3.22 | 0.32 | 9.41 | 8.44 | 9.41 | 8.44 | 090
77750 | 26 | A | Infuse radioactive materials | 4.90 | 1.35 | 1.52 | 1.35 | 1.52 | 0.25 | 6.50 | 6.67 | 6.50 | 6.67 | 090
77750 | TC | A | Infuse radioactive materials | 0.00 | 2.84 | 1.71 | 2.84 | 1.71 | 0.07 | 2.91 | 1.78 | 2.91 | 1.78 | 090
77761 |  | A | Apply intrcav radiat simple | 3.80 | 5.59 | 4.09 | 5.59 | 4.09 | 0.33 | 9.72 | 8.22 | 9.72 | 8.22 | 090
77761 | 26 | A | Apply intrcav radiat simple | 3.80 | 1.05 | 1.08 | 1.05 | 1.08 | 0.19 | 5.04 | 5.07 | 5.04 | 5.07 | 090
77761 | TC | A | Apply intrcav radiat simple | 0.00 | 4.54 | 3.01 | 4.54 | 3.01 | 0.14 | 4.68 | 3.15 | 4.68 | 3.15 | 090
77762 |  | A | Apply intrcav radiat interm | 5.71 | 6.58 | 5.73 | 6.58 | 5.73 | 0.48 | 12.77 | 11.92 | 12.77 | 11.92 | 090
77762 | 26 | A | Apply intrcav radiat interm | 5.71 | 1.56 | 1.76 | 1.56 | 1.76 | 0.29 | 7.56 | 7.76 | 7.56 | 7.76 | 090
77762 | TC | A | Apply intrcav radiat interm | 0.00 | 5.03 | 3.97 | 5.03 | 3.97 | 0.19 | 5.22 | 4.16 | 5.22 | 4.16 | 090
77763 |  | A | Apply intrcav radiat compl | 8.56 | 8.87 | 7.64 | 8.87 | 7.64 | 0.66 | 18.09 | 16.86 | 18.09 | 16.86 | 090
77763 | 26 | A | Apply intrcav radiat compl | 8.56 | 2.33 | 2.64 | 2.33 | 2.64 | 0.43 | 11.32 | 11.63 | 11.32 | 11.63 | 090
77763 | TC | A | Apply intrcav radiat compl | 0.00 | 6.54 | 5.00 | 6.54 | 5.00 | 0.23 | 6.77 | 5.23 | 6.77 | 5.23 | 090
77776 |  | A | Apply interstit radiat simpl | 4.65 | 6.66 | 4.01 | 6.66 | 4.01 | 0.57 | 11.88 | 9.23 | 11.88 | 9.23 | 090
77776 | 26 | A | Apply interstit radiat simpl | 4.65 | 1.54 | 1.10 | 1.54 | 1.10 | 0.44 | 6.63 | 6.19 | 6.63 | 6.19 | 090
77776 | TC | A | Apply interstit radiat simpl | 0.00 | 5.12 | 2.92 | 5.12 | 2.92 | 0.13 | 5.25 | 3.05 | 5.25 | 3.05 | 090
77777 |  | A | Apply interstit radiat inter | 7.47 | 6.93 | 6.68 | 6.93 | 6.68 | 0.61 | 15.01 | 14.76 | 15.01 | 14.76 | 090
77777 | 26 | A | Apply interstit radiat inter | 7.47 | 2.18 | 2.32 | 2.18 | 2.32 | 0.39 | 10.04 | 10.18 | 10.04 | 10.18 | 090
77778 |  | A | Apply interstit radiat compl | 11.17 | 9.61 | 8.92 | 9.61 | 8.92 | 0.84 | 21.62 | 20.93 | 21.62 | 20.93 | 090
77778 | 26 | A | Apply interstit radiat compl | 11.17 | 3.08 | 3.45 | 3.08 | 3.45 | 0.57 | 14.82 | 15.19 | 14.82 | 15.19 | 090
77778 | TC | A | Apply interstit radiat compl | 0.00 | 6.54 | 5.48 | 6.54 | 5.48 | 0.27 | 6.81 | 5.75 | 6.81 | 5.75 | 090
77781 |  | A | High intensity brachytherapy | 1.21 | 4.23 | 16.68 | NA | NA | 1.14 | 6.58 | 19.03 | NA | NA | XXX
77781 | 26 | A | High intensity brachytherapy | 1.21 | 0.33 | 0.48 | 0.33 | 0.48 | 0.08 | 1.62 | 1.77 | 1.62 | 1.77 | XXX
77781 | TC | A | High intensity brachytherapy | 0.00 | 3.90 | 16.20 | NA | NA | 1.06 | 4.96 | 17.26 | NA | NA | XXX
77782 |  | A | High intensity brachytherapy | 2.04 | 12.03 | 18.83 | NA | NA | 1.19 | 15.26 | 22.06 | NA | NA | XXX
77782 | 26 | A | High intensity brachytherapy | 2.04 | 0.55 | 0.74 | 0.55 | 0.74 | 0.13 | 2.72 | 2.91 | 2.72 | 2.91 | XXX
77782 | TC | A | High intensity brachytherapy | 0.00 | 11.48 | 18.10 | NA | NA | 1.06 | 12.54 | 19.16 | NA | NA | XXX
77783 |  | A | High intensity brachytherapy | 3.27 | 23.55 | 22.01 | NA | NA | 1.25 | 28.07 | 26.53 | NA | NA | XXX
77783 | 26 | A | High intensity brachytherapy | 3.27 | 0.89 | 1.12 | 0.89 | 1.12 | 0.19 | 4.35 | 4.58 | 4.35 | 4.58 | XXX
77783 | TC | A | High intensity brachytherapy | 0.00 | 22.67 | 20.89 | NA | NA | 1.06 | 23.73 | 21.95 | NA | NA | XXX
77784 |  | A | High intensity brachytherapy | 5.15 | 44.52 | 27.71 | NA | NA | 1.35 | 51.02 | 34.21 | NA | NA | XXX
77784 | 26 | A | High intensity brachytherapy | 5.15 | 1.40 | 1.69 | 1.40 | 1.69 | 0.29 | 6.84 | 7.13 | 6.84 | 7.13 | XXX
77784 | TC | A | High intensity brachytherapy | 0.00 | 43.12 | 26.01 | NA | NA | 1.06 | 44.18 | 27.07 | NA | NA | XXX
77789 |  | A | Apply surface radiation | 1.12 | 1.95 | 1.10 | 1.95 | 1.10 | 0.08 | 3.15 | 2.30 | 3.15 | 2.30 | 000
77789 | 26 | A | Apply surface radiation | 1.12 | 0.35 | 0.37 | 0.35 | 0.37 | 0.06 | 1.53 | 1.55 | 1.53 | 1.55 | 000
77789 | TC | A | Apply surface radiation | 0.00 | 1.60 | 0.74 | 1.60 | 0.74 | 0.02 | 1.62 | 0.76 | 1.62 | 0.76 | 000
77790 |  | A | Radiation handling | 1.05 | 1.16 | 0.92 | NA | NA | 0.07 | 2.28 | 2.04 | NA | NA | XXX
77790 | 26 | A | Radiation handling | 1.05 | 0.29 | 0.33 | 0.29 | 0.33 | 0.05 | 1.39 | 1.43 | 1.39 | 1.43 | XXX
77790 | TC | A | Radiation handling | 0.00 | 0.87 | 0.59 | NA | NA | 0.02 | 0.89 | 0.61 | NA | NA | XXX
77799 |  | C | Radium/radioisotope therapy | 0.00 | 0.00 | 0.00 | 0.00 | 0.00 | 0.00 | 0.00 | 0.00 | 0.00 | 0.00 | XXX
77799 | 26 | C | Radium/radioisotope therapy | 0.00 | 0.00 | 0.00 | 0.00 | 0.00 | 0.00 | 0.00 | 0.00 | 0.00 | 0.00 | XXX
77799 | TC | C | Radium/radioisotope therapy | 0.00 | 0.00 | 0.00 | 0.00 | 0.00 | 0.00 | 0.00 | 0.00 | 0.00 | 0.00 | XXX
78000 |  | A | Thyroid, single uptake | 0.19 | 1.85 | 1.24 | NA | NA | 0.07 | 2.11 | 1.50 | NA | NA | XXX
78000 | 26 | A | Thyroid, single uptake | 0.19 | 0.06 | 0.06 | 0.06 | 0.06 | 0.01 | 0.26 | 0.26 | 0.26 | 0.26 | XXX
78000 | TC | A | Thyroid, single uptake | 0.00 | 1.79 | 1.18 | NA | NA | 0.06 | 1.85 | 1.24 | NA | NA | XXX
78001 |  | A | Thyroid, multiple uptakes | 0.26 | 2.27 | 1.62 | NA | NA | 0.08 | 2.61 | 1.96 | NA | NA | XXX
78001 | 26 | A | Thyroid, multiple uptakes | 0.26 | 0.08 | 0.09 | 0.08 | 0.09 | 0.01 | 0.35 | 0.36 | 0.35 | 0.36 | XXX
78001 | TC | A | Thyroid, multiple uptakes | 0.00 | 2.19 | 1.53 | NA | NA | 0.07 | 2.26 | 1.60 | NA | NA | XXX
78003 |  | A | Thyroid suppress/stimul | 0.33 | 1.89 | 1.28 | NA | NA | 0.07 | 2.29 | 1.68 | NA | NA | XXX
78003 | 26 | A | Thyroid suppress/stimul | 0.33 | 0.10 | 0.11 | 0.10 | 0.11 | 0.01 | 0.44 | 0.45 | 0.44 | 0.45 | XXX
78003 | TC | A | Thyroid suppress/stimul | 0.00 | 1.78 | 1.17 | NA | NA | 0.06 | 1.84 | 1.23 | NA | NA | XXX
78006 |  | A | Thyroid imaging with uptake | 0.49 | 6.24 | 3.47 | NA | NA | 0.15 | 6.88 | 4.11 | NA | NA | XXX
78006 | 26 | A | Thyroid imaging with uptake | 0.49 | 0.15 | 0.16 | 0.15 | 0.16 | 0.02 | 0.66 | 0.67 | 0.66 | 0.67 | XXX
78006 | TC | A | Thyroid imaging with uptake | 0.00 | 6.08 | 3.31 | NA | NA | 0.13 | 6.21 | 3.44 | NA | NA | XXX
78007 |  | A | Thyroid image, mult uptakes | 0.50 | 3.02 | 2.81 | NA | NA | 0.16 | 3.68 | 3.47 | NA | NA | XXX
78007 | 26 | A | Thyroid image, mult uptakes | 0.50 | 0.16 | 0.17 | 0.16 | 0.17 | 0.02 | 0.68 | 0.69 | 0.68 | 0.69 | XXX
78007 | TC | A | Thyroid image, mult uptakes | 0.00 | 2.86 | 2.64 | NA | NA | 0.14 | 3.00 | 2.78 | NA | NA | XXX
78010 |  | A | Thyroid imaging | 0.39 | 4.20 | 2.51 | NA | NA | 0.13 | 4.72 | 3.03 | NA | NA | XXX
78010 | 26 | A | Thyroid imaging | 0.39 | 0.12 | 0.13 | 0.12 | 0.13 | 0.02 | 0.53 | 0.54 | 0.53 | 0.54 | XXX
78010 | TC | A | Thyroid imaging | 0.00 | 4.08 | 2.39 | NA | NA | 0.11 | 4.19 | 2.50 | NA | NA | XXX
78011 |  | A | Thyroid imaging with flow | 0.45 | 4.55 | 3.06 | NA | NA | 0.15 | 5.15 | 3.66 | NA | NA | XXX
78011 | 26 | A | Thyroid imaging with flow | 0.45 | 0.14 | 0.15 | 0.14 | 0.15 | 0.02 | 0.61 | 0.62 | 0.61 | 0.62 | XXX
78011 | TC | A | Thyroid imaging with flow | 0.00 | 4.41 | 2.91 | NA | NA | 0.13 | 4.54 | 3.04 | NA | NA | XXX
78015 |  | A | Thyroid met imaging | 0.67 | 5.43 | 3.46 | NA | NA | 0.17 | 6.27 | 4.30 | NA | NA | XXX
78015 | 26 | A | Thyroid met imaging | 0.67 | 0.21 | 0.23 | 0.21 | 0.23 | 0.03 | 0.91 | 0.93 | 0.91 | 0.93 | XXX
78015 | TC | A | Thyroid met imaging | 0.00 | 5.22 | 3.23 | NA | NA | 0.14 | 5.36 | 3.37 | NA | NA | XXX
78016 |  | A | Thyroid met imaging/studies | 0.82 | 8.63 | 4.98 | NA | NA | 0.21 | 9.66 | 6.01 | NA | NA | XXX
78016 | 26 | A | Thyroid met imaging/studies | 0.82 | 0.26 | 0.28 | 0.26 | 0.28 | 0.03 | 1.11 | 1.13 | 1.11 | 1.13 | XXX
78016 | TC | A | Thyroid met imaging/studies | 0.00 | 8.37 | 4.70 | NA | NA | 0.18 | 8.55 | 4.88 | NA | NA | XXX
78018 |  | A | Thyroid met imaging, body | 0.86 | 7.96 | 6.28 | NA | NA | 0.33 | 9.15 | 7.47 | NA | NA | XXX
78018 | 26 | A | Thyroid met imaging, body | 0.86 | 0.27 | 0.29 | 0.27 | 0.29 | 0.04 | 1.17 | 1.19 | 1.17 | 1.19 | XXX
78018 | TC | A | Thyroid met imaging, body | 0.00 | 7.69 | 5.99 | NA | NA | 0.29 | 7.98 | 6.28 | NA | NA | XXX
78020 |  | A | Thyroid met uptake | 0.60 | 1.79 | 1.59 | 1.79 | 1.59 | 0.16 | 2.55 | 2.35 | 2.55 | 2.35 | ZZZ
78020 | 26 | A | Thyroid met uptake | 0.60 | 0.18 | 0.20 | 0.18 | 0.20 | 0.02 | 0.80 | 0.82 | 0.80 | 0.82 | ZZZ
78020 | TC | A | Thyroid met uptake | 0.00 | 1.60 | 1.38 | 1.60 | 1.38 | 0.14 | 1.74 | 1.52 | 1.74 | 1.52 | ZZZ
78070 |  | A | Parathyroid nuclear imaging | 0.82 | 3.43 | 4.27 | NA | NA | 0.15 | 4.40 | 5.24 | NA | NA | XXX
78070 | 26 | A | Parathyroid nuclear imaging | 0.82 | 0.26 | 0.28 | 0.26 | 0.28 | 0.04 | 1.12 | 1.14 | 1.12 | 1.14 | XXX
78070 | TC | A | Parathyroid nuclear imaging | 0.00 | 3.17 | 4.00 | NA | NA | 0.11 | 3.28 | 4.11 | NA | NA | XXX
78075 |  | A | Adrenal nuclear imaging | 0.74 | 11.67 | 7.18 | NA | NA | 0.32 | 12.73 | 8.24 | NA | NA | XXX
78075 | 26 | A | Adrenal nuclear imaging | 0.74 | 0.23 | 0.25 | 0.23 | 0.25 | 0.03 | 1.00 | 1.02 | 1.00 | 1.02 | XXX
78075 | TC | A | Adrenal nuclear imaging | 0.00 | 11.44 | 6.93 | NA | NA | 0.29 | 11.73 | 7.22 | NA | NA | XXX
78099 |  | C | Endocrine nuclear procedure | 0.00 | 0.00 | 0.00 | 0.00 | 0.00 | 0.00 | 0.00 | 0.00 | 0.00 | 0.00 | XXX
78099 | 26 | C | Endocrine nuclear procedure | 0.00 | 0.00 | 0.00 | 0.00 | 0.00 | 0.00 | 0.00 | 0.00 | 0.00 | 0.00 | XXX
78099 | TC | C | Endocrine nuclear procedure | 0.00 | 0.00 | 0.00 | 0.00 | 0.00 | 0.00 | 0.00 | 0.00 | 0.00 | 0.00 | XXX
78102 |  | A | Bone marrow imaging, ltd | 0.55 | 4.17 | 2.72 | NA | NA | 0.14 | 4.86 | 3.41 | NA | NA | XXX
78102 | 26 | A | Bone marrow imaging, ltd | 0.55 | 0.17 | 0.19 | 0.17 | 0.19 | 0.02 | 0.74 | 0.76 | 0.74 | 0.76 | XXX
78102 | TC | A | Bone marrow imaging, ltd | 0.00 | 4.00 | 2.53 | NA | NA | 0.12 | 4.12 | 2.65 | NA | NA | XXX
78103 |  | A | Bone marrow imaging, mult | 0.75 | 5.43 | 3.93 | NA | NA | 0.20 | 6.38 | 4.88 | NA | NA | XXX
78103 | 26 | A | Bone marrow imaging, mult | 0.75 | 0.23 | 0.25 | 0.23 | 0.25 | 0.03 | 1.01 | 1.03 | 1.01 | 1.03 | XXX
78103 | TC | A | Bone marrow imaging, mult | 0.00 | 5.20 | 3.68 | NA | NA | 0.17 | 5.37 | 3.85 | NA | NA | XXX
78104 |  | A | Bone marrow imaging, body | 0.80 | 6.30 | 4.83 | NA | NA | 0.25 | 7.35 | 5.88 | NA | NA | XXX
78104 | 26 | A | Bone marrow imaging, body | 0.80 | 0.27 | 0.27 | 0.27 | 0.27 | 0.03 | 1.10 | 1.10 | 1.10 | 1.10 | XXX
78104 | TC | A | Bone marrow imaging, body | 0.00 | 6.02 | 4.56 | NA | NA | 0.22 | 6.24 | 4.78 | NA | NA | XXX
78110 |  | A | Plasma volume, single | 0.19 | 2.16 | 1.31 | NA | NA | 0.07 | 2.42 | 1.57 | NA | NA | XXX
78110 | 26 | A | Plasma volume, single | 0.19 | 0.06 | 0.07 | 0.06 | 0.07 | 0.01 | 0.26 | 0.27 | 0.26 | 0.27 | XXX
78110 | TC | A | Plasma volume, single | 0.00 | 2.10 | 1.24 | NA | NA | 0.06 | 2.16 | 1.30 | NA | NA | XXX
78111 |  | A | Plasma volume, multiple | 0.22 | 2.16 | 2.53 | NA | NA | 0.15 | 2.53 | 2.90 | NA | NA | XXX
78111 | 26 | A | Plasma volume, multiple | 0.22 | 0.07 | 0.08 | 0.07 | 0.08 | 0.01 | 0.30 | 0.31 | 0.30 | 0.31 | XXX
78111 | TC | A | Plasma volume, multiple | 0.00 | 2.09 | 2.45 | NA | NA | 0.14 | 2.23 | 2.59 | NA | NA | XXX
78120 |  | A | Red cell mass, single | 0.23 | 2.09 | 1.88 | NA | NA | 0.12 | 2.44 | 2.23 | NA | NA | XXX
78120 | 26 | A | Red cell mass, single | 0.23 | 0.07 | 0.08 | 0.07 | 0.08 | 0.01 | 0.31 | 0.32 | 0.31 | 0.32 | XXX
78120 | TC | A | Red cell mass, single | 0.00 | 2.02 | 1.80 | NA | NA | 0.11 | 2.13 | 1.91 | NA | NA | XXX
78121 |  | A | Red cell mass, multiple | 0.32 | 2.19 | 2.81 | NA | NA | 0.15 | 2.66 | 3.28 | NA | NA | XXX
78121 | 26 | A | Red cell mass, multiple | 0.32 | 0.10 | 0.11 | 0.10 | 0.11 | 0.01 | 0.43 | 0.44 | 0.43 | 0.44 | XXX
78121 | TC | A | Red cell mass, multiple | 0.00 | 2.10 | 2.71 | NA | NA | 0.14 | 2.24 | 2.85 | NA | NA | XXX
78122 |  | A | Blood volume | 0.45 | 2.25 | 4.13 | NA | NA | 0.26 | 2.96 | 4.84 | NA | NA | XXX
78122 | 26 | A | Blood volume | 0.45 | 0.14 | 0.16 | 0.14 | 0.16 | 0.02 | 0.61 | 0.63 | 0.61 | 0.63 | XXX
78122 | TC | A | Blood volume | 0.00 | 2.11 | 3.98 | NA | NA | 0.24 | 2.35 | 4.22 | NA | NA | XXX
78130 |  | A | Red cell survival study | 0.61 | 3.55 | 3.18 | NA | NA | 0.17 | 4.33 | 3.96 | NA | NA | XXX
78130 | 26 | A | Red cell survival study | 0.61 | 0.20 | 0.21 | 0.20 | 0.21 | 0.03 | 0.84 | 0.85 | 0.84 | 0.85 | XXX
78130 | TC | A | Red cell survival study | 0.00 | 3.35 | 2.98 | NA | NA | 0.14 | 3.49 | 3.12 | NA | NA | XXX
78135 |  | A | Red cell survival kinetics | 0.64 | 8.59 | 5.97 | NA | NA | 0.28 | 9.51 | 6.89 | NA | NA | XXX
78135 | 26 | A | Red cell survival kinetics | 0.64 | 0.20 | 0.22 | 0.20 | 0.22 | 0.03 | 0.87 | 0.89 | 0.87 | 0.89 | XXX
78135 | TC | A | Red cell survival kinetics | 0.00 | 8.39 | 5.75 | NA | NA | 0.25 | 8.64 | 6.00 | NA | NA | XXX
78140 |  | A | Red cell sequestration | 0.61 | 2.87 | 3.82 | NA | NA | 0.24 | 3.72 | 4.67 | NA | NA | XXX
78140 | 26 | A | Red cell sequestration | 0.61 | 0.19 | 0.20 | 0.19 | 0.20 | 0.03 | 0.83 | 0.84 | 0.83 | 0.84 | XXX
78140 | TC | A | Red cell sequestration | 0.00 | 2.68 | 3.62 | NA | NA | 0.21 | 2.89 | 3.83 | NA | NA | XXX
78185 |  | A | Spleen imaging | 0.40 | 5.22 | 3.18 | NA | NA | 0.15 | 5.77 | 3.73 | NA | NA | XXX
78185 | 26 | A | Spleen imaging | 0.40 | 0.12 | 0.14 | 0.12 | 0.14 | 0.02 | 0.54 | 0.56 | 0.54 | 0.56 | XXX
78185 | TC | A | Spleen imaging | 0.00 | 5.10 | 3.05 | NA | NA | 0.13 | 5.23 | 3.18 | NA | NA | XXX
78190 |  | A | Platelet survival, kinetics | 1.09 | 9.05 | 6.84 | NA | NA | 0.38 | 10.52 | 8.31 | NA | NA | XXX
78190 | 26 | A | Platelet survival, kinetics | 1.09 | 0.34 | 0.38 | 0.34 | 0.38 | 0.08 | 1.51 | 1.55 | 1.51 | 1.55 | XXX
78190 | TC | A | Platelet survival, kinetics | 0.00 | 8.71 | 6.46 | NA | NA | 0.30 | 9.01 | 6.76 | NA | NA | XXX
78191 |  | A | Platelet survival | 0.61 | 3.43 | 6.51 | NA | NA | 0.40 | 4.44 | 7.52 | NA | NA | XXX
78191 | 26 | A | Platelet survival | 0.61 | 0.19 | 0.20 | 0.19 | 0.20 | 0.03 | 0.83 | 0.84 | 0.83 | 0.84 | XXX
78191 | TC | A | Platelet survival | 0.00 | 3.24 | 6.32 | NA | NA | 0.37 | 3.61 | 6.69 | NA | NA | XXX
78195 |  | A | Lymph system imaging | 1.20 | 8.66 | 5.53 | NA | NA | 0.28 | 10.14 | 7.01 | NA | NA | XXX
78195 | 26 | A | Lymph system imaging | 1.20 | 0.37 | 0.40 | 0.37 | 0.40 | 0.06 | 1.63 | 1.66 | 1.63 | 1.66 | XXX
78195 | TC | A | Lymph system imaging | 0.00 | 8.29 | 5.13 | NA | NA | 0.22 | 8.51 | 5.35 | NA | NA | XXX
78199 |  | C | Blood/lymph nuclear exam | 0.00 | 0.00 | 0.00 | 0.00 | 0.00 | 0.00 | 0.00 | 0.00 | 0.00 | 0.00 | XXX
78199 | 26 | C | Blood/lymph nuclear exam | 0.00 | 0.00 | 0.00 | 0.00 | 0.00 | 0.00 | 0.00 | 0.00 | 0.00 | 0.00 | XXX
78199 | TC | C | Blood/lymph nuclear exam | 0.00 | 0.00 | 0.00 | 0.00 | 0.00 | 0.00 | 0.00 | 0.00 | 0.00 | 0.00 | XXX
78201 |  | A | Liver imaging | 0.44 | 4.75 | 3.07 | NA | NA | 0.15 | 5.34 | 3.66 | NA | NA | XXX
78201 | 26 | A | Liver imaging | 0.44 | 0.13 | 0.15 | 0.13 | 0.15 | 0.02 | 0.59 | 0.61 | 0.59 | 0.61 | XXX
78201 | TC | A | Liver imaging | 0.00 | 4.61 | 2.92 | NA | NA | 0.13 | 4.74 | 3.05 | NA | NA | XXX
78202 |  | A | Liver imaging with flow | 0.51 | 5.34 | 3.62 | NA | NA | 0.16 | 6.01 | 4.29 | NA | NA | XXX
78202 | 26 | A | Liver imaging with flow | 0.51 | 0.16 | 0.17 | 0.16 | 0.17 | 0.02 | 0.69 | 0.70 | 0.69 | 0.70 | XXX
78202 | TC | A | Liver imaging with flow | 0.00 | 5.19 | 3.46 | NA | NA | 0.14 | 5.33 | 3.60 | NA | NA | XXX
78205 |  | A | Liver imaging (3D) | 0.71 | 5.26 | 5.93 | NA | NA | 0.34 | 6.31 | 6.98 | NA | NA | XXX
78205 | 26 | A | Liver imaging (3D) | 0.71 | 0.22 | 0.24 | 0.22 | 0.24 | 0.03 | 0.96 | 0.98 | 0.96 | 0.98 | XXX
78205 | TC | A | Liver imaging (3D) | 0.00 | 5.04 | 5.69 | NA | NA | 0.31 | 5.35 | 6.00 | NA | NA | XXX
78206 |  | A | Liver image (3d) with flow | 0.96 | 14.57 | 8.32 | NA | NA | 0.15 | 15.68 | 9.43 | NA | NA | XXX
78206 | 26 | A | Liver image (3d) with flow | 0.96 | 0.30 | 0.32 | 0.30 | 0.32 | 0.04 | 1.30 | 1.32 | 1.30 | 1.32 | XXX
78206 | TC | A | Liver image (3d) with flow | 0.00 | 14.26 | 8.00 | NA | NA | 0.11 | 14.37 | 8.11 | NA | NA | XXX
78215 |  | A | Liver and spleen imaging | 0.49 | 4.81 | 3.53 | NA | NA | 0.16 | 5.46 | 4.18 | NA | NA | XXX
78215 | 26 | A | Liver and spleen imaging | 0.49 | 0.15 | 0.16 | 0.15 | 0.16 | 0.02 | 0.66 | 0.67 | 0.66 | 0.67 | XXX
78215 | TC | A | Liver and spleen imaging | 0.00 | 4.66 | 3.37 | NA | NA | 0.14 | 4.80 | 3.51 | NA | NA | XXX
78216 |  | A | Liver & spleen image/flow | 0.57 | 2.82 | 3.46 | NA | NA | 0.20 | 3.59 | 4.23 | NA | NA | XXX
78216 | 26 | A | Liver & spleen image/flow | 0.57 | 0.18 | 0.19 | 0.18 | 0.19 | 0.02 | 0.77 | 0.78 | 0.77 | 0.78 | XXX
78216 | TC | A | Liver & spleen image/flow | 0.00 | 2.64 | 3.27 | NA | NA | 0.18 | 2.82 | 3.45 | NA | NA | XXX
78220 |  | A | Liver function study | 0.49 | 3.04 | 3.67 | NA | NA | 0.21 | 3.74 | 4.37 | NA | NA | XXX
78220 | 26 | A | Liver function study | 0.49 | 0.15 | 0.16 | 0.15 | 0.16 | 0.02 | 0.66 | 0.67 | 0.66 | 0.67 | XXX
78220 | TC | A | Liver function study | 0.00 | 2.89 | 3.51 | NA | NA | 0.19 | 3.08 | 3.70 | NA | NA | XXX
78223 |  | A | Hepatobiliary imaging | 0.84 | 8.49 | 5.08 | NA | NA | 0.23 | 9.56 | 6.15 | NA | NA | XXX
78223 | 26 | A | Hepatobiliary imaging | 0.84 | 0.26 | 0.28 | 0.26 | 0.28 | 0.04 | 1.14 | 1.16 | 1.14 | 1.16 | XXX
78223 | TC | A | Hepatobiliary imaging | 0.00 | 8.23 | 4.80 | NA | NA | 0.19 | 8.42 | 4.99 | NA | NA | XXX
78230 |  | A | Salivary gland imaging | 0.45 | 4.16 | 2.79 | NA | NA | 0.15 | 4.76 | 3.39 | NA | NA | XXX
78230 | 26 | A | Salivary gland imaging | 0.45 | 0.14 | 0.15 | 0.14 | 0.15 | 0.02 | 0.61 | 0.62 | 0.61 | 0.62 | XXX
78230 | TC | A | Salivary gland imaging | 0.00 | 4.02 | 2.64 | NA | NA | 0.13 | 4.15 | 2.77 | NA | NA | XXX
78231 |  | A | Serial salivary imaging | 0.52 | 2.81 | 3.22 | NA | NA | 0.19 | 3.52 | 3.93 | NA | NA | XXX
78231 | 26 | A | Serial salivary imaging | 0.52 | 0.16 | 0.18 | 0.16 | 0.18 | 0.02 | 0.70 | 0.72 | 0.70 | 0.72 | XXX
78231 | TC | A | Serial salivary imaging | 0.00 | 2.64 | 3.04 | NA | NA | 0.17 | 2.81 | 3.21 | NA | NA | XXX
78232 |  | A | Salivary gland function exam | 0.47 | 2.78 | 3.47 | NA | NA | 0.20 | 3.45 | 4.14 | NA | NA | XXX
78232 | 26 | A | Salivary gland function exam | 0.47 | 0.15 | 0.16 | 0.15 | 0.16 | 0.02 | 0.64 | 0.65 | 0.64 | 0.65 | XXX
78232 | TC | A | Salivary gland function exam | 0.00 | 2.64 | 3.32 | NA | NA | 0.18 | 2.82 | 3.50 | NA | NA | XXX
78258 |  | A | Esophageal motility study | 0.74 | 5.83 | 3.81 | NA | NA | 0.17 | 6.74 | 4.72 | NA | NA | XXX
78258 | 26 | A | Esophageal motility study | 0.74 | 0.27 | 0.26 | 0.27 | 0.26 | 0.03 | 1.04 | 1.03 | 1.04 | 1.03 | XXX
78258 | TC | A | Esophageal motility study | 0.00 | 5.56 | 3.55 | NA | NA | 0.14 | 5.70 | 3.69 | NA | NA | XXX
78261 |  | A | Gastric mucosa imaging | 0.69 | 6.07 | 4.77 | NA | NA | 0.25 | 7.01 | 5.71 | NA | NA | XXX
78261 | 26 | A | Gastric mucosa imaging | 0.69 | 0.22 | 0.24 | 0.22 | 0.24 | 0.03 | 0.94 | 0.96 | 0.94 | 0.96 | XXX
78261 | TC | A | Gastric mucosa imaging | 0.00 | 5.85 | 4.54 | NA | NA | 0.22 | 6.07 | 4.76 | NA | NA | XXX
78262 |  | A | Gastroesophageal reflux exam | 0.68 | 5.94 | 4.85 | NA | NA | 0.25 | 6.87 | 5.78 | NA | NA | XXX
78262 | 26 | A | Gastroesophageal reflux exam | 0.68 | 0.20 | 0.22 | 0.20 | 0.22 | 0.03 | 0.91 | 0.93 | 0.91 | 0.93 | XXX
78262 | TC | A | Gastroesophageal reflux exam | 0.00 | 5.74 | 4.62 | NA | NA | 0.22 | 5.96 | 4.84 | NA | NA | XXX
78264 |  | A | Gastric emptying study | 0.78 | 7.16 | 5.08 | NA | NA | 0.25 | 8.19 | 6.11 | NA | NA | XXX
78264 | 26 | A | Gastric emptying study | 0.78 | 0.25 | 0.26 | 0.25 | 0.26 | 0.03 | 1.06 | 1.07 | 1.06 | 1.07 | XXX
78264 | TC | A | Gastric emptying study | 0.00 | 6.91 | 4.83 | NA | NA | 0.22 | 7.13 | 5.05 | NA | NA | XXX
78270 |  | A | Vit B-12 absorption exam | 0.20 | 1.94 | 1.70 | NA | NA | 0.11 | 2.25 | 2.01 | NA | NA | XXX
78270 | 26 | A | Vit B-12 absorption exam | 0.20 | 0.06 | 0.07 | 0.06 | 0.07 | 0.01 | 0.27 | 0.28 | 0.27 | 0.28 | XXX
78270 | TC | A | Vit B-12 absorption exam | 0.00 | 1.88 | 1.63 | NA | NA | 0.10 | 1.98 | 1.73 | NA | NA | XXX
78271 |  | A | Vit b-12 absrp exam, int fac | 0.20 | 1.90 | 1.76 | NA | NA | 0.11 | 2.21 | 2.07 | NA | NA | XXX
78271 | 26 | A | Vit b-12 absrp exam, int fac | 0.20 | 0.05 | 0.07 | 0.05 | 0.07 | 0.01 | 0.26 | 0.28 | 0.26 | 0.28 | XXX
78271 | TC | A | Vit b-12 absrp exam, int fac | 0.00 | 1.85 | 1.69 | NA | NA | 0.10 | 1.95 | 1.79 | NA | NA | XXX
78272 |  | A | Vit B-12 absorp, combined | 0.27 | 2.02 | 2.31 | NA | NA | 0.14 | 2.43 | 2.72 | NA | NA | XXX
78272 | 26 | A | Vit B-12 absorp, combined | 0.27 | 0.07 | 0.09 | 0.07 | 0.09 | 0.01 | 0.35 | 0.37 | 0.35 | 0.37 | XXX
78272 | TC | A | Vit B-12 absorp, combined | 0.00 | 1.95 | 2.23 | NA | NA | 0.13 | 2.08 | 2.36 | NA | NA | XXX
78278 |  | A | Acute GI blood loss imaging | 0.99 | 8.57 | 6.04 | NA | NA | 0.29 | 9.85 | 7.32 | NA | NA | XXX
78278 | 26 | A | Acute GI blood loss imaging | 0.99 | 0.31 | 0.33 | 0.31 | 0.33 | 0.04 | 1.34 | 1.36 | 1.34 | 1.36 | XXX
78278 | TC | A | Acute GI blood loss imaging | 0.00 | 8.26 | 5.72 | NA | NA | 0.25 | 8.51 | 5.97 | NA | NA | XXX
78282 |  | C | GI protein loss exam | 0.00 | 0.00 | 0.00 | 0.00 | 0.00 | 0.00 | 0.00 | 0.00 | 0.00 | 0.00 | XXX
78282 | 26 | A | GI protein loss exam | 0.38 | 0.12 | 0.13 | 0.12 | 0.13 | 0.02 | 0.52 | 0.53 | 0.52 | 0.53 | XXX
78282 | TC | C | GI protein loss exam | 0.00 | 0.00 | 0.00 | 0.00 | 0.00 | 0.00 | 0.00 | 0.00 | 0.00 | 0.00 | XXX
78290 |  | A | MeckelIs divert exam | 0.68 | 8.46 | 4.58 | NA | NA | 0.19 | 9.33 | 5.45 | NA | NA | XXX
78290 | 26 | A | MeckelIs divert exam | 0.68 | 0.21 | 0.23 | 0.21 | 0.23 | 0.03 | 0.92 | 0.94 | 0.92 | 0.94 | XXX
78290 | TC | A | MeckelIs divert exam | 0.00 | 8.25 | 4.35 | NA | NA | 0.16 | 8.41 | 4.51 | NA | NA | XXX
78291 |  | A | Leveen/shunt patency exam | 0.88 | 6.17 | 4.06 | NA | NA | 0.20 | 7.25 | 5.14 | NA | NA | XXX
78291 | 26 | A | Leveen/shunt patency exam | 0.88 | 0.27 | 0.29 | 0.27 | 0.29 | 0.04 | 1.19 | 1.21 | 1.19 | 1.21 | XXX
78291 | TC | A | Leveen/shunt patency exam | 0.00 | 5.90 | 3.77 | NA | NA | 0.16 | 6.06 | 3.93 | NA | NA | XXX
78299 |  | C | GI nuclear procedure | 0.00 | 0.00 | 0.00 | 0.00 | 0.00 | 0.00 | 0.00 | 0.00 | 0.00 | 0.00 | XXX
78299 | 26 | C | GI nuclear procedure | 0.00 | 0.00 | 0.00 | 0.00 | 0.00 | 0.00 | 0.00 | 0.00 | 0.00 | 0.00 | XXX
78299 | TC | C | GI nuclear procedure | 0.00 | 0.00 | 0.00 | 0.00 | 0.00 | 0.00 | 0.00 | 0.00 | 0.00 | 0.00 | XXX
78300 |  | A | Bone imaging, limited area | 0.62 | 4.20 | 3.07 | NA | NA | 0.17 | 4.99 | 3.86 | NA | NA | XXX
78300 | 26 | A | Bone imaging, limited area | 0.62 | 0.19 | 0.21 | 0.19 | 0.21 | 0.03 | 0.84 | 0.86 | 0.84 | 0.86 | XXX
78300 | TC | A | Bone imaging, limited area | 0.00 | 4.01 | 2.86 | NA | NA | 0.14 | 4.15 | 3.00 | NA | NA | XXX
78305 |  | A | Bone imaging, multiple areas | 0.83 | 5.46 | 4.32 | NA | NA | 0.23 | 6.52 | 5.38 | NA | NA | XXX
78305 | 26 | A | Bone imaging, multiple areas | 0.83 | 0.26 | 0.28 | 0.26 | 0.28 | 0.04 | 1.13 | 1.15 | 1.13 | 1.15 | XXX
78305 | TC | A | Bone imaging, multiple areas | 0.00 | 5.20 | 4.05 | NA | NA | 0.19 | 5.39 | 4.24 | NA | NA | XXX
78306 |  | A | Bone imaging, whole body | 0.86 | 6.05 | 4.93 | NA | NA | 0.26 | 7.17 | 6.05 | NA | NA | XXX
78306 | 26 | A | Bone imaging, whole body | 0.86 | 0.27 | 0.29 | 0.27 | 0.29 | 0.04 | 1.17 | 1.19 | 1.17 | 1.19 | XXX
78306 | TC | A | Bone imaging, whole body | 0.00 | 5.78 | 4.65 | NA | NA | 0.22 | 6.00 | 4.87 | NA | NA | XXX
78315 |  | A | Bone imaging, 3 phase | 1.02 | 8.59 | 5.99 | NA | NA | 0.29 | 9.90 | 7.30 | NA | NA | XXX
78315 | 26 | A | Bone imaging, 3 phase | 1.02 | 0.32 | 0.34 | 0.32 | 0.34 | 0.04 | 1.38 | 1.40 | 1.38 | 1.40 | XXX
78315 | TC | A | Bone imaging, 3 phase | 0.00 | 8.27 | 5.65 | NA | NA | 0.25 | 8.52 | 5.90 | NA | NA | XXX
78320 |  | A | Bone imaging (3D) | 1.04 | 5.36 | 6.04 | NA | NA | 0.35 | 6.75 | 7.43 | NA | NA | XXX
78320 | 26 | A | Bone imaging (3D) | 1.04 | 0.33 | 0.35 | 0.33 | 0.35 | 0.04 | 1.41 | 1.43 | 1.41 | 1.43 | XXX
78320 | TC | A | Bone imaging (3D) | 0.00 | 5.03 | 5.69 | NA | NA | 0.31 | 5.34 | 6.00 | NA | NA | XXX
78350 |  | A | Bone mineral, single photon | 0.22 | 0.56 | 0.76 | NA | NA | 0.06 | 0.84 | 1.04 | NA | NA | XXX
78350 | 26 | A | Bone mineral, single photon | 0.22 | 0.06 | 0.07 | 0.06 | 0.07 | 0.01 | 0.29 | 0.30 | 0.29 | 0.30 | XXX
78350 | TC | A | Bone mineral, single photon | 0.00 | 0.49 | 0.69 | NA | NA | 0.05 | 0.54 | 0.74 | NA | NA | XXX
78351 |  | N | Bone mineral, dual photon | 0.30 | 2.80 | 1.99 | 0.07 | 0.11 | 0.01 | 3.11 | 2.30 | 0.38 | 0.42 | XXX
78399 |  | C | Musculoskeletal nuclear exam | 0.00 | 0.00 | 0.00 | 0.00 | 0.00 | 0.00 | 0.00 | 0.00 | 0.00 | 0.00 | XXX
78399 | 26 | C | Musculoskeletal nuclear exam | 0.00 | 0.00 | 0.00 | 0.00 | 0.00 | 0.00 | 0.00 | 0.00 | 0.00 | 0.00 | XXX
78399 | TC | C | Musculoskeletal nuclear exam | 0.00 | 0.00 | 0.00 | 0.00 | 0.00 | 0.00 | 0.00 | 0.00 | 0.00 | 0.00 | XXX
78414 |  | C | Non-imaging heart function | 0.00 | 0.00 | 0.00 | 0.00 | 0.00 | 0.00 | 0.00 | 0.00 | 0.00 | 0.00 | XXX
78414 | 26 | A | Non-imaging heart function | 0.45 | 0.14 | 0.16 | 0.14 | 0.16 | 0.02 | 0.61 | 0.63 | 0.61 | 0.63 | XXX
78414 | TC | C | Non-imaging heart function | 0.00 | 0.00 | 0.00 | 0.00 | 0.00 | 0.00 | 0.00 | 0.00 | 0.00 | 0.00 | XXX
78428 |  | A | Cardiac shunt imaging | 0.78 | 5.36 | 3.25 | NA | NA | 0.16 | 6.30 | 4.19 | NA | NA | XXX
78428 | 26 | A | Cardiac shunt imaging | 0.78 | 0.38 | 0.31 | 0.38 | 0.31 | 0.03 | 1.19 | 1.12 | 1.19 | 1.12 | XXX
78428 | TC | A | Cardiac shunt imaging | 0.00 | 4.98 | 2.93 | NA | NA | 0.13 | 5.11 | 3.06 | NA | NA | XXX
78445 |  | A | Vascular flow imaging | 0.49 | 4.63 | 2.68 | NA | NA | 0.13 | 5.25 | 3.30 | NA | NA | XXX
78445 | 26 | A | Vascular flow imaging | 0.49 | 0.18 | 0.17 | 0.18 | 0.17 | 0.02 | 0.69 | 0.68 | 0.69 | 0.68 | XXX
78445 | TC | A | Vascular flow imaging | 0.00 | 4.45 | 2.51 | NA | NA | 0.11 | 4.56 | 2.62 | NA | NA | XXX
78456 |  | A | Acute venous thrombus image | 1.00 | 10.04 | 5.75 | NA | NA | 0.33 | 11.37 | 7.08 | NA | NA | XXX
78456 | 26 | A | Acute venous thrombus image | 1.00 | 0.50 | 0.38 | 0.50 | 0.38 | 0.04 | 1.54 | 1.42 | 1.54 | 1.42 | XXX
78456 | TC | A | Acute venous thrombus image | 0.00 | 9.54 | 5.37 | NA | NA | 0.29 | 9.83 | 5.66 | NA | NA | XXX
78457 |  | A | Venous thrombosis imaging | 0.77 | 4.73 | 3.38 | NA | NA | 0.17 | 5.67 | 4.32 | NA | NA | XXX
78457 | 26 | A | Venous thrombosis imaging | 0.77 | 0.24 | 0.26 | 0.24 | 0.26 | 0.03 | 1.04 | 1.06 | 1.04 | 1.06 | XXX
78457 | TC | A | Venous thrombosis imaging | 0.00 | 4.49 | 3.12 | NA | NA | 0.14 | 4.63 | 3.26 | NA | NA | XXX
78458 |  | A | Ven thrombosis images, bilat | 0.90 | 4.59 | 4.40 | NA | NA | 0.25 | 5.74 | 5.55 | NA | NA | XXX
78458 | 26 | A | Ven thrombosis images, bilat | 0.90 | 0.28 | 0.31 | 0.28 | 0.31 | 0.04 | 1.22 | 1.25 | 1.22 | 1.25 | XXX
78458 | TC | A | Ven thrombosis images, bilat | 0.00 | 4.31 | 4.09 | NA | NA | 0.21 | 4.52 | 4.30 | NA | NA | XXX
78459 |  | C | Heart muscle imaging (PET) | 0.00 | 0.00 | 0.00 | 0.00 | 0.00 | 0.00 | 0.00 | 0.00 | 0.00 | 0.00 | XXX
78459 | 26 | A | Heart muscle imaging (PET) | 1.50 | 0.55 | 0.57 | 0.55 | 0.57 | 0.05 | 2.10 | 2.12 | 2.10 | 2.12 | XXX
78459 | TC | C | Heart muscle imaging (PET) | 0.00 | 0.00 | 0.00 | 0.00 | 0.00 | 0.00 | 0.00 | 0.00 | 0.00 | 0.00 | XXX
78460 |  | A | Heart muscle blood, single | 0.86 | 4.68 | 3.16 | NA | NA | 0.17 | 5.71 | 4.19 | NA | NA | XXX
78460 | 26 | A | Heart muscle blood, single | 0.86 | 0.29 | 0.29 | 0.29 | 0.29 | 0.04 | 1.19 | 1.19 | 1.19 | 1.19 | XXX
78460 | TC | A | Heart muscle blood, single | 0.00 | 4.39 | 2.87 | NA | NA | 0.13 | 4.52 | 3.00 | NA | NA | XXX
78461 |  | A | Heart muscle blood, multiple | 1.23 | 4.01 | 4.87 | NA | NA | 0.30 | 5.54 | 6.40 | NA | NA | XXX
78461 | 26 | A | Heart muscle blood, multiple | 1.23 | 0.42 | 0.43 | 0.42 | 0.43 | 0.05 | 1.70 | 1.71 | 1.70 | 1.71 | XXX
78461 | TC | A | Heart muscle blood, multiple | 0.00 | 3.59 | 4.44 | NA | NA | 0.25 | 3.84 | 4.69 | NA | NA | XXX
78464 |  | A | Heart image (3d), single | 1.09 | 5.91 | 7.07 | NA | NA | 0.41 | 7.41 | 8.57 | NA | NA | XXX
78464 | 26 | A | Heart image (3d), single | 1.09 | 0.49 | 0.41 | 0.49 | 0.41 | 0.04 | 1.62 | 1.54 | 1.62 | 1.54 | XXX
78464 | TC | A | Heart image (3d), single | 0.00 | 5.42 | 6.66 | NA | NA | 0.37 | 5.79 | 7.03 | NA | NA | XXX
78465 |  | A | Heart image (3d), multiple | 1.46 | 11.58 | 12.12 | NA | NA | 0.67 | 13.71 | 14.25 | NA | NA | XXX
78465 | 26 | A | Heart image (3d), multiple | 1.46 | 0.71 | 0.57 | 0.71 | 0.57 | 0.05 | 2.22 | 2.08 | 2.22 | 2.08 | XXX
78465 | TC | A | Heart image (3d), multiple | 0.00 | 10.87 | 11.56 | NA | NA | 0.62 | 11.49 | 12.18 | NA | NA | XXX
78466 |  | A | Heart infarct image | 0.69 | 4.52 | 3.28 | NA | NA | 0.17 | 5.38 | 4.14 | NA | NA | XXX
78466 | 26 | A | Heart infarct image | 0.69 | 0.25 | 0.24 | 0.25 | 0.24 | 0.03 | 0.97 | 0.96 | 0.97 | 0.96 | XXX
78466 | TC | A | Heart infarct image | 0.00 | 4.27 | 3.03 | NA | NA | 0.14 | 4.41 | 3.17 | NA | NA | XXX
78468 |  | A | Heart infarct image (ef) | 0.80 | 6.06 | 4.46 | NA | NA | 0.22 | 7.08 | 5.48 | NA | NA | XXX
78468 | 26 | A | Heart infarct image (ef) | 0.80 | 0.42 | 0.31 | 0.42 | 0.31 | 0.03 | 1.25 | 1.14 | 1.25 | 1.14 | XXX
78468 | TC | A | Heart infarct image (ef) | 0.00 | 5.64 | 4.16 | NA | NA | 0.19 | 5.83 | 4.35 | NA | NA | XXX
78469 |  | A | Heart infarct image (3D) | 0.92 | 6.29 | 5.72 | NA | NA | 0.31 | 7.52 | 6.95 | NA | NA | XXX
78469 | 26 | A | Heart infarct image (3D) | 0.92 | 0.43 | 0.34 | 0.43 | 0.34 | 0.03 | 1.38 | 1.29 | 1.38 | 1.29 | XXX
78469 | TC | A | Heart infarct image (3D) | 0.00 | 5.85 | 5.38 | NA | NA | 0.28 | 6.13 | 5.66 | NA | NA | XXX
78472 |  | A | Gated heart, planar, single | 0.98 | 6.15 | 5.93 | NA | NA | 0.34 | 7.47 | 7.25 | NA | NA | XXX
78472 | 26 | A | Gated heart, planar, single | 0.98 | 0.40 | 0.36 | 0.40 | 0.36 | 0.04 | 1.42 | 1.38 | 1.42 | 1.38 | XXX
78472 | TC | A | Gated heart, planar, single | 0.00 | 5.75 | 5.57 | NA | NA | 0.30 | 6.05 | 5.87 | NA | NA | XXX
78473 |  | A | Gated heart, multiple | 1.47 | 7.79 | 8.52 | NA | NA | 0.48 | 9.74 | 10.47 | NA | NA | XXX
78473 | 26 | A | Gated heart, multiple | 1.47 | 0.62 | 0.54 | 0.62 | 0.54 | 0.06 | 2.15 | 2.07 | 2.15 | 2.07 | XXX
78473 | TC | A | Gated heart, multiple | 0.00 | 7.17 | 7.99 | NA | NA | 0.42 | 7.59 | 8.41 | NA | NA | XXX
78478 |  | A | Heart wall motion add-on | 0.50 | 0.81 | 1.54 | NA | NA | 0.12 | 1.43 | 2.16 | NA | NA | XXX
78478 | 26 | A | Heart wall motion add-on | 0.50 | 0.24 | 0.23 | 0.24 | 0.23 | 0.02 | 0.76 | 0.75 | 0.76 | 0.75 | XXX
78478 | TC | A | Heart wall motion add-on | 0.00 | 0.57 | 1.31 | NA | NA | 0.10 | 0.67 | 1.41 | NA | NA | XXX
78480 |  | A | Heart function add-on | 0.30 | 0.71 | 1.51 | NA | NA | 0.12 | 1.13 | 1.93 | NA | NA | XXX
78480 | 26 | A | Heart function add-on | 0.30 | 0.15 | 0.20 | 0.15 | 0.20 | 0.02 | 0.47 | 0.52 | 0.47 | 0.52 | XXX
78480 | TC | A | Heart function add-on | 0.00 | 0.57 | 1.31 | NA | NA | 0.10 | 0.67 | 1.41 | NA | NA | XXX
78481 |  | A | Heart first pass, single | 0.98 | 5.12 | 5.47 | NA | NA | 0.31 | 6.41 | 6.76 | NA | NA | XXX
78481 | 26 | A | Heart first pass, single | 0.98 | 0.49 | 0.39 | 0.49 | 0.39 | 0.03 | 1.50 | 1.40 | 1.50 | 1.40 | XXX
78481 | TC | A | Heart first pass, single | 0.00 | 4.62 | 5.07 | NA | NA | 0.28 | 4.90 | 5.35 | NA | NA | XXX
78483 |  | A | Heart first pass, multiple | 1.47 | 6.93 | 8.04 | NA | NA | 0.46 | 8.86 | 9.97 | NA | NA | XXX
78483 | 26 | A | Heart first pass, multiple | 1.47 | 0.79 | 0.60 | 0.79 | 0.60 | 0.05 | 2.31 | 2.12 | 2.31 | 2.12 | XXX
78483 | TC | A | Heart first pass, multiple | 0.00 | 6.14 | 7.44 | NA | NA | 0.41 | 6.55 | 7.85 | NA | NA | XXX
78491 |  | C | Heart image (pet), single | 0.00 | 0.00 | 0.00 | 0.00 | 0.00 | 0.00 | 0.00 | 0.00 | 0.00 | 0.00 | XXX
78491 | 26 | A | Heart image (pet), single | 1.50 | 0.62 | 0.60 | 0.62 | 0.60 | 0.06 | 2.18 | 2.16 | 2.18 | 2.16 | XXX
78491 | TC | C | Heart image (pet), single | 0.00 | 0.00 | 0.00 | 0.00 | 0.00 | 0.00 | 0.00 | 0.00 | 0.00 | 0.00 | XXX
78492 |  | C | Heart image (pet), multiple | 0.00 | 0.00 | 0.00 | 0.00 | 0.00 | 0.00 | 0.00 | 0.00 | 0.00 | 0.00 | XXX
78492 | 26 | A | Heart image (pet), multiple | 1.87 | 0.91 | 0.78 | 0.91 | 0.78 | 0.07 | 2.85 | 2.72 | 2.85 | 2.72 | XXX
78492 | TC | C | Heart image (pet), multiple | 0.00 | 0.00 | 0.00 | 0.00 | 0.00 | 0.00 | 0.00 | 0.00 | 0.00 | 0.00 | XXX
78494 |  | A | Heart image, spect | 1.19 | 6.30 | 7.19 | NA | NA | 0.35 | 7.84 | 8.73 | NA | NA | XXX
78494 | 26 | A | Heart image, spect | 1.19 | 0.54 | 0.45 | 0.54 | 0.45 | 0.05 | 1.78 | 1.69 | 1.78 | 1.69 | XXX
78494 | TC | A | Heart image, spect | 0.00 | 5.75 | 6.74 | NA | NA | 0.30 | 6.05 | 7.04 | NA | NA | XXX
78496 |  | A | Heart first pass add-on | 0.50 | 0.93 | 5.67 | 0.93 | 5.67 | 0.32 | 1.75 | 6.49 | 1.75 | 6.49 | ZZZ
78496 | 26 | A | Heart first pass add-on | 0.50 | 0.25 | 0.20 | 0.25 | 0.20 | 0.02 | 0.77 | 0.72 | 0.77 | 0.72 | ZZZ
78496 | TC | A | Heart first pass add-on | 0.00 | 0.68 | 5.47 | 0.68 | 5.47 | 0.30 | 0.98 | 5.77 | 0.98 | 5.77 | ZZZ
78499 |  | C | Cardiovascular nuclear exam | 0.00 | 0.00 | 0.00 | 0.00 | 0.00 | 0.00 | 0.00 | 0.00 | 0.00 | 0.00 | XXX
78499 | 26 | C | Cardiovascular nuclear exam | 0.00 | 0.00 | 0.00 | 0.00 | 0.00 | 0.00 | 0.00 | 0.00 | 0.00 | 0.00 | XXX
78499 | TC | C | Cardiovascular nuclear exam | 0.00 | 0.00 | 0.00 | 0.00 | 0.00 | 0.00 | 0.00 | 0.00 | 0.00 | 0.00 | XXX
78580 |  | A | Lung perfusion imaging | 0.74 | 5.12 | 4.04 | NA | NA | 0.21 | 6.07 | 4.99 | NA | NA | XXX
78580 | 26 | A | Lung perfusion imaging | 0.74 | 0.24 | 0.25 | 0.24 | 0.25 | 0.03 | 1.01 | 1.02 | 1.01 | 1.02 | XXX
78580 | TC | A | Lung perfusion imaging | 0.00 | 4.88 | 3.79 | NA | NA | 0.18 | 5.06 | 3.97 | NA | NA | XXX
78584 |  | A | Lung V/Q image single breath | 0.99 | 2.93 | 3.38 | NA | NA | 0.21 | 4.13 | 4.58 | NA | NA | XXX
78584 | 26 | A | Lung V/Q image single breath | 0.99 | 0.31 | 0.33 | 0.31 | 0.33 | 0.04 | 1.34 | 1.36 | 1.34 | 1.36 | XXX
78584 | TC | A | Lung V/Q image single breath | 0.00 | 2.62 | 3.06 | NA | NA | 0.17 | 2.79 | 3.23 | NA | NA | XXX
78585 |  | A | Lung V/Q imaging | 1.09 | 8.60 | 6.65 | NA | NA | 0.35 | 10.04 | 8.09 | NA | NA | XXX
78585 | 26 | A | Lung V/Q imaging | 1.09 | 0.34 | 0.36 | 0.34 | 0.36 | 0.05 | 1.48 | 1.50 | 1.48 | 1.50 | XXX
78585 | TC | A | Lung V/Q imaging | 0.00 | 8.26 | 6.30 | NA | NA | 0.30 | 8.56 | 6.60 | NA | NA | XXX
78586 |  | A | Aerosol lung image, single | 0.40 | 4.13 | 3.07 | NA | NA | 0.16 | 4.69 | 3.63 | NA | NA | XXX
78586 | 26 | A | Aerosol lung image, single | 0.40 | 0.12 | 0.13 | 0.12 | 0.13 | 0.02 | 0.54 | 0.55 | 0.54 | 0.55 | XXX
78586 | TC | A | Aerosol lung image, single | 0.00 | 4.01 | 2.95 | NA | NA | 0.14 | 4.15 | 3.09 | NA | NA | XXX
78587 |  | A | Aerosol lung image, multiple | 0.49 | 5.43 | 3.59 | NA | NA | 0.16 | 6.08 | 4.24 | NA | NA | XXX
78587 | 26 | A | Aerosol lung image, multiple | 0.49 | 0.15 | 0.17 | 0.15 | 0.17 | 0.02 | 0.66 | 0.68 | 0.66 | 0.68 | XXX
78587 | TC | A | Aerosol lung image, multiple | 0.00 | 5.27 | 3.42 | NA | NA | 0.14 | 5.41 | 3.56 | NA | NA | XXX
78588 |  | A | Perfusion lung image | 1.09 | 8.63 | 4.83 | NA | NA | 0.23 | 9.95 | 6.15 | NA | NA | XXX
78588 | 26 | A | Perfusion lung image | 1.09 | 0.34 | 0.36 | 0.34 | 0.36 | 0.05 | 1.48 | 1.50 | 1.48 | 1.50 | XXX
78588 | TC | A | Perfusion lung image | 0.00 | 8.29 | 4.47 | NA | NA | 0.18 | 8.47 | 4.65 | NA | NA | XXX
78591 |  | A | Vent image, 1 breath, 1 proj | 0.40 | 4.12 | 3.27 | NA | NA | 0.16 | 4.68 | 3.83 | NA | NA | XXX
78591 | 26 | A | Vent image, 1 breath, 1 proj | 0.40 | 0.12 | 0.13 | 0.12 | 0.13 | 0.02 | 0.54 | 0.55 | 0.54 | 0.55 | XXX
78591 | TC | A | Vent image, 1 breath, 1 proj | 0.00 | 4.00 | 3.14 | NA | NA | 0.14 | 4.14 | 3.28 | NA | NA | XXX
78593 |  | A | Vent image, 1 proj, gas | 0.49 | 4.79 | 3.91 | NA | NA | 0.20 | 5.48 | 4.60 | NA | NA | XXX
78593 | 26 | A | Vent image, 1 proj, gas | 0.49 | 0.15 | 0.16 | 0.15 | 0.16 | 0.02 | 0.66 | 0.67 | 0.66 | 0.67 | XXX
78593 | TC | A | Vent image, 1 proj, gas | 0.00 | 4.64 | 3.75 | NA | NA | 0.18 | 4.82 | 3.93 | NA | NA | XXX
78594 |  | A | Vent image, mult proj, gas | 0.53 | 5.29 | 5.19 | NA | NA | 0.27 | 6.09 | 5.99 | NA | NA | XXX
78594 | 26 | A | Vent image, mult proj, gas | 0.53 | 0.16 | 0.18 | 0.16 | 0.18 | 0.02 | 0.71 | 0.73 | 0.71 | 0.73 | XXX
78594 | TC | A | Vent image, mult proj, gas | 0.00 | 5.13 | 5.02 | NA | NA | 0.25 | 5.38 | 5.27 | NA | NA | XXX
78596 |  | A | Lung differential function | 1.27 | 8.73 | 7.80 | NA | NA | 0.42 | 10.42 | 9.49 | NA | NA | XXX
78596 | 26 | A | Lung differential function | 1.27 | 0.37 | 0.41 | 0.37 | 0.41 | 0.05 | 1.69 | 1.73 | 1.69 | 1.73 | XXX
78596 | TC | A | Lung differential function | 0.00 | 8.36 | 7.39 | NA | NA | 0.37 | 8.73 | 7.76 | NA | NA | XXX
78599 |  | C | Respiratory nuclear exam | 0.00 | 0.00 | 0.00 | 0.00 | 0.00 | 0.00 | 0.00 | 0.00 | 0.00 | 0.00 | XXX
78599 | 26 | C | Respiratory nuclear exam | 0.00 | 0.00 | 0.00 | 0.00 | 0.00 | 0.00 | 0.00 | 0.00 | 0.00 | 0.00 | XXX
78599 | TC | C | Respiratory nuclear exam | 0.00 | 0.00 | 0.00 | 0.00 | 0.00 | 0.00 | 0.00 | 0.00 | 0.00 | 0.00 | XXX
78600 |  | A | Brain imaging, ltd static | 0.44 | 7.30 | 4.10 | NA | NA | 0.16 | 7.90 | 4.70 | NA | NA | XXX
78600 | 26 | A | Brain imaging, ltd static | 0.44 | 0.14 | 0.15 | 0.14 | 0.15 | 0.02 | 0.60 | 0.61 | 0.60 | 0.61 | XXX
78600 | TC | A | Brain imaging, ltd static | 0.00 | 7.16 | 3.95 | NA | NA | 0.14 | 7.30 | 4.09 | NA | NA | XXX
78601 |  | A | Brain imaging, ltd w/flow | 0.51 | 5.35 | 4.02 | NA | NA | 0.20 | 6.06 | 4.73 | NA | NA | XXX
78601 | 26 | A | Brain imaging, ltd w/flow | 0.51 | 0.16 | 0.17 | 0.16 | 0.17 | 0.02 | 0.69 | 0.70 | 0.69 | 0.70 | XXX
78601 | TC | A | Brain imaging, ltd w/flow | 0.00 | 5.19 | 3.85 | NA | NA | 0.18 | 5.37 | 4.03 | NA | NA | XXX
78605 |  | A | Brain imaging, complete | 0.53 | 4.75 | 3.87 | NA | NA | 0.20 | 5.48 | 4.60 | NA | NA | XXX
78605 | 26 | A | Brain imaging, complete | 0.53 | 0.17 | 0.18 | 0.17 | 0.18 | 0.02 | 0.72 | 0.73 | 0.72 | 0.73 | XXX
78605 | TC | A | Brain imaging, complete | 0.00 | 4.59 | 3.70 | NA | NA | 0.18 | 4.77 | 3.88 | NA | NA | XXX
78606 |  | A | Brain imaging, compl w/flow | 0.64 | 8.54 | 5.20 | NA | NA | 0.24 | 9.42 | 6.08 | NA | NA | XXX
78606 | 26 | A | Brain imaging, compl w/flow | 0.64 | 0.20 | 0.21 | 0.20 | 0.21 | 0.03 | 0.87 | 0.88 | 0.87 | 0.88 | XXX
78606 | TC | A | Brain imaging, compl w/flow | 0.00 | 8.34 | 4.99 | NA | NA | 0.21 | 8.55 | 5.20 | NA | NA | XXX
78607 |  | A | Brain imaging (3D) | 1.23 | 15.23 | 9.04 | NA | NA | 0.40 | 16.86 | 10.67 | NA | NA | XXX
78607 | 26 | A | Brain imaging (3D) | 1.23 | 0.38 | 0.42 | 0.38 | 0.42 | 0.05 | 1.66 | 1.70 | 1.66 | 1.70 | XXX
78607 | TC | A | Brain imaging (3D) | 0.00 | 14.85 | 8.63 | NA | NA | 0.35 | 15.20 | 8.98 | NA | NA | XXX
78608 |  | C | Brain imaging (PET) | 0.00 | 0.00 | 0.00 | 0.00 | 0.00 | 0.00 | 0.00 | 0.00 | 0.00 | 0.00 | XXX
78608 | 26 | A | Brain imaging (PET) | 1.50 | 0.47 | 0.50 | 0.47 | 0.50 | 0.06 | 2.03 | 2.06 | 2.03 | 2.06 | XXX
78608 | TC | C | Brain imaging (PET) | 0.00 | 0.00 | 0.00 | 0.00 | 0.00 | 0.00 | 0.00 | 0.00 | 0.00 | 0.00 | XXX
78609 |  | C | Brain imaging (PET) | 0.00 | 0.00 | 0.00 | 0.00 | 0.00 | 0.00 | 0.00 | 0.00 | 0.00 | 0.00 | XXX
78609 | 26 | A | Brain imaging (PET) | 1.50 | 0.47 | 0.50 | 0.47 | 0.50 | 0.06 | 2.03 | 2.06 | 2.03 | 2.06 | XXX
78609 | TC | C | Brain imaging (PET) | 0.00 | 0.00 | 0.00 | 0.00 | 0.00 | 0.00 | 0.00 | 0.00 | 0.00 | 0.00 | XXX
78610 |  | A | Brain flow imaging only | 0.30 | 4.44 | 2.38 | NA | NA | 0.11 | 4.85 | 2.79 | NA | NA | XXX
78610 | 26 | A | Brain flow imaging only | 0.30 | 0.09 | 0.11 | 0.09 | 0.11 | 0.01 | 0.40 | 0.42 | 0.40 | 0.42 | XXX
78610 | TC | A | Brain flow imaging only | 0.00 | 4.35 | 2.27 | NA | NA | 0.10 | 4.45 | 2.37 | NA | NA | XXX
78615 |  | A | Cerebral vascular flow image | 0.42 | 5.34 | 4.34 | NA | NA | 0.23 | 5.99 | 4.99 | NA | NA | XXX
78615 | 26 | A | Cerebral vascular flow image | 0.42 | 0.13 | 0.15 | 0.13 | 0.15 | 0.02 | 0.57 | 0.59 | 0.57 | 0.59 | XXX
78615 | TC | A | Cerebral vascular flow image | 0.00 | 5.21 | 4.19 | NA | NA | 0.21 | 5.42 | 4.40 | NA | NA | XXX
78630 |  | A | Cerebrospinal fluid scan | 0.68 | 8.61 | 6.10 | NA | NA | 0.30 | 9.59 | 7.08 | NA | NA | XXX
78630 | 26 | A | Cerebrospinal fluid scan | 0.68 | 0.21 | 0.23 | 0.21 | 0.23 | 0.03 | 0.92 | 0.94 | 0.92 | 0.94 | XXX
78630 | TC | A | Cerebrospinal fluid scan | 0.00 | 8.40 | 5.88 | NA | NA | 0.27 | 8.67 | 6.15 | NA | NA | XXX
78635 |  | A | CSF ventriculography | 0.61 | 8.54 | 4.21 | NA | NA | 0.16 | 9.31 | 4.98 | NA | NA | XXX
78635 | 26 | A | CSF ventriculography | 0.61 | 0.19 | 0.22 | 0.19 | 0.22 | 0.02 | 0.82 | 0.85 | 0.82 | 0.85 | XXX
78635 | TC | A | CSF ventriculography | 0.00 | 8.35 | 3.99 | NA | NA | 0.14 | 8.49 | 4.13 | NA | NA | XXX
78645 |  | A | CSF shunt evaluation | 0.57 | 8.43 | 4.82 | NA | NA | 0.20 | 9.20 | 5.59 | NA | NA | XXX
78645 | 26 | A | CSF shunt evaluation | 0.57 | 0.18 | 0.19 | 0.18 | 0.19 | 0.02 | 0.77 | 0.78 | 0.77 | 0.78 | XXX
78645 | TC | A | CSF shunt evaluation | 0.00 | 8.25 | 4.64 | NA | NA | 0.18 | 8.43 | 4.82 | NA | NA | XXX
78647 |  | A | Cerebrospinal fluid scan | 0.90 | 14.31 | 8.24 | NA | NA | 0.35 | 15.56 | 9.49 | NA | NA | XXX
78647 | 26 | A | Cerebrospinal fluid scan | 0.90 | 0.27 | 0.30 | 0.27 | 0.30 | 0.04 | 1.21 | 1.24 | 1.21 | 1.24 | XXX
78647 | TC | A | Cerebrospinal fluid scan | 0.00 | 14.05 | 7.95 | NA | NA | 0.31 | 14.36 | 8.26 | NA | NA | XXX
78650 |  | A | CSF leakage imaging | 0.61 | 8.62 | 5.79 | NA | NA | 0.27 | 9.50 | 6.67 | NA | NA | XXX
78650 | 26 | A | CSF leakage imaging | 0.61 | 0.19 | 0.21 | 0.19 | 0.21 | 0.03 | 0.83 | 0.85 | 0.83 | 0.85 | XXX
78650 | TC | A | CSF leakage imaging | 0.00 | 8.43 | 5.59 | NA | NA | 0.24 | 8.67 | 5.83 | NA | NA | XXX
78660 |  | A | Nuclear exam of tear flow | 0.53 | 4.24 | 2.79 | NA | NA | 0.14 | 4.91 | 3.46 | NA | NA | XXX
78660 | 26 | A | Nuclear exam of tear flow | 0.53 | 0.17 | 0.18 | 0.17 | 0.18 | 0.02 | 0.72 | 0.73 | 0.72 | 0.73 | XXX
78660 | TC | A | Nuclear exam of tear flow | 0.00 | 4.07 | 2.61 | NA | NA | 0.12 | 4.19 | 2.73 | NA | NA | XXX
78699 |  | C | Nervous system nuclear exam | 0.00 | 0.00 | 0.00 | 0.00 | 0.00 | 0.00 | 0.00 | 0.00 | 0.00 | 0.00 | XXX
78699 | 26 | C | Nervous system nuclear exam | 0.00 | 0.00 | 0.00 | 0.00 | 0.00 | 0.00 | 0.00 | 0.00 | 0.00 | 0.00 | XXX
78699 | TC | C | Nervous system nuclear exam | 0.00 | 0.00 | 0.00 | 0.00 | 0.00 | 0.00 | 0.00 | 0.00 | 0.00 | 0.00 | XXX
78700 |  | A | Kidney imaging, static | 0.45 | 4.47 | 3.52 | NA | NA | 0.18 | 5.10 | 4.15 | NA | NA | XXX
78700 | 26 | A | Kidney imaging, static | 0.45 | 0.15 | 0.15 | 0.15 | 0.15 | 0.02 | 0.62 | 0.62 | 0.62 | 0.62 | XXX
78700 | TC | A | Kidney imaging, static | 0.00 | 4.32 | 3.37 | NA | NA | 0.16 | 4.48 | 3.53 | NA | NA | XXX
78701 |  | A | Kidney imaging with flow | 0.49 | 5.36 | 4.13 | NA | NA | 0.20 | 6.05 | 4.82 | NA | NA | XXX
78701 | 26 | A | Kidney imaging with flow | 0.49 | 0.15 | 0.16 | 0.15 | 0.16 | 0.02 | 0.66 | 0.67 | 0.66 | 0.67 | XXX
78701 | TC | A | Kidney imaging with flow | 0.00 | 5.21 | 3.97 | NA | NA | 0.18 | 5.39 | 4.15 | NA | NA | XXX
78704 |  | A | Imaging renogram | 0.74 | 5.42 | 4.51 | NA | NA | 0.24 | 6.40 | 5.49 | NA | NA | XXX
78704 | 26 | A | Imaging renogram | 0.74 | 0.23 | 0.25 | 0.23 | 0.25 | 0.03 | 1.00 | 1.02 | 1.00 | 1.02 | XXX
78704 | TC | A | Imaging renogram | 0.00 | 5.19 | 4.26 | NA | NA | 0.21 | 5.40 | 4.47 | NA | NA | XXX
78707 |  | A | Kidney flow/function image | 0.96 | 5.48 | 4.96 | NA | NA | 0.27 | 6.71 | 6.19 | NA | NA | XXX
78707 | 26 | A | Kidney flow/function image | 0.96 | 0.30 | 0.32 | 0.30 | 0.32 | 0.04 | 1.30 | 1.32 | 1.30 | 1.32 | XXX
78707 | TC | A | Kidney flow/function image | 0.00 | 5.18 | 4.65 | NA | NA | 0.23 | 5.41 | 4.88 | NA | NA | XXX
78708 |  | A | Kidney flow/function image | 1.21 | 3.41 | 4.51 | NA | NA | 0.28 | 4.90 | 6.00 | NA | NA | XXX
78708 | 26 | A | Kidney flow/function image | 1.21 | 0.38 | 0.40 | 0.38 | 0.40 | 0.05 | 1.64 | 1.66 | 1.64 | 1.66 | XXX
78708 | TC | A | Kidney flow/function image | 0.00 | 3.03 | 4.11 | NA | NA | 0.23 | 3.26 | 4.34 | NA | NA | XXX
78709 |  | A | Kidney flow/function image | 1.41 | 8.88 | 5.93 | NA | NA | 0.29 | 10.58 | 7.63 | NA | NA | XXX
78709 | 26 | A | Kidney flow/function image | 1.41 | 0.45 | 0.47 | 0.45 | 0.47 | 0.06 | 1.92 | 1.94 | 1.92 | 1.94 | XXX
78709 | TC | A | Kidney flow/function image | 0.00 | 8.43 | 5.46 | NA | NA | 0.23 | 8.66 | 5.69 | NA | NA | XXX
78710 |  | A | Kidney imaging (3D) | 0.66 | 5.29 | 5.92 | NA | NA | 0.34 | 6.29 | 6.92 | NA | NA | XXX
78710 | 26 | A | Kidney imaging (3D) | 0.66 | 0.21 | 0.22 | 0.21 | 0.22 | 0.03 | 0.90 | 0.91 | 0.90 | 0.91 | XXX
78710 | TC | A | Kidney imaging (3D) | 0.00 | 5.08 | 5.70 | NA | NA | 0.31 | 5.39 | 6.01 | NA | NA | XXX
78715 |  | A | Renal vascular flow exam | 0.30 | 4.82 | 2.47 | NA | NA | 0.11 | 5.23 | 2.88 | NA | NA | XXX
78715 | 26 | A | Renal vascular flow exam | 0.30 | 0.13 | 0.12 | 0.13 | 0.12 | 0.01 | 0.44 | 0.43 | 0.44 | 0.43 | XXX
78715 | TC | A | Renal vascular flow exam | 0.00 | 4.69 | 2.36 | NA | NA | 0.10 | 4.79 | 2.46 | NA | NA | XXX
78725 |  | A | Kidney function study | 0.38 | 2.35 | 2.02 | NA | NA | 0.13 | 2.86 | 2.53 | NA | NA | XXX
78725 | 26 | A | Kidney function study | 0.38 | 0.12 | 0.13 | 0.12 | 0.13 | 0.02 | 0.52 | 0.53 | 0.52 | 0.53 | XXX
78725 | TC | A | Kidney function study | 0.00 | 2.23 | 1.89 | NA | NA | 0.11 | 2.34 | 2.00 | NA | NA | XXX
78730 |  | A | Urinary bladder retention | 0.36 | 1.85 | 1.65 | 1.85 | 1.65 | 0.10 | 2.31 | 2.11 | 2.31 | 2.11 | XXX
78730 | 26 | A | Urinary bladder retention | 0.36 | 0.14 | 0.13 | 0.14 | 0.13 | 0.02 | 0.52 | 0.51 | 0.52 | 0.51 | XXX
78730 | TC | A | Urinary bladder retention | 0.00 | 1.71 | 1.52 | 1.71 | 1.52 | 0.08 | 1.79 | 1.60 | 1.79 | 1.60 | XXX
78740 |  | A | Ureteral reflux study | 0.57 | 5.48 | 3.10 | NA | NA | 0.15 | 6.20 | 3.82 | NA | NA | XXX
78740 | 26 | A | Ureteral reflux study | 0.57 | 0.18 | 0.19 | 0.18 | 0.19 | 0.03 | 0.78 | 0.79 | 0.78 | 0.79 | XXX
78740 | TC | A | Ureteral reflux study | 0.00 | 5.30 | 2.92 | NA | NA | 0.12 | 5.42 | 3.04 | NA | NA | XXX
78760 |  | A | Testicular imaging | 0.66 | 4.52 | 3.31 | NA | NA | 0.17 | 5.35 | 4.14 | NA | NA | XXX
78760 | 26 | A | Testicular imaging | 0.66 | 0.22 | 0.22 | 0.22 | 0.22 | 0.03 | 0.91 | 0.91 | 0.91 | 0.91 | XXX
78760 | TC | A | Testicular imaging | 0.00 | 4.30 | 3.09 | NA | NA | 0.14 | 4.44 | 3.23 | NA | NA | XXX
78761 |  | A | Testicular imaging/flow | 0.71 | 4.96 | 3.82 | NA | NA | 0.20 | 5.87 | 4.73 | NA | NA | XXX
78761 | 26 | A | Testicular imaging/flow | 0.71 | 0.23 | 0.24 | 0.23 | 0.24 | 0.03 | 0.97 | 0.98 | 0.97 | 0.98 | XXX
78761 | TC | A | Testicular imaging/flow | 0.00 | 4.72 | 3.58 | NA | NA | 0.17 | 4.89 | 3.75 | NA | NA | XXX
78799 |  | C | Genitourinary nuclear exam | 0.00 | 0.00 | 0.00 | 0.00 | 0.00 | 0.00 | 0.00 | 0.00 | 0.00 | 0.00 | XXX
78799 | 26 | C | Genitourinary nuclear exam | 0.00 | 0.00 | 0.00 | 0.00 | 0.00 | 0.00 | 0.00 | 0.00 | 0.00 | 0.00 | XXX
78799 | TC | C | Genitourinary nuclear exam | 0.00 | 0.00 | 0.00 | 0.00 | 0.00 | 0.00 | 0.00 | 0.00 | 0.00 | 0.00 | XXX
78800 |  | A | Tumor imaging, limited area | 0.66 | 4.29 | 3.79 | NA | NA | 0.22 | 5.17 | 4.67 | NA | NA | XXX
78800 | 26 | A | Tumor imaging, limited area | 0.66 | 0.20 | 0.22 | 0.20 | 0.22 | 0.04 | 0.90 | 0.92 | 0.90 | 0.92 | XXX
78800 | TC | A | Tumor imaging, limited area | 0.00 | 4.09 | 3.57 | NA | NA | 0.18 | 4.27 | 3.75 | NA | NA | XXX
78801 |  | A | Tumor imaging, mult areas | 0.79 | 6.10 | 4.89 | NA | NA | 0.27 | 7.16 | 5.95 | NA | NA | XXX
78801 | 26 | A | Tumor imaging, mult areas | 0.79 | 0.24 | 0.26 | 0.24 | 0.26 | 0.05 | 1.08 | 1.10 | 1.08 | 1.10 | XXX
78801 | TC | A | Tumor imaging, mult areas | 0.00 | 5.86 | 4.63 | NA | NA | 0.22 | 6.08 | 4.85 | NA | NA | XXX
78802 |  | A | Tumor imaging, whole body | 0.86 | 8.17 | 6.41 | NA | NA | 0.34 | 9.37 | 7.61 | NA | NA | XXX
78802 | 26 | A | Tumor imaging, whole body | 0.86 | 0.27 | 0.29 | 0.27 | 0.29 | 0.04 | 1.17 | 1.19 | 1.17 | 1.19 | XXX
78802 | TC | A | Tumor imaging, whole body | 0.00 | 7.90 | 6.12 | NA | NA | 0.30 | 8.20 | 6.42 | NA | NA | XXX
78803 |  | A | Tumor imaging (3D) | 1.09 | 15.02 | 8.95 | NA | NA | 0.40 | 16.51 | 10.44 | NA | NA | XXX
78803 | 26 | A | Tumor imaging (3D) | 1.09 | 0.34 | 0.37 | 0.34 | 0.37 | 0.05 | 1.48 | 1.51 | 1.48 | 1.51 | XXX
78803 | TC | A | Tumor imaging (3D) | 0.00 | 14.67 | 8.58 | NA | NA | 0.35 | 15.02 | 8.93 | NA | NA | XXX
78804 |  | A | Tumor imaging, whole body | 1.07 | 14.91 | 12.30 | NA | NA | 0.34 | 16.32 | 13.71 | NA | NA | XXX
78804 | 26 | A | Tumor imaging, whole body | 1.07 | 0.34 | 0.36 | 0.34 | 0.36 | 0.04 | 1.45 | 1.47 | 1.45 | 1.47 | XXX
78804 | TC | A | Tumor imaging, whole body | 0.00 | 14.58 | 11.94 | NA | NA | 0.30 | 14.88 | 12.24 | NA | NA | XXX
78805 |  | A | Abscess imaging, ltd area | 0.73 | 4.20 | 3.79 | NA | NA | 0.21 | 5.14 | 4.73 | NA | NA | XXX
78805 | 26 | A | Abscess imaging, ltd area | 0.73 | 0.23 | 0.25 | 0.23 | 0.25 | 0.03 | 0.99 | 1.01 | 0.99 | 1.01 | XXX
78805 | TC | A | Abscess imaging, ltd area | 0.00 | 3.97 | 3.54 | NA | NA | 0.18 | 4.15 | 3.72 | NA | NA | XXX
78806 |  | A | Abscess imaging, whole body | 0.86 | 8.35 | 7.13 | NA | NA | 0.39 | 9.60 | 8.38 | NA | NA | XXX
78806 | 26 | A | Abscess imaging, whole body | 0.86 | 0.27 | 0.29 | 0.27 | 0.29 | 0.04 | 1.17 | 1.19 | 1.17 | 1.19 | XXX
78806 | TC | A | Abscess imaging, whole body | 0.00 | 8.08 | 6.84 | NA | NA | 0.35 | 8.43 | 7.19 | NA | NA | XXX
78807 |  | A | Nuclear localization/abscess | 1.09 | 14.28 | 8.78 | NA | NA | 0.39 | 15.76 | 10.26 | NA | NA | XXX
78807 | 26 | A | Nuclear localization/abscess | 1.09 | 0.34 | 0.38 | 0.34 | 0.38 | 0.04 | 1.47 | 1.51 | 1.47 | 1.51 | XXX
78807 | TC | A | Nuclear localization/abscess | 0.00 | 13.94 | 8.40 | NA | NA | 0.35 | 14.29 | 8.75 | NA | NA | XXX
78811 |  | C | Tumor imaging (pet), limited | 0.00 | 0.00 | 0.00 | 0.00 | 0.00 | 0.00 | 0.00 | 0.00 | 0.00 | 0.00 | XXX
78811 | 26 | A | Tumor imaging (pet), limited | 1.54 | 0.48 | 0.52 | 0.48 | 0.52 | 0.11 | 2.13 | 2.17 | 2.13 | 2.17 | XXX
78811 | TC | C | Tumor imaging (pet), limited | 0.00 | 0.00 | 0.00 | 0.00 | 0.00 | 0.00 | 0.00 | 0.00 | 0.00 | 0.00 | XXX
78812 |  | C | Tumor image (pet)/skul-thigh | 0.00 | 0.00 | 0.00 | 0.00 | 0.00 | 0.00 | 0.00 | 0.00 | 0.00 | 0.00 | XXX
78812 | 26 | A | Tumor image (pet)/skul-thigh | 1.93 | 0.61 | 0.65 | 0.61 | 0.65 | 0.11 | 2.65 | 2.69 | 2.65 | 2.69 | XXX
78812 | TC | C | Tumor image (pet)/skul-thigh | 0.00 | 0.00 | 0.00 | 0.00 | 0.00 | 0.00 | 0.00 | 0.00 | 0.00 | 0.00 | XXX
78813 |  | C | Tumor image (pet) full body | 0.00 | 0.00 | 0.00 | 0.00 | 0.00 | 0.00 | 0.00 | 0.00 | 0.00 | 0.00 | XXX
78813 | 26 | A | Tumor image (pet) full body | 2.00 | 0.62 | 0.67 | 0.62 | 0.67 | 0.11 | 2.73 | 2.78 | 2.73 | 2.78 | XXX
78813 | TC | C | Tumor image (pet) full body | 0.00 | 0.00 | 0.00 | 0.00 | 0.00 | 0.00 | 0.00 | 0.00 | 0.00 | 0.00 | XXX
78814 |  | C | Tumor image pet/ct, limited | 0.00 | 0.00 | 0.00 | 0.00 | 0.00 | 0.00 | 0.00 | 0.00 | 0.00 | 0.00 | XXX
78814 | 26 | A | Tumor image pet/ct, limited | 2.20 | 0.68 | 0.74 | 0.68 | 0.74 | 0.11 | 2.99 | 3.05 | 2.99 | 3.05 | XXX
78814 | TC | C | Tumor image pet/ct, limited | 0.00 | 0.00 | 0.00 | 0.00 | 0.00 | 0.00 | 0.00 | 0.00 | 0.00 | 0.00 | XXX
78815 |  | C | Tumorimage pet/ct skul-thigh | 0.00 | 0.00 | 0.00 | 0.00 | 0.00 | 0.00 | 0.00 | 0.00 | 0.00 | 0.00 | XXX
78815 | 26 | A | Tumorimage pet/ct skul-thigh | 2.44 | 0.77 | 0.82 | 0.77 | 0.82 | 0.11 | 3.32 | 3.37 | 3.32 | 3.37 | XXX
78815 | TC | C | Tumorimage pet/ct skul-thigh | 0.00 | 0.00 | 0.00 | 0.00 | 0.00 | 0.00 | 0.00 | 0.00 | 0.00 | 0.00 | XXX
78816 |  | C | Tumor image pet/ct full body | 0.00 | 0.00 | 0.00 | 0.00 | 0.00 | 0.00 | 0.00 | 0.00 | 0.00 | 0.00 | XXX
78816 | 26 | A | Tumor image pet/ct full body | 2.50 | 0.78 | 0.84 | 0.78 | 0.84 | 0.11 | 3.39 | 3.45 | 3.39 | 3.45 | XXX
78816 | TC | C | Tumor image pet/ct full body | 0.00 | 0.00 | 0.00 | 0.00 | 0.00 | 0.00 | 0.00 | 0.00 | 0.00 | 0.00 | XXX
78890 |  | B | Nuclear medicine data proc | 0.05 | 0.39 | 1.10 | NA | NA | 0.07 | 0.51 | 1.22 | NA | NA | XXX
78890 | 26 | B | Nuclear medicine data proc | 0.05 | 0.01 | 0.02 | 0.01 | 0.02 | 0.01 | 0.07 | 0.08 | 0.07 | 0.08 | XXX
78890 | TC | B | Nuclear medicine data proc | 0.00 | 0.38 | 1.08 | NA | NA | 0.06 | 0.44 | 1.14 | NA | NA | XXX
78891 |  | B | Nuclear med data proc | 0.10 | 0.89 | 2.22 | NA | NA | 0.14 | 1.13 | 2.46 | NA | NA | XXX
78891 | 26 | B | Nuclear med data proc | 0.10 | 0.02 | 0.04 | 0.02 | 0.04 | 0.01 | 0.13 | 0.15 | 0.13 | 0.15 | XXX
78891 | TC | B | Nuclear med data proc | 0.00 | 0.86 | 2.18 | NA | NA | 0.13 | 0.99 | 2.31 | NA | NA | XXX
78999 |  | C | Nuclear diagnostic exam | 0.00 | 0.00 | 0.00 | 0.00 | 0.00 | 0.00 | 0.00 | 0.00 | 0.00 | 0.00 | XXX
78999 | 26 | C | Nuclear diagnostic exam | 0.00 | 0.00 | 0.00 | 0.00 | 0.00 | 0.00 | 0.00 | 0.00 | 0.00 | 0.00 | XXX
78999 | TC | C | Nuclear diagnostic exam | 0.00 | 0.00 | 0.00 | 0.00 | 0.00 | 0.00 | 0.00 | 0.00 | 0.00 | 0.00 | XXX
79005 |  | A | Nuclear rx, oral admin | 1.80 | 1.78 | 2.86 | NA | NA | 0.22 | 3.80 | 4.88 | NA | NA | XXX
79005 | 26 | A | Nuclear rx, oral admin | 1.80 | 0.53 | 0.58 | 0.53 | 0.58 | 0.08 | 2.41 | 2.46 | 2.41 | 2.46 | XXX
79005 | TC | A | Nuclear rx, oral admin | 0.00 | 1.25 | 2.28 | NA | NA | 0.14 | 1.39 | 2.42 | NA | NA | XXX
79101 |  | A | Nuclear rx, iv admin | 1.96 | 2.10 | 2.99 | NA | NA | 0.22 | 4.28 | 5.17 | NA | NA | XXX
79101 | 26 | A | Nuclear rx, iv admin | 1.96 | 0.68 | 0.67 | 0.68 | 0.67 | 0.08 | 2.72 | 2.71 | 2.72 | 2.71 | XXX
79101 | TC | A | Nuclear rx, iv admin | 0.00 | 1.41 | 2.32 | NA | NA | 0.14 | 1.55 | 2.46 | NA | NA | XXX
79200 |  | A | Nuclear rx, intracav admin | 1.99 | 2.18 | 3.03 | NA | NA | 0.23 | 4.40 | 5.25 | NA | NA | XXX
79200 | 26 | A | Nuclear rx, intracav admin | 1.99 | 0.59 | 0.67 | 0.59 | 0.67 | 0.09 | 2.67 | 2.75 | 2.67 | 2.75 | XXX
79200 | TC | A | Nuclear rx, intracav admin | 0.00 | 1.60 | 2.37 | NA | NA | 0.14 | 1.74 | 2.51 | NA | NA | XXX
79300 |  | C | Nuclr rx, interstit colloid | 0.00 | 0.00 | 0.00 | 0.00 | 0.00 | 0.00 | 0.00 | 0.00 | 0.00 | 0.00 | XXX
79300 | 26 | A | Nuclr rx, interstit colloid | 1.60 | 0.46 | 0.54 | 0.46 | 0.54 | 0.13 | 2.19 | 2.27 | 2.19 | 2.27 | XXX
79300 | TC | C | Nuclr rx, interstit colloid | 0.00 | 0.00 | 0.00 | 0.00 | 0.00 | 0.00 | 0.00 | 0.00 | 0.00 | 0.00 | XXX
79403 |  | A | Hematopoietic nuclear tx | 2.25 | 2.83 | 4.58 | NA | NA | 0.24 | 5.32 | 7.07 | NA | NA | XXX
79403 | 26 | A | Hematopoietic nuclear tx | 2.25 | 0.68 | 0.84 | 0.68 | 0.84 | 0.10 | 3.03 | 3.19 | 3.03 | 3.19 | XXX
79403 | TC | A | Hematopoietic nuclear tx | 0.00 | 2.15 | 3.74 | NA | NA | 0.14 | 2.29 | 3.88 | NA | NA | XXX
79440 |  | A | Nuclear rx, intra-articular | 1.99 | 1.77 | 2.95 | NA | NA | 0.22 | 3.98 | 5.16 | NA | NA | XXX
79440 | 26 | A | Nuclear rx, intra-articular | 1.99 | 0.61 | 0.69 | 0.61 | 0.69 | 0.08 | 2.68 | 2.76 | 2.68 | 2.76 | XXX
79440 | TC | A | Nuclear rx, intra-articular | 0.00 | 1.16 | 2.26 | NA | NA | 0.14 | 1.30 | 2.40 | NA | NA | XXX
79445 |  | C | Nuclear rx, intra-arterial | 0.00 | 0.00 | 0.00 | 0.00 | 0.00 | 0.00 | 0.00 | 0.00 | 0.00 | 0.00 | XXX
79445 | 26 | A | Nuclear rx, intra-arterial | 2.40 | 0.77 | 0.81 | 0.77 | 0.81 | 0.12 | 3.29 | 3.33 | 3.29 | 3.33 | XXX
79445 | TC | C | Nuclear rx, intra-arterial | 0.00 | 0.00 | 0.00 | 0.00 | 0.00 | 0.00 | 0.00 | 0.00 | 0.00 | 0.00 | XXX
79999 |  | C | Nuclear medicine therapy | 0.00 | 0.00 | 0.00 | 0.00 | 0.00 | 0.00 | 0.00 | 0.00 | 0.00 | 0.00 | XXX
79999 | 26 | C | Nuclear medicine therapy | 0.00 | 0.00 | 0.00 | 0.00 | 0.00 | 0.00 | 0.00 | 0.00 | 0.00 | 0.00 | XXX
79999 | TC | C | Nuclear medicine therapy | 0.00 | 0.00 | 0.00 | 0.00 | 0.00 | 0.00 | 0.00 | 0.00 | 0.00 | 0.00 | XXX
80500 |  | A | Lab pathology consultation | 0.37 | 0.20 | 0.21 | 0.11 | 0.15 | 0.01 | 0.58 | 0.59 | 0.49 | 0.53 | XXX
80502 |  | A | Lab pathology consultation | 1.33 | 0.31 | 0.48 | 0.25 | 0.47 | 0.04 | 1.68 | 1.85 | 1.62 | 1.84 | XXX
83020 | 26 | A | Hemoglobin electrophoresis | 0.37 | 0.12 | 0.14 | 0.12 | 0.14 | 0.01 | 0.50 | 0.52 | 0.50 | 0.52 | XXX
83912 | 26 | A | Genetic examination | 0.37 | 0.11 | 0.12 | 0.11 | 0.12 | 0.01 | 0.49 | 0.50 | 0.49 | 0.50 | XXX
84165 | 26 | A | Protein e-phoresis, serum | 0.37 | 0.12 | 0.14 | 0.12 | 0.14 | 0.01 | 0.50 | 0.52 | 0.50 | 0.52 | XXX
84166 | 26 | A | Protein e-phoresis/urine/csf | 0.37 | 0.12 | 0.14 | 0.12 | 0.14 | 0.01 | 0.50 | 0.52 | 0.50 | 0.52 | XXX
84181 | 26 | A | Western blot test | 0.37 | 0.12 | 0.14 | 0.12 | 0.14 | 0.01 | 0.50 | 0.52 | 0.50 | 0.52 | XXX
84182 | 26 | A | Protein, western blot test | 0.37 | 0.12 | 0.15 | 0.12 | 0.15 | 0.02 | 0.51 | 0.54 | 0.51 | 0.54 | XXX
85060 |  | A | Blood smear interpretation | 0.45 | 0.14 | 0.17 | 0.14 | 0.17 | 0.02 | 0.61 | 0.64 | 0.61 | 0.64 | XXX
85097 |  | A | Bone marrow interpretation | 0.94 | 1.30 | 1.76 | 0.28 | 0.38 | 0.04 | 2.28 | 2.74 | 1.26 | 1.36 | XXX
85390 | 26 | A | Fibrinolysins screen | 0.37 | 0.12 | 0.13 | 0.12 | 0.13 | 0.01 | 0.50 | 0.51 | 0.50 | 0.51 | XXX
85396 |  | A | Clotting assay, whole blood | 0.37 | NA | NA | 0.05 | 0.13 | 0.04 | NA | NA | 0.46 | 0.54 | XXX
85576 | 26 | A | Blood platelet aggregation | 0.37 | 0.12 | 0.15 | 0.12 | 0.15 | 0.01 | 0.50 | 0.53 | 0.50 | 0.53 | XXX
86077 |  | A | Physician blood bank service | 0.94 | 0.38 | 0.39 | 0.29 | 0.37 | 0.03 | 1.35 | 1.36 | 1.26 | 1.34 | XXX
86078 |  | A | Physician blood bank service | 0.94 | 0.38 | 0.44 | 0.29 | 0.37 | 0.03 | 1.35 | 1.41 | 1.26 | 1.34 | XXX
86079 |  | A | Physician blood bank service | 0.94 | 0.38 | 0.43 | 0.30 | 0.38 | 0.03 | 1.35 | 1.40 | 1.27 | 1.35 | XXX
86255 | 26 | A | Fluorescent antibody, screen | 0.37 | 0.12 | 0.14 | 0.12 | 0.14 | 0.01 | 0.50 | 0.52 | 0.50 | 0.52 | XXX
86256 | 26 | A | Fluorescent antibody, titer | 0.37 | 0.12 | 0.14 | 0.12 | 0.14 | 0.01 | 0.50 | 0.52 | 0.50 | 0.52 | XXX
86320 | 26 | A | Serum immunoelectrophoresis | 0.37 | 0.12 | 0.14 | 0.12 | 0.14 | 0.01 | 0.50 | 0.52 | 0.50 | 0.52 | XXX
86325 | 26 | A | Other immunoelectrophoresis | 0.37 | 0.11 | 0.13 | 0.11 | 0.13 | 0.01 | 0.49 | 0.51 | 0.49 | 0.51 | XXX
86327 | 26 | A | Immunoelectrophoresis assay | 0.42 | 0.13 | 0.17 | 0.13 | 0.17 | 0.02 | 0.57 | 0.61 | 0.57 | 0.61 | XXX
86334 | 26 | A | Immunofix e-phoresis, serum | 0.37 | 0.12 | 0.14 | 0.12 | 0.14 | 0.01 | 0.50 | 0.52 | 0.50 | 0.52 | XXX
86335 | 26 | A | Immunfix e-phorsis/urine/csf | 0.37 | 0.12 | 0.14 | 0.12 | 0.14 | 0.01 | 0.50 | 0.52 | 0.50 | 0.52 | XXX
86485 |  | C | Skin test, candida | 0.00 | 0.00 | 0.00 | 0.00 | 0.00 | 0.00 | 0.00 | 0.00 | 0.00 | 0.00 | XXX
86490 |  | A | Coccidioidomycosis skin test | 0.00 | 0.12 | 0.25 | NA | NA | 0.02 | 0.14 | 0.27 | NA | NA | XXX
86510 |  | A | Histoplasmosis skin test | 0.00 | 0.14 | 0.28 | NA | NA | 0.02 | 0.16 | 0.30 | NA | NA | XXX
86580 |  | A | TB intradermal test | 0.00 | 0.16 | 0.23 | NA | NA | 0.02 | 0.18 | 0.25 | NA | NA | XXX
87164 | 26 | A | Dark field examination | 0.37 | 0.12 | 0.12 | 0.12 | 0.12 | 0.01 | 0.50 | 0.50 | 0.50 | 0.50 | XXX
87207 | 26 | A | Smear, special stain | 0.37 | 0.11 | 0.15 | 0.11 | 0.15 | 0.01 | 0.49 | 0.53 | 0.49 | 0.53 | XXX
88104 |  | A | Cytopathology, fluids | 0.56 | 1.16 | 0.93 | NA | NA | 0.04 | 1.76 | 1.53 | NA | NA | XXX
88104 | 26 | A | Cytopathology, fluids | 0.56 | 0.16 | 0.22 | 0.16 | 0.22 | 0.02 | 0.74 | 0.80 | 0.74 | 0.80 | XXX
88104 | TC | A | Cytopathology, fluids | 0.00 | 1.01 | 0.71 | NA | NA | 0.02 | 1.03 | 0.73 | NA | NA | XXX
88106 |  | A | Cytopathology, fluids | 0.56 | 1.52 | 1.39 | NA | NA | 0.04 | 2.12 | 1.99 | NA | NA | XXX
88106 | 26 | A | Cytopathology, fluids | 0.56 | 0.15 | 0.22 | 0.15 | 0.22 | 0.02 | 0.73 | 0.80 | 0.73 | 0.80 | XXX
88106 | TC | A | Cytopathology, fluids | 0.00 | 1.36 | 1.17 | NA | NA | 0.02 | 1.38 | 1.19 | NA | NA | XXX
88107 |  | A | Cytopathology, fluids | 0.76 | 2.02 | 1.66 | NA | NA | 0.05 | 2.83 | 2.47 | NA | NA | XXX
88107 | 26 | A | Cytopathology, fluids | 0.76 | 0.23 | 0.31 | 0.23 | 0.31 | 0.03 | 1.02 | 1.10 | 1.02 | 1.10 | XXX
88107 | TC | A | Cytopathology, fluids | 0.00 | 1.79 | 1.36 | NA | NA | 0.02 | 1.81 | 1.38 | NA | NA | XXX
88108 |  | A | Cytopath, concentrate tech | 0.56 | 1.49 | 1.28 | NA | NA | 0.04 | 2.09 | 1.88 | NA | NA | XXX
88108 | 26 | A | Cytopath, concentrate tech | 0.56 | 0.16 | 0.22 | 0.16 | 0.22 | 0.02 | 0.74 | 0.80 | 0.74 | 0.80 | XXX
88108 | TC | A | Cytopath, concentrate tech | 0.00 | 1.33 | 1.06 | NA | NA | 0.02 | 1.35 | 1.08 | NA | NA | XXX
88112 |  | A | Cytopath, cell enhance tech | 1.18 | 1.53 | 1.85 | NA | NA | 0.04 | 2.75 | 3.07 | NA | NA | XXX
88112 | 26 | A | Cytopath, cell enhance tech | 1.18 | 0.31 | 0.46 | 0.31 | 0.46 | 0.02 | 1.51 | 1.66 | 1.51 | 1.66 | XXX
88112 | TC | A | Cytopath, cell enhance tech | 0.00 | 1.22 | 1.40 | NA | NA | 0.02 | 1.24 | 1.42 | NA | NA | XXX
88125 |  | A | Forensic cytopathology | 0.26 | 0.25 | 0.27 | NA | NA | 0.02 | 0.53 | 0.55 | NA | NA | XXX
88125 | 26 | A | Forensic cytopathology | 0.26 | 0.06 | 0.10 | 0.06 | 0.10 | 0.01 | 0.33 | 0.37 | 0.33 | 0.37 | XXX
88125 | TC | A | Forensic cytopathology | 0.00 | 0.20 | 0.17 | NA | NA | 0.01 | 0.21 | 0.18 | NA | NA | XXX
88141 |  | A | Cytopath, c/v, interpret | 0.42 | 0.38 | 0.21 | 0.38 | 0.21 | 0.02 | 0.82 | 0.65 | 0.82 | 0.65 | XXX
88160 |  | A | Cytopath smear, other source | 0.50 | 0.91 | 0.85 | NA | NA | 0.04 | 1.45 | 1.39 | NA | NA | XXX
88160 | 26 | A | Cytopath smear, other source | 0.50 | 0.13 | 0.19 | 0.13 | 0.19 | 0.02 | 0.65 | 0.71 | 0.65 | 0.71 | XXX
88160 | TC | A | Cytopath smear, other source | 0.00 | 0.78 | 0.66 | NA | NA | 0.02 | 0.80 | 0.68 | NA | NA | XXX
88161 |  | A | Cytopath smear, other source | 0.50 | 1.13 | 0.99 | NA | NA | 0.04 | 1.67 | 1.53 | NA | NA | XXX
88161 | 26 | A | Cytopath smear, other source | 0.50 | 0.15 | 0.20 | 0.15 | 0.20 | 0.02 | 0.67 | 0.72 | 0.67 | 0.72 | XXX
88161 | TC | A | Cytopath smear, other source | 0.00 | 0.98 | 0.79 | NA | NA | 0.02 | 1.00 | 0.81 | NA | NA | XXX
88162 |  | A | Cytopath smear, other source | 0.76 | 1.18 | 1.06 | NA | NA | 0.05 | 1.99 | 1.87 | NA | NA | XXX
88162 | 26 | A | Cytopath smear, other source | 0.76 | 0.17 | 0.29 | 0.17 | 0.29 | 0.03 | 0.96 | 1.08 | 0.96 | 1.08 | XXX
88162 | TC | A | Cytopath smear, other source | 0.00 | 1.01 | 0.77 | NA | NA | 0.02 | 1.03 | 0.79 | NA | NA | XXX
88172 |  | A | Cytopathology eval of fna | 0.60 | 0.86 | 0.76 | NA | NA | 0.04 | 1.50 | 1.40 | NA | NA | XXX
88172 | 26 | A | Cytopathology eval of fna | 0.60 | 0.18 | 0.24 | 0.18 | 0.24 | 0.02 | 0.80 | 0.86 | 0.80 | 0.86 | XXX
88172 | TC | A | Cytopathology eval of fna | 0.00 | 0.68 | 0.52 | NA | NA | 0.02 | 0.70 | 0.54 | NA | NA | XXX
88173 |  | A | Cytopath eval, fna, report | 1.39 | 2.33 | 2.18 | NA | NA | 0.07 | 3.79 | 3.64 | NA | NA | XXX
88173 | 26 | A | Cytopath eval, fna, report | 1.39 | 0.40 | 0.54 | 0.40 | 0.54 | 0.05 | 1.84 | 1.98 | 1.84 | 1.98 | XXX
88173 | TC | A | Cytopath eval, fna, report | 0.00 | 1.93 | 1.65 | NA | NA | 0.02 | 1.95 | 1.67 | NA | NA | XXX
88182 |  | A | Cell marker study | 0.77 | 1.97 | 1.97 | NA | NA | 0.07 | 2.81 | 2.81 | NA | NA | XXX
88182 | 26 | A | Cell marker study | 0.77 | 0.13 | 0.28 | 0.13 | 0.28 | 0.03 | 0.93 | 1.08 | 0.93 | 1.08 | XXX
88182 | TC | A | Cell marker study | 0.00 | 1.85 | 1.70 | NA | NA | 0.04 | 1.89 | 1.74 | NA | NA | XXX
88184 |  | A | Flowcytometry/tc, 1 marker | 0.00 | 2.51 | 1.62 | NA | NA | 0.02 | 2.53 | 1.64 | NA | NA | XXX
88185 |  | A | Flowcytometry/tc, add-on | 0.00 | 1.52 | 0.86 | NA | NA | 0.02 | 1.54 | 0.88 | NA | NA | ZZZ
88187 |  | A | Flowcytometry/read, 2-8 | 1.36 | 0.39 | 0.44 | 0.39 | 0.44 | 0.01 | 1.76 | 1.81 | 1.76 | 1.81 | XXX
88188 |  | A | Flowcytometry/read, 9-15 | 1.69 | 0.44 | 0.54 | 0.44 | 0.54 | 0.01 | 2.14 | 2.24 | 2.14 | 2.24 | XXX
88189 |  | A | Flowcytometry/read, 16 & > | 2.23 | 0.49 | 0.69 | 0.49 | 0.69 | 0.01 | 2.73 | 2.93 | 2.73 | 2.93 | XXX
88199 |  | C | Cytopathology procedure | 0.00 | 0.00 | 0.00 | 0.00 | 0.00 | 0.00 | 0.00 | 0.00 | 0.00 | 0.00 | XXX
88199 | 26 | C | Cytopathology procedure | 0.00 | 0.00 | 0.00 | 0.00 | 0.00 | 0.00 | 0.00 | 0.00 | 0.00 | 0.00 | XXX
88199 | TC | C | Cytopathology procedure | 0.00 | 0.00 | 0.00 | 0.00 | 0.00 | 0.00 | 0.00 | 0.00 | 0.00 | 0.00 | XXX
88291 |  | A | Cyto/molecular report | 0.52 | 0.28 | 0.20 | 0.28 | 0.20 | 0.02 | 0.82 | 0.74 | 0.82 | 0.74 | XXX
88299 |  | C | Cytogenetic study | 0.00 | 0.00 | 0.00 | 0.00 | 0.00 | 0.00 | 0.00 | 0.00 | 0.00 | 0.00 | XXX
88300 |  | A | Surgical path, gross | 0.08 | 0.60 | 0.49 | NA | NA | 0.02 | 0.70 | 0.59 | NA | NA | XXX
88300 | 26 | A | Surgical path, gross | 0.08 | 0.02 | 0.03 | 0.02 | 0.03 | 0.01 | 0.11 | 0.12 | 0.11 | 0.12 | XXX
88300 | TC | A | Surgical path, gross | 0.00 | 0.57 | 0.46 | NA | NA | 0.01 | 0.58 | 0.47 | NA | NA | XXX
88302 |  | A | Tissue exam by pathologist | 0.13 | 1.30 | 1.10 | NA | NA | 0.03 | 1.46 | 1.26 | NA | NA | XXX
88302 | 26 | A | Tissue exam by pathologist | 0.13 | 0.04 | 0.06 | 0.04 | 0.06 | 0.01 | 0.18 | 0.20 | 0.18 | 0.20 | XXX
88302 | TC | A | Tissue exam by pathologist | 0.00 | 1.27 | 1.05 | NA | NA | 0.02 | 1.29 | 1.07 | NA | NA | XXX
88304 |  | A | Tissue exam by pathologist | 0.22 | 1.57 | 1.38 | NA | NA | 0.03 | 1.82 | 1.63 | NA | NA | XXX
88304 | 26 | A | Tissue exam by pathologist | 0.22 | 0.06 | 0.08 | 0.06 | 0.08 | 0.01 | 0.29 | 0.31 | 0.29 | 0.31 | XXX
88304 | TC | A | Tissue exam by pathologist | 0.00 | 1.50 | 1.30 | NA | NA | 0.02 | 1.52 | 1.32 | NA | NA | XXX
88305 |  | A | Tissue exam by pathologist | 0.75 | 2.20 | 1.98 | NA | NA | 0.07 | 3.02 | 2.80 | NA | NA | XXX
88305 | 26 | A | Tissue exam by pathologist | 0.75 | 0.21 | 0.30 | 0.21 | 0.30 | 0.03 | 0.99 | 1.08 | 0.99 | 1.08 | XXX
88305 | TC | A | Tissue exam by pathologist | 0.00 | 1.99 | 1.68 | NA | NA | 0.04 | 2.03 | 1.72 | NA | NA | XXX
88307 |  | A | Tissue exam by pathologist | 1.59 | 4.54 | 3.50 | NA | NA | 0.12 | 6.25 | 5.21 | NA | NA | XXX
88307 | 26 | A | Tissue exam by pathologist | 1.59 | 0.48 | 0.63 | 0.48 | 0.63 | 0.06 | 2.13 | 2.28 | 2.13 | 2.28 | XXX
88307 | TC | A | Tissue exam by pathologist | 0.00 | 4.06 | 2.87 | NA | NA | 0.06 | 4.12 | 2.93 | NA | NA | XXX
88309 |  | A | Tissue exam by pathologist | 2.80 | 6.37 | 4.89 | NA | NA | 0.14 | 9.31 | 7.83 | NA | NA | XXX
88309 | 26 | A | Tissue exam by pathologist | 2.80 | 0.84 | 0.94 | 0.84 | 0.94 | 0.08 | 3.72 | 3.82 | 3.72 | 3.82 | XXX
88309 | TC | A | Tissue exam by pathologist | 0.00 | 5.52 | 3.95 | NA | NA | 0.06 | 5.58 | 4.01 | NA | NA | XXX
88311 |  | A | Decalcify tissue | 0.24 | 0.26 | 0.24 | NA | NA | 0.02 | 0.52 | 0.50 | NA | NA | XXX
88311 | 26 | A | Decalcify tissue | 0.24 | 0.07 | 0.09 | 0.07 | 0.09 | 0.01 | 0.32 | 0.34 | 0.32 | 0.34 | XXX
88311 | TC | A | Decalcify tissue | 0.00 | 0.18 | 0.14 | NA | NA | 0.01 | 0.19 | 0.15 | NA | NA | XXX
88312 |  | A | Special stains | 0.54 | 2.51 | 1.77 | NA | NA | 0.03 | 3.08 | 2.34 | NA | NA | XXX
88312 | 26 | A | Special stains | 0.54 | 0.15 | 0.21 | 0.15 | 0.21 | 0.02 | 0.71 | 0.77 | 0.71 | 0.77 | XXX
88312 | TC | A | Special stains | 0.00 | 2.36 | 1.56 | NA | NA | 0.01 | 2.37 | 1.57 | NA | NA | XXX
88313 |  | A | Special stains | 0.24 | 1.96 | 1.43 | NA | NA | 0.02 | 2.22 | 1.69 | NA | NA | XXX
88313 | 26 | A | Special stains | 0.24 | 0.06 | 0.09 | 0.06 | 0.09 | 0.01 | 0.31 | 0.34 | 0.31 | 0.34 | XXX
88313 | TC | A | Special stains | 0.00 | 1.90 | 1.34 | NA | NA | 0.01 | 1.91 | 1.35 | NA | NA | XXX
88314 |  | A | Histochemical stain | 0.45 | 1.96 | 2.04 | NA | NA | 0.04 | 2.45 | 2.53 | NA | NA | XXX
88314 | 26 | A | Histochemical stain | 0.45 | 0.14 | 0.18 | 0.14 | 0.18 | 0.02 | 0.61 | 0.65 | 0.61 | 0.65 | XXX
88314 | TC | A | Histochemical stain | 0.00 | 1.83 | 1.86 | NA | NA | 0.02 | 1.85 | 1.88 | NA | NA | XXX
88318 |  | A | Chemical histochemistry | 0.42 | 3.01 | 1.99 | NA | NA | 0.03 | 3.46 | 2.44 | NA | NA | XXX
88318 | 26 | A | Chemical histochemistry | 0.42 | 0.13 | 0.17 | 0.13 | 0.17 | 0.02 | 0.57 | 0.61 | 0.57 | 0.61 | XXX
88318 | TC | A | Chemical histochemistry | 0.00 | 2.89 | 1.83 | NA | NA | 0.01 | 2.90 | 1.84 | NA | NA | XXX
88319 |  | A | Enzyme histochemistry | 0.53 | 3.29 | 3.38 | NA | NA | 0.04 | 3.86 | 3.95 | NA | NA | XXX
88319 | 26 | A | Enzyme histochemistry | 0.53 | 0.15 | 0.20 | 0.15 | 0.20 | 0.02 | 0.70 | 0.75 | 0.70 | 0.75 | XXX
88319 | TC | A | Enzyme histochemistry | 0.00 | 3.14 | 3.18 | NA | NA | 0.02 | 3.16 | 3.20 | NA | NA | XXX
88321 |  | A | Microslide consultation | 1.63 | 0.74 | 0.78 | 0.48 | 0.54 | 0.05 | 2.42 | 2.46 | 2.16 | 2.22 | XXX
88323 |  | A | Microslide consultation | 1.83 | 2.23 | 1.89 | NA | NA | 0.07 | 4.13 | 3.79 | NA | NA | XXX
88323 | 26 | A | Microslide consultation | 1.83 | 0.47 | 0.55 | 0.47 | 0.55 | 0.05 | 2.35 | 2.43 | 2.35 | 2.43 | XXX
88323 | TC | A | Microslide consultation | 0.00 | 1.77 | 1.35 | NA | NA | 0.02 | 1.79 | 1.37 | NA | NA | XXX
88325 |  | A | Comprehensive review of data | 2.50 | 2.27 | 2.77 | 0.63 | 0.87 | 0.07 | 4.84 | 5.34 | 3.20 | 3.44 | XXX
88329 |  | A | Path consult introp | 0.67 | 0.69 | 0.66 | 0.21 | 0.27 | 0.02 | 1.38 | 1.35 | 0.90 | 0.96 | XXX
88331 |  | A | Path consult intraop, 1 bloc | 1.19 | 1.25 | 1.14 | NA | NA | 0.08 | 2.52 | 2.41 | NA | NA | XXX
88331 | 26 | A | Path consult intraop, 1 bloc | 1.19 | 0.37 | 0.48 | 0.37 | 0.48 | 0.04 | 1.60 | 1.71 | 1.60 | 1.71 | XXX
88331 | TC | A | Path consult intraop, 1 bloc | 0.00 | 0.88 | 0.66 | NA | NA | 0.04 | 0.92 | 0.70 | NA | NA | XXX
88332 |  | A | Path consult intraop, addIl | 0.59 | 0.48 | 0.47 | NA | NA | 0.04 | 1.11 | 1.10 | NA | NA | XXX
88332 | 26 | A | Path consult intraop, addIl | 0.59 | 0.18 | 0.23 | 0.18 | 0.23 | 0.02 | 0.79 | 0.84 | 0.79 | 0.84 | XXX
88332 | TC | A | Path consult intraop, addIl | 0.00 | 0.30 | 0.23 | NA | NA | 0.02 | 0.32 | 0.25 | NA | NA | XXX
88333 |  | A | Intraop cyto path consult, 1 | 1.20 | 1.36 | 1.15 | NA | NA | 0.08 | 2.64 | 2.43 | NA | NA | XXX
88333 | 26 | A | Intraop cyto path consult, 1 | 1.20 | 0.38 | 0.49 | 0.38 | 0.49 | 0.04 | 1.62 | 1.73 | 1.62 | 1.73 | XXX
88333 | TC | A | Intraop cyto path consult, 1 | 0.00 | 0.98 | 0.66 | NA | NA | 0.04 | 1.02 | 0.70 | NA | NA | XXX
88334 |  | A | Intraop cyto path consult, 2 | 0.59 | 0.75 | 0.64 | NA | NA | 0.04 | 1.38 | 1.27 | NA | NA | XXX
88334 | 26 | A | Intraop cyto path consult, 2 | 0.59 | 0.18 | 0.24 | 0.18 | 0.24 | 0.02 | 0.79 | 0.85 | 0.79 | 0.85 | XXX
88334 | TC | A | Intraop cyto path consult, 2 | 0.00 | 0.57 | 0.40 | NA | NA | 0.02 | 0.59 | 0.42 | NA | NA | XXX
88342 |  | A | Immunohistochemistry | 0.85 | 2.05 | 1.61 | NA | NA | 0.05 | 2.95 | 2.51 | NA | NA | XXX
88342 | 26 | A | Immunohistochemistry | 0.85 | 0.23 | 0.33 | 0.23 | 0.33 | 0.03 | 1.11 | 1.21 | 1.11 | 1.21 | XXX
88342 | TC | A | Immunohistochemistry | 0.00 | 1.82 | 1.28 | NA | NA | 0.02 | 1.84 | 1.30 | NA | NA | XXX
88346 |  | A | Immunofluorescent study | 0.86 | 1.97 | 1.67 | NA | NA | 0.05 | 2.88 | 2.58 | NA | NA | XXX
88346 | 26 | A | Immunofluorescent study | 0.86 | 0.23 | 0.33 | 0.23 | 0.33 | 0.03 | 1.12 | 1.22 | 1.12 | 1.22 | XXX
88346 | TC | A | Immunofluorescent study | 0.00 | 1.74 | 1.34 | NA | NA | 0.02 | 1.76 | 1.36 | NA | NA | XXX
88347 |  | A | Immunofluorescent study | 0.86 | 1.30 | 1.27 | NA | NA | 0.05 | 2.21 | 2.18 | NA | NA | XXX
88347 | 26 | A | Immunofluorescent study | 0.86 | 0.18 | 0.31 | 0.18 | 0.31 | 0.03 | 1.07 | 1.20 | 1.07 | 1.20 | XXX
88347 | TC | A | Immunofluorescent study | 0.00 | 1.12 | 0.96 | NA | NA | 0.02 | 1.14 | 0.98 | NA | NA | XXX
88348 |  | A | Electron microscopy | 1.51 | 18.27 | 11.58 | NA | NA | 0.13 | 19.91 | 13.22 | NA | NA | XXX
88348 | 26 | A | Electron microscopy | 1.51 | 0.42 | 0.59 | 0.42 | 0.59 | 0.06 | 1.99 | 2.16 | 1.99 | 2.16 | XXX
88348 | TC | A | Electron microscopy | 0.00 | 17.85 | 11.00 | NA | NA | 0.07 | 17.92 | 11.07 | NA | NA | XXX
88349 |  | A | Scanning electron microscopy | 0.76 | 8.97 | 4.91 | NA | NA | 0.09 | 9.82 | 5.76 | NA | NA | XXX
88349 | 26 | A | Scanning electron microscopy | 0.76 | 0.22 | 0.30 | 0.22 | 0.30 | 0.03 | 1.01 | 1.09 | 1.01 | 1.09 | XXX
88349 | TC | A | Scanning electron microscopy | 0.00 | 8.75 | 4.61 | NA | NA | 0.06 | 8.81 | 4.67 | NA | NA | XXX
88355 |  | A | Analysis, skeletal muscle | 1.85 | 3.40 | 7.42 | NA | NA | 0.13 | 5.38 | 9.40 | NA | NA | XXX
88355 | 26 | A | Analysis, skeletal muscle | 1.85 | 0.40 | 0.69 | 0.40 | 0.69 | 0.07 | 2.32 | 2.61 | 2.32 | 2.61 | XXX
88355 | TC | A | Analysis, skeletal muscle | 0.00 | 2.99 | 6.73 | NA | NA | 0.06 | 3.05 | 6.79 | NA | NA | XXX
88356 |  | A | Analysis, nerve | 3.02 | 6.75 | 4.82 | NA | NA | 0.19 | 9.96 | 8.03 | NA | NA | XXX
88356 | 26 | A | Analysis, nerve | 3.02 | 0.79 | 1.14 | 0.79 | 1.14 | 0.12 | 3.93 | 4.28 | 3.93 | 4.28 | XXX
88356 | TC | A | Analysis, nerve | 0.00 | 5.96 | 3.68 | NA | NA | 0.07 | 6.03 | 3.75 | NA | NA | XXX
88358 |  | A | Analysis, tumor | 0.95 | 1.14 | 0.92 | NA | NA | 0.17 | 2.26 | 2.04 | NA | NA | XXX
88358 | 26 | A | Analysis, tumor | 0.95 | 0.17 | 0.34 | 0.17 | 0.34 | 0.10 | 1.22 | 1.39 | 1.22 | 1.39 | XXX
88358 | TC | A | Analysis, tumor | 0.00 | 0.97 | 0.57 | NA | NA | 0.07 | 1.04 | 0.64 | NA | NA | XXX
88360 |  | A | Tumor immunohistochem/manual | 1.10 | 2.33 | 1.87 | NA | NA | 0.08 | 3.51 | 3.05 | NA | NA | XXX
88360 | 26 | A | Tumor immunohistochem/manual | 1.10 | 0.28 | 0.42 | 0.28 | 0.42 | 0.06 | 1.44 | 1.58 | 1.44 | 1.58 | XXX
88360 | TC | A | Tumor immunohistochem/manual | 0.00 | 2.04 | 1.46 | NA | NA | 0.02 | 2.06 | 1.48 | NA | NA | XXX
88361 |  | A | Tumor immunohistochem/comput | 1.18 | 2.79 | 2.96 | NA | NA | 0.17 | 4.14 | 4.31 | NA | NA | XXX
88361 | 26 | A | Tumor immunohistochem/comput | 1.18 | 0.26 | 0.43 | 0.26 | 0.43 | 0.10 | 1.54 | 1.71 | 1.54 | 1.71 | XXX
88361 | TC | A | Tumor immunohistochem/comput | 0.00 | 2.53 | 2.53 | NA | NA | 0.07 | 2.60 | 2.60 | NA | NA | XXX
88362 |  | A | Nerve teasing preparations | 2.17 | 5.31 | 4.85 | NA | NA | 0.15 | 7.63 | 7.17 | NA | NA | XXX
88362 | 26 | A | Nerve teasing preparations | 2.17 | 0.61 | 0.84 | 0.61 | 0.84 | 0.09 | 2.87 | 3.10 | 2.87 | 3.10 | XXX
88362 | TC | A | Nerve teasing preparations | 0.00 | 4.71 | 4.01 | NA | NA | 0.06 | 4.77 | 4.07 | NA | NA | XXX
88365 |  | A | Insitu hybridization (fish) | 1.20 | 2.99 | 2.34 | NA | NA | 0.05 | 4.24 | 3.59 | NA | NA | XXX
88365 | 26 | A | Insitu hybridization (fish) | 1.20 | 0.25 | 0.45 | 0.25 | 0.45 | 0.03 | 1.48 | 1.68 | 1.48 | 1.68 | XXX
88365 | TC | A | Insitu hybridization (fish) | 0.00 | 2.74 | 1.90 | NA | NA | 0.02 | 2.76 | 1.92 | NA | NA | XXX
88367 |  | A | Insitu hybridization, auto | 1.30 | 5.30 | 4.35 | NA | NA | 0.12 | 6.72 | 5.77 | NA | NA | XXX
88367 | 26 | A | Insitu hybridization, auto | 1.30 | 0.23 | 0.46 | 0.23 | 0.46 | 0.06 | 1.59 | 1.82 | 1.59 | 1.82 | XXX
88367 | TC | A | Insitu hybridization, auto | 0.00 | 5.06 | 3.88 | NA | NA | 0.06 | 5.12 | 3.94 | NA | NA | XXX
88368 |  | A | Insitu hybridization, manual | 1.40 | 4.83 | 3.00 | NA | NA | 0.12 | 6.35 | 4.52 | NA | NA | XXX
88368 | 26 | A | Insitu hybridization, manual | 1.40 | 0.22 | 0.51 | 0.22 | 0.51 | 0.06 | 1.68 | 1.97 | 1.68 | 1.97 | XXX
88368 | TC | A | Insitu hybridization, manual | 0.00 | 4.60 | 2.49 | NA | NA | 0.06 | 4.66 | 2.55 | NA | NA | XXX
88371 | 26 | A | Protein, western blot tissue | 0.37 | 0.10 | 0.12 | 0.10 | 0.12 | 0.01 | 0.48 | 0.50 | 0.48 | 0.50 | XXX
88372 | 26 | A | Protein analysis w/probe | 0.37 | 0.11 | 0.15 | 0.11 | 0.15 | 0.01 | 0.49 | 0.53 | 0.49 | 0.53 | XXX
88380 |  | C | Microdissection | 0.00 | 0.00 | 0.00 | 0.00 | 0.00 | 0.00 | 0.00 | 0.00 | 0.00 | 0.00 | XXX
88380 | 26 | C | Microdissection | 0.00 | 0.00 | 0.00 | 0.00 | 0.00 | 0.00 | 0.00 | 0.00 | 0.00 | 0.00 | XXX
88380 | TC | C | Microdissection | 0.00 | 0.00 | 0.00 | 0.00 | 0.00 | 0.00 | 0.00 | 0.00 | 0.00 | 0.00 | XXX
88384 |  | C | Eval molecular probes, 11-50 | 0.00 | 0.00 | 0.00 | 0.00 | 0.00 | 0.00 | 0.00 | 0.00 | 0.00 | 0.00 | XXX
88384 | 26 | C | Eval molecular probes, 11-50 | 0.00 | 0.00 | 0.00 | 0.00 | 0.00 | 0.00 | 0.00 | 0.00 | 0.00 | 0.00 | XXX
88384 | TC | C | Eval molecular probes, 11-50 | 0.00 | 0.00 | 0.00 | 0.00 | 0.00 | 0.00 | 0.00 | 0.00 | 0.00 | 0.00 | XXX
88385 |  | A | Eval molecul probes, 51-250 | 1.50 | 14.75 | 9.00 | NA | NA | 0.12 | 16.37 | 10.62 | NA | NA | XXX
88385 | 26 | A | Eval molecul probes, 51-250 | 1.50 | 0.24 | 0.55 | 0.24 | 0.55 | 0.06 | 1.80 | 2.11 | 1.80 | 2.11 | XXX
88385 | TC | A | Eval molecul probes, 51-250 | 0.00 | 14.51 | 8.45 | NA | NA | 0.06 | 14.57 | 8.51 | NA | NA | XXX
88386 |  | A | Eval molecul probes, 251-500 | 1.88 | 14.65 | 8.94 | NA | NA | 0.16 | 16.69 | 10.98 | NA | NA | XXX
88386 | 26 | A | Eval molecul probes, 251-500 | 1.88 | 0.30 | 0.69 | 0.30 | 0.69 | 0.08 | 2.26 | 2.65 | 2.26 | 2.65 | XXX
88386 | TC | A | Eval molecul probes, 251-500 | 0.00 | 14.35 | 8.25 | NA | NA | 0.08 | 14.43 | 8.33 | NA | NA | XXX
88399 |  | C | Surgical pathology procedure | 0.00 | 0.00 | 0.00 | 0.00 | 0.00 | 0.00 | 0.00 | 0.00 | 0.00 | 0.00 | XXX
88399 | 26 | C | Surgical pathology procedure | 0.00 | 0.00 | 0.00 | 0.00 | 0.00 | 0.00 | 0.00 | 0.00 | 0.00 | 0.00 | XXX
88399 | TC | C | Surgical pathology procedure | 0.00 | 0.00 | 0.00 | 0.00 | 0.00 | 0.00 | 0.00 | 0.00 | 0.00 | 0.00 | XXX
89049 |  | A | Chct for mal hyperthermia | 1.40 | 3.62 | 3.57 | 0.20 | 0.25 | 0.06 | 5.08 | 5.03 | 1.66 | 1.71 | XXX
89060 | 26 | A | Exam,synovial fluid crystals | 0.37 | 0.12 | 0.15 | 0.12 | 0.15 | 0.01 | 0.50 | 0.53 | 0.50 | 0.53 | XXX
89100 |  | A | Sample intestinal contents | 0.60 | 8.87 | 3.59 | 0.59 | 0.31 | 0.03 | 9.50 | 4.22 | 1.22 | 0.94 | XXX
89105 |  | A | Sample intestinal contents | 0.50 | 7.68 | 3.59 | 0.45 | 0.24 | 0.02 | 8.20 | 4.11 | 0.97 | 0.76 | XXX
89130 |  | A | Sample stomach contents | 0.45 | 6.95 | 3.04 | 0.39 | 0.20 | 0.02 | 7.42 | 3.51 | 0.86 | 0.67 | XXX
89132 |  | A | Sample stomach contents | 0.19 | 6.51 | 2.79 | 0.29 | 0.12 | 0.01 | 6.71 | 2.99 | 0.49 | 0.32 | XXX
89135 |  | A | Sample stomach contents | 0.79 | 8.87 | 3.64 | 0.67 | 0.36 | 0.04 | 9.70 | 4.47 | 1.50 | 1.19 | XXX
89136 |  | A | Sample stomach contents | 0.21 | 7.13 | 3.08 | 0.32 | 0.15 | 0.01 | 7.35 | 3.30 | 0.54 | 0.37 | XXX
89140 |  | A | Sample stomach contents | 0.94 | 6.89 | 3.28 | 0.50 | 0.33 | 0.04 | 7.87 | 4.26 | 1.48 | 1.31 | XXX
89141 |  | A | Sample stomach contents | 0.85 | 5.54 | 3.48 | 0.40 | 0.35 | 0.03 | 6.42 | 4.36 | 1.28 | 1.23 | XXX
89220 |  | A | Sputum specimen collection | 0.00 | 0.36 | 0.41 | NA | NA | 0.02 | 0.38 | 0.43 | NA | NA | XXX
89230 |  | A | Collect sweat for test | 0.00 | 0.08 | 0.10 | NA | NA | 0.02 | 0.10 | 0.12 | NA | NA | XXX
89240 |  | C | Pathology lab procedure | 0.00 | 0.00 | 0.00 | 0.00 | 0.00 | 0.00 | 0.00 | 0.00 | 0.00 | 0.00 | XXX
90465 |  | A | Immune admin 1 inj, < 8 yrs | 0.17 | 0.45 | 0.35 | NA | NA | 0.01 | 0.63 | 0.53 | NA | NA | XXX
90466 |  | A | Immune admin addl inj, < 8 y | 0.15 | 0.12 | 0.13 | 0.04 | 0.11 | 0.01 | 0.28 | 0.29 | 0.20 | 0.27 | ZZZ
90467 |  | R | Immune admin o or n, < 8 yrs | 0.17 | 0.17 | 0.17 | 0.07 | 0.09 | 0.01 | 0.35 | 0.35 | 0.25 | 0.27 | XXX
90468 |  | R | Immune admin o/n, addl < 8 y | 0.15 | 0.10 | 0.11 | 0.03 | 0.05 | 0.01 | 0.26 | 0.27 | 0.19 | 0.21 | ZZZ
90471 |  | A | Immunization admin | 0.17 | 0.45 | 0.35 | NA | NA | 0.01 | 0.63 | 0.53 | NA | NA | XXX
90472 |  | A | Immunization admin, each add | 0.15 | 0.12 | 0.13 | 0.04 | 0.11 | 0.01 | 0.28 | 0.29 | 0.20 | 0.27 | ZZZ
90473 |  | R | Immune admin oral/nasal | 0.17 | 0.16 | 0.18 | 0.04 | 0.06 | 0.01 | 0.34 | 0.36 | 0.22 | 0.24 | XXX
90474 |  | R | Immune admin oral/nasal addl | 0.15 | 0.08 | 0.10 | 0.03 | 0.05 | 0.01 | 0.24 | 0.26 | 0.19 | 0.21 | ZZZ
90760 |  | A | Hydration iv infusion, init | 0.17 | 1.31 | 1.40 | NA | NA | 0.07 | 1.55 | 1.64 | NA | NA | XXX
90761 |  | A | Hydrate iv infusion, add-on | 0.09 | 0.32 | 0.38 | NA | NA | 0.04 | 0.45 | 0.51 | NA | NA | ZZZ
90765 |  | A | Ther/proph/diag iv inf, init | 0.21 | 1.62 | 1.72 | NA | NA | 0.07 | 1.90 | 2.00 | NA | NA | XXX
90766 |  | A | Ther/proph/dg iv inf, add-on | 0.18 | 0.37 | 0.44 | NA | NA | 0.04 | 0.59 | 0.66 | NA | NA | ZZZ
90767 |  | A | Tx/proph/dg addl seq iv inf | 0.19 | 0.69 | 0.84 | NA | NA | 0.04 | 0.92 | 1.07 | NA | NA | ZZZ
90768 |  | A | Ther/diag concurrent inf | 0.17 | 0.33 | 0.41 | NA | NA | 0.04 | 0.54 | 0.62 | NA | NA | ZZZ
90772 |  | A | Ther/proph/diag inj, sc/im | 0.17 | 0.45 | 0.35 | NA | NA | 0.01 | 0.63 | 0.53 | NA | NA | XXX
90773 |  | A | Ther/proph/diag inj, ia | 0.17 | 0.30 | 0.31 | NA | NA | 0.02 | 0.49 | 0.50 | NA | NA | XXX
90774 |  | A | Ther/proph/diag inj, iv push | 0.18 | 1.34 | 1.31 | NA | NA | 0.04 | 1.56 | 1.53 | NA | NA | XXX
90775 |  | A | Ther/proph/diag inj add-on | 0.10 | 0.51 | 0.56 | NA | NA | 0.04 | 0.65 | 0.70 | NA | NA | ZZZ
90779 |  | C | Ther/prop/diag inj/inf proc | 0.00 | 0.00 | 0.00 | 0.00 | 0.00 | 0.00 | 0.00 | 0.00 | 0.00 | 0.00 | XXX
90801 |  | A | Psy dx interview | 2.80 | 1.47 | 1.25 | 0.59 | 0.85 | 0.06 | 4.33 | 4.11 | 3.45 | 3.71 | XXX
90802 |  | A | Intac psy dx interview | 3.01 | 1.51 | 1.28 | 0.65 | 0.90 | 0.07 | 4.59 | 4.36 | 3.73 | 3.98 | XXX
90804 |  | A | Psytx, office, 20-30 min | 1.21 | 0.54 | 0.50 | 0.21 | 0.34 | 0.03 | 1.78 | 1.74 | 1.45 | 1.58 | XXX
90805 |  | A | Psytx, off, 20-30 min w/e&m | 1.37 | 0.59 | 0.52 | 0.24 | 0.38 | 0.03 | 1.99 | 1.92 | 1.64 | 1.78 | XXX
90806 |  | A | Psytx, off, 45-50 min | 1.86 | 0.51 | 0.65 | 0.32 | 0.53 | 0.04 | 2.41 | 2.55 | 2.22 | 2.43 | XXX
90807 |  | A | Psytx, off, 45-50 min w/e&m | 2.02 | 0.70 | 0.70 | 0.35 | 0.56 | 0.05 | 2.77 | 2.77 | 2.42 | 2.63 | XXX
90808 |  | A | Psytx, office, 75-80 min | 2.79 | 0.67 | 0.94 | 0.48 | 0.80 | 0.06 | 3.52 | 3.79 | 3.33 | 3.65 | XXX
90809 |  | A | Psytx, off, 75-80, w/e&m | 2.95 | 0.85 | 0.96 | 0.51 | 0.82 | 0.07 | 3.87 | 3.98 | 3.53 | 3.84 | XXX
90810 |  | A | Intac psytx, off, 20-30 min | 1.32 | 0.51 | 0.51 | 0.23 | 0.37 | 0.04 | 1.87 | 1.87 | 1.59 | 1.73 | XXX
90811 |  | A | Intac psytx, 20-30, w/e&m | 1.48 | 0.72 | 0.61 | 0.26 | 0.41 | 0.04 | 2.24 | 2.13 | 1.78 | 1.93 | XXX
90812 |  | A | Intac psytx, off, 45-50 min | 1.97 | 0.63 | 0.75 | 0.33 | 0.56 | 0.04 | 2.64 | 2.76 | 2.34 | 2.57 | XXX
90813 |  | A | Intac psytx, 45-50 min w/e&m | 2.13 | 0.82 | 0.78 | 0.37 | 0.60 | 0.05 | 3.00 | 2.96 | 2.55 | 2.78 | XXX
90814 |  | A | Intac psytx, off, 75-80 min | 2.90 | 0.77 | 1.02 | 0.50 | 0.86 | 0.06 | 3.73 | 3.98 | 3.46 | 3.82 | XXX
90815 |  | A | Intac psytx, 75-80 w/e&m | 3.06 | 0.98 | 1.03 | 0.53 | 0.85 | 0.07 | 4.11 | 4.16 | 3.66 | 3.98 | XXX
90816 |  | A | Psytx, hosp, 20-30 min | 1.25 | NA | NA | 0.31 | 0.42 | 0.03 | NA | NA | 1.59 | 1.70 | XXX
90817 |  | A | Psytx, hosp, 20-30 min w/e&m | 1.41 | NA | NA | 0.35 | 0.43 | 0.03 | NA | NA | 1.79 | 1.87 | XXX
90818 |  | A | Psytx, hosp, 45-50 min | 1.89 | NA | NA | 0.42 | 0.62 | 0.04 | NA | NA | 2.35 | 2.55 | XXX
90819 |  | A | Psytx, hosp, 45-50 min w/e&m | 2.05 | NA | NA | 0.46 | 0.60 | 0.05 | NA | NA | 2.56 | 2.70 | XXX
90821 |  | A | Psytx, hosp, 75-80 min | 2.83 | NA | NA | 0.58 | 0.90 | 0.06 | NA | NA | 3.47 | 3.79 | XXX
90822 |  | A | Psytx, hosp, 75-80 min w/e&m | 2.99 | NA | NA | 0.62 | 0.87 | 0.08 | NA | NA | 3.69 | 3.94 | XXX
90823 |  | A | Intac psytx, hosp, 20-30 min | 1.36 | NA | NA | 0.33 | 0.44 | 0.03 | NA | NA | 1.72 | 1.83 | XXX
90824 |  | A | Intac psytx, hsp 20-30 w/e&m | 1.52 | NA | NA | 0.37 | 0.46 | 0.04 | NA | NA | 1.93 | 2.02 | XXX
90826 |  | A | Intac psytx, hosp, 45-50 min | 2.01 | NA | NA | 0.44 | 0.65 | 0.05 | NA | NA | 2.50 | 2.71 | XXX
90827 |  | A | Intac psytx, hsp 45-50 w/e&m | 2.16 | NA | NA | 0.48 | 0.63 | 0.05 | NA | NA | 2.69 | 2.84 | XXX
90828 |  | A | Intac psytx, hosp, 75-80 min | 2.94 | NA | NA | 0.60 | 0.95 | 0.06 | NA | NA | 3.60 | 3.95 | XXX
90829 |  | A | Intac psytx, hsp 75-80 w/e&m | 3.10 | NA | NA | 0.64 | 0.90 | 0.07 | NA | NA | 3.81 | 4.07 | XXX
90845 |  | A | Psychoanalysis | 1.79 | 0.38 | 0.53 | 0.31 | 0.49 | 0.04 | 2.21 | 2.36 | 2.14 | 2.32 | XXX
90846 |  | R | Family psytx w/o patient | 1.83 | 0.50 | 0.61 | 0.42 | 0.59 | 0.04 | 2.37 | 2.48 | 2.29 | 2.46 | XXX
90847 |  | R | Family psytx w/patient | 2.21 | 0.72 | 0.80 | 0.48 | 0.69 | 0.05 | 2.98 | 3.06 | 2.74 | 2.95 | XXX
90849 |  | R | Multiple family group psytx | 0.59 | 0.30 | 0.28 | 0.20 | 0.23 | 0.02 | 0.91 | 0.89 | 0.81 | 0.84 | XXX
90853 |  | A | Group psychotherapy | 0.59 | 0.27 | 0.26 | 0.20 | 0.22 | 0.01 | 0.87 | 0.86 | 0.80 | 0.82 | XXX
90857 |  | A | Intac group psytx | 0.63 | 0.36 | 0.31 | 0.20 | 0.24 | 0.01 | 1.00 | 0.95 | 0.84 | 0.88 | XXX
90862 |  | A | Medication management | 0.95 | 0.62 | 0.46 | 0.27 | 0.31 | 0.02 | 1.59 | 1.43 | 1.24 | 1.28 | XXX
90865 |  | A | Narcosynthesis | 2.84 | 1.18 | 1.32 | 0.63 | 0.84 | 0.12 | 4.14 | 4.28 | 3.59 | 3.80 | XXX
90870 |  | A | Electroconvulsive therapy | 1.88 | 1.90 | 1.92 | 0.38 | 0.54 | 0.04 | 3.82 | 3.84 | 2.30 | 2.46 | 000
90875 |  | N | Psychophysiological therapy | 1.20 | 0.53 | 0.81 | 0.28 | 0.42 | 0.04 | 1.77 | 2.05 | 1.52 | 1.66 | XXX
90876 |  | N | Psychophysiological therapy | 1.90 | 0.68 | 1.04 | 0.44 | 0.66 | 0.05 | 2.63 | 2.99 | 2.39 | 2.61 | XXX
90880 |  | A | Hypnotherapy | 2.19 | 0.56 | 0.92 | 0.37 | 0.61 | 0.05 | 2.80 | 3.16 | 2.61 | 2.85 | XXX
90885 |  | B | Psy evaluation of records | 0.97 | 0.23 | 0.34 | 0.23 | 0.34 | 0.02 | 1.22 | 1.33 | 1.22 | 1.33 | XXX
90887 |  | B | Consultation with family | 1.48 | 0.62 | 0.77 | 0.34 | 0.51 | 0.04 | 2.14 | 2.29 | 1.86 | 2.03 | XXX
90899 |  | C | Psychiatric service/therapy | 0.00 | 0.00 | 0.00 | 0.00 | 0.00 | 0.00 | 0.00 | 0.00 | 0.00 | 0.00 | XXX
90901 |  | A | Biofeedback train, any meth | 0.41 | 0.48 | 0.61 | 0.11 | 0.13 | 0.02 | 0.91 | 1.04 | 0.54 | 0.56 | 000
90911 |  | A | Biofeedback peri/uro/rectal | 0.89 | 1.38 | 1.52 | 0.30 | 0.31 | 0.06 | 2.33 | 2.47 | 1.25 | 1.26 | 000
90918 |  | I | ESRD related services, month | 11.16 | 4.75 | 5.77 | 3.78 | 5.53 | 0.36 | 16.27 | 17.29 | 15.30 | 17.05 | XXX
90919 |  | I | ESRD related services, month | 8.53 | 3.06 | 3.77 | 2.58 | 3.65 | 0.29 | 11.88 | 12.59 | 11.40 | 12.47 | XXX
90920 |  | I | ESRD related services, month | 7.26 | 2.77 | 3.51 | 2.29 | 3.39 | 0.23 | 10.26 | 11.00 | 9.78 | 10.88 | XXX
90921 |  | I | ESRD related services, month | 4.46 | 1.73 | 2.26 | 1.63 | 2.24 | 0.14 | 6.33 | 6.86 | 6.23 | 6.84 | XXX
90922 |  | I | ESRD related services, day | 0.37 | 0.16 | 0.20 | 0.13 | 0.19 | 0.01 | 0.54 | 0.58 | 0.51 | 0.57 | XXX
90923 |  | I | Esrd related services, day | 0.28 | 0.10 | 0.12 | 0.08 | 0.12 | 0.01 | 0.39 | 0.41 | 0.37 | 0.41 | XXX
90924 |  | I | Esrd related services, day | 0.24 | 0.09 | 0.11 | 0.08 | 0.11 | 0.01 | 0.34 | 0.36 | 0.33 | 0.36 | XXX
90925 |  | I | Esrd related services, day | 0.15 | 0.06 | 0.08 | 0.05 | 0.07 | 0.01 | 0.22 | 0.24 | 0.21 | 0.23 | XXX
90935 |  | A | Hemodialysis, one evaluation | 1.22 | NA | NA | 0.54 | 0.64 | 0.04 | NA | NA | 1.80 | 1.90 | 000
90937 |  | A | Hemodialysis, repeated eval | 2.11 | NA | NA | 0.78 | 0.92 | 0.07 | NA | NA | 2.96 | 3.10 | 000
90945 |  | A | Dialysis, one evaluation | 1.28 | NA | NA | 0.56 | 0.66 | 0.04 | NA | NA | 1.88 | 1.98 | 000
90947 |  | A | Dialysis, repeated eval | 2.16 | NA | NA | 0.80 | 0.94 | 0.07 | NA | NA | 3.03 | 3.17 | 000
90997 |  | A | Hemoperfusion | 1.84 | NA | NA | 0.50 | 0.62 | 0.06 | NA | NA | 2.40 | 2.52 | 000
90999 |  | C | Dialysis procedure | 0.00 | 0.00 | 0.00 | 0.00 | 0.00 | 0.00 | 0.00 | 0.00 | 0.00 | 0.00 | XXX
91000 |  | A | Esophageal intubation | 0.73 | 2.22 | 0.80 | 2.22 | 0.80 | 0.04 | 2.99 | 1.57 | 2.99 | 1.57 | 000
91000 | 26 | A | Esophageal intubation | 0.73 | 0.24 | 0.25 | 0.24 | 0.25 | 0.03 | 1.00 | 1.01 | 1.00 | 1.01 | 000
91000 | TC | A | Esophageal intubation | 0.00 | 1.98 | 0.56 | 1.98 | 0.56 | 0.01 | 1.99 | 0.57 | 1.99 | 0.57 | 000
91010 |  | A | Esophagus motility study | 1.25 | 3.66 | 4.22 | 3.66 | 4.22 | 0.12 | 5.03 | 5.59 | 5.03 | 5.59 | 000
91010 | 26 | A | Esophagus motility study | 1.25 | 0.55 | 0.47 | 0.55 | 0.47 | 0.06 | 1.86 | 1.78 | 1.86 | 1.78 | 000
91010 | TC | A | Esophagus motility study | 0.00 | 3.11 | 3.76 | 3.11 | 3.76 | 0.06 | 3.17 | 3.82 | 3.17 | 3.82 | 000
91011 |  | A | Esophagus motility study | 1.50 | 5.31 | 5.24 | 5.31 | 5.24 | 0.13 | 6.94 | 6.87 | 6.94 | 6.87 | 000
91011 | 26 | A | Esophagus motility study | 1.50 | 0.70 | 0.57 | 0.70 | 0.57 | 0.07 | 2.27 | 2.14 | 2.27 | 2.14 | 000
91011 | TC | A | Esophagus motility study | 0.00 | 4.61 | 4.68 | 4.61 | 4.68 | 0.06 | 4.67 | 4.74 | 4.67 | 4.74 | 000
91012 |  | A | Esophagus motility study | 1.46 | 5.49 | 5.69 | 5.49 | 5.69 | 0.13 | 7.08 | 7.28 | 7.08 | 7.28 | 000
91012 | 26 | A | Esophagus motility study | 1.46 | 0.68 | 0.55 | 0.68 | 0.55 | 0.06 | 2.20 | 2.07 | 2.20 | 2.07 | 000
91012 | TC | A | Esophagus motility study | 0.00 | 4.81 | 5.13 | 4.81 | 5.13 | 0.07 | 4.88 | 5.20 | 4.88 | 5.20 | 000
91020 |  | A | Gastric motility studies | 1.44 | 4.79 | 4.59 | 4.79 | 4.59 | 0.13 | 6.36 | 6.16 | 6.36 | 6.16 | 000
91020 | 26 | A | Gastric motility studies | 1.44 | 0.61 | 0.52 | 0.61 | 0.52 | 0.07 | 2.12 | 2.03 | 2.12 | 2.03 | 000
91020 | TC | A | Gastric motility studies | 0.00 | 4.19 | 4.07 | 4.19 | 4.07 | 0.06 | 4.25 | 4.13 | 4.25 | 4.13 | 000
91022 |  | A | Duodenal motility study | 1.44 | 3.09 | 4.07 | 3.09 | 4.07 | 0.13 | 4.66 | 5.64 | 4.66 | 5.64 | 000
91022 | 26 | A | Duodenal motility study | 1.44 | 0.61 | 0.54 | 0.61 | 0.54 | 0.07 | 2.12 | 2.05 | 2.12 | 2.05 | 000
91022 | TC | A | Duodenal motility study | 0.00 | 2.48 | 3.54 | 2.48 | 3.54 | 0.06 | 2.54 | 3.60 | 2.54 | 3.60 | 000
91030 |  | A | Acid perfusion of esophagus | 0.91 | 2.92 | 2.55 | 2.92 | 2.55 | 0.06 | 3.89 | 3.52 | 3.89 | 3.52 | 000
91030 | 26 | A | Acid perfusion of esophagus | 0.91 | 0.43 | 0.35 | 0.43 | 0.35 | 0.04 | 1.38 | 1.30 | 1.38 | 1.30 | 000
91030 | TC | A | Acid perfusion of esophagus | 0.00 | 2.49 | 2.21 | 2.49 | 2.21 | 0.02 | 2.51 | 2.23 | 2.51 | 2.23 | 000
91034 |  | A | Gastroesophageal reflux test | 0.97 | 4.12 | 4.95 | 4.12 | 4.95 | 0.12 | 5.21 | 6.04 | 5.21 | 6.04 | 000
91034 | 26 | A | Gastroesophageal reflux test | 0.97 | 0.41 | 0.36 | 0.41 | 0.36 | 0.06 | 1.44 | 1.39 | 1.44 | 1.39 | 000
91034 | TC | A | Gastroesophageal reflux test | 0.00 | 3.70 | 4.60 | 3.70 | 4.60 | 0.06 | 3.76 | 4.66 | 3.76 | 4.66 | 000
91035 |  | A | G-esoph reflx tst w/electrod | 1.59 | 11.33 | 10.93 | 11.33 | 10.93 | 0.12 | 13.04 | 12.64 | 13.04 | 12.64 | 000
91035 | 26 | A | G-esoph reflx tst w/electrod | 1.59 | 0.70 | 0.60 | 0.70 | 0.60 | 0.06 | 2.35 | 2.25 | 2.35 | 2.25 | 000
91035 | TC | A | G-esoph reflx tst w/electrod | 0.00 | 10.63 | 10.34 | 10.63 | 10.34 | 0.06 | 10.69 | 10.40 | 10.69 | 10.40 | 000
91037 |  | A | Esoph imped function test | 0.97 | 3.41 | 3.05 | 3.41 | 3.05 | 0.12 | 4.50 | 4.14 | 4.50 | 4.14 | 000
91037 | 26 | A | Esoph imped function test | 0.97 | 0.42 | 0.36 | 0.42 | 0.36 | 0.06 | 1.45 | 1.39 | 1.45 | 1.39 | 000
91037 | TC | A | Esoph imped function test | 0.00 | 2.99 | 2.69 | 2.99 | 2.69 | 0.06 | 3.05 | 2.75 | 3.05 | 2.75 | 000
91038 |  | A | Esoph imped funct test > 1h | 1.10 | 2.78 | 2.36 | 2.78 | 2.36 | 0.12 | 4.00 | 3.58 | 4.00 | 3.58 | 000
91038 | 26 | A | Esoph imped funct test > 1h | 1.10 | 0.50 | 0.42 | 0.50 | 0.42 | 0.06 | 1.66 | 1.58 | 1.66 | 1.58 | 000
91038 | TC | A | Esoph imped funct test > 1h | 0.00 | 2.28 | 1.94 | 2.28 | 1.94 | 0.06 | 2.34 | 2.00 | 2.34 | 2.00 | 000
91040 |  | A | Esoph balloon distension tst | 0.97 | 9.35 | 10.69 | 9.35 | 10.69 | 0.12 | 10.44 | 11.78 | 10.44 | 11.78 | 000
91040 | 26 | A | Esoph balloon distension tst | 0.97 | 0.37 | 0.35 | 0.37 | 0.35 | 0.06 | 1.40 | 1.38 | 1.40 | 1.38 | 000
91040 | TC | A | Esoph balloon distension tst | 0.00 | 8.97 | 10.34 | 8.97 | 10.34 | 0.06 | 9.03 | 10.40 | 9.03 | 10.40 | 000
91052 |  | A | Gastric analysis test | 0.79 | 2.99 | 2.59 | 2.99 | 2.59 | 0.05 | 3.83 | 3.43 | 3.83 | 3.43 | 000
91052 | 26 | A | Gastric analysis test | 0.79 | 0.37 | 0.30 | 0.37 | 0.30 | 0.03 | 1.19 | 1.12 | 1.19 | 1.12 | 000
91052 | TC | A | Gastric analysis test | 0.00 | 2.62 | 2.28 | 2.62 | 2.28 | 0.02 | 2.64 | 2.30 | 2.64 | 2.30 | 000
91055 |  | A | Gastric intubation for smear | 0.94 | 2.44 | 2.82 | 2.44 | 2.82 | 0.07 | 3.45 | 3.83 | 3.45 | 3.83 | 000
91055 | 26 | A | Gastric intubation for smear | 0.94 | 0.27 | 0.27 | 0.27 | 0.27 | 0.05 | 1.26 | 1.26 | 1.26 | 1.26 | 000
91055 | TC | A | Gastric intubation for smear | 0.00 | 2.17 | 2.55 | 2.17 | 2.55 | 0.02 | 2.19 | 2.57 | 2.19 | 2.57 | 000
91060 |  | A | Gastric saline load test | 0.45 | 1.65 | 1.88 | 1.65 | 1.88 | 0.05 | 2.15 | 2.38 | 2.15 | 2.38 | 000
91060 | 26 | A | Gastric saline load test | 0.45 | 0.11 | 0.13 | 0.11 | 0.13 | 0.03 | 0.59 | 0.61 | 0.59 | 0.61 | 000
91060 | TC | A | Gastric saline load test | 0.00 | 1.54 | 1.75 | 1.54 | 1.75 | 0.02 | 1.56 | 1.77 | 1.56 | 1.77 | 000
91065 |  | A | Breath hydrogen test | 0.20 | 1.41 | 1.45 | 1.41 | 1.45 | 0.03 | 1.64 | 1.68 | 1.64 | 1.68 | 000
91065 | 26 | A | Breath hydrogen test | 0.20 | 0.07 | 0.07 | 0.07 | 0.07 | 0.01 | 0.28 | 0.28 | 0.28 | 0.28 | 000
91065 | TC | A | Breath hydrogen test | 0.00 | 1.34 | 1.38 | 1.34 | 1.38 | 0.02 | 1.36 | 1.40 | 1.36 | 1.40 | 000
91100 |  | A | Pass intestine bleeding tube | 1.08 | 2.15 | 2.63 | 0.37 | 0.30 | 0.07 | 3.30 | 3.78 | 1.52 | 1.45 | 000
91105 |  | A | Gastric intubation treatment | 0.37 | 1.76 | 2.02 | 0.07 | 0.09 | 0.03 | 2.16 | 2.42 | 0.47 | 0.49 | 000
91110 |  | A | Gi tract capsule endoscopy | 3.64 | 20.55 | 21.77 | NA | NA | 0.16 | 24.35 | 25.57 | NA | NA | XXX
91110 | 26 | A | Gi tract capsule endoscopy | 3.64 | 1.66 | 1.38 | 1.66 | 1.38 | 0.09 | 5.39 | 5.11 | 5.39 | 5.11 | XXX
91110 | TC | A | Gi tract capsule endoscopy | 0.00 | 18.90 | 20.40 | NA | NA | 0.07 | 18.97 | 20.47 | NA | NA | XXX
91120 |  | A | Rectal sensation test | 0.97 | 9.12 | 10.52 | 9.12 | 10.52 | 0.11 | 10.20 | 11.60 | 10.20 | 11.60 | XXX
91120 | 26 | A | Rectal sensation test | 0.97 | 0.30 | 0.33 | 0.30 | 0.33 | 0.07 | 1.34 | 1.37 | 1.34 | 1.37 | XXX
91120 | TC | A | Rectal sensation test | 0.00 | 8.82 | 10.19 | 8.82 | 10.19 | 0.04 | 8.86 | 10.23 | 8.86 | 10.23 | XXX
91122 |  | A | Anal pressure record | 1.77 | 3.76 | 4.77 | 3.76 | 4.77 | 0.21 | 5.74 | 6.75 | 5.74 | 6.75 | 000
91122 | 26 | A | Anal pressure record | 1.77 | 0.52 | 0.58 | 0.52 | 0.58 | 0.13 | 2.42 | 2.48 | 2.42 | 2.48 | 000
91122 | TC | A | Anal pressure record | 0.00 | 3.24 | 4.19 | 3.24 | 4.19 | 0.08 | 3.32 | 4.27 | 3.32 | 4.27 | 000
91132 |  | C | Electrogastrography | 0.00 | 0.00 | 0.00 | 0.00 | 0.00 | 0.00 | 0.00 | 0.00 | 0.00 | 0.00 | XXX
91132 | 26 | A | Electrogastrography | 0.52 | 0.25 | 0.20 | 0.25 | 0.20 | 0.02 | 0.79 | 0.74 | 0.79 | 0.74 | XXX
91132 | TC | C | Electrogastrography | 0.00 | 0.00 | 0.00 | 0.00 | 0.00 | 0.00 | 0.00 | 0.00 | 0.00 | 0.00 | XXX
91133 |  | C | Electrogastrography w/test | 0.00 | 0.00 | 0.00 | 0.00 | 0.00 | 0.00 | 0.00 | 0.00 | 0.00 | 0.00 | XXX
91133 | 26 | A | Electrogastrography w/test | 0.66 | 0.30 | 0.25 | 0.30 | 0.25 | 0.03 | 0.99 | 0.94 | 0.99 | 0.94 | XXX
91133 | TC | C | Electrogastrography w/test | 0.00 | 0.00 | 0.00 | 0.00 | 0.00 | 0.00 | 0.00 | 0.00 | 0.00 | 0.00 | XXX
91299 |  | C | Gastroenterology procedure | 0.00 | 0.00 | 0.00 | 0.00 | 0.00 | 0.00 | 0.00 | 0.00 | 0.00 | 0.00 | XXX
91299 | 26 | C | Gastroenterology procedure | 0.00 | 0.00 | 0.00 | 0.00 | 0.00 | 0.00 | 0.00 | 0.00 | 0.00 | 0.00 | XXX
91299 | TC | C | Gastroenterology procedure | 0.00 | 0.00 | 0.00 | 0.00 | 0.00 | 0.00 | 0.00 | 0.00 | 0.00 | 0.00 | XXX
92002 |  | A | Eye exam, new patient | 0.88 | 0.97 | 0.97 | 0.27 | 0.32 | 0.02 | 1.87 | 1.87 | 1.17 | 1.22 | XXX
92004 |  | A | Eye exam, new patient | 1.67 | 1.59 | 1.67 | 0.54 | 0.65 | 0.04 | 3.30 | 3.38 | 2.25 | 2.36 | XXX
92012 |  | A | Eye exam established pat | 0.67 | 0.94 | 1.01 | 0.24 | 0.28 | 0.02 | 1.63 | 1.70 | 0.93 | 0.97 | XXX
92014 |  | A | Eye exam & treatment | 1.10 | 1.32 | 1.39 | 0.38 | 0.45 | 0.03 | 2.45 | 2.52 | 1.51 | 1.58 | XXX
92015 |  | N | Refraction | 0.38 | 0.10 | 1.14 | 0.09 | 0.14 | 0.01 | 0.49 | 1.53 | 0.48 | 0.53 | XXX
92018 |  | A | New eye exam & treatment | 2.50 | NA | NA | 0.91 | 1.03 | 0.07 | NA | NA | 3.48 | 3.60 | XXX
92019 |  | A | Eye exam & treatment | 1.31 | NA | NA | 0.44 | 0.53 | 0.03 | NA | NA | 1.78 | 1.87 | XXX
92020 |  | A | Special eye evaluation | 0.37 | 0.26 | 0.32 | 0.13 | 0.15 | 0.01 | 0.64 | 0.70 | 0.51 | 0.53 | XXX
92060 |  | A | Special eye evaluation | 0.69 | 0.79 | 0.75 | NA | NA | 0.03 | 1.51 | 1.47 | NA | NA | XXX
92060 | 26 | A | Special eye evaluation | 0.69 | 0.23 | 0.28 | 0.23 | 0.28 | 0.02 | 0.94 | 0.99 | 0.94 | 0.99 | XXX
92060 | TC | A | Special eye evaluation | 0.00 | 0.56 | 0.47 | NA | NA | 0.01 | 0.57 | 0.48 | NA | NA | XXX
92065 |  | A | Orthoptic/pleoptic training | 0.37 | 0.89 | 0.62 | NA | NA | 0.02 | 1.28 | 1.01 | NA | NA | XXX
92065 | 26 | A | Orthoptic/pleoptic training | 0.37 | 0.09 | 0.14 | 0.09 | 0.14 | 0.01 | 0.47 | 0.52 | 0.47 | 0.52 | XXX
92065 | TC | A | Orthoptic/pleoptic training | 0.00 | 0.79 | 0.48 | NA | NA | 0.01 | 0.80 | 0.49 | NA | NA | XXX
92070 |  | A | Fitting of contact lens | 0.70 | 0.94 | 1.04 | 0.24 | 0.30 | 0.02 | 1.66 | 1.76 | 0.96 | 1.02 | XXX
92081 |  | A | Visual field examination(s) | 0.36 | 0.97 | 0.95 | NA | NA | 0.02 | 1.35 | 1.33 | NA | NA | XXX
92081 | 26 | A | Visual field examination(s) | 0.36 | 0.11 | 0.14 | 0.11 | 0.14 | 0.01 | 0.48 | 0.51 | 0.48 | 0.51 | XXX
92081 | TC | A | Visual field examination(s) | 0.00 | 0.86 | 0.81 | NA | NA | 0.01 | 0.87 | 0.82 | NA | NA | XXX
92082 |  | A | Visual field examination(s) | 0.44 | 1.36 | 1.26 | NA | NA | 0.02 | 1.82 | 1.72 | NA | NA | XXX
92082 | 26 | A | Visual field examination(s) | 0.44 | 0.14 | 0.18 | 0.14 | 0.18 | 0.01 | 0.59 | 0.63 | 0.59 | 0.63 | XXX
92082 | TC | A | Visual field examination(s) | 0.00 | 1.22 | 1.09 | NA | NA | 0.01 | 1.23 | 1.10 | NA | NA | XXX
92083 |  | A | Visual field examination(s) | 0.50 | 1.56 | 1.46 | NA | NA | 0.02 | 2.08 | 1.98 | NA | NA | XXX
92083 | 26 | A | Visual field examination(s) | 0.50 | 0.17 | 0.21 | 0.17 | 0.21 | 0.01 | 0.68 | 0.72 | 0.68 | 0.72 | XXX
92083 | TC | A | Visual field examination(s) | 0.00 | 1.39 | 1.26 | NA | NA | 0.01 | 1.40 | 1.27 | NA | NA | XXX
92100 |  | A | Serial tonometry exam(s) | 0.92 | 1.28 | 1.33 | 0.29 | 0.34 | 0.02 | 2.22 | 2.27 | 1.23 | 1.28 | XXX
92120 |  | A | Tonography & eye evaluation | 0.81 | 1.00 | 1.05 | 0.26 | 0.31 | 0.02 | 1.83 | 1.88 | 1.09 | 1.14 | XXX
92130 |  | A | Water provocation tonography | 0.81 | 1.21 | 1.26 | 0.28 | 0.35 | 0.02 | 2.04 | 2.09 | 1.11 | 1.18 | XXX
92135 |  | A | Opthalmic dx imaging | 0.35 | 0.81 | 0.80 | NA | NA | 0.02 | 1.18 | 1.17 | NA | NA | XXX
92135 | 26 | A | Opthalmic dx imaging | 0.35 | 0.12 | 0.14 | 0.12 | 0.14 | 0.01 | 0.48 | 0.50 | 0.48 | 0.50 | XXX
92135 | TC | A | Opthalmic dx imaging | 0.00 | 0.69 | 0.65 | NA | NA | 0.01 | 0.70 | 0.66 | NA | NA | XXX
92136 |  | A | Ophthalmic biometry | 0.54 | 1.46 | 1.60 | NA | NA | 0.08 | 2.08 | 2.22 | NA | NA | XXX
92136 | 26 | A | Ophthalmic biometry | 0.54 | 0.20 | 0.23 | 0.20 | 0.23 | 0.01 | 0.75 | 0.78 | 0.75 | 0.78 | XXX
92136 | TC | A | Ophthalmic biometry | 0.00 | 1.26 | 1.37 | NA | NA | 0.07 | 1.33 | 1.44 | NA | NA | XXX
92140 |  | A | Glaucoma provocative tests | 0.50 | 0.92 | 0.97 | 0.15 | 0.20 | 0.01 | 1.43 | 1.48 | 0.66 | 0.71 | XXX
92225 |  | A | Special eye exam, initial | 0.38 | 0.25 | 0.23 | 0.13 | 0.15 | 0.01 | 0.64 | 0.62 | 0.52 | 0.54 | XXX
92226 |  | A | Special eye exam, subsequent | 0.33 | 0.24 | 0.22 | 0.12 | 0.14 | 0.01 | 0.58 | 0.56 | 0.46 | 0.48 | XXX
92230 |  | A | Eye exam with photos | 0.60 | 0.73 | 1.33 | 0.21 | 0.20 | 0.02 | 1.35 | 1.95 | 0.83 | 0.82 | XXX
92235 |  | A | Eye exam with photos | 0.81 | 2.33 | 2.54 | NA | NA | 0.08 | 3.22 | 3.43 | NA | NA | XXX
92235 | 26 | A | Eye exam with photos | 0.81 | 0.30 | 0.35 | 0.30 | 0.35 | 0.02 | 1.13 | 1.18 | 1.13 | 1.18 | XXX
92235 | TC | A | Eye exam with photos | 0.00 | 2.02 | 2.19 | NA | NA | 0.06 | 2.08 | 2.25 | NA | NA | XXX
92240 |  | A | Icg angiography | 1.10 | 4.51 | 5.70 | NA | NA | 0.09 | 5.70 | 6.89 | NA | NA | XXX
92240 | 26 | A | Icg angiography | 1.10 | 0.41 | 0.48 | 0.41 | 0.48 | 0.03 | 1.54 | 1.61 | 1.54 | 1.61 | XXX
92240 | TC | A | Icg angiography | 0.00 | 4.09 | 5.22 | NA | NA | 0.06 | 4.15 | 5.28 | NA | NA | XXX
92250 |  | A | Eye exam with photos | 0.44 | 1.34 | 1.48 | NA | NA | 0.02 | 1.80 | 1.94 | NA | NA | XXX
92250 | 26 | A | Eye exam with photos | 0.44 | 0.15 | 0.18 | 0.15 | 0.18 | 0.01 | 0.60 | 0.63 | 0.60 | 0.63 | XXX
92250 | TC | A | Eye exam with photos | 0.00 | 1.19 | 1.30 | NA | NA | 0.01 | 1.20 | 1.31 | NA | NA | XXX
92260 |  | A | Ophthalmoscopy/dynamometry | 0.20 | 0.23 | 0.25 | 0.07 | 0.09 | 0.01 | 0.44 | 0.46 | 0.28 | 0.30 | XXX
92265 |  | A | Eye muscle evaluation | 0.81 | 1.01 | 1.37 | NA | NA | 0.06 | 1.88 | 2.24 | NA | NA | XXX
92265 | 26 | A | Eye muscle evaluation | 0.81 | 0.24 | 0.27 | 0.24 | 0.27 | 0.04 | 1.09 | 1.12 | 1.09 | 1.12 | XXX
92265 | TC | A | Eye muscle evaluation | 0.00 | 0.76 | 1.10 | NA | NA | 0.02 | 0.78 | 1.12 | NA | NA | XXX
92270 |  | A | Electro-oculography | 0.81 | 1.42 | 1.50 | NA | NA | 0.05 | 2.28 | 2.36 | NA | NA | XXX
92270 | 26 | A | Electro-oculography | 0.81 | 0.24 | 0.31 | 0.24 | 0.31 | 0.03 | 1.08 | 1.15 | 1.08 | 1.15 | XXX
92270 | TC | A | Electro-oculography | 0.00 | 1.17 | 1.19 | NA | NA | 0.02 | 1.19 | 1.21 | NA | NA | XXX
92275 |  | A | Electroretinography | 1.01 | 2.48 | 2.07 | NA | NA | 0.05 | 3.54 | 3.13 | NA | NA | XXX
92275 | 26 | A | Electroretinography | 1.01 | 0.36 | 0.41 | 0.36 | 0.41 | 0.03 | 1.40 | 1.45 | 1.40 | 1.45 | XXX
92275 | TC | A | Electroretinography | 0.00 | 2.12 | 1.66 | NA | NA | 0.02 | 2.14 | 1.68 | NA | NA | XXX
92283 |  | A | Color vision examination | 0.17 | 1.02 | 0.89 | NA | NA | 0.02 | 1.21 | 1.08 | NA | NA | XXX
92283 | 26 | A | Color vision examination | 0.17 | 0.05 | 0.07 | 0.05 | 0.07 | 0.01 | 0.23 | 0.25 | 0.23 | 0.25 | XXX
92283 | TC | A | Color vision examination | 0.00 | 0.96 | 0.82 | NA | NA | 0.01 | 0.97 | 0.83 | NA | NA | XXX
92284 |  | A | Dark adaptation eye exam | 0.24 | 1.25 | 1.72 | NA | NA | 0.02 | 1.51 | 1.98 | NA | NA | XXX
92284 | 26 | A | Dark adaptation eye exam | 0.24 | 0.09 | 0.08 | 0.09 | 0.08 | 0.01 | 0.34 | 0.33 | 0.34 | 0.33 | XXX
92284 | TC | A | Dark adaptation eye exam | 0.00 | 1.16 | 1.64 | NA | NA | 0.01 | 1.17 | 1.65 | NA | NA | XXX
92285 |  | A | Eye photography | 0.20 | 0.82 | 0.95 | NA | NA | 0.02 | 1.04 | 1.17 | NA | NA | XXX
92285 | 26 | A | Eye photography | 0.20 | 0.07 | 0.09 | 0.07 | 0.09 | 0.01 | 0.28 | 0.30 | 0.28 | 0.30 | XXX
92285 | TC | A | Eye photography | 0.00 | 0.75 | 0.86 | NA | NA | 0.01 | 0.76 | 0.87 | NA | NA | XXX
92286 |  | A | Internal eye photography | 0.66 | 2.16 | 2.83 | NA | NA | 0.04 | 2.86 | 3.53 | NA | NA | XXX
92286 | 26 | A | Internal eye photography | 0.66 | 0.24 | 0.28 | 0.24 | 0.28 | 0.02 | 0.92 | 0.96 | 0.92 | 0.96 | XXX
92286 | TC | A | Internal eye photography | 0.00 | 1.92 | 2.55 | NA | NA | 0.02 | 1.94 | 2.57 | NA | NA | XXX
92287 |  | A | Internal eye photography | 0.81 | 1.98 | 2.28 | 0.30 | 0.31 | 0.02 | 2.81 | 3.11 | 1.13 | 1.14 | XXX
92310 |  | N | Contact lens fitting | 1.17 | 1.07 | 1.11 | 0.27 | 0.41 | 0.04 | 2.28 | 2.32 | 1.48 | 1.62 | XXX
92311 |  | A | Contact lens fitting | 1.08 | 1.31 | 1.15 | 0.32 | 0.34 | 0.03 | 2.42 | 2.26 | 1.43 | 1.45 | XXX
92312 |  | A | Contact lens fitting | 1.26 | 1.51 | 1.19 | 0.36 | 0.47 | 0.03 | 2.80 | 2.48 | 1.65 | 1.76 | XXX
92313 |  | A | Contact lens fitting | 0.92 | 1.49 | 1.17 | 0.33 | 0.30 | 0.02 | 2.43 | 2.11 | 1.27 | 1.24 | XXX
92314 |  | N | Prescription of contact lens | 0.69 | 1.15 | 0.99 | 0.16 | 0.24 | 0.01 | 1.85 | 1.69 | 0.86 | 0.94 | XXX
92315 |  | A | Prescription of contact lens | 0.45 | 1.35 | 0.98 | 0.13 | 0.15 | 0.01 | 1.81 | 1.44 | 0.59 | 0.61 | XXX
92316 |  | A | Prescription of contact lens | 0.68 | 1.69 | 1.11 | 0.24 | 0.28 | 0.02 | 2.39 | 1.81 | 0.94 | 0.98 | XXX
92317 |  | A | Prescription of contact lens | 0.45 | 1.46 | 1.07 | 0.14 | 0.15 | 0.01 | 1.92 | 1.53 | 0.60 | 0.61 | XXX
92325 |  | A | Modification of contact lens | 0.00 | 0.85 | 0.51 | NA | NA | 0.01 | 0.86 | 0.52 | NA | NA | XXX
92326 |  | A | Replacement of contact lens | 0.00 | 0.76 | 1.41 | NA | NA | 0.06 | 0.82 | 1.47 | NA | NA | XXX
92340 |  | N | Fitting of spectacles | 0.37 | 0.45 | 0.64 | 0.09 | 0.13 | 0.01 | 0.83 | 1.02 | 0.47 | 0.51 | XXX
92341 |  | N | Fitting of spectacles | 0.47 | 0.47 | 0.67 | 0.11 | 0.16 | 0.01 | 0.95 | 1.15 | 0.59 | 0.64 | XXX
92342 |  | N | Fitting of spectacles | 0.53 | 0.48 | 0.69 | 0.12 | 0.19 | 0.01 | 1.02 | 1.23 | 0.66 | 0.73 | XXX
92352 |  | B | Special spectacles fitting | 0.37 | 0.57 | 0.65 | 0.09 | 0.13 | 0.01 | 0.95 | 1.03 | 0.47 | 0.51 | XXX
92353 |  | B | Special spectacles fitting | 0.50 | 0.60 | 0.70 | 0.12 | 0.17 | 0.02 | 1.12 | 1.22 | 0.64 | 0.69 | XXX
92354 |  | B | Special spectacles fitting | 0.00 | 0.29 | 6.72 | NA | NA | 0.10 | 0.39 | 6.82 | NA | NA | XXX
92355 |  | B | Special spectacles fitting | 0.00 | 0.45 | 3.36 | NA | NA | 0.01 | 0.46 | 3.37 | NA | NA | XXX
92358 |  | B | Eye prosthesis service | 0.00 | 0.24 | 0.79 | NA | NA | 0.05 | 0.29 | 0.84 | NA | NA | XXX
92370 |  | N | Repair & adjust spectacles | 0.32 | 0.39 | 0.51 | 0.07 | 0.12 | 0.02 | 0.73 | 0.85 | 0.41 | 0.46 | XXX
92371 |  | B | Repair & adjust spectacles | 0.00 | 0.24 | 0.53 | NA | NA | 0.02 | 0.26 | 0.55 | NA | NA | XXX
92499 |  | C | Eye service or procedure | 0.00 | 0.00 | 0.00 | 0.00 | 0.00 | 0.00 | 0.00 | 0.00 | 0.00 | 0.00 | XXX
92499 | 26 | C | Eye service or procedure | 0.00 | 0.00 | 0.00 | 0.00 | 0.00 | 0.00 | 0.00 | 0.00 | 0.00 | 0.00 | XXX
92499 | TC | C | Eye service or procedure | 0.00 | 0.00 | 0.00 | 0.00 | 0.00 | 0.00 | 0.00 | 0.00 | 0.00 | 0.00 | XXX
92502 |  | A | Ear and throat examination | 1.51 | NA | NA | 0.77 | 1.03 | 0.05 | NA | NA | 2.33 | 2.59 | 000
92504 |  | A | Ear microscopy examination | 0.18 | 0.55 | 0.51 | 0.05 | 0.08 | 0.01 | 0.74 | 0.70 | 0.24 | 0.27 | XXX
92506 |  | A | Speech/hearing evaluation | 0.86 | 3.28 | 2.76 | 0.24 | 0.36 | 0.03 | 4.17 | 3.65 | 1.13 | 1.25 | XXX
92507 |  | A | Speech/hearing therapy | 0.52 | 1.19 | 1.13 | 0.14 | 0.21 | 0.02 | 1.73 | 1.67 | 0.68 | 0.75 | XXX
92508 |  | A | Speech/hearing therapy | 0.26 | 0.52 | 0.51 | 0.08 | 0.11 | 0.01 | 0.79 | 0.78 | 0.35 | 0.38 | XXX
92511 |  | A | Nasopharyngoscopy | 0.84 | 2.92 | 3.21 | 0.61 | 0.74 | 0.03 | 3.79 | 4.08 | 1.48 | 1.61 | 000
92512 |  | A | Nasal function studies | 0.55 | 0.93 | 1.09 | 0.15 | 0.17 | 0.02 | 1.50 | 1.66 | 0.72 | 0.74 | XXX
92516 |  | A | Facial nerve function test | 0.43 | 1.15 | 1.19 | 0.12 | 0.20 | 0.01 | 1.59 | 1.63 | 0.56 | 0.64 | XXX
92520 |  | A | Laryngeal function studies | 0.75 | 0.91 | 0.61 | 0.23 | 0.35 | 0.03 | 1.69 | 1.39 | 1.01 | 1.13 | XXX
92526 |  | A | Oral function therapy | 0.55 | 1.68 | 1.65 | 0.16 | 0.19 | 0.02 | 2.25 | 2.22 | 0.73 | 0.76 | XXX
92541 |  | A | Spontaneous nystagmus test | 0.40 | 1.16 | 1.06 | NA | NA | 0.04 | 1.60 | 1.50 | NA | NA | XXX
92541 | 26 | A | Spontaneous nystagmus test | 0.40 | 0.12 | 0.17 | 0.12 | 0.17 | 0.02 | 0.54 | 0.59 | 0.54 | 0.59 | XXX
92541 | TC | A | Spontaneous nystagmus test | 0.00 | 1.04 | 0.89 | NA | NA | 0.02 | 1.06 | 0.91 | NA | NA | XXX
92542 |  | A | Positional nystagmus test | 0.33 | 1.30 | 1.18 | NA | NA | 0.03 | 1.66 | 1.54 | NA | NA | XXX
92542 | 26 | A | Positional nystagmus test | 0.33 | 0.10 | 0.15 | 0.10 | 0.15 | 0.01 | 0.44 | 0.49 | 0.44 | 0.49 | XXX
92542 | TC | A | Positional nystagmus test | 0.00 | 1.20 | 1.04 | NA | NA | 0.02 | 1.22 | 1.06 | NA | NA | XXX
92543 |  | A | Caloric vestibular test | 0.10 | 0.66 | 0.59 | NA | NA | 0.02 | 0.78 | 0.71 | NA | NA | XXX
92543 | 26 | A | Caloric vestibular test | 0.10 | 0.03 | 0.05 | 0.03 | 0.05 | 0.01 | 0.14 | 0.16 | 0.14 | 0.16 | XXX
92543 | TC | A | Caloric vestibular test | 0.00 | 0.63 | 0.55 | NA | NA | 0.01 | 0.64 | 0.56 | NA | NA | XXX
92544 |  | A | Optokinetic nystagmus test | 0.26 | 1.06 | 0.94 | NA | NA | 0.03 | 1.35 | 1.23 | NA | NA | XXX
92544 | 26 | A | Optokinetic nystagmus test | 0.26 | 0.08 | 0.11 | 0.08 | 0.11 | 0.01 | 0.35 | 0.38 | 0.35 | 0.38 | XXX
92544 | TC | A | Optokinetic nystagmus test | 0.00 | 0.98 | 0.83 | NA | NA | 0.02 | 1.00 | 0.85 | NA | NA | XXX
92545 |  | A | Oscillating tracking test | 0.23 | 1.03 | 0.86 | NA | NA | 0.03 | 1.29 | 1.12 | NA | NA | XXX
92545 | 26 | A | Oscillating tracking test | 0.23 | 0.07 | 0.10 | 0.07 | 0.10 | 0.01 | 0.31 | 0.34 | 0.31 | 0.34 | XXX
92545 | TC | A | Oscillating tracking test | 0.00 | 0.96 | 0.76 | NA | NA | 0.02 | 0.98 | 0.78 | NA | NA | XXX
92546 |  | A | Sinusoidal rotational test | 0.29 | 1.90 | 1.96 | NA | NA | 0.03 | 2.22 | 2.28 | NA | NA | XXX
92546 | 26 | A | Sinusoidal rotational test | 0.29 | 0.09 | 0.12 | 0.09 | 0.12 | 0.01 | 0.39 | 0.42 | 0.39 | 0.42 | XXX
92546 | TC | A | Sinusoidal rotational test | 0.00 | 1.81 | 1.84 | NA | NA | 0.02 | 1.83 | 1.86 | NA | NA | XXX
92547 |  | A | Supplemental electrical test | 0.00 | 0.11 | 0.09 | 0.11 | 0.09 | 0.06 | 0.17 | 0.15 | 0.17 | 0.15 | ZZZ
92548 |  | A | Posturography | 0.50 | 1.72 | 2.12 | NA | NA | 0.15 | 2.37 | 2.77 | NA | NA | XXX
92548 | 26 | A | Posturography | 0.50 | 0.15 | 0.23 | 0.15 | 0.23 | 0.02 | 0.67 | 0.75 | 0.67 | 0.75 | XXX
92548 | TC | A | Posturography | 0.00 | 1.57 | 1.89 | NA | NA | 0.13 | 1.70 | 2.02 | NA | NA | XXX
92552 |  | A | Pure tone audiometry, air | 0.00 | 0.56 | 0.47 | NA | NA | 0.04 | 0.60 | 0.51 | NA | NA | XXX
92553 |  | A | Audiometry, air & bone | 0.00 | 0.71 | 0.67 | NA | NA | 0.06 | 0.77 | 0.73 | NA | NA | XXX
92555 |  | A | Speech threshold audiometry | 0.00 | 0.38 | 0.38 | NA | NA | 0.04 | 0.42 | 0.42 | NA | NA | XXX
92556 |  | A | Speech audiometry, complete | 0.00 | 0.52 | 0.56 | NA | NA | 0.06 | 0.58 | 0.62 | NA | NA | XXX
92557 |  | A | Comprehensive hearing test | 0.00 | 1.27 | 1.21 | NA | NA | 0.12 | 1.39 | 1.33 | NA | NA | XXX
92561 |  | A | Bekesy audiometry, diagnosis | 0.00 | 0.79 | 0.74 | NA | NA | 0.06 | 0.85 | 0.80 | NA | NA | XXX
92562 |  | A | Loudness balance test | 0.00 | 0.67 | 0.48 | NA | NA | 0.04 | 0.71 | 0.52 | NA | NA | XXX
92563 |  | A | Tone decay hearing test | 0.00 | 0.53 | 0.42 | NA | NA | 0.04 | 0.57 | 0.46 | NA | NA | XXX
92564 |  | A | Sisi hearing test | 0.00 | 0.51 | 0.48 | NA | NA | 0.05 | 0.56 | 0.53 | NA | NA | XXX
92565 |  | A | Stenger test, pure tone | 0.00 | 0.27 | 0.37 | NA | NA | 0.04 | 0.31 | 0.41 | NA | NA | XXX
92567 |  | A | Tympanometry | 0.00 | 0.50 | 0.52 | NA | NA | 0.06 | 0.56 | 0.58 | NA | NA | XXX
92568 |  | A | Acoustic refl threshold tst | 0.00 | 0.15 | 0.32 | NA | NA | 0.04 | 0.19 | 0.36 | NA | NA | XXX
92569 |  | A | Acoustic reflex decay test | 0.00 | 0.16 | 0.35 | NA | NA | 0.04 | 0.20 | 0.39 | NA | NA | XXX
92571 |  | A | Filtered speech hearing test | 0.00 | 0.40 | 0.39 | NA | NA | 0.04 | 0.44 | 0.43 | NA | NA | XXX
92572 |  | A | Staggered spondaic word test | 0.00 | 0.61 | 0.22 | NA | NA | 0.01 | 0.62 | 0.23 | NA | NA | XXX
92573 |  | A | Lombard test | 0.00 | 0.49 | 0.39 | NA | NA | 0.04 | 0.53 | 0.43 | NA | NA | XXX
92575 |  | A | Sensorineural acuity test | 0.00 | 1.10 | 0.50 | NA | NA | 0.02 | 1.12 | 0.52 | NA | NA | XXX
92576 |  | A | Synthetic sentence test | 0.00 | 0.54 | 0.47 | NA | NA | 0.05 | 0.59 | 0.52 | NA | NA | XXX
92577 |  | A | Stenger test, speech | 0.00 | 0.28 | 0.61 | NA | NA | 0.07 | 0.35 | 0.68 | NA | NA | XXX
92579 |  | A | Visual audiometry (vra) | 0.00 | 0.84 | 0.76 | NA | NA | 0.06 | 0.90 | 0.82 | NA | NA | XXX
92582 |  | A | Conditioning play audiometry | 0.00 | 1.08 | 0.82 | NA | NA | 0.06 | 1.14 | 0.88 | NA | NA | XXX
92583 |  | A | Select picture audiometry | 0.00 | 0.70 | 0.84 | NA | NA | 0.08 | 0.78 | 0.92 | NA | NA | XXX
92584 |  | A | Electrocochleography | 0.00 | 1.28 | 2.17 | NA | NA | 0.21 | 1.49 | 2.38 | NA | NA | XXX
92585 |  | A | Auditor evoke potent, compre | 0.50 | 2.01 | 2.05 | NA | NA | 0.17 | 2.68 | 2.72 | NA | NA | XXX
92585 | 26 | A | Auditor evoke potent, compre | 0.50 | 0.15 | 0.20 | 0.15 | 0.20 | 0.03 | 0.68 | 0.73 | 0.68 | 0.73 | XXX
92585 | TC | A | Auditor evoke potent, compre | 0.00 | 1.86 | 1.85 | NA | NA | 0.14 | 2.00 | 1.99 | NA | NA | XXX
92586 |  | A | Auditor evoke potent, limit | 0.00 | 1.41 | 1.74 | NA | NA | 0.14 | 1.55 | 1.88 | NA | NA | XXX
92587 |  | A | Evoked auditory test | 0.13 | 0.61 | 1.18 | NA | NA | 0.12 | 0.86 | 1.43 | NA | NA | XXX
92587 | 26 | A | Evoked auditory test | 0.13 | 0.04 | 0.06 | 0.04 | 0.06 | 0.01 | 0.18 | 0.20 | 0.18 | 0.20 | XXX
92587 | TC | A | Evoked auditory test | 0.00 | 0.58 | 1.13 | NA | NA | 0.11 | 0.69 | 1.24 | NA | NA | XXX
92588 |  | A | Evoked auditory test | 0.36 | 1.05 | 1.49 | NA | NA | 0.14 | 1.55 | 1.99 | NA | NA | XXX
92588 | 26 | A | Evoked auditory test | 0.36 | 0.11 | 0.15 | 0.11 | 0.15 | 0.01 | 0.48 | 0.52 | 0.48 | 0.52 | XXX
92588 | TC | A | Evoked auditory test | 0.00 | 0.95 | 1.34 | NA | NA | 0.13 | 1.08 | 1.47 | NA | NA | XXX
92596 |  | A | Ear protector evaluation | 0.00 | 0.93 | 0.68 | NA | NA | 0.06 | 0.99 | 0.74 | NA | NA | XXX
92597 |  | A | Oral speech device eval | 0.86 | 1.69 | 1.69 | 0.24 | 0.40 | 0.03 | 2.58 | 2.58 | 1.13 | 1.29 | XXX
92601 |  | A | Cochlear implt f/up exam < 7 | 0.00 | 4.87 | 3.84 | NA | NA | 0.07 | 4.94 | 3.91 | NA | NA | XXX
92602 |  | A | Reprogram cochlear implt < 7 | 0.00 | 3.34 | 2.62 | NA | NA | 0.07 | 3.41 | 2.69 | NA | NA | XXX
92603 |  | A | Cochlear implt f/up exam 7 > | 0.00 | 3.17 | 2.40 | NA | NA | 0.07 | 3.24 | 2.47 | NA | NA | XXX
92604 |  | A | Reprogram cochlear implt 7 > | 0.00 | 2.09 | 1.54 | NA | NA | 0.07 | 2.16 | 1.61 | NA | NA | XXX
92607 |  | A | Ex for speech device rx, 1hr | 0.00 | 4.28 | 3.38 | NA | NA | 0.05 | 4.33 | 3.43 | NA | NA | XXX
92608 |  | A | Ex for speech device rx addl | 0.00 | 0.87 | 0.63 | NA | NA | 0.05 | 0.92 | 0.68 | NA | NA | XXX
92609 |  | A | Use of speech device service | 0.00 | 2.30 | 1.77 | NA | NA | 0.04 | 2.34 | 1.81 | NA | NA | XXX
92610 |  | A | Evaluate swallowing function | 0.00 | 1.62 | 2.98 | NA | NA | 0.08 | 1.70 | 3.06 | NA | NA | XXX
92611 |  | A | Motion fluoroscopy/swallow | 0.00 | 1.90 | 3.05 | NA | NA | 0.08 | 1.98 | 3.13 | NA | NA | XXX
92612 |  | A | Endoscopy swallow tst (fees) | 1.27 | 2.74 | 2.74 | 0.36 | 0.59 | 0.04 | 4.05 | 4.05 | 1.67 | 1.90 | XXX
92613 |  | A | Endoscopy swallow tst (fees) | 0.71 | 0.22 | 0.36 | 0.22 | 0.35 | 0.05 | 0.98 | 1.12 | 0.98 | 1.11 | XXX
92614 |  | A | Laryngoscopic sensory test | 1.27 | 2.23 | 2.43 | 0.36 | 0.59 | 0.04 | 3.54 | 3.74 | 1.67 | 1.90 | XXX
92615 |  | A | Eval laryngoscopy sense tst | 0.63 | 0.18 | 0.31 | 0.18 | 0.31 | 0.05 | 0.86 | 0.99 | 0.86 | 0.99 | XXX
92616 |  | A | Fees w/laryngeal sense test | 1.88 | 2.91 | 3.27 | 0.53 | 0.88 | 0.06 | 4.85 | 5.21 | 2.47 | 2.82 | XXX
92617 |  | A | Interprt fees/laryngeal test | 0.79 | 0.22 | 0.39 | 0.22 | 0.39 | 0.05 | 1.06 | 1.23 | 1.06 | 1.23 | XXX
92620 |  | A | Auditory function, 60 min | 0.00 | 1.87 | 1.32 | NA | NA | 0.06 | 1.93 | 1.38 | NA | NA | XXX
92621 |  | A | Auditory function, + 15 min | 0.00 | 0.40 | 0.29 | NA | NA | 0.06 | 0.46 | 0.35 | NA | NA | ZZZ
92625 |  | A | Tinnitus assessment | 0.00 | 1.82 | 1.30 | 1.82 | 1.30 | 0.06 | 1.88 | 1.36 | 1.88 | 1.36 | XXX
92626 |  | A | Eval aud rehab status | 0.00 | 1.85 | 2.11 | NA | NA | 0.06 | 1.91 | 2.17 | NA | NA | XXX
92627 |  | A | Eval aud status rehab add-on | 0.00 | 0.42 | 0.52 | 0.42 | 0.52 | 0.02 | 0.44 | 0.54 | 0.44 | 0.54 | ZZZ
92700 |  | C | Ent procedure/service | 0.00 | 0.00 | 0.00 | 0.00 | 0.00 | 0.00 | 0.00 | 0.00 | 0.00 | 0.00 | XXX
92950 |  | A | Heart/lung resuscitation cpr | 3.79 | 3.24 | 3.96 | 0.77 | 0.92 | 0.28 | 7.31 | 8.03 | 4.84 | 4.99 | 000
92953 |  | A | Temporary external pacing | 0.23 | NA | NA | 0.07 | 0.07 | 0.02 | NA | NA | 0.32 | 0.32 | 000
92960 |  | A | Cardioversion electric, ext | 2.25 | 4.42 | 5.84 | 1.47 | 1.25 | 0.07 | 6.74 | 8.16 | 3.79 | 3.57 | 000
92961 |  | A | Cardioversion, electric, int | 4.59 | NA | NA | 2.49 | 2.18 | 0.29 | NA | NA | 7.37 | 7.06 | 000
92970 |  | A | Cardioassist, internal | 3.51 | NA | NA | 1.61 | 1.20 | 0.16 | NA | NA | 5.28 | 4.87 | 000
92971 |  | A | Cardioassist, external | 1.77 | NA | NA | 1.08 | 0.91 | 0.06 | NA | NA | 2.91 | 2.74 | 000
92973 |  | A | Percut coronary thrombectomy | 3.28 | NA | NA | 1.79 | 1.42 | 0.23 | NA | NA | 5.30 | 4.93 | ZZZ
92974 |  | A | Cath place, cardio brachytx | 3.00 | NA | NA | 1.67 | 1.30 | 0.21 | NA | NA | 4.88 | 4.51 | ZZZ
92975 |  | A | Dissolve clot, heart vessel | 7.24 | NA | NA | 3.88 | 3.08 | 0.50 | NA | NA | 11.62 | 10.82 | 000
92977 |  | A | Dissolve clot, heart vessel | 0.00 | 1.73 | 6.47 | NA | NA | 0.46 | 2.19 | 6.93 | NA | NA | XXX
92978 |  | A | Intravasc us, heart add-on | 1.80 | NA | NA | NA | NA | 0.30 | NA | NA | NA | NA | ZZZ
92978 | 26 | A | Intravasc us, heart add-on | 1.80 | 0.98 | 0.78 | 0.98 | 0.78 | 0.06 | 2.84 | 2.64 | 2.84 | 2.64 | ZZZ
92978 | TC | A | Intravasc us, heart add-on | 0.00 | NA | NA | NA | NA | 0.24 | NA | NA | NA | NA | ZZZ
92979 |  | A | Intravasc us, heart add-on | 1.44 | NA | NA | NA | NA | 0.19 | NA | NA | NA | NA | ZZZ
92979 | 26 | A | Intravasc us, heart add-on | 1.44 | 0.78 | 0.62 | 0.78 | 0.62 | 0.06 | 2.28 | 2.12 | 2.28 | 2.12 | ZZZ
92979 | TC | A | Intravasc us, heart add-on | 0.00 | NA | NA | NA | NA | 0.13 | NA | NA | NA | NA | ZZZ
92980 |  | A | Insert intracoronary stent | 14.82 | NA | NA | 8.29 | 6.61 | 1.03 | NA | NA | 24.14 | 22.46 | 000
92981 |  | A | Insert intracoronary stent | 4.16 | NA | NA | 2.27 | 1.79 | 0.29 | NA | NA | 6.72 | 6.24 | ZZZ
92982 |  | A | Coronary artery dilation | 10.96 | NA | NA | 6.20 | 4.95 | 0.76 | NA | NA | 17.92 | 16.67 | 000
92984 |  | A | Coronary artery dilation | 2.97 | NA | NA | 1.61 | 1.27 | 0.21 | NA | NA | 4.79 | 4.45 | ZZZ
92986 |  | A | Revision of aortic valve | 22.64 | NA | NA | 15.66 | 12.79 | 1.51 | NA | NA | 39.81 | 36.94 | 090
92987 |  | A | Revision of mitral valve | 23.42 | NA | NA | 16.09 | 13.18 | 1.59 | NA | NA | 41.10 | 38.19 | 090
92990 |  | A | Revision of pulmonary valve | 18.06 | NA | NA | 11.18 | 10.14 | 1.20 | NA | NA | 30.44 | 29.40 | 090
92992 |  | C | Revision of heart chamber | 0.00 | 0.00 | 0.00 | 0.00 | 0.00 | 0.00 | 0.00 | 0.00 | 0.00 | 0.00 | 090
92993 |  | C | Revision of heart chamber | 0.00 | 0.00 | 0.00 | 0.00 | 0.00 | 0.00 | 0.00 | 0.00 | 0.00 | 0.00 | 090
92995 |  | A | Coronary atherectomy | 12.07 | NA | NA | 6.81 | 5.42 | 0.84 | NA | NA | 19.72 | 18.33 | 000
92996 |  | A | Coronary atherectomy add-on | 3.26 | NA | NA | 1.78 | 1.40 | 0.10 | NA | NA | 5.14 | 4.76 | ZZZ
92997 |  | A | Pul art balloon repr, percut | 11.98 | NA | NA | 5.18 | 4.91 | 0.40 | NA | NA | 17.56 | 17.29 | 000
92998 |  | A | Pul art balloon repr, percut | 5.99 | NA | NA | 2.74 | 2.34 | 0.28 | NA | NA | 9.01 | 8.61 | ZZZ
93000 |  | A | Electrocardiogram, complete | 0.17 | 0.35 | 0.47 | 0.35 | 0.47 | 0.03 | 0.55 | 0.67 | 0.55 | 0.67 | XXX
93005 |  | A | Electrocardiogram, tracing | 0.00 | 0.28 | 0.41 | NA | NA | 0.02 | 0.30 | 0.43 | NA | NA | XXX
93010 |  | A | Electrocardiogram report | 0.17 | 0.07 | 0.06 | 0.07 | 0.06 | 0.01 | 0.25 | 0.24 | 0.25 | 0.24 | XXX
93012 |  | A | Transmission of ecg | 0.00 | 1.65 | 4.92 | NA | NA | 0.18 | 1.83 | 5.10 | NA | NA | XXX
93014 |  | A | Report on transmitted ecg | 0.52 | 0.21 | 0.20 | 0.21 | 0.20 | 0.02 | 0.75 | 0.74 | 0.75 | 0.74 | XXX
93015 |  | A | Cardiovascular stress test | 0.75 | 1.93 | 1.95 | 1.93 | 1.95 | 0.14 | 2.82 | 2.84 | 2.82 | 2.84 | XXX
93016 |  | A | Cardiovascular stress test | 0.45 | 0.23 | 0.19 | 0.23 | 0.19 | 0.02 | 0.70 | 0.66 | 0.70 | 0.66 | XXX
93017 |  | A | Cardiovascular stress test | 0.00 | 1.55 | 1.65 | NA | NA | 0.11 | 1.66 | 1.76 | NA | NA | XXX
93018 |  | A | Cardiovascular stress test | 0.30 | 0.15 | 0.12 | 0.15 | 0.12 | 0.01 | 0.46 | 0.43 | 0.46 | 0.43 | XXX
93024 |  | A | Cardiac drug stress test | 1.17 | 2.42 | 1.78 | NA | NA | 0.12 | 3.71 | 3.07 | NA | NA | XXX
93024 | 26 | A | Cardiac drug stress test | 1.17 | 0.59 | 0.49 | 0.59 | 0.49 | 0.04 | 1.80 | 1.70 | 1.80 | 1.70 | XXX
93024 | TC | A | Cardiac drug stress test | 0.00 | 1.84 | 1.30 | NA | NA | 0.08 | 1.92 | 1.38 | NA | NA | XXX
93025 |  | A | Microvolt t-wave assess | 0.75 | 3.94 | 6.68 | NA | NA | 0.14 | 4.83 | 7.57 | NA | NA | XXX
93025 | 26 | A | Microvolt t-wave assess | 0.75 | 0.38 | 0.31 | 0.38 | 0.31 | 0.03 | 1.16 | 1.09 | 1.16 | 1.09 | XXX
93025 | TC | A | Microvolt t-wave assess | 0.00 | 3.56 | 6.37 | NA | NA | 0.11 | 3.67 | 6.48 | NA | NA | XXX
93040 |  | A | Rhythm ECG with report | 0.16 | 0.19 | 0.20 | 0.19 | 0.20 | 0.02 | 0.37 | 0.38 | 0.37 | 0.38 | XXX
93041 |  | A | Rhythm ECG, tracing | 0.00 | 0.14 | 0.15 | NA | NA | 0.01 | 0.15 | 0.16 | NA | NA | XXX
93042 |  | A | Rhythm ECG, report | 0.16 | 0.05 | 0.05 | 0.05 | 0.05 | 0.01 | 0.22 | 0.22 | 0.22 | 0.22 | XXX
93224 |  | A | ECG monitor/report, 24 hrs | 0.52 | 1.99 | 3.21 | 1.99 | 3.21 | 0.24 | 2.75 | 3.97 | 2.75 | 3.97 | XXX
93225 |  | A | ECG monitor/record, 24 hrs | 0.00 | 1.08 | 1.20 | NA | NA | 0.08 | 1.16 | 1.28 | NA | NA | XXX
93226 |  | A | ECG monitor/report, 24 hrs | 0.00 | 0.62 | 1.79 | NA | NA | 0.14 | 0.76 | 1.93 | NA | NA | XXX
93227 |  | A | ECG monitor/review, 24 hrs | 0.52 | 0.28 | 0.21 | 0.28 | 0.21 | 0.02 | 0.82 | 0.75 | 0.82 | 0.75 | XXX
93230 |  | A | ECG monitor/report, 24 hrs | 0.52 | 1.79 | 3.37 | 1.79 | 3.37 | 0.26 | 2.57 | 4.15 | 2.57 | 4.15 | XXX
93231 |  | A | Ecg monitor/record, 24 hrs | 0.00 | 0.94 | 1.38 | NA | NA | 0.11 | 1.05 | 1.49 | NA | NA | XXX
93232 |  | A | ECG monitor/report, 24 hrs | 0.00 | 0.62 | 1.79 | NA | NA | 0.13 | 0.75 | 1.92 | NA | NA | XXX
93233 |  | A | ECG monitor/review, 24 hrs | 0.52 | 0.23 | 0.20 | 0.23 | 0.20 | 0.02 | 0.77 | 0.74 | 0.77 | 0.74 | XXX
93235 |  | A | ECG monitor/report, 24 hrs | 0.45 | 0.21 | 2.14 | 0.21 | 2.14 | 0.16 | 0.82 | 2.75 | 0.82 | 2.75 | XXX
93236 |  | C | ECG monitor/report, 24 hrs | 0.00 | 0.00 | 0.00 | NA | NA | 0.00 | 0.00 | 0.00 | NA | NA | XXX
93237 |  | A | ECG monitor/review, 24 hrs | 0.45 | 0.21 | 0.17 | 0.21 | 0.17 | 0.02 | 0.68 | 0.64 | 0.68 | 0.64 | XXX
93268 |  | A | ECG record/review | 0.52 | 0.83 | 5.79 | 0.83 | 5.79 | 0.28 | 1.63 | 6.59 | 1.63 | 6.59 | XXX
93270 |  | A | ECG recording | 0.00 | 0.31 | 1.01 | NA | NA | 0.08 | 0.39 | 1.09 | NA | NA | XXX
93271 |  | A | Ecg/monitoring and analysis | 0.00 | 1.99 | 5.01 | NA | NA | 0.18 | 2.17 | 5.19 | NA | NA | XXX
93272 |  | A | Ecg/review, interpret only | 0.52 | 0.24 | 0.20 | 0.24 | 0.20 | 0.02 | 0.78 | 0.74 | 0.78 | 0.74 | XXX
93278 |  | A | ECG/signal-averaged | 0.25 | 0.59 | 1.09 | NA | NA | 0.12 | 0.96 | 1.46 | NA | NA | XXX
93278 | 26 | A | ECG/signal-averaged | 0.25 | 0.10 | 0.10 | 0.10 | 0.10 | 0.01 | 0.36 | 0.36 | 0.36 | 0.36 | XXX
93278 | TC | A | ECG/signal-averaged | 0.00 | 0.49 | 0.99 | NA | NA | 0.11 | 0.60 | 1.10 | NA | NA | XXX
93303 |  | A | Echo transthoracic | 1.30 | 4.65 | 4.42 | NA | NA | 0.27 | 6.22 | 5.99 | NA | NA | XXX
93303 | 26 | A | Echo transthoracic | 1.30 | 0.57 | 0.50 | 0.57 | 0.50 | 0.04 | 1.91 | 1.84 | 1.91 | 1.84 | XXX
93303 | TC | A | Echo transthoracic | 0.00 | 4.07 | 3.91 | NA | NA | 0.23 | 4.30 | 4.14 | NA | NA | XXX
93304 |  | A | Echo transthoracic | 0.75 | 3.18 | 2.46 | NA | NA | 0.15 | 4.08 | 3.36 | NA | NA | XXX
93304 | 26 | A | Echo transthoracic | 0.75 | 0.31 | 0.29 | 0.31 | 0.29 | 0.02 | 1.08 | 1.06 | 1.08 | 1.06 | XXX
93304 | TC | A | Echo transthoracic | 0.00 | 2.87 | 2.17 | NA | NA | 0.13 | 3.00 | 2.30 | NA | NA | XXX
93307 |  | A | Echo exam of heart | 0.92 | 3.78 | 4.10 | NA | NA | 0.26 | 4.96 | 5.28 | NA | NA | XXX
93307 | 26 | A | Echo exam of heart | 0.92 | 0.46 | 0.38 | 0.46 | 0.38 | 0.03 | 1.41 | 1.33 | 1.41 | 1.33 | XXX
93307 | TC | A | Echo exam of heart | 0.00 | 3.32 | 3.73 | NA | NA | 0.23 | 3.55 | 3.96 | NA | NA | XXX
93308 |  | A | Echo exam of heart | 0.53 | 2.65 | 2.27 | NA | NA | 0.15 | 3.33 | 2.95 | NA | NA | XXX
93308 | 26 | A | Echo exam of heart | 0.53 | 0.27 | 0.22 | 0.27 | 0.22 | 0.02 | 0.82 | 0.77 | 0.82 | 0.77 | XXX
93308 | TC | A | Echo exam of heart | 0.00 | 2.38 | 2.05 | NA | NA | 0.13 | 2.51 | 2.18 | NA | NA | XXX
93312 |  | A | Echo transesophageal | 2.20 | 7.55 | 5.32 | NA | NA | 0.37 | 10.12 | 7.89 | NA | NA | XXX
93312 | 26 | A | Echo transesophageal | 2.20 | 1.01 | 0.85 | 1.01 | 0.85 | 0.08 | 3.29 | 3.13 | 3.29 | 3.13 | XXX
93312 | TC | A | Echo transesophageal | 0.00 | 6.54 | 4.47 | NA | NA | 0.29 | 6.83 | 4.76 | NA | NA | XXX
93313 |  | A | Echo transesophageal | 0.95 | NA | NA | 0.14 | 0.19 | 0.06 | NA | NA | 1.15 | 1.20 | XXX
93314 |  | A | Echo transesophageal | 1.25 | 7.28 | 5.01 | NA | NA | 0.33 | 8.86 | 6.59 | NA | NA | XXX
93314 | 26 | A | Echo transesophageal | 1.25 | 0.57 | 0.50 | 0.57 | 0.50 | 0.04 | 1.86 | 1.79 | 1.86 | 1.79 | XXX
93314 | TC | A | Echo transesophageal | 0.00 | 6.71 | 4.51 | NA | NA | 0.29 | 7.00 | 4.80 | NA | NA | XXX
93315 |  | C | Echo transesophageal | 0.00 | 0.00 | 0.00 | 0.00 | 0.00 | 0.00 | 0.00 | 0.00 | 0.00 | 0.00 | XXX
93315 | 26 | A | Echo transesophageal | 2.78 | 1.32 | 1.09 | 1.32 | 1.09 | 0.09 | 4.19 | 3.96 | 4.19 | 3.96 | XXX
93315 | TC | C | Echo transesophageal | 0.00 | 0.00 | 0.00 | 0.00 | 0.00 | 0.00 | 0.00 | 0.00 | 0.00 | 0.00 | XXX
93316 |  | A | Echo transesophageal | 0.95 | NA | NA | 0.26 | 0.25 | 0.05 | NA | NA | 1.26 | 1.25 | XXX
93317 |  | C | Echo transesophageal | 0.00 | 0.00 | 0.00 | 0.00 | 0.00 | 0.00 | 0.00 | 0.00 | 0.00 | 0.00 | XXX
93317 | 26 | A | Echo transesophageal | 1.83 | 0.74 | 0.69 | 0.74 | 0.69 | 0.08 | 2.65 | 2.60 | 2.65 | 2.60 | XXX
93317 | TC | C | Echo transesophageal | 0.00 | 0.00 | 0.00 | 0.00 | 0.00 | 0.00 | 0.00 | 0.00 | 0.00 | 0.00 | XXX
93318 |  | C | Echo transesophageal intraop | 0.00 | 0.00 | 0.00 | 0.00 | 0.00 | 0.00 | 0.00 | 0.00 | 0.00 | 0.00 | XXX
93318 | 26 | A | Echo transesophageal intraop | 2.20 | 0.89 | 0.58 | 0.89 | 0.58 | 0.14 | 3.23 | 2.92 | 3.23 | 2.92 | XXX
93318 | TC | C | Echo transesophageal intraop | 0.00 | 0.00 | 0.00 | 0.00 | 0.00 | 0.00 | 0.00 | 0.00 | 0.00 | 0.00 | XXX
93320 |  | A | Doppler echo exam, heart | 0.38 | 1.70 | 1.81 | 1.70 | 1.81 | 0.13 | 2.21 | 2.32 | 2.21 | 2.32 | ZZZ
93320 | 26 | A | Doppler echo exam, heart | 0.38 | 0.19 | 0.16 | 0.19 | 0.16 | 0.01 | 0.58 | 0.55 | 0.58 | 0.55 | ZZZ
93320 | TC | A | Doppler echo exam, heart | 0.00 | 1.51 | 1.66 | 1.51 | 1.66 | 0.12 | 1.63 | 1.78 | 1.63 | 1.78 | ZZZ
93321 |  | A | Doppler echo exam, heart | 0.15 | 0.62 | 1.03 | 0.62 | 1.03 | 0.09 | 0.86 | 1.27 | 0.86 | 1.27 | ZZZ
93321 | 26 | A | Doppler echo exam, heart | 0.15 | 0.08 | 0.07 | 0.08 | 0.07 | 0.01 | 0.24 | 0.23 | 0.24 | 0.23 | ZZZ
93321 | TC | A | Doppler echo exam, heart | 0.00 | 0.55 | 0.97 | 0.55 | 0.97 | 0.08 | 0.63 | 1.05 | 0.63 | 1.05 | ZZZ
93325 |  | A | Doppler color flow add-on | 0.07 | 0.67 | 2.37 | 0.67 | 2.37 | 0.22 | 0.96 | 2.66 | 0.96 | 2.66 | ZZZ
93325 | 26 | A | Doppler color flow add-on | 0.07 | 0.04 | 0.03 | 0.04 | 0.03 | 0.01 | 0.12 | 0.11 | 0.12 | 0.11 | ZZZ
93325 | TC | A | Doppler color flow add-on | 0.00 | 0.64 | 2.34 | 0.64 | 2.34 | 0.21 | 0.85 | 2.55 | 0.85 | 2.55 | ZZZ
93350 |  | A | Echo transthoracic | 1.48 | 5.16 | 3.04 | NA | NA | 0.18 | 6.82 | 4.70 | NA | NA | XXX
93350 | 26 | A | Echo transthoracic | 1.48 | 0.78 | 0.62 | 0.78 | 0.62 | 0.05 | 2.31 | 2.15 | 2.31 | 2.15 | XXX
93350 | TC | A | Echo transthoracic | 0.00 | 4.38 | 2.42 | NA | NA | 0.13 | 4.51 | 2.55 | NA | NA | XXX
93501 |  | A | Right heart catheterization | 3.02 | 23.11 | 19.32 | 23.11 | 19.32 | 1.26 | 27.39 | 23.60 | 27.39 | 23.60 | 000
93501 | 26 | A | Right heart catheterization | 3.02 | 1.61 | 1.27 | 1.61 | 1.27 | 0.21 | 4.84 | 4.50 | 4.84 | 4.50 | 000
93501 | TC | A | Right heart catheterization | 0.00 | 21.49 | 18.05 | 21.49 | 18.05 | 1.05 | 22.54 | 19.10 | 22.54 | 19.10 | 000
93503 |  | A | Insert/place heart catheter | 2.91 | NA | NA | 0.49 | 0.63 | 0.20 | NA | NA | 3.60 | 3.74 | 000
93505 |  | A | Biopsy of heart lining | 4.37 | 25.12 | 9.03 | 25.12 | 9.03 | 0.46 | 29.95 | 13.86 | 29.95 | 13.86 | 000
93505 | 26 | A | Biopsy of heart lining | 4.37 | 2.33 | 1.84 | 2.33 | 1.84 | 0.30 | 7.00 | 6.51 | 7.00 | 6.51 | 000
93505 | TC | A | Biopsy of heart lining | 0.00 | 22.78 | 7.18 | 22.78 | 7.18 | 0.16 | 22.94 | 7.34 | 22.94 | 7.34 | 000
93508 |  | A | Cath placement, angiography | 4.09 | 18.46 | 15.63 | 18.46 | 15.63 | 0.93 | 23.48 | 20.65 | 23.48 | 20.65 | 000
93508 | 26 | A | Cath placement, angiography | 4.09 | 2.23 | 2.12 | 2.23 | 2.12 | 0.28 | 6.60 | 6.49 | 6.60 | 6.49 | 000
93508 | TC | A | Cath placement, angiography | 0.00 | 16.23 | 13.51 | 16.23 | 13.51 | 0.65 | 16.88 | 14.16 | 16.88 | 14.16 | 000
93510 |  | C | Left heart catheterization | 0.00 | 0.00 | 0.00 | 0.00 | 0.00 | 0.00 | 0.00 | 0.00 | 0.00 | 0.00 | 000
93510 | 26 | A | Left heart catheterization | 4.32 | 2.35 | 2.22 | 2.35 | 2.22 | 0.30 | 6.97 | 6.84 | 6.97 | 6.84 | 000
93510 | TC | C | Left heart catheterization | 0.00 | 0.00 | 0.00 | 0.00 | 0.00 | 0.00 | 0.00 | 0.00 | 0.00 | 0.00 | 000
93511 |  | C | Left heart catheterization | 0.00 | NA | NA | 0.00 | 0.00 | 0.00 | NA | NA | 0.00 | 0.00 | 000
93511 | 26 | A | Left heart catheterization | 5.02 | 2.66 | 2.50 | 2.66 | 2.50 | 0.35 | 8.03 | 7.87 | 8.03 | 7.87 | 000
93511 | TC | C | Left heart catheterization | 0.00 | NA | NA | 0.00 | 0.00 | 0.00 | NA | NA | 0.00 | 0.00 | 000
93514 |  | C | Left heart catheterization | 0.00 | 0.00 | 0.00 | 0.00 | 0.00 | 0.00 | 0.00 | 0.00 | 0.00 | 0.00 | 000
93514 | 26 | A | Left heart catheterization | 7.04 | 3.22 | 3.15 | 3.22 | 3.15 | 0.49 | 10.75 | 10.68 | 10.75 | 10.68 | 000
93514 | TC | C | Left heart catheterization | 0.00 | 0.00 | 0.00 | 0.00 | 0.00 | 0.00 | 0.00 | 0.00 | 0.00 | 0.00 | 000
93524 |  | C | Left heart catheterization | 0.00 | NA | NA | 0.00 | 0.00 | 0.00 | NA | NA | 0.00 | 0.00 | 000
93524 | 26 | A | Left heart catheterization | 6.94 | 3.72 | 3.31 | 3.72 | 3.31 | 0.48 | 11.14 | 10.73 | 11.14 | 10.73 | 000
93524 | TC | C | Left heart catheterization | 0.00 | NA | NA | 0.00 | 0.00 | 0.00 | NA | NA | 0.00 | 0.00 | 000
93526 |  | C | Rt & Lt heart catheters | 0.00 | 0.00 | 0.00 | 0.00 | 0.00 | 0.00 | 0.00 | 0.00 | 0.00 | 0.00 | 000
93526 | 26 | A | Rt & Lt heart catheters | 5.98 | 3.25 | 2.92 | 3.25 | 2.92 | 0.42 | 9.65 | 9.32 | 9.65 | 9.32 | 000
93526 | TC | C | Rt & Lt heart catheters | 0.00 | 0.00 | 0.00 | 0.00 | 0.00 | 0.00 | 0.00 | 0.00 | 0.00 | 0.00 | 000
93527 |  | C | Rt & Lt heart catheters | 0.00 | NA | NA | 0.00 | 0.00 | 0.00 | NA | NA | 0.00 | 0.00 | 000
93527 | 26 | A | Rt & Lt heart catheters | 7.27 | 3.99 | 3.48 | 3.99 | 3.48 | 0.51 | 11.77 | 11.26 | 11.77 | 11.26 | 000
93527 | TC | C | Rt & Lt heart catheters | 0.00 | NA | NA | 0.00 | 0.00 | 0.00 | NA | NA | 0.00 | 0.00 | 000
93528 |  | C | Rt & Lt heart catheters | 0.00 | NA | NA | 0.00 | 0.00 | 0.00 | NA | NA | 0.00 | 0.00 | 000
93528 | 26 | A | Rt & Lt heart catheters | 8.99 | 4.69 | 4.20 | 4.69 | 4.20 | 0.62 | 14.30 | 13.81 | 14.30 | 13.81 | 000
93528 | TC | C | Rt & Lt heart catheters | 0.00 | NA | NA | 0.00 | 0.00 | 0.00 | NA | NA | 0.00 | 0.00 | 000
93529 |  | C | Rt, lt heart catheterization | 0.00 | NA | NA | 0.00 | 0.00 | 0.00 | NA | NA | 0.00 | 0.00 | 000
93529 | 26 | A | Rt, lt heart catheterization | 4.79 | 2.62 | 2.36 | 2.62 | 2.36 | 0.33 | 7.74 | 7.48 | 7.74 | 7.48 | 000
93529 | TC | C | Rt, lt heart catheterization | 0.00 | NA | NA | 0.00 | 0.00 | 0.00 | NA | NA | 0.00 | 0.00 | 000
93530 |  | C | Rt heart cath, congenital | 0.00 | NA | NA | 0.00 | 0.00 | 0.00 | NA | NA | 0.00 | 0.00 | 000
93530 | 26 | A | Rt heart cath, congenital | 4.22 | 1.84 | 1.91 | 1.84 | 1.91 | 0.29 | 6.35 | 6.42 | 6.35 | 6.42 | 000
93530 | TC | C | Rt heart cath, congenital | 0.00 | NA | NA | 0.00 | 0.00 | 0.00 | NA | NA | 0.00 | 0.00 | 000
93531 |  | C | R & l heart cath, congenital | 0.00 | NA | NA | 0.00 | 0.00 | 0.00 | NA | NA | 0.00 | 0.00 | 000
93531 | 26 | A | R & l heart cath, congenital | 8.34 | 3.72 | 3.62 | 3.72 | 3.62 | 0.58 | 12.64 | 12.54 | 12.64 | 12.54 | 000
93531 | TC | C | R & l heart cath, congenital | 0.00 | NA | NA | 0.00 | 0.00 | 0.00 | NA | NA | 0.00 | 0.00 | 000
93532 |  | C | R & l heart cath, congenital | 0.00 | 0.00 | 0.00 | 0.00 | 0.00 | 0.00 | 0.00 | 0.00 | 0.00 | 0.00 | 000
93532 | 26 | A | R & l heart cath, congenital | 9.99 | 4.60 | 4.34 | 4.60 | 4.34 | 0.69 | 15.28 | 15.02 | 15.28 | 15.02 | 000
93532 | TC | C | R & l heart cath, congenital | 0.00 | 0.00 | 0.00 | 0.00 | 0.00 | 0.00 | 0.00 | 0.00 | 0.00 | 0.00 | 000
93533 |  | C | R & l heart cath, congenital | 0.00 | 0.00 | 0.00 | 0.00 | 0.00 | 0.00 | 0.00 | 0.00 | 0.00 | 0.00 | 000
93533 | 26 | A | R & l heart cath, congenital | 6.69 | 3.03 | 2.85 | 3.03 | 2.85 | 0.47 | 10.19 | 10.01 | 10.19 | 10.01 | 000
93533 | TC | C | R & l heart cath, congenital | 0.00 | 0.00 | 0.00 | 0.00 | 0.00 | 0.00 | 0.00 | 0.00 | 0.00 | 0.00 | 000
93539 |  | A | Injection, cardiac cath | 0.40 | NA | NA | 0.22 | 0.18 | 0.01 | NA | NA | 0.63 | 0.59 | 000
93540 |  | A | Injection, cardiac cath | 0.43 | NA | NA | 0.24 | 0.19 | 0.01 | NA | NA | 0.68 | 0.63 | 000
93541 |  | A | Injection for lung angiogram | 0.29 | NA | NA | 0.15 | 0.12 | 0.01 | NA | NA | 0.45 | 0.42 | 000
93542 |  | A | Injection for heart x-rays | 0.29 | NA | NA | 0.15 | 0.12 | 0.01 | NA | NA | 0.45 | 0.42 | 000
93543 |  | A | Injection for heart x-rays | 0.29 | NA | NA | 0.16 | 0.12 | 0.01 | NA | NA | 0.46 | 0.42 | 000
93544 |  | A | Injection for aortography | 0.25 | NA | NA | 0.14 | 0.11 | 0.01 | NA | NA | 0.40 | 0.37 | 000
93545 |  | A | Inject for coronary x-rays | 0.40 | NA | NA | 0.22 | 0.18 | 0.01 | NA | NA | 0.63 | 0.59 | 000
93555 |  | A | Imaging, cardiac cath | 0.81 | 0.65 | 5.11 | NA | NA | 0.37 | 1.83 | 6.29 | NA | NA | XXX
93555 | 26 | A | Imaging, cardiac cath | 0.81 | 0.44 | 0.35 | 0.44 | 0.35 | 0.03 | 1.28 | 1.19 | 1.28 | 1.19 | XXX
93555 | TC | A | Imaging, cardiac cath | 0.00 | 0.21 | 4.76 | NA | NA | 0.34 | 0.55 | 5.10 | NA | NA | XXX
93556 |  | A | Imaging, cardiac cath | 0.83 | 0.93 | 7.89 | NA | NA | 0.54 | 2.30 | 9.26 | NA | NA | XXX
93556 | 26 | A | Imaging, cardiac cath | 0.83 | 0.45 | 0.35 | 0.45 | 0.35 | 0.03 | 1.31 | 1.21 | 1.31 | 1.21 | XXX
93556 | TC | A | Imaging, cardiac cath | 0.00 | 0.48 | 7.54 | NA | NA | 0.51 | 0.99 | 8.05 | NA | NA | XXX
93561 |  | A | Cardiac output measurement | 0.50 | NA | NA | NA | NA | 0.08 | NA | NA | NA | NA | 000
93561 | 26 | A | Cardiac output measurement | 0.50 | 0.14 | 0.16 | 0.14 | 0.16 | 0.02 | 0.66 | 0.68 | 0.66 | 0.68 | 000
93561 | TC | A | Cardiac output measurement | 0.00 | NA | NA | NA | NA | 0.06 | NA | NA | NA | NA | 000
93562 |  | A | Cardiac output measurement | 0.16 | NA | NA | NA | NA | 0.05 | NA | NA | NA | NA | 000
93562 | 26 | A | Cardiac output measurement | 0.16 | 0.03 | 0.05 | 0.03 | 0.05 | 0.01 | 0.20 | 0.22 | 0.20 | 0.22 | 000
93562 | TC | A | Cardiac output measurement | 0.00 | NA | NA | NA | NA | 0.04 | NA | NA | NA | NA | 000
93571 |  | A | Heart flow reserve measure | 1.80 | NA | NA | NA | NA | 0.30 | NA | NA | NA | NA | ZZZ
93571 | 26 | A | Heart flow reserve measure | 1.80 | 0.98 | 0.76 | 0.98 | 0.76 | 0.06 | 2.84 | 2.62 | 2.84 | 2.62 | ZZZ
93571 | TC | A | Heart flow reserve measure | 0.00 | NA | NA | NA | NA | 0.24 | NA | NA | NA | NA | ZZZ
93572 |  | C | Heart flow reserve measure | 0.00 | 0.00 | 0.00 | 0.00 | 0.00 | 0.00 | 0.00 | 0.00 | 0.00 | 0.00 | ZZZ
93572 | 26 | A | Heart flow reserve measure | 1.44 | 0.74 | 0.56 | 0.74 | 0.56 | 0.04 | 2.22 | 2.04 | 2.22 | 2.04 | ZZZ
93572 | TC | C | Heart flow reserve measure | 0.00 | 0.00 | 0.00 | 0.00 | 0.00 | 0.00 | 0.00 | 0.00 | 0.00 | 0.00 | ZZZ
93580 |  | A | Transcath closure of asd | 17.97 | NA | NA | 9.50 | 7.91 | 1.25 | NA | NA | 28.72 | 27.13 | 000
93581 |  | A | Transcath closure of vsd | 24.39 | NA | NA | 13.17 | 10.34 | 1.71 | NA | NA | 39.27 | 36.44 | 000
93600 |  | A | Bundle of His recording | 2.12 | NA | NA | NA | NA | 0.29 | NA | NA | NA | NA | 000
93600 | 26 | A | Bundle of His recording | 2.12 | 1.09 | 0.90 | 1.09 | 0.90 | 0.16 | 3.37 | 3.18 | 3.37 | 3.18 | 000
93600 | TC | A | Bundle of His recording | 0.00 | NA | NA | NA | NA | 0.13 | NA | NA | NA | NA | 000
93602 |  | A | Intra-atrial recording | 2.12 | NA | NA | NA | NA | 0.24 | NA | NA | NA | NA | 000
93602 | 26 | A | Intra-atrial recording | 2.12 | 1.07 | 0.88 | 1.07 | 0.88 | 0.17 | 3.36 | 3.17 | 3.36 | 3.17 | 000
93602 | TC | A | Intra-atrial recording | 0.00 | NA | NA | NA | NA | 0.07 | NA | NA | NA | NA | 000
93603 |  | A | Right ventricular recording | 2.12 | NA | NA | NA | NA | 0.29 | NA | NA | NA | NA | 000
93603 | 26 | A | Right ventricular recording | 2.12 | 1.06 | 0.87 | 1.06 | 0.87 | 0.18 | 3.36 | 3.17 | 3.36 | 3.17 | 000
93603 | TC | A | Right ventricular recording | 0.00 | NA | NA | NA | NA | 0.11 | NA | NA | NA | NA | 000
93609 |  | A | Map tachycardia, add-on | 4.99 | NA | NA | NA | NA | 0.52 | NA | NA | NA | NA | ZZZ
93609 | 26 | A | Map tachycardia, add-on | 4.99 | 2.68 | 2.13 | 2.68 | 2.13 | 0.35 | 8.02 | 7.47 | 8.02 | 7.47 | ZZZ
93609 | TC | A | Map tachycardia, add-on | 0.00 | NA | NA | NA | NA | 0.17 | NA | NA | NA | NA | ZZZ
93610 |  | A | Intra-atrial pacing | 3.02 | NA | NA | NA | NA | 0.34 | NA | NA | NA | NA | 000
93610 | 26 | A | Intra-atrial pacing | 3.02 | 1.50 | 1.25 | 1.50 | 1.25 | 0.24 | 4.76 | 4.51 | 4.76 | 4.51 | 000
93610 | TC | A | Intra-atrial pacing | 0.00 | NA | NA | NA | NA | 0.10 | NA | NA | NA | NA | 000
93612 |  | A | Intraventricular pacing | 3.02 | NA | NA | NA | NA | 0.36 | NA | NA | NA | NA | 000
93612 | 26 | A | Intraventricular pacing | 3.02 | 1.45 | 1.23 | 1.45 | 1.23 | 0.25 | 4.72 | 4.50 | 4.72 | 4.50 | 000
93612 | TC | A | Intraventricular pacing | 0.00 | NA | NA | NA | NA | 0.11 | NA | NA | NA | NA | 000
93613 |  | A | Electrophys map 3d, add-on | 6.99 | NA | NA | 3.78 | 3.02 | 0.49 | NA | NA | 11.26 | 10.50 | ZZZ
93615 |  | A | Esophageal recording | 0.99 | NA | NA | NA | NA | 0.05 | NA | NA | NA | NA | 000
93615 | 26 | A | Esophageal recording | 0.99 | 0.49 | 0.33 | 0.49 | 0.33 | 0.03 | 1.51 | 1.35 | 1.51 | 1.35 | 000
93615 | TC | A | Esophageal recording | 0.00 | NA | NA | NA | NA | 0.02 | NA | NA | NA | NA | 000
93616 |  | C | Esophageal recording | 0.00 | 0.00 | 0.00 | 0.00 | 0.00 | 0.00 | 0.00 | 0.00 | 0.00 | 0.00 | 000
93616 | 26 | A | Esophageal recording | 1.49 | 0.37 | 0.42 | 0.37 | 0.42 | 0.09 | 1.95 | 2.00 | 1.95 | 2.00 | 000
93616 | TC | C | Esophageal recording | 0.00 | 0.00 | 0.00 | 0.00 | 0.00 | 0.00 | 0.00 | 0.00 | 0.00 | 0.00 | 000
93618 |  | A | Heart rhythm pacing | 4.25 | NA | NA | NA | NA | 0.54 | NA | NA | NA | NA | 000
93618 | 26 | A | Heart rhythm pacing | 4.25 | 2.32 | 1.83 | 2.32 | 1.83 | 0.30 | 6.87 | 6.38 | 6.87 | 6.38 | 000
93618 | TC | A | Heart rhythm pacing | 0.00 | NA | NA | NA | NA | 0.24 | NA | NA | NA | NA | 000
93619 |  | A | Electrophysiology evaluation | 7.31 | NA | NA | NA | NA | 0.98 | NA | NA | NA | NA | 000
93619 | 26 | A | Electrophysiology evaluation | 7.31 | 3.87 | 3.35 | 3.87 | 3.35 | 0.51 | 11.69 | 11.17 | 11.69 | 11.17 | 000
93619 | TC | A | Electrophysiology evaluation | 0.00 | NA | NA | NA | NA | 0.47 | NA | NA | NA | NA | 000
93620 |  | C | Electrophysiology evaluation | 0.00 | 0.00 | 0.00 | 0.00 | 0.00 | 0.00 | 0.00 | 0.00 | 0.00 | 0.00 | 000
93620 | 26 | A | Electrophysiology evaluation | 11.57 | 6.24 | 5.19 | 6.24 | 5.19 | 0.80 | 18.61 | 17.56 | 18.61 | 17.56 | 000
93620 | TC | C | Electrophysiology evaluation | 0.00 | 0.00 | 0.00 | 0.00 | 0.00 | 0.00 | 0.00 | 0.00 | 0.00 | 0.00 | 000
93621 |  | C | Electrophysiology evaluation | 0.00 | 0.00 | 0.00 | 0.00 | 0.00 | 0.00 | 0.00 | 0.00 | 0.00 | 0.00 | ZZZ
93621 | 26 | A | Electrophysiology evaluation | 2.10 | 1.13 | 0.90 | 1.13 | 0.90 | 0.15 | 3.38 | 3.15 | 3.38 | 3.15 | ZZZ
93621 | TC | C | Electrophysiology evaluation | 0.00 | 0.00 | 0.00 | 0.00 | 0.00 | 0.00 | 0.00 | 0.00 | 0.00 | 0.00 | ZZZ
93622 |  | C | Electrophysiology evaluation | 0.00 | 0.00 | 0.00 | 0.00 | 0.00 | 0.00 | 0.00 | 0.00 | 0.00 | 0.00 | ZZZ
93622 | 26 | A | Electrophysiology evaluation | 3.10 | 1.68 | 1.33 | 1.68 | 1.33 | 0.22 | 5.00 | 4.65 | 5.00 | 4.65 | ZZZ
93622 | TC | C | Electrophysiology evaluation | 0.00 | 0.00 | 0.00 | 0.00 | 0.00 | 0.00 | 0.00 | 0.00 | 0.00 | 0.00 | ZZZ
93623 |  | C | Stimulation, pacing heart | 0.00 | 0.00 | 0.00 | 0.00 | 0.00 | 0.00 | 0.00 | 0.00 | 0.00 | 0.00 | ZZZ
93623 | 26 | A | Stimulation, pacing heart | 2.85 | 1.54 | 1.22 | 1.54 | 1.22 | 0.20 | 4.59 | 4.27 | 4.59 | 4.27 | ZZZ
93623 | TC | C | Stimulation, pacing heart | 0.00 | 0.00 | 0.00 | 0.00 | 0.00 | 0.00 | 0.00 | 0.00 | 0.00 | 0.00 | ZZZ
93624 |  | A | Electrophysiologic study | 4.80 | NA | NA | . | 4.18 | 0.46 | NA | NA | 5.26 | 9.44 | 000
93624 | 26 | A | Electrophysiologic study | 4.80 | 2.63 | 2.30 | 2.63 | 2.30 | 0.33 | 7.76 | 7.43 | 7.76 | 7.43 | 000
93624 | TC | A | Electrophysiologic study | 0.00 | NA | NA | . | 1.98 | 0.13 | NA | NA | 0.13 | 2.11 | 000
93631 |  | C | Heart pacing, mapping | 0.00 | 0.00 | 0.00 | 0.00 | 0.00 | 0.00 | 0.00 | 0.00 | 0.00 | 0.00 | 000
93631 | 26 | A | Heart pacing, mapping | 7.59 | 2.74 | 2.76 | 2.74 | 2.76 | 0.97 | 11.30 | 11.32 | 11.30 | 11.32 | 000
93631 | TC | C | Heart pacing, mapping | 0.00 | 0.00 | 0.00 | 0.00 | 0.00 | 0.00 | 0.00 | 0.00 | 0.00 | 0.00 | 000
93640 |  | A | Evaluation heart device | 3.51 | NA | NA | NA | NA | 0.66 | NA | NA | NA | NA | 000
93640 | 26 | A | Evaluation heart device | 3.51 | 1.89 | 1.49 | 1.89 | 1.49 | 0.24 | 5.64 | 5.24 | 5.64 | 5.24 | 000
93640 | TC | A | Evaluation heart device | 0.00 | NA | NA | NA | NA | 0.42 | NA | NA | NA | NA | 000
93641 |  | A | Electrophysiology evaluation | 5.92 | NA | NA | NA | NA | 0.83 | NA | NA | NA | NA | 000
93641 | 26 | A | Electrophysiology evaluation | 5.92 | 3.18 | 2.53 | 3.18 | 2.53 | 0.41 | 9.51 | 8.86 | 9.51 | 8.86 | 000
93641 | TC | A | Electrophysiology evaluation | 0.00 | NA | NA | NA | NA | 0.42 | NA | NA | NA | NA | 000
93642 |  | A | Electrophysiology evaluation | 4.88 | 7.45 | 8.90 | 7.45 | 8.90 | 0.57 | 12.90 | 14.35 | 12.90 | 14.35 | 000
93642 | 26 | A | Electrophysiology evaluation | 4.88 | 2.63 | 2.32 | 2.63 | 2.32 | 0.15 | 7.66 | 7.35 | 7.66 | 7.35 | 000
93642 | TC | A | Electrophysiology evaluation | 0.00 | 4.81 | 6.58 | 4.81 | 6.58 | 0.42 | 5.23 | 7.00 | 5.23 | 7.00 | 000
93650 |  | A | Ablate heart dysrhythm focus | 10.49 | NA | NA | 5.97 | 4.82 | 0.73 | NA | NA | 17.19 | 16.04 | 000
93651 |  | A | Ablate heart dysrhythm focus | 16.23 | NA | NA | 8.75 | 6.93 | 1.13 | NA | NA | 26.11 | 24.29 | 000
93652 |  | A | Ablate heart dysrhythm focus | 17.65 | NA | NA | 9.52 | 7.54 | 1.23 | NA | NA | 28.40 | 26.42 | 000
93660 |  | A | Tilt table evaluation | 1.89 | 3.05 | 2.57 | 3.05 | 2.57 | 0.08 | 5.02 | 4.54 | 5.02 | 4.54 | 000
93660 | 26 | A | Tilt table evaluation | 1.89 | 0.99 | 0.80 | 0.99 | 0.80 | 0.06 | 2.94 | 2.75 | 2.94 | 2.75 | 000
93660 | TC | A | Tilt table evaluation | 0.00 | 2.06 | 1.78 | 2.06 | 1.78 | 0.02 | 2.08 | 1.80 | 2.08 | 1.80 | 000
93662 |  | C | Intracardiac ecg (ice) | 0.00 | 0.00 | 0.00 | 0.00 | 0.00 | 0.00 | 0.00 | 0.00 | 0.00 | 0.00 | ZZZ
93662 | 26 | A | Intracardiac ecg (ice) | 2.80 | 1.51 | 1.21 | 1.51 | 1.21 | 0.09 | 4.40 | 4.10 | 4.40 | 4.10 | ZZZ
93662 | TC | C | Intracardiac ecg (ice) | 0.00 | 0.00 | 0.00 | 0.00 | 0.00 | 0.00 | 0.00 | 0.00 | 0.00 | 0.00 | ZZZ
93701 |  | A | Bioimpedance, thoracic | 0.17 | 0.70 | 0.91 | NA | NA | 0.02 | 0.89 | 1.10 | NA | NA | XXX
93701 | 26 | A | Bioimpedance, thoracic | 0.17 | 0.06 | 0.07 | 0.06 | 0.07 | 0.01 | 0.24 | 0.25 | 0.24 | 0.25 | XXX
93701 | TC | A | Bioimpedance, thoracic | 0.00 | 0.64 | 0.84 | NA | NA | 0.01 | 0.65 | 0.85 | NA | NA | XXX
93720 |  | A | Total body plethysmography | 0.17 | 1.30 | 0.90 | 1.30 | 0.90 | 0.07 | 1.54 | 1.14 | 1.54 | 1.14 | XXX
93721 |  | A | Plethysmography tracing | 0.00 | 1.15 | 0.82 | NA | NA | 0.06 | 1.21 | 0.88 | NA | NA | XXX
93722 |  | A | Plethysmography report | 0.17 | 0.04 | 0.05 | 0.04 | 0.05 | 0.01 | 0.22 | 0.23 | 0.22 | 0.23 | XXX
93724 |  | A | Analyze pacemaker system | 4.88 | 3.49 | 5.28 | 3.49 | 5.28 | 0.39 | 8.76 | 10.55 | 8.76 | 10.55 | 000
93724 | 26 | A | Analyze pacemaker system | 4.88 | 2.58 | 2.08 | 2.58 | 2.08 | 0.15 | 7.61 | 7.11 | 7.61 | 7.11 | 000
93724 | TC | A | Analyze pacemaker system | 0.00 | 0.92 | 3.20 | 0.92 | 3.20 | 0.24 | 1.16 | 3.44 | 1.16 | 3.44 | 000
93727 |  | A | Analyze ilr system | 0.52 | 0.65 | 0.31 | 0.65 | 0.31 | 0.02 | 1.19 | 0.85 | 1.19 | 0.85 | XXX
93731 |  | A | Analyze pacemaker system | 0.45 | 0.80 | 0.70 | NA | NA | 0.05 | 1.30 | 1.20 | NA | NA | XXX
93731 | 26 | A | Analyze pacemaker system | 0.45 | 0.24 | 0.19 | 0.24 | 0.19 | 0.01 | 0.70 | 0.65 | 0.70 | 0.65 | XXX
93731 | TC | A | Analyze pacemaker system | 0.00 | 0.56 | 0.51 | NA | NA | 0.04 | 0.60 | 0.55 | NA | NA | XXX
93732 |  | A | Analyze pacemaker system | 0.92 | 1.17 | 0.94 | NA | NA | 0.07 | 2.16 | 1.93 | NA | NA | XXX
93732 | 26 | A | Analyze pacemaker system | 0.92 | 0.49 | 0.39 | 0.49 | 0.39 | 0.03 | 1.44 | 1.34 | 1.44 | 1.34 | XXX
93732 | TC | A | Analyze pacemaker system | 0.00 | 0.68 | 0.55 | NA | NA | 0.04 | 0.72 | 0.59 | NA | NA | XXX
93733 |  | A | Telephone analy, pacemaker | 0.17 | 0.32 | 0.68 | NA | NA | 0.07 | 0.56 | 0.92 | NA | NA | XXX
93733 | 26 | A | Telephone analy, pacemaker | 0.17 | 0.09 | 0.08 | 0.09 | 0.08 | 0.01 | 0.27 | 0.26 | 0.27 | 0.26 | XXX
93733 | TC | A | Telephone analy, pacemaker | 0.00 | 0.23 | 0.61 | NA | NA | 0.06 | 0.29 | 0.67 | NA | NA | XXX
93734 |  | A | Analyze pacemaker system | 0.38 | 0.71 | 0.55 | NA | NA | 0.03 | 1.12 | 0.96 | NA | NA | XXX
93734 | 26 | A | Analyze pacemaker system | 0.38 | 0.20 | 0.16 | 0.20 | 0.16 | 0.01 | 0.59 | 0.55 | 0.59 | 0.55 | XXX
93734 | TC | A | Analyze pacemaker system | 0.00 | 0.51 | 0.39 | NA | NA | 0.02 | 0.53 | 0.41 | NA | NA | XXX
93735 |  | A | Analyze pacemaker system | 0.74 | 0.97 | 0.78 | NA | NA | 0.06 | 1.77 | 1.58 | NA | NA | XXX
93735 | 26 | A | Analyze pacemaker system | 0.74 | 0.39 | 0.31 | 0.39 | 0.31 | 0.02 | 1.15 | 1.07 | 1.15 | 1.07 | XXX
93735 | TC | A | Analyze pacemaker system | 0.00 | 0.58 | 0.48 | NA | NA | 0.04 | 0.62 | 0.52 | NA | NA | XXX
93736 |  | A | Telephonic analy, pacemaker | 0.15 | 0.28 | 0.59 | NA | NA | 0.07 | 0.50 | 0.81 | NA | NA | XXX
93736 | 26 | A | Telephonic analy, pacemaker | 0.15 | 0.08 | 0.07 | 0.08 | 0.07 | 0.01 | 0.24 | 0.23 | 0.24 | 0.23 | XXX
93736 | TC | A | Telephonic analy, pacemaker | 0.00 | 0.21 | 0.53 | NA | NA | 0.06 | 0.27 | 0.59 | NA | NA | XXX
93740 |  | B | Temperature gradient studies | 0.16 | 0.04 | 0.15 | NA | NA | 0.02 | 0.22 | 0.33 | NA | NA | XXX
93740 | 26 | B | Temperature gradient studies | 0.16 | 0.04 | 0.04 | 0.04 | 0.04 | 0.01 | 0.21 | 0.21 | 0.21 | 0.21 | XXX
93740 | TC | B | Temperature gradient studies | 0.00 | 0.00 | 0.11 | NA | NA | 0.01 | 0.01 | 0.12 | NA | NA | XXX
93741 |  | A | Analyze ht pace device sngl | 0.80 | 1.04 | 1.00 | NA | NA | 0.07 | 1.91 | 1.87 | NA | NA | XXX
93741 | 26 | A | Analyze ht pace device sngl | 0.80 | 0.43 | 0.34 | 0.43 | 0.34 | 0.03 | 1.26 | 1.17 | 1.26 | 1.17 | XXX
93741 | TC | A | Analyze ht pace device sngl | 0.00 | 0.60 | 0.65 | NA | NA | 0.04 | 0.64 | 0.69 | NA | NA | XXX
93742 |  | A | Analyze ht pace device sngl | 0.91 | 1.17 | 1.07 | NA | NA | 0.07 | 2.15 | 2.05 | NA | NA | XXX
93742 | 26 | A | Analyze ht pace device sngl | 0.91 | 0.50 | 0.40 | 0.50 | 0.40 | 0.03 | 1.44 | 1.34 | 1.44 | 1.34 | XXX
93742 | TC | A | Analyze ht pace device sngl | 0.00 | 0.68 | 0.67 | NA | NA | 0.04 | 0.72 | 0.71 | NA | NA | XXX
93743 |  | A | Analyze ht pace device dual | 1.03 | 1.21 | 1.15 | NA | NA | 0.07 | 2.31 | 2.25 | NA | NA | XXX
93743 | 26 | A | Analyze ht pace device dual | 1.03 | 0.56 | 0.44 | 0.56 | 0.44 | 0.03 | 1.62 | 1.50 | 1.62 | 1.50 | XXX
93743 | TC | A | Analyze ht pace device dual | 0.00 | 0.65 | 0.71 | NA | NA | 0.04 | 0.69 | 0.75 | NA | NA | XXX
93744 |  | A | Analyze ht pace device dual | 1.18 | 1.36 | 1.19 | NA | NA | 0.08 | 2.62 | 2.45 | NA | NA | XXX
93744 | 26 | A | Analyze ht pace device dual | 1.18 | 0.64 | 0.51 | 0.64 | 0.51 | 0.04 | 1.86 | 1.73 | 1.86 | 1.73 | XXX
93744 | TC | A | Analyze ht pace device dual | 0.00 | 0.73 | 0.69 | NA | NA | 0.04 | 0.77 | 0.73 | NA | NA | XXX
93745 |  | C | Set-up cardiovert-defibrill | 0.00 | 0.00 | 0.00 | 0.00 | 0.00 | 0.00 | 0.00 | 0.00 | 0.00 | 0.00 | XXX
93745 | 26 | C | Set-up cardiovert-defibrill | 0.00 | 0.00 | 0.00 | 0.00 | 0.00 | 0.00 | 0.00 | 0.00 | 0.00 | 0.00 | XXX
93745 | TC | C | Set-up cardiovert-defibrill | 0.00 | 0.00 | 0.00 | 0.00 | 0.00 | 0.00 | 0.00 | 0.00 | 0.00 | 0.00 | XXX
93770 |  | B | Measure venous pressure | 0.16 | 0.04 | 0.07 | NA | NA | 0.02 | 0.22 | 0.25 | NA | NA | XXX
93770 | 26 | B | Measure venous pressure | 0.16 | 0.04 | 0.05 | 0.04 | 0.05 | 0.01 | 0.21 | 0.22 | 0.21 | 0.22 | XXX
93770 | TC | B | Measure venous pressure | 0.00 | 0.00 | 0.02 | NA | NA | 0.01 | 0.01 | 0.03 | NA | NA | XXX
93784 |  | A | Ambulatory BP monitoring | 0.38 | 1.36 | 1.50 | 1.36 | 1.50 | 0.03 | 1.77 | 1.91 | 1.77 | 1.91 | XXX
93786 |  | A | Ambulatory BP recording | 0.00 | 1.09 | 0.96 | NA | NA | 0.01 | 1.10 | 0.97 | NA | NA | XXX
93788 |  | A | Ambulatory BP analysis | 0.00 | 0.73 | 0.57 | NA | NA | 0.01 | 0.74 | 0.58 | NA | NA | XXX
93790 |  | A | Review/report BP recording | 0.38 | 0.14 | 0.13 | 0.14 | 0.13 | 0.01 | 0.53 | 0.52 | 0.53 | 0.52 | XXX
93797 |  | A | Cardiac rehab | 0.18 | 0.32 | 0.31 | 0.09 | 0.08 | 0.01 | 0.51 | 0.50 | 0.28 | 0.27 | 000
93798 |  | A | Cardiac rehab/monitor | 0.28 | 0.44 | 0.46 | 0.13 | 0.12 | 0.01 | 0.73 | 0.75 | 0.42 | 0.41 | 000
93799 |  | C | Cardiovascular procedure | 0.00 | 0.00 | 0.00 | 0.00 | 0.00 | 0.00 | 0.00 | 0.00 | 0.00 | 0.00 | XXX
93799 | 26 | C | Cardiovascular procedure | 0.00 | 0.00 | 0.00 | 0.00 | 0.00 | 0.00 | 0.00 | 0.00 | 0.00 | 0.00 | XXX
93799 | TC | C | Cardiovascular procedure | 0.00 | 0.00 | 0.00 | 0.00 | 0.00 | 0.00 | 0.00 | 0.00 | 0.00 | 0.00 | XXX
93875 |  | A | Extracranial study | 0.22 | 2.65 | 2.41 | NA | NA | 0.12 | 2.99 | 2.75 | NA | NA | XXX
93875 | 26 | A | Extracranial study | 0.22 | 0.08 | 0.08 | 0.08 | 0.08 | 0.01 | 0.31 | 0.31 | 0.31 | 0.31 | XXX
93875 | TC | A | Extracranial study | 0.00 | 2.57 | 2.33 | NA | NA | 0.11 | 2.68 | 2.44 | NA | NA | XXX
93880 |  | A | Extracranial study | 0.60 | 6.23 | 5.72 | NA | NA | 0.39 | 7.22 | 6.71 | NA | NA | XXX
93880 | 26 | A | Extracranial study | 0.60 | 0.21 | 0.20 | 0.21 | 0.20 | 0.04 | 0.85 | 0.84 | 0.85 | 0.84 | XXX
93880 | TC | A | Extracranial study | 0.00 | 6.03 | 5.52 | NA | NA | 0.35 | 6.38 | 5.87 | NA | NA | XXX
93882 |  | A | Extracranial study | 0.40 | 4.17 | 3.67 | NA | NA | 0.26 | 4.83 | 4.33 | NA | NA | XXX
93882 | 26 | A | Extracranial study | 0.40 | 0.12 | 0.14 | 0.12 | 0.14 | 0.04 | 0.56 | 0.58 | 0.56 | 0.58 | XXX
93882 | TC | A | Extracranial study | 0.00 | 4.05 | 3.53 | NA | NA | 0.22 | 4.27 | 3.75 | NA | NA | XXX
93886 |  | A | Intracranial study | 0.94 | 7.31 | 6.88 | NA | NA | 0.45 | 8.70 | 8.27 | NA | NA | XXX
93886 | 26 | A | Intracranial study | 0.94 | 0.31 | 0.36 | 0.31 | 0.36 | 0.06 | 1.31 | 1.36 | 1.31 | 1.36 | XXX
93886 | TC | A | Intracranial study | 0.00 | 7.00 | 6.53 | NA | NA | 0.39 | 7.39 | 6.92 | NA | NA | XXX
93888 |  | A | Intracranial study | 0.62 | 4.91 | 4.41 | NA | NA | 0.32 | 5.85 | 5.35 | NA | NA | XXX
93888 | 26 | A | Intracranial study | 0.62 | 0.20 | 0.22 | 0.20 | 0.22 | 0.05 | 0.87 | 0.89 | 0.87 | 0.89 | XXX
93888 | TC | A | Intracranial study | 0.00 | 4.71 | 4.19 | NA | NA | 0.27 | 4.98 | 4.46 | NA | NA | XXX
93890 |  | A | Tcd, vasoreactivity study | 1.00 | 6.47 | 5.29 | NA | NA | 0.45 | 7.92 | 6.74 | NA | NA | XXX
93890 | 26 | A | Tcd, vasoreactivity study | 1.00 | 0.33 | 0.38 | 0.33 | 0.38 | 0.06 | 1.39 | 1.44 | 1.39 | 1.44 | XXX
93890 | TC | A | Tcd, vasoreactivity study | 0.00 | 6.13 | 4.91 | NA | NA | 0.39 | 6.52 | 5.30 | NA | NA | XXX
93892 |  | A | Tcd, emboli detect w/o inj | 1.15 | 7.00 | 5.62 | NA | NA | 0.45 | 8.60 | 7.22 | NA | NA | XXX
93892 | 26 | A | Tcd, emboli detect w/o inj | 1.15 | 0.38 | 0.44 | 0.38 | 0.44 | 0.06 | 1.59 | 1.65 | 1.59 | 1.65 | XXX
93892 | TC | A | Tcd, emboli detect w/o inj | 0.00 | 6.62 | 5.18 | NA | NA | 0.39 | 7.01 | 5.57 | NA | NA | XXX
93893 |  | A | Tcd, emboli detect w/inj | 1.15 | 6.67 | 5.44 | NA | NA | 0.45 | 8.27 | 7.04 | NA | NA | XXX
93893 | 26 | A | Tcd, emboli detect w/inj | 1.15 | 0.38 | 0.44 | 0.38 | 0.44 | 0.06 | 1.59 | 1.65 | 1.59 | 1.65 | XXX
93893 | TC | A | Tcd, emboli detect w/inj | 0.00 | 6.29 | 5.00 | NA | NA | 0.39 | 6.68 | 5.39 | NA | NA | XXX
93922 |  | A | Extremity study | 0.25 | 3.16 | 2.80 | NA | NA | 0.15 | 3.56 | 3.20 | NA | NA | XXX
93922 | 26 | A | Extremity study | 0.25 | 0.08 | 0.08 | 0.08 | 0.08 | 0.02 | 0.35 | 0.35 | 0.35 | 0.35 | XXX
93922 | TC | A | Extremity study | 0.00 | 3.08 | 2.72 | NA | NA | 0.13 | 3.21 | 2.85 | NA | NA | XXX
93923 |  | A | Extremity study | 0.45 | 4.80 | 4.22 | NA | NA | 0.26 | 5.51 | 4.93 | NA | NA | XXX
93923 | 26 | A | Extremity study | 0.45 | 0.14 | 0.15 | 0.14 | 0.15 | 0.04 | 0.63 | 0.64 | 0.63 | 0.64 | XXX
93923 | TC | A | Extremity study | 0.00 | 4.66 | 4.08 | NA | NA | 0.22 | 4.88 | 4.30 | NA | NA | XXX
93924 |  | A | Extremity study | 0.50 | 6.06 | 5.11 | NA | NA | 0.30 | 6.86 | 5.91 | NA | NA | XXX
93924 | 26 | A | Extremity study | 0.50 | 0.17 | 0.17 | 0.17 | 0.17 | 0.05 | 0.72 | 0.72 | 0.72 | 0.72 | XXX
93924 | TC | A | Extremity study | 0.00 | 5.89 | 4.94 | NA | NA | 0.25 | 6.14 | 5.19 | NA | NA | XXX
93925 |  | A | Lower extremity study | 0.58 | 8.24 | 7.15 | NA | NA | 0.39 | 9.21 | 8.12 | NA | NA | XXX
93925 | 26 | A | Lower extremity study | 0.58 | 0.20 | 0.20 | 0.20 | 0.20 | 0.04 | 0.82 | 0.82 | 0.82 | 0.82 | XXX
93925 | TC | A | Lower extremity study | 0.00 | 8.04 | 6.95 | NA | NA | 0.35 | 8.39 | 7.30 | NA | NA | XXX
93926 |  | A | Lower extremity study | 0.39 | 5.25 | 4.35 | NA | NA | 0.27 | 5.91 | 5.01 | NA | NA | XXX
93926 | 26 | A | Lower extremity study | 0.39 | 0.12 | 0.13 | 0.12 | 0.13 | 0.04 | 0.55 | 0.56 | 0.55 | 0.56 | XXX
93926 | TC | A | Lower extremity study | 0.00 | 5.13 | 4.22 | NA | NA | 0.23 | 5.36 | 4.45 | NA | NA | XXX
93930 |  | A | Upper extremity study | 0.46 | 6.35 | 5.60 | NA | NA | 0.41 | 7.22 | 6.47 | NA | NA | XXX
93930 | 26 | A | Upper extremity study | 0.46 | 0.15 | 0.16 | 0.15 | 0.16 | 0.04 | 0.65 | 0.66 | 0.65 | 0.66 | XXX
93930 | TC | A | Upper extremity study | 0.00 | 6.20 | 5.44 | NA | NA | 0.37 | 6.57 | 5.81 | NA | NA | XXX
93931 |  | A | Upper extremity study | 0.31 | 4.32 | 3.69 | NA | NA | 0.27 | 4.90 | 4.27 | NA | NA | XXX
93931 | 26 | A | Upper extremity study | 0.31 | 0.10 | 0.10 | 0.10 | 0.10 | 0.03 | 0.44 | 0.44 | 0.44 | 0.44 | XXX
93931 | TC | A | Upper extremity study | 0.00 | 4.22 | 3.59 | NA | NA | 0.24 | 4.46 | 3.83 | NA | NA | XXX
93965 |  | A | Extremity study | 0.35 | 3.13 | 2.88 | NA | NA | 0.14 | 3.62 | 3.37 | NA | NA | XXX
93965 | 26 | A | Extremity study | 0.35 | 0.12 | 0.12 | 0.12 | 0.12 | 0.02 | 0.49 | 0.49 | 0.49 | 0.49 | XXX
93965 | TC | A | Extremity study | 0.00 | 3.02 | 2.76 | NA | NA | 0.12 | 3.14 | 2.88 | NA | NA | XXX
93970 |  | A | Extremity study | 0.68 | 6.32 | 5.51 | NA | NA | 0.46 | 7.46 | 6.65 | NA | NA | XXX
93970 | 26 | A | Extremity study | 0.68 | 0.21 | 0.23 | 0.21 | 0.23 | 0.06 | 0.95 | 0.97 | 0.95 | 0.97 | XXX
93970 | TC | A | Extremity study | 0.00 | 6.11 | 5.29 | NA | NA | 0.40 | 6.51 | 5.69 | NA | NA | XXX
93971 |  | A | Extremity study | 0.45 | 4.12 | 3.72 | NA | NA | 0.30 | 4.87 | 4.47 | NA | NA | XXX
93971 | 26 | A | Extremity study | 0.45 | 0.14 | 0.15 | 0.14 | 0.15 | 0.03 | 0.62 | 0.63 | 0.62 | 0.63 | XXX
93971 | TC | A | Extremity study | 0.00 | 3.98 | 3.58 | NA | NA | 0.27 | 4.25 | 3.85 | NA | NA | XXX
93975 |  | A | Vascular study | 1.80 | 8.56 | 7.86 | NA | NA | 0.56 | 10.92 | 10.22 | NA | NA | XXX
93975 | 26 | A | Vascular study | 1.80 | 0.62 | 0.61 | 0.62 | 0.61 | 0.13 | 2.55 | 2.54 | 2.55 | 2.54 | XXX
93975 | TC | A | Vascular study | 0.00 | 7.95 | 7.26 | NA | NA | 0.43 | 8.38 | 7.69 | NA | NA | XXX
93976 |  | A | Vascular study | 1.21 | 4.57 | 4.39 | NA | NA | 0.35 | 6.13 | 5.95 | NA | NA | XXX
93976 | 26 | A | Vascular study | 1.21 | 0.39 | 0.40 | 0.39 | 0.40 | 0.05 | 1.65 | 1.66 | 1.65 | 1.66 | XXX
93976 | TC | A | Vascular study | 0.00 | 4.18 | 3.99 | NA | NA | 0.30 | 4.48 | 4.29 | NA | NA | XXX
93978 |  | A | Vascular study | 0.65 | 6.15 | 4.92 | NA | NA | 0.43 | 7.23 | 6.00 | NA | NA | XXX
93978 | 26 | A | Vascular study | 0.65 | 0.23 | 0.22 | 0.23 | 0.22 | 0.06 | 0.94 | 0.93 | 0.94 | 0.93 | XXX
93978 | TC | A | Vascular study | 0.00 | 5.93 | 4.70 | NA | NA | 0.37 | 6.30 | 5.07 | NA | NA | XXX
93979 |  | A | Vascular study | 0.44 | 4.40 | 3.51 | NA | NA | 0.27 | 5.11 | 4.22 | NA | NA | XXX
93979 | 26 | A | Vascular study | 0.44 | 0.16 | 0.15 | 0.16 | 0.15 | 0.03 | 0.63 | 0.62 | 0.63 | 0.62 | XXX
93979 | TC | A | Vascular study | 0.00 | 4.23 | 3.35 | NA | NA | 0.24 | 4.47 | 3.59 | NA | NA | XXX
93980 |  | A | Penile vascular study | 1.25 | 3.49 | 3.01 | NA | NA | 0.42 | 5.16 | 4.68 | NA | NA | XXX
93980 | 26 | A | Penile vascular study | 1.25 | 0.44 | 0.42 | 0.44 | 0.42 | 0.08 | 1.77 | 1.75 | 1.77 | 1.75 | XXX
93980 | TC | A | Penile vascular study | 0.00 | 3.05 | 2.59 | NA | NA | 0.34 | 3.39 | 2.93 | NA | NA | XXX
93981 |  | A | Penile vascular study | 0.44 | 2.88 | 2.87 | NA | NA | 0.33 | 3.65 | 3.64 | NA | NA | XXX
93981 | 26 | A | Penile vascular study | 0.44 | 0.16 | 0.15 | 0.16 | 0.15 | 0.02 | 0.62 | 0.61 | 0.62 | 0.61 | XXX
93981 | TC | A | Penile vascular study | 0.00 | 2.71 | 2.73 | NA | NA | 0.31 | 3.02 | 3.04 | NA | NA | XXX
93990 |  | A | Doppler flow testing | 0.25 | 5.34 | 4.33 | NA | NA | 0.26 | 5.85 | 4.84 | NA | NA | XXX
93990 | 26 | A | Doppler flow testing | 0.25 | 0.07 | 0.09 | 0.07 | 0.09 | 0.03 | 0.35 | 0.37 | 0.35 | 0.37 | XXX
93990 | TC | A | Doppler flow testing | 0.00 | 5.27 | 4.24 | NA | NA | 0.23 | 5.50 | 4.47 | NA | NA | XXX
94010 |  | A | Breathing capacity test | 0.17 | 0.74 | 0.69 | NA | NA | 0.03 | 0.94 | 0.89 | NA | NA | XXX
94010 | 26 | A | Breathing capacity test | 0.17 | 0.04 | 0.05 | 0.04 | 0.05 | 0.01 | 0.22 | 0.23 | 0.22 | 0.23 | XXX
94010 | TC | A | Breathing capacity test | 0.00 | 0.70 | 0.64 | NA | NA | 0.02 | 0.72 | 0.66 | NA | NA | XXX
94014 |  | A | Patient recorded spirometry | 0.52 | 0.93 | 0.80 | 0.93 | 0.80 | 0.03 | 1.48 | 1.35 | 1.48 | 1.35 | XXX
94015 |  | A | Patient recorded spirometry | 0.00 | 0.76 | 0.63 | NA | NA | 0.01 | 0.77 | 0.64 | NA | NA | XXX
94016 |  | A | Review patient spirometry | 0.52 | 0.17 | 0.17 | 0.17 | 0.17 | 0.02 | 0.71 | 0.71 | 0.71 | 0.71 | XXX
94060 |  | A | Evaluation of wheezing | 0.31 | 1.32 | 1.13 | 1.32 | 1.13 | 0.07 | 1.70 | 1.51 | 1.70 | 1.51 | XXX
94060 | 26 | A | Evaluation of wheezing | 0.31 | 0.08 | 0.09 | 0.08 | 0.09 | 0.01 | 0.40 | 0.41 | 0.40 | 0.41 | XXX
94060 | TC | A | Evaluation of wheezing | 0.00 | 1.24 | 1.05 | 1.24 | 1.05 | 0.06 | 1.30 | 1.11 | 1.30 | 1.11 | XXX
94070 |  | A | Evaluation of wheezing | 0.60 | 1.01 | 0.87 | NA | NA | 0.13 | 1.74 | 1.60 | NA | NA | XXX
94070 | 26 | A | Evaluation of wheezing | 0.60 | 0.15 | 0.17 | 0.15 | 0.17 | 0.03 | 0.78 | 0.80 | 0.78 | 0.80 | XXX
94070 | TC | A | Evaluation of wheezing | 0.00 | 0.85 | 0.69 | NA | NA | 0.10 | 0.95 | 0.79 | NA | NA | XXX
94150 |  | B | Vital capacity test | 0.07 | 0.48 | 0.47 | NA | NA | 0.02 | 0.57 | 0.56 | NA | NA | XXX
94150 | 26 | B | Vital capacity test | 0.07 | 0.02 | 0.03 | 0.02 | 0.03 | 0.01 | 0.10 | 0.11 | 0.10 | 0.11 | XXX
94150 | TC | B | Vital capacity test | 0.00 | 0.47 | 0.45 | NA | NA | 0.01 | 0.48 | 0.46 | NA | NA | XXX
94200 |  | A | Lung function test (MBC/MVV) | 0.11 | 0.51 | 0.46 | NA | NA | 0.03 | 0.65 | 0.60 | NA | NA | XXX
94200 | 26 | A | Lung function test (MBC/MVV) | 0.11 | 0.03 | 0.03 | 0.03 | 0.03 | 0.01 | 0.15 | 0.15 | 0.15 | 0.15 | XXX
94200 | TC | A | Lung function test (MBC/MVV) | 0.00 | 0.48 | 0.43 | NA | NA | 0.02 | 0.50 | 0.45 | NA | NA | XXX
94240 |  | A | Residual lung capacity | 0.26 | 0.84 | 0.71 | NA | NA | 0.06 | 1.16 | 1.03 | NA | NA | XXX
94240 | 26 | A | Residual lung capacity | 0.26 | 0.07 | 0.08 | 0.07 | 0.08 | 0.01 | 0.34 | 0.35 | 0.34 | 0.35 | XXX
94240 | TC | A | Residual lung capacity | 0.00 | 0.77 | 0.63 | NA | NA | 0.05 | 0.82 | 0.68 | NA | NA | XXX
94250 |  | A | Expired gas collection | 0.11 | 0.57 | 0.62 | NA | NA | 0.02 | 0.70 | 0.75 | NA | NA | XXX
94250 | 26 | A | Expired gas collection | 0.11 | 0.04 | 0.03 | 0.04 | 0.03 | 0.01 | 0.16 | 0.15 | 0.16 | 0.15 | XXX
94250 | TC | A | Expired gas collection | 0.00 | 0.53 | 0.59 | NA | NA | 0.01 | 0.54 | 0.60 | NA | NA | XXX
94260 |  | A | Thoracic gas volume | 0.13 | 0.77 | 0.63 | NA | NA | 0.05 | 0.95 | 0.81 | NA | NA | XXX
94260 | 26 | A | Thoracic gas volume | 0.13 | 0.03 | 0.04 | 0.03 | 0.04 | 0.01 | 0.17 | 0.18 | 0.17 | 0.18 | XXX
94260 | TC | A | Thoracic gas volume | 0.00 | 0.74 | 0.59 | NA | NA | 0.04 | 0.78 | 0.63 | NA | NA | XXX
94350 |  | A | Lung nitrogen washout curve | 0.26 | 0.67 | 0.74 | NA | NA | 0.05 | 0.98 | 1.05 | NA | NA | XXX
94350 | 26 | A | Lung nitrogen washout curve | 0.26 | 0.08 | 0.08 | 0.08 | 0.08 | 0.01 | 0.35 | 0.35 | 0.35 | 0.35 | XXX
94350 | TC | A | Lung nitrogen washout curve | 0.00 | 0.59 | 0.66 | NA | NA | 0.04 | 0.63 | 0.70 | NA | NA | XXX
94360 |  | A | Measure airflow resistance | 0.26 | 0.99 | 0.77 | NA | NA | 0.07 | 1.32 | 1.10 | NA | NA | XXX
94360 | 26 | A | Measure airflow resistance | 0.26 | 0.07 | 0.08 | 0.07 | 0.08 | 0.01 | 0.34 | 0.35 | 0.34 | 0.35 | XXX
94360 | TC | A | Measure airflow resistance | 0.00 | 0.92 | 0.70 | NA | NA | 0.06 | 0.98 | 0.76 | NA | NA | XXX
94370 |  | A | Breath airway closing volume | 0.26 | 0.67 | 0.71 | NA | NA | 0.03 | 0.96 | 1.00 | NA | NA | XXX
94370 | 26 | A | Breath airway closing volume | 0.26 | 0.09 | 0.08 | 0.09 | 0.08 | 0.01 | 0.36 | 0.35 | 0.36 | 0.35 | XXX
94370 | TC | A | Breath airway closing volume | 0.00 | 0.58 | 0.63 | NA | NA | 0.02 | 0.60 | 0.65 | NA | NA | XXX
94375 |  | A | Respiratory flow volume loop | 0.31 | 0.75 | 0.64 | NA | NA | 0.03 | 1.09 | 0.98 | NA | NA | XXX
94375 | 26 | A | Respiratory flow volume loop | 0.31 | 0.08 | 0.09 | 0.08 | 0.09 | 0.01 | 0.40 | 0.41 | 0.40 | 0.41 | XXX
94375 | TC | A | Respiratory flow volume loop | 0.00 | 0.66 | 0.55 | NA | NA | 0.02 | 0.68 | 0.57 | NA | NA | XXX
94400 |  | A | CO2 breathing response curve | 0.40 | 1.03 | 0.89 | NA | NA | 0.09 | 1.52 | 1.38 | NA | NA | XXX
94400 | 26 | A | CO2 breathing response curve | 0.40 | 0.10 | 0.12 | 0.10 | 0.12 | 0.03 | 0.53 | 0.55 | 0.53 | 0.55 | XXX
94400 | TC | A | CO2 breathing response curve | 0.00 | 0.93 | 0.77 | NA | NA | 0.06 | 0.99 | 0.83 | NA | NA | XXX
94450 |  | A | Hypoxia response curve | 0.40 | 1.03 | 0.90 | NA | NA | 0.04 | 1.47 | 1.34 | NA | NA | XXX
94450 | 26 | A | Hypoxia response curve | 0.40 | 0.09 | 0.11 | 0.09 | 0.11 | 0.02 | 0.51 | 0.53 | 0.51 | 0.53 | XXX
94450 | TC | A | Hypoxia response curve | 0.00 | 0.95 | 0.79 | NA | NA | 0.02 | 0.97 | 0.81 | NA | NA | XXX
94452 |  | A | Hast w/report | 0.31 | 1.21 | 1.07 | NA | NA | 0.04 | 1.56 | 1.42 | NA | NA | XXX
94452 | 26 | A | Hast w/report | 0.31 | 0.09 | 0.09 | 0.09 | 0.09 | 0.02 | 0.42 | 0.42 | 0.42 | 0.42 | XXX
94452 | TC | A | Hast w/report | 0.00 | 1.12 | 0.98 | NA | NA | 0.02 | 1.14 | 1.00 | NA | NA | XXX
94453 |  | A | Hast w/oxygen titrate | 0.40 | 1.69 | 1.56 | NA | NA | 0.04 | 2.13 | 2.00 | NA | NA | XXX
94453 | 26 | A | Hast w/oxygen titrate | 0.40 | 0.11 | 0.12 | 0.11 | 0.12 | 0.02 | 0.53 | 0.54 | 0.53 | 0.54 | XXX
94453 | TC | A | Hast w/oxygen titrate | 0.00 | 1.58 | 1.44 | NA | NA | 0.02 | 1.60 | 1.46 | NA | NA | XXX
94620 |  | A | Pulmonary stress test/simple | 0.64 | 0.88 | 2.09 | NA | NA | 0.13 | 1.65 | 2.86 | NA | NA | XXX
94620 | 26 | A | Pulmonary stress test/simple | 0.64 | 0.20 | 0.20 | 0.20 | 0.20 | 0.03 | 0.87 | 0.87 | 0.87 | 0.87 | XXX
94620 | TC | A | Pulmonary stress test/simple | 0.00 | 0.68 | 1.89 | NA | NA | 0.10 | 0.78 | 1.99 | NA | NA | XXX
94621 |  | A | Pulm stress test/complex | 1.42 | 3.18 | 2.45 | NA | NA | 0.16 | 4.76 | 4.03 | NA | NA | XXX
94621 | 26 | A | Pulm stress test/complex | 1.42 | 0.45 | 0.44 | 0.45 | 0.44 | 0.06 | 1.93 | 1.92 | 1.93 | 1.92 | XXX
94621 | TC | A | Pulm stress test/complex | 0.00 | 2.73 | 2.00 | NA | NA | 0.10 | 2.83 | 2.10 | NA | NA | XXX
94640 |  | A | Airway inhalation treatment | 0.00 | 0.37 | 0.32 | NA | NA | 0.02 | 0.39 | 0.34 | NA | NA | XXX
94642 |  | C | Aerosol inhalation treatment | 0.00 | 0.00 | 0.00 | 0.00 | 0.00 | 0.00 | 0.00 | 0.00 | 0.00 | 0.00 | XXX
94656 |  | A | Initial ventilator mgmt | 1.22 | 1.12 | 1.15 | 0.24 | 0.30 | 0.06 | 2.40 | 2.43 | 1.52 | 1.58 | XXX
94657 |  | A | Continued ventilator mgmt | 0.83 | 1.15 | 1.02 | 0.19 | 0.24 | 0.04 | 2.02 | 1.89 | 1.06 | 1.11 | XXX
94660 |  | A | Pos airway pressure, CPAP | 0.76 | 0.82 | 0.69 | 0.20 | 0.22 | 0.04 | 1.62 | 1.49 | 1.00 | 1.02 | XXX
94662 |  | A | Neg press ventilation, cnp | 0.76 | NA | NA | 0.18 | 0.22 | 0.03 | NA | NA | 0.97 | 1.01 | XXX
94664 |  | A | Evaluate pt use of inhaler | 0.00 | 0.40 | 0.33 | NA | NA | 0.04 | 0.44 | 0.37 | NA | NA | XXX
94667 |  | A | Chest wall manipulation | 0.00 | 0.55 | 0.53 | NA | NA | 0.05 | 0.60 | 0.58 | NA | NA | XXX
94668 |  | A | Chest wall manipulation | 0.00 | 0.51 | 0.47 | NA | NA | 0.02 | 0.53 | 0.49 | NA | NA | XXX
94680 |  | A | Exhaled air analysis, o2 | 0.26 | 1.11 | 1.67 | 1.11 | 1.67 | 0.07 | 1.44 | 2.00 | 1.44 | 2.00 | XXX
94680 | 26 | A | Exhaled air analysis, o2 | 0.26 | 0.07 | 0.08 | 0.07 | 0.08 | 0.01 | 0.34 | 0.35 | 0.34 | 0.35 | XXX
94680 | TC | A | Exhaled air analysis, o2 | 0.00 | 1.04 | 1.60 | 1.04 | 1.60 | 0.06 | 1.10 | 1.66 | 1.10 | 1.66 | XXX
94681 |  | A | Exhaled air analysis, o2/co2 | 0.20 | 1.10 | 2.17 | NA | NA | 0.13 | 1.43 | 2.50 | NA | NA | XXX
94681 | 26 | A | Exhaled air analysis, o2/co2 | 0.20 | 0.05 | 0.06 | 0.05 | 0.06 | 0.01 | 0.26 | 0.27 | 0.26 | 0.27 | XXX
94681 | TC | A | Exhaled air analysis, o2/co2 | 0.00 | 1.04 | 2.11 | NA | NA | 0.12 | 1.16 | 2.23 | NA | NA | XXX
94690 |  | A | Exhaled air analysis | 0.07 | 0.89 | 1.72 | NA | NA | 0.05 | 1.01 | 1.84 | NA | NA | XXX
94690 | 26 | A | Exhaled air analysis | 0.07 | 0.02 | 0.02 | 0.02 | 0.02 | 0.01 | 0.10 | 0.10 | 0.10 | 0.10 | XXX
94690 | TC | A | Exhaled air analysis | 0.00 | 0.87 | 1.70 | NA | NA | 0.04 | 0.91 | 1.74 | NA | NA | XXX
94720 |  | A | Monoxide diffusing capacity | 0.26 | 1.18 | 1.05 | NA | NA | 0.07 | 1.51 | 1.38 | NA | NA | XXX
94720 | 26 | A | Monoxide diffusing capacity | 0.26 | 0.06 | 0.08 | 0.06 | 0.08 | 0.01 | 0.33 | 0.35 | 0.33 | 0.35 | XXX
94720 | TC | A | Monoxide diffusing capacity | 0.00 | 1.11 | 0.97 | NA | NA | 0.06 | 1.17 | 1.03 | NA | NA | XXX
94725 |  | A | Membrane diffusion capacity | 0.26 | 1.10 | 2.46 | NA | NA | 0.13 | 1.49 | 2.85 | NA | NA | XXX
94725 | 26 | A | Membrane diffusion capacity | 0.26 | 0.09 | 0.08 | 0.09 | 0.08 | 0.01 | 0.36 | 0.35 | 0.36 | 0.35 | XXX
94725 | TC | A | Membrane diffusion capacity | 0.00 | 1.01 | 2.38 | NA | NA | 0.12 | 1.13 | 2.50 | NA | NA | XXX
94750 |  | A | Pulmonary compliance study | 0.23 | 1.90 | 1.48 | NA | NA | 0.05 | 2.18 | 1.76 | NA | NA | XXX
94750 | 26 | A | Pulmonary compliance study | 0.23 | 0.08 | 0.07 | 0.08 | 0.07 | 0.01 | 0.32 | 0.31 | 0.32 | 0.31 | XXX
94750 | TC | A | Pulmonary compliance study | 0.00 | 1.82 | 1.41 | NA | NA | 0.04 | 1.86 | 1.45 | NA | NA | XXX
94760 |  | T | Measure blood oxygen level | 0.00 | 0.06 | 0.05 | NA | NA | 0.02 | 0.08 | 0.07 | NA | NA | XXX
94761 |  | T | Measure blood oxygen level | 0.00 | 0.12 | 0.08 | NA | NA | 0.06 | 0.18 | 0.14 | NA | NA | XXX
94762 |  | A | Measure blood oxygen level | 0.00 | 0.96 | 0.59 | NA | NA | 0.10 | 1.06 | 0.69 | NA | NA | XXX
94770 |  | A | Exhaled carbon dioxide test | 0.15 | 0.85 | 0.78 | NA | NA | 0.08 | 1.08 | 1.01 | NA | NA | XXX
94770 | 26 | A | Exhaled carbon dioxide test | 0.15 | 0.04 | 0.04 | 0.04 | 0.04 | 0.01 | 0.20 | 0.20 | 0.20 | 0.20 | XXX
94770 | TC | A | Exhaled carbon dioxide test | 0.00 | 0.81 | 0.74 | NA | NA | 0.07 | 0.88 | 0.81 | NA | NA | XXX
94772 |  | C | Breath recording, infant | 0.00 | 0.00 | 0.00 | 0.00 | 0.00 | 0.00 | 0.00 | 0.00 | 0.00 | 0.00 | XXX
94772 | 26 | C | Breath recording, infant | 0.00 | 0.00 | 0.00 | 0.00 | 0.00 | 0.00 | 0.00 | 0.00 | 0.00 | 0.00 | XXX
94772 | TC | C | Breath recording, infant | 0.00 | 0.00 | 0.00 | 0.00 | 0.00 | 0.00 | 0.00 | 0.00 | 0.00 | 0.00 | XXX
94799 |  | C | Pulmonary service/procedure | 0.00 | 0.00 | 0.00 | 0.00 | 0.00 | 0.00 | 0.00 | 0.00 | 0.00 | 0.00 | XXX
94799 | 26 | C | Pulmonary service/procedure | 0.00 | 0.00 | 0.00 | 0.00 | 0.00 | 0.00 | 0.00 | 0.00 | 0.00 | 0.00 | XXX
94799 | TC | C | Pulmonary service/procedure | 0.00 | 0.00 | 0.00 | 0.00 | 0.00 | 0.00 | 0.00 | 0.00 | 0.00 | 0.00 | XXX
95004 |  | A | Percut allergy skin tests | 0.00 | 0.16 | 0.12 | NA | NA | 0.01 | 0.17 | 0.13 | NA | NA | XXX
95010 |  | A | Percut allergy titrate test | 0.15 | 0.30 | 0.32 | 0.04 | 0.06 | 0.01 | 0.46 | 0.48 | 0.20 | 0.22 | XXX
95015 |  | A | Id allergy titrate-drug/bug | 0.15 | 0.20 | 0.16 | 0.04 | 0.06 | 0.01 | 0.36 | 0.32 | 0.20 | 0.22 | XXX
95024 |  | A | Id allergy test, drug/bug | 0.00 | 0.21 | 0.17 | NA | NA | 0.01 | 0.22 | 0.18 | NA | NA | XXX
95027 |  | A | Id allergy titrate-airborne | 0.00 | 0.24 | 0.17 | NA | NA | 0.01 | 0.25 | 0.18 | NA | NA | XXX
95028 |  | A | Id allergy test-delayed type | 0.00 | 0.29 | 0.25 | NA | NA | 0.01 | 0.30 | 0.26 | NA | NA | XXX
95044 |  | A | Allergy patch tests | 0.00 | 0.15 | 0.19 | NA | NA | 0.01 | 0.16 | 0.20 | NA | NA | XXX
95052 |  | A | Photo patch test | 0.00 | 0.15 | 0.23 | NA | NA | 0.01 | 0.16 | 0.24 | NA | NA | XXX
95056 |  | A | Photosensitivity tests | 0.00 | 1.18 | 0.42 | NA | NA | 0.01 | 1.19 | 0.43 | NA | NA | XXX
95060 |  | A | Eye allergy tests | 0.00 | 0.75 | 0.45 | NA | NA | 0.02 | 0.77 | 0.47 | NA | NA | XXX
95065 |  | A | Nose allergy test | 0.00 | 0.67 | 0.32 | NA | NA | 0.01 | 0.68 | 0.33 | NA | NA | XXX
95070 |  | A | Bronchial allergy tests | 0.00 | 0.80 | 1.91 | NA | NA | 0.02 | 0.82 | 1.93 | NA | NA | XXX
95071 |  | A | Bronchial allergy tests | 0.00 | 0.89 | 2.41 | NA | NA | 0.02 | 0.91 | 2.43 | NA | NA | XXX
95075 |  | A | Ingestion challenge test | 0.95 | 0.67 | 0.78 | 0.25 | 0.35 | 0.03 | 1.65 | 1.76 | 1.23 | 1.33 | XXX
95078 |  | A | Provocative testing | 0.00 | 0.33 | 0.27 | NA | NA | 0.02 | 0.35 | 0.29 | NA | NA | XXX
95115 |  | A | Immunotherapy, one injection | 0.00 | 0.22 | 0.35 | 0.00 | 0.29 | 0.02 | 0.24 | 0.37 | 0.02 | 0.31 | XXX
95117 |  | A | Immunotherapy injections | 0.00 | 0.27 | 0.44 | 0.00 | 0.38 | 0.02 | 0.29 | 0.46 | 0.02 | 0.40 | XXX
95144 |  | A | Antigen therapy services | 0.06 | 0.26 | 0.21 | 0.02 | 0.02 | 0.01 | 0.33 | 0.28 | 0.09 | 0.09 | XXX
95145 |  | A | Antigen therapy services | 0.06 | 0.35 | 0.33 | 0.02 | 0.02 | 0.01 | 0.42 | 0.40 | 0.09 | 0.09 | XXX
95146 |  | A | Antigen therapy services | 0.06 | 0.66 | 0.50 | 0.02 | 0.03 | 0.01 | 0.73 | 0.57 | 0.09 | 0.10 | XXX
95147 |  | A | Antigen therapy services | 0.06 | 0.64 | 0.48 | 0.02 | 0.02 | 0.01 | 0.71 | 0.55 | 0.09 | 0.09 | XXX
95148 |  | A | Antigen therapy services | 0.06 | 0.94 | 0.67 | 0.02 | 0.03 | 0.01 | 1.01 | 0.74 | 0.09 | 0.10 | XXX
95149 |  | A | Antigen therapy services | 0.06 | 1.25 | 0.91 | 0.02 | 0.03 | 0.01 | 1.32 | 0.98 | 0.09 | 0.10 | XXX
95165 |  | A | Antigen therapy services | 0.06 | 0.25 | 0.21 | 0.02 | 0.02 | 0.01 | 0.32 | 0.28 | 0.09 | 0.09 | XXX
95170 |  | A | Antigen therapy services | 0.06 | 0.20 | 0.15 | 0.02 | 0.03 | 0.01 | 0.27 | 0.22 | 0.09 | 0.10 | XXX
95180 |  | A | Rapid desensitization | 2.01 | 1.57 | 1.92 | 0.71 | 0.88 | 0.04 | 3.62 | 3.97 | 2.76 | 2.93 | XXX
95199 |  | C | Allergy immunology services | 0.00 | 0.00 | 0.00 | 0.00 | 0.00 | 0.00 | 0.00 | 0.00 | 0.00 | 0.00 | XXX
95250 |  | A | Glucose monitoring, cont | 0.00 | 3.53 | 3.96 | NA | NA | 0.01 | 3.54 | 3.97 | NA | NA | XXX
95251 |  | A | Gluc monitor, cont, phys i&r | 0.52 | 0.16 | 0.18 | 0.16 | 0.18 | 0.02 | 0.70 | 0.72 | 0.70 | 0.72 | XXX
95805 |  | A | Multiple sleep latency test | 1.88 | 7.27 | 14.76 | NA | NA | 0.43 | 9.58 | 17.07 | NA | NA | XXX
95805 | 26 | A | Multiple sleep latency test | 1.88 | 0.51 | 0.62 | 0.51 | 0.62 | 0.09 | 2.48 | 2.59 | 2.48 | 2.59 | XXX
95805 | TC | A | Multiple sleep latency test | 0.00 | 6.76 | 14.14 | NA | NA | 0.34 | 7.10 | 14.48 | NA | NA | XXX
95806 |  | A | Sleep study, unattended | 1.66 | 4.02 | 3.50 | NA | NA | 0.39 | 6.07 | 5.55 | NA | NA | XXX
95806 | 26 | A | Sleep study, unattended | 1.66 | 0.50 | 0.53 | 0.50 | 0.53 | 0.08 | 2.24 | 2.27 | 2.24 | 2.27 | XXX
95806 | TC | A | Sleep study, unattended | 0.00 | 3.52 | 2.97 | NA | NA | 0.31 | 3.83 | 3.28 | NA | NA | XXX
95807 |  | A | Sleep study, attended | 1.66 | 12.81 | 12.09 | NA | NA | 0.50 | 14.97 | 14.25 | NA | NA | XXX
95807 | 26 | A | Sleep study, attended | 1.66 | 0.51 | 0.53 | 0.51 | 0.53 | 0.08 | 2.25 | 2.27 | 2.25 | 2.27 | XXX
95807 | TC | A | Sleep study, attended | 0.00 | 12.30 | 11.57 | NA | NA | 0.42 | 12.72 | 11.99 | NA | NA | XXX
95808 |  | A | Polysomnography, 1-3 | 2.65 | 15.72 | 13.82 | NA | NA | 0.55 | 18.92 | 17.02 | NA | NA | XXX
95808 | 26 | A | Polysomnography, 1-3 | 2.65 | 0.69 | 0.86 | 0.69 | 0.86 | 0.13 | 3.47 | 3.64 | 3.47 | 3.64 | XXX
95808 | TC | A | Polysomnography, 1-3 | 0.00 | 15.03 | 12.96 | NA | NA | 0.42 | 15.45 | 13.38 | NA | NA | XXX
95810 |  | A | Polysomnography, 4 or more | 3.52 | 18.60 | 17.77 | NA | NA | 0.59 | 22.71 | 21.88 | NA | NA | XXX
95810 | 26 | A | Polysomnography, 4 or more | 3.52 | 0.98 | 1.13 | 0.98 | 1.13 | 0.17 | 4.67 | 4.82 | 4.67 | 4.82 | XXX
95810 | TC | A | Polysomnography, 4 or more | 0.00 | 17.62 | 16.64 | NA | NA | 0.42 | 18.04 | 17.06 | NA | NA | XXX
95811 |  | A | Polysomnography w/cpap | 3.79 | 20.70 | 19.56 | NA | NA | 0.61 | 25.10 | 23.96 | NA | NA | XXX
95811 | 26 | A | Polysomnography w/cpap | 3.79 | 1.05 | 1.22 | 1.05 | 1.22 | 0.18 | 5.02 | 5.19 | 5.02 | 5.19 | XXX
95811 | TC | A | Polysomnography w/cpap | 0.00 | 19.66 | 18.36 | NA | NA | 0.43 | 20.09 | 18.79 | NA | NA | XXX
95812 |  | A | Eeg, 41-60 minutes | 1.08 | 5.90 | 4.50 | NA | NA | 0.17 | 7.15 | 5.75 | NA | NA | XXX
95812 | 26 | A | Eeg, 41-60 minutes | 1.08 | 0.31 | 0.42 | 0.31 | 0.42 | 0.06 | 1.45 | 1.56 | 1.45 | 1.56 | XXX
95812 | TC | A | Eeg, 41-60 minutes | 0.00 | 5.59 | 4.08 | NA | NA | 0.11 | 5.70 | 4.19 | NA | NA | XXX
95813 |  | A | Eeg, over 1 hour | 1.73 | 6.64 | 5.43 | NA | NA | 0.20 | 8.57 | 7.36 | NA | NA | XXX
95813 | 26 | A | Eeg, over 1 hour | 1.73 | 0.50 | 0.65 | 0.50 | 0.65 | 0.09 | 2.32 | 2.47 | 2.32 | 2.47 | XXX
95813 | TC | A | Eeg, over 1 hour | 0.00 | 6.14 | 4.78 | NA | NA | 0.11 | 6.25 | 4.89 | NA | NA | XXX
95816 |  | A | Eeg, awake and drowsy | 1.08 | 5.30 | 4.11 | NA | NA | 0.16 | 6.54 | 5.35 | NA | NA | XXX
95816 | 26 | A | Eeg, awake and drowsy | 1.08 | 0.30 | 0.42 | 0.30 | 0.42 | 0.06 | 1.44 | 1.56 | 1.44 | 1.56 | XXX
95816 | TC | A | Eeg, awake and drowsy | 0.00 | 4.99 | 3.69 | NA | NA | 0.10 | 5.09 | 3.79 | NA | NA | XXX
95819 |  | A | Eeg, awake and asleep | 1.08 | 6.15 | 3.77 | NA | NA | 0.16 | 7.39 | 5.01 | NA | NA | XXX
95819 | 26 | A | Eeg, awake and asleep | 1.08 | 0.30 | 0.42 | 0.30 | 0.42 | 0.06 | 1.44 | 1.56 | 1.44 | 1.56 | XXX
95819 | TC | A | Eeg, awake and asleep | 0.00 | 5.84 | 3.35 | NA | NA | 0.10 | 5.94 | 3.45 | NA | NA | XXX
95822 |  | A | Eeg, coma or sleep only | 1.08 | 5.53 | 4.83 | NA | NA | 0.19 | 6.80 | 6.10 | NA | NA | XXX
95822 | 26 | A | Eeg, coma or sleep only | 1.08 | 0.30 | 0.42 | 0.30 | 0.42 | 0.06 | 1.44 | 1.56 | 1.44 | 1.56 | XXX
95822 | TC | A | Eeg, coma or sleep only | 0.00 | 5.23 | 4.41 | NA | NA | 0.13 | 5.36 | 4.54 | NA | NA | XXX
95824 |  | C | Eeg, cerebral death only | 0.00 | 0.00 | 0.00 | 0.00 | 0.00 | 0.00 | 0.00 | 0.00 | 0.00 | 0.00 | XXX
95824 | 26 | A | Eeg, cerebral death only | 0.74 | 0.21 | 0.29 | 0.21 | 0.29 | 0.04 | 0.99 | 1.07 | 0.99 | 1.07 | XXX
95824 | TC | C | Eeg, cerebral death only | 0.00 | 0.00 | 0.00 | 0.00 | 0.00 | 0.00 | 0.00 | 0.00 | 0.00 | 0.00 | XXX
95827 |  | A | Eeg, all night recording | 1.08 | 11.57 | 4.92 | NA | NA | 0.19 | 12.84 | 6.19 | NA | NA | XXX
95827 | 26 | A | Eeg, all night recording | 1.08 | 0.29 | 0.38 | 0.29 | 0.38 | 0.05 | 1.42 | 1.51 | 1.42 | 1.51 | XXX
95827 | TC | A | Eeg, all night recording | 0.00 | 11.28 | 4.54 | NA | NA | 0.14 | 11.42 | 4.68 | NA | NA | XXX
95829 |  | A | Surgery electrocorticogram | 6.20 | 25.44 | 29.61 | NA | NA | 0.50 | 32.14 | 36.31 | NA | NA | XXX
95829 | 26 | A | Surgery electrocorticogram | 6.20 | 1.79 | 2.18 | 1.79 | 2.18 | 0.48 | 8.47 | 8.86 | 8.47 | 8.86 | XXX
95829 | TC | A | Surgery electrocorticogram | 0.00 | 23.65 | 27.43 | NA | NA | 0.02 | 23.67 | 27.45 | NA | NA | XXX
95830 |  | A | Insert electrodes for EEG | 1.70 | 2.99 | 3.22 | 0.42 | 0.65 | 0.11 | 4.80 | 5.03 | 2.23 | 2.46 | XXX
95831 |  | A | Limb muscle testing, manual | 0.28 | 0.39 | 0.44 | 0.09 | 0.12 | 0.01 | 0.68 | 0.73 | 0.38 | 0.41 | XXX
95832 |  | A | Hand muscle testing, manual | 0.29 | 0.37 | 0.34 | 0.10 | 0.12 | 0.02 | 0.68 | 0.65 | 0.41 | 0.43 | XXX
95833 |  | A | Body muscle testing, manual | 0.47 | 0.47 | 0.55 | 0.13 | 0.21 | 0.02 | 0.96 | 1.04 | 0.62 | 0.70 | XXX
95834 |  | A | Body muscle testing, manual | 0.60 | 0.55 | 0.61 | 0.18 | 0.26 | 0.03 | 1.18 | 1.24 | 0.81 | 0.89 | XXX
95851 |  | A | Range of motion measurements | 0.16 | 0.26 | 0.34 | 0.04 | 0.07 | 0.01 | 0.43 | 0.51 | 0.21 | 0.24 | XXX
95852 |  | A | Range of motion measurements | 0.11 | 0.21 | 0.25 | 0.03 | 0.05 | 0.01 | 0.33 | 0.37 | 0.15 | 0.17 | XXX
95857 |  | A | Tensilon test | 0.53 | 0.59 | 0.60 | 0.16 | 0.21 | 0.02 | 1.14 | 1.15 | 0.71 | 0.76 | XXX
95860 |  | A | Muscle test, one limb | 0.96 | 1.16 | 1.36 | NA | NA | 0.07 | 2.19 | 2.39 | NA | NA | XXX
95860 | 26 | A | Muscle test, one limb | 0.96 | 0.32 | 0.40 | 0.32 | 0.40 | 0.05 | 1.33 | 1.41 | 1.33 | 1.41 | XXX
95860 | TC | A | Muscle test, one limb | 0.00 | 0.84 | 0.96 | NA | NA | 0.02 | 0.86 | 0.98 | NA | NA | XXX
95861 |  | A | Muscle test, 2 limbs | 1.54 | 1.67 | 1.48 | NA | NA | 0.13 | 3.34 | 3.15 | NA | NA | XXX
95861 | 26 | A | Muscle test, 2 limbs | 1.54 | 0.51 | 0.64 | 0.51 | 0.64 | 0.07 | 2.12 | 2.25 | 2.12 | 2.25 | XXX
95861 | TC | A | Muscle test, 2 limbs | 0.00 | 1.16 | 0.84 | NA | NA | 0.06 | 1.22 | 0.90 | NA | NA | XXX
95863 |  | A | Muscle test, 3 limbs | 1.87 | 1.94 | 1.78 | NA | NA | 0.15 | 3.96 | 3.80 | NA | NA | XXX
95863 | 26 | A | Muscle test, 3 limbs | 1.87 | 0.58 | 0.75 | 0.58 | 0.75 | 0.09 | 2.54 | 2.71 | 2.54 | 2.71 | XXX
95863 | TC | A | Muscle test, 3 limbs | 0.00 | 1.36 | 1.05 | NA | NA | 0.06 | 1.42 | 1.11 | NA | NA | XXX
95864 |  | A | Muscle test, 4 limbs | 1.99 | 2.20 | 2.54 | NA | NA | 0.21 | 4.40 | 4.74 | NA | NA | XXX
95864 | 26 | A | Muscle test, 4 limbs | 1.99 | 0.63 | 0.81 | 0.63 | 0.81 | 0.09 | 2.71 | 2.89 | 2.71 | 2.89 | XXX
95864 | TC | A | Muscle test, 4 limbs | 0.00 | 1.57 | 1.73 | NA | NA | 0.12 | 1.69 | 1.85 | NA | NA | XXX
95865 |  | A | Muscle test, larynx | 1.57 | 1.34 | 1.42 | NA | NA | 0.11 | 3.02 | 3.10 | NA | NA | XXX
95865 | 26 | A | Muscle test, larynx | 1.57 | 0.46 | 0.69 | 0.46 | 0.69 | 0.08 | 2.11 | 2.34 | 2.11 | 2.34 | XXX
95865 | TC | A | Muscle test, larynx | 0.00 | 0.88 | 0.73 | NA | NA | 0.03 | 0.91 | 0.76 | NA | NA | XXX
95866 |  | A | Muscle test, hemidiaphragm | 1.25 | 1.34 | 0.91 | NA | NA | 0.10 | 2.69 | 2.26 | NA | NA | XXX
95866 | 26 | A | Muscle test, hemidiaphragm | 1.25 | 0.40 | 0.52 | 0.40 | 0.52 | 0.07 | 1.72 | 1.84 | 1.72 | 1.84 | XXX
95866 | TC | A | Muscle test, hemidiaphragm | 0.00 | 0.94 | 0.39 | NA | NA | 0.03 | 0.97 | 0.42 | NA | NA | XXX
95867 |  | A | Muscle test cran nerv unilat | 0.79 | 1.12 | 0.98 | NA | NA | 0.07 | 1.98 | 1.84 | NA | NA | XXX
95867 | 26 | A | Muscle test cran nerv unilat | 0.79 | 0.23 | 0.32 | 0.23 | 0.32 | 0.03 | 1.05 | 1.14 | 1.05 | 1.14 | XXX
95867 | TC | A | Muscle test cran nerv unilat | 0.00 | 0.89 | 0.66 | NA | NA | 0.04 | 0.93 | 0.70 | NA | NA | XXX
95868 |  | A | Muscle test cran nerve bilat | 1.18 | 1.43 | 1.27 | NA | NA | 0.10 | 2.71 | 2.55 | NA | NA | XXX
95868 | 26 | A | Muscle test cran nerve bilat | 1.18 | 0.35 | 0.47 | 0.35 | 0.47 | 0.05 | 1.58 | 1.70 | 1.58 | 1.70 | XXX
95868 | TC | A | Muscle test cran nerve bilat | 0.00 | 1.08 | 0.80 | NA | NA | 0.05 | 1.13 | 0.85 | NA | NA | XXX
95869 |  | A | Muscle test, thor paraspinal | 0.37 | 1.03 | 0.54 | NA | NA | 0.04 | 1.44 | 0.95 | NA | NA | XXX
95869 | 26 | A | Muscle test, thor paraspinal | 0.37 | 0.12 | 0.15 | 0.12 | 0.15 | 0.02 | 0.51 | 0.54 | 0.51 | 0.54 | XXX
95869 | TC | A | Muscle test, thor paraspinal | 0.00 | 0.91 | 0.39 | NA | NA | 0.02 | 0.93 | 0.41 | NA | NA | XXX
95870 |  | A | Muscle test, nonparaspinal | 0.37 | 1.00 | 0.53 | NA | NA | 0.04 | 1.41 | 0.94 | NA | NA | XXX
95870 | 26 | A | Muscle test, nonparaspinal | 0.37 | 0.12 | 0.15 | 0.12 | 0.15 | 0.02 | 0.51 | 0.54 | 0.51 | 0.54 | XXX
95870 | TC | A | Muscle test, nonparaspinal | 0.00 | 0.88 | 0.38 | NA | NA | 0.02 | 0.90 | 0.40 | NA | NA | XXX
95872 |  | A | Muscle test, one fiber | 2.00 | 1.42 | 1.28 | NA | NA | 0.13 | 3.55 | 3.41 | NA | NA | XXX
95872 | 26 | A | Muscle test, one fiber | 2.00 | 0.65 | 0.64 | 0.65 | 0.64 | 0.08 | 2.73 | 2.72 | 2.73 | 2.72 | XXX
95872 | TC | A | Muscle test, one fiber | 0.00 | 0.78 | 0.65 | NA | NA | 0.05 | 0.83 | 0.70 | NA | NA | XXX
95873 |  | A | Guide nerv destr, elec stim | 0.37 | 0.95 | 0.51 | 0.95 | 0.51 | 0.04 | 1.36 | 0.92 | 1.36 | 0.92 | ZZZ
95873 | 26 | A | Guide nerv destr, elec stim | 0.37 | 0.12 | 0.15 | 0.12 | 0.15 | 0.02 | 0.51 | 0.54 | 0.51 | 0.54 | ZZZ
95873 | TC | A | Guide nerv destr, elec stim | 0.00 | 0.83 | 0.36 | 0.83 | 0.36 | 0.02 | 0.85 | 0.38 | 0.85 | 0.38 | ZZZ
95874 |  | A | Guide nerv destr, needle emg | 0.37 | 0.96 | 0.52 | 0.96 | 0.52 | 0.04 | 1.37 | 0.93 | 1.37 | 0.93 | ZZZ
95874 | 26 | A | Guide nerv destr, needle emg | 0.37 | 0.12 | 0.16 | 0.12 | 0.16 | 0.02 | 0.51 | 0.55 | 0.51 | 0.55 | ZZZ
95874 | TC | A | Guide nerv destr, needle emg | 0.00 | 0.84 | 0.36 | 0.84 | 0.36 | 0.02 | 0.86 | 0.38 | 0.86 | 0.38 | ZZZ
95875 |  | A | Limb exercise test | 1.10 | 1.31 | 1.42 | NA | NA | 0.11 | 2.52 | 2.63 | NA | NA | XXX
95875 | 26 | A | Limb exercise test | 1.10 | 0.31 | 0.43 | 0.31 | 0.43 | 0.05 | 1.46 | 1.58 | 1.46 | 1.58 | XXX
95875 | TC | A | Limb exercise test | 0.00 | 1.00 | 0.99 | NA | NA | 0.06 | 1.06 | 1.05 | NA | NA | XXX
95900 |  | A | Motor nerve conduction test | 0.42 | 0.94 | 1.18 | NA | NA | 0.04 | 1.40 | 1.64 | NA | NA | XXX
95900 | 26 | A | Motor nerve conduction test | 0.42 | 0.14 | 0.17 | 0.14 | 0.17 | 0.02 | 0.58 | 0.61 | 0.58 | 0.61 | XXX
95900 | TC | A | Motor nerve conduction test | 0.00 | 0.80 | 1.01 | NA | NA | 0.02 | 0.82 | 1.03 | NA | NA | XXX
95903 |  | A | Motor nerve conduction test | 0.60 | 1.04 | 1.15 | NA | NA | 0.05 | 1.69 | 1.80 | NA | NA | XXX
95903 | 26 | A | Motor nerve conduction test | 0.60 | 0.18 | 0.24 | 0.18 | 0.24 | 0.03 | 0.81 | 0.87 | 0.81 | 0.87 | XXX
95903 | TC | A | Motor nerve conduction test | 0.00 | 0.86 | 0.91 | NA | NA | 0.02 | 0.88 | 0.93 | NA | NA | XXX
95904 |  | A | Sense nerve conduction test | 0.34 | 0.88 | 1.04 | NA | NA | 0.04 | 1.26 | 1.42 | NA | NA | XXX
95904 | 26 | A | Sense nerve conduction test | 0.34 | 0.11 | 0.14 | 0.11 | 0.14 | 0.02 | 0.47 | 0.50 | 0.47 | 0.50 | XXX
95904 | TC | A | Sense nerve conduction test | 0.00 | 0.77 | 0.90 | NA | NA | 0.02 | 0.79 | 0.92 | NA | NA | XXX
95920 |  | A | Intraop nerve test add-on | 2.11 | 1.80 | 2.12 | 1.80 | 2.12 | 0.23 | 4.14 | 4.46 | 4.14 | 4.46 | ZZZ
95920 | 26 | A | Intraop nerve test add-on | 2.11 | 0.66 | 0.86 | 0.66 | 0.86 | 0.16 | 2.93 | 3.13 | 2.93 | 3.13 | ZZZ
95920 | TC | A | Intraop nerve test add-on | 0.00 | 1.14 | 1.27 | 1.14 | 1.27 | 0.07 | 1.21 | 1.34 | 1.21 | 1.34 | ZZZ
95921 |  | A | Autonomic nerv function test | 0.90 | 1.14 | 0.82 | NA | NA | 0.06 | 2.10 | 1.78 | NA | NA | XXX
95921 | 26 | A | Autonomic nerv function test | 0.90 | 0.24 | 0.31 | 0.24 | 0.31 | 0.04 | 1.18 | 1.25 | 1.18 | 1.25 | XXX
95921 | TC | A | Autonomic nerv function test | 0.00 | 0.89 | 0.51 | NA | NA | 0.02 | 0.91 | 0.53 | NA | NA | XXX
95922 |  | A | Autonomic nerv function test | 0.96 | 1.65 | 1.00 | NA | NA | 0.07 | 2.68 | 2.03 | NA | NA | XXX
95922 | 26 | A | Autonomic nerv function test | 0.96 | 0.27 | 0.37 | 0.27 | 0.37 | 0.05 | 1.28 | 1.38 | 1.28 | 1.38 | XXX
95922 | TC | A | Autonomic nerv function test | 0.00 | 1.38 | 0.63 | NA | NA | 0.02 | 1.40 | 0.65 | NA | NA | XXX
95923 |  | A | Autonomic nerv function test | 0.90 | 2.12 | 1.98 | NA | NA | 0.07 | 3.09 | 2.95 | NA | NA | XXX
95923 | 26 | A | Autonomic nerv function test | 0.90 | 0.24 | 0.35 | 0.24 | 0.35 | 0.05 | 1.19 | 1.30 | 1.19 | 1.30 | XXX
95923 | TC | A | Autonomic nerv function test | 0.00 | 1.88 | 1.64 | NA | NA | 0.02 | 1.90 | 1.66 | NA | NA | XXX
95925 |  | A | Somatosensory testing | 0.54 | 3.19 | 1.65 | NA | NA | 0.10 | 3.83 | 2.29 | NA | NA | XXX
95925 | 26 | A | Somatosensory testing | 0.54 | 0.17 | 0.21 | 0.17 | 0.21 | 0.04 | 0.75 | 0.79 | 0.75 | 0.79 | XXX
95925 | TC | A | Somatosensory testing | 0.00 | 3.02 | 1.44 | NA | NA | 0.06 | 3.08 | 1.50 | NA | NA | XXX
95926 |  | A | Somatosensory testing | 0.54 | 3.06 | 1.62 | NA | NA | 0.09 | 3.69 | 2.25 | NA | NA | XXX
95926 | 26 | A | Somatosensory testing | 0.54 | 0.16 | 0.21 | 0.16 | 0.21 | 0.03 | 0.73 | 0.78 | 0.73 | 0.78 | XXX
95926 | TC | A | Somatosensory testing | 0.00 | 2.90 | 1.41 | NA | NA | 0.06 | 2.96 | 1.47 | NA | NA | XXX
95927 |  | A | Somatosensory testing | 0.54 | 3.08 | 1.64 | NA | NA | 0.10 | 3.72 | 2.28 | NA | NA | XXX
95927 | 26 | A | Somatosensory testing | 0.54 | 0.16 | 0.23 | 0.16 | 0.23 | 0.04 | 0.74 | 0.81 | 0.74 | 0.81 | XXX
95927 | TC | A | Somatosensory testing | 0.00 | 2.93 | 1.42 | NA | NA | 0.06 | 2.99 | 1.48 | NA | NA | XXX
95928 |  | A | C motor evoked, uppr limbs | 1.50 | 3.98 | 3.26 | NA | NA | 0.09 | 5.57 | 4.85 | NA | NA | XXX
95928 | 26 | A | C motor evoked, uppr limbs | 1.50 | 0.46 | 0.60 | 0.46 | 0.60 | 0.06 | 2.02 | 2.16 | 2.02 | 2.16 | XXX
95928 | TC | A | C motor evoked, uppr limbs | 0.00 | 3.53 | 2.66 | NA | NA | 0.03 | 3.56 | 2.69 | NA | NA | XXX
95929 |  | A | C motor evoked, lwr limbs | 1.50 | 4.30 | 3.48 | NA | NA | 0.09 | 5.89 | 5.07 | NA | NA | XXX
95929 | 26 | A | C motor evoked, lwr limbs | 1.50 | 0.46 | 0.60 | 0.46 | 0.60 | 0.06 | 2.02 | 2.16 | 2.02 | 2.16 | XXX
95930 |  | A | Visual evoked potential test | 0.35 | 2.64 | 2.34 | NA | NA | 0.03 | 3.02 | 2.72 | NA | NA | XXX
95930 | 26 | A | Visual evoked potential test | 0.35 | 0.10 | 0.14 | 0.10 | 0.14 | 0.02 | 0.47 | 0.51 | 0.47 | 0.51 | XXX
95930 | TC | A | Visual evoked potential test | 0.00 | 2.54 | 2.20 | NA | NA | 0.01 | 2.55 | 2.21 | NA | NA | XXX
95933 |  | A | Blink reflex test | 0.59 | 1.10 | 1.04 | NA | NA | 0.10 | 1.79 | 1.73 | NA | NA | XXX
95933 | 26 | A | Blink reflex test | 0.59 | 0.17 | 0.22 | 0.17 | 0.22 | 0.04 | 0.80 | 0.85 | 0.80 | 0.85 | XXX
95933 | TC | A | Blink reflex test | 0.00 | 0.93 | 0.82 | NA | NA | 0.06 | 0.99 | 0.88 | NA | NA | XXX
95934 |  | A | H-reflex test | 0.51 | 0.90 | 0.55 | NA | NA | 0.04 | 1.45 | 1.10 | NA | NA | XXX
95934 | 26 | A | H-reflex test | 0.51 | 0.16 | 0.21 | 0.16 | 0.21 | 0.02 | 0.69 | 0.74 | 0.69 | 0.74 | XXX
95934 | TC | A | H-reflex test | 0.00 | 0.73 | 0.34 | NA | NA | 0.02 | 0.75 | 0.36 | NA | NA | XXX
95936 |  | A | H-reflex test | 0.55 | 0.62 | 0.49 | NA | NA | 0.05 | 1.22 | 1.09 | NA | NA | XXX
95936 | 26 | A | H-reflex test | 0.55 | 0.17 | 0.22 | 0.17 | 0.22 | 0.03 | 0.75 | 0.80 | 0.75 | 0.80 | XXX
95936 | TC | A | H-reflex test | 0.00 | 0.44 | 0.27 | NA | NA | 0.02 | 0.46 | 0.29 | NA | NA | XXX
95937 |  | A | Neuromuscular junction test | 0.65 | 0.92 | 0.69 | NA | NA | 0.10 | 1.67 | 1.44 | NA | NA | XXX
95937 | 26 | A | Neuromuscular junction test | 0.65 | 0.20 | 0.25 | 0.20 | 0.25 | 0.08 | 0.93 | 0.98 | 0.93 | 0.98 | XXX
95937 | TC | A | Neuromuscular junction test | 0.00 | 0.72 | 0.44 | NA | NA | 0.02 | 0.74 | 0.46 | NA | NA | XXX
95950 |  | A | Ambulatory eeg monitoring | 1.51 | 4.93 | 4.18 | NA | NA | 0.51 | 6.95 | 6.20 | NA | NA | XXX
95950 | 26 | A | Ambulatory eeg monitoring | 1.51 | 0.42 | 0.59 | 0.42 | 0.59 | 0.08 | 2.01 | 2.18 | 2.01 | 2.18 | XXX
95950 | TC | A | Ambulatory eeg monitoring | 0.00 | 4.52 | 3.60 | NA | NA | 0.43 | 4.95 | 4.03 | NA | NA | XXX
95951 |  | C | EEG monitoring/videorecord | 0.00 | 0.00 | 0.00 | 0.00 | 0.00 | 0.00 | 0.00 | 0.00 | 0.00 | 0.00 | XXX
95951 | 26 | A | EEG monitoring/videorecord | 5.99 | 1.69 | 2.34 | 1.69 | 2.34 | 0.32 | 8.00 | 8.65 | 8.00 | 8.65 | XXX
95951 | TC | C | EEG monitoring/videorecord | 0.00 | 0.00 | 0.00 | 0.00 | 0.00 | 0.00 | 0.00 | 0.00 | 0.00 | 0.00 | XXX
95953 |  | A | EEG monitoring/computer | 3.30 | 7.24 | 7.53 | NA | NA | 0.60 | 11.14 | 11.43 | NA | NA | XXX
95953 | 26 | A | EEG monitoring/computer | 3.30 | 0.93 | 1.20 | 0.93 | 1.20 | 0.17 | 4.40 | 4.67 | 4.40 | 4.67 | XXX
95953 | TC | A | EEG monitoring/computer | 0.00 | 6.31 | 6.33 | NA | NA | 0.43 | 6.74 | 6.76 | NA | NA | XXX
95954 |  | A | EEG monitoring/giving drugs | 2.45 | 4.90 | 4.39 | NA | NA | 0.19 | 7.54 | 7.03 | NA | NA | XXX
95954 | 26 | A | EEG monitoring/giving drugs | 2.45 | 0.51 | 0.91 | 0.51 | 0.91 | 0.13 | 3.09 | 3.49 | 3.09 | 3.49 | XXX
95954 | TC | A | EEG monitoring/giving drugs | 0.00 | 4.39 | 3.48 | NA | NA | 0.06 | 4.45 | 3.54 | NA | NA | XXX
95955 |  | A | EEG during surgery | 1.01 | 2.83 | 2.45 | 2.83 | 2.45 | 0.22 | 4.06 | 3.68 | 4.06 | 3.68 | XXX
95955 | 26 | A | EEG during surgery | 1.01 | 0.29 | 0.34 | 0.29 | 0.34 | 0.05 | 1.35 | 1.40 | 1.35 | 1.40 | XXX
95955 | TC | A | EEG during surgery | 0.00 | 2.54 | 2.11 | 2.54 | 2.11 | 0.17 | 2.71 | 2.28 | 2.71 | 2.28 | XXX
95956 |  | A | Eeg monitoring, cable/radio | 3.08 | 17.21 | 15.86 | NA | NA | 0.59 | 20.88 | 19.53 | NA | NA | XXX
95956 | 26 | A | Eeg monitoring, cable/radio | 3.08 | 1.03 | 1.23 | 1.03 | 1.23 | 0.16 | 4.27 | 4.47 | 4.27 | 4.47 | XXX
95956 | TC | A | Eeg monitoring, cable/radio | 0.00 | 16.18 | 14.63 | NA | NA | 0.43 | 16.61 | 15.06 | NA | NA | XXX
95957 |  | A | EEG digital analysis | 1.98 | 5.88 | 3.38 | NA | NA | 0.23 | 8.09 | 5.59 | NA | NA | XXX
95957 | 26 | A | EEG digital analysis | 1.98 | 0.55 | 0.78 | 0.55 | 0.78 | 0.11 | 2.64 | 2.87 | 2.64 | 2.87 | XXX
95957 | TC | A | EEG digital analysis | 0.00 | 5.32 | 2.61 | NA | NA | 0.12 | 5.44 | 2.73 | NA | NA | XXX
95958 |  | A | EEG monitoring/function test | 4.24 | 6.67 | 4.29 | NA | NA | 0.34 | 11.25 | 8.87 | NA | NA | XXX
95958 | 26 | A | EEG monitoring/function test | 4.24 | 1.21 | 1.61 | 1.21 | 1.61 | 0.21 | 5.66 | 6.06 | 5.66 | 6.06 | XXX
95958 | TC | A | EEG monitoring/function test | 0.00 | 5.46 | 2.67 | NA | NA | 0.13 | 5.59 | 2.80 | NA | NA | XXX
95961 |  | A | Electrode stimulation, brain | 2.97 | 3.12 | 2.75 | NA | NA | 0.55 | 6.64 | 6.27 | NA | NA | XXX
95961 | 26 | A | Electrode stimulation, brain | 2.97 | 0.90 | 1.22 | 0.90 | 1.22 | 0.48 | 4.35 | 4.67 | 4.35 | 4.67 | XXX
95961 | TC | A | Electrode stimulation, brain | 0.00 | 2.22 | 1.54 | NA | NA | 0.07 | 2.29 | 1.61 | NA | NA | XXX
95962 |  | A | Electrode stim, brain add-on | 3.21 | 2.21 | 2.57 | 2.21 | 2.57 | 0.39 | 5.81 | 6.17 | 5.81 | 6.17 | ZZZ
95962 | 26 | A | Electrode stim, brain add-on | 3.21 | 0.91 | 1.27 | 0.91 | 1.27 | 0.32 | 4.44 | 4.80 | 4.44 | 4.80 | ZZZ
95962 | TC | A | Electrode stim, brain add-on | 0.00 | 1.30 | 1.31 | 1.30 | 1.31 | 0.07 | 1.37 | 1.38 | 1.37 | 1.38 | ZZZ
95965 |  | C | Meg, spontaneous | 0.00 | 0.00 | 0.00 | 0.00 | 0.00 | 0.00 | 0.00 | 0.00 | 0.00 | 0.00 | XXX
95965 | 26 | A | Meg, spontaneous | 7.99 | 2.29 | 3.14 | 2.29 | 3.14 | 0.46 | 10.74 | 11.59 | 10.74 | 11.59 | XXX
95965 | TC | C | Meg, spontaneous | 0.00 | 0.00 | 0.00 | 0.00 | 0.00 | 0.00 | 0.00 | 0.00 | 0.00 | 0.00 | XXX
95966 |  | C | Meg, evoked, single | 0.00 | 0.00 | 0.00 | 0.00 | 0.00 | 0.00 | 0.00 | 0.00 | 0.00 | 0.00 | XXX
95966 | 26 | A | Meg, evoked, single | 3.99 | 1.22 | 1.59 | 1.22 | 1.59 | 0.19 | 5.40 | 5.77 | 5.40 | 5.77 | XXX
95966 | TC | C | Meg, evoked, single | 0.00 | 0.00 | 0.00 | 0.00 | 0.00 | 0.00 | 0.00 | 0.00 | 0.00 | 0.00 | XXX
95967 |  | C | Meg, evoked, each addIl | 0.00 | 0.00 | 0.00 | 0.00 | 0.00 | 0.00 | 0.00 | 0.00 | 0.00 | 0.00 | ZZZ
95967 | 26 | A | Meg, evoked, each addIl | 3.49 | 1.04 | 1.15 | 1.04 | 1.15 | 0.16 | 4.69 | 4.80 | 4.69 | 4.80 | ZZZ
95967 | TC | C | Meg, evoked, each addIl | 0.00 | 0.00 | 0.00 | 0.00 | 0.00 | 0.00 | 0.00 | 0.00 | 0.00 | 0.00 | ZZZ
95970 |  | A | Analyze neurostim, no prog | 0.45 | 0.89 | 0.86 | 0.13 | 0.14 | 0.03 | 1.37 | 1.34 | 0.61 | 0.62 | XXX
95971 |  | A | Analyze neurostim, simple | 0.78 | 0.62 | 0.67 | 0.20 | 0.22 | 0.07 | 1.47 | 1.52 | 1.05 | 1.07 | XXX
95972 |  | A | Analyze neurostim, complex | 1.50 | 1.20 | 1.21 | 0.46 | 0.48 | 0.14 | 2.84 | 2.85 | 2.10 | 2.12 | XXX
95973 |  | A | Analyze neurostim, complex | 0.92 | 0.56 | 0.61 | 0.24 | 0.32 | 0.07 | 1.55 | 1.60 | 1.23 | 1.31 | ZZZ
95974 |  | A | Cranial neurostim, complex | 3.00 | 1.48 | 1.65 | 0.85 | 1.19 | 0.16 | 4.64 | 4.81 | 4.01 | 4.35 | XXX
95975 |  | A | Cranial neurostim, complex | 1.70 | 0.74 | 0.85 | 0.48 | 0.67 | 0.12 | 2.56 | 2.67 | 2.30 | 2.49 | ZZZ
95978 |  | A | Analyze neurostim brain/1h | 3.50 | 1.84 | 1.91 | 1.04 | 1.24 | 0.18 | 5.52 | 5.59 | 4.72 | 4.92 | XXX
95979 |  | A | Analyz neurostim brain addon | 1.64 | 0.73 | 0.84 | 0.47 | 0.64 | 0.08 | 2.45 | 2.56 | 2.19 | 2.36 | ZZZ
95990 |  | A | Spin/brain pump refil & main | 0.00 | 1.67 | 1.54 | NA | NA | 0.06 | 1.73 | 1.60 | NA | NA | XXX
95991 |  | A | Spin/brain pump refil & main | 0.77 | 1.67 | 1.54 | NA | NA | 0.06 | 2.50 | 2.37 | NA | NA | XXX
95999 |  | C | Neurological procedure | 0.00 | 0.00 | 0.00 | 0.00 | 0.00 | 0.00 | 0.00 | 0.00 | 0.00 | 0.00 | XXX
96000 |  | A | Motion analysis, video/3d | 1.80 | NA | NA | 0.58 | 0.54 | 0.11 | NA | NA | 2.49 | 2.45 | XXX
96001 |  | A | Motion test w/ft press meas | 2.15 | NA | NA | 0.53 | 0.63 | 0.10 | NA | NA | 2.78 | 2.88 | XXX
96002 |  | A | Dynamic surface emg | 0.41 | NA | NA | 0.11 | 0.14 | 0.02 | NA | NA | 0.54 | 0.57 | XXX
96003 |  | A | Dynamic fine wire emg | 0.37 | NA | NA | 0.14 | 0.13 | 0.02 | NA | NA | 0.53 | 0.52 | XXX
96004 |  | A | Phys review of motion tests | 2.14 | 0.54 | 0.84 | 0.54 | 0.84 | 0.11 | 2.79 | 3.09 | 2.79 | 3.09 | XXX
96101 |  | A | Psycho testing by psych/phys | 1.86 | 0.34 | 0.57 | 0.33 | 0.56 | 0.05 | 2.25 | 2.48 | 2.24 | 2.47 | XXX
96102 |  | A | Psycho testing by technician | 0.50 | 1.20 | 0.80 | 0.09 | 0.15 | 0.01 | 1.71 | 1.31 | 0.60 | 0.66 | XXX
96103 |  | A | Psycho testing admin by comp | 0.51 | 1.31 | 0.49 | 0.09 | 0.15 | 0.02 | 1.84 | 1.02 | 0.62 | 0.68 | XXX
96105 |  | A | Assessment of aphasia | 0.00 | 2.06 | 1.84 | NA | NA | 0.18 | 2.24 | 2.02 | NA | NA | XXX
96110 |  | A | Developmental test, lim | 0.00 | 0.18 | 0.18 | NA | NA | 0.18 | 0.36 | 0.36 | NA | NA | XXX
96111 |  | A | Developmental test, extend | 2.60 | 0.66 | 0.95 | 0.53 | 0.92 | 0.18 | 3.44 | 3.73 | 3.31 | 3.70 | XXX
96116 |  | A | Neurobehavioral status exam | 1.86 | 0.53 | 0.76 | 0.42 | 0.59 | 0.18 | 2.57 | 2.80 | 2.46 | 2.63 | XXX
96118 |  | A | Neuropsych tst by psych/phys | 1.86 | 0.81 | 1.25 | 0.32 | 0.55 | 0.18 | 2.85 | 3.29 | 2.36 | 2.59 | XXX
96119 |  | A | Neuropsych testing by tech | 0.55 | 1.53 | 1.15 | 0.09 | 0.17 | 0.18 | 2.26 | 1.88 | 0.82 | 0.90 | XXX
96120 |  | A | Neuropsych tst admin w/comp | 0.51 | 1.91 | 1.03 | 0.09 | 0.15 | 0.02 | 2.44 | 1.56 | 0.62 | 0.68 | XXX
96150 |  | A | Assess hlth/behave, init | 0.50 | 0.10 | 0.16 | 0.09 | 0.16 | 0.01 | 0.61 | 0.67 | 0.60 | 0.67 | XXX
96151 |  | A | Assess hlth/behave, subseq | 0.48 | 0.09 | 0.16 | 0.09 | 0.15 | 0.01 | 0.58 | 0.65 | 0.58 | 0.64 | XXX
96152 |  | A | Intervene hlth/behave, indiv | 0.46 | 0.09 | 0.15 | 0.08 | 0.14 | 0.01 | 0.56 | 0.62 | 0.55 | 0.61 | XXX
96153 |  | A | Intervene hlth/behave, group | 0.10 | 0.02 | 0.04 | 0.02 | 0.03 | 0.01 | 0.13 | 0.15 | 0.13 | 0.14 | XXX
96154 |  | A | Interv hlth/behav, fam w/pt | 0.45 | 0.09 | 0.15 | 0.08 | 0.14 | 0.01 | 0.55 | 0.61 | 0.54 | 0.60 | XXX
96155 |  | N | Interv hlth/behav fam no pt | 0.44 | 0.10 | 0.16 | 0.10 | 0.15 | 0.02 | 0.56 | 0.62 | 0.56 | 0.61 | XXX
96401 |  | A | Chemo, anti-neopl, sq/im | 0.21 | 1.87 | 1.35 | NA | NA | 0.01 | 2.09 | 1.57 | NA | NA | XXX
96402 |  | A | Chemo hormon antineopl sq/im | 0.19 | 0.72 | 0.94 | NA | NA | 0.01 | 0.92 | 1.14 | NA | NA | XXX
96405 |  | A | Chemo intralesional, up to 7 | 0.52 | 3.49 | 2.70 | 0.22 | 0.24 | 0.03 | 4.04 | 3.25 | 0.77 | 0.79 | 000
96406 |  | A | Chemo intralesional over 7 | 0.80 | 3.26 | 3.07 | 0.27 | 0.29 | 0.03 | 4.09 | 3.90 | 1.10 | 1.12 | 000
96409 |  | A | Chemo, iv push, sngl drug | 0.24 | 2.78 | 2.89 | NA | NA | 0.06 | 3.08 | 3.19 | NA | NA | XXX
96411 |  | A | Chemo, iv push, addl drug | 0.20 | 1.50 | 1.58 | NA | NA | 0.06 | 1.76 | 1.84 | NA | NA | ZZZ
96413 |  | A | Chemo, iv infusion, 1 hr | 0.28 | 3.63 | 4.05 | NA | NA | 0.08 | 3.99 | 4.41 | NA | NA | XXX
96415 |  | A | Chemo, iv infusion, addl hr | 0.19 | 0.66 | 0.74 | NA | NA | 0.07 | 0.92 | 1.00 | NA | NA | ZZZ
96416 |  | A | Chemo prolong infuse w/pump | 0.21 | 4.08 | 4.47 | NA | NA | 0.08 | 4.37 | 4.76 | NA | NA | XXX
96417 |  | A | Chemo iv infus each addl seq | 0.21 | 1.72 | 1.89 | NA | NA | 0.07 | 2.00 | 2.17 | NA | NA | ZZZ
96420 |  | A | Chemo, ia, push tecnique | 0.17 | 2.70 | 2.67 | NA | NA | 0.08 | 2.95 | 2.92 | NA | NA | XXX
96422 |  | A | Chemo ia infusion up to 1 hr | 0.17 | 3.70 | 4.55 | NA | NA | 0.08 | 3.95 | 4.80 | NA | NA | XXX
96423 |  | A | Chemo ia infuse each addl hr | 0.17 | 1.93 | 1.89 | NA | NA | 0.02 | 2.12 | 2.08 | NA | NA | ZZZ
96425 |  | A | Chemotherapy,infusion method | 0.17 | 4.54 | 4.49 | NA | NA | 0.08 | 4.79 | 4.74 | NA | NA | XXX
96440 |  | A | Chemotherapy, intracavitary | 2.37 | 5.56 | 7.49 | 1.00 | 1.17 | 0.17 | 8.10 | 10.03 | 3.54 | 3.71 | 000
96445 |  | A | Chemotherapy, intracavitary | 2.20 | 5.45 | 7.39 | 0.94 | 1.12 | 0.14 | 7.79 | 9.73 | 3.28 | 3.46 | 000
96450 |  | A | Chemotherapy, into CNS | 1.53 | 5.02 | 6.47 | 0.83 | 1.18 | 0.09 | 6.64 | 8.09 | 2.45 | 2.80 | 000
96521 |  | A | Refill/maint, portable pump | 0.21 | 3.14 | 3.61 | NA | NA | 0.06 | 3.41 | 3.88 | NA | NA | XXX
96522 |  | A | Refill/maint pump/resvr syst | 0.21 | 2.74 | 2.67 | NA | NA | 0.06 | 3.01 | 2.94 | NA | NA | XXX
96523 |  | T | Irrig drug delivery device | 0.04 | 0.64 | 0.68 | NA | NA | 0.01 | 0.69 | 0.73 | NA | NA | XXX
96542 |  | A | Chemotherapy injection | 0.75 | 3.55 | 4.08 | 0.32 | 0.58 | 0.07 | 4.37 | 4.90 | 1.14 | 1.40 | XXX
96549 |  | C | Chemotherapy, unspecified | 0.00 | 0.00 | 0.00 | 0.00 | 0.00 | 0.00 | 0.00 | 0.00 | 0.00 | 0.00 | XXX
96567 |  | A | Photodynamic tx, skin | 0.00 | 3.65 | 2.38 | NA | NA | 0.04 | 3.69 | 2.42 | NA | NA | XXX
96570 |  | A | Photodynamic tx, 30 min | 1.10 | 0.41 | 0.38 | 0.41 | 0.38 | 0.11 | 1.62 | 1.59 | 1.62 | 1.59 | ZZZ
96571 |  | A | Photodynamic tx, addl 15 min | 0.55 | 0.20 | 0.19 | 0.20 | 0.19 | 0.03 | 0.78 | 0.77 | 0.78 | 0.77 | ZZZ
96900 |  | A | Ultraviolet light therapy | 0.00 | 0.55 | 0.47 | NA | NA | 0.02 | 0.57 | 0.49 | NA | NA | XXX
96902 |  | B | Trichogram | 0.41 | 0.11 | 0.16 | 0.10 | 0.15 | 0.01 | 0.53 | 0.58 | 0.52 | 0.57 | XXX
96910 |  | A | Photochemotherapy with UV-B | 0.00 | 1.95 | 1.23 | NA | NA | 0.04 | 1.99 | 1.27 | NA | NA | XXX
96912 |  | A | Photochemotherapy with UV-A | 0.00 | 2.51 | 1.57 | NA | NA | 0.05 | 2.56 | 1.62 | NA | NA | XXX
96913 |  | A | Photochemotherapy, UV-A or B | 0.00 | 3.55 | 2.15 | NA | NA | 0.10 | 3.65 | 2.25 | NA | NA | XXX
96920 |  | A | Laser tx, skin < 250 sq cm | 1.15 | 3.48 | 2.77 | 0.54 | 0.56 | 0.02 | 4.65 | 3.94 | 1.71 | 1.73 | 000
96921 |  | A | Laser tx, skin 250-500 sq cm | 1.17 | 3.39 | 2.80 | 0.51 | 0.56 | 0.03 | 4.59 | 4.00 | 1.71 | 1.76 | 000
96922 |  | A | Laser tx, skin > 500 sq cm | 2.10 | 4.46 | 3.73 | 0.98 | 0.71 | 0.04 | 6.60 | 5.87 | 3.12 | 2.85 | 000
96999 |  | C | Dermatological procedure | 0.00 | 0.00 | 0.00 | 0.00 | 0.00 | 0.00 | 0.00 | 0.00 | 0.00 | 0.00 | XXX
97001 |  | A | Pt evaluation | 1.20 | 0.68 | 0.73 | NA | NA | 0.05 | 1.93 | 1.98 | NA | NA | XXX
97002 |  | A | Pt re-evaluation | 0.60 | 0.43 | 0.44 | NA | NA | 0.02 | 1.05 | 1.06 | NA | NA | XXX
97003 |  | A | Ot evaluation | 1.20 | 0.77 | 0.85 | NA | NA | 0.06 | 2.03 | 2.11 | NA | NA | XXX
97004 |  | A | Ot re-evaluation | 0.60 | 0.54 | 0.64 | NA | NA | 0.02 | 1.16 | 1.26 | NA | NA | XXX
97010 |  | B | Hot or cold packs therapy | 0.06 | 0.07 | 0.06 | NA | NA | 0.01 | 0.14 | 0.13 | NA | NA | XXX
97012 |  | A | Mechanical traction therapy | 0.25 | 0.15 | 0.14 | NA | NA | 0.01 | 0.41 | 0.40 | NA | NA | XXX
97014 |  | I | Electric stimulation therapy | 0.18 | 0.19 | 0.19 | NA | NA | 0.01 | 0.38 | 0.38 | NA | NA | XXX
97016 |  | A | Vasopneumatic device therapy | 0.18 | 0.25 | 0.20 | NA | NA | 0.01 | 0.44 | 0.39 | NA | NA | XXX
97018 |  | A | Paraffin bath therapy | 0.06 | 0.17 | 0.12 | NA | NA | 0.01 | 0.24 | 0.19 | NA | NA | XXX
97022 |  | A | Whirlpool therapy | 0.17 | 0.34 | 0.24 | NA | NA | 0.01 | 0.52 | 0.42 | NA | NA | XXX
97024 |  | A | Diathermy eg, microwave | 0.06 | 0.08 | 0.07 | NA | NA | 0.01 | 0.15 | 0.14 | NA | NA | XXX
97026 |  | A | Infrared therapy | 0.06 | 0.07 | 0.06 | NA | NA | 0.01 | 0.14 | 0.13 | NA | NA | XXX
97028 |  | A | Ultraviolet therapy | 0.08 | 0.09 | 0.08 | NA | NA | 0.01 | 0.18 | 0.17 | NA | NA | XXX
97032 |  | A | Electrical stimulation | 0.25 | 0.20 | 0.17 | NA | NA | 0.01 | 0.46 | 0.43 | NA | NA | XXX
97033 |  | A | Electric current therapy | 0.26 | 0.46 | 0.32 | NA | NA | 0.01 | 0.73 | 0.59 | NA | NA | XXX
97034 |  | A | Contrast bath therapy | 0.21 | 0.21 | 0.17 | NA | NA | 0.01 | 0.43 | 0.39 | NA | NA | XXX
97035 |  | A | Ultrasound therapy | 0.21 | 0.10 | 0.10 | NA | NA | 0.01 | 0.32 | 0.32 | NA | NA | XXX
97036 |  | A | Hydrotherapy | 0.28 | 0.45 | 0.35 | NA | NA | 0.01 | 0.74 | 0.64 | NA | NA | XXX
97039 |  | C | Physical therapy treatment | 0.00 | 0.00 | 0.00 | 0.00 | 0.00 | 0.00 | 0.00 | 0.00 | 0.00 | 0.00 | XXX
97110 |  | A | Therapeutic exercises | 0.45 | 0.33 | 0.29 | NA | NA | 0.02 | 0.80 | 0.76 | NA | NA | XXX
97112 |  | A | Neuromuscular reeducation | 0.45 | 0.36 | 0.32 | NA | NA | 0.01 | 0.82 | 0.78 | NA | NA | XXX
97113 |  | A | Aquatic therapy/exercises | 0.44 | 0.55 | 0.43 | NA | NA | 0.01 | 1.00 | 0.88 | NA | NA | XXX
97116 |  | A | Gait training therapy | 0.40 | 0.29 | 0.25 | NA | NA | 0.01 | 0.70 | 0.66 | NA | NA | XXX
97124 |  | A | Massage therapy | 0.35 | 0.28 | 0.24 | NA | NA | 0.01 | 0.64 | 0.60 | NA | NA | XXX
97139 |  | C | Physical medicine procedure | 0.00 | 0.00 | 0.00 | 0.00 | 0.00 | 0.00 | 0.00 | 0.00 | 0.00 | 0.00 | XXX
97140 |  | A | Manual therapy | 0.43 | 0.30 | 0.26 | NA | NA | 0.01 | 0.74 | 0.70 | NA | NA | XXX
97150 |  | A | Group therapeutic procedures | 0.27 | 0.22 | 0.19 | NA | NA | 0.01 | 0.50 | 0.47 | NA | NA | XXX
97530 |  | A | Therapeutic activities | 0.44 | 0.39 | 0.34 | NA | NA | 0.01 | 0.84 | 0.79 | NA | NA | XXX
97532 |  | A | Cognitive skills development | 0.44 | 0.23 | 0.21 | NA | NA | 0.01 | 0.68 | 0.66 | NA | NA | XXX
97533 |  | A | Sensory integration | 0.44 | 0.28 | 0.25 | NA | NA | 0.01 | 0.73 | 0.70 | NA | NA | XXX
97535 |  | A | Self care mngment training | 0.45 | 0.39 | 0.35 | NA | NA | 0.01 | 0.85 | 0.81 | NA | NA | XXX
97537 |  | A | Community/work reintegration | 0.45 | 0.29 | 0.27 | NA | NA | 0.01 | 0.75 | 0.73 | NA | NA | XXX
97542 |  | A | Wheelchair mngment training | 0.45 | 0.30 | 0.29 | NA | NA | 0.01 | 0.76 | 0.75 | NA | NA | XXX
97597 |  | A | Active wound care/20 cm or < | 0.58 | 1.13 | 0.78 | 0.13 | 0.53 | 0.05 | 1.76 | 1.41 | 0.76 | 1.16 | XXX
97598 |  | A | Active wound care > 20 cm | 0.80 | 1.31 | 0.92 | 0.18 | 0.64 | 0.05 | 2.16 | 1.77 | 1.03 | 1.49 | XXX
97605 |  | A | Neg press wound tx, < 50 cm | 0.55 | 0.42 | 0.36 | 0.12 | 0.20 | 0.02 | 0.99 | 0.93 | 0.69 | 0.77 | XXX
97606 |  | A | Neg press wound tx, > 50 cm | 0.60 | 0.43 | 0.37 | 0.13 | 0.21 | 0.03 | 1.06 | 1.00 | 0.76 | 0.84 | XXX
97750 |  | A | Physical performance test | 0.45 | 0.34 | 0.33 | NA | NA | 0.02 | 0.81 | 0.80 | NA | NA | XXX
97755 |  | A | Assistive technology assess | 0.62 | 0.29 | 0.28 | NA | NA | 0.02 | 0.93 | 0.92 | NA | NA | XXX
97760 |  | A | Orthotic mgmt and training | 0.45 | 0.44 | 0.37 | NA | NA | 0.03 | 0.92 | 0.85 | NA | NA | XXX
97761 |  | A | Prosthetic training | 0.45 | 0.34 | 0.30 | NA | NA | 0.02 | 0.81 | 0.77 | NA | NA | XXX
97762 |  | A | C/o for orthotic/prosth use | 0.25 | 0.75 | 0.50 | NA | NA | 0.02 | 1.02 | 0.77 | NA | NA | XXX
97799 |  | C | Physical medicine procedure | 0.00 | 0.00 | 0.00 | 0.00 | 0.00 | 0.00 | 0.00 | 0.00 | 0.00 | 0.00 | XXX
97802 |  | A | Medical nutrition, indiv, in | 0.45 | 0.12 | 0.38 | 0.11 | 0.38 | 0.01 | 0.58 | 0.84 | 0.57 | 0.84 | XXX
97803 |  | A | Med nutrition, indiv, subseq | 0.37 | 0.10 | 0.38 | 0.09 | 0.38 | 0.01 | 0.48 | 0.76 | 0.47 | 0.76 | XXX
97804 |  | A | Medical nutrition, group | 0.25 | 0.06 | 0.15 | 0.06 | 0.15 | 0.01 | 0.32 | 0.41 | 0.32 | 0.41 | XXX
97810 |  | N | Acupunct w/o stimul 15 min | 0.60 | 0.26 | 0.35 | 0.14 | 0.21 | 0.03 | 0.89 | 0.98 | 0.77 | 0.84 | XXX
97811 |  | N | Acupunct w/o stimul addl 15m | 0.50 | 0.16 | 0.23 | 0.12 | 0.17 | 0.03 | 0.69 | 0.76 | 0.65 | 0.70 | ZZZ
97813 |  | N | Acupunct w/stimul 15 min | 0.65 | 0.27 | 0.37 | 0.15 | 0.23 | 0.03 | 0.95 | 1.05 | 0.83 | 0.91 | XXX
97814 |  | N | Acupunct w/stimul addl 15m | 0.55 | 0.19 | 0.27 | 0.13 | 0.19 | 0.03 | 0.77 | 0.85 | 0.71 | 0.77 | ZZZ
98925 |  | A | Osteopathic manipulation | 0.45 | 0.28 | 0.31 | 0.12 | 0.14 | 0.02 | 0.75 | 0.78 | 0.59 | 0.61 | 000
98926 |  | A | Osteopathic manipulation | 0.65 | 0.36 | 0.40 | 0.16 | 0.23 | 0.03 | 1.04 | 1.08 | 0.84 | 0.91 | 000
98927 |  | A | Osteopathic manipulation | 0.87 | 0.45 | 0.49 | 0.22 | 0.27 | 0.03 | 1.35 | 1.39 | 1.12 | 1.17 | 000
98928 |  | A | Osteopathic manipulation | 1.03 | 0.50 | 0.57 | 0.26 | 0.32 | 0.04 | 1.57 | 1.64 | 1.33 | 1.39 | 000
98929 |  | A | Osteopathic manipulation | 1.19 | 0.57 | 0.65 | 0.29 | 0.35 | 0.05 | 1.81 | 1.89 | 1.53 | 1.59 | 000
98940 |  | A | Chiropractic manipulation | 0.45 | 0.21 | 0.23 | 0.12 | 0.12 | 0.01 | 0.67 | 0.69 | 0.58 | 0.58 | 000
98941 |  | A | Chiropractic manipulation | 0.65 | 0.27 | 0.29 | 0.17 | 0.17 | 0.01 | 0.93 | 0.95 | 0.83 | 0.83 | 000
98942 |  | A | Chiropractic manipulation | 0.87 | 0.33 | 0.35 | 0.23 | 0.23 | 0.02 | 1.22 | 1.24 | 1.12 | 1.12 | 000
98943 |  | N | Chiropractic manipulation | 0.40 | 0.18 | 0.23 | 0.09 | 0.14 | 0.01 | 0.59 | 0.64 | 0.50 | 0.55 | XXX
99082 |  | C | Unusual physician travel | 0.00 | 0.00 | 0.00 | 0.00 | 0.00 | 0.00 | 0.00 | 0.00 | 0.00 | 0.00 | XXX
99143 |  | C | Mod cs by same phys, < 5 yrs | 0.00 | 0.00 | 0.00 | 0.00 | 0.00 | 0.00 | 0.00 | 0.00 | 0.00 | 0.00 | XXX
99144 |  | C | Mod cs by same phys, 5 yrs + | 0.00 | 0.00 | 0.00 | 0.00 | 0.00 | 0.00 | 0.00 | 0.00 | 0.00 | 0.00 | XXX
99145 |  | C | Mod cs by same phys add-on | 0.00 | 0.00 | 0.00 | 0.00 | 0.00 | 0.00 | 0.00 | 0.00 | 0.00 | 0.00 | ZZZ
99148 |  | C | Mod cs diff phys < 5 yrs | 0.00 | 0.00 | 0.00 | 0.00 | 0.00 | 0.00 | 0.00 | 0.00 | 0.00 | 0.00 | XXX
99149 |  | C | Mod cs diff phys 5 yrs + | 0.00 | 0.00 | 0.00 | 0.00 | 0.00 | 0.00 | 0.00 | 0.00 | 0.00 | 0.00 | XXX
99150 |  | C | Mod cs diff phys add-on | 0.00 | 0.00 | 0.00 | 0.00 | 0.00 | 0.00 | 0.00 | 0.00 | 0.00 | 0.00 | ZZZ
99170 |  | A | Anogenital exam, child | 1.75 | 1.51 | 1.70 | 0.50 | 0.54 | 0.08 | 3.34 | 3.53 | 2.33 | 2.37 | 000
99175 |  | A | Induction of vomiting | 0.00 | 0.34 | 1.13 | NA | NA | 0.10 | 0.44 | 1.23 | NA | NA | XXX
99183 |  | A | Hyperbaric oxygen therapy | 2.34 | 2.61 | 3.08 | 0.58 | 0.69 | 0.16 | 5.11 | 5.58 | 3.08 | 3.19 | XXX
99185 |  | A | Regional hypothermia | 0.00 | 1.66 | 0.90 | NA | NA | 0.04 | 1.70 | 0.94 | NA | NA | XXX
99186 |  | A | Total body hypothermia | 0.00 | 1.41 | 1.69 | NA | NA | 0.45 | 1.86 | 2.14 | NA | NA | XXX
99195 |  | A | Phlebotomy | 0.00 | 2.60 | 0.98 | NA | NA | 0.02 | 2.62 | 1.00 | NA | NA | XXX
99199 |  | C | Special service/proc/report | 0.00 | 0.00 | 0.00 | 0.00 | 0.00 | 0.00 | 0.00 | 0.00 | 0.00 | 0.00 | XXX
99201 |  | A | Office/outpatient visit, new | 0.45 | 0.54 | 0.50 | 0.15 | 0.15 | 0.03 | 1.02 | 0.98 | 0.63 | 0.63 | XXX
99202 |  | A | Office/outpatient visit, new | 0.88 | 0.83 | 0.80 | 0.29 | 0.31 | 0.05 | 1.76 | 1.73 | 1.22 | 1.24 | XXX
99203 |  | A | Office/outpatient visit, new | 1.34 | 1.10 | 1.12 | 0.42 | 0.47 | 0.09 | 2.53 | 2.55 | 1.85 | 1.90 | XXX
99204 |  | A | Office/outpatient visit, new | 2.30 | 1.49 | 1.50 | 0.71 | 0.71 | 0.12 | 3.91 | 3.92 | 3.13 | 3.13 | XXX
99205 |  | A | Office/outpatient visit, new | 3.00 | 1.79 | 1.78 | 0.91 | 0.94 | 0.15 | 4.94 | 4.93 | 4.06 | 4.09 | XXX
99211 |  | A | Office/outpatient visit, est | 0.17 | 0.33 | 0.38 | 0.06 | 0.06 | 0.01 | 0.51 | 0.56 | 0.24 | 0.24 | XXX
99212 |  | A | Office/outpatient visit, est | 0.45 | 0.55 | 0.54 | 0.15 | 0.16 | 0.03 | 1.03 | 1.02 | 0.63 | 0.64 | XXX
99213 |  | A | Office/outpatient visit, est | 0.92 | 0.76 | 0.71 | 0.28 | 0.25 | 0.03 | 1.71 | 1.66 | 1.23 | 1.20 | XXX
99214 |  | A | Office/outpatient visit, est | 1.42 | 1.10 | 1.05 | 0.44 | 0.42 | 0.05 | 2.57 | 2.52 | 1.91 | 1.89 | XXX
99215 |  | A | Office/outpatient visit, est | 2.00 | 1.39 | 1.34 | 0.61 | 0.64 | 0.08 | 3.47 | 3.42 | 2.69 | 2.72 | XXX
99217 |  | A | Observation care discharge | 1.28 | NA | NA | 0.50 | 0.52 | 0.06 | NA | NA | 1.84 | 1.86 | XXX
99218 |  | A | Observation care | 1.28 | NA | NA | 0.38 | 0.43 | 0.06 | NA | NA | 1.72 | 1.77 | XXX
99219 |  | A | Observation care | 2.14 | NA | NA | 0.60 | 0.69 | 0.10 | NA | NA | 2.84 | 2.93 | XXX
99220 |  | A | Observation care | 2.99 | NA | NA | 0.86 | 0.99 | 0.14 | NA | NA | 3.99 | 4.12 | XXX
99221 |  | A | Initial hospital care | 1.88 | NA | NA | 0.55 | 0.48 | 0.07 | NA | NA | 2.50 | 2.43 | XXX
99222 |  | A | Initial hospital care | 2.56 | NA | NA | 0.71 | 0.73 | 0.10 | NA | NA | 3.37 | 3.39 | XXX
99223 |  | A | Initial hospital care | 3.78 | NA | NA | 1.08 | 1.04 | 0.13 | NA | NA | 4.99 | 4.95 | XXX
99231 |  | A | Subsequent hospital care | 0.76 | NA | NA | 0.24 | 0.23 | 0.03 | NA | NA | 1.03 | 1.02 | XXX
99232 |  | A | Subsequent hospital care | 1.39 | NA | NA | 0.43 | 0.39 | 0.04 | NA | NA | 1.86 | 1.82 | XXX
99233 |  | A | Subsequent hospital care | 2.00 | NA | NA | 0.60 | 0.54 | 0.06 | NA | NA | 2.66 | 2.60 | XXX
99234 |  | A | Observ/hosp same date | 2.56 | NA | NA | 0.78 | 0.86 | 0.13 | NA | NA | 3.47 | 3.55 | XXX
99235 |  | A | Observ/hosp same date | 3.41 | NA | NA | NA | NA | 0.16 | NA | NA | NA | NA | XXX
99236 |  | A | Observ/hosp same date | 4.26 | NA | NA | 1.25 | 1.39 | 0.19 | NA | NA | 5.70 | 5.84 | XXX
99238 |  | A | Hospital discharge day | 1.28 | NA | NA | 0.50 | 0.53 | 0.05 | NA | NA | 1.83 | 1.86 | XXX
99239 |  | A | Hospital discharge day | 1.90 | NA | NA | 0.68 | 0.72 | 0.07 | NA | NA | 2.65 | 2.69 | XXX
99241 |  | A | Office consultation | 0.64 | 0.66 | 0.65 | 0.22 | 0.22 | 0.05 | 1.35 | 1.34 | 0.91 | 0.91 | XXX
99242 |  | A | Office consultation | 1.34 | 1.08 | 1.05 | 0.47 | 0.46 | 0.10 | 2.52 | 2.49 | 1.91 | 1.90 | XXX
99243 |  | A | Office consultation | 1.88 | 1.45 | 1.41 | 0.67 | 0.64 | 0.13 | 3.46 | 3.42 | 2.68 | 2.65 | XXX
99244 |  | A | Office consultation | 3.02 | 1.95 | 1.85 | 1.09 | 0.96 | 0.16 | 5.13 | 5.03 | 4.27 | 4.14 | XXX
99245 |  | A | Office consultation | 3.77 | 2.27 | 2.27 | 1.31 | 1.26 | 0.21 | 6.25 | 6.25 | 5.29 | 5.24 | XXX
99251 |  | A | Initial inpatient consult | 1.00 | NA | NA | 0.31 | 0.26 | 0.05 | NA | NA | 1.36 | 1.31 | XXX
99252 |  | A | Initial inpatient consult | 1.50 | NA | NA | 0.50 | 0.50 | 0.09 | NA | NA | 2.09 | 2.09 | XXX
99253 |  | A | Initial inpatient consult | 2.27 | NA | NA | 0.81 | 0.71 | 0.11 | NA | NA | 3.19 | 3.09 | XXX
99254 |  | A | Initial inpatient consult | 3.29 | NA | NA | 1.19 | 1.03 | 0.13 | NA | NA | 4.61 | 4.45 | XXX
99255 |  | A | Initial inpatient consult | 4.00 | NA | NA | 1.40 | 1.36 | 0.18 | NA | NA | 5.58 | 5.54 | XXX
99281 |  | A | Emergency dept visit | 0.45 | NA | NA | 0.09 | 0.09 | 0.02 | NA | NA | 0.56 | 0.56 | XXX
99282 |  | A | Emergency dept visit | 0.88 | NA | NA | 0.17 | 0.15 | 0.04 | NA | NA | 1.09 | 1.07 | XXX
99283 |  | A | Emergency dept visit | 1.34 | NA | NA | 0.25 | 0.30 | 0.09 | NA | NA | 1.68 | 1.73 | XXX
99284 |  | A | Emergency dept visit | 2.56 | NA | NA | 0.46 | 0.47 | 0.14 | NA | NA | 3.16 | 3.17 | XXX
99285 |  | A | Emergency dept visit | 3.80 | NA | NA | 0.67 | 0.71 | 0.23 | NA | NA | 4.70 | 4.74 | XXX
99289 |  | A | Ped crit care transport | 4.79 | NA | NA | 1.11 | 1.37 | 0.24 | NA | NA | 6.14 | 6.40 | XXX
99290 |  | A | Ped crit care transport addl | 2.40 | NA | NA | 0.60 | 0.76 | 0.12 | NA | NA | 3.12 | 3.28 | ZZZ
99291 |  | A | Critical care, first hour | 4.50 | 2.28 | 2.50 | 1.12 | 1.24 | 0.21 | 6.99 | 7.21 | 5.83 | 5.95 | XXX
99292 |  | A | Critical care, addIl 30 min | 2.25 | 0.83 | 0.88 | 0.59 | 0.63 | 0.11 | 3.19 | 3.24 | 2.95 | 2.99 | ZZZ
99293 |  | A | Ped critical care, initial | 15.98 | NA | NA | 3.59 | 4.46 | 1.12 | NA | NA | 20.69 | 21.56 | XXX
99294 |  | A | Ped critical care, subseq | 7.99 | NA | NA | 1.72 | 2.23 | 0.45 | NA | NA | 10.16 | 10.67 | XXX
99295 |  | A | Neonate crit care, initial | 18.46 | NA | NA | 4.34 | 5.11 | 1.16 | NA | NA | 23.96 | 24.73 | XXX
99296 |  | A | Neonate critical care subseq | 7.99 | NA | NA | 1.76 | 2.35 | 0.32 | NA | NA | 10.07 | 10.66 | XXX
99298 |  | A | Ic for lbw infant < 1500 gm | 2.75 | NA | NA | 0.66 | 0.86 | 0.17 | NA | NA | 3.58 | 3.78 | XXX
99299 |  | A | Ic, lbw infant 1500-2500 gm | 2.50 | NA | NA | 0.75 | 0.83 | 0.16 | NA | NA | 3.41 | 3.49 | XXX
99300 |  | A | Ic, infant pbw 2501-5000 gm | 2.40 | NA | NA | 0.72 | 0.81 | 0.15 | NA | NA | 3.27 | 3.36 | XXX
99304 |  | A | Nursing facility care, init | 1.20 | 0.45 | 0.48 | 0.45 | 0.48 | 0.05 | 1.70 | 1.73 | 1.70 | 1.73 | XXX
99305 |  | A | Nursing facility care, init | 1.61 | 0.56 | 0.61 | 0.56 | 0.61 | 0.07 | 2.24 | 2.29 | 2.24 | 2.29 | XXX
99306 |  | A | Nursing facility care, init | 2.01 | 0.65 | 0.73 | 0.65 | 0.73 | 0.09 | 2.75 | 2.83 | 2.75 | 2.83 | XXX
99307 |  | A | Nursing fac care, subseq | 0.60 | 0.27 | 0.27 | 0.27 | 0.27 | 0.03 | 0.90 | 0.90 | 0.90 | 0.90 | XXX
99308 |  | A | Nursing fac care, subseq | 1.00 | 0.43 | 0.45 | 0.43 | 0.45 | 0.04 | 1.47 | 1.49 | 1.47 | 1.49 | XXX
99309 |  | A | Nursing fac care, subseq | 1.42 | 0.58 | 0.61 | 0.58 | 0.61 | 0.06 | 2.06 | 2.09 | 2.06 | 2.09 | XXX
99310 |  | A | Nursing fac care, subseq | 1.77 | 0.73 | 0.77 | 0.73 | 0.77 | 0.08 | 2.58 | 2.62 | 2.58 | 2.62 | XXX
99315 |  | A | Nursing fac discharge day | 1.13 | 0.41 | 0.44 | 0.41 | 0.44 | 0.05 | 1.59 | 1.62 | 1.59 | 1.62 | XXX
99316 |  | A | Nursing fac discharge day | 1.50 | 0.51 | 0.57 | 0.51 | 0.57 | 0.06 | 2.07 | 2.13 | 2.07 | 2.13 | XXX
99318 |  | A | Annual nursing fac assessmnt | 1.20 | 0.45 | 0.48 | 0.45 | 0.48 | 0.05 | 1.70 | 1.73 | 1.70 | 1.73 | XXX
99324 |  | A | Domicil/r-home visit new pat | 1.01 | 0.43 | 0.48 | NA | NA | 0.05 | 1.49 | 1.54 | NA | NA | XXX
99325 |  | A | Domicil/r-home visit new pat | 1.52 | 0.56 | 0.65 | NA | NA | 0.07 | 2.15 | 2.24 | NA | NA | XXX
99326 |  | A | Domicil/r-home visit new pat | 2.27 | 0.73 | 0.87 | NA | NA | 0.10 | 3.10 | 3.24 | NA | NA | XXX
99327 |  | A | Domicil/r-home visit new pat | 3.03 | 0.92 | 1.11 | NA | NA | 0.13 | 4.08 | 4.27 | NA | NA | XXX
99328 |  | A | Domicil/r-home visit new pat | 3.78 | 1.10 | 1.34 | NA | NA | 0.16 | 5.04 | 5.28 | NA | NA | XXX
99334 |  | A | Domicil/r-home visit est pat | 0.76 | 0.36 | 0.39 | NA | NA | 0.04 | 1.16 | 1.19 | NA | NA | XXX
99335 |  | A | Domicil/r-home visit est pat | 1.26 | 0.48 | 0.56 | NA | NA | 0.06 | 1.80 | 1.88 | NA | NA | XXX
99336 |  | A | Domicil/r-home visit est pat | 2.02 | 0.66 | 0.78 | NA | NA | 0.09 | 2.77 | 2.89 | NA | NA | XXX
99337 |  | A | Domicil/r-home visit est pat | 3.03 | 0.90 | 1.09 | NA | NA | 0.13 | 4.06 | 4.25 | NA | NA | XXX
99341 |  | A | Home visit, new patient | 1.01 | 0.37 | 0.45 | NA | NA | 0.05 | 1.43 | 1.51 | NA | NA | XXX
99342 |  | A | Home visit, new patient | 1.52 | 0.50 | 0.64 | NA | NA | 0.07 | 2.09 | 2.23 | NA | NA | XXX
99343 |  | A | Home visit, new patient | 2.27 | 0.69 | 0.88 | NA | NA | 0.10 | 3.06 | 3.25 | NA | NA | XXX
99344 |  | A | Home visit, new patient | 3.03 | 0.91 | 1.11 | NA | NA | 0.13 | 4.07 | 4.27 | NA | NA | XXX
99345 |  | A | Home visit, new patient | 3.78 | 1.08 | 1.34 | NA | NA | 0.16 | 5.02 | 5.28 | NA | NA | XXX
99347 |  | A | Home visit, est patient | 0.76 | 0.36 | 0.39 | NA | NA | 0.04 | 1.16 | 1.19 | NA | NA | XXX
99348 |  | A | Home visit, est patient | 1.26 | 0.49 | 0.56 | NA | NA | 0.06 | 1.81 | 1.88 | NA | NA | XXX
99349 |  | A | Home visit, est patient | 2.02 | 0.66 | 0.79 | NA | NA | 0.09 | 2.77 | 2.90 | NA | NA | XXX
99350 |  | A | Home visit, est patient | 3.03 | 0.91 | 1.11 | NA | NA | 0.13 | 4.07 | 4.27 | NA | NA | XXX
99354 |  | A | Prolonged service, office | 1.77 | 0.65 | 0.74 | 0.50 | 0.62 | 0.08 | 2.50 | 2.59 | 2.35 | 2.47 | ZZZ
99355 |  | A | Prolonged service, office | 1.77 | 0.67 | 0.73 | 0.52 | 0.60 | 0.07 | 2.51 | 2.57 | 2.36 | 2.44 | ZZZ
99356 |  | A | Prolonged service, inpatient | 1.71 | NA | NA | 0.51 | 0.59 | 0.07 | NA | NA | 2.29 | 2.37 | ZZZ
99357 |  | A | Prolonged service, inpatient | 1.71 | NA | NA | 0.50 | 0.60 | 0.08 | NA | NA | 2.29 | 2.39 | ZZZ
99374 |  | B | Home health care supervision | 1.10 | 0.55 | 0.66 | 0.26 | 0.38 | 0.05 | 1.70 | 1.81 | 1.41 | 1.53 | XXX
99375 |  | I | Home health care supervision | 1.73 | 0.76 | 1.35 | 0.40 | 1.26 | 0.07 | 2.56 | 3.15 | 2.20 | 3.06 | XXX
99377 |  | B | Hospice care supervision | 1.10 | 0.55 | 0.66 | 0.26 | 0.38 | 0.05 | 1.70 | 1.81 | 1.41 | 1.53 | XXX
99378 |  | I | Hospice care supervision | 1.73 | 0.76 | 1.65 | 0.40 | 1.56 | 0.07 | 2.56 | 3.45 | 2.20 | 3.36 | XXX
99379 |  | B | Nursing fac care supervision | 1.10 | 0.55 | 0.66 | 0.26 | 0.38 | 0.04 | 1.69 | 1.80 | 1.40 | 1.52 | XXX
99380 |  | B | Nursing fac care supervision | 1.73 | 0.76 | 0.93 | 0.40 | 0.60 | 0.06 | 2.55 | 2.72 | 2.19 | 2.39 | XXX
99381 |  | N | Prev visit, new, infant | 1.19 | 1.01 | 1.38 | 0.28 | 0.41 | 0.05 | 2.25 | 2.62 | 1.52 | 1.65 | XXX
99382 |  | N | Prev visit, new, age 1-4 | 1.36 | 1.05 | 1.42 | 0.32 | 0.47 | 0.05 | 2.46 | 2.83 | 1.73 | 1.88 | XXX
99383 |  | N | Prev visit, new, age 5-11 | 1.36 | 1.04 | 1.37 | 0.32 | 0.47 | 0.05 | 2.45 | 2.78 | 1.73 | 1.88 | XXX
99384 |  | N | Prev visit, new, age 12-17 | 1.53 | 1.08 | 1.43 | 0.36 | 0.53 | 0.06 | 2.67 | 3.02 | 1.95 | 2.12 | XXX
99385 |  | N | Prev visit, new, age 18-39 | 1.53 | 1.08 | 1.43 | 0.36 | 0.53 | 0.06 | 2.67 | 3.02 | 1.95 | 2.12 | XXX
99386 |  | N | Prev visit, new, age 40-64 | 1.88 | 1.16 | 1.60 | 0.44 | 0.65 | 0.07 | 3.11 | 3.55 | 2.39 | 2.60 | XXX
99387 |  | N | Prev visit, new, 65 & over | 2.06 | 1.29 | 1.73 | 0.48 | 0.71 | 0.07 | 3.42 | 3.86 | 2.61 | 2.84 | XXX
99391 |  | N | Prev visit, est, infant | 1.02 | 0.87 | 0.98 | 0.24 | 0.35 | 0.04 | 1.93 | 2.04 | 1.30 | 1.41 | XXX
99392 |  | N | Prev visit, est, age 1-4 | 1.19 | 0.91 | 1.05 | 0.28 | 0.41 | 0.05 | 2.15 | 2.29 | 1.52 | 1.65 | XXX
99393 |  | N | Prev visit, est, age 5-11 | 1.19 | 0.91 | 1.02 | 0.28 | 0.41 | 0.05 | 2.15 | 2.26 | 1.52 | 1.65 | XXX
99394 |  | N | Prev visit, est, age 12-17 | 1.36 | 0.95 | 1.09 | 0.32 | 0.47 | 0.05 | 2.36 | 2.50 | 1.73 | 1.88 | XXX
99395 |  | N | Prev visit, est, age 18-39 | 1.36 | 0.95 | 1.11 | 0.32 | 0.47 | 0.05 | 2.36 | 2.52 | 1.73 | 1.88 | XXX
99396 |  | N | Prev visit, est, age 40-64 | 1.53 | 0.99 | 1.19 | 0.36 | 0.53 | 0.06 | 2.58 | 2.78 | 1.95 | 2.12 | XXX
99397 |  | N | Prev visit, est, 65 & over | 1.71 | 1.13 | 1.30 | 0.40 | 0.60 | 0.06 | 2.90 | 3.07 | 2.17 | 2.37 | XXX
99401 |  | N | Preventive counseling, indiv | 0.48 | 0.36 | 0.56 | 0.11 | 0.17 | 0.01 | 0.85 | 1.05 | 0.60 | 0.66 | XXX
99402 |  | N | Preventive counseling, indiv | 0.98 | 0.48 | 0.77 | 0.23 | 0.34 | 0.02 | 1.48 | 1.77 | 1.23 | 1.34 | XXX
99403 |  | N | Preventive counseling, indiv | 1.46 | 0.59 | 0.97 | 0.34 | 0.51 | 0.04 | 2.09 | 2.47 | 1.84 | 2.01 | XXX
99404 |  | N | Preventive counseling, indiv | 1.95 | 0.71 | 1.17 | 0.45 | 0.68 | 0.05 | 2.71 | 3.17 | 2.45 | 2.68 | XXX
99411 |  | N | Preventive counseling, group | 0.15 | 0.22 | 0.19 | 0.03 | 0.05 | 0.01 | 0.38 | 0.35 | 0.19 | 0.21 | XXX
99412 |  | N | Preventive counseling, group | 0.25 | 0.25 | 0.25 | 0.06 | 0.09 | 0.01 | 0.51 | 0.51 | 0.32 | 0.35 | XXX
99431 |  | A | Initial care, normal newborn | 1.17 | NA | NA | 0.27 | 0.35 | 0.05 | NA | NA | 1.49 | 1.57 | XXX
99432 |  | A | Newborn care, not in hosp | 1.26 | 1.02 | 0.95 | 0.29 | 0.37 | 0.07 | 2.35 | 2.28 | 1.62 | 1.70 | XXX
99433 |  | A | Normal newborn care/hospital | 0.62 | NA | NA | 0.14 | 0.19 | 0.02 | NA | NA | 0.78 | 0.83 | XXX
99435 |  | A | Newborn discharge day hosp | 1.50 | NA | NA | 0.47 | 0.56 | 0.06 | NA | NA | 2.03 | 2.12 | XXX
99436 |  | A | Attendance, birth | 1.50 | NA | NA | 0.35 | 0.44 | 0.06 | NA | NA | 1.91 | 2.00 | XXX
99440 |  | A | Newborn resuscitation | 2.93 | NA | NA | 0.68 | 0.87 | 0.12 | NA | NA | 3.73 | 3.92 | XXX
99499 |  | C | Unlisted e&m service | 0.00 | 0.00 | 0.00 | 0.00 | 0.00 | 0.00 | 0.00 | 0.00 | 0.00 | 0.00 | XXX
G0101 |  | A | CA screen;pelvic/breast exam | 0.45 | 0.49 | 0.51 | NA | NA | 0.02 | 0.96 | 0.98 | NA | NA | XXX
G0102 |  | A | Prostate ca screening; dre | 0.17 | 0.33 | 0.38 | 0.06 | 0.06 | 0.01 | 0.51 | 0.56 | 0.24 | 0.24 | XXX
G0104 |  | A | CA screen;flexi sigmoidscope | 0.96 | 2.49 | 2.33 | 0.61 | 0.53 | 0.08 | 3.53 | 3.37 | 1.65 | 1.57 | 000
G0105 |  | A | Colorectal scrn; hi risk ind | 3.69 | 6.36 | 6.20 | 1.81 | 1.56 | 0.30 | 10.35 | 10.19 | 5.80 | 5.55 | 000
G0105 | 53 | A | Colorectal scrn; hi risk ind | 0.96 | 2.49 | 2.33 | 0.61 | 0.53 | 0.08 | 3.53 | 3.37 | 1.65 | 1.57 | 000
G0106 |  | A | Colon CA screen;barium enema | 0.99 | 4.94 | 3.15 | NA | NA | 0.17 | 6.10 | 4.31 | NA | NA | XXX
G0106 | 26 | A | Colon CA screen;barium enema | 0.99 | 0.31 | 0.32 | 0.31 | 0.32 | 0.04 | 1.34 | 1.35 | 1.34 | 1.35 | XXX
G0106 | TC | A | Colon CA screen;barium enema | 0.00 | 4.63 | 2.83 | NA | NA | 0.13 | 4.76 | 2.96 | NA | NA | XXX
G0108 |  | A | Diab manage trn per indiv | 0.00 | 0.59 | 0.77 | NA | NA | 0.01 | 0.60 | 0.78 | NA | NA | XXX
G0109 |  | A | Diab manage trn ind/group | 0.00 | 0.31 | 0.44 | NA | NA | 0.01 | 0.32 | 0.45 | NA | NA | XXX
G0117 |  | T | Glaucoma scrn hgh risk direc | 0.45 | 0.80 | 0.74 | NA | NA | 0.01 | 1.26 | 1.20 | NA | NA | XXX
G0118 |  | T | Glaucoma scrn hgh risk direc | 0.17 | 0.79 | 0.60 | NA | NA | 0.01 | 0.97 | 0.78 | NA | NA | XXX
G0120 |  | A | Colon ca scrn; barium enema | 0.99 | 4.94 | 3.15 | NA | NA | 0.17 | 6.10 | 4.31 | NA | NA | XXX
G0120 | 26 | A | Colon ca scrn; barium enema | 0.99 | 0.31 | 0.32 | 0.31 | 0.32 | 0.04 | 1.34 | 1.35 | 1.34 | 1.35 | XXX
G0120 | TC | A | Colon ca scrn; barium enema | 0.00 | 4.63 | 2.83 | NA | NA | 0.13 | 4.76 | 2.96 | NA | NA | XXX
G0121 |  | A | Colon ca scrn not hi rsk ind | 3.69 | 6.36 | 6.20 | 1.81 | 1.56 | 0.30 | 10.35 | 10.19 | 5.80 | 5.55 | 000
G0121 | 53 | A | Colon ca scrn not hi rsk ind | 0.96 | 2.49 | 2.33 | 0.61 | 0.53 | 0.08 | 3.53 | 3.37 | 1.65 | 1.57 | 000
G0122 |  | N | Colon ca scrn; barium enema | 0.99 | 5.69 | 3.35 | NA | NA | 0.18 | 6.86 | 4.52 | NA | NA | XXX
G0122 | 26 | N | Colon ca scrn; barium enema | 0.99 | 0.23 | 0.34 | 0.23 | 0.34 | 0.05 | 1.27 | 1.38 | 1.27 | 1.38 | XXX
G0122 | TC | N | Colon ca scrn; barium enema | 0.00 | 5.46 | 3.01 | NA | NA | 0.13 | 5.59 | 3.14 | NA | NA | XXX
G0124 |  | A | Screen c/v thin layer by MD | 0.42 | 0.38 | 0.21 | 0.38 | 0.21 | 0.02 | 0.82 | 0.65 | 0.82 | 0.65 | XXX
G0127 |  | R | Trim nail(s) | 0.17 | 0.39 | 0.29 | 0.04 | 0.06 | 0.01 | 0.57 | 0.47 | 0.22 | 0.24 | 000
G0128 |  | R | CORF skilled nursing service | 0.08 | 0.02 | 0.03 | 0.02 | 0.03 | 0.01 | 0.11 | 0.12 | 0.11 | 0.12 | XXX
G0130 |  | A | Single energy x-ray study | 0.22 | 0.55 | 0.79 | NA | NA | 0.06 | 0.83 | 1.07 | NA | NA | XXX
G0130 | 26 | A | Single energy x-ray study | 0.22 | 0.06 | 0.07 | 0.06 | 0.07 | 0.01 | 0.29 | 0.30 | 0.29 | 0.30 | XXX
G0130 | TC | A | Single energy x-ray study | 0.00 | 0.49 | 0.72 | NA | NA | 0.05 | 0.54 | 0.77 | NA | NA | XXX
G0141 |  | A | Scr c/v cyto,autosys and md | 0.42 | 0.38 | 0.21 | 0.38 | 0.21 | 0.02 | 0.82 | 0.65 | 0.82 | 0.65 | XXX
G0166 |  | A | Extrnl counterpulse, per tx | 0.07 | 4.56 | 3.82 | NA | NA | 0.01 | 4.64 | 3.90 | NA | NA | XXX
G0168 |  | A | Wound closure by adhesive | 0.45 | 1.57 | 1.84 | 0.21 | 0.22 | 0.03 | 2.05 | 2.32 | 0.69 | 0.70 | 000
G0179 |  | A | MD recertification HHA PT | 0.45 | 0.48 | 0.89 | NA | NA | 0.02 | 0.95 | 1.36 | NA | NA | XXX
G0180 |  | A | MD certification HHA patient | 0.67 | 0.56 | 1.09 | NA | NA | 0.03 | 1.26 | 1.79 | NA | NA | XXX
G0181 |  | A | Home health care supervision | 1.73 | 0.81 | 1.31 | NA | NA | 0.07 | 2.61 | 3.11 | NA | NA | XXX
G0182 |  | A | Hospice care supervision | 1.73 | 0.83 | 1.45 | NA | NA | 0.07 | 2.63 | 3.25 | NA | NA | XXX
G0186 |  | C | Dstry eye lesn,fdr vssl tech | 0.00 | 0.00 | 0.00 | 0.00 | 0.00 | 0.00 | 0.00 | 0.00 | 0.00 | 0.00 | YYY
G0202 |  | A | Screeningmammographydigital | 0.70 | 2.82 | 2.78 | NA | NA | 0.10 | 3.62 | 3.58 | NA | NA | XXX
G0202 | 26 | A | Screeningmammographydigital | 0.70 | 0.24 | 0.23 | 0.24 | 0.23 | 0.03 | 0.97 | 0.96 | 0.97 | 0.96 | XXX
G0202 | TC | A | Screeningmammographydigital | 0.00 | 2.58 | 2.55 | NA | NA | 0.07 | 2.65 | 2.62 | NA | NA | XXX
G0204 |  | A | Diagnosticmammographydigital | 0.87 | 3.42 | 2.94 | NA | NA | 0.11 | 4.40 | 3.92 | NA | NA | XXX
G0204 | 26 | A | Diagnosticmammographydigital | 0.87 | 0.30 | 0.29 | 0.30 | 0.29 | 0.04 | 1.21 | 1.20 | 1.21 | 1.20 | XXX
G0204 | TC | A | Diagnosticmammographydigital | 0.00 | 3.12 | 2.66 | NA | NA | 0.07 | 3.19 | 2.73 | NA | NA | XXX
G0206 |  | A | Diagnosticmammographydigital | 0.70 | 2.68 | 2.36 | NA | NA | 0.09 | 3.47 | 3.15 | NA | NA | XXX
G0206 | 26 | A | Diagnosticmammographydigital | 0.70 | 0.24 | 0.23 | 0.24 | 0.23 | 0.03 | 0.97 | 0.96 | 0.97 | 0.96 | XXX
G0206 | TC | A | Diagnosticmammographydigital | 0.00 | 2.44 | 2.13 | NA | NA | 0.06 | 2.50 | 2.19 | NA | NA | XXX
G0237 |  | A | Therapeutic procd strg endur | 0.00 | 0.22 | 0.41 | NA | NA | 0.02 | 0.24 | 0.43 | NA | NA | XXX
G0238 |  | A | Oth resp proc, indiv | 0.00 | 0.23 | 0.43 | NA | NA | 0.02 | 0.25 | 0.45 | NA | NA | XXX
G0239 |  | A | Oth resp proc, group | 0.00 | 0.32 | 0.33 | NA | NA | 0.02 | 0.34 | 0.35 | NA | NA | XXX
G0245 |  | R | Initial foot exam pt lops | 0.88 | 0.83 | 0.80 | 0.29 | 0.31 | 0.04 | 1.75 | 1.72 | 1.21 | 1.23 | XXX
G0246 |  | R | Followup eval of foot pt lop | 0.45 | 0.55 | 0.54 | 0.15 | 0.16 | 0.02 | 1.02 | 1.01 | 0.62 | 0.63 | XXX
G0247 |  | R | Routine footcare pt w lops | 0.50 | 0.68 | 0.56 | 0.16 | 0.20 | 0.02 | 1.20 | 1.08 | 0.68 | 0.72 | ZZZ
G0248 |  | R | Demonstrate use home inr mon | 0.00 | 3.30 | 5.78 | NA | NA | 0.01 | 3.31 | 5.79 | NA | NA | XXX
G0249 |  | R | Provide test material,equipm | 0.00 | 2.38 | 3.57 | NA | NA | 0.01 | 2.39 | 3.58 | NA | NA | XXX
G0250 |  | R | MD review interpret of test | 0.18 | 0.08 | 0.07 | NA | NA | 0.01 | 0.27 | 0.26 | NA | NA | XXX
G0252 | 26 | N | PET imaging initial dx | 1.50 | 0.35 | 0.54 | 0.35 | 0.54 | 0.04 | 1.89 | 2.08 | 1.89 | 2.08 | XXX
G0268 |  | A | Removal of impacted wax md | 0.61 | 0.60 | 0.62 | 0.17 | 0.22 | 0.02 | 1.23 | 1.25 | 0.80 | 0.85 | 000
G0270 |  | A | MNT subs tx for change dx | 0.37 | 0.10 | 0.38 | 0.09 | 0.38 | 0.01 | 0.48 | 0.76 | 0.47 | 0.76 | XXX
G0271 |  | A | Group MNT 2 or more 30 mins | 0.25 | 0.06 | 0.15 | 0.06 | 0.15 | 0.01 | 0.32 | 0.41 | 0.32 | 0.41 | XXX
G0275 |  | A | Renal angio, cardiac cath | 0.25 | NA | NA | 0.14 | 0.11 | 0.01 | NA | NA | 0.40 | 0.37 | ZZZ
G0278 |  | A | Iliac art angio,cardiac cath | 0.25 | NA | NA | 0.14 | 0.11 | 0.01 | NA | NA | 0.40 | 0.37 | ZZZ
G0281 |  | A | Elec stim unattend for press | 0.18 | 0.15 | 0.12 | NA | NA | 0.01 | 0.34 | 0.31 | NA | NA | XXX
G0283 |  | A | Elec stim other than wound | 0.18 | 0.15 | 0.12 | NA | NA | 0.01 | 0.34 | 0.31 | NA | NA | XXX
G0288 |  | A | Recon, CTA for surg plan | 0.00 | 0.99 | 8.21 | NA | NA | 0.18 | 1.17 | 8.39 | NA | NA | XXX
G0289 |  | A | Arthro, loose body + chondro | 1.48 | NA | NA | 0.59 | 0.75 | 0.26 | NA | NA | 2.33 | 2.49 | ZZZ
G0308 |  | A | ESRD related svc 4+mo < 2yrs | 12.74 | 5.52 | 7.79 | 5.52 | 7.79 | 0.42 | 18.68 | 20.95 | 18.68 | 20.95 | XXX
G0309 |  | A | ESRD related svc 2-3mo <2yrs | 10.61 | 4.80 | 6.53 | 4.80 | 6.53 | 0.36 | 15.77 | 17.50 | 15.77 | 17.50 | XXX
G0310 |  | A | ESRD related svc 1 vst <2yrs | 8.49 | 2.87 | 4.98 | 2.87 | 4.98 | 0.28 | 11.64 | 13.75 | 11.64 | 13.75 | XXX
G0311 |  | A | ESRD related svs 4+mo 2-11yr | 9.73 | 3.59 | 4.44 | 3.59 | 4.44 | 0.34 | 13.66 | 14.51 | 13.66 | 14.51 | XXX
G0312 |  | A | ESRD relate svs 2-3 mo 2-11y | 8.11 | 2.67 | 3.61 | 2.67 | 3.61 | 0.29 | 11.07 | 12.01 | 11.07 | 12.01 | XXX
G0313 |  | A | ESRD related svs 1 mon 2-11y | 6.49 | 1.86 | 2.82 | 1.86 | 2.82 | 0.22 | 8.57 | 9.53 | 8.57 | 9.53 | XXX
G0314 |  | A | ESRD related svs 4+ mo 12-19 | 8.28 | 3.43 | 4.17 | 3.43 | 4.17 | 0.27 | 11.98 | 12.72 | 11.98 | 12.72 | XXX
G0315 |  | A | ESRD related svs 2-3mo/12-19 | 6.90 | 2.61 | 3.41 | 2.61 | 3.41 | 0.23 | 9.74 | 10.54 | 9.74 | 10.54 | XXX
G0316 |  | A | ESRD related svs 1vis/12-19y | 5.52 | 1.69 | 2.63 | 1.69 | 2.63 | 0.17 | 7.38 | 8.32 | 7.38 | 8.32 | XXX
G0317 |  | A | ESRD related svs 4+mo 20+yrs | 5.09 | 2.27 | 2.71 | 2.27 | 2.71 | 0.17 | 7.53 | 7.97 | 7.53 | 7.97 | XXX
G0318 |  | A | ESRD related svs 2-3 mo 20+y | 4.24 | 1.71 | 2.21 | 1.71 | 2.21 | 0.14 | 6.09 | 6.59 | 6.09 | 6.59 | XXX
G0319 |  | A | ESRD related svs 1visit 20+y | 3.39 | 1.14 | 1.71 | 1.14 | 1.71 | 0.11 | 4.64 | 5.21 | 4.64 | 5.21 | XXX
G0320 |  | A | ESD related svs home undr 2 | 10.61 | 2.68 | 6.00 | 2.68 | 6.00 | 0.36 | 13.65 | 16.97 | 13.65 | 16.97 | XXX
G0321 |  | A | ESRDrelatedsvs home mo 2-11y | 8.11 | 1.99 | 3.44 | 1.99 | 3.44 | 0.29 | 10.39 | 11.84 | 10.39 | 11.84 | XXX
G0322 |  | A | ESRD related svs hom mo12-19 | 6.90 | 1.73 | 3.19 | 1.73 | 3.19 | 0.23 | 8.86 | 10.32 | 8.86 | 10.32 | XXX
G0323 |  | A | ESRD related svs home mo 20+ | 4.24 | 1.16 | 2.08 | 1.16 | 2.08 | 0.14 | 5.54 | 6.46 | 5.54 | 6.46 | XXX
G0324 |  | A | ESRD relate svs home/dy <2yr | 0.35 | 0.16 | 0.22 | 0.16 | 0.22 | 0.01 | 0.52 | 0.58 | 0.52 | 0.58 | XXX
G0325 |  | A | ESRD relate home/day/ 2-11yr | 0.23 | 0.09 | 0.11 | 0.09 | 0.11 | 0.01 | 0.33 | 0.35 | 0.33 | 0.35 | XXX
G0326 |  | A | ESRD relate home/dy 12-19yr | 0.27 | 0.10 | 0.12 | 0.10 | 0.12 | 0.01 | 0.38 | 0.40 | 0.38 | 0.40 | XXX
G0327 |  | A | ESRD relate home/dy 20+yrs | 0.14 | 0.06 | 0.08 | 0.06 | 0.08 | 0.01 | 0.21 | 0.23 | 0.21 | 0.23 | XXX
G0329 |  | A | Electromagntic tx for ulcers | 0.06 | 0.16 | 0.15 | NA | NA | 0.01 | 0.23 | 0.22 | NA | NA | XXX
G0332 |  | D | Preadmin IV immunoglobulin | 0.00 | 0.00 | 0.00 | 0.00 | 0.00 | 0.00 | 0.00 | 0.00 | 0.00 | 0.00 | XXX
G0337 |  | X | Hospice evaluation preelecti | 1.34 | 0.31 | 0.46 | 0.31 | 0.46 | 0.09 | 1.74 | 1.89 | 1.74 | 1.89 | XXX
G0339 |  | C | Robot lin-radsurg com, first | 0.00 | 0.00 | 0.00 | 0.00 | 0.00 | 0.00 | 0.00 | 0.00 | 0.00 | 0.00 | XXX
G0340 |  | C | Robt lin-radsurg fractx 2-5 | 0.00 | 0.00 | 0.00 | 0.00 | 0.00 | 0.00 | 0.00 | 0.00 | 0.00 | 0.00 | XXX
G0341 |  | A | Percutaneous islet celltrans | 6.98 | NA | NA | 2.14 | 2.48 | 0.48 | NA | NA | 9.60 | 9.94 | 000
G0342 |  | A | Laparoscopy islet cell trans | 11.92 | NA | NA | 5.13 | 5.25 | 1.46 | NA | NA | 18.51 | 18.63 | 090
G0343 |  | A | Laparotomy islet cell transp | 19.85 | NA | NA | 8.69 | 8.74 | 2.06 | NA | NA | 30.60 | 30.65 | 090
G0344 |  | A | Initial preventive exam | 1.34 | 1.10 | 1.12 | 0.42 | 0.47 | 0.10 | 2.54 | 2.56 | 1.86 | 1.91 | XXX
G0364 |  | A | Bone marrow aspirate &biopsy | 0.16 | 0.16 | 0.15 | 0.07 | 0.06 | 0.04 | 0.36 | 0.35 | 0.27 | 0.26 | ZZZ
G0365 |  | A | Vessel mapping hemo access | 0.25 | 5.34 | 4.33 | NA | NA | 0.25 | 5.84 | 4.83 | NA | NA | XXX
G0365 | 26 | A | Vessel mapping hemo access | 0.25 | 0.07 | 0.09 | 0.07 | 0.09 | 0.02 | 0.34 | 0.36 | 0.34 | 0.36 | XXX
G0365 | TC | A | Vessel mapping hemo access | 0.00 | 5.27 | 4.24 | NA | NA | 0.23 | 5.50 | 4.47 | NA | NA | XXX
G0366 |  | A | EKG for initial prevent exam | 0.17 | 0.35 | 0.47 | 0.35 | 0.47 | 0.03 | 0.55 | 0.67 | 0.55 | 0.67 | XXX
G0367 |  | A | EKG tracing for initial prev | 0.00 | 0.28 | 0.41 | NA | NA | 0.02 | 0.30 | 0.43 | NA | NA | XXX
G0368 |  | A | EKG interpret & report preve | 0.17 | 0.07 | 0.06 | 0.07 | 0.06 | 0.01 | 0.25 | 0.24 | 0.25 | 0.24 | XXX
G0372 |  | A | MD service required for PMD | 0.17 | 0.04 | 0.30 | 0.04 | 0.06 | 0.01 | 0.22 | 0.48 | 0.22 | 0.24 | XXX
G0375 |  | A | Smoke/tobacco counselng 3-10 | 0.24 | 0.07 | 0.09 | 0.07 | 0.09 | 0.01 | 0.32 | 0.34 | 0.32 | 0.34 | XXX
G0376 |  | A | Smoke/tobacco counseling >10 | 0.48 | 0.13 | 0.17 | 0.13 | 0.16 | 0.01 | 0.62 | 0.66 | 0.62 | 0.65 | XXX
Gxxx1 |  | A | Ultrasound exam AAA screen | 0.58 | 2.42 | 1.81 | NA | NA | 0.11 | 3.11 | 2.50 | NA | NA | XXX
Gxxx1 | 26 | A | Ultrasound exam AAA screen | 0.58 | 0.19 | 0.19 | 0.19 | 0.19 | 0.03 | 0.80 | 0.80 | 0.80 | 0.80 | XXX
Gxxx1 | TC | A | Ultrasound exam AAA screen | 0.00 | 2.23 | 1.62 | NA | NA | 0.08 | 2.31 | 1.70 | NA | NA | XXX
M0064 |  | A | Visit for drug monitoring | 0.37 | 0.89 | 0.48 | 0.06 | 0.11 | 0.01 | 1.27 | 0.86 | 0.44 | 0.49 | XXX
P3001 |  | A | Screening pap smear by phys | 0.42 | 0.38 | 0.21 | 0.38 | 0.21 | 0.02 | 0.82 | 0.65 | 0.82 | 0.65 | XXX
Q0035 |  | A | Cardiokymography | 0.17 | 0.30 | 0.41 | NA | NA | 0.03 | 0.50 | 0.61 | NA | NA | XXX
Q0035 | 26 | A | Cardiokymography | 0.17 | 0.05 | 0.06 | 0.05 | 0.06 | 0.01 | 0.23 | 0.24 | 0.23 | 0.24 | XXX
Q0035 | TC | A | Cardiokymography | 0.00 | 0.25 | 0.36 | NA | NA | 0.02 | 0.27 | 0.38 | NA | NA | XXX
Q0091 |  | A | Obtaining screen pap smear | 0.37 | 0.76 | 0.69 | 0.10 | 0.13 | 0.02 | 1.15 | 1.08 | 0.49 | 0.52 | XXX
Q0092 |  | A | Set up port xray equipment | 0.00 | 0.50 | 0.37 | 0.50 | 0.37 | 0.01 | 0.51 | 0.38 | 0.51 | 0.38 | XXX
Q3001 |  | C | Brachytherapy Radioelements | 0.00 | 0.00 | 0.00 | 0.00 | 0.00 | 0.00 | 0.00 | 0.00 | 0.00 | 0.00 | XXX
R0070 |  | C | Transport portable x-ray | 0.00 | 0.00 | 0.00 | 0.00 | 0.00 | 0 | 0.00 | 0.00 | 0.00 | 0.00 | XXX
R0075 |  | C | Transport port x-ray multipl | 0.00 | 0.00 | 0.00 | 0.00 | 0.00 | 0 | 0.00 | 0.00 | 0.00 | 0.00 | XXX
¹ CPT codes and descriptors only are copyright 2005 American Medical Association. All rights reserved. Applicable FARS/DFARS apply.
² Copyright 2005 American Dental Association. All rights reserved.

Addendum C.—Codes for Which We Received PERC Recommendations on PE Direct Cost Inputs
CPT Codes | Short descriptor
00100 | Anesth, salivary gland
00102 | Anesth, repair of cleft lip
00103 | Anesth, blepharoplasty
00104 | Anesth, electroshock
00120 | Anesth, ear surgery
00124 | Anesth, ear exam
00126 | Anesth, tympanotomy
00140 | Anesth, procedures on eye
00142 | Anesth, lens surgery
00144 | Anesth, corneal transplant
00145 | Anesth, vitreoretinal surg
00147 | Anesth, iridectomy
00148 | Anesth, eye exam
00160 | Anesth, nose/sinus surgery
00162 | Anesth, nose/sinus surgery
00164 | Anesth, biopsy of nose
00170 | Anesth, procedure on mouth
00172 | Anesth, cleft palate repair
00174 | Anesth, pharyngeal surgery
00176 | Anesth, pharyngeal surgery
00190 | Anesth, face/skull bone surg
00192 | Anesth, facial bone surgery
00210 | Anesth, open head surgery
00212 | Anesth, skull drainage
00214 | Anesth, skull drainage
00215 | Anesth, skull repair/fract
00216 | Anesth, head vessel surgery
00218 | Anesth, special head surgery
00220 | Anesth, intrcrn nerve
00222 | Anesth, head nerve surgery
00300 | Anesth, head/neck/ptrunk
00320 | Anesth, neck organ, 1 & over
00322 | Anesth, biopsy of thyroid
00326 | Anesth, larynx/trach, < 1 yr
00350 | Anesth, neck vessel surgery
00352 | Anesth, neck vessel surgery
00400 | Anesth, skin, ext/per/atrunk
00402 | Anesth, surgery of breast
00404 | Anesth, surgery of breast
00406 | Anesth, surgery of breast
00410 | Anesth, correct heart rhythm
00450 | Anesth, surgery of shoulder
00452 | Anesth, surgery of shoulder
00454 | Anesth, collar bone biopsy
00470 | Anesth, removal of rib
00472 | Anesth, chest wall repair
00474 | Anesth, surgery of rib(s)
00500 | Anesth, esophageal surgery
00520 | Anesth, chest procedure
00522 | Anesth, chest lining biopsy
00524 | Anesth, chest drainage
00528 | Anesth, chest partition view
00529 | Anesth, chest partition view
00530 | Anesth, pacemaker insertion
00532 | Anesth, vascular access
00534 | Anesth, cardioverter/defib
00537 | Anesth, cardiac electrophys
00539 | Anesth, trach-bronch reconst
00540 | Anesth, chest surgery
00541 | Anesth, one lung ventilation
00542 | Anesth, release of lung
00546 | Anesth, lung,chest wall surg
00548 | Anesth, trachea,bronchi surg
00550 | Anesth, sternal debridement
00560 | Anesth, heart surg w/o pump
00561 | Anesth, heart surg < age 1
00562 | Anesth, heart surg w/pump
00563 | Anesth, heart surg w/arrest
00566 | Anesth, cabg w/o pump
00580 | Anesth, heart/lung transplnt
00600 | Anesth, spine, cord surgery
00604 | Anesth, sitting procedure
00620 | Anesth, spine, cord surgery
00622 | Anesth, removal of nerves
00630 | Anesth, spine, cord surgery
00632 | Anesth, removal of nerves
00634 | Anesth for chemonucleolysis
00635 | Anesth, lumbar puncture
00640 | Anesth, spine manipulation
00670 | Anesth, spine, cord surgery
00700 | Anesth, abdominal wall surg
00702 | Anesth, for liver biopsy
00730 | Anesth, abdominal wall surg
00740 | Anesth, upper gi visualize
00750 | Anesth, repair of hernia
00752 | Anesth, repair of hernia
00754 | Anesth, repair of hernia
00756 | Anesth, repair of hernia
00770 | Anesth, blood vessel repair
00790 | Anesth, surg upper abdomen
00792 | Anesth, hemorr/excise liver
00794 | Anesth, pancreas removal
00796 | Anesth, for liver transplant
00797 | Anesth, surgery for obesity
00800 | Anesth, abdominal wall surg
00802 | Anesth, fat layer removal
00810 | Anesth, low intestine scope
00820 | Anesth, abdominal wall surg
00830 | Anesth, repair of hernia
00832 | Anesth, repair of hernia
00834 | Anesth, hernia repair < 1 yr
00836 | Anesth hernia repair preemie
00840 | Anesth, surg lower abdomen
00842 | Anesth, amniocentesis
00844 | Anesth, pelvis surgery
00846 | Anesth, hysterectomy
00848 | Anesth, pelvic organ surg
00851 | Anesth, tubal ligation
00860 | Anesth, surgery of abdomen
00862 | Anesth, kidney/ureter surg
00864 | Anesth, removal of bladder
00865 | Anesth, removal of prostate
00866 | Anesth, removal of adrenal
00868 | Anesth, kidney transplant
00870 | Anesth, bladder stone surg
00872 | Anesth kidney stone destruct
00873 | Anesth kidney stone destruct
00880 | Anesth, abdomen vessel surg
00882 | Anesth, major vein ligation
00902 | Anesth, anorectal surgery
00904 | Anesth, perineal surgery
00906 | Anesth, removal of vulva
00908 | Anesth, removal of prostate
00910 | Anesth, bladder surgery
00912 | Anesth, bladder tumor surg
00914 | Anesth, removal of prostate
00916 | Anesth, bleeding control
00918 | Anesth, stone removal
00920 | Anesth, genitalia surgery
00921 | Anesth, vasectomy
00922 | Anesth, sperm duct surgery
00924 | Anesth, testis exploration
00926 | Anesth, removal of testis
00928 | Anesth, removal of testis
00930 | Anesth, testis suspension
00932 | Anesth, amputation of penis
00934 | Anesth, penis, nodes removal
00936 | Anesth, penis, nodes removal
00938 | Anesth, insert penis device
00940 | Anesth, vaginal procedures
00942 | Anesth, surg on vag/urethral
00944 | Anesth, vaginal hysterectomy
00948 | Anesth, repair of cervix
00950 | Anesth, vaginal endoscopy
00952 | Anesth, hysteroscope/graph
01112 | Anesth, bone aspirate/bx
01120 | Anesth, pelvis surgery
01130 | Anesth, body cast procedure
01140 | Anesth, amputation at pelvis
01150 | Anesth, pelvic tumor surgery
01160 | Anesth, pelvis procedure
01170 | Anesth, pelvis surgery
01173 | Anesth, fx repair, pelvis
01180 | Anesth, pelvis nerve removal
01190 | Anesth, pelvis nerve removal
01200 | Anesth, hip joint procedure
01202 | Anesth, arthroscopy of hip
01210 | Anesth, hip joint surgery
01212 | Anesth, hip disarticulation
01214 | Anesth, hip arthroplasty
01215 | Anesth, revise hip repair
01220 | Anesth, procedure on femur
01230 | Anesth, surgery of femur
01232 | Anesth, amputation of femur
01234 | Anesth, radical femur surg
01250 | Anesth, upper leg surgery
01260 | Anesth, upper leg veins surg
01270 | Anesth, thigh arteries surg
01272 | Anesth, femoral artery surg
01274 | Anesth, femoral embolectomy
01320 | Anesth, knee area surgery
01340 | Anesth, knee area procedure
01360 | Anesth, knee area surgery
01380 | Anesth, knee joint procedure
01382 | Anesth, dx knee arthroscopy
01390 | Anesth, knee area procedure
01392 | Anesth, knee area surgery
01400 | Anesth, knee joint surgery
01402 | Anesth, knee arthroplasty
01404 | Anesth, amputation at knee
01420 | Anesth, knee joint casting
01430 | Anesth, knee veins surgery
01432 | Anesth, knee vessel surg
01440 | Anesth, knee arteries surg
01442 | Anesth, knee artery surg
01444 | Anesth, knee artery repair
01462 | Anesth, lower leg procedure
01464 | Anesth, ankle/ft arthroscopy
01470 | Anesth, lower leg surgery
01472 | Anesth, achilles tendon surg
01474 | Anesth, lower leg surgery
01480 | Anesth, lower leg bone surg
01482 | Anesth, radical leg surgery
01484 | Anesth, lower leg revision
01486 | Anesth, ankle replacement
01490 | Anesth, lower leg casting
01500 | Anesth, leg arteries surg
01502 | Anesth, lwr leg embolectomy
01520 | Anesth, lower leg vein surg
01522 | Anesth, lower leg vein surg
01610 | Anesth, surgery of shoulder
01620 | Anesth, shoulder procedure
01622 | Anes dx shoulder arthroscopy
01630 | Anesth, surgery of shoulder
01632 | Anesth, surgery of shoulder
01634 | Anesth, shoulder joint amput
01636 | Anesth, forequarter amput
01638 | Anesth, shoulder replacement
01650 | Anesth, shoulder artery surg
01652 | Anesth, shoulder vessel surg
01654 | Anesth, shoulder vessel surg
01656 | Anesth, arm-leg vessel surg
01670 | Anesth, shoulder vein surg
01680 | Anesth, shoulder casting
01682 | Anesth, airplane cast
01710 | Anesth, elbow area surgery
01712 | Anesth, uppr arm tendon surg
01714 | Anesth, uppr arm tendon surg
01716 | Anesth, biceps tendon repair
01730 | Anesth, uppr arm procedure
01732 | Anesth, dx elbow arthroscopy
01740 | Anesth, upper arm surgery
01742 | Anesth, humerus surgery
01744 | Anesth, humerus repair
01756 | Anesth, radical humerus surg
01758 | Anesth, humeral lesion surg
01760 | Anesth, elbow replacement
01770 | Anesth, uppr arm artery surg
01772 | Anesth, uppr arm embolectomy
01780 | Anesth, upper arm vein surg
01782 | Anesth, uppr arm vein repair
01810 | Anesth, lower arm surgery
01820 | Anesth, lower arm procedure
01829 | Anesth, dx wrist arthroscopy
01830 | Anesth, lower arm surgery
01832 | Anesth, wrist replacement
01840 | Anesth, lwr arm artery surg
01842 | Anesth, lwr arm embolectomy
01844 | Anesth, vascular shunt surg
01850 | Anesth, lower arm vein surg
01852 | Anesth, lwr arm vein repair
01860 | Anesth, lower arm casting
01905 | Anes, spine inject, x-ray/re
01916 | Anesth, dx arteriography
01920 | Anesth, catheterize heart
01922 | Anesth, cat or mri scan
01924 | Anes, ther interven rad, art
01925 | Anes, ther interven rad, car
01926 | Anes, tx interv rad hrt/cran
01930 | Anes, ther interven rad, vei
01931 | Anes, ther interven rad, tip
01932 | Anes, tx interv rad, th vein
01933 | Anes, tx interv rad, cran v
01951 | Anesth, burn, less 4 percent
01952 | Anesth, burn, 4-9 percent
01953 | Anesth, burn, each 9 percent
01958 | Anesth, antepartum manipul
01960 | Anesth, vaginal delivery
01961 | Anesth, cs delivery
01962 | Anesth, emer hysterectomy
01963 | Anesth, cs hysterectomy
01965 | Anesth, inc/missed ab proc
01966 | Anesth, induced ab procedure
01967 | Anesth/analg, vag delivery
01968 | Anes/analg cs deliver add-on
01969 | Anesth/analg cs hyst add-on
01990 | Support for organ donor
01991 | Anesth, nerve block/inj
01992 | Anesth, n block/inj, prone
01995 | Regional anesthesia limb
01996 | Hosp manage cont drug admin
01999 | Unlisted anesth procedure
23500 | Treat clavicle fracture
23680 | Treat dislocation/fracture
24130 | Removal of head of radius
24134 | Removal of arm bone lesion
24136 | Remove radius bone lesion
24138 | Remove elbow bone lesion
24140 | Partial removal of arm bone
24145 | Partial removal of radius
24147 | Partial removal of elbow
24495 | Decompression of forearm
24500 | Treat humerus fracture
24500 | Treat humerus fracture
24505 | Treat humerus fracture
24515 | Treat humerus fracture
24516 | Treat humerus fracture
24530 | Treat humerus fracture
24535 | Treat humerus fracture
24538 | Treat humerus fracture
24545 | Treat humerus fracture
24546 | Treat humerus fracture
24560 | Treat humerus fracture
24565 | Treat humerus fracture
24566 | Treat humerus fracture
24575 | Treat humerus fracture
24576 | Treat humerus fracture
24577 | Treat humerus fracture
24579 | Treat humerus fracture
24582 | Treat humerus fracture
24586 | Treat elbow fracture
24587 | Treat elbow fracture
24600 | Treat elbow dislocation
24605 | Treat elbow dislocation
24615 | Treat elbow dislocation
24620 | Treat elbow fracture
24635 | Treat elbow fracture
24640 | Treat elbow dislocation
24650 | Treat radius fracture
24655 | Treat radius fracture
24665 | Treat radius fracture
24666 | Treat radius fracture
24670 | Treat ulnar fracture
24675 | Treat ulnar fracture
24685 | Treat ulnar fracture
25000 | Incision of tendon sheath
25020 | Decompress forearm 1 space
25023 | Decompress forearm 1 space
25028 | Drainage of forearm lesion
25031 | Drainage of forearm bursa
25035 | Treat forearm bone lesion
25040 | Explore/treat wrist joint
25066 | Biopsy forearm soft tissues
25075 | Removal forearm lesion subcu
25076 | Removal forearm lesion deep
25077 | Remove tumor, forearm/wrist
25085 | Incision of wrist capsule
25100 | Biopsy of wrist joint
25101 | Explore/treat wrist joint
25105 | Remove wrist joint lining
25107 | Remove wrist joint cartilage
25110 | Remove wrist tendon lesion
25111 | Remove wrist tendon lesion
25112 | Reremove wrist tendon lesion
25115 | Remove wrist/forearm lesion
25116 | Remove wrist/forearm lesion
25118 | Excise wrist tendon sheath
25119 | Partial removal of ulna
25120 | Removal of forearm lesion
25125 | Remove/graft forearm lesion
25126 | Remove/graft forearm lesion
25130 | Removal of wrist lesion
25135 | Remove & graft wrist lesion
25136 | Remove & graft wrist lesion
25145 | Remove forearm bone lesion
25150 | Partial removal of ulna
25151 | Partial removal of radius
25170 | Extensive forearm surgery
25210 | Removal of wrist bone
25215 | Removal of wrist bones
25230 | Partial removal of radius
25240 | Partial removal of ulna
25248 | Remove forearm foreign body
25260 | Repair forearm tendon/muscle
25263 | Repair forearm tendon/muscle
25265 | Repair forearm tendon/muscle
25270 | Repair forearm tendon/muscle
25272 | Repair forearm tendon/muscle
25274 | Repair forearm tendon/muscle
25280 | Revise wrist/forearm tendon
25290 | Incise wrist/forearm tendon
25295 | Release wrist/forearm tendon
25300 | Fusion of tendons at wrist
25301 | Fusion of tendons at wrist
25310 | Transplant forearm tendon
25312 | Transplant forearm tendon
25315 | Revise palsy hand tendon(s)
25316 | Revise palsy hand tendon(s)
25320 | Repair/revise wrist joint
25335 | Realignment of hand
25337 | Reconstruct ulna/radioulnar
25350 | Revision of radius
25355 | Revision of radius
25360 | Revision of ulna
25365 | Revise radius & ulna
25370 | Revise radius or ulna
25375 | Revise radius & ulna
25390 | Shorten radius or ulna
25391 | Lengthen radius or ulna
25392 | Shorten radius & ulna
25393 | Lengthen radius & ulna
25400 | Repair radius or ulna
25405 | Repair/graft radius or ulna
25415 | Repair radius & ulna
25420 | Repair/graft radius & ulna
25425 | Repair/graft radius or ulna
25426 | Repair/graft radius & ulna
25440 | Repair/graft wrist bone
25450 | Revision of wrist joint
25455 | Revision of wrist joint
25490 | Reinforce radius
25491 | Reinforce ulna
25492 | Reinforce radius and ulna
25500 | Treat fracture of radius
25505 | Treat fracture of radius
25515 | Treat fracture of radius
25520 | Treat fracture of radius
25525 | Treat fracture of radius
25526 | Treat fracture of radius
25530 | Treat fracture of ulna
25535 | Treat fracture of ulna
25545 | Treat fracture of ulna
25560 | Treat fracture radius & ulna
25565 | Treat fracture radius & ulna
25574 | Treat fracture radius & ulna
25575 | Treat fracture radius/ulna
25600 | Treat fracture radius/ulna
25605 | Treat fracture radius/ulna
25611 | Treat fracture radius/ulna
25620 | Treat fracture radius/ulna
25622 | Treat wrist bone fracture
25624 | Treat wrist bone fracture
25628 | Treat wrist bone fracture
25630 | Treat wrist bone fracture
25635 | Treat wrist bone fracture
25645 | Treat wrist bone fracture
25650 | Treat wrist bone fracture
25651 | Pin ulnar styloid fracture
25652 | Treat fracture ulnar styloid
25660 | Treat wrist dislocation
25670 | Treat wrist dislocation
25671 | Pin radioulnar dislocation
25675 | Treat wrist dislocation
25676 | Treat wrist dislocation
25680 | Treat wrist fracture
25685 | Treat wrist fracture
25690 | Treat wrist dislocation
25695 | Treat wrist dislocation
25800 | Fusion of wrist joint
25805 | Fusion/graft of wrist joint
25810 | Fusion/graft of wrist joint
25820 | Fusion of hand bones
25825 | Fuse hand bones with graft
25830 | Fusion, radioulnar jnt/ulna
25900 | Amputation of forearm
25905 | Amputation of forearm
25907 | Amputation follow-up surgery
25909 | Amputation follow-up surgery
25915 | Amputation of forearm
25920 | Amputate hand at wrist
25922 | Amputate hand at wrist
25924 | Amputation follow-up surgery
25927 | Amputation of hand
25929 | Amputation follow-up surgery
25931 | Amputation follow-up surgery
26350 | Repair finger/hand tendon
26352 | Repair/graft hand tendon
26356 | Repair finger/hand tendon
26357 | Repair finger/hand tendon
26358 | Repair/graft hand tendon
26370 | Repair finger/hand tendon
26372 | Repair/graft hand tendon
26373 | Repair finger/hand tendon
26390 | Revise hand/finger tendon
26392 | Repair/graft hand tendon
26410 | Repair hand tendon
26412 | Repair/graft hand tendon
26415 | Excision, hand/finger tendon
26416 | Graft hand or finger tendon
26418 | Repair finger tendon
26420 | Repair/graft finger tendon
26426 | Repair finger/hand tendon
26428 | Repair/graft finger tendon
26432 | Repair finger tendon
26433 | Repair finger tendon
26434 | Repair/graft finger tendon
26437 | Realignment of tendons
26440 | Release palm/finger tendon
26442 | Release palm & finger tendon
26445 | Release hand/finger tendon
26449 | Release forearm/hand tendon
26450 | Incision of palm tendon
26455 | Incision of finger tendon
26460 | Incise hand/finger tendon
26471 | Fusion of finger tendons
26474 | Fusion of finger tendons
26476 | Tendon lengthening
26477 | Tendon shortening
26478 | Lengthening of hand tendon
26479 | Shortening of hand tendon
26480 | Transplant hand tendon
26483 | Transplant/graft hand tendon
26485 | Transplant palm tendon
26489 | Transplant/graft palm tendon
26490 | Revise thumb tendon
26492 | Tendon transfer with graft
26494 | Hand tendon/muscle transfer
26496 | Revise thumb tendon
26497 | Finger tendon transfer
26498 | Finger tendon transfer
26499 | Revision of finger
26500 | Hand tendon reconstruction
26502 | Hand tendon reconstruction
26504 | Hand tendon reconstruction
26508 | Release thumb contracture
26510 | Thumb tendon transfer
26516 | Fusion of knuckle joint
26517 | Fusion of knuckle joints
26518 | Fusion of knuckle joints
26520 | Release knuckle contracture
26525 | Release finger contracture
26536 | Revise/implant finger joint
26540 | Repair hand joint
26541 | Repair hand joint with graft
26542 | Repair hand joint with graft
26545 | Reconstruct finger joint
26548 | Reconstruct finger joint
26550 | Construct thumb replacement
26555 | Positional change of finger
26560 | Repair of web finger
26561 | Repair of web finger
26562 | Repair of web finger
26565 | Correct metacarpal flaw
26567 | Correct finger deformity
26568 | Lengthen metacarpal/finger
26580 | Repair hand deformity
26590 | Repair finger deformity
26591 | Repair muscles of hand
26593 | Release muscles of hand
26596 | Excision constricting tissue
26600 | Treat metacarpal fracture
26605 | Treat metacarpal fracture
26607 | Treat metacarpal fracture
26608 | Treat metacarpal fracture
26615 | Treat metacarpal fracture
26641 | Treat thumb dislocation
26645 | Treat thumb fracture
26650 | Treat thumb fracture
26665 | Treat thumb fracture
26670 | Treat hand dislocation
26675 | Treat hand dislocation
26676 | Pin hand dislocation
26685 | Treat hand dislocation
26686 | Treat hand dislocation
26700 | Treat knuckle dislocation
26705 | Treat knuckle dislocation
26706 | Pin knuckle dislocation
26715 | Treat knuckle dislocation
26720 | Treat finger fracture, each
26725 | Treat finger fracture, each
26727 | Treat finger fracture, each
26735 | Treat finger fracture, each
26740 | Treat finger fracture, each
26742 | Treat finger fracture, each
26746 | Treat finger fracture, each
26750 | Treat finger fracture, each
26755 | Treat finger fracture, each
26756 | Pin finger fracture, each
26765 | Treat finger fracture, each
26770 | Treat finger dislocation
26775 | Treat finger dislocation
26776 | Pin finger dislocation
26785 | Treat finger dislocation
26820 | Thumb fusion with graft
26841 | Fusion of thumb
26842 | Thumb fusion with graft
26843 | Fusion of hand joint
26844 | Fusion/graft of hand joint
26850 | Fusion of knuckle
26852 | Fusion of knuckle with graft
26860 | Fusion of finger joint
26862 | Fusion/graft of finger joint
26910 | Amputate metacarpal bone
26951 | Amputation of finger/thumb
26952 | Amputation of finger/thumb
27000 | Incision of hip tendon
27001 | Incision of hip tendon
27003 | Incision of hip tendon
27005 | Incision of hip tendon
27006 | Incision of hip tendons
27025 | Incision of hip/thigh fascia
27030 | Drainage of hip joint
27033 | Exploration of hip joint
27035 | Denervation of hip joint
27041 | Biopsy of soft tissues
27048 | Remove hip/pelvis lesion
27049 | Remove tumor, hip/pelvis
27050 | Biopsy of sacroiliac joint
27052 | Biopsy of hip joint
27054 | Removal of hip joint lining
27060 | Removal of ischial bursa
27062 | Remove femur lesion/bursa
27065 | Removal of hip bone lesion
27066 | Removal of hip bone lesion
27067 | Remove/graft hip bone lesion
27075 | Extensive hip surgery
27076 | Extensive hip surgery
27077 | Extensive hip surgery
27078 | Extensive hip surgery
27079 | Extensive hip surgery
27080 | Removal of tail bone
27087 | Remove hip foreign body
27202 | Treat tail bone fracture
27310 | Exploration of knee joint
27315 | Partial removal, thigh nerve
27320 | Partial removal, thigh nerve
27324 | Biopsy, thigh soft tissues
27328 | Removal of thigh lesion
27329 | Remove tumor, thigh/knee
27330 | Biopsy, knee joint lining
27331 | Explore/treat knee joint
27332 | Removal of knee cartilage
27333 | Removal of knee cartilage
27334 | Remove knee joint lining
27335 | Remove knee joint lining
27340 | Removal of kneecap bursa
27345 | Removal of knee cyst
27350 | Removal of kneecap
27355 | Remove femur lesion
27356 | Remove femur lesion/graft
27357 | Remove femur lesion/graft
27365 | Extensive leg surgery
27380 | Repair of kneecap tendon
27381 | Repair/graft kneecap tendon
27385 | Repair of thigh muscle
27386 | Repair/graft of thigh muscle
27455 | Realignment of knee
27500 | Treatment of thigh fracture
27501 | Treatment of thigh fracture
27502 | Treatment of thigh fracture
27506 | Treatment of thigh fracture
27507 | Treatment of thigh fracture
27508 | Treatment of thigh fracture
27509 | Treatment of thigh fracture
27510 | Treatment of thigh fracture
27511 | Treatment of thigh fracture
27513 | Treatment of thigh fracture
27514 | Treatment of thigh fracture
27516 | Treat thigh fx growth plate
27517 | Treat thigh fx growth plate
27519 | Treat thigh fx growth plate
27520 | Treat kneecap fracture
27524 | Treat kneecap fracture
27530 | Treat knee fracture
27532 | Treat knee fracture
27535 | Treat knee fracture
27536 | Treat knee fracture
27538 | Treat knee fracture(s)
27540 | Treat knee fracture
27550 | Treat knee dislocation
27552 | Treat knee dislocation
27556 | Treat knee dislocation
27557 | Treat knee dislocation
27558 | Treat knee dislocation
27560 | Treat kneecap dislocation
27562 | Treat kneecap dislocation
27566 | Treat kneecap dislocation
27580 | Fusion of knee
27590 | Amputate leg at thigh
27591 | Amputate leg at thigh
27592 | Amputate leg at thigh
27594 | Amputation follow-up surgery
27596 | Amputation follow-up surgery
27598 | Amputate lower leg at knee
27600 | Decompression of lower leg
27601 | Decompression of lower leg
27602 | Decompression of lower leg
27607 | Treat lower leg bone lesion
27610 | Explore/treat ankle joint
27612 | Exploration of ankle joint
27615 | Remove tumor, lower leg
27620 | Explore/treat ankle joint
27625 | Remove ankle joint lining
27626 | Remove ankle joint lining
27635 | Remove lower leg bone lesion
27637 | Remove/graft leg bone lesion
27638 | Remove/graft leg bone lesion
27640 | Partial removal of tibia
27641 | Partial removal of fibula
27645 | Extensive lower leg surgery
27646 | Extensive lower leg surgery
27647 | Extensive ankle/heel surgery
27650 | Repair achilles tendon
27652 | Repair/graft achilles tendon
27654 | Repair of achilles tendon
27675 | Repair lower leg tendons
27676 | Repair lower leg tendons
27680 | Release of lower leg tendon
27681 | Release of lower leg tendons
27687 | Revision of calf tendon
27690 | Revise lower leg tendon
27691 | Revise lower leg tendon
27695 | Repair of ankle ligament
27696 | Repair of ankle ligaments
27698 | Repair of ankle ligament
27705 | Incision of tibia
27707 | Incision of fibula
27709 | Incision of tibia & fibula
27712 | Realignment of lower leg
27715 | Revision of lower leg
27720 | Repair of tibia
27722 | Repair/graft of tibia
27724 | Repair/graft of tibia
27725 | Repair of lower leg
27727 | Repair of lower leg
27734 | Repair lower leg epiphyses
27745 | Reinforce tibia
27750 | Treatment of tibia fracture
27752 | Treatment of tibia fracture
27756 | Treatment of tibia fracture
27758 | Treatment of tibia fracture
27759 | Treatment of tibia fracture
27760 | Treatment of ankle fracture
27762 | Treatment of ankle fracture
27766 | Treatment of ankle fracture
27780 | Treatment of fibula fracture
27781 | Treatment of fibula fracture
27784 | Treatment of fibula fracture
27786 | Treatment of ankle fracture
27788 | Treatment of ankle fracture
27792 | Treatment of ankle fracture
27808 | Treatment of ankle fracture
27810 | Treatment of ankle fracture
27814 | Treatment of ankle fracture
27816 | Treatment of ankle fracture
27818 | Treatment of ankle fracture
27822 | Treatment of ankle fracture
27823 | Treatment of ankle fracture
27824 | Treat lower leg fracture
27825 | Treat lower leg fracture
27826 | Treat lower leg fracture
27827 | Treat lower leg fracture
27828 | Treat lower leg fracture
27829 | Treat lower leg joint
27830 | Treat lower leg dislocation
27831 | Treat lower leg dislocation
27832 | Treat lower leg dislocation
27840 | Treat ankle dislocation
27842 | Treat ankle dislocation
27846 | Treat ankle dislocation
27848 | Treat ankle dislocation
27870 | Fusion of ankle joint, open
27871 | Fusion of tibiofibular joint
27880 | Amputation of lower leg
27881 | Amputation of lower leg
27882 | Amputation of lower leg
27884 | Amputation follow-up surgery
27886 | Amputation follow-up surgery
27888 | Amputation of foot at ankle
27889 | Amputation of foot at ankle
27892 | Decompression of leg
27893 | Decompression of leg
27894 | Decompression of leg
28030 | Removal of foot nerve
28102 | Remove/graft foot lesion
28106 | Remove/graft foot lesion
28130 | Removal of ankle bone
28309 | Incision of metatarsals
28320 | Repair of foot bones
28400 | Treatment of heel fracture
28405 | Treatment of heel fracture
28406 | Treatment of heel fracture
28415 | Treat heel fracture
28420 | Treat/graft heel fracture
28430 | Treatment of ankle fracture
28435 | Treatment of ankle fracture
28436 | Treatment of ankle fracture
28445 | Treat ankle fracture
28450 | Treat midfoot fracture, each
28455 | Treat midfoot fracture, each
28456 | Treat midfoot fracture
28465 | Treat midfoot fracture, each
28470 | Treat metatarsal fracture
28475 | Treat metatarsal fracture
28476 | Treat metatarsal fracture
28485 | Treat metatarsal fracture
28490 | Treat big toe fracture
28495 | Treat big toe fracture
28496 | Treat big toe fracture
28505 | Treat big toe fracture
28510 | Treatment of toe fracture
28515 | Treatment of toe fracture
28525 | Treat toe fracture
28530 | Treat sesamoid bone fracture
28531 | Treat sesamoid bone fracture
28540 | Treat foot dislocation
28545 | Treat foot dislocation
28546 | Treat foot dislocation
28555 | Repair foot dislocation
28570 | Treat foot dislocation
28575 | Treat foot dislocation
28576 | Treat foot dislocation
28585 | Repair foot dislocation
28600 | Treat foot dislocation
28605 | Treat foot dislocation
28606 | Treat foot dislocation
28615 | Repair foot dislocation
28630 | Treat toe dislocation
28635 | Treat toe dislocation
28636 | Treat toe dislocation
28645 | Repair toe dislocation
28660 | Treat toe dislocation
28665 | Treat toe dislocation
28666 | Treat toe dislocation
28675 | Repair of toe dislocation
28705 | Fusion of foot bones
28715 | Fusion of foot bones
28725 | Fusion of foot bones
28730 | Fusion of foot bones
28735 | Fusion of foot bones
28737 | Revision of foot bones
29000 | Application of body cast
29010 | Application of body cast
29015 | Application of body cast
29020 | Application of body cast
29025 | Application of body cast
29035 | Application of body cast
29040 | Application of body cast
29044 | Application of body cast
29046 | Application of body cast
29049 | Application of figure eight
29055 | Application of shoulder cast
29058 | Application of shoulder cast
29065 | Application of long arm cast
29075 | Application of forearm cast
29085 | Apply hand/wrist cast
29086 | Apply finger cast
29105 | Apply long arm splint
29125 | Apply forearm splint
29126 | Apply forearm splint
29130 | Application of finger splint
29131 | Application of finger splint
29200 | Strapping of chest
29220 | Strapping of low back
29240 | Strapping of shoulder
29260 | Strapping of elbow or wrist
29280 | Strapping of hand or finger
29305 | Application of hip cast
29325 | Application of hip casts
29345 | Application of long leg cast
29355 | Application of long leg cast
29358 | Apply long leg cast brace
29365 | Application of long leg cast
29405 | Apply short leg cast
29425 | Apply short leg cast
29435 | Apply short leg cast
29440 | Addition of walker to cast
29445 | Apply rigid leg cast
29450 | Application of leg cast
29505 | Application, long leg splint
29515 | Application lower leg splint
29520 | Strapping of hip
29530 | Strapping of knee
29540 | Strapping of ankle and/or ft
29550 | Strapping of toes
29580 | Application of paste boot
29590 | Application of foot splint
29700 | Removal/revision of cast
29705 | Removal/revision of cast
29710 | Removal/revision of cast
29715 | Removal/revision of cast
29720 | Repair of body cast
29730 | Windowing of cast
29740 | Wedging of cast
29750 | Wedging of clubfoot cast
29800 | Jaw arthroscopy/surgery
29804 | Jaw arthroscopy/surgery
31760 | Repair of windpipe
31766 | Reconstruction of windpipe
31770 | Repair/graft of bronchus
31775 | Reconstruct bronchus
31780 | Reconstruct windpipe
31781 | Reconstruct windpipe
31785 | Remove windpipe lesion
31786 | Remove windpipe lesion
31805 | Repair of windpipe injury
32035 | Exploration of chest
32036 | Exploration of chest
32095 | Biopsy through chest wall
32100 | Exploration/biopsy of chest
32110 | Explore/repair chest
32120 | Re-exploration of chest
32124 | Explore chest free adhesions
32140 | Removal of lung lesion(s)
32141 | Remove/treat lung lesions
32150 | Removal of lung lesion(s)
32151 | Remove lung foreign body
32160 | Open chest heart massage
32200 | Drain, open, lung lesion
33015 | Incision of heart sac
33414 | Repair of aortic valve
33415 | Revision, subvalvular tissue
33417 | Repair of aortic valve
33468 | Revision of tricuspid valve
33470 | Revision of pulmonary valve
33471 | Valvotomy, pulmonary valve
33503 | Coronary artery graft
33504 | Coronary artery graft
33505 | Repair artery w/tunnel
33506 | Repair artery, translocation
33600 | Closure of valve
33602 | Closure of valve
33606 | Anastomosis/artery-aorta
33608 | Repair anomaly w/conduit
33610 | Repair by enlargement
33611 | Repair double ventricle
33612 | Repair double ventricle
33615 | Repair, modified fontan
33617 | Repair single ventricle
33619 | Repair single ventricle
33645 | Revision of heart veins
33647 | Repair heart septum defects
33660 | Repair of heart defects
33665 | Repair of heart defects
33670 | Repair of heart chambers
33681 | Repair heart septum defect
33684 | Repair heart septum defect
33688 | Repair heart septum defect
33690 | Reinforce pulmonary artery
33692 | Repair of heart defects
33694 | Repair of heart defects
33697 | Repair of heart defects
33702 | Repair of heart defects
33710 | Repair of heart defects
33720 | Repair of heart defect
33722 | Repair of heart defect
33730 | Repair heart-vein defect(s)
33732 | Repair heart-vein defect
33735 | Revision of heart chamber
33736 | Revision of heart chamber
33737 | Revision of heart chamber
33750 | Major vessel shunt
33755 | Major vessel shunt
33762 | Major vessel shunt
33764 | Major vessel shunt & graft
33766 | Major vessel shunt
33767 | Major vessel shunt
33770 | Repair great vessels defect
33771 | Repair great vessels defect
33774 | Repair great vessels defect
33775 | Repair great vessels defect
33776 | Repair great vessels defect
33777 | Repair great vessels defect
33778 | Repair great vessels defect
33779 | Repair great vessels defect
33780 | Repair great vessels defect
33781 | Repair great vessels defect
33786 | Repair arterial trunk
33788 | Revision of pulmonary artery
33800 | Aortic suspension
33802 | Repair vessel defect
33803 | Repair vessel defect
33813 | Repair septal defect
33814 | Repair septal defect
33820 | Revise major vessel
33822 | Revise major vessel
33840 | Remove aorta constriction
33845 | Remove aorta constriction
33851 | Remove aorta constriction
33852 | Repair septal defect
33853 | Repair septal defect
33917 | Repair pulmonary artery
33920 | Repair pulmonary atresia
33922 | Transect pulmonary artery
34001 | Removal of artery clot
34051 | Removal of artery clot
34101 | Removal of artery clot
34111 | Removal of arm artery clot
34201 | Removal of artery clot
34203 | Removal of leg artery clot
34401 | Removal of vein clot
34421 | Removal of vein clot
34451 | Removal of vein clot
34471 | Removal of vein clot
34490 | Removal of vein clot
34501 | Repair valve, femoral vein
34502 | Reconstruct vena cava
34510 | Transposition of vein valve
34520 | Cross-over vein graft
34530 | Leg vein fusion
35001 | Repair defect of artery
35002 | Repair artery rupture, neck
35005 | Repair defect of artery
35011 | Repair defect of artery
35013 | Repair artery rupture, arm
35021 | Repair defect of artery
35022 | Repair artery rupture, chest
35045 | Repair defect of arm artery
35111 | Repair defect of artery
35141 | Repair defect of artery
35142 | Repair artery rupture, thigh
35151 | Repair defect of artery
35152 | Repair artery rupture, knee
35180 | Repair blood vessel lesion
35184 | Repair blood vessel lesion
35188 | Repair blood vessel lesion
35190 | Repair blood vessel lesion
35201 | Repair blood vessel lesion
35206 | Repair blood vessel lesion
35207 | Repair blood vessel lesion
35226 | Repair blood vessel lesion
35231 | Repair blood vessel lesion
35236 | Repair blood vessel lesion
35246 | Repair blood vessel lesion
35261 | Repair blood vessel lesion
35266 | Repair blood vessel lesion
35286 | Repair blood vessel lesion
35311 | Rechanneling of artery
35321 | Rechanneling of artery
35371 | Rechanneling of artery
35372 | Rechanneling of artery
35381 | Rechanneling of artery
35501 | Artery bypass graft
35506 | Artery bypass graft
35507 | Artery bypass graft
35508 | Artery bypass graft
35509 | Artery bypass graft
35511 | Artery bypass graft
35515 | Artery bypass graft
35516 | Artery bypass graft
35518 | Artery bypass graft
35526 | Artery bypass graft
35556 | Artery bypass graft
35558 | Artery bypass graft
35571 | Artery bypass graft
35583 | Vein bypass graft
35585 | Vein bypass graft
35587 | Vein bypass graft
35601 | Artery bypass graft
35606 | Artery bypass graft
35612 | Artery bypass graft
35616 | Artery bypass graft
35626 | Artery bypass graft
35642 | Artery bypass graft
35645 | Artery bypass graft
35650 | Artery bypass graft
35656 | Artery bypass graft
35661 | Artery bypass graft
35666 | Artery bypass graft
35671 | Artery bypass graft
35691 | Arterial transposition
35693 | Arterial transposition
35694 | Arterial transposition
35695 | Arterial transposition
35701 | Exploration, carotid artery
35721 | Exploration, femoral artery
35741 | Exploration popliteal artery
35761 | Exploration of artery/vein
35800 | Explore neck vessels
35860 | Explore limb vessels
35875 | Removal of clot in graft
35876 | Removal of clot in graft
35901 | Excision, graft, neck
35903 | Excision, graft, extremity
36260 | Insertion of infusion pump
36261 | Revision of infusion pump
36262 | Removal of infusion pump
36475 | Endovenous rf, 1st vein
36476 | Endovenous rf, vein add-on
36478 | Endovenous laser, 1st vein
36479 | Endovenous laser vein addon
36566 | Insert tunneled cv cath
36835 | Artery to vein shunt
37565 | Ligation of neck vein
37600 | Ligation of neck artery
37605 | Ligation of neck artery
37606 | Ligation of neck artery
38740 | Remove armpit lymph nodes
38745 | Remove armpit lymph nodes
38760 | Remove groin lymph nodes
38765 | Remove groin lymph nodes
38770 | Remove pelvis lymph nodes
38780 | Remove abdomen lymph nodes
39501 | Repair diaphragm laceration
39502 | Repair paraesophageal hernia
39503 | Repair of diaphragm hernia
39520 | Repair of diaphragm hernia
39530 | Repair of diaphragm hernia
39531 | Repair of diaphragm hernia
39540 | Repair of diaphragm hernia
39541 | Repair of diaphragm hernia
39545 | Revision of diaphragm
43045 | Incision of esophagus
43100 | Excision of esophagus lesion
43101 | Excision of esophagus lesion
43108 | Removal of esophagus
43113 | Removal of esophagus
43116 | Partial removal of esophagus
43118 | Partial removal of esophagus
43123 | Partial removal of esophagus
43124 | Removal of esophagus
43130 | Removal of esophagus pouch
43135 | Removal of esophagus pouch
43300 | Repair of esophagus
43320 | Fuse esophagus & stomach
43324 | Revise esophagus & stomach
43325 | Revise esophagus & stomach
43326 | Revise esophagus & stomach
43330 | Repair of esophagus
43331 | Repair of esophagus
43340 | Fuse esophagus & intestine
43341 | Fuse esophagus & intestine
43350 | Surgical opening, esophagus
43351 | Surgical opening, esophagus
43352 | Surgical opening, esophagus
43360 | Gastrointestinal repair
43361 | Gastrointestinal repair
43400 | Ligate esophagus veins
43401 | Esophagus surgery for veins
43405 | Ligate/staple esophagus
43410 | Repair esophagus wound
43415 | Repair esophagus wound
43420 | Repair esophagus opening
43425 | Repair esophagus opening
43500 | Surgical opening of stomach
43501 | Surgical repair of stomach
43502 | Surgical repair of stomach
43520 | Incision of pyloric muscle
43605 | Biopsy of stomach
43610 | Excision of stomach lesion
43611 | Excision of stomach lesion
43620 | Removal of stomach
43621 | Removal of stomach
43622 | Removal of stomach
43631 | Removal of stomach, partial
43632 | Removal of stomach, partial
43633 | Removal of stomach, partial
43634 | Removal of stomach, partial
43640 | Vagotomy & pylorus repair
43641 | Vagotomy & pylorus repair
43800 | Reconstruction of pylorus
43810 | Fusion of stomach and bowel
43820 | Fusion of stomach and bowel
43825 | Fusion of stomach and bowel
43830 | Place gastrostomy tube
43831 | Place gastrostomy tube
43832 | Place gastrostomy tube
43840 | Repair of stomach lesion
43842 | V-band gastroplasty
43846 | Gastric bypass for obesity
43847 | Gastric bypass incl small i
43848 | Revision gastroplasty
43850 | Revise stomach-bowel fusion
43855 | Revise stomach-bowel fusion
43860 | Revise stomach-bowel fusion
43865 | Revise stomach-bowel fusion
43870 | Repair stomach opening
43880 | Repair stomach-bowel fistula
44005 | Freeing of bowel adhesion
44010 | Incision of small bowel
44020 | Explore small intestine
44021 | Decompress small bowel
44025 | Incision of large bowel
44050 | Reduce bowel obstruction
44055 | Correct malrotation of bowel
44110 | Excise intestine lesion(s)
44111 | Excision of bowel lesion(s)
45190 | Destruction, rectal tumor
45500 | Repair of rectum
45505 | Repair of rectum
45541 | Correct rectal prolapse
45550 | Repair rectum/remove sigmoid
45560 | Repair of rectocele
45562 | Exploration/repair of rectum
45563 | Exploration/repair of rectum
45800 | Repair rect/bladder fistula
45805 | Repair fistula w/colostomy
45820 | Repair rectourethral fistula
45825 | Repair fistula w/colostomy
46045 | Incision of rectal abscess
46060 | Incision of rectal abscess
46070 | Incision of anal septum
46257 | Remove hemorrhoids & fissure
46258 | Remove hemorrhoids & fistula
46260 | Hemorrhoidectomy
46261 | Remove hemorrhoids & fissure
46262 | Remove hemorrhoids & fistula
46280 | Removal of anal fistula
46288 | Repair anal fistula
46700 | Repair of anal stricture
46705 | Repair of anal stricture
46715 | Rep perf anoper fistu
46716 | Rep perf anoper/vestib fistu
46730 | Construction of absent anus
46735 | Construction of absent anus
46740 | Construction of absent anus
46742 | Repair of imperforated anus
46744 | Repair of cloacal anomaly
46746 | Repair of cloacal anomaly
46748 | Repair of cloacal anomaly
46750 | Repair of anal sphincter
46751 | Repair of anal sphincter
46753 | Reconstruction of anus
46760 | Repair of anal sphincter
46761 | Repair of anal sphincter
46762 | Implant artificial sphincter
47010 | Open drainage, liver lesion
47015 | Inject/aspirate liver cyst
47100 | Wedge biopsy of liver
47120 | Partial removal of liver
47122 | Extensive removal of liver
47125 | Partial removal of liver
47130 | Partial removal of liver
47300 | Surgery for liver lesion
47350 | Repair liver wound
47360 | Repair liver wound
47400 | Incision of liver duct
47420 | Incision of bile duct
47425 | Incision of bile duct
47460 | Incise bile duct sphincter
47480 | Incision of gallbladder
47490 | Incision of gallbladder
47600 | Removal of gallbladder
47605 | Removal of gallbladder
47610 | Removal of gallbladder
47612 | Removal of gallbladder
47620 | Removal of gallbladder
47700 | Exploration of bile ducts
47701 | Bile duct revision
47711 | Excision of bile duct tumor
47712 | Excision of bile duct tumor
47715 | Excision of bile duct cyst
47716 | Fusion of bile duct cyst
47720 | Fuse gallbladder & bowel
47721 | Fuse upper gi structures
47740 | Fuse gallbladder & bowel
47741 | Fuse gallbladder & bowel
47760 | Fuse bile ducts and bowel
47765 | Fuse liver ducts & bowel
47780 | Fuse bile ducts and bowel
47785 | Fuse bile ducts and bowel
47800 | Reconstruction of bile ducts
47801 | Placement, bile duct support
47802 | Fuse liver duct & intestine
47900 | Suture bile duct injury
48000 | Drainage of abdomen
48001 | Placement of drain, pancreas
48005 | Resect/debride pancreas
48020 | Removal of pancreatic stone
48100 | Biopsy of pancreas, open
48120 | Removal of pancreas lesion
48140 | Partial removal of pancreas
48145 | Partial removal of pancreas
48146 | Pancreatectomy
48148 | Removal of pancreatic duct
48150 | Partial removal of pancreas
48152 | Pancreatectomy
48153 | Pancreatectomy
48154 | Pancreatectomy
48155 | Removal of pancreas
48180 | Fuse pancreas and bowel
48500 | Surgery of pancreatic cyst
48510 | Drain pancreatic pseudocyst
48520 | Fuse pancreas cyst and bowel
48540 | Fuse pancreas cyst and bowel
48545 | Pancreatorrhaphy
48547 | Duodenal exclusion
49215 | Excise sacral spine tumor
49900 | Repair of abdominal wall
51020 | Incise & treat bladder
51500 | Removal of bladder cyst
51530 | Removal of bladder lesion
51535 | Repair of ureter lesion
51550 | Partial removal of bladder
51555 | Partial removal of bladder
51565 | Revise bladder & ureter(s)
51570 | Removal of bladder
51575 | Removal of bladder & nodes
51580 | Remove bladder/revise tract
51585 | Removal of bladder & nodes
51590 | Remove bladder/revise tract
51595 | Remove bladder/revise tract
51596 | Remove bladder/create pouch
51597 | Removal of pelvic structures
51715 | Endoscopic injection/implant
51800 | Revision of bladder/urethra
51820 | Revision of urinary tract
51845 | Repair bladder neck
51860 | Repair of bladder wound
51865 | Repair of bladder wound
51880 | Repair of bladder opening
51900 | Repair bladder/vagina lesion
51920 | Close bladder-uterus fistula
51925 | Hysterectomy/bladder repair
51940 | Correction of bladder defect
51960 | Revision of bladder & bowel
51980 | Construct bladder opening
52000 | Cystoscopy
52001 | Cystoscopy, removal of clots
52005 | Cystoscopy & ureter catheter
52281 | Cystoscopy and treatment
52283 | Cystoscopy and treatment
52285 | Cystoscopy and treatment
52332 | Cystoscopy and treatment
52647 | Laser surgery of prostate
52648 | Laser surgery of prostate
53010 | Incision of urethra
53080 | Drainage of urinary leakage
53085 | Drainage of urinary leakage
53210 | Removal of urethra
53215 | Removal of urethra
53220 | Treatment of urethra lesion
53230 | Removal of urethra lesion
53235 | Removal of urethra lesion
53240 | Surgery for urethra pouch
53250 | Removal of urethra gland
53400 | Revise urethra, stage 1
53405 | Revise urethra, stage 2
53410 | Reconstruction of urethra
53415 | Reconstruction of urethra
53420 | Reconstruct urethra, stage 1
53425 | Reconstruct urethra, stage 2
53430 | Reconstruction of urethra
53445 | Insert uro/ves nck sphincter
53449 | Repair uro sphincter
53450 | Revision of urethra
53460 | Revision of urethra
53502 | Repair of urethra injury
53505 | Repair of urethra injury
53510 | Repair of urethra injury
53515 | Repair of urethra injury
53520 | Repair of urethra defect
54205 | Treatment of penis lesion
54300 | Revision of penis
54304 | Revision of penis
54308 | Reconstruction of urethra
54312 | Reconstruction of urethra
54316 | Reconstruction of urethra
54318 | Reconstruction of urethra
54322 | Reconstruction of urethra
54324 | Reconstruction of urethra
54326 | Reconstruction of urethra
54328 | Revise penis/urethra
54332 | Revise penis/urethra
54336 | Revise penis/urethra
54340 | Secondary urethral surgery
54344 | Secondary urethral surgery
54348 | Secondary urethral surgery
54352 | Reconstruct urethra/penis
54360 | Penis plastic surgery
54380 | Repair penis
54385 | Repair penis
54390 | Repair penis and bladder
54400 | Insert semi-rigid prosthesis
54401 | Insert self-contd prosthesis
54405 | Insert multi-comp penis pros
54520 | Removal of testis
54530 | Removal of testis
54535 | Extensive testis surgery
54550 | Exploration for testis
54560 | Exploration for testis
54600 | Reduce testis torsion
54640 | Suspension of testis
54650 | Orchiopexy (fowler-stephens)
54660 | Revision of testis
54670 | Repair testis injury
54680 | Relocation of testis(es)
54820 | Exploration of epididymis
54830 | Remove epididymis lesion
54840 | Remove epididymis lesion
54860 | Removal of epididymis
54861 | Removal of epididymis
54900 | Fusion of spermatic ducts
54901 | Fusion of spermatic ducts
55040 | Removal of hydrocele
55041 | Removal of hydroceles
55060 | Repair of hydrocele
55500 | Removal of hydrocele
55520 | Removal of sperm cord lesion
55530 | Revise spermatic cord veins
55535 | Revise spermatic cord veins
55540 | Revise hernia & sperm veins
55600 | Incise sperm duct pouch
55605 | Incise sperm duct pouch
55650 | Remove sperm duct pouch
55680 | Remove sperm pouch lesion
55720 | Drainage of prostate abscess
55725 | Drainage of prostate abscess
55801 | Removal of prostate
55810 | Extensive prostate surgery
55812 | Extensive prostate surgery
55815 | Extensive prostate surgery
55821 | Removal of prostate
55831 | Removal of prostate
55840 | Extensive prostate surgery
55842 | Extensive prostate surgery
55845 | Extensive prostate surgery
55860 | Surgical exposure, prostate
55862 | Extensive prostate surgery
55865 | Extensive prostate surgery
56620 | Partial removal of vulva
56625 | Complete removal of vulva
56630 | Extensive vulva surgery
56631 | Extensive vulva surgery
56632 | Extensive vulva surgery
56633 | Extensive vulva surgery
56634 | Extensive vulva surgery
56637 | Extensive vulva surgery
56640 | Extensive vulva surgery
56805 | Repair clitoris
57010 | Drainage of pelvic abscess
57106 | Remove vagina wall, partial
57107 | Remove vagina tissue, part
57109 | Vaginectomy partial w/nodes
57110 | Remove vagina wall, complete
57111 | Remove vagina tissue, compl
57112 | Vaginectomy w/nodes, compl
57120 | Closure of vagina
57210 | Repair vagina/perineum
57307 | Fistula repair & colostomy
57308 | Fistula repair, transperine
57310 | Repair urethrovaginal lesion
57311 | Repair urethrovaginal lesion
57320 | Repair bladder-vagina lesion
57330 | Repair bladder-vagina lesion
57335 | Repair vagina
57530 | Removal of cervix
57531 | Removal of cervix, radical
57540 | Removal of residual cervix
57545 | Remove cervix/repair pelvis
57550 | Removal of residual cervix
57555 | Remove cervix/repair vagina
57556 | Remove cervix, repair bowel
57700 | Revision of cervix
57720 | Revision of cervix
58120 | Dilation and curettage
58140 | Myomectomy abdom method
58145 | Myomectomy vag method
58400 | Suspension of uterus
58410 | Suspension of uterus
58520 | Repair of ruptured uterus
58540 | Revision of uterus
58555 | Hysteroscopy, dx, sep proc
58558 | Hysteroscopy, biopsy
58562 | Hysteroscopy, remove fb
58600 | Division of fallopian tube
58605 | Division of fallopian tube
58660 | Laparoscopy, lysis
58662 | Laparoscopy, excise lesions
58670 | Laparoscopy, tubal cautery
58672 | Laparoscopy, fimbrioplasty
58673 | Laparoscopy, salpingostomy
58700 | Removal of fallopian tube
58720 | Removal of ovary/tube(s)
58740 | Revise fallopian tube(s)
58750 | Repair oviduct
58752 | Revise ovarian tube(s)
58760 | Remove tubal obstruction
58770 | Create new tubal opening
58805 | Drainage of ovarian cyst(s)
58820 | Drain ovary abscess, open
58822 | Drain ovary abscess, percut
58825 | Transposition, ovary(s)
58900 | Biopsy of ovary(s)
58920 | Partial removal of ovary(s)
58925 | Removal of ovarian cyst(s)
58940 | Removal of ovary(s)
58943 | Removal of ovary(s)
58950 | Resect ovarian malignancy
58951 | Resect ovarian malignancy
58952 | Resect ovarian malignancy
58960 | Exploration of abdomen
59100 | Remove uterus lesion
59120 | Treat ectopic pregnancy
59121 | Treat ectopic pregnancy
59130 | Treat ectopic pregnancy
59130 | Treat ectopic pregnancy
59135 | Treat ectopic pregnancy
59136 | Treat ectopic pregnancy
59150 | Treat ectopic pregnancy
59151 | Treat ectopic pregnancy
59812 | Treatment of miscarriage
59850 | Abortion
59851 | Abortion
59852 | Abortion
59855 | Abortion
59856 | Abortion
59857 | Abortion
59870 | Evacuate mole of uterus
60200 | Remove thyroid lesion
60210 | Partial thyroid excision
60212 | Partial thyroid excision
60220 | Partial removal of thyroid
60225 | Partial removal of thyroid
60240 | Removal of thyroid
60252 | Removal of thyroid
60254 | Extensive thyroid surgery
60260 | Repeat thyroid surgery
60270 | Removal of thyroid
60271 | Removal of thyroid
60280 | Remove thyroid duct lesion
60281 | Remove thyroid duct lesion
60500 | Explore parathyroid glands
60502 | Re-explore parathyroids
60505 | Explore parathyroid glands
60520 | Removal of thymus gland
60521 | Removal of thymus gland
60522 | Removal of thymus gland
60540 | Explore adrenal gland
60545 | Explore adrenal gland
60600 | Remove carotid body lesion
60605 | Remove carotid body lesion
61343 | Incise skull (press relief)
61345 | Relieve cranial pressure
61440 | Incise skull for surgery
61450 | Incise skull for surgery
61458 | Incise skull for brain wound
61460 | Incise skull for surgery
61470 | Incise skull for surgery
61480 | Incise skull for surgery
61490 | Incise skull for surgery
61500 | Removal of skull lesion
61501 | Remove infected skull bone
61510 | Removal of brain lesion
61512 | Remove brain lining lesion
61514 | Removal of brain abscess
61516 | Removal of brain lesion
61518 | Removal of brain lesion
61519 | Remove brain lining lesion
61520 | Removal of brain lesion
61521 | Removal of brain lesion
61522 | Removal of brain abscess
61524 | Removal of brain lesion
61526 | Removal of brain lesion
61530 | Removal of brain lesion
61531 | Implant brain electrodes
61533 | Implant brain electrodes
61534 | Removal of brain lesion
61535 | Remove brain electrodes
61536 | Removal of brain lesion
61538 | Removal of brain tissue
61539 | Removal of brain tissue
61541 | Incision of brain tissue
61542 | Removal of brain tissue
61543 | Removal of brain tissue
61544 | Remove & treat brain lesion
61545 | Excision of brain tumor
61546 | Removal of pituitary gland
61548 | Removal of pituitary gland
61550 | Release of skull seams
61552 | Release of skull seams
61556 | Incise skull/sutures
61557 | Incise skull/sutures
61558 | Excision of skull/sutures
61559 | Excision of skull/sutures
61563 | Excision of skull tumor
61564 | Excision of skull tumor
61570 | Remove foreign body, brain
61571 | Incise skull for brain wound
61575 | Skull base/brainstem surgery
61618 | Repair dura
61619 | Repair dura
61680 | Intracranial vessel surgery
61682 | Intracranial vessel surgery
61684 | Intracranial vessel surgery
61686 | Intracranial vessel surgery
61690 | Intracranial vessel surgery
61692 | Intracranial vessel surgery
61700 | Brain aneurysm repr, simple
61702 | Inner skull vessel surgery
61703 | Clamp neck artery
61705 | Revise circulation to head
61708 | Revise circulation to head
61710 | Revise circulation to head
61711 | Fusion of skull arteries
61720 | Incise skull/brain surgery
61735 | Incise skull/brain surgery
61750 | Incise skull/brain biopsy
61751 | Brain biopsy w/ct/mr guide
61760 | Implant brain electrodes
61770 | Incise skull for treatment
61790 | Treat trigeminal nerve
61791 | Treat trigeminal tract
61793 | Focus radiation beam
61850 | Implant neuroelectrodes
61860 | Implant neuroelectrodes
61870 | Implant neuroelectrodes
61875 | Implant neuroelectrodes
61880 | Revise/remove neuroelectrode
61885 | Insrt/redo neurostim 1 array
62000 | Treat skull fracture
62005 | Treat skull fracture
62010 | Treatment of head injury
62100 | Repair brain fluid leakage
62115 | Reduction of skull defect
62116 | Reduction of skull defect
62117 | Reduction of skull defect
62140 | Repair of skull defect
62141 | Repair of skull defect
62142 | Remove skull plate/flap
62143 | Replace skull plate/flap
62145 | Repair of skull & brain
62146 | Repair of skull with graft
62147 | Repair of skull with graft
62180 | Establish brain cavity shunt
62190 | Establish brain cavity shunt
62192 | Establish brain cavity shunt
62200 | Establish brain cavity shunt
62201 | Brain cavity shunt w/scope
62220 | Establish brain cavity shunt
62223 | Establish brain cavity shunt
62225 | Replace/irrigate catheter
62230 | Replace/revise brain shunt
62256 | Remove brain cavity shunt
62258 | Replace brain cavity shunt
62287 | Percutaneous diskectomy
63170 | Incise spinal cord tract(s)
63172 | Drainage of spinal cyst
63173 | Drainage of spinal cyst
63180 | Revise spinal cord ligaments
63182 | Revise spinal cord ligaments
63185 | Incise spinal column/nerves
63190 | Incise spinal column/nerves
63191 | Incise spinal column/nerves
63195 | Incise spinal column & cord
63196 | Incise spinal column & cord
63197 | Incise spinal column & cord
63198 | Incise spinal column & cord
63199 | Incise spinal column & cord
63200 | Release of spinal cord
63250 | Revise spinal cord vessels
63251 | Revise spinal cord vessels
63252 | Revise spinal cord vessels
63265 | Excise intraspinal lesion
63266 | Excise intraspinal lesion
63267 | Excise intraspinal lesion
63268 | Excise intraspinal lesion
63270 | Excise intraspinal lesion
63271 | Excise intraspinal lesion
63272 | Excise intraspinal lesion
63273 | Excise intraspinal lesion
63275 | Biopsy/excise spinal tumor
63276 | Biopsy/excise spinal tumor
63277 | Biopsy/excise spinal tumor
63278 | Biopsy/excise spinal tumor
63280 | Biopsy/excise spinal tumor
63281 | Biopsy/excise spinal tumor
63282 | Biopsy/excise spinal tumor
63283 | Biopsy/excise spinal tumor
63285 | Biopsy/excise spinal tumor
63286 | Biopsy/excise spinal tumor
63287 | Biopsy/excise spinal tumor
63290 | Biopsy/excise spinal tumor
63300 | Removal of vertebral body
63301 | Removal of vertebral body
63302 | Removal of vertebral body
63303 | Removal of vertebral body
63304 | Removal of vertebral body
63305 | Removal of vertebral body
63306 | Removal of vertebral body
63307 | Removal of vertebral body
63650 | Implant neuroelectrodes
63655 | Implant neuroelectrodes
63660 | Revise/remove neuroelectrode
63685 | Insrt/redo spine n generator
63688 | Revise/remove neuroreceiver
63700 | Repair of spinal herniation
63702 | Repair of spinal herniation
63704 | Repair of spinal herniation
63706 | Repair of spinal herniation
63707 | Repair spinal fluid leakage
63709 | Repair spinal fluid leakage
63710 | Graft repair of spine defect
63740 | Install spinal shunt
63741 | Install spinal shunt
63744 | Revision of spinal shunt
63746 | Removal of spinal shunt
64573 | Implant neuroelectrodes
64575 | Implant neuroelectrodes
64577 | Implant neuroelectrodes
64580 | Implant neuroelectrodes
64612 | Destroy nerve, face muscle
64702 | Revise finger/toe nerve
64704 | Revise hand/foot nerve
64708 | Revise arm/leg nerve
64712 | Revision of sciatic nerve
64713 | Revision of arm nerve(s)
64714 | Revise low back nerve(s)
64718 | Revise ulnar nerve at elbow
64719 | Revise ulnar nerve at wrist
64721 | Carpal tunnel surgery
64722 | Relieve pressure on nerve(s)
64726 | Release foot/toe nerve
64732 | Incision of brow nerve
64734 | Incision of cheek nerve
64736 | Incision of chin nerve
64738 | Incision of jaw nerve
64742 | Incision of facial nerve
64744 | Incise nerve, back of head
64746 | Incise diaphragm nerve
64752 | Incision of vagus nerve
64755 | Incision of stomach nerves
64760 | Incision of vagus nerve
64761 | Incision of pelvis nerve
64763 | Incise hip/thigh nerve
64766 | Incise hip/thigh nerve
64771 | Sever cranial nerve
64772 | Incision of spinal nerve
64774 | Remove skin nerve lesion
64776 | Remove digit nerve lesion
64782 | Remove limb nerve lesion
64784 | Remove nerve lesion
64786 | Remove sciatic nerve lesion
64788 | Remove skin nerve lesion
64790 | Removal of nerve lesion
64792 | Removal of nerve lesion
64802 | Remove sympathetic nerves
64804 | Remove sympathetic nerves
64809 | Remove sympathetic nerves
64818 | Remove sympathetic nerves
64820 | Remove sympathetic nerves
64831 | Repair of digit nerve
64834 | Repair of hand or foot nerve
64835 | Repair of hand or foot nerve
64836 | Repair of hand or foot nerve
64840 | Repair of leg nerve
64856 | Repair/transpose nerve
64857 | Repair arm/leg nerve
64858 | Repair sciatic nerve
64861 | Repair of arm nerves
64862 | Repair of low back nerves
64870 | Fusion of facial/other nerve
64890 | Nerve graft, hand or foot
64891 | Nerve graft, hand or foot
64892 | Nerve graft, arm or leg
64893 | Nerve graft, arm or leg
64895 | Nerve graft, hand or foot
64896 | Nerve graft, hand or foot
64897 | Nerve graft, arm or leg
64898 | Nerve graft, arm or leg
64905 | Nerve pedicle transfer
64907 | Nerve pedicle transfer
65091 | Revise eye
65093 | Revise eye with implant
65101 | Removal of eye
65103 | Remove eye/insert implant
65105 | Remove eye/attach implant
65110 | Removal of eye
65112 | Remove eye/revise socket
65114 | Remove eye/revise socket
65125 | Revise ocular implant
65130 | Insert ocular implant
65135 | Insert ocular implant
65140 | Attach ocular implant
65150 | Revise ocular implant
65155 | Reinsert ocular implant
65175 | Removal of ocular implant
65205 | Remove foreign body from eye
65210 | Remove foreign body from eye
65220 | Remove foreign body from eye
65222 | Remove foreign body from eye
65235 | Remove foreign body from eye
65260 | Remove foreign body from eye
65265 | Remove foreign body from eye
65270 | Repair of eye wound
65272 | Repair of eye wound
65273 | Repair of eye wound
65275 | Repair of eye wound
65280 | Repair of eye wound
65285 | Repair of eye wound
65286 | Repair of eye wound
65290 | Repair of eye socket wound
65400 | Removal of eye lesion
65410 | Biopsy of cornea
65420 | Removal of eye lesion
65426 | Removal of eye lesion
65430 | Corneal smear
65435 | Curette/treat cornea
65436 | Curette/treat cornea
65450 | Treatment of corneal lesion
65600 | Revision of cornea
65710 | Corneal transplant
65730 | Corneal transplant
65750 | Corneal transplant
65755 | Corneal transplant
65760 | Revision of cornea
65765 | Revision of cornea
65767 | Corneal tissue transplant
65770 | Revise cornea with implant
65771 | Radial keratotomy
65772 | Correction of astigmatism
65775 | Correction of astigmatism
65780 | Ocular reconst, transplant
65781 | Ocular reconst, transplant
65782 | Ocular reconst, transplant
65800 | Drainage of eye
65805 | Drainage of eye
65810 | Drainage of eye
65815 | Drainage of eye
65820 | Relieve inner eye pressure
65850 | Incision of eye
65855 | Laser surgery of eye
65860 | Incise inner eye adhesions
65865 | Incise inner eye adhesions
65870 | Incise inner eye adhesions
65875 | Incise inner eye adhesions
65880 | Incise inner eye adhesions
65900 | Remove eye lesion
65920 | Remove implant of eye
65930 | Remove blood clot from eye
66020 | Injection treatment of eye
66030 | Injection treatment of eye
66130 | Remove eye lesion
66150 | Glaucoma surgery
66155 | Glaucoma surgery
66160 | Glaucoma surgery
66165 | Glaucoma surgery
66170 | Glaucoma surgery
66172 | Incision of eye
66180 | Implant eye shunt
66185 | Revise eye shunt
66220 | Repair eye lesion
66225 | Repair/graft eye lesion
66250 | Follow-up surgery of eye
66500 | Incision of iris
66505 | Incision of iris
66600 | Remove iris and lesion
66605 | Removal of iris
66625 | Removal of iris
66630 | Removal of iris
66635 | Removal of iris
66680 | Repair iris & ciliary body
66682 | Repair iris & ciliary body
66700 | Destruction, ciliary body
66710 | Ciliary transsleral therapy
66711 | Ciliary endoscopic ablation
66720 | Destruction, ciliary body
66740 | Destruction, ciliary body
66761 | Revision of iris
66762 | Revision of iris
66770 | Removal of inner eye lesion
66820 | Incision, secondary cataract
66821 | After cataract laser surgery
66825 | Reposition intraocular lens
66830 | Removal of lens lesion
66840 | Removal of lens material
66850 | Removal of lens material
66852 | Removal of lens material
66920 | Extraction of lens
66930 | Extraction of lens
66940 | Extraction of lens
66982 | Cataract surgery, complex
66983 | Cataract surg w/iol, 1 stage
66984 | Cataract surg w/iol, 1 stage
66985 | Insert lens prosthesis
66986 | Exchange lens prosthesis
66990 | Ophthalmic endoscope add-on
66999 | Eye surgery procedure
67005 | Partial removal of eye fluid
67010 | Partial removal of eye fluid
67015 | Release of eye fluid
67025 | Replace eye fluid
67027 | Implant eye drug system
67028 | Injection eye drug
67030 | Incise inner eye strands
67031 | Laser surgery, eye strands
67036 | Removal of inner eye fluid
67038 | Strip retinal membrane
67039 | Laser treatment of retina
67040 | Laser treatment of retina
67101 | Repair detached retina
67105 | Repair detached retina
67107 | Repair detached retina
67108 | Repair detached retina
67110 | Repair detached retina
67112 | Rerepair detached retina
67115 | Release encircling material
67120 | Remove eye implant material
67121 | Remove eye implant material
67141 | Treatment of retina
67145 | Treatment of retina
67208 | Treatment of retinal lesion
67210 | Treatment of retinal lesion
67218 | Treatment of retinal lesion
67220 | Treatment of choroid lesion
67221 | Ocular photodynamic ther
67225 | Eye photodynamic ther add-on
67227 | Treatment of retinal lesion
67228 | Treatment of retinal lesion
67250 | Reinforce eye wall
67255 | Reinforce/graft eye wall
67299 | Eye surgery procedure
67311 | Revise eye muscle
67312 | Revise two eye muscles
67314 | Revise eye muscle
67316 | Revise two eye muscles
67318 | Revise eye muscle(s)
67320 | Revise eye muscle(s) add-on
67331 | Eye surgery follow-up add-on
67332 | Rerevise eye muscles add-on
67334 | Revise eye muscle w/suture
67335 | Eye suture during surgery
67340 | Revise eye muscle add-on
67343 | Release eye tissue
67345 | Destroy nerve of eye muscle
67350 | Biopsy eye muscle
67399 | Eye muscle surgery procedure
67400 | Explore/biopsy eye socket
67405 | Explore/drain eye socket
67412 | Explore/treat eye socket
67413 | Explore/treat eye socket
67414 | Explr/decompress eye socket
67415 | Aspiration, orbital contents
67420 | Explore/treat eye socket
67430 | Explore/treat eye socket
67440 | Explore/drain eye socket
67445 | Explr/decompress eye socket
67450 | Explore/biopsy eye socket
67500 | Inject/treat eye socket
67505 | Inject/treat eye socket
67515 | Inject/treat eye socket
67550 | Insert eye socket implant
67560 | Revise eye socket implant
67570 | Decompress optic nerve
67599 | Orbit surgery procedure
67700 | Drainage of eyelid abscess
67710 | Incision of eyelid
67715 | Incision of eyelid fold
67800 | Remove eyelid lesion
67801 | Remove eyelid lesions
67805 | Remove eyelid lesions
67808 | Remove eyelid lesion(s)
67810 | Biopsy of eyelid
67820 | Revise eyelashes
67825 | Revise eyelashes
67830 | Revise eyelashes
67835 | Revise eyelashes
67840 | Remove eyelid lesion
67850 | Treat eyelid lesion
67875 | Closure of eyelid by suture
67880 | Revision of eyelid
67882 | Revision of eyelid
67900 | Repair brow defect
67901 | Repair eyelid defect
67902 | Repair eyelid defect
67903 | Repair eyelid defect
67904 | Repair eyelid defect
67906 | Repair eyelid defect
67908 | Repair eyelid defect
67909 | Revise eyelid defect
67911 | Revise eyelid defect
67912 | Correction eyelid w/implant
67914 | Repair eyelid defect
67915 | Repair eyelid defect
67916 | Repair eyelid defect
67917 | Repair eyelid defect
67921 | Repair eyelid defect
67922 | Repair eyelid defect
67923 | Repair eyelid defect
67924 | Repair eyelid defect
67930 | Repair eyelid wound
67935 | Repair eyelid wound
67938 | Remove eyelid foreign body
67950 | Revision of eyelid
67961 | Revision of eyelid
67966 | Revision of eyelid
67971 | Reconstruction of eyelid
67973 | Reconstruction of eyelid
67974 | Reconstruction of eyelid
67975 | Reconstruction of eyelid
67999 | Revision of eyelid
68020 | Incise/drain eyelid lining
68040 | Treatment of eyelid lesions
68100 | Biopsy of eyelid lining
68110 | Remove eyelid lining lesion
68115 | Remove eyelid lining lesion
68130 | Remove eyelid lining lesion
68135 | Remove eyelid lining lesion
68200 | Treat eyelid by injection
68320 | Revise/graft eyelid lining
68325 | Revise/graft eyelid lining
68326 | Revise/graft eyelid lining
68328 | Revise/graft eyelid lining
68330 | Revise eyelid lining
68335 | Revise/graft eyelid lining
68340 | Separate eyelid adhesions
68360 | Revise eyelid lining
68362 | Revise eyelid lining
68371 | Harvest eye tissue, alograft
68399 | Eyelid lining surgery
68400 | Incise/drain tear gland
68420 | Incise/drain tear sac
68440 | Incise tear duct opening
68500 | Removal of tear gland
68505 | Partial removal, tear gland
68510 | Biopsy of tear gland
68520 | Removal of tear sac
68525 | Biopsy of tear sac
68530 | Clearance of tear duct
68540 | Remove tear gland lesion
68550 | Remove tear gland lesion
68700 | Repair tear ducts
68705 | Revise tear duct opening
68720 | Create tear sac drain
68745 | Create tear duct drain
68750 | Create tear duct drain
68760 | Close tear duct opening
68761 | Close tear duct opening
68770 | Close tear system fistula
68801 | Dilate tear duct opening
68810 | Probe nasolacrimal duct
68811 | Probe nasolacrimal duct
68815 | Probe nasolacrimal duct
68840 | Explore/irrigate tear ducts
68850 | Injection for tear sac x-ray
68899 | Tear duct system surgery
76075 | Dxa bone density, axial
76510 | Ophth us, b & quant a
76511 | Ophth us, quant a only
76512 | Ophth us, b w/non-quant a
76513 | Echo exam of eye, water bath
76514 | Echo exam of eye, thickness
76516 | Echo exam of eye
76519 | Echo exam of eye
76529 | Echo exam of eye
78350 | Bone mineral, single photon
78472 | Gated heart, planar, single
78481 | Heart first pass, single
78483 | Heart first pass, multiple
91010 | Esophagus motility study
91034 | Gastroesophageal reflux test
91037 | Esoph imped function test
91038 | Esoph imped funct test >1h
92002 | Eye exam, new patient
92004 | Eye exam, new patient
92012 | Eye exam established pat
92014 | Eye exam & treatment
92015 | Refraction
92018 | New eye exam & treatment
92019 | Eye exam & treatment
92020 | Special eye evaluation
92060 | Special eye evaluation
92065 | Orthoptic/pleoptic training
92070 | Fitting of contact lens
92081 | Visual field examination(s)
92082 | Visual field examination(s)
92083 | Visual field examination(s)
92100 | Serial tonometry exam(s)
92120 | Tonography & eye evaluation
92130 | Water provocation tonography
92135 | Opthalmic dx imaging
92136 | Ophthalmic biometry
92140 | Glaucoma provocative tests
92225 | Special eye exam, initial
92226 | Special eye exam, subsequent
92230 | Eye exam with photos
92235 | Eye exam with photos
92240 | Icg angiography
92250 | Eye exam with photos
92260 | Ophthalmoscopy/dynamome try
92265 | Eye muscle evaluation
92270 | Electro-oculography
92275 | Electroretinography
92283 | Color vision examination
92284 | Dark adaptation eye exam
92285 | Eye photography
92286 | Internal eye photography
92287 | Internal eye photography
92310 | Contact lens fitting
92311 | Contact lens fitting
92312 | Contact lens fitting
92313 | Contact lens fitting
92314 | Prescription of contact lens
92315 | Prescription of contact lens
92316 | Prescription of contact lens
92317 | Prescription of contact lens
92325 | Modification of contact lens
92326 | Replacement of contact lens

Addendum D.—Proposed 2007 Geographic Practice Cost Indices by Medicare Carrier and Locality
Carrier | Locality | Locality name | Work GPCI | PE GPCI | MP GPCI
00510 | 00 | Alabama | 0.982 | 0.847 | 0.740
00831 | 01 | Alaska | 1.017 | 1.105 | 1.013
00832 | 00 | Arizona | 0.987 | 0.994 | 1.052
00520 | 13 | Arkansas | 0.961 | 0.832 | 0.431
31140 | 03 | Marin/Napa/Solano, CA | 1.035 | 1.342 | 0.640
31140 | 05 | San Francisco, CA | 1.060 | 1.546 | 0.640
31140 | 06 | San Mateo, CA | 1.073 | 1.539 | 0.629
31140 | 07 | Oakland/Berkley, CA | 1.054 | 1.373 | 0.640
31140 | 09 | Santa Clara, CA | 1.083 | 1.543 | 0.595
31146 | 17 | Ventura, CA | 1.028 | 1.181 | 0.732
31146 | 18 | Los Angeles, CA | 1.041 | 1.158 | 0.939
31146 | 26 | Anaheim/Santa Ana, CA | 1.034 | 1.238 | 0.939
31140 | 99 | Rest of California* | 1.007 | 1.054 | 0.721
31146 | 99 | Rest of California* | 1.007 | 1.054 | 0.721
00824 | 01 | Colorado | 0.986 | 1.015 | 0.790
00591 | 00 | Connecticut | 1.038 | 1.172 | 0.886
00903 | 01 | DC + MD/VA Suburbs | 1.048 | 1.252 | 0.911
00902 | 01 | Delaware | 1.012 | 1.020 | 0.877
00590 | 03 | Fort Lauderdale, FL | 0.988 | 0.990 | 1.675
00590 | 04 | Miami, FL | 1.000 | 1.048 | 2.233
00590 | 99 | Rest of Florida | 0.973 | 0.936 | 1.251
00511 | 01 | Atlanta, GA | 1.010 | 1.091 | 0.950
00511 | 99 | Rest of Georgia | 0.979 | 0.874 | 0.950
00833 | 01 | Hawaii/Guam | 1.005 | 1.113 | 0.787
05130 | 00 | Idaho | 0.968 | 0.869 | 0.452
00952 | 12 | East St. Louis, IL | 0.988 | 0.940 | 1.722
00952 | 15 | Suburban Chicago, IL | 1.018 | 1.117 | 1.626
00952 | 16 | Chicago, IL | 1.025 | 1.128 | 1.837
00952 | 99 | Rest of Illinois | 0.974 | 0.874 | 1.174
00630 | 00 | Indiana | 0.985 | 0.908 | 0.429
00826 | 00 | Iowa | 0.967 | 0.869 | 0.579
00650 | 00 | Kansas* | 0.968 | 0.880 | 0.709
00740 | 04 | Kansas* | 0.968 | 0.880 | 0.709
00660 | 00 | Kentucky | 0.970 | 0.855 | 0.859
00528 | 01 | New Orleans, LA | 0.986 | 0.947 | 1.178
00528 | 99 | Rest of Louisiana | 0.970 | 0.848 | 1.000
31142 | 03 | Southern Maine | 0.980 | 1.014 | 0.626
31142 | 99 | Rest of Maine | 0.962 | 0.887 | 0.626
00901 | 01 | Baltimore/Surr. Cntys, MD | 1.012 | 1.080 | 0.932
00901 | 99 | Rest of Maryland | 0.993 | 0.981 | 0.748
31143 | 01 | Metropolitan Boston | 1.030 | 1.331 | 0.810
31143 | 99 | Rest of Massachusetts | 1.007 | 1.015 | 0.810
00953 | 01 | Detroit, MI | 1.037 | 1.056 | 2.700
00953 | 99 | Rest of Michigan | 0.997 | 0.922 | 1.494
00954 | 00 | Minnesota | 0.991 | 1.006 | 0.404
00512 | 00 | Mississippi | 0.960 | 0.841 | 0.711
00523 | 01 | Metropolitan St. Louis, MO | 0.992 | 0.956 | 0.926
00740 | 02 | Metropolitan Kansas City, MO | 0.989 | 0.977 | 0.931
00523 | 99 | Rest of Missouri* | 0.950 | 0.803 | 0.878
00740 | 99 | Rest of Missouri* | 0.950 | 0.803 | 0.878
00751 | 01 | Montana | 0.950 | 0.845 | 0.889
00655 | 00 | Nebraska | 0.959 | 0.876 | 0.447
00834 | 00 | Nevada | 1.003 | 1.045 | 1.050
31144 | 40 | New Hampshire | 0.981 | 1.029 | 0.927
00805 | 01 | Northern NJ | 1.058 | 1.222 | 0.958
00805 | 99 | Rest of New Jersey | 1.043 | 1.121 | 0.958
00521 | 05 | New Mexico | 0.972 | 0.888 | 0.880
00801 | 99 | Rest of New York | 0.997 | 0.919 | 0.666
00803 | 01 | Manhattan, NY | 1.065 | 1.300 | 1.000
00803 | 02 | NYC Suburbs/Long I., NY | 1.052 | 1.283 | 1.756
00803 | 03 | Poughkpsie/N NYC Suburbs, NY | 1.014 | 1.076 | 1.148
14330 | 04 | Queens, NY | 1.032 | 1.230 | 1.682
05535 | 00 | North Carolina | 0.971 | 0.922 | 0.630
00820 | 01 | North Dakota | 0.946 | 0.861 | 0.593
00883 | 00 | Ohio | 0.992 | 0.934 | 0.960
00522 | 00 | Oklahoma | 0.964 | 0.856 | 0.376
00835 | 01 | Portland, OR | 1.002 | 1.059 | 0.434
00835 | 99 | Rest of Oregon | 0.968 | 0.927 | 0.434
00865 | 01 | Metropolitan Philadelphia, PA | 1.016 | 1.106 | 1.364
00865 | 99 | Rest of Pennsylvania | 0.992 | 0.904 | 0.793
00973 | 20 | Puerto Rico | 0.906 | 0.699 | 0.257
00524 | 01 | Rhode Island | 1.045 | 0.991 | 0.895
00880 | 01 | South Carolina | 0.975 | 0.894 | 0.388
00820 | 02 | South Dakota | 0.943 | 0.877 | 0.359
05440 | 35 | Tennessee | 0.977 | 0.881 | 0.621
00900 | 09 | Brazoria, TX | 1.020 | 0.963 | 1.277
00900 | 11 | Dallas, TX | 1.009 | 1.064 | 1.044
00900 | 15 | Galveston, TX | 0.990 | 0.954 | 1.277
00900 | 18 | Houston, TX | 1.016 | 1.016 | 1.276
00900 | 20 | Beaumont, TX | 0.983 | 0.862 | 1.277
00900 | 28 | Fort Worth, TX | 0.997 | 0.991 | 1.044
00900 | 31 | Austin, TX | 0.991 | 1.048 | 0.970
00900 | 99 | Rest of Texas | 0.968 | 0.866 | 1.120
00910 | 09 | Utah | 0.977 | 0.938 | 0.651
31145 | 50 | Vermont | 0.968 | 0.970 | 0.505
00973 | 50 | Virgin Islands | 0.967 | 1.015 | 0.987
00904 | 00 | Virginia | 0.981 | 0.942 | 0.569
00836 | 02 | Seattle (King Cnty), WA | 1.014 | 1.133 | 0.805
00836 | 99 | Rest of Washington | 0.987 | 0.980 | 0.805
00884 | 16 | West Virginia | 0.973 | 0.820 | 1.522
00951 | 00 | Wisconsin | 0.987 | 0.920 | 0.777
00825 | 21 | Wyoming | 0.956 | 0.855 | 0.920

Addendum E.—2007 Proposed GAFs
Carrier | Locality | Locality name | GAF
31140 | 09 | Santa Clara, CA | 1.265
31140 | 06 | San Mateo, CA | 1.259
31140 | 05 | San Francisco, CA | 1.256
00803 | 02 | NYC Suburbs/Long I., NY | 1.180
31140 | 07 | Oakland/Berkley, CA | 1.177
00803 | 01 | Manhattan, NY | 1.165
31140 | 03 | Marin/Napa/Solano, CA | 1.154
31143 | 01 | Metropolitan Boston | 1.153
14330 | 04 | Queens, NY | 1.144
00903 | 01 | DC + MD/VA Suburbs | 1.132
00805 | 01 | Northern NJ | 1.126
31146 | 26 | Anaheim/Santa Ana, CA | 1.120
00953 | 01 | Detroit, MI | 1.110
00952 | 16 | Chicago, IL | 1.102
00591 | 00 | Connecticut | 1.091
31146 | 18 | Los Angeles, CA | 1.088
00952 | 15 | Suburban Chicago, IL | 1.085
31146 | 17 | Ventura, CA | 1.084
00805 | 99 | Rest of New Jersey | 1.074
00865 | 01 | Metropolitan Philadelphia, PA | 1.069
00590 | 04 | Miami, FL | 1.069
00836 | 02 | Seattle (King Cnty), WA | 1.058
00831 | 01 | Alaska | 1.055
00803 | 03 | Poughkpsie/N NYC Suburbs, NY | 1.046
00833 | 01 | Hawaii/Guam | 1.044
00511 | 01 | Atlanta, GA | 1.043
00901 | 01 | Baltimore/Surr. Cntys, MD | 1.039
00900 | 11 | Dallas, TX | 1.035
00900 | 18 | Houston, TX | 1.026
00834 | 00 | Nevada | 1.023
31140 | 99 | Rest of California* | 1.017
31146 | 99 | Rest of California* | 1.017
00524 | 01 | Rhode Island | 1.016
00590 | 03 | Fort Lauderdale, FL | 1.015
00900 | 31 | Austin, TX | 1.015
00902 | 01 | Delaware | 1.011
00900 | 09 | Brazoria, TX | 1.005
00835 | 01 | Portland, OR | 1.005
31143 | 99 | Rest of Massachusetts | 1.003
31144 | 40 | New Hampshire | 1.000
00900 | 28 | Fort Worth, TX | 0.996
00952 | 12 | East St. Louis, IL | 0.995
00832 | 00 | Arizona | 0.993
00824 | 01 | Colorado | 0.991
00973 | 50 | Virgin Islands | 0.989
00900 | 15 | Galveston, TX | 0.985
00953 | 99 | Rest of Michigan | 0.984
00740 | 02 | Metropolitan Kansas City, MO | 0.982
31142 | 03 | Southern Maine | 0.981
00901 | 99 | Rest of Maryland | 0.978
00836 | 99 | Rest of Washington | 0.977
00528 | 01 | New Orleans, LA | 0.976
00954 | 00 | Minnesota | 0.975
00523 | 01 | Metropolitan St. Louis, MO | 0.974
00590 | 99 | Rest of Florida | 0.968
00883 | 00 | Ohio | 0.965
31145 | 50 | Vermont | 0.951
00801 | 99 | Rest of New York | 0.950
00951 | 00 | Wisconsin | 0.950
00904 | 00 | Virginia | 0.948
00910 | 09 | Utah | 0.947
00865 | 99 | Rest of Pennsylvania | 0.946
00900 | 20 | Beaumont, TX | 0.942
00952 | 99 | Rest of Illinois | 0.938
05535 | 00 | North Carolina | 0.936
00511 | 99 | Rest of Georgia | 0.932
00521 | 05 | New Mexico | 0.932
00630 | 00 | Indiana | 0.930
00835 | 99 | Rest of Oregon | 0.929
00900 | 99 | Rest of Texas | 0.929
00884 | 16 | West Virginia | 0.927
05440 | 35 | Tennessee | 0.921
00650 | 00 | Kansas* | 0.919
00740 | 04 | Kansas* | 0.919
00528 | 99 | Rest of Louisiana | 0.918
00880 | 01 | South Carolina | 0.917
31142 | 99 | Rest of Maine | 0.916
00660 | 00 | Kentucky | 0.915
00510 | 00 | Alabama | 0.914
00825 | 21 | Wyoming | 0.910
00826 | 00 | Iowa | 0.909
05130 | 00 | Idaho | 0.905
00655 | 00 | Nebraska | 0.903
00751 | 01 | Montana | 0.902
00512 | 00 | Mississippi | 0.898
00820 | 01 | North Dakota | 0.895
00522 | 00 | Oklahoma | 0.894
00820 | 02 | South Dakota | 0.891
00520 | 13 | Arkansas | 0.884
00523 | 99 | Rest of Missouri | 0.883
00740 | 99 | Rest of Missouri | 0.883
00973 | 20 | Puerto Rico | 0.790

Addendum F.—Proposed CPT/HCPCS Imaging Codes Defined by Section 5102(b) of the DRA
HCPCS/ CPT | Short descriptor
31620 | Endobronchial us add-on
37250 | Iv us first vessel add-on
37251 | Iv us each add vessel add-on
51798 | Us urine capacity measure
70010 | Contrast x-ray of brain
70015 | Contrast x-ray of brain
70030 | X-ray eye for foreign body
70100 | X-ray exam of jaw
70110 | X-ray exam of jaw
70120 | X-ray exam of mastoids
70130 | X-ray exam of mastoids
70134 | X-ray exam of middle ear
70140 | X-ray exam of facial bones
70150 | X-ray exam of facial bones
70160 | X-ray exam of nasal bones
70170 | X-ray exam of tear duct
70190 | X-ray exam of eye sockets
70200 | X-ray exam of eye sockets
70210 | X-ray exam of sinuses
70220 | X-ray exam of sinuses
70240 | X-ray exam, pituitary saddle
70250 | X-ray exam of skull
70260 | X-ray exam of skull
70300 | X-ray exam of teeth
70310 | X-ray exam of teeth
70320 | Full mouth x-ray of teeth
70328 | X-ray exam of jaw joint
70330 | X-ray exam of jaw joints
70332 | X-ray exam of jaw joint
70336 | Magnetic image, jaw joint
70350 | X-ray head for orthodontia
70355 | Panoramic x-ray of jaws
70360 | X-ray exam of neck
70370 | Throat x-ray & fluoroscopy
70371 | Speech evaluation, complex
70373 | Contrast x-ray of larynx
70380 | X-ray exam of salivary gland
70390 | X-ray exam of salivary duct
70450 | Ct head/brain w/o dye
70460 | Ct head/brain w/dye
70470 | Ct head/brain w/o & w/dye
70480 | Ct orbit/ear/fossa w/o dye
70481 | Ct orbit/ear/fossa w/dye
70482 | Ct orbit/ear/fossa w/o& w/dye
70486 | Ct maxillofacial w/o dye
70487 | Ct maxillofacial w/dye
70488 | Ct maxillofacial w/o & w/dye
70490 | Ct soft tissue neck w/o dye
70491 | Ct soft tissue neck w/dye
70492 | Ct sft tsue nck w/o & w/dye
70496 | Ct angiography, head
70498 | Ct angiography, neck
70540 | Mri orbit/face/neck w/o dye
70542 | Mri orbit/face/neck w/dye
70543 | Mri orbt/fac/nck w/o & w/dye
70544 | Mr angiography head w/o dye
70545 | Mr angiography head w/dye
70546 | Mr angiograph head w/o & w/dye
70547 | Mr angiography neck w/o dye
70548 | Mr angiography neck w/dye
70549 | Mr angiograph neck w/o & w/dye
70551 | Mri brain w/o dye
70552 | Mri brain w/dye
70553 | Mri brain w/o & w/dye
70557 | Mri brain w/o dye
70558 | Mri brain w/dye
70559 | Mri brain w/o & w/dye
71010 | Chest x-ray
71015 | Chest x-ray
71020 | Chest x-ray
71021 | Chest x-ray
71022 | Chest x-ray
71023 | Chest x-ray and fluoroscopy
71030 | Chest x-ray
71034 | Chest x-ray and fluoroscopy
71035 | Chest x-ray
71040 | Contrast x-ray of bronchi
71060 | Contrast x-ray of bronchi
71090 | X-ray & pacemaker insertion
71100 | X-ray exam of ribs
71101 | X-ray exam of ribs/chest
71110 | X-ray exam of ribs
71111 | X-ray exam of ribs/chest
71120 | X-ray exam of breastbone
71130 | X-ray exam of breastbone
71250 | Ct thorax w/o dye
71260 | Ct thorax w/dye
71270 | Ct thorax w/o & w/dye
71275 | Ct angiography, chest
71550 | Mri chest w/o dye
71551 | Mri chest w/dye
71552 | Mri chest w/o & w/dye
71555 | Mri angio chest w or w/o dye
72010 | X-ray exam of spine
72020 | X-ray exam of spine
72040 | X-ray exam of neck spine
72050 | X-ray exam of neck spine
72052 | X-ray exam of neck spine
72069 | X-ray exam of trunk spine
72070 | X-ray exam of thoracic spine
72072 | X-ray exam of thoracic spine
72074 | X-ray exam of thoracic spine
72080 | X-ray exam of trunk spine
72090 | X-ray exam of trunk spine
72100 | X-ray exam of lower spine
72110 | X-ray exam of lower spine
72114 | X-ray exam of lower spine
72120 | X-ray exam of lower spine
72125 | Ct neck spine w/o dye
72126 | Ct neck spine w/dye
72127 | Ct neck spine w/o & w/dye
72128 | Ct chest spine w/o dye
72129 | Ct chest spine w/dye
72130 | Ct chest spine w/o & w/dye
72131 | Ct lumbar spine w/o dye
72132 | Ct lumbar spine w/dye
72133 | Ct lumbar spine w/o & w/dye
72141 | Mri neck spine w/o dye
72142 | Mri neck spine w/dye
72146 | Mri chest spine w/o dye
72147 | Mri chest spine w/dye
72148 | Mri lumbar spine w/o dye
72149 | Mri lumbar spine w/dye
72156 | Mri neck spine w/o & w/dye
72157 | Mri chest spine w/o & w/dye
72158 | Mri lumbar spine w/o & w/dye
72159 | Mr angio spine w/o & w/dye
72170 | X-ray exam of pelvis
72190 | X-ray exam of pelvis
72191 | Ct angiograph pelv w/o & w/dye
72192 | Ct pelvis w/o dye
72193 | Ct pelvis w/dye
72194 | Ct pelvis w/o & w/dye
72195 | Mri pelvis w/o dye
72196 | Mri pelvis w/dye
72197 | Mri pelvis w/o & w/dye
72198 | Mr angio pelvis w/o & w/dye
72200 | X-ray exam sacroiliac joints
72202 | X-ray exam sacroiliac joints
72220 | X-ray exam of tailbone
72240 | Contrast x-ray of neck spine
72255 | Contrast x-ray, thorax spine
72265 | Contrast x-ray, lower spine
72270 | Contrast x-ray, spine
72275 | Epidurography
72285 | X-ray c/t spine disk
72295 | X-ray of lower spine disk
73000 | X-ray exam of collar bone
73010 | X-ray exam of shoulder blade
73020 | X-ray exam of shoulder
73030 | X-ray exam of shoulder
73040 | Contrast x-ray of shoulder
73050 | X-ray exam of shoulders
73060 | X-ray exam of humerus
73070 | X-ray exam of elbow
73080 | X-ray exam of elbow
73085 | Contrast x-ray of elbow
73090 | X-ray exam of forearm
73092 | X-ray exam of arm, infant
73100 | X-ray exam of wrist
73110 | X-ray exam of wrist
73115 | Contrast x-ray of wrist
73120 | X-ray exam of hand
73130 | X-ray exam of hand
73140 | X-ray exam of finger(s)
73200 | Ct upper extremity w/o dye
73201 | Ct upper extremity w/dye
73202 | Ct uppr extremity w/o & w/dye
73206 | Ct angio upr extrm w/o & w/dye
73218 | Mri upper extremity w/o dye
73219 | Mri upper extremity w/dye
73220 | Mri uppr extremity w/o & w/dye
73221 | Mri joint upr extrem w/o dye
73222 | Mri joint upr extrem w/dye
73223 | Mri joint upr extr w/o & w/dye
73225 | Mr angio upr extr w/o & w/dye
73500 | X-ray exam of hip
73510 | X-ray exam of hip
73520 | X-ray exam of hips
73525 | Contrast x-ray of hip
73530 | X-ray exam of hip
73540 | X-ray exam of pelvis & hips
73542 | X-ray exam, sacroiliac joint
73550 | X-ray exam of thigh
73560 | X-ray exam of knee, 1 or 2
73562 | X-ray exam of knee, 3
73564 | X-ray exam, knee, 4 or more
73565 | X-ray exam of knees
73580 | Contrast x-ray of knee joint
73590 | X-ray exam of lower leg
73592 | X-ray exam of leg, infant
73600 | X-ray exam of ankle
73610 | X-ray exam of ankle
73615 | Contrast x-ray of ankle
73620 | X-ray exam of foot
73630 | X-ray exam of foot
73650 | X-ray exam of heel
73660 | X-ray exam of toe(s)
73700 | Ct lower extremity w/o dye
73701 | Ct lower extremity w/dye
73702 | Ct lwr extremity w/o & w/dye
73706 | Ct angio lwr extr w/o & w/dye
73718 | Mri lower extremity w/o dye
73719 | Mri lower extremity w/dye
73720 | Mri lwr extremity w/o & w/dye
73721 | Mri jnt of lwr extre w/o dye
73722 | Mri joint of lwr extr w/dye
73723 | Mri joint lwr extr w/o & w/dye
73725 | Mr ang lwr ext w or w/o dye
74000 | X-ray exam of abdomen
74010 | X-ray exam of abdomen
74020 | X-ray exam of abdomen
74022 | X-ray exam series, abdomen
74150 | Ct abdomen w/o dye
74160 | Ct abdomen w/dye
74170 | Ct abdomen w/o & w/dye
74175 | Ct angio abdom w/o & w/dye
74181 | Mri abdomen w/o dye
74182 | Mri abdomen w/dye
74183 | Mri abdomen w/o & w/dye
74185 | Mri angio, abdom w orw/o dye
74190 | X-ray exam of peritoneum
74210 | Contrst x-ray exam of throat
74220 | Contrast x-ray, esophagus
74230 | Cine/vid x-ray, throat/esoph
74235 | Remove esophagus obstruction
74240 | X-ray exam, upper gi tract
74241 | X-ray exam, upper gi tract
74245 | X-ray exam, upper gi tract
74246 | Contrst x-ray uppr gi tract
74247 | Contrst x-ray uppr gi tract
74249 | Contrst x-ray uppr gi tract
74250 | X-ray exam of small bowel
74251 | X-ray exam of small bowel
74260 | X-ray exam of small bowel
74270 | Contrast x-ray exam of colon
74280 | Contrast x-ray exam of colon
74283 | Contrast x-ray exam of colon
74290 | Contrast x-ray, gallbladder
74291 | Contrast x-rays, gallbladder
74300 | X-ray bile ducts/pancreas
74301 | X-rays at surgery add-on
74305 | X-ray bile ducts/pancreas
74320 | Contrast x-ray of bile ducts
74327 | X-ray bile stone removal
74328 | X-ray bile duct endoscopy
74329 | X-ray for pancreas endoscopy
74330 | X-ray bile/panc endoscopy
74340 | X-ray guide for GI tube
74350 | X-ray guide, stomach tube
74355 | X-ray guide, intestinal tube
74360 | X-ray guide, GI dilation
74363 | X-ray, bile duct dilation
74400 | Contrst x-ray, urinary tract
74410 | Contrst x-ray, urinary tract
74415 | Contrst x-ray, urinary tract
74420 | Contrst x-ray, urinary tract
74425 | Contrst x-ray, urinary tract
74430 | Contrast x-ray, bladder
74440 | X-ray, male genital tract
74445 | X-ray exam of penis
74450 | X-ray, urethra/bladder
74455 | X-ray, urethra/bladder
74470 | X-ray exam of kidney lesion
74475 | X-ray control, cath insert
74480 | X-ray control, cath insert
74485 | X-ray guide, GU dilation
74710 | X-ray measurement of pelvis
74740 | X-ray, female genital tract
74742 | X-ray, fallopian tube
74775 | X-ray exam of perineum
75552 | Heart mri for morph w/o dye
75553 | Heart mri for morph w/dye
75554 | Cardiac MRI/function
75555 | Cardiac MRI/limited study
75556 | Cardiac MRI/flow mapping
75600 | Contrast x-ray exam of aorta
75605 | Contrast x-ray exam of aorta
75625 | Contrast x-ray exam of aorta
75630 | X-ray aorta, leg arteries
75635 | Ct angio abdominal arteries
75650 | Artery x-rays, head & neck
75658 | Artery x-rays, arm
75660 | Artery x-rays, head & neck
75662 | Artery x-rays, head & neck
75665 | Artery x-rays, head & neck
75671 | Artery x-rays, head & neck
75676 | Artery x-rays, neck
75680 | Artery x-rays, neck
75685 | Artery x-rays, spine
75705 | Artery x-rays, spine
75710 | Artery x-rays, arm/leg
75716 | Artery x-rays, arms/legs
75722 | Artery x-rays, kidney
75724 | Artery x-rays, kidneys
75726 | Artery x-rays, abdomen
75731 | Artery x-rays, adrenal gland
75733 | Artery x-rays, adrenals
75736 | Artery x-rays, pelvis
75741 | Artery x-rays, lung
75743 | Artery x-rays, lungs
75746 | Artery x-rays, lung
75756 | Artery x-rays, chest
75774 | Artery x-ray, each vessel
75790 | Visualize A-V shunt
75801 | Lymph vessel x-ray, arm/leg
75803 | Lymph vessel x-ray,arms/legs
75805 | Lymph vessel x-ray, trunk
75807 | Lymph vessel x-ray, trunk
75809 | Nonvascular shunt, x-ray
75810 | Vein x-ray, spleen/liver
75820 | Vein x-ray, arm/leg
75822 | Vein x-ray, arms/legs
75825 | Vein x-ray, trunk
75827 | Vein x-ray, chest
75831 | Vein x-ray, kidney
75833 | Vein x-ray, kidneys
75840 | Vein x-ray, adrenal gland
75842 | Vein x-ray, adrenal glands
75860 | Vein x-ray, neck
75870 | Vein x-ray, skull
75872 | Vein x-ray, skull
75880 | Vein x-ray, eye socket
75885 | Vein x-ray, liver
75887 | Vein x-ray, liver
75889 | Vein x-ray, liver
75891 | Vein x-ray, liver
75893 | Venous sampling by catheter
75894 | X-rays, transcath therapy
75896 | X-rays, transcath therapy
75898 | Follow-up angiography
75900 | Intravascular cath exchange
75901 | Remove cva device obstruct
75902 | Remove cva lumen obstruct
75940 | X-ray placement, vein filter
75945 | Intravascular us
75946 | Intravascular us add-on
75952 | Endovasc repair abdom aorta
75953 | Abdom aneurysm endovas rpr
75954 | Iliac aneurysm endovas rpr
75956 | Xray, endovasc thor ao repr
75957 | Xray, endovasc thor ao repr
75958 | Xray, place prox ext thor ao
75959 | Xray, place dist ext thor ao
75960 | Transcath iv stent rs&i
75961 | Retrieval, broken catheter
75962 | Repair arterial blockage
75964 | Repair artery blockage, each
75966 | Repair arterial blockage
75968 | Repair artery blockage, each
75970 | Vascular biopsy
75978 | Repair venous blockage
75980 | Contrast xray exam bile duct
75982 | Contrast xray exam bile duct
75984 | Xray control catheter change
75989 | Abscess drainage under x-ray
75992 | Atherectomy, x-ray exam
75993 | Atherectomy, x-ray exam
75994 | Atherectomy, x-ray exam
75995 | Atherectomy, x-ray exam
75996 | Atherectomy, x-ray exam
75998 | Fluoroguide for vein device
76000 | Fluoroscope examination
76001 | Fluoroscope exam, extensive
76003 | Needle localization by x-ray
76005 | Fluoroguide for spine inject
76006 | X-ray stress view
76010 | X-ray, nose to rectum
76012 | Percut vertebroplasty fluor
76013 | Percut vertebroplasty, ct
76020 | X-rays for bone age
76040 | X-rays, bone evaluation
76061 | X-rays, bone survey
76062 | X-rays, bone survey
76065 | X-rays, bone evaluation
76066 | Joint survey, single view
76070 | Ct bone density, axial
76071 | Ct bone density, peripheral
76075 | Dxa bone density, axial
76076 | Dxa bone density/peripheral
76077 | Dxa bone density/v-fracture
76078 | Radiographic absorptiometry
76080 | X-ray exam of fistula
76086 | X-ray of mammary duct
76088 | X-ray of mammary ducts
76093 | Magnetic image, breast
76094 | Magnetic image, both breasts
76095 | Stereotactic breast biopsy
76096 | X-ray of needle wire, breast
76098 | X-ray exam, breast specimen
76100 | X-ray exam of body section
76101 | Complex body section x-ray
76102 | Complex body section x-rays
76120 | Cine/video x-rays
76125 | Cine/video x-rays add-on
76140 | X-ray consultation
76150 | X-ray exam, dry process
76350 | Special x-ray contrast study
76355 | Ct scan for localization
76360 | Ct scan for needle biopsy
76362 | Ct guide for tissue ablation
76370 | Ct scan for therapy guide
76376 | 3d render w/o postprocess
76377 | 3d rendering w/postprocess
76380 | CAT scan follow-up study
76390 | Mr spectroscopy
76393 | Mr guidance for needle place
76394 | Mri for tissue ablation
76400 | Magnetic image, bone marrow
76496 | Fluoroscopic procedure
76497 | Ct procedure
76498 | Mri procedure
76506 | Echo exam of head
76510 | Ophth us, b & quant a
76511 | Ophth us, quant a only
76512 | Ophth us, b w/non-quant a
76513 | Echo exam of eye, water bath
76514 | Echo exam of eye, thickness
76516 | Echo exam of eye
76519 | Echo exam of eye
76529 | Echo exam of eye
76536 | Us exam of head and neck
76604 | Us exam, chest, b-scan
76645 | Us exam, breast(s)
76700 | Us exam, abdom, complete
76705 | Echo exam of abdomen
76770 | Us exam abdo back wall, comp
76775 | Us exam abdo back wall, lim
76778 | Us exam kidney transplant
76800 | Us exam, spinal canal
76801 | Ob us < 14 wks, single fetus
76802 | Ob us < 14 wks, add'l fetus
76805 | Ob us >/= 14 wks, sngl fetus
76810 | Ob us >/= 14 wks, addl fetus
76811 | Ob us, detailed, sngl fetus
76812 | Ob us, detailed, addl fetus
76815 | Ob us, limited, fetus(s)
76816 | Ob us, follow-up, per fetus
76817 | Transvaginal us, obstetric
76818 | Fetal biophys profile w/nst
76819 | Fetal biophys profil w/o nst
76820 | Umbilical artery echo
76821 | Middle cerebral artery echo
76825 | Echo exam of fetal heart
76826 | Echo exam of fetal heart
76827 | Echo exam of fetal heart
76828 | Echo exam of fetal heart
76830 | Transvaginal us, non-ob
76831 | Echo exam, uterus
76856 | Us exam, pelvic, complete
76857 | Us exam, pelvic, limited
76870 | Us exam, scrotum
76872 | Us, transrectal
76873 | Echograp trans r, pros study
76880 | Us exam, extremity
76885 | Us exam infant hips, dynamic
76886 | Us exam infant hips, static
76930 | Echo guide, cardiocentesis
76932 | Echo guide for heart biopsy
76936 | Echo guide for artery repair
76937 | Us guide, vascular access
76940 | Us guide, tissue ablation
76941 | Echo guide for transfusion
76942 | Echo guide for biopsy
76945 | Echo guide, villus sampling
76946 | Echo guide for amniocentesis
76948 | Echo guide, ova aspiration
76950 | Echo guidance radiotherapy
76965 | Echo guidance radiotherapy
76970 | Ultrasound exam follow-up
76975 | GI endoscopic ultrasound
76977 | Us bone density measure
76986 | Ultrasound guide intraoper
77417 | Radiology port film(s)
77421 | Stereoscopic x-ray guidance
78006 | Thyroid imaging with uptake
78007 | Thyroid image, mult uptakes
78010 | Thyroid imaging
78011 | Thyroid imaging with flow
78015 | Thyroid met imaging
78016 | Thyroid met imaging/studies
78018 | Thyroid met imaging, body
78020 | Thyroid met uptake
78070 | Parathyroid nuclear imaging
78075 | Adrenal nuclear imaging
78102 | Bone marrow imaging, ltd
78103 | Bone marrow imaging, mult
78104 | Bone marrow imaging, body
78135 | Red cell survival kinetics
78140 | Red cell sequestration
78185 | Spleen imaging
78190 | Platelet survival, kinetics
78195 | Lymph system imaging
78201 | Liver imaging
78202 | Liver imaging with flow
78205 | Liver imaging (3D)
78206 | Liver image (3d) with flow
78215 | Liver and spleen imaging
78216 | Liver & spleen image/flow
78220 | Liver function study
78223 | Hepatobiliary imaging
78230 | Salivary gland imaging
78231 | Serial salivary imaging
78232 | Salivary gland function exam
78258 | Esophageal motility study
78261 | Gastric mucosa imaging
78262 | Gastroesophageal reflux exam
78264 | Gastric emptying study
78278 | Acute GI blood loss imaging
78282 | GI protein loss exam
78290 | Meckel's divert exam
78291 | Leveen/shunt patency exam
78300 | Bone imaging, limited area
78305 | Bone imaging, multiple areas
78306 | Bone imaging, whole body
78315 | Bone imaging, 3 phase
78320 | Bone imaging (3D)
78350 | Bone mineral, single photon
78351 | Bone mineral, dual photon
78428 | Cardiac shunt imaging
78445 | Vascular flow imaging
78456 | Acute venous thrombus image
78457 | Venous thrombosis imaging
78458 | Ven thrombosis images, bilat
78459 | Heart muscle imaging (PET)
78460 | Heart muscle blood, single
78461 | Heart muscle blood, multiple
78464 | Heart image (3d), single
78465 | Heart image (3d), multiple
78466 | Heart infarct image
78468 | Heart infarct image (ef)
78469 | Heart infarct image (3D)
78472 | Gated heart, planar, single
78473 | Gated heart, multiple
78478 | Heart wall motion add-on
78480 | Heart function add-on
78481 | Heart first pass, single
78483 | Heart first pass, multiple
78491 | Heart image (pet), single
78492 | Heart image (pet), multiple
78494 | Heart image, spect
78496 | Heart first pass add-on
78580 | Lung perfusion imaging
78584 | Lung V/Q image single breath
78585 | Lung V/Q imaging
78586 | Aerosol lung image, single
78587 | Aerosol lung image, multiple
78588 | Perfusion lung image
78591 | Vent image, 1 breath, 1 proj
78593 | Vent image, 1 proj, gas
78594 | Vent image, mult proj, gas
78596 | Lung differential function
78600 | Brain imaging, ltd static
78601 | Brain imaging, ltd w/flow
78605 | Brain imaging, complete
78606 | Brain imaging, compl w/flow
78607 | Brain imaging (3D)
78608 | Brain imaging (PET)
78609 | Brain imaging (PET)
78610 | Brain flow imaging only
78615 | Cerebral vascular flow image
78630 | Cerebrospinal fluid scan
78635 | CSF ventriculography
78645 | CSF shunt evaluation
78647 | Cerebrospinal fluid scan
78650 | CSF leakage imaging
78660 | Nuclear exam of tear flow
78700 | Kidney imaging, static
78701 | Kidney imaging with flow
78704 | Imaging renogram
78707 | Kidney flow/function image
78708 | Kidney flow/function image
78709 | Kidney flow/function image
78710 | Kidney imaging (3D)
78715 | Renal vascular flow exam
78730 | Urinary bladder retention
78740 | Ureteral reflux study
78760 | Testicular imaging
78761 | Testicular imaging/flow
78800 | Tumor imaging, limited area
78801 | Tumor imaging, mult areas
78802 | Tumor imaging, whole body
78803 | Tumor imaging (3D)
78804 | Tumor imaging, whole body
78805 | Abscess imaging, ltd area
78806 | Abscess imaging, whole body
78807 | Nuclear localization/absce ss
78811 | Tumor imaging (pet), limited
78812 | Tumor image (pet)/skul-thigh
78813 | Tumor image (pet) full body
78814 | Tumor image pet/ct, limited
78815 | Tumorimage pet/ct skul-thigh
78816 | Tumor image pet/ct full body
78890 | Nuclear medicine data proc
78891 | Nuclear med data proc
93303 | Echo transthoracic
93304 | Echo transthoracic
93307 | Echo exam of heart
93308 | Echo exam of heart
93312 | Echo transesophageal
93313 | Echo transesophageal
93314 | Echo transesophageal
93315 | Echo transesophageal
93316 | Echo transesophageal
93317 | Echo transesophageal
93318 | Echo transesophageal intraop
93320 | Doppler echo exam, heart
93321 | Doppler echo exam, heart
93325 | Doppler color flow add-on
93350 | Echo transthoracic
93555 | Imaging, cardiac cath
93556 | Imaging, cardiac cath
93571 | Heart flow reserve measure
93572 | Heart flow reserve measure
93875 | Extracranial study
93880 | Extracranial study
93882 | Extracranial study
93886 | Intracranial study
93888 | Intracranial study
93890 | Tcd, vasoreactivity study
93892 | Tcd, emboli detect w/o inj
93893 | Tcd, emboli detect w/inj
93922 | Extremity study
93923 | Extremity study
93924 | Extremity study
93925 | Lower extremity study
93926 | Lower extremity study
93930 | Upper extremity study
93931 | Upper extremity study
93965 | Extremity study
93970 | Extremity study
93971 | Extremity study
93975 | Vascular study
93976 | Vascular study
93978 | Vascular study
93979 | Vascular study
93980 | Penile vascular study
93981 | Penile vascular study
93990 | Doppler flow testing
0028T | Dexa body composition study
0042T | Ct perfusion w/contrast, cbf
0066T | Ct colonography;scree n
0067T | Ct colonography;dx
0080T | Endovasc aort repr rad s&i
0081T | Endovasc visc extnsn s&i
0144T | CT heart wo dye; qual calc
0145T | CT heart w/wo dye funct
0146T | CCTA w/wo dye
0147T | CCTA w/wo, quan calcium
0148T | CCTA w/wo, strxr
0149T | CCTA w/wo, strxr quan calc
0150T | CCTA w/wo, disease strxr
0151T | CT heart funct add-on
0152T | Computer chest add-on
G0120 | Colon ca scrn; barium enema
G0122 | Colon ca scrn; barium enema
G0130 | Single energy x-ray study
G0219 | PET img wholbod melano nonco
G0235 | PET not otherwise specified
G0275 | Renal angio, cardiac cath
G0278 | Iliac art angio,cardiac cath
G0288 | Recon, CTA for surg plan
G0365 | Vessel mapping hemo access

[FR Doc. 06-6843 Filed 8-8-06; 4:15 pm]

BILLING CODE 4120-03-P